DEPARTMENT OF HEALTH AND HUMAN SERVICES

Centers for Medicare & Medicaid Services

42 CFR Parts 405, 410, 411, 414, and 415

[CMS-1169-FC]

RIN 0938-AK57

Medicare Program; Revisions to Payment Policies and Five-Year Review of and Adjustments to the Relative Value Units Under the Physician Fee Schedule for Calendar Year 2002

AGENCY: Centers for Medicare & Medicaid Services (CMS), HHS.

ACTION: Final rule with comment period.

SUMMARY: This final rule with comment period makes several changes affecting Medicare Part B payment. The changes affect: refinement of resource-based practice expense relative value units (RVUs); services and supplies incident to a physician's professional service; anesthesia base unit variations; recognition of CPT tracking codes; and nurse practitioners, physician assistants, and clinical nurse specialists performing screening sigmoidoscopies. It also addresses comments received on the June 8, 2001 proposed notice for the 5-year review of work RVUs and finalizes these work RVUs. In addition, we acknowledge comments received on our request for information on our policy for CPT modifier 62 that is used to report the work of co-surgeons. The rule also updates the list of certain services subject to the physician self-referral prohibitions to reflect changes to CPT codes and Healthcare Common Procedure Coding System codes effective January 1, 2002. These refinements and changes will ensure that our payment systems are updated to reflect changes in medical practice and the relative value of services.

The Medicare, Medicaid, and SCHIP Benefits Improvement and Protection Act of 2000 modernizes the mammography screening benefit and authorizes payment under the physician fee schedule effective January 1, 2002; provides for biennial screening pelvic examinations for certain beneficiaries effective July 1, 2001; provides for annual glaucoma screenings for high-risk beneficiaries effective January 1, 2002; expands coverage for screening colonoscopies to all beneficiaries effective July 1, 2001; establishes coverage for medical nutrition therapy services for certain beneficiaries effective January 1, 2002; expands payment for telehealth services effective October 1, 2001; requires certain Indian Health Service providers to be paid for some services under the physician fee schedule effective July 1, 2001; and revises the payment for certain physician pathology services effective January 1, 2001. This final rule will conform our regulations to reflect these statutory provisions.

In addition, we are finalizing the calendar year (CY) 2001 interim RVUs and are issuing interim RVUs for new and revised procedure codes for calendar year (CY) 2002. As required by the statute, we are announcing that the physician fee schedule update for CY 2002 is −4.8 percent, the initial estimate of the Sustainable Growth Rate (SGR) for CY 2002 is 5.6 percent, and the conversion factor for CY 2002 is $36.1992.

DATES: Effective date: This rule is effective January 1, 2002.

Comment date: We will consider comments on the Clinical Practice Expert Panel data, the physician self-referral designated health services identified in Table 8, and the interim RVUs for selected procedure codes identified in Addendum C if we receive them at the appropriate address, as provided below, no later than 5 p.m. on December 31, 2001.

ADDRESSES: Mail written comments (1 original and 2 copies) to the following address: Centers for Medicare & Medicaid Services, Department of Health and Human Services, Attention: CMS-1169-FC, P.O. Box 8013, Baltimore, MD 21244-8013.

To insure that mailed comments are received in time for us to consider them, please allow for possible delays in delivering them. If you prefer, you may deliver your written comments (1 original and 2 copies) by courier to one of the following addresses: Room C5-14-03, 7500 Security Boulevard, Baltimore, MD 21244-8013 or Room 443-G, Hubert H. Humphrey Building, 200 Independence Avenue, SW., Washington, DC 20201.

Comments mailed to the two above addresses may be delayed and received too late for us to consider them.

Because of staff and resource limitations, we cannot accept comments by facsimile (FAX) transmission. In commenting, please refer to file code CMS-1169-FC.

For information on viewing public comments, please see the beginning of the Supplementary Information section below.

FOR FURTHER INFORMATION CONTACT: Carolyn Mullen, (410) 786-4589 or Marc Hartstein, (410) 786-4539 (for issues related to resource-based practice expense relative value units).

Carlos Cano, (410) 786-0245 (for issues related to screening sigmoidoscopies).

Paul W. Kim, (410) 786-7410 (for issues related to incident to services).

Rick Ensor, (410) 786-5617 (for issues related to screening mammography).

Bill Larson, (410) 786-4639 (for issues related to screening pelvic examinations, screening for glaucoma, and coverage for screening colonoscopies).

Bob Ulikowski, (410) 786-5721 (for issues related to the payment for screening colonoscopies).

Mary Stojak, (410) 786-6939 (for issues related to medical nutrition therapy).

Joan Mitchell, (410) 786-4508 (for issues related to the payment for medical nutrition therapy).

Craig Dobyski, (410) 786-4584 (for issues related to telehealth).

Terri Harris, (410) 786-6830 (for issues related to Indian Health Service providers).

Jim Menas, (410) 786-4507 (for issues related to anesthesia and pathology services).

Joanne Sinsheimer (410) 786-4620 (for issues related to updates to the list of certain services subject to the physician self-referral prohibitions).

Diane Milstead, (410) 786-3355 (for all other issues).

SUPPLEMENTARY INFORMATION:

Inspection of Public Comments

Comments received timely will be available for public inspection as they are received, generally beginning approximately 3 weeks after publication of a document, at 7500 Security Blvd, Baltimore, Maryland 21244, Monday through Friday of each week from 8:30 a.m. to 5 p.m. Please call (410) 786-7197 to make an appointment to view the public comments.

Copies

To order copies of the Federal Register containing this document, send your request to: New Orders, Superintendent of Documents, P.O. Box 371954, Pittsburgh, PA 15250-7954. Specify the date of the issue requested and enclose a check or money order payable to the Superintendent of Documents, or enclose your Visa or Master Card number and expiration date. Credit card orders can also be placed by calling the order desk at (202) 512-1800 or by faxing to (202) 512-2250. The cost for each copy is $9. As an alternative, you can view and photocopy the Federal Register document at most libraries designated as Federal Depository Libraries and at many other public and academic libraries throughout the country that receive the Federal Register.

To order the disks containing this document, send your request to: Superintendent of Documents, Attention: Electronic Products, P.O. Box 37082, Washington, DC 20013-7082. Please specify, “Medicare Program; Revisions to Payment Policies Under the Physician Fee Schedule for Calendar Year 2001,” and enclose a check or money order payable to the Superintendent of Documents, or enclose your VISA, Discover, or MasterCard number and expiration date. Credit card orders can be placed by calling the order clerk at (202) 512-1530 (or toll free at 1-888-293-6498) or by faxing to (202) 512-1262.

This Federal Register document is also available from the Federal Register online database through GPO Access, a service of the U.S. Government Printing Office. The Website address is: http://www.access.gpo.gov/nara/index.html.

Information on the physician fee schedule can be found on our homepage. You can access these data by using the following directions:

1. Go to the CMS homepage (http://www.cms.hhs.gov).

2. Click on “Professionals.”

3. Under the heading “Physicians and Health Care Professionals,” click on “Medicare Coding and Payment Systems.”

4. Select Physician Fee Schedule.

Or, you can go directly to the Physician Fee Schedule page by typing the following: http://www.hcfa.gov/medicare/pfsmain.htm.

To assist readers in referencing sections contained in this preamble, we are providing the following table of contents. Some of the issues discussed in this preamble affect the payment policies but do not require changes to the regulations in the Code of Federal Regulations. Information on the regulation's impact appears throughout the preamble and is not exclusively in section XIII.

Table of Contents

I. Background

A. Legislative History

B. Published Changes to the Fee Schedule

C. Components of the Fee Schedule Payment Amounts

D. Development of the Relative Value Units

II. Specific Provisions for Calendar Year 2002

A. Resource-Based Practice Expense Relative Value Units

B. Nurse Practitioners, Physician Assistants, and Clinical Nurse Specialists Performing Screening Sigmoidoscopies

C. Services and Supplies Incident to a Physician's Professional Services: Conditions

D. Anesthesia Services

E. Performance Measurement and Emerging Technology Codes

F. Payment Policy for CPT Modifier 62 (Co-Surgery)

III. Implementation of Medicare, Medicaid, and SCHIP Benefits Improvement and Protection Act of 2000

A. Screening Mammography

B. Screening Pelvic Examinations

C. Screening for Glaucoma

D. Screening Colonoscopy

E. Medical Nutrition Therapy

F. Telehealth Services

G. Indian Health Service

H. Pathology Services

IV. Five-Year Review of Work Relative Value Units Under the Physician Fee Schedule; Responses to Public Comments on the Five-Year Review of Work Relative Value Units

V. Refinement of Relative Value Units for Calendar Year 2002 and Response to Public Comments on Interim Relative Value Units for 2001 (Including the Interim Relative Value Units Contained in the August 2001 Proposed Rule)

A. Summary of Issues Discussed Related to the Adjustment of Relative Value Units

B. Process for Establishing Work Relative Value Units for the 2002 Physician Fee Schedule

VI. Physician Self-Referral Prohibitions

VII. Physician Fee Schedule Update for Calendar Year 2002

VIII. Allowed Expenditures for Physicians' Services and the Sustainable Growth Rate for Calendar Year 2002

A. Medicare Sustainable Growth Rate

B. Physicians' Services

C. Provisions Related to the SGR

D. Preliminary Estimate of the SGR for 2002

E. Sustainable Growth Rate for CY 2001

F. Sustainable Growth Rate for FY 2001

G. Calculation of the FY 2001, CY 2001, and CY 2002 Sustainable Growth Rates

IX. Anesthesia and Physician Fee Schedule Conversion Factors for CY 2002

X. Provisions of the Final Rule

XI. Collection of Information Requirements

XII. Response to Comments

XIII. Regulatory Impact Analysis

Addendum A—Explanation and Use of Addendum B

Addendum B—2002 Relative Value Units and Related Information Used in Determining Medicare Payments for 2002

Addendum C—Codes with Interim RVUs

Addendum D—2002 Geographic Practice Cost Indices by Medicare Carrier and Locality

Addendum E—Updated List of CPT/HCPCS Codes Used to Describe Certain Designated Health Services Under the Physician Self-Referral Provision

In addition, because of the many organizations and terms to which we refer by acronym in this final rule, we are listing these acronyms and their corresponding terms in alphabetical order below:

AMA American Medical Association

BBA Balanced Budget Act of 1997

BBRA Balanced Budget Refinement Act of 1999

CF Conversion factor

CFR Code of Federal Regulations

CPT [Physicians'] Current Procedural Terminology [4th Edition, 1997, copyrighted by the American Medical Association]

CPEP Clinical Practice Expert Panel

CRNA Certified Registered Nurse Anesthetist

E/M Evaluation and management

EB Electrical bioimpedance

FMR Fair market rental

GAF Geographic adjustment factor

GPCI Geographic practice cost index

GDP Gross Domestic Product

CMS Centers for Medicare & Medicaid Services

HCPCS Healthcare Common Procedure Coding System

HHA Home health agency

HHS [Department of] Health and Human Services

IDTFs Independent Diagnostic Testing Facilities

MCM Medicare Carrier Manual

MedPAC Medicare Payment Advisory Commission

MEI Medicare Economic Index

MGMA Medical Group Management Association

MSA Metropolitan Statistical Area

NAMCS National Ambulatory Medical Care Survey

NCD National coverage determination

PC Professional component

PEAC Practice Expense Advisory Committee

PPAC Practicing Physicians Advisory Council

PPS Prospective payment system

RUC [AMA's Specialty Society] Relative [Value] Update Committee

RVU Relative value unit

SGR Sustainable growth rate

SMS [AMA's] Socioeconomic Monitoring System

TC Technical component

I. Background

A. Legislative History

Since January 1, 1992, Medicare has paid for physicians' services under section 1848 of the Social Security Act (the Act), “Payment for Physicians' Services.” This section provides for three major elements: (1) a fee schedule for the payment of physicians’ services; (2) a sustainable growth rate for the rates of increase in Medicare expenditures for physicians' services; and (3) limits on the amounts that nonparticipating physicians can charge beneficiaries. The Act requires that payments under the fee schedule be based on national uniform relative value units (RVUs) based on the resources used in furnishing a service. Section 1848(c) of the Act requires that national RVUs be established for physician work, practice expense, and malpractice expense. Section 1848(c)(2)(B)(ii)(II) of the Act provides that adjustments in RVUs may not cause total physician fee schedule payments to differ by more than $20 million from what they would have been had the adjustments not been made. If adjustments to RVUs cause expenditures to change by more than $20 million, we must make adjustments to preserve budget neutrality.

B. Published Changes to the Fee Schedule

In the July 17, 2000 proposed rule (65 FR 44177), we listed all of the final rules published through November 1999 relating to the updates to the RVUs and revisions to payment policies under the physician fee schedule.

In the June 8, 2001 Federal Register (66 FR 31028), we published a proposed notice concerning the 5-year review of work RVUs.

In the August 2, 2001 proposed rule (66 FR 40373) we discussed revisions contained in the November 1, 2000 final rule with comment period and the following issues affecting Medicare payment under the physician fee schedule:

• We listed the revisions to payment policies under the physician fee schedule that were made in the November 2000 final rule with comment period (65 FR 65376).

• We discussed policy issues affecting Medicare payment for physicians' services, including—

—refinement of the resource-based practice expense relative value units;

—services and supplies incident to a physician's professional service;

—anesthesia base unit variations;

—recognition of CPT tracking codes; and

—nurse practitioners, physician assistants, and clinical nurse specialists performing screening sigmoidoscopies.

We also solicited comments on the payment policy for CPT modifier 62 used to report the work of co-surgeons.

In addition, the August 2, 2001 proposed rule addressed the following provisions of the Medicare, Medicaid, and SCHIP Benefits Improvement and Protection Act of 2000 (BIPA):

• Payment for the screening mammography benefit under the physician fee schedule effective January 1, 2002.

• Biennial screening pelvic examinations for certain beneficiaries effective July 1, 2001.

• Annual glaucoma screenings for high-risk beneficiaries effective January 1, 2002.

• Expansion of coverage for screening colonoscopies to all beneficiaries effective July 1, 2001.

• Coverage for medical nutrition therapy services for certain beneficiaries effective January 1, 2002.

• Expansion of payment for telehealth services effective October 1, 2001.

• Payment for some services of certain Indian Health Service providers under the physician fee schedule effective July 1, 2001.

• Revision to the payment for certain physician pathology services effective January 1, 2001.

This final rule affects the regulations set forth at Part 405, Federal health insurance for the aged and disabled; Part 410, Supplementary medical insurance (SMI) benefits; Part 411, Exclusions from Medicare and limitations on Medicare payment; Part 414, Payment for Part B medical and other health services; and Part 415, Services furnished by physicians in providers, supervising physicians in teaching settings, and residents in certain settings.

The information in this final rule finalizes information in the June 8, 2001 proposed notice and the August 2, 2001 proposed rule.

C. Components of the Fee Schedule Payment Amounts

Under the formula set forth in section 1848(b)(1) of the Act, the payment amount for each service paid under the physician fee schedule is the product of three factors—(1) a nationally uniform relative value for the service; (2) a geographic adjustment factor (GAF) for each physician fee schedule area; and (3) a nationally uniform conversion factor (CF) for the service. The CF converts the relative values into payment amounts.

For each physician fee schedule service, there are three relative values—(1) an RVU for physician work; (2) an RVU for practice expense; and (3) an RVU for malpractice expense. For each of these components of the fee schedule, there is a geographic practice cost index (GPCI) for each fee schedule area. The GPCIs reflect the relative costs of practice expenses, malpractice insurance, and physician work in an area compared to the national average for each component.

The general formula for calculating the Medicare fee schedule amount for a given service in a given fee schedule area can be expressed as:

Payment = [(RVU work × GPCI work) + (RVU practice expense × GPCI practice expense) + (RVU malpractice × GPCI malpractice)] × CF

The CF for calendar year (CY) 2002 appears in section XIII. The RVUs for CY 2002 are in Addendum B. The GPCIs for CY 2002 can be found in Addendum D.

Section 1848(e) of the Act requires us to develop GAFs for all physician fee schedule areas. The total GAF for a fee schedule area is equal to a weighted average of the individual GPCIs for each of the three components of the service. In accordance with the statute, however, the GAF for the physician's work reflects one-quarter of the relative cost of physician's work compared to the national average.

D. Development of the Relative Value System

1. Work Relative Value Units

Approximately 7,500 codes represent services included in the physician fee schedule. The work RVUs established for the implementation of the fee schedule in January 1992 were developed with extensive input from the physician community. A research team at the Harvard School of Public Health developed the original work RVUs for most codes in a cooperative agreement with us. In constructing the vignettes for the original RVUs, Harvard worked with expert panels of physicians and obtained input from physicians from numerous specialties.

The RVUs for radiology services were based on the American College of Radiology (ACR) relative value scale, which we integrated into the overall physician fee schedule. The RVUs for anesthesia services were based on RVUs from a uniform relative value guide. We established a separate CF for anesthesia services, and we continue to recognize time as a factor in determining payment for these services. As a result, there is a separate payment system for anesthesia services.

II. Specific Proposals for Calendar Year 2002

In response to the publication of the August 2001 proposed rule, we received approximately 2,000 comments. We received comments from individual physicians, health care workers, and professional associations and societies. The majority of comments addressed the proposals related to medical nutrition therapy and the practice expense refinement.

The proposed rule discussed policies that affected the number of RVUs on which payment for certain services would be based. Certain changes implemented through this final rule are subject to the $20 million limitation on annual adjustments contained in section 1848(c)(2)(B)(ii)(II) of the Act.

After reviewing the comments and determining the policies we would implement, we have estimated the costs and savings of these policies and added those costs and savings to the estimated costs associated with any other changes in RVUs for 2002. We discuss in detail the effects of these changes in the Regulatory Impact Analysis in section XIII.

For the convenience of the reader, the headings for the policy issues correspond to the headings used in the August 2001 proposed rule. More detailed background information for each issue can be found in the June 2001 proposed notice with comment period and the August 2001 proposed rule.

A. Resource-Based Practice Expense Relative Value Units

1. Resource-Based Practice Expense Legislation

Section 121 of the Social Security Act Amendments of 1994 (Public Law 103-432), enacted on October 31, 1994, required us to develop a methodology for a resource-based system for determining practice expense RVUs for each physician's service beginning in 1998. In developing the methodology, we were to consider the staff, equipment, and supplies used in providing medical and surgical services in various settings. The legislation specifically required that, in implementing the new system of practice expense RVUs, we apply the same budget-neutrality provisions that we apply to other adjustments under the physician fee schedule.

Section 4505(a) of the BBA amended section 1848(c)(2)(ii) of the Act and delayed the effective date of the resource-based practice expense RVU system until January 1, 1999. In addition, section 4505(b) of the BBA provided for a 4-year transition period from charge-based practice expense RVUs to resource-based RVUs. The practice expense RVUs for CY 1999 were the product of 75 percent of charge-based RVUs and 25 percent of the resource-based RVUs. For CY 2000, the RVUs were 50 percent charge-based RVUs and 50 percent resource-based RVUs. For CY 2001, the RVUs are 25 percent charge-based and 75 percent resource-based. After CY 2001, the RVUs will be totally resource-based.

Section 4505(e) of the BBA amended section 1848(c)(2) of the Act by providing that 1998 practice expense RVUs be adjusted for certain services in anticipation of implementation of resource-based practice expenses beginning in 1999. As a result, the statute required us to increase practice expense RVUs for office visits. For other services in which practice expense RVUs exceeded 110 percent of the work RVUs and were furnished less than 75 percent of the time in an office setting, the statute required us to reduce the 1998 practice expense RVUs to a number equal to 110 percent of the work RVUs. This reduction did not apply to services that had proposed resource-based practice expense RVUs that increased from their 1997 practice expense RVUs as reflected in the June 18, 1997 proposed rule (62 FR 33196). The services affected and the final RVUs for 1998 were published in the October 1997 final rule (62 FR 59103).

Further legislation affecting resource-based practice expense RVUs was included in the Balanced Budget Refinement Act of 1999 (BBRA) (Public Law 106-113). Section 212 of the BBRA amended section 1848(c)(2)(ii) of the Act by directing us to establish a process under which we accept and use, to the maximum extent practicable and consistent with sound data practices, data collected or developed by entities and organizations. These data would supplement the data we normally collect in determining the practice expense component of the physician fee schedule for payments in CY 2001 and CY 2002.

2. Current Methodology for Computing the Practice Expense Relative Value Unit System

Effective with services furnished on or after January 1, 1999, we established a new methodology for computing resource-based practice expense RVUs that used the two significant sources of actual practice expense data we have available—the Clinical Practice Expert Panel (CPEP) data and the American Medical Association's (AMA) Socioeconomic Monitoring System (SMS) data. The methodology was based on an assumption that current aggregate specialty practice costs are a reasonable way to establish initial estimates of relative resource costs for physicians' services across specialties. The methodology allocated these aggregate specialty practice costs to specific procedures and, thus, can be seen as a “top-down” approach. Discussion of the various elements of the methodology and their application follows.

a. Practice Expense Cost Pools

We used actual practice expense data by specialty, derived from the 1995 through 1998 SMS survey data, to create six cost pools—administrative labor, clinical labor, medical supplies, medical equipment, office supplies, and all other expenses. There were three steps in the creation of the cost pools. (Please note that the 1999 SMS data are being incorporated for CY 2002.)

• Step (1) We used the AMA's SMS survey of actual cost data to determine practice expenses per hour by cost category. The practice expenses per hour for each physician respondent's practice were calculated as the practice expenses for the practice divided by the total number of hours spent in patient care activities. The practice expenses per hour for the specialty were an average of the practice expenses per hour for the respondent physicians in that specialty. For the CY 2000 physician fee schedule, we also used data from a survey submitted by the Society of Thoracic Surgeons (STS) in calculating thoracic and cardiac surgeons' practice expenses per hour. (Please see the November 1999 final rule (64 FR 59391) for additional information concerning acceptance of these data.) For CY 2001, we used these STS data, as well as survey data submitted by the American Society of Vascular Surgery and the Society of Vascular Surgery. (Please see the November 2000 final rule (65 FR 65385) for additional information on the acceptance of these data.)

• Step (2) We determined the total number of physician hours (by specialty) spent treating Medicare patients. This was calculated from physician time data for each procedure code and from Medicare claims data.

• Step (3) We calculated the practice expense pools by specialty and by cost category by multiplying the specialty practice expenses per hour for each category by the total physician hours.

For services with work RVUs equal to zero (including the technical component (TC) of services with a TC and a professional component (PC)), we created a separate practice expense pool using the average clinical staff time from the Clinical Practice Expert Panel (CPEP) data (since these codes, by definition, do not have physician time) and the “all physicians” practice expense per hour.

b. Cost Allocation Methodology

For each specialty, we divided the six practice expense pools into two groups, based on whether direct or indirect costs were involved, and we used a different allocation basis for each group. The first group included clinical labor, medical supplies, and medical equipment. The second group included administrative labor, office expenses, and all other expenses.

(i) Direct Costs

For direct costs (including clinical labor, medical supplies, and medical equipment), we used the CPEP data as the allocation basis. The CPEP data for clinical labor, medical supplies, and medical equipment were used to allocate the costs for each of the respective cost pools.

For the separate practice expense pool for services with work RVUs equal to zero, we used adjusted 1998 practice expense RVUs as an interim measure to allocate the direct cost pools. (Please see the November 1998 final rule (63 FR 58891) for further information related to this adjustment.) Also, for all radiology services that are assigned work RVUs, we used the adjusted 1998 practice expense RVUs for radiology services as an interim measure to allocate the direct practice expense cost pool for radiology. For all other specialties that perform radiology services, we used the CPEP data for radiology services in the allocation of that specialty's direct practice expense cost pools.

(ii) Indirect Costs

To allocate the cost pools for indirect costs, including administrative labor, office expenses, and all other expenses, we used the total direct costs, as described above, in combination with the physician fee schedule work RVUs. We converted the work RVUs to dollars using the Medicare CF (expressed in 1995 dollars for consistency with the SMS survey years).

The SMS pool was divided by the CPEP pool for each specialty to produce a scaling factor that was applied to the CPEP direct cost inputs. This was intended to match costs counted as practice expenses in the SMS survey with items counted as practice expenses in the CPEP process. When the specialty-specific scaling factor exceeded the average scaling factor by more than 3 standard deviations, we used the average scaling factor. (Please see the November 1999 final rule (64 FR 59390) for further discussion of this issue.)

For procedures performed by more than one specialty, the final procedure code allocation was a weighted average of allocations for the specialties that perform the procedure, with the weights being the frequency with which each specialty performs the procedure on Medicare patients.

c. Other Methodological Issues

(i) Global Practice Expense Relative Value Units

For services with the PC and TC paid under the physician fee schedule, the global practice expense RVUs were set equal to the sum of the PC and TC.

(ii) Practice Expenses per Hour Adjustments and Specialty Crosswalks

Since many specialties identified in our claims data did not correspond exactly to the specialties included in the practice expense tables from the SMS survey data, it was necessary to crosswalk these specialties to the most appropriate SMS specialty category. We also made the following adjustments to the practice expense per hour data. (For the rationale for these adjustments to the practice expense per hour, see the November 1998 final rule (63 FR 58841)).

• We set the medical materials and supplies practice expenses per hour for the specialty of “oncology” equal to the “all physician” medical materials and supplies practice expenses per hour.

• We based the administrative payroll, office, and other practice expenses per hour for the specialties of “physical therapy” and “occupational therapy” on data used to develop the salary equivalency guidelines for these specialties. We set the remaining practice expense per hour categories equal to the “all physician” practice expenses per hour from the SMS survey data. (Note that in the November 2000 final rule (65 FR 65403), we increased the space allotment for therapy services to 750 square feet.)

• Due to uncertainty concerning the appropriate crosswalk and time data for the nonphysician specialty “audiologist,” we derived the resource-based practice expense RVUs for codes performed by audiologists from the practice expenses per hour of the other specialties that perform these services.

• For the specialty of “emergency medicine,” we used the “all physician” practice expense per hour to create practice expense cost pools for the categories “clerical payroll” and “other expenses.”

• For the specialty of “podiatry,” we used the “all physician” practice expense per hour to create the practice expense pool.

• For the specialty of “pathology,” we removed the supervision and autopsy hours reimbursed through Part A of the Medicare program from the practice expense per hour calculation.

• For the specialty “maxillofacial prosthetics,” we used the “all physician” practice expense per hour to create practice expense cost pools and, as an interim measure, allocated these pools using the adjusted 1998 practice expense RVUs.

• We split the practice expenses per hour for the specialty “radiology” into “radiation oncology” and “radiology other than radiation oncology” and used this split practice expense per hour to create practice expense cost pools for these specialties.

(iii) Time Associated With the Work RVUs

The time data resulting from the refinement of the work RVUs have been, on average, 25 percent greater than the time data obtained by the Harvard study for the same services. We adjusted the Harvard study's time data to ensure consistency between these data sources.

For services with no assigned physician time, such as dialysis, physical therapy, psychology, and many radiology and other diagnostic services, we calculated estimated total physician time based on work RVUs, maximum clinical staff time for each service as shown in the CPEP data, or the judgment of our clinical staff.

We calculated the time for CPT codes (hereafter referred to as “codes”) 00100 through 01996 using the base and time units from the anesthesia fee schedule and the Medicare allowed claims data.

3. Refinement

a. Background

Section 4505(d)(1)(C) of the BBA directed us to develop a refinement process to be used during each of the 4 years of the transition period. We did not propose a specific long-term refinement process in the June 1998 proposed rule (63 FR 30835). Rather, we set out the parameters for an acceptable refinement process for practice expense RVUs and solicited comments on our proposal. We received a variety of comments about broad methodology issues, practice expense per-hour data, and detailed code-level data. We made adjustments to our proposal based on the comments we received. We also indicated that we would consider other comments for possible refinement and that the RVUs for all codes would be considered interim for 1999 and for future years during the transition period.

We outlined in the November 1998 final rule (63 FR 58832) the steps we were undertaking as part of the initial refinement process. These steps included the following:

• Establishment of a mechanism to receive independent advice for dealing with broad practice expense RVU technical and methodological issues.

• Evaluation of any additional recommendations from the General Accounting Office, the Medicare Payment Advisory Commission (MedPAC), and the Practicing Physicians Advisory Council (PPAC).

• Consultation with physician and other groups about these issues.

We also discussed a proposal submitted by the AMA's Specialty Society Relative Value Update Committee (RUC) for development of a new advisory committee, the Practice Expense Advisory Committee (PEAC), to review comments and recommendations on the code-specific CPEP data during the refinement period. In addition, we solicited comments and suggestions about our practice expense methodology from organizations that have a broad range of interests and expertise in practice expense and survey issues.

b. Current Status of Refinement Activities

In the 1999 and 2000 final rules and the 2001 proposed rule, we provided further information on refinement activities underway, including the AMA's formation of the PEAC and the support contract that we awarded to the Lewin Group to focus on methodologic issues. In addition, in these rules, we announced actions taken and decisions made in response to the hundreds of comments received on our resource-based physician practice expense initiative. Because the transition will be completed in CY 2002 and the practice expense RVUs will then be totally resource-based, it is appropriate to recap the specific achievements reached and decisions implemented during this refinement effort to date.

(i) Use of the Top-Down Approach

Most of the physician organizations commenting agreed that this methodology was preferred for computing resource-based practice expense RVUs and that it was in accordance with the requirements of the BBA. KPMG Peat Marwick, under contract to us, reviewed the top-down methodology in which aggregate specialty costs are applied to specific procedures and concluded that it followed reasonable cost accounting principles. A 1999 GAO report concludes, “HCFA's new approach represents a reasonable starting point for creating resource-based practice expense RVUs. It uses the best available data for this purpose and explicitly recognizes specialty differences in practice expense.” Based on these comments and assessments, we made the decision to continue to use the top-down methodology to calculate the resource-based practice expense RVUs.

(ii) Use of the SMS Survey

The supplemental non-SMS survey data submitted by several specialties in response to the 1998 proposed rule, with the exception of the survey data from the thoracic surgeons, were not compatible with the format or methodology of the SMS. We awarded a contract to the Lewin Group to recommend criteria for the acceptance of specialty-specific practice expense data so that we could supplement the SMS data as appropriate. These recommended criteria are contained in the final report, “An Evaluation of the Health Care Financing Administration's Resource-Based Practice Expense Methodology.” This report is available on our web page under the same title. (Access to our web site is discussed in the Supplementary Information section above.)

The report also contains recommendations for revisions to the SMS or other surveys to efficiently meet the needs of our practice expense methodology. We augmented these recommendations and forwarded our suggestions for revisions to any future surveys to the AMA. For example, we developed supplementary survey questions that would allow us to distinguish both costs and direct patient care hours for all midlevel practitioners. We also suggested revisions that would capture the necessary information on separately billable supplies and services so that we could eliminate these costs from the specialty-specific practice expense per-hour calculations.

To obtain supplementary specialty-specific practice expense data that could be used in computing practice expense RVUs beginning January 1, 2001, we published an interim final rule on May 3, 2000 (65 FR 25664) that set forth the criteria applicable to supplemental survey data submitted to us by August 1, 2000.

We also provided a 60-day period for submission of public comments on our criteria for survey data submitted between August 2, 2000 and August 1, 2001 for use in computing the practice expense RVUs for the CY 2002 physician fee schedule.

In the November 1, 2000 final rule (65 FR 65385), we responded to comments received on the interim final rule and made modifications to the criteria for supplemental survey data that will be considered in computing practice expense RVUs for the CY 2002 physician fee schedule. These data can then be used to supplement the SMS survey data currently used to estimate each specialty's aggregate practice costs or to replace the crosswalks used for specialties not represented in the SMS.

In our November 1999 final rule, we accepted supplementary data submitted by the thoracic surgeons and, in our November 2000 final rule, we accepted survey data from the vascular surgeons that replaced the previously crosswalked practice expense per hour data for that specialty. In the November 2000 final rule, we also stated that if we received additional specialty-specific survey data before August 1, 2001 that met the criteria outlined in that rule, we would use these supplementary data in calculating the CY 2002 practice expense RVUs.

We accepted our contractor's recommendation to incorporate the latest SMS data into our practice expense per hour calculations. For CY 2001, we incorporated the 1998 SMS data into a 4-year average, and we are incorporating the 1999 SMS data into a 5-year average to calculate the CY 2002 practice expense RVUs.

We also accepted the contractor's recommendation to standardize the survey practice expense data to a common year. We adjusted the data to reflect a 1995 cost year.

We received comments that urged us to use the median SMS specialty-specific data instead of the mean, as well as comments supporting our use of the mean values. We made a decision to continue to use the mean in calculating the specialty-specific practice expense per hour. We believe that, in a small sample, using the median could eliminate outlying data from the calculation that represent real costs and thus should be considered.

(iii) CPEP Data

The AMA has formed a multispecialty sub-committee of their Relative Value Update Committee (RUC), the Practice Expense Advisory Committee (PEAC), to review the CPEP clinical staff, equipment, and supply data for all physicians' services. This multispecialty committee, which includes representatives from all major specialty societies, will then make recommendations on suggested refinements to these data. We indicated in our November 1998 final rule (63 FR 58833) that we would work with the PEAC and RUC to refine the practice expense direct cost inputs. This refinement process was supported in comments we received from almost every major physician specialty society.

In our November 1999 physician fee schedule final rule, we implemented most clinical staff time, supply and equipment refinements recommended by the RUC. For the November 2000 final rule, the RUC forwarded to us significant additional refinement recommendations that reflected multispecialty agreement on the typical resources for many important services, including visit codes, which account for approximately 24 percent of Medicare spending for physicians' services. Again we accepted almost all of these RUC recommendations. In addition, at its October 2000, February 2001, and April 2001 meetings, the PEAC focused on refining high-volume services and on standardizing inputs across wide ranges of services. The RUC and PEAC forwarded to us recommendation on refinements for over 1,100 services. We anticipate that the pace of refinement of the CPEP inputs will continue to accelerate.

In addition to implementing most of the RUC-recommended refinements, we responded to comments on errors and anomalies in the CPEP data in both the November 1999 and November 2000 final rules. For example, we removed separately billable casting supplies and drugs from all services; we adjusted the prices of certain supplies that were clearly in error; we removed duplicated equipment from the direct inputs of the nuclear medicine codes; we added clearly essential equipment that was missing from the lithotripsy and photochemotherapy codes; we corrected anomalies in inputs within several families of codes; and we changed the crosswalks for the CPEP inputs of several codes not valued by the CPEP panels when a commenter suggested more appropriate crosswalks.

We simplified the refinement of equipment inputs by combining both the procedure-specific and overhead equipment into a single equipment category. We also deleted stand-by equipment and equipment used for multiple services at one time from the direct cost inputs because of the difficulty of allocating these costs at the code-specific level.

We are resolving issues related to averaging input costs for codes that were valued by more than one CPEP panel. While we have received comments agreeing and disagreeing with our use of mean costs, the issue is moot because we are substituting refined data for the data previously produced by multiple CPEPs.

(iv) Physician Time Data

In the November 1999 rule (64 FR 59404), we stated that, in general, requests for revisions for the procedure-specific physician times should be deferred to either the RUC process or the 5-year review process. However, we did adopt the newer data to correct the physician time for the pediatric surgery codes and made the requested revisions to correct anomalies in the times of certain psychotherapy codes.

In response to comments on the times associated with physical and occupational therapy services, we added preservice and postservice times to all of these codes.

(v) Crosswalk Issues

In response to concerns expressed by specialty societies representing emergency medicine that the SMS data did not capture the costs of uncompensated care, we crosswalked emergency medicine's cost pools for administrative labor and other expenses to the practice expense per hour for “all physicians.”

We resolved issues related to the specialty crosswalk for nursing specialties by eliminating the separate practice expense pools for midlevel practitioners.

(vi) Calculation of Practice Expense Pools—Other Issues

We addressed concerns that potential errors in our specialty utilization data will have an effect on the calculation of practice expense RVUs. In the July 2000 proposed rule (65 FR 44178), we discussed our simulations that demonstrated that the small percentage of potential errors in our very large database have no adverse effect on specialty-specific practice expense RVUs.

We have created the zero-work pool for services with no physician work to ensure that these services are not inappropriately disadvantaged by our methodology. We have also agreed with the request of all the specialty societies that commented that their services should be moved out of the zero-work pool and into the specialty-specific pool. The specialties whose services remain in the zero-work pool have indicated that they wish their services to remain there. We plan to eliminate this separate pool for services with no physician work only when we have determined what revisions to our methodology are required so that we can value these services appropriately outside of the zero-work pool.

(vii) Calculation of Indirect Cost

We requested that our contractor evaluate various options for calculating indirect costs. The final report, referenced above, contains an analysis of the impacts of six alternative allocation methodologies. In confirming the suitability of our allocation methodology, the report concludes that “HCFA's approach is broadly consistent with most of the alternative methods. This consistency suggests that, from a broad perspective, no other allocation methodology offers a compelling reason to abandon the current HCFA approach.”

(viii) Site-of-Service

The practice expense RVUs would be expected to be higher in the nonfacility setting, where the practitioner bears the costs of the necessary staff, supplies, and equipment, than in the facility setting. To prevent potential anomalies in our calculations due to the different mix of specialties performing a given service in different settings, we capped the practice expense RVUs for a physician service in facilities at the nonfacility practice expense level for each specific service.

In the November 1999 final rule (64 FR 59407), in response to a comment from the Renal Physicians Association, we agreed that the monthly capitated service codes should always be reported using the nonfacility designation. The site-of-service designations are not meaningful for a monthly service that may be provided in different settings for the same patient during a given month.

Although we are continuing our refinement of all practice expense RVUs, we believe that the above description of our actions to date illustrates that much has been accomplished. We also believe that it demonstrates that we have been responsive to comments from the medical community and have established a process that enables this community to participate fully in the refinement of both the specialty-specific practice expense per hour and the CPEP code-specific inputs.

4. Practice Expense Provisions for Calendar Year 2002

a. SMS Data

(i) Use of 1999 SMS Survey Data

We are currently using data from the 1995 through the 1998 SMS surveys (1994 through 1997 practice expense data) in order to calculate the specialty-specific practice expense per hour. The 1999 SMS survey data are now available. Because we want to incorporate the most recent survey data into our methodology during the transition period, we proposed in our August 2001 rule (66 FR 40377) to add this 1999 data to the 4 years of data we are currently using.

We proposed to use these 5 years of data in addition to any supplemental specialty-specific data that meet our criteria as the basis of the practice expense per hour calculations until the first 5-year review of practice expense RVUs in 2007. At that time, we anticipate that newer practice expense survey data might be available.

Comment: Specialty societies representing internal medicine, family practice and a number of their subspecialties were opposed to using the 1999 SMS data in the calculation of the practice expense RVUs. While many of these commenters were generally supportive of incorporating the most current SMS data, they are concerned that the sample size and results from the 1999 SMS data may not warrant their inclusion. Several of these commenters indicated that the American Medical Association is on record stating that “it normally would not provide or publish data with so few responses for some specialties.”

A number of these commenters suggested that the practice expense information from the 1999 SMS would be less reliable because the data were collected after CMS announced the new resource-based practice expense methodology in the Federal Register. These commenters suggested that the opportunity for “gaming” now exists because the public was aware that the SMS data were used to calculate Medicare payments.

One commenter noted that the practice expense per hour for cardiology dropped by 15 percent in one year and doubted that the actual change in practice expense of this magnitude could have occurred. Another commenter indicated that the cardiac subspecialty of electrophysiology is very likely not represented at all in this flawed data set.

One association that represents eye surgeons commented that the 1999 SMS survey included about half as many usable responses as the 1995 through 1997 surveys. This commenter questioned our decision to disregard responses received by mail and indicated that an already poor response rate to the survey has become even lower. Another commenter that represents ophthalmology indicated that use of 1999 data with such low response rates violates good statistical practice. The 1999 responses included only 23 ophthalmologists, while over 200 offered responses to the survey in years before 1999. Another commenter that represents gastroenterology indicated that the SMS is perhaps the best available source of data on multispecialty practice costs. However, this comment indicated that it is by no means a perfect data source for the manner in which it has been used by CMS and is even less reliable for certain specialties, such as gastroenterology. This commenter appreciates our willingness to accept supplementary data from specialties, but believes that it is our responsibility to overcome data deficiencies. We were encouraged to develop a uniform and fair process to overcome data deficiencies, without relying on individual medical specialties to provide such data.

In light of AMA's suspension of the SMS survey, this commenter urged us to discuss in the final rule our plans for updating practice expense RVUs in future years beginning with 2003, and, if need be, for replacing the SMS survey with an alternative data source. Another commenter expressed concern that the newer data from the SMS surveys will not be incorporated until the first 5-year review of practice expense RVUs in 2007; by that time, some of the practice expense data will have been in existence for 13 years.

Similarly, another commenter expressed concern that using the SMS data set from 1995 through 1999 until 2007 will mean that the data will not accurately reflect the changes in technology that will increase costs, particularly for specialties with rapid changes in technology.

Response: In response to the comment that the SMS data are not a perfect data source for developing practice expense RVUs, as we have said previously, we believe the SMS survey is the best available source of data on multispecialty practice costs. This comment was echoed by one of the same commenters that objected to including the 1999 SMS data in the practice expense methodology for determining 2002 RVUs. While we have previously acknowledged that the data have potential limitations for determining practice expense RVUs, there are no alternative data sources that are better for this purpose.

Since there are no other data on aggregate multispecialty practice costs that are better than the SMS, our only alternative would be to eliminate the SMS data from the methodology and rely solely on estimates of practice expense inputs for individual codes. We believe a better approach would be to continue using the SMS data in the practice expense methodology and to work with the physician community to develop even better data for establishing practice expense RVUs in the future.

One commenter noted that we only included telephone survey responses and not mail responses from the 1999 SMS and suggested that this decision further reduces an already low response rate. Our understanding is that the AMA, as a result of concerns about a declining number of responses to the SMS survey, used several approaches to obtain more surveys in the 1999 SMS. As part of this effort, some survey respondents received a mail survey instead of the normal telephone survey. Our review of information from the AMA suggested that there were significant differences between the mail and telephone surveys on questions related to practice expense. Since our objective has been to use a consistent approach to obtaining practice expense data for use in our methodology, we felt that it would be better to incorporate only the traditional telephone survey responses in the methodology consistent with how the data were obtained in earlier years.

While a few commenters indicated that the SMS data are not representative of a particular specialty's costs, they provided no information to support the contention. One commenter suggested that electrophysiology, a subspecialty of cardiology, was unlikely to be included in the SMS survey. Since the SMS survey draws a random sample from the AMA's Physician Masterfile, we believe all physicians are equally likely to be selected for participation in the survey. We would further note that the SMS weights response information based on known characteristics of the population to make the final figures as representative of the self-employed population as possible. As we have stated previously, we believe the SMS survey is the best source of data for specialty practice expenses. If a specialty believes that the SMS is unrepresentative of their actual practice expenses, we have established a process by which additional data can be submitted to us. To date, we have used two specialty practice expense surveys in addition to or in place of the SMS survey. We encourage specialties to use this process to provide us with additional practice expense data that improve the representativeness of the data that we are using to determine the practice expense RVUs.

One commenter doubted that cardiology practice expense could have declined as much as suggested by the 1999 SMS data. We would note that the practice expense per hour in any given year can show more variability than the change in practice expense per hour over time. While the specialty of cardiology shows some level of variability in practice expense per hour, with some years showing a higher value than the average and other years a lower value, the change in practice expense per hour including the 1999 SMS data is far more modest than that suggested by the commenter. There is a −2.0 percent change in practice expense per hour as a result of including the 1999 SMS data. As indicated below, use of the 1999 SMS data changed average specialty level payments to cardiologists by less than 0.5 percent.

We acknowledge that response rates and the number of usable responses from the 1999 SMS are lower than in prior years. Nevertheless, as we have stated previously, it is unclear to us why this alone indicates that we should reject incorporating the data. To the extent that there are few responses to the latest SMS survey, there will be less impact on a given specialty because the practice expense per hour calculation is weighted by the number of respondents from each respective year. Further, we believe inclusion of more survey data will improve the data's representativeness and lead to more stability in the practice expense per hour. The use of the 1999 SMS data appears to have little effect on the practice expense RVUs. In our August 2, 2001 proposed rule (66 FR 40397), we simulated the impact of including the 1999 SMS data on average specialty level payments. The increase or decrease in average specialty level payment was less than 0.5 percent for 29 of the 35 specialties listed, including nearly all of the specialties that expressed concern about including the latest SMS data. For 4 of the remaining 6 specialties, the increase or decrease in payments was between 0.5 and 1.0 percent. Payments for the remaining two specialties (pathology and suppliers) increased by more than 2 percent.

We are doubtful that respondents “gamed” responses in the 1999 SMS because of an awareness that reporting higher practice expenses would lead to increased payments from Medicare. We observed no noticeable increase in practice expense per hour from the 1999 SMS survey than from earlier years. In fact, the inflation-adjusted all-physician practice expense per hour from the 1999 SMS data is lower than the same figure from the 1998 SMS data. Further, if the concern is that physicians were aware of how the data would be used and would “game” responses to obtain higher payments from Medicare, our expectation would be that the number of responses in the 1999 SMS would be higher, not lower, than in prior years. For these reasons, we are doubtful that there is any reason to assume that the 1999 SMS survey would show more bias than surveys from previous years.

We welcome the comments that suggest that we develop a long-term strategy for using aggregate specialty practice expense data to make refinements to RVUs. As noted by some commenters, the AMA is no longer conducting the SMS survey in its current form. We would like to engage physician specialty societies, as well as other practitioner groups and representatives of organizations affected by Medicare physician fee schedule payments, in discussions of how to best obtain practice expense data that will be useful in updating our methodology for determining practice expense RVUs. Although it has been beneficial to use 5 years of SMS data to develop practice expense RVUs, we believe that it may not be necessary to make annual updates to aggregate specialty practice cost data if relative practice expenses do not change significantly from year to year. However, it may be beneficial to periodically review aggregate practice expenses and make changes when necessary. For instance, one commenter suggested that technological innovation may change relative expenses among services. For this reason, we believe a review of aggregate practice costs at least every 5 years is necessary. In fact, the statute requires that we review RVUs at least every 5 years. At this time, we have incorporated all of the data from the SMS surveys into the practice expense methodology. We will consider public input on the best way to obtain practice expense data for use in future practice expense calculations.

(ii) Supplemental Practice Expense Survey Data

To ensure the maximum opportunity for specialties to submit supplementary practice expense data, we proposed to accept survey data that meet the criteria set forth in the November 2000 final rule for an additional 2 years. The deadlines for submission of such supplemental data to be considered in CY 2003 and CY 2004 are August 1, 2002 and August 1, 2003, respectively.

Comment: Several commenters expressed their strong support for our decision to accept specialty-specific practice expense surveys for an additional 2 years. Specialty societies representing podiatry, pediatrics, internal medicine, rheumatology and surgery, as well as the American Medical Association (AMA) stated their agreement with this decision.

An organization representing medical colleges commented that this will send an important message to the physician community about our willingness to consider all legitimate data sources in analyses of this critical portion of payments, and one that has been a subject of controversy within the community. A specialty society representing dermatology stated that the additional time will allow specialties to collect specialty-specific data that should be useful as we determine practice expense RVUs.

The AMA and a commenter representing podiatry expressed some concern about the criteria for the acceptance of survey data and the AMA also expressed hope that we would be flexible concerning any data submitted. The commenter representing emergency medicine argued that collecting specialty-specific data would be fruitless, due to a number of stringent criteria for submitting supplemental practice expense survey data.

On the other hand, three commenters indicated that we should accept only survey data that meet our criteria. The commenter representing rheumatology stated that it is critically important that any data accepted must meet the criteria in the November 2000 final rule.

Response: We received only comments supporting this proposal, and we will be extending the period of acceptance of supplemental survey data for another 2 years, as proposed. We hope to demonstrate flexibility in helping those specialties that conduct a survey to do so successfully, and we understand that for some specialties some revision to the survey format may be necessary. For example, questions regarding uncompensated care for emergency physicians or separately billable drugs for oncologists might need to be added to a survey to determine the appropriate practice expense for these specialties. However, like several of the commenters, we believe that fairness to all can only be achieved if we consistently apply the rules for determining validity to any survey that is submitted.

Comment: A specialty society representing geriatrics expressed concern regarding the use of SMS data in formulating practice expense costs because the sample size for geriatricians is not large enough to yield reliable data. The commenter stated that smaller specialty societies will be unable to provide supplementary survey data because of expense limitations and recommended that we continue to review alternative data sources that recognize the greater resources spent in caring for frail elderly persons. The society further recommended that we consider the use of “non-compliant” survey data for smaller specialty groups that do not meet our stringent and costly criteria.

Response: We could not justify accepting “non-compliant” surveys from some specialties, due solely to the specialty's size, while holding others to a more rigorous standard. However, though we would welcome survey data from any specialty that submits a survey that meets our criteria, we do recognize that performing a survey can be costly. We, therefore, suggest that the specialty society consider in advance the extent to which any possible survey result might actually alter the practice expense RVUs for their services. Note that we have only one payment amount for each service on the fee schedule. We have no authority to pay more to one specialty than to another for performing the same service. If a small specialty provides only a small percentage of a given service, a change in the practice expense per hour for that small specialty could have very little effect on the payment for the service. For example, if geriatricians perform mainly evaluation and management (E/M) services, even a survey that shows increased practice costs for geriatricians would not necessarily have any effect on the practice expense RVUs for E/M services because geriatricians' services would represent only a small part of the universe of E/M services. However, it is incumbent upon each specialty society to weigh both the costs and benefits to their specialty to determine whether conducting a practice expense survey would be worthwhile.

(iii) Submission of Supplemental Surveys

Three organizations submitted supplemental survey data for consideration for CY 2002. Survey data were submitted by the American Physical Therapy Association (APTA), the American Optometric Association (AOA), and the American Academy of Pediatrics (AAP). Our contractor, The Lewin Group, has evaluated the data submitted by each organization. They have recommended that we use the data submitted by APTA and AOA and reject the data submitted by AAP. The full recommendation and discussion will be made available on the CMS web site. (See the Supplementary Information section of this rule for directions on accessing our web site.)

We have decided not to use the data submitted by APTA, AOA, or AAP because none of the surveys met all of our stated criteria. In our May 3, 2000 interim final rule (65 FR 25666), we indicated that, based on our review of existing physician practice expense surveys, we believe that an achievable level of precision is a coefficient of variation (that is, the ratio of the standard error of the mean to the mean expressed as a percent) not greater than 10 percent for overall practice expenses or practice expenses per hour. For existing surveys, the standard deviation is frequently the same magnitude as the mean. We indicated in the May 2000 interim final rule that we would consider practice expenses for which the precision of practice expenses is equal to or better than this level of precision and that meet the other survey criteria. None of the surveys submitted for 2002 met the level of precision criteria; therefore, we have decided not to use the survey data.

b. CPEP Data

(i) 2000 RUC Recommendations on CPEP Inputs

In the November 2000 final rule (65 FR 65393), we responded to the RUC recommendations for the refinement of the direct inputs for 49 CPT codes and for the supply and equipment inputs for four additional services. These recommendations reflected multispecialty agreement on the typical resources for many important services, including visit codes, which account for approximately 24 percent of Medicare spending for physicians' services. We accepted almost all of these recommendations. We received the following comments on our responses to the RUC recommendations and on the PEAC/RUC refinement process:

Comment: Several specialty societies representing osteopaths, rheumatologists, neurologists, ophthalmologists, obstetricians, and gynecologists commended us for implementing the refinements submitted by the PEAC and RUC as part of the on-going refinement process. One specialty society stated that it was encouraged by the direction pursued with the physician fee schedule for 2001, because it demonstrated the ability to achieve refinement within the parameters of the fee schedule comment process. Another commenter expressed appreciation for our support of the PEAC and RUC refinement process because this relationship is critical to establishing fair and balanced payment policies.

In addition, other commenters praised our staff for being helpful in responding to the PEAC members' questions during meetings, as well as for the willingness to work with physician specialty societies toward establishing fair and appropriate reimbursement values. The RUC commented that it agreed that the PEAC has made significant progress in its ability to review and refine direct practice expense inputs for individual CPT codes.

Response: We appreciate the above comments and are also encouraged by the progress that the PEAC and RUC have made in refining the practice expense inputs.

Comment: The RUC agreed that the PEAC should continue to meet and refine the direct practice expense data. Therefore, it hopes that we will state that the practice expense RVUs will continue to be interim and subject to refinement as the PEAC continues its review. A specialty society representing ophthalmology echoed this request stating that, because the PEAC is continuing the refinement process, the interim status of the practice expense RVUs should be reaffirmed in the rule. The commenter requested that the RVUs remain interim and subject to change until 2007, that is, until the first update of the five-year review of practice expense RVUs.

Response: We are pleased that the RUC and PEAC are willing to continue the task of helping us to refine the practice expense inputs for the approximately 7,000 services in the physician fee schedule. We intend to keep the practice expense RVUs as interim as long as this refinement process is necessary. Also, as noted above, we will accept, for another 2 years, supplemental survey data that meet our criteria. During this period, we will also continue to make improvements to our practice expense methodology.

Comment: A commenter representing three ophthalmology sub-specialties, though appreciative of our implementation of the PEAC recommendations, expressed disappointment that we have not made the non-controversial revisions to correct additional errors in the CPEP database. The commenter encouraged us to explore alternative ways to improve the quality of the CPEP data without waiting for the PEAC to consider each of the thousands of alleged errors.

Response: We have made changes to the CPEP data in those instances when there was a clear anomaly in the data and when the more appropriate revision would be obvious, without the benefit of a multispecialty recommendation. However, we have found that the input and recommendations of a multispecialty group, such as the PEAC, have played a crucial role for the vast majority of suggested revisions when clinical judgment is involved.

Comment: An organization representing diagnostic imaging centers stated that it would be inappropriate for the PEAC to constitute the review body for direct cost data for technical component services, because the PEAC does not include any representatives of diagnostic imaging centers. The commenter requested that, if any of the CPEP direct cost data form the basis for future payment for technical component services, the accuracy of these data should be reviewed by representatives of centers that actually provide the services involved.

Response: We do not agree that it is inappropriate for the PEAC to review the direct cost inputs for imaging services. The presentations for each service discussed at the PEAC are based either on surveys or panels of individuals who are familiar with the procedure in question. In addition, any of the recommendations of the PEAC that we accept are subject to review and comment by any interested party.

Comment: Societies representing surgeons, urologists, ophthalmologists, pediatrics, internists, and family physicians strongly support our acceptance of the revisions of CPEP inputs for office-based E/M services. One specialty society commented that the refined inputs for these services reflect the work of a multidisciplinary workgroup and demonstrate a major positive step toward streamlining practice expense inputs. One surgical specialty society did not fully agree that it is appropriate to use these E/M inputs to refine postsurgical visits because the direct costs associated with these visits are not necessarily comparable to the typical E/M visit. On the other hand, a primary care specialty society commented that the “rolling” implementation of CPEP refinement creates an anomaly because the surgical global services have not yet had these lower PEAC estimates for the E/M visits applied.

Response: We also saw the refinement of the practice expense inputs for the E/M codes as a significant milestone in the whole refinement process. These codes not only represent a sizeable portion of Medicare payments, but they also are used by most medical specialties, and, thus, most members of the PEAC had a stake in the outcome of this issue. We believe that, as a result of the extensive multispecialty discussion held by the PEAC on this issue, the recommendations on the E/M codes represent the best available estimates of the direct inputs needed for performing these services. With respect to the issue of applying these E/M inputs to the surgical global services, we will not be taking separate action now, but will be responding to the specific PEAC recommendations. We understand that it is expected that all the 90-day global surgical services will be refined by the PEAC by next year.

Comment: A specialty society representing internal medicine commented that the registered nurse (RN) and licensed practical nurse (LPN) staff mix should be used for the E/M codes rather than the RN, LPN, and medical assistant staff mix, which is less typical. The commenter also stated that we should increase the postservice clinical staff work for these services by 20 percent.

Response: We do not agree with changing the staff mix at this time, particularly because the PEAC recommendations have used this staff mix across the majority of refined services. We also have seen no evidence to suggest that the post-times for these services were undervalued.

(ii) 2001 RUC Recommendations on CPEP Inputs

We have received recommendations from the PEAC on the refinement to the CPEP inputs for over 1,100 codes. These include refinements of large numbers of orthopedic, dermatology, pathology, physical medicine, and ophthalmology services. In addition, the PEAC confirmed that there were no inputs for over 150 ZZZ-global procedures that are performed only in the facility and no supply or equipment inputs for almost 700 facility-only services with an XXX or 0-day global period. We believe this large increase in the number of CPT codes that have been refined demonstrates that the PEAC refinement process is working due to the valiant efforts of the AMA staff and the specialty societies participating in this mammoth undertaking. There is also reason to believe that the pace of refinement will continue to increase because of the steps that the PEAC is taking to create standardized packages of clinical staff time, supplies, or equipment that can be applied over a wide range of services.

We have reviewed the submitted PEAC recommendations and have accepted most of them with only minor revisions. The complete PEAC recommendations and the revised CPEP database can be found on our web site. (See the Supplementary Information section of this rule for directions on accessing our web site.)The following is a list of the only revisions we made to the PEAC recommendations:

• We substituted the multispecialty minimum visit supply package or the ophthalmology supply package for the list of individual supplies, when appropriate.

• We deleted separately billable supplies, for example, drugs, fluids, and casting supplies, when listed in the recommended supply list.

• We rounded fractions of minutes of clinical staff time to the nearest minute.

• For CPT code 52281, cystoscopy and treatment, we deleted the bougie a boule from the equipment list. The specialty society supplied us with the price of $105 for this item, which does not meet the minimum cost of $500 for an item to be included in the equipment list.

• For several ophthalmology services that did not involve dilation of the pupil, we consulted with the specialty society and deleted the ophthalmology visit supply package that was listed for the post-procedure visit. This package is intended for those services where dilation is necessary. The society confirmed that no supplies are needed for the post-procedure visit for these services.

• The recommendation did not specify the number of EEG electrodes for CPT code 92585, auditory evoked potential, comprehensive. We added seven electrodes, which is the same number assigned to the visual evoked potential code.

• The PEAC/RUC recommendations included time for the clinical staff type, “Physical Therapy Assistant (PTA),” which currently is not included in our CPEP input database. We are pricing the PTAs by using the Bureau of Labor Statistics wage estimates for physical therapy assistants. The base annual salary we are using will be $33,690. After factoring in benefits and adjusting this to 2001 dollars, the per minute rate will be $0.386.

• We have two concerns about the PEAC recommendations for therapy services. First, we believe that some of the duties ascribed to the physical therapy assistant are actually therapist services that are already captured in the work RVUs. Therefore, we are deleting from all the therapy codes the clinical staff time for obtaining vital signs and measurements, patient education, and phone calls. Because we believe that the resulting clinical staff times may be too low for the physical therapy and occupational therapy evaluation and reevaluation services, we are adding 7 additional minutes for the therapy aide in each of these codes. In addition, some of the occupational therapy codes contain several pieces of very expensive equipment called environmental modules. Because it is unclear how many of these modules would typically be used for each service, we are only including one module for each code that might use this equipment. We note that for three services, CPT codes 97530, 97535, and 97537, the PEAC did not submit a recommendation for equipment, presumably because of the difficulty of determining what would be typically used. In those cases, as in those with a PEAC recommendation, we are allowing for one module and some smaller equipment that was suggested by the specialty. We would hope to work with the specialty societies to obtain more precise information on the appropriate equipment for all of these therapy services.

• We note that one of the services for which we received recommendations, the casting/strapping procedure CPT code 29799, is carrier-priced. In addition, we received recommendations for two fine needle aspiration services, CPT codes 88170 and 88171, which are now deleted.

(iii) Other Comments on Refinement of CPEP Inputs

Comment: Several commenters were pleased that we finalized certain proposals regarding CPEP inputs, such as the following:

• The reinstatement of the pre-procedure clinical staff time in the facility setting for certain 0-day global services as well as pre-service time for the vitrectomy codes.

• Our decision to uphold the proposed refinements regarding inpatient dialysis CPT codes 90935 and 90945.

• The clarification of Medicare payment policy for cast supplies when used for non-fracture/dislocation procedures.

• The decision to retain Unna boot in the supplies for CPT code 29580.

• The correction of the supply list for CPT code 88104 and the establishment of a separate nonfacility practice expense RVU for CPT code 85607 in the 2001 fee schedule.

• The extension of the code-specific refinement beyond 2002.

Response: We appreciate the above comments and will strive to continue refining the practice expense RVUs in a manner that is fair and beneficial to the medical community.

Comment: An allergy clinic commented that because of our definition of a dose for CPT code 95165, Allergy Immunotherapy, doctors will be forced to use a dosage that could be harmful to certain patients.

Response: The definition of a dose will be used only for pricing the practice expense inputs for this service. Physicians should use their clinical judgment in determining what dose to use for any particular patient.

Comment: A commenter noted that the two codes for anal balloon sphincterplasty (CPT codes 49505 and 49510) did not have the balloon listed in the supply inputs.

Response: We agree that this was an omission and have added the balloon to the supply list for both services.

Comment: A commenter stated that there are no practice expense inputs assigned to CPT code 36533, insertion of implantable venous access port, with or without subcutaneous reservoir, in the nonfacility setting, because the CPEP panels priced it only in the facility. In particular, the supply inputs do not contain the cost of the catheter that is an integral part of the procedure.

Response: It is true that the original CPEP panel did not price this in the nonfacility setting; however, we subsequently crosswalked the inputs from the facility to the nonfacility setting for supplies, equipment, and clinical staff, adding clinical staff time for the intraservice period in the office. However, we agree that the catheter is an appropriate supply and have added it to the supply list for this code.

Comment: A specialty society representing podiatrists questioned why the practice expense RVUs for the nail trimming codes G0127 and CPT code 11719 are not the same. The commenter stated that they should have the same CPEP inputs since both were refined by the PEAC this year with identical inputs.

Response: The CPEP inputs are now identical for both codes, except that the supplies recommendation for CPT code 11719 does not include a surgical mask. However, none of this year's PEAC recommendations were reflected in the August 2001 proposed rule. In addition, even codes with identical CPEP inputs can have different practice expense RVUs if a different mix of specialties performs each service.

Comment: Two specialty societies representing cardiologists and electrophysiologists commented that we have allowed 60 minutes of clinical staff time to arrange for surgical procedures with a 90-day global period, but we have not yet allowed the same for 0-day global period procedures in facilities. The commenters stated that they may present specific codes to the PEAC with the recommendation that this time be recognized for these services, and they hope that we will be receptive to these recommendations.

Response: We will be glad to review any PEAC recommendations on clinical staff pre-service time for 0-day global period services in the facility setting if and when we receive them.

(iv) Repricing of Clinical Staff Wage Rates

In the August 2, 2001 proposed rule (66 FR 40378), we proposed modifications of wage rates for the clinical staff types contained in the CPEP database. Our contractor, Abt Associates, assigned the costs of the original CPEP inputs for staff, supplies, and equipment based primarily on 1994 and 1995 pricing data.

The original Abt Associates' estimates of clinical staff wage rates relied primarily on the Bureau of Labor Statistics (BLS) data. Abt's report on the CPEP cost estimation stated that, “* * * the BLS data were considered to be the preferred data set. The BLS” reputation for publishing valid estimates that are nationally representative led to the choice of the BLS data as the main source. If more than one data set provided an exact mapping for a receptionist, then the BLS wage was chosen over any other mapping.”

We agreed with this assessment and have used the most current BLS survey (1999) as the main source of wage data.

It should be noted that the BLS discontinued the Occupational Compensation Survey used by Abt in 1995 and now conducts the National Compensation Survey that has a breakdown of staff types different from the earlier survey. Also, this survey does not cover all the staff types contained in the CPEP data. Therefore, it was necessary for us to crosswalk or extrapolate the wages for several staff types using supplementary data sources for verification whenever possible.

We used three other data sources to price wages of staff types that were not referenced in the BLS data:

• The American Society of Clinical Pathologists' survey of laboratory staff salaries (found at www.ascp.org).

• The survey performed by the American Academy of Health Physics and the American Board of Health Physics (found at www.hps1.org).

• The national salary data from the Salary Expert, an Internet site that develops national and local salary ranges and averages for thousands of job titles using mainly government sources. (A detailed explanation of the methodology used to determine the specific job salaries can be found at www.salaryexpert.com).

We also solicited any valid survey data that commenters might be able to submit to us.

The proposed cost per minute for each staff type was derived by dividing the proposed annual salary (converted to 2001 dollars using the Medicare Economic Index) by 2080 to arrive at the hourly wage rate and then again by 60 to arrive at the per minute cost. To account for the employers' cost of providing fringe benefits, such as sick leave, we used the same benefits multiplier of 1.366 used by Abt Associates.

Comment: We received several supportive comments on our efforts to update the clinical staff salaries used in calculating the practice expense RVUs. Specialty societies representing family physicians and surgeons supported the proposal to reprice clinical staff salaries to approximate current practice expenses. A specialty society representing rheumatology stated that the repricing of clinical staff salary data represents an overdue positive step toward more accurate refinement of practice expense inputs. A specialty society representing dermatology agreed with the appropriateness of bundling similar clinical staff types into more easily identified and easily tracked clinical labor blended categories.

Response: We agree that using current wage data to price the clinical staff CPEP inputs is one step in ensuring that the practice expense RVUs are based on the resources needed to perform each service. We also would like to express our appreciation to the groups that included salary survey data on various staff types as part of their comments. These additional data have helped us to make appropriate revisions to our original proposals.

The following is a discussion of the specific proposals we made on the pricing of clinical staff types.

• We received no comments on the following proposals. Therefore, they will be implemented as proposed.

• We will price as proposed the staff types physical therapy aide, LPN, RN, certified surgical technician, laboratory technician, cytotechnologist, cardiovascular technician, nuclear medicine technician, optician, respiratory therapist, speech pathologist, audiologist, and counselor.

• We will collapse the medical assistant, technical aide, medical technician, EKG technician, anesthesia technician, technician, and cast technician staff types into a new staff type, “medical or technical assistant (MTA),” that will be priced at the medical assistant wage rate of $0.26 per minute.

+ We will bundle the staff type “RN-cardiology” into the staff type “RN.”

+ We will adjust the wage rate for the oncology-certified nurse to be 18 percent higher than the RN.

+ We will bundle the staff type “surgery assistant” into the staff type “certified surgical technician (CST).”

+ We will use the average hourly rate of $15.60 for histologic technologists from the 1998 American Society of Clinical Pathologists' survey to price the histotechnologist staff type.

+ We will use the BLS salary data for electroneurodiagnostic technologists contained in the BLS Occupational Outlook Handbook to price the electrodiagnostic technologist staff type.

+ We will price the wage rate for the EEG technician using survey data from the Salary Expert.

+ We will merge the nuclear cardiology technician in with the nuclear medicine technician staff type.

• We were unable to find any national salary data for the electron microscopy technician and, in the absence of such data, proposed crosswalking the salary from the wage rate for the histotechnologist. Though this represented an increase in the per minute cost for this staff type, we stated that we would welcome reliable national survey data from the specialty that we could use in pricing electron microscopy technicians.

Comment: The specialty society representing pathologists recommended that the wage rate for electron microscopy (EM) technician, which we proposed crosswalking from that of the histologic technologist, should more accurately be priced at the same wage rate as the cytotechnologist. The commenter stated that histologic technologists are generally bachelor degree level personnel, whereas EM technicians generally have post-baccalaureate education, parallel to that of a cytotechnologist. In addition, they receive salaries that are higher than general histotechnologists. The commenter also recommended that the title of the EM technician category be changed to EM technologist.

Response: We are persuaded that the commenter has proposed a more suitable crosswalk for this staff type. Therefore, we will crosswalk the wage rate for the EM technologist from that of the cytotechnologist. We will also change the title as suggested by the specialty society.

• We were unable to find any national salary data for registered electroencephalograph technologists (REEGTs) and proposed to maintain the current rate, since the speciality society had recently recommended this rate of pay. However, we also requested reliable national survey data from the specialty that we could use in pricing these three levels of neurodiagnostic staff.

Comment: The American Academy of Neurology (AAN), on behalf of seven related organizations, submitted an abbreviated version of the 2000 American Society of Electroneurodiagnostic Technologists (ASET) Salary Survey. The commenter stated that this national salary survey has been collected triennially by ASET, the main national body representing this allied health professional field, and was not collected for any purpose connected with the physician fee schedule. For office-based registered electroencephalograph technologists, there were 31 responses and a mean salary per hour of $20.11. For all REEGTs, there were 559 responses and a mean salary of $20.53 per hour. The commenters recommend that we substitute either of these salary rates to determine the costs for the REEGT staff type. The specialty society representing sleep medicine requested that we consider the updated salary data that AAN included in its comments on the proposed rule.

Response: We have reviewed this survey and believe that it provides a more appropriate estimate of the wage rate of REEGTs than did our crosswalk to a staff type used in a different specialty. We will use the data for the office-based REEGTS, which results in a wage rate of $0.47 per minute, which we note is not significantly different from our proposed rate for the REEGT staff type.

• We proposed to bundle the vascular technician with the cardiovascular technologist staff type. Currently both are priced at the same rate.

Comment: The American Association for Vascular Surgery, American Society of Neuroimaging, Society of Diagnostic Medical Sonography, Society for Vascular Surgery, and Society of Vascular Technology submitted a joint comment as “The Coalition.” The Coalition argued that the BLS was wrong to classify vascular technologists with cardiovascular technologists and technicians because the BLS description of duties for this classification does not include any of the duties performed by a vascular technologist. In addition, the commenters contended that, unlike most cardiovascular technicians, a vascular technologist functions as a direct and largely independent health care practitioner. A skilled vascular technologist undergoes between 2 and 4 years of didactic and clinical post-secondary education as evidenced by the presence of a baccalaureate degree program in vascular technology.

The Coalition recommended that we base the salaries for vascular technologists on data from a survey conducted earlier this year by nVision Research that surveyed by mail 406 randomly selected vascular technologists from a variety of settings. The response rate for this survey was 55 percent. Based on the survey, nVision Research determined that the median annual salary of a vascular technologist is $49,758. A copy of the survey was included with the comment. The commenters also recommended that we change the description of the “vascular technician” to “vascular technologist.” A specialty society representing echocardiography urged that we adopt the classification of “vascular technologist” as proposed by the above groups.

Response: We agree that the nomenclature of the staff type should be changed to “vascular technologist.” We have studied the data provided by the Coalition and have consulted with our medical advisors and now also agree that the salary shown in the submitted survey better represents the current wage rate for vascular technologists. Therefore, we will assign the vascular technologist staff type the recommended yearly salary of $49,758 which results in a per minute wage rate of $0.54.

• We proposed to merge the x-ray technician and radiation technologist staff types, which are currently priced at the same rate, into a staff type called “Radiologic Technologist.”

Comment: The American Society of Radiologic Technologists (ASRT) submitted with their comment the 2001 “Radiologic Technologist Wage and Salary Survey” commissioned by the organization. The comment disagreed with our proposal to merge the x-ray technician and radiation technologist staff types. The society stated that the radiation technologist has completed a formal educational program and has successfully passed a nationally recognized credentialing examination; an x-ray technician denotes a person who is most likely informally trained and who is often employed to perform only very limited x-ray examinations. On the other hand, a society representing therapeutic radiology and oncology recommended that we not crosswalk radiation technologists to “radiologic technologists and technicians,” but, instead, change the crosswalk and the name to “radiation therapist.”

Response: We can understand why the original nomenclature assigned by the CPEP panels to these staff types would be confusing to the commenters. However, it is clear from the imaging services to which the radiation technologist is assigned that this staff type was not considered to be a radiation therapist. In addition, we do not disagree with the distinction made by ASRT between an x-ray technician and a radiation technologist. However, the CPEP panel did not appear to make this same distinction. In fact, the x-ray technician is often assigned to more complex services than the radiation therapist and Abt Associates priced the two staff types at the same wage rate. Therefore, we have made the decision to consider both staff types to be at the same level and to change the title of both to “radiologic technologist.” If it is necessary to make a distinction between different levels of radiologic staff, this can be done as part of the refinement process.

Comment: A commenter representing imaging centers recommended that we substitute the “more accurate and recent salary information” obtained by the ASRT for the pricing of radiologic technologists. The commenter stated that these data indicate that the mean salary of full-time radiologic technologists is $53,919.

Response: We have reviewed the survey submitted to us by ASRT and have found it to be both comprehensive and useful. We would note that the $53,919 referenced in the comment is the mean salary for all radiologic personnel and includes the salaries of staff level personnel as well as chief technologists and of radiography staff as well as dosimetrists. Therefore, this is not salary information that can be used to price the specific radiology staff types in our database. However, as discussed below, we have used other ASRT data to price certain staff types for which we had no other pricing information. It is interesting to note that the mean salary in the ASRT survey for radiography staff is $36,862, while the 2001 salary rate for the equivalent staff based on the BLS is $37,126; the use of either figure would result in an almost identical per-minute wage rate. This information gives us extra confidence in our proposed wage rate of $0.41 per minute for radiologic technologists, and we will be implementing this salary rate as proposed.

• Because we were unable to find any national survey data regarding the salaries for CAT scan technician, MRI technician, or angiographic technician, we proposed crosswalking these staff types to the BLS radiologic technologist pay scale. We also stated that we would welcome any reliable national survey data that would allow us to separately price these staff types.

Comment: The American Society of Radiologic Technologists (ASRT) recommended that we use the 2001 ASRT survey submitted with its comment to price the MRI, CAT scan and angiographic technologists, rather than crosswalking their wage rate from the radiologic technologist. The ASRT data show an annual salary of $42,143 for a CAT scan technologist and $43,118 for an MRI technologist.

Response: We have reviewed the ASRT data for MRI and CAT scan technologists and will use that data for MRI and CT staff to price these staff types. There is a close congruence between the ASRT and the BLS salaries for those radiologic staff for whom we have data from both sources. Therefore, we have confidence that the wage rate we will use for the CAT scan and MRI technologists will be relatively correct. The wage rate for the CAT scan technologist will be $0.46 per minute and for the MRI technologist $0.47 per minute. We could not find data in the ASRT survey corresponding to the angiographic technician. Therefore, until some reliable national data are available, we will continue to crosswalk this wage rate from that of the radiologic technologist.

• We proposed merging the cardiac sonographer and the ultrasound technician into the sonographer staff type. Currently, all three are priced at the same rate.

Comment: The group of specialty societies commenting as the “Coalition” recommended that we maintain the description, “cardiac sonographer,” eliminate the description, “ultrasound technician,” and change the description “sonographer” to “diagnostic medical sonographer.” A specialty society representing echocardiography strongly urged that we adopt the above classifications proposed by the Coalition. This commenter also contended that crosswalking the salary for cardiac sonographers from that of diagnostic medical sonographers does not adequately reflect the salaries currently paid to cardiac sonographers. The society is currently seeking a reliable source of current survey information so that we can price cardiac sonographers separately.

Response: We have already proposed eliminating the description “ultrasound technician” and will accept the description of “diagnostic medical sonographer.” We proposed merging the cardiac sonographer into the sonographer classification because the two staff types were currently priced the same and we did not have any other salary data for the cardiac sonographers. However, we will accept the recommendation to keep the category “cardiac sonographer” and would be willing to reconsider the pricing if valid salary data are submitted.

• Because we were unable to find salary information for the staff type “dosimetrist,” we proposed crosswalking their salary from that of radiation therapists.

Comment: The American Society of Radiologic Technologists (ASRT) recommended that we review our proposed equal wages rates for radiation therapists and dosimetrists. The commenter reported that the annual salary of $57,330 for staff dosimetrists shown in the submitted 2001 ASRT survey is considerably higher than that for radiation therapists, which reflects their additional educational requirements. The specialty society representing radiology also opposed combining dosimetrists and radiation therapists in the same group because these two staff types provide very different services for radiation oncology procedures and are paid on different pay scales. This commenter agreed with the proposed increased wage rate for radiation therapists, but believed that the dosimetrists would be paid approximately 20 percent more than their proposed rate. Two other societies, one representing therapeutic radiology and oncology and one representing radiation oncology centers, also supported an increase for dosimetrists and one commenter suggested that we substitute the title “medical dosimetrist.” In addition, these two commenters recommended that we use the ASRT data for radiation therapists as well.

Response: We appreciate receiving the ASRT data for dosimetrists and agree that the annual salary suggested by the ASRT survey more accurately reflects the appropriate wage rate for this staff type. The wage rate will be $0.63 per minute. We will also change the title for this staff type to “medical dosimetrist.” We will continue to use the BLS data to determine the wage rate for radiation therapists since there has been no evidence presented to show that the BLS survey was in any way not representative.

• We proposed using the average salary data for all certified health physicists from the 1999 survey conducted by the American Academy of Health Physics and the American Board of Health Physics to price the “physicist” staff type.

Comment: Three specialty societies representing radiology, therapeutic radiology and oncology, and radiation oncology centers recommended that we use the Professional Information Survey data from The American Association of Physicists in Medicine (AAPM) rather than from the American Academy of Health Physics (AAHP). One commenter pointed out that the AAHP survey does not include physicists working in radiation oncology. The AAPM survey for CY 2000 had an overall response rate of 58 percent and demonstrated an average annual salary of $107,900. One commenter suggested that we also change the title to “medical physicist.”

Response: No copy of the AAPM survey was included with any of the comments, and we have been unable to review it at this time. However, we would not question the commenters' assertion that the AAPM survey was more relevant to physicists working in radiation oncology than the survey we used to determine our proposed wage rate. Therefore, we are using the AAPM survey salary of $107,900 on an interim basis to price the physicist wage rate and will endeavor to obtain and review this survey to finalize this issue. The wage rate for 2002 will be $1.21 per minute. For clarity, we will also accept the recommendation to change the title to “medical physicist.”

• We were unable to obtain representative national salary data for the certified ophthalmic technician (COT), the certified ophthalmic medical technologist (COMT), or the orthoptist staff types. We proposed to crosswalk the COT and COMT to the laboratory technician and histotechnician, respectively, since we believe that the skill and responsibility of these staff types would generally correspond. In the absence of any national salary data for the orthoptist, we proposed to crosswalk the salary from that of the COMT, the highest level of ophthalmic medical personnel. We also proposed crosswalking the salary data for the certified retinal angiographer from the data listed for ophthalmic photographers in the Salary Expert. We stated that we would welcome reliable and representative national salary data for these staff types.

Comment: The specialty society representing ophthalmologists commented that they would be pleased to offer additional assistance to validate the salaries for ophthalmic medical technicians and other ophthalmic clinical staff. At this time, the commenter agreed that the proposed crosswalks for these staff types are acceptable.

Response: We will be implementing these crosswalks as proposed.

• We proposed to crosswalk the wage rate for the staff type “dietitian” from the BLS salary data for dietitians and nutritionists.

Comment: The American Dietetic Association (ADA) commented that it believed that the BLS database includes salaries for non-credentialed dietitians and nutritionists and that we should reference ADA data from its membership surveys that estimates 2001 adjusted median annual income for dietitians to be $51,006.

Response: We would be willing to look at the ADA survey data if they were submitted to us. We would, of course, have to review and analyze these alternative survey data before we could substitute them for the BLS data that we have proposed to use. However, until we are convinced that the ADA data were equally or more representative of dietitians who serve as clinical staff for services on the fee schedule, we will continue to use the BLS data as our source of salary data for dietitians.

• We proposed to delete those clinical staff that can bill separately from the list of CPEP staff types. Therefore, we proposed substituting physical therapy aide for physical therapist, registered nurse for physician assistant, nurse practitioner and psychologist, and counselor for social worker.

Comment: Two specialty societies representing internal medicine and family practice expressed support for this proposal because these staff types, for example, nurse practitioners, are used as physician extenders and their salaries should not be considered as practice expense. A society representing geriatrics argued that we should not delete the clinical staff that can bill separately from the list of CPEP staff types because not all of these individuals bill separately, resulting in a negative impact on geriatrics.

Response: We will implement our proposal to delete clinical staff that can bill independently from our practice expense input database, with the two exceptions noted below. We believe that the costs of these staff types are not practice expenses and should be captured in the work RVUs. This revision to our clinical staff list should not have a negative impact on geriatrics because none of the deleted staff types were assigned to any of the E/M services that would make up a large percentage of geriatricians' case loads.

Comment: A society representing social workers commented that it was not opposed to the deletion from the practice expense inputs of staff types that can bill directly. However, the commenter pointed out that only clinical social workers are able to bill directly, while other social workers cannot. Therefore, the society is opposed to the deletion of the staff type, “social worker,” from the CPEP inputs and the substitution of the staff type, “counselor.” In addition, the society would at least want the BLS data for “social worker” to be used for pricing, though it believes that the BLS data does not differentiate enough between the various types of practice within social work.

Response: The commenter is correct in stating that not all social workers can bill directly. Therefore, we will keep the social worker staff type in our database and will use the BLS data for “social worker” to determine the appropriate wage rate. In addition, we will not delete the staff type, “psychologist,” which is listed as the clinical staff for the psychological testing services. Because these services have no physician work RVUs, the work of the psychologist can only be captured through the practice expense RVUs. We can find no appropriate national salary at this time for this staff type. Therefore, we will use the current wage rate of $0.82 per minute.

• We proposed to delete, as redundant, the ophthalmic medical personnel (OMP) staff type and to substitute the COMT/COT/RN/CST blend that was suggested by the American Academy of Ophthalmology and recommended by the PEAC.

Comment: The specialty society representing optometrists agrees with our proposal to delete, as redundant, the ophthalmic medical personnel (OMP) staff type and substitute the COMT/COT/RN/CST staff blend.

Response: We will implement this as proposed. Table 1 lists each staff type remaining in our practice expense input database, the source of the data, the staff type crosswalk used, the proposed annual salary in 2001 dollars, the 2002 wage rate per minute (including benefits) and the current cost per minute (including benefits).

Table 1.—Revised Wage Rates for CPEP Staff Types
Description | Source | Crosswalk | Mean yrly 2001 | Hrly + benefits | Revised per minute | Current per minute
Physical Therapy Aide | BLS | Physical Therapist Aides | 21,077 | 13.84 | 0.23 | 0.23
Physical Therapy Assistant | BLS | Physical Therapist Assistants | 35,223 | 23.13 | 0.39 | N/A
Medical or Technical Assistant | BLS | Medical Assistants | 23,681 | 15.55 | 0.26 | 0.16
LPN | BLS | Licensed Practical Nurses | 30,341 | 19.93 | 0.33 | 0.27
RN | BLS | Registered Nurses | 46,494 | 30.53 | 0.51 | 0.42
RN Oncology | BLS | Registered Nurses plus adjustment | 54,862 | 36.03 | 0.60 | 0.50
Certified Surgical Technician | BLS | Surgical Technologists | 28,814 | 18.92 | 0.32 | 0.26
Lab Technician | BLS | Medical and Clinical Laboratory Technicians | 29,724 | 19.52 | 0.33 | 0.29
Histotechnologist | ASCP | Histologic Technologist | 33,925 | 22.28 | 0.37 | 0.31
Electron Microscopy Technologist | X-WALK | Cytotechnologist | 41,099 | 26.99 | 0.45 | 0.31
Cytotechnologist | BLS | Medical and Clinical Laboratory Technologists | 41,099 | 26.99 | 0.45 | 0.42
EEG Technician | Salary Expert | Electroencephalographic Technician | 29,151 | 19.14 | 0.32 | 0.28
Electrodiagnostic Technologist | BLS | Electroneurodiagnostic Technologists | 33,529 | 22.02 | 0.37 | 0.30
Registered EEG Technologist | ASET | Registered EEG Technologist | 42,707 | 28.05 | 0.47 | 0.40
Vascular Technologist | nVision Survey | Vascular Technologist | 49,758 | 32.68 | 0.54 | 0.35
Cardiovascular Technician | BLS | Cardiovascular Technologists and Technicians | 34,794 | 22.85 | 0.38 | 0.35
Radiologic Technologist | BLS | Radiologic Technologists and Technicians | 37,126 | 24.38 | 0.41 | 0.32
Mammography Technologist | ASRT | Mammography Technologist | 39,212 | 25.75 | 0.43 | N/A
Angiographic Technician | BLS | Radiologic Technologists and Technicians | 37,126 | 24.38 | 0.41 | 0.35
CAT Scan Technologist | ASRT | Computed Tomography Technologist | 42,143 | 27.68 | 0.46 | 0.32
MRI Technologist | ASRT | Magnetic Resonance Imaging Technologist | 43,118 | 28.32 | 0.47 | 0.32
Nuclear Medicine Technician | BLS | Nuclear Medicine Technologists | 44,361 | 29.13 | 0.49 | 0.39
Diagnostic Medical Sonographer | BLS | Diagnostic Medical Sonographers | 45,751 | 30.05 | 0.50 | 0.39
Cardiac Sonographer | BLS | Diagnostic Medical Sonographers | 45,751 | 30.05 | 0.50 | 0.39
Radiation Technical Therapist | BLS | Radiation Therapists | 45,333 | 29.77 | 0.50 | 0.40
Medical Dosimetrist | ASRT | Medical Dosimetrist | 57,330 | 37.65 | 0.63 | 0.50
Medical Physicist | AAPM | Medical Physicist | 110,166 | 72.35 | 1.21 | 0.97
COT | X-WALK | Lab Technician | 29,724 | 19.52 | 0.33 | 0.26
COMT | X-WALK | Histotechnician | 33,925 | 22.28 | 0.37 | 0.28
Optician | BLS | Opticians, Dispensing | 26,336 | 17.30 | 0.29 | 0.28
Certified Retinal Angiographer | Salary Expert | Ophthalmic Photographer | 35,453 | 23.28 | 0.39 | 0.35
Orthoptist | X-WALK | COMT | 33,925 | 22.28 | 0.37 | 0.32
Respiratory Therapist | BLS | Respiratory Therapists | 38,537 | 25.31 | 0.42 | 0.42
Speech Pathologist | BLS | Speech-Language Pathologists | 49,996 | 32.83 | 0.55 | 0.42
Audiologist | BLS | Audiologists | 47,748 | 31.36 | 0.52 | 0.41
Registered Dietician | BLS | Dieticians and Nutritionists | 39,050 | 25.65 | 0.43 | 0.37
Counselor | BLS | Mental Health Counselors | 30,769 | 20.21 | 0.34 | 0.42
Social Worker | BLS | Medical and Public Health Social Workers | 37,011 | 24.31 | 0.41 | 0.33

The CPEP clinical staff inputs also include blends of staff types that are used for those services when more than one type of clinical staff may be used in the performance of the service. We will establish the payment rates for these blends by calculating a simple average of the wage rates of the staff types included. Table 2 shows the blended staff types, the 2002 cost per minute and the current cost per minute.

Note: We received no comments on the proposed cost per minute for the staff blends, so these rates will be implemented as proposed.

Table 2.—Revised Wage Rates for CPEP Blended Clinical Staff Types
Description | Revised per minute | Current per minute
COMT/COT/RN/CST | 0.38 | 0.307
Lab Tech/Histotech | 0.35 | 0.297
Lab Tech/MTA | 0.30 | 0.257
Optician/COMT | 0.33 | 0.278
RN/LPN | 0.42 | 0.389
RN/LPN/MTA | 0.37 | 0.317
RN/OCN | 0.56 | 0.497
RN/Respiratory Therapist | 0.47 | 0.421
RN/Sonographer | 0.51 | 0.405
Dosimetrist/Physicist | 0.920 | N/A

(v) Revision of the Ophthalmology Visit Supply Package

In its May 2000 submission to us, the RUC recommended the use of an ophthalmology visit supply package that would contain the routine supplies typically used in each 90-day global postsurgical visit for ophthalmology services. We accepted this recommendation. However, upon further review, we noted that two of the supplies, rev eyes and post myd spectacles, were not used in many of the postsurgical office visits. Therefore, after consulting with the ophthalmology specialty society, we proposed to remove these two items from the ophthalmology visit package. Instead, we proposed including these items as appropriate on a code-by-code basis.

Note: Since we received no comments on this issue, we will implement this revision on the supply package as proposed.

(vi) Deletion of Contrast Agents from the Practice Expense Inputs

Section 430(b) of BIPA amends section 1861(t)(1) of the Act to include contrast agents in the definition of drugs and biologicals. Previously, contrast agents were defined as supplies and were included in the list of CPEP supplies for the appropriate services. Therefore, we proposed to delete the costs of the following contrast agents from our CPEP data: hypaque, methylene blue, high-density barium, polibar, telopaque tablets, barium paste contrast, effervescent sparkies (fizzies), and renographin-60 iodinated contrast.

Comment: The specialty society representing radiology had no comment on the suggested list of deletions from the CPEP supplies. However, the society expressed concern that there are no HCPCS codes established for these deleted items and wanted information on how to bill for these supplies.

Response: As stated above, we proposed to delete contrast agents from the practice expense inputs in response to legislation that included contrast agents in the definition of drugs. This proposal was made to ensure that we did not include in the practice expense the costs of items that could also be billed separately. However, section 1842(o)(1) of the Act makes clear that the payment of 95 percent of the average wholesale price (AWP) can be made only if the drug is not paid on a cost or prospective payment basis. We believe that if we do include payment for any contrast agent in the practice expense RVUs, no other payment should be made for this item. After further consideration of this issue, however, we will continue to include the contrast agents listed in our proposal in our practice expense inputs at this time. Therefore, we are withdrawing the proposal.

c. Physician Time

RUC Time Database

The primary sources for the physician time data used in creating the specialty-specific practice expense pools are the surveys performed for the initial establishment of the work RVUs and the surveys submitted to the AMA RUC. The AMA informed us that some of the times used for the November 1998 final rule (63 FR 58823) differed from the official RUC database, and we agreed to use the RUC-verified physician time database when we received it from the AMA. Subsequently, the AMA notified us that there were gaps in its own database for certain global surgery codes and that a revised time database would be sent to us once all the times were verified. We have now received this revised database and proposed to use it in the calculation of the specialty-specific practice expense pools. It should be noted that the RUC database reflects the physician times for those codes that were surveyed as part of the second 5-year review of physician work.

Comment: We received a number of comments that supported using the physician time data. One commenter indicated that the new time database is expected to provide greater accuracy and consistency in the practice expense calculations. While commenters representing family physicians, internists, and rheumatologists supported use of the new time data, they also indicated that improvement is still needed. Specifically, these commenters suggested that the number and level of postoperative visits and the corresponding physician time included in the global surgical period may be overstated. The commenters noted that we previously indicated that we would study length of stay data relative to the number of postoperative visits and included in the surgical period, and they encouraged us to use this information to further refine the physician time data. One commenter indicated that surgeons rarely meet the criteria for billing critical care services in the postoperative period even though the time and value of critical care services are proposed for inclusion in the global period of some surgical codes.

Organizations representing thoracic surgeons indicated that we should not incorporate the new time data that will result in additional practice expense reductions for thoracic and cardiac surgery. These commenters said that no further reductions in the practice expense RVUs for cardiac surgery should be made until new studies of practice expense related issues by the Office of Inspector General and the General Accounting Office are completed. This commenter indicated that the new physician time data covers only 585 of the 7,928 codes in the physician fee schedule but directly affects cardiothoracic surgery because there are revised times for many high volume heart and chest procedures. The commenter suggested that the new time information needs to be put in the context of changes in physician time that may have occurred in the last five to ten years on the remaining 7,343 procedure codes where there are no new physician times. Another commenter representing a cardiology subspecialty indicated that we incorporated RUC time data for only 1,900 of the more than 7,000 procedure codes. This commenter suggested that we should continue using available time from a single source until a consistent source that includes information on all CPT codes is available.

Response: As indicated in the proposed rule, the RUC submitted physician time data for nearly 2,000 CPT codes in May 2001 and recommended that we use these new physician times in the practice expense methodology. The RUC recently sent new time for use in the final rule that reflected refinements for a few codes. We note that the source of the RUC times are actually the physician specialty societies themselves, including those associations that have objected to our use of the data. The data largely come from the specialty society surveys that were forwarded to the RUC to support requests for physician work RVUs for new and revised codes or services that were part of the 5-year review. The RUC made a comprehensive effort to validate these times before forwarding them to us. The RUC indicated to us that, over a period of 2 years, specialties had been provided with an opportunity to review the data and determine that they were accurately recorded.

While the new times forwarded by the RUC represent a minority of CPT procedure codes, we note that they account for over 60 percent of the allowed services that are paid under the physician fee schedule. In response to the comment that we should make changes only when we have a single source of time data for all codes, we note that there has never been a single source of time for all codes. While time for some codes is based on the original work of Harvard University, there are many codes that came into existence since the Harvard survey was completed. The only data source for these codes is the RUC.

We acknowledge that the Office of Inspector General is studying issues related to physicians bringing clinical staff to the hospital and the General Accounting Office is reviewing our use of supplemental practice expense survey data. Since these studies are unrelated to physician time, we do not believe they constitute a reason to suspend incorporation of the new time data into the practice expense methodology.

In response to the comments that suggest that the physician times in the postoperative period may be overstated, the RUC indicated to us that “a number of improvements were made to the specifications regarding the level of postoperative visits to more accurately capture each element of physician time.” While the total times we received from the RUC reflect the number, types, and level of E/M services furnished in the postoperative surgical period, these services are not separately paid when furnished as part of a global surgical service. Since these services are not paid separately, it is difficult to find objective information that indicates how E/M services are provided in the postoperative period. Currently, the only source of information we can use is information that the RUC has supplied and data that previously existed in our files. While we have undertaken research that combines information on inpatient hospital stays with claims for physicians' services, these data have limitations for determining the level or type of visit being furnished in the postoperative period. We would consider any further evaluation by the RUC on this issue.

d. Calculation of Practice Expense—Other Issues

Comment: Several commenters requested additional clarification and information concerning the cause of reductions of 9 to 13 percent in the practice expense RVUs for electrophysiology services. One commenter indicated that there was no explanation of the proposed reduction in practice expense for CPT codes 33207, 33208, 33249, and 93651. The commenter suggested that we should provide a more complete explanation of the proposed reductions or rescind them.

Response: Our observation is that there is no more than a 9 percent reduction in practice expense RVUs for any of these codes. We also note that the change in total payment for these codes as a result of the change in practice expense RVUs is less than half of this amount. We modeled five different changes to the practice expense methodology in our August 2, 2001 proposed rule (66 FR 40397). Of these changes, the change to physician time has the greatest effect on these codes. Since the change in the practice expense RVUs results from new information that affects payments for all procedure codes, we are continuing to implement the reduction in practice expense RVUs that were proposed for these codes.

Comment: We received one comment expressing concern that the separate professional interpretation and technical components for CPT code 95824 (cerebral death evaluation) have been eliminated. The commenter requested that we restore the professional and technical components of this service and crosswalk the technical component value from a similar code, CPT code 95822 (EEG, sleep only). The commenter also suggested that the work RVUs should be 1.08 RVUs, the same as similar EEG codes.

Response: We have restored the separate professional and technical components of this service. This service will likely be exclusively furnished for patients who are in an institutional setting. Thus, we will pay under the physician fee schedule only for the professional interpretation. Payment for the technical component of the service will be made through our payment to the institution for facility services. Since the technical component of this service is never provided outside of a hospital, we do not have enough information under the resource-based methodology to establish nonfacility pricing. In the unlikely event that this service is provided in the nonfacility setting, we are making the global and technical component of this service subject to carrier pricing. This change will apply to several other services that are not furnished in nonfacility settings. We are not making changes to the physician work RVUs for cerebral death evaluation in this final rule. There were no requests to revise the work RVUs for this code as part of the 5-year review of physician work.

Comment: An organization representing vascular surgeons stated that the methodology used to incorporate the supplemental practice expense survey data has failed. This commenter indicated that the practice expense per hour for vascular surgeons increased by 9 percent from using supplemental data; however, payments actually declined between the November 2000 final rule and the August 2001 proposed rule. The commenter provided potential explanations for the change to practice expense RVUs. The commenter suggested that the results are inconsistent with the statute that requires payments to recognize all costs and violates the Administrative Procedure Act that rulemaking cannot be arbitrary and capricious.

The commenter suggested an option that would result in a total increase in vascular surgery payments of 9 percent, consistent with the results of the supplemental survey. This option would involve identifying vascular surgery procedure codes that decreased in payment and reallocating RVUs such that aggregate payments to vascular surgeons would increase by 9 percent.

Response: While the commenter is correct in stating that the practice RVUs for several high-volume vascular surgery procedures declined in our proposed rule, it is important to note that the changes occurred independent of the use of supplemental practice expense survey data. The supplemental practice expense survey data were incorporated into the methodology in the November 1, 2000 final rule (65 FR 65385).

The changes that occurred between the November 2000 final rule and the August 2001 proposed rule were the result of the five changes to the methodology that we modeled and described in the August 2, 2001 (66 FR 40397) proposed rule. The additional reductions in practice expense payments for vascular surgery codes that concern this commenter are attributed to the changes we made to physician time. As we have stated previously, the explanation of how time affects specific codes is complex and requires extensive data analysis. We would be willing to meet with interested parties to discuss the effects of the practice expense methodology further.

The commenter suggests that we make decisions about an appropriate increase in value for specific services and reallocate RVUs consistent with these decisions. We do not believe that such a policy would be appropriate. We have established a methodology for determining practice expenses and have valued all services using that process with the exception of services that have no physician work RVUs. For these services, we have established RVUs using an alternative methodology. It is not possible to deviate from those methodologies and reallocate RVUs to achieve particular results that may be more desirable to some individuals than to others. Such decisions about “appropriateness” would become highly subjective and would, in our view, be more likely to be criticized as arbitrary and capricious.

Comment: We received comments from specialty societies representing technical component providers regarding the status of the zero-work pool. Commenters representing radiology, cardiology, echocardiography and radiation oncology centers strongly supported our position of maintaining the status of the zero-work pool until an appropriate alternative methodology can be determined. Two commenters argued that none of the direct or indirect cost information resulting from the CPEP process should be utilized to establish payment amounts for technical component services unless and until we further consider the entire methodology to be applied for technical component services. All commenters urged us to consult closely with associations representing the zero-work pool providers before making any changes in this regard. One commenter emphasized that no changes should be made without further research and discussion.

Response: We agree that the status of the zero-work pool should not be changed until an alternate approach that values technical component services appropriately can be developed. Over the next several months, we will be analyzing the options for such an alternative approach contained in the report, “The Resource-Based Practice Expense Methodology: An Analysis of Selected Topics,” prepared by our contractor, The Lewin Group. This report can be found on our web site, and we would welcome comments on these options from all interested parties. (See the Supplementary Information section of this rule for directions on accessing our web site.) We also agree with the commenters that we should consult with the affected specialties as we proceed, and we will seek to maintain an open dialogue with the medical community on this issue.

Comment: A commenter representing speech, language, and hearing professionals recommended that the zero-work pool be modified to accept the clinical staff wage increases. Seventy percent of the procedure codes used by audiologists that are covered by Medicare are in that pool and, thus, even though the proposed wage rate for audiologist has increased by 24 percent, this increase will not be reflected for those non-work services.

Response: The commenter is correct in stating that, because the CPEP data are not used as allocators in the zero-work pool, the increases in the clinical staff wage rates will not affect the payments for audiology services at this time. However, as we mentioned above, we are seeking to develop an appropriate alternative for the zero-work pool and, when such an alternative is implemented, the revised wage rates will be applied to audiology services. In addition, we allow specialties to withdraw their services from the zero-work pool if the specialty believes that their services will be more appropriately valued outside that pool.

Comment: An organization representing diagnostic imaging centers stated that, if we adopt the suggestion in the report of The Lewin Group to establish specialty-specific zero-work pools, it has already conducted a survey that establishes the costs per hour of providing diagnostic imaging technical component services. The commenter added that, regardless of the approach that we choose, the organization welcomes the opportunity to work with us with respect to any changes that may be contemplated in the zero-work pool methodology.

Response: As we have noted above in our discussion on specialty-specific supplementary surveys, all of these surveys must meet the criteria stated in our November 2000 final rule. We would be willing to review the survey to see if the data can be used to develop a specialty-specific practice expense per hour. In addition, we, too, would welcome the opportunity to work with the organization as we develop an alternative to the zero-work methodology.

e. Site-of-Service

Comments on Site-of-Service Clarification of Payment Policy

In the November 2, 1998 final rule (63 FR 58830) and the November 2, 1999 final rule (64 FR 59407), we indicated the circumstances under which either the facility or the nonfacility RVUs are used to calculate payment for a service. Specifically, we indicated that the lower facility practice expense RVUs apply when the service is performed in an Ambulatory Surgical Center (ASC) and the procedure is on the ASC-approved procedures list. The higher nonfacility practice expense RVUs apply to procedures performed in an ASC that are not on the ASC-approved list because there will be no separate facility payment for these services. As explained in the August 2001 proposed rule, we have received a number of inquiries about the place-of-service that should be used on the Medicare claim when a service that is not on the ASC-approved procedures list is furnished in an ASC. In these circumstances, we stated that physicians should indicate ASC as the place-of-service on the Medicare claim. Other questions have arisen as to whether a beneficiary can be billed for the ASC facility fee when Medicare does not pay a facility fee because a procedure not on the ASC list is performed in a certified ASC. In this situation, Medicare pays the physician the higher nonfacility practice expense RVUs because the ASC is effectively serving as a physician's office, and Medicare's payment for the physician's service includes payment for all practice expenses incurred in furnishing the service. The ASC benefit is not implicated since the services do not meet the provisions of section 1833(i) of the Act. The services are covered as physicians' services and paid under the physician fee schedule. Therefore, payment to the physician reflects payment for the whole service, and the beneficiary cannot be charged in excess of the limiting charge for the physician fee schedule service.

Comment: Two commenters indicated that conditions of participation and/or survey and certification guidelines limit physicians in an ASC to furnishing only surgical procedures on the ASC approved list of procedures. They stated that such restrictions interfere with providing medical care that is in the patient's interest. The commenters request that we revise the regulations to allow physicians to furnish surgical and other medical procedures that are not on the approved ASC list in an ASC.

Response: Because our proposal relates only to payment policy, we are finalizing it as proposed. The payment policy will apply to services furnished in an ASC that are not on the ASC-approved list to the extent that such services are permitted under the conditions of participation developed by our Office of Clinical Standards and Quality (OCSQ) and by the survey rules developed by our Center for Medicaid and State Operations (CMSO). It is our understanding that current regulations that restrict ASCs to furnishing surgical services does not limit them to surgical services on the ASC-approved list, but rather, includes all surgical services. However, questions about rules that limit services that can be furnished in an ASC are beyond the scope of this final rule.

B. Nurse Practitioners, Physician Assistants, and Clinical Nurse Specialists Performing Screening Sigmoidoscopies

Based on our review of current medical literature, we believe that nurse practitioners (NPs), clinical nurse specialists (CNSs), and physician assistants (PAs) whose services are covered under Medicare and who have been trained are qualified to perform screening sigmoidoscopies safely and accurately. Therefore, in the August 2, 2001 proposed rule, we proposed revising § 410.37(d) to provide that, in order for screening sigmoidoscopies to be covered, they must be performed by medical doctors, doctors of osteopathy, PAs, NPs, and CNSs, if they meet the applicable Medicare qualification requirements in §§ 410.74, 410.75, and 410.76, and if they are authorized to perform these services under State law.

Comment: Fifteen commenters addressed the issue of whether to allow non-physician health care professionals to perform screening flexible sigmoidoscopies for Medicare coverage and payment purposes. Four of the commenters representing national non-physician health care professional organizations and a health care consultant group enthusiastically supported the proposal. Ten commenters, all national medical associations or medical specialty groups, expressed various concerns about the proposal but agreed that it was appropriate for NPs, PAs, and CNSs to perform these services. These commenters suggested clarification and revision of the rule in a number of different areas, such as the need for physician supervision and appropriate training and experience standards, to ensure quality of care in the non-physician performance of these examinations. Two of these ten commenters that suggested the need for additional requirements were national gastroenterological physician groups which were divided in their enthusiasm for the proposal. The American Gastroenterological Association indicated that properly trained physician assistants, nurse practitioners and clinical nurse specialists are capable and qualified to perform screening flexible sigmoidoscopies. However, the Association insisted that in no case should such practitioners be permitted to do so without being directly supervised by an appropriately trained and qualified onsite physician. In addition, the Association urged that these non-physician providers should never be allowed to perform these examinations without some assurance that they have been properly educated and trained to perform them. These comments were echoed by several other physician groups. On the other hand, the American College of Gastroenterologists supported the proposal without specifically mentioning the need for physician supervision and education and experience requirements. The College emphasized that there is a great need for sigmoidoscopy screening to be performed in the Medicare age group. Moreover, they observed that there may not be sufficient numbers of physicians available to perform the procedure, posing an access problem for our beneficiaries. The College stated that, if we proceed with the proposal, non-physician practitioners should be required to provide certain specific information to beneficiaries stating who had performed the examination and its impact on available benefits in future years.

Another organization representing family physicians also noted conditions which should be met if these practitioners provide this service as proposed, but indicated that the existing Medicare regulations for these practitioners suggested that these conditions are met. For example, existing Medicare regulations require general (not onsite) rather than direct (onsite) supervision of PAs. Several other physician organizations in their recommendations also appear to support a requirement less strict than direct physician supervision.

One other commenter—a national medical association—opposed the proposal because of concerns as to whether non-physician health care professionals could respond appropriately to problems or complications that might possibly occur during the performance of the screening procedure when a physician (with a higher level of medical skills) is not present at the facility. None of the commenters who suggested revisions to the proposed rule to specify requirements for physician supervision and/or formal training and experience, or who opposed it, produced scientific evidence in support of their views.

Response: As we indicated in the proposed rule, a growing body of evidence from the medical literature has shown that certain properly trained non-physician health care professionals can carry out screening by flexible sigmoidoscopy as accurately and safely as physicians. (Scheon et al. Archives of Internal Medicine 2000) This procedure requires fewer supervised examinations to attain objective measures of technical competency than other endoscopic procedures, does not require sedation, and has a low rate of related complications. In the studies reviewed, physician and non-physician endoscopists achieved similar polyp detection rates and depth of insertion in screening performed independently. No significant complications from sigmoidoscopy were reported in any of these studies. The level of satisfaction with the procedure was similar for all practitioners.

This demonstration of the ability of non-physician practitioners to perform flexible sigmoidoscopy screening safely and accurately is a very significant development. As the American College of Gastroenterology noted in its comments, there is a physician availability and a related beneficiary access problem of concern to CMS. The Balanced Budget Act of 1997, effective January 1, 1998, expanded Medicare coverage of non-physician practitioner services to address concerns about access to services, especially in rural and other areas of the United States where there is a lack of availability of physicians for performing certain services such as screening flexible sigmoidoscopies. The law and related regulations also outline the level of supervision or medical direction for these non-physician practitioners.

Flexible sigmoidoscopy is one of the promising modalities available for decreasing mortality from colorectal cancer. The American Cancer Society estimates that more than 56,000 Americans will die of colorectal cancer this year. Studies have found that the use of screening flexible sigmoidoscopy could lead to a 30 percent reduction in total colorectal cancer mortality. (Selby et al. New England Journal of Medicine 1992.) In view of limited Medicare beneficiary access in certain areas, because screening flexible sigmoidoscopy remains an underused cancer-prevention procedure, and, in the absence of any submitted scientific literature that contradicts the underlying medical evidence supporting the proposal, we do not believe that commenters have presented us with a basis for revising the proposal as they have suggested. However, we have found that a number of commenters have offered us interesting suggestions for implementing the proposal and clarifying the agency's intent in this regard, which we explain in our response to the more specific comments summarized below.

Comment: Several commenters referenced a recent OIG report entitled “Medicare Coverage of Non-Physician Practitioner Services” (OEI-02-00-00290), which they believe makes clear that CMS does not have systems in place to ensure that non-physician practitioners who provide beneficiaries with medical services and who bill Medicare directly, are performing their services in accordance with State law. One commenter states that the report implies that it is not possible for Medicare to ensure that a State law allows non-physician practitioners to provide flexible sigmoidoscopies or that the services are provided in an integrated practice arrangement with appropriate physician supervision. For example, the commenter pointed out that 16 carrier medical directors interviewed by the OIG reported that they do not verify that non-physician practitioners are performing services within their State scope of practice, and at least 22 carriers do not check the collaborative agreement required for nurse practitioners and clinical nurse specialists. The commenter indicated that the OIG concluded that services performed and billed by non-physician practitioners create potential payment and quality of care vulnerabilities since, (1) “non-physician practitioner billings are rising rapidly, but controls, which are based on scopes of practice, are limited”, and (2) carriers “do not have sufficient guidance to distinguish which non-physician practitioner services should be reimbursed by the program and which should not.” In light of these OIG findings, the commenter urges CMS to review whether and how the agency and its carriers can ensure that the above-mentioned concerns are resolved successfully when non-physician practitioners perform screening flexible sigmoidoscopies. The commenter says that “it is vital that CMS takes steps to ensure the fulfillment of these requirements to minimize any risk of experiencing the vulnerabilities referenced in the OIG report with respect to quality and payment issues.”

Response: We agree with OIG's conclusion identifying program vulnerabilities when non-physician practitioners bill Medicare directly for their services. We also respect beneficiaries' choices and their need for access to medical services. While appreciative of OIG's suggestion that it may be appropriate to consider additional controls for Medicare payments to non-physician practitioners, we are sensitive to issues that might arise from different treatment of different classes of practitioners. As appropriate, we will monitor non-physician practitioner services for both overall trends and for complex services.

Medicare currently defers to State licensing boards for regulating and enforcing scope of practice laws. Before issuing a Medicare billing number to a nurse practitioner or a nurse clinical specialist, contractors first determine whether the applicant has a valid license within the State. If a licensing board subsequently acts to suspend a practitioner's license to practice, then Medicare suspends payments under the practitioner's Medicare billing number. This practice is the same for physician and non-physician practitioners.

To protect the integrity of the Medicare program, all claims submitted are subject to data analysis that may lead to a focused or a random review by a Medicare contractor. If Medicare is to begin monitoring practitioners for compliance with State laws and regulations, the program will have to develop additional regulations and policies and impose additional workloads on contractors and perhaps for all practitioners as well. In deciding whether such a process is necessary and appropriate, we will carefully consider these comments in this regard.

Comment: One commenter asked CMS, in implementing the proposal, to ensure that non-physician practitioners are required to tender a standard notification to Medicare beneficiaries providing them with a clear statement that the screening flexible sigmoidoscopy is being furnished by a non-physician practitioner. In addition, the commenter suggests that the beneficiary be notified that under the new colorectal cancer screening benefit, effective July 1, 2001, any average-risk individual receiving a covered screening flexible sigmoidoscopy will be precluded by law from receiving Medicare payment for a screening colonoscopy (which under Medicare regulations (§ 410.37(f) must be furnished by a physician)) for four years.

Response: We believe that our Medicare beneficiaries generally are knowledgeable about the identity of the Medicare practitioner that is furnishing them with a flexible sigmoidoscopy screening examination. Accordingly, we believe that there is no need for non-physician practitioners to provide beneficiaries with any formal notification statement in this regard. As for the suggestion that a non-physician practitioner should notify an average-risk beneficiary that providing him/her with a screening flexible sigmoidoscopy will preclude Medicare from paying for a screening colonoscopy (which must be performed by a physician) for four years, we believe that all Medicare practitioners should help to inform beneficiaries with respect to this limitation. However, we do not believe that any practitioner should be required to formally notify beneficiaries to this effect. While we believe that our Medicare contractors, and all our practitioners have an important role to play in educating our beneficiaries about the various conditions of coverage and payment limitations that apply to different colorectal cancer screening options that are available to them, we will not use these regulations as a mechanism for implementing the requested educational efforts.

Comment: One commenter suggested that we allow registered nurses to perform these as well, as a delegated act, under a physician's direction with the physician billing Medicare for the procedure.

Response: The regulation proposal to allow nurse practitioners, physician assistants, and clinical nurse specialists to perform screening flexible sigmoidoscopies for Medicare purposes was designed to increase beneficiary access to these screening services, especially in rural and other areas where there is a shortage or a lack of availability of physicians who are trained and qualified to perform these examinations. These non-physician practitioners are typically licensed independent practitioners who are recognized under the Medicare law and regulations for coverage and payment purposes. Under Medicare, these non-physician practitioners may be paid under the physician fee schedule for their tests (and treatments) that would be physicians' services if furnished by a physician when they are authorized by the State to perform such services. Registered nurses are not licensed independent practitioners who are recognized under Medicare law for coverage and payment purposes.

Comment: One commenter suggested that we should monitor beneficiary health outcomes that result from the performance of sigmoidoscopy examinations by non-physician practitioners to ensure that they are done safely and accurately.

Response: We had not planned to monitor beneficiary outcomes that might be related to implementation of the proposal to allow non-physician practitioners to perform flexible sigmoidoscopy screening because of the available evidence that they can provide these services safely and effectively. If we were to consider doing this, however, we would probably want to consider doing a comparative study of health outcomes of beneficiaries who have been screened by both physician and non-physician practitioners who have performed these examinations.

Such a study would mean that a number of physician and non-physician practitioners would have to collect and report data to us on their Medicare patients for a certain period of time, which could be burdensome for them. We may be interested in doing a study in this area in the future if we had any credible evidence of a serious problem in this area, but, at this time, we do not believe a study is necessary.

Result of Evaluation of Comments

We are adopting our proposal to allow certain non-physician practitioners to perform screening flexible sigmoidoscopies.

C. Services and Supplies Incident to a Physician's Professional Services: Conditions

Section 1861(s)(2)(A) of the Act authorizes coverage of services and supplies (including drugs and biologicals that are not usually self-administered by the patient) furnished incident to a physician's service. These drugs and biologicals are commonly furnished in physicians' offices without charge or included in the physicians' bills. This statutory “incident to” benefit differs from the “incident to” benefit in the hospital setting as set forth in section 1861(s)(2)(B) of the Act, which authorizes coverage of hospital services (including drugs and biologicals which are not usually self-administered by the patient) incident to a physician's service furnished to outpatients and partial hospitalization services furnished to outpatients incident to a physician's service. This provision only addresses coverage of “incident to” services under section 1861(s)(2)(A) of the Act. In addition, the statute provides Medicare coverage of services incident to practitioners other than physicians.

The Medicare Carriers Manual currently requires that the physician (or other practitioner) be either the employer of the auxiliary personnel or be an employee of the same entity that employs the auxiliary personnel. In the August 2, 2001 rule, we proposed to revise § 410.26 to codify our existing policy outlined in section 2050 of the manual. Specifically, we proposed to codify the definitions of auxiliary personnel, direct supervision, independent contractor, leased employment, non-institutional setting, practitioner, and services and supplies for purposes of services provided incident to a physician's service.

In addition, we proposed to allow auxiliary personnel to provide services incident to the services of physicians (or other practitioners) who supervise them, regardless of the employment relationship of the physician (or other practitioner) to the entity that employed the auxiliary personnel.

All commenters supported the proposal. Their specific comments are addressed below.

Comment: Commenters noted three errors in the proposed text of the regulation. First, in the definition of auxiliary personnel set forth in § 410.26(a)(1), after the phrase “under the supervision of a physician,” the term “(or other practitioner)” was omitted. Second, in the definition of services and supplies set forth in § 410.26(a)(7), the phrase “(including drugs and biologicals that, as determined in accordance with regulations, cannot be self-administered)” should be changed to “(including drugs and biologicals which are not usually self-administered by the patient)” in accordance with section 112 of the BIPA, which amended sections 1861(s)(2)(A) and (B) of the Act. Third, in the supervision requirement set forth in § 410.26(b)(5), the word “direct” was omitted.

Response: We agree with these comments, and we have corrected these errors.

Comment: One commenter requested that independent contractor physicians also be recognized as employees under the reassignment policy set forth in section 3060 of the Medicare Carrier Manual.

Response: As stated in the August 2, 2001 rule, this proposal only applies to the incident to policy. Furthermore, we are not defining or re-defining the term employment. Instead, we proposed to permit physicians (or other practitioners) to directly supervise auxiliary personnel regardless of the employment relationship of the physicians (or other practitioners) with the entity that hired the auxiliary personnel. In order to bill and receive payment from Medicare under this policy, all other applicable requirements must also be met. For example, the service must be medically reasonable and necessary, and appropriate reassignment must be executed.

Comment: One commenter suggested using in § 410.26(b) all of the terms defined in § 410.26(a) or deleting the terms not used in § 410.26(b).

Response: We found one term—leased employment—that was not used in § 410.26(b). However, we will not eliminate this term because it is used to define the term auxiliary personnel.

Comment: Several commenters requested that we clarify and distinguish between the physician (or other practitioner) ordering the incident to service and the physician (or other practitioner) supervising the auxiliary personnel who perform the incident to service. They stated that confusion exists as to whose Medicare Part B billing number should be used on the claim form.

Response: Inherent in the definition of an incident to service is the requirement that the incident to service be furnished incident to a professional service of a physician (or other practitioner). When a claim is submitted to Medicare under the billing number of a physician (or other practitioner) for an incident to service, the physician is stating that he or she either performed the service or directly supervised the auxiliary personnel performing the service. Accordingly, the Medicare billing number of the ordering physician (or other practitioner) should not be used if that person did not directly supervise the auxiliary personnel. We added language to the supervision requirement set forth in § 410.26(b)(5) to reflect this clarification.

Comment: One commenter pointed out that the claim form currently requires the physician (or other practitioner) to certify that he or she personally supervised the employee. Therefore, the commenter requested that we update the claim form to reflect the proposed regulations.

Response: We plan to update not only the claim form but also section 2050 of the Medicare Carriers Manual to reflect the new regulations.

Comment: A few commenters noted that the individual does not always receive an IRS-1099 form under an independent contractor arrangement. Instead, when a clinic, for example, contracts with an entity that has hired individuals to be furnished to the clinic, then the entity (and not the individual) receives the IRS-1099 form.

Response: We agree with these commenters. Therefore, we have added language to the definition of an independent contractor set forth in § 410.26(a)(3) to reflect this practice. However, we again emphasize that the applicable reassignment rules must also be met and that this incident to policy does not in any way alter the current requirements for valid reassignment.

Comment: One commenter encouraged us to specify in the regulations the acceptability of forms (other than the IRS W-2 form) that the Internal Revenue Service recognizes as proof of employment, such as the Payroll Agent arrangement where IRS forms 2678 and 1997C are used instead.

Response: Under our proposal, the employment relationship is irrelevant to whether a physician (or other practitioner) can effectively furnish direct supervision of the auxiliary staff. Therefore, we decline to include language that may define or re-define the term employment.

Comment: One commenter suggested that we also include Ambulatory Surgical Centers (ASCs) and Community Mental Health Clinics (CMHCs) in the definition of a non-institutional setting because Medicare Part B payments for services provided in these settings are paid through the facility relative value units (RVUs) rather than the non-facility RVUs.

Response: The definition of a non-institutional setting is not derived from the definition of a facility used to determine the site of service and the application of the facility or non-facility RVUs. Because section 1861(s)(2)(B) of the Act authorizes payment for hospital incident to services, section 1861(s)(2)(A) of the Act cannot authorize payment for hospital incident to services. This provision is reiterated in § 411.15(m)(2). Similarly, § 411.15(p)(2)(ii) specifically excludes payment for incident to services in skilled nursing facilities (SNFs). Consequently, we defined non-institutional settings as all settings except hospitals and SNFs, and we do not plan to define ASCs and CMHCs as institutional settings.

Comment: Many commenters wanted us to restrict the definition of auxiliary personnel so that only certain individuals may perform a given incident to service. For example, they want us to mandate that only audiologists may perform cochlear implant rehabilitation services as incident to services. Likewise, they want us to permit only physical or occupational therapists to perform physical or occupational therapy as incident to services. In support, they noted that section 4541(b) of the BBA amended section 1862(a)(20) of the Act and required that physical or occupational therapy furnished as an incident to service meet the same requirements outlined in the physical or occupational therapy benefit set forth in sections 1861(g) and (p) of the Act.

Response: We have not further clarified who may serve as auxiliary personnel for a particular incident to service because the scope of practice of the auxiliary personnel and the supervising physician (or other practitioner) is determined by State law. We deliberately used the term any individual so that the physician (or other practitioner), under his or her discretion and license, may use the service of anyone ranging from another physician to a medical assistant. In addition, it is impossible to exhaustively list all incident to services and those specific auxiliary personnel who may perform each service.

Comment: Many commenters wanted us to re-emphasize that incident to services set forth in section 1861(s)(2)(A) of the Act do not include Medicare benefits separately and independently listed in the Act, such as diagnostic services set forth in section 1861(s)(3). Some even requested that we not permit these separately and independently listed services to be rendered as incident to services.

Response: We realize, as did the Congress with the enactment of section 4541(b) of the BBA, that many services—even those that are separately and independently listed—can be furnished as incident to services. However, this fact of medical practice is not inconsistent with our policy. We maintain that a separately and independently listed service can be furnished as an incident to service but is not required to be furnished as an incident to service. Furthermore, even if a separately and independently listed service is provided as an incident to service, the specific requirements of that separately and independently listed service must be met. For instance, a diagnostic test under section 1861(s)(3) may be furnished as an incident to service. Nevertheless, it must also meet the requirements of the diagnostic test benefit set forth in § 410.32. Namely, the test must be ordered by the treating practitioner, and it must be supervised by a physician. Thus, if a test requires a higher level of physician supervision than direct supervision, then that higher level of supervision must exist even if the test is furnished as an incident to service. Accordingly, we decline to prohibit a separately and independently listed service from being rendered as an incident to service. Instead, we reiterate that a separately and independently listed service need not meet the requirements of an incident to service.

Comment: Recognizing that this proposal affords flexibility in the way physicians (or other practitioners) are hired by an office or clinic, one commenter requested that non-physician practitioners be permitted to stand as locum tenens (taking the place of) for other non-physician practitioners as well.

Response: This proposed rule does not alter in any way the current locum tenens policy.

Result of Evaluation of Comments

We are finalizing our proposed revisions to § 410.26 with the corrections noted above.

D. Anesthesia Services

We generally use the 1988 American Society of Anesthesiologists' (ASA) Relative Value Guide as the basis for the uniform relative value guide. This guide is used in all carrier localities to determine payment for anesthesia services furnished by physicians under Medicare Part B. We proposed using the ASA base unit values from the 1999 guide beginning in CY 2002 for eight codes with ASA base unit values that were different from CMS's values (specifically, CPT codes 00810; 00902; 01150; 01214; 01432; 01440; 01770; and 01921). These are older codes and, while we accepted the ASA base unit value initially, the ASA has changed this base unit subsequently and no additional adjustment was made by us to the base unit. For CPT codes 00142 and 00147, we proposed maintaining the current base unit values although they differed from the ASA values because values for these two codes were established under the “inherent reasonableness” process in 1987.

Comment: The ASA identified additional CPT codes 00548, 00700, 00800, and 01916 with different base unit values in the most current ASA guide from our base unit values.

Response: We are accepting the ASA's comments subject to the following clarification. In all, 12 codes were presented where the ASA base unit differs from our base unit. Of these, code 01921, which appeared on the list in the August 2, 2001 proposed rule, will be deleted in 2002. Since this code has been deleted and will no longer be used, we will not assign base units to it and, as a result, only 11 codes will be considered.

These additional four codes were added to CPT before CY 2000. New and revised codes starting in CY 2000 and for subsequent years are evaluated on a code-specific basis under our usual process after we receive recommendations from the RUC. Thus, because we review the RUC recommendations and may make changes based on them, there could be differences between the ASA guide and our base unit values beginning in 2000. If the RUC or other commenters recommend and we agree to a base unit different from what ASA recommends, we will use that value and not the ASA value, even though it may be published in the ASA's guide.

Result of Evaluation of Comments

The complete list of 11 CPT codes for which we will assign the ASA base unit values instead of the current CMS base unit values are as follows:

Code | CMS | ASA
00548 | 15 | 17
00700 | 3 | 4
00800 | 3 | 4
00810 | 6 | 5
00902 | 4 | 5
01150 | 8 | 10
01214 | 10 | 8
01432 | 5 | 6
01440 | 5 | 8
01770 | 8 | 6
01916 | 5 | 6

A related issue is the treatment of base unit values for new codes for 2002 as discussed in section V. The RUC reviewed the work values for 19 new anesthesia codes for 2002. We agree with the RUC on 17 of these codes but recommend lower values for 2 codes. The RUC recommended 9 units for CPT code 00797 (anesthesia for gastric restrictive procedure for morbid obesity) and we proposed 8 units. The RUC recommended 3 units for CPT code 01968 (cesarean delivery following neuraxial labor analgesia/anesthesia—list separately in addition to the code for primary procedure), and we proposed 2 units. (See section V for additional information on the valuing of these new anesthesia services.)

Result of Evaluation of Comments

We are implementing the base units for the 11 existing codes where there are differences between the ASA's guide and our base units and for which we received comments. In addition, we are implementing the base units which the RUC recommended for 17 new codes and the base units which we recommended and which are lower than the RUC's recommendation for 2 new codes.

E. Performance Measurement and Emerging Technology Codes

In the August 2, 2001 proposed rule (66 FR 40383) we included a discussion of the two new categories of CPT codes: Performance Measure codes, referred to as Category II CPT codes, which are intended to facilitate data collection; and, Emerging Technology codes, referred to as Category III CPT codes, which are intended to track new and emerging technologies.

For the Performance Measure codes, which have a syntax of four digits followed by the letter “F,” we stated that no values would be placed on the Performance Measure codes and no additional payment would be made for the use of these codes. Practitioners would, however, be able to report them on their Medicare bills to enable us to track these services.

For the Emerging Technology Codes, which have a syntax of four digits followed by the letter “T,” we stated that we would pay, on a case-by-case basis in specific situations, when we determine that the codes represent services that are not, in fact, experimental, but have been shown to be safe and effective. If the coverage policy is not consistent with the existing tracking codes, a Medicare-specific code may need to be developed to allow payment for the service. Thus, only specific emerging technology codes would be recognized for Medicare payment.

Comment: Commenters expressed appreciation for our recognition of these new categories of CPT codes. However, one commenter believed that we should refrain from categorically denying payment for category III (emerging technology) CPT codes, because these CPT codes may sometimes warrant payment. Another commenter believed that we were proposing not to pay for these codes at all. The commenter recommended that we clarify in the final rule that carriers may determine if payment should be made for a particular emerging technology code.

Response: We believe that these codes will serve a useful purpose. We regret that some commenters believed that the discussion in the proposed rule implied that these services should not be covered. We only intended to indicate that by publishing these codes we are not indicating that we would pay for these services in all instances. As the commenter indicates, coverage of emerging technologies and payment for these services is at the discretion of the carriers. We also want to clarify that our carriers will be able to incorporate these codes only after they are entered into our system during our regularly scheduled updates and not as soon as the AMA posts them on the CPT web site.

Result of Evaluation of Comments

We would like to clarify the intent of our proposal regarding emerging technology CPT codes. The emerging technology CPT codes will be published in the physician fee schedule with a status indicator of “C” to indicate that coverage and payment of these services is at the discretion of the carrier. The only exceptions will be for those emerging technology CPT codes that describe services for which Medicare has issued an NCD. In these situations, coverage will be based on the NCD, and we may establish national payment or may leave payment to the discretion of the carriers. It is also possible that an NCD or an established payment policy may foreclose coverage and/or payment for an emerging technology CPT code. In summary, we will finalize our proposal to allow both the CPT Performance Measure Codes (that is, codes with four digits followed by the letter “F”) and Emerging Technology Codes (that is, codes with four digits followed by the letter “T”) to be listed on Medicare bills and provide payment for the emerging technology codes as determined by the carrier.

F. Payment Policy for CPT Modifier 62 (Co-Surgery)

The CPT modifier code 62 is used to report the work of co-surgeons. Currently, if we pay for co-surgery, we pay a total of 125 percent of the fee schedule amount to the co-surgeons who each receive half of this total payment. In the August 2, 2001 proposed rule (66 FR 40383), we stated that we would be examining our payment policies for co-surgery to consider possible ways to ensure that they reflect current clinical practices and properly reflect the relative resources and work effort required to perform these services. We outlined several issues under consideration and specifically solicited information to assist us in deciding whether to make a future proposal affecting payments for co-surgery.

Result of Evaluation of Comments

Commenters responded to the specific questions in the proposed rule. Many commenters believe that the current payment policy is reasonable and that the focus should be on education efforts to ensure the appropriate use of the modifier. We will review carefully the information the commenters have provided. If we determine that we need to proceed with a change in payment policy for co-surgery, the change would be proposed as part of future rulemaking.

III. Implementation of Medicare, Medicaid, and SCHIP Benefits Improvement and Protection Act of 2000

The Medicare, Medicaid, and SCHIP Benefits Improvement and Protection Act of 2000 (BIPA) (Public Law 106-554), enacted on December 21, 2000, provides for revisions to policies applicable to the physician fee schedule. These revisions are presented below.

A. Screening Mammography

Medicare has paid for screening mammography since January 1, 1991. Section 1834(c) of the Act governing these screenings did not include screening mammography under the physician fee schedule; it provided for payment under a separate statutory methodology. Section 104 of BIPA amends section 1848(j)(3) of the Act to include screening mammography as a physician's service for which payment is made under the physician fee schedule beginning January 1, 2002. In the August 2001 proposed rule, we proposed amending §§ 405.534 and 405.535 to reflect the inclusion of screening mammography as a physician's service which will be payable under the physician fee schedule. In addition, we proposed amending § 414.2 to include screening mammography under the definition for physicians' services. In accordance with part 414, payments for screening mammography will be resource-based and will have geographic adjustments that reflect cost differences among areas as do all other services under the physician fee schedule, including diagnostic mammography.

The following is a summary of the RVUs proposed for the professional and technical components (PC and TC) of a screening mammography, CPT code 76092, under the physician fee schedule.

Professional Component

A screening mammography service typically requires the same number of views as a unilateral diagnostic mammography. Therefore, for screening mammography, we proposed a physician work RVU of 0.70 based on the physician work established for a unilateral diagnostic mammography. This value is equal to the proposed work RVUs from the 5-year review of physician work for CPT code 76090, unilateral diagnostic mammogram (see June 8, 2001 proposed notice, “Five-Year Review of Work Relative Value Units Under the Physician Fee Schedule”). Since we believe that the practice expense and malpractice expense for the professional component of screening mammography is similar to the professional component of unilateral diagnostic mammography, we proposed establishing 0.25 practice expense RVUs and 0.03 malpractice RVUs for the PC of screening mammography.

Technical Component

We proposed valuing the technical component of screening mammography using a methodology that updates the original statutory limit for the technical component of screening mammography of $37.40, by the cumulative increase in physician fee schedule rates between 1992 and 2001 (see the August 2, 2001 proposed rule (66 FR 40384) for specific information on methodology). This resulted in proposed practice expense and malpractice RVUs for the technical component of screening mammography of 1.27 and 0.06, respectively.

Overall, the total proposed RVUs associated with the combined PC and TC of CPT code 76092 were 2.31 (0.70 work RVUs, 1.52 practice expense RVUs, and 0.09 malpractice expense RVUs).

New Technology Mammography

The BIPA also required us to determine whether the assignment of new HCPCS codes is appropriate for both screening and diagnostic mammography performed using new digital technologies.

We determined that new HCPCS codes are appropriate for the new digital technology mammography beginning January 1, 2002. We proposed three separate codes for directly taking a digital image (one for screening and one each for unilateral and bilateral diagnostic). We also proposed a single add-on code for computer-aided diagnosis with conversion of standard film images to digital images, since, at the time of the development of the proposed rule, the FDA approved computer-aided diagnosis only for screening mammography. Following is a summary of our proposed coding and payment methodologies for digital mammography.

Screening Mammography, Direct Digital Image (Gxxx1)

We proposed HCPCS code Gxxx1 to report screening mammography performed using direct digital images as opposed to mammography that is performed using the standard film images associated with CPT code 76092, or conversion of a standard film image to a digital image. For the PC of HCPCS code Gxxx1, we proposed 0.70 work RVUs, 0.28 practice expense RVUs, and 0.03 malpractice expense RVUs. For the TC of HCPCS code Gxxx1, for which there is no physician work associated, we proposed 2.50 practice expense RVUs and 0.06 malpractice RVUs.

Diagnostic Mammography, Unilateral, Direct Digital Image (Gxxx2)

We proposed HCPCS code Gxxx2 to report unilateral diagnostic mammography performed using direct digital images as opposed to mammography performed using the standard film images associated with CPT code 76090, or conversion of a standard film image to a digital image.

For the professional component of HCPCS code Gxxx2, we proposed 0.70 work RVUs, 0.28 practice expense RVUs, and 0.03 malpractice expense RVUs. For the TC of HCPCS code Gxxx2, with which there is no physician work associated, we proposed 1.99 practice expense RVUs and 0.05 malpractice expense RVUs.

Diagnostic Mammography, Bilateral, Direct Digital Image (Gxxx3)

We proposed HCPCS code Gxxx3 to report bilateral diagnostic mammography that is performed using direct digital images as opposed to mammography performed using the standard film images associated with CPT code 76091, or conversion of a standard film image to a digital image.

For the PC of HCPCS code Gxxx3, we proposed 0.87 work RVUs, 0.34 practice expense RVUs, and 0.03 malpractice expense RVUs. For the TC of HCPCS code Gxxx3, with which there is no physician work associated, we proposed 2.47 practice expense RVUs and 0.06 malpractice expense RVUs.

Computer-Aided Detection, With Either Direct Digital Image or Conversion of Standard Film Images to Digital Images (HCPCS Code Gxxx4)

We proposed HCPCS code Gxxx4 to report conversion of standard film images to digital images when used in conjunction with computer-aided diagnosis software. This code was proposed as an add-on code that can be billed only in conjunction with the primary service, CPT code 76092, based on our understanding that the only FDA-approved use of the computer-aided diagnosis mammography software is with screening film images. If there are other FDA-approved uses of computer-aided diagnosis, we stated we would allow for use of Gxxx4 as an add-on to other mammography services.

For the PC of code Gxxx4, we proposed 0.06 work RVUs, 0.02 practice expense RVUs, and 0.01 malpractice expense RVUs. For the TC of HCPCS code Gxxx4, with which there is no physician work associated, we proposed 0.41 practice expense RVUs and 0.01 malpractice expense RVUs.

Since publication of the proposed rule, the FDA has also approved the use of computer-aided diagnosis with diagnostic mammography.

Comment: The majority of comments received from manufacturers, specialty organizations, individuals, and representatives of the Congress were supportive of our proposed payment of mammography services beginning January 1, 2002. The general consensus from commenters was that the proposed 21 and 26 percent increase, respectively, in payments for unilateral and bilateral diagnostic mammography, as a result of the 5-year review of work (see section IV), the new resource-based payment for screening mammography, the new resource-based payments for both digital screening and digital diagnostic mammography, and the payments for computer-aided diagnosis reflect the relative resources associated with each individual service.

However, two commenters still believe that the 21 percent and 26 percent increase in payments for unilateral and bilateral diagnostic mammography, respectively, was still inadequate to cover the costs of these services.

Response: In agreement with the majority of comments received, we continue to believe that our proposed relative values are an accurate reflection of the resources associated with the provision of these services.

Comment: We received comments that suggested that Medicare payment is inadequate to cover the cost of screening mammography. One commenter stated that, due to the Federally-mandated Mammography Quality Standards Act (MQSA) requirements intrinsic to mammography (both screening and diagnostic), it is difficult to use the current methodology to account for all practice expenses. This commenter did indicate support for our proposal to develop practice expense RVUs for screening mammography using a comparison to unilateral diagnostic mammography.

Response: We are currently using the “no work” methodology to price the technical component of diagnostic mammography and a special method for the technical component of screening mammography. We believe that most costs associated with mammography services are likely to be associated with the technical component. At this time, we plan to continue using these methods to establish the practice expense relative value units for the technical component of mammography services. However, if we propose a change to the methodology for no-work services in the future, we agree that it is important to consider whether MQSA costs are incorporated in the data sources we are using to develop RVUs.

Comment: We received two comments that suggested Medicare should not pay for screening mammography using the physician fee schedule until payment is set at an appropriate level so as not to require reduction in payments for other services. The commenters were concerned about the reduction in payment for other services that would result from the increase in payment for screening mammography using the methodology we proposed. These commenters acknowledged that the statute requires us to pay for screening mammography using the physician fee schedule. One commenter appreciated the significant effort that CMS put forth to comply with the mandate.

Response: As indicated by the comments, section 104(a) of the BIPA requires us to pay for screening mammography using the Medicare physician fee schedule beginning January 1, 2002. We estimate that payment in 2002 for screening mammography under the statutory methodology would have been about $71, which is less than the $81 that Medicare will pay under the physician fee schedule. Since screening mammography is paid under the physician fee schedule, the increase in payment will be subject to the budget neutrality calculations under section 1848(c) of the Act. The increase in payment, although large, will have little effect on payment for other physician fee schedule services. The required adjustment to other physician fee schedule payments is less than −0.1 percent.

Comment: We received comments about coding for new technology screening mammograms. These comments indicated support for our proposed coding but noted that two developments have since occurred that we could not have taken into account in our proposed rule. First, CPT created a new code for computer-aided detection (CAD) as an add-on for screening mammography. Second, the Food and Drug Administration approved use of CAD for diagnostic mammography. The commenters requested that we use the CPT code for CAD as an add-on to screening mammography and create a slightly modified HCPCS alphanumeric code as an add-on for diagnostic mammography. The modification would specify that the alphanumeric code is to be used as an add-on for diagnostic mammography. Commenters also suggested that we accommodate potential future FDA approved uses of CAD as an add-on to digital mammography through necessary coding and payment changes as soon as possible without having to await the next rulemaking cycle.

Response: We agree with the comments about coding of CAD. Medicare will recognize CPT code 76085 for CAD as an add-on to screening mammography and procedure code G0236 as an add-on to diagnostic mammography. The code descriptors make clear that the CPT code is for use as an add-on to screening mammography and the alphanumeric code is an add-on to diagnostic mammography. Payment for the revised codes follows the proposed rule approach for physician work, practice expense and malpractice for all mammography services. There may be slight changes to the RVUs for practice expenses as a result of updated information included in this final rule that affect all physician fee schedule services.

In response to the comment about potential future FDA approved uses of CAD as add-on to digital mammography, it is possible that additional coding changes will be necessary or that editorial revisions to existing codes will allow for CAD to be paid as an add-on for digital mammography. We would like to coordinate our efforts with those of the CPT to minimize the need for alphanumeric codes and additional CPT codes.

Comment: One commenter expressed concern about the payment associated with the Outpatient Prospective Payment System for all forms of mammography.

Response: Any issues related to the Outpatient Prospective Payment System are outside the scope of this regulation and will be addressed by a separate regulation.

Comment: One commenter asked for clarification on Federally Qualified Health Centers (FQHC) reimbursement for screening mammography and other new services.

Response: Any issues related to FQHC reimbursement are outside the scope of this regulation.

Comment: One commenter expressed concern that CMS did not work more closely with the CPT codes in the establishment of coding for digital mammography.

Response: Whenever possible, CMS works with the American Medical Association's CPT Editorial Panel to establish coding for new technologies. The AMA CPT Editorial Panel has not established codes for digital mammography; therefore, CMS proactively established temporary G-codes for the digital mammography and computer-aided detection for diagnostic mammograms.

Comment: One commenter indicated that the malpractice expense for screening mammography should be higher than the unilateral diagnostic value of 0.03 since most mammography malpractice claims arise from allegations of cancers not detected or inappropriate follow-up of screening mammograms, not diagnostic studies. In addition, the screening mammography malpractice apportionment should be reversed for the PC and TC portions as the malpractice expense and risk is primarily with the interpreter of the screening mammogram, not the facility producing the technical component.

Response: We will consider the malpractice RVUs for these services interim for 2002 and will examine this issue with respect to the methodology used to establish malpractice RVUs.

Result of Evaluation of Comments

We will finalize our proposed relative values, because we believe they are an accurate reflection of the cost associated with the provision of these services. Additionally, we will also establish a temporary G-code (G0236) for the recent FDA approval of computer-aided detection used in conjunction with diagnostic mammography.

Table 3.—2002 Mammography Payments
CPT ¹ HCPCS | MOD | Descriptor | Work RVU | Practice Expense RVU | Malpractice RVU | Total
76090 |  | Mammogram, one breast | 0.70 | 1.25 | 0.08 | 2.03
76090 | 26 | Mammogram, one breast | 0.70 | 0.25 | 0.03 | 0.98
76090 | TC | Mammogram, one breast | 0.00 | 1.00 | 0.05 | 1.05
76091 |  | Mammogram, both breast | 0.87 | 1.54 | 0.09 | 2.50
76091 | 26 | Mammogram, both breast | 0.87 | 0.30 | 0.03 | 1.20
76091 | TC | Mammogram, both breast | 0.00 | 1.24 | 0.06 | 1.30
76092 |  | Mammogram, screening | 0.70 | 1.44 | 0.09 | 2.23
76092 | 26 | Mammogram, screening | 0.70 | 0.25 | 0.03 | 0.98
76092 | TC | Mammogram, screening | 0.00 | 1.19 | 0.06 | 1.25
G0202 |  | Mammogram, screen, dir dig | 0.70 | 2.52 | 0.09 | 3.31
G0202 | 26 | Mammogram, screen, dir dig | 0.70 | 0.30 | 0.03 | 1.03
G0202 | TC | Mammogram, screen, dir dig | 0.00 | 2.42 | 0.06 | 2.48
G0204 |  | Diag mammo, bilat, dir dig | 0.87 | 2.73 | 0.09 | 3.69
G0204 | 26 | Diag mammo, bilat, dir dig | 0.87 | 0.35 | 0.03 | 1.25
G0204 | TC | Diag mammo, bilat, dir dig | 0.00 | 2.38 | 0.06 | 2.44
G0206 |  | Diag mammo, unilat, dir dig | 0.70 | 2.20 | 0.08 | 2.98
G0206 | 26 | Diag mammo, unilat, dir dig | 0.70 | 0.28 | 0.03 | 1.01
G0206 | TC | Diag mammo, unilat, dir dig | 0.00 | 1.92 | 0.05 | 1.97
G0236 |  | Computer aided detect, diag | 0.06 | 0.31 | 0.02 | 0.39
G0236 | 26 | Computer aided detect, diag | 0.06 | 0.02 | 0.01 | 0.09
G0236 | TC | Computer aided detect, diag | 0.00 | 0.29 | 0.01 | 0.30
76085 |  | Computer aided detection | 0.06 | 0.31 | 0.02 | 0.39
76085 | 26 | Computer aided detection | 0.06 | 0.02 | 0.01 | 0.09
76085 | TC | Computer aided detection | 0.00 | 0.29 | 0.01 | 0.30
¹ CPT codes and descriptions only are copyright 2002 American Medical Association. All Rights Reserved. Applicable FARS/DFARS Apply.

B. Screening Pelvic Examinations

Section 101 of the BIPA amends section 1861(nn)(2) of the Act (effective July 1, 2001) to provide that a woman who does not qualify for annual coverage of a screening pelvic examination under one of the statutory exceptions, qualifies for coverage of a screening pelvic examination (including a clinical breast examination) once every 2 years rather than once every 3 years.

In the August 2, 2001 proposed rule, we made conforming changes to § 410.56 (Screening Pelvic Examinations) of the regulations to reflect this statutory provision that has been implemented through sections 4603, 3628.1 and 4731 of the Medicare Carrier Manual, the Medicare Intermediary Manual, and the Medicare Hospital Manual, respectively.We received only one specific comment on the new screening pelvic examination proposal. That comment supported our proposed rule and recognized that the regulations are consistent with the Medicare law.

Result of Evaluation of Comments

We are adopting our proposal to conform the regulations to the law to provide coverage for biennial screening pelvic examination for women not at high risk for cervical or vaginal cancer, effective July 1, 2001.

C. Screening for Glaucoma

Section 102 of the BIPA provides for Medicare coverage under Part B for screening for glaucoma for individuals with diabetes, a family history of glaucoma, or others determined to be at “high risk” for glaucoma effective for services furnished on or after January 1, 2002. The statute provides for coverage of glaucoma screening, including (1) a dilated eye examination with an intraocular pressure measurement, and (2) a direct ophthalmoscopy or a slit-lamp biomicroscopic examination, subject to certain frequency and other limitations.

In the August 2, 2001 rule, we proposed a new § 410.23 (Screening for Glaucoma: Conditions for and Limitations on Coverage), to provide for coverage of the various types of glaucoma screening examinations specified in the statute. As provided in the statute, this new coverage allows payment for one glaucoma screening examination every year. To implement the statutory provisions, we proposed definitions for the following terms—screening for glaucoma, eligible beneficiaries, and direct supervision.

In keeping with the language of section 102(b) of the BIPA we proposed defining the term “screening for glaucoma” to mean a dilated eye examination with an intraocular pressure measurement and a direct ophthalmoscopy or a slit-lamp biomicroscopic examination for the early detection of glaucoma. This section also provides that the screening examinations that are to be covered under Medicare are to be furnished by or under the direct supervision of an optometrist or ophthalmologist who is legally authorized to furnish these services under State law (or the State regulatory mechanism provided by State law) of the State in which the services are furnished. These are services that would otherwise be covered if furnished by a physician or as incident to a physician's professional service. We also proposed incorporating this language in § 410.23.

We used the term “eligible beneficiaries” to indicate who may qualify for the new screening glaucoma benefit, and we proposed defining that term to include—individuals with diabetes mellitus, individuals with a family history of glaucoma, and African-Americans age 50 and over. As explained in the August 2 proposed rule, based on our review of the medical literature, and consultation with staff of the National Eye Institute and representatives of the American Academy of Ophthalmology and the American Optometric Association, we interpreted the statutory language, “individuals determined to be at high risk for glaucoma” to include Medicare beneficiaries who are African-Americans age 50 and over.

We felt that the medical evidence available at this time was only sufficient to support inclusion of African-Americans age 50 and over in the statutory “high risk” category, in addition to individuals with diabetes and those with a family history of glaucoma who are covered separately under the new screening benefit. However, we specifically solicited public comment on the appropriateness of including other individuals in the statutory definition of “high risk” for glaucoma, with supporting documentation from medical literature.

Section 102(b) of the BIPA provides that the glaucoma screening examination is to be furnished by or under the direct supervision of an ophthalmologist or optometrist who is legally authorized to furnish such services under State law or regulation in which the services are furnished. We proposed defining the term “direct supervision” as that term is defined in § 410.32(b)(3)(ii) for purposes of the oversight of covered diagnostic laboratory services as they are performed in the office setting. Specifically, for purposes of screening glaucoma we proposed defining the term “direct supervision” to mean that the ophthalmologist or optometrist must be present in the office suite and immediately available to furnish assistance and direction throughout the performance of the procedure. The definition states that the term “direct supervision” does not mean the physician must be present in the room when the procedure is performed.

We also proposed conforming changes to specify an exception to the list of examples of routine physical checkups excluded from coverage in §§ 411.15(a)(1) and 411.15(k)(9) for glaucoma screening examinations that meet the frequency limitation and the conditions for coverage that we are specifying under new § 410.23.

We received six comments that generally supported the proposal to implement section 102 of BIPA that provides for Medicare coverage of screening for glaucoma. Four of these comments were submitted by national medical associations, one was submitted by a pharmaceutical company, and another was provided by a consulting group. Only one commenter had a suggestion for revising the specific coverage provisions of the proposal.

Comment: One commenter responded to our invitation to the public in the proposed rule to submit comments on the question of whether it might be appropriate to include other individuals (and not just African-Americans over age 50) in the statutory definition of those at “high risk” for glaucoma. First, the commenter cites an article from the medical literature that notes that “one of the clearest factors relating to increased glaucoma prevalence is age.” (Gilchrist. Ophthalmic Physiol Opt 2000) Second, the commenter refers to other eye experts in the research of the epidemiology of glaucoma who have suggested that “the appropriate age at which screening might be most effective is 6 to 10 years younger among those of African descent because of the earlier onset of disease.” (Quigley and Vitale. Invest Ophthalmol Vis Sci 1997) Third, the commenter states that the latter conclusion is supported by data showing that in African-Americans who eventually develop glaucoma, the disease is present in 25 percent by age 54, 50 percent by age 65, and 75 percent by age 75. The commenter cites from the same Quigley article that comparable ages for these percentages of disease development in non-African-Americans are 64, 72, and 81 years, respectively. Finally, the commenter concludes that this literature supports a policy that would provide the glaucoma screening benefit for non-African Americans at an age 6 to 10 years older than for African-Americans (for example, 50 years of age), or beginning at age 56 to 60 years of age.

Response: We believe that the commenter has not interpreted the results of the Quigley and Vitale studies correctly. The article by Quigley and Vitale reported the results of a meta-analysis and statistical modeling to estimate the prevalence and incidence of glaucoma. In general, results from meta-analysis and remodeling are often limited by the quality and comparability of the original source data. In the proposed rule, we used data reported directly from the Baltimore Eye Study (Tielsch, et al. JAMA 1991) and the Beaver Dam Eye Study (Klein, et al. JAMA 1992), two of the largest published studies on glaucoma. These studies indicated that the prevalence of glaucoma in non-African-Americans starts to increase after the age of 65 to 70 years, whereas the prevalence increases much earlier in African-Americans. Our decision to include African-Americans in the statutory category of those at “high risk” for glaucoma was based on these studies and the increased prevalence of glaucoma in African-Americans.

Although we have decided not to add new populations to the definition of high risk at this time, the comment does raise the issue of how we should revise the definition in the future, if there is evidence to do so. We have decided to revise the proposed language in § 410.23(a)(2) so that it specifically refers to “individuals in the following high risk categories” to make it more consistent with the statute. This new structure for the regulation language will permit CMS to more easily add high risk groups to the glaucoma screening benefit through the rulemaking process should the evidence in the medical literature warrant it.

Payment for Glaucoma Screening

We believe that services provided as part of glaucoma screening will often overlap with services a physician provides during a patient encounter for ophthalmological services without requiring any additional work or practice expense. Therefore, we proposed bundling payment for glaucoma screening when it is provided on the same day as an evaluation and management (E/M) service or when it is provided as part of any ophthalmology service. In instances when glaucoma screening is the only service provided or when it is provided as part of an otherwise non-covered service (for example, CPT code 99397, preventive services visit,) we proposed the following HCPCS codes and payments: Gxxx5, Glaucoma Screening Furnished by a Physician for High Risk Patients.

For physician work and for malpractice, we proposed work and malpractice RVUs of 0.45 and 0.02, respectively, by crosswalking these values from CPT code 99212. Gxxx6, Glaucoma Screening Furnished Under the Direct Supervision of a Physician for High Risk Patients.

For physician work and for malpractice, we believe this new HCPCS code represents a level of work comparable to other E/M services performed “incident to” a physician's service and therefore proposed to crosswalk the work and malpractice RVUs from CPT code 99211 (E/M service that may not require the presence of a physician) which are 0.17 and 0.01, respectively.

For non-facility settings, we proposed the following practice expense inputs for both of the above HCPCS Codes— clinical staff time-certified ophthalmic medical technologist/certified ophthalmic technician/registered nurse: five minutes; equipment: screening lane; and supplies: ophthalmology visit supply package.

Comment: We received a comment from the American Academy of Ophthalmology (AAO) agreeing with our decision to bundle glaucoma screening with other E/M services and with our decision to create two levels of glaucoma screening services based on whether or not the physician performed the evaluation. The AAO also agreed with our proposal regarding RVUs for glaucoma screening performed “incident to” but commented that the level of payment for glaucoma screening performed by a physician was too low. They believe that payment rate should be a blend between CPT codes 99202 (Office or other outpatient visit for evaluation and management of a new patient) and 99213 (Office or other outpatient visit for evaluation and management of an established patient). This is based on the expectation that some patients receiving the service will be “new” patients to the ophthalmologist while others will have previously seen the ophthalmologist and therefore be “established” patients.

The AAO proposes that for 2002, payment be equivalent to CPT code 99202 for both physician work and practice expense, that for 2003, payment be equivalent to a 4.4 percent/95.6 percent blend of CPT codes 99202 and 99213 for both physician work and practice expense, that for 2004, payment be equivalent to a blend of 4.5 percent/95.5 percent blend of CPT codes 99202/99213, and that for 2005 and thereafter, payment be equivalent to a blend of 4.6 percent/95.4 percent of CPT codes 99202/99213. The AAO believes that the amount of history, physical examination, and medical decision making required for glaucoma screening approximates the amount of history, physical examination and medical decision making required for CPT code 99202 at the time of the first glaucoma screening and approximates the amount of history, physical examination, and medical decision making required for 99213 at the time of subsequent glaucoma screenings.

The American Optometric Association (AOA) echoed the AAO's comments concerning the crosswalk for physician work. They also noted that the practice expense inputs should be crosswalked to the intermediate ophthalmologic codes.

Response: We are finalizing our proposal to assign 0.45 work RVUs and .02 malpractice RVUs to Gxxx5, glaucoma screening performed by a physician (now G0117). This service is a screening service and therefore cannot be easily compared to the key components of a level III evaluation and management service (CPT code 99213). We also believe that the vast majority of beneficiaries receiving this service will be patients who have been previously seen by the ophthalmologist performing the service and, therefore, CPT code 99202 would not be an appropriate crosswalk for this service. We believe the work required for this service is similar whether or not the patient is “new” or “established”. Patients undergoing a screening service have no chief complaint or history of present illness. To perform this service, the only historical information required is a determination as to whether the beneficiary meets the criteria in the law, (for example, is at high risk for glaucoma). Therefore, the requirements for taking a history are actually less than the requirements of CPT code 99212. Additionally, the physical examination requirements are specified in the statute and are similar to the requirements of CPT code 99212. Furthermore, the vast majority of patients undergoing screening will not have glaucoma, so the typical screening service will require routine medical decision making. For those few patients with glaucoma who will need to schedule a return visit, the medical decision making is straightforward. Therefore, the glaucoma screening requirements are similar to CPT code 99212. Our decision to assign 0.45 work RVUs to this service is also consistent with the time required to perform the service and places it in correct rank order with regard to other screening services payable under Medicare. We have decided to accept the recommendation of AOA on practice expense inputs and will crosswalk the inputs from CPT code 92012, brief ophthalmic exam performed on an established patient, rather than using the practice expense inputs from CPT codes 99202 and 99213 as suggested by AAO.

Because we received no comments on the RVUs for the Gxxx6 code, Glaucoma Screening Furnished Under the Direct Supervision of a Physician for High Risk Patients (now G0118), we will implement this as proposed and will assign .17 work RVUs and .01 malpractice RVUs. For practice expense, we will also crosswalk this code to CPT 92012.

Comment: Several commenters noted that medical technicians do not have the education or training to provide screening glaucoma services. One commenter noted that ophthalmic medical personnel (OMP) are not licensed by State regulatory agencies and are precluded from ordering medications, including eyedrops. The commenter states that, according to the Joint Commission on Allied Health Personnel in Ophthalmology and the Association of Technical Personnel in Ophthalmology, OMPs cannot be independent practitioners, cannot diagnose or treat eye disorders and cannot prescribe medications. Since a dilated eye exam requires medication, the OMP cannot perform the exam without the patient first being seen by an ophthalmologist or optometrist.

Response: The regulation is drafted based on the statutory provision; however, it does not supersede any State laws or licensing requirements.

Result of Evaluation of Comments

We are adopting our proposal to include only African-Americans age 50 and over in the statutory category of those at “high risk” for glaucoma. We are revising the regulation in § 410.23(a)(2) to read “Eligible beneficiary means individuals in the following high risk categories.” This should allow CMS to more easily add high risk groups by rulemaking should the medical evidence warrant it.

For G0117 Glaucoma Screening for High Risk Patients Furnished by an Optometrist or Ophthalmologist—we will assign 0.45 work RVUs, .02 malpractice RVUs and we will crosswalk practice expense inputs from CPT code 92012.

For G0118 Glaucoma Screening for High Risk Patients Furnished Under the Direct Supervision of an Optometrist or Ophthalmologist—we will assign .17 work RVUs and .01 malpractice RVUs. For practice expense we will also crosswalk this code to CPT code 92012.

D. Screening Colonoscopy

Before the enactment of the BIPA, sections 1861(pp)(1)(C) and 1834(d)(3)(E) of the Act authorized Medicare coverage of screening colonoscopies once every 2 years for individuals at high risk for colorectal cancer. Individuals not at high risk for colorectal cancer did not qualify for coverage of screening colonoscopies under the colorectal cancer screening benefit, but they did qualify for coverage of other colorectal cancer screening examinations specified in the statute. These other examinations that were covered for individuals not at high risk for colorectal cancer included screening fecal-occult blood tests, screening flexible sigmoidoscopies, and screening barium enema examinations at certain frequency intervals specified in the statute and the regulations at § 410.37 (Colorectal cancer screening tests).

Section 103 of the BIPA amended sections 1861(pp)(1)(C), 1834(d)(2)(E)(ii), and 1834(d)(3)(F) of the Act to add coverage of screening colonoscopies once every 10 years for individuals not at high risk for colorectal cancer. However, in the case of an individual who is not at high risk for colorectal cancer, but who has had a screening flexible sigmoidoscopy within the last 4 years, the statute provides that payment may be made for a screening colonoscopy only after at least 47 months have passed following the month in which the last screening flexible sigmoidoscopy was performed. In addition, the statute provides that, in the case of an individual who is not at high risk for colorectal cancer but who does have a screening colonoscopy performed on or after July 1, 2001, payment may be made for a screening flexible sigmoidoscopy only after at least 119 months have passed following the month in which the last screening colonoscopy was performed.

In view of the statutory changes, we are conforming §§ 410.37(e) and 410.37(g) (related to limitations on coverage of screening colonoscopies and screening flexible sigmoidoscopies) to make them consistent with the new provisions of the statute that have been implemented through manual provisions of the Medicare Carriers Manual, the Medicare Intermediary Manual Part III, and the Medicare Hospital Manual in transmittal numbers 6097, 1824, and 7069, respectively, in February 2001.

Payment for Screening Colonoscopy

Payment for screening colonoscopy will be made under HCPCS code G0121: colorectal screening; colonoscopy for an individual not meeting criteria for high risk. As with current code G0105, screening colonoscopy for an individual at high risk, payment will be made at the level for a diagnostic colonoscopy, CPT code 45378, because the work is the same whether a procedure is screening or diagnostic. As the statute requires that, for both individuals who are or are not at high risk, if, during the course of the screening colonoscopy, a lesion or growth is detected that results in a biopsy or removal of the growth, the appropriate diagnostic procedure classified as colonoscopy with biopsy or removal should be billed and paid rather than HCPCS code G0105 or G0121.

We received four comments in support of the proposal to conform the regulations to the Medicare law implementing the new screening colonoscopy provision (section 103 of the BIPA) for individuals not at high risk for colorectal cancer. One of the commenters, however, did have a suggestion for how we could improve the manual instructions that we issue to our carriers on this subject.

Comment: The commenter suggests that we instruct our Medicare carriers to identify which International Classification of Diseases—Volume Nine (ICD-9) codes are acceptable to use in conjunction with the interim GO121 code that has been proposed for billing for covered screening colonoscopies performed for individuals not at high risk for colorectal cancer. The commenter stated that our failure to do this for screening flexible sigmoidoscopy code G0104 in the billing instructions we issued to our carriers in 1998 created problems for everyone concerned because individual carriers adopted a variety of acceptable ICD-9 codes, but did not inform the public under what circumstances the examinations were covered and when they were not.

Response: We are not aware of the problems stated above with respect to the Medicare billing codes for screening flexible sigmoidoscopies in 1998. In addition, we have not received any complaints about the new billing instructions that we released to our carriers in February of this year in conjunction with the interim G0121 code that was issued (effective July 1, 2001) for use in billing for screening colonoscopies for individuals not at high risk for colorectal cancer. Since individuals who might qualify for coverage under this new screening benefit are those who would not be at “high risk” for colorectal cancer, it is not clear to us why the physician billing for the service would need to provide any ICD-9 code for the examination to the carrier for Medicare payment to be made. We do not require that such information be submitted to the carrier at the present time in these circumstances.

Result of Evaluation of Comments

We are implementing our proposal as stated above. In view of the comment, we will review the matter, and we will take any necessary action that might be deemed appropriate.

E. Medical Nutrition Therapy

Section 105 of the BIPA amended section 1861(s)(2) of the Act to authorize Medicare Part B coverage of medical nutrition therapy (MNT) for certain beneficiaries who have diabetes or a renal disease, effective for services furnished on or after January 1, 2002. This new benefit is similar to a benefit initially established by section 4105 of the BBA as a component of the diabetes outpatient self-management training (DSMT) benefit. The DSMT benefit, described at section 1861(qq) of the Act, is a comprehensive diabetes training program, of which nutrition training is only one component.

Consistent with section 105(a)(3) of the BIPA, we considered the protocols of the American Dietetic Association (ADA) and the National Kidney Foundation (NKF) regarding medical nutrition therapy training for both diabetes and renal disease in order to establish criteria for coverage of these services. Because the protocols were inconclusive with respect to duration and frequency issues, we proposed to determine the duration and frequency of the benefit through the NCD process rather than through the rulemaking process.

We proposed to set forth the provisions regarding medical nutrition therapy at Part 410, subpart G and at § 414.64. The MNT provisions of the final rule follow.

Definitions (§ 410.130)

We defined “renal disease” for the purpose of this benefit as only chronic renal insufficiency and post-transplant care provided after discharge from the hospital. We proposed to limit post-transplant care to care furnished within 6 months after discharge from the hospital, if the transplant is viable and effective, because, under such conditions, we believe the beneficiary would no longer have renal disease and would not be eligible to receive the benefit under the statutory provision. We specifically solicited comments on this proposed time period, and requested that the commenters support their comments with articles from medical journals. We also established definitions of “diabetes”, “renal disease”, and “chronic renal insufficiency” for the purpose of this benefit using definitions from the Institute of Medicine report, “The Role of Nutrition in Maintaining Health in the Nation's Elderly,” published in 2000.

We proposed defining “episode of care” as a time period not to exceed 12 months, starting with the assessment (based on a referral from a physician), and including all covered interventions. Finally, in accordance with the statute, we defined MNT services as nutritional diagnostic, therapy, and counseling services provided by a registered dietitian or nutrition professional for the purpose of managing disease.

Medical Nutrition Therapy (§ 410.132)

At § 410.132(a), we proposed the conditions for coverage of MNT services. Specifically, we proposed that Medicare Part B pay for MNT services furnished by a registered dietitian or nutrition professional as defined in § 410.134 when the beneficiary is referred for the service by the beneficiary's treating physician. We proposed to limit the definition of physician to “treating physician” to ensure that the physician establishing the need for MNT is actually treating the beneficiary for a covered chronic disease and that the therapy is coordinated with the care being provided by the treating physician.

We proposed that the services covered consist of nutritional assessment, interventions, reassessment, and follow-up interventions. We chose not to define the specific components of the benefit in more detail because we anticipated that registered dietitians and nutritionists would use nationally recognized protocols, such as those developed by the ADA, as they normally would in their practice. As previously mentioned, we also proposed to use the NCD process to develop duration and frequency limits.

At § 410.132(b), we set forth the coverage limitations for MNT services. In accordance with section 1861(s)(2)(V)(ii) of the Act, we provided that MNT services would not be covered for beneficiaries on dialysis for end-stage renal disease. We did not exclude all beneficiaries who are diagnosed with end-stage renal disease because a few individuals with end-stage renal disease do not receive maintenance dialysis, and the statute specifically excludes beneficiaries receiving maintenance dialysis under section 1881 of the Act. The other provisions of this section outlined the coordination of referrals for MNT for diabetes and renal disease, and coordination of MNT and DSMT services.

Eligibility for MNT services will be dependent upon diagnoses and referrals made by the treating physician. At § 410.132(c), we proposed that referral only be made by the treating physician when the beneficiary has been diagnosed with diabetes or a renal disease, with documentation maintained by the referring physician in the beneficiary's medical record. Referrals must be made for each episode of care.

At § 410.132(d), we discussed requirements regarding reassessment and follow-up interventions. Specifically, we proposed that reassessments and follow-up interventions would only be covered when the referring physician determined that there was a change of diagnosis or medical condition within an episode of care that made a change in diet necessary.

Provider Qualifications (§ 410.134)

The BIPA specifies how we must define “registered dietitian or nutrition professional” for the purposes of this benefit, and allows for the grandfathering of nutrition professionals licensed or certified by States at the time of its enactment. The proposed qualifications for a registered dietitian or nutrition professional are set forth at § 410.134, and include alternative criteria for recognition of registered dietitians in States that do not provide for licensure or certification of these individuals.

We received nearly 1,000 comments on the MNT portion of the proposed rule. The most frequently received comments concerned: the definitions of diabetes, renal disease, and treating physician; the coordination of the diabetes self-management training and MNT benefits; and proposed reimbursement. We also received comments about provider qualifications.

Comment: We received a large number of comments that stated we had defined diabetes and renal disease too narrowly and asked for further clarification of the definitions.

Response: Our definition of diabetes does not specifically state how physicians should perform lab tests to determine if a beneficiary should be diagnosed with diabetes. However, as with the national protocols for medical nutrition therapy, we assume that physicians will conduct tests in accordance with nationally accepted clinical guidelines, which require testing on multiple occasions to determine a diagnosis of diabetes. We are clarifying our definition of diabetes by adding a sentence to further explain the etiology of the disease. We also have extended coverage to include gestational diabetes for the few Medicare beneficiaries who would need such coverage. We believe that we do not have the statutory authority to extend coverage to beneficiaries who have not yet been diagnosed with diabetes.

We also expand the definition of renal disease in this final rule. First, we clarify that beneficiaries with end-stage renal disease who are not receiving dialysis are eligible for the service. In addition, we have expanded the time period in which we will cover MNT for beneficiaries who have received a renal transplant to 36 months, to bring the coverage into conformance with the Medicare eligibility period for individuals under age 65.

Comment: A few commenters requested that we change our definition for renal disease to encompass all patients with glomerular filtration rates (GFR) below 60. The GFR is the measurement of renal function and has a range in normal adult males of 98 to 150 ml/min/1.7m² and in normal adult females of 106 to 132 ml/min/1.7². The commenters believe that we did not fulfill the intent of the Congress.

Response: We disagree with the comment. Neither the BIPA nor its legislative history indicates any specific intention regarding how to define renal disease for purposes of eligibility for this benefit. Section 4108 of the BBA required the Department of Health and Human Services to contract with the National Academy of Sciences (NAS) to examine the benefits and costs associated with extending Medicare coverage for certain services, including medical nutrition therapy. We believe the NAS Institute of Medicine (IOM) report, “The Role of Nutrition in Maintaining Health in the Nation's Elderly,” published in 2000, provides a reasonable definition for determining the scope of the benefit. In that report, “renal disease” is defined as chronic renal insufficiency, end-stage renal disease, and the beneficiary's condition following renal transplant. The GFR rate for chronic renal insufficiency (GFR of 13 to 50 ml/min/1.73m²) used in the proposed rule was also in the IOM report.

The IOM report did not cover the period of time MNT should be available to beneficiaries following a renal transplant. The Congress has authorized us to provide a reasonable interpretation of how much coverage will be provided for beneficiaries after renal transplant.

The suggested eligibility criterion of a GFR under 60 suggested by commentators appears to be too expansive, because typically the GFR for beneficiaries after they receive a transplant never goes above 60. We also received comments recommending that we match our coverage to the length of time an under-65 beneficiary is entitled to post-transplant coverage. We agree that this is a reasonable criterion for our coverage of MNT services for post-renal-transplant beneficiaries.

Comment: We received a large number of comments expressing concern about our use of the term “treating physician”. Most commenters believe that the term does not include both primary care physicians and specialists. One commenter believes we exceeded our statutory authority. Also, some commenters believe that we should allow any physician to provide a referral for the service.

Response: We did not intend to exclude primary care physicians from the term “treating physician”. In this final rule, we now define the term “treating physician” to mean the primary care physician or specialist coordinating care for the beneficiary with diabetes or renal disease.

Regarding our statutory authority, the statute, as amended at section 1861(s)(2)(V)(iii) of the Act, clearly states that the Secretary has authority to impose other criteria, after considering protocols established by dietetic or nutrition professional organizations. Requiring referral by the treating physician is within this statutory authority. We continue to believe that we must assure the quality of services received by Medicare beneficiaries. Therefore, our coverage guidelines must require coordination of care for beneficiaries with chronic diseases in order to assure that quality. We have not changed the final rule to allow any physician to make the referral for MNT.

Comment: We also received comments concerning the definition of the benefit and episode of care.

Response: As stated in the proposed rule, we relied on the national dietetic therapy protocols of major organizations to define the basic benefit. In seeking to understand the reason for these comments, we discovered that the use of the term “reassessment and follow-up interventions” in §§ 410.132(a) and (d) was confusing to many commenters. In the national protocols, reassessments and follow-up interventions are always considered part of the basic service. In the proposed rule, we had used the terms to define a special circumstance that happens only when a beneficiary has a change in medical condition or diagnosis.

In this final rule, we clarify our policy by eliminating the use of the terms “reassessment” and “follow-up interventions”. We also have changed the language slightly in several other parts of the final rule to help clarify our intent, such as adding, “treatment regimen” as another reason why we would allow additional coverage in special circumstances. Our definition of “episode of care” (except in the case of coordination of services with initial DSMT and gestational diabetes) is based on our intent to pay providers of the service more efficiently by conforming the definition to our claims processing requirements. Our intent continues to be that dietitians and nutritionists should follow national MNT protocols.

Comment: Some commenters stated that the DSMT and MNT benefits for beneficiaries with diabetes should only be coordinated to the extent of reducing the total of number of MNT hours by one hour.

Response: In the proposed rule, we assumed that all of the MNT benefit for diabetes would be provided as part of the initial DSMT benefit and that follow-up DSMT and MNT for diabetes should be fully coordinated. In our discussions with interested organizations concerning the amount of services that should be covered for the NCD process, great concern was expressed about the coordination of the DSMT and MNT benefits. Therefore, we have spent a great deal of time researching this issue. We have found no evidence to date to suggest that the language of the proposed rule should be changed for this requirement. However, because we are still developing our NCD concerning the duration and frequency of the MNT benefit, we will continue to consider any evidence that might lead to the conclusion that additional hours should be covered when both benefits are provided during the same time period.

Until such time as an NCD alters this requirement, if initial DSMT and MNT benefits for diabetes are provided in the same 12 month episode of care, only 10 total hours of services will be covered, regardless of whether the hours are covered as MNT, DSMT, or a combination of both. In situations where follow-up DSMT and MNT for diabetes is provided, only the total amount of hours allowed under the MNT benefit will be covered. (The MNT cap will be applied to any DSMT services provided to a beneficiary during the follow-up period, until such time as an NCD alters this requirement.)

Comment: We received comments that MNT for a diagnosis of renal disease and MNT for a diagnosis of diabetes should not be fully coordinated.

Response: In this final rule, we are not changing this requirement because the provision at § 410.132(d) (in this final rule § 410.132(b)(5)) already provides for additional coverage in this situation and we believe that additional coverage is not necessary. However, we are clarifying that beneficiaries receiving initial DSMT can receive the full initial DSMT benefit.

Comment: One commenter was concerned that providers that had completed a full course of study of dietetics or nutrition after completion of a bachelor's degree would be excluded. We also received comments asking us to clarify the requirements further.

Response: We agree that individuals that complete the full course of study of an accredited dietetics or nutrition program after completion of a bachelor's degree would still meet the intent of the legislation. Therefore, we have altered the regulatory language to include these individuals. However, we will require our contractors to require the practitioner to provide proof of completion of the course of study in addition to proof of receiving the degree.

In situations where the individual is credentialed as a registered dietitian by an organization appropriate for this purpose, we will recognize that credential as proof that the individual meets both the education and experience required in the regulation. We have added language at §§ 410.134(a) and (d) to change the final rule.

Comment: A commenter noted that State licensure requirements vary considerably; providers will need to obtain multiple licenses when they perform services in more than one State; and providers will have to meet different requirements if State licensure provisions change.

Response: The statutory intent to recognize State licensure and State licensure requirements is clear. We cannot require States to have similar licensure requirements, recognize licensure by other States, or to provide for grandfathering of providers when State licensure laws change. Therefore, we have not changed the final rule to reflect these comments.

Payment for Medical Nutrition Therapy (§ 414.64)

Section 105(c) of the BIPA requires that we pay for medical nutrition therapy services at 80 percent of the lesser of the actual charge for the services or 85 percent of the amount determined under the physician fee schedule for the same services if the services had been furnished by a physician. Based upon consultation with the American Dietetic Association (ADA) to assess the types of resource inputs used to furnish a 15-minute medical nutrition therapy session by a registered dietitian or professional nutritionist, we proposed the following:

For CPT code 97802—Medical nutrition therapy; initial assessment and intervention, individual, face-to-face with the patient, each 15 minutes, we did not propose physician work RVUs for this service, based on the statutory provision that specifically provides that medical nutrition therapy services may only be furnished by registered dietitians or nutrition professionals. For practice expense, we proposed 0.47 RVUs and, for malpractice, we proposed 0.01 RVUs for a total of 0.48 RVUs.

For CPT code 97803—Reassessments and intervention, individual, face-to-face with the patient, each 15 minutes, we proposed 0.0 work RVUs, 0.34 practice expense RVUs and 0.01 malpractice RVUs for a total of 0.35 RVUs.

For CPT code 97804—Group, 2 or more individuals, each 30 minutes, we proposed 0.0 work RVUs, 0.14 practice expense RVUs and 0.01 malpractice RVUs for a total of 0.15 RVUs. To determine payment, the RVUs shown above would need to be multiplied by the physician fee schedule conversion factor and 0.85 (to reflect the statutory requirement that payment be 85 percent of the amount determined under the physician fee schedule).

We also stated that, consistent with the definition in the CPT's Physical Medicine Rehabilitation codes, a group is considered to be 2 or more individuals and that Medicare co-payments and deductibles would apply for medical nutritional therapy services.

Comment: The American Dietetic Association (ADA) and many individuals submitted comments concerning the proposed reimbursement rate for medical nutrition therapy services. They stated that the proposed reimbursement rate for these services is too low and would result in limited beneficiary access to these services since private practice dietitians will choose not to participate. Some commenters referenced reimbursement rates currently paid by private insurers of $85 to $125 for 1 to 1½ hours for an initial visit and $85 per hour for follow-up. They believe that the proposed rate for Medicare is far short of what was envisioned by the Congress. Commenters indicated that the statute clearly states that medical nutrition therapy payment should be 80 percent of the lesser of the actual charge or 85 percent of the amount determined under the physician fee schedule for the same service, provided by a physician. According to commenters, physicians who are also registered dietitians, use E/M codes 99213 through 99215 and 99244 when providing medical nutrition therapy services. The commenters stated that E/M codes 99203 through 99205 are appropriate reference points for determining medical nutrition therapy payment. The commenters also stated that any refinement of medical nutrition therapy values should be based on the underlying E/M codes that they believe are the statutory basis for medical nutrition therapy payment. While commenters acknowledge that physicians may perform other tasks besides nutritional assessment, therapy and counseling during an office visit, they believe those additional services are the basis for the Congress' instruction to reimburse non-physician providers of medical nutrition therapy at 85 percent of the amount physicians receive. The AMA's Health Care Professionals Advisory Committee (HCPAC) submitted a comment that suggested there should be physician work for medical nutrition therapy. This group provides recommendations on valuing services for codes used by non-physician providers. The HCPAC indicated that it evaluated each of the medical nutrition therapy codes and compared them to services that are available to other providers but not nutritionists (for example, physical therapy services). The comment further stated that the 15 percent reduction should not apply because the HCPAC took this into account when developing the recommendations. The HCPAC further added that there should be work values for medical nutrition therapy just as there are for physical and occupational therapy.

Response: We have reviewed the statute and legislative history. There is no indication that Congress envisioned a particular payment amount or expected us to use an E/M service to determine the value of medical nutrition therapy. Section 105(c) of the BIPA states that “the amount paid shall be 80 percent of the lesser of the actual charge for the services or 85 percent of the amount determined under the fee schedule established under section 1848(b) of the Act for the same services if furnished by a physician.” The BIPA Conference Report indicates that payment will equal “the lesser of the actual charge for the service or 85 percent of the amount that would be paid under the physician fee schedule if such services were provided by a physician.” The statute and Conference Report direct us to establish the physician fee schedule amount for nutrition therapy services. The Medicare allowed charge would equal 100 percent of the physician fee schedule amount if the services are performed by a physician and 85 percent of the physician fee schedule amount if the services are performed by a registered dietitian or nutrition professional. The commenters suggest that physicians currently bill for an E/M service when they provide nutrition services. We do not believe that it is appropriate to compare medical nutrition therapy provided by a registered dietitian to an E/M service provided by a physician. Registered dietitians do not take medical histories, they are not trained to and do not perform physical examinations, nor do they make medical decisions. Furthermore, when physicians use an E/M code to report the provision of counseling or coordination of care, they typically have also performed a medical history, physical examination, and engaged in medical decision making as part of that service. If such an individual performed a service that met the requirements of an E/M service, then it would be be appropriate for him or her to report an E/M service. Further, we note that the E/M services include not only an amount attributable to physician work, but also payment for physician practice expenses. For instance, a level 3 new patient office visit (CPT code 99203) includes payment for 50 minutes of nurse time. A level 3 established patient office visit (CPT code 99213) includes 36 minutes of nurse time. Both of these codes include additional compensation for medical equipment and supplies that are typically used in an office visit but are not used as part of a medical nutrition therapy service. If we were to adopt the commenters' view and crosswalk values for medical nutrition therapy to an E/M service, we would be including payment not only for the counseling service of the practitioner, but also, inappropriately for the costs of clinical personnel that are not involved in the nutrition therapy service.

Commenters indicated that the statute established the 85 percent adjustment to account for activities that are typically performed by a physician during an E/M service are not performed by a nutritionist. The statute and legislative history do not indicate that the 85 percent adjustment is intended to serve this purpose. In fact, the commenters themselves note that “consistent with other non-physician providers, reimbursement is set at a percentage of the physician's fee schedule.” Under the physician fee schedule, we will pay a physician 80 percent of 100 percent of the physician fee schedule amount, and, if a non-physician practitioner provides an identical service, Medicare pays 80 percent of 85 percent of the physician fee schedule amount. For instance, under CPT code 99213, a level 3 established patient office visit is one of the most common services provided by physicians, physician assistants and nurse practitioners. Even though the service is considered to be identical, we can by law pay a physician assistant and nurse practitioner only 85 percent of what we pay a physician to do the same service. Thus, in the case of other practitioners, the percentage does not reflect that a non-physician practitioner provides fewer services than a physician. Because there is no indication in the statute that the 85 percent adjustment should apply differently in the context of medical nutrition therapy than for other services performed by non-physician practitioners, we believe it is appropriate to pay 80 percent of 100 percent of the physician fee schedule amount when medical nutrition therapy is provided by a physician and 80 percent of 85 percent of the physician fee schedule amount when the service is provided by a registered dietitian or nutrition professional.

In response to the comment about payment rates of private insurers for medical nutrition therapy, we cannot use such information in a relative value system to establish payment. Section 1848(c) of the Act requires us to establish RVUs that recognize the relative resources involved in furnishing different physician fee schedule services. Thus, our role is to establish the appropriate relative payment amounts. The total payment amount is determined under a formula prescribed in section 1848(d) of the Act. We have no authority to change the formula.

In response to the HCPAC recommendation, we reiterate that it is inappropriate to compare medical nutrition therapy services to E/M services performed by physicians. While medical nutrition therapy may be performed by a physician who is also a registered dietitian, this does not make it a physician's service that requires a work RVU. Physicians may occasionally perform other services that have no physician work, such as chemotherapy administration or the technical component of a diagnostic x-ray test. When such services with no physician work are performed by a physician, we do not establish a physician work RVU just because the service was performed by a physician in that instance. Physicians will occasionally meet the statutory qualifications to be considered a registered dietitian or nutrition professional who can bill Medicare for medical nutrition therapy services. In these circumstances, we will pay the physician 80 percent of 100 percent of the physician fee schedule amount. In this unusual circumstance, we are paying for a medical nutrition therapy service provided by a physician under section 1861(s)(2)(V) and not a physician's service under section 1861(s)(1) of the Act.

Comment: One comment indicated that the 85 percent adjustment should not apply because the RVUs we used are not based on physician work or physician practice expenses to deliver the service. This commenter indicated that we proposed an inadequate payment by not following the statutory scheme and proceeded to apply a 15 percent discount that is neither fair nor reasonable.

Response: The statute requires us to establish a physician fee schedule amount for the service and pay 80 percent of 100 percent of the amount if the service is provided by a physician and 80 percent of 85 percent if the service is provided by a registered dietitian or nutrition professional. We initially anticipated that physicians would never bill Medicare for medical nutrition therapy services because they generally would not meet the statutory requirements to be considered registered dietitians or nutrition professionals. In this circumstance, we agree that it seems unusual to apply a reduction for a service that seldom would be furnished by a physician. However, we believe that the statute requires that Medicare payment be based on the 85 percent level. We understand that, although not common, there are physicians who do meet the statutory requirements to be considered registered dietitians or nutrition professionals. In these circumstances, our payment to the physician will be based on 100 percent of the physician fee schedule amount, not the 85 percent that we will pay to a registered dietitian or nutrition professional. We believe the statute would not allow a physician who does not meet the statutory requirements for a registered dietitian or nutrition professional to be paid for a medical nutrition therapy service. If a physician provides medical nutrition counseling as part of a patient encounter that meets the requirements for an E/M service, the physician can bill Medicare for a physician's service.

Comment: We received one comment requesting that we clarify that Medicare will pay qualified providers in private practice settings or physician offices where they may be independent contractors. The commenter also asked how we intend to pay for medical nutrition therapy in the hospital outpatient department. The commenter also asked for clarification on reassignment of payment if a registered dietitian is an employee of physicians or hospital outpatient facilities.

Response: Medicare will pay qualified dietitians and nutrition professionals who enroll in the Medicare program regardless of whether they provide medical nutrition therapy services in an independent practice setting, hospital outpatient department or any other setting, with the exception of services provided to patients in an inpatient stay in a hospital or skilled nursing facility. In these circumstances, our payment to the hospital or skilled nursing facility includes payment for medical nutrition therapy. If a qualified practitioner provides medical nutrition therapy in any other setting, including a private practice setting, section 1833(a)(1)(T) of the Act requires that Medicare payment equal 80 percent of the lesser of actual charges or 80 percent of 85 percent of the amount determined under the physician fee schedule. Payment in the hospital outpatient department will be made under the physician fee schedule, not under the hospital outpatient prospective payment system.

Current rules regarding reassignment of benefits would apply to medical nutrition therapy. We want to emphasize that medical nutrition therapy cannot be provided incident to a physician's service unless the physician also meets the qualifications to bill Medicare as a registered dietitian or nutrition professional.

Comment: Commenters objected to the methodology used to establish the proposed RVUs for this service. They believe it is inappropriate to use the top-down or no-work pool methodology to determine medical nutrition therapy payment. They believe that medical nutrition therapy payment should not be based on comparison to a preventive medicine code (CPT code 99401) in the zero-work pool methodology. The commenters indicated that preventive medicine services omit the problem-oriented components of the comprehensive history, as well as other essential assessment points, such as the patient's chief complaint and history of present illness. They disagree with our assertion in the proposed rule that physicians do not perform nutrition services and assert that it is inappropriate to use the top-down or zero-work methodology to establish the RVU for medical nutrition therapy.

Response: We use the top-down methodology or no-work pool methodology to price the practice expense RVUs for all services priced under the Medicare physician fee schedule. Given that the statute indicates that medical nutrition therapy should be paid using the physician fee schedule, we believe it is reasonable and appropriate to use the same methodologies that we use to develop RVUs for other physician fee schedule services. With respect to use of the preventive medicine service, we used a service that we felt had similar practice expenses to medical nutrition therapy. It is not clear why practice expenses for a counseling service would differ based on the health status of the patient.

Comment: A commenter representing dietitians asked us to review the relativity of payment across the three medical nutrition CPT codes. The commenter indicated that payment for CPT code 97803 was set at 72.9 percent of proposed RVUs for CPT code 97802 and 97804 was set at 31 percent of CPT code 97802. The commenter argues that, because reassessments are shorter than initial assessments, the proposed RVUs are actually discounted twice (that is, less payment per 15 minutes of time as well as less total time). They believe that the value of CPT codes 97802 and 97803 should be identical. The commenters indicated that E/M services provided by physicians do not receive the same discount. The commenter also stated that the payment for CPT code 97804 was less than for other group services and gave the example of a nurse or pharmacist providing nutrition instruction under the diabetes self-management training benefit.

Response: We have reviewed the payments for CPT codes 97802 and 97803 and agree with the commenter that these two codes should have the same values. The essential difference between an initial and follow up medical nutrition therapy service is the time spent performing the service. Initial visits will be longer than follow-up visits and will likely involve Medicare payment for more increments of service. We will pay less for follow up visits because they will typically involve fewer 15 minute increments of time than an initial visit. The payment rate we are establishing in this final rule for CPT code 97803 will be the same as the proposed rate for CPT code 97802. We have also changed the payment rate for CPT code 97804 assuming that the code will normally be billed for 4 to 6 patients with the average of 5. Using the revised values, the payment rate for group medical nutrition therapy would approximate the hourly rate paid for other medical nutrition therapy services. (We note that the RVU units between the proposed and final rule show some marginal change because of changes made in the practice expense methodology that affect all physician fee schedule services). We do not agree with the comment that “evaluation and management services provided by physicians do not receive the same discount.” E/M service are not time based services and, as stated above, for many reasons are inappropriate comparisons to medical nutrition therapy service codes.

Comment: Many commenters stated that co-payments must be structured so that they are not barriers to the medical nutrition therapy benefit.

Response: Section 105(c) of the BIPA modifies section 1833(a)(1) of the Act to add subparagraph (T) that requires that Medicare payment equal 80 percent of the lesser of the actual charge for the services or 85 percent of the amount determined under physician fee schedule. The statute requires the same coinsurance for medical nutrition therapy services that applies to other Part B services.

Comment: Commenters suggested that initial medical nutrition therapy sessions for treatment of diabetes or renal disease should be billed under CPT code 97802 and subsequent medical nutrition therapy sessions should be billed under CPT code 97803. New diagnoses due to a change in medical condition or unanticipated complications should be billed under CPT code 97802 and subsequent medical nutrition therapy sessions should be billed under CPT code 97803.

Response: At the present time, we are requiring that medical nutrition therapy be reported by using CPT codes 97802, 97803, and 97804. We will revisit our coding requirements when we publish the NCD for medical nutrition therapy. The NCD will set forth the structure of the medical nutrition therapy benefit in detail. We will make a decision concerning creation or modification of codes and creation of modifiers for reporting medical nutrition therapy once the NCD has been published. Until the NCD is published, creation or modification of codes and creation of modifiers would be premature. Therefore, we are requiring that the initial individual medical nutrition therapy visit be reported as CPT code 97802 and all follow up visits (for interventions and reassessments) for individual medical nutrition therapy be reported as CPT code 97803. All group medical nutrition therapy visits should be reported as CPT code 97804 whether they are initial or follow up visits.

Comment: Commenters urged us to define medical nutrition therapy descriptors consistently. They stated that the descriptors in Table 5 of the proposed rule should agree with the descriptors in § 414.132.

Response: We agree. We will make the descriptors for medical nutrition therapy consistent with the nomenclature in CPT and our regulations.

Comment: We received a comment that recommended that we consider including additional items in the practice expense inputs for medical nutrition therapy. The commenter indicated that inputs should include staff costs for training on billing procedures, Health Insurance Portability and Accountability Act training, audit expenses, and other costs resulting from Medicare policies and procedures. The commenter indicated that expenses of registered dietitians in private practice differ little from other practitioners.

Response: There are two major data sources used in the practice expense methodology—estimates of direct inputs and aggregate practice expense per hour information from the AMA's Socioeconomic Monitoring Survey. At this time, we are using the practice expense per hour for all physicians to establish the practice expense RVUs for medical nutrition therapy. We are not currently using the estimates of direct expenses for medical nutrition therapy because the services are valued in the no-work pool. However, we are researching alternatives to the no-work pool that would allow all no-work services to be priced under the top-down methodology. If we develop such an alternative, the estimates of direct expenses will be important in determining the RVUs for medical nutrition therapy. Indirect expenses are based on physician work and direct inputs. We believe that many of the costs identified by this commenter are indirect costs that would likely be included in practice expenses reported through the SMS survey. Since the commenter has suggested that practice expenses for private practice registered dietitians differ little from other practitioners, we believe the average practice expense per hour for all physicians is sufficient to use in the practice expense methodology.

Result of Evaluation of Comments

The payment rate we are establishing in this final rule for CPT code 97803 will be the same as the rate for CPT code 97802. We are also changing the payment rate for CPT code 97804 using the assumption that the code will normally be billed for 4 to 6 patients with the average of 5. Using these revised values, the payment rate for group medical nutrition therapy will approximate the hourly rate paid for other medical nutrition therapy services.

F. Telehealth Services

Beginning October 1, 2001, the BIPA amended section 1834 of the Act to specify that we pay a physician (as defined in section 1861(r) of the Act) or a practitioner (described in section 1842(b)(18)(C) of the Act) for telehealth services that are furnished via a telecommunications system to an eligible telehealth individual.

The BIPA defined Medicare telehealth services as professional consultations, office or other outpatient visits, and office psychiatry services identified as of July 1, 2000, by CPT codes 99241 through 99275; 99201 through 99215, 90804 through 90809 and 90862 (and as we may subsequently modify) and any additional service we specify. The BIPA defines an eligible telehealth individual as an individual enrolled under Part B who receives a telehealth service furnished at an originating site.

Section 1834(m) of the Act, as added by the BIPA, limited an originating site to a physician's or practitioner's office, hospital, critical access hospital, rural health clinic, or Federally qualified health center. Additionally, the BIPA specified that the originating site must be located in one of the following geographic areas:

• In an area that is designated as a rural health professional shortage area (HPSA) under section 332(a)(1)(A) of the Public Health Service Act.

• In a county that is not included in a Metropolitan Statistical Area (MSA).

However, an entity participating in a Federal telemedicine demonstration project that has been approved by, or receives funding from us as of December 31, 2000 would not be required to be in a rural HPSA or non-MSA.

The BIPA also required that we pay a physician or practitioner located at a distant site that furnishes a telehealth service to an eligible telehealth beneficiary an amount equal to the amount that the physician or practitioner would have been paid under Medicare had the service been furnished without the use of a telecommunications system.

This section also provided for a facility fee payment for the period beginning October 1, 2001 through December 31, 2002, to the originating site of $20. For each subsequent year, the facility fee for the preceding year is increased by the percentage increase in the MEI as defined in section 1842(i)(3) of the Act. The BIPA also amended section 1833(a)(1) of the Act to specify that the amount paid must be 80 percent of the lesser of the actual charge or the amounts specified in new section 1834(m)(2) of the Act.

In order for us to have this benefit expansion implemented timely, we have used a program memorandum. The program memorandum was effective October 1, 2001. This final rule will be effective January 1, 2002.

The rule published on August 2, 2001 proposed to establish policies for implementing the provisions of section 1834(m) of the Act, as added by the BIPA, that change Medicare payment for telehealth services.

We proposed to revise § 410.78 to specify that Medicare beneficiaries are eligible for telehealth services only if they receive services from an originating site located in either a rural HPSA as defined by section 332(a)(1)(A) of the Public Health Services Act or in a county outside of a MSA as defined by section 1886(d)(2)(D) of the Act.

1. Definitions

Section 1834(m)(4)(F) of the Act, which was added by the BIPA and became effective for services beginning October 1, 2001, defined telehealth services as professional consultations, office and other outpatient visits, individual psychotherapy, pharmacologic management, and any additional service we specify. Additionally, this provision identified covered services by HCPCS codes identified as of July 1, 2000. We proposed to revise § 410.78 to implement this coverage expansion to include the following services (and corresponding CPT codes):

• Consultations (codes 99241 through 99275).

• Office and other outpatient visits (codes 99201 through 99215).

• Individual psychotherapy (codes 90804 through 90809).

• Pharmacologic management (code 90862).

We solicited comments regarding the guidelines that we should use to make additions or deletions of services. We also solicited comments about specific services that may be appropriate to be covered under the Medicare telehealth benefit.

In this final rule, we are specifying at § 410.78 that, except for the use of store and forward technology in the demonstration programs conducted in Alaska or Hawaii, an interactive telecommunications system must be used and the medical examination of the patient must be at the control of the physician or practitioner at the distant site. We are defining interactive telecommunications system as multimedia communications equipment that includes, at a minimum, audio and video equipment permitting two-way, real-time interactive communication between the patient and physician or practitioner at the distant site. We are also specifying that telephones, facsimile machines, and electronic mail systems do not meet the definition of an interactive telecommunications system.

A patient need not be present for a Federal telemedicine demonstration program conducted in Alaska or Hawaii. We are specifying that for Federal telemedicine demonstration programs conducted in Alaska or Hawaii, Medicare payment is permitted for telehealth when asynchronous store and forward technologies, in single or multimedia formats, are used as a substitute for an interactive telecommunications system. Additionally, we are specifying that the physician or practitioner at the distant site must be affiliated with the demonstration program.

We are defining asynchronous, store and forward technologies, as the transmission of the patient's medical information from an originating site to the physician or practitioner at the distant site. The physician or practitioner at the distant site can review the medical case without the patient being present. An asynchronous telecommunications system in single media format does not include telephone calls, images transmitted via facsimile machines, and text messages without visualization of the patient (electronic mail). Photographs must be specific to the patient's medical condition and adequate for rendering or confirming a diagnosis or treatment plan. Finally, we are defining the originating site as the location of an eligible telehealth individual at the time the service being furnished via a telecommunications system occurs.

2. Conditions of Payment

The BIPA changed the telepresenter requirements. In accordance with section 1834(m)(2)(C) of the Act, a telepresenter is not required to be present. Therefore, we would not require a telepresenter as a condition of Medicare payment.

Section 1834(m)(1) of the Act requires that Medicare make payments for telehealth services furnished via a telecommunications system by a physician or a practitioner (described in section 1842(b)(18)(C) of the Act). Non-physician practitioners described in this section of the Act include nurse practitioners, physician assistants, clinical nurse specialists, certified nurse midwives, clinical psychologists, clinical social workers, and certified registered nurse anesthetists or anesthesiologists' assistants. Section 1834(m)(2) of the Act specifies that we pay the physician or practitioner at the distant site who furnishes a telehealth service an amount equal to the amount that the physician or practitioner would have been paid under Medicare had the service been furnished without the use of a telecommunications system.

Certified registered nurse anesthetists and anesthesiologists' assistants would not be permitted to bill for and receive payment for a telehealth service under this provision. Under the Medicare program, these practitioners do not receive payment for office visits, consultation, individual psychotherapy, or pharmacologic management when these services are furnished without the use of a telecommunications system. Section 1834(m)(2) of the Act specifies that we pay to the distant site physician or practitioner an amount equal to what would have been paid for the service without the use of a telecommunications system. Therefore, certified registered nurse anesthetists and anesthesiologists' assistants would not receive payment for telehealth services.

We proposed at § 410.78 that, as a condition of Part B payment for telehealth services, the physician or practitioner at the distant site must be licensed to provide the service under State law.

Section 1834(m)(2)(A) of the Act specifies that the payment amount for the professional service is equal to the amount that would have been paid without the use of a telecommunications system. Medicare payment for physicians' services is generally based, under section 1848 of the Act, on the resource-based physician fee schedule. Payment to other health care practitioners listed earlier, authorized under section 1833 of the Act, is based on a percentage of the physician fee schedule payment amount. Therefore, we will pay for office or other outpatient visits, consultation, individual psychotherapy, and pharmacologic management services furnished by physicians at 80 percent of the lower of the actual charge or the fee schedule amount for physicians' services. We will also pay for services furnished by other practitioners at 80 percent of the lower of the actual charge or that practitioner's respective percentage of the physician fee schedule.

Section 1834(m)(2) of the Act provides for a professional fee for the physician or practitioner at the distant site (equal to the applicable Part B fee schedule amount) and a $20 facility fee for the originating site. Telepresenters are not required, unless one is deemed medically necessary by the physician or practitioner at the distant site. The BIPA does not address the issue of payment for the telepresenter. The Office of the Inspector General has advised us that permitting the physician or practitioner at the distant site to pay the telepresenter creates a significant risk under the anti-kickback statute. Therefore, we establish in § 414.65 that payments made to the distant site physician or practitioner for professional fees, including deductible and coinsurance (for the professional service), are not to be shared with the referring practitioner or telepresenter.

However, the telepresenter could bill and receive payment for services that are not telehealth services that a telepresenter would otherwise be allowed to provide under the Medicare statute, including services furnished on the same day as the telehealth service.

The BBA prohibited any payment for line charges or facility fees associated with a professional consultation via a telecommunications system. Section 1834(m)(2)(B) of the Act, as added by the BIPA, provides for a facility fee payment to the originating site, specifying that the amount of payment is 80 percent of the lesser of the actual charge or a facility fee of $20.00. The BIPA further specifies that, beginning January 1, 2003, the originating facility fee be increased annually by the Medicare Economic Index (MEI) as defined in section 1842(i)(3) of the Act. Additionally, we clarify that the Geographic Practice Cost Index (GPCI) would not apply to the facility fee for the originating site. This fee is statutorily set and is not subject to the geographic payment adjustments authorized under the physician's fee schedule. The beneficiary is responsible for any unmet deductible amount and Medicare coinsurance. We would revise § 414.65 to provide for payment of a facility fee to the originating site.

Section 1834(m)(3) of the Act specifies that sections 1842(b)(18)(A) and (B) apply to physicians and practitioners receiving payment for telehealth services and to originating sites receiving a facility fee, in the same manner as they apply to practitioners. This section requires that payment for such services may only be made on an assignment-related basis. We did not reflect this provision in the proposed rule. Because this requirement is specified in the BIPA and we have no discretion, we are implementing it in this final rule in new § 414.65(d).

Comment: One commenter believed that requiring an originating site to be located in a rural HPSA or non-MSA county would not permit medical practitioners located in urban and suburban areas to offer telehealth services.

Response: We clarify that, as a condition of payment under Medicare, the originating site must be located in a rural HPSA or non-MSA county. The physician or practitioner at the distant site, who provides the telehealth service, is not subject to these limitations. For example, a psychologist in Salt Lake City, Utah would be able to provide a mental health visit to a beneficiary at a physician's office located in a non-MSA county.

Comment: We received various comments on the definition of an originating site. Many commenters believe that the list of facilities eligible to be a telehealth originating site should be expanded beyond those specified in the statute. Specific suggestions were received to include the patient's residence, skilled nursing facilities, nursing homes, and community mental health centers as originating site facilities within this provision. Another commenter suggested that we recommend legislative changes to remove the requirement that an originating site facility be located in a HPSA or non-MSA county.

Moreover, one organization requested that all locations included within the Alaska Native Tribal Health Consortium, including but not limited to outpatient health facilities recognized by the Indian Health Service as tribal health facilities be included as an originating site. The commenter requested that these sites be defined as an originating site regardless of whether they are certified as a Medicare Federally qualified health center or not.

Response: Section 1834(m) of the Act defines an originating site facility to include only a physician's or practitioner's office, hospital, critical access hospital, rural health clinic or Federally qualified health center. Further, the Act specifies that the originating site must be located in a rural HPSA or non-MSA county. We do not have the legislative authority to expand the definition of a telehealth originating site beyond this provision. However, we will be studying this issue as part of a report to the Congress as authorized by section 223(d) of the BIPA.

Comment: One specialty college requested confirmation that the patient's medical information provided via store and forward telehealth is furnished to the physician or practitioner at the distant site in order to recommend or confirm a diagnosis and or treatment plan and not to provide a formal interpretation of imaging exams.

Response: The commenter is correct. Payment for services via store and forward technology under this provision does not include formal interpretation of an imaging exam. Medicare currently allows coverage and payment for medical services delivered via a telecommunications system that do not require a face-to-face “hands on” encounter. Section 2020(A) of the Medicare Carriers Manual addresses this issue and lists radiology, electrocardiogram, and electroencephalogram interpretations as examples of such services.

Comment: In the proposed rule, we requested comments on the guidelines that we should use to make additions or deletions to covered Medicare telehealth services. We also requested suggestions and comments about specific services that may be appropriate for payment under the Medicare telehealth benefit. In response to our solicitation, we received one comment regarding the guidelines we should use to make changes to the scope of Medicare telehealth coverage. Ten commenters provided specific suggestions regarding additional services that may be appropriate for the Medicare telehealth benefit.

Several commenters indicated that a psychiatric diagnostic interview, CPT code 90801, would be appropriate for Medicare telehealth payment. One association stated that the elements of this service are directly comparable to a new patient office visit, which the law defines as a telehealth service. Given that the law permits us to add additional services as appropriate, this commenter suggested that we include a psychiatric diagnostic interview within the definition of a telehealth service. Another association suggested that interactive psychotherapy, CPT codes 90810, 90812 and 90814, should be covered Medicare telehealth services. Interactive psychotherapy uses play equipment, physical devices and other mechanisms of non-verbal communication in an office or outpatient facility.

Several commenters suggested that telerehabilitation interventions that provide education, mentoring and consultation be included within the scope of Medicare telehealth coverage. The commenters specifically note that speech therapy and physical and occupational therapy should be included as telehealth services.

One consortium requested that all services provided under the Federal telehealth project in Alaska be included as covered telehealth services within this provision. The commenter believes that virtually all evaluation & management and psychiatry services should be included as Medicare telehealth services. Additionally, the commenter notes that many respiratory, digestive, ophthalmology and otorhinolaryngology services are appropriate for telehealth coverage.

One organization suggested that we consider guidelines similar to those currently in place for non-telehealth services. For instance, the commenter stated the service should be reasonable and necessary, safe and effective, medically appropriate, and provided within the purview of accepted standards of medical practice. The commenter stresses that the type of technology used to deliver the service should be secondary to the reasonable and necessary criteria.

Response: We will use these comments and suggestions to assist us in establishing guidelines for a telehealth coverage process and the addition of specific telehealth services that may be appropriate for Medicare beneficiaries. However, we do not believe it would be appropriate to expand the scope of telehealth services beyond the services explicitly listed in the Act until we have a process in place for adding new telehealth services.

Comment: With regard to the definition of a “telecommunications system”, one organization encouraged us to permit store and forward technologies in other circumstances beyond federal telemedicine demonstration projects conducted in Alaska or Hawaii. The commenter believes that emphasis should be given to whether a particular service is reasonable and necessary rather than specific technology requirements. Moreover, the commenter stated that the face-to-face requirement is outdated for telehealth as well as other areas of the Medicare fee schedule and suggested that current technology, such as electronic mail, permits physicians to care for their patients even when the patient is not present.

Response: Section 1834(m) of the Act defines a telehealth service as office and other outpatient visits (99201 through 99215), professional consultations (99241 through 99275), individual psychotherapy (90804 through 90809), and pharmacologic management (90862). Further, the law specifies that payment must be equal to what would have been paid without the use of a telecommunications system.

As a condition of payment under Medicare, these services require a face-to-face patient encounter. We believe that the patient's presence and use of an interactive audio and video telecommunications system permitting the distant site practitioner to interact with the patient provides a reasonable substitute for a face-to-face encounter. The law provides for the use of asynchronous, store and forward technologies for delivering telehealth services only for telemedicine demonstration projects conducted in Alaska or Hawaii. We do not have the authority to expand the use of store and forward technology in delivering telehealth services.

Comment: One organization in a remote region requested that a definition of a telepresenter be added to § 410.78. The commenter suggested we permit a certified community health aid to present a patient when the aide is the only medical professional available to act as a telepresenter.

Response: The physician or practitioner at the distant site has the authority to determine whether it is medically necessary to require a telepresenter and, if necessary, the appropriate medical professional needed to present the patient. We do not believe it is appropriate for us to specify the type of medical professionals that are necessary to act as a telepresenter.

Comment: We received conflicting comments concerning interstate telehealth services. One organization requested that we require the physician or practitioner at the distant site to be licensed in the State where the originating site is located. On the other hand, an association requested clarification that the physician or practitioner at the distant site only needs to be licensed in the State where he or she is located and does not need to be licensed in the State where the originating site is located. Another commenter requested that we clarify that the service is considered rendered where the distant site physician or practitioner is located.

Response: We defer to State law regarding licensure issues. When the State law for the originating site permits an out-of-State practitioner to provide a telehealth service, without being licensed in the State in which the originating site is located, Medicare would make payment for the telehealth service. However, when State law precludes an out-of-State practitioner from delivering a telehealth service, Medicare would not pay for that service.

We clarify that for payment purposes, the site of service for the telehealth service is the location of the physician or practitioner at the distant site. Given that section 1834(m) of the Act specifies that payment to the physician or practitioner at the distant site must be equal to the amount that would have been paid without the use of telehealth, it is appropriate to use the Geographic Practice Cost Index (GPCI) relevant to the distant site. However, our determination of the distant site physician's or practitioner's location as the site of service for Medicare payment is not intended to make a comment regarding the scope of medical practice.

Comment: One consortium believes that the proposed rule would not permit the physician or practitioner at the distant site to bill for a telehealth service when State or Federal law exempts a physician or practitioner from being licensed in the State in which he or she is currently employed. The consortium is a Federal telemedicine demonstration project that would be permitted to use store and forward telecommunications technologies in delivering telehealth services. The commenter notes that the State of Alaska exempts physicians or practitioners who are part of the military or Public Health Service that provide health care services in Alaska from its licensure requirements. Further, the commenter stated that Federal law authorizes health care professionals who are members of the military providing services for the Department of Defense to practice in any State provided the professionals are licensed in a State, the District of Columbia or other specific locations. The commenter also noted that current Medicare manual instructions specify that when a physician in a Federal hospital provides services to the public generally as a community institution, he or she may be considered as meeting the statutory definition of a physician even though he or she may not have a license to practice in the State in which he or she is employed.

Response: The telehealth provision does not affect State or Federal legislation providing certain physicians or practitioners an exemption from State licensure. When Federal or State law exempts a physician or practitioner from State licensure, then the physician or practitioner at the distant site is permitted to provide a telehealth service regardless of whether he or she is licensed within the State where he or she is employed.

Comment: One organization requested that § 414.65(a)(2) be revised to specify for what services the physician or practitioner who presents the patient could bill. The commenter believes that when the physician at the distant site determines that it is medically necessary for another practitioner to assist in providing the telehealth service, the telepresenter should be compensated. The commenter suggested that a telepresenter be permitted to bill for a consultation or confirmatory consultation.

Response: On the day the telehealth service occurs, the telepresenter may bill and receive payment for services that are not telehealth services that he or she would otherwise be allowed to provide under Medicare. A telepresenter, for example, a nurse practitioner, could bill for and be paid for a medically necessary office, outpatient or inpatient visit preceding or subsequent to a telehealth service. Additionally, the telepresenter could be paid for other medically necessary services requested by the physician or practitioner at the distant site. However, the physician at the distant site may not share any portion of the telehealth payment with the telepresenter or referring practitioner. We do not agree that § 414.65(a)(2) should be changed to specify the services for which a telepresenter can and cannot bill. This section implements payment for telehealth services only, and the Act does not provide for a payment to the telepresenter for telehealth services.

Comment: Many organizations and individual commenters expressed overall support for the revision of Medicare payment for telehealth. Specifically, commenters mentioned removal of the fee sharing requirement, relaxed conditions of payment, and the addition of non-MSA counties to the geographic areas eligible for telehealth under Medicare. The commenters noted that these changes will have a positive effect on health care delivery and will help provide services to areas where specialty care is sparse.

Response: We agree that the proposed revisions to Medicare telehealth coverage and payment policies, as authorized by the BIPA, remove significant barriers for physicians and practitioners wishing to provide telehealth services.

Comment: One commenter indicated that the cost of collecting the coinsurance for the originating site facility fee could easily exceed the amount the facility would collect from the beneficiary. The commenter encouraged us to permit originating sites to waive the coinsurance in those situations where the telehealth facility charge is the only amount to be billed to the beneficiary.

Response: We do not have the authority to eliminate the coinsurance requirement outright for telehealth originating sites. However, Medicare permits the waiver of coinsurance for limited situations. Section 5220 of the Medicare Carriers Manual specifies that physicians and suppliers may waive billing for or collection of coinsurance or deductibles for indigent patients or when the physicians' or suppliers' cost of billing or collecting exceeds or is disproportionate to the amounts to be collected. Documentation must be sufficient to support that costs for billing the beneficiary exceed or are disproportionate to the amount collected from the beneficiary. In this instance, the amount collected refers to 20 percent of the originating site telehealth facility fee.

We clarify that when the patient owes additional coinsurance to the originating site for other Medicare services, billing for the telehealth facility fee coinsurance amount may be consolidated with the coinsurance amount owed for those services. We believe that this would resolve the commenter's concern that the cost for billing and or collecting the coinsurance for a single facility fee could exceed or be disproportionate to the amount collected from the beneficiary.

Comment: One association submitted a number of comments that have payment implications for the Federally qualified health center benefit.

Response: These issues involve specific aspects of the Federally qualified health center payment methodology and are beyond the scope of this provision. We will take these comments into consideration in formulating future instructions for payment implications on FQHCs.

Result of Evaluation of Comments

We are implementing this provision as stated above.

G. Indian Health Service

The Indian health care system provides primary health care to many American Indian and Alaska Native Medicare beneficiaries. This system consists of programs operated by a Federal agency, the Indian Health Service (IHS), and Federally funded programs operated by Indian tribes, tribal organizations, and urban Indian organizations (as those terms are defined in section 4 of the Indian Health Care Improvement Act). These programs deliver a range of clinical and preventive health services to their beneficiaries through a network of facilities including hospitals and outpatient clinics. Programs operated in IHS-owned or leased facilities, by IHS or by tribes or tribal organizations, are considered “Federal providers” by Medicare. Sections 1814(c) and 1835(d) of the Act generally prohibit payment to Federal providers, subject to exceptions contained in section 1880 of the Act for these IHS facilities. Before enactment of the BIPA, the exception in section 1880 of the Act was applicable only to IHS owned or leased hospitals, provider-based clinics, and skilled nursing facilities (regardless of whether the entity is tribally operated). The exception did not permit Medicare to pay for services furnished by IHS owned or leased free-standing outpatient clinics or to pay any IHS owned or leased facilities for services by physicians and other practitioners paid under a fee schedule.

Effective July 1, 2001, section 432 of the BIPA extends the exception in section 1880 of the Act to permit Medicare payments to hospitals and outpatient clinics (provider-based or free-standing), operated by the IHS or by a tribe or tribal organization, for services furnished by physicians and specified non-physician practitioners in or at the direction of the hospital or outpatient clinic. Payments for these services are made to the hospital or outpatient clinic, not to the physician or other practitioner. These payments are subject to the same situations, terms, and conditions as would apply if the services were furnished in, or at the direction of, a hospital or outpatient clinic that is not operated by the IHS or by a tribe or tribal organization. The payments include incentive payments for physicians furnishing covered physicians' services in rural or urban health professional shortage areas (HPSAs) if the usual HPSA criteria are met. (For further information see section 1833 of the Act and § 414.42 of our regulations.) Payments will not be made under these provisions to the extent that Medicare is otherwise paying for the same services under other provisions (for example, as part of a bundled payment, or if a tribal outpatient clinic continues to bill as a Federally qualified health center (FQHC)).

We have added a new § 410.46 to our regulations to reflect this new statutory provision. Due to the statutory effective date of July 1, 2001, we implemented this BIPA provision through program memorandum instructions.

Result of Evaluation of Comments

We received no comments on the statutory requirement to pay Indian Health Service and tribal hospitals and clinics for the services of physicians and other practitioners under Medicare fee schedules.

H. Pathology Services

The November 2, 1999 final rule (64 FR 59380) provided that, for services furnished on or after January 1, 2001, carriers would no longer pay claims to independent laboratories under the physician fee schedule for the technical component (TC) of physician pathology services for hospital inpatients. Before that rule, independent laboratories could bill the carrier under the physician fee schedule for the TC of a physician pathology service furnished to a hospital inpatient. Also, under that rule, independent laboratories would still have been able to bill and receive payment for the TC of physician pathology services furnished to patients who are not hospital inpatients.

Section 542 of the BIPA requires the Medicare carrier to continue to pay for the TC of physician pathology services when an independent laboratory furnishes these services to an inpatient or outpatient of a covered hospital. The BIPA provisions apply to TC services furnished during the 2-year period beginning January 1, 2001 and continuing through December 31, 2002. We informed the carriers and the intermediaries of this provision through program memorandum AB-01-47, which was issued in March 2001. This program memorandum requested the carriers to notify independent laboratories of this provision in their next regularly scheduled bulletin and to place this bulletin on their Internet web site. In the absence of further legislation, the policy of the November 1999 final rule will take effect for the TC of physician pathology services furnished to hospital patients after December 31, 2002. We have revised § 415.130 to conform to the statutory change in section 542 of BIPA concerning the payment for the TC of physician pathology services.

Result of Evaluation of Comments

We have received no comments on this issue.

IV. Five-Year Review of Work Relative Value Units Under the Physician Fee Schedule; Responses to Public Comments on the Five-Year Review of Work Relative Value Units

A. Scope of Five-Year Review

This final rule includes the culmination of the 5-year review of work RVUs required by statute. The work RVUs affected by this review will be effective for services furnished beginning January 1, 2002.

In our June 8, 2001 proposed notice (66 FR 31028), we explained the process used to conduct the 5-year review of work RVUs. During the comment period we received approximately 35 public comments on approximately 900 codes. After review by our medical staff, we forwarded all of the comments we received concerning potentially misvalued services to the AMA's Specialty Society Relative Value Update Committee (RUC).

The RUC submitted work RVU recommendations for all of the codes we forwarded with the exception of the anesthesia codes and conscious sedation codes. We analyzed all of the RUC recommendations and evaluated both the recommended work RVUs and the rationale for the recommendations. If we had concerns about the application of a particular methodology, but thought the recommended work RVUs were reasonable, we verified that the recommended work RVUs were appropriate by using alternative methodologies. (For additional information on the review process, please see the proposed notice published June 8, 2001.)

B. Review of Comments (Includes Table 4 Work RVU Refinements of 5-Year Review Codes Commented on in Response to the June 8, 2001 Proposed Notice)

During the comment period for our June 8, 2001 proposed notice, commenters generally supported our proposed changes. We received more than 125 comments on approximately 39 specific codes plus all the anesthesia services. The majority of these comments addressed the gastrointestinal endoscopy codes and anesthesia services.

We convened a multispecialty panel of physicians to assist us in the review of the comments. The comments we did not submit for panel review are discussed at the end of this section. The panel was moderated by our medical staff and consisted of:

• Clinicians representing the commenting specialties, based on our determination of those specialties which are most identified with the services in question. Although commenting specialties were welcomed to observe the entire refinement process, they were only involved in the discussion of those services for which they were invited to participate.

• Primary care clinicians nominated by the American Academy of Family Physicians and the American College of Physicians and American Society of Internal Medicine.

• Four carrier medical directors.

• Four clinicians with practices in related specialties who had knowledge of the services under review.

We submitted 6 codes for evaluation by the panel. The panel discussed the work RVUs involved in each procedure under review in comparison to the work RVUs associated with other services on the fee schedule. We assembled a set of reference services and asked each panel member to compare the clinical aspects for the services they believed were incorrectly valued to one or more of the reference services. In compiling the reference set, we attempted to include—(1) services that are commonly performed whose work RVUs are not controversial; (2) services that span the entire work spectrum from the easiest to the most difficult; and (3) at least three services performed by each of the major specialties so that each specialty would be represented. The reference set listed over 300 services. Group members were encouraged to make comparisons to these reference services. The intent of the panel process was to capture each participant's independent judgement based on the discussion and his or her clinical experience. Following each discussion, each participant rated the work for the procedure. Ratings were individual and confidential; there was no attempt to achieve consensus among the panel members.

We then analyzed the ratings based on a presumption that the RVUs in the proposed notice were correct. To overcome this presumption, the inaccuracy of the proposed RVUs had to be apparent to the broad range of physicians participating in each panel.

Ratings of work were analyzed for consistency among the groups represented on each panel. We used statistical tests to determine whether there was enough agreement among the groups on the panel, and whether the agreed-upon RVUs were significantly different from the proposed RVUs published in the June 8, 2001 proposed notice. We did not modify the RVUs unless there was a clear indication for a change. If there was agreement across groups for change, but the groups did not agree on what the new RVUs should be, we eliminated the outlier group, and looked for agreement among the remaining groups as the basis for new RVUs. We used the same methodology in analyzing the ratings that we first used in the refinement process for the 1993 fee schedule. The statistical tests we used are described in detail in the November 25, 1992 final rule (57 FR 55938).

Our decision to convene a multispecialty refinement panel of physicians and to apply the statistical tests referred to above was based on our need to balance the interests of those who commented on the work RVUs against the redistributive effects that would occur in other specialties. Of the 6 codes reviewed by the multispecialty panel, all were the subject of requests for increased values.

We also received comments that we did not submit to the panels for a variety of reasons. These comments are discussed later in this section. Of the proposed codes that were reviewed, 3 increased, and 3 were not changed.

Table 4.—Work Relative Value Unit Refinements of Five-Year Review Codes Commented on in Response to the June 8, 2001 Proposed Notice

Table 4 lists the codes reviewed during the 5-year review on which we received comments. This table includes the following information:

• CPT/HCPCS Code. This is the CPT or alphanumeric HCPCS code for a service.

• Modifier. A modifier-26 is shown if the work RVUs represent the professional component of the service.

• Description. This is an abbreviated version of the narrative description of the code.

• Proposed Work RVUs. This column includes the work RVUs proposed in the June 8, 2001 proposed notice for each reviewed code.

• Requested Work RVUs. This column identifies the work RVUs requested by the commenters. If the commenters requested different RVUs, the table lists the highest requested RVUs. For some codes we received recommendations for an increase but no specific RVUs were recommended.

• RUC Recommendation. This column identifies the work RVUs recommended by the RUC if the RUC made a specific work value recommendation as part of its comments on the June 8, 2001 proposed notice.

• 2002 Work RVUs. This column contains the 2002 work RVUs.

• Basis for Decision. This column indicates whether:

+ The recommendations of the multispecialty refinement panel were the basis upon which we determined that the proposed work RVUs published June 8, 2001 should be retained (indicator 1).

+ A new value emerged from our analysis of the refinement panel ratings (indicator 2).

+ A new or retained value came from review of the comment(s) received (indicator 3).

+ A new value came from the need to make a rank-order change to maintain or correct existing relationships among services (indicator 4).

+ A value is retained and the code has been referred to the RUC (indicator 5).

+ There is no change in value but we have adjusted the global period (indicator 6).

Table 4.—Work RVU Refinements of the Five-Year Review Codes Commented on in Response to June 8, 2001 Proposed Notice
CPT/HCPCS Code ¹ | Mod | Descriptor | Proposed Work RVU | Requested Work RVU | RUC REC | 2002 Work RVU | Basis for decision
00100-01999 |  | Anesthesia services | (²) | (³) |  | (²) | #5
11055 |  | Trim skin lesion | 0.27 | 0.43 |  | 0.43 | #3
11056 |  | Trim skin lesion, 2 to 4 | 0.39 | 0.61 |  | 0.61 | #3
11057 |  | Trim skin lesions, over 4 | 0.50 | 0.79 |  | 0.79 | #3
11719 |  | Trim nail(s) | 0.11 | 0.17 |  | 0.17 | #3
27286 |  | Fusion of hip joint | 23.45 |  |  | 23.45 | #4
36400 |  | Drawing blood | 0.18 | 0.38 |  | 0.38 | #2
36405 |  | Drawing blood | 0.18 | 0.32 |  | 0.31 | #2
38510 |  | Biopsy/removal, lymph nodes | 6.43 |  |  | 6.43 | #6
38571 |  | Laparoscopy, lymphadenectomy | 12.38 | 19.84 |  | 14.68 | #2
38740 |  | Remove armpit lymph nodes | 10.02 | 10.03 |  | 10.03 | #3
38745 |  | Remove armpit lymph nodes | 13.00 | 13.10 |  | 13.10 | #3
38760 |  | Remove groin lymph nodes | 12.94 | 12.95 |  | 12.95 | #3
39503 |  | Repair of diaphragm hernia | 34.85 | 95.00 |  | 95.00 | #3
43219 |  | Esophagus endoscopy | 2.80 | 3.18 |  | 2.80 | #3
43239 |  | Upper GI endoscopy, biopsy | 2.69 | 2.87 |  | ¹ 2.87 | #3
43244 |  | Upper GI endoscopy/ligation | 4.59 | 5.05 |  | 5.05 | #3
43247 |  | Operative upper GI endoscopy | 3.39 | 3.40 |  | 3.39 | #3
43249 |  | Esoph endoscopy, dilation | 2.90 | 3.25 |  | 2.90 | #3
43255 |  | Operative upper GI endoscopy | 4.40 | 4.82 |  | 4.82 | #3
43259 |  | Endoscopic ultrasound exam | 4.89 | 6.53 |  | 4.89 | #3
43263 |  | Endo cholangiopancreatograph | 6.19 | 7.29 |  | 7.29 | #3
43265 |  | Endo cholangiopancreatograph | 8.90 | 10.02 |  | 10.02 | #3
43269 |  | Endo cholangiopancreatograph | 6.04 | 8.21 |  | 8.21 | #3
44388 |  | Colon endoscopy | 2.82 | 3.24 |  | 2.82 | #3
44389 |  | Colonoscopy with biopsy | 3.13 | 3.54 |  | 3.13 | #3
44390 |  | Colonoscopy for foreign body | 3.83 | 4.25 |  | 3.83 | #3
44391 |  | Colonoscopy for bleeding | 4.32 | 5.25 |  | 4.32 | #3
44392 |  | Colonoscopy and polypectomy | 3.82 | 4.23 |  | 3.82 | #3
44393 |  | Colonoscopy, lesion removal | 4.84 | 5.79 |  | 4.84 | #3
45380 |  | Colonoscopy and biopsy | 4.01 | 4.44 |  | ¹ 4.44 | #3
49605 |  | Repair umbilical lesion | 22.66 | 76.00 |  | 76.00 | #3
56515 |  | Destruction, vulva lesion(s) | 2.76 | 3.63 |  | 2.76 | #1
56605 |  | Biopsy of vulva/perineum | 1.10 |  | 1.10 | ⁴ 1.10 | #3
56810 |  | Repair of perineum | 4.13 |  | 4.13 | ⁴ 4.13 | #3
57500 |  | Biopsy of cervix | 0.97 |  |  | 0.97 | #5
58100 |  | Biopsy of uterus lining | 0.71 |  | 1.53 | ⁴ 1.53 | #3
76090 |  | Mammogram, one breast | 0.70 | 0.93 |  | 0.70 | #1
76091 |  | Mammogram, both breasts | 0.87 | 1.10 |  | 0.87 | #1
G0127 |  | Trim nail(s) | 0.11 |  |  | 0.17 | #3
¹ All CPT codes and descriptors copyright 2000 American Medical Association.
² No change.
³ 26% incr.
⁴ RVUS to remain interim for 2002.

C. Discussion of Comments by Clinical Area

In this section, we discuss the comments we received on the 39 codes of the more than 900 codes for which we sought public comment. For the codes for which we did not receive any comments, our proposed RVUs are being made final. We have categorized the comments into the same clinical areas we used in the June 8, 2001 notice. Within each clinical area, listed below, we discuss the comments received in CPT code order.

1. Vascular Surgery

Comment: The American Association for Vascular Surgery and the Society for Vascular Surgery expressed appreciation that we agreed with the RUC recommendations for work RVUs for the vascular surgery codes reviewed under the second 5-year review. However, it indicated that some of these services may still be undervalued. It will be reviewing these services as well as a small number of vascular surgery services that were not submitted this year and possibly submit these under the next 5-year review.

Response and final decision: We will finalize the RVUs for the vascular surgery codes as proposed.

2. General Surgery and Colon and Rectal Surgery

Family 2 Lymphadenectomy

Comment: The American College of Surgery (ACS) was supportive of the work performed by CMS medical officers to ensure that rank order anomalies were eliminated from 6 families of codes where acceptance of the RUC recommendations would create distortions in family work value relativity and the rest of the physician fee schedule.

The ACS pointed out a typographical error in the proposed notice. For Family 2 Lymphadenectomy, CMS disagreed with the RUC, and stated that the median survey result of 13 is appropriate for CPT code 38745. The ACS commented that the survey median is actually 13.10. The correction of this error would lead to increases for related family codes 38740 (from 10.02 to 10.03) and 38760 (from 12.94 to 12.95).

Response and final decision: We agree with the commenter's response and will adjust the work values for CPT code 38740 to 10.03; for CPT code 38745 to 13.10; and for CPT code 38760 to 12.95.

Family 3 Lymph Nodes and Lymphatic Channels—Incision/Excision

Comment: The American Academy of Otolaryngology recommended that CMS change the global surgical period of CPT code 38510 from 90 days to 10 days following the RUC survey data for this CPT code. It alleges that there were no postoperative visits beyond 10 days associated with this procedure for the relative work established.

Response: The RUC valued this service based on the fact that it is typically furnished to an outpatient. The value of a hospital discharge day was subtracted from the median survey value. The median survey value is based on one followup office visit. We believe there is merit to the group's point and will change the global period from 90 days to 10 days.

3. Thoracic Surgery

Comment: The Society of Thoracic Surgeons expressed appreciation that we had accepted the RUC recommendations for corrections to work values of many thoracic and cardiac procedures.

Response and final decision: We will finalize the RVUs for these codes as proposed.

4. Orthopedic Surgery

We received no comments on these codes. Therefore, we will finalize all of the proposed work RVUs for the orthopedic surgery codes. We would also note that, in the June rule, we proposed to correct a rank order anomaly by increasing values for CPT code 27286. This code, however, was inadvertently omitted from the table and addendum; it is included in Table 4 and Addendum A of this final rule.

5. Ophthalmology

We received no comments on these codes. Therefore, we will finalize all of the proposed work RVUs for the ophthalmology codes.

6. Urology

We received no comments on these codes. Therefore, we will finalize all of the proposed work RVUs for the urology codes.

7. Obstetrics/Gynecology

CPT Code 38571, Laparoscopy, Surgical; With Bilateral Total Pelvic Lympadenectomy

Comment: The Society of Gynecologic Oncologists (SGO) stated that, while we had proposed an increase for CPT code 38572, an increase was not proposed for CPT code 38571. The SGO believes that both of these codes are undervalued based on insufficient work RVUs being assigned for the laparoscopy with bilateral total pelvic lymphadenectomy procedure, which is common to both codes. It requested that a proportional increase in work RVUs be made for CPT 38571 as well.

Response: We accepted the RUC recommendation that no increase be made in the work RVU for this service based on the lack of compelling evidence to support an increase, and we had proposed retaining the current work RVU for this service. However, based on the comments received, we referred this code to a multispecialty refinement panel for review.

Final decision: As a result of our analysis of the multispecialty refinement panel ratings, we are increasing the work RVUs for CPT code 38571 to 14.68 work RVUs.

CPT Code 56515, Destruction of Lesion(s), Vulva; Extensive, Any Method

Comment: For CPT code 56515, SGO disagreed with the rationale that CPT codes 56515 and 46924 have comparable physician and intraservice work time. It indicated that CPT code 56515 involves lasering a much larger area; therefore, the amount of intraservice time and the number of postoperative visits can be significantly higher.

Response: We had accepted the RUC recommendation of 2.76 work RVUs for this code which was lower than the 3.625 which had been requested by the specialty. Based on the comments received, we referred this code to a multispecialty refinement panel for review.

Final decision: As a result of our analysis of the refinement panel ratings, we are retaining the work RVU of 2.76.

CPT Code 57500, Biopsy, Single or Multiple, or Excision of Lesion, With or Without Fulguration (Separate Procedure)

Comment: In addition to comments on the 2 codes referenced above, SGO also recommended that, while CPT code 57500 was not considered part of the 5-year review, this gender-specific code be forwarded to the RUC for evaluation. It believes the amount of physician time and level of pre- and postoperative work for this procedure is similar to that for the male-specific procedures of CPT code 54100 (Biopsy of penis (separate procedure)), and CPT code 54505 (Biopsy of testis, incisional (separate procedure)), and thus the physician work for CPT code 57500 should be increased.

Response and final decision: We will refer this code to the RUC for review.

Comment: In our June 8, 2001 proposed notice, we also stated that we referred three female-specific procedure codes that appeared to be misvalued to the RUC for review. As part of its comments on the proposed notice, and in response to our request to review these services, the RUC has provided recommendations on work RVUs for the three codes as follows:

• CPT code 56605, Biopsy of vulva or perineum (separate procedure); one lesion.

The RUC stated that this code was reviewed during the first 5-year review and was increased at that time to double the original work RVU for CPT code 56605. While the current work RVU for this code is less than CPT code 54100, Biopsy of penis (WRVU 1.90), the structure of CPT code 56605 allows additional reporting when more than one lesion is biopsied, while the penile code (54100) may be only reported once, regardless of the number of biopsies. The RUC recommended that the current work RVU of 1.10 be maintained for CPT code 56605.

• CPT code 56810, Perineoplasty, repair of perineum, nonobsterical (separate procedure).

The RUC indicated that the specialty stated that this service may be undervalued; however, perineoplasty is performed so rarely as a separate procedure that it would be difficult to obtain valid survey data to appropriately value this service. In addition, the specialty is currently considering CPT revisions to this family of codes and will review this issue at that time. The RUC recommended that the current work RVU of 4.13 be maintained for the service.

• CPT code 58100, Endometrial sampling (biopsy) with or without endocervical sampling (biopsy), without cervical dilation, any method (separate procedure).

The RUC indicated that, based on a review of survey data, CPT code 58100 is undervalued. The RUC compared this code to CPT code 55700 and determined that these 2 services are similar in time and intensity. The RUC also agreed that 58100 is more work than the reference procedure, CPT code 57505, and recommended an increase in the work RVU for CPT code 58100 to 1.53. The RUC also provided refinements to the practice expense inputs for this code.

Response and final decision: We agree with the RUC recommendations for these three codes and will maintain the current work RVUs of 1.10 for CPT code 56605 and 4.13 for CPT code 56810 and increase the work RVUs for CPT code 58100 to 1.53. Because the public has not had a chance to comment on these work RVUs, we will consider them to be interim and will accept comments on values for these 3 codes.

8. Gastroenterology

In the June 8, 2001 proposed notice, we explained that, for the selected series of gastrointestinal endoscopy codes for the 5-year review, the RUC recommended increases in work RVUs for some of the codes and no change in work for other codes. While some of these endoscopy codes may be misvalued, we proposed to keep all work RVUs for gastrointestinal endoscopy codes unchanged. We also requested that the RUC perform a comprehensive review of all gastrointestinal endoscopy codes to ensure that all codes are properly valued and that no rank-order anomalies within and across specialties are created or exacerbated.

With respect to the RUC recommendation concerning permitting separate reporting and payment of conscious sedation codes 90141 and 90142, we stated we would be reviewing data concerning this issue. Any proposal we would have concerning payment and reporting of conscious sedation codes would be the subject of future rulemaking.

Comment: Many physicians and several medical organizations expressed concern about our decision to propose no changes for the 17 endoscopy codes for which the RUC had recommended increases. The American Society for Gastrointestinal Endoscopy, the American College of Gastroenterology, and the American Gastroenterological Association provided an extensive discussion on each of the codes which we will summarize and respond to below.

CPT Code 43219, Esophagoscopy, Rigid or Flexible; With Insertion of Plastic Tube or Stent

The RUC recommended an increase in work RVUs from 2.8 to 3.18 for CPT code 43219 based upon the increased complexity of the condition of the patients receiving these stents. We proposed to maintain the current work RVUs due to our concerns about creating rank order anomalies in the fee schedule.

Comment: We received comments regarding this code from several societies representing gastroenterologists who said that the incremental work involved with esophageal stent placement, presently valued at 1.21 RVUs, should be increased to 1.59 RVUs. The commenters agreed with CMS that several other stent codes were recently reviewed by the RUC and valued using the incremental work value of 1.21 RVUs. Increasing the incremental work value for CPT code 43219 to 1.59 RVUs would result in rank order anomalies for several codes. The commenters acknowledged that these anomalies resulted from the timing of the 5-year review and the valuation of new stent placement codes. In spite of this, the commenters felt the RUC-recommended value was appropriate.

Response: We feel the current work increment of 1.21 RVUs for placement of a stent over the base code 43200 is the appropriate value when assessing incremental work. We do not agree that the incremental work for stent placement should be increased to 1.59 RVUs. The upper GI endoscopy base CPT code 43235 has RVUs of 2.39 and CPT code 43256, upper GI endoscopy with stent placement (including predilation) has work RVUs of 4.35. This results in an incremental value of 1.96 RVUs which includes placement of the stent (1.21 RVUs) and predilation (0.75 RVUs).

Furthermore, diagnostic bronchoscopy, CPT code 31622, has work RVUs of 2.78, and bronchoscopy with tracheal dilation and placement of a tracheal stent (CPT code 31631) has an RVU of 4.37. This means that the incremental work value for tracheal dilation and stent placement is 1.59 RVUs which is significantly less than the work increment of 1.96 listed for CPT code 43256. We also note that CPT code 43219 will be billed with CPT code 43226 (dilation of the esophagus over a guidewire) which has an incremental value of 0.75 work RVUs. This means that when an esophageal stent is placed, the total work value is 1.59 (base code) plus 1.21 (stent placement) plus 0.75 (dilation) for a total of 3.55 RVUs.

More important, the incremental work of placing the stent is 1.96 RVUs which is similar to the incremental work of placing a stent elsewhere in the GI tract and more than the incremental work of placing a stent in the trachea. Increasing the incremental work of placing an esophageal stent to 1.59 RVUs from 1.21 would create a significant rank order anomaly in the physician fee schedule because esophageal stent placement would be valued more than stent placement elsewhere.

Lastly, we note that less work is required to place a plastic stent than to place a wire stent. Both, however, are coded using CPT code 43219 and are valued similarly. For these reasons, we have decided to maintain the current RVUs of 2.80 for this code, and we would like the RUC to review all of the GI endoscopic stent placement codes and all of the GI endoscopic dilation codes simultaneously. Because these services are performed by gastroenterologists and various surgical specialties (general surgery, thoracic surgery, otolaryngology, and colorectal surgery), the RUC should obtain input from all specialties performing these services.

CPT Code 43239, Upper Gastrointestinal Endoscopy Including Esophagus, Stomach, and Either the Duodenum and/or Jejunum as Appropriate, With Biopsy, Single or Multiple

The RUC recommended an increase in work RVUs from 2.69 to 2.87 based on an increase in the number of biopsies obtained during each procedure. The RUC also stated that technological advances allowing for greater precision and detail in finding abnormalities have increased the complexity of this service. The RUC also stated that technological advances have allowed results to be reported more quickly which increases the postservice work because biopsy information and treatment guidance are conveyed to the patient the same day as the procedure. We disagreed, and in the June rule we proposed to maintain the current work RVUs.

Comment: We received comments from several societies representing gastroenterologists and the following concerns were expressed: First, they did not feel that the work of performing biopsy procedures at different sites in the GI tract was the same. They commented that biopsy of lesions in different anatomic sites required different amounts of work. Second, they felt that even though CPT code 43239 was used to report both single and multiple biopsies, the typical patient requires multiple biopsies.

Response: We reviewed these comments and compared the intraservice time for this procedure to other endoscopic biopsy procedures and we have decided to accept the RUC recommendations for this code. However, we are making this value interim. Please see the discussion under CPT code 45380 regarding this issue.

CPT Code 43244, Upper Gastrointestinal Endoscopy Including Esophagus, Stomach, and Either the Duodenum and/or Jejunum as Appropriate; With Band Ligation of Esophageal and or Gastric Varices; CPT Code 43255, Upper Gastrointestinal Endoscopy Including Esophagus, Stomach, and Either the Duodenum and/or Jejunum as Appropriate; With Control of Bleeding, Any Method

The RUC recommended an increase in work RVUs for CPT code 43255 from 4.4 to 4.82 work RVUs, based on the use of new technology, such as lasers, to control bleeding. The RUC also recommended an increase in work RVUs for CPT code 43244 from 4.59 to 5.05 RVUs, based on the increased number of bands typically used to treat esophageal varices. We disagreed and proposed to maintain the current work RVUs.

Comment: We received comments from several societies representing gastroenterologists and the following concerns were expressed: First, they felt that we had incorrectly determined that these two services should be valued identically because the RUC stated that they were “similar” in terms of work. Second, although they acknowledged that the use of cautery to control bleeding is not new, they said that the service is undervalued irrespective of which method is used to control bleeding.

Response: We reviewed these comments and compared the intraservice time to other similar procedures and have decided to accept the RUC recommendations for the above CPT codes.

CPT Code 43247, Upper Gastrointestinal Endoscopy Including Esophagus, Stomach, and Either the Duodenum and/or Jejunum as Appropriate; With Removal of Foreign Body

The RUC recommended an increase in work RVUs for this CPT code from 3.39 to 3.59 work RVUs, based on increased complexity of patients undergoing this procedure with a concomitant increase in risk of morbidity. We disagreed and proposed to maintain the current work RVUs.

Comment: We received comments from several societies representing gastroenterologists with the following concerns: First, they felt the increase in the work RVU for this procedure was justified because the procedure is usually performed under emergent conditions. Second, they did not favor uniform incremental work values for removal of foreign bodies from different sites in the gastrointestinal tract.

Response: The RUC used a building-block approach to validate its acceptance of the median work RVUs from the survey. We do not believe the approach used by the RUC is valid for this CPT code. We compared this service to other similar services and continue to believe that the RUC recommendation does not represent the appropriate work increments for foreign body removal from various gastrointestinal sites. Furthermore, it would create a clear rank-order anomaly with CPT code 43215 that should have an identical work increment. Therefore, we will maintain the current work RVUs for this procedure. If the RUC reviews this service again, we ask that all GI endoscopic services for removal of foreign bodies be included in the review.

CPT Code 43249, Upper Gastrointestinal Endoscopy Including Esophagus, Stomach, and Either the Duodenum and/or Jejunum as Appropriate; With Balloon Dilation

The RUC recommended an increase from 2.9 to 3.35 work RVUs for this CPT code based on increased complexity of the condition of patients undergoing this procedure. We disagreed and proposed to maintain the current work RVUs.

Comment: We received comments from several organizations representing gastroenterologists who felt the increase in incremental work value was justified based on their survey. However, they admitted that revaluing CPT code 43249 would create a rank order anomaly with CPT code 43220, an identical procedure. They stated that CPT code 43220 is also undervalued.

Response: The current work increment for “balloon dilation of esophagus (less than 30mm diameter)” is 0.51 RVUs for both the esophagus and upper gastrointestinal endoscopy families. Since this is the same procedure in both families, it is unclear why the work should be increased for the upper gastrointestinal family only. This would create a rank-order anomaly. We have decided to maintain the current work RVUs for CPT code 43249. We plan to ask the RUC to review the incremental work RVUs for both CPT code 43249 and CPT code 43220.

CPT Code 43259, Upper Gastrointestinal Endoscopy Including Esophagus, Stomach, and Either the Duodenum and/or Jejunum as Appropriate; With Endoscopic Ultrasound Examination

The RUC recommended an increase in work RVUs from 4.59 to 8.59 based on the complexity of the equipment and the skill and judgement required. The RUC also noted that the survey results supported this procedure as requiring more work than CPT code 43260—diagnostic endoscopic retrograde cholangio-pancreatography (ERCP)—which has 5.96 work RVUs.

Comment: We received comments from several societies representing gastroenterologists who agreed with us that the RUC values for the new endoscopic ultrasound codes (EUS) were inconsistent with the value recommended by the RUC for CPT code 43259. They felt that new survey data should have been used by the RUC when valuing CPT code 43259 instead of the current incremental work values used by the RUC for the 5-year review.

Response: The RUC used the following building-block methodology to arrive at its recommendation for 43259—1) The RUC added 1.5 work RVUs, which is approximately 75 percent of the difference between the RUC recommendation from the last 5-year review (6.11 work RVUs) and the work RVUs that we assigned (4.0 work RVUs); (2) the RUC then added 2.2 work RVUs, which are the work RVUs of CPT code

93312 (Echocardiography, Transesophageal, Real Time With Image Documentation (2D) (With or Without M-Mode Recording); Including Probe Placement, Image Acquisition, Interpretation and report)

Not only do we disagree with the RUC methodology for this recommendation, but we also note that the RUC has used the current work RVUs for CPT code 43259 to value not only other gastrointestinal transendoscopic ultrasound procedures but also many transendoscopic ultrasound guided biopsy codes. We also note that the RUC has recently re-evaluated CPT code 43231, Esophagoscopy, rigid or flexible; with endoscopic ultrasound examination, and recommended much lower RVUs for the incremental work of the ultrasound examination. Therefore, accepting the RUC recommendation for this code would be inconsistent with the RUC's reevaluation of CPT code 43231, would invalidate the work valuation of many other gastrointestinal endoscopy codes, and would create numerous rank-order anomalies. Therefore, we recommend that the RUC review CPT code 43259 along with all the other endoscopic ultrasound examination codes and all the transendoscopic ultrasound guided biopsy codes.

CPT Code 43263, Endoscopic Retrograde Cholangio-pancreatography (ERCP); With Pressure Measurement of Sphincter of Oddi (Pancreatic Duct or Common Bile Duct)

CPT Code 43265, Endoscopic Retrograde Cholangio-pancreatography (ERCP) With Endoscopic Retrograde Destruction, Lithotripsy of Stone(s), Any Method

CPT Code 43269, Endoscopic Retrograde Cholangio-pancreatography (ERCP); With Endoscopic Retrograde Removal of Foreign Body and/or Change of Tube or Stent

The RUC recommended an increase in work RVUs from 6.19 to 7.29 for CPT code 43263 based on the need to measure pressures in both the biliary and pancreatic sphincters, as well as the need for prolonged postoperative monitoring.

The RUC recommended an increase in work RVUs from 8.9 to 10.02 for CPT code 43265 based on a rank-order anomaly with code 43264 because this procedure is considered to be more time-consuming and complex than CPT code 43264.

The RUC recommended an increase in work RVUs from 6.04 to 8.21 for CPT code 43269 based on a rank-order anomaly between this code and CPT code 43268.

Comment: We received comments on these three codes from several organizations representing gastroenterologists. It was their position that these codes were commonly performed, undervalued procedures and that the survey data the organizations provided justify the increase in RVUs. We disagreed and proposed to maintain the current work RVUs for these three codes.

Response: We have reviewed the codes and compared their intraservice times to other similar procedures and have decided to accept the RUC recommendations.

CPT Code 44388, Colonoscopy Through Stoma; Diagnostic With or Without Collection of Specimen(s) by Brushing or Washing (Separate Procedure)

CPT Code 44389, Colonoscopy Through Stoma; With Biopsy, Single or Multiple

CPT Code 44390, Colonoscopy Through Stoma; With Removal of Foreign Body

CPT Code 44391, Colonoscopy Through Stoma; With Control of Bleeding, any Method

CPT Code 44392, Colonoscopy Through Stoma; With Removal of Tumor(s), Polyp(s), or Other Lesion(s) by Hot Biopsy Forceps or Bipolar Cautery

CPT Code 44393, Colonoscopy Through Stoma: With Ablation of Tumor(s), Polyp(s), or Other Lesion(s) Not Amenable to Removal by Hot Biopsy Forceps, Bipolar Cautery or Snare Technique

These 6 codes are in the same family, and the RUC recommended an increase for each code in this family primarily because it felt that the base CPT code, 44388, should be valued the same as CPT code 45378, diagnostic colonoscopy, at 3.7 work RVUs. The RUC also recommended that the values for the other codes in this family be increased to maintain their relativity to CPT code 44388. We disagreed and proposed to maintain the current work RVUs for all codes in this family.

Comment: We received comments from several societies representing gastroenterologists who commented that, although performing a colonoscopy through a stoma involves less physician work than performing a standard colonoscopy, they believed that performing a colonoscopy through a stoma is more technically challenging than performing a standard colonoscopy.

Response: We disagree with valuing the performance of a colonoscopy through a stoma identically to performing a standard colonoscopy. We feel the proposed valuation creates a series of rank-order anomalies. Consequently, we will finalize our proposal to maintain the current RVUs for this family of codes. In addition to determining that the RUC recommendation for the base code 44388 was incorrect, we note that the RUC recommendations create increments of work for performance of “biopsy, single or multiple,” “control of bleeding, any method,” “removal of tumors,” and “ablation of tumors” during a colonoscopy through a stoma, which are inconsistent with the same increments for the complete colonoscopy family of codes that begins with code 45378. We note that, in addition to gastroenterologists, general surgeons and colorectal surgeons perform these procedures. Therefore, if the RUC reconsiders the work values of these codes, we believe that information should be obtained from all physicians who perform these services.

CPT Code 45380, Colonoscopy, Flexible Proximal to Splenic Flexure; With Biopsy, Single or Multiple

The RUC recommended an increase in work RVUs from 3.98 to 4.44 for this CPT code, based on the increased number of biopsies generally taken during this procedure and the increased difficulty in removing these polyps. We disagreed and proposed to maintain the current work RVUs for this service.

Comment: We received comments from several societies representing gastroenterologists who commented that work increments for performing biopsies at different sites within the gastrointestinal tract are different. Furthermore, the societies believe that the incremental work of biopsy procedures performed by different specialties (for example, gastrointestinal endoscopic biopsies and tracheobronchial endoscopic biopsies) need not be valued identically. They also note that even though this code is reported for both single and multiple biopsies, the “typical” patient usually has multiple biopsies performed.

Response: We have reviewed these comments and compared the intraservice time of this code to the intraservice time of other similar procedures. We have decided to accept the RUC recommendation. However, CMS believes the best approach to accurately value gastrointestinal endoscopy biopsy procedures is to evaluate all the biopsy procedures in the gastrointestinal tract. This would provide the opportunity to establish the correct incremental work RVUs and avoid creating rank-order anomalies. Therefore, we will make the work values for CPT code 43239 (as indicated earlier) and 45380, interim until we receive further recommendations from the RUC regarding the entire spectrum of gastrointestinal biopsy procedures.

9. Conscious Sedation

Comment: The American Academy of Family Physicians indicated that the RUC has appointed an ad hoc workgroup to review the issue of conscious sedation, including identifying codes where conscious sedation is not inherently included as a component of the physician work. It recommended that, when the workgroup and RUC complete this review, we allow separate reporting and payment for CPT codes 90141 and 90142 in conjunction with the identified codes. The AMA and the RUC also referred to the newly formed workgroup in their comments, and the AMA urged us to work with the RUC and the CPT to reach a solution on the coding and payment issues surrounding conscious sedation.

Response and Final Decision: We welcome suggestions on this issue from both the coding and payment perspective. When the workgroup review of these issues is complete, we will evaluate any recommendations we receive for the development of any future proposals.

10. Pulmonary Medicine/Critical Care

We received no comments on these codes. Therefore, we will finalize the proposed work RVUs for the pulmonary medicine and critical care codes.

11. Cardiology

CPT Code 93350, Transthoracic Echocardiography

Comment: The American College of Cardiology expressed appreciation of our acceptance of the RUC recommendation to increase the work RVUs for this code.

Response and Final Decision: We are finalizing the proposed RVUs for CPT code 93350 and maintaining the work values for the other 2 CPT codes, 32234 and 32235, as discussed in the proposed notice.

12. Pediatrics

CPT Code 36400 (Venipuncture Under Age 3 Years; Femoral, Jugular or Sagittal Sinus) and CPT Code 36405 (Venipuncture, Under Age 3 Years, Scalp Vein)

Comment: The American Academy of Pediatrics (AAP) disagreed with our recommendations for CPT codes 36400 and 36405. The RUC recommended work RVUs of .38 and .32, respectively. We proposed that the work RVUs remain unchanged at .18 for each code. We do not believe it is appropriate to compare the work RVUs of a venipuncture to the work of an evaluation and management service. The AAP pointed out that the work involved in providing a venipuncture to a patient under age 3 is more intense than it has been in the past.

Response: Based on the comments received, we referred this code to a multispecialty refinement panel for review.

Final decision: As a result of our analysis of the multispecialty refinement panel ratings, we are increasing the work RVUs for CPT code 36400 to 0.38 and also increasing the work RVUs for CPT code 36405 to 0.31.

13. Pediatric Surgery

CPT Code 39503 (Repair, Neonatal Diaphragmatic Hernia, With or Without Chest Tube Insertion and With or Without Creation of Ventral Hernia) and CPT Code 49605 (Repair of Large Omphalacele or Gastroschisis; With or Without Prosthesis)

Comment: The AAP and the American Pediatric Surgical Association (ASPA) recommend that codes 39503 (Repair, neonatal diaphragmatic hernia, with or without chest tube insertion and with or without creation of ventral hernia), and 49605 (Repair of large omphalacele or gastroschisis; with or without prosthesis) receive interim values of 95 and 76, respectively, until the issue of critical care in the postoperative period is resolved. We had proposed to maintain the current work RVUs of 37.54 and 24.94, respectively, as interim 2002 work values and asked the RUC to resubmit recommendations for work RVUs for CPT codes 39503 and 49605 with either a 000 or 010 global period. As an option, pending resolution of the critical care issue, the APSA recommended that the interim work values for CPT codes 39503 and 49605 be 46.35 and 30.14, respectively.

The RUC agreed that the physician work in the postoperative period caring for these seriously ill neonates was significant and required the services of both surgeon and the neonatologist. The RUC requests that CMS treat these codes in the same manner as the other 90-day global codes that include extensive postoperative care.

Response: Upon further review, we agree with the RUC's recommendation and will establish the work values for CPT codes 39503 and 49605 at 95 and 76 units, respectively.

14. Radiology

CPT Code 76090, Mammography; Unilateral and CPT Code 76091 Mammography; Bilateral

Comment: The American College of Radiology (ACR) requested that CMS increase the work RVUs for unilateral mammography, that is, CPT code 76090, from the proposed .70, to .93 and for bilateral mammography, that is, code 76091, from the proposed .87, to 1.10. The ACR believes these values, which are the median survey values, more accurately reflect the work involved with these two procedures. The ACR points out that there is a significant amount of physician time associated with reviewing the results with these anxious patients and complying with the mandatory Mammography Quality Standards Act requirements.

The ACR commented that the chart at 66 FR 31045 of the June 8, 2001 proposed rule indicates that CPT code 76005 had a RUC recommendation of 10.60. However, that column should read .60.

The ACR also took exception to the requested work RVUs reported in the chart at 66 FR 31045 for codes 76065, 76090 and 76091. The chart displayed requested work RVUs of .60 for 76065, .64 for 76090, and .76 for code 76091. The ACR asked that the chart be corrected to reflect the actual requested work RVUs for each code. These corrected values, based on the median survey values, are .70 for CPT code 76065, .93 for 76090, and 1.10 for CPT code 76091.

Response: Based on the comments received, we referred these codes to a refinement panel for review. We regret the error in the chart concerning the requested work RVUs.

Final decision: As a result of our analysis of the multispecialty panel ratings, we are retaining the work RVU of 0.70 for CPT code 76090 and 0.87 for CPT code 76091, the work RVUs we proposed in the June 8 proposed rule.

CPT Code 76092, Screening Mammography, Bilateral Two View Film Study of Each Breast

In addition, we had requested the RUC to review the work RVUs for code 76092 (Screening mammography, bilateral two view film study of each breast). In its comments on the June 8, 2001 proposed rule, the RUC indicated it had placed this issue on the September 2001 meeting agenda and would provide recommendations to us following that meeting. The September meeting had to be cancelled and the issues to be addressed at that meeting will be discussed at the first meeting early next year. Therefore, we are finalizing the current RVUs for this code.

15. Plastic Surgery

We received no comments on these codes. Therefore, we will finalize the proposed work RVUs for the plastic surgery codes.

B. Other Comments

1. Anesthesia Services

In our June 8, 2001 proposed rule (66 FR 31065), we stated that the American Society of Anesthesiologists (ASA) contended that the work of anesthesia services is undervalued and, based on discussions with the RUC, the ASA requested a 24 percent increase in anesthesia work. However, the RUC furnished no recommendation on anesthesia services; instead, it assigned to a newly created workgroup the responsibility for reviewing anesthesia services in the context of the physician fee schedule. We indicated that the ASA will be working with this workgroup on clinical issues, such as induction and postinduction intensity, and did not propose any changes to the anesthesia CF at this time to reflect the 5-year review of physician work for anesthesia services. However, we did indicate that we might make changes in response to recommendations the RUC may provide.

Comment: Many individual anesthesiologists commented that their services are undervalued. The American Society of Anesthesiologists also commented that its services are undervalued and asked that we accept the results of the first RUC workgroup (weighted average increase of 26 percent on representative codes) and extrapolate this to all anesthesia codes. We also received letters from individuals indicating that anesthesia services are undervalued.

In its comments, the RUC stated that it had not come to an agreement on extrapolating the results of the work of the 19 studied anesthesia codes to all anesthesia codes. The RUC agreed that the five quintiles for postinduction anesthesia and the examples associated with each quintile were appropriate. The RUC also examined the intensity values assigned to each quintile and made adjustments to the intensity values based on comparisons to evaluation and management codes and critical care services. It agreed to the following values—.224 for Level 1; .031 for Level 2; .051 for Level 3; .070 for Level 4; and .085 for Level 5.

The RUC approved the following intensity factors for the induction period—.067 for induction of general anesthesia; .067 for induction of spinal and epidural anesthesia; and .051 for induction of regional anesthesia.

Although the RUC recommended acceptance of the building block work values for the 19 codes studied, it did not resolve issues related to how often anesthesiologists provide the retrobulbar bloc for code 00142 and agreed that the distribution of postinduction time among the quintiles should be reviewed in more detail after it receives more input from surgical specialties.

Response and final decision: The RUC has informed us that it will continue to look at anesthesia work beginning at its first meeting in CY 2002. We will review the RUC recommendation and address anesthesia work in next year's proposed physician fee schedule rule.

2. Spine Injection Procedures

We received no comments on these codes. Therefore we will finalize the proposed work RVUs for the spine injection procedure codes.

3. Biofeedback

We received no comments on these codes. Therefore, we will finalize the proposed work RVUs for the biofeedback codes.

4. Surgical Management of Burn Wounds

We received no comments on these codes. Therefore, we will finalize the proposed work RVUs for the codes involving surgical management of burn wounds.

5. Transplantation

We received no comments on these codes. Therefore, we will finalize the proposed work RVUs for the transplantation codes.

6. Arthroscopy Services

We received no comments on these codes. Therefore, we will finalize the proposed work RVUs for the arthroscopy service codes.

7. Wheelchair Management

We received no comments on these codes. Therefore, we will finalize the proposed work RVUs for the wheelchair management codes.

8. Psychological Testing

We received no comments on these codes. Therefore, we will finalize the proposed work RVUs for the psychological testing codes.

9. Podiatric Services

In our June 8, 2001 proposed notice (66 FR 31067), we stated the American Podiatric Medical Association (APMA) submitted 5 codes (trim skin lesions/trim nails) for review (11719, 11055, 11056, 11057, and G0127) and that the HCPAC requested we review our current utilization data to ensure that the original utilization assumptions were correct. The HCPAC recommended that the current review of data should be based on actual 1999 utilization data since these codes were not fully implemented until April 1, 1998. We stated that we would review the utilization data associated with the aforementioned codes to ensure the original assumptions are still correct and that we would publish our decision in the final rule.

Comment: The APMA was pleased that we would review the utilization data; however, it indicated that the work RVUs should not be revised based on current utilization. It recommended that we accept the original RUC recommendations since these values were based on the results of surveys of practicing podiatrists that were considered and approved by the RUC.

Response and final decision: Based on our review of the data and the APMA recommendation that we accept the original RUC recommended values, we are increasing the work values for these services as follows:

• CPT code 11719, Trimming of nondystrophic nails, any number, a work RVU of 0.17.

• CPT code 11055, Paring or cutting of benign hyperkeratotic lesion (for example, corn or callus) single lesion, a work RVU of 0.43.

• CPT code 11056, two to four lesions, a work RVU of 0.61.

CPT code 11057, more than four lesions, a work RVU of 0.79 .

For HCPCS code G0127, Trim nails, while we did not receive a RUC recommendation on this code (since we created the code), we are increasing the work RVU to 0.17 to be consistent with the increase made to CPT code 11719.

D. Other Issues

1. Critical Care Services in a Global Period

The June 8, 2001 proposed rule included a discussion on critical care services (66 FR 31067-68). We stated that current Medicare policy allows separate payment to the surgeon for postoperative critical care services during the surgical global period only when the patient has suffered trauma or burns. If the surgeon provides critical care services during the global period, for reasons unrelated to the surgery, that is separately payable as well. However, the approach the RUC used for the 5-year review had previously been used to validate postoperative work. That approach compared the work of a postoperative intensive care unit visit by the surgeon to code 99291, Critical care, evaluation and management of the critically ill or critically injured patient, first 30-74 minutes, which is valued at 4.00 work RVUs, rather than comparing a level three subsequent hospital visit (code 99233), which is valued at 1.51 work RVUs).

We indicated that valuing the surgeon's postoperative intensive care unit visits as critical care services had raised a number of issues that could require a change in payment policy to ensure that postoperative critical care is appropriately paid. In order to ensure that we make appropriate payments to physicians furnishing postoperative critical care services to Medicare beneficiaries, we specifically solicited information and comments on several questions and issues. We also proposed that the work RVUs for those surgical codes where any postoperative intensive care unit visits were valued as critical care remain interim, until we address the issues discussed above.

Many individual physicians, specialty societies, and health benefit programs provided comments and addressed the points we had outlined in the proposed notice. We appreciate their responses and will carefully review this information as we determine whether to make a future proposal.

2. Budget Neutrality

As explained in the proposed rule published June 8, 2001 (66 FR 31068-69), section 1848(c)(2)(B)(ii)(II) of the Act requires that increases or decreases in RVUs may not cause the amount of expenditures for the year to differ by more than $20 million from what expenditures would have been in the absence of these changes. If this threshold is exceeded, we make across-the-board adjustments to preserve budget neutrality. Based on the proposed changes in work RVUs, we indicated that budget-neutrality adjustments would be required. We proposed to reduce the conversion factor to meet the budget neutrality requirement, rather than applying a reduction to all work RVUs. We also indicated that revisions in payment policies, including the establishment of interim and final RVUs for coding changes contained in a separate proposed rule, might result in additional budget-neutrality adjustments.

Comment: The American Academy of Family Physicians, American College of Radiology, American College of Physicians, American Society for Internal Medicine, and the American Medical Association Specialty Society RVUs Update Committee indicated that they supported our proposal to maintain budget neutrality by adjusting the conversion factor.

Response and final decision: We will proceed with our proposal to maintain budget neutrality by adjusting the conversion factor.

V. Refinement of Relative Value Units for Calendar Year 2002 and Responses to Public Comments on Interim Relative Value Units for 2001

A. Summary of Issues Discussed Related to the Adjustment of Relative Value Units

Section V.B of this final rule describes the methodology used to review the comments received on the RVUs for physician work and the process used to establish RVUs for new and revised CPT codes. Changes to codes on the physician fee schedule (Addendum B) are effective for services furnished beginning January 1, 2002.

B. Process for Establishing Work Relative Value Units for the 2002 Fee Schedule and Clarification of CPT Definitions

Our November 1, 2000 final rule on the 2001 physician fee schedule (65 FR 65376) announced the final work RVUs for Medicare payment for existing procedure codes under the physician fee schedule and interim RVUs for new and revised codes. The RVUs contained in the rule applied to physician services furnished beginning January 1, 2001. We announced that we considered the RVUs for the interim codes to be subject to public comment under the annual refinement process. In this section, we summarize the refinements to the interim work RVUs that have occurred since publication of the November 2000 final rule and our establishment of the interim work RVUs for new and revised codes for the 2002 fee schedule.

1. Work Relative Value Unit Refinements of Interim and Related Relative Value Units

a. Methodology (Includes Table 5, Refinements of the 2001 Interim Work Relative Value Units)

Although the RVUs in the November 2000 final rule were used to calculate 2001 payment amounts, we considered the RVUs for the new or revised codes to be interim. We accepted comments for a period of 60 days. We received substantive comments from many individual physicians and several specialty societies on 52 CPT codes with interim work RVUs. Only comments on codes listed in Addendum C of the November 2000 final rule were considered.

We used a process similar to the process used in 1997 to address substantive comments. (See the October 31, 1997 final rule on the physician fee schedule (62 FR 59084) for the discussion of refinement of CPT codes with interim work RVUs.) We convened a multispecialty refinement panel of physicians to assist us in the review of the comments. The comments that we did not submit to panel review are discussed at the end of this section, as well as those comments that were reviewed by the panel. We invited representatives from each of the specialty societies from which substantive comments were received to attend a panel for discussion of the codes on which they had commented. The panel was moderated by our medical staff and consisted of the following voting members:

• One to two clinicians representing the commenting specialty or specialties, based upon our determination of those specialties which are most identified with the service(s) in question. Although commenting specialties were welcome to observe the entire refinement process, they were only involved in the discussion of those services for which they were invited to participate.

• Two primary care clinicians nominated by the American Academy of Family Physicians and the American Society of Internal Medicine.

• Four carrier medical directors.

• Four clinicians with practices in related specialties, who were expected to have knowledge of the services under review.

The panel discussed the work involved in each procedure under review in comparison to the work associated with other services on the fee schedule. We assembled a set of reference services and asked the panel members to compare the clinical aspects of the work of services they believed were incorrectly valued to one or more of the reference services. In compiling the set, we attempted to include—(1) services that are commonly performed whose work RVUs are not controversial; (2) services that span the entire spectrum from the easiest to the most difficult; and (3) at least three services performed by each of the major specialties so that each specialty would be represented. The set contained approximately 300 services. Group members were encouraged to make comparisons to reference services. The intent of the panel process was to capture each participant's independent judgement based on the discussion and his or her clinical experience. Following each discussion, each participant rated the work for the procedure. Ratings were individual and confidential, and there was no attempt to achieve consensus among the panel members.

We then analyzed the ratings based on a presumption that the interim RVUs were correct. To overcome this presumption, the inaccuracy of the interim RVUs had to be apparent to a broad range of physicians participating in the panel.

Ratings of work were analyzed for consistency among the groups represented on the panel. In general, we used statistical tests to determine whether there was enough agreement among the groups of the panel, and whether the agreed-upon RVUs were significantly different from the interim RVUs published in Addendum C of the November 2000 final rule. We did not modify the RVUs unless there was a clear indication for a change. If there was agreement across groups for change, but the groups did not agree on what the new RVUs should be, we eliminated the outlier group and looked for agreement among the remaining groups as the basis for new RVUs. We used the same methodology in analyzing the ratings that we first used in the refinement process for the 1993 fee schedule. The statistical tests were described in detail in the November 25, 1992 final rule (57 FR 55938).

Our decision to convene a multispecialty refinement panel of physicians and to apply the statistical tests described above was based on our need to balance the interests of those who commented on the work RVUs against the redistributive effects that would occur in other specialties. Of the 3 codes reviewed by the multispecialty panel, all were the subject of requests for increased values. Of the 3 interim work RVUs that were reviewed, 2 were increased and 1 was unchanged.

We also received comments on RVUs that were interim for 2001, but which we did not submit to the panel for review for a variety of reasons. These comments and our decisions on those comments are discussed in further detail below.

Table 5 lists the interim and related codes reviewed during the refinement process described in this section. This table includes the following information:

• CPT Code. This is the CPT code for a service.

• Descriptor. This is an abbreviated version of the narrative description of the code.

• 2001 Work RVU. The work RVUs that appeared in the November 2000 rule are shown for each reviewed code.

• Requested Work RVU. This column identifies the work RVUs requested by commenters.

• 2002 Work RVU. This column contains the final RVUs for physician work.

Table 5.—Refinement of 2001 Interim Work Relative Value Units
¹ CPT code | Descriptor | 2001 work RVU | Requested work RVU | 2002 work RVU
19102 | Bx breast percut w/image | 2.00 | 2.73 | 2.00
19103 | Bx breast percut w/device | 2.37 | 5.55 | 3.70
22522 | Percutaneous vertebroplasty, addl | 3.00 | 4.31 | 4.31
¹ All CPT codes and descriptions copyright 2002 American Medical Association.

2. Interim 2001 Codes

Stenting Procedures—(CPT Codes 43256, 44370, 44379, 44383, 44397, 45345, 45387, and 45342)

We accepted the RUC recommended increase over the base code of 1.96 work RVUs. Commenters suggested that this increment should be increased to 2.59 work RVUs to reflect the work increase the RUC had recommended for CPT code 43219 (one of the codes used to arrive at this increase) as part of the 5-year review. Additionally, they also commented that the increment for the pre-dilation service should be from the dilation of gastric outlet in connection with an upper GI as opposed to the esophagoscopy code. Finally, commenters did not believe that these services should be subject to “within family work neutrality adjustments” (see Final Decision below) and instead believed that any increase in total RVUs should be addressed through the SGR or conversion factor. They felt that these stent placements are new technology and should not be viewed as code splitting/unbundling of services. They stated that stent placements have only been performed over the last 4-5 years and any work associated with them is not reflected in current work values for endoscopic codes.

Final decision: “Within family work neutrality adjustments” are used for new or revised services that are not considered new technologies. To achieve work neutrality within families of services, we compare the new or revised work RVUs (weighted by projected frequency) to the old work RVUs (weighted by actual frequency) to ensure that additional RVUs have not been added based on fragmentation of existing codes. We agree with the commenter that these services are new technologies and thus should not be subject to within family work neutrality adjustments. With regard to the final work value for CPT code 43219 and the use of dilation and stent placement codes in assigning a work value to 43219, please see our discussion elsewhere in this rule.

Cryosurgical Ablation of the Prostate—CPT Code 55873

We agreed with the RUC recommended work RVU for CPT code 55873 as we felt that the comparison to CPT code 55801, Prostatectomy, perineal, subtotal, was appropriate to aid in setting the work RVU of CPT code 55873. One commenter did not agree that this comparison was appropriate. The commenter indicated that the RUC was being requested to review this service again at its February meeting.

Final decision: The RUC provided comments on interim valued CPT code 55873 that re-visited the appropriate comparison service. Based upon comments received, the final work RVUs for CPT code 55873 will be increased to 19.47.

Percutaneous Vertebroplasty—CPT Code 22522

We disagreed with the RUC-recommended work RVUs of 4.31 for this service. CPT code 22522 is an add-on code that should have no associated pre- or postservice work. We removed the pre- and postservice work from the weighted average of CPT codes 22520 and 22521, which are the base services with which add-on CPT code 22522 should be billed in conjunction, and recalculated the value. Thus, we assigned interim work RVUs of 3.00 for CPT code 22522. Several commenters disagreed and do not believe that our methodology has appropriately valued this add-on service. Commenters felt we should sum the work RVUs of CPT codes 22520 and 22521 and then take 50 percent of this value. They believe that this is how we historically have calculated work RVUs for add-on services. Based on these comments, we referred this code to a multispecialty refinement panel for review.

Final decision: As a result of the statistical analysis of the refinement panel ratings, the final work RVUs are 4.31 for CPT code 22522.

Fetal Biophysical Stress Testing—CPT Codes 76818 and 76819

Although we agreed with the relativity presented by the RUC, we reduced the RVUs for these aforementioned services due to within family work neutrality adjustments. As previously discussed, within family work neutrality adjustments are used to ensure that additional relative values are not added based on fragmentation of existing codes. One specialty organization felt that we inappropriately determined that the work associated with the original CPT code 76818 (CPT code 76819 was added for January 1, 2001), included the average work of both with and without non-stress test. It believes that the survey data presented to the RUC suggest that this assumption is invalid and that the inappropriate within family neutralization of these services creates a rank-order anomaly in this family of codes.

The survey data indicated that CPT code 76818 required more time and greater mental effort than CPT code 76805 (Complete OB ultrasound), which has 0.99 work RVUs, since the ultrasound portion of CPT code 76818, while less extensive, is typically performed in a high-risk situation. In addition, CPT code 76818 also includes CPT code 59025 (Fetal non-stress test) with work RVUs of 0.53. The specialty organization also reported that CPT code 76819 requires more work than CPT code 76815 (Limited obstetric ultrasound) with work RVUs of 0.65. The assignment of 0.86 RVUs to CPT code 76818 and 0.63 RVUs to 76819 creates a rank-order anomaly with this family of obstetric ultrasound procedures.

Final Decision: We agree with the commenter that the within family neutrality adjustment we made for 2001 was not appropriate and created a rank-order anomaly within this family of services. We will remove the neutrality adjustments for January 1, 2002.

Cognitive Skills and Sensory Integrative Techniques—CPT Codes 97532 and 97533

We did not agree with the HCPAC recommendation for CPT codes 97532 and 97533 (work RVUs of 0.51 and 0.48, respectively). These two new services were created to replace deleted CPT code 97770. We believed that the work associated with these new services is analogous to deleted CPT code 97770 and therefore, we assigned work RVUs of 0.44 (the value assigned to the deleted code) to these new replacement codes. Commenters felt that assignment of this work value was arbitrary on our part, particularly since the HCPAC information had been based on information from a survey completed by the practitioners who provide these services.

Final Decision: We disagree with the commenters and are finalizing the interim work values. This is an example of replacing one CPT code with two new CPT codes that describe identical work. Because there is no new technology involved, we will finalize the interim work RVUs.

Wound Care CPT Codes

Absent a HCPAC recommendation for either of the aforementioned CPT codes, we valued the work of CPT code 97601 as 0.50 RVUs, the same as deleted service G0169 that described the work in the new code. We considered CPT code 97602 to be bundled into CPT code 97601 and therefore did not establish work RVUs for this service. Commenters believed that we inappropriately bundled CPT code 97602 into 97601 since they represent distinct services. The commenters requested that we reconsider bundling CPT code 97602.

Final Decision: We have re-examined our determination but have not changed our decision. CPT code 97602 describes services that typically involve placement of a wound covering, for example, wet-to-dry gauze or enzyme-treated dressing. It also includes nonspecific removal of devitalized tissue that is an inherent part of changing a dressing. This service is already included in the work and practice expenses of CPT code 97601. In the typical service described by 97601, the patient has a dressing placed over the wound. We would add that the services described by 97602 are also included in the work and practice expenses of the whirlpool code, CPT 97022. For this reason, we consider this a bundled service that is not paid separately.

Percutaneous Breast Biopsy—CPT Codes 19102 and 19103

We agreed with the RUC recommended work RVUs of CPT codes 19102 (RVU = 2.00) and 19103 (RVU = 2.37). Commenters believed that the work RVUs assigned to these codes were inappropriately low and did not accurately reflect the time and intensity of the work involved. Commenters supplied information to support their request for increasing the work RVUs for these services. Based on these comments, we referred this code to a multispecialty refinement panel for review.

Final decision: As a result of the statistical analysis of the multispecialty refinement panel ratings, the final work RVUs for CPT code 19102 are 2.00, and the final work RVUs for CPT code 19103 are 3.70.

Magnetic Resonance Imaging Procedures—CPT codes 70540, 70542, 70543, 71550, 71551, 71552, 72195, 72196, 72197, 73218, 73219, 73220, 73221, 73222, 73223, 73718, 73719, 73720, 73721, 73722, 73723, 74181, 74182, and 74183

We received a RUC recommendation for only 3 of these codes (70540, 70542, 70543) for January 1, 2001. However, this recommendation did not reflect the required within family work neutrality adjustment. The work RVUs of 0.98, 1.17, and 1.56 were assigned to these services to ensure that there would not be additional work RVUs introduced into the system. We did not receive work recommendations or utilization data for any of the other new MRI codes and assigned work RVUs for these other codes based on the methodology outlined in the November 2000 final rule.

Commenters expressed concern about the within family work neutrality adjustment applied to the RUC-recommended work RVUs, and the methodology that was used to establish work values for the other MRI procedures. Commenters requested that we re-evaluate the within family work neutrality adjustment based upon updated information supplied in their respective comments.

Final decision: We are accepting the work values for these services which were submitted by the RUC in its comment on the interim work values we assigned in last year's final rule. We note that these work values are virtually identical to the work values that we assigned as interim last year. Based upon comments received, we have re-evaluated the utilization crosswalks upon which our within family work neutrality adjustments were based.

Since 2001 is the first year for which actual data is available for these services, we used available data (first two quarters of 2001) to capture the actual utilization of these new services. This utilization was then subjected to a standard analysis of reporting trends to estimate the completion percentage of 2001 utilization data. The available utilization was then “aged” to represent one full year of data for 2001. After determining the utilization for 2001, we applied this revised within family work neutrality adjustment across the entire family of MRI procedures rather than applying this adjustment to subsets. We are finalizing these within family work neutral values and note that the re-calculation of this neutrality adjustment results in increases to the work RVUs of the MRI services referenced above.

Computed Tomographic Angiography (CTA)—CPT Codes 70496, 70498, 71275, 72191, 73206, 73706, 74175 and 75635

We agreed with the RUC recommendation of 1.75 for CPT codes 70496 and 70498 for January 1, 2001. However, the RUC did not submit work recommendations for the other CTA codes. We assigned work RVUs for these other codes based on the methodology outlined in the November 2000 rule. Commenters disagreed with the interim values we had proposed for CTA codes and provided additional information for valuing these services. The commenter felt that our decisions created rank-order anomalies between anatomic sites.

Final decision: We are accepting the work values for these services which were submitted by the RUC in its comment on the interim work values we assigned in last year's final rule. We will implement them as final values for 2002.

Practice Expense Refinements of 2001 Interim and Revised RVUs

Percutaneous Breast Biopsy—CPT Codes 19102 and 19103

Comment: A specialty organization representing breast surgeons submitted its suggested direct cost inputs for these two services and had several comments on their practice expenses. The commenter indicated that the price in the database for the biopsy driver was too low, that the clinical staff type should be a registered nurse rather than a technician and that there should be pre- and postservice clinical staff time when the procedure is performed in the facility setting. In addition, the commenter questioned whether the 50 percent utilization rate used to price equipment was realistic for new technology and recommended that device-specific utilization rates be determined. The society also questioned the lack of direct cost inputs for equipment and supplies for CPT 76095, the associated procedure for image guidance. A manufacturer commented that the equipment inputs for CPT 19102 were erroneously dropped from the CPEP database.

Response: We had accepted the RUC recommendations on these two services, making only the following technical changes to the supplies and equipment: we did not include the cost of the crash cart, because we consider this an indirect expense, nor the cost of the biopsy gun handle, because this was less than the $500 required for an item to be on the equipment list. We also did not include separately billable fluids, the formalin that would be supplied by the lab, or the biohazard bag and skin marking pen that could be used for more than one procedure.

If the specialty that was involved in the presentation of these codes to the RUC now believes that the direct inputs do not adequately represent the costs of performing these services, one option would be to have these codes refined by the PEAC. In the meantime, we are prepared to make certain changes to the CPEP data in response to the recommendations made by the commenters. We will add the power table and surgical lamp to both codes and will increase the price associated with the biopsy device driver, subject to verification when we undertake our repricing of the CPEP equipment inputs. Because the specialties presenting the codes to the RUC, and the RUC itself, recommended using radiologic staff for these services, we will not change the staff type to registered nurse at this time. However, we will substitute the higher-paid mammography technologist, which we have just added to our staff type list, for the current x-ray technician staff type.

We have in the past solicited information from the specialties regarding equipment-specific utilization rates, but we have never received sufficient information to propose any changes in our policy. Additionally, for most services, changing the utilization rate would have very little effect.

The commenter is correct that the associated procedure for image guidance, CPT 76095, currently does not have CPEP inputs assigned to the non-facility setting. However, at this time, it is priced as a part of the “zero work” pool, and the CPEP inputs are not used to calculate the practice expense RVUs for this service. We would hope that this code could be refined in the near future and given the appropriate inputs for the office setting.

CPT Codes 34812, 34820, 34830, 34831 and 34832 for Repair of Aortic Aneurysm

Comment: A specialty organization representing vascular surgery stated that CPT codes 34812 and 34820 should have clinical staff preservice time added and that CPT codes 34830, 34831 and 34832 were assigned inappropriately low postservice clinical staff times.

Response: We accepted the RUC recommendations for all of these services. There was no preservice time included in the RUC recommendation for CPT codes 34812 and 34820. In addition, we have assigned 99 minutes of clinical staff postservice time to CPT codes 34830, 34831 and 34832, as recommended by the RUC. These codes can be refined by the PEAC which now has a standard package for 90-day global pre- and postservice times for clinical staff and is also discussing the coordination of care clinical staff times for 0-day global services.

We received the following comments on HCPCS codes established in the November 1, 2000 final rule.

• G0169 Removal of Devitalized tissue, without use of anesthesia.

Comment: The American Podiatric Medical Association recognized that, effective January 1, 2001, this code was eliminated and we have adopted CPT code 97601, which is sufficiently similar to the services described by G0169. However, it requested we address a policy issue related to the discussion of this service. In the November 2, 1999 Federal Register (64 FR 59426), we stated that G0169 was created because CPT codes 11040 through 11044 for debridement were created to describe “complex surgical services requiring the use of general anesthesia.” APMA indicates that there had never been a policy requiring the use of any anesthesia, much less general anesthesia, when performing surgical debridement that is reported with CPT codes 11040 through 11044. However, as a result of the statement in the November 2 Federal Register, some carriers developed policies denying payment for these codes if anesthesia was not used. The APMA urged us to clarify that anesthesia, whether general or local, is not required when billing CPT codes 11040 through 11044.

Response: We acknowledge that the use of “general anesthesia” in the preamble to the November 2, 1999 rule was an error, and we believe all our contractors are aware of our misstatement. As the commenter stated, the code G0169 has been deleted and replaced by CPT code 97601, Removal of devitalized tissue from wound(s); selective debridement, without anesthesia (e.g., high pressure waterjet, shape selective debridement with scissors, scalpel, and tweezers) including topical application(s), wound assessment, and instruction(s) for ongoing care, one session. We expect that our contractors will develop policies to distinguish this service from the debridement codes, 11040 through 11044. We anticipate that they may consider a variety of factors, including the extent of the debridement and the amount of medical skill required to perform the service, and not simply whether a local anesthetic was used in the procedure.

Comment: The American College of Surgeons urged us to issue instructions to carriers specifying that the use of CPT code 97061 is limited to physical therapists and other non-physician practitioners and that the debridement of wounds by surgeons is properly reported with a code from the CPT debridement codes 11040-11044.

Response: As we stated in the response to the previous comment, we believe that our contractors are likely to make this distinction in their local policies. If we determine that relying on local carrier policies is unsatisfactory, then we will consider whether national guidance is needed.

• G0181 and G0182, Care plan Oversight.

Comment: A few organizations expressed disappointment that we finalized our proposal to establish two new G codes for care plan oversight services, rather than continue to recognize the CPT codes related to these services.

Response: The CPT codes for care plan oversight were modified so that they included services that extend beyond the limits of our current payment policy. As a result, we will continue to use the G-codes that are consistent with our payment policies.

• G0180 and G0179 Certification and Recertification of Medicare Covered Home Health Services.

Comment: Several specialty organizations expressed appreciation for our willingness to recognize and compensate physicians for these services and supported our decision to pursue this coding and reimbursement issue through the CPT and RUC processes. The American College of Surgeons expressed concern that claims submitted by surgeons for physician certification or recertification would be denied inappropriately due to longstanding rules that preclude payment for services that are provided during the global period.

Response: As was stated in the November 1, 2000 final rule (66 FR 65408), surgeons performing these services could be paid for G0179 and G0180 during the global period. We have heard no specific complaints that this policy has not been implemented appropriately.

G Codes Related to Swallowing Function

Comment: The American College of Surgeons objected to the creation of these G codes and requested that we discontinue their use and work with the otolaryngologists to submit a coding request on these services to the CPT Editorial Panel. The American Academy of Otolaryngology—Head and Neck Surgery, Inc. (AAO-HNS) also expressed concern about creation of these codes. It felt that our description of the codes was incomplete and inaccurate.

In the November 1, 2000 final rule we proposed 4 new G codes and stated that these would replace the more general CPT code 92525, Evaluation of swallowing and oral function for feeding. AAO-HNS believes that this incorrectly implies that the single code 92525 includes 4 unique services and, therefore, we have significantly understated the work and practice expenses required for these procedures.

For G0193, Endoscopy study of swallowing function, and GO194 Sensory testing during endoscoping study of swallowing, we stated that coverage of these services remains at the discretion of the carrier and that they would be carrier priced. AAO-HNS expressed concern that carriers might misinterpret this statement to mean the codes should not be covered and, if covered, the payment might be inappropriately low. AAO-HNS requested we clarify that these services should be covered and recommended that pricing for GO193 should equal to the sum of the RVUs for CPT code 31575, Laryngoscopy, flexible fiberoptic; diagnostic, and CPT code 92525.

AAO-HNS also did not agree with our decision to treat G0194 as an “add-on” code as this group felt this would create confusion. Rather, AAO-HNS suggested that GO194 be treated as a stand-alone code with RVUs equal to CPT codes 31575, 92525 and 92520 (Laryngeal function studies).

In addition, AAO-HNS was concerned about our statement that CPT code 31575 and CPT code 31579 (Laryngoscopy, flexible or rigid fiberoptic, with stroboscopy) should not be used for evaluations of swallowing and urged that we clarify that these codes could still be used to report flexible fiberoptic laryngosopies for patients with swallowing problems.

Response: These G codes related to swallowing function were created because of the ambiguity of the CPT code, 92525. The CPT editorial panel will be reviewing codes designed to substitute for the G-codes created. The specialty advisors, including AAO-HNS, will have the opportunity to comment on these proposals and to create codes that they believe will describe the services more accurately. If the CPT editorial panel adopts these revised codes, they could be in the 2003 CPT book.

Comment: The American Occupational Therapy Association stated that in the specific discussion of code GO195, and by implication the related codes, we stated these services are performed typically by a speech and language pathologist. While AOTA does not disagree with this characterization, it requested that we clarify that other professionals, specifically occupational therapists, also may be trained in these procedures. It noted that in some areas of the country occupational therapists typically perform swallowing evaluations, particularly in conjunction with feeding and eating deficits.

Response: These G codes did not specify which professionals could perform these services. The description of the new G codes only stated that these services would be most commonly performed by speech and language pathologists. Our contractors, who have the capacity to be responsive to local differences in practice patterns, will be aware of whether occupational therapists have the qualifications to perform these evaluations and will make the decisions about whether the service performed matches the services described by the code.

Comment: The American College of Radiology requested clarification on the specialties we anticipate using G0196; they asked if this G code would be used by the speech pathologist while the radiologist would use CPT code 74230. ACR expressed concern that provision of such a G code would promote performance of fluoroscopy by non-trained individuals.

Response: We do not believe that the development of these G codes should lead to non-trained individuals performing fluoroscopy. Prior to the development of the G codes, we were asked by speech and language pathologists if they could bill 74230 to describe the work they did in conjunction with a fluoroscopic or video evaluation of swallowing. We did not think that the speech and language pathologists should bill the code 74230 and created this G code to describe the portion of the examination that they typically performed.

We were also asked whether the services of a speech and language pathologist should have remained bundled into the technical portion of the 74230 examination, because this may have been the method of billing these services prior to the development of the G code. Because this new G code separates the services of the speech and language pathologists in this examination, we may need to clarify which services are included in the technical portion of 74230. None of these concerns would lead a non-skilled practitioner to perform either of these services.

G Codes Related to Speech Generating Devices and Voice Prostheses G0197-G0201

Comment: AAO-HNS expressed concern about the establishment of G codes related to speech generating devices and voice prostheses. It continues to believe that the creation of codes used to describe services that are already described in CPT makes compliance with Medicare policy difficult and confusing.

Response: The current CPT codes, 92597 and 92598, identify two distinct services—evaluation or modification of voice prosthetics and augmentative or alternative communicative devices. Since different types of patients require either voice prosthetics (for example, an artificial larynx) or augmentative or alternative communicative devices, we believe that separating these two services through the use of G-codes actually should make compliance with Medicare policies easier, since the services being delivered are more accurately described.

Revisions to Malpractice RVUs for New and Revised CPT Codes for 2001

Malpractice RVUs are calculated using the methodology described in detail at Addendum G of our November 1, 2000 final rule (65 FR 65589). Because of the timing of the release of new and revised CPT codes each year, the malpractice RVUs for the first year of these codes are extrapolated from existing similar codes, based on the advice of our medical consultants, and are considered interim subject to public comment and revision. The following year these codes are given values based on our malpractice RVU methodology and a review of comments received.

The malpractice RVUs for 2001 new and revised codes published in Addendum B of the November 1, 2000 final rule were thus extrapolated from (RVUs for existing similar codes). The malpractice RVUs for these codes in this year's Addendum B were calculated by our consultant, KPMG, using the same methodology used for all other codes. Likewise, the malpractice RVUs for new and revised 2002 codes are being extrapolated from existing similar codes and will be calculated using the malpractice RVU methodology next year.

Comment: One commenter stated that malpractice premiums are rapidly increasing all over the country and that we should ensure that the physician fee schedule reflect these increases.

Response: We agree that changes in malpractice premiums should, to the extent possible, be reflected in the physician fee schedule. The most recent malpractice data available were used in constructing the 2001 malpractice RVUs and the revised 2001 GPCIs. In addition, the relative weights of the component cost shares (work, practice expense, malpractice) in the physician fee schedule and in the MEI are periodically adjusted when the most recent AMA SMS data indicate significant shifts among physician practice cost components. However, because of the time needed to collect the data and propose changes through the rulemaking process, there is a time lag in making these changes.

Establishment of Interim Work Relative Value Units for New and Revised Physician's Current Procedural Terminology (CPT) Codes and New Healthcare Common Procedure Coding System Codes (HCPCS) for 2002 (Includes Table 6, AMA RUC and HCPAC Work RVU Recommendations and CMS Decisions for New and Revised 2002 CPT Codes)

One aspect of establishing RVUs for 2002 was related to the assignment of interim work RVUs for all new and revised CPT codes. As described in our November 25, 1992 notice in the 1993 fee schedule (57 FR 55983), and in section III.B. of our November 22, 1996 final rule (61 FR 59505-59506), we established a process, based on recommendations received from the AMA's RUC, for establishing interim work RVUs for new and revised codes.

This year we received RUC work RVU recommendations for approximately 314 new and revised CPT codes. Our staff and medical officers reviewed the RUC recommendations by comparing them to our reference set or to other comparable services for which work RVUs had been previously established, or to both of these criteria. We also considered the relationships among the new and revised codes for which we received RUC recommendations. We agreed with the majority of these relationships reflected in the RUC values. In some instances, when we agreed with the relationships, we revised the work RVUs to achieve work neutrality within families of codes, that is, the work RVUs have been adjusted so that the sum of the new or revised work RVUs (weighted by projected frequency of use) for a family will be the same as the sum of the current work RVUs (weighted by projected frequency of use for that family of codes). For approximately 93 percent of the RUC recommendations, proposed work RVUs were accepted, and for approximately 7 percent, we disagreed with the RUC recommendation. In a majority of instances, we agreed with the relativity proposed by the RUC, but needed to decrease work RVUs to retain budget neutrality.

There were also 10 CPT codes for which we did not receive a RUC recommendation. After a review of these CPT codes by our staff and medical officers, we established interim work RVUs for the majority of these services. For those services for which we could not arrive at interim work RVUs, we have assigned a carrier-priced status until such time as the RUC provides work RVU recommendations.

We received 18 recommendations from the Health Care Professionals Advisory Committee (HCPAC). We accepted 12, or 67 percent, of the HCPAC recommendations.

Table 6, AMA RUC and HCPAC Work RVU Recommendations and CMS Decisions for New and Revised 2002 CPT Codes, lists the new or revised CPT codes, and their associated work RVUs, that will be interim in 2002. This table includes the following information:

• A “#” identifies a new code for 2002.

• CPT code. This is the CPT code for a service.

• Modifier. A “26” in this column indicates that the work RVUs are for the professional component of the code.

• Description. This is an abbreviated version of the narrative description of the code.

• RUC recommendations. This column identifies the work RVUs recommended by the RUC.

• HCPAC recommendations. This column identifies the work RVUs recommended by the HCPAC.

• CMS decision. This column indicates whether we agreed with the RUC recommendation (“agree”) or we disagreed with the RUC recommendation (“disagree”). Codes for which we did not accept the RUC recommendation are discussed in greater detail following this table. An “(a)” indicates that no RUC recommendation was provided. A discussion follows the table.

• 2002 Work RVUs. This column establishes the 2002 work RVUs for physician work.

Table 6.—AMA RUC and HCPAC Work RVU Recommendations and CMS Decisions for New and Revised 2002 CPT Codes
* CPT CODE | Mod | Description | RUC recommendation | HCPAC recommendation | CMS decision | 2002 work RVU
10021 # | 26 | FNA W/O IMAGE | 1.27 |  | Agree | 1.27
10022 # | 26 | FNA W/IMAGE | 1.27 |  | Agree | 1.27
11755 |  | BIOPSY, NAIL UNIT | 1.31 |  | Agree | 1.31
11981 # |  | INSERT DRUG IMPLANT DEVICE | 1.48 |  | Agree | 1.48
11982 # |  | REMOVE DRUG IMPLANT DEVICE | 1.78 |  | Agree | 1.78
11983 # |  | REMOVE/INSERT DRUG IMPLANT | 3.30 |  | Agree | 3.30
17000 |  | DESTROY BENIGN/PREMAL LESION | 0.60 |  | Agree | 0.60
17003 |  | DESTROY LESIONS, 2-14 | 0.15 |  | Agree | 0.15
17004 |  | DESTROY LESIONS, 15 OR MORE | 2.79 |  | Agree | 2.79
17110 |  | DESTRUCT LESION, 1-14 | 0.65 |  | Agree | 0.65
17111 |  | DESTRUCT LESION, 15 OR MORE | 0.92 |  | Agree | 0.92
17260 |  | DESTRUCTION OF SKIN LESIONS | 0.91 |  | Agree | 0.91
17261 |  | DESTRUCTION OF SKIN LESIONS | 1.71 |  | Agree | 1.71
17262 |  | DESTRUCTION OF SKIN LESIONS | 1.58 |  | Agree | 1.58
17263 |  | DESTRUCTION OF SKIN LESIONS | 1.79 |  | Agree | 1.79
17264 |  | DESTRUCTION OF SKIN LESIONS | 1.94 |  | Agree | 1.94
17266 |  | DESTRUCTION OF SKIN LESIONS | 2.34 |  | Agree | 2.34
17270 |  | DESTRUCTION OF SKIN LESIONS | 1.32 |  | Agree | 1.32
17271 |  | DESTRUCTION OF SKIN LESIONS | 1.49 |  | Agree | 1.49
17272 |  | DESTRUCTION OF SKIN LESIONS | 1.77 |  | Agree | 1.77
17273 |  | DESTRUCTION OF SKIN LESIONS | 2.05 |  | Agree | 2.05
17274 |  | DESTRUCTION OF SKIN LESIONS | 2.59 |  | Agree | 2.59
17276 |  | DESTRUCTION OF SKIN LESIONS | 3.20 |  | Agree | 3.20
17280 |  | DESTRUCTION OF SKIN LESIONS | 1.17 |  | Agree | 1.17
17281 |  | DESTRUCTION OF SKIN LESIONS | 1.72 |  | Agree | 1.72
17282 |  | DESTRUCTION OF SKIN LESIONS | 2.04 |  | Agree | 2.04
17283 |  | DESTRUCTION OF SKIN LESIONS | 2.64 |  | Agree | 2.64
17284 |  | DESTRUCTION OF SKIN LESIONS | 3.21 |  | Agree | 3.21
17286 |  | DESTRUCTION OF SKIN LESIONS | 4.44 |  | Agree | 4.44
20225 |  | BONE BIOPSY, TROCAR/NEEDLE | 1.87 |  | Agree | 1.87
20526 # |  | THER INJECTION, CARPAL TUNNEL | 0.86 |  | Agree | 0.86
20550 |  | INJECT TENDON/LIGAMENT/CYST | 0.86 |  | Agree | 0.86
20551 # |  | INJECT TENDON ORIGIN/INSERT | 0.86 |  | Agree | 0.86
20552 # |  | INJECT TRIGGER POINT, 1 OR 2 | 0.86 |  | Agree | 0.86
20553 # |  | INJECT TRIGGER POINTS, 3 | 0.86 |  | Agree | 0.86
23000 |  | REMOVAL OF CALCIUM DEPOSITS | 4.36 |  | Agree | 4.36
23350 |  | INJECTION FOR SHOULDER X-RAY | 1.00 |  | Agree | 1.00
24075 |  | REMOVE ARM/ELBOW LESION | 3.92 |  | Agree | 3.92
24076 |  | REMOVE ARM/ELBOW LESION | 6.30 |  | Agree | 6.30
24300 # |  | MANIPULATE ELBOW W/ANESTH | 3.75 |  | Agree | 3.75
24332 # |  | TENOLYSIS, TRICEPS | 7.45 |  | Agree | 7.45
24343 # |  | REPR ELBOW LAT LIGMNT W/TISS | 8.65 |  | Agree | 8.65
24344 # |  | RECONSTRUCT ELBOW LAT LIGMNT | 14.00 |  | Agree | 14.00
24345 # |  | REPR ELBW MED LIGMNT W/TISS | 8.65 |  | Agree | 8.65
24346 # |  | RECONSTRUCT ELBOW MED LIGMNT | 14.00 |  | Agree | 14.00
25001 # |  | INCISE FLEXOR CARPI RADIALIS | 3.38 |  | Agree | 3.38
25020 |  | DECOMPRESS FOREARM 1 SPACE | 5.92 |  | Agree | 5.92
25023 |  | DECOMPRESS FOREARM 1 SPACE | 12.96 |  | Agree | 12.96
25024 # |  | DECOMPRESS FOREARM 2 SPACES | 9.50 |  | Agree | 9.50
25025 # |  | DECOMPRESS FORAM 2 SPACES | 16.54 |  | Agree | 16.54
25075 |  | REMOVE FOREARM LESION SUBCUT | 3.74 |  | Agree | 3.74
25076 |  | REMOVE FOREARM LESION DEEP | 4.92 |  | Agree | 4.92
25259 # |  | MANIPULATE WRIST W/ANESTHES | 3.75 |  | Agree | 3.75
25274 |  | REPAIR FOREARM TENDON/MUSCLE | 8.75 |  | Agree | 8.75
25275 # |  | REPAIR FOREARM TENDON SHEATH | 8.50 |  | Agree | 8.50
25394 # |  | REPAIR CARPAL BONE, SHORTEN | 10.40 |  | Agree | 10.40
25405 |  | REPAIR/GRAFT RADIUS OR ULNA | 14.38 |  | Agree | 14.38
25420 |  | REPAIR/GRAFT RADIUS & ULNA | 16.33 |  | Agree | 16.33
25430 # |  | VASC GRAFT INTO CARPAL BONE | 9.25 |  | Agree | 9.25
25431 # |  | REPAIR NONUNION CARPAL BONE | 10.44 |  | Agree | 10.44
25440 |  | REPAIR/GRAFT WRIST BONE | 10.44 |  | Agree | 10.44
25520 |  | TREAT FRACTURE OR RADIUS | 6.26 |  | Agree | 6.26
25526 |  | TREAT FRACTURE OF RADIUS | 12.98 |  | Agree | 12.98
25645 |  | TREAT WRITST BONE FRACTURE | 7.25 |  | Agree | 7.25
25651 # |  | PIN ULNAR STYLOID FRACTURE | 5.36 |  | Agree | 5.36
25652 # |  | TREAT FRACTURE ULNAR STYLOID | 7.60 |  | Agree | 7.60
25671 # |  | PIN RADIOULNAR DISLOCATION | 6.00 |  | Agree | 6.00
26115 |  | REMOVE HAND LESION SUBCUT | 3.86 |  | Agree | 3.86
26116 |  | REMOVE HAND LESION, DEEP | 5.53 |  | Agree | 5.53
26160 |  | REMOVE TENDON SHEATH LESION | 3.15 |  | Agree | 3.15
26250 |  | EXTENSIVE HAND SURGERY | 7.55 |  | Agree | 7.55
26255 |  | EXTENSIVE HAND SURGERY | 12.43 |  | Agree | 12.43
26340 # |  | MANIPULATE FINGER W/ANESTH | 2.50 |  | Agree | 2.50
26350 |  | REPAIR FINGER/HAND TENDON | 5.99 |  | Agree | 5.99
26352 |  | REPAIR/GRAFT HAND TENDON | 7.68 |  | Agree | 7.68
26356 |  | REPAIR FINGER/HAND TENDON | 8.07 |  | Agree | 8.07
26357 |  | REPAIR FINGER/HAND TENDON | 8.58 |  | Agree | 8.58
26358 |  | REPAIR/GRAFT HAND TENDON | 9.14 |  | Agree | 9.14
26390 |  | REVISE HAND/FINGER TENDON | 9.19 |  | Agree | 9.19
26392 |  | REPAIR/GRAFT HAND TENDON | 10.26 |  | Agree | 10.26
26415 |  | EXCISION, HAND/FINGER TENDON | 8.34 |  | Agree | 8.34
26416 |  | GRAFT HAND OR FINGER TENDON | 9.37 |  | Agree | 9.37
26426 |  | REPAIR FINGER/HAND TENDON | 6.15 |  | Agree | 6.15
26428 |  | REPAIR/GRAFT FINGER TENDON | 7.21 |  | Agree | 7.21
26445 |  | RELEASE HAND/FINGER TENDON | 4.31 |  | Agree | 4.31
26510 |  | THUMB TENDON TRANSFER | 5.43 |  | Agree | 5.43
26587 |  | RECONSTRUCT EXTRA FINGER | 14.05 |  | Agree | 14.05
26590 |  | REPAIR FINGER DEFORMITY | 17.96 |  | Agree | 17.96
26607 |  | TREAT METACARPAL FRACTURE | 5.36 |  | Agree | 5.36
26608 |  | TREAT METACARPAL FRACTURE | 5.36 |  | Agree | 5.36
26670 |  | TREAT HAND DISLOCATION | 3.69 |  | Agree | 3.69
26675 |  | TREAT HAND DISLOCATION | 4.54 |  | Agree | 4.54
26676 |  | PINE HAND DISLOCATION | 5.52 |  | Agree | 5.52
26685 |  | TREAT HAND DISLOCATION | 6.98 |  | Agree | 6.98
26843 |  | FUSION OF HAND JOINT | 7.61 |  | Agree | 7.61
26844 |  | FUSION/GRAFT OF HAND JOINT | 8.73 |  | Agree | 8.73
27096 |  | INJECT SACROILIAC JOINT | 1.40 |  | Agree | 1.40
28299 |  | CORRECTION OF BUNION | 10.58 |  | Agree | 10.58
29086 # |  | APPLY FINGER CAST | 0.62 |  | Agree | 0.62
29805 # |  | SHOULDER ARTHROSCOPY, DX | 5.89 |  | Agree | 5.89
29806 # |  | SHOULDER ARTHROSCOPY/SURGERY | 14.37 |  | Agree | 14.37
29807 # |  | SHOULDER ARTHROSCOPY/SURGERY | 13.90 |  | Agree | 13.90
29819 |  | SHOULDER ARTHROSCOPY/SURGERY | 7.62 |  | Agree | 7.62
29820 |  | SHOULDER ARTHROSCOPY/SURGERY | 7.07 |  | Agree | 7.07
29821 |  | SHOULDER ARTHROSCOPY/SURGERY | 7.72 |  | Agree | 7.72
29822 |  | SHOULDER ARTHROSCOPY/SURGERY | 7.43 |  | Agree | 7.43
29823 |  | SHOULDER ARTHROSCOPY/SURGERY | 8.17 |  | Agree | 8.17
29824 # |  | SHOULDER ARTHROSCOPY/SURGERY | 8.25 |  | Agree | 8.25
29900 # |  | MCP JOINT ARTHROSCOPY, DX | 5.42 |  | Agree | 5.42
29901 # |  | MCP JOINT ARTHROSCOPY, SURG | 6.13 |  | Agree | 6.13
29902 # |  | MCP JOINT ARTHROSCOPY, SURG | 6.70 |  | Agree | 6.70
30117 |  | REMOVAL OF INTRANASAL LESION | 3.16 |  | Agree | 3.16
30118 |  | REMOVAL OF INTRANASAL LESION | 9.69 |  | Agree | 9.69
31641 |  | BRONCHOSCOPY, TREAT BLOCKAGE | 5.03 |  | Agree | 5.03
32650 |  | THORACOSCOPY, SURGICAL | 10.75 |  | Agree | 10.75
33967 # |  | INSERT IA PERCUT DEVICE | 4.85 |  | Agree | 4.85
33975 |  | IMPLANT VENTRICULAR DEVICE | 21.00 |  | Agree | 21.00
33976 |  | IMPLANT VENTRICULAR DEVICE | 23.00 |  | Agree | 23.00
33977 |  | REMOVE VENTRICULAR DEVICE | 19.29 |  | Agree | 19.29
33978 |  | REMOVE VENTRICULAR DEVICE | 21.73 |  | Agree | 21.73
33979 # |  | INSERT INTRACORPOREAL DEVICE | carrier |  | Agree | carrier
33980 # |  | REMOVE INTRACORPOREAL DEVICE | carrier |  | Agree | carrier
35646 |  | ARTERY BYPASS GRAFT | 31.00 |  | Agree | 31.00
35647 # |  | ARTERY BYPASS GRAFT | 28.00 |  | Agree | 28.00
35685 |  | BYPASS GRAFT PATENCY/PATCH | 4.05 |  | Agree | 4.05
35686 # |  | BYPASS GRAFT/AV FIST PATENCY | 3.35 |  | Agree | 3.35
36002 # |  | PSEUDOANEURYSM INJECTION TRT | 1.96 |  | Agree | 1.96
36005 |  | INJECTION EXT VENOGRAPHY | 0.95 |  | Agree | 0.95
36400 |  | DRAWING BLOOD | 0.38 |  | Agree | 0.38
36819 |  | AV FUSION/UPPR ARM VEIN | 14.00 |  | Agree | 14.00
36820 # |  | AV FUSION/FOREARM VEIN | 14.00 |  | Agree | 14.00
36823 |  | INSERTION OF CANNULA(S) | 21.00 |  | Agree | 21.00
38220 # |  | BONE MARROW ASPIRATION | 1.08 |  | Agree | 1.08
38221 # |  | BONE MARROW BIOPSY | 1.37 |  | Agree | 1.37
43200 |  | ESOPHAGUS ENDOSCOPY | 1.59 |  | Agree | 1.59
43227 |  | ESOPH ENDOSCOPY, REPAIR | 3.60 |  | Agree | 3.60
43245 |  | OPERATIVE UPPER GI ENDOSCOPY | 3.39 |  | Agree | 3.39
43310 |  | REPAIR OF ESOPHAGUS | 27.47 |  | Agree | 27.47
43312 |  | REPAIR ESOPHAGUS AND FISTULA | 30.50 |  | Agree | 30.50
43313 # |  | ESOPHAGOPLASTY CONGENITAL | 45.28 |  | Agree | 45.28
43314 # |  | TRACHEO-ESOPHAGOPLASTY CONG | 50.27 |  | Agree | 50.27
44120 |  | REMOVAL OF SMALL INTESTINE | 17.00 |  | Agree | 17.00
44121 |  | REMOVAL OF SMALL INTESTINE | 4.45 |  | Agree | 4.45
44126 # |  | ENTERECTOMY W/TAPER, CONG | 35.50 |  | Agree | 35.50
44127 # |  | ENTERECTOMY W/O TAPER, CONG | 41.00 |  | Agree | 41.00
44128 # |  | ENTERECTOMY CONG, ADD-ON | 4.45 |  | Agree | 4.45
44140 |  | PARTIAL REMOVAL OF COLON | 18.35 |  | Agree | 18.35
44160 |  | REMOVAL OF COLON | 18.62 |  | Agree | 18.62
44202 |  | LAP RESPECT S/INTESTINE SINGL | 22.04 |  | Agree | 22.04
44203 # |  | LAP RESECT S/INTESTINE, ADDL | 4.45 |  | Agree | 4.45
44204 # |  | LAPARO PARTIAL COLECTOMY | 22.00 |  | Disagree | 25.08
44205 # |  | LAP COLECTOMY PART W/ILEUM | 19.50 |  | Disagree | 22.23
44366 |  | SMALL BOWEL ENDOSCOPY | 4.41 |  | Agree | 4.41
44378 |  | SMALL BOWEL ENDOSCOPY | 5.26 |  | Agree | 5.26
44391 |  | COLONOSCOPY FOR BLEEDING | 3.82 |  | Agree | 3.82
45136 # |  | EXCISE ILEOANAL RESERVOIR | 27.30 |  | Agree | 27.30
45190 |  | DESTRUCTION, RECTAL TUMOR | 8.28 |  | Agree | 8.28
45303 |  | PROCTOSIGMOIDOSCOPY DILATE | 0.44 |  | Agree | 0.44
45317 |  | PROTOSIGMOIDOSCOPY BLEED | 1.50 |  | Agree | 1.50
45334 |  | SIGMOIDOSCOPY FOR BLEEDING | 2.73 |  | Agree | 2.73
45382 |  | COLONOSCOPY/CONTROL BLEEDING | 5.69 |  | Agree | 5.69
46020 # |  | PLACEMENT OF SETON | 2.90 |  | Agree | 2.90
46604 |  | ANOSCOPY AND DILATION | 1.31 |  | Agree | 1.31
46614 |  | ANOSCOPY/CONTROL BLEEDING | 2.01 |  | Agree | 2.01
46924 |  | DESTRUCTION, ANAL LESION(S) | 2.76 |  | Agree | 2.76
47370 # |  | LAPARO ABLATE LIVER TUMORE RF | (ᵃ) |  | (ᵃ) | 18.00
47371 # |  | LAPARO ABLATE LIVER CRYOSUG | (ᵃ) |  | (ᵃ) | 16.94
47380 # |  | OPEN ABLATE LIVER TUMOR RF | (ᵃ) |  | (ᵃ) | 21.25
47381 # |  | OPEN ABLATE LIVER TUMOR CRYO | (ᵃ) |  | (ᵃ) | 21.00
47382 # |  | PERCUT ABLATE LIVER RF | (ᵃ) |  | (ᵃ) | 12.00
48100 |  | BIOPSY OF PANCREAS, OPEN | 11.08 |  | Agree | 11.08
49424 |  | ASSESS CYST, CONTRAST INJECT | 0.76 |  | Agree | 0.76
49491 # |  | REPAIRING HERN PREMIE REDUC | 11.13 |  | Agree | 11.13
49492 # |  | RPR ING HERN PREMIE, BLOCKED | 14.03 |  | Agree | 14.03
49495 |  | RPR ING HERNIA BABY, REDUC | 5.89 |  | Agree | 5.89
49496 |  | RPR ING HERNIA BABY, BLOCKED | 8.79 |  | Agree | 8.79
50220 |  | REMOVE KIDNEY, OPEN | 17.15 |  | Agree | 17.15
50225 |  | REMOVAL KIDNEY OPEN, COMPLEX | 20.23 |  | Agree | 20.23
50230 |  | REMOVAL KIDNEY OPEN, RADICAL | 22.07 |  | Agree | 22.07
51596 |  | REMOVE BLADDER/CREATE POUCH | 39.52 |  | Agree | 39.52
52001 # |  | CYSTOSCOPY, REMOVAL OF CLOTS | 5.45 |  | Disagree | 2.37
52347 # |  | CYSTOSCOPY, RESECT DUCTS | 5.28 |  | Agree | 5.28
52510 |  | DILATIONPROSTATIC URETHRA | 6.72 |  | Agree | 6.72
53431 # |  | RECONSTRUCT URETHRA/BLADDER | 19.89 |  | Agree | 19.89
53444 # |  | INSERT TANDEM CUFF | 13.40 |  | Agree | 13.40
53445 |  | INSERT URO./VES NCK SPHINCTER | 14.06 |  | Agree | 14.06
53446 # |  | REMOVE URO SPHINCTER | 10.23 |  | Agree | 10.23
53447 |  | REMOVE/REPLACE UR SPHINCTER | 13.49 |  | Agree | 13.49
53448 # |  | REMOVE/REPLC UR SPHINCTR COMP | 21.15 |  | Agree | 21.15
53449 |  | REPAIR URO SPHINCTER | 9.70 |  | Agree | 9.70
53853 # |  | PROSTATIC WATER THERMOTHER | 6.41 |  | Disagree | 4.14
54065 |  | DESTRUCTION, PENIS LESION(S) | 2.42 |  | Agree | 2.42
54162 # |  | LYSIS PENIL CIRCUMCIS LESION | 3.00 |  | Agree | 3.00
54163 # |  | REPAIR OF CIRCUMSION | 3.00 |  | Agree | 3.00
54164 # |  | FRENULOTOMY OF PENIS | 2.50 |  | Agree | 2.50
54400 |  | INSERT SEMI-RIGID PROSTHESIS | 8.99 |  | Agree | 8.99
54401 |  | INSERT SELF-CONTD PROSTHESIS | 10.28 |  | Agree | 10.28
54405 |  | INSERT MULTI-COMP PENIS PROS | 13.43 |  | Agree | 13.43
54406 # |  | REMOVE MULTI-COMP PENIS PROS | 12.10 |  | Agree | 12.10
54408 # |  | REPAIR MUTLI-COMP PENIS PROS | 12.75 |  | Agree | 12.75
54410 # |  | REMOVE/REPLACE PENIS PROSTH | 15.50 |  | Agree | 15.50
54411 # |  | REMV/REPLC PENIS PROS, COMP | 16.00 |  | Agree | 16.00
54415 # |  | REMOVE SELF-CONTD PENIS PROS | 8.20 |  | Agree | 8.20
54416 # |  | REMV/REPL PENIS CONTAIN PROS | 10.87 |  | Agree | 10.87
54417 # |  | REMV/REPLC PENIS PROS, COMPL | 14.19 |  | Agree | 14.19
54512 |  | EXCISE LESION TESTIS | 8.58 |  | Agree | 8.58
56501 |  | DESTROY, VULVA LESIONS, SIMP | 1.53 |  | Agree | 1.53
56515 |  | DESTROY VULVA LESION/S COMPL | 1.88 |  | Agree | 1.88
56605 |  | BIOPSY OF VULVA/PERINEUM | 1.10 |  | Agree | 1.10
56810 |  | REPAIR OF PERINEUM | 4.13 |  | Agree | 4.13
57022 |  | I & D VAGINAL HEMATOMA, PP | 2.56 |  | Agree | 2.56
57061 |  | DESTROY VAG LESIONS, SIMPLE | 1.25 |  | Agree | 1.25
57065 |  | DESTROY VAG LESIONS, COMPLEX | 2.61 |  | Agree | 2.61
57155 # |  | INSERT UTERI TANDEMNS/OVOIDS | 6.27 |  | Agree | 6.27
58100 |  | BIOPSY OF UTERUS LINING | 1.53 |  | Agree | 1.53
58346 # |  | INSERT HEYMAN UTERI CAPSULE | 6.75 |  | Agree | 6.75
58563 |  | HYSTEROSCOPY, ABLATION | 6.17 |  | Agree | 6.17
58953 # |  | TAH, RAD DISSECT FOR DEBULK | 32.00 |  | Agree | 32.00
58954 # |  | TAH RAD DEBULK/LYMPH REMOVE | 35.00 |  | Agree | 35.00
59000 |  | AMNIOCENTESIS, DIAGNOSTIC | 1.30 |  | Agree | 1.30
59001 # |  | AMINOCENTESIS, THERAPEUTIC | 3.00 |  | Agree | 3.00
64555 |  | IMPLANT NEUROELECTRODES | 2.27 |  | Agree | 2.27
64561 # |  | IMPLANT NEUROELECTRODES | 6.74 |  | Agree | 6.74
64575 |  | IMPLANT NEUROELECTRODES | 4.53 |  | Agree | 4.53
64581 # |  | IMPLANT NEUROELECTRODES | 13.50 |  | Agree | 13.50
64820 |  | REMOVE SYMPATHETIC NERVES | 10.37 |  | Agree | 10.37
64821 # |  | REMOVE SYMPATHETIC NERVES | 8.75 |  | Agree | 8.75
64822 # |  | REMOVE SYMPATHETIC NERVES | 8.75 |  | Agree | 8.75
64823 # |  | REMOVE SYMPATHETIC NERVES | 10.37 |  | Agree | 10.37
66982 |  | CATARACT SURGERY, COMPLEX | 13.50 |  | Agree | 13.50
67225 # |  | EYE PHOTODYNAMIC THER ADD-ON | (ᵃ) |  | (ᵃ) | 0.47
69990 |  | MICROSURGERY ADD-ON | 3.47 |  | Agree | 3.47
74230 | 26 | CINE/VIDEO X-RAY, THROAT/ESO | 0.53 |  | Agree | 0.53
74305 | 26 | X-RAY BILE DUCTS/PANCREAS | 0.42 |  | Agree | 0.42
76066 | 26 | JOINT SURVEY, SINGLE VIEW | 0.31 |  | Agree | 0.31
76078 | 26 | RADIOGRAPHIC ABSORPTIONMETRY | 0.20 |  | Agree | 0.20
76085 # | 26 | COMPUTER MAMMOGRAM ADD-ON | (ᵃ) |  | (ᵃ) | 0.06
76120 | 26 | CINE/VIDEO X-RAYS | 0.38 |  | Agree | 0.38
76125 | 26 | CINE/VIDEO X-RAYS ADD-ON | 0.27 |  | Agree | 0.27
76362 # | 26 | CAT SCAN FOR TISSUE ABLATION | (ᵃ) |  | (ᵃ) | 4.00
76394 # | 26 | MRI FOR TISSUE ABLATION | (ᵃ) |  | (ᵃ) | 4.25
76490 # | 26 | US FOR TISSUE ABLATION | (ᵃ) |  | (ᵃ) | 2.00
76819 | 26 | FETAL BIOPHYS PROFIL W/O NST | 0.63 |  | Disagree | 0.77
76885 | 26 | US EXAM INFANT HIPS, DYNAMIC | 0.74 |  | Agree | 0.74
76886 | 26 | US EXAM INFANT HIPS, STATIC | 0.62 |  | Agree | 0.62
77300 | 26 | RADIATION THERAPY DOSE PLAN | 0.62 |  | Agree | 0.62
77301 # | 26 | RADIOL THERAPY DOSE PLAN, IMRT | 8.00 |  | Agree | 8.00
77418 # |  | RADIATION TX DELIVERY, IMRT | 0.00 |  | Agree | 0.00
85097 |  | BONE MARROW INTERPRETATION | 0.94 |  | Agree | 0.94
88380 # | 26 | MICRODISSECTION | carrier |  | Agree | carrier
90471 |  | IMMUNIZATION ADMIN | 0.17 |  | Disagree | 0.00
90472 |  | IMMUNIZATION ADMIN, EACH ADD | 0.15 |  | Disagree | 0.00
90473 # |  | IMMUNE ADMIN ORAL/NASAL | 0.17 |  | Disagree | 0.00
90939 # |  | HEMODIALYSIS STUDY, TRANSCUT | 0.00 |  | Agree | 0.00
91123 # |  | IRRIGATE FECAL IMPACTION | 0.00 |  | Agree | 0.00
92136 # | 26 | OPHTHALMIC BIOMETRY | 0.54 |  | Agree | 0.54
92973 # |  | PERCUT CORONARY THROMBECTOMY | 3.28 |  | Agree | 3.28
92974 # |  | CATH PLACE, CARDIO BRACHYTX | 3.00 |  | Agree | 3.00
93025 # |  | MICROVOLT T-WAVE ASSESS | 0.75 |  | Agree | 0.75
93609 | 26 | MAP TACHYCARDIA, ADD-ON | (ᵃ) |  | Disagree | 4.81
93612 | 26 | INTRAVENTRICULAR PACING | 3.02 |  | Agree | 3.02
93613 # | 26 | ELECTROPHYS MAP, 3D, ADD-ON | carrier |  | Disagree | 7.00
93619 | 26 | ELECTROPHYSIOLOGY EVALUATION | 7.32 |  | Agree | 7.32
93620 | 2 | ELECTROPHYSIOLOGY EVALUATION | 11.59 |  | Agree | 11.59
93621 | 26 | ELECTROPHYSIOLOGY EVALUATION | 2.10 |  | Agree | 2.10
93622 | 26 | ELECTROPHYSIOLOGY EVALUATION | 3.10 |  | Agree | 3.10
93701 # | 26 | BIOIMPEDANCE, THORACIC | 0.00 |  | Disagree | 0.17
94720 | 26 | MONOXIDE DIFFUSING CAPACITY | 0.26 |  | Agree | 0.26
94750 | 26 | PULMONARY COMPLIANCE STUDY | 0.23 |  | Agree | 0.23
95144 |  | ANTIGEN THERAPY SERVICES | 0.06 |  | Agree | 0.06
95145 |  | ANTIGEN THERAPY SERVICES | 0.06 |  | Agree | 0.06
95165 |  | ANTIGEN THERAPY SERVICES | 0.06 |  | Agree | 0.06
95170 |  | ANTIGEN THERAPY SERVICES | 0.06 |  | Agree | 0.06
95250 # |  | GLUCOSE MONITORING, CONT | 0.00 |  | Agree | 0.00
95875 | 26 | LIMB EXERCISE TEST | 1.10 |  | Agree | 1.10
95904 | 26 | SENSE NERVE CONDUCTION TEST | 0.34 |  | Agree | 0.34
95965 # | 26 | MEG, SPONTANEOUS | 8.00 |  | Agree | 8.00
95966 # | 26 | MEG, EVOKED, SINGLE | 4.00 |  | Agree | 4.00
95967 # | 26 | MEG, EVOKED, EACH ADDL | 3.50 |  | Agree | 3.50
96000 # |  | MOTION ANALYSIS, VIDEO/3D |  | carrier | Disagree | 1.80
96001 # |  | MOTION TEST W/FT PRESS MEAS |  | carrier | Disagree | 2.15
96002 # |  | DYNAMIC SURFACE EMG |  | carrier | Disagree | 0.41
96003 # |  | DYNAMIC FINE WIRE EMG |  | carrier | Disagree | 0.37
96004 # |  | PHYS REVIEW OF MOTION TESTS |  | carrier | Disagree | 1.80
96150 # |  | ASSESS HLTH/BEHAVE, INIT |  | 0.50 | Agree | 0.50
96151 # |  | ASSESS HLTH/BEHAVE, SUBSEQ |  | 0.48 | Agree | 0.48
96152 # |  | INTERVENE HLTH/BEHAVE, INDIV |  | 0.46 | Agree | 0.46
96153 # |  | INTERVENE HLTH/BEHAVE, GROUP |  | 0.10 | Agree | 0.10
96154 # |  | INTERV HLTH/BEHAV, FAM W/PT |  | 0.45 | Agree | 0.45
96155 # |  | INTERV HLTH/BEHAV FAM NO PT |  | 0.44 | Agree | 0.44
96567 # |  | PHOTODYNAMIC TX, SKIN | 0.00 |  | Agree | 0.00
97005 # |  | ATHLETIC TRAIN EVAL |  | (ᵃ) | Agree | 0.00
97006 # |  | ATHLETIC TRAIN REEVAL |  | (ᵃ) | Agree | 0.00
97112 |  | NEUROMUSCULAR REEDUCATION |  | 0.45 | Agree | 0.45
97504 |  | ORTHOTIC TRAINING |  | 0.45 | Agree | 0.45
97535 |  | SELF CARE MNGMENT TRAINING |  | 0.45 | Agree | 0.45
97601 |  | WOUND CARE SELECTIVE |  | 0.50 | Agree | 0.50
97602 |  | WOUND CARE NON-SELECTIVE |  | 0.32 | Disagree | 0.00
99090 |  | COMPUTER DATA ANALYSIS | 0.00 |  | Agree | 0.00
99091 # |  | COLLECT/REVIEW DATA FROM PT | 1.10 |  | Disagree | 0.00
99289 # |  | PT TRANSPORT, 30-74 MIN | 4.80 |  | Disagree | 0.00
99290 # |  | PT TRANSPORT, ADDL 30 MIN | 2.40 |  | Disagree | 0.00
99374 |  | HOME HEALTH CARE SUPERVISION | 1.10 |  | Agree | 1.10
99375 |  | HOME HEALTH CARE SUPERVISION | 1.73 |  | Agree | 1.73
99377 |  | HOSPICE CARE SUPERVISION | 1.10 |  | Agree | 1.10
99378 |  | HOSPICE CARE SUPERVISION | 1.73 |  | Agree | 1.73
99379 |  | NURSING FAC CARE SUPERVISION | 1.10 |  | Agree | 1.10
99380 |  | NURSING FAC CARE SUPERVISION | 1.73 |  | Agree | 1.73
99381 |  | PREV VISIT, NEW, INFANT | 1.19 |  | Agree | 1.19
99382 |  | PREV VISIT, NEW, AGE 1-4 | 1.36 |  | Agree | 1.36
99383 |  | PREV VISIT, NEW, AGE 5-11 | 1.36 |  | Agree | 1.36
99384 |  | PREV VISIT, NEW, AGE 12-17 | 1.53 |  | Agree | 1.53
99385 |  | PREV VISIT, NEW, AGE 18-39 | 1.53 |  | Agree | 1.53
99386 |  | PREV VISIT, NEW, AGE 40-64 | 1.88 |  | Agree | 1.88
99387 |  | PREV VISIT, NEW, 65 & OVER | 2.06 |  | Agree | 2.06
99391 |  | PREV VISIT, EST, INFANT | 1.02 |  | Agree | 1.02
99392 |  | PREV VISIT, EST, AGE 1-4 | 1.19 |  | Agree | 1.19
99393 |  | PREV VISIT, EST, AGE 5-11 | 1.19 |  | Agree | 1.19
99394 |  | PREV VISIT, EST, AGE 12-17 | 1.36 |  | Agree | 1.36
99395 |  | PREV VISIT, EST, AGE 18-39 | 1.36 |  | Agree | 1.36
99396 |  | PREV VISIT, EST, AGE 40-64 | 1.53 |  | Agree | 1.53
99397 |  | PREV VISIT, EST, 65 & OVER | 1.71 |  | Agree | 1.71
(ᵃ) No RUC recommendation provided.
# New CPT codes.
* All CPT codes copyright 2002 American Medical Association.

Table 7, AMA RUC Anesthesia Recommendations and CMS Decisions for New and Revised 2002 CPT Codes, lists the new or revised CPT codes for anesthesia and their base units that will be interim in 2002. This table includes the following information:

• CPT code. This is the CPT code for a service.

• Description. This is an abbreviated version of the narrative description of the code.

• RUC recommendations. This column identifies the base units recommended by the RUC.

• CMS decision. This column indicates whether we agreed with the RUC recommendation (“agree”) or we disagreed with the RUC recommendation (“disagree”). Codes for which we did not accept the RUC recommendation are discussed in greater detail following this table.

• 2002 Base Units. This column establishes the 2002 base units for these services.

Table 7.—AMA RUC Anesthesia Recommendations and CMS Decisions for New and Revised 2002 CPT Codes
*CPT code | Description | RUC recommendation | CMS decision | 2002 Base units
00797 | ANESTH, SURGERY FOR OBESITY | 9 | Disagree | 8
00851 | ANESTH, TUBAL LIGATION | 6 | Agree | 6
00869 | ANESTH, VASECTOMY | 3 | Agree | 3
01905 | ANES, SPINE INJECT, X-RAY/RE | 5 | Agree | 5
01916 | ANESTH, DX ARTERIOGRAPHY | 5 | Agree | 5
01924 | ANES, THER INTERVEN RAD, ART | 5 | Agree | 5
01925 | ANES, THER INTERVEN RAD, CAR | 7 | Agree | 7
01926 | ANES, TX INTERV RAD HRT/CRAN | 8 | Agree | 8
01930 | ANES, THER INTERVEN RAD, VEI | 5 | Agree | 5
01931 | ANES, THER INTERVEN RAD, TIP | 7 | Agree | 7
01932 | ANES, TX INTERV RAD, TH VEIN | 6 | Agree | 6
01933 | ANES, TX INTERV RAD, CRAN V | 7 | Agree | 7
01951 | ANESTH, BURN, LESS 4 PERCENT | 3 | Agree | 3
01952 | ANESTH, BURN, 4-9 PERCENT | 5 | Agree | 5
01960 | ANESTH, VAGINAL DELIVERY | 5 | Agree | 5
01961 | ANESTH, CS DELIVERY | 7 | Agree | 7
01962 | ANESTH, EMER HYSTERECTOMY | 8 | Agree | 8
01963 | ANESTH, CS HYSTERECTOMY | 8 | Agree | 8
01964 | ANESTH, ABORTION PROCEDURES | 4 | Agree | 4
01967 | ANESTH/ANALG, VAG DELIVERY | 5 | Agree | 5
01968 | ANES/ANALG CS DELIVER ADD-ON | 3 | Disagree | 2
01969 | ANESTH/ANALG CS HYST ADD-ON | 5 | Agree | 5
* All CPT codes copyright 2002 American Medical Association.

Discussion of Codes for Which There Were No RUC Recommendations or for which the RUC Recommendations Were Not Accepted

The following is a summary of our rationale for not accepting particular RUC work RVU or base unit recommendations. It is arranged by type of service in CPT code order. Additionally, we also discuss those CPT codes for which we received no RUC recommendations for physician work RVUs. This summary refers only to work RVUs.

Anesthesia for Intraperitoneal Procedures in Upper Abdomen Including Laparoscopy; Gastric Restrictive Procedure for Morbid Obesity (CPT Code 00797).

The RUC recommended that 9 base units be assigned to this procedure based on a comparison to CPT code 00790 (Anesthesia for intraperitoneal procedures in the upper abdomen including laparoscopy; not otherwise specified). We disagree. We believe that assigning 9 base units to 00797 creates a rank order anomaly with CPT code 00794 (Anesthesia for intraperitoneal procedures in the upper abdomen including laparoscopy; pancreatectomy, partial or total (for example, Whipple procedure)) which is assigned 8 base units.

While obese patients do make the work of an anesthesiologist more difficult, we believe that the vignette used in the RUC survey was atypical and exaggerated the required work because the patient in the vignette was described as having asthma. We believe the work of an anesthesiologist is greater for patients undergoing Whipple procedures because, typically, these patients are sicker and require longer operative time and more intense anesthesia care than patients undergoing gastric restrictive procedures. Therefore, we are assigning 8 base units to 00797.

Cesarean Delivery Following Neuraxial Labor Analgesia/Anesthesia (List Separately in Addition to Code for Primary Procedure (CPT Code 01968))

The RUC recommended 3 base units for this add-on procedure. This procedure is reported in addition to CPT code 01967 (Neuraxial labor analgesia/anesthesia for planned vaginal delivery (this includes any repeat subarachnoid needle placement and drug injection and/or any necessary replacement of an epidural catheter during labor)), when a patient who has been given neuraxial anesthesia for a planned vaginal delivery requires conversion to a cesarian delivery and must be given anesthesia for the cesarian delivery. The RUC recommended 7 base units for CPT code 01961 (Anesthesia for, cesarian delivery only), a recommendation with which we agree. We note the following:

• The base units of 01961, anesthesia for cesarian delivery, are the same as the base units of 01967 plus 01968.

• The survey respondents valued the add-on code 01968 as if it were a stand-alone code with a median base unit of 7 and an intraservice time of 75 minutes. Both the median base units and the intraservice time are identical to the survey results for 01961.

• CPT code 01968 is currently reported (per the American Society of Anesthesiologists) as 00857 (Neuraxial analgesia/anesthesia for labor ending in a cesarian delivery (this includes any repeat subarachnoid needle placement and drug injection and/or any necessary replacement of an epidural catheter during labor), which is valued at 7 base units. Moreover, the work of CPT code 01967 plus CPT code 01968 is completely described by CPT code 00857 so it is unclear why the sum of the base units assigned to 01967 and 01968 should not be identical to the base units currently assigned to CPT code 00857.

In view of these concerns, we are assigning 2 base units to CPT code 01968. We are also making a neutrality adjustment to the anesthesia conversion factor based on our analysis of the estimated difference in base units between previously repeated anesthesia codes and the new codes.

Injection, Therapeutic (Eg, Local Anesthetic, Corticosteroid); Carpal Canal, (CPT Code 20526) Injection; Tendon Sheath, Ligament, Ganglion Cyst, (CPT Code 20550)

Injection; Tendon Origin/Insertion, (CPT Code 20551)

Injection; Single or Multiple Trigger Point(s), One or Two Muscle Group(s) (CPT Code 20552), and

Injection; Single or Multiple Trigger Point(s), Three or More Muscle Groups (CPT Code 20553)

CPT codes 20526, 20551, 20552, and 20553 are new codes, while 20550 is being revised from its current descriptor “Injection, tendon sheath, ligament; ganglion cyst, or trigger points” to the descriptor above. We received an interim recommendation of 0.86 work RVUs for these codes, from the RUC, based on the fact that all these procedures are currently reported as 20550 which is valued at 0.86 RVUs.

CPT code 20550 comprises several procedures with varying amounts of physician work that will now be reported separately. We are assigning 0.86 RVUs to all these codes on an interim basis, and will review this further for 2002 if we receive recommendations from the RUC. At that time we will also have utilization data on these services to assist us in making work neutrality adjustments should any adjustments be required.

Laparoscopy, Surgical; Colectomy, Partial With Anastomosis (CPT Code 44204) and Laparoscopy, Surgical; Colectomy, Partial, With Removal of Terminal Ileum With Ileocecostomy (CPT Code 44205)

The RUC recommended 22.00 RVUs for CPT code 44204 and 19.50 RVUs for CPT Code 44205 based on the reference code 44140 (Colectomy, partial; with anastomosis) which, at the time of the recommendation, had a work RVU of 18.35. We increased the work RVU of CPT Code 44140 to 21 as part of the 5-year review of physician work. In order to prevent rank order anomalies we are assigning work RVUs of 25.08 and 22.23 to CPT Codes 44204 and 44205, respectively. These work RVUs represent a 14 percent increase over the RUC recommendation and are consistent with our valuation of CPT Code 44140.

Laparoscopy, Surgical, Ablation of One or More Liver Tumor(s); Radiofrequency (CPT Code 47370), Laparoscopy, Surgical, Ablation of One or More Liver Tumor(s); Cryosurgical (CPT Code 47371), Ablation, Open, of One or More Liver Tumor(s); Radiofrequency (CPT Code 47380), Ablation, Open, of One or More Liver Tumor(s); Cryosurgical (CPT Code 47381), Ablation, One or More Liver Tumor(s), Percutaneous, Radiofrequency (CPT Code 47382), Computerized Axial Tomography Guidance for, and Monitoring of, Tissue Ablation (CPT Code 76362), Magnetic Resonance Guidance for, and Monitoring of, Tissue Ablation (CPT Code 76394); and Ultrasound Guidance for, and Monitoring of, Tissue Ablation (CPT Code 76490)

We have not received recommendations from the RUC for these procedures. We have assigned work RVUs as follows:

47370—18 work RVUs

47371—16.94 work RVUs

47380—21.25 work RVUs

47381—21.00 work RVUs

47382—12.00 work RVUs

To arrive at the values listed above, we compared the time and intensity of these services to other open and laparoscopic liver, colon, and renal procedures. We believe that the RVUs assigned place them in the correct rank order with these other services and with respect to each other.

76362—4.00 work RVUs

76394—4.25 work RVUs

76490—2.00 work RVUs

To arrive at the values above, we compared the time and intensity of these procedures to other radiologic guidance codes and to radiologic supervision and interpretation codes. We believe that the assigned RVUs place them in correct rank order to other radiologic guidance services and to each other.

Cystourethroscopy with irrigation and evacuation of clots, (CPT Code 52001)

The RUC recommended 5.45 work RVUs based on a comparison to the reference procedures CPT code 52315 (Cystourethroscopy, with removal of foreign body, calculus, or ureteral stent from urethra or bladder (separate procedure); complicated), and CPT Code 52235 (Cystourethroscopy, with fulguration (including cryosurgery or laser surgery) and/or resection of; medium bladder tumor(s) (2.0 to 5.0 cm)).

We are concerned that 52001, with its current descriptor, will be reported whenever a cystoscopy is performed and blood is present during the examination. As written, the code may be reported whenever any blood clots are present. The RUC recommendation is based upon the urologists' response to a scenario where the bladder outlet was obstructed due to large blood clots and removal of the blood clots required a resectoscope. Unfortunately, the code descriptor does not require the presence of bladder obstruction due to blood clots, nor does it require the use of a resectoscope. Therefore, until the descriptor of this code is clarified by the AMA CPT editorial panel, we are assigning 2.37 RVUs to this procedure. As the CPT code is now written, the time and intensity of the physician work for this procedure are comparable to CPT Code 52005. (Cystourethroscopy, with ureteral catheterization, with or without irrigation, instillation, or ureteropyelography, exclusive of radiologic service).

Transurethral Destruction of Prostatic Tissue; By Water Induced Thermotherapy (CPT Code 53853)

The RUC recommended 6.41 work RVUs for this procedure based on a comparison to CPT Code 54670 (Suture or repair of testicular injury) which has a similar work value and similar pre-, intra-, and postservice times to the median times in the survey for 53853. The RUC also noted that CPT Code 53850 (Transurethral destruction of prostate; by microwave thermotherapy) has 90 minutes of intraservice time as compared to 60 minutes for CPT code 53853 and that the recommended work value for CPT code 53853 was approximately ⅔ of the work value for CPT code 53850.

We note that although the intraservice time for CPT code 53853 is 60 minutes, most of that time is spent monitoring the flow of hot water through a catheter and balloon and checking the water's temperature. We estimate that the maximum amount of time spent on activities other than monitoring is 20 minutes. This means that the work intensity for the intraservice portion of this procedure is significantly less than it is for most other surgical procedures and, specifically, the reference codes examined by the RUC. Therefore, we believe it is more appropriate to compare CPT code 53853 to 90-day global procedures with less than 30 minutes of intraservice time. For these reasons we compared CPT code 58350 to the following procedures:

CPT code | Work RVU | Intraservice time (minutes) | Pre/post service time
53853 Transurethral destruction of prostate tissue; by water-induced thermotherapy | RUC Recommendation—6.41 | 60 | *113
| CMS assigned RVU 4.14
30130 Excision turbinate, partial or complete, any method | 3.38 | 27 | 78
42826 Tonsillectomy, primary or secondary; age 12 or over | 3.38 | 28 | 82
46045 Incision and drainage of intramural, intramuscular, or submucosal abscess, transanal, under anesthesia | 4.32 | 25 | 206
46946 Ligation of internal hemorrhoids; multiple procedures | 3.0 | 25 | 75
58800 Drainage of ovarian cyst(s), unilateral or bilateral, (separate procedure); vaginal approach | 4.14 | 23 | 100
61105 Twist burr hole for subdural or ventricular puncture | 5.14 | 27 | 97
65810 Paracentesis of anterior chamber of eye (separate procedure); with removal of vitreous and/or discission of anterior hyaloid membrane, with or without air injection | 4.87 | 28 | 104
67031 Severing of vitreous strands, vitreous face adhesions, sheets, membranes, or opacities, laser surgery (one or more stages) | 3.67 | 26 | 79
* see below.

The RUC sent us a postservice time of 131 minutes, which we believe is incorrect. The RUC assigned 3 postservice visits to this procedure which have a combined time of 35 minutes, not 53 minutes as recommended by the RUC. Therefore, the correct postservice time is 118 minutes.

With respect to the services listed above, we note that all of them carry significant risks to the patient and have intraservice work of high intensity. In fact, we believe the intraservice work of all the above procedures is of greater intensity than any portion of the intraservice work of CPT code 53853. After review of the procedures considered by the RUC and the above procedures, we believe that the time and intensity of CPT code 53853 is most comparable to CPT code 58800 and are assigning 4.14 work RVUs to CPT code 53853. This places CPT code 53853 in the correct rank order with respect not only to the procedures listed above but also to the prostate ablation, cystourethroscopy, and testicular procedures considered by the RUC.

Destruction of Localized Lesion of Choroids (eg, Choroidal Neovascularization); Photodynamic Therapy, Second Eye, at Single Session (List Separately in Addition To Code for Primary Eye Treatment) CPT Code 67225

We did not receive a RUC recommendation on this code. We are assigning work RVUs of 0.47, which is the work value for G0184, the code previously used for reporting this service.

Immunization Administration (Includes Percutaneous, Intradermal, Subcutaneous, Intramuscular and Jet Injections); One Vaccine (Single or Combination Vaccine/Toxoid) (CPT Code 90471), Immunization Administration (Includes Percutaneous, Intradermal, Subcutaneous, Intramuscular and Jet Injections); Each Additional Vaccine/Toxoid (List Separately in Addition To Code for Primary Procedure) One Vaccine (CPT Code 90472)

The RUC recommended a work RVU of .17 for CPT code 90471 and .15 work RVUs for CPT code 90472. These services are analogous to CPT code 90872 (Therapeutic, prophylactic or diagnostic injection (specify material injected); subcutaneous or intramuscular) which has no physician work RVUs. They are services performed by a nurse and have no physician work. If the physician performs any counseling related to this service, it is considered part of the work of the preventive medicine visit during which the immunization was administered. If the vaccine is administered during a visit other than a preventive medicine service, any physician counseling should be billed separately as an E/M service. For these reasons we are not assigning work RVUs to these codes.

Immunization Administration by Intranasal or Oral Route; One Vaccine (Single or Combination Vaccine/Toxoid) (CPT Code 90473); and, Immunization Administration by Intranasal or Oral Route Each Additional Vaccine/Toxoid (List Separately in Addition To Code for Primary Procedure) CPT Code 90474

The RUC recommended a work RVU of .17 for CPT code 90473 and .15 work RVUs for CPT code 90474. These are noncovered services. Medicare does not cover self-administered vaccines, and, therefore, we are not assigning work RVUs to these services.

Intraventricular and/or Intra-Atrial Mapping of Tachycardia Site(s) With Catheter Manipulation to Record From Multiple Sites to Identify Origin of Tachycardia (CPT Code 93609)

We have not received a recommendation from the RUC for this service. The descriptor for this service has not changed but the AMA CPT editorial panel changed the global period for this service from a zero day global to a ZZZ global. This means that it is now an “add on” code and the physician work RVUs will no longer include any pre- or postservice work. It currently has a work RVU of 10.07. In order to appropriately value this add on service, we compared it to several other electrophysiology services, including CPT code 93619, (Comprehensive electrophyisologic evaluation with right atrial pacing and recording, right ventricular pacing and recording, His bundle recording, including insertion and repositioning of multiple electrode catheters; without induction or attempted induction of arrhythmia) with a work RVU of 7.32, and CPT code 93618, Induction of arrhythmia by electrical pacing (work RVU 4.26), and CPT code 93624, (Electrophysiologic follow up study with pacing and recording to test effectiveness of therapy, including induction of attempted induction of arrhythmia), with a work RVU of 4.81. After reviewing these services, we believe that the time and intensity of physician work for CPT code 93609 as an add-on code is most similar to CPT code 93624 and are assigning a work RVU of 4.81 to CPT code 93609.

Intracardiac Electrophysiologic 3-Dimensional Mapping (CPT Code 93613)

This is a new add-on code for which we have not received a recommendation from the RUC. As an add-on code, this service does not include and pre- or postservice work. We compared this service to CPT code 93619 (Comprehensive electrophysiologic evaluation with right atrial pacing and recording, right ventricular pacing and recording, His bundle recording, including insertion and repositioning of multiple electrode catheters; without induction or attempted induction of arrhythmia) with work RVUs of 7.32 and to CPT code 93651 (Intracardiac catheter ablation of arrhythmogenic focus; for treatment of supraventricular tachycardia by ablation of fast or slow atrioventricular pathways, accessory atrioventricular connections or other atrial foci, singly or in combination) with work RVUs of 16.25. We also wanted to ensure that the work value for this service was placed in correct rank order to CPT code 93609 (see above). We believe that the intraservice time and intensity of this service is slightly less than that of CPT code 93619 and are assigning 7.00 work RVUs to CPT code 93613.

Bioimpedence, Thoracic, Electrical CPT Code 93701

We received a RUC recommendation that this service has no physician work. We currently cover this service under the HCPCS code M0302. We assigned 0.17 physician work RVUs to this service in the November 2000 final rule after conducting a notice and comment period. We will consider the RUC recommendation. If we considered changing the work RVUs for this service, we would discuss any proposed change in a future notice of proposed rule making. However, we are going to discontinue HCPCS code M0302 and will recognize CPT Code 93701 for this service.

Comprehensive Computer-Based Motion Analysis by Video-Taping And 3-D Kinematics (CPT Code 96000), Comprehensive Computer-Based Motion Analysis by Video-Taping and 3-D Kinematics; With Dynamic Plantar Pressure Measurements During Walking (CPT Code 96001), Dynamic Surface Electromyography, During Walking or Other Functional Activities, 1-12 Muscles (CPT Code 96002), Dynamic Fine Wire Electromyography, During Walking or Other Functional Activities, 1 Muscle (CPT Code 96003), and Physician Review and Interpretation of Comprehensive Computer Based Motion Analysis, Dynamic Plantar Pressure Measurements, Dynamic Surface Electromyography During Walking or Other Functional Activities, and Dynamic Fine Wire Electromyography, With Written Report (CPT Code 96004)

HCPAC recommended that these services be carrier priced. We disagree and are assigning work RVUs to these services as follows:

CPT code 96000—1.8 work RVUs

CPT code 96001—2.15 work RVUs

CPT code 96002—.41 work RVUs

CPT code 96003—.37 work RVUs

CPT code 96004—1.8 work RVUs

To arrive at these values, we compared the time and intensity of CPT codes 96000 and 96001 to other physical therapy services. We believe that the assigned RVUs place these services in the correct rank order with other physical therapy services. We compared the time and intensity of CPT codes 96002 and 96003 to other electromyography services and believe that the assigned RVUs place these services in the correct rank order with other electromyography services. We compared the time and intensity of CPT code 96004 with other physical therapy services and physician consultation services and believe the assigned RVUs place CPT code 96004 in the correct rank order with these other services.

Removal of Devitalized Tissue From Wound(s); Non-Selective Debridement, Without Anesthesia (eg, Wet-To-Moist Dressings, Enzymatic, Abrasion), Including Topical Applications(s), Wound Assessment and Instruction(s) for Ongoing Care, Per Session, CPT 97602

The HCPAC recommended a work RVU of .32 for this service. We disagree with this recommendation as we continue to believe that this code is bundled into 97602 for the reasons discussed earlier in this section. Therefore, we are not establishing work RVUs for this service.

Collection and Interpretation of Physiologic Data (eg, ECG, Blood Pressure, Glucose Monitoring) Digitally Stored and/or Transmitted by the Patient and/or Caregiver to the Physician or Other Qualified Health Care Professional, Requiring a Minimum of 30 Minutes of Time CPT CODE 99091

The RUC recommended work RVUs of 1.10 for this code. We disagree as this work is considered part of the pre and postservice work of an E/M service and propose to bundle payment for this code. (Note that payment for similar CPT code, 99090, Analysis of clinical data in computers (eg, ECGs, blood pressures, hematologic data, is also currently bundled.)

CPT Codes 99289, Physician Constant Attention of the Critically Ill or Injured Patient During an Interfacility Transport; First 30-74 Minutes, and 99290 Each Additional 30 Minutes (List Separately in Addition To Code for Primary Service)

These two new codes were created for CPT 2002 that describe services provided during patient transport. The RUC recommended that CPT code 99289 be valued at 4.8 work RVUs and CPT code 99290 be valued at 2.4 work RVUs. The CPT explanatory notes accompanying these two new codes state:

The following codes 99289 and 99290 are used to report the physical attendance and direct face-to-face care by a physician during the interfacility transport of a critically ill or injured patient. For the purposes of reporting codes 99289 and 99290, face-to-face care begins when the physician assumes the primary responsibility of the patient at the referring hospital or facility, and ends when the receiving hospital or facility accepts responsibility for the patient's care. Only the time the physician spends in direct face-to-face contact the patient during the transport should be reported. Patient transport services involving less than 30 minutes of face-to-face physician care should not be reported using 99289, 99290.

Procedure(s) or service(s) performed by other members of the transporting team may not be reported by the supervising physician. Any procedure(s) or service(s) performed by the physician before or during transport that are identified in CPT may be reported separately with the exception of routine monitoring evaluations (eg, heart rate, respiratory rate, blood pressure, and pulse oximetry) and the initiation of mechanical ventilation.

The time spent by the physician performing separately reportable services or procedures should not be included in the face-to-face time reported by codes 99289, 99290. The direction of emergency care to transporting staff by a physician located in a hospital or other facility by two-way communication is not considered direct face-to-face care and should not be reported with codes 99289, 99290.

The CPT explanatory notes go on to state that physicians should report emergency department services codes, initial hospital care codes, and critical care codes only after the patient has been admitted to the emergency department, the inpatient floor, or the critical care unit of the receiving facility.

Decision: We would like to note that, currently, physician services provided to patients during interfacility transport are reported, and paid, using the appropriate E/M service codes (for example, outpatient visits, emergency visits, prolonged services, critical care).

We have several significant concerns about the new CPT codes, 99289 and 99290. First, other than requiring face-to-face contact with the patient, there is no requirement for delivery of any specific physician service. This is in contrast to requirements for reporting critical care services under CPT codes 99291, 99292, 99295, 99296, 99297, and 99298. When reporting CPT codes 99291 and 99292 the CPT requires that, in addition to the patient being critically ill or critically injured, and the physician devoting his or her full attention to the patient, “high complexity decision making to assess, manipulate, and support vital system function(s) to treat single or multiple vital organ system failure and/or to prevent further life-threatening deterioration of the patient's condition.” These codes are valued at 4.0 work RVUs and 2.0 work RVUs, respectively.

The CPT goes on to state that—

“Although critical care typically requires interpretation of multiple physiologic parameters and/or application of advanced technology(s), critical care may be provided in life threatening situations when those elements are not present.”

“ * * * Providing medical care to a critically ill, injured, or postoperative patient qualifies as a critical care service only if both the illness or injury and the treatment being provided, meet the above requirements.”

As the code descriptors are written, the care described by the new CPT patient transport codes 99289 and 99290 do not meet the requirements for critical care. In fact, some services that will be reported as 99289 and 99290 would also be more appropriately reported as a new or established outpatient visit, an emergency visit, or as prolonged services, depending on the type of care that was delivered. We believe that the descriptors for CPT codes 99289 and 99290 will make it difficult for physicians to know when to report 99289 and 99290 appropriately.

Second, the beginning and ending times for 99289 and 99290 are unclear. We do not believe time spent in the referring and receiving facility should be counted towards this service. Time spent in the facility prior to and after transfer may not require any physician services even though the physician is face-to-face with the patient. Furthermore, if services are provided at the referring or receiving facility they should be billed as the appropriate E/M service (for example, new patient visit, emergency visit).

Third, we note that the descriptors for 99289 and 99290 include the phrase “ * * * critically ill or injured patient” while the descriptors for 99291 and 99292 include the phrase “ * * * critically ill or critically injured patient.” We realize that CPT descriptors are carefully developed, so we are concerned about this discrepancy and believe it needs to be clarified.

Fourth, we note that although CPT specifically includes (or bundles) certain services into critical care, it does not include those same services in the payment for 99289 and 99290 (for example, gastric intubation, temporary transcutaneous pacing).

Therefore, after careful review of the descriptors and explanatory notes for CPT codes 99289 and 99290, we have decided to not recognize these codes for Medicare purposes. Instead, we have created two HCPCS Level II codes to describe critical care services provided to patients during inter-facility transport. These codes are:

G0240—Critical Care Service delivered by a physician; face-to-face, during inter-facility transport of a critically ill or critically injured patient: first 30-74 minutes of active transport.

G0240 will be valued at 4.0 work RVUs.

G0241—each additional 30 minutes (list separately in addition to G0240)

G0241 will be valued at 2.0 work RVUs.

We believe that these two G codes carry out the intent of 99289 and 99290 with less ambiguity and thus will facilitate accurate reporting of these services by physicians. We have decided to value these services at the present value for 99291 (4.0 work RVUs) and 99292 (2.0 work RVUs). Although critical care is the most intense E/M service delivered by physicians, there is considerable variation in the intensity range of the services provided under the umbrella of critical care. We value all critical care services uniformly and do not believe there is a need to develop a tiered approach to valuing critical care services.

We will apply all the requirements for critical care services (CPT codes 99291 and 99292) to G0240 and G0241 with the following two exceptions: (1) All time counted towards patient transport time must be face-to-face time with the patient; (2) We will only allow face-to-face time spent in actual transport to be counted towards G0240 and G0241; E/M services delivered in the referring and receiving facilities may be reported under other appropriate E/M codes (for example, outpatient, emergency, or critical care services).

If the actual transportation time is less than 30 minutes and/or the service does not meet the requirements of G0240 and G0241, then the physician may report his or her services under the appropriate E/M code (for example, outpatient visit, emergency visit, prolonged services).

In order for G0240 and G0241 to be payable, the medical record must document the time spent in actual patient transport, the nature of the patient's critical illness or critical injury, and the critical care services delivered to the patient. Consistent with the teaching physician policies in section 15016 of the Medicare Carriers Manual, residents who provide this service are paid through graduate medical education payments. Therefore, their services are not payable through Medicare Part B.

Any services delivered, or face-to-face time spent with the patient, by a resident, nurse, emergency medical technician, or other non-physician may not be billed using G0240 or G0241. Nor may any services performed by any physician or non-physician who is not physically present with the patient during interfacility transport be billed. Time spent in the referring facility, the receiving facility, and time spent prior to transport are not countable towards G0240 and G0241. Additionally, any time spent performing separately billable procedures may not be counted towards G0240 and G0241 (for example, insertion of chest tubes, insertion of intravenous lines and pacemakers, and cardiopulmonary resuscitation). All services bundled into 99291 and 99292 will also be bundled into G0240 and G0241.

Establishment of Interim Practice Expense Relative Value Units for New and Revised Physician's Current Procedural Terminology (CPT) Codes and New HCFA Common Procedure Coding System Codes for 2002

We have developed a process for establishing interim practice expense RVUs (PERVUs) for new and revised codes that is similar to that used for work RVUs. Under this process, the RUC recommends the practice expense direct inputs, that is, the staff time, supplies and equipment associated with each new code. We then review the recommendations in a manner similar to our evaluation of the recommended work RVUs.

The RUC recommendations on the practice expense inputs for the new and revised 2002 codes were submitted to us as interim recommendations. We, therefore, consider that these recommendations are still subject to further refinement by the PEAC, or by us, if it is determined that such future review is needed. We may also revisit these inputs in light of future decisions of the PEAC regarding supply and equipment packages and standardized approaches to pre- and postservice clinical staff times.

We have accepted, at least in the interim, almost all of the practice expense recommendations submitted by the RUC for the codes listed in table 6, AMA RUC and HCPAC Work RVU Recommendations and CMS Decisions for New and Revised 2002 CPT Codes.” We made the following minor changes to the inputs where relevant:

• We substituted the RUC agreed-upon multispecialty minimum visit supply package for the list of individual supplies where appropriate.

• We deleted separately billable supplies, for example, drugs, fluids, casting supplies, when listed in the recommended supply list.

• We rounded fractions of minutes of clinical staff time to the nearest minute.

• The RUC agreed with the specialty society representing neurology that the magnetoencephalography codes, CPT 95965, 95966, 95967, are only performed in the facility setting and that they therefore had no direct practice expense inputs. However, we have subsequently heard from the specialty society that it has determined that a small number of practitioners do perform these services in the office setting and that there would be costs in that setting that should be reflected. We have accepted the suggestion that the TC of these codes be carrier-priced, at least until we can ascertain what direct cost inputs should be included when these services are performed in the non-facility setting.

• We are accepting the practice expense inputs recommended for CPT code 77418 (Intensity modulated treatment delivery, single or multiple fields/arcs, via narrow spatially and temporally modulated beams (binary, dynamic, MLC, etc.), per treatment session, with the exception of the time for the radiation therapist which we are reducing from the recommended 123 minutes to 60 minutes. We are concerned that there may be overlap in the staff time for other codes billed in conjunction with CPT code 77418, such as CPT code 76950 (Ultrasound guidance for placement of radiation therapy fields) and CPT code 77417 (Therapeutic radiology port film(s)).

Further, we understand that the code was valued assuming the typical time for the service was 60 minutes and included the time of two radiation therapists. We believe that the service commonly takes less than the recommended 123 minutes and it may involve only one therapist. As a result of these concerns, we are valuing the service using 60 minutes of radiation technician time. This valuation is considered interim during the refinement of practice expense RVUs. We also note that the practice expense RVUs for 77418 are being determined under the resource-based methodology even though the service has no physician work. We believe that the service will have a more appropriate relative payment amount if the practice expense RVUs are determined outside of the no work methodology.

• We did not receive a RUC recommendation for CPT code 93613, Intracardiac electrophysiology, or CPT 96004, Gait and motion studies. We have assumed that these services are performed only in the facility setting and have no direct inputs.

For the following CPT codes we did not receive practice expense recommendations. Therefore, we are providing practice expense inputs through crosswalking to an existing code as indicated below:

New/revised CPT code | Existing CPT/HCPCS code
20553 Therapeutic Injections | 20550 Therapeutic Injections.
47370 Ablation of Hepatic Tumors | 47562 Laparoscopic cholecystectomy.
47371 Ablation of Hepatic Tumors | 47562 Laparoscopic cholecystectomy.
47380 Ablation of Hepatic Tumors | 47350 Repair liver wound.
47381 Ablation of Hepatic Tumors | 47350 Repair liver wound.
47382 Ablation of Hepatic Tumors | 47525 Change bile duct catheter.
67225 Ocular Photodynamic Therapy | G0184 Ocular photodynamic tx, 2nd.
76362 Ablation of Hepatic Tumors | 76360 CAT scan for needle biopsy.
76394 Ablation of Hepatic Tumors | 76393 Mr guidance for needle place.
76490 Ablation of Hepatic Tumors | 76942 Echo guide for biopsy.

C. Other Changes to the 2002 Physician Fee Schedule and Clarification of CPT Definitions

For the 2002 physician fee schedule, we are establishing or revising several alpha-numeric HCPCS codes for reporting certain services that are not clearly described by existing CPT codes.

In addition to the two new HCPCS codes for patient transport we have discussed in section IV.B., “Establishment of Interim Work Relative Value Units for New and Revised Physician's Current Procedural Terminology (CPT) Codes and New Healthcare Common Procedure Coding System Codes (HCPCS) for 2002” above; we are also establishing the HCPCS codes for the respiratory therapy services below.

Respiratory Therapy Codes

Respiratory therapists can deliver services incident to a physician's service or in a provider setting such as an outpatient hospital or a comprehensive outpatient rehabilitation facility. In the past, services delivered by respiratory therapists or other health professionals often have not been clearly described by the existing CPT codes. In order to clarify coding of these services, typically delivered by respiratory therapists, but at times delivered by other specially trained health professionals, we are instituting new G codes to describe these services.

We developed three codes for use to describe services to improve respiratory function:

G0237 Therapeutic Procedures To Increase Strength or Endurance of Respiratory Muscles, Face-to-Face, One-on-One, Each 15 Minutes (Includes Monitoring).

This service is to be billed when the therapist works with the patient to perform specific exercises aimed at strengthening the main and accessory muscles of respiration.

We have provided a specific value for this code based upon the time that a respiratory therapist, who we believe will be the typical professional providing this service, will spend performing this service and practice expenses crosswalked from other similar services. This code will have no physician work.

G0238 Therapeutic Procedures To Improve Respiratory Function, Other Than Ones Described by G0237, One-on-One, Face-to-Face, per 15 Minutes (Includes Monitoring)

G0239 Therapeutic Procedures To Improve Respiratory Function, Two or More Patients Treated During the Same Period, Face-to-Face (Includes Monitoring)

Codes G0237 and G0238 are billed in 15-minute increments. The method for “counting” the 15 minutes will be consistent with the method for counting minutes in many of the 97000 series CPT codes (see PM-01-68 for details). These codes would describe activities, such as monitored exercise, that improve respiratory function. Both G0238 and G0239 would be carrier-priced. The carriers have the authority to request information about the specific nature of the services delivered. CPT codes G0237-G0239 may not be billed with codes G0110 and G0111, which are restricted to services in the National Emphysema Treatment Trial (NETT), since they represent the same services.

These codes are designed to provide more specific information about the services being delivered. The availability of codes for services to improve respiratory function will make billing of CPT codes 97000-97799 inappropriate for professionals involved in treating respiratory conditions, unless these services are delivered by physical and occupational therapists and meet the other requirements for physical and occupational therapy services. We recognize that speech and language pathologists also occasionally treat patients to improve respiratory function as part of their treatment of speech and language disorders. Because the primary goal of these services is not to improve respiratory function, but to restore speech and communication, these services should be coded with 92507, “treatment of speech, language, voice, communication, and/or auditory processing disorder (includes aural rehabilitation, individual).”

VI. Update of the Codes for the Physician Self-Referral Prohibition

On January 4, 2001 we published in the Federal Register a final rule with comment period, “Medicare and Medicaid Programs; Physicians' Referrals to Health Care Entities With Which They Have Financial Relationships” (66 FR 856). That final rule incorporated into regulations the provisions in paragraphs (a), (b) and (h) of section 1877 of the Social Security Act (the Act). Section 1877 of the Act prohibits a physician from referring a Medicare patient for certain “designated health services” to a health care entity with which the physician (or a member of the physician's immediate family) has a financial relationship, unless an exception applies. In the final rule, we published an attachment listing all of the CPT and HCPCS codes that defined the entire scope of the following designated health services for purposes of section 1877 of the Act: clinical laboratory services; physical therapy services (including speech-language pathology services); occupational therapy services; radiology and certain other imaging services; and radiation therapy services and supplies.

In the January 4, 2001 final rule, we stated that we would update the list of codes used to define these designated health services in an addendum to the annual final rule concerning physician fee schedule payment policies. Thus, we are now publishing an updated all-inclusive list of codes at Addendum E. We also will provide that update on our website at www.hcfa.gov/medlearn/refphys.htm. The purpose of this update is to conform the code list to the most recent publication of CPT and HCPCS codes. The list of codes will become effective on January 4, 2002. We are using the January 4, 2002 date because that is the effective date for all but one provision of the January 4, 2001 physician self-referral final rule (changes made to 42 CFR 424.22 in the final rule became effective on April 6, 2001). In future years, we intend to use a January 1 effective date to coincide with the effective date of the new CPT and HCPCS codes.

Table 8, below, identifies the CPT and HCPCS codes that have been added to or deleted from the list of codes published as an attachment to the January 4, 2001 physician self-referral final rule. In that final rule, we stated that we would consider timely comments regarding the updated code list. Accordingly, we will consider comments with respect to the codes listed in Table 8, below, if we receive them by the date specified in the date section of this final rule.

Table 8.—Additions and Deletions to the Physician Self-Referral Codes
CPT¹ or HCPCS code
Additions
76085 Computer mammogram add-on.
77301 Radioltherapy dos plan, imrt.
77418 Radiation tx delivery, imrt.
92974 Cath place, cardio brachytx.
96000 Motion analysis, video/3d.
96001 Motion test w/ft press meas.
96002 Dynamic surface emg.
96003 Dynamic fine wire emg.
G0202 Screening mammography digital.
G0204 Diagnostic mammography digital.
G0206 Diagnostic mammography digital.
G0236 Digital film convert diag ma.
J1270 Injection, doxercalciferol.
J1755 Iron sucrose injection.
Q3018 Hepatitis B vaccine.
Deletions
90744 Hepb vacc ped/adol 3 dose im.
90746 Hep B vaccine, adult, im.
90747 Hepb vacc, ill pat 4 dose im.
¹ CPT codes, descriptions and other data only are copyright 2001 American Medical Association. All Rights Reserved. Applicable FARS/DFARS Clauses Apply.

Table 8 includes 2 codes (J1270 and J1755) that we have identified as dialysis-related outpatient prescription drugs. The physician self-referral prohibition will not apply to these services if they meet the conditions set forth in § 411.355(g) concerning the exception to the physician self-referral rule for EPO and other dialysis-related outpatient prescription drugs furnished in or by an ESRD facility. Table 8 also includes codes (G0202, 76085 and Q3018) that we have identified as screening tests and a vaccine. The physician self-referral prohibition will not apply to these services if they meet the conditions at § 411.355(h) concerning the exception for preventive screening tests, immunizations, and vaccines.

We note that, in response to our January 4, 2001 final rule with comment, we received a number of comments regarding designated health services. We intend to address those comments in a second final rule regarding the physician self-referral prohibition.

VII. Physician Fee Schedule Update for Calendar Year 2002

A. Physician Fee Schedule Update

The physician fee schedule update for 2002 is -4.8 percent. Under section 1848(d)(3) of the Act, the update is equal to 1 plus the product of the Medicare Economic Index (MEI) (divided by 100) and 1 plus the update adjustment factor. For 2002, the MEI is equal to 2.6 percent (1.026). A more detailed description of the MEI and its calculation follows. The update adjustment factor is equal to -7.0 percent (0.930). Section 1848(d)(4)(F) of the Act requires an additional -0.2 percent (0.998) reduction to the update for 2002. Thus, the product of the MEI (1.026), the update adjustment factor (0.930), and the statutory adjustment factor (0.998) equals the 2002 update of -4.8 percent (0.9523). The MEI and the update adjustment factor are described below.

B. The Percentage Change in the Medicare Economic Index

The MEI measures the weighted-average annual price change for various inputs needed to produce physicians' services. The MEI is a fixed-weight input price index, with an adjustment for the change in economy-wide labor productivity. This index, which has 1996 base weights, is comprised of two broad categories—physician's own time and physician's practice expense.

The physician's own time component represents the net income portion of business receipts and primarily reflects the input of the physician's own time into the production of physicians' services in physicians' offices. This category consists of two subcomponents—wages and salaries, and fringe benefits. These components are adjusted by the 10-year moving average annual percent change in output per man-hour for the nonfarm business sector to reflect productivity growth in physicians' offices.

The physician's practice expense category represents the rate of price growth in nonphysician inputs to the production of services in physicians' offices. This category consists of wages and salaries and fringe benefits for nonphysician staff and other nonlabor inputs. Like physician's own time, the nonphysician staff categories are adjusted for productivity using the 10-year moving average annual percent change in output per man-hour for the nonfarm business sector. The physician's practice expense component also includes the following categories of nonlabor inputs—office expense, medical materials and supplies, professional liability insurance, medical equipment, professional car, and other expense. Table 9 presents a listing of the MEI cost categories with associated weights and percent changes for price proxies for the 2002 update. The calendar year 2002 MEI is 2.6 percent.

Table 9.—Increase in the Medicare Economic Index Update for Calendar Year 2002 ¹
Cost categories and price measures | 1996 Weights ² | CY 2002 percent changes
Medicare Economic Index Total | 100.0 | 2.6
1. Physician's Own Time ³ ⁴ | 54.5 | 2.1
a. Wages and Salaries: Average hourly earnings private nonfarm, net of productivity | 44.2 | 2.0
b. Fringe Benefits: Employment Cost Index, benefits, private nonfarm, net of productivity | 10.3 | 3.2
2. Physician's Practice Expense ³ ⁴ | 45.5 | 3.0
a. Nonphysician Employee Compensation | 16.8 | 2.5
1. Wages and Salaries: Employment Cost Index, wages and salaries, weighted by occupation, net of productivity | 12.4 | 2.3
2. Fringe Benefits: Employment Cost Index, fringe benefits, white collar, net of productivity | 4.4 | 3.7
b. Office Expense: Consumer Price Index for Urban Consumers (CPI-U), housing | 11.6 | 4.2
c. Medical Materials and Supplies: Producer Price Index (PPI), ethical drugs/PPI, surgical appliances and supplies/CPI-U, medical equipment and supplies (equally weighted) | 4.5 | 1.8
d. Professional Liability Insurance: HCFA professional liability insurance survey ⁵ | 3.2 | 4.0
e. Medical Equipment: PPI, medical instruments and equipment | 1.9 | 0.6
f. Other Professional Expense | 7.6 | 2.8
1. Professional Car: CP-U, private transportation | 1.3 | 3.9
Other: CPI-U, all items less food and energy | 6.3 | 2.6
Addendum:
Productivity: 10-year moving average of output per man-hour, nonfarm business sector | n/a | 2.0
Physician's Own Time, not productivity adjusted | 54.5 | 4.3
Wages and salaries, not productivity adjusted | 44.2 | 4.1
Fringe benefits, not productivity adjusted | 10.3 | 5.3
Nonphysician Employee Compensation, not productivity adjusted | 16.8 | 4.7
Wages and salaries, not productivity adjusted | 12.4 | 4.3
Fringe benefits, not productivity adjusted | 4.4 | 5.9
¹ The rates of historical change are for the 12-month period ending June 30, 2001, which is the period used for computing the calendar year 2002 update. The price proxy values are based upon the latest available Bureau of Labor Statistics data as of September 18, 2001.
² The weights shown for the MEI components are the 1996 base-year weights, which may not sum to subtotals or totals because of rounding. The MEI is a fixed-weight, Laspeyres-type input price index whose category weights indicate the distribution of expenditures among the inputs to physicians' services for calendar year 1996. To determine the MEI level for a given year, the price proxy level for each component is multiplied by its 1996 weight. The sum of these products (weights multiplied by the price index levels) over all cost categories yields the composite MEI level for a given year. The annual percent change in the MEI levels is an estimate of price change over time for a fixed market basket of inputs to physicians' services.
³ The Physician's Own Time and Nonphysician Employee Compensation category price measures include an adjustment for productivity. The price measure for each category is divided by the 10-year moving average of output per man-hour in the nonfarm business sector. For example, the fringe benefits component of the Physician's Own Time category is calculated by dividing the rate of growth in the employment cost index-benefits for private, nonfarm workers by the 10-year moving average rate of growth of output per man-hour for the nonfarm business sector. Dividing one plus the decimal form of the percent change in the employment cost index-benefits (1+.053=1.053) by one plus the decimal form of the percent change in the 10-year moving average of labor productivity(1+.020=1.020) equals one plus the change in the employment cost index-benefits for white collar workers net of the change in output per manhour (1.053/1.020=1.032). All Physician's Own Time and Nonphysician Employee Compensation categories are adjusted in this way. Due to a higher level of precision the computer calculated quotient may differ from the quotient calculated from rounded individual percent changes.
⁴ The measures of productivity, average hourly earnings, Employment Cost Indexes, as well as the various Producer and Consumer Price Indexes can be found on the Bureau of Labor Statistics website—http://stats.bls.gov.
⁵ Derived from a CMS survey of several major insurers (the latest available historical percent change data are for the period ending second quarter of 2001).
n/a Productivity is factored into the MEI compensation categories as an adjustment to the price variables; therefore, no explicit weight exists for productivity in the MEI.

C. The Update Adjustment Factor

Paragraphs (3) and (4) of section 1848(d)(3) of the Act indicate that the physician fee schedule update is equal to the product of the Medicare Economic Index and an “update adjustment factor.” The update adjustment factor is applied to the inflation update to reflect success or failure in meeting the expenditure target that the law refers to as “allowed expenditures.” Allowed expenditures are equal to actual expenditures in a base period updated each year by the sustainable growth rate (SGR). The SGR is a percentage increase that is determined by a formula specified in section 1848(f) of the Act. The next section of this final rule describes the SGR and its calculation in detail. The update adjustment factor is determined based on a comparison of actual and allowed expenditures. For years beginning with 1999, the BBA required that the update adjustment factor be determined under section 1848(d)(3) of the Act to equal—

• The difference between (1) the sum of the allowed expenditures for physicians' services (as determined under subparagraph (C)) for the period beginning April 1, 1997, and ending on March 31 of the year involved, and (2) the amount of actual expenditures for physicians' services furnished during the period beginning April 1, 1997, and ending on March 31 of the preceding year; divided by—

• The actual expenditures for physicians' services for the 12-month period ending on March 31 of the preceding year, increased by the sustainable growth rate under subsection (f) for the fiscal year which begins during such 12-month period.

The BBRA made changes to the methodology for determining the physician fee schedule update beginning in 2001. In particular, it established that the methodology in section 1848(d)(3) of the Act would only be used for determining the physician fee schedule update for 1999 and 2000; the physician fee schedule update for 2001 and subsequent years is determined under section 1848(d)(4) of the Act. While the general principle of adjusting the inflation update (the MEI) based on a comparison of actual and target expenditures (the update adjustment factor) is continuing, the BBRA made fundamental changes to the calculation of the update adjustment factor. These changes do two things. First, the measurement of actual expenditures will occur on the basis of a calendar year rather than a April 1 to March 31 year. This essentially conforms the measurement of actual expenditures with other aspects of the SGR system that are also occurring on the basis of a calendar year as a result of BBRA amendments. As explained in our April 10, 2000 SGR notice (65 FR 19000), the BBRA essentially changed the SGR system from one that spanned 3 different time periods (1—Measurement of actual expenditures on the basis of a April 1 to March 31 period; 2—calculation of the SGR rate of increase on a Federal fiscal year basis; and 3—application of the update on a calendar year basis) to one that spans only one time period (all three elements are computed on the basis of a calendar year). Second, it ensures that any deviation between cumulative actual expenditures and cumulative allowed expenditures will be corrected over several years rather than in a single year. This will result in less year-to-year volatility in the physician fee schedule update than will occur if adjustments to the update are made to bring expenditures in line with the target in one year.

Under section 1848(d)(4)(A) of the Act, the physician fee schedule update for a year is equal to the product of—(1) 1 plus the Secretary's estimate of the percentage increase in the MEI for the year, and (2) 1 plus the Secretary's estimate of the update adjustment factor for the year. Under section 1848(d)(4)(B) of the Act, the update adjustment factor for a year beginning with 2001 is equal to the sum of the following—

• Prior Year Adjustment Component. An amount determined by—

+ Computing the difference (which may be positive or negative) between the amount of the allowed expenditures for physicians' services for the prior year (the year prior to the year for which the update is being determined) and the amount of the actual expenditures for such services for that year;

+ Dividing that difference by the amount of the actual expenditures for such services for that year; and

+ Multiplying that quotient by 0.75.

• Cumulative Adjustment Component. An amount determined by—

+ Computing the difference (which may be positive or negative) between the amount of the allowed expenditures for physicians' services from April 1, 1996 through the end of the prior year and the amount of the actual expenditures for such services during that period;

+ Dividing that difference by actual expenditures for such services for the prior year as increased by the sustainable growth rate for the year for which the update adjustment factor is to be determined; and

+ Multiplying that quotient by 0.33.

Section 1848(d)(4)(D) of the Act indicates that the update adjustment factor determined under section 1848(d)(4)(B) for a year may not be less than −0.07 or greater than 0.03. At this time, we estimate that the sum of the prior year and cumulative adjustment components will be less than −0.07 limit. In a letter to the Medicare Payment Advisory Commission and in data we made available to the public on the CMS website in March, we indicated that the estimated update adjustment factor for 2002 would be −1.5 percent. However, we also indicated that a number of factors could change our estimate of the update adjustment factor. Since our March estimate, a number of factors have changed that lower our estimate of allowed expenditures and increase our estimate of actual expenditures. Allowed expenditures have declined because real per capita gross domestic product (GDP) growth for 2000 is lower than the estimates in March. This occurs because of changes to economic figures for 2000 made at the Bureau of Economic Analysis. Further, current estimates of real GDP per capita growth for 2001 and 2002 are lower than in March. We provide a more detailed explanation of factors that affect our estimate of allowed expenditures in the next section of this final regulation on the SGR. An explanation of changes to actual expenditures follows.

As indicated above, we are currently estimating higher 2001 actual expenditures than we did in March. We did not have any Medicare claims data to develop our March estimates of actual expenditures for 2001. At this time, we are using claims received through June 30 to estimate actual expenditures for all of 2001. Based on the claims received in the first half of the year, our current estimates of actual expenditures for 2001 are higher than earlier estimates. We will be revising the measurement of actual expenditures for CY 2001 based on claims received through June 30, 2002. These revised figures will be determined no later than November 1, 2002. If the revised figures are different than current estimates, the difference will be reflected in the update adjustment factor used in determining the 2003 physician fee schedule update.

After taking into account the factors described above that affect allowed and actual expenditures, we originally estimated that the update adjustment factor for 2002 would be −5.4 percent or 1.6 percentage points more than the −7.0 percent limit on the update adjustment factor. However, in making updates to the list of codes that are included in the SGR, we discovered that a number of new procedure codes were inadvertently not included in the measurement of actual expenditures beginning in 1998. Therefore, the measurement of actual expenditures for 1998, 1999, and 2000 was lower than it should have been. As a result, the physician fee schedule update was higher in 2000 and 2001 than if we had included these codes. Including these codes in the measurement of actual expenditures results in a lower update adjustment factor than we earlier estimated. We will be making no changes to physician fee schedule payments made for services furnished in 2000 and 2001. However, under section 1848(d) of the Act, we must include these codes in the measurement of actual expenditures for historical, current, and future periods. While we do not currently know the precise effect of not measuring expenditures for all codes included in the SGR on the update adjustment factor for 2002, we are certain that it is in excess of 1.6 percentage points and is of sufficient magnitude to result in the update adjustment factor being less than the −7.0 percent statutory limit. In the near future, we expect to complete this analysis and update information that we make available on the CMS website. We plan to provide complete data that show quarterly allowed and actual expenditures for all procedure codes included in the SGR, as well as a list of the codes themselves.

Section 1848(d)(4)(A)(ii) of the Act indicates that 1 should be added to the update adjustment factor determined under section 1848(d)(4)(B) of the Act. Thus, adding 1 to −0.070 makes the update adjustment factor equal to 0.930.

(As indicated in the SGR discussion below, allowed expenditures through the end of CY 2001 will be revised one more time, not later than November 1, 2002. We will also be revising the measurement of actual expenditures for CY 2001 based on claims received through June 30, 2002, not later than November 1, 2002. The SGR for 2001 will also be revised one more time, and the SGR for 2002 will be revised two more times. The resulting effect from revisions of estimates will be reflected in the update adjustment factor determined for 2003.)

VIII. Allowed Expenditures for Physicians' Services and the Sustainable Growth Rate

A. Medicare Sustainable Growth Rate

Section 1848(f) of the Act, as amended by section 4503 of the BBA, replaced the Medicare Volume Performance Standard (MVPS) with a Sustainable Growth Rate (SGR). Section 1848(f)(2) of the Act specifies the formula for establishing yearly SGR targets for physicians' services under Medicare. The use of SGR targets is intended to control the actual growth in aggregate Medicare expenditures for physicians' services.

The SGR targets are not limits on expenditures. Payments for services are not withheld if the SGR target is exceeded by actual expenditures. Rather, the appropriate fee schedule update, as specified in section 1848(d)(3) of the Act, is adjusted to reflect the success or failure in meeting the SGR target. If expenditures exceed the target, the update is reduced. If expenditures are less than the target, the update is increased.

As with the MVPS, the statute specifies a formula to calculate the SGR based on our estimate of the change in each of four factors. The four factors for calculating the SGR are as follows—

(1) The estimated change in fees for physicians' services.

(2) The estimated change in the average number of Medicare fee-for-service beneficiaries.

(3) The estimated projected growth in real GDP per capita.

(4) The estimated change in expenditures due to changes in law or regulations.

Section 211 of the BBRA amended sections 1848(d) and 1848(f) of the Act with respect to the physician fee schedule update and the SGR. Section 211(b) of the BBRA maintains the formula for calculating the SGR, but amends section 1848(f)(2) of the Act to apply the SGR on a calendar year (CY) basis beginning with 2000 while maintaining the SGR on a fiscal year (FY) basis for FY 1998 through FY 2000. Specifically, section 1848(f)(2) of the Act, as amended by section 211(b) of the BBRA, states that “* * * [t]he sustainable growth rate for all physicians' services for a fiscal year (beginning with fiscal year 1998 and ending with fiscal year 2000) and a year beginning with 2000 shall be equal to the product of—

(1) 1 plus the Secretary's estimate of the weighted average percentage increase (divided by 100) in the fees for all physicians' services in the applicable period involved,

(2) 1 plus the Secretary's estimate of the percentage change (divided by 100) in the average number of individuals enrolled under this part (other than Medicare+Choice plan enrollees) from the previous applicable period to the applicable period involved,

(3) 1 plus the Secretary's estimate of the projected percentage growth in real gross domestic product per capita (divided by 100) from the previous applicable period to the applicable period involved; and

(4) 1 plus the Secretary's estimate of the percentage change (divided by 100) in expenditures for all physicians' services in the applicable period (compared with the previous applicable period) which will result from changes in law and regulations, determined without taking into account estimated changes in expenditures resulting from the update adjustment factor determined under section 1848 (d)(3)(B) or (d)(4)(B) of the Act, as the case may be, minus 1 and multiplied by 100.”

Under section 1848(f)(4)(C) of the Act, the term “applicable period” means—(1) a FY, in the case of FY 1998, FY 1999 and FY 2000, and (2) a CY with respect to a year beginning with 2000.

Section 1848(d)(4)(C) of the Act requires us to make the transition from a FY SGR to a CY SGR in 1999 by using the FY 1999 SGR for the first 3 months of 1999 and the FY 2000 SGR for the 9-month period beginning April 1, 1999. Allowed expenditures for the year are equal to the sum of allowed expenditures for each respective period. The SGR for CY 2000 is then applied to allowed expenditures for CY 1999.

As stated in the April 10, 2000 final notice (65 FR 19000), the BBRA requires the estimates of the FY 2000 and CY 2000 SGRs to be revised based on more recent data, but, as explained below, the BBRA does not provide for revision of either the FY 1998 or the FY 1999 SGR. This means that, for the transition to a calendar year SGR system, allowed expenditures for the period April 1, 1999 through December 31, 1999 (determined by applying the FY 2000 SGR to allowed expenditures for the 12-month period ending March 31, 1999) are subject to change based on revision of the FY 2000 SGR; allowed expenditures for the period January 1, 1999 through March 31, 1999 (determined using the FY 1999 SGR) are not subject to revision.

In general, the BBRA requires us to publish SGRs for 3 different time periods, no later than November 1 of each year, using the best data available as of September 1 of each year. Under section 1848(f)(3)(C)(i) of the Act, as added by section 211(b)(5) of the BBRA, the SGR is estimated and subsequently revised twice (beginning with the FY and CY 2000 SGRs) based on later data. Under section 1848(f)(3)(C)(ii) of the Act, there are no further revisions to the SGR once it has been estimated and subsequently revised in each of the 2 years following the initial estimate.

The requirement of revisions to the SGR based on later data means that we will estimate and publish an SGR for the upcoming year, the contemporaneous year, and the preceding year by no later than November 1 of each year. For example, by no later than November 1, 2002, we will publish an estimate of the SGR for CY 2003, a revision of the CY 2002 SGR that is first being estimated in this notice, and a revision of the CY 2001 SGR first estimated in the final rule published on November 2, 2000 (65 FR 65429) and revised in this final rule. Under section 1848(f)(3)(C)(ii) of the Act, the final revision to the CY 2001 SGR will be announced in the Federal Register no later than November 1, 2002.

Subparagraphs (A) and (B) of section 1848(f)(3) of the Act, specify special rules with respect to the SGR and the CY 2001 and CY 2002 updates. Section 1848(f)(3)(A) of the Act required us, no later than November 1, 2000, to revise the SGRs for FY 2000 and CY 2000 and to establish the SGR for CY 2001, based on the best data available, as of September 1, 2000. We published our first estimate of the SGRs for FY 2000 and CY 2000 in a Federal Register notice on April 10, 2000 (65 FR 19000). Revised estimates of the SGRs for FY 2000 and CY 2000 and our original estimate of the SGR for CY 2001 appeared in the Federal Register on November 1, 2000 (65 FR 65429). We used each of the SGRs published in the November 1, 2000 Federal Register to determine the physician fee schedule update for 2001. Section 1848(f)(3)(B) of the Act requires us, by no later than November 1, 2001, to revise the SGRs for FY 2000 and CYs 2000 and 2001 and establish the SGR for CY 2002, based on the best data available as of September 1, 2001 and to use each of these SGRs to determine the physician fee schedule update for 2002. We are using each of the SGRs established in this notice to determine the 2002 physician fee schedule update. In accordance with section 1848(f)(3)(C)(ii) of the Act, there will be no further revisions to the FY 2000 and CY 2000 SGRs after the revisions we are making in this final rule.

B. Physicians' Services

Section 1848(f)(4)(A) of the Act defines the scope of physicians' services covered by the SGR. The statute indicates that the term “physicians’ services” includes other items and services (such as clinical diagnostic laboratory tests and radiology services), specified by the Secretary, that are commonly performed or furnished by a physician or in a physician's office, but does not include services furnished to a Medicare+Choice plan enrollee. The BBA and BBRA made no changes to this definition which was also used for the MVPS. We published a definition of physicians' services for use in the MVPS and subsequent SGR in the Federal Register (61 FR 59717) on November 22, 1996. We defined “physicians’ services” to include many of the medical and other health services listed in section 1861(s) of the Act. Since the statute has made a number of changes to the definition of medical and other health services included in section 1861(s), we are updating our definition of physicians' services consistent with the statutory changes. Our practice has been to make adjustments to the SGR for medical and other health services added to the statute that meet the criterion of being “commonly performed by a physician or a physicians’ office.” For instance, the BBA and the BIPA amended section 1861(s) of the Act to add new preventive benefits to the Medicare statute. Since these preventive services are generally provided by physicians or in physicians' offices, we made adjustments to the SGR to reflect additional Medicare expenditures for the newly-added Medicare benefits. Physicians' services for the SGR include the following medical and other health services if bills for the items and services are processed and paid by Medicare carriers:

• Physicians' services.

• Services and supplies furnished incident to physicians' services.

• Outpatient physical therapy services and outpatient occupational therapy services.

• Antigens prepared by or under the direct supervision of a physician.

• Services of physician assistants, certified registered nurse anesthetists, certified nurse midwives, clinical psychologists, clinical social workers, nurse practitioners, and clinical nurse specialists.

• Screening tests for prostate cancer, colorectal cancer, glaucoma.

• Screening mammography, screening pap smears and screening pelvic exams.

• Diabetes outpatient self-management training services.

• Medical nutrition therapy services.

• Diagnostic x-ray tests, diagnostic laboratory tests and other diagnostic tests.

• X-ray, radium, and radioactive isotope therapy.

• Surgical dressings, splints, casts, and other devices used for the reduction of fractures and dislocations.

• Bone mass measurements.

C. Provisions Related to the SGR

Section 211(b)(1) of the BBRA amends section 1848(f)(1) of the Act to require that SGR estimates be published in the Federal Register not later than November 1 of every year. In this notice, we are publishing our initial estimate of the SGR for 2002, a revised estimate of the SGR for 2001 and final estimates of the SGRs for FY and CY 2000.

In general, the update for a year is based on the Medicare Economic Index (MEI) as adjusted, within bounds, by the amount of actual expenditures for physicians' services compared to target (referred to as “allowed” in the statute) expenditures. A key difference between the MVPS and the SGR is that the comparison of actual and allowed expenditures is made on a cumulative basis under the SGR, while it was made on an annual basis under the MVPS. The “update adjustment factor” in section 1848(d)(4)(B) of the Act is an adjustment to the MEI that reflects the difference between actual expenditures and target expenditures.

Section 1848(d)(3)(C) of the Act, as modified by the BBA, defines allowed expenditures for the 12-month period ending March 31, 1997 to be equal to actual expenditures for physicians' services during that period (that is, April 1, 1996 through March 31, 1997), as we have estimated. Section 1848(d)(3)(C) of the Act defines allowed expenditures for subsequent 12-month periods to be equal to allowed expenditures for physicians' services for the previous year increased by the SGR for the FY which begins during the 12-month period. For example, allowed expenditures for the 12-month period April 1, 1997 through March 31, 1998 are equal to allowed expenditures for the 12 months ending March 31, 1997, increased by the SGR for FY 1998. The BBRA subsequently provided for a transition to a calendar year SGR system in 1999. Allowed expenditures for the first quarter of 1999 are determined using the FY 1999 SGR and allowed expenditures for the April 1, 1999 to December 31, 1999 period are determined using the FY 2000 SGR. Allowed expenditures in 2000 are equal to 1999 allowed expenditures increased by the 2000 SGR. Allowed expenditures for each subsequent year will equal expenditures from the prior year updated by the SGR.

Table 10 shows annual and cumulative allowed expenditures for physicians' services for each of the 12-month periods between April 1, 1996 and March 31, 2000, for 1999 and 2000.

Table 10
Period | Annual allowed expenditures (in billions) | Cumulative allowed expenditures (in billions) | FY or CY SGR
4/1/96-3/31/97 | $48.9 | $48.9 | N/A
4/1/97-3/31/98 | 49.6 | 98.5 | FY 1998=1.5%
4/1/98-3/31/99 | 49.4 | 47.9 | FY 1998=−0.3%
1/1/99-3/31/99 | 12.5 | ⁽¹⁾ | FY 1999=−0.3%
4/1/99-12/31/99 | 39.6 | ⁽²⁾ | FY 2000=6.9%
1/1/99-12/31/99 | 52.1 | 187.6 | FY 1999/FY 2000
1/1/00-12/31/00 | 55.9 | 243.5 | CY 2000=7.3%
1/1/01-12/31/01 | 59.3 | 302.7 | CY 2001=6.1%
1/1/02-12/31/02 | 62.6 | 365.3 | CY 2002=5.6%
¹ Included in $147.9 above.
² Included in $187.6 below.

Note: Allowed Expenditures for the first quarter of 1999 are based on the FY 1999 SGR and allowed expenditures for the last three quarters of 1999 are based on the FY 2000 SGR.

Allowed Expenditures in the First Year

(April 1, 1996-March 31, 1997) are equal to actual expenditures. All subsequent figures are equal to quarterly allowed expenditure figures increased by the applicable SGR. Cumulative allowed expenditures are equal to the sum of annual allowed expenditures. We provide more detailed quarterly allowed and actual expenditure data on the CMS website under the Medicare Actuary's publications at the following address: http://www.hcfa.gov/pubforms/actuary/. We expect to update this information in November.

Allowed expenditures for the April 1, 1999 through the December 31, 1999 period are based on the FY 2000 SGR. As previously discussed, section 1848(f)(3) of the Act requires two revisions to the FY and CY 2000 SGR. We made the first revision to the FY and CY 2000 SGR in the physician fee schedule final rule published in the Federal Register on November 1, 2000 (65 FR 65427). We are making the second and final revision in this final rule. Consistent with section 1848(f)(3)(B) of the Act, the revised FY and CY 2000 SGR uses the best data available to us as of September 1, 2001.

D. Preliminary Estimate of the SGR for 2002

According to subparagraphs (A) through (D) of section 1848(f)(2) of the Act, as amended by section 211(b) of the BBRA, we have determined the preliminary estimate of the CY 2002 SGR to be 5.6 percent. We first estimated the CY 2002 SGR in March and made the estimate available to the Medicare Payment Advisory Commission and our website. Our March and current estimates of the four statutory factors are indicated in table 11:

Table 11
Statutory factors | March estimate | Current estimate
Fees | 1.6 | 2.3
Enrollment | 0.4 | 0.7
Real Per Capita GDP | 2.4 | 1.7
Law and Regulation | 1.5 | 0.8
Total | 6.0 | 5.6

Note: Consistent with section 1848(f)(2) of the Act, the statutory factors are multiplied, not added, to produce the total (that is, 1.023 × 1.007 × 1.017 × 1.008 = 1.056.) A more detailed explanation of each figure is provided below in section H.1.

E. Sustainable Growth Rate for CY 2001

According to subparagraphs (A) through (D) of section 1848(f)(2) of the Act, as amended by section 211(b) of the BBRA, our current estimate of the CY 2001 SGR is 6.1 percent. Table 12 shows our original estimate of the CY 2001 SGR published in the Federal Register on November 1, 2000 (65 FR 65433) and current estimates of the four statutory factors that determine the CY 2001 SGR:

Table 12
Statutory factors | 11/1/00 estimate | Current estimate
Fees | 1.9 | 1.9
Enrollment | 0.9 | 3.0
Real Per Capita GDP | 2.7 | 0.7
Law and Regulation | 0.0 | 0.4
Total | 5.6 | 6.1

A more detailed explanation of each figure is provided below in section H.2.

F. Sustainable Growth Rate for CY 2000

According to subparagraphs (A) through (D) of section 1848(f)(2) of the Act, as amended by section 211(b) of the BBRA, our current estimate of the CY 2000 SGR is 7.3 percent. Table 13 shows estimates included in the November 1, 2000 Federal Register (65 FR 65433) and current estimates of the four statutory factors that determine the CY 2000 SGR:

Table 13
Statutory factors | 11/1/00 estimate | Current estimate
Fees | 2.1 | 2.1
Enrollment | 1.0 | 1.0
Real Per Capita GDP | 4.3 | 3.2
Law and Regulation | 0.5 | 0.8
Total | 8.1 | 7.3

A more detailed explanation of each figure is provided below in section H.3.

G. Sustainable Growth Rate for FY 2000

According to subparagraphs (A) through (D) of section 1848(f)(2) of the Act, as amended by section 211(b) of the BBRA, our current estimate of the FY 2000 SGR is 6.9 percent. Table 14 shows estimates included in the November 1, 2000 Federal Register (65 FR 65433) and current estimates of the four statutory factors that determine the FY 2000 SGR:

Table 14
Statutory factors | 11/1/00 estimate | Current estimate
Fees | 2.1 | 2.1
Enrollment | 0.8 | 0.5
Real Per Capita GDP | 4.5 | 3.6
Law and Regulation | 0.3 | 0.6
Total | 7.9 | 6.9

A more detailed explanation of each figure is provided below in section H.3.

H. Calculation of the FY 2000, CY 2000, CY 2001, and CY 2002 Sustainable Growth Rates

1. Detail on the CY 2002 SGR

A more detailed discussion of our preliminary estimates of the four elements of the 2002 SGR follows.

Factor 1—Changes in Fees for Physicians' Services (Before Applying Legislative Adjustments) for CY 2002

This factor was calculated as a weighted average of the CY 2002 fee increases that apply for the different types of services included in the definition of physicians' services for the SGR.

Physicians' services as defined in sections 1861(s)(1) and (2) of the Act represent approximately 89 percent of allowed charges for physicians' services under the SGR and are updated by the Medicare Economic Index (MEI). Our current estimate of the MEI for 2002 is 2.6 percent. Diagnostic laboratory tests represent approximately 11 percent of the Medicare allowed charges for physicians' services under the SGR. The BBA provided for a 0.0 percent update for CY 2002 for laboratory services. Table 15 shows both the physicians' and laboratory service updates that were used to determine the percentage increase in physicians' fees for CY 2002.

Table 15
| Weight | Update
Physician | 0.89 | 2.6
Laboratory | 0.11 | 0.0
Weighted Average | 1.0 | 2.3

After taking into account the elements described in the table, we estimate that the weighted-average increase in fees for CY 2002 for physicians' services under the SGR (before applying any legislative adjustments) will be 2.3 percent.

Factor 2—The Percentage Change in the Average Number of Part B Enrollees From CY 2001 to CY 2002

This factor is our estimate of the percent change in the average number of fee-for-service enrollees for CY 2002 as compared to CY 2001 Medicare+Choice (M+C) plan enrollees, whose Medicare-covered medical care is outside the scope of the SGR, and who are excluded from this estimate. Our actuaries estimate that the average number of Medicare Part B fee-for-service enrollees (excluding beneficiaries enrolled in M+C plans) will increase by 0.7 percent in calendar year 2002. This estimate was derived by subtracting estimated M+C enrollment from estimated overall Medicare enrollment as illustrated in table 16.

Table 16
[In millions]
| 2001 | 2002
Overall | 37.828 | 38.149
Medicare+Choice | 5.662 | 5.761
Net | 32.166 | 32.388
Percent Increase: |  | 0.7

Since 2002 has yet to begin, we currently only have estimates of this figure for 2002. An important factor affecting fee-for-service enrollment is beneficiary enrollment in Medicare+Choice plans. At this time, we do not know how actual enrollment in Medicare+Choice plans will compare to current estimates. While we do receive information on whether a Medicare+Choice plan will continue to participate or withdraw from the program, it remains difficult to estimate the number of beneficiaries who will select a Medicare+Choice plan or fee-for-service before the start of the calendar year. While some plans will no longer offer a Medicare+Choice plan, other plans are available as an option to most beneficiaries in areas where there have been plan withdrawals. It is difficult to estimate the size of the Medicare+Choice enrollee population before the start of a calendar year. Because we determine the fee-for-service enrollment figure net of the change in Medicare+Choice enrollment, early estimates of this factor are difficult to make. Our estimate of this factor is preliminary and only has minimal effect on the physician fee schedule update for CY 2002. The CY 2002 SGR will also be used in the calculation of the 2003 physician fee schedule update in a final rule to be published no later than November 1, 2002. By that time, we will have information on actual enrollment in Medicare+Choice plans for the first 8 months of CY 2002 and will be better able to predict the change in fee-for-service enrollment for the year.

Factor 3—Estimated Real Gross Domestic Product Per Capita Growth in CY 2002

Section 1848(f)(2)(C) of the Act, as amended by section 211 of the BBRA, requires us to estimate growth in real GDP per capita. This factor is applied on a CY basis beginning with the CY 2000 SGR. We estimate that the growth in real per capita GDP will be 1.7 percent in CY 2002. Our past experience indicates that there have also been large changes in estimates of real per capita GDP growth and the actual change in this factor. It is likely that this figure will change further as actual information on economic performance becomes available to us in 2002. Again, we note that we will use revised estimates of real per capita GDP growth in setting future year updates.

Factor 4—Percentage Change in Expenditures for Physicians' Services Resulting From Changes in Law or Regulations in CY 2002 Compared With CY 2001

Sections 101 through 104 of BIPA added Medicare coverage for screening glaucoma, authorized Medicare to pay for specific new technology mammography services, and changed coverage for screening pap smears, screening pelvic exams, and screening colonoscopy for average-risk individuals. In addition, section 105 of the BIPA also establishes a new benefit for medical nutrition therapy and expands access to telehealth services in section 223. Section 432 of the BIPA also requires that Medicare make payment to Indian Health Service hospitals and ambulatory clinics for physicians' and practitioners' services as well as outpatient physical and occupational therapy services that are included in the definition of physicians' services for purposes of the SGR. Since these provisions will increase Medicare expenditures for services that are included in the SGR, we are making an upward adjustment to reflect additional Medicare expenditures in 2002. Our estimates of the cost of these provisions for the period FY 2002-FY 2006 are included in our Notice of Proposed Rulemaking published in the Federal Register on August 2, 2001 (66 FR 40400).

We are making an adjustment to the SGR for one additional factor. In section VI.B. of this final rule, we provided a definition of physicians' services for purposes of the SGR. Historically, we have not measured expenditures for screening mammography under the SGR. However, section 1848(f)(4) of the Act indicates that “physicians” services includes other items and services (such as clinical diagnostic laboratory tests and radiology services), specified by the Secretary, that are commonly performed or furnished by a physician or in a physician's office.” Screening mammography services are “radiology services” that are performed by “physicians or in a physician's office.” As a result, we are using this rule to add screening mammography to the list of services that are part of the SGR definition. Since we have not previously measured expenditures for screening mammography services under the SGR, it is appropriate to make an adjustment to this factor for the change to the definition of physicians' services. We are making an adjustment that reflects estimated payments for screening mammography services in CY 2002. We will make a subsequent revision based on actual expenditures for screening mammography.

After taking these provisions into account, the percentage change in expenditures for physicians' services resulting from changes in law or regulations is estimated to be 0.8 percent for 2002. In March, we estimated that this figure would be 1.5 percent. The 0.7 percentage point difference is due to a change in our estimate of the BIPA provisions. In March, we had no information about implementation of these provisions. We used updated assumptions about pricing and utilization based on proposed policies published in the August 2, 2001 proposed rule (66 FR 40400).

2. Detail on the CY 2001 SGR

A more detailed discussion of our current estimates of the four elements of the 2001 SGR follows.

Factor 1—Changes in Fees for Physicians' Services (Before Applying Legislative Adjustments) for CY 2001

We are continuing to use 1.9 percent for this element of the SGR for the CY 2001 SGR. This factor is unchanged from earlier estimates previously described for CY 2001 in the November 1, 2000 Federal Register (65 FR 65433).

Factor 2—The Percentage Change in the Average Number of Fee-for-Service Part B Enrollees From CY 2000 to CY 2001

This factor is our estimate of the percent change in the average number of fee-for-service enrollees for CY 2001 as compared to CY 2000. As we indicated above, this factor is difficult to estimate prior to the beginning of the period for which the estimates are being made because of the interaction of the fee-for-service and Medicare+Choice program and the lack of availability of actual data on beneficiary selection of Medicare+Choice enrollment. We currently have information on actual enrollment in the Medicare+Choice program for CY 2001 and CY 2000 that permits estimates of the change in fee-for-service enrollment for these years that will be more reflective of the final actual enrollment and percent year-to-year change. The estimates for CY 2000 and CY 2001 were derived by subtracting estimated M+C enrollment from estimated overall Medicare enrollment as illustrated in table 17.

Table 17
[In millions]
| 2000 | 2001
Overall | 37.453 | 37.828
Medicare+Choice | 6.233 | 5.662
Net | 31.221 | 32.166
Percent Increase |  | 3.0

Our actuaries estimate of the percent change in the average number of fee-for-service enrollees net of Medicare+Choice enrollment for 2001 compared to 2000 of 3.0 percent is more than our early estimate of this factor (0.9 percent for CY 2001 from the November 1, 2000 Federal Register (65 FR 65433)) because the historical base from which our actuarial estimate is made has changed. We currently have complete information on Medicare fee-for-service enrollment for 2000 that is lower than the figure we used one year ago. Further, we now have information on actual fee-for-service enrollment for the first 8 months of 2001. This figure is slightly higher than the figure used in the November 1, 2000 Federal Register (65 FR 65433). We would caution that our estimate of fee-for-service enrollment for 2001 may change once we have complete information for the entire year.

Factor 3—Estimated Real Gross Domestic Product Per Capita Growth in CY 2001

Section 1848(f)(2)(C) of the Act, as amended by section 211 of the BBRA, requires us to estimate growth in real GDP per capita. We estimate that the growth in real per capita GDP will be 0.7 percent in CY 2001. There have also been large changes in initial estimates of real per capita GDP growth and the actual change in this factor. There could be further changes in this factor once we have complete information on economic performance for the entire year. Again, we note that we will use revised estimates of real per capita GDP growth in setting future year updates.

Factor 4—Percentage Change in Expenditures for Physicians' Services Resulting From Changes in Law or Regulations in CY 2001 Compared With CY 2000

As described above, the BIPA makes changes to the Act that affect Medicare expenditures for services that are included in the SGR. Some of these provisions have no effect on Medicare expenditures in 2001 because they do not go into effect until 2002. Other provisions are effective at some time during 2001. Provisions that become effective in 2001 relate to new technology mammography and coverage changes for screening pap smears, screening pelvic exams and screening colonoscopy, expanded access to telehealth services and Medicare payment for services provided in Indian Health Service hospitals and clinics. After taking these provisions into account, the percentage change in expenditures for physicians' services resulting from changes in law or regulations is estimated to be 0.4 percent for 2001.

3. Detail on Calculation of the FY 2000 and CY 2000 SGRs

A more detailed discussion of our revised estimates of the four elements of the FY 2000 and CY 2000 SGRs follows.

Factor 1—Changes in Fees for Physicians' Services (Before Applying Legislative Adjustments) for FY 2000 SGR and CY 2000 SGR

We are continuing to use 2.1 percent for this element of the SGR for the FY 2000 SGR and the CY 2000 SGR. This factor is unchanged from earlier estimates previously described respectively for FY 2000 and CY 2000 in the October 1, 1999 Federal Register (64 FR 53395), the April 10, 2000 Federal Register (65 FR 19003) and the August 2, 2001 Federal Register (66 FR 40397).

Factor 2—The Percentage Change in the Average Number of Fee-for-Service Part B Enrollees for the FY 2000 SGR and CY 2000 SGR

This factor is our estimate of the percent change in the average number of fee-for-service enrollees for FY 2000 as compared to FY 1999 and CY 2000 as compared to CY 1999. We currently have complete information on actual enrollment in the Medicare+Choice program for FY 2000 and CY 2000 that permits a measure of change in fee-for-service enrollment for these years that reflects the actual change. The estimates for CY 2000 were derived by subtracting estimated M+C enrollment from estimated overall Medicare enrollment as illustrated in table 18.

Table 18
[In millions]
| 1999 | 2000
Overall | 37.115 | 37.453
Medicare+Choice | 6.191 | 6.233
Net | 30.923 | 31.221
Percent Increase |  | 1.0

Our actuaries' estimate of the percent change in the average number of fee-for-service enrollees net of Medicare+Choice enrollment for 2000 compared to 1999 of 1.0 percent is the same as our estimate of this factor at this time last year (1.0 percent). However, the current estimate of 0.5 percent for FY 2000 is lower than the 0.8 percent estimate of this factor at this time last year.

Factor 3—Estimated Real Gross Domestic Product Per Capita Growth in FY 2000 and CY 2000

We estimate that real GDP per capita growth will be 3.6 percent for FY 2000 and 3.2 percent for CY 2000. In the FY 2000 SGR notice published on October 1, 1999 (64 FR 53396), we estimated that real GDP per capita growth for FY 2000 would be 1.8 percent. In our April 10, 2000 SGR notice, we estimated that real GDP per capita growth for CY 2000 would be 2.5 percent. In our November 1, 2000 final rule (65 FR 65433), we estimated that real GDP per capita growth would be 4.5 percent for FY 2000 and 4.3 percent CY 2000. The final figures that we will use for this factor are 3.6 percent for FY 2000 and 3.2 percent for CY 2000. The latest figures on real GDP per capita growth are approximately one percentage point less than estimated last year. The lower estimates are due to annual revisions of the National Income and Product Accounts (NIPA) by the Bureau of Economic Analysis. Usually, in annual revisions of the NIPA, new estimates incorporate source data that are more complete, more detailed, and otherwise more appropriate than those that were previously incorporated. In addition, several methodological changes have been made. (For detailed description of the NIPA revisions, see Brent R. Moulton, Eugene P. Seskin, and David F. Sullivan, “Annual Revision of the National Income and Product Accounts: Annual Estimates, 1998-2000, Quarterly Estimates, 1998: 1-2000: I, Survey of Current Business” (August, 2001): 7-32.)

Factor 4—Percentage Change in Expenditures for Physicians' Services Resulting From Changes in Law or Regulations in FY 2000 Compared with FY 1999, and CY 2000, Compared With CY 1999

As we explained in our October 1, 1999 and April 10, 2000 SGR notices, legislative changes contained in the BBA and the BBRA will have an impact on expenditures for physicians' services under the SGR in FY 2000 and CY 2000. Section 4103 of the BBA mandates a new prostate screening benefit effective January 1, 2000. Additionally, effective January 1, 2000, section 4513 of the BBA removes the requirement that a subluxation of the spine be demonstrated by an x-ray before Medicare payment can be made for chiropractic services furnished to a beneficiary. This provision will also result in a small increase in expenditures in FY 2000 and CY 2000. The impact of BBA Medicare Secondary Payer provisions will have small marginal impact on reducing expenditures in FY 2000 and CY 2000.

Certain BBRA provisions also have a small impact on expenditures in FY 2000 and CY 2000. Section 224 of the BBRA increases payments for pap smears and is slightly increasing expenditures. Section 221 of the BBRA postponed the implementation of payment caps on physical and occupational therapy and speech-language pathology services. The effect of this provision on physicians and independent practitioners is a small increase in expenditures for these years. Medicare expenditures for outpatient physical and occupational therapy services by therapists in independent practice are growing rapidly as a result of provisions of section 4541 of the BBA that require Medicare to make payments for facility-based therapy services under the physician fee schedule. Physical and occupational therapy services previously paid on the basis of a cost report through the Medicare fiscal intermediaries are more likely to be billed by therapists in independent practice because these services are no longer being paid on a cost basis. We analyzed growth in Medicare expenditures for physical and occupational therapy and believe that the larger rate of increase in Medicare expenditures for these services billed to carriers is likely a result of the statutory provisions that require the services to be paid under the Medicare physician fee schedule. We are making an upward adjustment to the SGR for this factor.

After taking into account these provisions, the percentage change in expenditures for physicians' services resulting from changes in law or regulations is estimated to be 0.6 percent for FY 2000 and 0.8 percent for CY 2000.

IX. Calculation of the 2002 Physician Fee Schedule and Anesthesia Conversion Factor

The 2002 physician fee schedule conversion factor is $36.1992. The separate 2002 national average anesthesia conversion factor is $16.60.

The specific calculations to determine the physician fee schedule and anesthesia conversion factor for calendar year 2002 are explained below.

Detail on Calculation of the Calendar Year 2002 Physician Fee Schedule Conversion Factor

• Physician Fee Schedule Conversion Factor

Under section 1848(d)(1)(A) of the Act, the physician fee schedule conversion factor is equal to the conversion factor for the previous year multiplied by the update determined under section 1848(d)(4) of the Act. In addition, section 1848(c)(2)(B)(ii)(II) of the Act requires that changes to relative value units (RVUs) cannot cause expenditures to increase or decrease by more than $20 million from the amount of expenditures that would have been made if such adjustments had not been made. We implement this requirement through a uniform budget neutrality adjustment to the conversion factor. There are two changes that will require us to make an adjustment to the conversion factor to comply with the budget neutrality requirement in section 1848(c)(2)(B)(ii)(II) of the Act. We are making a 0.460 percent reduction (0.9954) in the conversion factor to account for the increase in work RVUs resulting from the 5-year review. We are also making a 0.18 percent (0.9982) reduction in the conversion factor to account for an anticipated increase in the volume and intensity of services in response to the final year of the implementation of resource-based practice expense RVUs. As a result of the 5-year review of RVUs and additional budget-neutrality adjustments required by law, the conversion factor is 5.4 percent lower than last year's conversion factor.

The two budget neutrality factors are applied after the update is applied to the 2001 conversion factor:

Table 19
2001 Conversion Factor | $38.2581
2002 Update | 0.9523
Budget-Neutrality Adjustment: 5 Year Review | 0.9954
Budget-Neutrality Adjustment: Practice Expense Transition | 0.9982
2002 Conversion Factor | $36.1992

• Anesthesia Fee Schedule Conversion Factor

Section 1848(b)(2)(B) of the Act indicates that, to the extent practicable, the Secretary will use the anesthesia relative value guide with appropriate adjustment of the conversion factor, in a manner to assure that the fee schedule amounts for anesthesia services are consistent with the fee schedule amounts for other services. The statute also requires the Secretary to adjust the conversion factor by geographic adjustment factors in the same manner as for other physician fee schedule services. Unlike other physician fee schedule services, anesthesia services are paid using a system of base and time units. The base and time units are summed and multiplied by a conversion factor. The base unit is fixed depending upon the type of anesthesia procedure performed, and the time units will vary based on the length of the anesthesia time associated with the surgical procedure. Thus, Medicare's payment will increase as anesthesia time lengthens. The same anesthesia service provided in two different surgeries will be paid different amounts if the associated anesthesia time is different. This system differs from other physician fee schedule services where payment is determined based on the product of RVUs and a conversion factor; payment for a given procedure will not vary based on the length of time it takes to perform the procedure in a specific instance.

Since anesthesia services do not have RVUs like other physician fee schedule services, we have had to make appropriate adjustments to the anesthesia fee schedule conversion factor to simulate changes to RVUs. We modeled the resource-based practice expense methodology using imputed anesthesia RVUs that were made comparable to other physician fee schedule services. As a result of modeling these changes, we are incorporating a 1.89 percent reduction (0.9811) to the anesthesia fee schedule conversion factor. We are incorporating an additional increase of 0.2 percent (1.002) to account for base unit revisions for 2002, both for the five-year review and for the alignment of CMS base units with ASA base units. All other adjustments (physician fee schedule update, adjustment for 5-year review of physician work, adjustment for volume and intensity changes) made to the anesthesia fee schedule conversion factor are the same as those applied to the physician fee schedule. To determine the anesthesia fee schedule conversion factor for 2002, we used the following figures:

Table 20
2001 Anesthesia Conversion Factor | $17.83
2002 Update | 0.9523
Practice Expense RVU Adjustment for 2002 | 0.9823
Adjustment for Base Unit Alignment | 1.0020
5-Year Review | 0.9954
Volume and Intensity Adjustment | 0.9982
2003 Conversion Factor | $16.60

X. Provisions of the Final Rule

The provisions of this final rule restate the provisions of the August 2001 proposed rule, except as noted elsewhere in the preamble. Following is a highlight of the changes made from the proposed rule:

For screening glaucoma, we are revising the regulation in § 410.23(a)(2) to read “Eligible beneficiary means individuals in the following high risk categories.” This should allow us to more easily add high-risk groups by rulemaking should the medical evidence warrant it.

For G0117 Glaucoma Screening for High Risk Patients Furnished by an Optometrist or Ophthalmologist, we will assign 0.45 work RVUs, .02 malpractice RVUs, and we will crosswalk practice expense inputs from CPT code 92012.

For G0118 Glaucoma Screening for High Risk Patients Furnished Under the Direct Supervision of an Optometrist or Ophthalmologist, we will assign 0.17 work RVUs and 0.01 malpractice RVUs. For practice expense, we will also crosswalk this code to CPT code 92012.

For medical nutrition therapy, we made various changes in response to comments received. For detailed information, see section III.G.

For telehealth services section 1834(m)(3) of the Act specifies that sections 1842(b)(18)(A) and (B) apply to physicians and practitioners receiving payment for telehealth services and to originating sites receiving a facility fee, in the same manner as they apply to practitioners. This section requires that payment for these services may only be made on an assignment-related basis. We did not reflect this provision in the proposed rule. Nonetheless, because this requirement is required by the plain language of the law and because we are without discretion with respect to its application, we are implementing it in this final rule in new § 414.65(d).

Other Issues

Included in the comments we received were issues and topics that were not specifically included as proposals in the August 2, 2001 proposed rule such as coding issues on specific services, the need to expand dissemination of information on Medicare benefits and a variety of other topics. While we do not address these specifically in this rule, we will ensure that the appropriate CMS components are aware of the concerns expressed and would hope that these concerns can be addressed through appropriate channels.

XI. Collection of Information Requirements

Under the Paperwork Reduction Act (PRA) of 1995, we are required to provide 30-day notice in the Federal Register and solicit public comment before a collection of information requirement is submitted to the Office of Management and Budget (OMB) for review and approval. In order to fairly evaluate whether an information collection should be approved by OMB, section 3506(c)(2)(A) of the Paperwork Reduction Act of 1995 requires that we solicit comment on the following issues:

• The need for the information collection and its usefulness in carrying out the proper functions of our agency.

• The accuracy of our estimate of the information collection burden.

• The quality, utility, and clarity of the information to be collected.

• Recommendations to minimize the information collection burden on the affected public, including automated collection techniques.

We are soliciting public comment on each of these issues for § 410.132 in this document, which contains information collection requirements.

Paragraph (c) of this section requires a referring physician or practitioner to maintain referral documentation in the beneficiary's medical record for each referral.

We believe the burden associated with these provisions is exempt in accordance with 5 CFR 1320.3(b)(2) because the time, effort, and financial resources necessary to comply with these requirements would be incurred by referring physicians and practitioners in the normal course of business activities.

If you comment on these information collection and recordkeeping requirements, please mail copies directly to the following:

Centers for Medicare & Medicaid Services, Office of Information Services, Information Technology Investment Management Group, Attn.: John Burke, CMS-1169-FC, Room N2-14-26, 7500 Security Boulevard, Baltimore, MD 21244-1850.

Office of Information and Regulatory Affairs, Office of Management and Budget, Room 10235, New Executive Office Building, Washington, DC 20503, Attn: Allison Eydt, CMS Desk Officer.

XII. Response to Comments

Because of the large number of items of correspondence we normally receive on Federal Register documents published for comment, we are not able to acknowledge or respond to them individually. We will consider all comments we receive by the date and time specified in the DATES section of this preamble, and, if we proceed with a subsequent document, we will respond to the comments in the preamble to that document.

XIII. Regulatory Impact Analysis

We have examined the impact of this final rule as required by Executive Order 12866, the Unfunded Mandates Reform Act of 1995 (UMRA) (Pub. L. 104-4), the Regulatory Flexibility Act of 1980 (RFA) (Pub. L. 96-354), and Executive Order 13132 of August 4, 1999 (Federalism).

EO 12866 directs agencies to assess costs and benefits of available regulatory alternatives and, when regulation is necessary, to select regulatory approaches that maximize net benefits (including potential economic, environmental, public health and safety effects, distributive impacts, and equity). A regulatory impact analysis (RIA) must be prepared for major rules with economically significant effects ($100 million or more annually). While the changes in the Medicare physician fee schedule are, for the most part, budget neutral, they do involve redistribution of Medicare spending among procedures and physician specialties. The redistributive effect of this rule on any particular specialty is in our estimate likely to exceed $100 million for at least one specialty group. For this reason we are considering this a major economic rule.

However, it is important to note, as indicated in section VII of this preamble, the physician fee update for 2002 under section 1848(d) of the Act is −4.8 percent of an estimated $41.2 billion in physician expenditures for 2001. Even though the physician fee schedule update is −4.8 percent, we project that the total Medicare expenditures for physicians' services will increase from $41.2 billion to $41.7 billion in 2002.

The UMRA also requires (in section 202) that agencies prepare an assessment of anticipated costs and benefits before developing any rule that may result in expenditure in any one year by State, local, or tribal governments, in the aggregate, or by the private sector, of $110 million or more. We have determined that this rule has no consequential effect on State, local, or tribal governments. We believe the private sector cost of this rule falls below the above-stated threshold as well.

The RFA requires that we analyze regulatory options for small businesses and other small entities. We prepare a Regulatory Flexibility Analysis unless we certify that a rule would not have a significant economic impact on a substantial number of small entities. The analysis must include a justification concerning the reason action is being taken, the kinds and number of small entities the rule affects, and an explanation of any meaningful options that achieve the objectives and lessen significant adverse economic impact on the small entities.

In addition, section 1102(b) of the Act requires us to prepare a regulatory impact analysis if a rule may have a significant impact on the operations of a substantial number of small rural hospitals. This analysis must conform to the provisions of section 604 of the RFA. For purposes of section 1102(b) of the Act, we define a small rural hospital as a hospital that is located outside of a Metropolitan Statistical Area and has fewer than 100 beds.

For purposes of the RFA, all physicians are considered to be small entities. There are about 700,000 physicians and other practitioners who receive Medicare payment under the physician fee schedule.

For the purpose of EO 12866 and the RFA we have prepared the following analysis, which, together with the rest of this preamble, meets all four assessment requirements. It explains the rationale for and purpose of the rule, details the costs and benefits of the rule, analyzes alternatives, and presents the measures we considered to minimize the burden on small entities.

A. 5 Year Review of Physician Work and Resource-Based Practice Expense Relative Value Units

Revisions in physician work and resource-based practice expense RVUs for physicians' services are required by law to be budget neutral. We calculate total payments from the revisions to work and practice expense relative value units such that total payments do not change more than $20 million as a result of the revisions. Increases in payments for some services are necessarily offset by decreases in payments for other services. For revisions to physician work values that are occuring as part of the 5-year review, we are making a budget neutrality adjustment to the physician fee schedule conversion factor. For practice expense, we adjust all the practice expense RVUs upwards or downwards to meet the budget neutrality requirement in the statute. This means that increases in practice expense RVUs for some services will be offset by corresponding decreases in values for other services. We showed the impact of proposed changes in physician work and practice expense RVUs in our Notice of Proposed Rulemaking in the Federal Register on August 2, 2001 (65 FR 40397). Table 21 shows the impact on total allowed charges by specialty of this final rule's physician work and practice expense RVU changes. We are showing the impact of the proposed rule changes as well additional changes that are occurring as a result of this final rule. There are five changes we are adopting in this final rule that result in changes to the impacts displayed in the proposed rule. Table 21 incorporates additional impacts that result from using 2000 utilization data to determine the resource-based practice expense RVUs. This change has a very modest effect on payment for nearly all specialties. Based on public comments to our notice of proposed rulemaking, we have also made changes to physician work RVUs that were part of the 5-year review. These changes will increase payments to Gastronterology, General Surgery, Obstetrics and Gynecology and Podiatry. We also incorporated revised physician time data supplied to us by the Relative Value Update Committee (RUC). Relative to the physician times used in our proposed rule, there were slight refinements to some codes. With the exception of Nephrology, the new times have virtually no impact on specialty level payments. Nephrology payments will go up as a result of using new physician times supplied to us by the RUC. The RUC supplied us with a time of 186 minutes for the highest volume nephrology procedure code, 90921. This compared to a physician time of 153 minutes that was previously used. Finally, we also incorporated refinements to the practice expense inputs that are being recommended by the Practice Expense Advisory Committee (PEAC) and the RUC. These changes will result in a reduction in average payments to rheumatology of about 6 percent. This occurs primarily as a result of refinements to 4 codes that are frequently performed by rheumatologists (20610, 20550, 20605 and 20600). Based on the PEAC and RUC comments, we made changes to the practice expense inputs that result in a reduction in relative payments for these procedure codes. Other specialties that will experience a smaller reduction in payments as a result of the practice expense refinements for 2002 are Orthopedic Surgery, Podiatry and Urology. Since the changes are budget neutral, the reductions in practice expense RVUs will be offset by increases in practice expense payments that will be broadly distributed among other physician specialties.

Table 21 shows the impact of this final rule compared to the proposed rule that was published on August 2, 2001. We note that the table shows the impact of this rule only and does not incorporate practice expense changes from three other final rules, November 2, 1998 (63 FR 58895), November 2, 1999 (64 FR 59433) and November 1, 2000 (65 FR 65377). The table shows the average specialty change in payments in CY 2002 that are occurring as a result of this final rule relative to what would have occurred in 2002 had this rule not been published. The rule shows the redistributive (or relative) change in payments among specialties. It does not show the absolute average change in specialty level payments from 2001 to 2002 that are also affected by the final year of the transition to resource-based practice expense RVUs and the physician fee schedule update. The transition to resource-based RVUs is complete in CY 2002 and has no effect when comparing the impact on CY 2002 payments before and after changes made in this final rule. The physician fee schedule update and change to the conversion factor are discussed in sections VII and IX, respectively.

Table 21.—Impact of Physician Work and Practice Expense Relative Value Unit Changes—Final Rule Compared to Proposed Rule
Specialty | Allowed charges (billions) | Proposed rule impact (percent) | Final rule impact (percent)
Anesthesiology | $1.5 | 1 | 1
Cardiac Surgery | 0.3 | 0 | 0
Cardiology | 4.2 | 0 | −1
Chiropractor | 0.4 | 0 | 0
Clinics | 1.6 | 0 | 0
Dermatology | 1.4 | 1 | 2
Emergency Medicine | 1.0 | 0 | 0
Family Practice | 3.3 | 0 | 0
Gastroenterology | 1.2 | 1 | 3
General Practice | 1.0 | 0 | 0
General Surgery | 2.0 | 4 | 4
Hematology Oncology | 0.6 | 0 | 1
Internal Medicine | 7.1 | 0 | 1
Nephrology | 1.0 | 0 | 2
Neurology | 0.9 | 0 | 0
Neurosurgery | 0.4 | 0 | 0
Nonphysician Practitioner | 1.2 | 0 | 1
Obstetrics/Gynecology | 0.4 | 1 | 2
Ophthalmology | 3.9 | -1 | -1
Optometrist | 0.5 | 0 | -3
Orthopedic Surgery | 2.3 | 0 | -1
Other Physician | 1.4 | 1 | 0
Otolaryngology | 0.6 | 0 | 1
Pathology | 0.6 | 3 | 3
Plastic Surgery | 0.2 | 0 | 1
Podiatry | 1.1 | 1 | 0
Psychiatry | 1.1 | 0 | 0
Pulmonary | 1.1 | 0 | 1
Radiation Oncology | 0.7 | 0 | −2
Radiology | 3.3 | 0 | −1
Rheumatology | 0.3 | 0 | −6
Suppliers | 0.7 | 2 | 0
Thoracic Surgery | 0.5 | 1 | 0
Urology | 1.3 | 1 | 1
Vascular Surgery | 0.3 | 2 | 1

Table 22, titled Impact of 5-Year Review and Proposed Rule on Medicare Payments for Selected Procedures, shows the percentage change in total payment (in CY 2002 physician fee schedule dollars) for selected high-volume procedures that result from changes to the physician work, practice expense and malpractice announced in this final rule. These tables reflect the impact of this final rule only on the fully implemented fee schedule amount. The payments in these columns are determined using a conversion factor $36.1992. The RVUs used for calculating payment in the “old” columns are from the November 1, 2000 final rule. The RVUs used in calculating payments in the “new” columns are from this final rule. By using the same conversion factor of $36.1992 to calculate payments in both the “old” and “new” columns, the impact of changes to the RVUs that are included in this final rule are illustrated. These tables do not show the actual impact on payment from 2001 to 2002 that are also affected by the final year of the practice expense transition and physician fee schedule update.

Table 22.—Impact of 5 Year Review and Proposed Rule on Medicare Payment for Selected Procedures
HCPCS | MOD | DESC | Old non- facility | New non- facility | Percent change | Old facility | New facility | Percent change
11721 |  | Debride nail, 6 or more | $40.18 | $36.92 | −8 | $28.96 | $28.96 | 0
17000 |  | Destroy benign/premal lesion | 60.45 | 62.62 | 4 | 32.58 | 32.94 | 1
27130 |  | Total hip replacement | NA | NA | NA | 1,419.01 | 1,452.31 | 2
27236 |  | Treat thigh fracture | NA | NA | NA | 1,088.87 | 1,113.85 | 2
27244 |  | Treat thigh fracture | NA | NA | NA | 1,111.68 | 1,137.38 | 2
27447 |  | Total knee replacement | NA | NA | NA | 1,483.08 | 1,514.21 | 2
33533 |  | CABG, arterial, single | NA | NA | NA | 1,756.02 | 1,827.34 | 4
35301 |  | Rechanneling of artery | NA | NA | NA | 1,107.33 | 1,061.36 | −4
43239 |  | Upper GI endoscopy, biopsy | 281.99 | 354.75 | 26 | 148.78 | 154.93 | 4
45385 |  | Lesion removal colonoscopy | 474.93 | 571.22 | 20 | 283.44 | 287.78 | 2
66821 |  | After cataract laser surgery | 217.56 | 229.50 | 6 | 203.44 | 213.94 | 5
66984 |  | Cataract surg w/iol, i stage | NA | NA | NA | 660.27 | 669.32 | 1
67210 |  | Treatment of retinal lesion | 594.03 | 603.08 | 2 | 544.44 | 546.61 | 0
71010 | 26 | Chest x-ray | 9.05 | 9.05 | 0 | 9.05 | 9.05 | 0
71020 | 26 | Chest x-ray | 11.22 | 11.22 | 0 | 11.22 | 11.22 | 0
76091 |  | Mammogram, both breasts | 84.34 | 90.50 | 7 | NA | NA | NA
76091 | 26 | Mammogram, both breasts | 35.11 | 43.44 | 24 | 35.11 | 43.44 | 24
76092 |  | Mammogram, screening | 71.03 | 80.72 | 14 | 71.03 | 80.72 | 14
76092 | 26 | Mammogram, screening | 22.73 | 35.48 | 56 | 22.73 | 35.48 | 56
77427 |  | Radiation tx management, x5 | 167.24 | 167.96 | 0 | 167.24 | 167.96 | 0
78465 | 26 | Heart image (3d), multiple | 75.29 | 74.93 | −1 | 75.29 | 74.93 | −1
88305 | 26 | Tissue exam by pathologist | 39.82 | 40.54 | 2 | 39.82 | 40.54 | 2
90801 |  | Psy dx interview | 145.52 | 144.80 | −1 | 137.19 | 137.19 | 0
90806 |  | Psytx, off, 45-50 min | 96.65 | 95.93 | −1 | 91.22 | 91.22 | 0
90807 |  | Psytx, off, 45-50 min w/e&m | 103.89 | 103.53 | 0 | 98.82 | 98.82 | 0
90862 |  | Medication management | 51.04 | 51.04 | 0 | 46.33 | 46.33 | 0
90921 |  | ESRD related services, month | 263.89 | 273.30 | 4 | 263.89 | 273.30 | 4
90935 |  | Hemodialysis, one evaluation | NA | NA | NA | 73.48 | 76.38 | 4
92004 |  | Eye exam, new patient | 124.16 | 123.44 | −1 | 87.60 | 87.96 | 0
92012 |  | Eye exam established pat | 62.62 | 61.18 | −2 | 35.84 | 35.84 | 0
92014 |  | Eye exam & treatment | 89.77 | 91.22 | 2 | 59.00 | 58.64 | −1
92980 |  | Insert intracoronary stent | NA | NA | NA | 799.64 | 790.59 | −1
92982 |  | Coronary artery dilation | NA | NA | NA | 592.22 | 584.26 | −1
93000 |  | Electrocardiogram, complete | 26.06 | 25.34 | −3 | NA | NA | NA
93010 |  | Electrocardiogram report | 9.05 | 9.05 | 0 | 9.05 | 9.05 | 0
93015 |  | Cardiovascular stress test | 102.81 | 99.91 | −3 | NA | NA | NA
93307 | 26 | Echo exam of heart | 48.51 | 48.14 | −1 | 48.51 | 48.14 | −1
93510 | 26 | Left heart catheterization | 232.76 | 230.59 | −1 | 232.76 | 230.59 | −1
98941 |  | Chiropractic manipulation | 35.48 | 35.48 | 0 | 30.77 | 31.13 | 1
99202 |  | Office/outpatient visit, new | 60.45 | 61.54 | 2 | 45.61 | 45.61 | 0
99203 |  | Office/outpatient visit, new | 90.50 | 91.95 | 2 | 69.50 | 69.50 | 0
99204 |  | Office/outpatient visit, new | 130.32 | 130.68 | 0 | 102.81 | 102.81 | 0
99205 |  | Office/outpatient visit, new | 165.07 | 166.15 | 1 | 136.11 | 136.47 | 0
99211 |  | Office/outpatient visit, est | 19.91 | 20.27 | 2 | 8.69 | 8.69 | 0
99212 |  | Office/outpatient visit, est | 35.48 | 36.20 | 2 | 23.17 | 23.17 | 0
99213 |  | Office/outpatient visit, est | 49.59 | 50.32 | 2 | 34.03 | 34.03 | 0
99214 |  | Office/outpatient visit, est | 78.19 | 78.91 | 1 | 55.75 | 56.11 | 1
99215 |  | Office/outpatient visit, est | 114.39 | 115.84 | 1 | 90.14 | 90.50 | 0
99221 |  | Initial hospital care | NA | NA | NA | 65.16 | 65.16 | 0
99222 |  | Initial hospital care | NA | NA | NA | 107.87 | 108.24 | 0
99223 |  | Initial hospital care | NA | NA | NA | 150.59 | 150.95 | 0
99231 |  | Subsequent hospital care | NA | NA | NA | 32.58 | 32.58 | 0
99232 |  | Subsequent hospital care | NA | NA | NA | 53.21 | 53.57 | 1
99233 |  | Subsequent hospital care | NA | NA | NA | 76.02 | 76.38 | 1
99236 |  | Observ/hosp same date | NA | NA | NA | 213.58 | 214.66 | 1
99238 |  | Hospital discharge day | NA | NA | NA | 64.07 | 66.24 | 3
99239 |  | Hospital discharge day | NA | NA | NA | 87.60 | 90.86 | 4
99241 |  | Office consultation | 46.33 | 47.06 | 2 | 32.94 | 33.30 | 1
99242 |  | Office consultation | 86.15 | 87.24 | 1 | 67.69 | 68.05 | 1
99243 |  | Office consultation | 114.39 | 115.84 | 1 | 90.14 | 90.14 | 0
99244 |  | Office consultation | 162.53 | 164.34 | 1 | 133.21 | 133.58 | 0
99245 |  | Office consultation | 211.04 | 212.85 | 1 | 176.65 | 177.01 | 0
99251 |  | Initial inpatient consult | NA | NA | NA | 36.20 | 34.75 | −4
99252 |  | Initial inpatient consult | NA | NA | NA | 71.31 | 69.86 | −2
99253 |  | Initial inpatient consult | NA | NA | NA | 96.65 | 95.20 | −2
99254 |  | Initial inpatient consult | NA | NA | NA | 138.28 | 136.83 | −1
99255 |  | Initial inpatient consult | NA | NA | NA | 189.68 | 188.60 | −1
99261 |  | Follow-up inpatient consult | NA | NA | NA | 23.53 | 21.72 | −8
99262 |  | Follow-up inpatient consult | NA | NA | NA | 45.25 | 43.44 | −4
99263 |  | Follow-up inpatient consult | NA | NA | NA | 66.24 | 64.80 | −2
99282 |  | Emergency dept visit | NA | NA | NA | 26.43 | 26.43 | 0
99283 |  | Emergency dept visit | NA | NA | NA | 59.37 | 59.37 | 0
99284 |  | Emergency dept visit | NA | NA | NA | 92.67 | 92.67 | 0
99285 |  | Emergency dept visit | NA | NA | NA | 144.43 | 144.80 | 0
99291 |  | Critical care, first hour | NA | NA | NA | 197.65 | 198.37 | 0
99292 |  | Critical care, addl 30 min | NA | NA | NA | 98.46 | 98.82 | 0
99301 |  | Nursing facility care | 60.09 | 70.23 | 17 | 60.09 | 60.09 | 0
99302 |  | Nursing facility care | 80.36 | 95.57 | 19 | 80.36 | 80.72 | 0
99303 |  | Nursing facility care | 99.91 | 118.73 | 19 | 99.91 | 100.27 | 0
99311 |  | Nursing fac care, subseq | 30.05 | 40.18 | 34 | 30.05 | 30.05 | 0
99312 |  | Nursing fac care, subseq | 49.59 | 61.90 | 25 | 49.59 | 49.95 | 1
99313 |  | Nursing fac care, subseq | 70.59 | 84.34 | 20 | 70.59 | 70.95 | 1
99348 |  | Home visit, est patient | 73.12 | 73.85 | 1 | NA | NA | NA
99350 |  | Home visit, est patient | 166.88 | 166.52 | 0 | NA | NA | NA

(In two different places above, we indicate that the tables do not include the effect of the “final” year of the practice expense transition. While we note that resource-based practice expense will be fully implemented in 2002, our expectation is that we would continue to make refinements that improve the practice expense relative value units. We acknowledge that the efforts of the PEAC and RUC to make useful comments on practice expense inputs have resulted in significant improvements to the data we are using to determine practice expense relative value units. The refinements we have made to date have affected hundreds of procedure codes accounting for a high percentage of Medicare expenditures paid under the physician fee schedule. Our expectation is that this work will continue and we continue, to welcome comments and input from all members of the public interested in these issues).

B. Nurse Practitioners, Physician Assistants, and Clinical Nurse Specialists Performing Screening Sigmoidoscopies

As discussed in section II.B. of the preamble, this regulation will expand the list of practitioners for whose services Medicare may make payment for screening flexible sigmoidoscopies to include nurse practitioners, physician assistants, and clinical nurse specialists, as long as those practitioners meet applicable Medicare qualification requirements, and they are authorized to perform those screening services under State law. At present, the Medicare condition of coverage for screening flexible sigmoidoscopies limits coverage of those services to those that are performed by either a doctor of medicine or osteopathy (as defined in section 1861(r)(1) of the Act) who is authorized under State law to perform the examination.

We estimate that this expansion in the scope of practitioners who can receive Medicare payment for screening flexible sigmoidoscopies will increase beneficiary access to these screening services and will result in an increase in the number of covered exams that are performed. At the same time, we estimate that this final rule will result in a decrease in payments that are made for certain screening flexible sigmoidoscopies because they will be performed by nurse practitioners, physician assistants, and clinical nurse specialists, since services they provide are paid at 85 percent of the amount of payment that is made to physicians for the same screening service. Taking these factors into account, we estimate that this provision will result in negligible additional Medicare program costs. For a more detailed discussion of this provision see section II.B. of this preamble.

C. Services and Supplies Incident to a Physician's Professional Services—Conditions

Under this rule auxiliary personnel may provide services incident to the services of physicians (or other practitioners) who supervise them, regardless of the employment relationship. There are no costs or savings to the Medicare program associated with this provision. This provision could result in increased beneficiary access to the auxiliary personnel. For a more detailed discussion of this provision see section II.C. of this preamble.

D. Anesthesia Services—Anesthesia Base Units

As previously discussed in section II.D. of the preamble, with the exception of codes 00142 and 00147, we are using the same anesthesia base unit per anesthesia code as the ASA provides in its uniform relative value guide. There are eleven codes where our base unit value for an anesthesia code differed from the corresponding ASA base unit. Using the ASA base units resulted in an increase for 8 codes and a decrease for 3 codes. New and revised codes starting in CY 2000 and for subsequent years are evaluated on a code-specific basis under our usual process after we receive recommendations from the RUC. Thus, because of our review of the RUC recommendations, there could be differences between the ASA's guide and our base units beginning in CY 2000.

We have determined the budget neutrality impact on the anesthesia CF for the 11 codes for which CMS's base units are equal to the ASA's base units as well as the addition of 19 new anesthesia codes in CY 2002. The impact was determined by estimating the increase or decrease in base units between our base units and the ASA's base units for existing codes as well as the increase and decrease in base units between the new 2002 codes and the previous codes by which the services would have been reported. This results in an increase of approximately .2 percent in the 2002 anesthesia CF. For a more detailed discussion of this provision see section II.D. of this preamble.

E. Performance Measurement and Emerging Technology Codes

As previously discussed in section II.E. of the preamble, the AMA has developed two new categories of codes—performance codes and emerging technology. Allowing the performance measurement code to be recorded on Medicare billing forms will have no budgetary impact since we are not proposing payment for these codes. We are allowing for carrier pricing of the emerging technology codes.

We expect that the emerging technology codes will be used infrequently and may be used in place of “unlisted” procedure codes that are also carrier-priced. There would be few, if any, Medicare program costs associated with this proposal. For a more detailed discussion of this provision see section II.E. of this preamble.

F. BIPA Provisions Included in This Final Rule

The following provisions of the BIPA are discussed in detail in section III of this preamble. This final rule conforms the regulations text to the BIPA provisions. We showed the anticipated costs associated with the BIPA provisions in our August 2, 2001 proposed rule (66 FR 40400). We are showing that same table again in table 23 below.

Table 23.—Medicare Cost Estimates for BIPA 2000 Provisions
[In millions]
BIPA provisions | FY 2002 | FY 2003 | FY 2004 | FY 2005 | FY 2006
Sec. 101 Biennial Pelvic Examinations | 10 | 20 | 20 | 20 | 20
Sec. 102 Screening Glaucoma | 30 | 50 | 50 | 60 | 60
Sec. 103 Screening Colonoscopy | 40 | 40 | 30 | 10 | 10
Sec. 104 Screening Mammography | 30 | 40 | 40 | 40 | 50
Sec. 105 Medical Nutrition | 20 | 50 | 60 | 70 | 70
Sec. 223 Telehealth Services | 20 | 30 | 40 | 50 | 60
Sec. 432 Indian Health | 60 | 70 | 80 | 80 | 90

1. Screening Mammography

As discussed in section III.A. of the preamble, the BIPA eliminates the statutorily prescribed payment rate for screening mammography and specifies that it will be paid under the physician fee schedule beginning January 1, 2002. To pay for the professional component of the screening mammography, we are using the work and malpractice RVUs that have been established for unilateral diagnostic mammography. We are establishing the practice expense RVUs for the professional component under the resource-based methodology. The process we used to establish the practice expense RVU for the TC is described in detail in section III.A. Currently, we pay for screening mammography under section 1834(c) of the Act. Payment for screening mammography under that section is not subject to the budget neutrality requirements that apply to physician fee schedule services under section 1848(c)(2)(B)(ii)(II) of the Act. However, effective January 1, 2002, screening mammography will be paid under the physician fee schedule and, thus, subject to the budget neutrality requirements that apply to physician fee schedule services. We will include the current payment amounts for screening mammography in aggregate physician fee schedule payments subject to the budget neutrality requirements. As a result, the BIPA requirement that we pay for screening mammography under the physician fee schedule will not result in an increase in Medicare program expenditures. However, the increase in payment for screening mammography under the physician fee schedule will be included in the budget neutrality adjustments that apply to physician fee schedule services. The BIPA also establishes a methodology for determining payment for certain types of new technology that are used in providing both diagnostic and screening mammography services. The statutory provisions are in effect from April 1, 2001 to December 31, 2001. The statute gives us the authority to determine whether separate codes and payment amounts are appropriate for screening and diagnostic mammography services that involve use of a new technology on or after January 1, 2002. We are establishing several new codes and fee schedule amounts for screening and diagnostic mammography services that involve use of a new technology. We believe this will help ensure that all Medicare beneficiaries have access to the benefits of mammography, including recent advances that further enhance the clinical capability of this vital health service for women. The BIPA provisions related to new technology mammography will result in the Medicare program costs shown in Table 23. The BIPA makes no changes to provisions for Medicare coverage of screening mammography.

2. Screening Pelvic Examinations

As discussed in section III.B. of the preamble, section 101 of the BIPA provides for expanded coverage for screening pelvic examinations (including a clinical breast examination) furnished on or after July 1, 2001. Specifically, the revised benefit will allow for biennial coverage of screening pelvic examination for all women who do not qualify under the law for annual coverage of such tests. We estimate that this change in the frequency of coverage for certain beneficiaries will result in an increase in Medicare payments. These payments will be made to a large number of physicians and other practitioners who provide these tests and for any medically necessary follow-up tests, or treatment that may be required as a result of the increased frequency of coverage of these tests. Medicare program expenditures associated with screening pelvic examinations have been included in the President's budget for Medicare expenditures. The impact of this provision is shown in Table 23.

3. Screening for Glaucoma

As discussed in section III.C. of the preamble, section 102 of the BIPA authorizes coverage of glaucoma screening examinations effective January 1, 2002, subject to certain frequency and other limitations. We believe services provided as part of glaucoma screening will often overlap with other services a physician provides during a patient encounter that is associated with a higher payment amount. We believe that physicians will more commonly provide glaucoma tests in conjunction with other services and will rarely provide only glaucoma screening to Medicare patients. Based on the projected utilization of these screening services and related medically necessary follow-up tests and treatment that may be required for the beneficiaries screened, we estimate that this new benefit will result in an increase in Medicare payments. These payments will be made to ophthalmologists or optometrists who will provide these screening tests and for any related follow-up tests and treatment that may be required. Medicare program expenditures associated with the BIPA provision that establishes coverage for screening glaucoma are shown in Table 23. The addition of the screening glaucoma benefit will allow a greater number of beneficiaries access to a preventive service.

4. Screening Colonoscopy

As discussed in section III.D. of the preamble, section 103 of the BIPA amended the Act to add coverage of screening colonoscopies once every 10 years for individuals not at high risk for colorectal cancer. We estimate that this new benefit will result in an increase in Medicare payments. These payments will be made to practitioners who will provide these screening tests and related follow-up tests and treatment that may be required. The addition of the screening colonoscopy benefit will allow beneficiaries who are not at high risk for colorectal cancer greater access to preventive services. The impact of this provision is shown in Table 23.

5. Medical Nutrition Therapy

As discussed in section III.E. of the preamble, section 105 of the BIPA amended the Act to authorize Medicare coverage under Part B of medical nutrition therapy (MNT) for beneficiaries who have diabetes or renal disease, effective for services furnished on or after January 1, 2002. We are implementing this provision in 42 CFR at part 410, in subpart G. Specifically, the final rule discusses the education, experience, and licensing requirements for dietitians or nutritionists furnishing the service. In addition, the final rule discusses a referral requirement and the manner by which the medical nutrition therapy and diabetes outpatient self-management training benefits will be coordinated to avoid duplicate payment. We are also establishing payment amounts for these services under the physician fee schedule.

We estimate that this new benefit will result in an increase in Medicare payments. These payments will be made to dietitians and nutrition professionals who will provide these diagnostic therapy and counseling services. Costs to the Medicare program associated with this provision are shown in Table 23.

6. Telehealth

We estimate that the cost of providing office or other outpatient visits, consultation services, individual psychotherapy, and pharmacologic management in accordance with section 223 of the BIPA will be approximately $20 million in FY 2002 and approximately $60 million by FY 2006, as indicated above in Table 23.

This final rule does not mandate that entities provide consultation, office or other outpatient visits, individual psychotherapy or pharmacological management services via a telecommunications system. Thus, this final rule will not require entities to purchase telehealth equipment or to acquire the telecommunications infrastructure necessary to deliver these services via a telecommunications system. Therefore, this final rule does not impose costs associated with starting and operating a telehealth network.

7. Indian Health Services

As discussed in section III.G. of the preamble, section 432 of the BIPA authorizes payment under the physician fee schedule to physicians and certain practitioners for services furnished in a hospital and an ambulatory care clinic, whether provider-based or free-standing, of the Indian Health Service effective for services furnished on or after July 1, 2001. We are adding a new § 410.46 to conform our regulations to the statute. Costs to the Medicare program for this BIPA provision are shown in Table 23.

8. Pathology Services

As discussed in section III.H. of the preamble, in the November 2, 1999 physician fee schedule final rule (64 FR 59381), we stated that we would implement a policy to pay only hospitals for the TC of physician pathology services furnished to hospital inpatients. Before the effective date of this proposal, any independent laboratory could bill the carrier under the physician fee schedule for the TC of physician pathology to a hospital inpatient. That regulation provided that for services furnished on or after January 1, 2001, the carriers would no longer pay claims to an independent laboratory under the physician fee schedule for the TC of physician pathology services furnished for hospital inpatients. Similar treatment was provided under the hospital outpatient prospective payment system for the TC of physician pathology services to hospital outpatients. We delayed implementation of this provision for one year; it was to take effect for services furnished on or after January 1, 2001. The delay was intended to allow independent laboratories and hospitals sufficient time to negotiate arrangements.

Section 542 of the BIPA requires Medicare to continue to pay for the TC of physician pathology services when an independent laboratory furnishes this service to an inpatient or outpatient of a covered hospital. This provision applies to TC services furnished during the 2-year period beginning on January 1, 2001.

In the November 2, 1999 final rule, we estimated that payment under the physician fee schedule for TC billings by independent laboratories would decrease by $6 million per year if the original proposal had been implemented on January 1, 2001. As a result of the BIPA, these savings are not realized for two years.

G. Update of the Codes for the Physician Self-Referral Prohibition

As discussed in section VI of this preamble, we are updating the list of codes used to define certain designated health services for the purposes of section 1877 of the Act. We are not making any substantive change to the description of any designated health service as set forth in the January 4, 2001 physician self-referral final rule (66 FR 856). Instead, we are merely updating our list of codes to conform to coding changes in the most recent publication of CPT and HCPCS codes. For this reason, we certify that the changes we are making will not have a significant economic effect on a substantial number of small entities or on the operations of a substantial number of small rural hospitals. For an in-depth discussion of the anticipated effects of the recent physician self-referral final rule, refer to the regulatory impact statement in that rule as published in the January 4, 2001 Federal Register (66 FR 856).

H. Budget-Neutrality

The increase in physician work RVUs will necessitate an adjustment to meet the statute's budget neutrality requirements. We are reducing the physician fee schedule CF by -0.46 percent (CF X 0.9954) to ensure that the increase in physician work RVUs remains budget neutral across all physician fee schedule services. Each year since the fee schedule has been implemented, our actuaries have determined any adjustments needed to meet the budget-neutrality requirement of the statute. A component of the actuarial determination of budget-neutrality involves estimating the impact of changes in the volume and intensity of physicians' services provided to Medicare beneficiaries as a result of the proposed changes to relative value units. Consistent with the provision in the November 1998 final rule, the actuaries would use a model that assumes a 30 percent volume-and-intensity response to price reductions. Based on the practice expense changes that will occur in 2002, the actuaries estimate that a -0.18 (CF X 0.9982) percent adjustment to the conversion factor is necessary to meet the budget neutrality requirements in the statute. If the assumed volume and intensity offset does not occur, the offset applied to the RVUs will be, in essence, returned because there will be a future year adjustment to the physician fee schedule update.

I. Impact on Beneficiaries

Although changes in physicians' payments when the physician fee schedule was implemented in 1992 were large, we detected no problems with beneficiary access to care. Furthermore, since beginning our transition to a resource-based practice expense system in 1999, we have not found that there are problems with beneficiary access to care.

J. Federalism

We have reviewed this proposed rule under the threshold criteria of EO 13132, Federalism, and we have determined that the proposed rule does not significantly affect the rights, roles, and responsibilities of States.

List of Subjects

42 CFR Part 405

Administrative practice and procedure, Health facilities, Health professions, Kidney diseases, Medicare, Reporting and recordkeeping requirements, Rural areas, X-rays.

42 CFR Part 410

Health facilities, Health professions, Kidney diseases, Laboratories, Medicare, Rural areas, X-rays.

42 CFR Part 411

Kidney diseases, Medicare, Reporting and recordkeeping requirements.

42 CFR Part 414

Administrative practice and procedure, Health facilities, Health professions, Kidney diseases, Medicare, Reporting and recordkeeping requirements, Rural areas, X-rays.

42 CFR Part 415

Health facilities, Health professions, Medicare, Reporting and recordkeeping requirements.

For the reasons set forth in the preamble, the Centers for Medicare and Medicaid amends 42 CFR chapter IV as follows:

PART 405—FEDERAL HEALTH INSURANCE FOR THE AGED AND DISABLED

1. The authority citation for part 405 continues to read as follows:

Authority: Secs. 1102 and 1871 of the Social Security Act (42 U.S.C. 1302 and 1395hh).

2. In § 405.534, an introductory paragraph is added to read as follows:

§ 405.534 Limitation on payment for screening mammography services.

The provisions in paragraphs (a), (b), and (c) of this section apply for services provided from January 1, 1991 until December 31, 2001. Screening mammography services provided after December 31, 2001 are paid under the physician fee schedule in accordance with § 414.2 of this chapter.

* * * * *

3. In § 405.535, the section heading is revised and the introductory text is amended by adding two sentences to the beginning to read as follows:

§ 405.535 Special rule for nonparticipating physicians and suppliers furnishing screening mammography services before January 1, 2002.

The provisions in this section apply for screening mammography services provided from January 1, 1991 until December 31, 2001. Screening mammography services provided after December 31, 2001 are physician services pursuant to § 414.2 of this chapter paid under the physician fee schedule. * * *

* * * * *

PART 410—SUPPLEMENTARY MEDICAL INSURANCE (SMI) BENEFITS

1. The authority citation for part 410 continues to read as follows:

Authority: Secs. 1102 and 1871 of the Social Security Act (42 U.S.C. 1302 and 1395hh).

2. Section 410.3 is amended by revising paragraph (a)(1) to read as follows:

§ 410.3 Scope of benefits.

(a) * * *

(1) Medical and other health services such as physicians' services, outpatient services furnished by a hospital or a CAH, diagnostic tests, outpatient physical therapy and speech pathology services, rural health clinic services, Federally qualified health center services, IHS, Indian tribe, or tribal organization facility services, and outpatient renal dialysis services.

* * * * *

3. Section 410.10 is amended by adding paragraph (x) to read as follows:

§ 410.10 Medical and other health services: Included services.

* * * * *

(x) Services of physicians and other practitioners furnished in or at the direction of an IHS or Indian tribal hospital or clinic.

4. Section 410.22 is redesignated as § 410.21, § 410.23 is redesignated as § 410.22, and a new § 410.23 is added to read as follows:

§ 410.23 Screening for glaucoma: Conditions for and limitations on coverage.

(a) Definitions: As used in this section, the following definitions apply:

(1) Direct supervision in the office setting means the optometrist or the ophthalmologist must be present in the office suite and be immediately available to furnish assistance and direction throughout the performance of the procedure. It does not mean the physician must be present in the room when the procedure is performed.

(2) Eligible beneficiary means individuals in the following high risk categories:

(i) Individual with diabetes mellitus;

(ii) Individual with a family history of glaucoma; or

(iii) African-Americans age 50 and over.

(3) Screening for glaucoma means the following procedures furnished to an individual for the early detection of glaucoma:

(i) A dilated eye examination with an intraocular pressure measurement.

(ii) A direct ophthalmoscopy examination, or a slit-lamp biomicroscopic examination.

(b) Condition for coverage of screening for glaucoma.

Medicare Part B pays for glaucoma screening examinations provided to eligible beneficiaries as described in paragraph (a)(2) of this section if they are furnished by or under the direct supervision in the office setting of an optometrist or ophthalmologist who is legally authorized to perform these services under State law (or the State regulatory mechanism provided by State law) of the State in which the services are furnished, as would otherwise be covered if furnished by a physician or incident to a physician's professional service.

(c) Limitations on coverage of glaucoma screening examinations.

(1) Payment may not be made for a glaucoma screening examination that is performed for an individual who is not an eligible beneficiary as described in paragraph (a)(2) of this section.

(2) Payment may be made for a glaucoma screening examination that is performed on an individual who is an eligible beneficiary as described in paragraph (a)(2) of this section, after at least 11 months have passed following the month in which the last glaucoma screening examination was performed.

5. In § 410.26, paragraph (b) is redesignated as paragraph (c), paragraph (a) is redesignated as paragraph (b) and revised, a new paragraph (a) is added, and newly designated paragraph (c) is amended by adding a paragraph heading:

§ 410.26 Services and supplies incident to a physician's professional service: Conditions.

(a) Definitions. For purposes of this section, the following definitions apply:

(1) Auxiliary personnel means any individual who is acting under the supervision of a physician (or other practitioner), regardless of whether the individual is an employee, leased employee, or independent contractor of the physician (or other practitioner) or of the same entity that employs or contracts with the physician (or other practitioner).

(2) Direct supervision means the level of supervision by the physician (or other practitioner) of auxiliary personnel as defined in § 410.32(b)(3)(ii).

(3) Independent contractor means an individual who performs part-time or full-time work for which the individual receives an IRS-1099 form.

(4) Leased employment means an employment relationship that is recognized by applicable State law and that is established by two employers by a contract such that one employer hires the services of an employee of the other employer.

(5) Noninstitutional setting means all settings other than a hospital or skilled nursing facility.

(6) Practitioner means a non-physician practitioner who is authorized by the Act to receive payment for services incident to his or her own services.

(7) Services and supplies means any services or supplies (including drugs or biologicals that are not usually self-administered) that are included in section 1861(s)(2)(A) of the Act and are not specifically listed in the Act as a separate benefit included in the Medicare program.

(b) Medicare Part B pays for services and supplies incident to the service of a physician (or other practitioner).

(1) Services and supplies must be furnished in a noninstitutional setting to noninstitutional patients.

(2) Services and supplies must be an integral, though incidental, part of the service of a physician (or other practitioner) in the course of diagnosis or treatment of an injury or illness.

(3) Services and supplies must be commonly furnished without charge or included in the bill of a physician (or other practitioner).

(4) Services and supplies must be of a type that are commonly furnished in the office or clinic of a physician (or other practitioner).

(5) Services and supplies must be furnished under the direct supervision of the physician (or other practitioner). The physician (or other practitioner) directly supervising the auxiliary personnel need not be the same physician (or other practitioner) upon whose professional service the incident to service is based.

(6) Services and supplies must be furnished by the physician, practitioner with an incident to benefit, or auxiliary personnel.

(7) A physician (or other practitioner) may be an employee or an independent contractor.

(c) Limitation. * * *

6. In § 410.37, paragraphs (d), (e)(2), and (g) are revised and paragraph (e)(3) is added to read as follows:

§ 410.37 Colorectal cancer screening tests: Conditions for and limitations on coverage.

* * * * *

(d) Condition for coverage of flexible sigmoidoscopy screening. Medicare Part B pays for a flexible sigmoidoscopy screening service if it is performed by a doctor of medicine or osteopathy (as defined in section 1861(r)(1) of the Act), or by a physician assistant, nurse practitioner, or clinical nurse specialist (as defined in section 1861(aa)(5) of the Act and §§ 410.74, 410.75, and 410.76) who is authorized under State law to perform the examination.

(e) Limitations on coverage of screening flexible sigmoidoscopies. * * *

(2) For an individual 50 years of age or over, except as described in paragraph (e)(3) of this section, payment may be made for screening flexible sigmoidoscopy after at least 47 months have passed following the month in which the last screening flexible sigmoidoscopy or, as provided in paragraphs (h) and (i) of this section, the last screening barium enema was performed.

(3) In the case of an individual who is not at high risk for colorectal cancer as described in paragraph (a)(3) of this section but who has had a screening colonoscopy performed, payment may be made for a screening flexible sigmoidosocopy only after at least 119 months have passed following the month in which the last screening colonoscopy was performed.

* * * * *

(g) Limitations on coverage of screening colonoscopies. (1) Effective for services furnished on or after January 1, 1998 through June 30, 2001, payment may not be made for a screening colonoscopy for an individual who is not at high risk for colorectal cancer as described in paragraph (a)(3) of this section.

(2) Effective for services furnished on or after July 1, 2001, except as described in paragraph (g)(4) of this section, payment may be made for a screening colonoscopy performed for an individual who is not at high risk for colorectal cancer as described in paragraph (a)(3) of this section, after at least 119 months have passed following the month in which the last screening colonoscopy was performed.

(3) Payment may be made for a screening colonoscopy performed for an individual who is at high risk for colorectal cancer as described in paragraph (a)(3) of this section, after at least 23 months have passed following the month in which the last screening colonoscopy was performed, or, as provided in paragraphs (h) and (i) of this section, the last screening barium enema was performed.

(4) In the case of an individual who is not at high risk for colorectal cancer as described in paragraph (a)(3) of this section but who has had a screening flexible sigmoidoscopy performed, payment may be made for a screening colonoscopy only after at least 47 months have passed following the month in which the last screening flexible sigmoidoscopy was performed.

* * * * *

7. Section 410.46 is added to read as follows:

§ 410.46 Physician and other practitioner services furnished in or at the direction of an IHS or Indian tribal hospital or clinic: Scope and conditions.

(a) Medicare Part B pays, in accordance with the physician fee schedule, for services furnished in or at the direction of a hospital or outpatient clinic (provider-based or free-standing) that is operated by the Indian Health Service (IHS) or by an Indian tribe or tribal organization (as those terms are defined in section 4 of the Indian Health Care Improvement Act). These services are subject to the same situations, terms, and conditions that would apply if the services were furnished in or at the direction of a hospital or clinic that is not operated by IHS or by an Indian tribe or tribal organization. Payments include health professional shortage areas incentive payments when the requirements for these incentive payments in § 414.42 of this chapter are met.

(b) Payment is not made under this section to the extent that Medicare otherwise pays for the same services under other provisions.

(c) Payment is made under these provisions for the following services:

(1) Services for which payment is made under the physician fee schedule in accordance with part 414 of this chapter.

(2) Services furnished by non-physician practitioners for which payment under Part B is made under the physician fee schedule.

(3) Services furnished by a physical therapist or occupational therapist, for which payment under Part B is made under the physician fee schedule.

(d) Payments under these provisions will be paid to the IHS or tribal hospital or clinic.

8. In § 410.56, paragraphs (b)(1), the introductory text of (b)(2), and (b)(3) are revised to read as follows:

§ 410.56 Screening pelvic examinations.

* * * * *

(b) * * *

(1) General rule. Except as specified in paragraphs (b)(2) and (b)(3) of this section, payment may be made for a pelvic examination performed on an asymptomatic woman only if the individual has not had a pelvic examination paid for by Medicare during the preceding 23 months following the month in which her last Medicare-covered screening pelvic examination was performed.

(2) More frequent screening based on high-risk factors. Subject to the limitation as specified in paragraph (b)(4) of this section, payment may be made for a screening pelvic examination performed more frequently than once every 24 months if the test is performed by a physician or other practitioner specified in paragraph (a) of this section, and there is evidence that the woman is at high risk (on the basis of her medical history or other findings) of developing cervical cancer or vaginal cancer, as determined in accordance with the following risk factors:

* * * * *

(3) More frequent screening for women of childbearing age. Subject to the limitation as specified in paragraph (b)(4) of this section, payment may be made for a screening pelvic examination performed more frequently than once every 24 months if the test is performed by a physician or other practitioner as specified in paragraph (a) of this section for a woman of childbearing age who has had an examination that indicated the presence of cervical or vaginal cancer or other abnormality during any of the preceding 3 years. The term “woman of childbearing age” means a woman who is premenopausal, and has been determined by a physician, or a qualified practitioner, as specified in paragraph (a) of this section, to be of childbearing age, based on her medical history or other findings.

* * * * *

9. Section 410.78 is revised to read as follows:

§ 410.78 Office and other outpatient visits, consultation, individual psychotherapy and pharmacologic management via an interactive telecommunications system.

(a) Definitions. For the purposes of this section the following definitions apply:

(1) Asynchronous store and forward technologies means the transmission of a patient's medical information from an originating site to the physician or practitioner at the distant site. The physician or practitioner at the distant site can review the medical case without the patient being present. An asynchronous telecommunications system in single media format does not include telephone calls, images transmitted via facsimile machines and text messages without visualization of the patient (electronic mail). Photographs visualized by a telecommunications system must be specific to the patient's medical condition and adequate for furnishing or confirming a diagnosis and or treatment plan. Dermatological photographs, for example, a photograph of a skin lesion, may be considered to meet the requirement of a single media format under this provision.

(2) Distant site means the site at which the physician or practitioner delivering the service is located at the time the service is provided via a telecommunications system.

(3) Interactive telecommunications system means multimedia communications equipment that includes, at a minimum, audio and video equipment permitting two-way, real-time interactive communication between the patient and distant site physician or practitioner. Telephones, facsimile machines, and electronic mail systems do not meet the definition of an interactive telecommunications system.

(4) Originating site means, for purposes of a consultation, office or other outpatient visit, individual psychotherapy, or pharmacologic management via an interactive telecommunications system, the location of an eligible Medicare beneficiary at the time the service being furnished via a telecommunications system occurs. For asynchronous store and forward telecommunications technologies, the only originating sites are Federal telemedicine demonstration programs conducted in Alaska or Hawaii.

(b) General rule. Medicare Part B pays for office and other outpatient visits, professional consultation, individual psychotherapy, and pharmacologic management furnished by means of an interactive telecommunications system if the following conditions are met:

(1) The physician or practitioner at the distant site must be licensed to provide the service under State law. When the physician or practitioner at the distant site is licensed under State law to provide a covered telehealth service (that is, professional consultations, office and other outpatient visits, individual psychotherapy, and pharmacologic management), he or she may bill for, and receive payment for, this service when delivered via a telecommunications system.

(2) The practitioner at the distant site is one of the following:

(i) A physician as described in § 410.20.

(ii) A physician assistant as described § 410.74.

(iii) A nurse practitioner as described in § 410.75.

(iv) A clinical nurse specialist as described in § 410.76.

(v) A nurse-midwife as described in § 410.77.

(vi) A clinical psychologist as described in § 410.71.

(vii) A clinical social worker as described in § 410.73.

(3) The services are furnished to a beneficiary at an originating site, which is one of the following:

(i) The office of a physician or practitioner.

(ii) A critical access hospital (as described in section 1861(mm)(1) of the Act).

(iii) A rural health clinic (as described in section 1861(aa)(2) of the Act).

(iv) A Federally qualified health center (as defined in section 1861(aa)(4) of the Act).

(v) A hospital (as defined in section 1861(e) of the Act).

(4) Originating sites must be located in either a rural health professional shortage area as defined under section 332(a)(1)(A) of the Public Health Service Act (42 U.S.C. 254e(a)(1)(A)) or in a county that is not included in a Metropolitan Statistical Area as defined in section 1886(d)(2)(D) of the Act. Entities participating in a Federal telemedicine demonstration project that have been approved by, or receive funding from, the Secretary as of December 31, 2000 qualify as an eligible originating site regardless of geographic location.

(5) The medical examination of the patient is under the control of the physician or practitioner at the distant site.

(c) Telepresenter not required. A telepresenter is not required as a condition of payment unless a telepresenter is medically necessary as determined by the physician or practitioner at the distant site.

(d) Exception to the interactive telecommunications system requirement. For Federal telemedicine demonstration programs conducted in Alaska or Hawaii only, Medicare payment is permitted for telehealth when asynchronous store and forward technologies, in single or multimedia formats, are used as a substitute for an interactive telecommunications system.

(e) Limitation. A clinical psychologist and a clinical social worker may bill and receive payment for individual psychotherapy via a telecommunications system, but may not seek payment for medical evaluation and management services.

10. A new subpart G is added to read as follows:

Subpart G—Medical Nutrition Therapy
Sec.
410.130 Definitions.
410.132 Medical nutrition therapy.
410.134 Provider qualifications.

Subpart G—Medical Nutrition Therapy

§ 410.130 Definitions.

For the purposes of this subpart, the following definitions apply:

Chronic renal insufficiency means the stage of renal disease associated with a reduction in renal function not severe enough to require dialysis or transplantation (glomerular filtration rate [GFR] 13-50 ml/min/1.73m²).

Diabetes means diabetes mellitus consisting of two types. Type 1 is an autoimmune disease that destroys the beta cells of the pancreas, leading to insulin deficiency. Type 2 is familial hyperglycemia that occurs primarily in adults but can also occur in children and adolescents. It is caused by an insulin resistance whose etiology is multiple and not totally understood. Gestational diabetes is any degree of glucose intolerance with onset or first recognition during pregnancy. The diagnostic criterion for a diagnosis of diabetes for a fasting glucose tolerance test is greater than or equal to 126 mg/dL.

Episode of care means services covered in a 12-month time period when coordinated with initial diabetes self-management training (DSMT) and one calendar year for each year thereafter, starting with the assessment and including all covered interventions based on referral(s) from a physician as specified in § 410.132(c). The time period covered for gestational diabetes extends only until the pregnancy ends.

Medical nutrition therapy services means nutritional diagnostic, therapeutic, and counseling services provided by a registered dietitian or nutrition professional for the purpose of managing diabetes or a renal disease.

Physician means a doctor of medicine or osteopathy legally authorized to practice medicine and surgery by the State in which he or she performs such function or action (including a physician within the meaning of section of 1101(a)(7) of the Act).

Renal disease means chronic renal insufficiency, end-stage renal disease when dialysis is not received, or the medical condition of a beneficiary for 36 months after kidney transplant.

Treating physician means the primary care physician or specialist coordinating care for the beneficiary with diabetes or renal disease.

§ 410.132 Medical nutrition therapy.

(a) Conditions for coverage of MNT services. Medicare Part B pays for MNT services provided by a registered dietitian or nutrition professional as defined in § 410.134 when the beneficiary is referred for the service by the treating physician. Services covered consist of face-to-face nutritional assessments and interventions in accordance with nationally accepted dietary or nutritional protocols.

(b) Limitations on coverage of MNT services.

(1) MNT services based on a diagnosis of renal disease as described in this subpart are not covered for beneficiaries receiving maintenance dialysis for which payment is made under section 1881 of the Act.

(2) A beneficiary may only receive the maximum number of hours covered under the DSMT benefit for both DSMT and MNT during the initial DSMT training period unless additional hours are determined to be medically necessary under the national coverage determination process.

(3) In years when the beneficiary is eligible for MNT and follow-up DSMT, the beneficiary may only receive the maximum number of hours covered under MNT unless additional hours are determined to be medically necessary under the national coverage determination process.

(4) If a beneficiary has both diabetes and renal disease, the beneficiary may only receive the maximum number of hours covered under the renal MNT benefit in one episode of care unless he or she is receiving initial DSMT services, in which case the beneficiary would receive whichever is greater.

(5) An exception to the maximum number of hours in (b)(2), (3), and (4) of this section may be made when the treating physician determines that there is a change of diagnosis, medical condition, or treatment regimen related to diabetes or renal disease that requires a change in MNT during an episode of care.

(c) Referrals. Referral may only be made by the treating physician when the beneficiary has been diagnosed with diabetes or renal disease as defined in this subpart with documentation maintained by the referring physician in the beneficiary's medical record. Referrals must be made for each episode of care and any additional assessments or interventions required by a change of diagnosis, medical condition, or treatment regimen during an episode of care.

§ 410.134 Provider qualifications.

For Medicare Part B coverage of MNT, only a registered dietitian or nutrition professional may provide the services. “Registered dietitian or nutrition professional” means an individual who, on or after December 22, 2000:

(a) Holds a bachelor's or higher degree granted by a regionally accredited college or university in the United States (or an equivalent foreign degree) with completion of the academic requirements of a program in nutrition or dietetics accredited by an appropriate national accreditation organization recognized for this purpose.

(b) Has completed at least 900 hours of supervised dietetics practice under the supervision of a registered dietitian or nutrition professional.

(c) Is licensed or certified as a dietitian or nutrition professional by the State in which the services are performed. In a State that does not provide for licensure or certification, the individual will be deemed to have met this requirement if he or she is recognized as a “registered dietitian” by the Commission on Dietetic Registration or its successor organization, or meets the requirements of paragraphs (a) and (b) of this section.

(d) Exceptions.

(i) A dietitian or nutritionist licensed or certified in a State as of December 21, 2000 is not required to meet the requirements of (a) and (b) of this section.

(ii) A “registered dietician” in good standing, as recognized by the Commission of Dietetic Registration or its successor organization, is deemed to have met the requirements of (a) and (b) of this section.

PART 411—EXCLUSIONS FROM MEDICARE AND LIMITATIONS ON MEDICARE PAYMENT

1. The authority citation for part 411 continues to read as follows:

Authority: Secs. 1102 and 1871 of the Social Security Act (42 U.S.C. 1302 and 1395hh).

2. In § 411.15, paragraph (a)(1) is revised, and a new paragraph (k)(10) is added to read as follows:

§ 411.15 Particular services excluded from coverage.

* * * * *

(a) * * *

(1) Examinations performed for a purpose other than treatment or diagnosis of a specific illness, symptoms, complaint, or injury, except for screening mammography, colorectal cancer screening tests, screening pelvic examinations, prostate cancer screening tests, or glaucoma screening exams that meet the criteria specified in paragraphs (k)(6) through (k)(10) of this section.

* * * * *

(k) * * *

(10) In the case of screening exams for glaucoma, for the purpose of early detection of glaucoma, subject to the conditions and limitations specified in § 410.23 of this chapter.

* * * * *

PART 414—PAYMENT FOR PART B MEDICAL AND OTHER HEALTH SERVICES

1. The authority citation for part 414 continues to read as follows:

Authority: Secs. 1102, 1871, and 1881(b)(1) of the Social Security Act (42 U.S.C. 1302, 1395hh, and 1395rr(b)(1)).

2. In 414.2, the definition of “Physician services” is amended by adding a new paragraph (8) to read as follows:

§ 414.2 Definitions.

* * * * *

Physician Services * * *

(8) Screening mammography services.

* * * * *

3. A new § 414.64 is added to read as follows:

§ 414.64 Payment for medical nutrition therapy.

(a) Payment under the physician fee schedule. Medicare payment for medical nutrition therapy is made under the physician fee schedule in accordance with subpart B of this part. Payment to non-physician professionals, as specified in paragraph (b) of this section, is the lesser of the actual charges or 80 percent of 85 percent of the physician fee schedule amount.

(b) To whom payment may be made. Payment may be made to a registered dietician or nutrition professional qualified to furnish medical nutrition therapy in accordance with part 410, subpart G of this chapter.

(c) Effective date of payment. Medicare pays suppliers of medical nutrition therapy on or after the effective date of enrollment of the supplier at the carrier.

(d) Limitation on payment. Payment is made only for documented nutritional therapy sessions actually attended by the beneficiary.

(e) Other conditions for fee-for-service payment. Payment is made only if the beneficiary:

(1) Is not an inpatient of a hospital, SNF, nursing home, or hospice.

(2) Is not receiving services in an RHC, FQHC or ESRD dialysis facility.

4. Section 414.65 is revised to read as follows:

§ 414.65 Payment for office or other outpatient visits, consultation, individual psychotherapy, and pharmacologic management via interactive telecommunications systems.

(a) Professional service. Medicare payment for the professional service via an interactive telecommunications system is made according to the following limitations:

(1) The Medicare payment amount for office or other outpatient visits, consultation, individual psychotherapy, and pharmacologic management via an interactive telecommunications system is equal to the current fee schedule amount applicable to services of the physician or practitioner.

(2) Only the physician or practitioner at the distant site may bill and receive payment for the professional service via an interactive telecommunications system.

(3) Payments made to the physician or practitioner at the distant site, including deductible and coinsurance, for the professional service may not be shared with the referring practitioner or telepresenter.

(b) Originating site facility fee. For office or other outpatient visits, consultation, individual psychotherapy, or pharmacologic management services delivered via an interactive telecommunications system furnished on or after October 1, 2001:

(1) For services furnished on or after October 1, 2001 through December 31, 2002, the payment amount to the originating site is the lesser of the actual charge or the originating site facility fee of $20. For services furnished on or after January 1 of each subsequent year, the facility fee for the originating site will be updated by the Medicare Economic Index (MEI) as defined in section 1842(i)(3) of the Act.

(2) Only the originating site may bill for the originating site facility fee and only on an assignment-related basis. The distant site physician or practitioner may not bill for or receive payment for facility fees associated with the professional service furnished via an interactive telecommunications system.

(c) Deductible and coinsurance apply. The payment for the professional service and originating site facility fee is subject to the coinsurance and deductible requirements of sections 1833(a)(1) and (b) of the Act.

(d) Assignment required for physicians, practitioners, and originating sites. Payment to physicians, practitioners, and originating sites is made only on an assignment-related basis.

(e) Sanctions. A distant site practitioner or originating site facility may be subject to the applicable sanctions provided for in chapter IV, part 402 and chapter V, parts 1001, 1002, and 1003 of this title if he or she does any of the following:

(1) Knowingly and willfully bills or collects for services in violation of the limitation of this section.

(2) Fails to timely correct excess charges by reducing the actual charge billed for the service in an amount that does not exceed the limiting charge for the service or fails to timely refund excess collections.

(3) Fails to submit a claim on a standard form for services provided for which payment is made on a fee schedule basis.

(4) Imposes a charge for completing and submitting the standard claims form.

PART 415—SERVICES FURNISHED BY PHYSICIANS IN PROVIDERS, SUPERVISING PHYSICIANS IN TEACHING SETTINGS, AND RESIDENTS IN CERTAIN SETTINGS

1. The authority citation for part 415 continues to read as follows:

Authority: Secs. 1102 and 1871 of the Social Security Act (42 U.S.C. 1302 and 1395hh).

2. Section 415.130 is amended by:

A. Redesignating paragraphs (a), (b), and (c) as paragraphs (b), (c), and (d).

B. Adding a new paragraph (a).

C. Amending newly designated paragraph (b)(3) by removing the reference “paragraph (b)” and adding “paragraph (c)” in its place.

D. Amending newly designated paragraph (b)(4) by removing the reference “paragraphs (b)(1), (b)(3), and (b)(4)” and adding “paragraphs (c)(1), (c)(3), and (c)(4)” in their place.

E. Revising newly designated paragraph (d).

§ 415.130 Conditions for payment: Physician pathology services.

(a) Definitions. The following definitions are used in this section.

(1) Covered hospital means, with respect to an inpatient or an outpatient, a hospital that had an arrangement with an independent laboratory that was in effect as of July 22, 1999, under which a laboratory furnished the technical component of physician pathology services to fee-for-service Medicare beneficiaries who were hospital inpatients or outpatients, and submitted claims for payment for this technical component directly to a Medicare carrier.

(2) Fee-for-service Medicare beneficiaries means those beneficiaries who are entitled to benefits under Part A or are enrolled under Part B of Title XVIII of the Act or both and are not enrolled in any of the following:

(i) A Medicare+Choice plan under Part C of Title XVIII of the Act.

(ii) A plan offered by an eligible organization under section 1876 of the Act;

(iii) A program of all-inclusive care for the elderly (PACE) under 1894 of the Act; or

(iv) A social health maintenance organization (SHMO) demonstration project established under section 4018(b) of the Omnibus Budget Reconciliation Act of 1987.

* * * * *

(d) Physician pathology services furnished by an independent laboratory. The technical component of physician pathology services furnished by an independent laboratory to a hospital inpatient or outpatient before January 1, 2001 may be paid to the laboratory on a fee schedule basis. After December 31, 2000 but before January 1, 2003, if an independent laboratory furnishes the technical component of a physician pathology service to a fee-for-service Medicare beneficiary who is an inpatient or outpatient of a covered hospital, the carrier will treat the technical component as a service for which payment will be made to the laboratory under the physician fee schedule. For these two years the service will not be treated as an inpatient hospital service for which payment is made to the hospital under section 1886(d) of the Act or as an outpatient hospital service for which payment is made to the hospital under section 1833(t) of the Act. After December 31, 2002, the technical component for physician pathology services furnished by an independent laboratory to a hospital inpatient or outpatient is paid only to the hospital.

(Catalog of Federal Domestic Assistance Program No. 93.774, Medicare—Supplementary Medical Insurance Program)
Dated: October 22, 2001.
Thomas A. Scully,
Administrator, Centers for Medicare & Medicaid Services.
Approved: October 24, 2001.
Tommy G. Thompson,
Secretary.

Note: These addenda will not appear in the Code of Federal Regulations.

Addendum A—Explanation and Use of Addenda B

The addenda on the following pages provide various data pertaining to the Medicare fee schedule for physicians' services furnished in 2002. Addendum B contains the RVUs for work, non-facility practice expense, facility practice expense, and malpractice expense, and other information for all services included in the physician fee schedule.

Addendum B—2002 Relative Value Units and Related Information Used in Determining Medicare Payments for 2002

This addendum contains the following information for each CPT code and alphanumeric HCPCS code, except for alphanumeric codes beginning with B (enteral and parenteral therapy), E (durable medical equipment), K (temporary codes for nonphysicians' services or items), or L (orthotics), and codes for anesthesiology.

1. CPT/HCPCS code. This is the CPT or alphanumeric HCPCS number for the service. Alphanumeric HCPCS codes are included at the end of this addendum.

2. Modifier. A modifier is shown if there is a technical component (modifier TC) and a professional component (PC) (modifier −26) for the service. If there is a PC and a TC for the service, Addendum B contains three entries for the code: One for the global values (both professional and technical); one for modifier −26 (PC); and one for modifier TC. The global service is not designated by a modifier, and physicians must bill using the code without a modifier if the physician furnishes both the PC and the TC of the service.

Modifier −53 is shown for a discontinued procedure. There will be RVUs for the code (CPT code 45378) with this modifier.

3. Status indicator. This indicator shows whether the CPT/HCPCS code is in the physician fee schedule and whether it is separately payable if the service is covered.

A = Active code. These codes are separately payable under the fee schedule if covered. There will be RVUs for codes with this status. The presence of an “A” indicator does not mean that Medicare has made a national decision regarding the coverage of the service. Carriers remain responsible for coverage decisions in the absence of a national Medicare policy.

B = Bundled code. Payment for covered services is always bundled into payment for other services not specified. If RVUs are shown, they are not used for Medicare payment. If these services are covered, payment for them is subsumed by the payment for the services to which they are incident. (An example is a telephone call from a hospital nurse regarding care of a patient.)

C = Carrier-priced code. Carriers will establish RVUs and payment amounts for these services, generally on a case-by-case basis following review of documentation, such as an operative report.

D = Deleted code. These codes are deleted effective with the beginning of the calendar year.

E = Excluded from physician fee schedule by regulation. These codes are for items or services that we chose to exclude from the physician fee schedule payment by regulation. No RVUs are shown, and no payment may be made under the physician fee schedule for these codes. Payment for them, if they are covered, continues under reasonable charge or other payment procedures.

G = Code not valid for Medicare purposes. Medicare does not recognize codes assigned this status. Medicare uses another code for reporting of, and payment for, these services.

H = Deleted modifier (code used to have modifier of TC and PC).

I = Code not valid for Medicare purposes. Medicare does not recognize codes assigned this status. Medicare uses another code for the reporting of, and payment for, these services. This indicator is treated in the same manner as status indicator “G”. It's use allows for more efficient processing of Medicare claims.

N = Noncovered service. These codes are noncovered services. Medicare payment may not be made for these codes. If RVUs are shown, they are not used for Medicare payment.

P = Bundled or excluded code. There are no RVUs for these services. No separate payment should be made for them under the physician fee schedule.

—If the item or service is covered as incident to a physician's service and is furnished on the same day as a physician's service, payment for it is bundled into the payment for the physician's service to which it is incident (an example is an elastic bandage furnished by a physician incident to a physician's service).

—If the item or service is covered as other than incident to a physician's service, it is excluded from the physician fee schedule (for example, colostomy supplies) and is paid under the other payment provisions of the Act.

R = Restricted coverage. Special coverage instructions apply. If the service is covered and no RVUs are shown, it is carrier-priced.

T = There are RVUs for these services, but they are only paid if there are no other services payable under the physician fee schedule billed on the same date by the same provider. If any other services payable under the physician fee schedule are billed on the same date by the same provider, these services are bundled into the service(s) for which payment is made.

X = Exclusion by law. These codes represent an item or service that is not within the definition of “physicians' services” for physician fee schedule payment purposes. No RVUs are shown for these codes, and no payment may be made under the physician fee schedule. (Examples are ambulance services and clinical diagnostic laboratory services.)

4. Description of code. This is an abbreviated version of the narrative description of the code.

5. Physician work RVUs. These are the RVUs for the physician work for this service in 2000. Codes that are not used for Medicare payment are identified with a “+.”

6. Facility practice expense RVUs. These are the fully implemented resource-based practice expense RVUs for facility settings.

7. Non-facility practice expense RVUs. These are the fully implemented resource-based practice expense RVUs for non-facility settings.

8. Malpractice expense RVUs. These are the RVUs for the malpractice expense for the service for 2000.

9. Facility total. This is the sum of the work, fully implemented facility practice expense, and malpractice expense RVUs.

10. Non-facility total. This is the sum of the work, fully implemented non-facility practice expense, and malpractice expense RVUs.

11. Global period. This indicator shows the number of days in the global period for the code (0, 10, or 90 days). An explanation of the alpha codes follows:

MMM = The code describes a service furnished in uncomplicated maternity cases including antepartum care, delivery, and postpartum care. The usual global surgical concept does not apply. See the 1999 Physicians' Current Procedural Terminology for specific definitions.

XXX = The global concept does not apply.

YYY = The global period is to be set by the carrier (for example, unlisted surgery codes).

ZZZ = The code is part of another service and falls within the global period for the other service.

——————————

¹ CPT codes and descriptions only are copyright 2001 American Medical Association. All Rights Reserved. Applicable FARS/DFARS Apply.

² Copyright 1994 American Dental Association. All rights reserved.

³ +Indicates RVUs are not used for Medicare payment.

Addendum B.—Relative Value Units (RVUs) and Related Information
CPT ¹/HCPCS ² | MOD | Status | Description | Physician work RVUs ³ | Fully implemented non-facility PE RVUs | Fully implemented facility PE RVUs | Mal- practice RVUs | Fully implemented non-facility total | Fully implemented facility total | Global
0001T |  | C | Endovas repr abdo ao aneurys | 0.00 | 0.00 | 0.00 | 0.00 | 0.00 | 0.00 | XXX
0002T |  | C | Endovas repr abdo ao aneurys | 0.00 | 0.00 | 0.00 | 0.00 | 0.00 | 0.00 | XXX
0003T |  | C | Cervicography | 0.00 | 0.00 | 0.00 | 0.00 | 0.00 | 0.00 | XXX
0005T |  | C | Perc cath stent/brain cv art | 0.00 | 0.00 | 0.00 | 0.00 | 0.00 | 0.00 | XXX
0006T |  | C | Perc cath stent/brain cv art | 0.00 | 0.00 | 0.00 | 0.00 | 0.00 | 0.00 | XXX
0007T |  | C | Perc cath stent/brain cv art | 0.00 | 0.00 | 0.00 | 0.00 | 0.00 | 0.00 | XXX
0008T |  | C | Upper gi endoscopy w/suture | 0.00 | 0.00 | 0.00 | 0.00 | 0.00 | 0.00 | XXX
0009T |  | C | Endometrial cryoablation | 0.00 | 0.00 | 0.00 | 0.00 | 0.00 | 0.00 | XXX
0010T |  | C | Tb test, gamma interferon | 0.00 | 0.00 | 0.00 | 0.00 | 0.00 | 0.00 | XXX
0012T |  | C | Osteochondral knee autograft | 0.00 | 0.00 | 0.00 | 0.00 | 0.00 | 0.00 | XXX
0013T |  | C | Osteochondral knee allograft | 0.00 | 0.00 | 0.00 | 0.00 | 0.00 | 0.00 | XXX
0014T |  | C | Meniscal transplant, knee | 0.00 | 0.00 | 0.00 | 0.00 | 0.00 | 0.00 | XXX
0016T |  | C | Thermotx choroid vasc lesion | 0.00 | 0.00 | 0.00 | 0.00 | 0.00 | 0.00 | XXX
0017T |  | C | Photocoagulat macular drusen | 0.00 | 0.00 | 0.00 | 0.00 | 0.00 | 0.00 | XXX
0018T |  | C | Transcranial magnetic stimul | 0.00 | 0.00 | 0.00 | 0.00 | 0.00 | 0.00 | XXX
0019T |  | C | Extracorp shock wave tx, ms | 0.00 | 0.00 | 0.00 | 0.00 | 0.00 | 0.00 | XXX
0020T |  | C | Extracorp shock wave tx, ft | 0.00 | 0.00 | 0.00 | 0.00 | 0.00 | 0.00 | XXX
0021T |  | C | Fetal oximetry, trnsvag/cerv | 0.00 | 0.00 | 0.00 | 0.00 | 0.00 | 0.00 | XXX
0023T |  | C | Phenotype drug test, hiv 1 | 0.00 | 0.00 | 0.00 | 0.00 | 0.00 | 0.00 | XXX
0024T |  | C | Transcath cardiac reduction | 0.00 | 0.00 | 0.00 | 0.00 | 0.00 | 0.00 | XXX
0025T |  | C | Ultrasonic pachymetry | 0.00 | 0.00 | 0.00 | 0.00 | 0.00 | 0.00 | XXX
0026T |  | C | Measure remnant lipoproteins | 0.00 | 0.00 | 0.00 | 0.00 | 0.00 | 0.00 | XXX
10021 |  | A | Fna w/o image | 1.27 | 1.02 | NA | 0.10 | 2.39 | NA | XXX
10021 | 26 | A | Fna w/o image | 1.27 | 0.55 | 0.55 | 0.07 | 1.89 | 1.89 | XXX
10021 | TC | A | Fna w/o image | 0.00 | 0.47 | NA | 0.03 | 0.50 | NA | XXX
10022 |  | A | Fna w/image | 1.27 | 1.11 | NA | 0.08 | 2.46 | NA | XXX
10022 | 26 | A | Fna w/image | 1.27 | 0.48 | 0.48 | 0.05 | 1.80 | 1.80 | XXX
10022 | TC | A | Fna w/image | 0.00 | 0.63 | NA | 0.03 | 0.66 | NA | XXX
10040 |  | A | Acne surgery | 1.18 | 1.00 | 0.54 | 0.05 | 2.23 | 1.77 | 010
10060 |  | A | Drainage of skin abscess | 1.17 | 1.51 | 0.70 | 0.08 | 2.76 | 1.95 | 010
10061 |  | A | Drainage of skin abscess | 2.40 | 1.88 | 1.48 | 0.17 | 4.45 | 4.05 | 010
10080 |  | A | Drainage of pilonidal cyst | 1.17 | 2.18 | 0.75 | 0.09 | 3.44 | 2.01 | 010
10081 |  | A | Drainage of pilonidal cyst | 2.45 | 3.02 | 1.61 | 0.19 | 5.66 | 4.25 | 010
10120 |  | A | Remove foreign body | 1.22 | 1.52 | 0.36 | 0.10 | 2.84 | 1.68 | 010
10121 |  | A | Remove foreign body | 2.69 | 2.99 | 1.83 | 0.25 | 5.93 | 4.77 | 010
10140 |  | A | Drainage of hematoma/fluid | 1.53 | 1.54 | 0.90 | 0.15 | 3.22 | 2.58 | 010
10160 |  | A | Puncture drainage of lesion | 1.20 | 0.74 | 0.43 | 0.11 | 2.05 | 1.74 | 010
10180 |  | A | Complex drainage, wound | 2.25 | 1.51 | 1.33 | 0.25 | 4.01 | 3.83 | 010
11000 |  | A | Debride infected skin | 0.60 | 0.66 | 0.24 | 0.05 | 1.31 | 0.89 | 000
11001 |  | A | Debride infected skin add-on | 0.30 | 0.37 | 0.11 | 0.02 | 0.69 | 0.43 | ZZZ
11010 |  | A | Debride skin, fx | 4.20 | 2.53 | 2.10 | 0.45 | 7.18 | 6.75 | 010
11011 |  | A | Debride skin/muscle, fx | 4.95 | 3.90 | 2.69 | 0.53 | 9.38 | 8.17 | 000
11012 |  | A | Debride skin/muscle/bone, fx | 6.88 | 5.52 | 4.35 | 0.89 | 13.29 | 12.12 | 000
11040 |  | A | Debride skin, partial | 0.50 | 0.55 | 0.22 | 0.05 | 1.10 | 0.77 | 000
11041 |  | A | Debride skin, full | 0.82 | 0.69 | 0.34 | 0.08 | 1.59 | 1.24 | 000
11042 |  | A | Debride skin/tissue | 1.12 | 1.04 | 0.47 | 0.11 | 2.27 | 1.70 | 000
11043 |  | A | Debride tissue/muscle | 2.38 | 2.72 | 1.42 | 0.24 | 5.34 | 4.04 | 010
11044 |  | A | Debride tissue/muscle/bone | 3.06 | 3.30 | 1.86 | 0.34 | 6.70 | 5.26 | 010
11055 |  | R | Trim skin lesion | 0.43 | 0.52 | 0.19 | 0.02 | 0.97 | 0.64 | 000
11056 |  | R | Trim skin lesions, 2 to 4 | 0.61 | 0.59 | 0.26 | 0.03 | 1.23 | 0.90 | 000
11057 |  | R | Trim skin lesions, over 4 | 0.79 | 0.66 | 0.34 | 0.04 | 1.49 | 1.17 | 000
11100 |  | A | Biopsy of skin lesion | 0.81 | 1.49 | 0.38 | 0.04 | 2.34 | 1.23 | 000
11101 |  | A | Biopsy, skin add-on | 0.41 | 0.71 | 0.20 | 0.02 | 1.14 | 0.63 | ZZZ
11200 |  | A | Removal of skin tags | 0.77 | 1.20 | 0.32 | 0.04 | 2.01 | 1.13 | 010
11201 |  | A | Remove skin tags add-on | 0.29 | 0.53 | 0.12 | 0.02 | 0.84 | 0.43 | ZZZ
11300 |  | A | Shave skin lesion | 0.51 | 1.05 | 0.22 | 0.03 | 1.59 | 0.76 | 000
11301 |  | A | Shave skin lesion | 0.85 | 1.12 | 0.39 | 0.04 | 2.01 | 1.28 | 000
11302 |  | A | Shave skin lesion | 1.05 | 1.21 | 0.49 | 0.05 | 2.31 | 1.59 | 000
11303 |  | A | Shave skin lesion | 1.24 | 1.36 | 0.55 | 0.06 | 2.66 | 1.85 | 000
11305 |  | A | Shave skin lesion | 0.67 | 0.77 | 0.29 | 0.04 | 1.48 | 1.00 | 000
11306 |  | A | Shave skin lesion | 0.99 | 1.02 | 0.44 | 0.05 | 2.06 | 1.48 | 000
11307 |  | A | Shave skin lesion | 1.14 | 1.15 | 0.51 | 0.05 | 2.34 | 1.70 | 000
11308 |  | A | Shave skin lesion | 1.41 | 1.29 | 0.62 | 0.07 | 2.77 | 2.10 | 000
11310 |  | A | Shave skin lesion | 0.73 | 1.15 | 0.34 | 0.04 | 1.92 | 1.11 | 000
11311 |  | A | Shave skin lesion | 1.05 | 1.24 | 0.51 | 0.05 | 2.34 | 1.61 | 000
11312 |  | A | Shave skin lesion | 1.20 | 1.32 | 0.58 | 0.06 | 2.58 | 1.84 | 000
11313 |  | A | Shave skin lesion | 1.62 | 1.63 | 0.74 | 0.09 | 3.34 | 2.45 | 000
11400 |  | A | Removal of skin lesion | 0.91 | 1.68 | 0.36 | 0.06 | 2.65 | 1.33 | 010
11401 |  | A | Removal of skin lesion | 1.32 | 1.83 | 0.53 | 0.09 | 3.24 | 1.94 | 010
11402 |  | A | Removal of skin lesion | 1.61 | 2.61 | 0.98 | 0.12 | 4.34 | 2.71 | 010
11403 |  | A | Removal of skin lesion | 1.92 | 2.84 | 1.12 | 0.16 | 4.92 | 3.20 | 010
11404 |  | A | Removal of skin lesion | 2.20 | 3.02 | 1.19 | 0.18 | 5.40 | 3.57 | 010
11406 |  | A | Removal of skin lesion | 2.76 | 3.33 | 1.41 | 0.25 | 6.34 | 4.42 | 010
11420 |  | A | Removal of skin lesion | 1.06 | 1.52 | 0.44 | 0.08 | 2.66 | 1.58 | 010
11421 |  | A | Removal of skin lesion | 1.53 | 1.84 | 0.64 | 0.11 | 3.48 | 2.28 | 010
11422 |  | A | Removal of skin lesion | 1.76 | 2.60 | 1.08 | 0.14 | 4.50 | 2.98 | 010
11423 |  | A | Removal of skin lesion | 2.17 | 3.02 | 1.26 | 0.17 | 5.36 | 3.60 | 010
11424 |  | A | Removal of skin lesion | 2.62 | 3.20 | 1.43 | 0.21 | 6.03 | 4.26 | 010
11426 |  | A | Removal of skin lesion | 3.78 | 3.81 | 1.89 | 0.34 | 7.93 | 6.01 | 010
11440 |  | A | Removal of skin lesion | 1.15 | 2.26 | 0.53 | 0.08 | 3.49 | 1.76 | 010
11441 |  | A | Removal of skin lesion | 1.61 | 2.48 | 0.74 | 0.11 | 4.20 | 2.46 | 010
11442 |  | A | Removal of skin lesion | 1.87 | 2.91 | 1.30 | 0.14 | 4.92 | 3.31 | 010
11443 |  | A | Removal of skin lesion | 2.49 | 3.41 | 1.64 | 0.18 | 6.08 | 4.31 | 010
11444 |  | A | Removal of skin lesion | 3.42 | 3.92 | 2.08 | 0.25 | 7.59 | 5.75 | 010
11446 |  | A | Removal of skin lesion | 4.49 | 4.37 | 2.58 | 0.30 | 9.16 | 7.37 | 010
11450 |  | A | Removal, sweat gland lesion | 2.73 | 4.20 | 1.03 | 0.26 | 7.19 | 4.02 | 090
11451 |  | A | Removal, sweat gland lesion | 3.95 | 5.23 | 1.33 | 0.39 | 9.57 | 5.67 | 090
11462 |  | A | Removal, sweat gland lesion | 2.51 | 4.32 | 0.98 | 0.23 | 7.06 | 3.72 | 090
11463 |  | A | Removal, sweat gland lesion | 3.95 | 5.67 | 1.67 | 0.40 | 10.02 | 6.02 | 090
11470 |  | A | Removal, sweat gland lesion | 3.25 | 4.97 | 1.26 | 0.30 | 8.52 | 4.81 | 090
11471 |  | A | Removal, sweat gland lesion | 4.41 | 5.54 | 1.74 | 0.40 | 10.35 | 6.55 | 090
11600 |  | A | Removal of skin lesion | 1.41 | 2.48 | 1.08 | 0.09 | 3.98 | 2.58 | 010
11601 |  | A | Removal of skin lesion | 1.93 | 2.52 | 1.36 | 0.12 | 4.57 | 3.41 | 010
11602 |  | A | Removal of skin lesion | 2.09 | 2.66 | 1.40 | 0.13 | 4.88 | 3.62 | 010
11603 |  | A | Removal of skin lesion | 2.35 | 2.93 | 1.49 | 0.16 | 5.44 | 4.00 | 010
11604 |  | A | Removal of skin lesion | 2.58 | 3.27 | 1.56 | 0.18 | 6.03 | 4.32 | 010
11606 |  | A | Removal of skin lesion | 3.43 | 3.88 | 1.85 | 0.28 | 7.59 | 5.56 | 010
11620 |  | A | Removal of skin lesion | 1.34 | 2.47 | 1.09 | 0.09 | 3.90 | 2.52 | 010
11621 |  | A | Removal of skin lesion | 1.97 | 2.56 | 1.41 | 0.12 | 4.65 | 3.50 | 010
11622 |  | A | Removal of skin lesion | 2.34 | 2.87 | 1.60 | 0.15 | 5.36 | 4.09 | 010
11623 |  | A | Removal of skin lesion | 2.93 | 3.30 | 1.86 | 0.20 | 6.43 | 4.99 | 010
11624 |  | A | Removal of skin lesion | 3.43 | 3.72 | 2.08 | 0.25 | 7.40 | 5.76 | 010
11626 |  | A | Removal of skin lesion | 4.30 | 4.48 | 2.57 | 0.35 | 9.13 | 7.22 | 010
11640 |  | A | Removal of skin lesion | 1.53 | 2.51 | 1.29 | 0.10 | 4.14 | 2.92 | 010
11641 |  | A | Removal of skin lesion | 2.44 | 2.94 | 1.78 | 0.15 | 5.53 | 4.37 | 010
11642 |  | A | Removal of skin lesion | 2.93 | 3.37 | 2.03 | 0.18 | 6.48 | 5.14 | 010
11643 |  | A | Removal of skin lesion | 3.50 | 3.83 | 2.32 | 0.24 | 7.57 | 6.06 | 010
11644 |  | A | Removal of skin lesion | 4.55 | 4.81 | 2.95 | 0.33 | 9.69 | 7.83 | 010
11646 |  | A | Removal of skin lesion | 5.95 | 5.68 | 3.77 | 0.46 | 12.09 | 10.18 | 010
11719 |  | R | Trim nail(s) | 0.17 | 0.25 | 0.07 | 0.01 | 0.43 | 0.25 | 000
11720 |  | A | Debride nail, 1-5 | 0.32 | 0.34 | 0.13 | 0.02 | 0.68 | 0.47 | 000
11721 |  | A | Debride nail, 6 or more | 0.54 | 0.44 | 0.22 | 0.04 | 1.02 | 0.80 | 000
11730 |  | A | Removal of nail plate | 1.13 | 0.83 | 0.46 | 0.09 | 2.05 | 1.68 | 000
11732 |  | A | Remove nail plate, add-on | 0.57 | 0.30 | 0.24 | 0.05 | 0.92 | 0.86 | ZZZ
11740 |  | A | Drain blood from under nail | 0.37 | 0.81 | 0.14 | 0.03 | 1.21 | 0.54 | 000
11750 |  | A | Removal of nail bed | 1.86 | 1.75 | 0.78 | 0.16 | 3.77 | 2.80 | 010
11752 |  | A | Remove nail bed/finger tip | 2.67 | 2.20 | 1.77 | 0.33 | 5.20 | 4.77 | 010
11755 |  | A | Biopsy, nail unit | 1.31 | 1.10 | 0.60 | 0.06 | 2.47 | 1.97 | 000
11760 |  | A | Repair of nail bed | 1.58 | 1.80 | 1.28 | 0.17 | 3.55 | 3.03 | 010
11762 |  | A | Reconstruction of nail bed | 2.89 | 2.28 | 1.95 | 0.32 | 5.49 | 5.16 | 010
11765 |  | A | Excision of nail fold, toe | 0.69 | 1.14 | 0.51 | 0.05 | 1.88 | 1.25 | 010
11770 |  | A | Removal of pilonidal lesion | 2.61 | 3.11 | 1.26 | 0.24 | 5.96 | 4.11 | 010
11771 |  | A | Removal of pilonidal lesion | 5.74 | 5.80 | 4.01 | 0.56 | 12.10 | 10.31 | 090
11772 |  | A | Removal of pilonidal lesion | 6.98 | 6.95 | 4.44 | 0.68 | 14.61 | 12.10 | 090
11900 |  | A | Injection into skin lesions | 0.52 | 0.77 | 0.23 | 0.02 | 1.31 | 0.77 | 000
11901 |  | A | Added skin lesions injection | 0.80 | 0.89 | 0.38 | 0.03 | 1.72 | 1.21 | 000
11920 |  | R | Correct skin color defects | 1.61 | 2.25 | 0.81 | 0.17 | 4.03 | 2.59 | 000
11921 |  | R | Correct skin color defects | 1.93 | 2.78 | 1.02 | 0.21 | 4.92 | 3.16 | 000
11922 |  | R | Correct skin color defects | 0.49 | 0.40 | 0.26 | 0.05 | 0.94 | 0.80 | ZZZ
11950 |  | R | Therapy for contour defects | 0.84 | 1.23 | 0.47 | 0.06 | 2.13 | 1.37 | 000
11951 |  | R | Therapy for contour defects | 1.19 | 1.47 | 0.49 | 0.10 | 2.76 | 1.78 | 000
11952 |  | R | Therapy for contour defects | 1.69 | 1.65 | 0.64 | 0.17 | 3.51 | 2.50 | 000
11954 |  | R | Therapy for contour defects | 1.85 | 2.62 | 0.97 | 0.19 | 4.66 | 3.01 | 000
11960 |  | A | Insert tissue expander(s) | 9.08 | NA | 11.54 | 0.88 | NA | 21.50 | 090
11970 |  | A | Replace tissue expander | 7.06 | NA | 5.15 | 0.77 | NA | 12.98 | 090
11971 |  | A | Remove tissue expander(s) | 2.13 | 6.10 | 4.07 | 0.21 | 8.44 | 6.41 | 090
11975 |  | N | Insert contraceptive cap | +1.48 | 1.58 | 0.59 | 0.14 | 3.20 | 2.21 | XXX
11976 |  | R | Removal of contraceptive cap | 1.78 | 1.72 | 0.69 | 0.17 | 3.67 | 2.64 | 000
11977 |  | N | Removal/reinsert contra cap | +3.30 | 2.31 | 1.32 | 0.31 | 5.92 | 4.93 | XXX
11980 |  | A | Implant hormone pellet(s) | 1.48 | 1.14 | 0.58 | 0.10 | 2.72 | 2.16 | 000
11981 |  | A | Insert drug implant device | 1.48 | 1.58 | 0.59 | 0.14 | 3.20 | 2.21 | XXX
11982 |  | A | Remove drug implant device | 1.78 | 1.70 | 0.71 | 0.17 | 3.65 | 2.66 | XXX
11983 |  | A | Remove/insert drug implant | 3.30 | 2.31 | 1.32 | 0.31 | 5.92 | 4.93 | XXX
12001 |  | A | Repair superficial wound(s) | 1.70 | 2.13 | 0.44 | 0.13 | 3.96 | 2.27 | 010
12002 |  | A | Repair superficial wound(s) | 1.86 | 2.21 | 0.95 | 0.15 | 4.22 | 2.96 | 010
12004 |  | A | Repair superficial wound(s) | 2.24 | 2.47 | 1.07 | 0.17 | 4.88 | 3.48 | 010
12005 |  | A | Repair superficial wound(s) | 2.86 | 3.04 | 1.25 | 0.23 | 6.13 | 4.34 | 010
12006 |  | A | Repair superficial wound(s) | 3.67 | 3.59 | 1.59 | 0.31 | 7.57 | 5.57 | 010
12007 |  | A | Repair superficial wound(s) | 4.12 | 4.26 | 1.85 | 0.37 | 8.75 | 6.34 | 010
12011 |  | A | Repair superficial wound(s) | 1.76 | 2.30 | 0.45 | 0.14 | 4.20 | 2.35 | 010
12013 |  | A | Repair superficial wound(s) | 1.99 | 2.45 | 0.99 | 0.16 | 4.60 | 3.14 | 010
12014 |  | A | Repair superficial wound(s) | 2.46 | 2.72 | 1.11 | 0.18 | 5.36 | 3.75 | 010
12015 |  | A | Repair superficial wound(s) | 3.19 | 3.38 | 1.31 | 0.24 | 6.81 | 4.74 | 010
12016 |  | A | Repair superficial wound(s) | 3.93 | 3.89 | 1.58 | 0.32 | 8.14 | 5.83 | 010
12017 |  | A | Repair superficial wound(s) | 4.71 | NA | 1.93 | 0.39 | NA | 7.03 | 010
12018 |  | A | Repair superficial wound(s) | 5.53 | NA | 2.18 | 0.46 | NA | 8.17 | 010
12020 |  | A | Closure of split wound | 2.62 | 2.51 | 1.44 | 0.24 | 5.37 | 4.30 | 010
12021 |  | A | Closure of split wound | 1.84 | 1.65 | 1.02 | 0.19 | 3.68 | 3.05 | 010
12031 |  | A | Layer closure of wound(s) | 2.15 | 2.21 | 0.81 | 0.15 | 4.51 | 3.11 | 010
12032 |  | A | Layer closure of wound(s) | 2.47 | 2.84 | 1.36 | 0.15 | 5.46 | 3.98 | 010
12034 |  | A | Layer closure of wound(s) | 2.92 | 3.12 | 1.51 | 0.21 | 6.25 | 4.64 | 010
12035 |  | A | Layer closure of wound(s) | 3.43 | 3.20 | 1.73 | 0.30 | 6.93 | 5.46 | 010
12036 |  | A | Layer closure of wound(s) | 4.05 | 5.33 | 2.50 | 0.41 | 9.79 | 6.96 | 010
12037 |  | A | Layer closure of wound(s) | 4.67 | 5.57 | 2.86 | 0.49 | 10.73 | 8.02 | 010
12041 |  | A | Layer closure of wound(s) | 2.37 | 2.41 | 0.87 | 0.17 | 4.95 | 3.41 | 010
12042 |  | A | Layer closure of wound(s) | 2.74 | 3.03 | 1.49 | 0.17 | 5.94 | 4.40 | 010
12044 |  | A | Layer closure of wound(s) | 3.14 | 3.22 | 1.67 | 0.24 | 6.60 | 5.05 | 010
12045 |  | A | Layer closure of wound(s) | 3.64 | 3.54 | 1.93 | 0.34 | 7.52 | 5.91 | 010
12046 |  | A | Layer closure of wound(s) | 4.25 | 6.24 | 2.62 | 0.40 | 10.89 | 7.27 | 010
12047 |  | A | Layer closure of wound(s) | 4.65 | 7.21 | 2.86 | 0.41 | 12.27 | 7.92 | 010
12051 |  | A | Layer closure of wound(s) | 2.47 | 3.11 | 1.49 | 0.16 | 5.74 | 4.12 | 010
12052 |  | A | Layer closure of wound(s) | 2.77 | 3.00 | 1.47 | 0.17 | 5.94 | 4.41 | 010
12053 |  | A | Layer closure of wound(s) | 3.12 | 3.20 | 1.63 | 0.20 | 6.52 | 4.95 | 010
12054 |  | A | Layer closure of wound(s) | 3.46 | 3.52 | 1.72 | 0.25 | 7.23 | 5.43 | 010
12055 |  | A | Layer closure of wound(s) | 4.43 | 4.49 | 2.27 | 0.35 | 9.27 | 7.05 | 010
12056 |  | A | Layer closure of wound(s) | 5.24 | 7.31 | 3.26 | 0.43 | 12.98 | 8.93 | 010
12057 |  | A | Layer closure of wound(s) | 5.96 | 6.31 | 3.66 | 0.50 | 12.77 | 10.12 | 010
13100 |  | A | Repair of wound or lesion | 3.12 | 3.39 | 1.93 | 0.21 | 6.72 | 5.26 | 010
13101 |  | A | Repair of wound or lesion | 3.92 | 3.59 | 2.39 | 0.22 | 7.73 | 6.53 | 010
13102 |  | A | Repair wound/lesion add-on | 1.24 | 0.75 | 0.60 | 0.10 | 2.09 | 1.94 | ZZZ
13120 |  | A | Repair of wound or lesion | 3.30 | 3.48 | 1.95 | 0.23 | 7.01 | 5.48 | 010
13121 |  | A | Repair of wound or lesion | 4.33 | 3.84 | 2.52 | 0.25 | 8.42 | 7.10 | 010
13122 |  | A | Repair wound/lesion add-on | 1.44 | 0.89 | 0.67 | 0.12 | 2.45 | 2.23 | ZZZ
13131 |  | A | Repair of wound or lesion | 3.79 | 3.75 | 2.30 | 0.25 | 7.79 | 6.34 | 010
13132 |  | A | Repair of wound or lesion | 5.95 | 4.57 | 3.38 | 0.32 | 10.84 | 9.65 | 010
13133 |  | A | Repair wound/lesion add-on | 2.19 | 1.23 | 1.08 | 0.17 | 3.59 | 3.44 | ZZZ
13150 |  | A | Repair of wound or lesion | 3.81 | 5.19 | 2.75 | 0.29 | 9.29 | 6.85 | 010
13151 |  | A | Repair of wound or lesion | 4.45 | 5.07 | 3.19 | 0.28 | 9.80 | 7.92 | 010
13152 |  | A | Repair of wound or lesion | 6.33 | 5.78 | 4.14 | 0.38 | 12.49 | 10.85 | 010
13153 |  | A | Repair wound/lesion add-on | 2.38 | 1.38 | 1.20 | 0.18 | 3.94 | 3.76 | ZZZ
13160 |  | A | Late closure of wound | 10.48 | NA | 6.47 | 1.19 | NA | 18.14 | 090
14000 |  | A | Skin tissue rearrangement | 5.89 | 7.58 | 4.83 | 0.46 | 13.93 | 11.18 | 090
14001 |  | A | Skin tissue rearrangement | 8.47 | 8.72 | 6.18 | 0.65 | 17.84 | 15.30 | 090
14020 |  | A | Skin tissue rearrangement | 6.59 | 8.05 | 5.56 | 0.50 | 15.14 | 12.65 | 090
14021 |  | A | Skin tissue rearrangement | 10.06 | 9.29 | 7.38 | 0.69 | 20.04 | 18.13 | 090
14040 |  | A | Skin tissue rearrangement | 7.87 | 8.19 | 6.27 | 0.53 | 16.59 | 14.67 | 090
14041 |  | A | Skin tissue rearrangement | 11.49 | 9.90 | 8.17 | 0.68 | 22.07 | 20.34 | 090
14060 |  | A | Skin tissue rearrangement | 8.50 | 8.64 | 7.13 | 0.59 | 17.73 | 16.22 | 090
14061 |  | A | Skin tissue rearrangement | 12.29 | 10.85 | 9.08 | 0.75 | 23.89 | 22.12 | 090
14300 |  | A | Skin tissue rearrangement | 11.76 | 10.11 | 8.68 | 0.88 | 22.75 | 21.32 | 090
14350 |  | A | Skin tissue rearrangement | 9.61 | NA | 6.48 | 1.09 | NA | 17.18 | 090
15000 |  | A | Skin graft | 4.00 | 2.51 | 1.91 | 0.37 | 6.88 | 6.28 | 000
15001 |  | A | Skin graft add-on | 1.00 | 0.64 | 0.43 | 0.11 | 1.75 | 1.54 | ZZZ
15050 |  | A | Skin pinch graft | 4.30 | 4.98 | 4.12 | 0.46 | 9.74 | 8.88 | 090
15100 |  | A | Skin split graft | 9.05 | 6.27 | 6.26 | 0.94 | 16.26 | 16.25 | 090
15101 |  | A | Skin split graft add-on | 1.72 | 1.40 | 0.76 | 0.18 | 3.30 | 2.66 | ZZZ
15120 |  | A | Skin split graft | 9.83 | 8.62 | 6.97 | 0.87 | 19.32 | 17.67 | 090
15121 |  | A | Skin split graft add-on | 2.67 | 1.83 | 1.23 | 0.27 | 4.77 | 4.17 | ZZZ
15200 |  | A | Skin full graft | 8.03 | 9.90 | 5.64 | 0.73 | 18.66 | 14.40 | 090
15201 |  | A | Skin full graft add-on | 1.32 | 1.00 | 0.68 | 0.14 | 2.46 | 2.14 | ZZZ
15220 |  | A | Skin full graft | 7.87 | 9.38 | 6.47 | 0.68 | 17.93 | 15.02 | 090
15221 |  | A | Skin full graft add-on | 1.19 | 0.92 | 0.60 | 0.12 | 2.23 | 1.91 | ZZZ
15240 |  | A | Skin full graft | 9.04 | 9.01 | 7.27 | 0.77 | 18.82 | 17.08 | 090
15241 |  | A | Skin full graft add-on | 1.86 | 1.47 | 0.95 | 0.17 | 3.50 | 2.98 | ZZZ
15260 |  | A | Skin full graft | 10.06 | 9.01 | 7.74 | 0.63 | 19.70 | 18.43 | 090
15261 |  | A | Skin full graft add-on | 2.23 | 1.59 | 1.16 | 0.17 | 3.99 | 3.56 | ZZZ
15342 |  | A | Cultured skin graft, 25 cm | 1.00 | 2.18 | 1.04 | 0.09 | 3.27 | 2.13 | 010
15343 |  | A | Cultured skin graft addl 25 cm | 0.25 | 0.42 | 0.10 | 0.02 | 0.69 | 0.37 | ZZZ
15350 |  | A | Skin homograft | 4.00 | 7.78 | 4.23 | 0.42 | 12.20 | 8.65 | 090
15351 |  | A | Skin homograft add-on | 1.00 | 0.85 | 0.42 | 0.11 | 1.96 | 1.53 | ZZZ
15400 |  | A | Skin heterograft | 4.00 | 4.89 | 4.89 | 0.40 | 9.29 | 9.29 | 090
15401 |  | A | Skin heterograft add-on | 1.00 | 1.59 | 0.47 | 0.11 | 2.70 | 1.58 | ZZZ
15570 |  | A | Form skin pedicle flap | 9.21 | 7.80 | 6.37 | 0.96 | 17.97 | 16.54 | 090
15572 |  | A | Form skin pedicle flap | 9.27 | 8.08 | 6.34 | 0.93 | 18.28 | 16.54 | 090
15574 |  | A | Form skin pedicle flap | 9.88 | 8.61 | 7.14 | 0.92 | 19.41 | 17.94 | 090
15576 |  | A | Form skin pedicle flap | 8.69 | 8.89 | 6.55 | 0.72 | 18.30 | 15.96 | 090
15600 |  | A | Skin graft | 1.91 | 6.66 | 2.51 | 0.19 | 8.76 | 4.61 | 090
15610 |  | A | Skin graft | 2.42 | 5.90 | 2.67 | 0.25 | 8.57 | 5.34 | 090
15620 |  | A | Skin graft | 2.94 | 7.04 | 3.54 | 0.28 | 10.26 | 6.76 | 090
15630 |  | A | Skin graft | 3.27 | 6.09 | 3.83 | 0.28 | 9.64 | 7.38 | 090
15650 |  | A | Transfer skin pedicle flap | 3.97 | 5.69 | 3.99 | 0.36 | 10.02 | 8.32 | 090
15732 |  | A | Muscle-skin graft, head/neck | 17.84 | NA | 11.63 | 1.50 | NA | 30.97 | 090
15734 |  | A | Muscle-skin graft, trunk | 17.79 | NA | 11.49 | 1.91 | NA | 31.19 | 090
15736 |  | A | Muscle-skin graft, arm | 16.27 | NA | 11.14 | 1.78 | NA | 29.19 | 090
15738 |  | A | Muscle-skin graft, leg | 17.92 | NA | 11.47 | 1.95 | NA | 31.34 | 090
15740 |  | A | Island pedicle flap graft | 10.25 | 8.74 | 7.20 | 0.62 | 19.61 | 18.07 | 090
15750 |  | A | Neurovascular pedicle graft | 11.41 | NA | 8.45 | 1.12 | NA | 20.98 | 090
15756 |  | A | Free muscle flap, microvasc | 35.23 | NA | 22.50 | 3.11 | NA | 60.84 | 090
15757 |  | A | Free skin flap, microvasc | 35.23 | NA | 22.54 | 3.37 | NA | 61.14 | 090
15758 |  | A | Free fascial flap, microvasc | 35.10 | NA | 22.75 | 3.52 | NA | 61.37 | 090
15760 |  | A | Composite skin graft | 8.74 | 9.27 | 6.93 | 0.72 | 18.73 | 16.39 | 090
15770 |  | A | Derma-fat-fascia graft | 7.52 | NA | 6.14 | 0.78 | NA | 14.44 | 090
15775 |  | R | Hair transplant punch grafts | 3.96 | 3.12 | 1.60 | 0.43 | 7.51 | 5.99 | 000
15776 |  | R | Hair transplant punch grafts | 5.54 | 3.97 | 2.97 | 0.60 | 10.11 | 9.11 | 000
15780 |  | A | Abrasion treatment of skin | 7.29 | 6.41 | 6.13 | 0.41 | 14.11 | 13.83 | 090
15781 |  | A | Abrasion treatment of skin | 4.85 | 5.17 | 4.83 | 0.27 | 10.29 | 9.95 | 090
15782 |  | A | Abrasion treatment of skin | 4.32 | 4.37 | 4.09 | 0.21 | 8.90 | 8.62 | 090
15783 |  | A | Abrasion treatment of skin | 4.29 | 5.02 | 3.51 | 0.26 | 9.57 | 8.06 | 090
15786 |  | A | Abrasion, lesion, single | 2.03 | 1.73 | 1.29 | 0.11 | 3.87 | 3.43 | 010
15787 |  | A | Abrasion, lesions, add-on | 0.33 | 0.39 | 0.18 | 0.02 | 0.74 | 0.53 | ZZZ
15788 |  | R | Chemical peel, face, epiderm | 2.09 | 3.15 | 1.07 | 0.11 | 5.35 | 3.27 | 090
15789 |  | R | Chemical peel, face, dermal | 4.92 | 5.65 | 3.32 | 0.27 | 10.84 | 8.51 | 090
15792 |  | R | Chemical peel, nonfacial | 1.86 | 2.87 | 1.63 | 0.10 | 4.83 | 3.59 | 090
15793 |  | A | Chemical peel, nonfacial | 3.74 | NA | 3.81 | 0.17 | NA | 7.72 | 090
15810 |  | A | Salabrasion | 4.74 | 4.04 | 4.04 | 0.42 | 9.20 | 9.20 | 090
15811 |  | A | Salabrasion | 5.39 | 5.85 | 5.06 | 0.52 | 11.76 | 10.97 | 090
15819 |  | A | Plastic surgery, neck | 9.38 | NA | 6.24 | 0.77 | NA | 16.39 | 090
15820 |  | A | Revision of lower eyelid | 5.15 | 10.34 | 7.13 | 0.30 | 15.79 | 12.58 | 090
15821 |  | A | Revision of lower eyelid | 5.72 | 11.87 | 7.34 | 0.31 | 17.90 | 13.37 | 090
15822 |  | A | Revision of upper eyelid | 4.45 | 10.58 | 6.58 | 0.22 | 15.25 | 11.25 | 090
15823 |  | A | Revision of upper eyelid | 7.05 | 11.38 | 7.60 | 0.32 | 18.75 | 14.97 | 090
15824 |  | R | Removal of forehead wrinkles | 0.00 | 0.00 | 0.00 | 0.00 | 0.00 | 0.00 | 000
15825 |  | R | Removal of neck wrinkles | 0.00 | 0.00 | 0.00 | 0.00 | 0.00 | 0.00 | 000
15826 |  | R | Removal of brow wrinkles | 0.00 | 0.00 | 0.00 | 0.00 | 0.00 | 0.00 | 000
15828 |  | R | Removal of face wrinkles | 0.00 | 0.00 | 0.00 | 0.00 | 0.00 | 0.00 | 000
15829 |  | R | Removal of skin wrinkles | 0.00 | 0.00 | 0.00 | 0.00 | 0.00 | 0.00 | 000
15831 |  | A | Excise excessive skin tissue | 12.40 | NA | 8.14 | 1.30 | NA | 21.84 | 090
15832 |  | A | Excise excessive skin tissue | 11.59 | NA | 8.04 | 1.21 | NA | 20.84 | 090
15833 |  | A | Excise excessive skin tissue | 10.64 | NA | 7.34 | 1.17 | NA | 19.15 | 090
15834 |  | A | Excise excessive skin tissue | 10.85 | NA | 7.59 | 1.18 | NA | 19.62 | 090
15835 |  | A | Excise excessive skin tissue | 11.67 | NA | 7.94 | 1.13 | NA | 20.74 | 090
15836 |  | A | Excise excessive skin tissue | 9.34 | NA | 6.51 | 0.95 | NA | 16.80 | 090
15837 |  | A | Excise excessive skin tissue | 8.43 | 7.30 | 6.38 | 0.78 | 16.51 | 15.59 | 090
15838 |  | A | Excise excessive skin tissue | 7.13 | NA | 5.70 | 0.58 | NA | 13.41 | 090
15839 |  | A | Excise excessive skin tissue | 9.38 | 7.64 | 5.97 | 0.88 | 17.90 | 16.23 | 090
15840 |  | A | Graft for face nerve palsy | 13.26 | NA | 10.10 | 1.15 | NA | 24.51 | 090
15841 |  | A | Graft for face nerve palsy | 23.26 | NA | 14.68 | 2.65 | NA | 40.59 | 090
15842 |  | A | Flap for face nerve palsy | 37.96 | NA | 22.81 | 3.99 | NA | 64.76 | 090
15845 |  | A | Skin and muscle repair, face | 12.57 | NA | 8.81 | 0.80 | NA | 22.18 | 090
15850 |  | B | Removal of sutures | +0.78 | 1.43 | 0.31 | 0.04 | 2.25 | 1.13 | XXX
15851 |  | A | Removal of sutures | 0.86 | 1.64 | 0.35 | 0.05 | 2.55 | 1.26 | 000
15852 |  | A | Dressing change, not for burn | 0.86 | 1.93 | 0.36 | 0.07 | 2.86 | 1.29 | 000
15860 |  | A | Test for blood flow in graft | 1.95 | 1.35 | 0.84 | 0.13 | 3.43 | 2.92 | 000
15876 |  | R | Suction assisted lipectomy | 0.00 | 0.00 | 0.00 | 0.00 | 0.00 | 0.00 | 000
15877 |  | R | Suction assisted lipectomy | 0.00 | 0.00 | 0.00 | 0.00 | 0.00 | 0.00 | 000
15878 |  | R | Suction assisted lipectomy | 0.00 | 0.00 | 0.00 | 0.00 | 0.00 | 0.00 | 000
15879 |  | R | Suction assisted lipectomy | 0.00 | 0.00 | 0.00 | 0.00 | 0.00 | 0.00 | 000
15920 |  | A | Removal of tail bone ulcer | 7.95 | NA | 5.90 | 0.83 | NA | 14.68 | 090
15922 |  | A | Removal of tail bone ulcer | 9.90 | NA | 7.78 | 1.06 | NA | 18.74 | 090
15931 |  | A | Remove sacrum pressure sore | 9.24 | NA | 5.89 | 0.95 | NA | 16.08 | 090
15933 |  | A | Remove sacrum pressure sore | 10.85 | NA | 8.32 | 1.14 | NA | 20.31 | 090
15934 |  | A | Remove sacrum pressure sore | 12.69 | NA | 8.48 | 1.35 | NA | 22.52 | 090
15935 |  | A | Remove sacrum pressure sore | 14.57 | NA | 10.12 | 1.56 | NA | 26.25 | 090
15936 |  | A | Remove sacrum pressure sore | 12.38 | NA | 8.81 | 1.32 | NA | 22.51 | 090
15937 |  | A | Remove sacrum pressure sore | 14.21 | NA | 10.75 | 1.51 | NA | 26.47 | 090
15940 |  | A | Remove hip pressure sore | 9.34 | NA | 6.17 | 0.98 | NA | 16.49 | 090
15941 |  | A | Remove hip pressure sore | 11.43 | NA | 10.44 | 1.23 | NA | 23.10 | 090
15944 |  | A | Remove hip pressure sore | 11.46 | NA | 8.77 | 1.21 | NA | 21.44 | 090
15945 |  | A | Remove hip pressure sore | 12.69 | NA | 9.73 | 1.38 | NA | 23.80 | 090
15946 |  | A | Remove hip pressure sore | 21.57 | NA | 14.65 | 2.32 | NA | 38.54 | 090
15950 |  | A | Remove thigh pressure sore | 7.54 | NA | 5.43 | 0.80 | NA | 13.77 | 090
15951 |  | A | Remove thigh pressure sore | 10.72 | NA | 8.07 | 1.14 | NA | 19.93 | 090
15952 |  | A | Remove thigh pressure sore | 11.39 | NA | 7.86 | 1.19 | NA | 20.44 | 090
15953 |  | A | Remove thigh pressure sore | 12.63 | NA | 9.24 | 1.38 | NA | 23.25 | 090
15956 |  | A | Remove thigh pressure sore | 15.52 | NA | 10.71 | 1.64 | NA | 27.87 | 090
15958 |  | A | Remove thigh pressure sore | 15.48 | NA | 11.20 | 1.66 | NA | 28.34 | 090
15999 |  | C | Removal of pressure sore | 0.00 | 0.00 | 0.00 | 0.00 | 0.00 | 0.00 | YYY
16000 |  | A | Initial treatment of burn(s) | 0.89 | 1.09 | 0.27 | 0.06 | 2.04 | 1.22 | 000
16010 |  | A | Treatment of burn(s) | 0.87 | 1.21 | 0.37 | 0.07 | 2.15 | 1.31 | 000
16015 |  | A | Treatment of burn(s) | 2.35 | 2.01 | 1.03 | 0.22 | 4.58 | 3.60 | 000
16020 |  | A | Treatment of burn(s) | 0.80 | 1.20 | 0.27 | 0.06 | 2.06 | 1.13 | 000
16025 |  | A | Treatment of burn(s) | 1.85 | 1.94 | 0.69 | 0.16 | 3.95 | 2.70 | 000
16030 |  | A | Treatment of burn(s) | 2.08 | 3.36 | 0.97 | 0.18 | 5.62 | 3.23 | 000
16035 |  | A | Incision of burn scab, initi | 3.75 | NA | 1.56 | 0.36 | NA | 5.67 | 090
16036 |  | A | Incise burn scab, addl incis | 1.50 | NA | 0.62 | 0.11 | NA | 2.23 | ZZZ
17000 |  | A | Detroy benign/premal lesion | 0.60 | 1.10 | 0.28 | 0.03 | 1.73 | 0.91 | 010
17003 |  | A | Destroy lesions, 2-14 | 0.15 | 0.24 | 0.07 | 0.01 | 0.40 | 0.23 | ZZZ
17004 |  | A | Destroy lesions, 15 or more | 2.79 | 2.56 | 1.30 | 0.12 | 5.47 | 4.21 | 010
17106 |  | A | Destruction of skin lesions | 4.59 | 4.88 | 2.88 | 0.28 | 9.75 | 7.75 | 090
17107 |  | A | Destruction of skin lesions | 9.16 | 6.92 | 5.28 | 0.53 | 16.61 | 14.97 | 090
17108 |  | A | Destruction of skin lesions | 13.20 | 8.87 | 7.26 | 0.89 | 22.96 | 21.35 | 090
17110 |  | A | Destruct lesion, 1-14 | 0.65 | 1.11 | 0.26 | 0.04 | 1.80 | 0.95 | 010
17111 |  | A | Destruct lesion, 15 or more | 0.92 | 1.13 | 0.41 | 0.04 | 2.09 | 1.37 | 010
17250 |  | A | Chemical cautery, tissue | 0.50 | 0.76 | 0.21 | 0.04 | 1.30 | 0.75 | 000
17260 |  | A | Destruction of skin lesions | 0.91 | 1.37 | 0.39 | 0.04 | 2.32 | 1.34 | 010
17261 |  | A | Destruction of skin lesions | 1.17 | 1.48 | 0.56 | 0.05 | 2.70 | 1.78 | 010
17262 |  | A | Destruction of skin lesions | 1.58 | 1.69 | 0.76 | 0.07 | 3.34 | 2.41 | 010
17263 |  | A | Destruction of skin lesions | 1.79 | 1.80 | 0.83 | 0.08 | 3.67 | 2.70 | 010
17264 |  | A | Destruction of skin lesions | 1.94 | 1.87 | 0.87 | 0.08 | 3.89 | 2.89 | 010
17266 |  | A | Destruction of skin lesions | 2.34 | 2.08 | 1.05 | 0.11 | 4.53 | 3.50 | 010
17270 |  | A | Destruction of skin lesions | 1.32 | 1.57 | 0.60 | 0.06 | 2.95 | 1.98 | 010
17271 |  | A | Destruction of skin lesions | 1.49 | 1.65 | 0.72 | 0.06 | 3.20 | 2.27 | 010
17272 |  | A | Destruction of skin lesions | 1.77 | 1.79 | 0.86 | 0.07 | 3.63 | 2.70 | 010
17273 |  | A | Destruction of skin lesions | 2.05 | 1.93 | 0.97 | 0.09 | 4.07 | 3.11 | 010
17274 |  | A | Destruction of skin lesions | 2.59 | 2.21 | 1.20 | 0.11 | 4.91 | 3.90 | 010
17276 |  | A | Destruction of skin lesions | 3.20 | 2.52 | 1.84 | 0.15 | 5.87 | 5.19 | 010
17280 |  | A | Destruction of skin lesions | 1.17 | 1.41 | 0.54 | 0.05 | 2.63 | 1.76 | 010
17281 |  | A | Destruction of skin lesions | 1.72 | 1.77 | 0.83 | 0.07 | 3.56 | 2.62 | 010
17282 |  | A | Destruction of skin lesions | 2.04 | 1.93 | 0.99 | 0.09 | 4.06 | 3.12 | 010
17283 |  | A | Destruction of skin lesions | 2.64 | 2.23 | 1.24 | 0.11 | 4.98 | 3.99 | 010
17284 |  | A | Destruction of skin lesions | 3.21 | 2.52 | 1.51 | 0.14 | 5.87 | 4.86 | 010
17286 |  | A | Destruction of skin lesions | 4.44 | 3.23 | 2.52 | 0.22 | 7.89 | 7.18 | 010
17304 |  | A | Chemosurgery of skin lesion | 7.60 | 7.76 | 3.74 | 0.31 | 15.67 | 11.65 | 000
17305 |  | A | 2nd stage chemosurgery | 2.85 | 3.60 | 1.40 | 0.12 | 6.57 | 4.37 | 000
17306 |  | A | 3rd stage chemosurgery | 2.85 | 3.64 | 1.41 | 0.12 | 6.61 | 4.38 | 000
17307 |  | A | Followup skin lesion therapy | 2.85 | 3.62 | 1.43 | 0.12 | 6.59 | 4.40 | 000
17310 |  | A | Extensive skin chemosurgery | 0.95 | 1.54 | 0.48 | 0.05 | 2.54 | 1.48 | 000
17340 |  | A | Cryotherapy of skin | 0.76 | 0.39 | 0.27 | 0.04 | 1.19 | 1.07 | 010
17360 |  | A | Skin peel therapy | 1.43 | 1.46 | 0.73 | 0.06 | 2.95 | 2.22 | 010
17380 |  | R | Hair removal by electrolysis | 0.00 | 0.00 | 0.00 | 0.00 | 0.00 | 0.00 | 000
17999 |  | C | Skin tissue procedure | 0.00 | 0.00 | 0.00 | 0.00 | 0.00 | 0.00 | YYY
19000 |  | A | Drainage of breast lesion | 0.84 | 1.27 | 0.30 | 0.07 | 2.18 | 1.21 | 000
19001 |  | A | Drain breast lesion add-on | 0.42 | 0.86 | 0.15 | 0.03 | 1.31 | 0.60 | ZZZ
19020 |  | A | Incision of breast lesion | 3.57 | 7.13 | 3.51 | 0.35 | 11.05 | 7.43 | 090
19030 |  | A | Injection for breast x-ray | 1.53 | 3.70 | 0.54 | 0.07 | 5.30 | 2.14 | 000
19100 |  | A | Bx breast percut w/o image | 1.27 | 1.50 | 0.45 | 0.10 | 2.87 | 1.82 | 000
19101 |  | A | Biopsy of breast, open | 3.18 | 5.27 | 1.97 | 0.20 | 8.65 | 5.35 | 010
19102 |  | A | Bx breast percut w/image | 2.00 | 5.13 | 0.71 | 0.13 | 7.26 | 2.84 | 000
19103 |  | A | Bx breast percut w/device | 3.70 | 12.73 | 1.31 | 0.16 | 16.59 | 5.17 | 000
19110 |  | A | Nipple exploration | 4.30 | 9.79 | 4.56 | 0.44 | 14.53 | 9.30 | 090
19112 |  | A | Excise breast duct fistula | 3.67 | 10.91 | 3.19 | 0.38 | 14.96 | 7.24 | 090
19120 |  | A | Removal of breast lesion | 5.56 | 5.18 | 3.20 | 0.56 | 11.30 | 9.32 | 090
19125 |  | A | Excision, breast lesion | 6.06 | 5.36 | 3.36 | 0.61 | 12.03 | 10.03 | 090
19126 |  | A | Excision, addl breast lesion | 2.93 | NA | 1.06 | 0.30 | NA | 4.29 | ZZZ
19140 |  | A | Removal of breast tissue | 5.14 | 10.26 | 3.79 | 0.52 | 15.92 | 9.45 | 090
19160 |  | A | Removal of breast tissue | 5.99 | NA | 4.62 | 0.61 | NA | 11.22 | 090
19162 |  | A | Remove breast tissue, nodes | 13.53 | NA | 8.07 | 1.38 | NA | 22.98 | 090
19180 |  | A | Removal of breast | 8.80 | NA | 6.08 | 0.88 | NA | 15.76 | 090
19182 |  | A | Removal of breast | 7.73 | NA | 5.06 | 0.79 | NA | 13.58 | 090
19200 |  | A | Removal of breast | 15.49 | NA | 9.33 | 1.51 | NA | 26.33 | 090
19220 |  | A | Removal of breast | 15.72 | NA | 9.52 | 1.56 | NA | 26.80 | 090
19240 |  | A | Removal of breast | 16.00 | NA | 8.94 | 1.62 | NA | 26.56 | 090
19260 |  | A | Removal of chest wall lesion | 15.44 | NA | 9.12 | 1.64 | NA | 26.20 | 090
19271 |  | A | Revision of chest wall | 18.90 | NA | 11.13 | 2.27 | NA | 32.30 | 090
19272 |  | A | Extensive chest wall surgery | 21.55 | NA | 12.36 | 2.54 | NA | 36.45 | 090
19290 |  | A | Place needle wire, breast | 1.27 | 2.95 | 0.45 | 0.06 | 4.28 | 1.78 | 000
19291 |  | A | Place needle wire, breast | 0.63 | 1.74 | 0.22 | 0.03 | 2.40 | 0.88 | ZZZ
19295 |  | A | Place breast clip, percut | 0.00 | 2.83 | NA | 0.01 | 2.84 | NA | ZZZ
19316 |  | A | Suspension of breast | 10.69 | NA | 8.00 | 1.15 | NA | 19.84 | 090
19318 |  | A | Reduction of large breast | 15.62 | NA | 10.64 | 1.69 | NA | 27.95 | 090
19324 |  | A | Enlarge breast | 5.85 | NA | 4.41 | 0.63 | NA | 10.89 | 090
19325 |  | A | Enlarge breast with implant | 8.45 | NA | 7.00 | 0.90 | NA | 16.35 | 090
19328 |  | A | Removal of breast implant | 5.68 | NA | 4.73 | 0.61 | NA | 11.02 | 090
19330 |  | A | Removal of implant material | 7.59 | NA | 5.41 | 0.81 | NA | 13.81 | 090
19340 |  | A | Immediate breast prosthesis | 6.33 | NA | 3.30 | 0.68 | NA | 10.31 | ZZZ
19342 |  | A | Delayed breast prosthesis | 11.20 | NA | 8.15 | 1.21 | NA | 20.56 | 090
19350 |  | A | Breast reconstruction | 8.92 | 14.55 | 7.09 | 0.95 | 24.42 | 16.96 | 090
19355 |  | A | Correct inverted nipple(s) | 7.57 | 12.42 | 5.93 | 0.80 | 20.79 | 14.30 | 090
19357 |  | A | Breast reconstruction | 18.16 | NA | 14.40 | 1.96 | NA | 34.52 | 090
19361 |  | A | Breast reconstruction | 19.26 | NA | 12.45 | 2.08 | NA | 33.79 | 090
19364 |  | A | Breast reconstruction | 41.00 | NA | 25.45 | 3.91 | NA | 70.36 | 090
19366 |  | A | Breast reconstruction | 21.28 | NA | 12.02 | 2.27 | NA | 35.57 | 090
19367 |  | A | Breast reconstruction | 25.73 | NA | 15.77 | 2.78 | NA | 44.28 | 090
19368 |  | A | Breast reconstruction | 32.42 | NA | 19.04 | 3.51 | NA | 54.97 | 090
19369 |  | A | Breast reconstruction | 29.82 | NA | 18.29 | 3.24 | NA | 51.35 | 090
19370 |  | A | Surgery of breast capsule | 8.05 | NA | 6.39 | 0.86 | NA | 15.30 | 090
19371 |  | A | Removal of breast capsule | 9.35 | NA | 7.46 | 1.01 | NA | 17.82 | 090
19380 |  | A | Revise breast reconstruction | 9.14 | NA | 7.35 | 0.98 | NA | 17.47 | 090
19396 |  | A | Design custom breast implant | 2.17 | 7.08 | 0.87 | 0.23 | 9.48 | 3.27 | 000
19499 |  | C | Breast surgery procedure | 0.00 | 0.00 | 0.00 | 0.00 | 0.00 | 0.00 | YYY
20000 |  | A | Incision of abscess | 2.12 | 2.23 | 1.20 | 0.17 | 4.52 | 3.49 | 010
20005 |  | A | Incision of deep abscess | 3.42 | 3.07 | 2.22 | 0.34 | 6.83 | 5.98 | 010
20100 |  | A | Explore wound, neck | 10.08 | 6.49 | 4.12 | 0.99 | 17.56 | 15.19 | 010
20101 |  | A | Explore wound, chest | 3.22 | 3.03 | 1.64 | 0.24 | 6.49 | 5.10 | 010
20102 |  | A | Explore wound, abdomen | 3.94 | 3.43 | 1.85 | 0.35 | 7.72 | 6.14 | 010
20103 |  | A | Explore wound, extremity | 5.30 | 4.41 | 3.01 | 0.57 | 10.28 | 8.88 | 010
20150 |  | A | Excise epiphyseal bar | 13.69 | NA | 9.72 | 0.96 | NA | 24.37 | 090
20200 |  | A | Muscle biopsy | 1.46 | 1.72 | 0.62 | 0.17 | 3.35 | 2.25 | 000
20205 |  | A | Deep muscle biopsy | 2.35 | 4.04 | 0.98 | 0.23 | 6.62 | 3.56 | 000
20206 |  | A | Needle biopsy, muscle | 0.99 | 3.27 | 0.36 | 0.06 | 4.32 | 1.41 | 000
20220 |  | A | Bone biopsy, trocar/needle | 1.27 | 4.96 | 2.98 | 0.06 | 6.29 | 4.31 | 000
20225 |  | A | Bone biopsy, trocar/needle | 1.87 | 4.47 | 3.06 | 0.11 | 6.45 | 5.04 | 000
20240 |  | A | Bone biopsy, excisional | 3.23 | NA | 4.15 | 0.33 | NA | 7.71 | 010
20245 |  | A | Bone biopsy, excisional | 7.78 | NA | 6.91 | 0.44 | NA | 15.13 | 010
20250 |  | A | Open bone biopsy | 5.03 | NA | 4.37 | 0.50 | NA | 9.90 | 010
20251 |  | A | Open bone biopsy | 5.56 | NA | 4.86 | 0.79 | NA | 11.21 | 010
20500 |  | A | Injection of sinus tract | 1.23 | 5.34 | 3.91 | 0.10 | 6.67 | 5.24 | 010
20501 |  | A | Inject sinus tract for x-ray | 0.76 | 3.32 | 0.27 | 0.03 | 4.11 | 1.06 | 000
20520 |  | A | Removal of foreign body | 1.85 | 5.62 | 3.62 | 0.17 | 7.64 | 5.64 | 010
20525 |  | A | Removal of foreign body | 3.50 | 7.26 | 4.40 | 0.40 | 11.16 | 8.30 | 010
20526 |  | A | Ther injection carpal tunnel | 0.86 | 0.78 | 0.39 | 0.06 | 1.70 | 1.31 | 000
20550 |  | A | Inject tendon/ligament/cyst | 0.86 | 0.85 | 0.28 | 0.06 | 1.77 | 1.20 | 000
20551 |  | A | Inject tendon origin/insert | 0.86 | 0.78 | 0.39 | 0.06 | 1.70 | 1.31 | 000
20552 |  | A | Inject trigger point, 1 or 2 | 0.86 | 0.78 | 0.39 | 0.06 | 1.70 | 1.31 | 000
20553 |  | A | Inject trigger points, > 3 | 0.86 | 0.78 | 0.39 | 0.06 | 1.70 | 1.31 | 000
20600 |  | A | Drain/inject, joint/bursa | 0.66 | 0.67 | 0.37 | 0.06 | 1.39 | 1.09 | 000
20605 |  | A | Drain/inject, joint/bursa | 0.68 | 0.78 | 0.38 | 0.06 | 1.52 | 1.12 | 000
20610 |  | A | Drain/inject, joint/bursa | 0.79 | 0.96 | 0.44 | 0.08 | 1.83 | 1.31 | 000
20615 |  | A | Treatment of bone cyst | 2.28 | 4.89 | 2.52 | 0.19 | 7.36 | 4.99 | 010
20650 |  | A | Insert and remove bone pin | 2.23 | 5.06 | 3.19 | 0.28 | 7.57 | 5.70 | 010
20660 |  | A | Apply, remove fixation device | 2.51 | NA | 1.49 | 0.48 | NA | 4.48 | 000
20661 |  | A | Application of head brace | 4.89 | NA | 6.74 | 0.92 | NA | 12.55 | 090
20662 |  | A | Application of pelvis brace | 6.07 | NA | 5.12 | 0.81 | NA | 12.00 | 090
20663 |  | A | Application of thigh brace | 5.43 | NA | 4.94 | 0.77 | NA | 11.14 | 090
20664 |  | A | Halo brace application | 8.06 | NA | 8.55 | 1.49 | NA | 18.10 | 090
20665 |  | A | Removal of fixation device | 1.31 | 2.33 | 1.25 | 0.17 | 3.81 | 2.73 | 010
20670 |  | A | Removal of support implant | 1.74 | 5.73 | 3.42 | 0.23 | 7.70 | 5.39 | 010
20680 |  | A | Removal of support implant | 3.35 | 5.04 | 5.04 | 0.46 | 8.85 | 8.85 | 090
20690 |  | A | Apply bone fixation device | 3.52 | NA | 1.91 | 0.47 | NA | 5.90 | 090
20692 |  | A | Apply bone fixation device | 6.41 | NA | 3.57 | 0.60 | NA | 10.58 | 090
20693 |  | A | Adjust bone fixation device | 5.86 | NA | 12.98 | 0.85 | NA | 19.69 | 090
20694 |  | A | Remove bone fixation device | 4.16 | 8.96 | 6.30 | 0.57 | 13.69 | 11.03 | 090
20802 |  | A | Replantation, arm, complete | 41.15 | NA | 28.95 | 5.81 | NA | 75.91 | 090
20805 |  | A | Replant, forearm, complete | 50.00 | NA | 38.72 | 3.95 | NA | 92.67 | 090
20808 |  | A | Replantation hand, complete | 61.65 | NA | 56.41 | 6.49 | NA | 124.55 | 090
20816 |  | A | Replantation digit, complete | 30.94 | NA | 49.50 | 3.01 | NA | 83.45 | 090
20822 |  | A | Replantation digit, complete | 25.59 | NA | 45.97 | 3.07 | NA | 74.63 | 090
20824 |  | A | Replantation thumb, complete | 30.94 | NA | 49.10 | 3.48 | NA | 83.52 | 090
20827 |  | A | Replantation thumb, complete | 26.41 | NA | 45.65 | 3.21 | NA | 75.27 | 090
20838 |  | A | Replantation foot, complete | 41.41 | NA | 25.82 | 5.85 | NA | 73.08 | 090
20900 |  | A | Removal of bone for graft | 5.58 | 5.97 | 5.97 | 0.77 | 12.32 | 12.32 | 090
20902 |  | A | Removal of bone for graft | 7.55 | NA | 8.91 | 1.06 | NA | 17.52 | 090
20910 |  | A | Remove cartilage for graft | 5.34 | 9.09 | 6.94 | 0.50 | 14.93 | 12.78 | 090
20912 |  | A | Remove cartilage for graft | 6.35 | NA | 7.68 | 0.55 | NA | 14.58 | 090
20920 |  | A | Removal of fascia for graft | 5.31 | NA | 5.44 | 0.54 | NA | 11.29 | 090
20922 |  | A | Removal of fascia for graft | 6.61 | 8.50 | 6.28 | 0.88 | 15.99 | 13.77 | 090
20924 |  | A | Removal of tendon for graft | 6.48 | NA | 7.03 | 0.82 | NA | 14.33 | 090
20926 |  | A | Removal of tissue for graft | 5.53 | NA | 6.54 | 0.73 | NA | 12.80 | 090
20930 |  | B | Spinal bone allograft | 0.00 | 0.00 | 0.00 | 0.00 | 0.00 | 0.00 | XXX
20931 |  | A | Spinal bone allograft | 1.81 | NA | 0.98 | 0.34 | NA | 3.13 | ZZZ
20936 |  | B | Spinal bone autograft | 0.00 | 0.00 | 0.00 | 0.00 | 0.00 | 0.00 | XXX
20937 |  | A | Spinal bone autograft | 2.79 | NA | 1.54 | 0.43 | NA | 4.76 | ZZZ
20938 |  | A | Spinal bone autograft | 3.02 | NA | 1.64 | 0.52 | NA | 5.18 | ZZZ
20950 |  | A | Fluid pressure, muscle | 1.26 | NA | 2.15 | 0.16 | NA | 3.57 | 000
20955 |  | A | Fibula bone graft, microvasc | 39.21 | NA | 30.52 | 4.35 | NA | 74.08 | 090
20956 |  | A | Iliac bone graft, microvasc | 39.27 | NA | 28.18 | 5.77 | NA | 73.22 | 090
20957 |  | A | Mt bone graft, microvasc | 40.65 | NA | 21.71 | 5.74 | NA | 68.10 | 090
20962 |  | A | Other bone graft, microvasc | 39.27 | NA | 28.54 | 5.19 | NA | 73.00 | 090
20969 |  | A | Bone/skin graft, microvasc | 43.92 | NA | 33.31 | 4.34 | NA | 81.57 | 090
20970 |  | A | Bone/skin graft, iliac crest | 43.06 | NA | 30.08 | 4.64 | NA | 77.78 | 090
20972 |  | A | Bone/skin graft, metatarsal | 42.99 | NA | 18.23 | 6.07 | NA | 67.29 | 090
20973 |  | A | Bone/skin graft, great toe | 45.76 | NA | 30.52 | 4.65 | NA | 80.93 | 090
20974 |  | A | Electrical bone stimulation | 0.62 | 0.47 | 0.34 | 0.09 | 1.18 | 1.05 | 000
20975 |  | A | Electrical bone stimulation | 2.60 | NA | 1.42 | 0.42 | NA | 4.44 | 000
20979 |  | A | Us bone stimulation | 0.62 | 0.58 | 0.25 | 0.04 | 1.24 | 0.91 | 000
20999 |  | C | Musculoskeletal surgery | 0.00 | 0.00 | 0.00 | 0.00 | 0.00 | 0.00 | YYY
21010 |  | A | Incision of jaw joint | 10.14 | NA | 7.24 | 0.54 | NA | 17.92 | 090
21015 |  | A | Resection of facial tumor | 5.29 | NA | 7.38 | 0.52 | NA | 13.19 | 090
21025 |  | A | Excision of bone, lower jaw | 10.06 | 7.40 | 7.00 | 0.79 | 18.25 | 17.85 | 090
21026 |  | A | Excision of facial bone(s) | 4.85 | 5.23 | 5.12 | 0.40 | 10.48 | 10.37 | 090
21029 |  | A | Contour of face bone lesion | 7.71 | 7.18 | 6.73 | 0.74 | 15.63 | 15.18 | 090
21030 |  | A | Removal of face bone lesion | 6.46 | 5.47 | 4.94 | 0.60 | 12.53 | 12.00 | 090
21031 |  | A | Remove exostosis, mandible | 3.24 | 3.39 | 2.19 | 0.28 | 6.91 | 5.71 | 090
21032 |  | A | Remove exostosis, maxilla | 3.24 | 3.38 | 2.47 | 0.27 | 6.89 | 5.98 | 090
21034 |  | A | Removal of face bone lesion | 16.17 | 10.59 | 10.59 | 1.37 | 28.13 | 28.13 | 090
21040 |  | A | Removal of jaw bone lesion | 2.11 | 3.03 | 1.81 | 0.19 | 5.33 | 4.11 | 090
21041 |  | A | Removal of jaw bone lesion | 6.71 | 5.68 | 4.46 | 0.56 | 12.95 | 11.73 | 090
21044 |  | A | Removal of jaw bone lesion | 11.86 | NA | 8.33 | 0.87 | NA | 21.06 | 090
21045 |  | A | Extensive jaw surgery | 16.17 | NA | 10.63 | 1.20 | NA | 28.00 | 090
21050 |  | A | Removal of jaw joint | 10.77 | NA | 11.93 | 0.84 | NA | 23.54 | 090
21060 |  | A | Remove jaw joint cartilage | 10.23 | NA | 10.59 | 1.16 | NA | 21.98 | 090
21070 |  | A | Remove coronoid process | 8.20 | NA | 6.36 | 0.67 | NA | 15.23 | 090
21076 |  | A | Prepare face/oral prosthesis | 13.42 | 9.87 | 7.41 | 1.36 | 24.65 | 22.19 | 010
21077 |  | A | Prepare face/oral prosthesis | 33.75 | 24.83 | 18.64 | 3.43 | 62.01 | 55.82 | 090
21079 |  | A | Prepare face/oral prosthesis | 22.34 | 17.55 | 12.90 | 1.59 | 41.48 | 36.83 | 090
21080 |  | A | Prepare face/oral prosthesis | 25.10 | 19.72 | 14.49 | 2.55 | 47.37 | 42.14 | 090
21081 |  | A | Prepare face/oral prosthesis | 22.88 | 17.97 | 13.21 | 1.87 | 42.72 | 37.96 | 090
21082 |  | A | Prepare face/oral prosthesis | 20.87 | 15.35 | 11.53 | 1.46 | 37.68 | 33.86 | 090
21083 |  | A | Prepare face/oral prosthesis | 19.30 | 15.16 | 11.14 | 1.96 | 36.42 | 32.40 | 090
21084 |  | A | Prepare face/oral prosthesis | 22.51 | 17.68 | 12.99 | 1.57 | 41.76 | 37.07 | 090
21085 |  | A | Prepare face/oral prosthesis | 9.00 | 6.62 | 4.97 | 0.65 | 16.27 | 14.62 | 010
21086 |  | A | Prepare face/oral prosthesis | 24.92 | 19.58 | 14.39 | 1.86 | 46.36 | 41.17 | 090
21087 |  | A | Prepare face/oral prosthesis | 24.92 | 18.33 | 13.76 | 2.22 | 45.47 | 40.90 | 090
21088 |  | C | Prepare face/oral prosthesis | 0.00 | 0.00 | 0.00 | 0.00 | 0.00 | 0.00 | 090
21089 |  | C | Prepare face/oral prosthesis | 0.00 | 0.00 | 0.00 | 0.00 | 0.00 | 0.00 | 090
21100 |  | A | Maxillofacial fixation | 4.22 | 5.66 | 3.70 | 0.18 | 10.06 | 8.10 | 090
21110 |  | A | Interdental fixation | 5.21 | 5.25 | 4.48 | 0.28 | 10.74 | 9.97 | 090
21116 |  | A | Injection, jaw joint x-ray | 0.81 | 7.88 | 0.30 | 0.05 | 8.74 | 1.16 | 000
21120 |  | A | Reconstruction of chin | 4.93 | 7.96 | 4.98 | 0.29 | 13.18 | 10.20 | 090
21121 |  | A | Reconstruction of chin | 7.64 | 7.68 | 6.65 | 0.56 | 15.88 | 14.85 | 090
21122 |  | A | Reconstruction of chin | 8.52 | NA | 7.95 | 0.59 | NA | 17.06 | 090
21123 |  | A | Reconstruction of chin | 11.16 | NA | 7.68 | 1.16 | NA | 20.00 | 090
21125 |  | A | Augmentation, lower jaw bone | 10.62 | 9.56 | 7.84 | 0.72 | 20.90 | 19.18 | 090
21127 |  | A | Augmentation, lower jaw bone | 11.12 | 10.66 | 7.33 | 0.76 | 22.54 | 19.21 | 090
21137 |  | A | Reduction of forehead | 9.82 | NA | 8.20 | 0.53 | NA | 18.55 | 090
21138 |  | A | Reduction of forehead | 12.19 | NA | 8.82 | 1.47 | NA | 22.48 | 090
21139 |  | A | Reduction of forehead | 14.61 | NA | 8.23 | 1.02 | NA | 23.86 | 090
21141 |  | A | Reconstruct midface, lefort | 18.10 | NA | 10.69 | 1.63 | NA | 30.42 | 090
21142 |  | A | Reconstruct midface, lefort | 18.81 | NA | 13.80 | 1.16 | NA | 33.77 | 090
21143 |  | A | Reconstruct midface, lefort | 19.58 | NA | 11.21 | 0.90 | NA | 31.69 | 090
21145 |  | A | Reconstruct midface, lefort | 19.94 | NA | 11.69 | 2.09 | NA | 33.72 | 090
21146 |  | A | Reconstruct midface, lefort | 20.71 | NA | 11.61 | 2.13 | NA | 34.45 | 090
21147 |  | A | Reconstruct midface, lefort | 21.77 | NA | 12.07 | 1.52 | NA | 35.36 | 090
21150 |  | A | Reconstruct midface, lefort | 25.24 | NA | 17.20 | 1.09 | NA | 43.53 | 090
21151 |  | A | Reconstruct midface, lefort | 28.30 | NA | 21.35 | 1.98 | NA | 51.63 | 090
21154 |  | A | Reconstruct midface, lefort | 30.52 | NA | 21.03 | 4.86 | NA | 56.41 | 090
21155 |  | A | Reconstruct midface, lefort | 34.45 | NA | 23.20 | 5.48 | NA | 63.13 | 090
21159 |  | A | Reconstruct midface, lefort | 42.38 | NA | 21.72 | 6.74 | NA | 70.84 | 090
21160 |  | A | Reconstruct midface, lefort | 46.44 | NA | 30.39 | 4.39 | NA | 81.22 | 090
21172 |  | A | Reconstruct orbit/forehead | 27.80 | NA | 16.39 | 1.91 | NA | 46.10 | 090
21175 |  | A | Reconstruct orbit/forehead | 33.17 | NA | 19.79 | 5.16 | NA | 58.12 | 090
21179 |  | A | Reconstruct entire forehead | 22.25 | NA | 18.94 | 2.48 | NA | 43.67 | 090
21180 |  | A | Reconstruct entire forehead | 25.19 | NA | 18.33 | 2.15 | NA | 45.67 | 090
21181 |  | A | Contour cranial bone lesion | 9.90 | NA | 8.46 | 0.97 | NA | 19.33 | 090
21182 |  | A | Reconstruct cranial bone | 32.19 | NA | 21.97 | 2.53 | NA | 56.69 | 090
21183 |  | A | Reconstruct cranial bone | 35.31 | NA | 22.93 | 2.75 | NA | 60.99 | 090
21184 |  | A | Reconstruct cranial bone | 38.24 | NA | 19.54 | 4.12 | NA | 61.90 | 090
21188 |  | A | Reconstruction of midface | 22.46 | NA | 15.86 | 1.85 | NA | 40.17 | 090
21193 |  | A | Reconst lwr jaw w/o graft | 17.15 | NA | 10.77 | 1.53 | NA | 29.45 | 090
21194 |  | A | Reconst lwr jaw w/graft | 19.84 | NA | 12.44 | 1.39 | NA | 33.67 | 090
21195 |  | A | Reconst lwr jaw w/o fixation | 17.24 | NA | 12.36 | 1.20 | NA | 30.80 | 090
21196 |  | A | Reconst lwr jaw w/fixation | 18.91 | NA | 12.83 | 1.62 | NA | 33.36 | 090
21198 |  | A | Reconstr lwr jaw segment | 14.16 | NA | 12.30 | 1.05 | NA | 27.51 | 090
21199 |  | A | Reconstr lwr jaw w/advance | 16.00 | NA | 10.85 | 1.26 | NA | 28.11 | 090
21206 |  | A | Reconstruct upper jaw bone | 14.10 | NA | 9.39 | 1.01 | NA | 24.50 | 090
21208 |  | A | Augmentation of facial bones | 10.23 | 8.95 | 8.62 | 0.92 | 20.10 | 19.77 | 090
21209 |  | A | Reduction of facial bones | 6.72 | 8.05 | 6.54 | 0.60 | 15.37 | 13.86 | 090
21210 |  | A | Face bone graft | 10.23 | 8.82 | 8.28 | 0.88 | 19.93 | 19.39 | 090
21215 |  | A | Lower jaw bone graft | 10.77 | 8.95 | 7.48 | 1.04 | 20.76 | 19.29 | 090
21230 |  | A | Rib cartilage graft | 10.77 | NA | 10.85 | 0.96 | NA | 22.58 | 090
21235 |  | A | Ear cartilage graft | 6.72 | 11.90 | 8.36 | 0.52 | 19.14 | 15.60 | 090
21240 |  | A | Reconstruction of jaw joint | 14.05 | NA | 11.79 | 1.15 | NA | 26.99 | 090
21242 |  | A | Reconstruction of jaw joint | 12.95 | NA | 10.85 | 1.40 | NA | 25.20 | 090
21243 |  | A | Reconstruction of jaw joint | 20.79 | NA | 13.97 | 1.85 | NA | 36.61 | 090
21244 |  | A | Reconstruction of lower jaw | 11.86 | NA | 9.56 | 0.95 | NA | 22.37 | 090
21245 |  | A | Reconstruction of jaw | 11.86 | 24.85 | 10.25 | 0.88 | 37.59 | 22.99 | 090
21246 |  | A | Reconstruction of jaw | 12.47 | 10.20 | 10.20 | 1.21 | 23.88 | 23.88 | 090
21247 |  | A | Reconstruct lower jaw bone | 22.63 | NA | 20.17 | 2.21 | NA | 45.01 | 090
21248 |  | A | Reconstruction of jaw | 11.48 | 8.91 | 7.86 | 1.01 | 21.40 | 20.35 | 090
21249 |  | A | Reconstruction of jaw | 17.52 | 11.44 | 10.35 | 1.39 | 30.35 | 29.26 | 090
21255 |  | A | Reconstruct lower jaw bone | 16.72 | NA | 13.16 | 1.13 | NA | 31.01 | 090
21256 |  | A | Reconstruction of orbit | 16.19 | NA | 13.87 | 1.04 | NA | 31.10 | 090
21260 |  | A | Revise eye sockets | 16.52 | NA | 13.54 | 1.25 | NA | 31.31 | 090
21261 |  | A | Revise eye sockets | 31.49 | NA | 20.04 | 2.20 | NA | 53.73 | 090
21263 |  | A | Revise eye sockets | 28.42 | NA | 15.09 | 2.16 | NA | 45.67 | 090
21267 |  | A | Revise eye sockets | 18.90 | NA | 14.75 | 1.35 | NA | 35.00 | 090
21268 |  | A | Revise eye sockets | 24.48 | NA | 15.15 | 0.79 | NA | 40.42 | 090
21270 |  | A | Augmentation, cheek bone | 10.23 | 10.39 | 9.99 | 0.73 | 21.35 | 20.95 | 090
21275 |  | A | Revision, orbitofacial bones | 11.24 | NA | 11.02 | 1.03 | NA | 23.29 | 090
21280 |  | A | Revision of eyelid | 6.03 | NA | 6.27 | 0.27 | NA | 12.57 | 090
21282 |  | A | Revision of eyelid | 3.49 | NA | 5.38 | 0.21 | NA | 9.08 | 090
21295 |  | A | Revision of jaw muscle/bone | 1.53 | NA | 4.34 | 0.13 | NA | 6.00 | 090
21296 |  | A | Revision of jaw muscle/bone | 4.25 | NA | 4.09 | 0.30 | NA | 8.64 | 090
21299 |  | C | Cranio/maxillofacial surgery | 0.00 | 0.00 | 0.00 | 0.00 | 0.00 | 0.00 | YYY
21300 |  | A | Treatment of skull fracture | 0.72 | 2.77 | 0.30 | 0.09 | 3.58 | 1.11 | 000
21310 |  | A | Treatment of nose fracture | 0.58 | 2.70 | 0.15 | 0.05 | 3.33 | 0.78 | 000
21315 |  | A | Treatment of nose fracture | 1.51 | 3.49 | 1.27 | 0.12 | 5.12 | 2.90 | 010
21320 |  | A | Treatment of nose fracture | 1.85 | 4.96 | 2.10 | 0.15 | 6.96 | 4.10 | 010
21325 |  | A | Treatment of nose fracture | 3.77 | NA | 3.73 | 0.31 | NA | 7.81 | 090
21330 |  | A | Treatment of nose fracture | 5.38 | NA | 5.67 | 0.48 | NA | 11.53 | 090
21335 |  | A | Treatment of nose fracture | 8.61 | NA | 7.34 | 0.64 | NA | 16.59 | 090
21336 |  | A | Treat nasal septal fracture | 5.72 | NA | 5.74 | 0.45 | NA | 11.91 | 090
21337 |  | A | Treat nasal septal fracture | 2.70 | 5.24 | 3.42 | 0.22 | 8.16 | 6.34 | 090
21338 |  | A | Treat nasoethmoid fracture | 6.46 | NA | 5.75 | 0.53 | NA | 12.74 | 090
21339 |  | A | Treat nasoethmoid fracture | 8.09 | NA | 6.97 | 0.76 | NA | 15.82 | 090
21340 |  | A | Treatment of nose fracture | 10.77 | NA | 8.78 | 0.85 | NA | 20.40 | 090
21343 |  | A | Treatment of sinus fracture | 12.95 | NA | 9.48 | 1.06 | NA | 23.49 | 090
21344 |  | A | Treatment of sinus fracture | 19.72 | NA | 13.82 | 1.72 | NA | 35.26 | 090
21345 |  | A | Treat nose/jaw fracture | 8.16 | 10.36 | 7.91 | 0.60 | 19.12 | 16.67 | 090
21346 |  | A | Treat nose/jaw fracture | 10.61 | NA | 10.12 | 0.85 | NA | 21.58 | 090
21347 |  | A | Treat nose/jaw fracture | 12.69 | NA | 9.68 | 1.14 | NA | 23.51 | 090
21348 |  | A | Treat nose/jaw fracture | 16.69 | NA | 11.57 | 1.50 | NA | 29.76 | 090
21355 |  | A | Treat cheek bone fracture | 3.77 | 3.89 | 2.54 | 0.29 | 7.95 | 6.60 | 010
21356 |  | A | Treat cheek bone fracture | 4.15 | NA | 3.31 | 0.36 | NA | 7.82 | 010
21360 |  | A | Treat cheek bone fracture | 6.46 | NA | 5.74 | 0.52 | NA | 12.72 | 090
21365 |  | A | Treat cheek bone fracture | 14.95 | NA | 11.72 | 1.30 | NA | 27.97 | 090
21366 |  | A | Treat cheek bone fracture | 17.77 | NA | 14.28 | 1.41 | NA | 33.46 | 090
21385 |  | A | Treat eye socket fracture | 9.16 | NA | 8.04 | 0.64 | NA | 17.84 | 090
21386 |  | A | Treat eye socket fracture | 9.16 | NA | 8.43 | 0.76 | NA | 18.35 | 090
21387 |  | A | Treat eye socket fracture | 9.70 | NA | 8.55 | 0.78 | NA | 19.03 | 090
21390 |  | A | Treat eye socket fracture | 10.13 | NA | 8.73 | 0.70 | NA | 19.56 | 090
21395 |  | A | Treat eye socket fracture | 12.68 | NA | 9.24 | 1.09 | NA | 23.01 | 090
21400 |  | A | Treat eye socket fracture | 1.40 | 3.29 | 1.05 | 0.12 | 4.81 | 2.57 | 090
21401 |  | A | Treat eye socket fracture | 3.26 | 4.34 | 3.65 | 0.34 | 7.94 | 7.25 | 090
21406 |  | A | Treat eye socket fracture | 7.01 | NA | 7.20 | 0.59 | NA | 14.80 | 090
21407 |  | A | Treat eye socket fracture | 8.61 | NA | 7.99 | 0.67 | NA | 17.27 | 090
21408 |  | A | Treat eye socket fracture | 12.38 | NA | 10.29 | 1.24 | NA | 23.91 | 090
21421 |  | A | Treat mouth roof fracture | 5.14 | 7.23 | 6.84 | 0.42 | 12.79 | 12.40 | 090
21422 |  | A | Treat mouth roof fracture | 8.32 | NA | 7.93 | 0.69 | NA | 16.94 | 090
21423 |  | A | Treat mouth roof fracture | 10.40 | NA | 8.63 | 0.95 | NA | 19.98 | 090
21431 |  | A | Treat craniofacial fracture | 7.05 | NA | 8.44 | 0.58 | NA | 16.07 | 090
21432 |  | A | Treat craniofacial fracture | 8.61 | NA | 8.06 | 0.55 | NA | 17.22 | 090
21433 |  | A | Treat craniofacial fracture | 25.35 | NA | 17.29 | 2.46 | NA | 45.10 | 090
21435 |  | A | Treat craniofacial fracture | 17.25 | NA | 12.97 | 1.66 | NA | 31.88 | 090
21436 |  | A | Treat craniofacial fracture | 28.04 | NA | 16.02 | 2.32 | NA | 46.38 | 090
21440 |  | A | Treat dental ridge fracture | 2.70 | 5.44 | 3.73 | 0.22 | 8.36 | 6.65 | 090
21445 |  | A | Treat dental ridge fracture | 5.38 | 7.14 | 5.04 | 0.55 | 13.07 | 10.97 | 090
21450 |  | A | Treat lower jaw fracture | 2.97 | 6.45 | 2.90 | 0.23 | 9.65 | 6.10 | 090
21451 |  | A | Treat lower jaw fracture | 4.87 | 6.46 | 6.11 | 0.39 | 11.72 | 11.37 | 090
21452 |  | A | Treat lower jaw fracture | 1.98 | 13.44 | 4.35 | 0.14 | 15.56 | 6.47 | 090
21453 |  | A | Treat lower jaw fracture | 5.54 | 7.32 | 6.69 | 0.49 | 13.35 | 12.72 | 090
21454 |  | A | Treat lower jaw fracture | 6.46 | NA | 5.72 | 0.55 | NA | 12.73 | 090
21461 |  | A | Treat lower jaw fracture | 8.09 | 8.40 | 8.26 | 0.73 | 17.22 | 17.08 | 090
21462 |  | A | Treat lower jaw fracture | 9.79 | 10.06 | 8.18 | 0.80 | 20.65 | 18.77 | 090
21465 |  | A | Treat lower jaw fracture | 11.91 | NA | 8.42 | 0.84 | NA | 21.17 | 090
21470 |  | A | Treat lower jaw fracture | 15.34 | NA | 10.31 | 1.36 | NA | 27.01 | 090
21480 |  | A | Reset dislocated jaw | 0.61 | 1.62 | 0.18 | 0.05 | 2.28 | 0.84 | 000
21485 |  | A | Reset dislocated jaw | 3.99 | 3.82 | 3.34 | 0.31 | 8.12 | 7.64 | 090
21490 |  | A | Repair dislocated jaw | 11.86 | NA | 7.69 | 1.31 | NA | 20.86 | 090
21493 |  | A | Treat hyoid bone fracture | 1.27 | NA | 3.68 | 0.10 | NA | 5.05 | 090
21494 |  | A | Treat hyoid bone fracture | 6.28 | NA | 4.21 | 0.44 | NA | 10.93 | 090
21495 |  | A | Treat hyoid bone fracture | 5.69 | NA | 5.28 | 0.41 | NA | 11.38 | 090
21497 |  | A | Interdental wiring | 3.86 | 4.68 | 3.81 | 0.31 | 8.85 | 7.98 | 090
21499 |  | C | Head surgery procedure | 0.00 | 0.00 | 0.00 | 0.00 | 0.00 | 0.00 | YYY
21501 |  | A | Drain neck/chest lesion | 3.81 | 4.50 | 3.64 | 0.36 | 8.67 | 7.81 | 090
21502 |  | A | Drain chest lesion | 7.12 | NA | 7.05 | 0.79 | NA | 14.96 | 090
21510 |  | A | Drainage of bone lesion | 5.74 | NA | 7.47 | 0.67 | NA | 13.88 | 090
21550 |  | A | Biopsy of neck/chest | 2.06 | 2.32 | 1.25 | 0.13 | 4.51 | 3.44 | 010
21555 |  | A | Remove lesion, neck/chest | 4.35 | 4.25 | 2.43 | 0.41 | 9.01 | 7.19 | 090
21556 |  | A | Remove lesion, neck/chest | 5.57 | NA | 3.29 | 0.51 | NA | 9.37 | 090
21557 |  | A | Remove tumor, neck/chest | 8.88 | NA | 7.87 | 0.85 | NA | 17.60 | 090
21600 |  | A | Partial removal of rib | 6.89 | NA | 7.80 | 0.81 | NA | 15.50 | 090
21610 |  | A | Partial removal of rib | 14.61 | NA | 11.26 | 1.85 | NA | 27.72 | 090
21615 |  | A | Removal of rib | 9.87 | NA | 7.90 | 1.20 | NA | 18.97 | 090
21616 |  | A | Removal of rib and nerves | 12.04 | NA | 8.94 | 1.31 | NA | 22.29 | 090
21620 |  | A | Partial removal of sternum | 6.79 | NA | 8.13 | 0.77 | NA | 15.69 | 090
21627 |  | A | Sternal debridement | 6.81 | NA | 12.16 | 0.82 | NA | 19.79 | 090
21630 |  | A | Extensive sternum surgery | 17.38 | NA | 14.03 | 1.95 | NA | 33.36 | 090
21632 |  | A | Extensive sternum surgery | 18.14 | NA | 12.35 | 2.16 | NA | 32.65 | 090
21700 |  | A | Revision of neck muscle | 6.19 | 8.63 | 7.19 | 0.31 | 15.13 | 13.69 | 090
21705 |  | A | Revision of neck muscle/rib | 9.60 | NA | 7.87 | 0.92 | NA | 18.39 | 090
21720 |  | A | Revision of neck muscle | 5.68 | 8.71 | 5.93 | 0.80 | 15.19 | 12.41 | 090
21725 |  | A | Revision of neck muscle | 6.99 | NA | 7.28 | 0.90 | NA | 15.17 | 090
21740 |  | A | Reconstruction of sternum | 16.50 | NA | 12.85 | 2.03 | NA | 31.38 | 090
21750 |  | A | Repair of sternum separation | 10.77 | NA | 9.41 | 1.35 | NA | 21.53 | 090
21800 |  | A | Treatment of rib fracture | 0.96 | 2.31 | 1.11 | 0.09 | 3.36 | 2.16 | 090
21805 |  | A | Treatment of rib fracture | 2.75 | NA | 4.08 | 0.29 | NA | 7.12 | 090
21810 |  | A | Treatment of rib fracture(s) | 6.86 | NA | 7.49 | 0.60 | NA | 14.95 | 090
21820 |  | A | Treat sternum fracture | 1.28 | 2.80 | 1.58 | 0.15 | 4.23 | 3.01 | 090
21825 |  | A | Treat sternum fracture | 7.41 | NA | 9.90 | 0.84 | NA | 18.15 | 090
21899 |  | C | Neck/chest surgery procedure | 0.00 | 0.00 | 0.00 | 0.00 | 0.00 | 0.00 | YYY
21920 |  | A | Biopsy soft tissue of back | 2.06 | 2.40 | 0.77 | 0.12 | 4.58 | 2.95 | 010
21925 |  | A | Biopsy soft tissue of back | 4.49 | 10.19 | 4.79 | 0.44 | 15.12 | 9.72 | 090
21930 |  | A | Remove lesion, back or flank | 5.00 | 4.55 | 2.66 | 0.49 | 10.04 | 8.15 | 090
21935 |  | A | Remove tumor, back | 17.96 | NA | 13.53 | 1.87 | NA | 33.36 | 090
22100 |  | A | Remove part of neck vertebra | 9.73 | NA | 8.36 | 1.55 | NA | 19.64 | 090
22101 |  | A | Remove part, thorax vertebra | 9.81 | NA | 9.04 | 1.51 | NA | 20.36 | 090
22102 |  | A | Remove part, lumbar vertebra | 9.81 | NA | 9.18 | 1.46 | NA | 20.45 | 090
22103 |  | A | Remove extra spine segment | 2.34 | NA | 1.27 | 0.37 | NA | 3.98 | ZZZ
22110 |  | A | Remove part of neck vertebra | 12.74 | NA | 11.06 | 2.20 | NA | 26.00 | 090
22112 |  | A | Remove part, thorax vertebra | 12.81 | NA | 10.95 | 1.96 | NA | 25.72 | 090
22114 |  | A | Remove part, lumbar vertebra | 12.81 | NA | 10.71 | 1.98 | NA | 25.50 | 090
22116 |  | A | Remove extra spine segment | 2.32 | NA | 1.26 | 0.40 | NA | 3.98 | ZZZ
22210 |  | A | Revision of neck spine | 23.82 | NA | 17.42 | 4.23 | NA | 45.47 | 090
22212 |  | A | Revision of thorax spine | 19.42 | NA | 14.60 | 2.78 | NA | 36.80 | 090
22214 |  | A | Revision of lumbar spine | 19.45 | NA | 15.32 | 2.78 | NA | 37.55 | 090
22216 |  | A | Revise, extra spine segment | 6.04 | NA | 3.31 | 0.98 | NA | 10.33 | ZZZ
22220 |  | A | Revision of neck spine | 21.37 | NA | 15.61 | 3.65 | NA | 40.63 | 090
22222 |  | A | Revision of thorax spine | 21.52 | NA | 15.08 | 3.08 | NA | 39.68 | 090
22224 |  | A | Revision of lumbar spine | 21.52 | NA | 15.70 | 3.20 | NA | 40.42 | 090
22226 |  | A | Revise, extra spine segment | 6.04 | NA | 3.22 | 1.01 | NA | 10.27 | ZZZ
22305 |  | A | Treat spine process fracture | 2.05 | 3.25 | 2.01 | 0.29 | 5.59 | 4.35 | 090
22310 |  | A | Treat spine fracture | 2.61 | 4.77 | 3.54 | 0.37 | 7.75 | 6.52 | 090
22315 |  | A | Treat spine fracture | 8.84 | NA | 9.32 | 1.37 | NA | 19.53 | 090
22318 |  | A | Treat odontoid fx w/o graft | 21.50 | NA | 15.02 | 4.26 | NA | 40.78 | 090
22319 |  | A | Treat odontoid fx w/graft | 24.00 | NA | 17.42 | 4.76 | NA | 46.18 | 090
22325 |  | A | Treat spine fracture | 18.30 | NA | 14.94 | 2.61 | NA | 35.85 | 090
22326 |  | A | Treat neck spine fracture | 19.59 | NA | 15.67 | 3.54 | NA | 38.80 | 090
22327 |  | A | Treat thorax spine fracture | 19.20 | NA | 15.43 | 2.75 | NA | 37.38 | 090
22328 |  | A | Treat each add spine fx | 4.61 | NA | 2.43 | 0.66 | NA | 7.70 | ZZZ
22505 |  | A | Manipulation of spine | 1.87 | 4.58 | 3.20 | 0.27 | 6.72 | 5.34 | 010
22520 |  | A | Percut vertebroplasty thor | 8.91 | NA | 4.15 | 0.99 | NA | 14.05 | 010
22521 |  | A | Percut vertebroplasty lumb | 8.34 | NA | 3.92 | 0.93 | NA | 13.19 | 010
22522 |  | A | Percut vertebroplasty addl | 4.31 | NA | 1.75 | 0.33 | NA | 6.39 | ZZZ
22548 |  | A | Neck spine fusion | 25.82 | NA | 18.08 | 4.98 | NA | 48.88 | 090
22554 |  | A | Neck spine fusion | 18.62 | NA | 13.94 | 3.51 | NA | 36.07 | 090
22556 |  | A | Thorax spine fusion | 23.46 | NA | 16.80 | 3.78 | NA | 44.04 | 090
22558 |  | A | Lumbar spine fusion | 22.28 | NA | 15.27 | 3.18 | NA | 40.73 | 090
22585 |  | A | Additional spinal fusion | 5.53 | NA | 2.94 | 0.98 | NA | 9.45 | ZZZ
22590 |  | A | Spine & skull spinal fusion | 20.51 | NA | 15.56 | 3.81 | NA | 39.88 | 090
22595 |  | A | Neck spinal fusion | 19.39 | NA | 14.58 | 3.62 | NA | 37.59 | 090
22600 |  | A | Neck spine fusion | 16.14 | NA | 12.66 | 2.89 | NA | 31.69 | 090
22610 |  | A | Thorax spine fusion | 16.02 | NA | 12.98 | 2.66 | NA | 31.66 | 090
22612 |  | A | Lumbar spine fusion | 21.00 | NA | 15.75 | 3.28 | NA | 40.03 | 090
22614 |  | A | Spine fusion, extra segment | 6.44 | NA | 3.54 | 1.04 | NA | 11.02 | ZZZ
22630 |  | A | Lumbar spine fusion | 20.84 | NA | 16.01 | 3.79 | NA | 40.64 | 090
22632 |  | A | Spine fusion, extra segment | 5.23 | NA | 2.75 | 0.90 | NA | 8.88 | ZZZ
22800 |  | A | Fusion of spine | 18.25 | NA | 14.30 | 2.71 | NA | 35.26 | 090
22802 |  | A | Fusion of spine | 30.88 | NA | 21.88 | 4.42 | NA | 57.18 | 090
22804 |  | A | Fusion of spine | 36.27 | NA | 24.48 | 5.23 | NA | 65.98 | 090
22808 |  | A | Fusion of spine | 26.27 | NA | 18.27 | 4.36 | NA | 48.90 | 090
22810 |  | A | Fusion of spine | 30.27 | NA | 19.63 | 4.49 | NA | 54.39 | 090
22812 |  | A | Fusion of spine | 32.70 | NA | 21.89 | 4.67 | NA | 59.26 | 090
22818 |  | A | Kyphectomy, 1-2 segments | 31.83 | NA | 21.69 | 5.01 | NA | 58.53 | 090
22819 |  | A | Kyphectomy, 3 or more | 36.44 | NA | 22.19 | 5.20 | NA | 63.83 | 090
22830 |  | A | Exploration of spinal fusion | 10.85 | NA | 10.05 | 1.73 | NA | 22.63 | 090
22840 |  | A | Insert spine fixation device | 12.54 | NA | 6.84 | 2.03 | NA | 21.41 | ZZZ
22841 |  | B | Insert spine fixation device | 0.00 | 0.00 | 0.00 | 0.00 | 0.00 | 0.00 | XXX
22842 |  | A | Insert spine fixation device | 12.58 | NA | 6.83 | 2.04 | NA | 21.45 | ZZZ
22843 |  | A | Insert spine fixation device | 13.46 | NA | 7.39 | 2.10 | NA | 22.95 | ZZZ
22844 |  | A | Insert spine fixation device | 16.44 | NA | 9.26 | 2.42 | NA | 28.12 | ZZZ
22845 |  | A | Insert spine fixation device | 11.96 | NA | 6.38 | 2.22 | NA | 20.56 | ZZZ
22846 |  | A | Insert spine fixation device | 12.42 | NA | 6.70 | 2.26 | NA | 21.38 | ZZZ
22847 |  | A | Insert spine fixation device | 13.80 | NA | 7.08 | 2.36 | NA | 23.24 | ZZZ
22848 |  | A | Insert pelv fixation device | 6.00 | NA | 3.38 | 0.88 | NA | 10.26 | ZZZ
22849 |  | A | Reinsert spinal fixation | 18.51 | NA | 14.22 | 2.87 | NA | 35.60 | 090
22850 |  | A | Remove spine fixation device | 9.52 | NA | 8.89 | 1.51 | NA | 19.92 | 090
22851 |  | A | Apply spine prosth device | 6.71 | NA | 3.54 | 1.11 | NA | 11.36 | ZZZ
22852 |  | A | Remove spine fixation device | 9.01 | NA | 8.60 | 1.40 | NA | 19.01 | 090
22855 |  | A | Remove spine fixation device | 15.13 | NA | 11.67 | 2.74 | NA | 29.54 | 090
22899 |  | C | Spine surgery procedure | 0.00 | 0.00 | 0.00 | 0.00 | 0.00 | 0.00 | YYY
22900 |  | A | Remove abdominal wall lesion | 5.80 | NA | 4.42 | 0.58 | NA | 10.80 | 090
22999 |  | C | Abdomen surgery procedure | 0.00 | 0.00 | 0.00 | 0.00 | 0.00 | 0.00 | YYY
23000 |  | A | Removal of calcium deposits | 4.36 | 9.04 | 6.97 | 0.50 | 13.90 | 11.83 | 090
23020 |  | A | Release shoulder joint | 8.93 | NA | 10.53 | 1.23 | NA | 20.69 | 090
23030 |  | A | Drain shoulder lesion | 3.43 | 6.40 | 4.44 | 0.42 | 10.25 | 8.29 | 010
23031 |  | A | Drain shoulder bursa | 2.74 | 5.80 | 4.16 | 0.33 | 8.87 | 7.23 | 010
23035 |  | A | Drain shoulder bone lesion | 8.61 | NA | 16.13 | 1.19 | NA | 25.93 | 090
23040 |  | A | Exploratory shoulder surgery | 9.20 | NA | 11.71 | 1.28 | NA | 22.19 | 090
23044 |  | A | Exploratory shoulder surgery | 7.12 | NA | 10.73 | 0.97 | NA | 18.82 | 090
23065 |  | A | Biopsy shoulder tissues | 2.27 | 2.61 | 1.34 | 0.14 | 5.02 | 3.75 | 010
23066 |  | A | Biopsy shoulder tissues | 4.16 | 8.34 | 6.16 | 0.50 | 13.00 | 10.82 | 090
23075 |  | A | Removal of shoulder lesion | 2.39 | 5.40 | 3.17 | 0.25 | 8.04 | 5.81 | 010
23076 |  | A | Removal of shoulder lesion | 7.63 | NA | 8.36 | 0.87 | NA | 16.86 | 090
23077 |  | A | Remove tumor of shoulder | 16.09 | NA | 14.41 | 1.81 | NA | 32.31 | 090
23100 |  | A | Biopsy of shoulder joint | 6.03 | NA | 8.73 | 0.81 | NA | 15.57 | 090
23101 |  | A | Shoulder joint surgery | 5.58 | NA | 8.63 | 0.77 | NA | 14.98 | 090
23105 |  | A | Remove shoulder joint lining | 8.23 | NA | 10.18 | 1.13 | NA | 19.54 | 090
23106 |  | A | Incision of collarbone joint | 5.96 | NA | 9.27 | 0.82 | NA | 16.05 | 090
23107 |  | A | Explore treat shoulder joint | 8.62 | NA | 10.41 | 1.19 | NA | 20.22 | 090
23120 |  | A | Partial removal, collar bone | 7.11 | NA | 9.55 | 0.99 | NA | 17.65 | 090
23125 |  | A | Removal of collar bone | 9.39 | NA | 10.78 | 1.27 | NA | 21.44 | 090
23130 |  | A | Remove shoulder bone, part | 7.55 | NA | 9.82 | 1.06 | NA | 18.43 | 090
23140 |  | A | Removal of bone lesion | 6.89 | NA | 8.31 | 0.82 | NA | 16.02 | 090
23145 |  | A | Removal of bone lesion | 9.09 | NA | 10.87 | 1.24 | NA | 21.20 | 090
23146 |  | A | Removal of bone lesion | 7.83 | NA | 10.70 | 1.11 | NA | 19.64 | 090
23150 |  | A | Removal of humerus lesion | 8.48 | NA | 10.14 | 1.14 | NA | 19.76 | 090
23155 |  | A | Removal of humerus lesion | 10.35 | NA | 12.33 | 1.20 | NA | 23.88 | 090
23156 |  | A | Removal of humerus lesion | 8.68 | NA | 10.45 | 1.18 | NA | 20.31 | 090
23170 |  | A | Remove collar bone lesion | 6.86 | NA | 11.33 | 0.84 | NA | 19.03 | 090
23172 |  | A | Remove shoulder blade lesion | 6.90 | NA | 9.59 | 0.95 | NA | 17.44 | 090
23174 |  | A | Remove humerus lesion | 9.51 | NA | 11.74 | 1.30 | NA | 22.55 | 090
23180 |  | A | Remove collar bone lesion | 8.53 | NA | 16.16 | 1.18 | NA | 25.87 | 090
23182 |  | A | Remove shoulder blade lesion | 8.15 | NA | 16.18 | 1.08 | NA | 25.41 | 090
23184 |  | A | Remove humerus lesion | 9.38 | NA | 16.43 | 1.24 | NA | 27.05 | 090
23190 |  | A | Partial removal of scapula | 7.24 | NA | 8.74 | 0.97 | NA | 16.95 | 090
23195 |  | A | Removal of head of humerus | 9.81 | NA | 10.03 | 1.38 | NA | 21.22 | 090
23200 |  | A | Removal of collar bone | 12.08 | NA | 14.39 | 1.48 | NA | 27.95 | 090
23210 |  | A | Removal of shoulder blade | 12.49 | NA | 13.96 | 1.61 | NA | 28.06 | 090
23220 |  | A | Partial removal of humerus | 14.56 | NA | 15.57 | 2.03 | NA | 32.16 | 090
23221 |  | A | Partial removal of humerus | 17.74 | NA | 16.93 | 2.51 | NA | 37.18 | 090
23222 |  | A | Partial removal of humerus | 23.92 | NA | 20.66 | 3.37 | NA | 47.95 | 090
23330 |  | A | Remove shoulder foreign body | 1.85 | 6.15 | 3.49 | 0.18 | 8.18 | 5.52 | 010
23331 |  | A | Remove shoulder foreign body | 7.38 | NA | 9.70 | 1.02 | NA | 18.10 | 090
23332 |  | A | Remove shoulder foreign body | 11.62 | NA | 12.12 | 1.62 | NA | 25.36 | 090
23350 |  | A | Injection for shoulder x-ray | 1.00 | 7.22 | 0.35 | 0.05 | 8.27 | 1.40 | 000
23395 |  | A | Muscle transfer, shoulder/arm | 16.85 | NA | 14.09 | 2.29 | NA | 33.23 | 090
23397 |  | A | Muscle transfers | 16.13 | NA | 13.86 | 2.24 | NA | 32.23 | 090
23400 |  | A | Fixation of shoulder blade | 13.54 | NA | 14.52 | 1.91 | NA | 29.97 | 090
23405 |  | A | Incision of tendon & muscle | 8.37 | NA | 9.66 | 1.12 | NA | 19.15 | 090
23406 |  | A | Incise tendon(s) & muscle(s) | 10.79 | NA | 11.55 | 1.48 | NA | 23.82 | 090
23410 |  | A | Repair of tendon(s) | 12.45 | NA | 12.55 | 1.72 | NA | 26.72 | 090
23412 |  | A | Repair of tendon(s) | 13.31 | NA | 13.05 | 1.86 | NA | 28.22 | 090
23415 |  | A | Release of shoulder ligament | 9.97 | NA | 10.22 | 1.39 | NA | 21.58 | 090
23420 |  | A | Repair of shoulder | 13.30 | NA | 13.94 | 1.86 | NA | 29.10 | 090
23430 |  | A | Repair biceps tendon | 9.98 | NA | 11.15 | 1.40 | NA | 22.53 | 090
23440 |  | A | Remove/transplant tendon | 10.48 | NA | 11.54 | 1.47 | NA | 23.49 | 090
23450 |  | A | Repair shoulder capsule | 13.40 | NA | 13.02 | 1.86 | NA | 28.28 | 090
23455 |  | A | Repair shoulder capsule | 14.37 | NA | 13.62 | 2.01 | NA | 30.00 | 090
23460 |  | A | Repair shoulder capsule | 15.37 | NA | 14.21 | 2.17 | NA | 31.75 | 090
23462 |  | A | Repair shoulder capsule | 15.30 | NA | 13.68 | 2.16 | NA | 31.14 | 090
23465 |  | A | Repair shoulder capsule | 15.85 | NA | 14.47 | 1.61 | NA | 31.93 | 090
23466 |  | A | Repair shoulder capsule | 14.22 | NA | 13.63 | 2.00 | NA | 29.85 | 090
23470 |  | A | Reconstruct shoulder joint | 17.15 | NA | 15.16 | 2.40 | NA | 34.71 | 090
23472 |  | A | Reconstruct shoulder joint | 21.10 | NA | 17.40 | 2.37 | NA | 40.87 | 090
23480 |  | A | Revision of collar bone | 11.18 | NA | 11.94 | 1.56 | NA | 24.68 | 090
23485 |  | A | Revision of collar bone | 13.43 | NA | 13.10 | 1.84 | NA | 28.37 | 090
23490 |  | A | Reinforce clavicle | 11.86 | NA | 13.74 | 1.11 | NA | 26.71 | 090
23491 |  | A | Reinforce shoulder bones | 14.21 | NA | 13.54 | 2.00 | NA | 29.75 | 090
23500 |  | A | Treat clavicle fracture | 2.08 | 3.87 | 2.60 | 0.26 | 6.21 | 4.94 | 090
23505 |  | A | Treat clavicle fracture | 3.69 | 5.98 | 4.02 | 0.50 | 10.17 | 8.21 | 090
23515 |  | A | Treat clavicle fracture | 7.41 | NA | 8.24 | 1.03 | NA | 16.68 | 090
23520 |  | A | Treat clavicle dislocation | 2.16 | 3.91 | 2.67 | 0.26 | 6.33 | 5.09 | 090
23525 |  | A | Treat clavicle dislocation | 3.60 | 7.16 | 4.08 | 0.44 | 11.20 | 8.12 | 090
23530 |  | A | Treat clavicle dislocation | 7.31 | NA | 7.94 | 0.85 | NA | 16.10 | 090
23532 |  | A | Treat clavicle dislocation | 8.01 | NA | 8.67 | 1.13 | NA | 17.81 | 090
23540 |  | A | Treat clavicle dislocation | 2.23 | 4.56 | 2.63 | 0.24 | 7.03 | 5.10 | 090
23545 |  | A | Treat clavicle dislocation | 3.25 | 4.99 | 3.65 | 0.39 | 8.63 | 7.29 | 090
23550 |  | A | Treat clavicle dislocation | 7.24 | NA | 8.29 | 0.94 | NA | 16.47 | 090
23552 |  | A | Treat clavicle dislocation | 8.45 | NA | 8.82 | 1.18 | NA | 18.45 | 090
23570 |  | A | Treat shoulder blade fx | 2.23 | 3.84 | 2.70 | 0.29 | 6.36 | 5.22 | 090
23575 |  | A | Treat shoulder blade fx | 4.06 | 6.22 | 4.18 | 0.53 | 10.81 | 8.77 | 090
23585 |  | A | Treat scapula fracture | 8.96 | NA | 9.31 | 1.25 | NA | 19.52 | 090
23600 |  | A | Treat humerus fracture | 2.93 | 5.65 | 3.71 | 0.39 | 8.97 | 7.03 | 090
23605 |  | A | Treat humerus fracture | 4.87 | 8.32 | 6.55 | 0.67 | 13.86 | 12.09 | 090
23615 |  | A | Treat humerus fracture | 9.35 | NA | 10.19 | 1.31 | NA | 20.85 | 090
23616 |  | A | Treat humerus fracture | 21.27 | NA | 16.26 | 2.98 | NA | 40.51 | 090
23620 |  | A | Treat humerus fracture | 2.40 | 5.35 | 3.43 | 0.32 | 8.07 | 6.15 | 090
23625 |  | A | Treat humerus fracture | 3.93 | 7.35 | 5.57 | 0.53 | 11.81 | 10.03 | 090
23630 |  | A | Treat humerus fracture | 7.35 | NA | 8.20 | 1.03 | NA | 16.58 | 090
23650 |  | A | Treat shoulder dislocation | 3.39 | 5.58 | 3.67 | 0.31 | 9.28 | 7.37 | 090
23655 |  | A | Treat shoulder dislocation | 4.57 | NA | 4.39 | 0.52 | NA | 9.48 | 090
23660 |  | A | Treat shoulder dislocation | 7.49 | NA | 8.27 | 1.01 | NA | 16.77 | 090
23665 |  | A | Treat dislocation/fracture | 4.47 | 7.68 | 5.81 | 0.60 | 12.75 | 10.88 | 090
23670 |  | A | Treat dislocation/fracture | 7.90 | NA | 8.72 | 1.10 | NA | 17.72 | 090
23675 |  | A | Treat dislocation/fracture | 6.05 | 8.22 | 6.71 | 0.83 | 15.10 | 13.59 | 090
23680 |  | A | Treat dislocation/fracture | 10.06 | NA | 9.89 | 1.39 | NA | 21.34 | 090
23700 |  | A | Fixation of shoulder | 2.52 | NA | 3.48 | 0.35 | NA | 6.35 | 010
23800 |  | A | Fusion of shoulder joint | 14.16 | NA | 14.28 | 1.97 | NA | 30.41 | 090
23802 |  | A | Fusion of shoulder joint | 16.60 | NA | 15.83 | 2.34 | NA | 34.77 | 090
23900 |  | A | Amputation of arm & girdle | 19.72 | NA | 16.35 | 2.47 | NA | 38.54 | 090
23920 |  | A | Amputation at shoulder joint | 14.61 | NA | 13.70 | 1.92 | NA | 30.23 | 090
23921 |  | A | Amputation follow-up surgery | 5.49 | NA | 6.67 | 0.78 | NA | 12.94 | 090
23929 |  | C | Shoulder surgery procedure | 0.00 | 0.00 | 0.00 | 0.00 | 0.00 | 0.00 | YYY
23930 |  | A | Drainage of arm lesion | 2.94 | 6.10 | 4.01 | 0.32 | 9.36 | 7.27 | 010
23931 |  | A | Drainage of arm bursa | 1.79 | 5.76 | 3.74 | 0.21 | 7.76 | 5.74 | 010
23935 |  | A | Drain arm/elbow bone lesion | 6.09 | NA | 12.90 | 0.84 | NA | 19.83 | 090
24000 |  | A | Exploratory elbow surgery | 5.82 | NA | 6.06 | 0.77 | NA | 12.65 | 090
24006 |  | A | Release elbow joint | 9.31 | NA | 8.64 | 1.27 | NA | 19.22 | 090
24065 |  | A | Biopsy arm/elbow soft tissue | 2.08 | 5.50 | 3.25 | 0.14 | 7.72 | 5.47 | 010
24066 |  | A | Biopsy arm/elbow soft tissue | 5.21 | 8.48 | 6.40 | 0.61 | 14.30 | 12.22 | 090
24075 |  | A | Remove arm/elbow lesion | 3.92 | 7.80 | 5.91 | 0.43 | 12.15 | 10.26 | 090
24076 |  | A | Remove arm/elbow lesion | 6.30 | NA | 7.39 | 0.70 | NA | 14.39 | 090
24077 |  | A | Remove tumor of arm/elbow | 11.76 | NA | 14.23 | 1.32 | NA | 27.31 | 090
24100 |  | A | Biopsy elbow joint lining | 4.93 | NA | 5.83 | 0.62 | NA | 11.38 | 090
24101 |  | A | Explore/treat elbow joint | 6.13 | NA | 6.82 | 0.84 | NA | 13.79 | 090
24102 |  | A | Remove elbow joint lining | 8.03 | NA | 7.81 | 1.09 | NA | 16.93 | 090
24105 |  | A | Removal of elbow bursa | 3.61 | NA | 5.26 | 0.49 | NA | 9.36 | 090
24110 |  | A | Remove humerus lesion | 7.39 | NA | 9.75 | 0.99 | NA | 18.13 | 090
24115 |  | A | Remove/graft bone lesion | 9.63 | NA | 10.80 | 1.15 | NA | 21.58 | 090
24116 |  | A | Remove/graft bone lesion | 11.81 | NA | 12.20 | 1.66 | NA | 25.67 | 090
24120 |  | A | Remove elbow lesion | 6.65 | NA | 6.96 | 0.87 | NA | 14.48 | 090
24125 |  | A | Remove/graft bone lesion | 7.89 | NA | 6.67 | 0.88 | NA | 15.44 | 090
24126 |  | A | Remove/graft bone lesion | 8.31 | NA | 7.79 | 0.90 | NA | 17.00 | 090
24130 |  | A | Removal of head of radius | 6.25 | NA | 6.91 | 0.87 | NA | 14.03 | 090
24134 |  | A | Removal of arm bone lesion | 9.73 | NA | 16.50 | 1.31 | NA | 27.54 | 090
24136 |  | A | Remove radius bone lesion | 7.99 | NA | 7.09 | 0.85 | NA | 15.93 | 090
24138 |  | A | Remove elbow bone lesion | 8.05 | NA | 8.06 | 1.12 | NA | 17.23 | 090
24140 |  | A | Partial removal of arm bone | 9.18 | NA | 16.67 | 1.23 | NA | 27.08 | 090
24145 |  | A | Partial removal of radius | 7.58 | NA | 11.43 | 1.01 | NA | 20.02 | 090
24147 |  | A | Partial removal of elbow | 7.54 | NA | 11.40 | 1.04 | NA | 19.98 | 090
24149 |  | A | Radical resection of elbow | 14.20 | NA | 11.28 | 1.90 | NA | 27.38 | 090
24150 |  | A | Extensive humerus surgery | 13.27 | NA | 14.92 | 1.81 | NA | 30.00 | 090
24151 |  | A | Extensive humerus surgery | 15.58 | NA | 16.64 | 2.19 | NA | 34.41 | 090
24152 |  | A | Extensive radius surgery | 10.06 | NA | 9.96 | 1.19 | NA | 21.21 | 090
24153 |  | A | Extensive radius surgery | 11.54 | NA | 7.55 | 0.64 | NA | 19.73 | 090
24155 |  | A | Removal of elbow joint | 11.73 | NA | 9.66 | 1.42 | NA | 22.81 | 090
24160 |  | A | Remove elbow joint implant | 7.83 | NA | 7.77 | 1.07 | NA | 16.67 | 090
24164 |  | A | Remove radius head implant | 6.23 | NA | 6.93 | 0.84 | NA | 14.00 | 090
24200 |  | A | Removal of arm foreign body | 1.76 | 5.80 | 3.25 | 0.15 | 7.71 | 5.16 | 010
24201 |  | A | Removal of arm foreign body | 4.56 | 8.42 | 6.97 | 0.56 | 13.54 | 12.09 | 090
24220 |  | A | Injection for elbow x-ray | 1.31 | 11.16 | 0.47 | 0.07 | 12.54 | 1.85 | 000
24300 |  | A | Manipulate elbow w/anesth | 3.75 | NA | 5.46 | 0.52 | NA | 9.73 | 090
24301 |  | A | Muscle/tendon transfer | 10.20 | NA | 9.11 | 1.30 | NA | 20.61 | 090
24305 |  | A | Arm tendon lengthening | 7.45 | NA | 7.70 | 0.98 | NA | 16.13 | 090
24310 |  | A | Revision of arm tendon | 5.98 | NA | 8.43 | 0.74 | NA | 15.15 | 090
24320 |  | A | Repair of arm tendon | 10.56 | NA | 11.29 | 1.00 | NA | 22.85 | 090
24330 |  | A | Revision of arm muscles | 9.60 | NA | 8.79 | 1.21 | NA | 19.60 | 090
24331 |  | A | Revision of arm muscles | 10.65 | NA | 9.25 | 1.41 | NA | 21.31 | 090
24332 |  | A | Tenolysis, triceps | 7.45 | NA | 5.23 | 0.77 | NA | 13.45 | 090
24340 |  | A | Repair of biceps tendon | 7.89 | NA | 7.74 | 1.08 | NA | 16.71 | 090
24341 |  | A | Repair arm tendon/muscle | 7.90 | NA | 7.85 | 1.08 | NA | 16.83 | 090
24342 |  | A | Repair of ruptured tendon | 10.62 | NA | 9.37 | 1.48 | NA | 21.47 | 090
24343 |  | A | Repr elbow lat ligmnt w/tiss | 8.65 | NA | 7.91 | 1.21 | NA | 17.77 | 090
24344 |  | A | Reconstruct elbow lat ligmnt | 14.00 | NA | 10.87 | 1.95 | NA | 26.82 | 090
24345 |  | A | Repr elbw med ligmnt w/tiss | 8.65 | NA | 7.91 | 1.21 | NA | 17.77 | 090
24346 |  | A | Reconstruct elbow med ligmnt | 14.00 | NA | 10.87 | 1.95 | NA | 26.82 | 090
24350 |  | A | Repair of tennis elbow | 5.25 | NA | 6.25 | 0.72 | NA | 12.22 | 090
24351 |  | A | Repair of tennis elbow | 5.91 | NA | 6.72 | 0.82 | NA | 13.45 | 090
24352 |  | A | Repair of tennis elbow | 6.43 | NA | 7.01 | 0.90 | NA | 14.34 | 090
24354 |  | A | Repair of tennis elbow | 6.48 | NA | 6.85 | 0.88 | NA | 14.21 | 090
24356 |  | A | Revision of tennis elbow | 6.68 | NA | 7.21 | 0.90 | NA | 14.79 | 090
24360 |  | A | Reconstruct elbow joint | 12.34 | NA | 10.26 | 1.69 | NA | 24.29 | 090
24361 |  | A | Reconstruct elbow joint | 14.08 | NA | 11.30 | 1.95 | NA | 27.33 | 090
24362 |  | A | Reconstruct elbow joint | 14.99 | NA | 11.30 | 1.92 | NA | 28.21 | 090
24363 |  | A | Replace elbow joint | 18.49 | NA | 13.80 | 2.52 | NA | 34.81 | 090
24365 |  | A | Reconstruct head of radius | 8.39 | NA | 7.96 | 1.11 | NA | 17.46 | 090
24366 |  | A | Reconstruct head of radius | 9.13 | NA | 8.48 | 1.28 | NA | 18.89 | 090
24400 |  | A | Revision of humerus | 11.06 | NA | 12.48 | 1.53 | NA | 25.07 | 090
24410 |  | A | Revision of humerus | 14.82 | NA | 13.75 | 1.89 | NA | 30.46 | 090
24420 |  | A | Revision of humerus | 13.44 | NA | 16.08 | 1.82 | NA | 31.34 | 090
24430 |  | A | Repair of humerus | 12.81 | NA | 12.88 | 1.80 | NA | 27.49 | 090
24435 |  | A | Repair humerus with graft | 13.17 | NA | 13.98 | 1.84 | NA | 28.99 | 090
24470 |  | A | Revision of elbow joint | 8.74 | NA | 6.59 | 1.23 | NA | 16.56 | 090
24495 |  | A | Decompression of forearm | 8.12 | NA | 10.33 | 0.92 | NA | 19.37 | 090
24498 |  | A | Reinforce humerus | 11.92 | NA | 12.31 | 1.67 | NA | 25.90 | 090
24500 |  | A | Treat humerus fracture | 3.21 | 5.09 | 3.38 | 0.41 | 8.71 | 7.00 | 090
24505 |  | A | Treat humerus fracture | 5.17 | 8.88 | 6.81 | 0.72 | 14.77 | 12.70 | 090
24515 |  | A | Treat humerus fracture | 11.65 | NA | 11.40 | 1.63 | NA | 24.68 | 090
24516 |  | A | Treat humerus fracture | 11.65 | NA | 11.85 | 1.63 | NA | 25.13 | 090
24530 |  | A | Treat humerus fracture | 3.50 | 6.19 | 4.86 | 0.47 | 10.16 | 8.83 | 090
24535 |  | A | Treat humerus fracture | 6.87 | 8.81 | 6.72 | 0.96 | 16.64 | 14.55 | 090
24538 |  | A | Treat humerus fracture | 9.43 | NA | 10.61 | 1.25 | NA | 21.29 | 090
24545 |  | A | Treat humerus fracture | 10.46 | NA | 10.18 | 1.47 | NA | 22.11 | 090
24546 |  | A | Treat humerus fracture | 15.69 | NA | 13.69 | 2.18 | NA | 31.56 | 090
24560 |  | A | Treat humerus fracture | 2.80 | 4.87 | 3.23 | 0.35 | 8.02 | 6.38 | 090
24565 |  | A | Treat humerus fracture | 5.56 | 8.09 | 5.82 | 0.74 | 14.39 | 12.12 | 090
24566 |  | A | Treat humerus fracture | 7.79 | NA | 9.96 | 1.10 | NA | 18.85 | 090
24575 |  | A | Treat humerus fracture | 10.66 | NA | 8.49 | 1.44 | NA | 20.59 | 090
24576 |  | A | Treat humerus fracture | 2.86 | 4.62 | 3.26 | 0.38 | 7.86 | 6.50 | 090
24577 |  | A | Treat humerus fracture | 5.79 | 8.22 | 6.13 | 0.81 | 14.82 | 12.73 | 090
24579 |  | A | Treat humerus fracture | 11.60 | NA | 11.32 | 1.62 | NA | 24.54 | 090
24582 |  | A | Treat humerus fracture | 8.55 | NA | 10.46 | 1.20 | NA | 20.21 | 090
24586 |  | A | Treat elbow fracture | 15.21 | NA | 11.23 | 2.12 | NA | 28.56 | 090
24587 |  | A | Treat elbow fracture | 15.16 | NA | 11.13 | 2.14 | NA | 28.43 | 090
24600 |  | A | Treat elbow dislocation | 4.23 | 6.82 | 5.12 | 0.49 | 11.54 | 9.84 | 090
24605 |  | A | Treat elbow dislocation | 5.42 | NA | 5.02 | 0.72 | NA | 11.16 | 090
24615 |  | A | Treat elbow dislocation | 9.42 | NA | 7.94 | 1.31 | NA | 18.67 | 090
24620 |  | A | Treat elbow fracture | 6.98 | NA | 6.63 | 0.90 | NA | 14.51 | 090
24635 |  | A | Treat elbow fracture | 13.19 | NA | 16.55 | 1.84 | NA | 31.58 | 090
24640 |  | A | Treat elbow dislocation | 1.20 | 3.35 | 1.88 | 0.11 | 4.66 | 3.19 | 010
24650 |  | A | Treat radius fracture | 2.16 | 4.55 | 2.92 | 0.28 | 6.99 | 5.36 | 090
24655 |  | A | Treat radius fracture | 4.40 | 7.33 | 5.22 | 0.58 | 12.31 | 10.20 | 090
24665 |  | A | Treat radius fracture | 8.14 | NA | 9.40 | 1.13 | NA | 18.67 | 090
24666 |  | A | Treat radius fracture | 9.49 | NA | 10.18 | 1.32 | NA | 20.99 | 090
24670 |  | A | Treat ulnar fracture | 2.54 | 4.49 | 3.10 | 0.33 | 7.36 | 5.97 | 090
24675 |  | A | Treat ulnar fracture | 4.72 | 7.55 | 5.49 | 0.65 | 12.92 | 10.86 | 090
24685 |  | A | Treat ulnar fracture | 8.80 | NA | 9.79 | 1.23 | NA | 19.82 | 090
24800 |  | A | Fusion of elbow joint | 11.20 | NA | 9.90 | 1.41 | NA | 22.51 | 090
24802 |  | A | Fusion/graft of elbow joint | 13.69 | NA | 11.50 | 1.89 | NA | 27.08 | 090
24900 |  | A | Amputation of upper arm | 9.60 | NA | 11.37 | 1.18 | NA | 22.15 | 090
24920 |  | A | Amputation of upper arm | 9.54 | NA | 13.96 | 1.22 | NA | 24.72 | 090
24925 |  | A | Amputation follow-up surgery | 7.07 | NA | 9.64 | 0.95 | NA | 17.66 | 090
24930 |  | A | Amputation follow-up surgery | 10.25 | NA | 10.86 | 1.23 | NA | 22.34 | 090
24931 |  | A | Amputate upper arm & implant | 12.72 | NA | 11.63 | 1.56 | NA | 25.91 | 090
24935 |  | A | Revision of amputation | 15.56 | NA | 13.22 | 1.58 | NA | 30.36 | 090
24940 |  | C | Revision of upper arm | 0.00 | 0.00 | 0.00 | 0.00 | 0.00 | 0.00 | 090
24999 |  | C | Upper arm/elbow surgery | 0.00 | 0.00 | 0.00 | 0.00 | 0.00 | 0.00 | YYY
25000 |  | A | Incision of tendon sheath | 3.38 | NA | 7.49 | 0.45 | NA | 11.32 | 090
25001 |  | A | Incise flexor carpi radialis | 3.38 | NA | 4.30 | 0.45 | NA | 8.13 | 090
25020 |  | A | Decompress forearm 1 space | 5.92 | NA | 11.49 | 0.75 | NA | 18.16 | 090
25023 |  | A | Decompress forearm 1 space | 12.96 | NA | 17.50 | 1.50 | NA | 31.96 | 090
25024 |  | A | Decompress forearm 2 spaces | 9.50 | NA | 8.17 | 1.20 | NA | 18.87 | 090
25025 |  | A | Decompress forearm 2 spaces | 16.54 | NA | 12.05 | 1.91 | NA | 30.50 | 090
25028 |  | A | Drainage of forearm lesion | 5.25 | NA | 10.20 | 0.61 | NA | 16.06 | 090
25031 |  | A | Drainage of forearm bursa | 4.14 | NA | 10.24 | 0.50 | NA | 14.88 | 090
25035 |  | A | Treat forearm bone lesion | 7.36 | NA | 16.18 | 0.98 | NA | 24.52 | 090
25040 |  | A | Explore/treat wrist joint | 7.18 | NA | 9.40 | 0.96 | NA | 17.54 | 090
25065 |  | A | Biopsy forearm soft tissues | 1.99 | 2.53 | 2.53 | 0.12 | 4.64 | 4.64 | 010
25066 |  | A | Biopsy forearm soft tissues | 4.13 | NA | 8.40 | 0.49 | NA | 13.02 | 090
25075 |  | A | Remove forearm lesion subcut | 3.74 | NA | 7.13 | 0.40 | NA | 11.27 | 090
25076 |  | A | Remove forearm lesion deep | 4.92 | NA | 12.68 | 0.59 | NA | 18.19 | 090
25077 |  | A | Remove tumor, forearm/wrist | 9.76 | NA | 15.66 | 1.10 | NA | 26.52 | 090
25085 |  | A | Incision of wrist capsule | 5.50 | NA | 11.29 | 0.71 | NA | 17.50 | 090
25100 |  | A | Biopsy of wrist joint | 3.90 | NA | 7.99 | 0.50 | NA | 12.39 | 090
25101 |  | A | Explore/treat wrist joint | 4.69 | NA | 7.75 | 0.60 | NA | 13.04 | 090
25105 |  | A | Remove wrist joint lining | 5.85 | NA | 11.22 | 0.77 | NA | 17.84 | 090
25107 |  | A | Remove wrist joint cartilage | 6.43 | NA | 11.41 | 0.82 | NA | 18.66 | 090
25110 |  | A | Remove wrist tendon lesion | 3.92 | NA | 8.94 | 0.48 | NA | 13.34 | 090
25111 |  | A | Remove wrist tendon lesion | 3.39 | NA | 6.70 | 0.42 | NA | 10.51 | 090
25112 |  | A | Reremove wrist tendon lesion | 4.53 | NA | 7.43 | 0.54 | NA | 12.50 | 090
25115 |  | A | Remove wrist/forearm lesion | 8.82 | NA | 17.19 | 1.11 | NA | 27.12 | 090
25116 |  | A | Remove wrist/forearm lesion | 7.11 | NA | 16.20 | 0.90 | NA | 24.21 | 090
25118 |  | A | Excise wrist tendon sheath | 4.37 | NA | 7.93 | 0.55 | NA | 12.85 | 090
25119 |  | A | Partial removal of ulna | 6.04 | NA | 11.45 | 0.80 | NA | 18.29 | 090
25120 |  | A | Removal of forearm lesion | 6.10 | NA | 14.87 | 0.81 | NA | 21.78 | 090
25125 |  | A | Remove/graft forearm lesion | 7.48 | NA | 16.11 | 1.02 | NA | 24.61 | 090
25126 |  | A | Remove/graft forearm lesion | 7.55 | NA | 15.76 | 1.00 | NA | 24.31 | 090
25130 |  | A | Removal of wrist lesion | 5.26 | NA | 8.33 | 0.66 | NA | 14.25 | 090
25135 |  | A | Remove & graft wrist lesion | 6.89 | NA | 9.00 | 0.89 | NA | 16.78 | 090
25136 |  | A | Remove & graft wrist lesion | 5.97 | NA | 9.26 | 0.58 | NA | 15.81 | 090
25145 |  | A | Remove forearm bone lesion | 6.37 | NA | 15.43 | 0.82 | NA | 22.62 | 090
25150 |  | A | Partial removal of ulna | 7.09 | NA | 12.00 | 0.96 | NA | 20.05 | 090
25151 |  | A | Partial removal of radius | 7.39 | NA | 16.22 | 0.93 | NA | 24.54 | 090
25170 |  | A | Extensive forearm surgery | 11.09 | NA | 17.56 | 1.52 | NA | 30.17 | 090
25210 |  | A | Removal of wrist bone | 5.95 | NA | 8.71 | 0.73 | NA | 15.39 | 090
25215 |  | A | Removal of wrist bones | 7.89 | NA | 12.27 | 1.02 | NA | 21.18 | 090
25230 |  | A | Partial removal of radius | 5.23 | NA | 8.23 | 0.66 | NA | 14.12 | 090
25240 |  | A | Partial removal of ulna | 5.17 | NA | 10.78 | 0.69 | NA | 16.64 | 090
25246 |  | A | Injection for wrist x-ray | 1.45 | 10.20 | 0.52 | 0.07 | 11.72 | 2.04 | 000
25248 |  | A | Remove forearm foreign body | 5.14 | NA | 10.66 | 0.54 | NA | 16.34 | 090
25250 |  | A | Removal of wrist prosthesis | 6.60 | NA | 8.91 | 0.84 | NA | 16.35 | 090
25251 |  | A | Removal of wrist prosthesis | 9.57 | NA | 12.52 | 1.15 | NA | 23.24 | 090
25259 |  | A | Manipulate wrist w/anesthes | 3.75 | NA | 5.35 | 0.52 | NA | 9.62 | 090
25260 |  | A | Repair forearm tendon/muscle | 7.80 | NA | 17.11 | 0.97 | NA | 25.88 | 090
25263 |  | A | Repair forearm tendon/muscle | 7.82 | NA | 15.65 | 0.94 | NA | 24.41 | 090
25265 |  | A | Repair forearm tendon/muscle | 9.88 | NA | 17.11 | 1.19 | NA | 28.18 | 090
25270 |  | A | Repair forearm tendon/muscle | 6.00 | NA | 16.04 | 0.76 | NA | 22.80 | 090
25272 |  | A | Repair forearm tendon/muscle | 7.04 | NA | 16.50 | 0.89 | NA | 24.43 | 090
25274 |  | A | Repair forearm tendon/muscle | 8.75 | NA | 17.36 | 1.11 | NA | 27.22 | 090
25275 |  | A | Repair forearm tendon sheath | 8.50 | NA | 7.53 | 1.11 | NA | 17.14 | 090
25280 |  | A | Revise wrist/forearm tendon | 7.22 | NA | 15.80 | 0.91 | NA | 23.93 | 090
25290 |  | A | Incise wrist/forearm tendon | 5.29 | NA | 18.17 | 0.66 | NA | 24.12 | 090
25295 |  | A | Release wrist/forearm tendon | 6.55 | NA | 15.16 | 0.84 | NA | 22.55 | 090
25300 |  | A | Fusion of tendons at wrist | 8.80 | NA | 10.02 | 1.07 | NA | 19.89 | 090
25301 |  | A | Fusion of tendons at wrist | 8.40 | NA | 10.15 | 1.08 | NA | 19.63 | 090
25310 |  | A | Transplant forearm tendon | 8.14 | NA | 16.47 | 1.01 | NA | 25.62 | 090
25312 |  | A | Transplant forearm tendon | 9.57 | NA | 17.24 | 1.22 | NA | 28.03 | 090
25315 |  | A | Revise palsy hand tendon(s) | 10.20 | NA | 18.59 | 1.26 | NA | 30.05 | 090
25316 |  | A | Revise palsy hand tendon(s) | 12.33 | NA | 18.40 | 1.74 | NA | 32.47 | 090
25320 |  | A | Repair/revise wrist joint | 10.77 | NA | 11.53 | 1.32 | NA | 23.62 | 090
25332 |  | A | Revise wrist joint | 11.41 | NA | 11.89 | 1.46 | NA | 24.76 | 090
25335 |  | A | Realignment of hand | 12.88 | NA | 13.60 | 1.66 | NA | 28.14 | 090
25337 |  | A | Reconstruct ulna/radioulnar | 10.17 | NA | 13.80 | 1.31 | NA | 25.28 | 090
25350 |  | A | Revision of radius | 8.78 | NA | 16.68 | 1.17 | NA | 26.63 | 090
25355 |  | A | Revision of radius | 10.17 | NA | 17.17 | 1.44 | NA | 28.78 | 090
25360 |  | A | Revision of ulna | 8.43 | NA | 16.86 | 1.17 | NA | 26.46 | 090
25365 |  | A | Revise radius & ulna | 12.40 | NA | 18.74 | 1.67 | NA | 32.81 | 090
25370 |  | A | Revise radius or ulna | 13.36 | NA | 17.84 | 1.88 | NA | 33.08 | 090
25375 |  | A | Revise radius & ulna | 13.04 | NA | 16.44 | 1.84 | NA | 31.32 | 090
25390 |  | A | Shorten radius or ulna | 10.40 | NA | 17.38 | 1.38 | NA | 29.16 | 090
25391 |  | A | Lengthen radius or ulna | 13.65 | NA | 19.01 | 1.73 | NA | 34.39 | 090
25392 |  | A | Shorten radius & ulna | 13.95 | NA | 15.59 | 1.73 | NA | 31.27 | 090
25393 |  | A | Lengthen radius & ulna | 15.87 | NA | 21.72 | 1.87 | NA | 39.46 | 090
25394 |  | A | Repair carpal bone, shorten | 10.40 | NA | 8.43 | 1.15 | NA | 19.98 | 090
25400 |  | A | Repair radius or ulna | 10.92 | NA | 17.98 | 1.50 | NA | 30.40 | 090
25405 |  | A | Repair/graft radius or ulna | 14.38 | NA | 20.38 | 1.95 | NA | 36.71 | 090
25415 |  | A | Repair radius & ulna | 13.35 | NA | 19.14 | 1.87 | NA | 34.36 | 090
25420 |  | A | Repair/graft radius & ulna | 16.33 | NA | 21.72 | 2.20 | NA | 40.25 | 090
25425 |  | A | Repair/graft radius or ulna | 13.21 | NA | 24.75 | 1.61 | NA | 39.57 | 090
25426 |  | A | Repair/graft radius & ulna | 15.82 | NA | 18.15 | 2.23 | NA | 36.20 | 090
25430 |  | A | Vasc graft into carpal bone | 9.25 | NA | 7.82 | 0.56 | NA | 17.63 | 090
25431 |  | A | Repair nonunion carpal bone | 10.44 | NA | 6.42 | 0.56 | NA | 17.42 | 090
25440 |  | A | Repair/graft wrist bone | 10.44 | NA | 11.05 | 1.41 | NA | 22.90 | 090
25441 |  | A | Reconstruct wrist joint | 12.90 | NA | 12.24 | 1.83 | NA | 26.97 | 090
25442 |  | A | Reconstruct wrist joint | 10.85 | NA | 11.46 | 1.24 | NA | 23.55 | 090
25443 |  | A | Reconstruct wrist joint | 10.39 | NA | 13.29 | 1.30 | NA | 24.98 | 090
25444 |  | A | Reconstruct wrist joint | 11.15 | NA | 14.29 | 1.43 | NA | 26.87 | 090
25445 |  | A | Reconstruct wrist joint | 9.69 | NA | 13.50 | 1.26 | NA | 24.45 | 090
25446 |  | A | Wrist replacement | 16.55 | NA | 14.45 | 2.20 | NA | 33.20 | 090
25447 |  | A | Repair wrist joint(s) | 10.37 | NA | 11.27 | 1.34 | NA | 22.98 | 090
25449 |  | A | Remove wrist joint implant | 14.49 | NA | 16.20 | 1.77 | NA | 32.46 | 090
25450 |  | A | Revision of wrist joint | 7.87 | NA | 13.91 | 0.88 | NA | 22.66 | 090
25455 |  | A | Revision of wrist joint | 9.49 | NA | 15.22 | 1.07 | NA | 25.78 | 090
25490 |  | A | Reinforce radius | 9.54 | NA | 16.70 | 1.19 | NA | 27.43 | 090
25491 |  | A | Reinforce ulna | 9.96 | NA | 16.98 | 1.41 | NA | 28.35 | 090
25492 |  | A | Reinforce radius and ulna | 12.33 | NA | 16.09 | 1.62 | NA | 30.04 | 090
25500 |  | A | Treat fracture of radius | 2.45 | 4.27 | 2.94 | 0.28 | 7.00 | 5.67 | 090
25505 |  | A | Treat fracture of radius | 5.21 | 7.87 | 5.65 | 0.69 | 13.77 | 11.55 | 090
25515 |  | A | Treat fracture of radius | 9.18 | NA | 10.00 | 1.22 | NA | 20.40 | 090
25520 |  | A | Treat fracture of radius | 6.26 | 8.00 | 6.28 | 0.85 | 15.11 | 13.39 | 090
25525 |  | A | Treat fracture of radius | 12.24 | NA | 11.65 | 1.68 | NA | 25.57 | 090
25526 |  | A | Treat fracture of radius | 12.98 | NA | 15.01 | 1.80 | NA | 29.79 | 090
25530 |  | A | Treat fracture of ulna | 2.09 | 4.21 | 2.87 | 0.27 | 6.57 | 5.23 | 090
25535 |  | A | Treat fracture of ulna | 5.14 | 7.74 | 5.72 | 0.68 | 13.56 | 11.54 | 090
25545 |  | A | Treat fracture of ulna | 8.90 | NA | 9.88 | 1.23 | NA | 20.01 | 090
25560 |  | A | Treat fracture radius & ulna | 2.44 | 4.28 | 2.93 | 0.27 | 6.99 | 5.64 | 090
25565 |  | A | Treat fracture radius & ulna | 5.63 | 8.02 | 5.94 | 0.76 | 14.41 | 12.33 | 090
25574 |  | A | Treat fracture radius & ulna | 7.01 | NA | 8.72 | 0.96 | NA | 16.69 | 090
25575 |  | A | Treat fracture radius/ulna | 10.45 | NA | 10.74 | 1.46 | NA | 22.65 | 090
25600 |  | A | Treat fracture radius/ulna | 2.63 | 4.53 | 3.10 | 0.34 | 7.50 | 6.07 | 090
25605 |  | A | Treat fracture radius/ulna | 5.81 | 8.18 | 6.11 | 0.81 | 14.80 | 12.73 | 090
25611 |  | A | Treat fracture radius/ulna | 7.77 | NA | 10.04 | 1.08 | NA | 18.89 | 090
25620 |  | A | Treat fracture radius/ulna | 8.55 | NA | 9.67 | 1.17 | NA | 19.39 | 090
25622 |  | A | Treat wrist bone fracture | 2.61 | 4.48 | 3.10 | 0.33 | 7.42 | 6.04 | 090
25624 |  | A | Treat wrist bone fracture | 4.53 | 7.40 | 5.34 | 0.61 | 12.54 | 10.48 | 090
25628 |  | A | Treat wrist bone fracture | 8.43 | NA | 9.68 | 1.14 | NA | 19.25 | 090
25630 |  | A | Treat wrist bone fracture | 2.88 | 4.66 | 3.20 | 0.37 | 7.91 | 6.45 | 090
25635 |  | A | Treat wrist bone fracture | 4.39 | 7.45 | 5.11 | 0.39 | 12.23 | 9.89 | 090
25645 |  | A | Treat wrist bone fracture | 7.25 | NA | 9.56 | 0.93 | NA | 17.74 | 090
25650 |  | A | Treat wrist bone fracture | 3.05 | 4.75 | 3.24 | 0.37 | 8.17 | 6.66 | 090
25651 |  | A | Pin ulnar styloid fracture | 5.36 | NA | 4.39 | 0.73 | NA | 10.48 | 090
25652 |  | A | Treat fracture ulnar styloid | 7.60 | NA | 6.90 | 0.97 | NA | 15.47 | 090
25660 |  | A | Treat wrist dislocation | 4.76 | NA | 5.45 | 0.59 | NA | 10.80 | 090
25670 |  | A | Treat wrist dislocation | 7.92 | NA | 9.54 | 1.07 | NA | 18.53 | 090
25671 |  | A | Pin radioulnar dislocation | 6.00 | NA | 6.02 | 0.75 | NA | 12.77 | 090
25675 |  | A | Treat wrist dislocation | 4.67 | 7.57 | 5.39 | 0.57 | 12.81 | 10.63 | 090
25676 |  | A | Treat wrist dislocation | 8.04 | NA | 9.52 | 1.10 | NA | 18.66 | 090
25680 |  | A | Treat wrist fracture | 5.99 | NA | 6.45 | 0.61 | NA | 13.05 | 090
25685 |  | A | Treat wrist fracture | 9.78 | NA | 10.20 | 1.25 | NA | 21.23 | 090
25690 |  | A | Treat wrist dislocation | 5.50 | NA | 7.00 | 0.78 | NA | 13.28 | 090
25695 |  | A | Treat wrist dislocation | 8.34 | NA | 9.68 | 1.07 | NA | 19.09 | 090
25800 |  | A | Fusion of wrist joint | 9.76 | NA | 10.87 | 1.30 | NA | 21.93 | 090
25805 |  | A | Fusion/graft of wrist joint | 11.28 | NA | 11.61 | 1.51 | NA | 24.40 | 090
25810 |  | A | Fusion/graft of wrist joint | 10.57 | NA | 11.33 | 1.37 | NA | 23.27 | 090
25820 |  | A | Fusion of hand bones | 7.45 | NA | 9.54 | 0.96 | NA | 17.95 | 090
25825 |  | A | Fuse hand bones with graft | 9.27 | NA | 10.51 | 1.20 | NA | 20.98 | 090
25830 |  | A | Fusion, radioulnar jnt/ulna | 10.06 | NA | 16.99 | 1.27 | NA | 28.32 | 090
25900 |  | A | Amputation of forearm | 9.01 | NA | 15.04 | 1.08 | NA | 25.13 | 090
25905 |  | A | Amputation of forearm | 9.12 | NA | 14.25 | 1.06 | NA | 24.43 | 090
25907 |  | A | Amputation follow-up surgery | 7.80 | NA | 15.26 | 1.01 | NA | 24.07 | 090
25909 |  | A | Amputation follow-up surgery | 8.96 | NA | 14.51 | 1.07 | NA | 24.54 | 090
25915 |  | A | Amputation of forearm | 17.08 | NA | 15.11 | 2.41 | NA | 34.60 | 090
25920 |  | A | Amputate hand at wrist | 8.68 | NA | 10.12 | 1.06 | NA | 19.86 | 090
25922 |  | A | Amputate hand at wrist | 7.42 | NA | 7.58 | 0.93 | NA | 15.93 | 090
25924 |  | A | Amputation follow-up surgery | 8.46 | NA | 10.19 | 1.07 | NA | 19.72 | 090
25927 |  | A | Amputation of hand | 8.80 | NA | 14.11 | 1.02 | NA | 23.93 | 090
25929 |  | A | Amputation follow-up surgery | 7.59 | NA | 7.42 | 0.89 | NA | 15.90 | 090
25931 |  | A | Amputation follow-up surgery | 7.81 | NA | 15.79 | 0.88 | NA | 24.48 | 090
25999 |  | C | Forearm or wrist surgery | 0.00 | 0.00 | 0.00 | 0.00 | 0.00 | 0.00 | YYY
26010 |  | A | Drainage of finger abscess | 1.54 | 5.24 | 3.94 | 0.14 | 6.92 | 5.62 | 010
26011 |  | A | Drainage of finger abscess | 2.19 | 7.48 | 6.50 | 0.25 | 9.92 | 8.94 | 010
26020 |  | A | Drain hand tendon sheath | 4.67 | NA | 13.10 | 0.59 | NA | 18.36 | 090
26025 |  | A | Drainage of palm bursa | 4.82 | NA | 13.26 | 0.60 | NA | 18.68 | 090
26030 |  | A | Drainage of palm bursa(s) | 5.93 | NA | 14.02 | 0.72 | NA | 20.67 | 090
26034 |  | A | Treat hand bone lesion | 6.23 | NA | 14.84 | 0.79 | NA | 21.86 | 090
26035 |  | A | Decompress fingers/hand | 9.51 | NA | 15.17 | 1.12 | NA | 25.80 | 090
26037 |  | A | Decompress fingers/hand | 7.25 | NA | 12.67 | 0.87 | NA | 20.79 | 090
26040 |  | A | Release palm contracture | 3.33 | NA | 12.87 | 0.45 | NA | 16.65 | 090
26045 |  | A | Release palm contracture | 5.56 | NA | 14.17 | 0.74 | NA | 20.47 | 090
26055 |  | A | Incise finger tendon sheath | 2.69 | 8.12 | 7.69 | 0.36 | 11.17 | 10.74 | 090
26060 |  | A | Incision of finger tendon | 2.81 | NA | 7.57 | 0.35 | NA | 10.73 | 090
26070 |  | A | Explore/treat hand joint | 3.69 | NA | 11.69 | 0.35 | NA | 15.73 | 090
26075 |  | A | Explore/treat finger joint | 3.79 | NA | 12.47 | 0.40 | NA | 16.66 | 090
26080 |  | A | Explore/treat finger joint | 4.24 | NA | 13.09 | 0.52 | NA | 17.85 | 090
26100 |  | A | Biopsy hand joint lining | 3.67 | NA | 8.43 | 0.45 | NA | 12.55 | 090
26105 |  | A | Biopsy finger joint lining | 3.71 | NA | 12.95 | 0.45 | NA | 17.11 | 090
26110 |  | A | Biopsy finger joint lining | 3.53 | NA | 12.46 | 0.44 | NA | 16.43 | 090
26115 |  | A | Remove hand lesion subcut | 3.86 | 7.66 | 7.66 | 0.48 | 12.00 | 12.00 | 090
26116 |  | A | Remove hand lesion, deep | 5.53 | NA | 13.91 | 0.69 | NA | 20.13 | 090
26117 |  | A | Remove tumor, hand/finger | 8.55 | NA | 15.41 | 1.01 | NA | 24.97 | 090
26121 |  | A | Release palm contracture | 7.54 | NA | 15.80 | 0.94 | NA | 24.28 | 090
26123 |  | A | Release palm contracture | 9.29 | NA | 16.73 | 1.17 | NA | 27.19 | 090
26125 |  | A | Release palm contracture | 4.61 | NA | 2.60 | 0.57 | NA | 7.78 | ZZZ
26130 |  | A | Remove wrist joint lining | 5.42 | NA | 15.62 | 0.65 | NA | 21.69 | 090
26135 |  | A | Revise finger joint, each | 6.96 | NA | 17.04 | 0.87 | NA | 24.87 | 090
26140 |  | A | Revise finger joint, each | 6.17 | NA | 16.33 | 0.76 | NA | 23.26 | 090
26145 |  | A | Tendon excision, palm/finger | 6.32 | NA | 16.86 | 0.77 | NA | 23.95 | 090
26160 |  | A | Remove tendon sheath lesion | 3.15 | 7.93 | 7.88 | 0.39 | 11.47 | 11.42 | 090
26170 |  | A | Removal of palm tendon, each | 4.77 | NA | 8.53 | 0.60 | NA | 13.90 | 090
26180 |  | A | Removal of finger tendon | 5.18 | NA | 9.19 | 0.64 | NA | 15.01 | 090
26185 |  | A | Remove finger bone | 5.25 | NA | 8.76 | 0.67 | NA | 14.68 | 090
26200 |  | A | Remove hand bone lesion | 5.51 | NA | 13.97 | 0.71 | NA | 20.19 | 090
26205 |  | A | Remove/graft bone lesion | 7.70 | NA | 15.35 | 0.95 | NA | 24.00 | 090
26210 |  | A | Removal of finger lesion | 5.15 | NA | 14.32 | 0.64 | NA | 20.11 | 090
26215 |  | A | Remove/graft finger lesion | 7.10 | NA | 14.89 | 0.77 | NA | 22.76 | 090
26230 |  | A | Partial removal of hand bone | 6.33 | NA | 12.87 | 0.84 | NA | 20.04 | 090
26235 |  | A | Partial removal, finger bone | 6.19 | NA | 12.56 | 0.78 | NA | 19.53 | 090
26236 |  | A | Partial removal, finger bone | 5.32 | NA | 12.62 | 0.66 | NA | 18.60 | 090
26250 |  | A | Extensive hand surgery | 7.55 | NA | 17.33 | 0.92 | NA | 25.80 | 090
26255 |  | A | Extensive hand surgery | 12.43 | NA | 18.74 | 1.05 | NA | 32.22 | 090
26260 |  | A | Extensive finger surgery | 7.03 | NA | 16.39 | 0.83 | NA | 24.25 | 090
26261 |  | A | Extensive finger surgery | 9.09 | NA | 16.10 | 0.84 | NA | 26.03 | 090
26262 |  | A | Partial removal of finger | 5.67 | NA | 14.81 | 0.70 | NA | 21.18 | 090
26320 |  | A | Removal of implant from hand | 3.98 | NA | 13.08 | 0.49 | NA | 17.55 | 090
26340 |  | A | Manipulate finger w/anesth | 2.50 | NA | 4.53 | 0.32 | NA | 7.35 | 090
26350 |  | A | Repair finger/hand tendon | 5.99 | NA | 20.24 | 0.73 | NA | 26.96 | 090
26352 |  | A | Repair/graft hand tendon | 7.68 | NA | 19.74 | 0.93 | NA | 28.35 | 090
26356 |  | A | Repair finger/hand tendon | 8.07 | NA | 21.55 | 0.99 | NA | 30.61 | 090
26357 |  | A | Repair finger/hand tendon | 8.58 | NA | 21.30 | 1.02 | NA | 30.90 | 090
26358 |  | A | Repair/graft hand tendon | 9.14 | NA | 22.43 | 1.07 | NA | 32.64 | 090
26370 |  | A | Repair finger/hand tendon | 7.11 | NA | 20.61 | 0.90 | NA | 28.62 | 090
26372 |  | A | Repair/graft hand tendon | 8.76 | NA | 20.46 | 1.06 | NA | 30.28 | 090
26373 |  | A | Repair finger/hand tendon | 8.16 | NA | 22.61 | 0.98 | NA | 31.75 | 090
26390 |  | A | Revise hand/finger tendon | 9.19 | NA | 16.93 | 1.09 | NA | 27.21 | 090
26392 |  | A | Repair/graft hand tendon | 10.26 | NA | 23.05 | 1.26 | NA | 34.57 | 090
26410 |  | A | Repair hand tendon | 4.63 | NA | 16.26 | 0.57 | NA | 21.46 | 090
26412 |  | A | Repair/graft hand tendon | 6.31 | NA | 16.83 | 0.80 | NA | 23.94 | 090
26415 |  | A | Excision, hand/finger tendon | 8.34 | NA | 18.14 | 0.77 | NA | 27.25 | 090
26416 |  | A | Graft hand or finger tendon | 9.37 | NA | 18.95 | 1.20 | NA | 29.52 | 090
26418 |  | A | Repair finger tendon | 4.25 | NA | 16.34 | 0.50 | NA | 21.09 | 090
26420 |  | A | Repair/graft finger tendon | 6.77 | NA | 17.92 | 0.83 | NA | 25.52 | 090
26426 |  | A | Repair finger/hand tendon | 6.15 | NA | 17.05 | 0.77 | NA | 23.97 | 090
26428 |  | A | Repair/graft finger tendon | 7.21 | NA | 16.05 | 0.84 | NA | 24.10 | 090
26432 |  | A | Repair finger tendon | 4.02 | NA | 13.49 | 0.48 | NA | 17.99 | 090
26433 |  | A | Repair finger tendon | 4.56 | NA | 14.42 | 0.56 | NA | 19.54 | 090
26434 |  | A | Repair/graft finger tendon | 6.09 | NA | 15.34 | 0.71 | NA | 22.14 | 090
26437 |  | A | Realignment of tendons | 5.82 | NA | 14.16 | 0.74 | NA | 20.72 | 090
26440 |  | A | Release palm/finger tendon | 5.02 | NA | 18.48 | 0.62 | NA | 24.12 | 090
26442 |  | A | Release palm & finger tendon | 8.16 | NA | 19.40 | 0.94 | NA | 28.50 | 090
26445 |  | A | Release hand/finger tendon | 4.31 | NA | 18.27 | 0.54 | NA | 23.12 | 090
26449 |  | A | Release forearm/hand tendon | 7.00 | NA | 20.16 | 0.84 | NA | 28.00 | 090
26450 |  | A | Incision of palm tendon | 3.67 | NA | 8.71 | 0.46 | NA | 12.84 | 090
26455 |  | A | Incision of finger tendon | 3.64 | NA | 8.38 | 0.47 | NA | 12.49 | 090
26460 |  | A | Incise hand/finger tendon | 3.46 | NA | 8.06 | 0.44 | NA | 11.96 | 090
26471 |  | A | Fusion of finger tendons | 5.73 | NA | 13.93 | 0.73 | NA | 20.39 | 090
26474 |  | A | Fusion of finger tendons | 5.32 | NA | 13.30 | 0.69 | NA | 19.31 | 090
26476 |  | A | Tendon lengthening | 5.18 | NA | 12.72 | 0.62 | NA | 18.52 | 090
26477 |  | A | Tendon shortening | 5.15 | NA | 13.73 | 0.60 | NA | 19.48 | 090
26478 |  | A | Lengthening of hand tendon | 5.80 | NA | 14.73 | 0.77 | NA | 21.30 | 090
26479 |  | A | Shortening of hand tendon | 5.74 | NA | 13.71 | 0.76 | NA | 20.21 | 090
26480 |  | A | Transplant hand tendon | 6.69 | NA | 19.63 | 0.84 | NA | 27.16 | 090
26483 |  | A | Transplant/graft hand tendon | 8.29 | NA | 19.79 | 1.03 | NA | 29.11 | 090
26485 |  | A | Transplant palm tendon | 7.70 | NA | 20.08 | 0.94 | NA | 28.72 | 090
26489 |  | A | Transplant/graft palm tendon | 9.55 | NA | 17.34 | 0.98 | NA | 27.87 | 090
26490 |  | A | Revise thumb tendon | 8.41 | NA | 14.87 | 1.05 | NA | 24.33 | 090
26492 |  | A | Tendon transfer with graft | 9.62 | NA | 15.84 | 1.19 | NA | 26.65 | 090
26494 |  | A | Hand tendon/muscle transfer | 8.47 | NA | 13.52 | 1.13 | NA | 23.12 | 090
26496 |  | A | Revise thumb tendon | 9.59 | NA | 15.53 | 1.17 | NA | 26.29 | 090
26497 |  | A | Finger tendon transfer | 9.57 | NA | 16.42 | 1.17 | NA | 27.16 | 090
26498 |  | A | Finger tendon transfer | 14.00 | NA | 18.19 | 1.74 | NA | 33.93 | 090
26499 |  | A | Revision of finger | 8.98 | NA | 14.61 | 0.94 | NA | 24.53 | 090
26500 |  | A | Hand tendon reconstruction | 5.96 | NA | 15.16 | 0.66 | NA | 21.78 | 090
26502 |  | A | Hand tendon reconstruction | 7.14 | NA | 15.14 | 0.87 | NA | 23.15 | 090
26504 |  | A | Hand tendon reconstruction | 7.47 | NA | 14.31 | 0.84 | NA | 22.62 | 090
26508 |  | A | Release thumb contracture | 6.01 | NA | 14.11 | 0.76 | NA | 20.88 | 090
26510 |  | A | Thumb tendon transfer | 5.43 | NA | 14.18 | 0.71 | NA | 20.32 | 090
26516 |  | A | Fusion of knuckle joint | 7.15 | NA | 15.06 | 0.90 | NA | 23.11 | 090
26517 |  | A | Fusion of knuckle joints | 8.83 | NA | 15.89 | 0.96 | NA | 25.68 | 090
26518 |  | A | Fusion of knuckle joints | 9.02 | NA | 15.91 | 1.13 | NA | 26.06 | 090
26520 |  | A | Release knuckle contracture | 5.30 | NA | 18.59 | 0.65 | NA | 24.54 | 090
26525 |  | A | Release finger contracture | 5.33 | NA | 18.67 | 0.66 | NA | 24.66 | 090
26530 |  | A | Revise knuckle joint | 6.69 | NA | 19.35 | 0.86 | NA | 26.90 | 090
26531 |  | A | Revise knuckle with implant | 7.91 | NA | 19.41 | 1.01 | NA | 28.33 | 090
26535 |  | A | Revise finger joint | 5.24 | NA | 11.10 | 0.66 | NA | 17.00 | 090
26536 |  | A | Revise/implant finger joint | 6.37 | NA | 17.97 | 0.80 | NA | 25.14 | 090
26540 |  | A | Repair hand joint | 6.43 | NA | 14.54 | 0.81 | NA | 21.78 | 090
26541 |  | A | Repair hand joint with graft | 8.62 | NA | 16.36 | 1.12 | NA | 26.10 | 090
26542 |  | A | Repair hand joint with graft | 6.78 | NA | 14.51 | 0.87 | NA | 22.16 | 090
26545 |  | A | Reconstruct finger joint | 6.92 | NA | 16.16 | 0.79 | NA | 23.87 | 090
26546 |  | A | Repair nonunion hand | 8.92 | NA | 15.95 | 1.14 | NA | 26.01 | 090
26548 |  | A | Reconstruct finger joint | 8.03 | NA | 16.13 | 0.98 | NA | 25.14 | 090
26550 |  | A | Construct thumb replacement | 21.24 | NA | 30.36 | 1.80 | NA | 53.40 | 090
26551 |  | A | Great toe-hand transfer | 46.58 | NA | 29.35 | 6.57 | NA | 82.50 | 090
26553 |  | A | Single transfer, toe-hand | 46.27 | NA | 29.23 | 1.99 | NA | 77.49 | 090
26554 |  | A | Double transfer, toe-hand | 54.95 | NA | 32.69 | 7.76 | NA | 95.40 | 090
26555 |  | A | Positional change of finger | 16.63 | NA | 24.00 | 2.13 | NA | 42.76 | 090
26556 |  | A | Toe joint transfer | 47.26 | NA | 29.62 | 6.67 | NA | 83.55 | 090
26560 |  | A | Repair of web finger | 5.38 | NA | 12.55 | 0.60 | NA | 18.53 | 090
26561 |  | A | Repair of web finger | 10.92 | NA | 18.61 | 0.69 | NA | 30.22 | 090
26562 |  | A | Repair of web finger | 15.00 | NA | 13.44 | 0.98 | NA | 29.42 | 090
26565 |  | A | Correct metacarpal flaw | 6.74 | NA | 14.77 | 0.84 | NA | 22.35 | 090
26567 |  | A | Correct finger deformity | 6.82 | NA | 15.10 | 0.84 | NA | 22.76 | 090
26568 |  | A | Lengthen metacarpal/finger | 9.08 | NA | 19.48 | 1.10 | NA | 29.66 | 090
26580 |  | A | Repair hand deformity | 18.18 | NA | 17.22 | 1.46 | NA | 36.86 | 090
26585 |  | D | Repair finger deformity | 0.00 | NA | 0.00 | 0.00 | NA | 0.00 | 090
26587 |  | A | Reconstruct extra finger | 14.05 | 4.67 | NA | 1.08 | 19.80 | NA | 090
26590 |  | A | Repair finger deformity | 17.96 | NA | 14.62 | 1.32 | NA | 33.90 | 090
26591 |  | A | Repair muscles of hand | 3.25 | NA | 14.22 | 0.37 | NA | 17.84 | 090
26593 |  | A | Release muscles of hand | 5.31 | NA | 13.33 | 0.64 | NA | 19.28 | 090
26596 |  | A | Excision constricting tissue | 8.95 | NA | 10.26 | 0.87 | NA | 20.08 | 090
26597 |  | D | Release of scar contracture | 0.00 | NA | 0.00 | 0.00 | NA | 0.00 | 090
26600 |  | A | Treat metacarpal fracture | 1.96 | 4.15 | 2.83 | 0.25 | 6.36 | 5.04 | 090
26605 |  | A | Treat metacarpal fracture | 2.85 | 6.05 | 4.29 | 0.38 | 9.28 | 7.52 | 090
26607 |  | A | Treat metacarpal fracture | 5.36 | NA | 8.33 | 0.70 | NA | 14.39 | 090
26608 |  | A | Treat metacarpal fracture | 5.36 | NA | 8.85 | 0.73 | NA | 14.94 | 090
26615 |  | A | Treat metacarpal fracture | 5.33 | NA | 8.43 | 0.70 | NA | 14.46 | 090
26641 |  | A | Treat thumb dislocation | 3.94 | 6.58 | 4.99 | 0.42 | 10.94 | 9.35 | 090
26645 |  | A | Treat thumb fracture | 4.41 | 7.33 | 5.30 | 0.54 | 12.28 | 10.25 | 090
26650 |  | A | Treat thumb fracture | 5.72 | NA | 9.02 | 0.77 | NA | 15.51 | 090
26665 |  | A | Treat thumb fracture | 7.60 | NA | 9.24 | 0.97 | NA | 17.81 | 090
26670 |  | A | Treat hand dislocation | 3.69 | 6.46 | 4.93 | 0.36 | 10.51 | 8.98 | 090
26675 |  | A | Treat hand dislocation | 4.64 | 6.82 | 4.71 | 0.56 | 12.02 | 9.91 | 090
26676 |  | A | Pin hand dislocation | 5.52 | NA | 9.36 | 0.76 | NA | 15.64 | 090
26685 |  | A | Treat hand dislocation | 6.98 | NA | 8.88 | 0.95 | NA | 16.81 | 090
26686 |  | A | Treat hand dislocation | 7.94 | NA | 9.84 | 1.05 | NA | 18.83 | 090
26700 |  | A | Treat knuckle dislocation | 3.69 | 5.01 | 3.02 | 0.35 | 9.05 | 7.06 | 090
26705 |  | A | Treat knuckle dislocation | 4.19 | 6.26 | 4.33 | 0.50 | 10.95 | 9.02 | 090
26706 |  | A | Pin knuckle dislocation | 5.12 | NA | 5.87 | 0.64 | NA | 11.63 | 090
26715 |  | A | Treat knuckle dislocation | 5.74 | NA | 8.62 | 0.75 | NA | 15.11 | 090
26720 |  | A | Treat finger fracture, each | 1.66 | 3.06 | 1.72 | 0.20 | 4.92 | 3.58 | 090
26725 |  | A | Treat finger fracture, each | 3.33 | 5.27 | 3.26 | 0.43 | 9.03 | 7.02 | 090
26727 |  | A | Treat finger fracture, each | 5.23 | NA | 8.88 | 0.69 | NA | 14.80 | 090
26735 |  | A | Treat finger fracture, each | 5.98 | NA | 8.99 | 0.77 | NA | 15.74 | 090
26740 |  | A | Treat finger fracture, each | 1.94 | 3.86 | 2.67 | 0.24 | 6.04 | 4.85 | 090
26742 |  | A | Treat finger fracture, each | 3.85 | 7.21 | 5.13 | 0.49 | 11.55 | 9.47 | 090
26746 |  | A | Treat finger fracture, each | 5.81 | NA | 8.93 | 0.74 | NA | 15.48 | 090
26750 |  | A | Treat finger fracture, each | 1.70 | 3.66 | 2.47 | 0.19 | 5.55 | 4.36 | 090
26755 |  | A | Treat finger fracture, each | 3.10 | 5.08 | 3.27 | 0.37 | 8.55 | 6.74 | 090
26756 |  | A | Pin finger fracture, each | 4.39 | NA | 8.74 | 0.56 | NA | 13.69 | 090
26765 |  | A | Treat finger fracture, each | 4.17 | NA | 8.02 | 0.51 | NA | 12.70 | 090
26770 |  | A | Treat finger dislocation | 3.02 | 4.87 | 2.80 | 0.27 | 8.16 | 6.09 | 090
26775 |  | A | Treat finger dislocation | 3.71 | 6.07 | 4.09 | 0.43 | 10.21 | 8.23 | 090
26776 |  | A | Pin finger dislocation | 4.80 | NA | 8.61 | 0.63 | NA | 14.04 | 090
26785 |  | A | Treat finger dislocation | 4.21 | NA | 7.95 | 0.54 | NA | 12.70 | 090
26820 |  | A | Thumb fusion with graft | 8.26 | NA | 15.80 | 1.11 | NA | 25.17 | 090
26841 |  | A | Fusion of thumb | 7.13 | NA | 15.37 | 0.97 | NA | 23.47 | 090
26842 |  | A | Thumb fusion with graft | 8.24 | NA | 15.49 | 1.10 | NA | 24.83 | 090
26843 |  | A | Fusion of hand joint | 7.61 | NA | 13.91 | 0.99 | NA | 22.51 | 090
26844 |  | A | Fusion/graft of hand joint | 8.73 | NA | 15.63 | 1.12 | NA | 25.48 | 090
26850 |  | A | Fusion of knuckle | 6.97 | NA | 14.63 | 0.89 | NA | 22.49 | 090
26852 |  | A | Fusion of knuckle with graft | 8.46 | NA | 15.19 | 1.05 | NA | 24.70 | 090
26860 |  | A | Fusion of finger joint | 4.69 | NA | 13.45 | 0.60 | NA | 18.74 | 090
26861 |  | A | Fusion of finger jnt, add-on | 1.74 | NA | 0.99 | 0.22 | NA | 2.95 | ZZZ
26862 |  | A | Fusion/graft of finger joint | 7.37 | NA | 15.18 | 0.92 | NA | 23.47 | 090
26863 |  | A | Fuse/graft added joint | 3.90 | NA | 2.25 | 0.51 | NA | 6.66 | ZZZ
26910 |  | A | Amputate metacarpal bone | 7.60 | NA | 13.98 | 0.90 | NA | 22.48 | 090
26951 |  | A | Amputation of finger/thumb | 4.59 | NA | 13.06 | 0.56 | NA | 18.21 | 090
26952 |  | A | Amputation of finger/thumb | 6.31 | NA | 14.47 | 0.74 | NA | 21.52 | 090
26989 |  | C | Hand/finger surgery | 0.00 | 0.00 | 0.00 | 0.00 | 0.00 | 0.00 | YYY
26990 |  | A | Drainage of pelvis lesion | 7.48 | NA | 15.92 | 0.92 | NA | 24.32 | 090
26991 |  | A | Drainage of pelvis bursa | 6.68 | 11.32 | 9.39 | 0.85 | 18.85 | 16.92 | 090
26992 |  | A | Drainage of bone lesion | 13.02 | NA | 19.95 | 1.75 | NA | 34.72 | 090
27000 |  | A | Incision of hip tendon | 5.62 | NA | 7.48 | 0.76 | NA | 13.86 | 090
27001 |  | A | Incision of hip tendon | 6.94 | NA | 8.42 | 0.95 | NA | 16.31 | 090
27003 |  | A | Incision of hip tendon | 7.34 | NA | 9.01 | 0.93 | NA | 17.28 | 090
27005 |  | A | Incision of hip tendon | 9.66 | NA | 10.50 | 1.36 | NA | 21.52 | 090
27006 |  | A | Incision of hip tendons | 9.68 | NA | 10.59 | 1.33 | NA | 21.60 | 090
27025 |  | A | Incision of hip/thigh fascia | 11.16 | NA | 10.53 | 1.38 | NA | 23.07 | 090
27030 |  | A | Drainage of hip joint | 13.01 | NA | 12.45 | 1.81 | NA | 27.27 | 090
27033 |  | A | Exploration of hip joint | 13.39 | NA | 12.62 | 1.87 | NA | 27.88 | 090
27035 |  | A | Denervation of hip joint | 16.69 | NA | 19.67 | 1.70 | NA | 38.06 | 090
27036 |  | A | Excision of hip joint/muscle | 12.88 | NA | 14.03 | 1.80 | NA | 28.71 | 090
27040 |  | A | Biopsy of soft tissues | 2.87 | 6.23 | 4.00 | 0.21 | 9.31 | 7.08 | 010
27041 |  | A | Biopsy of soft tissues | 9.89 | NA | 8.60 | 1.01 | NA | 19.50 | 090
27047 |  | A | Remove hip/pelvis lesion | 7.45 | 9.26 | 7.03 | 0.79 | 17.50 | 15.27 | 090
27048 |  | A | Remove hip/pelvis lesion | 6.25 | NA | 7.94 | 0.73 | NA | 14.92 | 090
27049 |  | A | Remove tumor, hip/pelvis | 13.66 | NA | 13.77 | 1.60 | NA | 29.03 | 090
27050 |  | A | Biopsy of sacroiliac joint | 4.36 | NA | 7.52 | 0.53 | NA | 12.41 | 090
27052 |  | A | Biopsy of hip joint | 6.23 | NA | 8.24 | 0.85 | NA | 15.32 | 090
27054 |  | A | Removal of hip joint lining | 8.54 | NA | 10.67 | 1.17 | NA | 20.38 | 090
27060 |  | A | Removal of ischial bursa | 5.43 | NA | 7.21 | 0.60 | NA | 13.24 | 090
27062 |  | A | Remove femur lesion/bursa | 5.37 | NA | 7.32 | 0.74 | NA | 13.43 | 090
27065 |  | A | Removal of hip bone lesion | 5.90 | NA | 8.65 | 0.76 | NA | 15.31 | 090
27066 |  | A | Removal of hip bone lesion | 10.33 | NA | 12.53 | 1.42 | NA | 24.28 | 090
27067 |  | A | Remove/graft hip bone lesion | 13.83 | NA | 14.54 | 1.95 | NA | 30.32 | 090
27070 |  | A | Partial removal of hip bone | 10.72 | NA | 17.71 | 1.36 | NA | 29.79 | 090
27071 |  | A | Partial removal of hip bone | 11.46 | NA | 18.67 | 1.51 | NA | 31.64 | 090
27075 |  | A | Extensive hip surgery | 35.00 | NA | 25.75 | 2.22 | NA | 62.97 | 090
27076 |  | A | Extensive hip surgery | 22.12 | NA | 20.08 | 2.86 | NA | 45.06 | 090
27077 |  | A | Extensive hip surgery | 40.00 | NA | 30.55 | 3.18 | NA | 73.73 | 090
27078 |  | A | Extensive hip surgery | 13.44 | NA | 16.30 | 1.67 | NA | 31.41 | 090
27079 |  | A | Extensive hip surgery | 13.75 | NA | 13.43 | 1.86 | NA | 29.04 | 090
27080 |  | A | Removal of tail bone | 6.39 | NA | 7.64 | 0.80 | NA | 14.83 | 090
27086 |  | A | Remove hip foreign body | 1.87 | 5.85 | 3.70 | 0.17 | 7.89 | 5.74 | 010
27087 |  | A | Remove hip foreign body | 8.54 | NA | 9.04 | 1.09 | NA | 18.67 | 090
27090 |  | A | Removal of hip prosthesis | 11.15 | NA | 11.37 | 1.55 | NA | 24.07 | 090
27091 |  | A | Removal of hip prosthesis | 22.14 | NA | 15.14 | 3.11 | NA | 40.39 | 090
27093 |  | A | Injection for hip x-ray | 1.30 | 13.59 | 0.53 | 0.09 | 14.98 | 1.92 | 000
27095 |  | A | Injection for hip x-ray | 1.50 | 11.00 | 0.60 | 0.10 | 12.60 | 2.20 | 000
27096 |  | A | Inject sacroiliac joint | 1.40 | 8.86 | 0.35 | 0.08 | 10.34 | 1.83 | 000
27097 |  | A | Revision of hip tendon | 8.80 | NA | 8.13 | 1.22 | NA | 18.15 | 090
27098 |  | A | Transfer tendon to pelvis | 8.83 | NA | 9.18 | 1.24 | NA | 19.25 | 090
27100 |  | A | Transfer of abdominal muscle | 11.08 | NA | 13.03 | 1.57 | NA | 25.68 | 090
27105 |  | A | Transfer of spinal muscle | 11.77 | NA | 12.14 | 1.66 | NA | 25.57 | 090
27110 |  | A | Transfer of iliopsoas muscle | 13.26 | NA | 12.99 | 1.38 | NA | 27.63 | 090
27111 |  | A | Transfer of iliopsoas muscle | 12.15 | NA | 11.77 | 1.48 | NA | 25.40 | 090
27120 |  | A | Reconstruction of hip socket | 18.01 | NA | 14.28 | 2.45 | NA | 34.74 | 090
27122 |  | A | Reconstruction of hip socket | 14.98 | NA | 14.48 | 2.08 | NA | 31.54 | 090
27125 |  | A | Partial hip replacement | 14.69 | NA | 14.02 | 2.05 | NA | 30.76 | 090
27130 |  | A | Total hip arthroplasty | 20.12 | NA | 17.18 | 2.82 | NA | 40.12 | 090
27132 |  | A | Total hip arthroplasty | 23.30 | NA | 19.00 | 3.26 | NA | 45.56 | 090
27134 |  | A | Revise hip joint replacement | 28.52 | NA | 21.82 | 3.97 | NA | 54.31 | 090
27137 |  | A | Revise hip joint replacement | 21.17 | NA | 17.54 | 2.97 | NA | 41.68 | 090
27138 |  | A | Revise hip joint replacement | 22.17 | NA | 17.94 | 3.11 | NA | 43.22 | 090
27140 |  | A | Transplant femur ridge | 12.24 | NA | 11.98 | 1.67 | NA | 25.89 | 090
27146 |  | A | Incision of hip bone | 17.43 | NA | 15.87 | 2.27 | NA | 35.57 | 090
27147 |  | A | Revision of hip bone | 20.58 | NA | 17.87 | 2.61 | NA | 41.06 | 090
27151 |  | A | Incision of hip bones | 22.51 | NA | 18.97 | 3.12 | NA | 44.60 | 090
27156 |  | A | Revision of hip bones | 24.63 | NA | 19.84 | 3.48 | NA | 47.95 | 090
27158 |  | A | Revision of pelvis | 19.74 | NA | 15.58 | 2.60 | NA | 37.92 | 090
27161 |  | A | Incision of neck of femur | 16.71 | NA | 14.47 | 2.32 | NA | 33.50 | 090
27165 |  | A | Incision/fixation of femur | 17.91 | NA | 14.92 | 2.51 | NA | 35.34 | 090
27170 |  | A | Repair/graft femur head/neck | 16.07 | NA | 14.16 | 2.20 | NA | 32.43 | 090
27175 |  | A | Treat slipped epiphysis | 8.46 | NA | 7.26 | 1.19 | NA | 16.91 | 090
27176 |  | A | Treat slipped epiphysis | 12.05 | NA | 10.23 | 1.68 | NA | 23.96 | 090
27177 |  | A | Treat slipped epiphysis | 15.08 | NA | 12.22 | 2.11 | NA | 29.41 | 090
27178 |  | A | Treat slipped epiphysis | 11.99 | NA | 10.13 | 1.68 | NA | 23.80 | 090
27179 |  | A | Revise head/neck of femur | 12.98 | NA | 10.90 | 1.84 | NA | 25.72 | 090
27181 |  | A | Treat slipped epiphysis | 14.68 | NA | 11.92 | 1.74 | NA | 28.34 | 090
27185 |  | A | Revision of femur epiphysis | 9.18 | NA | 10.04 | 1.29 | NA | 20.51 | 090
27187 |  | A | Reinforce hip bones | 13.54 | NA | 13.53 | 1.89 | NA | 28.96 | 090
27193 |  | A | Treat pelvic ring fracture | 5.56 | 7.14 | 5.36 | 0.77 | 13.47 | 11.69 | 090
27194 |  | A | Treat pelvic ring fracture | 9.65 | 9.20 | 7.69 | 1.32 | 20.17 | 18.66 | 090
27200 |  | A | Treat tail bone fracture | 1.84 | 3.13 | 1.84 | 0.22 | 5.19 | 3.90 | 090
27202 |  | A | Treat tail bone fracture | 7.04 | NA | 21.62 | 0.69 | NA | 29.35 | 090
27215 |  | A | Treat pelvic fracture(s) | 10.05 | NA | 10.60 | 1.37 | NA | 22.02 | 090
27216 |  | A | Treat pelvic ring fracture | 15.19 | NA | 15.51 | 2.15 | NA | 32.85 | 090
27217 |  | A | Treat pelvic ring fracture | 14.11 | NA | 12.83 | 1.95 | NA | 28.89 | 090
27218 |  | A | Treat pelvic ring fracture | 20.15 | NA | 16.68 | 2.85 | NA | 39.68 | 090
27220 |  | A | Treat hip socket fracture | 6.18 | 7.48 | 5.72 | 0.85 | 14.51 | 12.75 | 090
27222 |  | A | Treat hip socket fracture | 12.70 | NA | 10.37 | 1.77 | NA | 24.84 | 090
27226 |  | A | Treat hip wall fracture | 14.91 | NA | 10.36 | 2.07 | NA | 27.34 | 090
27227 |  | A | Treat hip fracture(s) | 23.45 | NA | 17.22 | 3.24 | NA | 43.91 | 090
27228 |  | A | Treat hip fracture(s) | 27.16 | NA | 19.67 | 3.77 | NA | 50.60 | 090
27230 |  | A | Treat thigh fracture | 5.50 | 7.62 | 6.30 | 0.73 | 13.85 | 12.53 | 090
27232 |  | A | Treat thigh fracture | 10.68 | NA | 9.31 | 1.45 | NA | 21.44 | 090
27235 |  | A | Treat thigh fracture | 12.16 | NA | 11.24 | 1.71 | NA | 25.11 | 090
27236 |  | A | Treat thigh fracture | 15.60 | NA | 12.99 | 2.18 | NA | 30.77 | 090
27238 |  | A | Treat thigh fracture | 5.52 | NA | 6.36 | 0.76 | NA | 12.64 | 090
27240 |  | A | Treat thigh fracture | 12.50 | NA | 10.38 | 1.69 | NA | 24.57 | 090
27244 |  | A | Treat thigh fracture | 15.94 | NA | 13.25 | 2.23 | NA | 31.42 | 090
27245 |  | A | Treat thigh fracture | 20.31 | NA | 15.61 | 2.85 | NA | 38.77 | 090
27246 |  | A | Treat thigh fracture | 4.71 | 7.31 | 5.93 | 0.66 | 12.68 | 11.30 | 090
27248 |  | A | Treat thigh fracture | 10.45 | NA | 10.20 | 1.45 | NA | 22.10 | 090
27250 |  | A | Treat hip dislocation | 6.95 | NA | 6.55 | 0.68 | NA | 14.18 | 090
27252 |  | A | Treat hip dislocation | 10.39 | NA | 8.31 | 1.37 | NA | 20.07 | 090
27253 |  | A | Treat hip dislocation | 12.92 | NA | 11.10 | 1.81 | NA | 25.83 | 090
27254 |  | A | Treat hip dislocation | 18.26 | NA | 14.29 | 2.52 | NA | 35.07 | 090
27256 |  | A | Treat hip dislocation | 4.12 | NA | 4.31 | 0.49 | NA | 8.92 | 010
27257 |  | A | Treat hip dislocation | 5.22 | NA | 4.59 | 0.56 | NA | 10.37 | 010
27258 |  | A | Treat hip dislocation | 15.43 | NA | 13.93 | 2.06 | NA | 31.42 | 090
27259 |  | A | Treat hip dislocation | 21.55 | NA | 18.02 | 2.99 | NA | 42.56 | 090
27265 |  | A | Treat hip dislocation | 5.05 | NA | 6.09 | 0.65 | NA | 11.79 | 090
27266 |  | A | Treat hip dislocation | 7.49 | NA | 7.50 | 1.04 | NA | 16.03 | 090
27275 |  | A | Manipulation of hip joint | 2.27 | NA | 3.62 | 0.31 | NA | 6.20 | 010
27280 |  | A | Fusion of sacroiliac joint | 13.39 | NA | 13.95 | 1.98 | NA | 29.32 | 090
27282 |  | A | Fusion of pubic bones | 11.34 | NA | 12.33 | 1.14 | NA | 24.81 | 090
27284 |  | A | Fusion of hip joint | 23.45 | NA | 18.86 | 2.36 | NA | 44.67 | 090
27286 |  | A | Fusion of hip joint | 23.45 | NA | 19.13 | 2.37 | NA | 44.95 | 090
27290 |  | A | Amputation of leg at hip | 23.28 | NA | 17.37 | 2.94 | NA | 43.59 | 090
27295 |  | A | Amputation of leg at hip | 18.65 | NA | 14.65 | 2.35 | NA | 35.65 | 090
27299 |  | C | Pelvis/hip joint surgery | 0.00 | 0.00 | 0.00 | 0.00 | 0.00 | 0.00 | YYY
27301 |  | A | Drain thigh/knee lesion | 6.49 | 15.30 | 14.04 | 0.80 | 22.59 | 21.33 | 090
27303 |  | A | Drainage of bone lesion | 8.28 | NA | 14.63 | 1.14 | NA | 24.05 | 090
27305 |  | A | Incise thigh tendon & fascia | 5.92 | NA | 8.88 | 0.77 | NA | 15.57 | 090
27306 |  | A | Incision of thigh tendon | 4.62 | NA | 7.54 | 0.62 | NA | 12.78 | 090
27307 |  | A | Incision of thigh tendons | 5.80 | NA | 8.15 | 0.78 | NA | 14.73 | 090
27310 |  | A | Exploration of knee joint | 9.27 | NA | 10.14 | 1.29 | NA | 20.70 | 090
27315 |  | A | Partial removal, thigh nerve | 6.97 | NA | 4.04 | 0.79 | NA | 11.80 | 090
27320 |  | A | Partial removal, thigh nerve | 6.30 | NA | 5.07 | 0.78 | NA | 12.15 | 090
27323 |  | A | Biopsy, thigh soft tissues | 2.28 | 5.57 | 3.49 | 0.17 | 8.02 | 5.94 | 010
27324 |  | A | Biopsy, thigh soft tissues | 4.90 | NA | 6.79 | 0.59 | NA | 12.28 | 090
27327 |  | A | Removal of thigh lesion | 4.47 | 8.47 | 6.35 | 0.50 | 13.44 | 11.32 | 090
27328 |  | A | Removal of thigh lesion | 5.57 | NA | 7.19 | 0.66 | NA | 13.42 | 090
27329 |  | A | Remove tumor, thigh/knee | 14.14 | NA | 15.02 | 1.68 | NA | 30.84 | 090
27330 |  | A | Biopsy, knee joint lining | 4.97 | NA | 6.42 | 0.66 | NA | 12.05 | 090
27331 |  | A | Explore/treat knee joint | 5.88 | NA | 7.56 | 0.81 | NA | 14.25 | 090
27332 |  | A | Removal of knee cartilage | 8.27 | NA | 8.84 | 1.15 | NA | 18.26 | 090
27333 |  | A | Removal of knee cartilage | 7.30 | NA | 8.49 | 1.03 | NA | 16.82 | 090
27334 |  | A | Remove knee joint lining | 8.70 | NA | 9.80 | 1.21 | NA | 19.71 | 090
27335 |  | A | Remove knee joint lining | 10.00 | NA | 10.58 | 1.41 | NA | 21.99 | 090
27340 |  | A | Removal of kneecap bursa | 4.18 | NA | 6.03 | 0.58 | NA | 10.79 | 090
27345 |  | A | Removal of knee cyst | 5.92 | NA | 7.49 | 0.81 | NA | 14.22 | 090
27347 |  | A | Remove knee cyst | 5.78 | 2.64 | 2.64 | 0.76 | 9.18 | 9.18 | 090
27350 |  | A | Removal of kneecap | 8.17 | NA | 8.95 | 1.15 | NA | 18.27 | 090
27355 |  | A | Remove femur lesion | 7.65 | NA | 10.36 | 1.07 | NA | 19.08 | 090
27356 |  | A | Remove femur lesion/graft | 9.48 | NA | 11.32 | 1.29 | NA | 22.09 | 090
27357 |  | A | Remove femur lesion/graft | 10.53 | NA | 11.75 | 1.48 | NA | 23.76 | 090
27358 |  | A | Remove femur lesion/fixation | 4.74 | NA | 2.69 | 0.67 | NA | 8.10 | ZZZ
27360 |  | A | Partial removal, leg bone(s) | 10.50 | NA | 18.43 | 1.42 | NA | 30.35 | 090
27365 |  | A | Extensive leg surgery | 16.27 | NA | 14.69 | 2.26 | NA | 33.22 | 090
27370 |  | A | Injection for knee x-ray | 0.96 | 11.10 | 0.35 | 0.06 | 12.12 | 1.37 | 000
27372 |  | A | Removal of foreign body | 5.07 | 8.66 | 6.28 | 0.62 | 14.35 | 11.97 | 090
27380 |  | A | Repair of kneecap tendon | 7.16 | NA | 8.57 | 1.00 | NA | 16.73 | 090
27381 |  | A | Repair/graft kneecap tendon | 10.34 | NA | 10.34 | 1.44 | NA | 22.12 | 090
27385 |  | A | Repair of thigh muscle | 7.76 | NA | 8.93 | 1.09 | NA | 17.78 | 090
27386 |  | A | Repair/graft of thigh muscle | 10.56 | NA | 11.12 | 1.49 | NA | 23.17 | 090
27390 |  | A | Incision of thigh tendon | 5.33 | NA | 8.22 | 0.69 | NA | 14.24 | 090
27391 |  | A | Incision of thigh tendons | 7.20 | NA | 9.08 | 0.99 | NA | 17.27 | 090
27392 |  | A | Incision of thigh tendons | 9.20 | NA | 11.15 | 1.23 | NA | 21.58 | 090
27393 |  | A | Lengthening of thigh tendon | 6.39 | NA | 8.45 | 0.90 | NA | 15.74 | 090
27394 |  | A | Lengthening of thigh tendons | 8.50 | NA | 10.51 | 1.17 | NA | 20.18 | 090
27395 |  | A | Lengthening of thigh tendons | 11.73 | NA | 13.19 | 1.63 | NA | 26.55 | 090
27396 |  | A | Transplant of thigh tendon | 7.86 | NA | 9.65 | 1.11 | NA | 18.62 | 090
27397 |  | A | Transplants of thigh tendons | 11.28 | NA | 11.71 | 1.58 | NA | 24.57 | 090
27400 |  | A | Revise thigh muscles/tendons | 9.02 | NA | 10.67 | 1.18 | NA | 20.87 | 090
27403 |  | A | Repair of knee cartilage | 8.33 | NA | 8.88 | 1.16 | NA | 18.37 | 090
27405 |  | A | Repair of knee ligament | 8.65 | NA | 9.81 | 1.21 | NA | 19.67 | 090
27407 |  | A | Repair of knee ligament | 10.28 | NA | 10.67 | 1.38 | NA | 22.33 | 090
27409 |  | A | Repair of knee ligaments | 12.90 | NA | 12.11 | 1.75 | NA | 26.76 | 090
27418 |  | A | Repair degenerated kneecap | 10.85 | NA | 10.99 | 1.51 | NA | 23.35 | 090
27420 |  | A | Revision of unstable kneecap | 9.83 | NA | 9.87 | 1.38 | NA | 21.08 | 090
27422 |  | A | Revision of unstable kneecap | 9.78 | NA | 9.83 | 1.37 | NA | 20.98 | 090
27424 |  | A | Revision/removal of kneecap | 9.81 | NA | 9.75 | 1.38 | NA | 20.94 | 090
27425 |  | A | Lateral retinacular release | 5.22 | NA | 7.29 | 0.73 | NA | 13.24 | 090
27427 |  | A | Reconstruction, knee | 9.36 | NA | 9.57 | 1.29 | NA | 20.22 | 090
27428 |  | A | Reconstruction, knee | 14.00 | NA | 12.85 | 1.95 | NA | 28.80 | 090
27429 |  | A | Reconstruction, knee | 15.52 | NA | 13.69 | 2.18 | NA | 31.39 | 090
27430 |  | A | Revision of thigh muscles | 9.67 | NA | 9.90 | 1.35 | NA | 20.92 | 090
27435 |  | A | Incision of knee joint | 9.49 | NA | 9.68 | 1.33 | NA | 20.50 | 090
27437 |  | A | Revise kneecap | 8.46 | NA | 10.06 | 1.18 | NA | 19.70 | 090
27438 |  | A | Revise kneecap with implant | 11.23 | NA | 11.34 | 1.56 | NA | 24.13 | 090
27440 |  | A | Revision of knee joint | 10.43 | NA | 10.92 | 1.42 | NA | 22.77 | 090
27441 |  | A | Revision of knee joint | 10.82 | NA | 11.24 | 1.49 | NA | 23.55 | 090
27442 |  | A | Revision of knee joint | 11.89 | NA | 11.77 | 1.68 | NA | 25.34 | 090
27443 |  | A | Revision of knee joint | 10.93 | NA | 11.56 | 1.52 | NA | 24.01 | 090
27445 |  | A | Revision of knee joint | 17.68 | NA | 14.98 | 2.49 | NA | 35.15 | 090
27446 |  | A | Revision of knee joint | 15.84 | NA | 14.26 | 2.22 | NA | 32.32 | 090
27447 |  | A | Total knee arthroplasty | 21.48 | NA | 17.35 | 3.00 | NA | 41.83 | 090
27448 |  | A | Incision of thigh | 11.06 | NA | 11.98 | 1.51 | NA | 24.55 | 090
27450 |  | A | Incision of thigh | 13.98 | NA | 13.83 | 1.96 | NA | 29.77 | 090
27454 |  | A | Realignment of thigh bone | 17.56 | NA | 15.83 | 2.46 | NA | 35.85 | 090
27455 |  | A | Realignment of knee | 12.82 | NA | 12.57 | 1.78 | NA | 27.17 | 090
27457 |  | A | Realignment of knee | 13.45 | NA | 11.73 | 1.88 | NA | 27.06 | 090
27465 |  | A | Shortening of thigh bone | 13.87 | NA | 14.09 | 1.86 | NA | 29.82 | 090
27466 |  | A | Lengthening of thigh bone | 16.33 | NA | 16.19 | 1.92 | NA | 34.44 | 090
27468 |  | A | Shorten/lengthen thighs | 18.97 | NA | 14.57 | 2.68 | NA | 36.22 | 090
27470 |  | A | Repair of thigh | 16.07 | NA | 16.07 | 2.24 | NA | 34.38 | 090
27472 |  | A | Repair/graft of thigh | 17.72 | NA | 16.98 | 2.49 | NA | 37.19 | 090
27475 |  | A | Surgery to stop leg growth | 8.64 | NA | 9.51 | 1.13 | NA | 19.28 | 090
27477 |  | A | Surgery to stop leg growth | 9.85 | NA | 10.10 | 1.31 | NA | 21.26 | 090
27479 |  | A | Surgery to stop leg growth | 12.80 | NA | 12.09 | 1.81 | NA | 26.70 | 090
27485 |  | A | Surgery to stop leg growth | 8.84 | NA | 9.40 | 1.24 | NA | 19.48 | 090
27486 |  | A | Revise/replace knee joint | 19.27 | NA | 16.13 | 2.70 | NA | 38.10 | 090
27487 |  | A | Revise/replace knee joint | 25.27 | NA | 19.26 | 3.54 | NA | 48.07 | 090
27488 |  | A | Removal of knee prosthesis | 15.74 | NA | 14.21 | 2.21 | NA | 32.16 | 090
27495 |  | A | Reinforce thigh | 15.55 | NA | 15.78 | 2.18 | NA | 33.51 | 090
27496 |  | A | Decompression of thigh/knee | 6.11 | NA | 7.96 | 0.77 | NA | 14.84 | 090
27497 |  | A | Decompression of thigh/knee | 7.17 | NA | 8.16 | 0.84 | NA | 16.17 | 090
27498 |  | A | Decompression of thigh/knee | 7.99 | NA | 8.37 | 0.97 | NA | 17.33 | 090
27499 |  | A | Decompression of thigh/knee | 9.00 | NA | 9.42 | 1.18 | NA | 19.60 | 090
27500 |  | A | Treatment of thigh fracture | 5.92 | 9.84 | 7.57 | 0.80 | 16.56 | 14.29 | 090
27501 |  | A | Treatment of thigh fracture | 5.92 | 10.92 | 8.62 | 0.83 | 17.67 | 15.37 | 090
27502 |  | A | Treatment of thigh fracture | 10.58 | NA | 11.27 | 1.49 | NA | 23.34 | 090
27503 |  | A | Treatment of thigh fracture | 10.58 | NA | 11.26 | 1.49 | NA | 23.33 | 090
27506 |  | A | Treatment of thigh fracture | 17.45 | NA | 14.57 | 2.33 | NA | 34.35 | 090
27507 |  | A | Treatment of thigh fracture | 13.99 | NA | 12.58 | 1.95 | NA | 28.52 | 090
27508 |  | A | Treatment of thigh fracture | 5.83 | 7.17 | 5.43 | 0.80 | 13.80 | 12.06 | 090
27509 |  | A | Treatment of thigh fracture | 7.71 | NA | 9.44 | 1.08 | NA | 18.23 | 090
27510 |  | A | Treatment of thigh fracture | 9.13 | NA | 7.37 | 1.26 | NA | 17.76 | 090
27511 |  | A | Treatment of thigh fracture | 13.64 | NA | 13.38 | 1.91 | NA | 28.93 | 090
27513 |  | A | Treatment of thigh fracture | 17.92 | NA | 15.80 | 2.51 | NA | 36.23 | 090
27514 |  | A | Treatment of thigh fracture | 17.30 | NA | 14.55 | 2.41 | NA | 34.26 | 090
27516 |  | A | Treat thigh fx growth plate | 5.37 | 7.98 | 5.85 | 0.74 | 14.09 | 11.96 | 090
27517 |  | A | Treat thigh fx growth plate | 8.78 | 9.94 | 7.90 | 1.22 | 19.94 | 17.90 | 090
27519 |  | A | Treat thigh fx growth plate | 15.02 | NA | 13.11 | 2.09 | NA | 30.22 | 090
27520 |  | A | Treat kneecap fracture | 2.86 | 5.48 | 3.82 | 0.38 | 8.72 | 7.06 | 090
27524 |  | A | Treat kneecap fracture | 10.00 | NA | 8.98 | 1.40 | NA | 20.38 | 090
27530 |  | A | Treat knee fracture | 3.78 | 6.00 | 4.33 | 0.51 | 10.29 | 8.62 | 090
27532 |  | A | Treat knee fracture | 7.30 | 7.65 | 5.84 | 1.02 | 15.97 | 14.16 | 090
27535 |  | A | Treat knee fracture | 11.50 | NA | 12.15 | 1.61 | NA | 25.26 | 090
27536 |  | A | Treat knee fracture | 15.65 | NA | 12.16 | 2.19 | NA | 30.00 | 090
27538 |  | A | Treat knee fracture(s) | 4.87 | 7.64 | 5.60 | 0.67 | 13.18 | 11.14 | 090
27540 |  | A | Treat knee fracture | 13.10 | NA | 10.75 | 1.80 | NA | 25.65 | 090
27550 |  | A | Treat knee dislocation | 5.76 | 7.60 | 5.79 | 0.68 | 14.04 | 12.23 | 090
27552 |  | A | Treat knee dislocation | 7.90 | NA | 8.04 | 1.10 | NA | 17.04 | 090
27556 |  | A | Treat knee dislocation | 14.41 | NA | 14.45 | 2.01 | NA | 30.87 | 090
27557 |  | A | Treat knee dislocation | 16.77 | NA | 15.78 | 2.37 | NA | 34.92 | 090
27558 |  | A | Treat knee dislocation | 17.72 | NA | 15.91 | 2.51 | NA | 36.14 | 090
27560 |  | A | Treat kneecap dislocation | 3.82 | 5.89 | 4.04 | 0.40 | 10.11 | 8.26 | 090
27562 |  | A | Treat kneecap dislocation | 5.79 | NA | 5.67 | 0.69 | NA | 12.15 | 090
27566 |  | A | Treat kneecap dislocation | 12.23 | NA | 10.09 | 1.73 | NA | 24.05 | 090
27570 |  | A | Fixation of knee joint | 1.74 | NA | 3.24 | 0.24 | NA | 5.22 | 010
27580 |  | A | Fusion of knee | 19.37 | NA | 16.63 | 2.70 | NA | 38.70 | 090
27590 |  | A | Amputate leg at thigh | 12.03 | NA | 12.67 | 1.35 | NA | 26.05 | 090
27591 |  | A | Amputate leg at thigh | 12.68 | NA | 14.01 | 1.63 | NA | 28.32 | 090
27592 |  | A | Amputate leg at thigh | 10.02 | NA | 12.55 | 1.17 | NA | 23.74 | 090
27594 |  | A | Amputation follow-up surgery | 6.92 | NA | 9.05 | 0.82 | NA | 16.79 | 090
27596 |  | A | Amputation follow-up surgery | 10.60 | NA | 12.64 | 1.24 | NA | 24.48 | 090
27598 |  | A | Amputate lower leg at knee | 10.53 | NA | 11.69 | 1.24 | NA | 23.46 | 090
27599 |  | C | Leg surgery procedure | 0.00 | 0.00 | 0.00 | 0.00 | 0.00 | 0.00 | YYY
27600 |  | A | Decompression of lower leg | 5.65 | NA | 7.67 | 0.68 | NA | 14.00 | 090
27601 |  | A | Decompression of lower leg | 5.64 | NA | 7.68 | 0.69 | NA | 14.01 | 090
27602 |  | A | Decompression of lower leg | 7.35 | NA | 8.08 | 0.85 | NA | 16.28 | 090
27603 |  | A | Drain lower leg lesion | 4.94 | 16.03 | 10.54 | 0.56 | 21.53 | 16.04 | 090
27604 |  | A | Drain lower leg bursa | 4.47 | 11.01 | 8.47 | 0.54 | 16.02 | 13.48 | 090
27605 |  | A | Incision of achilles tendon | 2.87 | 9.81 | 3.67 | 0.38 | 13.06 | 6.92 | 010
27606 |  | A | Incision of achilles tendon | 4.14 | 13.19 | 5.08 | 0.57 | 17.90 | 9.79 | 010
27607 |  | A | Treat lower leg bone lesion | 7.97 | NA | 12.78 | 1.08 | NA | 21.83 | 090
27610 |  | A | Explore/treat ankle joint | 8.34 | NA | 10.43 | 1.15 | NA | 19.92 | 090
27612 |  | A | Exploration of ankle joint | 7.33 | NA | 8.32 | 1.01 | NA | 16.66 | 090
27613 |  | A | Biopsy lower leg soft tissue | 2.17 | 5.38 | 2.96 | 0.16 | 7.71 | 5.29 | 010
27614 |  | A | Biopsy lower leg soft tissue | 5.66 | 10.88 | 7.17 | 0.62 | 17.16 | 13.45 | 090
27615 |  | A | Remove tumor, lower leg | 12.56 | NA | 17.07 | 1.39 | NA | 31.02 | 090
27618 |  | A | Remove lower leg lesion | 5.09 | 11.72 | 6.72 | 0.54 | 17.35 | 12.35 | 090
27619 |  | A | Remove lower leg lesion | 8.40 | 12.63 | 9.55 | 1.01 | 22.04 | 18.96 | 090
27620 |  | A | Explore/treat ankle joint | 5.98 | NA | 8.20 | 0.83 | NA | 15.01 | 090
27625 |  | A | Remove ankle joint lining | 8.30 | NA | 9.57 | 1.16 | NA | 19.03 | 090
27626 |  | A | Remove ankle joint lining | 8.91 | NA | 10.39 | 1.23 | NA | 20.53 | 090
27630 |  | A | Removal of tendon lesion | 4.80 | 10.70 | 6.87 | 0.60 | 16.10 | 12.27 | 090
27635 |  | A | Remove lower leg bone lesion | 7.78 | NA | 11.13 | 1.06 | NA | 19.97 | 090
27637 |  | A | Remove/graft leg bone lesion | 9.85 | NA | 12.36 | 1.38 | NA | 23.59 | 090
27638 |  | A | Remove/graft leg bone lesion | 10.57 | NA | 12.55 | 1.47 | NA | 24.59 | 090
27640 |  | A | Partial removal of tibia | 11.37 | NA | 18.46 | 1.54 | NA | 31.37 | 090
27641 |  | A | Partial removal of fibula | 9.24 | NA | 16.52 | 1.22 | NA | 26.98 | 090
27645 |  | A | Extensive lower leg surgery | 14.17 | NA | 18.78 | 1.98 | NA | 34.93 | 090
27646 |  | A | Extensive lower leg surgery | 12.66 | NA | 18.50 | 1.55 | NA | 32.71 | 090
27647 |  | A | Extensive ankle/heel surgery | 12.24 | NA | 11.31 | 1.64 | NA | 25.19 | 090
27648 |  | A | Injection for ankle x-ray | 0.96 | 9.49 | 0.36 | 0.05 | 10.50 | 1.37 | 000
27650 |  | A | Repair achilles tendon | 9.69 | NA | 9.60 | 1.35 | NA | 20.64 | 090
27652 |  | A | Repair/graft achilles tendon | 10.33 | NA | 9.90 | 1.45 | NA | 21.68 | 090
27654 |  | A | Repair of achilles tendon | 10.02 | NA | 10.34 | 1.41 | NA | 21.77 | 090
27656 |  | A | Repair leg fascia defect | 4.57 | 11.38 | 7.06 | 0.48 | 16.43 | 12.11 | 090
27658 |  | A | Repair of leg tendon, each | 4.98 | 10.63 | 9.14 | 0.68 | 16.29 | 14.80 | 090
27659 |  | A | Repair of leg tendon, each | 6.81 | 12.77 | 9.97 | 0.96 | 20.54 | 17.74 | 090
27664 |  | A | Repair of leg tendon, each | 4.59 | 17.85 | 9.17 | 0.63 | 23.07 | 14.39 | 090
27665 |  | A | Repair of leg tendon, each | 5.40 | 8.95 | 8.95 | 0.75 | 15.10 | 15.10 | 090
27675 |  | A | Repair lower leg tendons | 7.18 | NA | 8.48 | 1.01 | NA | 16.67 | 090
27676 |  | A | Repair lower leg tendons | 8.42 | NA | 9.72 | 1.15 | NA | 19.29 | 090
27680 |  | A | Release of lower leg tendon | 5.74 | NA | 8.27 | 0.80 | NA | 14.81 | 090
27681 |  | A | Release of lower leg tendons | 6.82 | NA | 8.88 | 0.92 | NA | 16.62 | 090
27685 |  | A | Revision of lower leg tendon | 6.50 | 10.37 | 8.45 | 0.91 | 17.78 | 15.86 | 090
27686 |  | A | Revise lower leg tendons | 7.46 | 15.30 | 9.89 | 1.05 | 23.81 | 18.40 | 090
27687 |  | A | Revision of calf tendon | 6.24 | NA | 8.70 | 0.88 | NA | 15.82 | 090
27690 |  | A | Revise lower leg tendon | 8.71 | NA | 9.61 | 1.22 | NA | 19.54 | 090
27691 |  | A | Revise lower leg tendon | 9.96 | NA | 11.10 | 1.40 | NA | 22.46 | 090
27692 |  | A | Revise additional leg tendon | 1.87 | NA | 0.99 | 0.26 | NA | 3.12 | ZZZ
27695 |  | A | Repair of ankle ligament | 6.51 | NA | 9.20 | 0.90 | NA | 16.61 | 090
27696 |  | A | Repair of ankle ligaments | 8.27 | NA | 9.54 | 1.16 | NA | 18.97 | 090
27698 |  | A | Repair of ankle ligament | 9.36 | NA | 9.72 | 1.31 | NA | 20.39 | 090
27700 |  | A | Revision of ankle joint | 9.29 | NA | 7.95 | 1.24 | NA | 18.48 | 090
27702 |  | A | Reconstruct ankle joint | 13.67 | NA | 13.02 | 1.92 | NA | 28.61 | 090
27703 |  | A | Reconstruction, ankle joint | 15.87 | NA | 13.31 | 2.24 | NA | 31.42 | 090
27704 |  | A | Removal of ankle implant | 7.62 | NA | 9.40 | 0.61 | NA | 17.63 | 090
27705 |  | A | Incision of tibia | 10.38 | NA | 11.55 | 1.44 | NA | 23.37 | 090
27707 |  | A | Incision of fibula | 4.37 | NA | 8.48 | 0.60 | NA | 13.45 | 090
27709 |  | A | Incision of tibia & fibula | 9.95 | NA | 11.48 | 1.39 | NA | 22.82 | 090
27712 |  | A | Realignment of lower leg | 14.25 | NA | 13.92 | 2.00 | NA | 30.17 | 090
27715 |  | A | Revision of lower leg | 14.39 | NA | 15.22 | 2.00 | NA | 31.61 | 090
27720 |  | A | Repair of tibia | 11.79 | NA | 13.67 | 1.66 | NA | 27.12 | 090
27722 |  | A | Repair/graft of tibia | 11.82 | NA | 13.46 | 1.65 | NA | 26.93 | 090
27724 |  | A | Repair/graft of tibia | 18.20 | NA | 17.28 | 2.10 | NA | 37.58 | 090
27725 |  | A | Repair of lower leg | 15.59 | NA | 15.62 | 2.20 | NA | 33.41 | 090
27727 |  | A | Repair of lower leg | 14.01 | NA | 14.43 | 1.84 | NA | 30.28 | 090
27730 |  | A | Repair of tibia epiphysis | 7.41 | 21.54 | 10.22 | 0.75 | 29.70 | 18.38 | 090
27732 |  | A | Repair of fibula epiphysis | 5.32 | 14.45 | 7.22 | 0.63 | 20.40 | 13.17 | 090
27734 |  | A | Repair lower leg epiphyses | 8.48 | NA | 10.84 | 0.85 | NA | 20.17 | 090
27740 |  | A | Repair of leg epiphyses | 9.30 | 16.04 | 9.72 | 1.31 | 26.65 | 20.33 | 090
27742 |  | A | Repair of leg epiphyses | 10.30 | 16.44 | 9.27 | 1.55 | 28.29 | 21.12 | 090
27745 |  | A | Reinforce tibia | 10.07 | NA | 11.60 | 1.38 | NA | 23.05 | 090
27750 |  | A | Treatment of tibia fracture | 3.19 | 5.65 | 4.00 | 0.43 | 9.27 | 7.62 | 090
27752 |  | A | Treatment of tibia fracture | 5.84 | 8.20 | 6.17 | 0.82 | 14.86 | 12.83 | 090
27756 |  | A | Treatment of tibia fracture | 6.78 | NA | 10.84 | 0.94 | NA | 18.56 | 090
27758 |  | A | Treatment of tibia fracture | 11.67 | NA | 12.22 | 1.52 | NA | 25.41 | 090
27759 |  | A | Treatment of tibia fracture | 13.76 | NA | 13.46 | 1.93 | NA | 29.15 | 090
27760 |  | A | Treatment of ankle fracture | 3.01 | 5.42 | 3.87 | 0.39 | 8.82 | 7.27 | 090
27762 |  | A | Treatment of ankle fracture | 5.25 | 7.57 | 5.75 | 0.71 | 13.53 | 11.71 | 090
27766 |  | A | Treatment of ankle fracture | 8.36 | NA | 8.26 | 1.17 | NA | 17.79 | 090
27780 |  | A | Treatment of fibula fracture | 2.65 | 5.37 | 3.69 | 0.33 | 8.35 | 6.67 | 090
27781 |  | A | Treatment of fibula fracture | 4.40 | 6.38 | 4.62 | 0.57 | 11.35 | 9.59 | 090
27784 |  | A | Treatment of fibula fracture | 7.11 | NA | 8.63 | 0.98 | NA | 16.72 | 090
27786 |  | A | Treatment of ankle fracture | 2.84 | 5.38 | 3.78 | 0.37 | 8.59 | 6.99 | 090
27788 |  | A | Treatment of ankle fracture | 4.45 | 6.65 | 4.62 | 0.61 | 11.71 | 9.68 | 090
27792 |  | A | Treatment of ankle fracture | 7.66 | NA | 8.18 | 1.07 | NA | 16.91 | 090
27808 |  | A | Treatment of ankle fracture | 2.83 | 6.44 | 4.50 | 0.38 | 9.65 | 7.71 | 090
27810 |  | A | Treatment of ankle fracture | 5.13 | 7.77 | 5.71 | 0.71 | 13.61 | 11.55 | 090
27814 |  | A | Treatment of ankle fracture | 10.68 | NA | 10.93 | 1.50 | NA | 23.11 | 090
27816 |  | A | Treatment of ankle fracture | 2.89 | 5.97 | 4.55 | 0.37 | 9.23 | 7.81 | 090
27818 |  | A | Treatment of ankle fracture | 5.50 | 7.89 | 5.88 | 0.74 | 14.13 | 12.12 | 090
27822 |  | A | Treatment of ankle fracture | 11.00 | NA | 13.18 | 1.29 | NA | 25.47 | 090
27823 |  | A | Treatment of ankle fracture | 13.00 | NA | 14.39 | 1.65 | NA | 29.04 | 090
27824 |  | A | Treat lower leg fracture | 2.89 | 6.43 | 4.50 | 0.39 | 9.71 | 7.78 | 090
27825 |  | A | Treat lower leg fracture | 6.19 | 8.30 | 6.32 | 0.85 | 15.34 | 13.36 | 090
27826 |  | A | Treat lower leg fracture | 8.54 | NA | 11.88 | 1.19 | NA | 21.61 | 090
27827 |  | A | Treat lower leg fracture | 14.06 | NA | 15.00 | 1.96 | NA | 31.02 | 090
27828 |  | A | Treat lower leg fracture | 16.23 | NA | 15.03 | 2.27 | NA | 33.53 | 090
27829 |  | A | Treat lower leg joint | 5.49 | NA | 8.67 | 0.77 | NA | 14.93 | 090
27830 |  | A | Treat lower leg dislocation | 3.79 | 5.82 | 4.36 | 0.44 | 10.05 | 8.59 | 090
27831 |  | A | Treat lower leg dislocation | 4.56 | NA | 4.94 | 0.61 | NA | 10.11 | 090
27832 |  | A | Treat lower leg dislocation | 6.49 | NA | 8.06 | 0.91 | NA | 15.46 | 090
27840 |  | A | Treat ankle dislocation | 4.58 | NA | 6.21 | 0.47 | NA | 11.26 | 090
27842 |  | A | Treat ankle dislocation | 6.21 | NA | 5.25 | 0.76 | NA | 12.22 | 090
27846 |  | A | Treat ankle dislocation | 9.79 | NA | 10.46 | 1.36 | NA | 21.61 | 090
27848 |  | A | Treat ankle dislocation | 11.20 | NA | 11.70 | 1.55 | NA | 24.45 | 090
27860 |  | A | Fixation of ankle joint | 2.34 | NA | 3.78 | 0.31 | NA | 6.43 | 010
27870 |  | A | Fusion of ankle joint | 13.91 | NA | 13.76 | 1.95 | NA | 29.62 | 090
27871 |  | A | Fusion of tibiofibular joint | 9.17 | NA | 11.03 | 1.29 | NA | 21.49 | 090
27880 |  | A | Amputation of lower leg | 11.85 | NA | 11.95 | 1.38 | NA | 25.18 | 090
27881 |  | A | Amputation of lower leg | 12.34 | NA | 13.44 | 1.59 | NA | 27.37 | 090
27882 |  | A | Amputation of lower leg | 8.94 | NA | 13.13 | 1.03 | NA | 23.10 | 090
27884 |  | A | Amputation follow-up surgery | 8.21 | NA | 10.78 | 0.95 | NA | 19.94 | 090
27886 |  | A | Amputation follow-up surgery | 9.32 | NA | 11.26 | 1.13 | NA | 21.71 | 090
27888 |  | A | Amputation of foot at ankle | 9.67 | NA | 11.11 | 1.26 | NA | 22.04 | 090
27889 |  | A | Amputation of foot at ankle | 9.98 | NA | 10.45 | 1.19 | NA | 21.62 | 090
27892 |  | A | Decompression of leg | 7.39 | NA | 8.41 | 0.86 | NA | 16.66 | 090
27893 |  | A | Decompression of leg | 7.35 | NA | 8.58 | 0.90 | NA | 16.83 | 090
27894 |  | A | Decompression of leg | 10.49 | NA | 10.09 | 1.25 | NA | 21.83 | 090
27899 |  | C | Leg/ankle surgery procedure | 0.00 | 0.00 | 0.00 | 0.00 | 0.00 | 0.00 | YYY
28001 |  | A | Drainage of bursa of foot | 2.73 | 5.62 | 3.09 | 0.31 | 8.66 | 6.13 | 010
28002 |  | A | Treatment of foot infection | 4.62 | 6.78 | 4.22 | 0.56 | 11.96 | 9.40 | 010
28003 |  | A | Treatment of foot infection | 8.41 | 11.40 | 10.63 | 1.03 | 20.84 | 20.07 | 090
28005 |  | A | Treat foot bone lesion | 8.68 | NA | 10.26 | 1.14 | NA | 20.08 | 090
28008 |  | A | Incision of foot fascia | 4.45 | 8.17 | 6.38 | 0.56 | 13.18 | 11.39 | 090
28010 |  | A | Incision of toe tendon | 2.84 | 7.64 | 5.37 | 0.39 | 10.87 | 8.60 | 090
28011 |  | A | Incision of toe tendons | 4.14 | 9.36 | 6.79 | 0.58 | 14.08 | 11.51 | 090
28020 |  | A | Exploration of foot joint | 5.01 | 8.12 | 6.81 | 0.64 | 13.77 | 12.46 | 090
28022 |  | A | Exploration of foot joint | 4.67 | 7.90 | 6.26 | 0.62 | 13.19 | 11.55 | 090
28024 |  | A | Exploration of toe joint | 4.38 | 8.55 | 6.64 | 0.50 | 13.43 | 11.52 | 090
28030 |  | A | Removal of foot nerve | 6.15 | NA | 3.50 | 0.85 | NA | 10.50 | 090
28035 |  | A | Decompression of tibia nerve | 5.09 | 8.80 | 5.35 | 0.71 | 14.60 | 11.15 | 090
28043 |  | A | Excision of foot lesion | 3.54 | 7.47 | 4.96 | 0.45 | 11.46 | 8.95 | 090
28045 |  | A | Excision of foot lesion | 4.72 | 8.18 | 5.81 | 0.62 | 13.52 | 11.15 | 090
28046 |  | A | Resection of tumor, foot | 10.18 | 13.58 | 11.38 | 1.13 | 24.89 | 22.69 | 090
28050 |  | A | Biopsy of foot joint lining | 4.25 | 9.52 | 6.11 | 0.55 | 14.32 | 10.91 | 090
28052 |  | A | Biopsy of foot joint lining | 3.94 | 8.01 | 5.76 | 0.51 | 12.46 | 10.21 | 090
28054 |  | A | Biopsy of toe joint lining | 3.45 | 7.70 | 5.50 | 0.45 | 11.60 | 9.40 | 090
28060 |  | A | Partial removal, foot fascia | 5.23 | 8.72 | 6.51 | 0.69 | 14.64 | 12.43 | 090
28062 |  | A | Removal of foot fascia | 6.52 | 9.27 | 6.87 | 0.85 | 16.64 | 14.24 | 090
28070 |  | A | Removal of foot joint lining | 5.10 | 7.98 | 6.12 | 0.68 | 13.76 | 11.90 | 090
28072 |  | A | Removal of foot joint lining | 4.58 | 8.84 | 6.67 | 0.64 | 14.06 | 11.89 | 090
28080 |  | A | Removal of foot lesion | 3.58 | 7.82 | 5.51 | 0.50 | 11.90 | 9.59 | 090
28086 |  | A | Excise foot tendon sheath | 4.78 | 11.87 | 7.11 | 0.66 | 17.31 | 12.55 | 090
28088 |  | A | Excise foot tendon sheath | 3.86 | 9.97 | 6.62 | 0.52 | 14.35 | 11.00 | 090
28090 |  | A | Removal of foot lesion | 4.41 | 8.12 | 5.64 | 0.57 | 13.10 | 10.62 | 090
28092 |  | A | Removal of toe lesions | 3.64 | 8.17 | 6.08 | 0.46 | 12.27 | 10.18 | 090
28100 |  | A | Removal of ankle/heel lesion | 5.66 | 13.07 | 7.70 | 0.76 | 19.49 | 14.12 | 090
28102 |  | A | Remove/graft foot lesion | 7.73 | NA | 9.00 | 0.97 | NA | 17.70 | 090
28103 |  | A | Remove/graft foot lesion | 6.50 | 8.76 | 6.93 | 0.89 | 16.15 | 14.32 | 090
28104 |  | A | Removal of foot lesion | 5.12 | 8.49 | 6.76 | 0.69 | 14.30 | 12.57 | 090
28106 |  | A | Remove/graft foot lesion | 7.16 | NA | 6.97 | 1.01 | NA | 15.14 | 090
28107 |  | A | Remove/graft foot lesion | 5.56 | 9.96 | 7.13 | 0.74 | 16.26 | 13.43 | 090
28108 |  | A | Removal of toe lesions | 4.16 | 7.49 | 5.36 | 0.52 | 12.17 | 10.04 | 090
28110 |  | A | Part removal of metatarsal | 4.08 | 8.80 | 6.87 | 0.49 | 13.37 | 11.44 | 090
28111 |  | A | Part removal of metatarsal | 5.01 | 9.09 | 7.69 | 0.63 | 14.73 | 13.33 | 090
28112 |  | A | Part removal of metatarsal | 4.49 | 8.89 | 7.47 | 0.60 | 13.98 | 12.56 | 090
28113 |  | A | Part removal of metatarsal | 4.79 | 8.92 | 7.13 | 0.63 | 14.34 | 12.55 | 090
28114 |  | A | Removal of metatarsal heads | 9.79 | 12.36 | 10.85 | 1.36 | 23.51 | 22.00 | 090
28116 |  | A | Revision of foot | 7.75 | 9.27 | 6.38 | 1.03 | 18.05 | 15.16 | 090
28118 |  | A | Removal of heel bone | 5.96 | 9.37 | 7.24 | 0.79 | 16.12 | 13.99 | 090
28119 |  | A | Removal of heel spur | 5.39 | 8.58 | 6.15 | 0.74 | 14.71 | 12.28 | 090
28120 |  | A | Part removal of ankle/heel | 5.40 | 11.28 | 9.83 | 0.69 | 17.37 | 15.92 | 090
28122 |  | A | Partial removal of foot bone | 7.29 | 10.94 | 9.50 | 0.96 | 19.19 | 17.75 | 090
28124 |  | A | Partial removal of toe | 4.81 | 9.61 | 7.61 | 0.65 | 15.07 | 13.07 | 090
28126 |  | A | Partial removal of toe | 3.52 | 8.37 | 6.76 | 0.49 | 12.38 | 10.77 | 090
28130 |  | A | Removal of ankle bone | 8.11 | NA | 8.77 | 1.11 | NA | 17.99 | 090
28140 |  | A | Removal of metatarsal | 6.91 | 10.40 | 7.92 | 0.84 | 18.15 | 15.67 | 090
28150 |  | A | Removal of toe | 4.09 | 8.75 | 7.07 | 0.52 | 13.36 | 11.68 | 090
28153 |  | A | Partial removal of toe | 3.66 | 8.39 | 6.22 | 0.49 | 12.54 | 10.37 | 090
28160 |  | A | Partial removal of toe | 3.74 | 8.55 | 7.22 | 0.51 | 12.80 | 11.47 | 090
28171 |  | A | Extensive foot surgery | 9.60 | NA | 8.27 | 1.13 | NA | 19.00 | 090
28173 |  | A | Extensive foot surgery | 8.80 | 10.83 | 8.88 | 1.04 | 20.67 | 18.72 | 090
28175 |  | A | Extensive foot surgery | 6.05 | 9.54 | 6.99 | 0.75 | 16.34 | 13.79 | 090
28190 |  | A | Removal of foot foreign body | 1.96 | 6.54 | 3.53 | 0.16 | 8.66 | 5.65 | 010
28192 |  | A | Removal of foot foreign body | 4.64 | 8.20 | 5.44 | 0.52 | 13.36 | 10.60 | 090
28193 |  | A | Removal of foot foreign body | 5.73 | 8.94 | 6.67 | 0.63 | 15.30 | 13.03 | 090
28200 |  | A | Repair of foot tendon | 4.60 | 8.47 | 6.32 | 0.59 | 13.66 | 11.51 | 090
28202 |  | A | Repair/graft of foot tendon | 6.84 | 12.63 | 6.83 | 0.86 | 20.33 | 14.53 | 090
28208 |  | A | Repair of foot tendon | 4.37 | 8.17 | 6.03 | 0.59 | 13.13 | 10.99 | 090
28210 |  | A | Repair/graft of foot tendon | 6.35 | 9.83 | 6.38 | 0.77 | 16.95 | 13.50 | 090
28220 |  | A | Release of foot tendon | 4.53 | 8.12 | 6.41 | 0.63 | 13.28 | 11.57 | 090
28222 |  | A | Release of foot tendons | 5.62 | 8.40 | 6.77 | 0.77 | 14.79 | 13.16 | 090
28225 |  | A | Release of foot tendon | 3.66 | 7.76 | 5.57 | 0.50 | 11.92 | 9.73 | 090
28226 |  | A | Release of foot tendons | 4.53 | 8.30 | 6.66 | 0.62 | 13.45 | 11.81 | 090
28230 |  | A | Incision of foot tendon(s) | 4.24 | 8.26 | 6.83 | 0.59 | 13.09 | 11.66 | 090
28232 |  | A | Incision of toe tendon | 3.39 | 8.12 | 6.53 | 0.48 | 11.99 | 10.40 | 090
28234 |  | A | Incision of foot tendon | 3.37 | 7.98 | 6.11 | 0.46 | 11.81 | 9.94 | 090
28238 |  | A | Revision of foot tendon | 7.73 | 9.77 | 7.60 | 1.08 | 18.58 | 16.41 | 090
28240 |  | A | Release of big toe | 4.36 | 8.17 | 6.40 | 0.61 | 13.14 | 11.37 | 090
28250 |  | A | Revision of foot fascia | 5.92 | 9.05 | 7.12 | 0.81 | 15.78 | 13.85 | 090
28260 |  | A | Release of midfoot joint | 7.96 | 11.04 | 8.08 | 1.08 | 20.08 | 17.12 | 090
28261 |  | A | Revision of foot tendon | 11.73 | 11.16 | 9.64 | 1.66 | 24.55 | 23.03 | 090
28262 |  | A | Revision of foot and ankle | 15.83 | 15.66 | 15.09 | 2.22 | 33.71 | 33.14 | 090
28264 |  | A | Release of midfoot joint | 10.35 | 10.98 | 10.98 | 1.46 | 22.79 | 22.79 | 090
28270 |  | A | Release of foot contracture | 4.76 | 8.75 | 7.43 | 0.67 | 14.18 | 12.86 | 090
28272 |  | A | Release of toe joint, each | 3.80 | 7.70 | 5.50 | 0.52 | 12.02 | 9.82 | 090
28280 |  | A | Fusion of toes | 5.19 | 8.39 | 6.77 | 0.72 | 14.30 | 12.68 | 090
28285 |  | A | Repair of hammertoe | 4.59 | 8.79 | 6.76 | 0.64 | 14.02 | 11.99 | 090
28286 |  | A | Repair of hammertoe | 4.56 | 8.78 | 6.75 | 0.64 | 13.98 | 11.95 | 090
28288 |  | A | Partial removal of foot bone | 4.74 | 9.00 | 8.02 | 0.65 | 14.39 | 13.41 | 090
28289 |  | A | Repair hallux rigidus | 7.04 | 10.54 | 9.75 | 0.96 | 18.54 | 17.75 | 090
28290 |  | A | Correction of bunion | 5.66 | 9.55 | 8.81 | 0.79 | 16.00 | 15.26 | 090
28292 |  | A | Correction of bunion | 7.04 | 9.82 | 7.69 | 0.98 | 17.84 | 15.71 | 090
28293 |  | A | Correction of bunion | 9.15 | 10.67 | 8.02 | 1.28 | 21.10 | 18.45 | 090
28294 |  | A | Correction of bunion | 8.56 | 10.52 | 8.30 | 1.16 | 20.24 | 18.02 | 090
28296 |  | A | Correction of bunion | 9.18 | 10.84 | 8.65 | 1.28 | 21.30 | 19.11 | 090
28297 |  | A | Correction of bunion | 9.18 | 12.80 | 10.25 | 1.31 | 23.29 | 20.74 | 090
28298 |  | A | Correction of bunion | 7.94 | 10.10 | 8.48 | 1.12 | 19.16 | 17.54 | 090
28299 |  | A | Correction of bunion | 10.58 | 11.55 | 9.21 | 1.24 | 23.37 | 21.03 | 090
28300 |  | A | Incision of heel bone | 9.54 | 14.15 | 9.43 | 1.31 | 25.00 | 20.28 | 090
28302 |  | A | Incision of ankle bone | 9.55 | 9.55 | 9.22 | 1.15 | 20.25 | 19.92 | 090
28304 |  | A | Incision of midfoot bones | 9.16 | 9.53 | 7.88 | 1.00 | 19.69 | 18.04 | 090
28305 |  | A | Incise/graft midfoot bones | 10.50 | 14.52 | 10.07 | 0.55 | 25.57 | 21.12 | 090
28306 |  | A | Incision of metatarsal | 5.86 | 8.84 | 6.51 | 0.81 | 15.51 | 13.18 | 090
28307 |  | A | Incision of metatarsal | 6.33 | 13.70 | 7.74 | 0.71 | 20.74 | 14.78 | 090
28308 |  | A | Incision of metatarsal | 5.29 | 7.97 | 5.60 | 0.74 | 14.00 | 11.63 | 090
28309 |  | A | Incision of metatarsals | 12.78 | NA | 11.08 | 1.64 | NA | 25.50 | 090
28310 |  | A | Revision of big toe | 5.43 | 9.00 | 6.93 | 0.76 | 15.19 | 13.12 | 090
28312 |  | A | Revision of toe | 4.55 | 8.66 | 7.87 | 0.62 | 13.83 | 13.04 | 090
28313 |  | A | Repair deformity of toe | 5.01 | 9.06 | 9.06 | 0.68 | 14.75 | 14.75 | 090
28315 |  | A | Removal of sesamoid bone | 4.86 | 7.95 | 5.82 | 0.66 | 13.47 | 11.34 | 090
28320 |  | A | Repair of foot bones | 9.18 | NA | 9.02 | 1.27 | NA | 19.47 | 090
28322 |  | A | Repair of metatarsals | 8.34 | 11.71 | 8.38 | 1.17 | 21.22 | 17.89 | 090
28340 |  | A | Resect enlarged toe tissue | 6.98 | 8.96 | 6.28 | 0.98 | 16.92 | 14.24 | 090
28341 |  | A | Resect enlarged toe | 8.41 | 9.55 | 6.88 | 1.18 | 19.14 | 16.47 | 090
28344 |  | A | Repair extra toe(s) | 4.26 | 7.38 | 4.86 | 0.60 | 12.24 | 9.72 | 090
28345 |  | A | Repair webbed toe(s) | 5.92 | 9.48 | 7.58 | 0.84 | 16.24 | 14.34 | 090
28360 |  | A | Reconstruct cleft foot | 13.34 | NA | 12.22 | 1.88 | NA | 27.44 | 090
28400 |  | A | Treatment of heel fracture | 2.16 | 5.76 | 4.74 | 0.29 | 8.21 | 7.19 | 090
28405 |  | A | Treatment of heel fracture | 4.57 | 6.66 | 5.87 | 0.63 | 11.86 | 11.07 | 090
28406 |  | A | Treatment of heel fracture | 6.31 | NA | 8.69 | 0.87 | NA | 15.87 | 090
28415 |  | A | Treat heel fracture | 15.97 | NA | 15.72 | 2.24 | NA | 33.93 | 090
28420 |  | A | Treat/graft heel fracture | 16.64 | NA | 15.95 | 2.29 | NA | 34.88 | 090
28430 |  | A | Treatment of ankle fracture | 2.09 | 5.25 | 4.26 | 0.27 | 7.61 | 6.62 | 090
28435 |  | A | Treatment of ankle fracture | 3.40 | 5.41 | 4.57 | 0.47 | 9.28 | 8.44 | 090
28436 |  | A | Treatment of ankle fracture | 4.71 | NA | 7.86 | 0.66 | NA | 13.23 | 090
28445 |  | A | Treat ankle fracture | 15.62 | NA | 13.94 | 1.29 | NA | 30.85 | 090
28450 |  | A | Treat midfoot fracture, each | 1.90 | 5.28 | 4.07 | 0.25 | 7.43 | 6.22 | 090
28455 |  | A | Treat midfoot fracture, each | 3.09 | 5.51 | 4.94 | 0.43 | 9.03 | 8.46 | 090
28456 |  | A | Treat midfoot fracture | 2.68 | NA | 6.27 | 0.36 | NA | 9.31 | 090
28465 |  | A | Treat midfoot fracture, each | 7.01 | NA | 8.25 | 0.87 | NA | 16.13 | 090
28470 |  | A | Treat metatarsal fracture | 1.99 | 4.52 | 3.41 | 0.26 | 6.77 | 5.66 | 090
28475 |  | A | Treat metatarsal fracture | 2.97 | 5.18 | 4.38 | 0.41 | 8.56 | 7.76 | 090
28476 |  | A | Treat metatarsal fracture | 3.38 | NA | 6.71 | 0.46 | NA | 10.55 | 090
28485 |  | A | Treat metatarsal fracture | 5.71 | NA | 8.16 | 0.80 | NA | 14.67 | 090
28490 |  | A | Treat big toe fracture | 1.09 | 2.76 | 2.21 | 0.13 | 3.98 | 3.43 | 090
28495 |  | A | Treat big toe fracture | 1.58 | 2.82 | 2.31 | 0.19 | 4.59 | 4.08 | 090
28496 |  | A | Treat big toe fracture | 2.33 | 11.10 | 4.58 | 0.32 | 13.75 | 7.23 | 090
28505 |  | A | Treat big toe fracture | 3.81 | 11.46 | 6.74 | 0.50 | 15.77 | 11.05 | 090
28510 |  | A | Treatment of toe fracture | 1.09 | 2.51 | 2.23 | 0.13 | 3.73 | 3.45 | 090
28515 |  | A | Treatment of toe fracture | 1.46 | 2.83 | 2.30 | 0.17 | 4.46 | 3.93 | 090
28525 |  | A | Treat toe fracture | 3.32 | 10.82 | 6.16 | 0.44 | 14.58 | 9.92 | 090
28530 |  | A | Treat sesamoid bone fracture | 1.06 | 2.91 | 2.91 | 0.13 | 4.10 | 4.10 | 090
28531 |  | A | Treat sesamoid bone fracture | 2.35 | 11.91 | 4.73 | 0.33 | 14.59 | 7.41 | 090
28540 |  | A | Treat foot dislocation | 2.04 | 3.75 | 3.75 | 0.24 | 6.03 | 6.03 | 090
28545 |  | A | Treat foot dislocation | 2.45 | 4.76 | 4.76 | 0.33 | 7.54 | 7.54 | 090
28546 |  | A | Treat foot dislocation | 3.20 | 12.55 | 6.31 | 0.46 | 16.21 | 9.97 | 090
28555 |  | A | Repair foot dislocation | 6.30 | 13.49 | 8.36 | 0.88 | 20.67 | 15.54 | 090
28570 |  | A | Treat foot dislocation | 1.66 | 3.67 | 3.67 | 0.22 | 5.55 | 5.55 | 090
28575 |  | A | Treat foot dislocation | 3.31 | 5.19 | 5.19 | 0.45 | 8.95 | 8.95 | 090
28576 |  | A | Treat foot dislocation | 4.17 | 12.06 | 6.85 | 0.56 | 16.79 | 11.58 | 090
28585 |  | A | Repair foot dislocation | 7.99 | 8.75 | 8.32 | 1.13 | 17.87 | 17.44 | 090
28600 |  | A | Treat foot dislocation | 1.89 | 4.32 | 3.89 | 0.24 | 6.45 | 6.02 | 090
28605 |  | A | Treat foot dislocation | 2.71 | 4.40 | 4.40 | 0.35 | 7.46 | 7.46 | 090
28606 |  | A | Treat foot dislocation | 4.90 | 16.14 | 7.09 | 0.68 | 21.72 | 12.67 | 090
28615 |  | A | Repair foot dislocation | 7.77 | NA | 9.45 | 1.09 | NA | 18.31 | 090
28630 |  | A | Treat toe dislocation | 1.70 | 2.35 | 2.35 | 0.17 | 4.22 | 4.22 | 010
28635 |  | A | Treat toe dislocation | 1.91 | 2.49 | 2.49 | 0.24 | 4.64 | 4.64 | 010
28636 |  | A | Treat toe dislocation | 2.77 | 4.81 | 3.22 | 0.39 | 7.97 | 6.38 | 010
28645 |  | A | Repair toe dislocation | 4.22 | 6.69 | 4.34 | 0.58 | 11.49 | 9.14 | 090
28660 |  | A | Treat toe dislocation | 1.23 | 3.11 | 2.60 | 0.11 | 4.45 | 3.94 | 010
28665 |  | A | Treat toe dislocation | 1.92 | 2.47 | 2.47 | 0.24 | 4.63 | 4.63 | 010
28666 |  | A | Treat toe dislocation | 2.66 | 13.30 | 3.00 | 0.38 | 16.34 | 6.04 | 010
28675 |  | A | Repair of toe dislocation | 2.92 | 9.48 | 4.90 | 0.41 | 12.81 | 8.23 | 090
28705 |  | A | Fusion of foot bones | 18.80 | NA | 15.67 | 2.13 | NA | 36.60 | 090
28715 |  | A | Fusion of foot bones | 13.10 | NA | 12.57 | 1.84 | NA | 27.51 | 090
28725 |  | A | Fusion of foot bones | 11.61 | NA | 11.48 | 1.63 | NA | 24.72 | 090
28730 |  | A | Fusion of foot bones | 10.76 | NA | 10.76 | 1.51 | NA | 23.03 | 090
28735 |  | A | Fusion of foot bones | 10.85 | NA | 10.45 | 1.51 | NA | 22.81 | 090
28737 |  | A | Revision of foot bones | 9.64 | NA | 9.04 | 1.36 | NA | 20.04 | 090
28740 |  | A | Fusion of foot bones | 8.02 | 13.03 | 8.94 | 1.13 | 22.18 | 18.09 | 090
28750 |  | A | Fusion of big toe joint | 7.30 | 12.48 | 9.13 | 1.03 | 20.81 | 17.46 | 090
28755 |  | A | Fusion of big toe joint | 4.74 | 8.52 | 6.42 | 0.66 | 13.92 | 11.82 | 090
28760 |  | A | Fusion of big toe joint | 7.75 | 10.39 | 7.82 | 1.07 | 19.21 | 16.64 | 090
28800 |  | A | Amputation of midfoot | 8.21 | NA | 8.90 | 0.98 | NA | 18.09 | 090
28805 |  | A | Amputation thru metatarsal | 8.39 | NA | 9.00 | 0.97 | NA | 18.36 | 090
28810 |  | A | Amputation toe & metatarsal | 6.21 | NA | 7.97 | 0.70 | NA | 14.88 | 090
28820 |  | A | Amputation of toe | 4.41 | 9.91 | 7.16 | 0.51 | 14.83 | 12.08 | 090
28825 |  | A | Partial amputation of toe | 3.59 | 10.12 | 6.95 | 0.43 | 14.14 | 10.97 | 090
28899 |  | C | Foot/toes surgery procedure | 0.00 | 0.00 | 0.00 | 0.00 | 0.00 | 0.00 | YYY
29000 |  | A | Application of body cast | 2.25 | 2.71 | 1.67 | 0.30 | 5.26 | 4.22 | 000
29010 |  | A | Application of body cast | 2.06 | 2.98 | 1.72 | 0.27 | 5.31 | 4.05 | 000
29015 |  | A | Application of body cast | 2.41 | 3.17 | 1.93 | 0.21 | 5.79 | 4.55 | 000
29020 |  | A | Application of body cast | 2.11 | 3.33 | 1.47 | 0.16 | 5.60 | 3.74 | 000
29025 |  | A | Application of body cast | 2.40 | 3.32 | 1.86 | 0.26 | 5.98 | 4.52 | 000
29035 |  | A | Application of body cast | 1.77 | 3.05 | 1.56 | 0.24 | 5.06 | 3.57 | 000
29040 |  | A | Application of body cast | 2.22 | 2.54 | 1.49 | 0.35 | 5.11 | 4.06 | 000
29044 |  | A | Application of body cast | 2.12 | 3.20 | 1.81 | 0.29 | 5.61 | 4.22 | 000
29046 |  | A | Application of body cast | 2.41 | 3.31 | 2.04 | 0.34 | 6.06 | 4.79 | 000
29049 |  | A | Application of figure eight | 0.89 | 1.07 | 0.57 | 0.12 | 2.08 | 1.58 | 000
29055 |  | A | Application of shoulder cast | 1.78 | 2.40 | 1.42 | 0.24 | 4.42 | 3.44 | 000
29058 |  | A | Application of shoulder cast | 1.31 | 1.33 | 0.73 | 0.14 | 2.78 | 2.18 | 000
29065 |  | A | Application of long arm cast | 0.87 | 1.10 | 0.69 | 0.12 | 2.09 | 1.68 | 000
29075 |  | A | Application of forearm cast | 0.77 | 1.05 | 0.63 | 0.11 | 1.93 | 1.51 | 000
29085 |  | A | Apply hand/wrist cast | 0.87 | 1.10 | 0.62 | 0.11 | 2.08 | 1.60 | 000
29086 |  | A | Apply finger cast | 0.62 | 0.81 | 0.50 | 0.07 | 1.50 | 1.19 | 000
29105 |  | A | Apply long arm splint | 0.87 | 1.05 | 0.52 | 0.11 | 2.03 | 1.50 | 000
29125 |  | A | Apply forearm splint | 0.59 | 0.88 | 0.41 | 0.06 | 1.53 | 1.06 | 000
29126 |  | A | Apply forearm splint | 0.77 | 1.21 | 0.47 | 0.06 | 2.04 | 1.30 | 000
29130 |  | A | Application of finger splint | 0.50 | 0.44 | 0.18 | 0.05 | 0.99 | 0.73 | 000
29131 |  | A | Application of finger splint | 0.55 | 0.71 | 0.23 | 0.03 | 1.29 | 0.81 | 000
29200 |  | A | Strapping of chest | 0.65 | 0.85 | 0.37 | 0.04 | 1.54 | 1.06 | 000
29220 |  | A | Strapping of low back | 0.64 | 0.96 | 0.41 | 0.07 | 1.67 | 1.12 | 000
29240 |  | A | Strapping of shoulder | 0.71 | 0.92 | 0.39 | 0.05 | 1.68 | 1.15 | 000
29260 |  | A | Strapping of elbow or wrist | 0.55 | 0.85 | 0.35 | 0.04 | 1.44 | 0.94 | 000
29280 |  | A | Strapping of hand or finger | 0.51 | 0.91 | 0.39 | 0.04 | 1.46 | 0.94 | 000
29305 |  | A | Application of hip cast | 2.03 | 2.74 | 1.60 | 0.29 | 5.06 | 3.92 | 000
29325 |  | A | Application of hip casts | 2.32 | 3.05 | 1.79 | 0.31 | 5.68 | 4.42 | 000
29345 |  | A | Application of long leg cast | 1.40 | 1.51 | 1.02 | 0.19 | 3.10 | 2.61 | 000
29355 |  | A | Application of long leg cast | 1.53 | 1.47 | 1.11 | 0.20 | 3.20 | 2.84 | 000
29358 |  | A | Apply long leg cast brace | 1.43 | 1.72 | 1.07 | 0.19 | 3.34 | 2.69 | 000
29365 |  | A | Application of long leg cast | 1.18 | 1.38 | 0.90 | 0.17 | 2.73 | 2.25 | 000
29405 |  | A | Apply short leg cast | 0.86 | 1.03 | 0.66 | 0.12 | 2.01 | 1.64 | 000
29425 |  | A | Apply short leg cast | 1.01 | 1.05 | 0.68 | 0.14 | 2.20 | 1.83 | 000
29435 |  | A | Apply short leg cast | 1.18 | 1.35 | 0.88 | 0.17 | 2.70 | 2.23 | 000
29440 |  | A | Addition of walker to cast | 0.57 | 0.61 | 0.26 | 0.07 | 1.25 | 0.90 | 000
29445 |  | A | Apply rigid leg cast | 1.78 | 1.58 | 0.96 | 0.24 | 3.60 | 2.98 | 000
29450 |  | A | Application of leg cast | 2.08 | 1.40 | 1.11 | 0.13 | 3.61 | 3.32 | 000
29505 |  | A | Application, long leg splint | 0.69 | 1.10 | 0.48 | 0.06 | 1.85 | 1.23 | 000
29515 |  | A | Application lower leg splint | 0.73 | 0.78 | 0.48 | 0.07 | 1.58 | 1.28 | 000
29520 |  | A | Strapping of hip | 0.54 | 0.93 | 0.44 | 0.02 | 1.49 | 1.00 | 000
29530 |  | A | Strapping of knee | 0.57 | 0.83 | 0.36 | 0.04 | 1.44 | 0.97 | 000
29540 |  | A | Strapping of ankle | 0.51 | 0.40 | 0.32 | 0.04 | 0.95 | 0.87 | 000
29550 |  | A | Strapping of toes | 0.47 | 0.40 | 0.29 | 0.05 | 0.92 | 0.81 | 000
29580 |  | A | Application of paste boot | 0.57 | 0.61 | 0.36 | 0.05 | 1.23 | 0.98 | 000
29590 |  | A | Application of foot splint | 0.76 | 0.50 | 0.30 | 0.06 | 1.32 | 1.12 | 000
29700 |  | A | Removal/revision of cast | 0.57 | 0.81 | 0.28 | 0.07 | 1.45 | 0.92 | 000
29705 |  | A | Removal/revision of cast | 0.76 | 0.73 | 0.39 | 0.10 | 1.59 | 1.25 | 000
29710 |  | A | Removal/revision of cast | 1.34 | 1.50 | 0.66 | 0.17 | 3.01 | 2.17 | 000
29715 |  | A | Removal/revision of cast | 0.94 | 0.98 | 0.29 | 0.08 | 2.00 | 1.31 | 000
29720 |  | A | Repair of body cast | 0.68 | 0.95 | 0.36 | 0.10 | 1.73 | 1.14 | 000
29730 |  | A | Windowing of cast | 0.75 | 0.71 | 0.36 | 0.10 | 1.56 | 1.21 | 000
29740 |  | A | Wedging of cast | 1.12 | 1.02 | 0.46 | 0.15 | 2.29 | 1.73 | 000
29750 |  | A | Wedging of clubfoot cast | 1.26 | 1.13 | 0.62 | 0.16 | 2.55 | 2.04 | 000
29799 |  | C | Casting/strapping procedure | 0.00 | 0.00 | 0.00 | 0.00 | 0.00 | 0.00 | YYY
29800 |  | A | Jaw arthroscopy/surgery | 6.43 | NA | 9.15 | 0.84 | NA | 16.42 | 090
29804 |  | A | Jaw arthroscopy/surgery | 8.14 | NA | 8.73 | 0.66 | NA | 17.53 | 090
29805 |  | A | Shoulder arthroscopy, dx | 5.89 | 3.23 | 3.23 | 0.83 | 9.95 | 9.95 | 090
29806 |  | A | Shoulder arthroscopy/surgery | 14.37 | NA | 11.33 | 2.01 | NA | 27.71 | 090
29807 |  | A | Shoulder arthroscopy/surgery | 13.90 | NA | 11.06 | 2.01 | NA | 26.97 | 090
29815 |  | D | Shoulder arthroscopy | 0.00 | NA | 0.00 | 0.00 | NA | 0.00 | 090
29819 |  | A | Shoulder arthroscopy/surgery | 7.62 | NA | 9.82 | 1.07 | NA | 18.51 | 090
29820 |  | A | Shoulder arthroscopy/surgery | 7.07 | NA | 9.55 | 0.99 | NA | 17.61 | 090
29821 |  | A | Shoulder arthroscopy/surgery | 7.72 | NA | 9.84 | 1.08 | NA | 18.64 | 090
29822 |  | A | Shoulder arthroscopy/surgery | 7.43 | NA | 9.75 | 1.04 | NA | 18.22 | 090
29823 |  | A | Shoulder arthroscopy/surgery | 8.17 | NA | 10.14 | 1.15 | NA | 19.46 | 090
29824 |  | A | Shoulder arthroscopy/surgery | 8.25 | NA | 7.48 | 1.16 | NA | 16.89 | 090
29825 |  | A | Shoulder arthroscopy/surgery | 7.62 | NA | 9.80 | 1.06 | NA | 18.48 | 090
29826 |  | A | Shoulder arthroscopy/surgery | 8.99 | NA | 10.65 | 1.26 | NA | 20.90 | 090
29830 |  | A | Elbow arthroscopy | 5.76 | NA | 6.14 | 0.79 | NA | 12.69 | 090
29834 |  | A | Elbow arthroscopy/surgery | 6.28 | NA | 6.94 | 0.86 | NA | 14.08 | 090
29835 |  | A | Elbow arthroscopy/surgery | 6.48 | NA | 6.95 | 0.88 | NA | 14.31 | 090
29836 |  | A | Elbow arthroscopy/surgery | 7.55 | NA | 7.62 | 1.06 | NA | 16.23 | 090
29837 |  | A | Elbow arthroscopy/surgery | 6.87 | NA | 7.30 | 0.96 | NA | 15.13 | 090
29838 |  | A | Elbow arthroscopy/surgery | 7.71 | NA | 7.73 | 1.07 | NA | 16.51 | 090
29840 |  | A | Wrist arthroscopy | 5.54 | NA | 8.38 | 0.69 | NA | 14.61 | 090
29843 |  | A | Wrist arthroscopy/surgery | 6.01 | NA | 8.70 | 0.82 | NA | 15.53 | 090
29844 |  | A | Wrist arthroscopy/surgery | 6.37 | NA | 8.96 | 0.86 | NA | 16.19 | 090
29845 |  | A | Wrist arthroscopy/surgery | 7.52 | NA | 9.56 | 0.84 | NA | 17.92 | 090
29846 |  | A | Wrist arthroscopy/surgery | 6.75 | NA | 11.67 | 0.89 | NA | 19.31 | 090
29847 |  | A | Wrist arthroscopy/surgery | 7.08 | NA | 11.85 | 0.91 | NA | 19.84 | 090
29848 |  | A | Wrist endoscopy/surgery | 5.44 | NA | 8.46 | 0.72 | NA | 14.62 | 090
29850 |  | A | Knee arthroscopy/surgery | 8.19 | NA | 7.49 | 0.74 | NA | 16.42 | 090
29851 |  | A | Knee arthroscopy/surgery | 13.10 | NA | 12.00 | 1.81 | NA | 26.91 | 090
29855 |  | A | Tibial arthroscopy/surgery | 10.62 | NA | 10.55 | 1.50 | NA | 22.67 | 090
29856 |  | A | Tibial arthroscopy/surgery | 14.14 | NA | 12.49 | 2.00 | NA | 28.63 | 090
29860 |  | A | Hip arthroscopy, dx | 8.05 | NA | 8.05 | 1.14 | NA | 17.24 | 090
29861 |  | A | Hip arthroscopy/surgery | 9.15 | NA | 8.71 | 1.29 | NA | 19.15 | 090
29862 |  | A | Hip arthroscopy/surgery | 9.90 | NA | 9.75 | 1.39 | NA | 21.04 | 090
29863 |  | A | Hip arthroscopy/surgery | 9.90 | NA | 10.31 | 1.40 | NA | 21.61 | 090
29870 |  | A | Knee arthroscopy, dx | 5.07 | NA | 6.27 | 0.67 | NA | 12.01 | 090
29871 |  | A | Knee arthroscopy/drainage | 6.55 | NA | 8.38 | 0.88 | NA | 15.81 | 090
29874 |  | A | Knee arthroscopy/surgery | 7.05 | NA | 8.15 | 0.87 | NA | 16.07 | 090
29875 |  | A | Knee arthroscopy/surgery | 6.31 | NA | 7.69 | 0.88 | NA | 14.88 | 090
29876 |  | A | Knee arthroscopy/surgery | 7.92 | NA | 9.19 | 1.11 | NA | 18.22 | 090
29877 |  | A | Knee arthroscopy/surgery | 7.35 | NA | 8.29 | 1.03 | NA | 16.67 | 090
29879 |  | A | Knee arthroscopy/surgery | 8.04 | NA | 8.68 | 1.13 | NA | 17.85 | 090
29880 |  | A | Knee arthroscopy/surgery | 8.50 | NA | 8.95 | 1.19 | NA | 18.64 | 090
29881 |  | A | Knee arthroscopy/surgery | 7.76 | NA | 8.53 | 1.09 | NA | 17.38 | 090
29882 |  | A | Knee arthroscopy/surgery | 8.65 | NA | 9.01 | 1.09 | NA | 18.75 | 090
29883 |  | A | Knee arthroscopy/surgery | 11.05 | NA | 10.41 | 1.33 | NA | 22.79 | 090
29884 |  | A | Knee arthroscopy/surgery | 7.33 | NA | 8.87 | 1.03 | NA | 17.23 | 090
29885 |  | A | Knee arthroscopy/surgery | 9.09 | NA | 9.85 | 1.27 | NA | 20.21 | 090
29886 |  | A | Knee arthroscopy/surgery | 7.54 | NA | 8.99 | 1.06 | NA | 17.59 | 090
29887 |  | A | Knee arthroscopy/surgery | 9.04 | NA | 9.83 | 1.27 | NA | 20.14 | 090
29888 |  | A | Knee arthroscopy/surgery | 13.90 | NA | 12.50 | 1.95 | NA | 28.35 | 090
29889 |  | A | Knee arthroscopy/surgery | 16.00 | NA | 13.71 | 2.11 | NA | 31.82 | 090
29891 |  | A | Ankle arthroscopy/surgery | 8.40 | NA | 8.92 | 1.17 | NA | 18.49 | 090
29892 |  | A | Ankle arthroscopy/surgery | 9.00 | NA | 9.04 | 1.26 | NA | 19.30 | 090
29893 |  | A | Scope, plantar fasciotomy | 5.22 | NA | 5.56 | 0.74 | NA | 11.52 | 090
29894 |  | A | Ankle arthroscopy/surgery | 7.21 | NA | 8.04 | 1.01 | NA | 16.26 | 090
29895 |  | A | Ankle arthroscopy/surgery | 6.99 | NA | 8.01 | 0.97 | NA | 15.97 | 090
29897 |  | A | Ankle arthroscopy/surgery | 7.18 | NA | 8.73 | 1.01 | NA | 16.92 | 090
29898 |  | A | Ankle arthroscopy/surgery | 8.32 | NA | 8.79 | 1.14 | NA | 18.25 | 090
29900 |  | A | Mcp joint arthroscopy, dx | 5.42 | NA | 5.88 | 0.69 | NA | 11.99 | 090
29901 |  | A | Mcp joint arthroscopy, surg | 6.13 | NA | 6.28 | 0.81 | NA | 13.22 | 090
29902 |  | A | Mcp joint arthroscopy, surg | 6.70 | NA | 6.60 | 0.89 | NA | 14.19 | 090
29909 |  | D | Arthroscopy of joint | 0.00 | 0.00 | 0.00 | 0.00 | 0.00 | 0.00 | YYY
29999 |  | C | Arthroscopy of joint | 0.00 | 0.00 | 0.00 | 0.00 | 0.00 | 0.00 | YYY
30000 |  | A | Drainage of nose lesion | 1.43 | 2.53 | 1.51 | 0.10 | 4.06 | 3.04 | 010
30020 |  | A | Drainage of nose lesion | 1.43 | 2.64 | 1.57 | 0.08 | 4.15 | 3.08 | 010
30100 |  | A | Intranasal biopsy | 0.94 | 1.34 | 0.53 | 0.06 | 2.34 | 1.53 | 000
30110 |  | A | Removal of nose polyp(s) | 1.63 | 2.80 | 0.88 | 0.12 | 4.55 | 2.63 | 010
30115 |  | A | Removal of nose polyp(s) | 4.35 | NA | 4.54 | 0.31 | NA | 9.20 | 090
30117 |  | A | Removal of intranasal lesion | 3.16 | 4.95 | 3.20 | 0.22 | 8.33 | 6.58 | 090
30118 |  | A | Removal of intranasal lesion | 9.69 | NA | 8.55 | 0.66 | NA | 18.90 | 090
30120 |  | A | Revision of nose | 5.27 | 5.71 | 5.71 | 0.41 | 11.39 | 11.39 | 090
30124 |  | A | Removal of nose lesion | 3.10 | NA | 3.31 | 0.20 | NA | 6.61 | 090
30125 |  | A | Removal of nose lesion | 7.16 | NA | 6.61 | 0.54 | NA | 14.31 | 090
30130 |  | A | Removal of turbinate bones | 3.38 | NA | 3.99 | 0.22 | NA | 7.59 | 090
30140 |  | A | Removal of turbinate bones | 3.43 | NA | 4.61 | 0.24 | NA | 8.28 | 090
30150 |  | A | Partial removal of nose | 9.14 | NA | 8.83 | 0.76 | NA | 18.73 | 090
30160 |  | A | Removal of nose | 9.58 | NA | 8.79 | 0.78 | NA | 19.15 | 090
30200 |  | A | Injection treatment of nose | 0.78 | 1.23 | 0.46 | 0.06 | 2.07 | 1.30 | 000
30210 |  | A | Nasal sinus therapy | 1.08 | 2.15 | 0.61 | 0.08 | 3.31 | 1.77 | 010
30220 |  | A | Insert nasal septal button | 1.54 | 2.52 | 0.84 | 0.11 | 4.17 | 2.49 | 010
30300 |  | A | Remove nasal foreign body | 1.04 | 2.62 | 0.37 | 0.07 | 3.73 | 1.48 | 010
30310 |  | A | Remove nasal foreign body | 1.96 | NA | 1.92 | 0.14 | NA | 4.02 | 010
30320 |  | A | Remove nasal foreign body | 4.52 | NA | 5.26 | 0.36 | NA | 10.14 | 090
30400 |  | R | Reconstruction of nose | 9.83 | NA | 8.95 | 0.80 | NA | 19.58 | 090
30410 |  | R | Reconstruction of nose | 12.98 | NA | 10.45 | 1.08 | NA | 24.51 | 090
30420 |  | R | Reconstruction of nose | 15.88 | NA | 12.50 | 1.24 | NA | 29.62 | 090
30430 |  | R | Revision of nose | 7.21 | NA | 7.40 | 0.62 | NA | 15.23 | 090
30435 |  | R | Revision of nose | 11.71 | NA | 10.68 | 1.10 | NA | 23.49 | 090
30450 |  | R | Revision of nose | 18.65 | NA | 14.37 | 1.53 | NA | 34.55 | 090
30460 |  | A | Revision of nose | 9.96 | NA | 9.16 | 0.85 | NA | 19.97 | 090
30462 |  | A | Revision of nose | 19.57 | NA | 14.30 | 1.92 | NA | 35.79 | 090
30465 |  | A | Repair nasal stenosis | 11.64 | NA | 9.58 | 0.97 | NA | 22.19 | 090
30520 |  | A | Repair of nasal septum | 5.70 | NA | 5.93 | 0.41 | NA | 12.04 | 090
30540 |  | A | Repair nasal defect | 7.75 | NA | 6.71 | 0.53 | NA | 14.99 | 090
30545 |  | A | Repair nasal defect | 11.38 | NA | 9.19 | 0.80 | NA | 21.37 | 090
30560 |  | A | Release of nasal adhesions | 1.26 | 2.37 | 1.52 | 0.09 | 3.72 | 2.87 | 010
30580 |  | A | Repair upper jaw fistula | 6.69 | 5.00 | 5.00 | 0.50 | 12.19 | 12.19 | 090
30600 |  | A | Repair mouth/nose fistula | 6.02 | 4.90 | 4.90 | 0.70 | 11.62 | 11.62 | 090
30620 |  | A | Intranasal reconstruction | 5.97 | NA | 6.69 | 0.45 | NA | 13.11 | 090
30630 |  | A | Repair nasal septum defect | 7.12 | NA | 7.23 | 0.51 | NA | 14.86 | 090
30801 |  | A | Cauterization, inner nose | 1.09 | 2.57 | 2.31 | 0.08 | 3.74 | 3.48 | 010
30802 |  | A | Cauterization, inner nose | 2.03 | 3.14 | 2.87 | 0.15 | 5.32 | 5.05 | 010
30901 |  | A | Control of nosebleed | 1.21 | 1.43 | 0.34 | 0.09 | 2.73 | 1.64 | 000
30903 |  | A | Control of nosebleed | 1.54 | 3.20 | 0.53 | 0.12 | 4.86 | 2.19 | 000
30905 |  | A | Control of nosebleed | 1.97 | 3.85 | 0.80 | 0.15 | 5.97 | 2.92 | 000
30906 |  | A | Repeat control of nosebleed | 2.45 | 4.27 | 1.27 | 0.17 | 6.89 | 3.89 | 000
30915 |  | A | Ligation, nasal sinus artery | 7.20 | NA | 7.13 | 0.50 | NA | 14.83 | 090
30920 |  | A | Ligation, upper jaw artery | 9.83 | NA | 8.64 | 0.69 | NA | 19.16 | 090
30930 |  | A | Therapy, fracture of nose | 1.26 | NA | 2.17 | 0.09 | NA | 3.52 | 010
30999 |  | C | Nasal surgery procedure | 0.00 | 0.00 | 0.00 | 0.00 | 0.00 | 0.00 | YYY
31000 |  | A | Irrigation, maxillary sinus | 1.15 | 2.43 | 0.66 | 0.08 | 3.66 | 1.89 | 010
31002 |  | A | Irrigation, sphenoid sinus | 1.91 | NA | 2.07 | 0.14 | NA | 4.12 | 010
31020 |  | A | Exploration, maxillary sinus | 2.94 | 4.20 | 3.68 | 0.20 | 7.34 | 6.82 | 090
31030 |  | A | Exploration, maxillary sinus | 5.92 | 4.85 | 4.68 | 0.42 | 11.19 | 11.02 | 090
31032 |  | A | Explore sinus,remove polyps | 6.57 | NA | 6.16 | 0.47 | NA | 13.20 | 090
31040 |  | A | Exploration behind upper jaw | 9.42 | NA | 7.34 | 0.71 | NA | 17.47 | 090
31050 |  | A | Exploration, sphenoid sinus | 5.28 | NA | 5.12 | 0.39 | NA | 10.79 | 090
31051 |  | A | Sphenoid sinus surgery | 7.11 | NA | 6.66 | 0.55 | NA | 14.32 | 090
31070 |  | A | Exploration of frontal sinus | 4.28 | NA | 5.04 | 0.30 | NA | 9.62 | 090
31075 |  | A | Exploration of frontal sinus | 9.16 | NA | 8.38 | 0.64 | NA | 18.18 | 090
31080 |  | A | Removal of frontal sinus | 11.42 | NA | 9.13 | 0.78 | NA | 21.33 | 090
31081 |  | A | Removal of frontal sinus | 12.75 | NA | 9.97 | 1.84 | NA | 24.56 | 090
31084 |  | A | Removal of frontal sinus | 13.51 | NA | 10.76 | 0.96 | NA | 25.23 | 090
31085 |  | A | Removal of frontal sinus | 14.20 | NA | 11.12 | 1.18 | NA | 26.50 | 090
31086 |  | A | Removal of frontal sinus | 12.86 | NA | 10.50 | 0.90 | NA | 24.26 | 090
31087 |  | A | Removal of frontal sinus | 13.10 | NA | 10.32 | 1.15 | NA | 24.57 | 090
31090 |  | A | Exploration of sinuses | 9.53 | NA | 9.05 | 0.66 | NA | 19.24 | 090
31200 |  | A | Removal of ethmoid sinus | 4.97 | NA | 5.86 | 0.25 | NA | 11.08 | 090
31201 |  | A | Removal of ethmoid sinus | 8.37 | NA | 7.91 | 0.58 | NA | 16.86 | 090
31205 |  | A | Removal of ethmoid sinus | 10.24 | NA | 8.66 | 0.58 | NA | 19.48 | 090
31225 |  | A | Removal of upper jaw | 19.23 | NA | 15.42 | 1.38 | NA | 36.03 | 090
31230 |  | A | Removal of upper jaw | 21.94 | NA | 17.21 | 1.57 | NA | 40.72 | 090
31231 |  | A | Nasal endoscopy, dx | 1.10 | 2.01 | 0.61 | 0.08 | 3.19 | 1.79 | 000
31233 |  | A | Nasal/sinus endoscopy, dx | 2.18 | 2.66 | 1.24 | 0.16 | 5.00 | 3.58 | 000
31235 |  | A | Nasal/sinus endoscopy, dx | 2.64 | 2.93 | 1.49 | 0.18 | 5.75 | 4.31 | 000
31237 |  | A | Nasal/sinus endoscopy, surg | 2.98 | 3.22 | 1.66 | 0.21 | 6.41 | 4.85 | 000
31238 |  | A | Nasal/sinus endoscopy, surg | 3.26 | 3.75 | 1.89 | 0.23 | 7.24 | 5.38 | 000
31239 |  | A | Nasal/sinus endoscopy, surg | 8.70 | NA | 6.72 | 0.46 | NA | 15.88 | 010
31240 |  | A | Nasal/sinus endoscopy, surg | 2.61 | NA | 1.62 | 0.18 | NA | 4.41 | 000
31254 |  | A | Revision of ethmoid sinus | 4.65 | NA | 2.79 | 0.32 | NA | 7.76 | 000
31255 |  | A | Removal of ethmoid sinus | 6.96 | NA | 4.14 | 0.49 | NA | 11.59 | 000
31256 |  | A | Exploration maxillary sinus | 3.29 | NA | 2.01 | 0.23 | NA | 5.53 | 000
31267 |  | A | Endoscopy, maxillary sinus | 5.46 | NA | 3.27 | 0.38 | NA | 9.11 | 000
31276 |  | A | Sinus endoscopy, surgical | 8.85 | NA | 5.24 | 0.62 | NA | 14.71 | 000
31287 |  | A | Nasal/sinus endoscopy, surg | 3.92 | NA | 2.37 | 0.27 | NA | 6.56 | 000
31288 |  | A | Nasal/sinus endoscopy, surg | 4.58 | NA | 2.75 | 0.32 | NA | 7.65 | 000
31290 |  | A | Nasal/sinus endoscopy, surg | 17.24 | NA | 11.86 | 1.20 | NA | 30.30 | 010
31291 |  | A | Nasal/sinus endoscopy, surg | 18.19 | NA | 12.28 | 1.73 | NA | 32.20 | 010
31292 |  | A | Nasal/sinus endoscopy, surg | 14.76 | NA | 10.36 | 0.99 | NA | 26.11 | 010
31293 |  | A | Nasal/sinus endoscopy, surg | 16.21 | NA | 11.16 | 0.97 | NA | 28.34 | 010
31294 |  | A | Nasal/sinus endoscopy, surg | 19.06 | NA | 12.46 | 1.04 | NA | 32.56 | 010
31299 |  | C | Sinus surgery procedure | 0.00 | 0.00 | 0.00 | 0.00 | 0.00 | 0.00 | YYY
31300 |  | A | Removal of larynx lesion | 14.29 | NA | 17.46 | 0.99 | NA | 32.74 | 090
31320 |  | A | Diagnostic incision, larynx | 5.26 | NA | 12.54 | 0.40 | NA | 18.20 | 090
31360 |  | A | Removal of larynx | 17.08 | NA | 19.24 | 1.20 | NA | 37.52 | 090
31365 |  | A | Removal of larynx | 24.16 | NA | 23.20 | 1.72 | NA | 49.08 | 090
31367 |  | A | Partial removal of larynx | 21.86 | NA | 23.92 | 1.57 | NA | 47.35 | 090
31368 |  | A | Partial removal of larynx | 27.09 | NA | 28.64 | 1.90 | NA | 57.63 | 090
31370 |  | A | Partial removal of larynx | 21.38 | NA | 23.46 | 1.51 | NA | 46.35 | 090
31375 |  | A | Partial removal of larynx | 20.21 | NA | 21.16 | 1.43 | NA | 42.80 | 090
31380 |  | A | Partial removal of larynx | 20.21 | NA | 21.41 | 1.40 | NA | 43.02 | 090
31382 |  | A | Partial removal of larynx | 20.52 | NA | 23.06 | 1.44 | NA | 45.02 | 090
31390 |  | A | Removal of larynx & pharynx | 27.53 | NA | 28.90 | 1.95 | NA | 58.38 | 090
31395 |  | A | Reconstruct larynx & pharynx | 31.09 | NA | 35.02 | 2.27 | NA | 68.38 | 090
31400 |  | A | Revision of larynx | 10.31 | NA | 15.75 | 0.72 | NA | 26.78 | 090
31420 |  | A | Removal of epiglottis | 10.22 | NA | 15.60 | 0.71 | NA | 26.53 | 090
31500 |  | A | Insert emergency airway | 2.33 | NA | 0.69 | 0.15 | NA | 3.17 | 000
31502 |  | A | Change of windpipe airway | 0.65 | 1.97 | 0.27 | 0.04 | 2.66 | 0.96 | 000
31505 |  | A | Diagnostic laryngoscopy | 0.61 | 1.85 | 0.35 | 0.04 | 2.50 | 1.00 | 000
31510 |  | A | Laryngoscopy with biopsy | 1.92 | 2.86 | 1.04 | 0.15 | 4.93 | 3.11 | 000
31511 |  | A | Remove foreign body, larynx | 2.16 | 3.15 | 0.75 | 0.16 | 5.47 | 3.07 | 000
31512 |  | A | Removal of larynx lesion | 2.07 | 3.00 | 1.10 | 0.16 | 5.23 | 3.33 | 000
31513 |  | A | Injection into vocal cord | 2.10 | NA | 1.32 | 0.15 | NA | 3.57 | 000
31515 |  | A | Laryngoscopy for aspiration | 1.80 | 2.30 | 0.90 | 0.12 | 4.22 | 2.82 | 000
31520 |  | A | Diagnostic laryngoscopy | 2.56 | NA | 1.41 | 0.17 | NA | 4.14 | 000
31525 |  | A | Diagnostic laryngoscopy | 2.63 | 2.94 | 1.53 | 0.18 | 5.75 | 4.34 | 000
31526 |  | A | Diagnostic laryngoscopy | 2.57 | NA | 1.59 | 0.18 | NA | 4.34 | 000
31527 |  | A | Laryngoscopy for treatment | 3.27 | NA | 1.77 | 0.21 | NA | 5.25 | 000
31528 |  | A | Laryngoscopy and dilation | 2.37 | NA | 1.24 | 0.16 | NA | 3.77 | 000
31529 |  | A | Laryngoscopy and dilation | 2.68 | NA | 1.62 | 0.18 | NA | 4.48 | 000
31530 |  | A | Operative laryngoscopy | 3.39 | NA | 1.89 | 0.24 | NA | 5.52 | 000
31531 |  | A | Operative laryngoscopy | 3.59 | NA | 2.18 | 0.25 | NA | 6.02 | 000
31535 |  | A | Operative laryngoscopy | 3.16 | NA | 1.88 | 0.22 | NA | 5.26 | 000
31536 |  | A | Operative laryngoscopy | 3.56 | NA | 2.16 | 0.25 | NA | 5.97 | 000
31540 |  | A | Operative laryngoscopy | 4.13 | NA | 2.48 | 0.29 | NA | 6.90 | 000
31541 |  | A | Operative laryngoscopy | 4.53 | NA | 2.72 | 0.32 | NA | 7.57 | 000
31560 |  | A | Operative laryngoscopy | 5.46 | NA | 3.11 | 0.38 | NA | 8.95 | 000
31561 |  | A | Operative laryngoscopy | 6.00 | NA | 2.96 | 0.42 | NA | 9.38 | 000
31570 |  | A | Laryngoscopy with injection | 3.87 | 3.97 | 2.31 | 0.24 | 8.08 | 6.42 | 000
31571 |  | A | Laryngoscopy with injection | 4.27 | NA | 2.46 | 0.30 | NA | 7.03 | 000
31575 |  | A | Diagnostic laryngoscopy | 1.10 | 2.08 | 0.59 | 0.08 | 3.26 | 1.77 | 000
31576 |  | A | Laryngoscopy with biopsy | 1.97 | 2.26 | 1.08 | 0.13 | 4.36 | 3.18 | 000
31577 |  | A | Remove foreign body, larynx | 2.47 | 2.90 | 1.31 | 0.17 | 5.54 | 3.95 | 000
31578 |  | A | Removal of larynx lesion | 2.84 | 3.13 | 1.62 | 0.20 | 6.17 | 4.66 | 000
31579 |  | A | Diagnostic laryngoscopy | 2.26 | 2.97 | 1.27 | 0.16 | 5.39 | 3.69 | 000
31580 |  | A | Revision of larynx | 12.38 | NA | 16.85 | 0.87 | NA | 30.10 | 090
31582 |  | A | Revision of larynx | 21.62 | NA | 22.06 | 1.52 | NA | 45.20 | 090
31584 |  | A | Treat larynx fracture | 19.64 | NA | 19.05 | 1.42 | NA | 40.11 | 090
31585 |  | A | Treat larynx fracture | 4.64 | NA | 8.92 | 0.30 | NA | 13.86 | 090
31586 |  | A | Treat larynx fracture | 8.03 | NA | 12.71 | 0.56 | NA | 21.30 | 090
31587 |  | A | Revision of larynx | 11.99 | NA | 14.77 | 0.88 | NA | 27.64 | 090
31588 |  | A | Revision of larynx | 13.11 | NA | 17.21 | 0.92 | NA | 31.24 | 090
31590 |  | A | Reinnervate larynx | 6.97 | NA | 12.63 | 0.50 | NA | 20.10 | 090
31595 |  | A | Larynx nerve surgery | 8.34 | NA | 11.90 | 0.62 | NA | 20.86 | 090
31599 |  | C | Larynx surgery procedure | 0.00 | 0.00 | 0.00 | 0.00 | 0.00 | 0.00 | YYY
31600 |  | A | Incision of windpipe | 7.18 | NA | 3.15 | 0.34 | NA | 10.67 | 000
31601 |  | A | Incision of windpipe | 4.45 | NA | 2.20 | 0.39 | NA | 7.04 | 000
31603 |  | A | Incision of windpipe | 4.15 | NA | 1.88 | 0.35 | NA | 6.38 | 000
31605 |  | A | Incision of windpipe | 3.58 | NA | 1.24 | 0.33 | NA | 5.15 | 000
31610 |  | A | Incision of windpipe | 8.76 | NA | 10.98 | 0.69 | NA | 20.43 | 090
31611 |  | A | Surgery/speech prosthesis | 5.64 | NA | 10.28 | 0.40 | NA | 16.32 | 090
31612 |  | A | Puncture/clear windpipe | 0.91 | 1.53 | 0.48 | 0.06 | 2.50 | 1.45 | 000
31613 |  | A | Repair windpipe opening | 4.59 | NA | 8.94 | 0.37 | NA | 13.90 | 090
31614 |  | A | Repair windpipe opening | 7.12 | NA | 12.47 | 0.51 | NA | 20.10 | 090
31615 |  | A | Visualization of windpipe | 2.09 | 3.76 | 1.20 | 0.14 | 5.99 | 3.43 | 000
31622 |  | A | Dx bronchoscope/wash | 2.78 | 3.69 | 1.20 | 0.14 | 6.61 | 4.12 | 000
31623 |  | A | Dx bronchoscope/brush | 2.88 | 2.97 | 1.17 | 0.14 | 5.99 | 4.19 | 000
31624 |  | A | Dx bronchoscope/lavage | 2.88 | 2.75 | 1.17 | 0.13 | 5.76 | 4.18 | 000
31625 |  | A | Bronchoscopy with biopsy | 3.37 | 2.96 | 1.34 | 0.16 | 6.49 | 4.87 | 000
31628 |  | A | Bronchoscopy with biopsy | 3.81 | 3.38 | 1.45 | 0.14 | 7.33 | 5.40 | 000
31629 |  | A | Bronchoscopy with biopsy | 3.37 | NA | 1.32 | 0.13 | NA | 4.82 | 000
31630 |  | A | Bronchoscopy with repair | 3.82 | NA | 1.99 | 0.30 | NA | 6.11 | 000
31631 |  | A | Bronchoscopy with dilation | 4.37 | NA | 2.04 | 0.31 | NA | 6.72 | 000
31635 |  | A | Remove foreign body, airway | 3.68 | NA | 1.70 | 0.21 | NA | 5.59 | 000
31640 |  | A | Bronchoscopy & remove lesion | 4.94 | NA | 2.36 | 0.37 | NA | 7.67 | 000
31641 |  | A | Bronchoscopy, treat blockage | 5.03 | NA | 2.20 | 0.30 | NA | 7.53 | 000
31643 |  | A | Diag bronchoscope/catheter | 3.50 | 1.17 | 1.17 | 0.15 | 4.82 | 4.82 | 000
31645 |  | A | Bronchoscopy, clear airways | 3.16 | NA | 1.27 | 0.13 | NA | 4.56 | 000
31646 |  | A | Bronchoscopy, reclear airway | 2.72 | NA | 1.12 | 0.12 | NA | 3.96 | 000
31656 |  | A | Bronchoscopy, inj for xray | 2.17 | NA | 1.05 | 0.10 | NA | 3.32 | 000
31700 |  | A | Insertion of airway catheter | 1.34 | 3.44 | 0.68 | 0.07 | 4.85 | 2.09 | 000
31708 |  | A | Instill airway contrast dye | 1.41 | NA | 0.64 | 0.06 | NA | 2.11 | 000
31710 |  | A | Insertion of airway catheter | 1.30 | NA | 0.75 | 0.06 | NA | 2.11 | 000
31715 |  | A | Injection for bronchus x-ray | 1.11 | NA | 0.73 | 0.06 | NA | 1.90 | 000
31717 |  | A | Bronchial brush biopsy | 2.12 | 3.25 | 0.89 | 0.09 | 5.46 | 3.10 | 000
31720 |  | A | Clearance of airways | 1.06 | 1.90 | 0.35 | 0.06 | 3.02 | 1.47 | 000
31725 |  | A | Clearance of airways | 1.96 | NA | 0.61 | 0.10 | NA | 2.67 | 000
31730 |  | A | Intro, windpipe wire/tube | 2.85 | 2.54 | 1.13 | 0.15 | 5.54 | 4.13 | 000
31750 |  | A | Repair of windpipe | 13.02 | NA | 16.22 | 1.02 | NA | 30.26 | 090
31755 |  | A | Repair of windpipe | 15.93 | NA | 19.27 | 1.15 | NA | 36.35 | 090
31760 |  | A | Repair of windpipe | 22.35 | NA | 12.79 | 1.48 | NA | 36.62 | 090
31766 |  | A | Reconstruction of windpipe | 30.43 | NA | 15.03 | 3.16 | NA | 48.62 | 090
31770 |  | A | Repair/graft of bronchus | 22.51 | NA | 15.67 | 2.27 | NA | 40.45 | 090
31775 |  | A | Reconstruct bronchus | 23.54 | NA | 15.14 | 2.91 | NA | 41.59 | 090
31780 |  | A | Reconstruct windpipe | 17.72 | NA | 12.97 | 1.55 | NA | 32.24 | 090
31781 |  | A | Reconstruct windpipe | 23.53 | NA | 15.49 | 2.04 | NA | 41.06 | 090
31785 |  | A | Remove windpipe lesion | 17.23 | NA | 13.05 | 1.36 | NA | 31.64 | 090
31786 |  | A | Remove windpipe lesion | 23.98 | NA | 14.41 | 2.20 | NA | 40.59 | 090
31800 |  | A | Repair of windpipe injury | 7.43 | NA | 6.81 | 0.67 | NA | 14.91 | 090
31805 |  | A | Repair of windpipe injury | 13.13 | NA | 10.72 | 1.45 | NA | 25.30 | 090
31820 |  | A | Closure of windpipe lesion | 4.49 | 8.24 | 8.07 | 0.35 | 13.08 | 12.91 | 090
31825 |  | A | Repair of windpipe defect | 6.81 | 10.86 | 10.86 | 0.50 | 18.17 | 18.17 | 090
31830 |  | A | Revise windpipe scar | 4.50 | 7.82 | 7.82 | 0.36 | 12.68 | 12.68 | 090
31899 |  | C | Airways surgical procedure | 0.00 | 0.00 | 0.00 | 0.00 | 0.00 | 0.00 | YYY
32000 |  | A | Drainage of chest | 1.54 | 3.10 | 0.51 | 0.07 | 4.71 | 2.12 | 000
32002 |  | A | Treatment of collapsed lung | 2.19 | NA | 0.87 | 0.11 | NA | 3.17 | 000
32005 |  | A | Treat lung lining chemically | 2.19 | NA | 0.88 | 0.17 | NA | 3.24 | 000
32020 |  | A | Insertion of chest tube | 3.98 | NA | 1.48 | 0.36 | NA | 5.82 | 000
32035 |  | A | Exploration of chest | 8.67 | NA | 7.83 | 1.02 | NA | 17.52 | 090
32036 |  | A | Exploration of chest | 9.68 | NA | 8.39 | 1.20 | NA | 19.27 | 090
32095 |  | A | Biopsy through chest wall | 8.36 | NA | 8.05 | 0.99 | NA | 17.40 | 090
32100 |  | A | Exploration/biopsy of chest | 15.24 | NA | 10.30 | 1.45 | NA | 26.99 | 090
32110 |  | A | Explore/repair chest | 23.00 | NA | 12.72 | 1.63 | NA | 37.35 | 090
32120 |  | A | Re-exploration of chest | 11.54 | NA | 9.34 | 1.42 | NA | 22.30 | 090
32124 |  | A | Explore chest free adhesions | 12.72 | NA | 9.53 | 1.51 | NA | 23.76 | 090
32140 |  | A | Removal of lung lesion(s) | 13.93 | NA | 9.79 | 1.68 | NA | 25.40 | 090
32141 |  | A | Remove/treat lung lesions | 14.00 | NA | 9.98 | 1.72 | NA | 25.70 | 090
32150 |  | A | Removal of lung lesion(s) | 14.15 | NA | 9.70 | 1.60 | NA | 25.45 | 090
32151 |  | A | Remove lung foreign body | 14.21 | NA | 10.20 | 1.49 | NA | 25.90 | 090
32160 |  | A | Open chest heart massage | 9.30 | NA | 6.34 | 1.01 | NA | 16.65 | 090
32200 |  | A | Drain, open, lung lesion | 15.29 | NA | 10.08 | 1.46 | NA | 26.83 | 090
32201 |  | A | Drain, percut, lung lesion | 4.00 | NA | 5.67 | 0.18 | NA | 9.85 | 000
32215 |  | A | Treat chest lining | 11.33 | NA | 9.16 | 1.34 | NA | 21.83 | 090
32220 |  | A | Release of lung | 24.00 | NA | 13.56 | 2.39 | NA | 39.95 | 090
32225 |  | A | Partial release of lung | 13.96 | NA | 9.95 | 1.70 | NA | 25.61 | 090
32310 |  | A | Removal of chest lining | 13.44 | NA | 9.86 | 1.65 | NA | 24.95 | 090
32320 |  | A | Free/remove chest lining | 24.00 | NA | 13.21 | 2.50 | NA | 39.71 | 090
32400 |  | A | Needle biopsy chest lining | 1.76 | 1.89 | 0.59 | 0.07 | 3.72 | 2.42 | 000
32402 |  | A | Open biopsy chest lining | 7.56 | NA | 7.76 | 0.91 | NA | 16.23 | 090
32405 |  | A | Biopsy, lung or mediastinum | 1.93 | 2.33 | 0.67 | 0.09 | 4.35 | 2.69 | 000
32420 |  | A | Puncture/clear lung | 2.18 | NA | 0.88 | 0.11 | NA | 3.17 | 000
32440 |  | A | Removal of lung | 25.00 | NA | 13.57 | 2.56 | NA | 41.13 | 090
32442 |  | A | Sleeve pneumonectomy | 26.24 | NA | 14.35 | 3.12 | NA | 43.71 | 090
32445 |  | A | Removal of lung | 25.09 | NA | 13.83 | 3.11 | NA | 42.03 | 090
32480 |  | A | Partial removal of lung | 23.75 | NA | 12.78 | 2.24 | NA | 38.77 | 090
32482 |  | A | Bilobectomy | 25.00 | NA | 13.39 | 2.35 | NA | 40.74 | 090
32484 |  | A | Segmentectomy | 20.69 | NA | 11.97 | 2.54 | NA | 35.20 | 090
32486 |  | A | Sleeve lobectomy | 23.92 | NA | 13.32 | 3.00 | NA | 40.24 | 090
32488 |  | A | Completion pneumonectomy | 25.71 | NA | 13.89 | 3.18 | NA | 42.78 | 090
32491 |  | R | Lung volume reduction | 21.25 | NA | 12.67 | 2.66 | NA | 36.58 | 090
32500 |  | A | Partial removal of lung | 22.00 | NA | 12.70 | 1.77 | NA | 36.47 | 090
32501 |  | A | Repair bronchus add-on | 4.69 | NA | 1.59 | 0.56 | NA | 6.84 | ZZZ
32520 |  | A | Remove lung & revise chest | 21.68 | NA | 12.56 | 2.71 | NA | 36.95 | 090
32522 |  | A | Remove lung & revise chest | 24.20 | NA | 13.63 | 2.84 | NA | 40.67 | 090
32525 |  | A | Remove lung & revise chest | 26.50 | NA | 14.22 | 3.25 | NA | 43.97 | 090
32540 |  | A | Removal of lung lesion | 14.64 | NA | 9.99 | 1.84 | NA | 26.47 | 090
32601 |  | A | Thoracoscopy, diagnostic | 5.46 | NA | 3.60 | 0.63 | NA | 9.69 | 000
32602 |  | A | Thoracoscopy, diagnostic | 5.96 | NA | 3.72 | 0.70 | NA | 10.38 | 000
32603 |  | A | Thoracoscopy, diagnostic | 7.81 | NA | 4.33 | 0.76 | NA | 12.90 | 000
32604 |  | A | Thoracoscopy, diagnostic | 8.78 | NA | 4.79 | 0.97 | NA | 14.54 | 000
32605 |  | A | Thoracoscopy, diagnostic | 6.93 | NA | 4.19 | 0.86 | NA | 11.98 | 000
32606 |  | A | Thoracoscopy, diagnostic | 8.40 | NA | 4.55 | 0.99 | NA | 13.94 | 000
32650 |  | A | Thoracoscopy, surgical | 10.75 | NA | 8.47 | 1.25 | NA | 20.47 | 090
32651 |  | A | Thoracoscopy, surgical | 12.91 | NA | 8.84 | 1.50 | NA | 23.25 | 090
32652 |  | A | Thoracoscopy, surgical | 18.66 | NA | 11.16 | 2.30 | NA | 32.12 | 090
32653 |  | A | Thoracoscopy, surgical | 12.87 | NA | 9.15 | 1.55 | NA | 23.57 | 090
32654 |  | A | Thoracoscopy, surgical | 12.44 | NA | 7.53 | 1.51 | NA | 21.48 | 090
32655 |  | A | Thoracoscopy, surgical | 13.10 | NA | 8.86 | 1.53 | NA | 23.49 | 090
32656 |  | A | Thoracoscopy, surgical | 12.91 | NA | 9.53 | 1.61 | NA | 24.05 | 090
32657 |  | A | Thoracoscopy, surgical | 13.65 | NA | 9.36 | 1.64 | NA | 24.65 | 090
32658 |  | A | Thoracoscopy, surgical | 11.63 | NA | 9.05 | 1.47 | NA | 22.15 | 090
32659 |  | A | Thoracoscopy, surgical | 11.59 | NA | 9.10 | 1.39 | NA | 22.08 | 090
32660 |  | A | Thoracoscopy, surgical | 17.43 | NA | 10.53 | 2.09 | NA | 30.05 | 090
32661 |  | A | Thoracoscopy, surgical | 13.25 | NA | 9.15 | 1.66 | NA | 24.06 | 090
32662 |  | A | Thoracoscopy, surgical | 16.44 | NA | 10.59 | 2.01 | NA | 29.04 | 090
32663 |  | A | Thoracoscopy, surgical | 18.47 | NA | 11.22 | 2.28 | NA | 31.97 | 090
32664 |  | A | Thoracoscopy, surgical | 14.20 | NA | 9.43 | 1.70 | NA | 25.33 | 090
32665 |  | A | Thoracoscopy, surgical | 15.54 | NA | 9.18 | 1.79 | NA | 26.51 | 090
32800 |  | A | Repair lung hernia | 13.69 | NA | 10.05 | 1.51 | NA | 25.25 | 090
32810 |  | A | Close chest after drainage | 13.05 | NA | 10.05 | 1.55 | NA | 24.65 | 090
32815 |  | A | Close bronchial fistula | 23.15 | NA | 13.32 | 2.84 | NA | 39.31 | 090
32820 |  | A | Reconstruct injured chest | 21.48 | NA | 13.99 | 2.31 | NA | 37.78 | 090
32850 |  | X | Donor pneumonectomy | 0.00 | 0.00 | 0.00 | 0.00 | 0.00 | 0.00 | XXX
32851 |  | A | Lung transplant, single | 38.63 | NA | 19.94 | 4.90 | NA | 63.47 | 090
32852 |  | A | Lung transplant with bypass | 41.80 | NA | 21.40 | 5.17 | NA | 68.37 | 090
32853 |  | A | Lung transplant, double | 47.81 | NA | 23.49 | 6.13 | NA | 77.43 | 090
32854 |  | A | Lung transplant with bypass | 50.98 | NA | 24.35 | 6.41 | NA | 81.74 | 090
32900 |  | A | Removal of rib(s) | 20.27 | NA | 12.27 | 2.42 | NA | 34.96 | 090
32905 |  | A | Revise & repair chest wall | 20.75 | NA | 12.77 | 2.54 | NA | 36.06 | 090
32906 |  | A | Revise & repair chest wall | 26.77 | NA | 14.12 | 3.30 | NA | 44.19 | 090
32940 |  | A | Revision of lung | 19.43 | NA | 11.96 | 2.47 | NA | 33.86 | 090
32960 |  | A | Therapeutic pneumothorax | 1.84 | 2.16 | 0.70 | 0.12 | 4.12 | 2.66 | 000
32997 |  | A | Total lung lavage | 6.00 | NA | 2.00 | 0.55 | NA | 8.55 | 000
32999 |  | C | Chest surgery procedure | 0.00 | 0.00 | 0.00 | 0.00 | 0.00 | 0.00 | YYY
33010 |  | A | Drainage of heart sac | 2.24 | NA | 1.01 | 0.13 | NA | 3.38 | 000
33011 |  | A | Repeat drainage of heart sac | 2.24 | NA | 1.05 | 0.13 | NA | 3.42 | 000
33015 |  | A | Incision of heart sac | 6.80 | NA | 4.41 | 0.64 | NA | 11.85 | 090
33020 |  | A | Incision of heart sac | 12.61 | NA | 7.91 | 1.50 | NA | 22.02 | 090
33025 |  | A | Incision of heart sac | 12.09 | NA | 7.77 | 1.50 | NA | 21.36 | 090
33030 |  | A | Partial removal of heart sac | 18.71 | NA | 12.12 | 2.40 | NA | 33.23 | 090
33031 |  | A | Partial removal of heart sac | 21.79 | NA | 13.20 | 2.78 | NA | 37.77 | 090
33050 |  | A | Removal of heart sac lesion | 14.36 | NA | 10.24 | 1.73 | NA | 26.33 | 090
33120 |  | A | Removal of heart lesion | 24.56 | NA | 15.68 | 3.06 | NA | 43.30 | 090
33130 |  | A | Removal of heart lesion | 21.39 | NA | 12.40 | 2.51 | NA | 36.30 | 090
33140 |  | A | Heart revascularize (tmr) | 20.00 | NA | 10.57 | 2.27 | NA | 32.84 | 090
33141 |  | A | Heart tmr w/other procedure | 4.84 | NA | 1.63 | 0.55 | NA | 7.02 | ZZZ
33200 |  | A | Insertion of heart pacemaker | 12.48 | NA | 9.59 | 1.17 | NA | 23.24 | 090
33201 |  | A | Insertion of heart pacemaker | 10.18 | NA | 9.39 | 1.21 | NA | 20.78 | 090
33206 |  | A | Insertion of heart pacemaker | 6.67 | NA | 5.35 | 0.50 | NA | 12.52 | 090
33207 |  | A | Insertion of heart pacemaker | 8.04 | NA | 6.00 | 0.57 | NA | 14.61 | 090
33208 |  | A | Insertion of heart pacemaker | 8.13 | NA | 6.14 | 0.54 | NA | 14.81 | 090
33210 |  | A | Insertion of heart electrode | 3.30 | NA | 1.34 | 0.17 | NA | 4.81 | 000
33211 |  | A | Insertion of heart electrode | 3.40 | NA | 1.41 | 0.17 | NA | 4.98 | 000
33212 |  | A | Insertion of pulse generator | 5.52 | NA | 4.44 | 0.44 | NA | 10.40 | 090
33213 |  | A | Insertion of pulse generator | 6.37 | NA | 4.85 | 0.46 | NA | 11.68 | 090
33214 |  | A | Upgrade of pacemaker system | 7.75 | NA | 5.95 | 0.52 | NA | 14.22 | 090
33216 |  | A | Revise eltrd pacing-defib | 5.39 | NA | 4.95 | 0.36 | NA | 10.70 | 090
33217 |  | A | Revise eltrd pacing-defib | 5.75 | NA | 5.26 | 0.36 | NA | 11.37 | 090
33218 |  | A | Revise eltrd pacing-defib | 5.44 | NA | 4.51 | 0.40 | NA | 10.35 | 090
33220 |  | A | Revise eltrd pacing-defib | 5.52 | NA | 4.45 | 0.39 | NA | 10.36 | 090
33222 |  | A | Revise pocket, pacemaker | 4.96 | NA | 3.93 | 0.39 | NA | 9.28 | 090
33223 |  | A | Revise pocket, pacing-defib | 6.46 | NA | 5.06 | 0.44 | NA | 11.96 | 090
33233 |  | A | Removal of pacemaker system | 3.29 | NA | 3.80 | 0.22 | NA | 7.31 | 090
33234 |  | A | Removal of pacemaker system | 7.82 | NA | 5.03 | 0.56 | NA | 13.41 | 090
33235 |  | A | Removal pacemaker electrode | 9.40 | NA | 6.26 | 0.68 | NA | 16.34 | 090
33236 |  | A | Remove electrode/thoracotomy | 12.60 | NA | 9.35 | 1.49 | NA | 23.44 | 090
33237 |  | A | Remove electrode/thoracotomy | 13.71 | NA | 9.51 | 1.57 | NA | 24.79 | 090
33238 |  | A | Remove electrode/thoracotomy | 15.22 | NA | 9.24 | 1.56 | NA | 26.02 | 090
33240 |  | A | Insert pulse generator | 7.60 | NA | 5.49 | 0.53 | NA | 13.62 | 090
33241 |  | A | Remove pulse generator | 3.24 | NA | 3.39 | 0.21 | NA | 6.84 | 090
33243 |  | A | Remove eltrd/thoracotomy | 22.64 | NA | 10.88 | 2.53 | NA | 36.05 | 090
33244 |  | A | Remove eltrd, transven | 13.76 | NA | 8.22 | 1.05 | NA | 23.03 | 090
33245 |  | A | Insert epic eltrd pace-defib | 14.30 | NA | 10.79 | 1.28 | NA | 26.37 | 090
33246 |  | A | Insert epic eltrd/generator | 20.71 | NA | 14.16 | 2.22 | NA | 37.09 | 090
33249 |  | A | Eltrd/insert pace-defib | 14.23 | NA | 8.98 | 0.80 | NA | 24.01 | 090
33250 |  | A | Ablate heart dysrhythm focus | 21.85 | NA | 13.65 | 1.01 | NA | 36.51 | 090
33251 |  | A | Ablate heart dysrhythm focus | 24.88 | NA | 14.06 | 2.41 | NA | 41.35 | 090
33253 |  | A | Reconstruct atria | 31.06 | NA | 16.58 | 3.68 | NA | 51.32 | 090
33261 |  | A | Ablate heart dysrhythm focus | 24.88 | NA | 14.47 | 2.82 | NA | 42.17 | 090
33282 |  | A | Implant pat-active ht record | 4.17 | NA | 4.42 | 0.39 | NA | 8.98 | 090
33284 |  | A | Remove pat-active ht record | 2.50 | NA | 3.94 | 0.23 | NA | 6.67 | 090
33300 |  | A | Repair of heart wound | 17.92 | NA | 11.56 | 1.91 | NA | 31.39 | 090
33305 |  | A | Repair of heart wound | 21.44 | NA | 13.24 | 2.68 | NA | 37.36 | 090
33310 |  | A | Exploratory heart surgery | 18.51 | NA | 11.85 | 2.26 | NA | 32.62 | 090
33315 |  | A | Exploratory heart surgery | 22.37 | NA | 13.43 | 2.90 | NA | 38.70 | 090
33320 |  | A | Repair major blood vessel(s) | 16.79 | NA | 11.06 | 1.66 | NA | 29.51 | 090
33321 |  | A | Repair major vessel | 20.20 | NA | 13.15 | 2.70 | NA | 36.05 | 090
33322 |  | A | Repair major blood vessel(s) | 20.62 | NA | 13.02 | 2.51 | NA | 36.15 | 090
33330 |  | A | Insert major vessel graft | 21.43 | NA | 12.35 | 2.49 | NA | 36.27 | 090
33332 |  | A | Insert major vessel graft | 23.96 | NA | 12.94 | 2.45 | NA | 39.35 | 090
33335 |  | A | Insert major vessel graft | 30.01 | NA | 16.15 | 3.79 | NA | 49.95 | 090
33400 |  | A | Repair of aortic valve | 28.50 | NA | 17.04 | 3.09 | NA | 48.63 | 090
33401 |  | A | Valvuloplasty, open | 23.91 | NA | 14.85 | 2.71 | NA | 41.47 | 090
33403 |  | A | Valvuloplasty, w/cp bypass | 24.89 | NA | 15.99 | 2.48 | NA | 43.36 | 090
33404 |  | A | Prepare heart-aorta conduit | 28.54 | NA | 17.22 | 3.31 | NA | 49.07 | 090
33405 |  | A | Replacement of aortic valve | 35.00 | NA | 17.69 | 3.86 | NA | 56.55 | 090
33406 |  | A | Replacement of aortic valve | 37.50 | NA | 18.53 | 4.07 | NA | 60.10 | 090
33410 |  | A | Replacement of aortic valve | 32.46 | NA | 16.93 | 4.11 | NA | 53.50 | 090
33411 |  | A | Replacement of aortic valve | 36.25 | NA | 18.07 | 4.16 | NA | 58.48 | 090
33412 |  | A | Replacement of aortic valve | 42.00 | NA | 21.90 | 4.66 | NA | 68.56 | 090
33413 |  | A | Replacement of aortic valve | 43.50 | NA | 23.05 | 4.26 | NA | 70.81 | 090
33414 |  | A | Repair of aortic valve | 30.35 | NA | 17.67 | 3.79 | NA | 51.81 | 090
33415 |  | A | Revision, subvalvular tissue | 27.15 | NA | 16.53 | 3.25 | NA | 46.93 | 090
33416 |  | A | Revise ventricle muscle | 30.35 | NA | 16.06 | 3.85 | NA | 50.26 | 090
33417 |  | A | Repair of aortic valve | 28.53 | NA | 17.09 | 3.58 | NA | 49.20 | 090
33420 |  | A | Revision of mitral valve | 22.70 | NA | 11.77 | 1.48 | NA | 35.95 | 090
33422 |  | A | Revision of mitral valve | 25.94 | NA | 14.74 | 3.30 | NA | 43.98 | 090
33425 |  | A | Repair of mitral valve | 27.00 | NA | 14.98 | 3.00 | NA | 44.98 | 090
33426 |  | A | Repair of mitral valve | 33.00 | NA | 17.14 | 3.87 | NA | 54.01 | 090
33427 |  | A | Repair of mitral valve | 40.00 | NA | 19.42 | 4.30 | NA | 63.72 | 090
33430 |  | A | Replacement of mitral valve | 33.50 | NA | 17.26 | 3.95 | NA | 54.71 | 090
33460 |  | A | Revision of tricuspid valve | 23.60 | NA | 13.83 | 3.02 | NA | 40.45 | 090
33463 |  | A | Valvuloplasty, tricuspid | 25.62 | NA | 14.60 | 3.17 | NA | 43.39 | 090
33464 |  | A | Valvuloplasty, tricuspid | 27.33 | NA | 15.22 | 3.47 | NA | 46.02 | 090
33465 |  | A | Replace tricuspid valve | 28.79 | NA | 15.67 | 3.61 | NA | 48.07 | 090
33468 |  | A | Revision of tricuspid valve | 30.12 | NA | 19.06 | 4.00 | NA | 53.18 | 090
33470 |  | A | Revision of pulmonary valve | 20.81 | NA | 14.20 | 2.81 | NA | 37.82 | 090
33471 |  | A | Valvotomy, pulmonary valve | 22.25 | NA | 13.13 | 3.00 | NA | 38.38 | 090
33472 |  | A | Revision of pulmonary valve | 22.25 | NA | 13.13 | 2.92 | NA | 38.30 | 090
33474 |  | A | Revision of pulmonary valve | 23.04 | NA | 13.45 | 2.84 | NA | 39.33 | 090
33475 |  | A | Replacement, pulmonary valve | 33.00 | NA | 18.28 | 2.64 | NA | 53.92 | 090
33476 |  | A | Revision of heart chamber | 25.77 | NA | 14.23 | 2.40 | NA | 42.40 | 090
33478 |  | A | Revision of heart chamber | 26.74 | NA | 14.43 | 3.56 | NA | 44.73 | 090
33496 |  | A | Repair, prosth valve clot | 27.25 | NA | 16.84 | 3.44 | NA | 47.53 | 090
33500 |  | A | Repair heart vessel fistula | 25.55 | NA | 13.99 | 2.80 | NA | 42.34 | 090
33501 |  | A | Repair heart vessel fistula | 17.78 | NA | 10.24 | 2.05 | NA | 30.07 | 090
33502 |  | A | Coronary artery correction | 21.04 | NA | 16.64 | 2.51 | NA | 40.19 | 090
33503 |  | A | Coronary artery graft | 21.78 | NA | 13.90 | 1.42 | NA | 37.10 | 090
33504 |  | A | Coronary artery graft | 24.66 | NA | 16.55 | 3.04 | NA | 44.25 | 090
33505 |  | A | Repair artery w/tunnel | 26.84 | NA | 18.16 | 1.52 | NA | 46.52 | 090
33506 |  | A | Repair artery, translocation | 35.50 | NA | 19.27 | 3.19 | NA | 57.96 | 090
33510 |  | A | CABG, vein, single | 29.00 | NA | 15.53 | 3.13 | NA | 47.66 | 090
33511 |  | A | CABG, vein, two | 30.00 | NA | 16.05 | 3.34 | NA | 49.39 | 090
33512 |  | A | CABG, vein, three | 31.80 | NA | 16.65 | 3.70 | NA | 52.15 | 090
33513 |  | A | CABG, vein, four | 32.00 | NA | 16.77 | 3.99 | NA | 52.76 | 090
33514 |  | A | CABG, vein, five | 32.75 | NA | 17.00 | 4.37 | NA | 54.12 | 090
33516 |  | A | Cabg, vein, six or more | 35.00 | NA | 17.74 | 4.62 | NA | 57.36 | 090
33517 |  | A | CABG, artery-vein, single | 2.57 | NA | 0.86 | 0.32 | NA | 3.75 | ZZZ
33518 |  | A | CABG, artery-vein, two | 4.85 | NA | 1.62 | 0.61 | NA | 7.08 | ZZZ
33519 |  | A | CABG, artery-vein, three | 7.12 | NA | 2.38 | 0.89 | NA | 10.39 | ZZZ
33521 |  | A | CABG, artery-vein, four | 9.40 | NA | 3.15 | 1.18 | NA | 13.73 | ZZZ
33522 |  | A | CABG, artery-vein, five | 11.67 | NA | 3.91 | 1.48 | NA | 17.06 | ZZZ
33523 |  | A | Cabg, art-vein, six or more | 13.95 | NA | 4.63 | 1.78 | NA | 20.36 | ZZZ | 33530 |  | A | Coronary artery, bypass/reop | 5.86 | NA | 1.96 | 0.73 | NA | 8.55 | ZZZ
33533 |  | A | CABG, arterial, single | 30.00 | NA | 17.24 | 3.24 | NA | 50.48 | 090
33534 |  | A | CABG, arterial, two | 32.20 | NA | 17.45 | 3.63 | NA | 53.28 | 090
33535 |  | A | CABG, arterial, three | 34.50 | NA | 17.77 | 3.97 | NA | 56.24 | 090
33536 |  | A | Cabg, arterial, four or more | 37.50 | NA | 19.27 | 3.29 | NA | 60.06 | 090
33542 |  | A | Removal of heart lesion | 28.85 | NA | 17.05 | 3.61 | NA | 49.51 | 090
33545 |  | A | Repair of heart damage | 36.78 | NA | 19.79 | 4.40 | NA | 60.97 | 090
33572 |  | A | Open coronary endarterectomy | 4.45 | NA | 1.48 | 0.55 | NA | 6.48 | ZZZ
33600 |  | A | Closure of valve | 29.51 | NA | 17.79 | 2.30 | NA | 49.60 | 090
33602 |  | A | Closure of valve | 28.54 | NA | 16.65 | 2.90 | NA | 48.09 | 090
33606 |  | A | Anastomosis/artery-aorta | 30.74 | NA | 17.53 | 3.59 | NA | 51.86 | 090
33608 |  | A | Repair anomaly w/conduit | 31.09 | NA | 16.38 | 4.17 | NA | 51.64 | 090
33610 |  | A | Repair by enlargement | 30.61 | NA | 18.89 | 4.02 | NA | 53.52 | 090
33611 |  | A | Repair double ventricle | 34.00 | NA | 19.08 | 3.28 | NA | 56.36 | 090
33612 |  | A | Repair double ventricle | 35.00 | NA | 20.17 | 4.44 | NA | 59.61 | 090
33615 |  | A | Repair, modified fontan | 34.00 | NA | 19.33 | 3.15 | NA | 56.48 | 090
33617 |  | A | Repair single ventricle | 37.00 | NA | 21.25 | 4.09 | NA | 62.34 | 090
33619 |  | A | Repair single ventricle | 45.00 | NA | 26.49 | 4.71 | NA | 76.20 | 090
33641 |  | A | Repair heart septum defect | 21.39 | NA | 11.82 | 2.67 | NA | 35.88 | 090
33645 |  | A | Revision of heart veins | 24.82 | NA | 13.92 | 3.27 | NA | 42.01 | 090
33647 |  | A | Repair heart septum defects | 28.73 | NA | 17.08 | 3.37 | NA | 49.18 | 090
33660 |  | A | Repair of heart defects | 30.00 | NA | 17.09 | 2.82 | NA | 49.91 | 090
33665 |  | A | Repair of heart defects | 28.60 | NA | 16.87 | 3.81 | NA | 49.28 | 090
33670 |  | A | Repair of heart chambers | 35.00 | NA | 16.68 | 2.18 | NA | 53.86 | 090
33681 |  | A | Repair heart septum defect | 30.61 | NA | 17.83 | 3.53 | NA | 51.97 | 090
33684 |  | A | Repair heart septum defect | 29.65 | NA | 17.82 | 3.77 | NA | 51.24 | 090
33688 |  | A | Repair heart septum defect | 30.62 | NA | 16.70 | 3.89 | NA | 51.21 | 090
33690 |  | A | Reinforce pulmonary artery | 19.55 | NA | 13.55 | 2.56 | NA | 35.66 | 090
33692 |  | A | Repair of heart defects | 30.75 | NA | 17.52 | 3.77 | NA | 52.04 | 090
33694 |  | A | Repair of heart defects | 34.00 | NA | 17.82 | 4.27 | NA | 56.09 | 090
33697 |  | A | Repair of heart defects | 36.00 | NA | 18.62 | 4.54 | NA | 59.16 | 090
33702 |  | A | Repair of heart defects | 26.54 | NA | 16.53 | 3.45 | NA | 46.52 | 090
33710 |  | A | Repair of heart defects | 29.71 | NA | 16.82 | 3.85 | NA | 50.38 | 090
33720 |  | A | Repair of heart defect | 26.56 | NA | 16.51 | 3.21 | NA | 46.28 | 090
33722 |  | A | Repair of heart defect | 28.41 | NA | 17.05 | 3.80 | NA | 49.26 | 090
33730 |  | A | Repair heart-vein defect(s) | 34.25 | NA | 18.35 | 2.85 | NA | 55.45 | 090
33732 |  | A | Repair heart-vein defect | 28.16 | NA | 17.95 | 2.78 | NA | 48.89 | 090
33735 |  | A | Revision of heart chamber | 21.39 | NA | 13.00 | 1.12 | NA | 35.51 | 090
33736 |  | A | Revision of heart chamber | 23.52 | NA | 14.06 | 2.70 | NA | 40.28 | 090
33737 |  | A | Revision of heart chamber | 21.76 | NA | 15.22 | 2.93 | NA | 39.91 | 090
33750 |  | A | Major vessel shunt | 21.41 | NA | 12.83 | 1.74 | NA | 35.98 | 090
33755 |  | A | Major vessel shunt | 21.79 | NA | 12.94 | 2.93 | NA | 37.66 | 090
33762 |  | A | Major vessel shunt | 21.79 | NA | 13.32 | 1.59 | NA | 36.70 | 090
33764 |  | A | Major vessel shunt & graft | 21.79 | NA | 14.22 | 1.93 | NA | 37.94 | 090
33766 |  | A | Major vessel shunt | 22.76 | NA | 15.16 | 3.04 | NA | 40.96 | 090
33767 |  | A | Major vessel shunt | 24.50 | NA | 14.92 | 3.14 | NA | 42.56 | 090
33770 |  | A | Repair great vessels defect | 37.00 | NA | 19.01 | 4.49 | NA | 60.50 | 090
33771 |  | A | Repair great vessels defect | 34.65 | NA | 18.08 | 4.67 | NA | 57.40 | 090
33774 |  | A | Repair great vessels defect | 30.98 | NA | 16.61 | 4.18 | NA | 51.77 | 090
33775 |  | A | Repair great vessels defect | 32.20 | NA | 17.10 | 4.34 | NA | 53.64 | 090
33776 |  | A | Repair great vessels defect | 34.04 | NA | 17.83 | 4.58 | NA | 56.45 | 090
33777 |  | A | Repair great vessels defect | 33.46 | NA | 17.60 | 4.51 | NA | 55.57 | 090
33778 |  | A | Repair great vessels defect | 40.00 | NA | 20.21 | 4.83 | NA | 65.04 | 090
33779 |  | A | Repair great vessels defect | 36.21 | NA | 17.93 | 2.40 | NA | 56.54 | 090
33780 |  | A | Repair great vessels defect | 41.75 | NA | 20.98 | 5.21 | NA | 67.94 | 090
33781 |  | A | Repair great vessels defect | 36.45 | NA | 18.80 | 4.91 | NA | 60.16 | 090
33786 |  | A | Repair arterial trunk | 39.00 | NA | 19.81 | 4.69 | NA | 63.50 | 090
33788 |  | A | Revision of pulmonary artery | 26.62 | NA | 14.87 | 3.32 | NA | 44.81 | 090
33800 |  | A | Aortic suspension | 16.24 | NA | 13.12 | 1.11 | NA | 30.47 | 090
33802 |  | A | Repair vessel defect | 17.66 | NA | 12.22 | 1.56 | NA | 31.44 | 090
33803 |  | A | Repair vessel defect | 19.60 | NA | 13.53 | 2.63 | NA | 35.76 | 090
33813 |  | A | Repair septal defect | 20.65 | NA | 14.12 | 2.78 | NA | 37.55 | 090
33814 |  | A | Repair septal defect | 25.77 | NA | 15.61 | 2.52 | NA | 43.90 | 090
33820 |  | A | Revise major vessel | 16.29 | NA | 10.95 | 2.10 | NA | 29.34 | 090
33822 |  | A | Revise major vessel | 17.32 | NA | 11.16 | 2.33 | NA | 30.81 | 090
33824 |  | A | Revise major vessel | 19.52 | NA | 11.97 | 2.61 | NA | 34.10 | 090
33840 |  | A | Remove aorta constriction | 20.63 | NA | 14.11 | 2.36 | NA | 37.10 | 090
33845 |  | A | Remove aorta constriction | 22.12 | NA | 14.85 | 2.90 | NA | 39.87 | 090
33851 |  | A | Remove aorta constriction | 21.27 | NA | 12.98 | 2.86 | NA | 37.11 | 090
33852 |  | A | Repair septal defect | 23.71 | NA | 14.14 | 3.19 | NA | 41.04 | 090
33853 |  | A | Repair septal defect | 31.72 | NA | 18.25 | 4.23 | NA | 54.20 | 090
33860 |  | A | Ascending aortic graft | 38.00 | NA | 18.74 | 4.30 | NA | 61.04 | 090
33861 |  | A | Ascending aortic graft | 42.00 | NA | 20.15 | 4.24 | NA | 66.39 | 090
33863 |  | A | Ascending aortic graft | 45.00 | NA | 21.10 | 4.60 | NA | 70.70 | 090
33870 |  | A | Transverse aortic arch graft | 44.00 | NA | 20.69 | 5.09 | NA | 69.78 | 090
33875 |  | A | Thoracic aortic graft | 33.06 | NA | 17.01 | 4.08 | NA | 54.15 | 090
33877 |  | A | Thoracoabdominal graft | 42.60 | NA | 19.96 | 5.07 | NA | 67.63 | 090
33910 |  | A | Remove lung artery emboli | 24.59 | NA | 14.16 | 3.06 | NA | 41.81 | 090
33915 |  | A | Remove lung artery emboli | 21.02 | NA | 12.31 | 1.20 | NA | 34.53 | 090
33916 |  | A | Surgery of great vessel | 25.83 | NA | 15.49 | 3.04 | NA | 44.36 | 090
33917 |  | A | Repair pulmonary artery | 24.50 | NA | 15.36 | 3.17 | NA | 43.03 | 090
33918 |  | A | Repair pulmonary atresia | 26.45 | NA | 14.80 | 3.42 | NA | 44.67 | 090
33919 |  | A | Repair pulmonary atresia | 40.00 | NA | 21.02 | 3.48 | NA | 64.50 | 090
33920 |  | A | Repair pulmonary atresia | 31.95 | NA | 17.28 | 3.61 | NA | 52.84 | 090
33922 |  | A | Transect pulmonary artery | 23.52 | NA | 13.79 | 2.30 | NA | 39.61 | 090
33924 |  | A | Remove pulmonary shunt | 5.50 | NA | 2.05 | 0.74 | NA | 8.29 | ZZZ
33930 |  | X | Removal of donor heart/lung | 0.00 | 0.00 | 0.00 | 0.00 | 0.00 | 0.00 | XXX
33935 |  | R | Transplantation, heart/lung | 60.96 | NA | 27.93 | 8.15 | NA | 97.04 | 090
33940 |  | X | Removal of donor heart | 0.00 | 0.00 | 0.00 | 0.00 | 0.00 | 0.00 | XXX
33945 |  | R | Transplantation of heart | 42.10 | NA | 21.67 | 5.42 | NA | 69.19 | 090
33960 |  | A | External circulation assist | 19.36 | NA | 6.06 | 2.14 | NA | 27.56 | 000
33961 |  | A | External circulation assist | 10.93 | NA | 3.79 | 1.47 | NA | 16.19 | ZZZ
33967 |  | A | Insert ia percut device | 4.85 | 2.01 | 1.96 | 0.27 | 7.13 | 7.08 | 000
33968 |  | A | Remove aortic assist device | 0.64 | NA | 0.24 | 0.07 | NA | 0.95 | 000
33970 |  | A | Aortic circulation assist | 6.75 | NA | 2.37 | 0.70 | NA | 9.82 | 000
33971 |  | A | Aortic circulation assist | 9.69 | NA | 7.82 | 0.97 | NA | 18.48 | 090
33973 |  | A | Insert balloon device | 9.76 | NA | 3.44 | 1.01 | NA | 14.21 | 000
33974 |  | A | Remove intra-aortic balloon | 14.41 | NA | 10.69 | 1.48 | NA | 26.58 | 090
33975 |  | A | Implant ventricular device | 21.00 | NA | 7.04 | 1.72 | NA | 29.76 | XXX
33976 |  | A | Implant ventricular device | 23.00 | NA | 7.78 | 2.82 | NA | 33.60 | XXX
33977 |  | A | Remove ventricular device | 19.29 | NA | 10.46 | 2.44 | NA | 32.19 | 090
33978 |  | A | Remove ventricular device | 21.73 | NA | 11.27 | 2.66 | NA | 35.66 | 090
33979 |  | C | Insert intracorporeal device | 0.00 | 0.00 | 0.00 | 0.00 | 0.00 | 0.00 | XXX
33980 |  | C | Remove intracorporeal device | 0.00 | 0.00 | 0.00 | 0.00 | 0.00 | 0.00 | 090
33999 |  | C | Cardiac surgery procedure | 0.00 | 0.00 | 0.00 | 0.00 | 0.00 | 0.00 | YYY
34001 |  | A | Removal of artery clot | 12.91 | NA | 5.97 | 1.46 | NA | 20.34 | 090
34051 |  | A | Removal of artery clot | 15.21 | NA | 7.07 | 1.90 | NA | 24.18 | 090
34101 |  | A | Removal of artery clot | 10.00 | NA | 4.84 | 1.11 | NA | 15.95 | 090
34111 |  | A | Removal of arm artery clot | 10.00 | NA | 4.88 | 0.85 | NA | 15.73 | 090
34151 |  | A | Removal of artery clot | 25.00 | NA | 10.54 | 1.84 | NA | 37.38 | 090
34201 |  | A | Removal of artery clot | 10.03 | NA | 5.12 | 1.02 | NA | 16.17 | 090
34203 |  | A | Removal of leg artery clot | 16.50 | NA | 7.65 | 1.37 | NA | 25.52 | 090
34401 |  | A | Removal of vein clot | 25.00 | NA | 10.47 | 1.20 | NA | 36.67 | 090
34421 |  | A | Removal of vein clot | 12.00 | NA | 6.01 | 0.95 | NA | 18.96 | 090
34451 |  | A | Removal of vein clot | 27.00 | NA | 11.08 | 1.59 | NA | 39.67 | 090
34471 |  | A | Removal of vein clot | 10.18 | NA | 5.18 | 0.90 | NA | 16.26 | 090
34490 |  | A | Removal of vein clot | 9.86 | NA | 6.26 | 0.73 | NA | 16.85 | 090
34501 |  | A | Repair valve, femoral vein | 16.00 | NA | 8.98 | 1.37 | NA | 26.35 | 090
34502 |  | A | Reconstruct vena cava | 26.95 | NA | 11.34 | 2.99 | NA | 41.28 | 090
34510 |  | A | Transposition of vein valve | 18.95 | NA | 10.23 | 1.60 | NA | 30.78 | 090
34520 |  | A | Cross-over vein graft | 17.95 | NA | 9.59 | 1.41 | NA | 28.95 | 090
34530 |  | A | Leg vein fusion | 16.64 | NA | 8.48 | 2.06 | NA | 27.18 | 090
34800 |  | A | Endovasc abdo repair w/tube | 20.75 | NA | 9.79 | 1.49 | NA | 32.03 | 090
34802 |  | A | Endovasc abdo repr w/device | 23.00 | NA | 10.69 | 1.65 | NA | 35.34 | 090
34804 |  | A | Endovasc abdo repr w/device | 23.00 | NA | 10.69 | 1.65 | NA | 35.34 | 090
34808 |  | A | Endovasc abdo occlud device | 4.13 | NA | 1.65 | 0.29 | NA | 6.07 | ZZZ
34812 |  | A | Xpose for endoprosth, aortic | 6.75 | NA | 2.69 | 0.49 | NA | 9.93 | 000
34813 |  | A | Xpose for endoprosth, femorl | 4.80 | NA | 1.92 | 0.34 | NA | 7.06 | ZZZ
34820 |  | A | Xpose for endoprosth, iliac | 9.75 | NA | 3.89 | 0.70 | NA | 14.34 | 000
34825 |  | A | Endovasc extend prosth, init | 12.00 | NA | 6.30 | 0.86 | NA | 19.16 | 090
34826 |  | A | Endovasc exten prosth, addl | 4.13 | NA | 1.65 | 0.29 | NA | 6.07 | ZZZ
34830 |  | A | Open aortic tube prosth repr | 32.59 | NA | 14.89 | 2.34 | NA | 49.82 | 090
34831 |  | A | Open aortoiliac prosth repr | 35.34 | NA | 15.99 | 2.53 | NA | 53.86 | 090
34832 |  | A | Open aortofemor prosth repr | 35.34 | NA | 15.99 | 2.53 | NA | 53.86 | 090
35001 |  | A | Repair defect of artery | 19.64 | NA | 8.41 | 2.44 | NA | 30.49 | 090
35002 |  | A | Repair artery rupture, neck | 21.00 | NA | 9.12 | 1.82 | NA | 31.94 | 090
35005 |  | A | Repair defect of artery | 18.12 | NA | 8.04 | 1.35 | NA | 27.51 | 090
35011 |  | A | Repair defect of artery | 18.00 | NA | 7.59 | 1.30 | NA | 26.89 | 090
35013 |  | A | Repair artery rupture, arm | 22.00 | NA | 8.98 | 1.91 | NA | 32.89 | 090
35021 |  | A | Repair defect of artery | 19.65 | NA | 8.64 | 1.93 | NA | 30.22 | 090
35022 |  | A | Repair artery rupture, chest | 23.18 | NA | 9.57 | 1.99 | NA | 34.74 | 090
35045 |  | A | Repair defect of arm artery | 17.57 | NA | 7.99 | 1.25 | NA | 26.81 | 090
35081 |  | A | Repair defect of artery | 28.01 | NA | 11.69 | 3.20 | NA | 42.90 | 090
35082 |  | A | Repair artery rupture, aorta | 38.50 | NA | 15.08 | 4.07 | NA | 57.65 | 090
35091 |  | A | Repair defect of artery | 35.40 | NA | 14.22 | 4.09 | NA | 53.71 | 090
35092 |  | A | Repair artery rupture, aorta | 45.00 | NA | 17.35 | 4.31 | NA | 66.66 | 090
35102 |  | A | Repair defect of artery | 30.76 | NA | 12.67 | 3.44 | NA | 46.87 | 090
35103 |  | A | Repair artery rupture, groin | 40.50 | NA | 15.81 | 3.79 | NA | 60.10 | 090
35111 |  | A | Repair defect of artery | 25.00 | NA | 10.43 | 1.81 | NA | 37.24 | 090
35112 |  | A | Repair artery rupture,spleen | 30.00 | NA | 12.06 | 1.95 | NA | 44.01 | 090
35121 |  | A | Repair defect of artery | 30.00 | NA | 12.39 | 2.93 | NA | 45.32 | 090
35122 |  | A | Repair artery rupture, belly | 35.00 | NA | 13.73 | 3.54 | NA | 52.27 | 090
35131 |  | A | Repair defect of artery | 25.00 | NA | 10.64 | 2.11 | NA | 37.75 | 090
35132 |  | A | Repair artery rupture, groin | 30.00 | NA | 12.14 | 2.48 | NA | 44.62 | 090
35141 |  | A | Repair defect of artery | 20.00 | NA | 8.66 | 1.65 | NA | 30.31 | 090
35142 |  | A | Repair artery rupture, thigh | 23.30 | NA | 9.76 | 1.75 | NA | 34.81 | 090
35151 |  | A | Repair defect of artery | 22.64 | NA | 9.72 | 1.93 | NA | 34.29 | 090
35152 |  | A | Repair artery rupture, knee | 25.62 | NA | 10.50 | 1.93 | NA | 38.05 | 090
35161 |  | A | Repair defect of artery | 18.76 | NA | 8.96 | 2.21 | NA | 29.93 | 090
35162 |  | A | Repair artery rupture | 19.78 | NA | 9.05 | 2.21 | NA | 31.04 | 090
35180 |  | A | Repair blood vessel lesion | 13.62 | NA | 6.49 | 1.44 | NA | 21.55 | 090
35182 |  | A | Repair blood vessel lesion | 30.00 | NA | 12.39 | 1.88 | NA | 44.27 | 090
35184 |  | A | Repair blood vessel lesion | 18.00 | NA | 7.92 | 1.34 | NA | 27.26 | 090
35188 |  | A | Repair blood vessel lesion | 14.28 | NA | 6.70 | 1.53 | NA | 22.51 | 090
35189 |  | A | Repair blood vessel lesion | 28.00 | NA | 11.71 | 2.12 | NA | 41.83 | 090
35190 |  | A | Repair blood vessel lesion | 12.75 | NA | 6.03 | 1.33 | NA | 20.11 | 090
35201 |  | A | Repair blood vessel lesion | 16.14 | NA | 7.18 | 1.17 | NA | 24.49 | 090
35206 |  | A | Repair blood vessel lesion | 13.25 | NA | 7.60 | 1.04 | NA | 21.89 | 090
35207 |  | A | Repair blood vessel lesion | 10.15 | NA | 9.91 | 1.15 | NA | 21.21 | 090
35211 |  | A | Repair blood vessel lesion | 22.12 | NA | 13.55 | 2.83 | NA | 38.50 | 090
35216 |  | A | Repair blood vessel lesion | 18.75 | NA | 11.83 | 2.17 | NA | 32.75 | 090
35221 |  | A | Repair blood vessel lesion | 24.39 | NA | 10.31 | 1.79 | NA | 36.49 | 090
35226 |  | A | Repair blood vessel lesion | 14.50 | NA | 8.54 | 0.84 | NA | 23.88 | 090
35231 |  | A | Repair blood vessel lesion | 20.00 | NA | 9.45 | 1.32 | NA | 30.77 | 090
35236 |  | A | Repair blood vessel lesion | 17.11 | NA | 8.97 | 1.19 | NA | 27.27 | 090
35241 |  | A | Repair blood vessel lesion | 23.12 | NA | 14.09 | 2.90 | NA | 40.11 | 090
35246 |  | A | Repair blood vessel lesion | 26.45 | NA | 14.32 | 2.22 | NA | 42.99 | 090
35251 |  | A | Repair blood vessel lesion | 30.20 | NA | 12.39 | 1.87 | NA | 44.46 | 090
35256 |  | A | Repair blood vessel lesion | 18.36 | NA | 9.63 | 1.32 | NA | 29.31 | 090
35261 |  | A | Repair blood vessel lesion | 17.80 | NA | 7.56 | 1.34 | NA | 26.70 | 090
35266 |  | A | Repair blood vessel lesion | 14.91 | NA | 8.12 | 1.16 | NA | 24.19 | 090
35271 |  | A | Repair blood vessel lesion | 22.12 | NA | 13.43 | 2.77 | NA | 38.32 | 090
35276 |  | A | Repair blood vessel lesion | 24.25 | NA | 13.56 | 2.37 | NA | 40.18 | 090
35281 |  | A | Repair blood vessel lesion | 28.00 | NA | 11.66 | 1.82 | NA | 41.48 | 090
35286 |  | A | Repair blood vessel lesion | 16.16 | NA | 8.88 | 1.36 | NA | 26.40 | 090
35301 |  | A | Rechanneling of artery | 18.70 | NA | 8.39 | 2.23 | NA | 29.32 | 090
35311 |  | A | Rechanneling of artery | 27.00 | NA | 11.10 | 2.75 | NA | 40.85 | 090
35321 |  | A | Rechanneling of artery | 16.00 | NA | 6.87 | 1.36 | NA | 24.23 | 090
35331 |  | A | Rechanneling of artery | 26.20 | NA | 11.11 | 2.71 | NA | 40.02 | 090
35341 |  | A | Rechanneling of artery | 25.11 | NA | 10.70 | 2.87 | NA | 38.68 | 090
35351 |  | A | Rechanneling of artery | 23.00 | NA | 9.84 | 2.29 | NA | 35.13 | 090
35355 |  | A | Rechanneling of artery | 18.50 | NA | 8.33 | 1.80 | NA | 28.63 | 090
35361 |  | A | Rechanneling of artery | 28.20 | NA | 11.60 | 2.66 | NA | 42.46 | 090
35363 |  | A | Rechanneling of artery | 30.20 | NA | 12.54 | 2.77 | NA | 45.51 | 090
35371 |  | A | Rechanneling of artery | 14.72 | NA | 6.75 | 1.32 | NA | 22.79 | 090
35372 |  | A | Rechanneling of artery | 18.00 | NA | 7.91 | 1.53 | NA | 27.44 | 090
35381 |  | A | Rechanneling of artery | 15.81 | NA | 7.35 | 1.80 | NA | 24.96 | 090
35390 |  | A | Reoperation, carotid add-on | 3.19 | NA | 1.11 | 0.38 | NA | 4.68 | ZZZ
35400 |  | A | Angioscopy | 3.00 | NA | 1.05 | 0.34 | NA | 4.39 | ZZZ
35450 |  | A | Repair arterial blockage | 10.07 | NA | 4.22 | 0.84 | NA | 15.13 | 000
35452 |  | A | Repair arterial blockage | 6.91 | NA | 3.11 | 0.76 | NA | 10.78 | 000
35454 |  | A | Repair arterial blockage | 6.04 | NA | 2.83 | 0.67 | NA | 9.54 | 000
35456 |  | A | Repair arterial blockage | 7.35 | NA | 3.27 | 0.82 | NA | 11.44 | 000
35458 |  | A | Repair arterial blockage | 9.49 | NA | 4.03 | 1.09 | NA | 14.61 | 000
35459 |  | A | Repair arterial blockage | 8.63 | NA | 3.69 | 0.96 | NA | 13.28 | 000
35460 |  | A | Repair venous blockage | 6.04 | NA | 2.70 | 0.66 | NA | 9.40 | 000
35470 |  | A | Repair arterial blockage | 8.63 | NA | 3.98 | 0.50 | NA | 13.11 | 000
35471 |  | A | Repair arterial blockage | 10.07 | NA | 4.67 | 0.50 | NA | 15.24 | 000
35472 |  | A | Repair arterial blockage | 6.91 | NA | 3.32 | 0.39 | NA | 10.62 | 000
35473 |  | A | Repair arterial blockage | 6.04 | NA | 3.01 | 0.34 | NA | 9.39 | 000
35474 |  | A | Repair arterial blockage | 7.36 | NA | 3.52 | 0.40 | NA | 11.28 | 000
35475 |  | R | Repair arterial blockage | 9.49 | NA | 4.23 | 0.47 | NA | 14.19 | 000
35476 |  | A | Repair venous blockage | 6.04 | NA | 2.94 | 0.27 | NA | 9.25 | 000
35480 |  | A | Atherectomy, open | 11.08 | NA | 4.58 | 1.13 | NA | 16.79 | 000
35481 |  | A | Atherectomy, open | 7.61 | NA | 3.54 | 0.84 | NA | 11.99 | 000
35482 |  | A | Atherectomy, open | 6.65 | NA | 3.16 | 0.75 | NA | 10.56 | 000
35483 |  | A | Atherectomy, open | 8.10 | NA | 3.52 | 0.81 | NA | 12.43 | 000
35484 |  | A | Atherectomy, open | 10.44 | NA | 4.21 | 1.13 | NA | 15.78 | 000
35485 |  | A | Atherectomy, open | 9.49 | NA | 4.05 | 1.06 | NA | 14.60 | 000
35490 |  | A | Atherectomy, percutaneous | 11.08 | NA | 4.83 | 0.55 | NA | 16.46 | 000
35491 |  | A | Atherectomy, percutaneous | 7.61 | NA | 3.59 | 0.49 | NA | 11.69 | 000
35492 |  | A | Atherectomy, percutaneous | 6.65 | NA | 3.22 | 0.43 | NA | 10.30 | 000
35493 |  | A | Atherectomy, percutaneous | 8.10 | NA | 3.90 | 0.47 | NA | 12.47 | 000
35494 |  | A | Atherectomy, percutaneous | 10.44 | NA | 4.57 | 0.48 | NA | 15.49 | 000
35495 |  | A | Atherectomy, percutaneous | 9.49 | NA | 4.52 | 0.51 | NA | 14.52 | 000
35500 |  | A | Harvest vein for bypass | 6.45 | NA | 2.25 | 0.63 | NA | 9.33 | ZZZ
35501 |  | A | Artery bypass graft | 19.19 | NA | 8.14 | 2.33 | NA | 29.66 | 090
35506 |  | A | Artery bypass graft | 19.67 | NA | 8.32 | 2.33 | NA | 30.32 | 090
35507 |  | A | Artery bypass graft | 19.67 | NA | 8.29 | 2.27 | NA | 30.23 | 090
35508 |  | A | Artery bypass graft | 18.65 | NA | 7.91 | 2.34 | NA | 28.90 | 090
35509 |  | A | Artery bypass graft | 18.07 | NA | 7.70 | 2.12 | NA | 27.89 | 090
35511 |  | A | Artery bypass graft | 21.20 | NA | 8.80 | 1.74 | NA | 31.74 | 090
35515 |  | A | Artery bypass graft | 18.65 | NA | 7.80 | 2.26 | NA | 28.71 | 090
35516 |  | A | Artery bypass graft | 16.32 | NA | 4.94 | 1.88 | NA | 23.14 | 090
35518 |  | A | Artery bypass graft | 21.20 | NA | 8.80 | 1.78 | NA | 31.78 | 090
35521 |  | A | Artery bypass graft | 22.20 | NA | 9.53 | 1.82 | NA | 33.55 | 090
35526 |  | A | Artery bypass graft | 29.95 | NA | 12.19 | 2.18 | NA | 44.32 | 090
35531 |  | A | Artery bypass graft | 36.20 | NA | 14.53 | 2.91 | NA | 53.64 | 090
35533 |  | A | Artery bypass graft | 28.00 | NA | 11.74 | 2.35 | NA | 42.09 | 090
35536 |  | A | Artery bypass graft | 31.70 | NA | 12.85 | 2.62 | NA | 47.17 | 090
35541 |  | A | Artery bypass graft | 25.80 | NA | 10.98 | 2.74 | NA | 39.52 | 090
35546 |  | A | Artery bypass graft | 25.54 | NA | 10.75 | 2.84 | NA | 39.13 | 090
35548 |  | A | Artery bypass graft | 21.57 | NA | 9.45 | 2.45 | NA | 33.47 | 090
35549 |  | A | Artery bypass graft | 23.35 | NA | 9.88 | 2.77 | NA | 36.00 | 090
35551 |  | A | Artery bypass graft | 26.67 | NA | 11.20 | 3.19 | NA | 41.06 | 090
35556 |  | A | Artery bypass graft | 21.76 | NA | 9.45 | 2.48 | NA | 33.69 | 090
35558 |  | A | Artery bypass graft | 21.20 | NA | 9.11 | 1.58 | NA | 31.89 | 090
35560 |  | A | Artery bypass graft | 32.00 | NA | 13.12 | 2.73 | NA | 47.85 | 090
35563 |  | A | Artery bypass graft | 24.20 | NA | 10.42 | 1.68 | NA | 36.30 | 090
35565 |  | A | Artery bypass graft | 23.20 | NA | 9.99 | 1.71 | NA | 34.90 | 090
35566 |  | A | Artery bypass graft | 26.92 | NA | 11.77 | 3.02 | NA | 41.71 | 090
35571 |  | A | Artery bypass graft | 24.06 | NA | 12.13 | 2.14 | NA | 38.33 | 090
35582 |  | A | Vein bypass graft | 27.13 | NA | 11.35 | 3.11 | NA | 41.59 | 090
35583 |  | A | Vein bypass graft | 22.37 | NA | 10.62 | 2.53 | NA | 35.52 | 090
35585 |  | A | Vein bypass graft | 28.39 | NA | 14.53 | 3.21 | NA | 46.13 | 090
35587 |  | A | Vein bypass graft | 24.75 | NA | 12.79 | 2.17 | NA | 39.71 | 090
35600 |  | A | Harvest artery for cabg | 4.95 | NA | 1.98 | 0.60 | NA | 7.53 | ZZZ
35601 |  | A | Artery bypass graft | 17.50 | NA | 7.49 | 2.08 | NA | 27.07 | 090
35606 |  | A | Artery bypass graft | 18.71 | NA | 7.93 | 2.17 | NA | 28.81 | 090
35612 |  | A | Artery bypass graft | 15.76 | NA | 6.70 | 1.72 | NA | 24.18 | 090
35616 |  | A | Artery bypass graft | 15.70 | NA | 7.05 | 1.84 | NA | 24.59 | 090
35621 |  | A | Artery bypass graft | 20.00 | NA | 8.79 | 1.68 | NA | 30.47 | 090
35623 |  | A | Bypass graft, not vein | 24.00 | NA | 10.22 | 1.91 | NA | 36.13 | 090
35626 |  | A | Artery bypass graft | 27.75 | NA | 11.08 | 2.89 | NA | 41.72 | 090
35631 |  | A | Artery bypass graft | 34.00 | NA | 13.74 | 2.83 | NA | 50.57 | 090
35636 |  | A | Artery bypass graft | 29.50 | NA | 12.26 | 2.37 | NA | 44.13 | 090
35641 |  | A | Artery bypass graft | 24.57 | NA | 10.47 | 2.83 | NA | 37.87 | 090
35642 |  | A | Artery bypass graft | 17.98 | NA | 7.92 | 1.84 | NA | 27.74 | 090
35645 |  | A | Artery bypass graft | 17.47 | NA | 8.36 | 1.91 | NA | 27.74 | 090
35646 |  | A | Artery bypass graft | 31.00 | NA | 13.26 | 2.98 | NA | 47.24 | 090
35647 |  | A | Artery bypass graft | 28.00 | NA | 11.97 | 2.98 | NA | 42.95 | 090
35650 |  | A | Artery bypass graft | 19.00 | NA | 7.93 | 1.64 | NA | 28.57 | 090
35651 |  | A | Artery bypass graft | 25.04 | NA | 10.70 | 2.53 | NA | 38.27 | 090
35654 |  | A | Artery bypass graft | 25.00 | NA | 10.60 | 2.10 | NA | 37.70 | 090
35656 |  | A | Artery bypass graft | 19.53 | NA | 8.44 | 2.21 | NA | 30.18 | 090
35661 |  | A | Artery bypass graft | 19.00 | NA | 8.26 | 1.50 | NA | 28.76 | 090
35663 |  | A | Artery bypass graft | 22.00 | NA | 9.65 | 1.55 | NA | 33.20 | 090
35665 |  | A | Artery bypass graft | 21.00 | NA | 9.18 | 1.76 | NA | 31.94 | 090
35666 |  | A | Artery bypass graft | 22.19 | NA | 11.93 | 2.19 | NA | 36.31 | 090
35671 |  | A | Artery bypass graft | 19.33 | NA | 10.53 | 1.68 | NA | 31.54 | 090
35681 |  | A | Composite bypass graft | 1.60 | NA | 0.56 | 0.18 | NA | 2.34 | ZZZ
35682 |  | A | Composite bypass graft | 7.20 | NA | 2.51 | 0.83 | NA | 10.54 | ZZZ
35683 |  | A | Composite bypass graft | 8.50 | NA | 2.99 | 0.98 | NA | 12.47 | ZZZ
35685 |  | A | Bypass graft patency/patch | 4.05 | NA | 1.50 | 0.41 | NA | 5.96 | ZZZ
35686 |  | A | Bypass graft/av fist patency | 3.35 | NA | 1.24 | 0.34 | NA | 4.93 | ZZZ
35691 |  | A | Arterial transposition | 18.05 | NA | 7.65 | 2.06 | NA | 27.76 | 090
35693 |  | A | Arterial transposition | 15.36 | NA | 6.66 | 1.80 | NA | 23.82 | 090
35694 |  | A | Arterial transposition | 19.16 | NA | 8.02 | 2.13 | NA | 29.31 | 090
35695 |  | A | Arterial transposition | 19.16 | NA | 7.92 | 2.19 | NA | 29.27 | 090
35700 |  | A | Reoperation, bypass graft | 3.08 | NA | 1.07 | 0.36 | NA | 4.51 | ZZZ
35701 |  | A | Exploration, carotid artery | 8.50 | NA | 4.70 | 0.64 | NA | 13.84 | 090
35721 |  | A | Exploration, femoral artery | 7.18 | NA | 5.10 | 0.59 | NA | 12.87 | 090
35741 |  | A | Exploration popliteal artery | 8.00 | NA | 5.47 | 0.60 | NA | 14.07 | 090
35761 |  | A | Exploration of artery/vein | 5.37 | NA | 4.47 | 0.60 | NA | 10.44 | 090
35800 |  | A | Explore neck vessels | 7.02 | NA | 3.95 | 0.79 | NA | 11.76 | 090
35820 |  | A | Explore chest vessels | 12.88 | NA | 4.32 | 1.61 | NA | 18.81 | 090
35840 |  | A | Explore abdominal vessels | 9.77 | NA | 5.21 | 1.06 | NA | 16.04 | 090
35860 |  | A | Explore limb vessels | 5.55 | NA | 3.62 | 0.63 | NA | 9.80 | 090
35870 |  | A | Repair vessel graft defect | 22.17 | NA | 10.21 | 2.47 | NA | 34.85 | 090
35875 |  | A | Removal of clot in graft | 10.13 | NA | 6.63 | 0.97 | NA | 17.73 | 090
35876 |  | A | Removal of clot in graft | 17.00 | NA | 9.16 | 1.88 | NA | 28.04 | 090
35879 |  | A | Revise graft w/vein | 16.00 | NA | 7.77 | 1.35 | NA | 25.12 | 090
35881 |  | A | Revise graft w/vein | 18.00 | NA | 8.65 | 1.44 | NA | 28.09 | 090
35901 |  | A | Excision, graft, neck | 8.19 | NA | 5.85 | 0.90 | NA | 14.94 | 090
35903 |  | A | Excision, graft, extremity | 9.39 | NA | 8.20 | 1.03 | NA | 18.62 | 090
35905 |  | A | Excision, graft, thorax | 31.25 | NA | 15.39 | 2.15 | NA | 48.79 | 090
35907 |  | A | Excision, graft, abdomen | 35.00 | NA | 14.97 | 2.17 | NA | 52.14 | 090
36000 |  | A | Place needle in vein | 0.18 | 0.65 | 0.05 | 0.01 | 0.84 | 0.24 | XXX
36002 |  | A | Pseudoaneurysm injection trt | 1.96 | 2.95 | 1.03 | 0.08 | 4.99 | 3.07 | 000
36005 |  | A | Injection ext venography | 0.95 | 7.29 | 0.34 | 0.04 | 8.28 | 1.33 | 000
36010 |  | A | Place catheter in vein | 2.43 | NA | 0.84 | 0.16 | NA | 3.43 | XXX
36011 |  | A | Place catheter in vein | 3.14 | NA | 1.10 | 0.17 | NA | 4.41 | XXX
36012 |  | A | Place catheter in vein | 3.52 | NA | 1.23 | 0.17 | NA | 4.92 | XXX
36013 |  | A | Place catheter in artery | 2.52 | NA | 0.61 | 0.17 | NA | 3.30 | XXX
36014 |  | A | Place catheter in artery | 3.02 | NA | 1.06 | 0.14 | NA | 4.22 | XXX
36015 |  | A | Place catheter in artery | 3.52 | NA | 1.24 | 0.16 | NA | 4.92 | XXX
36100 |  | A | Establish access to artery | 3.02 | NA | 1.16 | 0.18 | NA | 4.36 | XXX
36120 |  | A | Establish access to artery | 2.01 | NA | 0.69 | 0.11 | NA | 2.81 | XXX
36140 |  | A | Establish access to artery | 2.01 | NA | 0.69 | 0.12 | NA | 2.82 | XXX
36145 |  | A | Artery to vein shunt | 2.01 | NA | 0.70 | 0.10 | NA | 2.81 | XXX
36160 |  | A | Establish access to aorta | 2.52 | NA | 0.90 | 0.20 | NA | 3.62 | XXX
36200 |  | A | Place catheter in aorta | 3.02 | NA | 1.09 | 0.15 | NA | 4.26 | XXX
36215 |  | A | Place catheter in artery | 4.68 | NA | 1.68 | 0.22 | NA | 6.58 | XXX
36216 |  | A | Place catheter in artery | 5.28 | NA | 1.89 | 0.24 | NA | 7.41 | XXX
36217 |  | A | Place catheter in artery | 6.30 | NA | 2.29 | 0.32 | NA | 8.91 | XXX
36218 |  | A | Place catheter in artery | 1.01 | NA | 0.37 | 0.05 | NA | 1.43 | ZZZ
36245 |  | A | Place catheter in artery | 4.68 | NA | 1.78 | 0.23 | NA | 6.69 | XXX
36246 |  | A | Place catheter in artery | 5.28 | NA | 1.91 | 0.26 | NA | 7.45 | XXX
36247 |  | A | Place catheter in artery | 6.30 | NA | 2.25 | 0.32 | NA | 8.87 | XXX
36248 |  | A | Place catheter in artery | 1.01 | NA | 0.37 | 0.06 | NA | 1.44 | ZZZ
36260 |  | A | Insertion of infusion pump | 9.71 | NA | 5.63 | 1.00 | NA | 16.34 | 090
36261 |  | A | Revision of infusion pump | 5.45 | NA | 3.47 | 0.50 | NA | 9.42 | 090
36262 |  | A | Removal of infusion pump | 4.02 | NA | 2.59 | 0.43 | NA | 7.04 | 090
36299 |  | C | Vessel injection procedure | 0.00 | 0.00 | 0.00 | 0.00 | 0.00 | 0.00 | YYY
36400 |  | A | Drawing blood | 0.38 | 0.72 | 0.10 | 0.01 | 1.11 | 0.49 | XXX
36405 |  | A | Drawing blood | 0.31 | 0.58 | 0.09 | 0.01 | 0.90 | 0.41 | XXX
36406 |  | A | Drawing blood | 0.18 | 0.94 | 0.06 | 0.01 | 1.13 | 0.25 | XXX
36410 |  | A | Drawing blood | 0.18 | 0.50 | 0.05 | 0.01 | 0.69 | 0.24 | XXX
36415 |  | I | Drawing blood | 0.00 | 0.00 | 0.00 | 0.00 | 0.00 | 0.00 | XXX
36420 |  | A | Establish access to vein | 1.01 | NA | 0.33 | 0.09 | NA | 1.43 | XXX
36425 |  | A | Establish access to vein | 0.76 | 3.44 | 0.17 | 0.05 | 4.25 | 0.98 | XXX
36430 |  | A | Blood transfusion service | 0.00 | 0.95 | NA | 0.05 | 1.00 | NA | XXX
36440 |  | A | Blood transfusion service | 1.03 | NA | 0.31 | 0.08 | NA | 1.42 | XXX
36450 |  | A | Exchange transfusion service | 2.23 | NA | 0.71 | 0.16 | NA | 3.10 | XXX
36455 |  | A | Exchange transfusion service | 2.43 | NA | 0.97 | 0.10 | NA | 3.50 | XXX
36460 |  | A | Transfusion service, fetal | 6.59 | NA | 2.55 | 0.56 | NA | 9.70 | XXX
36468 |  | R | Injection(s), spider veins | 0.00 | 0.00 | 0.00 | 0.00 | 0.00 | 0.00 | 000
36469 |  | R | Injection(s), spider veins | 0.00 | 0.00 | 0.00 | 0.00 | 0.00 | 0.00 | 000
36470 |  | A | Injection therapy of vein | 1.09 | 2.60 | 0.40 | 0.10 | 3.79 | 1.59 | 010
36471 |  | A | Injection therapy of veins | 1.57 | 2.65 | 0.58 | 0.15 | 4.37 | 2.30 | 010
36481 |  | A | Insertion of catheter, vein | 6.99 | NA | 2.86 | 0.40 | NA | 10.25 | 000
36488 |  | A | Insertion of catheter, vein | 1.35 | NA | 0.76 | 0.09 | NA | 2.20 | 000
36489 |  | A | Insertion of catheter, vein | 2.50 | 4.70 | 1.08 | 0.08 | 7.28 | 3.66 | 000
36490 |  | A | Insertion of catheter, vein | 1.67 | NA | 0.86 | 0.17 | NA | 2.70 | 000
36491 |  | A | Insertion of catheter, vein | 1.43 | NA | 0.75 | 0.13 | NA | 2.31 | 000
36493 |  | A | Repositioning of cvc | 1.21 | NA | 0.88 | 0.06 | NA | 2.15 | 000
36500 |  | A | Insertion of catheter, vein | 3.52 | NA | 1.31 | 0.14 | NA | 4.97 | 000
36510 |  | A | Insertion of catheter, vein | 1.09 | NA | 0.73 | 0.06 | NA | 1.88 | 000
36520 |  | A | Plasma and/or cell exchange | 1.74 | NA | 1.07 | 0.06 | NA | 2.87 | 000
36521 |  | A | Apheresis w/ adsorp/reinfuse | 1.74 | NA | 1.07 | 0.06 | NA | 2.87 | 000
36522 |  | A | Photopheresis | 1.67 | 6.03 | 1.16 | 0.07 | 7.77 | 2.90 | 000
36530 |  | R | Insertion of infusion pump | 6.20 | NA | 4.17 | 0.56 | NA | 10.93 | 010
36531 |  | R | Revision of infusion pump | 4.87 | NA | 3.32 | 0.44 | NA | 8.63 | 010
36532 |  | R | Removal of infusion pump | 3.30 | NA | 1.57 | 0.34 | NA | 5.21 | 010
36533 |  | A | Insertion of access device | 5.32 | 4.67 | 3.50 | 0.49 | 10.48 | 9.31 | 010
36534 |  | A | Revision of access device | 2.80 | NA | 1.55 | 0.19 | NA | 4.54 | 010
36535 |  | A | Removal of access device | 2.27 | 2.95 | 1.89 | 0.21 | 5.43 | 4.37 | 010
36540 |  | B | Collect blood venous device | 0.00 | 0.00 | 0.00 | 0.00 | 0.00 | 0.00 | XXX
36550 |  | A | Declot vascular device | 0.00 | 0.38 | NA | 0.31 | 0.69 | NA | XXX
36600 |  | A | Withdrawal of arterial blood | 0.32 | 0.43 | 0.09 | 0.02 | 0.77 | 0.43 | XXX
36620 |  | A | Insertion catheter, artery | 1.15 | NA | 0.25 | 0.06 | NA | 1.46 | 000
36625 |  | A | Insertion catheter, artery | 2.11 | NA | 0.61 | 0.16 | NA | 2.88 | 000
36640 |  | A | Insertion catheter, artery | 2.10 | NA | 0.75 | 0.18 | NA | 3.03 | 000
36660 |  | A | Insertion catheter, artery | 1.40 | NA | 0.38 | 0.08 | NA | 1.86 | 000
36680 |  | A | Insert needle, bone cavity | 1.20 | NA | 0.66 | 0.08 | NA | 1.94 | 000
36800 |  | A | Insertion of cannula | 2.43 | NA | 1.59 | 0.17 | NA | 4.19 | 000
36810 |  | A | Insertion of cannula | 3.97 | NA | 2.22 | 0.40 | NA | 6.59 | 000
36815 |  | A | Insertion of cannula | 2.62 | NA | 1.28 | 0.26 | NA | 4.16 | 000
36819 |  | A | Av fusion/uppr arm vein | 14.00 | NA | 6.56 | 1.53 | NA | 22.09 | 090
36820 |  | A | Av fusion/forearm vein | 14.00 | NA | 6.56 | 1.53 | NA | 22.09 | 090
36821 |  | A | Av fusion direct any site | 8.93 | NA | 5.03 | 0.97 | NA | 14.93 | 090
36822 |  | A | Insertion of cannula(s) | 5.42 | NA | 6.81 | 0.63 | NA | 12.86 | 090
36823 |  | A | Insertion of cannula(s) | 21.00 | NA | 10.63 | 2.18 | NA | 33.81 | 090
36825 |  | A | Artery-vein graft | 9.84 | NA | 5.58 | 1.09 | NA | 16.51 | 090
36830 |  | A | Artery-vein graft | 12.00 | NA | 6.14 | 1.32 | NA | 19.46 | 090
36831 |  | A | Open thrombect av fistula | 8.00 | NA | 3.99 | 0.79 | NA | 12.78 | 090
36832 |  | A | Av fistula revision, open | 10.50 | NA | 5.59 | 1.13 | NA | 17.22 | 090
36833 |  | A | Av fistula revision | 11.95 | NA | 6.11 | 1.29 | NA | 19.35 | 090
36834 |  | A | Repair A-V aneurysm | 9.93 | NA | 3.93 | 1.06 | NA | 14.92 | 090
36835 |  | A | Artery to vein shunt | 7.15 | NA | 4.50 | 0.80 | NA | 12.45 | 090
36860 |  | A | External cannula declotting | 2.01 | 2.52 | 1.33 | 0.10 | 4.63 | 3.44 | 000
36861 |  | A | Cannula declotting | 2.52 | NA | 1.50 | 0.14 | NA | 4.16 | 000
36870 |  | A | Percut thrombect av fistula | 5.16 | 41.63 | 2.45 | 0.23 | 47.02 | 7.84 | 090
37140 |  | A | Revision of circulation | 23.60 | NA | 10.56 | 1.21 | NA | 35.37 | 090
37145 |  | A | Revision of circulation | 24.61 | NA | 12.97 | 2.48 | NA | 40.06 | 090
37160 |  | A | Revision of circulation | 21.60 | NA | 9.43 | 2.16 | NA | 33.19 | 090
37180 |  | A | Revision of circulation | 24.61 | NA | 10.66 | 2.63 | NA | 37.90 | 090
37181 |  | A | Splice spleen/kidney veins | 26.68 | NA | 11.02 | 2.67 | NA | 40.37 | 090
37195 |  | A | Thrombolytic therapy, stroke | 0.00 | 7.65 | NA | 0.38 | 8.03 | NA | XXX
37200 |  | A | Transcatheter biopsy | 4.56 | NA | 1.60 | 0.19 | NA | 6.35 | 000
37201 |  | A | Transcatheter therapy infuse | 5.00 | NA | 2.59 | 0.24 | NA | 7.83 | 000
37202 |  | A | Transcatheter therapy infuse | 5.68 | NA | 3.33 | 0.38 | NA | 9.39 | 000
37203 |  | A | Transcatheter retrieval | 5.03 | NA | 2.62 | 0.23 | NA | 7.88 | 000
37204 |  | A | Transcatheter occlusion | 18.14 | NA | 6.36 | 0.85 | NA | 25.35 | 000
37205 |  | A | Transcatheter stent | 8.28 | NA | 3.90 | 0.43 | NA | 12.61 | 000
37206 |  | A | Transcatheter stent add-on | 4.13 | NA | 1.54 | 0.22 | NA | 5.89 | ZZZ
37207 |  | A | Transcatheter stent | 8.28 | NA | 3.61 | 0.89 | NA | 12.78 | 000
37208 |  | A | Transcatheter stent add-on | 4.13 | NA | 1.45 | 0.44 | NA | 6.02 | ZZZ
37209 |  | A | Exchange arterial catheter | 2.27 | NA | 0.80 | 0.11 | NA | 3.18 | 000
37250 |  | A | Iv us first vessel add-on | 2.10 | NA | 0.79 | 0.17 | NA | 3.06 | ZZZ
37251 |  | A | Iv us each add vessel add-on | 1.60 | NA | 0.58 | 0.14 | NA | 2.32 | ZZZ
37565 |  | A | Ligation of neck vein | 10.88 | NA | 5.34 | 0.45 | NA | 16.67 | 090
37600 |  | A | Ligation of neck artery | 11.25 | NA | 6.51 | 0.40 | NA | 18.16 | 090
37605 |  | A | Ligation of neck artery | 13.11 | NA | 6.63 | 0.77 | NA | 20.51 | 090
37606 |  | A | Ligation of neck artery | 6.28 | NA | 3.85 | 0.79 | NA | 10.92 | 090
37607 |  | A | Ligation of a-v fistula | 6.16 | NA | 3.71 | 0.67 | NA | 10.54 | 090
37609 |  | A | Temporal artery procedure | 3.00 | 7.25 | 2.58 | 0.21 | 10.46 | 5.79 | 010
37615 |  | A | Ligation of neck artery | 5.73 | NA | 3.61 | 0.57 | NA | 9.91 | 090
37616 |  | A | Ligation of chest artery | 16.49 | NA | 10.54 | 1.93 | NA | 28.96 | 090
37617 |  | A | Ligation of abdomen artery | 22.06 | NA | 9.81 | 1.69 | NA | 33.56 | 090
37618 |  | A | Ligation of extremity artery | 4.84 | NA | 3.56 | 0.54 | NA | 8.94 | 090
37620 |  | A | Revision of major vein | 10.56 | NA | 5.53 | 0.75 | NA | 16.84 | 090
37650 |  | A | Revision of major vein | 7.80 | NA | 4.64 | 0.56 | NA | 13.00 | 090
37660 |  | A | Revision of major vein | 21.00 | NA | 9.44 | 1.17 | NA | 31.61 | 090
37700 |  | A | Revise leg vein | 3.73 | NA | 3.20 | 0.40 | NA | 7.33 | 090
37720 |  | A | Removal of leg vein | 5.66 | NA | 3.72 | 0.61 | NA | 9.99 | 090
37730 |  | A | Removal of leg veins | 7.33 | NA | 4.59 | 0.77 | NA | 12.69 | 090
37735 |  | A | Removal of leg veins/lesion | 10.53 | NA | 5.94 | 1.17 | NA | 17.64 | 090
37760 |  | A | Revision of leg veins | 10.47 | NA | 5.78 | 1.11 | NA | 17.36 | 090
37780 |  | A | Revision of leg vein | 3.84 | NA | 2.89 | 0.41 | NA | 7.14 | 090
37785 |  | A | Revise secondary varicosity | 3.84 | 7.18 | 2.91 | 0.41 | 11.43 | 7.16 | 090
37788 |  | A | Revascularization, penis | 22.01 | NA | 14.08 | 1.35 | NA | 37.44 | 090
37790 |  | A | Penile venous occlusion | 8.34 | NA | 6.78 | 0.63 | NA | 15.75 | 090
37799 |  | C | Vascular surgery procedure | 0.00 | 0.00 | 0.00 | 0.00 | 0.00 | 0.00 | YYY
38100 |  | A | Removal of spleen, total | 14.50 | NA | 6.73 | 1.30 | NA | 22.53 | 090
38101 |  | A | Removal of spleen, partial | 15.31 | NA | 7.27 | 1.38 | NA | 23.96 | 090
38102 |  | A | Removal of spleen, total | 4.80 | NA | 1.73 | 0.49 | NA | 7.02 | ZZZ
38115 |  | A | Repair of ruptured spleen | 15.82 | NA | 7.23 | 1.40 | NA | 24.45 | 090
38120 |  | A | Laparoscopy, splenectomy | 17.00 | NA | 7.58 | 1.73 | NA | 26.31 | 090
38129 |  | C | Laparoscope proc, spleen | 0.00 | 0.00 | 0.00 | 0.00 | 0.00 | 0.00 | YYY
38200 |  | A | Injection for spleen x-ray | 2.64 | NA | 0.93 | 0.12 | NA | 3.69 | 000
38220 |  | A | Bone marrow aspiration | 1.08 | 4.64 | 0.44 | 0.03 | 5.75 | 1.55 | XXX
38221 |  | A | Bone marrow biopsy | 1.37 | 4.74 | 0.56 | 0.04 | 6.15 | 1.97 | XXX
38230 |  | R | Bone marrow collection | 4.54 | NA | 2.45 | 0.25 | NA | 7.24 | 010
38231 |  | R | Stem cell collection | 1.50 | NA | 0.61 | 0.05 | NA | 2.16 | 000
38240 |  | R | Bone marrow/stem transplant | 2.24 | NA | 0.88 | 0.08 | NA | 3.20 | XXX
38241 |  | R | Bone marrow/stem transplant | 2.24 | NA | 0.86 | 0.08 | NA | 3.18 | XXX
38300 |  | A | Drainage, lymph node lesion | 1.99 | 4.88 | 2.65 | 0.15 | 7.02 | 4.79 | 010
38305 |  | A | Drainage, lymph node lesion | 6.00 | 7.99 | 6.41 | 0.36 | 14.35 | 12.77 | 090
38308 |  | A | Incision of lymph channels | 6.45 | NA | 5.40 | 0.51 | NA | 12.36 | 090
38380 |  | A | Thoracic duct procedure | 7.46 | NA | 7.61 | 0.68 | NA | 15.75 | 090
38381 |  | A | Thoracic duct procedure | 12.88 | NA | 9.72 | 1.58 | NA | 24.18 | 090
38382 |  | A | Thoracic duct procedure | 10.08 | NA | 8.81 | 1.08 | NA | 19.97 | 090
38500 |  | A | Biopsy/removal, lymph nodes | 3.75 | 3.15 | 2.63 | 0.28 | 7.18 | 6.66 | 010
38505 |  | A | Needle biopsy, lymph nodes | 1.14 | 3.21 | 1.13 | 0.09 | 4.44 | 2.36 | 000
38510 |  | A | Biopsy/removal, lymph nodes | 6.43 | NA | 5.55 | 0.38 | NA | 12.36 | 010
38520 |  | A | Biopsy/removal, lymph nodes | 6.67 | NA | 5.67 | 0.52 | NA | 12.86 | 090
38525 |  | A | Biopsy/removal, lymph nodes | 6.07 | NA | 4.51 | 0.48 | NA | 11.06 | 090
38530 |  | A | Biopsy/removal, lymph nodes | 7.98 | NA | 5.78 | 0.63 | NA | 14.39 | 090
38542 |  | A | Explore deep node(s), neck | 5.91 | NA | 6.09 | 0.50 | NA | 12.50 | 090
38550 |  | A | Removal, neck/armpit lesion | 6.92 | NA | 5.01 | 0.69 | NA | 12.62 | 090
38555 |  | A | Removal, neck/armpit lesion | 14.14 | NA | 9.47 | 1.46 | NA | 25.07 | 090
38562 |  | A | Removal, pelvic lymph nodes | 10.49 | NA | 6.79 | 0.97 | NA | 18.25 | 090
38564 |  | A | Removal, abdomen lymph nodes | 10.83 | NA | 6.54 | 1.06 | NA | 18.43 | 090
38570 |  | A | Laparoscopy, lymph node biop | 9.25 | NA | 4.63 | 0.89 | NA | 14.77 | 010
38571 |  | A | Laparoscopy, lymphadenectomy | 14.68 | NA | 6.50 | 0.80 | NA | 21.98 | 010
38572 |  | A | Laparoscopy, lymphadenectomy | 16.59 | NA | 7.71 | 1.32 | NA | 25.62 | 010
38589 |  | C | Laparoscope proc, lymphatic | 0.00 | 0.00 | 0.00 | 0.00 | 0.00 | 0.00 | YYY
38700 |  | A | Removal of lymph nodes, neck | 8.24 | NA | 13.61 | 0.60 | NA | 22.45 | 090
38720 |  | A | Removal of lymph nodes, neck | 13.61 | NA | 16.25 | 1.03 | NA | 30.89 | 090
38724 |  | A | Removal of lymph nodes, neck | 14.54 | NA | 16.82 | 1.10 | NA | 32.46 | 090
38740 |  | A | Remove armpit lymph nodes | 10.03 | NA | 5.89 | 0.69 | NA | 16.61 | 090
38745 |  | A | Remove armpit lymph nodes | 13.10 | NA | 8.47 | 0.90 | NA | 22.47 | 090
38746 |  | A | Remove thoracic lymph nodes | 4.89 | NA | 1.65 | 0.55 | NA | 7.09 | ZZZ
38747 |  | A | Remove abdominal lymph nodes | 4.89 | NA | 1.75 | 0.50 | NA | 7.14 | ZZZ
38760 |  | A | Remove groin lymph nodes | 12.95 | NA | 7.36 | 0.88 | NA | 21.19 | 090
38765 |  | A | Remove groin lymph nodes | 19.98 | NA | 11.57 | 1.50 | NA | 33.05 | 090
38770 |  | A | Remove pelvis lymph nodes | 13.23 | NA | 7.18 | 0.94 | NA | 21.35 | 090
38780 |  | A | Remove abdomen lymph nodes | 16.59 | NA | 9.67 | 1.60 | NA | 27.86 | 090
38790 |  | A | Inject for lymphatic x-ray | 1.29 | 14.77 | 0.46 | 0.09 | 16.15 | 1.84 | 000
38792 |  | A | Identify sentinel node | 0.52 | NA | 0.19 | 0.04 | NA | 0.75 | 000
38794 |  | A | Access thoracic lymph duct | 4.45 | NA | 1.57 | 0.17 | NA | 6.19 | 090
38999 |  | C | Blood/lymph system procedure | 0.00 | 0.00 | 0.00 | 0.00 | 0.00 | 0.00 | YYY
39000 |  | A | Exploration of chest | 6.10 | NA | 7.41 | 0.73 | NA | 14.24 | 090
39010 |  | A | Exploration of chest | 11.79 | NA | 9.31 | 1.46 | NA | 22.56 | 090
39200 |  | A | Removal chest lesion | 13.62 | NA | 10.10 | 1.65 | NA | 25.37 | 090
39220 |  | A | Removal chest lesion | 17.42 | NA | 11.29 | 2.10 | NA | 30.81 | 090
39400 |  | A | Visualization of chest | 5.61 | NA | 7.01 | 0.69 | NA | 13.31 | 010
39499 |  | C | Chest procedure | 0.00 | 0.00 | 0.00 | 0.00 | 0.00 | 0.00 | YYY
39501 |  | A | Repair diaphragm laceration | 13.19 | NA | 7.82 | 1.38 | NA | 22.39 | 090
39502 |  | A | Repair paraesophageal hernia | 16.33 | NA | 8.41 | 1.68 | NA | 26.42 | 090
39503 |  | A | Repair of diaphragm hernia | 95.00 | NA | 37.24 | 3.52 | NA | 135.76 | 090
39520 |  | A | Repair of diaphragm hernia | 16.10 | NA | 9.59 | 1.83 | NA | 27.52 | 090
39530 |  | A | Repair of diaphragm hernia | 15.41 | NA | 8.69 | 1.66 | NA | 25.76 | 090
39531 |  | A | Repair of diaphragm hernia | 16.42 | NA | 8.45 | 1.83 | NA | 26.70 | 090
39540 |  | A | Repair of diaphragm hernia | 13.32 | NA | 7.79 | 1.38 | NA | 22.49 | 090
39541 |  | A | Repair of diaphragm hernia | 14.41 | NA | 7.97 | 1.52 | NA | 23.90 | 090
39545 |  | A | Revision of diaphragm | 13.37 | NA | 9.32 | 1.55 | NA | 24.24 | 090
39560 |  | A | Resect diaphragm, simple | 12.00 | NA | 7.62 | 1.35 | NA | 20.97 | 090
39561 |  | A | Resect diaphragm, complex | 17.50 | NA | 9.84 | 1.97 | NA | 29.31 | 090
39599 |  | C | Diaphragm surgery procedure | 0.00 | 0.00 | 0.00 | 0.00 | 0.00 | 0.00 | YYY
40490 |  | A | Biopsy of lip | 1.22 | 1.63 | 0.63 | 0.06 | 2.91 | 1.91 | 000
40500 |  | A | Partial excision of lip | 4.28 | 5.72 | 5.72 | 0.31 | 10.31 | 10.31 | 090
40510 |  | A | Partial excision of lip | 4.70 | 6.75 | 6.52 | 0.38 | 11.83 | 11.60 | 090
40520 |  | A | Partial excision of lip | 4.67 | 7.97 | 7.15 | 0.42 | 13.06 | 12.24 | 090
40525 |  | A | Reconstruct lip with flap | 7.55 | NA | 8.84 | 0.68 | NA | 17.07 | 090
40527 |  | A | Reconstruct lip with flap | 9.13 | NA | 9.60 | 0.82 | NA | 19.55 | 090
40530 |  | A | Partial removal of lip | 5.40 | 7.35 | 6.56 | 0.47 | 13.22 | 12.43 | 090
40650 |  | A | Repair lip | 3.64 | 5.78 | 5.18 | 0.31 | 9.73 | 9.13 | 090
40652 |  | A | Repair lip | 4.26 | 7.08 | 7.04 | 0.39 | 11.73 | 11.69 | 090
40654 |  | A | Repair lip | 5.31 | 7.95 | 7.95 | 0.48 | 13.74 | 13.74 | 090
40700 |  | A | Repair cleft lip/nasal | 12.79 | NA | 10.88 | 0.93 | NA | 24.60 | 090
40701 |  | A | Repair cleft lip/nasal | 15.85 | NA | 14.66 | 1.36 | NA | 31.87 | 090
40702 |  | A | Repair cleft lip/nasal | 13.04 | NA | 8.99 | 1.01 | NA | 23.04 | 090
40720 |  | A | Repair cleft lip/nasal | 13.55 | NA | 12.89 | 1.31 | NA | 27.75 | 090
40761 |  | A | Repair cleft lip/nasal | 14.72 | NA | 12.76 | 1.41 | NA | 28.89 | 090
40799 |  | C | Lip surgery procedure | 0.00 | 0.00 | 0.00 | 0.00 | 0.00 | 0.00 | YYY
40800 |  | A | Drainage of mouth lesion | 1.17 | 2.01 | 0.48 | 0.09 | 3.27 | 1.74 | 010
40801 |  | A | Drainage of mouth lesion | 2.53 | 2.52 | 1.98 | 0.18 | 5.23 | 4.69 | 010
40804 |  | A | Removal, foreign body, mouth | 1.24 | 2.59 | 2.03 | 0.09 | 3.92 | 3.36 | 010
40805 |  | A | Removal, foreign body, mouth | 2.69 | 3.27 | 2.85 | 0.17 | 6.13 | 5.71 | 010
40806 |  | A | Incision of lip fold | 0.31 | 0.89 | 0.89 | 0.02 | 1.22 | 1.22 | 000
40808 |  | A | Biopsy of mouth lesion | 0.96 | 2.11 | 2.11 | 0.07 | 3.14 | 3.14 | 010
40810 |  | A | Excision of mouth lesion | 1.31 | 2.70 | 2.47 | 0.09 | 4.10 | 3.87 | 010
40812 |  | A | Excise/repair mouth lesion | 2.31 | 2.95 | 2.93 | 0.17 | 5.43 | 5.41 | 010
40814 |  | A | Excise/repair mouth lesion | 3.42 | 4.08 | 4.08 | 0.26 | 7.76 | 7.76 | 090
40816 |  | A | Excision of mouth lesion | 3.67 | 4.32 | 4.32 | 0.27 | 8.26 | 8.26 | 090
40818 |  | A | Excise oral mucosa for graft | 2.41 | 4.05 | 4.05 | 0.14 | 6.60 | 6.60 | 090
40819 |  | A | Excise lip or cheek fold | 2.41 | 3.67 | 3.48 | 0.17 | 6.25 | 6.06 | 090
40820 |  | A | Treatment of mouth lesion | 1.28 | 2.38 | 2.30 | 0.08 | 3.74 | 3.66 | 010
40830 |  | A | Repair mouth laceration | 1.76 | 2.48 | 2.48 | 0.14 | 4.38 | 4.38 | 010
40831 |  | A | Repair mouth laceration | 2.46 | 2.72 | 2.72 | 0.21 | 5.39 | 5.39 | 010
40840 |  | R | Reconstruction of mouth | 8.73 | 5.93 | 5.93 | 0.79 | 15.45 | 15.45 | 090
40842 |  | R | Reconstruction of mouth | 8.73 | 5.90 | 5.90 | 0.65 | 15.28 | 15.28 | 090
40843 |  | R | Reconstruction of mouth | 12.10 | 7.35 | 7.35 | 0.84 | 20.29 | 20.29 | 090
40844 |  | R | Reconstruction of mouth | 16.01 | 9.01 | 9.01 | 1.63 | 26.65 | 26.65 | 090
40845 |  | R | Reconstruction of mouth | 18.58 | 12.25 | 12.25 | 1.47 | 32.30 | 32.30 | 090
40899 |  | C | Mouth surgery procedure | 0.00 | 0.00 | 0.00 | 0.00 | 0.00 | 0.00 | YYY
41000 |  | A | Drainage of mouth lesion | 1.30 | 2.40 | 1.55 | 0.09 | 3.79 | 2.94 | 010
41005 |  | A | Drainage of mouth lesion | 1.26 | 2.33 | 1.62 | 0.09 | 3.68 | 2.97 | 010
41006 |  | A | Drainage of mouth lesion | 3.24 | 3.58 | 3.28 | 0.25 | 7.07 | 6.77 | 090
41007 |  | A | Drainage of mouth lesion | 3.10 | 3.78 | 3.33 | 0.22 | 7.10 | 6.65 | 090
41008 |  | A | Drainage of mouth lesion | 3.37 | 3.69 | 3.22 | 0.24 | 7.30 | 6.83 | 090
41009 |  | A | Drainage of mouth lesion | 3.59 | 3.65 | 3.42 | 0.25 | 7.49 | 7.26 | 090
41010 |  | A | Incision of tongue fold | 1.06 | 3.57 | 3.57 | 0.06 | 4.69 | 4.69 | 010
41015 |  | A | Drainage of mouth lesion | 3.96 | 4.05 | 3.39 | 0.29 | 8.30 | 7.64 | 090
41016 |  | A | Drainage of mouth lesion | 4.07 | 4.31 | 3.61 | 0.28 | 8.66 | 7.96 | 090
41017 |  | A | Drainage of mouth lesion | 4.07 | 4.26 | 3.46 | 0.32 | 8.65 | 7.85 | 090
41018 |  | A | Drainage of mouth lesion | 5.10 | 4.39 | 3.87 | 0.35 | 9.84 | 9.32 | 090
41100 |  | A | Biopsy of tongue | 1.63 | 2.67 | 2.64 | 0.12 | 4.42 | 4.39 | 010
41105 |  | A | Biopsy of tongue | 1.42 | 2.42 | 2.42 | 0.10 | 3.94 | 3.94 | 010
41108 |  | A | Biopsy of floor of mouth | 1.05 | 2.38 | 2.38 | 0.08 | 3.51 | 3.51 | 010
41110 |  | A | Excision of tongue lesion | 1.51 | 3.19 | 2.63 | 0.11 | 4.81 | 4.25 | 010
41112 |  | A | Excision of tongue lesion | 2.73 | 3.56 | 3.56 | 0.20 | 6.49 | 6.49 | 090
41113 |  | A | Excision of tongue lesion | 3.19 | 3.50 | 3.50 | 0.23 | 6.92 | 6.92 | 090
41114 |  | A | Excision of tongue lesion | 8.47 | NA | 6.59 | 0.64 | NA | 15.70 | 090
41115 |  | A | Excision of tongue fold | 1.74 | 2.69 | 2.53 | 0.13 | 4.56 | 4.40 | 010
41116 |  | A | Excision of mouth lesion | 2.44 | 3.37 | 3.37 | 0.17 | 5.98 | 5.98 | 090
41120 |  | A | Partial removal of tongue | 9.77 | NA | 9.12 | 0.70 | NA | 19.59 | 090
41130 |  | A | Partial removal of tongue | 11.15 | NA | 9.76 | 0.81 | NA | 21.72 | 090
41135 |  | A | Tongue and neck surgery | 23.09 | NA | 16.63 | 1.66 | NA | 41.38 | 090
41140 |  | A | Removal of tongue | 25.50 | NA | 17.39 | 1.85 | NA | 44.74 | 090
41145 |  | A | Tongue removal, neck surgery | 30.06 | NA | 21.36 | 2.11 | NA | 53.53 | 090
41150 |  | A | Tongue, mouth, jaw surgery | 23.04 | NA | 17.64 | 1.67 | NA | 42.35 | 090
41153 |  | A | Tongue, mouth, neck surgery | 23.77 | NA | 18.04 | 1.71 | NA | 43.52 | 090
41155 |  | A | Tongue, jaw, & neck surgery | 27.72 | NA | 20.44 | 2.02 | NA | 50.18 | 090
41250 |  | A | Repair tongue laceration | 1.91 | 2.98 | 1.77 | 0.15 | 5.04 | 3.83 | 010
41251 |  | A | Repair tongue laceration | 2.27 | 3.12 | 1.88 | 0.18 | 5.57 | 4.33 | 010
41252 |  | A | Repair tongue laceration | 2.97 | 3.23 | 2.33 | 0.23 | 6.43 | 5.53 | 010
41500 |  | A | Fixation of tongue | 3.71 | NA | 4.43 | 0.26 | NA | 8.40 | 090
41510 |  | A | Tongue to lip surgery | 3.42 | NA | 5.39 | 0.24 | NA | 9.05 | 090
41520 |  | A | Reconstruction, tongue fold | 2.73 | 3.06 | 3.06 | 0.19 | 5.98 | 5.98 | 090
41599 |  | C | Tongue and mouth surgery | 0.00 | 0.00 | 0.00 | 0.00 | 0.00 | 0.00 | YYY
41800 |  | A | Drainage of gum lesion | 1.17 | 1.96 | 1.43 | 0.09 | 3.22 | 2.69 | 010
41805 |  | A | Removal foreign body, gum | 1.24 | 2.08 | 2.08 | 0.09 | 3.41 | 3.41 | 010
41806 |  | A | Removal foreign body, jawbone | 2.69 | 2.54 | 2.54 | 0.22 | 5.45 | 5.45 | 010
41820 |  | R | Excision, gum, each quadrant | 0.00 | 0.00 | 0.00 | 0.00 | 0.00 | 0.00 | 000
41821 |  | R | Excision of gum flap | 0.00 | 0.00 | 0.00 | 0.00 | 0.00 | 0.00 | 000
41822 |  | R | Excision of gum lesion | 2.31 | 2.82 | 0.98 | 0.24 | 5.37 | 3.53 | 010
41823 |  | R | Excision of gum lesion | 3.30 | 3.54 | 3.23 | 0.29 | 7.13 | 6.82 | 090
41825 |  | A | Excision of gum lesion | 1.31 | 2.43 | 2.41 | 0.10 | 3.84 | 3.82 | 010
41826 |  | A | Excision of gum lesion | 2.31 | 2.66 | 2.66 | 0.17 | 5.14 | 5.14 | 010
41827 |  | A | Excision of gum lesion | 3.42 | 3.63 | 3.63 | 0.25 | 7.30 | 7.30 | 090
41828 |  | R | Excision of gum lesion | 3.09 | 3.07 | 2.47 | 0.22 | 6.38 | 5.78 | 010
41830 |  | R | Removal of gum tissue | 3.35 | 3.39 | 2.98 | 0.23 | 6.97 | 6.56 | 010
41850 |  | R | Treatment of gum lesion | 0.00 | 0.00 | 0.00 | 0.00 | 0.00 | 0.00 | 000
41870 |  | R | Gum graft | 0.00 | 0.00 | 0.00 | 0.00 | 0.00 | 0.00 | 000
41872 |  | R | Repair gum | 2.59 | 2.93 | 2.93 | 0.18 | 5.70 | 5.70 | 090
41874 |  | R | Repair tooth socket | 3.09 | 2.86 | 2.45 | 0.23 | 6.18 | 5.77 | 090
41899 |  | C | Dental surgery procedure | 0.00 | 0.00 | 0.00 | 0.00 | 0.00 | 0.00 | YYY
42000 |  | A | Drainage mouth roof lesion | 1.23 | 2.52 | 1.51 | 0.10 | 3.85 | 2.84 | 010
42100 |  | A | Biopsy roof of mouth | 1.31 | 2.47 | 2.47 | 0.10 | 3.88 | 3.88 | 010
42104 |  | A | Excision lesion, mouth roof | 1.64 | 2.58 | 2.58 | 0.12 | 4.34 | 4.34 | 010
42106 |  | A | Excision lesion, mouth roof | 2.10 | 2.66 | 2.66 | 0.16 | 4.92 | 4.92 | 010
42107 |  | A | Excision lesion, mouth roof | 4.44 | 4.26 | 4.26 | 0.32 | 9.02 | 9.02 | 090
42120 |  | A | Remove palate/lesion | 6.17 | NA | 6.19 | 0.44 | NA | 12.80 | 090
42140 |  | A | Excision of uvula | 1.62 | 3.91 | 3.36 | 0.12 | 5.65 | 5.10 | 090
42145 |  | A | Repair palate, pharynx/uvula | 8.05 | NA | 7.59 | 0.56 | NA | 16.20 | 090
42160 |  | A | Treatment mouth roof lesion | 1.80 | 3.25 | 2.72 | 0.13 | 5.18 | 4.65 | 010
42180 |  | A | Repair palate | 2.50 | 3.29 | 2.25 | 0.19 | 5.98 | 4.94 | 010
42182 |  | A | Repair palate | 3.83 | 3.10 | 3.10 | 0.27 | 7.20 | 7.20 | 010
42200 |  | A | Reconstruct cleft palate | 12.00 | NA | 9.78 | 0.97 | NA | 22.75 | 090
42205 |  | A | Reconstruct cleft palate | 13.29 | NA | 9.76 | 0.82 | NA | 23.87 | 090
42210 |  | A | Reconstruct cleft palate | 14.50 | NA | 11.47 | 1.24 | NA | 27.21 | 090
42215 |  | A | Reconstruct cleft palate | 8.82 | NA | 9.72 | 0.96 | NA | 19.50 | 090
42220 |  | A | Reconstruct cleft palate | 7.02 | NA | 6.85 | 0.41 | NA | 14.28 | 090
42225 |  | A | Reconstruct cleft palate | 9.54 | NA | 9.16 | 0.75 | NA | 19.45 | 090
42226 |  | A | Lengthening of palate | 10.01 | NA | 9.96 | 0.73 | NA | 20.70 | 090
42227 |  | A | Lengthening of palate | 9.52 | NA | 9.09 | 0.70 | NA | 19.31 | 090
42235 |  | A | Repair palate | 7.87 | NA | 5.93 | 0.49 | NA | 14.29 | 090
42260 |  | A | Repair nose to lip fistula | 9.80 | 6.43 | 6.43 | 0.85 | 17.08 | 17.08 | 090
42280 |  | A | Preparation, palate mold | 1.54 | 1.44 | 0.60 | 0.12 | 3.10 | 2.26 | 010
42281 |  | A | Insertion, palate prosthesis | 1.93 | 1.57 | 0.92 | 0.14 | 3.64 | 2.99 | 010
42299 |  | C | Palate/uvula surgery | 0.00 | 0.00 | 0.00 | 0.00 | 0.00 | 0.00 | YYY
42300 |  | A | Drainage of salivary gland | 1.93 | 2.65 | 1.98 | 0.15 | 4.73 | 4.06 | 010
42305 |  | A | Drainage of salivary gland | 6.07 | NA | 5.38 | 0.46 | NA | 11.91 | 090
42310 |  | A | Drainage of salivary gland | 1.56 | 2.32 | 1.82 | 0.11 | 3.99 | 3.49 | 010
42320 |  | A | Drainage of salivary gland | 2.35 | 2.79 | 2.15 | 0.17 | 5.31 | 4.67 | 010
42325 |  | A | Create salivary cyst drain | 2.75 | 3.85 | 1.26 | 0.17 | 6.77 | 4.18 | 090
42326 |  | A | Create salivary cyst drain | 3.78 | 3.33 | 1.51 | 0.34 | 7.45 | 5.63 | 090
42330 |  | A | Removal of salivary stone | 2.21 | 2.81 | 1.20 | 0.16 | 5.18 | 3.57 | 010
42335 |  | A | Removal of salivary stone | 3.31 | 3.71 | 3.71 | 0.23 | 7.25 | 7.25 | 090
42340 |  | A | Removal of salivary stone | 4.60 | 5.07 | 5.07 | 0.34 | 10.01 | 10.01 | 090
42400 |  | A | Biopsy of salivary gland | 0.78 | 2.52 | 0.40 | 0.06 | 3.36 | 1.24 | 000
42405 |  | A | Biopsy of salivary gland | 3.29 | 3.44 | 3.44 | 0.24 | 6.97 | 6.97 | 010
42408 |  | A | Excision of salivary cyst | 4.54 | 4.71 | 4.71 | 0.34 | 9.59 | 9.59 | 090
42409 |  | A | Drainage of salivary cyst | 2.81 | 3.34 | 3.34 | 0.20 | 6.35 | 6.35 | 090
42410 |  | A | Excise parotid gland/lesion | 9.34 | NA | 8.20 | 0.77 | NA | 18.31 | 090
42415 |  | A | Excise parotid gland/lesion | 16.89 | NA | 12.82 | 1.26 | NA | 30.97 | 090
42420 |  | A | Excise parotid gland/lesion | 19.59 | NA | 14.46 | 1.45 | NA | 35.50 | 090
42425 |  | A | Excise parotid gland/lesion | 13.02 | NA | 10.70 | 0.98 | NA | 24.70 | 090
42426 |  | A | Excise parotid gland/lesion | 21.26 | NA | 15.44 | 1.57 | NA | 38.27 | 090
42440 |  | A | Excise submaxillary gland | 6.97 | NA | 6.13 | 0.51 | NA | 13.61 | 090
42450 |  | A | Excise sublingual gland | 4.62 | 4.38 | 4.38 | 0.34 | 9.34 | 9.34 | 090
42500 |  | A | Repair salivary duct | 4.30 | 5.14 | 5.10 | 0.30 | 9.74 | 9.70 | 090
42505 |  | A | Repair salivary duct | 6.18 | 6.02 | 6.02 | 0.44 | 12.64 | 12.64 | 090
42507 |  | A | Parotid duct diversion | 6.11 | NA | 5.44 | 0.66 | NA | 12.21 | 090
42508 |  | A | Parotid duct diversion | 9.10 | NA | 8.40 | 0.64 | NA | 18.14 | 090
42509 |  | A | Parotid duct diversion | 11.54 | NA | 9.25 | 1.24 | NA | 22.03 | 090
42510 |  | A | Parotid duct diversion | 8.15 | NA | 7.27 | 0.57 | NA | 15.99 | 090
42550 |  | A | Injection for salivary x-ray | 1.25 | 12.45 | 0.44 | 0.06 | 13.76 | 1.75 | 000
42600 |  | A | Closure of salivary fistula | 4.82 | 7.89 | 5.61 | 0.34 | 13.05 | 10.77 | 090
42650 |  | A | Dilation of salivary duct | 0.77 | 1.13 | 0.41 | 0.06 | 1.96 | 1.24 | 000
42660 |  | A | Dilation of salivary duct | 1.13 | 1.15 | 1.15 | 0.07 | 2.35 | 2.35 | 000
42665 |  | A | Ligation of salivary duct | 2.53 | 3.03 | 3.03 | 0.17 | 5.73 | 5.73 | 090
42699 |  | C | Salivary surgery procedure | 0.00 | 0.00 | 0.00 | 0.00 | 0.00 | 0.00 | YYY
42700 |  | A | Drainage of tonsil abscess | 1.62 | 3.30 | 1.93 | 0.12 | 5.04 | 3.67 | 010
42720 |  | A | Drainage of throat abscess | 5.42 | 4.77 | 4.77 | 0.39 | 10.58 | 10.58 | 010
42725 |  | A | Drainage of throat abscess | 10.72 | NA | 8.70 | 0.80 | NA | 20.22 | 090
42800 |  | A | Biopsy of throat | 1.39 | 3.09 | 2.63 | 0.10 | 4.58 | 4.12 | 010
42802 |  | A | Biopsy of throat | 1.54 | 3.24 | 2.72 | 0.11 | 4.89 | 4.37 | 010
42804 |  | A | Biopsy of upper nose/throat | 1.24 | 3.04 | 2.56 | 0.09 | 4.37 | 3.89 | 010
42806 |  | A | Biopsy of upper nose/throat | 1.58 | 3.53 | 2.76 | 0.12 | 5.23 | 4.46 | 010
42808 |  | A | Excise pharynx lesion | 2.30 | 5.00 | 3.17 | 0.17 | 7.47 | 5.64 | 010
42809 |  | A | Remove pharynx foreign body | 1.81 | 3.48 | 1.77 | 0.13 | 5.42 | 3.71 | 010
42810 |  | A | Excision of neck cyst | 3.25 | 5.66 | 4.61 | 0.25 | 9.16 | 8.11 | 090
42815 |  | A | Excision of neck cyst | 7.07 | NA | 6.67 | 0.53 | NA | 14.27 | 090
42820 |  | A | Remove tonsils and adenoids | 3.91 | NA | 4.02 | 0.28 | NA | 8.21 | 090
42821 |  | A | Remove tonsils and adenoids | 4.29 | NA | 4.30 | 0.30 | NA | 8.89 | 090
42825 |  | A | Removal of tonsils | 3.42 | NA | 3.74 | 0.24 | NA | 7.40 | 090
42826 |  | A | Removal of tonsils | 3.38 | NA | 3.81 | 0.23 | NA | 7.42 | 090
42830 |  | A | Removal of adenoids | 2.57 | NA | 2.51 | 0.18 | NA | 5.26 | 090
42831 |  | A | Removal of adenoids | 2.71 | NA | 2.59 | 0.19 | NA | 5.49 | 090
42835 |  | A | Removal of adenoids | 2.30 | NA | 3.20 | 0.17 | NA | 5.67 | 090
42836 |  | A | Removal of adenoids | 3.18 | NA | 3.69 | 0.22 | NA | 7.09 | 090
42842 |  | A | Extensive surgery of throat | 8.76 | NA | 7.96 | 0.61 | NA | 17.33 | 090
42844 |  | A | Extensive surgery of throat | 14.31 | NA | 11.57 | 1.04 | NA | 26.92 | 090
42845 |  | A | Extensive surgery of throat | 24.29 | NA | 18.00 | 1.76 | NA | 44.05 | 090
42860 |  | A | Excision of tonsil tags | 2.22 | NA | 3.08 | 0.16 | NA | 5.46 | 090
42870 |  | A | Excision of lingual tonsil | 5.40 | NA | 6.18 | 0.38 | NA | 11.96 | 090
42890 |  | A | Partial removal of pharynx | 12.94 | NA | 11.03 | 0.91 | NA | 24.88 | 090
42892 |  | A | Revision of pharyngeal walls | 15.83 | NA | 12.68 | 1.14 | NA | 29.65 | 090
42894 |  | A | Revision of pharyngeal walls | 22.88 | NA | 17.38 | 1.64 | NA | 41.90 | 090
42900 |  | A | Repair throat wound | 5.25 | NA | 3.93 | 0.39 | NA | 9.57 | 010
42950 |  | A | Reconstruction of throat | 8.10 | NA | 7.60 | 0.58 | NA | 16.28 | 090
42953 |  | A | Repair throat, esophagus | 8.96 | NA | 9.14 | 0.73 | NA | 18.83 | 090
42955 |  | A | Surgical opening of throat | 7.39 | NA | 6.55 | 0.63 | NA | 14.57 | 090
42960 |  | A | Control throat bleeding | 2.33 | NA | 2.13 | 0.17 | NA | 4.63 | 010
42961 |  | A | Control throat bleeding | 5.59 | NA | 5.30 | 0.40 | NA | 11.29 | 090
42962 |  | A | Control throat bleeding | 7.14 | NA | 6.35 | 0.51 | NA | 14.00 | 090
42970 |  | A | Control nose/throat bleeding | 5.43 | NA | 3.99 | 0.37 | NA | 9.79 | 090
42971 |  | A | Control nose/throat bleeding | 6.21 | NA | 5.99 | 0.45 | NA | 12.65 | 090
42972 |  | A | Control nose/throat bleeding | 7.20 | NA | 5.73 | 0.54 | NA | 13.47 | 090
42999 |  | C | Throat surgery procedure | 0.00 | 0.00 | 0.00 | 0.00 | 0.00 | 0.00 | YYY
43020 |  | A | Incision of esophagus | 8.09 | NA | 6.77 | 0.70 | NA | 15.56 | 090
43030 |  | A | Throat muscle surgery | 7.69 | NA | 7.00 | 0.60 | NA | 15.29 | 090
43045 |  | A | Incision of esophagus | 20.12 | NA | 11.14 | 2.15 | NA | 33.41 | 090
43100 |  | A | Excision of esophagus lesion | 9.19 | NA | 7.58 | 0.79 | NA | 17.56 | 090
43101 |  | A | Excision of esophagus lesion | 16.24 | NA | 8.84 | 1.81 | NA | 26.89 | 090
43107 |  | A | Removal of esophagus | 40.00 | NA | 18.49 | 3.29 | NA | 61.78 | 090
43108 |  | A | Removal of esophagus | 34.19 | NA | 16.39 | 3.78 | NA | 54.36 | 090
43112 |  | A | Removal of esophagus | 43.50 | NA | 20.06 | 3.67 | NA | 67.23 | 090
43113 |  | A | Removal of esophagus | 35.27 | NA | 16.38 | 4.33 | NA | 55.98 | 090
43116 |  | A | Partial removal of esophagus | 31.22 | NA | 18.49 | 2.62 | NA | 52.33 | 090
43117 |  | A | Partial removal of esophagus | 40.00 | NA | 18.51 | 3.51 | NA | 62.02 | 090
43118 |  | A | Partial removal of esophagus | 33.20 | NA | 15.76 | 3.56 | NA | 52.52 | 090
43121 |  | A | Partial removal of esophagus | 29.19 | NA | 15.08 | 3.44 | NA | 47.71 | 090
43122 |  | A | Parital removal of esophagus | 40.00 | NA | 18.05 | 3.27 | NA | 61.32 | 090
43123 |  | A | Partial removal of esophagus | 33.20 | NA | 15.58 | 3.96 | NA | 52.74 | 090
43124 |  | A | Removal of esophagus | 27.32 | NA | 15.15 | 2.95 | NA | 45.42 | 090
43130 |  | A | Removal of esophagus pouch | 11.75 | NA | 9.05 | 1.06 | NA | 21.86 | 090
43135 |  | A | Removal of esophagus pouch | 16.10 | NA | 10.09 | 1.85 | NA | 28.04 | 090
43200 |  | A | Esophagus endoscopy | 1.59 | 7.92 | 1.22 | 0.11 | 9.62 | 2.92 | 000
43202 |  | A | Esophagus endoscopy, biopsy | 1.89 | 6.46 | 1.15 | 0.12 | 8.47 | 3.16 | 000
43204 |  | A | Esophagus endoscopy & inject | 3.77 | NA | 1.71 | 0.18 | NA | 5.66 | 000
43205 |  | A | Esophagus endoscopy/ligation | 3.79 | NA | 1.71 | 0.17 | NA | 5.67 | 000
43215 |  | A | Esophagus endoscopy | 2.60 | NA | 1.26 | 0.17 | NA | 4.03 | 000
43216 |  | A | Esophagus endoscopy/lesion | 2.40 | NA | 1.20 | 0.15 | NA | 3.75 | 000
43217 |  | A | Esophagus endoscopy | 2.90 | NA | 1.35 | 0.17 | NA | 4.42 | 000
43219 |  | A | Esophagus endoscopy | 2.80 | NA | 1.43 | 0.16 | NA | 4.39 | 000
43220 |  | A | Esoph endoscopy, dilation | 2.10 | NA | 1.14 | 0.12 | NA | 3.36 | 000
43226 |  | A | Esoph endoscopy, dilation | 2.34 | NA | 1.21 | 0.12 | NA | 3.67 | 000
43227 |  | A | Esoph endoscopy, repair | 3.60 | NA | 1.64 | 0.18 | NA | 5.42 | 000
43228 |  | A | Esoph endoscopy, ablation | 3.77 | NA | 1.77 | 0.25 | NA | 5.79 | 000
43231 |  | A | Esoph endoscopy w/us exam | 3.19 | NA | 1.60 | 0.20 | NA | 4.99 | 000
43232 |  | A | Esoph endoscopy w/us fn bx | 4.48 | NA | 2.15 | 0.26 | NA | 6.89 | 000
43234 |  | A | Upper GI endoscopy, exam | 2.01 | 4.58 | 1.06 | 0.13 | 6.72 | 3.20 | 000
43235 |  | A | Uppr GI endoscopy, diagnosis | 2.39 | 6.38 | 1.23 | 0.13 | 8.90 | 3.75 | 000
43239 |  | A | Upper GI endoscopy, biopsy | 2.87 | 6.79 | 1.27 | 0.14 | 9.80 | 4.28 | 000
43240 |  | A | Esoph endoscope w/drain cyst | 6.86 | NA | 2.97 | 0.36 | NA | 10.19 | 000
43241 |  | A | Upper GI endoscopy with tube | 2.59 | NA | 1.27 | 0.14 | NA | 4.00 | 000
43242 |  | A | Uppr GI endoscopy w/us fn bx | 7.31 | 2.64 | 2.64 | 0.29 | 10.24 | 10.24 | 000
43243 |  | A | Upper GI endoscopy & inject | 4.57 | NA | 2.00 | 0.21 | NA | 6.78 | 000
43244 |  | A | Upper GI endoscopy/ligation | 5.05 | NA | 2.18 | 0.21 | NA | 7.44 | 000
43245 |  | A | Operative upper GI endoscopy | 3.39 | NA | 1.55 | 0.18 | NA | 5.12 | 000
43246 |  | A | Place gastrostomy tube | 4.33 | NA | 1.84 | 0.24 | NA | 6.41 | 000
43247 |  | A | Operative upper GI endoscopy | 3.39 | NA | 1.56 | 0.17 | NA | 5.12 | 000
43248 |  | A | Uppr GI endoscopy/guide wire | 3.15 | NA | 1.49 | 0.15 | NA | 4.79 | 000
43249 |  | A | Esoph endoscopy, dilation | 2.90 | NA | 1.39 | 0.15 | NA | 4.44 | 000
43250 |  | A | Upper GI endoscopy/tumor | 3.20 | NA | 1.48 | 0.17 | NA | 4.85 | 000
43251 |  | A | Operative upper GI endoscopy | 3.70 | NA | 1.67 | 0.19 | NA | 5.56 | 000
43255 |  | A | Operative upper GI endoscopy | 4.82 | NA | 1.97 | 0.20 | NA | 6.99 | 000
43256 |  | A | Uppr GI endoscopy w stent | 4.60 | 1.66 | 1.66 | 0.23 | 6.49 | 6.49 | 000
43258 |  | A | Operative upper GI endoscopy | 4.55 | NA | 1.99 | 0.22 | NA | 6.76 | 000
43259 |  | A | Endoscopic ultrasound exam | 4.89 | NA | 2.22 | 0.22 | NA | 7.33 | 000
43260 |  | A | Endo cholangiopancreatograph | 5.96 | NA | 2.50 | 0.27 | NA | 8.73 | 000
43261 |  | A | Endo cholangiopancreatograph | 6.27 | NA | 2.62 | 0.29 | NA | 9.18 | 000
43262 |  | A | Endo cholangiopancreatograph | 7.39 | NA | 3.03 | 0.34 | NA | 10.76 | 000
43263 |  | A | Endo cholangiopancreatograph | 7.29 | NA | 3.00 | 0.28 | NA | 10.57 | 000
43264 |  | A | Endo cholangiopancreatograph | 8.90 | NA | 3.58 | 0.41 | NA | 12.89 | 000
43265 |  | A | Endo cholangiopancreatograph | 10.02 | NA | 3.99 | 0.42 | NA | 14.43 | 000
43267 |  | A | Endo cholangiopancreatograph | 7.39 | NA | 3.04 | 0.34 | NA | 10.77 | 000
43268 |  | A | Endo cholangiopancreatograph | 7.39 | NA | 3.03 | 0.34 | NA | 10.76 | 000
43269 |  | A | Endo cholangiopancreatograph | 8.21 | NA | 3.33 | 0.28 | NA | 11.82 | 000
43271 |  | A | Endo cholangiopancreatograph | 7.39 | NA | 3.02 | 0.34 | NA | 10.75 | 000
43272 |  | A | Endo cholangiopancreatograph | 7.39 | NA | 3.04 | 0.34 | NA | 10.77 | 000
43280 |  | A | Laparoscopy, fundoplasty | 17.25 | NA | 8.43 | 1.76 | NA | 27.44 | 090
43289 |  | C | Laparoscope proc, esoph | 0.00 | 0.00 | 0.00 | 0.00 | 0.00 | 0.00 | YYY
43300 |  | A | Repair of esophagus | 9.14 | NA | 7.31 | 0.85 | NA | 17.30 | 090
43305 |  | A | Repair esophagus and fistula | 17.39 | NA | 12.84 | 1.36 | NA | 31.59 | 090
43310 |  | A | Repair of esophagus | 25.39 | NA | 14.51 | 3.18 | NA | 43.08 | 090
43312 |  | A | Repair esophagus and fistula | 28.42 | NA | 17.45 | 3.38 | NA | 49.25 | 090
43313 |  | A | Esophagoplasty congential | 45.28 | NA | 22.01 | 5.43 | NA | 72.72 | 090
43314 |  | A | Tracheo-esophagoplasty cong | 50.27 | NA | 24.07 | 5.53 | NA | 79.87 | 090
43320 |  | A | Fuse esophagus & stomach | 19.93 | NA | 10.67 | 1.59 | NA | 32.19 | 090
43324 |  | A | Revise esophagus & stomach | 20.57 | NA | 9.79 | 1.72 | NA | 32.08 | 090
43325 |  | A | Revise esophagus & stomach | 20.06 | NA | 10.08 | 1.65 | NA | 31.79 | 090
43326 |  | A | Revise esophagus & stomach | 19.74 | NA | 10.33 | 1.84 | NA | 31.91 | 090
43330 |  | A | Repair of esophagus | 19.77 | NA | 9.78 | 1.52 | NA | 31.07 | 090
43331 |  | A | Repair of esophagus | 20.13 | NA | 11.41 | 1.93 | NA | 33.47 | 090
43340 |  | A | Fuse esophagus & intestine | 19.61 | NA | 10.31 | 1.53 | NA | 31.45 | 090
43341 |  | A | Fuse esophagus & intestine | 20.85 | NA | 11.17 | 2.14 | NA | 34.16 | 090
43350 |  | A | Surgical opening, esophagus | 15.78 | NA | 10.50 | 1.15 | NA | 27.43 | 090
43351 |  | A | Surgical opening, esophagus | 18.35 | NA | 10.91 | 1.51 | NA | 30.77 | 090
43352 |  | A | Surgical opening, esophagus | 15.26 | NA | 9.59 | 1.28 | NA | 26.13 | 090
43360 |  | A | Gastrointestinal repair | 35.70 | NA | 17.43 | 3.00 | NA | 56.13 | 090
43361 |  | A | Gastrointestinal repair | 40.50 | NA | 17.93 | 3.52 | NA | 61.95 | 090
43400 |  | A | Ligate esophagus veins | 21.20 | NA | 10.46 | 0.99 | NA | 32.65 | 090
43401 |  | A | Esophagus surgery for veins | 22.09 | NA | 10.34 | 1.73 | NA | 34.16 | 090
43405 |  | A | Ligate/staple esophagus | 20.01 | NA | 9.45 | 1.63 | NA | 31.09 | 090
43410 |  | A | Repair esophagus wound | 13.47 | NA | 9.35 | 1.15 | NA | 23.97 | 090
43415 |  | A | Repair esophagus wound | 25.00 | NA | 12.50 | 1.92 | NA | 39.42 | 090
43420 |  | A | Repair esophagus opening | 14.35 | NA | 9.15 | 0.86 | NA | 24.36 | 090
43425 |  | A | Repair esophagus opening | 21.03 | NA | 11.00 | 2.03 | NA | 34.06 | 090
43450 |  | A | Dilate esophagus | 1.38 | 1.47 | 0.63 | 0.07 | 2.92 | 2.08 | 000
43453 |  | A | Dilate esophagus | 1.51 | NA | 0.68 | 0.08 | NA | 2.27 | 000
43456 |  | A | Dilate esophagus | 2.57 | NA | 1.07 | 0.14 | NA | 3.78 | 000
43458 |  | A | Dilate esophagus | 3.06 | NA | 1.26 | 0.17 | NA | 4.49 | 000
43460 |  | A | Pressure treatment esophagus | 3.80 | NA | 1.54 | 0.21 | NA | 5.55 | 000
43496 |  | C | Free jejunum flap, microvasc | 0.00 | 0.00 | 0.00 | 0.00 | 0.00 | 0.00 | 090
43499 |  | C | Esophagus surgery procedure | 0.00 | 0.00 | 0.00 | 0.00 | 0.00 | 0.00 | YYY
43500 |  | A | Surgical opening of stomach | 11.05 | NA | 5.23 | 0.84 | NA | 17.12 | 090
43501 |  | A | Surgical repair of stomach | 20.04 | NA | 8.86 | 1.55 | NA | 30.45 | 090
43502 |  | A | Surgical repair of stomach | 23.13 | NA | 10.16 | 1.83 | NA | 35.12 | 090
43510 |  | A | Surgical opening of stomach | 13.08 | NA | 7.50 | 0.90 | NA | 21.48 | 090
43520 |  | A | Incision of pyloric muscle | 9.99 | NA | 5.73 | 0.84 | NA | 16.56 | 090
43600 |  | A | Biopsy of stomach | 1.91 | NA | 1.05 | 0.11 | NA | 3.07 | 000
43605 |  | A | Biopsy of stomach | 11.98 | NA | 5.55 | 0.93 | NA | 18.46 | 090
43610 |  | A | Excision of stomach lesion | 14.60 | NA | 6.85 | 1.14 | NA | 22.59 | 090
43611 |  | A | Excision of stomach lesion | 17.84 | NA | 8.12 | 1.38 | NA | 27.34 | 090
43620 |  | A | Removal of stomach | 30.04 | NA | 12.89 | 2.29 | NA | 45.22 | 090
43621 |  | A | Removal of stomach | 30.73 | NA | 13.21 | 2.36 | NA | 46.30 | 090
43622 |  | A | Removal of stomach | 32.53 | NA | 13.79 | 2.48 | NA | 48.80 | 090
43631 |  | A | Removal of stomach, partial | 22.59 | NA | 9.72 | 1.99 | NA | 34.30 | 090
43632 |  | A | Removal of stomach, partial | 22.59 | NA | 9.73 | 2.00 | NA | 34.32 | 090
43633 |  | A | Removal of stomach, partial | 23.10 | NA | 9.87 | 2.05 | NA | 35.02 | 090
43634 |  | A | Removal of stomach, partial | 25.12 | NA | 10.84 | 2.18 | NA | 38.14 | 090
43635 |  | A | Removal of stomach, partial | 2.06 | NA | 0.74 | 0.21 | NA | 3.01 | ZZZ
43638 |  | A | Removal of stomach, partial | 29.00 | NA | 12.13 | 2.24 | NA | 43.37 | 090
43639 |  | A | Removal of stomach, partial | 29.65 | NA | 12.30 | 2.31 | NA | 44.26 | 090
43640 |  | A | Vagotomy & pylorus repair | 17.02 | NA | 7.72 | 1.51 | NA | 26.25 | 090
43641 |  | A | Vagotomy & pylorus repair | 17.27 | NA | 7.82 | 1.53 | NA | 26.62 | 090
43651 |  | A | Laparoscopy, vagus nerve | 10.15 | NA | 4.71 | 1.03 | NA | 15.89 | 090
43652 |  | A | Laparoscopy, vagus nerve | 12.15 | NA | 5.53 | 1.25 | NA | 18.93 | 090
43653 |  | A | Laparoscopy, gastrostomy | 7.73 | NA | 4.37 | 0.78 | NA | 12.88 | 090
43659 |  | C | Laparoscope proc, stom | 0.00 | 0.00 | 0.00 | 0.00 | 0.00 | 0.00 | YYY
43750 |  | A | Place gastrostomy tube | 4.49 | NA | 2.72 | 0.33 | NA | 7.54 | 010
43752 |  | B | Nasal/orogastric w/stent | 0.00 | 0.00 | 0.00 | 0.00 | 0.00 | 0.00 | XXX
43760 |  | A | Change gastrostomy tube | 1.10 | 1.47 | 0.46 | 0.07 | 2.64 | 1.63 | 000
43761 |  | A | Reposition gastrostomy tube | 2.01 | NA | 0.83 | 0.10 | NA | 2.94 | 000
43800 |  | A | Reconstruction of pylorus | 13.69 | NA | 6.60 | 1.07 | NA | 21.36 | 090
43810 |  | A | Fusion of stomach and bowel | 14.65 | NA | 6.94 | 1.10 | NA | 22.69 | 090
43820 |  | A | Fusion of stomach and bowel | 15.37 | NA | 7.15 | 1.18 | NA | 23.70 | 090
43825 |  | A | Fusion of stomach and bowel | 19.22 | NA | 8.56 | 1.50 | NA | 29.28 | 090
43830 |  | A | Place gastrostomy tube | 9.53 | NA | 5.06 | 0.69 | NA | 15.28 | 090
43831 |  | A | Place gastrostomy tube | 7.84 | NA | 4.67 | 0.81 | NA | 13.32 | 090
43832 |  | A | Place gastrostomy tube | 15.60 | NA | 7.66 | 1.13 | NA | 24.39 | 090
43840 |  | A | Repair of stomach lesion | 15.56 | NA | 7.21 | 1.20 | NA | 23.97 | 090
43842 |  | A | Gastroplasty for obesity | 18.47 | NA | 11.24 | 1.51 | NA | 31.22 | 090
43843 |  | A | Gastroplasty for obesity | 18.65 | NA | 11.25 | 1.53 | NA | 31.43 | 090
43846 |  | A | Gastric bypass for obesity | 24.05 | NA | 13.68 | 1.96 | NA | 39.69 | 090
43847 |  | A | Gastric bypass for obesity | 26.92 | NA | 15.28 | 2.14 | NA | 44.34 | 090
43848 |  | A | Revision gastroplasty | 29.39 | NA | 16.54 | 2.39 | NA | 48.32 | 090
43850 |  | A | Revise stomach-bowel fusion | 24.72 | NA | 10.42 | 1.97 | NA | 37.11 | 090
43855 |  | A | Revise stomach-bowel fusion | 26.16 | NA | 11.12 | 2.01 | NA | 39.29 | 090
43860 |  | A | Revise stomach-bowel fusion | 25.00 | NA | 10.58 | 2.03 | NA | 37.61 | 090
43865 |  | A | Revise stomach-bowel fusion | 26.52 | NA | 11.21 | 2.15 | NA | 39.88 | 090
43870 |  | A | Repair stomach opening | 9.69 | NA | 5.22 | 0.71 | NA | 15.62 | 090
43880 |  | A | Repair stomach-bowel fistula | 24.65 | NA | 10.87 | 1.94 | NA | 37.46 | 090
43999 |  | C | Stomach surgery procedure | 0.00 | 0.00 | 0.00 | 0.00 | 0.00 | 0.00 | YYY
44005 |  | A | Freeing of bowel adhesion | 16.23 | NA | 7.40 | 1.39 | NA | 25.02 | 090
44010 |  | A | Incision of small bowel | 12.52 | NA | 6.48 | 1.05 | NA | 20.05 | 090
44015 |  | A | Insert needle cath bowel | 2.62 | NA | 0.93 | 0.25 | NA | 3.80 | ZZZ
44020 |  | A | Explore small intestine | 13.99 | NA | 6.56 | 1.20 | NA | 21.75 | 090
44021 |  | A | Decompress small bowel | 14.08 | NA | 7.02 | 1.18 | NA | 22.28 | 090
44025 |  | A | Incision of large bowel | 14.28 | NA | 6.65 | 1.21 | NA | 22.14 | 090
44050 |  | A | Reduce bowel obstruction | 14.03 | NA | 6.60 | 1.15 | NA | 21.78 | 090
44055 |  | A | Correct malrotation of bowel | 22.00 | NA | 9.51 | 1.32 | NA | 32.83 | 090
44100 |  | A | Biopsy of bowel | 2.01 | NA | 1.09 | 0.12 | NA | 3.22 | 000
44110 |  | A | Excise intestine lesion(s) | 11.81 | NA | 5.84 | 1.00 | NA | 18.65 | 090
44111 |  | A | Excision of bowel lesion(s) | 14.29 | NA | 7.10 | 1.22 | NA | 22.61 | 090
44120 |  | A | Removal of small intestine | 17.00 | NA | 7.67 | 1.46 | NA | 26.13 | 090
44121 |  | A | Removal of small intestine | 4.45 | NA | 1.60 | 0.45 | NA | 6.50 | ZZZ
44125 |  | A | Removal of small intestine | 17.54 | NA | 7.86 | 1.49 | NA | 26.89 | 090
44126 |  | A | Enterectomy w/taper, cong | 35.50 | NA | 18.03 | 0.36 | NA | 53.89 | 090
44127 |  | A | Enterectomy w/o taper, cong | 41.00 | NA | 20.56 | 0.41 | NA | 61.97 | 090
44128 |  | A | Enterectomy cong, add-on | 4.45 | NA | 1.78 | 0.45 | NA | 6.68 | ZZZ
44130 |  | A | Bowel to bowel fusion | 14.49 | NA | 6.78 | 1.23 | NA | 22.50 | 090
44132 |  | R | Enterectomy, cadaver donor | 0.00 | 0.00 | 0.00 | 0.00 | 0.00 | 0.00 | XXX
44133 |  | R | Enterectomy, live donor | 0.00 | 0.00 | 0.00 | 0.00 | 0.00 | 0.00 | XXX
44135 |  | R | Intestine transplant, cadaver | 0.00 | 0.00 | 0.00 | 0.00 | 0.00 | 0.00 | XXX
44136 |  | R | Intestine transplant, live | 0.00 | 0.00 | 0.00 | 0.00 | 0.00 | 0.00 | XXX
44139 |  | A | Mobilization of colon | 2.23 | NA | 0.80 | 0.21 | NA | 3.24 | ZZZ
44140 |  | A | Partial removal of colon | 21.00 | NA | 9.53 | 1.83 | NA | 32.36 | 090
44141 |  | A | Partial removal of colon | 19.51 | NA | 11.93 | 1.95 | NA | 33.39 | 090
44143 |  | A | Partial removal of colon | 22.99 | NA | 13.14 | 2.02 | NA | 38.15 | 090
44144 |  | A | Partial removal of colon | 21.53 | NA | 11.75 | 1.89 | NA | 35.17 | 090
44145 |  | A | Partial removal of colon | 26.42 | NA | 11.90 | 2.22 | NA | 40.54 | 090
44146 |  | A | Partial removal of colon | 27.54 | NA | 15.41 | 2.20 | NA | 45.15 | 090
44147 |  | A | Partial removal of colon | 20.71 | NA | 10.15 | 1.74 | NA | 32.60 | 090
44150 |  | A | Removal of colon | 23.95 | NA | 14.08 | 2.05 | NA | 40.08 | 090
44151 |  | A | Removal of colon/ileostomy | 26.88 | NA | 15.74 | 1.97 | NA | 44.59 | 090
44152 |  | A | Removal of colon/ileostomy | 27.83 | NA | 17.01 | 2.36 | NA | 47.20 | 090
44153 |  | A | Removal of colon/ileostomy | 30.59 | NA | 16.64 | 2.33 | NA | 49.56 | 090
44155 |  | A | Removal of colon/ileostomy | 27.86 | NA | 15.28 | 2.26 | NA | 45.40 | 090
44156 |  | A | Removal of colon/ileostomy | 30.79 | NA | 17.86 | 2.19 | NA | 50.84 | 090
44160 |  | A | Removal of colon | 18.62 | NA | 8.65 | 1.55 | NA | 28.82 | 090
44200 |  | A | Laparoscopy, enterolysis | 14.44 | NA | 6.79 | 1.46 | NA | 22.69 | 090
44201 |  | A | Laparoscopy, jejunostomy | 9.78 | NA | 5.16 | 0.97 | NA | 15.91 | 090
44202 |  | A | Lap resect s/intestine singl | 22.04 | NA | 9.82 | 2.16 | NA | 34.02 | 090
44203 |  | A | Lap resect s/intestine, addl | 4.45 | NA | 1.60 | 0.45 | NA | 6.50 | ZZZ
44204 |  | A | Laparo partial colectomy | 25.08 | NA | 10.46 | 1.83 | NA | 37.37 | 090
44205 |  | A | Lap colectomy part w/ileum | 22.23 | NA | 9.31 | 1.55 | NA | 33.09 | 090
44209 |  | C | Laparoscope proc, intestine | 0.00 | 0.00 | 0.00 | 0.00 | 0.00 | 0.00 | YYY
44300 |  | A | Open bowel to skin | 12.11 | NA | 6.79 | 0.88 | NA | 19.78 | 090
44310 |  | A | Ileostomy/jejunostomy | 15.95 | NA | 10.50 | 1.13 | NA | 27.58 | 090
44312 |  | A | Revision of ileostomy | 8.02 | NA | 5.25 | 0.54 | NA | 13.81 | 090
44314 |  | A | Revision of ileostomy | 15.05 | NA | 10.37 | 0.99 | NA | 26.41 | 090
44316 |  | A | Devise bowel pouch | 21.09 | NA | 13.77 | 1.41 | NA | 36.27 | 090
44320 |  | A | Colostomy | 17.64 | NA | 12.13 | 1.28 | NA | 31.05 | 090
44322 |  | A | Colostomy with biopsies | 11.98 | NA | 10.41 | 1.18 | NA | 23.57 | 090
44340 |  | A | Revision of colostomy | 7.72 | NA | 4.86 | 0.56 | NA | 13.14 | 090
44345 |  | A | Revision of colostomy | 15.43 | NA | 8.34 | 1.11 | NA | 24.88 | 090
44346 |  | A | Revision of colostomy | 16.99 | NA | 8.91 | 1.20 | NA | 27.10 | 090
44360 |  | A | Small bowel endoscopy | 2.59 | NA | 1.39 | 0.14 | NA | 4.12 | 000
44361 |  | A | Small bowel endoscopy/biopsy | 2.87 | NA | 1.50 | 0.15 | NA | 4.52 | 000
44363 |  | A | Small bowel endoscopy | 3.50 | NA | 1.71 | 0.19 | NA | 5.40 | 000
44364 |  | A | Small bowel endoscopy | 3.74 | NA | 1.80 | 0.21 | NA | 5.75 | 000
44365 |  | A | Small bowel endoscopy | 3.31 | NA | 1.68 | 0.18 | NA | 5.17 | 000
44366 |  | A | Small bowel endoscopy | 4.41 | NA | 2.05 | 0.22 | NA | 6.68 | 000
44369 |  | A | Small bowel endoscopy | 4.52 | NA | 2.05 | 0.23 | NA | 6.80 | 000
44370 |  | A | Small bowel endoscopy/stent | 4.80 | 1.74 | 1.74 | 0.21 | 6.75 | 6.75 | 000
44372 |  | A | Small bowel endoscopy | 4.41 | NA | 2.04 | 0.27 | NA | 6.72 | 000
44373 |  | A | Small bowel endoscopy | 3.50 | NA | 1.80 | 0.19 | NA | 5.49 | 000
44376 |  | A | Small bowel endoscopy | 5.26 | NA | 2.36 | 0.29 | NA | 7.91 | 000
44377 |  | A | Small bowel endoscopy/biopsy | 5.53 | NA | 2.47 | 0.28 | NA | 8.28 | 000
44378 |  | A | Small bowel endoscopy | 7.13 | NA | 3.06 | 0.37 | NA | 10.56 | 000
44379 |  | A | S bowel endoscope w/stent | 7.47 | 2.67 | 2.67 | 0.38 | 10.52 | 10.52 | 000
44380 |  | A | Small bowel endoscopy | 1.05 | NA | 0.79 | 0.08 | NA | 1.92 | 000
44382 |  | A | Small bowel endoscopy | 1.27 | NA | 0.90 | 0.09 | NA | 2.26 | 000
44383 |  | A | Ileoscopy w/stent | 3.26 | 1.16 | 1.16 | 0.13 | 4.55 | 4.55 | 000
44385 |  | A | Endoscopy of bowel pouch | 1.82 | 5.26 | 0.95 | 0.12 | 7.20 | 2.89 | 000
44386 |  | A | Endoscopy, bowel pouch/biop | 2.12 | 6.98 | 1.09 | 0.15 | 9.25 | 3.36 | 000
44388 |  | A | Colon endoscopy | 2.82 | 6.91 | 1.42 | 0.18 | 9.91 | 4.42 | 000
44389 |  | A | Colonoscopy with biopsy | 3.13 | 7.62 | 1.55 | 0.18 | 10.93 | 4.86 | 000
44390 |  | A | Colonoscopy for foreign body | 3.83 | 6.68 | 1.80 | 0.22 | 10.73 | 5.85 | 000
44391 |  | A | Colonoscopy for bleeding | 4.32 | 6.04 | 1.78 | 0.23 | 10.59 | 6.33 | 000
44392 |  | A | Colonoscopy & polypectomy | 3.82 | 8.21 | 1.79 | 0.23 | 12.26 | 5.84 | 000
44393 |  | A | Colonoscopy, lesion removal | 4.84 | 8.45 | 2.19 | 0.27 | 13.56 | 7.30 | 000
44394 |  | A | Colonoscopy w/snare | 4.43 | 7.71 | 2.04 | 0.26 | 12.40 | 6.73 | 000
44397 |  | A | Colonoscopy w stent | 4.71 | NA | 2.10 | 0.28 | NA | 7.09 | 000
44500 |  | A | Intro, gastrointestinal tube | 0.49 | NA | 0.37 | 0.02 | NA | 0.88 | 000
44602 |  | A | Suture, small intestine | 16.03 | NA | 7.34 | 1.07 | NA | 24.44 | 090
44603 |  | A | Suture, small intestine | 18.66 | NA | 8.25 | 1.39 | NA | 28.30 | 090
44604 |  | A | Suture, large intestine | 16.03 | NA | 7.35 | 1.42 | NA | 24.80 | 090
44605 |  | A | Repair of bowel lesion | 19.53 | NA | 8.94 | 1.54 | NA | 30.01 | 090
44615 |  | A | Intestinal stricturoplasty | 15.93 | NA | 7.32 | 1.39 | NA | 24.64 | 090
44620 |  | A | Repair bowel opening | 12.20 | NA | 5.81 | 1.05 | NA | 19.06 | 090
44625 |  | A | Repair bowel opening | 15.05 | NA | 6.86 | 1.30 | NA | 23.21 | 090
44626 |  | A | Repair bowel opening | 25.36 | NA | 10.60 | 2.19 | NA | 38.15 | 090
44640 |  | A | Repair bowel-skin fistula | 21.65 | NA | 9.70 | 1.46 | NA | 32.81 | 090
44650 |  | A | Repair bowel fistula | 22.57 | NA | 10.01 | 1.49 | NA | 34.07 | 090
44660 |  | A | Repair bowel-bladder fistula | 21.36 | NA | 9.51 | 1.14 | NA | 32.01 | 090
44661 |  | A | Repair bowel-bladder fistula | 24.81 | NA | 10.73 | 1.53 | NA | 37.07 | 090
44680 |  | A | Surgical revision, intestine | 15.40 | NA | 7.47 | 1.37 | NA | 24.24 | 090
44700 |  | A | Suspend bowel w/prosthesis | 16.11 | NA | 7.57 | 1.21 | NA | 24.89 | 090
44799 |  | C | Intestine surgery procedure | 0.00 | 0.00 | 0.00 | 0.00 | 0.00 | 0.00 | YYY
44800 |  | A | Excision of bowel pouch | 11.23 | NA | 5.61 | 1.11 | NA | 17.95 | 090
44820 |  | A | Excision of mesentery lesion | 12.09 | NA | 5.98 | 1.03 | NA | 19.10 | 090
44850 |  | A | Repair of mesentery | 10.74 | NA | 5.41 | 0.99 | NA | 17.14 | 090
44899 |  | C | Bowel surgery procedure | 0.00 | 0.00 | 0.00 | 0.00 | 0.00 | 0.00 | YYY
44900 |  | A | Drain app abscess, open | 10.14 | NA | 5.96 | 0.84 | NA | 16.94 | 090
44901 |  | A | Drain app abscess, percut | 3.38 | NA | 5.01 | 0.17 | NA | 8.56 | 000
44950 |  | A | Appendectomy | 10.00 | NA | 5.31 | 0.88 | NA | 16.19 | 090
44955 |  | A | Appendectomy add-on | 1.53 | NA | 0.57 | 0.16 | NA | 2.26 | ZZZ
44960 |  | A | Appendectomy | 12.34 | NA | 6.50 | 1.09 | NA | 19.93 | 090
44970 |  | A | Laparoscopy, appendectomy | 8.70 | NA | 4.21 | 0.88 | NA | 13.79 | 090
44979 |  | C | Laparoscope proc, app | 0.00 | 0.00 | 0.00 | 0.00 | 0.00 | 0.00 | YYY
45000 |  | A | Drainage of pelvic abscess | 4.52 | NA | 3.80 | 0.37 | NA | 8.69 | 090
45005 |  | A | Drainage of rectal abscess | 1.99 | 4.58 | 1.62 | 0.18 | 6.75 | 3.79 | 010
45020 |  | A | Drainage of rectal abscess | 4.72 | NA | 4.21 | 0.41 | NA | 9.34 | 090
45100 |  | A | Biopsy of rectum | 3.68 | 4.86 | 2.12 | 0.33 | 8.87 | 6.13 | 090
45108 |  | A | Removal of anorectal lesion | 4.76 | 6.40 | 2.95 | 0.46 | 11.62 | 8.17 | 090
45110 |  | A | Removal of rectum | 28.00 | NA | 13.26 | 2.26 | NA | 43.52 | 090
45111 |  | A | Partial removal of rectum | 16.48 | NA | 8.78 | 1.60 | NA | 26.86 | 090
45112 |  | A | Removal of rectum | 30.54 | NA | 13.70 | 2.35 | NA | 46.59 | 090
45113 |  | A | Partial proctectomy | 30.58 | NA | 13.39 | 2.13 | NA | 46.10 | 090
45114 |  | A | Partial removal of rectum | 27.32 | NA | 12.61 | 2.28 | NA | 42.21 | 090
45116 |  | A | Partial removal of rectum | 24.58 | NA | 11.58 | 2.00 | NA | 38.16 | 090
45119 |  | A | Remove rectum w/reservoir | 30.84 | NA | 13.25 | 2.13 | NA | 46.22 | 090
45120 |  | A | Removal of rectum | 24.60 | NA | 11.63 | 2.28 | NA | 38.51 | 090
45121 |  | A | Removal of rectum and colon | 27.04 | NA | 12.53 | 2.66 | NA | 42.23 | 090
45123 |  | A | Partial proctectomy | 16.71 | NA | 8.21 | 1.04 | NA | 25.96 | 090
45126 |  | A | Pelvic exenteration | 45.16 | NA | 19.12 | 3.23 | NA | 67.51 | 090
45130 |  | A | Excision of rectal prolapse | 16.44 | NA | 7.80 | 1.12 | NA | 25.36 | 090
45135 |  | A | Excision of rectal prolapse | 19.28 | NA | 9.10 | 1.52 | NA | 29.90 | 090
45136 |  | A | Excise ileoanal reservoir | 27.30 | NA | 12.66 | 2.19 | NA | 42.15 | 090
45150 |  | A | Excision of rectal stricture | 5.67 | 5.89 | 3.19 | 0.46 | 12.02 | 9.32 | 090
45160 |  | A | Excision of rectal lesion | 15.32 | NA | 7.14 | 1.07 | NA | 23.53 | 090
45170 |  | A | Excision of rectal lesion | 11.49 | NA | 5.89 | 0.89 | NA | 18.27 | 090
45190 |  | A | Destruction, rectal tumor | 9.74 | NA | 5.33 | 0.76 | NA | 15.83 | 090
45300 |  | A | Proctosigmoidoscopy dx | 0.38 | 1.34 | 0.23 | 0.05 | 1.77 | 0.66 | 000
45303 |  | A | Proctosigmoidoscopy dilate | 0.44 | 1.55 | 0.27 | 0.06 | 2.05 | 0.77 | 000
45305 |  | A | Protosigmoidoscopy w/bx | 1.01 | 1.64 | 0.46 | 0.09 | 2.74 | 1.56 | 000
45307 |  | A | Protosigmoidoscopy fb | 0.94 | 2.68 | 0.44 | 0.15 | 3.77 | 1.53 | 000
45308 |  | A | Protosigmoidoscopy removal | 0.83 | 1.59 | 0.39 | 0.13 | 2.55 | 1.35 | 000
45309 |  | A | Protosigmoidoscopy removal | 2.01 | 2.43 | 0.81 | 0.17 | 4.61 | 2.99 | 000
45315 |  | A | Protosigmoidoscopy removal | 1.40 | 2.84 | 0.60 | 0.20 | 4.44 | 2.20 | 000
45317 |  | A | Protosigmoidoscopy bleed | 1.50 | 1.94 | 0.63 | 0.20 | 3.64 | 2.33 | 000
45320 |  | A | Protosigmoidoscopy ablate | 1.58 | 1.88 | 0.68 | 0.20 | 3.66 | 2.46 | 000
45321 |  | A | Protosigmoidoscopy volvul | 1.17 | NA | 0.52 | 0.17 | NA | 1.86 | 000
45327 |  | A | Proctosigmoidoscopy w/stent | 1.65 | NA | 0.89 | 0.10 | NA | 2.64 | 000
45330 |  | A | Diagnostic sigmoidoscopy | 0.96 | 1.92 | 0.53 | 0.05 | 2.93 | 1.54 | 000
45331 |  | A | Sigmoidoscopy and biopsy | 1.15 | 2.38 | 0.54 | 0.07 | 3.60 | 1.76 | 000
45332 |  | A | Sigmoidoscopy w/fb removal | 1.79 | 4.36 | 0.76 | 0.11 | 6.26 | 2.66 | 000
45333 |  | A | Sigmoidoscopy & polypectomy | 1.79 | 3.93 | 0.77 | 0.12 | 5.84 | 2.68 | 000
45334 |  | A | Sigmoidoscopy for bleeding | 2.73 | NA | 1.12 | 0.16 | NA | 4.01 | 000
45337 |  | A | Sigmoidoscopy & decompress | 2.36 | NA | 0.97 | 0.15 | NA | 3.48 | 000
45338 |  | A | Sigmoidoscpy w/tumr remove | 2.34 | 4.75 | 0.97 | 0.15 | 7.24 | 3.46 | 000
45339 |  | A | Sigmoidoscopy w/ablate tumr | 3.14 | 3.62 | 1.27 | 0.17 | 6.93 | 4.58 | 000
45341 |  | A | Sigmoidoscopy w/ultrasound | 2.60 | NA | 1.40 | 0.20 | NA | 4.20 | 000
45342 |  | A | Sigmoidoscopy w/us guide bx | 4.06 | NA | 1.85 | 0.23 | NA | 6.14 | 000
45345 |  | A | Sigmodoscopy w/stent | 2.92 | NA | 1.44 | 0.15 | NA | 4.51 | 000
45355 |  | A | Surgical colonoscopy | 3.52 | NA | 1.28 | 0.26 | NA | 5.06 | 000
45378 |  | A | Diagnostic colonoscopy | 3.70 | 8.79 | 1.77 | 0.20 | 12.69 | 5.67 | 000
45378 | 53 | A | Diagnostic colonoscopy | 0.96 | 1.92 | 0.53 | 0.05 | 2.93 | 1.54 | 000
45379 |  | A | Colonoscopy w/fb removal | 4.69 | 8.25 | 2.13 | 0.25 | 13.19 | 7.07 | 000
45380 |  | A | Colonoscopy and biopsy | 4.44 | 9.28 | 2.05 | 0.21 | 13.93 | 6.70 | 000
45382 |  | A | Colonoscopy/control bleeding | 5.69 | 10.32 | 2.29 | 0.27 | 16.28 | 8.25 | 000
45383 |  | A | Lesion removal colonoscopy | 5.87 | 10.01 | 2.56 | 0.32 | 16.20 | 8.75 | 000
45384 |  | A | Lesion remove colonoscopy | 4.70 | 9.74 | 2.14 | 0.24 | 14.68 | 7.08 | 000
45385 |  | A | Lesion removal colonoscopy | 5.31 | 10.19 | 2.36 | 0.28 | 15.78 | 7.95 | 000
45387 |  | A | Colonoscopy w/stent | 5.91 | NA | 2.57 | 0.33 | NA | 8.81 | 000
45500 |  | A | Repair of rectum | 7.29 | NA | 4.24 | 0.56 | NA | 12.09 | 090
45505 |  | A | Repair of rectum | 7.58 | NA | 3.86 | 0.50 | NA | 11.94 | 090
45520 |  | A | Treatment of rectal prolapse | 0.55 | 0.77 | 0.20 | 0.04 | 1.36 | 0.79 | 000
45540 |  | A | Correct rectal prolapse | 16.27 | NA | 8.18 | 1.17 | NA | 25.62 | 090
45541 |  | A | Correct rectal prolapse | 13.40 | NA | 7.03 | 0.88 | NA | 21.31 | 090
45550 |  | A | Repair rectum/remove sigmoid | 23.00 | NA | 10.40 | 1.58 | NA | 34.98 | 090
45560 |  | A | Repair of rectocele | 10.58 | NA | 6.12 | 0.73 | NA | 17.43 | 090
45562 |  | A | Exploration/repair of rectum | 15.38 | NA | 7.52 | 1.15 | NA | 24.05 | 090
45563 |  | A | Exploration/repair of rectum | 23.47 | NA | 11.34 | 1.84 | NA | 36.65 | 090
45800 |  | A | Repair rect/bladder fistula | 17.77 | NA | 8.23 | 1.14 | NA | 27.14 | 090
45805 |  | A | Repair fistula w/colostomy | 20.78 | NA | 10.72 | 1.47 | NA | 32.97 | 090
45820 |  | A | Repair rectourethral fistula | 18.48 | NA | 8.55 | 1.17 | NA | 28.20 | 090
45825 |  | A | Repair fistula w/colostomy | 21.25 | NA | 10.57 | 0.97 | NA | 32.79 | 090
45900 |  | A | Reduction of rectal prolapse | 2.61 | NA | 1.04 | 0.17 | NA | 3.82 | 010
45905 |  | A | Dilation of anal sphincter | 2.30 | 12.19 | 0.96 | 0.14 | 14.63 | 3.40 | 010
45910 |  | A | Dilation of rectal narrowing | 2.80 | 17.62 | 1.15 | 0.14 | 20.56 | 4.09 | 010
45915 |  | A | Remove rectal obstruction | 3.14 | 4.89 | 1.16 | 0.17 | 8.20 | 4.47 | 010
45999 |  | C | Rectum surgery procedure | 0.00 | 0.00 | 0.00 | 0.00 | 0.00 | 0.00 | YYY
46020 |  | A | Placement of seton | 2.90 | 3.09 | 2.36 | 0.22 | 6.21 | 5.48 | 010
46030 |  | A | Removal of rectal marker | 1.23 | 2.90 | 1.22 | 0.11 | 4.24 | 2.56 | 010
46040 |  | A | Incision of rectal abscess | 4.96 | 5.57 | 3.15 | 0.48 | 11.01 | 8.59 | 090
46045 |  | A | Incision of rectal abscess | 4.32 | NA | 2.88 | 0.40 | NA | 7.60 | 090
46050 |  | A | Incision of anal abscess | 1.19 | 3.68 | 1.37 | 0.11 | 4.98 | 2.67 | 010
46060 |  | A | Incision of rectal abscess | 5.69 | NA | 3.83 | 0.52 | NA | 10.04 | 090
46070 |  | A | Incision of anal septum | 2.71 | NA | 2.54 | 0.27 | NA | 5.52 | 090
46080 |  | A | Incision of anal sphincter | 2.49 | 3.81 | 1.65 | 0.23 | 6.53 | 4.37 | 010
46083 |  | A | Incise external hemorrhoid | 1.40 | 4.78 | 1.59 | 0.12 | 6.30 | 3.11 | 010
46200 |  | A | Removal of anal fissure | 3.42 | 4.01 | 2.42 | 0.30 | 7.73 | 6.14 | 090
46210 |  | A | Removal of anal crypt | 2.67 | 5.12 | 2.17 | 0.26 | 8.05 | 5.10 | 090
46211 |  | A | Removal of anal crypts | 4.25 | 4.97 | 3.10 | 0.37 | 9.59 | 7.72 | 090
46220 |  | A | Removal of anal tab | 1.56 | 1.32 | 0.56 | 0.14 | 3.02 | 2.26 | 010
46221 |  | A | Ligation of hemorrhoid(s) | 2.04 | 1.80 | 1.12 | 0.12 | 3.96 | 3.28 | 010
46230 |  | A | Removal of anal tabs | 2.57 | 4.38 | 1.69 | 0.22 | 7.17 | 4.48 | 010
46250 |  | A | Hemorrhoidectomy | 3.89 | 5.59 | 2.71 | 0.43 | 9.91 | 7.03 | 090
46255 |  | A | Hemorrhoidectomy | 4.60 | 6.45 | 2.96 | 0.51 | 11.56 | 8.07 | 090
46257 |  | A | Remove hemorrhoids & fissure | 5.40 | NA | 3.12 | 0.59 | NA | 9.11 | 090
46258 |  | A | Remove hemorrhoids & fistula | 5.73 | NA | 3.30 | 0.64 | NA | 9.67 | 090
46260 |  | A | Hemorrhoidectomy | 6.37 | NA | 4.04 | 0.68 | NA | 11.09 | 090
46261 |  | A | Remove hemorrhoids & fissure | 7.08 | NA | 4.19 | 0.70 | NA | 11.97 | 090
46262 |  | A | Remove hemorrhoids & fistula | 7.50 | NA | 4.35 | 0.76 | NA | 12.61 | 090
46270 |  | A | Removal of anal fistula | 3.72 | 5.23 | 2.65 | 0.36 | 9.31 | 6.73 | 090
46275 |  | A | Removal of anal fistula | 4.56 | 4.65 | 2.85 | 0.40 | 9.61 | 7.81 | 090
46280 |  | A | Removal of anal fistula | 5.98 | NA | 3.83 | 0.50 | NA | 10.31 | 090
46285 |  | A | Removal of anal fistula | 4.09 | 4.28 | 2.69 | 0.34 | 8.71 | 7.12 | 090
46288 |  | A | Repair anal fistula | 7.13 | NA | 4.25 | 0.60 | NA | 11.98 | 090
46320 |  | A | Removal of hemorrhoid clot | 1.61 | 4.00 | 1.57 | 0.14 | 5.75 | 3.32 | 010
46500 |  | A | Injection into hemorrhoid(s) | 1.61 | 2.89 | 0.58 | 0.12 | 4.62 | 2.31 | 010
46600 |  | A | Diagnostic anoscopy | 0.50 | 0.82 | 0.15 | 0.04 | 1.36 | 0.69 | 000
46604 |  | A | Anoscopy and dilation | 1.31 | 0.99 | 0.47 | 0.09 | 2.39 | 1.87 | 000
46606 |  | A | Anoscopy and biopsy | 0.81 | 0.87 | 0.29 | 0.07 | 1.75 | 1.17 | 000
46608 |  | A | Anoscopy/remove for body | 1.51 | 1.81 | 0.49 | 0.13 | 3.45 | 2.13 | 000
46610 |  | A | Anoscopy/remove lesion | 1.32 | 1.46 | 0.48 | 0.12 | 2.90 | 1.92 | 000
46611 |  | A | Anoscopy | 1.81 | 2.07 | 0.65 | 0.15 | 4.03 | 2.61 | 000
46612 |  | A | Anoscopy/ remove lesions | 2.34 | 2.65 | 0.85 | 0.18 | 5.17 | 3.37 | 000
46614 |  | A | Anoscopy/control bleeding | 2.01 | 1.90 | 0.71 | 0.14 | 4.05 | 2.86 | 000
46615 |  | A | Anoscopy | 2.68 | 1.76 | 0.96 | 0.23 | 4.67 | 3.87 | 000
46700 |  | A | Repair of anal stricture | 9.13 | NA | 4.78 | 0.56 | NA | 14.47 | 090
46705 |  | A | Repair of anal stricture | 6.90 | NA | 4.53 | 0.73 | NA | 12.16 | 090
46715 |  | A | Repair of anovaginal fistula | 7.20 | NA | 4.46 | 0.76 | NA | 12.42 | 090
46716 |  | A | Repair of anovaginal fistula | 15.07 | NA | 8.05 | 1.30 | NA | 24.42 | 090
46730 |  | A | Construction of absent anus | 26.75 | NA | 12.25 | 2.03 | NA | 41.03 | 090
46735 |  | A | Construction of absent anus | 32.17 | NA | 15.49 | 2.64 | NA | 50.30 | 090
46740 |  | A | Construction of absent anus | 30.00 | NA | 14.61 | 1.99 | NA | 46.60 | 090
46742 |  | A | Repair of imperforated anus | 35.80 | NA | 18.31 | 2.63 | NA | 56.74 | 090
46744 |  | A | Repair of cloacal anomaly | 52.63 | NA | 22.78 | 2.27 | NA | 77.68 | 090
46746 |  | A | Repair of cloacal anomaly | 58.22 | NA | 27.19 | 2.51 | NA | 87.92 | 090
46748 |  | A | Repair of cloacal anomaly | 64.21 | NA | 29.58 | 2.77 | NA | 96.56 | 090
46750 |  | A | Repair of anal sphincter | 10.25 | NA | 5.79 | 0.69 | NA | 16.73 | 090
46751 |  | A | Repair of anal sphincter | 8.77 | NA | 6.14 | 0.78 | NA | 15.69 | 090
46753 |  | A | Reconstruction of anus | 8.29 | NA | 4.13 | 0.58 | NA | 13.00 | 090
46754 |  | A | Removal of suture from anus | 2.20 | 5.36 | 1.43 | 0.12 | 7.68 | 3.75 | 010
46760 |  | A | Repair of anal sphincter | 14.43 | NA | 7.07 | 0.86 | NA | 22.36 | 090
46761 |  | A | Repair of anal sphincter | 13.84 | NA | 6.87 | 0.84 | NA | 21.55 | 090
46762 |  | A | Implant artificial sphincter | 12.71 | NA | 6.08 | 0.71 | NA | 19.50 | 090
46900 |  | A | Destruction, anal lesion(s) | 1.91 | 3.52 | 0.74 | 0.13 | 5.56 | 2.78 | 010
46910 |  | A | Destruction, anal lesion(s) | 1.86 | 3.81 | 1.48 | 0.14 | 5.81 | 3.48 | 010
46916 |  | A | Cryosurgery, anal lesion(s) | 1.86 | 3.24 | 1.68 | 0.09 | 5.19 | 3.63 | 010
46917 |  | A | Laser surgery, anal lesions | 1.86 | 5.32 | 1.62 | 0.16 | 7.34 | 3.64 | 010
46922 |  | A | Excision of anal lesion(s) | 1.86 | 3.96 | 1.46 | 0.17 | 5.99 | 3.49 | 010
46924 |  | A | Destruction, anal lesion(s) | 2.76 | 4.81 | 1.77 | 0.20 | 7.77 | 4.73 | 010
46934 |  | A | Destruction of hemorrhoids | 3.51 | 6.62 | 3.77 | 0.26 | 10.39 | 7.54 | 090
46935 |  | A | Destruction of hemorrhoids | 2.43 | 4.60 | 0.87 | 0.17 | 7.20 | 3.47 | 010
46936 |  | A | Destruction of hemorrhoids | 3.69 | 6.67 | 3.58 | 0.30 | 10.66 | 7.57 | 090
46937 |  | A | Cryotherapy of rectal lesion | 2.69 | 4.51 | 1.72 | 0.12 | 7.32 | 4.53 | 010
46938 |  | A | Cryotherapy of rectal lesion | 4.66 | 6.22 | 3.27 | 0.40 | 11.28 | 8.33 | 090
46940 |  | A | Treatment of anal fissure | 2.32 | 3.47 | 0.83 | 0.17 | 5.96 | 3.32 | 010
46942 |  | A | Treatment of anal fissure | 2.04 | 2.84 | 0.71 | 0.14 | 5.02 | 2.89 | 010
46945 |  | A | Ligation of hemorrhoids | 1.84 | 4.04 | 2.29 | 0.17 | 6.05 | 4.30 | 090
46946 |  | A | Ligation of hemorrhoids | 2.58 | 5.40 | 2.61 | 0.22 | 8.20 | 5.41 | 090
46999 |  | C | Anus surgery procedure | 0.00 | 0.00 | 0.00 | 0.00 | 0.00 | 0.00 | YYY
47000 |  | A | Needle biopsy of liver | 1.90 | 8.36 | 0.67 | 0.09 | 10.35 | 2.66 | 000
47001 |  | A | Needle biopsy, liver add-on | 1.90 | NA | 0.68 | 0.18 | NA | 2.76 | ZZZ
47010 |  | A | Open drainage, liver lesion | 16.01 | NA | 9.60 | 0.65 | NA | 26.26 | 090
47011 |  | A | Percut drain, liver lesion | 3.70 | NA | 4.61 | 0.17 | NA | 8.48 | 000
47015 |  | A | Inject/aspirate liver cyst | 15.11 | NA | 8.23 | 0.86 | NA | 24.20 | 090
47100 |  | A | Wedge biopsy of liver | 11.67 | NA | 6.50 | 0.75 | NA | 18.92 | 090
47120 |  | A | Partial removal of liver | 35.50 | NA | 17.02 | 2.29 | NA | 54.81 | 090
47122 |  | A | Extensive removal of liver | 55.13 | NA | 24.11 | 3.60 | NA | 82.84 | 090
47125 |  | A | Partial removal of liver | 49.19 | NA | 22.12 | 3.18 | NA | 74.49 | 090
47130 |  | A | Partial removal of liver | 53.35 | NA | 23.49 | 3.47 | NA | 80.31 | 090
47133 |  | X | Removal of donor liver | 0.00 | 0.00 | 0.00 | 0.00 | 0.00 | 0.00 | XXX
47134 |  | R | Partial removal, donor liver | 39.15 | NA | 13.91 | 3.98 | NA | 57.04 | XXX
47135 |  | R | Transplantation of liver | 81.52 | NA | 43.28 | 8.13 | NA | 132.93 | 090
47136 |  | R | Transplantation of liver | 68.60 | NA | 47.00 | 6.93 | NA | 122.53 | 090
47300 |  | A | Surgery for liver lesion | 15.08 | NA | 7.75 | 0.97 | NA | 23.80 | 090
47350 |  | A | Repair liver wound | 19.56 | NA | 9.45 | 1.25 | NA | 30.26 | 090
47360 |  | A | Repair liver wound | 26.92 | NA | 12.96 | 1.71 | NA | 41.59 | 090
47361 |  | A | Repair liver wound | 47.12 | NA | 19.94 | 3.11 | NA | 70.17 | 090
47362 |  | A | Repair liver wound | 18.51 | NA | 9.77 | 1.22 | NA | 29.50 | 090
47370 |  | A | Laparo ablate liver tumor rf | 18.00 | 7.19 | 7.19 | 0.85 | 26.04 | 26.04 | 090
47371 |  | A | Laparo ablate liver cryosug | 16.94 | 6.76 | 6.76 | 0.85 | 24.55 | 24.55 | 090
47379 |  | C | Laparoscope procedure, liver | 0.00 | 0.00 | 0.00 | 0.00 | 0.00 | 0.00 | YYY
47380 |  | A | Open ablate liver tumor rf | 21.25 | 8.48 | 8.48 | 0.85 | 30.58 | 30.58 | 090
47381 |  | A | Open ablate liver tumor cryo | 21.00 | 8.38 | 8.38 | 0.85 | 30.23 | 30.23 | 090
47382 |  | A | Percut ablate liver rf | 12.00 | NA | 5.37 | 0.85 | NA | 18.22 | 010
47399 |  | C | Liver surgery procedure | 0.00 | 0.00 | 0.00 | 0.00 | 0.00 | 0.00 | YYY
47400 |  | A | Incision of liver duct | 32.49 | NA | 14.99 | 1.82 | NA | 49.30 | 090
47420 |  | A | Incision of bile duct | 19.88 | NA | 9.46 | 1.70 | NA | 31.04 | 090
47425 |  | A | Incision of bile duct | 19.83 | NA | 9.38 | 1.60 | NA | 30.81 | 090
47460 |  | A | Incise bile duct sphincter | 18.04 | NA | 9.26 | 1.24 | NA | 28.54 | 090
47480 |  | A | Incision of gallbladder | 10.82 | NA | 6.80 | 0.85 | NA | 18.47 | 090
47490 |  | A | Incision of gallbladder | 7.23 | NA | 7.67 | 0.33 | NA | 15.23 | 090
47500 |  | A | Injection for liver x-rays | 1.96 | NA | 0.68 | 0.09 | NA | 2.73 | 000
47505 |  | A | Injection for liver x-rays | 0.76 | 2.88 | 0.26 | 0.03 | 3.67 | 1.05 | 000
47510 |  | A | Insert catheter, bile duct | 7.83 | NA | 9.46 | 0.36 | NA | 17.65 | 090
47511 |  | A | Insert bile duct drain | 10.50 | NA | 10.57 | 0.47 | NA | 21.54 | 090
47525 |  | A | Change bile duct catheter | 5.55 | NA | 3.34 | 0.24 | NA | 9.13 | 010
47530 |  | A | Revise/reinsert bile tube | 5.85 | NA | 5.07 | 0.29 | NA | 11.21 | 090
47550 |  | A | Bile duct endoscopy add-on | 3.02 | NA | 1.08 | 0.30 | NA | 4.40 | ZZZ
47552 |  | A | Biliary endoscopy thru skin | 6.04 | NA | 2.52 | 0.42 | NA | 8.98 | 000
47553 |  | A | Biliary endoscopy thru skin | 6.35 | NA | 2.70 | 0.30 | NA | 9.35 | 000
47554 |  | A | Biliary endoscopy thru skin | 9.06 | NA | 3.55 | 0.74 | NA | 13.35 | 000
47555 |  | A | Biliary endoscopy thru skin | 7.56 | NA | 3.15 | 0.35 | NA | 11.06 | 000
47556 |  | A | Biliary endoscopy thru skin | 8.56 | NA | 3.49 | 0.38 | NA | 12.43 | 000
47560 |  | A | Laparoscopy w/cholangio | 4.89 | NA | 1.89 | 0.49 | NA | 7.27 | 000
47561 |  | A | Laparo w/cholangio/biopsy | 5.18 | NA | 2.19 | 0.49 | NA | 7.86 | 000
47562 |  | A | Laparoscopic cholecystectomy | 11.09 | NA | 5.15 | 1.13 | NA | 17.37 | 090
47563 |  | A | Laparo cholecystectomy/graph | 11.94 | NA | 5.43 | 1.21 | NA | 18.58 | 090
47564 |  | A | Laparo cholecystectomy/explr | 14.23 | NA | 6.26 | 1.44 | NA | 21.93 | 090
47570 |  | A | Laparo cholecystoenterostomy | 12.58 | NA | 5.67 | 1.28 | NA | 19.53 | 090
47579 |  | C | Laparoscope proc, biliary | 0.00 | 0.00 | 0.00 | 0.00 | 0.00 | 0.00 | YYY
47600 |  | A | Removal of gallbladder | 13.58 | NA | 6.86 | 1.16 | NA | 21.60 | 090
47605 |  | A | Removal of gallbladder | 14.69 | NA | 7.23 | 1.25 | NA | 23.17 | 090
47610 |  | A | Removal of gallbladder | 18.82 | NA | 8.80 | 1.61 | NA | 29.23 | 090
47612 |  | A | Removal of gallbladder | 18.78 | NA | 8.70 | 1.60 | NA | 29.08 | 090
47620 |  | A | Removal of gallbladder | 20.64 | NA | 9.35 | 1.77 | NA | 31.76 | 090
47630 |  | A | Remove bile duct stone | 9.11 | NA | 3.20 | 0.46 | NA | 12.77 | 090
47700 |  | A | Exploration of bile ducts | 15.62 | NA | 8.79 | 1.40 | NA | 25.81 | 090
47701 |  | A | Bile duct revision | 27.81 | NA | 13.60 | 3.00 | NA | 44.41 | 090
47711 |  | A | Excision of bile duct tumor | 23.03 | NA | 11.34 | 1.98 | NA | 36.35 | 090
47712 |  | A | Excision of bile duct tumor | 30.24 | NA | 14.00 | 2.67 | NA | 46.91 | 090
47715 |  | A | Excision of bile duct cyst | 18.80 | NA | 8.95 | 1.59 | NA | 29.34 | 090
47716 |  | A | Fusion of bile duct cyst | 16.44 | NA | 8.19 | 1.41 | NA | 26.04 | 090
47720 |  | A | Fuse gallbladder & bowel | 15.91 | NA | 8.66 | 1.37 | NA | 25.94 | 090
47721 |  | A | Fuse upper gi structures | 19.12 | NA | 9.90 | 1.63 | NA | 30.65 | 090
47740 |  | A | Fuse gallbladder & bowel | 18.48 | NA | 9.64 | 1.59 | NA | 29.71 | 090
47741 |  | A | Fuse gallbladder & bowel | 21.34 | NA | 10.62 | 1.82 | NA | 33.78 | 090
47760 |  | A | Fuse bile ducts and bowel | 25.85 | NA | 12.28 | 2.21 | NA | 40.34 | 090
47765 |  | A | Fuse liver ducts & bowel | 24.88 | NA | 12.73 | 2.18 | NA | 39.79 | 090
47780 |  | A | Fuse bile ducts and bowel | 26.50 | NA | 12.49 | 2.27 | NA | 41.26 | 090
47785 |  | A | Fuse bile ducts and bowel | 31.18 | NA | 14.97 | 2.69 | NA | 48.84 | 090
47800 |  | A | Reconstruction of bile ducts | 23.30 | NA | 11.57 | 1.95 | NA | 36.82 | 090
47801 |  | A | Placement, bile duct support | 15.17 | NA | 10.21 | 0.69 | NA | 26.07 | 090
47802 |  | A | Fuse liver duct & intestine | 21.55 | NA | 11.60 | 1.84 | NA | 34.99 | 090
47900 |  | A | Suture bile duct injury | 19.90 | NA | 10.25 | 1.65 | NA | 31.80 | 090
47999 |  | C | Bile tract surgery procedure | 0.00 | 0.00 | 0.00 | 0.00 | 0.00 | 0.00 | YYY
48000 |  | A | Drainage of abdomen | 28.07 | NA | 12.59 | 1.32 | NA | 41.98 | 090
48001 |  | A | Placement of drain, pancreas | 35.45 | NA | 15.04 | 1.90 | NA | 52.39 | 090
48005 |  | A | Resect/debride pancreas | 42.17 | NA | 17.39 | 2.26 | NA | 61.82 | 090
48020 |  | A | Removal of pancreatic stone | 15.70 | NA | 7.44 | 1.36 | NA | 24.50 | 090
48100 |  | A | Biopsy of pancreas, open | 12.23 | NA | 7.03 | 1.08 | NA | 20.34 | 090
48102 |  | A | Needle biopsy, pancreas | 4.68 | 8.96 | 2.45 | 0.20 | 13.84 | 7.33 | 010
48120 |  | A | Removal of pancreas lesion | 15.85 | NA | 7.69 | 1.35 | NA | 24.89 | 090
48140 |  | A | Partial removal of pancreas | 22.94 | NA | 10.78 | 2.12 | NA | 35.84 | 090
48145 |  | A | Partial removal of pancreas | 24.02 | NA | 11.48 | 2.25 | NA | 37.75 | 090
48146 |  | A | Pancreatectomy | 26.40 | NA | 13.96 | 2.43 | NA | 42.79 | 090
48148 |  | A | Removal of pancreatic duct | 17.34 | NA | 9.15 | 1.61 | NA | 28.10 | 090
48150 |  | A | Partial removal of pancreas | 48.00 | NA | 21.29 | 4.43 | NA | 73.72 | 090
48152 |  | A | Pancreatectomy | 43.75 | NA | 20.74 | 4.07 | NA | 68.56 | 090
48153 |  | A | Pancreatectomy | 47.89 | NA | 22.18 | 4.40 | NA | 74.47 | 090
48154 |  | A | Pancreatectomy | 44.10 | NA | 20.82 | 4.10 | NA | 69.02 | 090
48155 |  | A | Removal of pancreas | 24.64 | NA | 13.89 | 2.30 | NA | 40.83 | 090
48160 |  | N | Pancreas removal/transplant | 0.00 | 0.00 | 0.00 | 0.00 | 0.00 | 0.00 | XXX
48180 |  | A | Fuse pancreas and bowel | 24.72 | NA | 11.16 | 2.24 | NA | 38.12 | 090
48400 |  | A | Injection, intraop add-on | 1.95 | NA | 0.69 | 0.10 | NA | 2.74 | ZZZ
48500 |  | A | Surgery of pancreatic cyst | 15.28 | NA | 7.74 | 1.35 | NA | 24.37 | 090
48510 |  | A | Drain pancreatic pseudocyst | 14.31 | NA | 7.45 | 1.07 | NA | 22.83 | 090
48511 |  | A | Drain pancreatic pseudocyst | 4.00 | NA | 3.95 | 0.17 | NA | 8.12 | 000
48520 |  | A | Fuse pancreas cyst and bowel | 15.59 | NA | 7.49 | 1.41 | NA | 24.49 | 090
48540 |  | A | Fuse pancreas cyst and bowel | 19.72 | NA | 8.84 | 1.82 | NA | 30.38 | 090
48545 |  | A | Pancreatorrhaphy | 18.18 | NA | 8.88 | 1.61 | NA | 28.67 | 090
48547 |  | A | Duodenal exclusion | 25.83 | NA | 11.04 | 2.30 | NA | 39.17 | 090
48550 |  | X | Donor pancreatectomy | 0.00 | 0.00 | 0.00 | 0.00 | 0.00 | 0.00 | XXX
48554 |  | R | Transpl allograft pancreas | 34.17 | NA | 12.27 | 3.30 | NA | 49.74 | 090
48556 |  | A | Removal, allograft pancreas | 15.71 | NA | 8.71 | 1.52 | NA | 25.94 | 090
48999 |  | C | Pancreas surgery procedure | 0.00 | 0.00 | 0.00 | 0.00 | 0.00 | 0.00 | YYY
49000 |  | A | Exploration of abdomen | 11.68 | NA | 6.22 | 1.17 | NA | 19.07 | 090
49002 |  | A | Reopening of abdomen | 10.49 | NA | 6.10 | 1.06 | NA | 17.65 | 090
49010 |  | A | Exploration behind abdomen | 12.28 | NA | 7.05 | 1.22 | NA | 20.55 | 090
49020 |  | A | Drain abdominal abscess | 22.84 | NA | 11.41 | 1.31 | NA | 35.56 | 090
49021 |  | A | Drain abdominal abscess | 3.38 | NA | 5.84 | 0.16 | NA | 9.38 | 000
49040 |  | A | Drain, open, abdom abscess | 13.52 | NA | 8.02 | 0.84 | NA | 22.38 | 090
49041 |  | A | Drain, percut, abdom abscess | 4.00 | NA | 6.07 | 0.18 | NA | 10.25 | 000
49060 |  | A | Drain, open, retrop abscess | 15.86 | NA | 9.62 | 0.77 | NA | 26.25 | 090
49061 |  | A | Drain, percut, retroper absc | 3.70 | NA | 5.99 | 0.17 | NA | 9.86 | 000
49062 |  | A | Drain to peritoneal cavity | 11.36 | NA | 7.06 | 1.08 | NA | 19.50 | 090
49080 |  | A | Puncture, peritoneal cavity | 1.35 | 4.56 | 0.48 | 0.07 | 5.98 | 1.90 | 000
49081 |  | A | Removal of abdominal fluid | 1.26 | 3.14 | 0.60 | 0.06 | 4.46 | 1.92 | 000
49085 |  | A | Remove abdomen foreign body | 12.14 | NA | 6.72 | 0.88 | NA | 19.74 | 090
49180 |  | A | Biopsy, abdominal mass | 1.73 | 8.50 | 0.60 | 0.08 | 10.31 | 2.41 | 000
49200 |  | A | Removal of abdominal lesion | 10.25 | NA | 6.59 | 0.89 | NA | 17.73 | 090
49201 |  | A | Removal of abdominal lesion | 14.84 | NA | 8.90 | 1.44 | NA | 25.18 | 090
49215 |  | A | Excise sacral spine tumor | 33.50 | NA | 15.52 | 2.48 | NA | 51.50 | 090
49220 |  | A | Multiple surgery, abdomen | 14.88 | NA | 7.94 | 1.51 | NA | 24.33 | 090
49250 |  | A | Excision of umbilicus | 8.35 | NA | 5.26 | 0.84 | NA | 14.45 | 090
49255 |  | A | Removal of omentum | 11.14 | NA | 6.66 | 1.12 | NA | 18.92 | 090
49320 |  | A | Diag laparo separate proc | 5.10 | NA | 3.08 | 0.50 | NA | 8.68 | 010
49321 |  | A | Laparoscopy, biopsy | 5.40 | NA | 3.07 | 0.53 | NA | 9.00 | 010
49322 |  | A | Laparoscopy, aspiration | 5.70 | NA | 3.53 | 0.57 | NA | 9.80 | 010
49323 |  | A | Laparo drain lymphocele | 9.48 | NA | 4.18 | 0.88 | NA | 14.54 | 090
49329 |  | C | Laparo proc, abdm/per/oment | 0.00 | 0.00 | 0.00 | 0.00 | 0.00 | 0.00 | YYY
49400 |  | A | Air injection into abdomen | 1.88 | NA | 0.82 | 0.11 | NA | 2.81 | 000
49420 |  | A | Insert abdominal drain | 2.22 | NA | 0.98 | 0.13 | NA | 3.33 | 000
49421 |  | A | Insert abdominal drain | 5.54 | NA | 4.08 | 0.55 | NA | 10.17 | 090
49422 |  | A | Remove perm cannula/catheter | 6.25 | NA | 3.01 | 0.63 | NA | 9.89 | 010
49423 |  | A | Exchange drainage catheter | 1.46 | NA | 0.70 | 0.07 | NA | 2.23 | 000
49424 |  | A | Assess cyst, contrast inject | 0.76 | NA | 0.45 | 0.03 | NA | 1.24 | 000
49425 |  | A | Insert abdomen-venous drain | 11.37 | NA | 6.79 | 1.21 | NA | 19.37 | 090
49426 |  | A | Revise abdomen-venous shunt | 9.63 | NA | 6.17 | 0.93 | NA | 16.73 | 090
49427 |  | A | Injection, abdominal shunt | 0.89 | NA | 0.50 | 0.05 | NA | 1.44 | 000
49428 |  | A | Ligation of shunt | 6.06 | NA | 3.19 | 0.31 | NA | 9.56 | 010
49429 |  | A | Removal of shunt | 7.40 | NA | 3.55 | 0.81 | NA | 11.76 | 010
49491 |  | A | Repairing hern premie reduc | 11.13 | NA | 5.65 | 1.00 | NA | 17.78 | 090
49492 |  | A | Rpr ing hern premie, blocked | 14.03 | NA | 6.40 | 1.42 | NA | 21.85 | 090
49495 |  | A | Rpr ing hernia baby, reduc | 5.89 | NA | 3.72 | 0.55 | NA | 10.16 | 090
49496 |  | A | Rpr ing hernia baby, blocked | 8.79 | NA | 5.94 | 0.89 | NA | 15.62 | 090
49500 |  | A | Rpr ing hernia, init, reduce | 5.48 | NA | 3.48 | 0.46 | NA | 9.42 | 090
49501 |  | A | Rpr ing hernia, init blocked | 8.88 | NA | 4.62 | 0.76 | NA | 14.26 | 090
49505 |  | A | Rpr i/hern init reduc>5 yr | 7.60 | 4.58 | 4.13 | 0.65 | 12.83 | 12.38 | 090
49507 |  | A | Rpr i/hern init block>5 yr | 9.57 | NA | 6.17 | 0.83 | NA | 16.57 | 090
49520 |  | A | Rerepair ing hernia, reduce | 9.63 | NA | 5.49 | 0.84 | NA | 15.96 | 090
49521 |  | A | Rerepair ing hernia, blocked | 11.97 | NA | 5.85 | 1.04 | NA | 18.86 | 090
49525 |  | A | Repair ing hernia, sliding | 8.57 | NA | 4.97 | 0.74 | NA | 14.28 | 090
49540 |  | A | Repair lumbar hernia | 10.39 | NA | 5.65 | 0.90 | NA | 16.94 | 090
49550 |  | A | Rpr fem hernia, init, reduce | 8.63 | NA | 4.55 | 0.75 | NA | 13.93 | 090
49553 |  | A | Rpr fem hernia, init blocked | 9.44 | NA | 4.95 | 0.83 | NA | 15.22 | 090
49555 |  | A | Rerepair fem hernia, reduce | 9.03 | NA | 5.30 | 0.79 | NA | 15.12 | 090
49557 |  | A | Rerepair fem hernia, blocked | 11.15 | NA | 5.59 | 0.97 | NA | 17.71 | 090
49560 |  | A | Rpr ventral hern init, reduc | 11.57 | NA | 6.11 | 1.00 | NA | 18.68 | 090
49561 |  | A | Rpr ventral hern init, block | 14.25 | NA | 6.71 | 1.23 | NA | 22.19 | 090
49565 |  | A | Rerepair ventrl hern, reduce | 11.57 | NA | 6.27 | 1.00 | NA | 18.84 | 090
49566 |  | A | Rerepair ventrl hern, block | 14.40 | NA | 6.79 | 1.24 | NA | 22.43 | 090
49568 |  | A | Hernia repair w/mesh | 4.89 | NA | 1.76 | 0.50 | NA | 7.15 | ZZZ
49570 |  | A | Rpr epigastric hern, reduce | 5.69 | NA | 3.54 | 0.50 | NA | 9.73 | 090
49572 |  | A | Rpr epigastric hern, blocked | 6.73 | NA | 4.00 | 0.58 | NA | 11.31 | 090
49580 |  | A | Rpr umbil hern, reduc <5 yr | 4.11 | NA | 3.03 | 0.34 | NA | 7.48 | 090
49582 |  | A | Rpr umbil hern, block < 5 yr | 6.65 | NA | 5.02 | 0.57 | NA | 12.24 | 090
49585 |  | A | Rpr umbil hern, reduc > 5 yr | 6.23 | NA | 4.15 | 0.53 | NA | 10.91 | 090
49587 |  | A | Rpr umbil hern, block > 5 yr | 7.56 | NA | 4.27 | 0.65 | NA | 12.48 | 090
49590 |  | A | Repair spigelian hernia | 8.54 | NA | 4.96 | 0.74 | NA | 14.24 | 090
49600 |  | A | Repair umbilical lesion | 10.96 | NA | 6.30 | 1.13 | NA | 18.39 | 090
49605 |  | A | Repair umbilical lesion | 76.00 | NA | 30.79 | 2.57 | NA | 109.36 | 090
49606 |  | A | Repair umbilical lesion | 18.60 | NA | 9.61 | 2.22 | NA | 30.43 | 090
49610 |  | A | Repair umbilical lesion | 10.50 | NA | 6.87 | 0.77 | NA | 18.14 | 090
49611 |  | A | Repair umbilical lesion | 8.92 | NA | 6.56 | 0.65 | NA | 16.13 | 090
49650 |  | A | Laparo hernia repair initial | 6.27 | NA | 3.33 | 0.64 | NA | 10.24 | 090
49651 |  | A | Laparo hernia repair recur | 8.24 | NA | 4.40 | 0.84 | NA | 13.48 | 090
49659 |  | C | Laparo proc, hernia repair | 0.00 | 0.00 | 0.00 | 0.00 | 0.00 | 0.00 | YYY
49900 |  | A | Repair of abdominal wall | 12.28 | NA | 6.80 | 1.23 | NA | 20.31 | 090
49905 |  | A | Omental flap | 6.55 | NA | 2.44 | 0.61 | NA | 9.60 | ZZZ
49906 |  | C | Free omental flap, microvasc | 0.00 | 0.00 | 0.00 | 0.00 | 0.00 | 0.00 | 090
49999 |  | C | Abdomen surgery procedure | 0.00 | 0.00 | 0.00 | 0.00 | 0.00 | 0.00 | YYY
50010 |  | A | Exploration of kidney | 10.98 | NA | 7.07 | 0.79 | NA | 18.84 | 090
50020 |  | A | Renal abscess, open drain | 14.66 | NA | 13.72 | 0.80 | NA | 29.18 | 090
50021 |  | A | Renal abscess, percut drain | 3.38 | NA | 10.46 | 0.15 | NA | 13.99 | 000
50040 |  | A | Drainage of kidney | 14.94 | NA | 11.56 | 0.82 | NA | 27.32 | 090
50045 |  | A | Exploration of kidney | 15.46 | NA | 8.55 | 1.06 | NA | 25.07 | 090
50060 |  | A | Removal of kidney stone | 19.30 | NA | 10.03 | 1.14 | NA | 30.47 | 090
50065 |  | A | Incision of kidney | 20.79 | NA | 10.56 | 1.13 | NA | 32.48 | 090
50070 |  | A | Incision of kidney | 20.32 | NA | 10.70 | 1.20 | NA | 32.22 | 090
50075 |  | A | Removal of kidney stone | 25.34 | NA | 12.65 | 1.51 | NA | 39.50 | 090
50080 |  | A | Removal of kidney stone | 14.71 | NA | 11.03 | 0.86 | NA | 26.60 | 090
50081 |  | A | Removal of kidney stone | 21.80 | NA | 13.27 | 1.30 | NA | 36.37 | 090
50100 |  | A | Revise kidney blood vessels | 16.09 | NA | 9.34 | 1.64 | NA | 27.07 | 090
50120 |  | A | Exploration of kidney | 15.91 | NA | 8.93 | 1.04 | NA | 25.88 | 090
50125 |  | A | Explore and drain kidney | 16.52 | NA | 9.48 | 1.07 | NA | 27.07 | 090
50130 |  | A | Removal of kidney stone | 17.29 | NA | 9.24 | 1.04 | NA | 27.57 | 090
50135 |  | A | Exploration of kidney | 19.18 | NA | 9.93 | 1.18 | NA | 30.29 | 090
50200 |  | A | Biopsy of kidney | 2.63 | NA | 0.96 | 0.12 | NA | 3.71 | 000
50205 |  | A | Biopsy of kidney | 11.31 | NA | 6.52 | 0.94 | NA | 18.77 | 090
50220 |  | A | Remove kidney, open | 17.15 | NA | 9.29 | 1.16 | NA | 27.60 | 090
50225 |  | A | Removal kidney open, complex | 20.23 | NA | 10.30 | 1.26 | NA | 31.79 | 090
50230 |  | A | Removal kidney open, radical | 22.07 | NA | 10.92 | 1.35 | NA | 34.34 | 090
50234 |  | A | Removal of kidney & ureter | 22.40 | NA | 11.05 | 1.37 | NA | 34.82 | 090
50236 |  | A | Removal of kidney & ureter | 24.86 | NA | 14.27 | 1.50 | NA | 40.63 | 090
50240 |  | A | Partial removal of kidney | 22.00 | NA | 13.32 | 1.36 | NA | 36.68 | 090
50280 |  | A | Removal of kidney lesion | 15.67 | NA | 8.69 | 0.99 | NA | 25.35 | 090
50290 |  | A | Removal of kidney lesion | 14.73 | NA | 8.49 | 1.11 | NA | 24.33 | 090
50300 |  | X | Removal of donor kidney | 0.00 | 0.00 | 0.00 | 0.00 | 0.00 | 0.00 | XXX
50320 |  | A | Removal of donor kidney | 22.21 | NA | 10.98 | 1.78 | NA | 34.97 | 090
50340 |  | A | Removal of kidney | 12.15 | NA | 9.31 | 1.15 | NA | 22.61 | 090
50360 |  | A | Transplantation of kidney | 31.53 | NA | 17.87 | 2.97 | NA | 52.37 | 090
50365 |  | A | Transplantation of kidney | 36.81 | NA | 21.29 | 3.51 | NA | 61.61 | 090
50370 |  | A | Remove transplanted kidney | 13.72 | NA | 9.88 | 1.26 | NA | 24.86 | 090
50380 |  | A | Reimplantation of kidney | 20.76 | NA | 13.52 | 1.80 | NA | 36.08 | 090
50390 |  | A | Drainage of kidney lesion | 1.96 | NA | 0.68 | 0.09 | NA | 2.73 | 000
50392 |  | A | Insert kidney drain | 3.38 | NA | 1.18 | 0.15 | NA | 4.71 | 000
50393 |  | A | Insert ureteral tube | 4.16 | NA | 1.44 | 0.18 | NA | 5.78 | 000
50394 |  | A | Injection for kidney x-ray | 0.76 | 2.60 | 0.26 | 0.04 | 3.40 | 1.06 | 000
50395 |  | A | Create passage to kidney | 3.38 | NA | 1.17 | 0.16 | NA | 4.71 | 000
50396 |  | A | Measure kidney pressure | 2.09 | NA | 0.89 | 0.10 | NA | 3.08 | 000
50398 |  | A | Change kidney tube | 1.46 | 1.06 | 0.51 | 0.07 | 2.59 | 2.04 | 000
50400 |  | A | Revision of kidney/ureter | 19.50 | NA | 10.06 | 1.21 | NA | 30.77 | 090
50405 |  | A | Revision of kidney/ureter | 23.93 | NA | 11.84 | 1.45 | NA | 37.22 | 090
50500 |  | A | Repair of kidney wound | 19.57 | NA | 11.37 | 1.45 | NA | 32.39 | 090
50520 |  | A | Close kidney-skin fistula | 17.23 | NA | 11.80 | 1.26 | NA | 30.29 | 090
50525 |  | A | Repair renal-abdomen fistula | 22.27 | NA | 13.30 | 1.51 | NA | 37.08 | 090
50526 |  | A | Repair renal-abdomen fistula | 24.02 | NA | 14.86 | 1.62 | NA | 40.50 | 090
50540 |  | A | Revision of horseshoe kidney | 19.93 | NA | 10.42 | 1.28 | NA | 31.63 | 090
50541 |  | A | Laparo ablate renal cyst | 16.00 | NA | 6.79 | 0.99 | NA | 23.78 | 090
50544 |  | A | Laparoscopy, pyeloplasty | 22.40 | NA | 9.04 | 1.41 | NA | 32.85 | 090
50545 |  | A | Laparo radical nephrectomy | 24.00 | NA | 9.65 | 1.53 | NA | 35.18 | 090
50546 |  | A | Laparoscopic nephrectomy | 20.48 | NA | 8.40 | 1.37 | NA | 30.25 | 090
50547 |  | A | Laparo removal donor kidney | 25.50 | NA | 11.27 | 2.04 | NA | 38.81 | 090
50548 |  | A | Laparo remove k/ureter | 24.40 | NA | 9.70 | 1.49 | NA | 35.59 | 090
50549 |  | C | Laparoscope proc, renal | 0.00 | 0.00 | 0.00 | 0.00 | 0.00 | 0.00 | YYY
50551 |  | A | Kidney endoscopy | 5.60 | 4.93 | 1.90 | 0.33 | 10.86 | 7.83 | 000
50553 |  | A | Kidney endoscopy | 5.99 | 16.25 | 2.05 | 0.35 | 22.59 | 8.39 | 000
50555 |  | A | Kidney endoscopy & biopsy | 6.53 | 20.11 | 2.25 | 0.38 | 27.02 | 9.16 | 000
50557 |  | A | Kidney endoscopy & treatment | 6.62 | 20.23 | 2.25 | 0.39 | 27.24 | 9.26 | 000
50559 |  | A | Renal endoscopy/radiotracer | 6.78 | NA | 2.42 | 0.27 | NA | 9.47 | 000
50561 |  | A | Kidney endoscopy & treatment | 7.59 | 18.31 | 2.58 | 0.44 | 26.34 | 10.61 | 000
50570 |  | A | Kidney endoscopy | 9.54 | NA | 3.24 | 0.56 | NA | 13.34 | 000
50572 |  | A | Kidney endoscopy | 10.35 | NA | 3.52 | 0.64 | NA | 14.51 | 000
50574 |  | A | Kidney endoscopy & biopsy | 11.02 | NA | 3.87 | 0.65 | NA | 15.54 | 000
50575 |  | A | Kidney endoscopy | 13.98 | NA | 4.73 | 0.84 | NA | 19.55 | 000
50576 |  | A | Kidney endoscopy & treatment | 10.99 | NA | 3.74 | 0.66 | NA | 15.39 | 000
50578 |  | A | Renal endoscopy/radiotracer | 11.35 | NA | 4.01 | 0.67 | NA | 16.03 | 000
50580 |  | A | Kidney endoscopy & treatment | 11.86 | NA | 4.03 | 0.70 | NA | 16.59 | 000
50590 |  | A | Fragmenting of kidney stone | 9.09 | 10.78 | 5.35 | 0.54 | 20.41 | 14.98 | 090
50600 |  | A | Exploration of ureter | 15.84 | NA | 9.07 | 0.99 | NA | 25.90 | 090
50605 |  | A | Insert ureteral support | 15.46 | NA | 8.88 | 1.13 | NA | 25.47 | 090
50610 |  | A | Removal of ureter stone | 15.92 | NA | 9.09 | 1.08 | NA | 26.09 | 090
50620 |  | A | Removal of ureter stone | 15.16 | NA | 8.55 | 0.91 | NA | 24.62 | 090
50630 |  | A | Removal of ureter stone | 14.94 | NA | 8.48 | 0.90 | NA | 24.32 | 090
50650 |  | A | Removal of ureter | 17.41 | NA | 9.71 | 1.07 | NA | 28.19 | 090
50660 |  | A | Removal of ureter | 19.55 | NA | 10.43 | 1.19 | NA | 31.17 | 090
50684 |  | A | Injection for ureter x-ray | 0.76 | 15.02 | 0.26 | 0.04 | 15.82 | 1.06 | 000
50686 |  | A | Measure ureter pressure | 1.51 | 5.08 | 0.65 | 0.09 | 6.68 | 2.25 | 000
50688 |  | A | Change of ureter tube | 1.17 | NA | 1.76 | 0.06 | NA | 2.99 | 010
50690 |  | A | Injection for ureter x-ray | 1.16 | 15.40 | 0.40 | 0.06 | 16.62 | 1.62 | 000
50700 |  | A | Revision of ureter | 15.21 | NA | 9.09 | 0.86 | NA | 25.16 | 090
50715 |  | A | Release of ureter | 18.90 | NA | 12.37 | 1.68 | NA | 32.95 | 090
50722 |  | A | Release of ureter | 16.35 | NA | 10.42 | 1.41 | NA | 28.18 | 090
50725 |  | A | Release/revise ureter | 18.49 | NA | 10.61 | 1.44 | NA | 30.54 | 090
50727 |  | A | Revise ureter | 8.18 | NA | 6.54 | 0.51 | NA | 15.23 | 090
50728 |  | A | Revise ureter | 12.02 | NA | 8.18 | 0.88 | NA | 21.08 | 090
50740 |  | A | Fusion of ureter & kidney | 18.42 | NA | 9.66 | 1.49 | NA | 29.57 | 090
50750 |  | A | Fusion of ureter & kidney | 19.51 | NA | 10.48 | 1.24 | NA | 31.23 | 090
50760 |  | A | Fusion of ureters | 18.42 | NA | 10.11 | 1.25 | NA | 29.78 | 090
50770 |  | A | Splicing of ureters | 19.51 | NA | 10.43 | 1.25 | NA | 31.19 | 090
50780 |  | A | Reimplant ureter in bladder | 18.36 | NA | 10.01 | 1.20 | NA | 29.57 | 090
50782 |  | A | Reimplant ureter in bladder | 19.54 | NA | 11.91 | 1.13 | NA | 32.58 | 090
50783 |  | A | Reimplant ureter in bladder | 20.55 | NA | 11.22 | 1.35 | NA | 33.12 | 090
50785 |  | A | Reimplant ureter in bladder | 20.52 | NA | 10.83 | 1.30 | NA | 32.65 | 090
50800 |  | A | Implant ureter in bowel | 14.52 | NA | 10.02 | 0.92 | NA | 25.46 | 090
50810 |  | A | Fusion of ureter & bowel | 20.05 | NA | 12.23 | 1.78 | NA | 34.06 | 090
50815 |  | A | Urine shunt to intestine | 19.93 | NA | 11.71 | 1.31 | NA | 32.95 | 090
50820 |  | A | Construct bowel bladder | 21.89 | NA | 12.38 | 1.38 | NA | 35.65 | 090
50825 |  | A | Construct bowel bladder | 28.18 | NA | 15.30 | 1.81 | NA | 45.29 | 090
50830 |  | A | Revise urine flow | 31.28 | NA | 15.96 | 2.20 | NA | 49.44 | 090
50840 |  | A | Replace ureter by bowel | 20.00 | NA | 11.83 | 1.26 | NA | 33.09 | 090
50845 |  | A | Appendico-vesicostomy | 20.89 | NA | 10.20 | 1.26 | NA | 32.35 | 090
50860 |  | A | Transplant ureter to skin | 15.36 | NA | 8.93 | 1.01 | NA | 25.30 | 090
50900 |  | A | Repair of ureter | 13.62 | NA | 8.08 | 0.98 | NA | 22.68 | 090
50920 |  | A | Closure ureter/skin fistula | 14.33 | NA | 8.37 | 0.84 | NA | 23.54 | 090
50930 |  | A | Closure ureter/bowel fistula | 18.72 | NA | 10.80 | 1.57 | NA | 31.09 | 090
50940 |  | A | Release of ureter | 14.51 | NA | 8.44 | 1.04 | NA | 23.99 | 090
50945 |  | A | Laparoscopy ureterolithotomy | 17.00 | NA | 7.42 | 1.15 | NA | 25.57 | 090
50947 |  | A | Laparo new ureter/bladder | 24.50 | NA | 11.74 | 1.99 | NA | 38.23 | 090
50948 |  | A | Laparo new ureter/bladder | 22.50 | NA | 10.61 | 1.83 | NA | 34.94 | 090
50949 |  | C | Laparoscope proc, ureter | 0.00 | 0.00 | 0.00 | 0.00 | 0.00 | 0.00 | YYY
50951 |  | A | Endoscopy of ureter | 5.84 | 5.28 | 1.98 | 0.35 | 11.47 | 8.17 | 000
50953 |  | A | Endoscopy of ureter | 6.24 | 16.55 | 2.12 | 0.37 | 23.16 | 8.73 | 000
50955 |  | A | Ureter endoscopy & biopsy | 6.75 | 21.11 | 2.38 | 0.38 | 28.24 | 9.51 | 000
50957 |  | A | Ureter endoscopy & treatment | 6.79 | 19.64 | 2.28 | 0.40 | 26.83 | 9.47 | 000
50959 |  | A | Ureter endoscopy & tracer | 4.40 | NA | 1.58 | 0.18 | NA | 6.16 | 000
50961 |  | A | Ureter endoscopy & treatment | 6.05 | 23.38 | 2.04 | 0.35 | 29.78 | 8.44 | 000
50970 |  | A | Ureter endoscopy | 7.14 | NA | 2.43 | 0.43 | NA | 10.00 | 000
50972 |  | A | Ureter endoscopy & catheter | 6.89 | NA | 2.52 | 0.39 | NA | 9.80 | 000
50974 |  | A | Ureter endoscopy & biopsy | 9.17 | NA | 3.16 | 0.53 | NA | 12.86 | 000
50976 |  | A | Ureter endoscopy & treatment | 9.04 | NA | 3.09 | 0.53 | NA | 12.66 | 000
50978 |  | A | Ureter endoscopy & tracer | 5.10 | NA | 1.88 | 0.30 | NA | 7.28 | 000
50980 |  | A | Ureter endoscopy & treatment | 6.85 | NA | 2.34 | 0.41 | NA | 9.60 | 000
51000 |  | A | Drainage of bladder | 0.78 | 2.03 | 0.25 | 0.05 | 2.86 | 1.08 | 000
51005 |  | A | Drainage of bladder | 1.02 | 3.37 | 0.35 | 0.08 | 4.47 | 1.45 | 000
51010 |  | A | Drainage of bladder | 3.53 | 4.42 | 2.37 | 0.23 | 8.18 | 6.13 | 010
51020 |  | A | Incise & treat bladder | 6.71 | NA | 5.72 | 0.42 | NA | 12.85 | 090
51030 |  | A | Incise & treat bladder | 6.77 | NA | 6.01 | 0.42 | NA | 13.20 | 090
51040 |  | A | Incise & drain bladder | 4.40 | NA | 4.47 | 0.27 | NA | 9.14 | 090
51045 |  | A | Incise bladder/drain ureter | 6.77 | NA | 6.01 | 0.47 | NA | 13.25 | 090
51050 |  | A | Removal of bladder stone | 6.92 | NA | 5.27 | 0.42 | NA | 12.61 | 090
51060 |  | A | Removal of ureter stone | 8.85 | NA | 6.53 | 0.54 | NA | 15.92 | 090
51065 |  | A | Remove ureter calculus | 8.85 | NA | 6.06 | 0.53 | NA | 15.44 | 090
51080 |  | A | Drainage of bladder abscess | 5.96 | NA | 5.67 | 0.35 | NA | 11.98 | 090
51500 |  | A | Removal of bladder cyst | 10.14 | NA | 6.13 | 0.88 | NA | 17.15 | 090
51520 |  | A | Removal of bladder lesion | 9.29 | NA | 6.66 | 0.58 | NA | 16.53 | 090
51525 |  | A | Removal of bladder lesion | 13.97 | NA | 8.15 | 0.85 | NA | 22.97 | 090
51530 |  | A | Removal of bladder lesion | 12.38 | NA | 7.81 | 0.82 | NA | 21.01 | 090
51535 |  | A | Repair of ureter lesion | 12.57 | NA | 8.23 | 0.90 | NA | 21.70 | 090
51550 |  | A | Partial removal of bladder | 15.66 | NA | 8.68 | 1.05 | NA | 25.39 | 090
51555 |  | A | Partial removal of bladder | 21.23 | NA | 11.00 | 1.37 | NA | 33.60 | 090
51565 |  | A | Revise bladder & ureter(s) | 21.62 | NA | 11.62 | 1.40 | NA | 34.64 | 090
51570 |  | A | Removal of bladder | 24.24 | NA | 12.60 | 1.59 | NA | 38.43 | 090
51575 |  | A | Removal of bladder & nodes | 30.45 | NA | 15.35 | 1.88 | NA | 47.68 | 090
51580 |  | A | Remove bladder/revise tract | 31.08 | NA | 16.01 | 1.94 | NA | 49.03 | 090
51585 |  | A | Removal of bladder & nodes | 35.23 | NA | 17.34 | 2.18 | NA | 54.75 | 090
51590 |  | A | Remove bladder/revise tract | 32.66 | NA | 16.01 | 2.01 | NA | 50.68 | 090
51595 |  | A | Remove bladder/revise tract | 37.14 | NA | 17.55 | 2.23 | NA | 56.92 | 090
51596 |  | A | Remove bladder/create pouch | 39.52 | NA | 18.94 | 2.39 | NA | 60.85 | 090
51597 |  | A | Removal of pelvic structures | 38.35 | NA | 18.06 | 2.49 | NA | 58.90 | 090
51600 |  | A | Injection for bladder x-ray | 0.88 | 5.51 | 0.30 | 0.04 | 6.43 | 1.22 | 000
51605 |  | A | Preparation for bladder x-ray | 0.64 | 16.73 | 0.22 | 0.04 | 17.41 | 0.90 | 000
51610 |  | A | Injection for bladder x-ray | 1.05 | 16.20 | 0.36 | 0.05 | 17.30 | 1.46 | 000
51700 |  | A | Irrigation of bladder | 0.88 | 1.32 | 0.30 | 0.05 | 2.25 | 1.23 | 000
51705 |  | A | Change of bladder tube | 1.02 | 2.15 | 0.65 | 0.06 | 3.23 | 1.73 | 010
51710 |  | A | Change of bladder tube | 1.49 | 5.11 | 1.47 | 0.09 | 6.69 | 3.05 | 010
51715 |  | A | Endoscopic injection/implant | 3.74 | 4.44 | 1.29 | 0.24 | 8.42 | 5.27 | 000
51720 |  | A | Treatment of bladder lesion | 1.96 | 1.68 | 0.74 | 0.12 | 3.76 | 2.82 | 000
51725 |  | A | Simple cystometrogram | 1.51 | 5.92 | NA | 0.13 | 7.56 | NA | 000
51725 | 26 | A | Simple cystometrogram | 1.51 | 0.52 | 0.52 | 0.10 | 2.13 | 2.13 | 000
51725 | TC | A | Simple cystometrogram | 0.00 | 5.40 | NA | 0.03 | 5.43 | NA | 000
51726 |  | A | Complex cystometrogram | 1.71 | 4.65 | NA | 0.15 | 6.51 | NA | 000
51726 | 26 | A | Complex cystometrogram | 1.71 | 0.59 | 0.59 | 0.11 | 2.41 | 2.41 | 000
51726 | TC | A | Complex cystometrogram | 0.00 | 4.06 | NA | 0.04 | 4.10 | NA | 000
51736 |  | A | Urine flow measurement | 0.61 | 1.07 | NA | 0.05 | 1.73 | NA | 000
51736 | 26 | A | Urine flow measurement | 0.61 | 0.21 | 0.21 | 0.04 | 0.86 | 0.86 | 000
51736 | TC | A | Urine flow measurement | 0.00 | 0.86 | NA | 0.01 | 0.87 | NA | 000
51741 |  | A | Electro-uroflowmetry, first | 1.14 | 1.93 | NA | 0.09 | 3.16 | NA | 000
51741 | 26 | A | Electro-uroflowmetry, first | 1.14 | 0.40 | 0.40 | 0.07 | 1.61 | 1.61 | 000
51741 | TC | A | Electro-uroflowmetry, first | 0.00 | 1.53 | NA | 0.02 | 1.55 | NA | 000
51772 |  | A | Urethra pressure profile | 1.61 | 4.73 | NA | 0.16 | 6.50 | NA | 000
51772 | 26 | A | Urethra pressure profile | 1.61 | 0.59 | 0.59 | 0.12 | 2.32 | 2.32 | 000
51772 | TC | A | Urethra pressure profile | 0.00 | 4.14 | NA | 0.04 | 4.18 | NA | 000
51784 |  | A | Anal/urinary muscle study | 1.53 | 3.36 | NA | 0.13 | 5.02 | NA | 000
51784 | 26 | A | Anal/urinary muscle study | 1.53 | 0.53 | 0.53 | 0.10 | 2.16 | 2.16 | 000
51784 | TC | A | Anal/urinary muscle study | 0.00 | 2.83 | NA | 0.03 | 2.86 | NA | 000
51785 |  | A | Anal/urinary muscle study | 1.53 | 3.46 | NA | 0.12 | 5.11 | NA | 000
51785 | 26 | A | Anal/urinary muscle study | 1.53 | 0.53 | 0.53 | 0.09 | 2.15 | 2.15 | 000
51785 | TC | A | Anal/urinary muscle study | 0.00 | 2.93 | NA | 0.03 | 2.96 | NA | 000
51792 |  | A | Urinary reflex study | 1.10 | 3.33 | NA | 0.20 | 4.63 | NA | 000
51792 | 26 | A | Urinary reflex study | 1.10 | 0.43 | 0.43 | 0.09 | 1.62 | 1.62 | 000
51792 | TC | A | Urinary reflex study | 0.00 | 2.90 | NA | 0.11 | 3.01 | NA | 000
51795 |  | A | Urine voiding pressure study | 1.53 | 4.84 | NA | 0.18 | 6.55 | NA | 000
51795 | 26 | A | Urine voiding pressure study | 1.53 | 0.53 | 0.53 | 0.10 | 2.16 | 2.16 | 000
51795 | TC | A | Urine voiding pressure study | 0.00 | 4.31 | NA | 0.08 | 4.39 | NA | 000
51797 |  | A | Intraabdominal pressure test | 1.60 | 4.87 | NA | 0.14 | 6.61 | NA | 000
51797 | 26 | A | Intraabdominal pressure test | 1.60 | 0.56 | 0.56 | 0.10 | 2.26 | 2.26 | 000
51797 | TC | A | Intraabdominal pressure test | 0.00 | 4.31 | NA | 0.04 | 4.35 | NA | 000
51800 |  | A | Revision of bladder/urethra | 17.42 | NA | 9.59 | 1.17 | NA | 28.18 | 090
51820 |  | A | Revision of urinary tract | 17.89 | NA | 10.91 | 1.45 | NA | 30.25 | 090
51840 |  | A | Attach bladder/urethra | 10.71 | NA | 6.88 | 0.87 | NA | 18.46 | 090
51841 |  | A | Attach bladder/urethra | 13.03 | NA | 8.57 | 1.04 | NA | 22.64 | 090
51845 |  | A | Repair bladder neck | 9.73 | NA | 6.90 | 0.62 | NA | 17.25 | 090
51860 |  | A | Repair of bladder wound | 12.02 | NA | 7.90 | 0.89 | NA | 20.81 | 090
51865 |  | A | Repair of bladder wound | 15.04 | NA | 8.93 | 1.01 | NA | 24.98 | 090
51880 |  | A | Repair of bladder opening | 7.66 | NA | 5.98 | 0.54 | NA | 14.18 | 090
51900 |  | A | Repair bladder/vagina lesion | 12.97 | NA | 8.29 | 0.87 | NA | 22.13 | 090
51920 |  | A | Close bladder-uterus fistula | 11.81 | NA | 7.65 | 0.86 | NA | 20.32 | 090
51925 |  | A | Hysterectomy/bladder repair | 15.58 | NA | 9.65 | 1.48 | NA | 26.71 | 090
51940 |  | A | Correction of bladder defect | 28.43 | NA | 16.41 | 1.97 | NA | 46.81 | 090
51960 |  | A | Revision of bladder & bowel | 23.01 | NA | 13.39 | 1.41 | NA | 37.81 | 090
51980 |  | A | Construct bladder opening | 11.36 | NA | 7.30 | 0.74 | NA | 19.40 | 090
51990 |  | A | Laparo urethral suspension | 12.50 | NA | 6.79 | 1.02 | NA | 20.31 | 090
51992 |  | A | Laparo sling operation | 14.01 | NA | 6.81 | 0.93 | NA | 21.75 | 090
52000 |  | A | Cystoscopy | 2.01 | 3.45 | 0.69 | 0.12 | 5.58 | 2.82 | 000
52001 |  | A | Cystoscopy, removal of clots | 2.37 | NA | 0.98 | 0.32 | NA | 3.67 | 000
52005 |  | A | Cystoscopy & ureter catheter | 2.37 | 13.40 | 0.91 | 0.15 | 15.92 | 3.43 | 000
52007 |  | A | Cystoscopy and biopsy | 3.02 | NA | 1.02 | 0.18 | NA | 4.22 | 000
52010 |  | A | Cystoscopy & duct catheter | 3.02 | 5.91 | 1.02 | 0.18 | 9.11 | 4.22 | 000
52204 |  | A | Cystoscopy | 2.37 | 6.17 | 0.80 | 0.15 | 8.69 | 3.32 | 000
52214 |  | A | Cystoscopy and treatment | 3.71 | 6.53 | 1.26 | 0.22 | 10.46 | 5.19 | 000
52224 |  | A | Cystoscopy and treatment | 3.14 | 6.41 | 1.07 | 0.18 | 9.73 | 4.39 | 000
52234 |  | A | Cystoscopy and treatment | 4.63 | NA | 1.68 | 0.27 | NA | 6.58 | 000
52235 |  | A | Cystoscopy and treatment | 5.45 | NA | 1.97 | 0.32 | NA | 7.74 | 000
52240 |  | A | Cystoscopy and treatment | 9.72 | NA | 3.43 | 0.58 | NA | 13.73 | 000
52250 |  | A | Cystoscopy and radiotracer | 4.50 | NA | 1.53 | 0.27 | NA | 6.30 | 000
52260 |  | A | Cystoscopy and treatment | 3.92 | NA | 1.34 | 0.23 | NA | 5.49 | 000
52265 |  | A | Cystoscopy and treatment | 2.94 | 3.77 | 1.00 | 0.18 | 6.89 | 4.12 | 000
52270 |  | A | Cystoscopy & revise urethra | 3.37 | 6.88 | 1.14 | 0.20 | 10.45 | 4.71 | 000
52275 |  | A | Cystoscopy & revise urethra | 4.70 | 7.42 | 1.59 | 0.28 | 12.40 | 6.57 | 000
52276 |  | A | Cystoscopy and treatment | 5.00 | 7.55 | 1.70 | 0.30 | 12.85 | 7.00 | 000
52277 |  | A | Cystoscopy and treatment | 6.17 | NA | 2.12 | 0.38 | NA | 8.67 | 000
52281 |  | A | Cystoscopy and treatment | 2.80 | 14.54 | 1.08 | 0.17 | 17.51 | 4.05 | 000
52282 |  | A | Cystoscopy, implant stent | 6.40 | 15.36 | 2.18 | 0.38 | 22.14 | 8.96 | 000
52283 |  | A | Cystoscopy and treatment | 3.74 | 6.58 | 1.27 | 0.22 | 10.54 | 5.23 | 000
52285 |  | A | Cystoscopy and treatment | 3.61 | 7.06 | 1.23 | 0.22 | 10.89 | 5.06 | 000
52290 |  | A | Cystoscopy and treatment | 4.59 | NA | 1.56 | 0.27 | NA | 6.42 | 000
52300 |  | A | Cystoscopy and treatment | 5.31 | NA | 1.80 | 0.32 | NA | 7.43 | 000
52301 |  | A | Cystoscopy and treatment | 5.51 | NA | 1.82 | 0.39 | NA | 7.72 | 000
52305 |  | A | Cystoscopy and treatment | 5.31 | NA | 1.80 | 0.31 | NA | 7.42 | 000
52310 |  | A | Cystoscopy and treatment | 2.81 | 3.85 | 1.02 | 0.17 | 6.83 | 4.00 | 000
52315 |  | A | Cystoscopy and treatment | 5.21 | 16.43 | 1.76 | 0.31 | 21.95 | 7.28 | 000
52317 |  | A | Remove bladder stone | 6.72 | 26.09 | 2.28 | 0.40 | 33.21 | 9.40 | 000
52318 |  | A | Remove bladder stone | 9.19 | NA | 3.11 | 0.54 | NA | 12.84 | 000
52320 |  | A | Cystoscopy and treatment | 4.70 | NA | 1.59 | 0.28 | NA | 6.57 | 000
52325 |  | A | Cystoscopy, stone removal | 6.16 | NA | 2.08 | 0.37 | NA | 8.61 | 000
52327 |  | A | Cystoscopy, inject material | 5.19 | NA | 1.77 | 0.32 | NA | 7.28 | 000
52330 |  | A | Cystoscopy and treatment | 5.04 | 20.79 | 1.71 | 0.30 | 26.13 | 7.05 | 000
52332 |  | A | Cystoscopy and treatment | 2.83 | 18.84 | 1.07 | 0.17 | 21.84 | 4.07 | 000
52334 |  | A | Create passage to kidney | 4.83 | NA | 1.63 | 0.28 | NA | 6.74 | 000
52341 |  | A | Cysto w/ureter stricture tx | 6.00 | NA | 2.40 | 0.37 | NA | 8.77 | 000
52342 |  | A | Cysto w/up stricture tx | 6.50 | NA | 2.59 | 0.40 | NA | 9.49 | 000
52343 |  | A | Cysto w/renal stricture tx | 7.20 | NA | 2.87 | 0.44 | NA | 10.51 | 000
52344 |  | A | Cysto/uretero, stone remove | 7.70 | NA | 3.07 | 0.47 | NA | 11.24 | 000
52345 |  | A | Cysto/uretero w/up stricture | 8.20 | NA | 3.27 | 0.50 | NA | 11.97 | 000
52346 |  | A | Cystouretero w/renal strict | 9.23 | NA | 3.68 | 0.57 | NA | 13.48 | 000
52347 |  | A | Cystoscopy, resect ducts | 5.28 | NA | 2.14 | 0.33 | NA | 7.75 | 000
52351 |  | A | Cystouretro & or pyeloscope | 5.86 | NA | 1.99 | 0.36 | NA | 8.21 | 000
52352 |  | A | Cystouretro w/stone remove | 6.88 | NA | 2.33 | 0.42 | NA | 9.63 | 000
52353 |  | A | Cystouretero w/lithotripsy | 7.97 | NA | 2.69 | 0.49 | NA | 11.15 | 000
52354 |  | A | Cystouretero w/biopsy | 7.34 | NA | 2.49 | 0.45 | NA | 10.28 | 000
52355 |  | A | Cystouretero w/excise tumor | 8.82 | NA | 2.99 | 0.55 | NA | 12.36 | 000
52400 |  | A | Cystouretero w/congen repr | 9.68 | NA | 5.75 | 0.60 | NA | 16.03 | 090
52450 |  | A | Incision of prostate | 7.64 | NA | 6.56 | 0.46 | NA | 14.66 | 090
52500 |  | A | Revision of bladder neck | 8.47 | NA | 6.81 | 0.50 | NA | 15.78 | 090
52510 |  | A | Dilation prostatic urethra | 6.72 | NA | 5.80 | 0.40 | NA | 12.92 | 090
52601 |  | A | Prostatectomy (TURP) | 12.37 | NA | 8.16 | 0.74 | NA | 21.27 | 090
52606 |  | A | Control postop bleeding | 8.13 | NA | 6.27 | 0.49 | NA | 14.89 | 090
52612 |  | A | Prostatectomy, first stage | 7.98 | NA | 6.72 | 0.48 | NA | 15.18 | 090
52614 |  | A | Prostatectomy, second stage | 6.84 | NA | 6.30 | 0.41 | NA | 13.55 | 090
52620 |  | A | Remove residual prostate | 6.61 | NA | 6.22 | 0.39 | NA | 13.22 | 090
52630 |  | A | Remove prostate regrowth | 7.26 | NA | 6.44 | 0.43 | NA | 14.13 | 090
52640 |  | A | Relieve bladder contracture | 6.62 | NA | 5.73 | 0.39 | NA | 12.74 | 090
52647 |  | A | Laser surgery of prostate | 10.36 | 59.33 | 4.85 | 0.61 | 70.30 | 15.82 | 090
52648 |  | A | Laser surgery of prostate | 11.21 | NA | 7.63 | 0.66 | NA | 19.50 | 090
52700 |  | A | Drainage of prostate abscess | 6.80 | NA | 6.32 | 0.41 | NA | 13.53 | 090
53000 |  | A | Incision of urethra | 2.28 | 7.47 | 2.63 | 0.13 | 9.88 | 5.04 | 010
53010 |  | A | Incision of urethra | 3.64 | NA | 4.12 | 0.20 | NA | 7.96 | 090
53020 |  | A | Incision of urethra | 1.77 | 4.43 | 0.67 | 0.11 | 6.31 | 2.55 | 000
53025 |  | A | Incision of urethra | 1.13 | 4.81 | 0.45 | 0.07 | 6.01 | 1.65 | 000
53040 |  | A | Drainage of urethra abscess | 6.40 | 14.74 | 8.33 | 0.41 | 21.55 | 15.14 | 090
53060 |  | A | Drainage of urethra abscess | 2.63 | 6.21 | 2.91 | 0.23 | 9.07 | 5.77 | 010
53080 |  | A | Drainage of urinary leakage | 6.29 | NA | 8.37 | 0.42 | NA | 15.08 | 090
53085 |  | A | Drainage of urinary leakage | 10.27 | NA | 10.29 | 0.67 | NA | 21.23 | 090
53200 |  | A | Biopsy of urethra | 2.59 | 5.63 | 0.97 | 0.17 | 8.39 | 3.73 | 000
53210 |  | A | Removal of urethra | 12.57 | NA | 8.00 | 0.81 | NA | 21.38 | 090
53215 |  | A | Removal of urethra | 15.58 | NA | 8.81 | 0.93 | NA | 25.32 | 090
53220 |  | A | Treatment of urethra lesion | 7.00 | NA | 5.71 | 0.44 | NA | 13.15 | 090
53230 |  | A | Removal of urethra lesion | 9.58 | NA | 6.36 | 0.60 | NA | 16.54 | 090
53235 |  | A | Removal of urethra lesion | 10.14 | NA | 6.49 | 0.60 | NA | 17.23 | 090
53240 |  | A | Surgery for urethra pouch | 6.45 | NA | 5.32 | 0.42 | NA | 12.19 | 090
53250 |  | A | Removal of urethra gland | 5.89 | NA | 4.74 | 0.35 | NA | 10.98 | 090
53260 |  | A | Treatment of urethra lesion | 2.98 | 6.11 | 2.44 | 0.23 | 9.32 | 5.65 | 010
53265 |  | A | Treatment of urethra lesion | 3.12 | 6.60 | 2.42 | 0.20 | 9.92 | 5.74 | 010
53270 |  | A | Removal of urethra gland | 3.09 | 7.03 | 2.83 | 0.21 | 10.33 | 6.13 | 010
53275 |  | A | Repair of urethra defect | 4.53 | NA | 3.43 | 0.28 | NA | 8.24 | 010
53400 |  | A | Revise urethra, stage 1 | 12.77 | NA | 8.31 | 0.85 | NA | 21.93 | 090
53405 |  | A | Revise urethra, stage 2 | 14.48 | NA | 8.61 | 0.91 | NA | 24.00 | 090
53410 |  | A | Reconstruction of urethra | 16.44 | NA | 9.21 | 0.99 | NA | 26.64 | 090
53415 |  | A | Reconstruction of urethra | 19.41 | NA | 10.16 | 1.16 | NA | 30.73 | 090
53420 |  | A | Reconstruct urethra, stage 1 | 14.08 | NA | 8.82 | 0.90 | NA | 23.80 | 090
53425 |  | A | Reconstruct urethra, stage 2 | 15.98 | NA | 9.02 | 0.97 | NA | 25.97 | 090
53430 |  | A | Reconstruction of urethra | 16.34 | NA | 9.34 | 1.01 | NA | 26.69 | 090
53431 |  | A | Reconstruct urethra/bladder | 19.89 | 7.94 | 7.94 | 1.25 | 29.08 | 29.08 | 090
53440 |  | A | Correct bladder function | 12.34 | NA | 8.09 | 0.73 | NA | 21.16 | 090
53442 |  | A | Remove perineal prosthesis | 8.27 | NA | 6.08 | 0.55 | NA | 14.90 | 090
53443 |  | D | Reconstruction of urethra | 0.00 | NA | 0.00 | 0.00 | NA | 0.00 | 090
53444 |  | A | Insert tandem cuff | 13.40 | NA | 6.66 | 0.79 | NA | 20.85 | 090
53445 |  | A | Insert uro/ves nck sphincter | 14.06 | NA | 8.72 | 0.84 | NA | 23.62 | 090
53446 |  | A | Remove uro sphincter | 10.23 | NA | 8.46 | 0.61 | NA | 19.30 | 090
53447 |  | A | Remove/replace ur sphincter | 13.49 | NA | 7.90 | 0.79 | NA | 22.18 | 090
53448 |  | A | Remov/replc ur sphinctr comp | 21.15 | NA | 12.35 | 1.27 | NA | 34.77 | 090
53449 |  | A | Repair uro sphincter | 9.70 | NA | 6.73 | 0.57 | NA | 17.00 | 090
53450 |  | A | Revision of urethra | 6.14 | NA | 5.16 | 0.37 | NA | 11.67 | 090
53460 |  | A | Revision of urethra | 7.12 | NA | 5.50 | 0.43 | NA | 13.05 | 090
53502 |  | A | Repair of urethra injury | 7.63 | NA | 5.80 | 0.50 | NA | 13.93 | 090
53505 |  | A | Repair of urethra injury | 7.63 | NA | 5.62 | 0.46 | NA | 13.71 | 090
53510 |  | A | Repair of urethra injury | 10.11 | NA | 6.58 | 0.60 | NA | 17.29 | 090
53515 |  | A | Repair of urethra injury | 13.31 | NA | 7.81 | 0.83 | NA | 21.95 | 090
53520 |  | A | Repair of urethra defect | 8.68 | NA | 6.12 | 0.53 | NA | 15.33 | 090
53600 |  | A | Dilate urethra stricture | 1.21 | 1.19 | 0.46 | 0.07 | 2.47 | 1.74 | 000
53601 |  | A | Dilate urethra stricture | 0.98 | 1.31 | 0.40 | 0.06 | 2.35 | 1.44 | 000
53605 |  | A | Dilate urethra stricture | 1.28 | NA | 0.44 | 0.08 | NA | 1.80 | 000
53620 |  | A | Dilate urethra stricture | 1.62 | 1.91 | 0.63 | 0.10 | 3.63 | 2.35 | 000
53621 |  | A | Dilate urethra stricture | 1.35 | 2.00 | 0.52 | 0.08 | 3.43 | 1.95 | 000
53660 |  | A | Dilation of urethra | 0.71 | 1.22 | 0.33 | 0.04 | 1.97 | 1.08 | 000
53661 |  | A | Dilation of urethra | 0.72 | 1.21 | 0.31 | 0.04 | 1.97 | 1.07 | 000
53665 |  | A | Dilation of urethra | 0.76 | NA | 0.27 | 0.05 | NA | 1.08 | 000
53670 |  | A | Insert urinary catheter | 0.50 | 1.74 | 0.18 | 0.03 | 2.27 | 0.71 | 000
53675 |  | A | Insert urinary catheter | 1.47 | 2.63 | 0.58 | 0.09 | 4.19 | 2.14 | 000
53850 |  | A | Prostatic microwave thermotx | 9.45 | 87.54 | 4.50 | 0.56 | 97.55 | 14.51 | 090
53852 |  | A | Prostatic rf thermotx | 9.88 | 75.53 | 4.68 | 0.58 | 85.99 | 15.14 | 090
53853 |  | A | Prostatic water thermother | 4.14 | 52.75 | 2.55 | 0.38 | 57.27 | 7.07 | 090
53899 |  | C | Urology surgery procedure | 0.00 | 0.00 | 0.00 | 0.00 | 0.00 | 0.00 | YYY
54000 |  | A | Slitting of prepuce | 1.54 | 5.66 | 1.51 | 0.10 | 7.30 | 3.15 | 010
54001 |  | A | Slitting of prepuce | 2.19 | 6.56 | 2.15 | 0.14 | 8.89 | 4.48 | 010
54015 |  | A | Drain penis lesion | 5.32 | 7.95 | 3.21 | 0.33 | 13.60 | 8.86 | 010
54050 |  | A | Destruction, penis lesion(s) | 1.24 | 2.85 | 0.47 | 0.07 | 4.16 | 1.78 | 010
54055 |  | A | Destruction, penis lesion(s) | 1.22 | 6.64 | 1.42 | 0.07 | 7.93 | 2.71 | 010
54056 |  | A | Cryosurgery, penis lesion(s) | 1.24 | 2.96 | 0.58 | 0.06 | 4.26 | 1.88 | 010
54057 |  | A | Laser surg, penis lesion(s) | 1.24 | 2.97 | 1.41 | 0.08 | 4.29 | 2.73 | 010
54060 |  | A | Excision of penis lesion(s) | 1.93 | 5.65 | 1.66 | 0.12 | 7.70 | 3.71 | 010
54065 |  | A | Destruction, penis lesion(s) | 2.42 | 5.38 | 2.24 | 0.13 | 7.93 | 4.79 | 010
54100 |  | A | Biopsy of penis | 1.90 | 3.54 | 0.77 | 0.10 | 5.54 | 2.77 | 000
54105 |  | A | Biopsy of penis | 3.50 | 6.75 | 2.19 | 0.21 | 10.46 | 5.90 | 010
54110 |  | A | Treatment of penis lesion | 10.13 | NA | 8.20 | 0.60 | NA | 18.93 | 090
54111 |  | A | Treat penis lesion, graft | 13.57 | NA | 9.37 | 0.79 | NA | 23.73 | 090
54112 |  | A | Treat penis lesion, graft | 15.86 | NA | 10.08 | 0.94 | NA | 26.88 | 090
54115 |  | A | Treatment of penis lesion | 6.15 | 11.63 | 6.77 | 0.39 | 18.17 | 13.31 | 090
54120 |  | A | Partial removal of penis | 9.97 | NA | 8.14 | 0.60 | NA | 18.71 | 090
54125 |  | A | Removal of penis | 13.53 | NA | 9.37 | 0.81 | NA | 23.71 | 090
54130 |  | A | Remove penis & nodes | 20.14 | NA | 12.00 | 1.19 | NA | 33.33 | 090
54135 |  | A | Remove penis & nodes | 26.36 | NA | 14.68 | 1.58 | NA | 42.62 | 090
54150 |  | A | Circumcision | 1.81 | 6.04 | 1.87 | 0.17 | 8.02 | 3.85 | 010
54152 |  | A | Circumcision | 2.31 | NA | 1.76 | 0.16 | NA | 4.23 | 010
54160 |  | A | Circumcision | 2.48 | 5.04 | 1.82 | 0.16 | 7.68 | 4.46 | 010
54161 |  | A | Circumcision | 3.27 | NA | 2.10 | 0.20 | NA | 5.57 | 010
54162 |  | A | Lysis penil circumcis lesion | 3.00 | NA | 2.91 | 0.18 | NA | 6.09 | 010
54163 |  | A | Repair of circumcision | 3.00 | NA | 2.54 | 0.18 | NA | 5.72 | 010
54164 |  | A | Frenulotomy of penis | 2.50 | NA | 2.37 | 0.15 | NA | 5.02 | 010
54200 |  | A | Treatment of penis lesion | 1.06 | 2.87 | 0.38 | 0.06 | 3.99 | 1.50 | 010
54205 |  | A | Treatment of penis lesion | 7.93 | NA | 7.50 | 0.47 | NA | 15.90 | 090
54220 |  | A | Treatment of penis lesion | 2.42 | 2.08 | 1.04 | 0.15 | 4.65 | 3.61 | 000
54230 |  | A | Prepare penis study | 1.34 | NA | 0.46 | 0.08 | NA | 1.88 | 000
54231 |  | A | Dynamic cavernosometry | 2.04 | 2.26 | 0.83 | 0.14 | 4.44 | 3.01 | 000
54235 |  | A | Penile injection | 1.19 | 1.19 | 0.41 | 0.07 | 2.45 | 1.67 | 000
54240 |  | A | Penis study | 1.31 | 1.59 | NA | 0.13 | 3.03 | NA | 000
54240 | 26 | A | Penis study | 1.31 | 0.45 | 0.45 | 0.08 | 1.84 | 1.84 | 000
54240 | TC | A | Penis study | 0.00 | 1.14 | NA | 0.05 | 1.19 | NA | 000
54250 |  | A | Penis study | 2.22 | 2.90 | NA | 0.16 | 5.28 | NA | 000
54250 | 26 | A | Penis study | 2.22 | 0.75 | 0.75 | 0.14 | 3.11 | 3.11 | 000
54250 | TC | A | Penis study | 0.00 | 2.15 | NA | 0.02 | 2.17 | NA | 000
54300 |  | A | Revision of penis | 10.41 | NA | 8.89 | 0.64 | NA | 19.94 | 090
54304 |  | A | Revision of penis | 12.49 | NA | 10.04 | 0.74 | NA | 23.27 | 090
54308 |  | A | Reconstruction of urethra | 11.83 | NA | 9.94 | 0.70 | NA | 22.47 | 090
54312 |  | A | Reconstruction of urethra | 13.57 | NA | 10.73 | 0.81 | NA | 25.11 | 090
54316 |  | A | Reconstruction of urethra | 16.82 | NA | 11.67 | 1.00 | NA | 29.49 | 090
54318 |  | A | Reconstruction of urethra | 11.25 | NA | 10.06 | 1.15 | NA | 22.46 | 090
54322 |  | A | Reconstruction of urethra | 13.01 | NA | 9.56 | 0.77 | NA | 23.34 | 090
54324 |  | A | Reconstruction of urethra | 16.31 | NA | 12.02 | 1.03 | NA | 29.36 | 090
54326 |  | A | Reconstruction of urethra | 15.72 | NA | 11.17 | 0.93 | NA | 27.82 | 090
54328 |  | A | Revise penis/urethra | 15.65 | NA | 11.59 | 0.92 | NA | 28.16 | 090
54332 |  | A | Revise penis/urethra | 17.08 | NA | 11.87 | 1.01 | NA | 29.96 | 090
54336 |  | A | Revise penis/urethra | 20.04 | NA | 13.59 | 1.90 | NA | 35.53 | 090
54340 |  | A | Secondary urethral surgery | 8.91 | NA | 9.80 | 0.72 | NA | 19.43 | 090
54344 |  | A | Secondary urethral surgery | 15.94 | NA | 10.91 | 1.10 | NA | 27.95 | 090
54348 |  | A | Secondary urethral surgery | 17.15 | NA | 12.10 | 1.02 | NA | 30.27 | 090
54352 |  | A | Reconstruct urethra/penis | 24.74 | NA | 16.53 | 1.62 | NA | 42.89 | 090
54360 |  | A | Penis plastic surgery | 11.93 | NA | 8.82 | 0.72 | NA | 21.47 | 090
54380 |  | A | Repair penis | 13.18 | NA | 10.79 | 1.16 | NA | 25.13 | 090
54385 |  | A | Repair penis | 15.39 | NA | 12.20 | 0.71 | NA | 28.30 | 090
54390 |  | A | Repair penis and bladder | 21.61 | NA | 14.69 | 1.28 | NA | 37.58 | 090
54400 |  | A | Insert semi-rigid prosthesis | 8.99 | NA | 6.53 | 0.53 | NA | 16.05 | 090
54401 |  | A | Insert self-contd prosthesis | 10.28 | NA | 7.37 | 0.61 | NA | 18.26 | 090
54402 |  | D | Remove penis prosthesis | 0.00 | NA | 0.00 | 0.00 | NA | 0.00 | 090
54405 |  | A | Insert multi-comp penis pros | 13.43 | NA | 8.45 | 0.80 | NA | 22.68 | 090
54406 |  | A | Remove multi-comp penis pros | 12.10 | NA | 6.09 | 0.80 | NA | 18.99 | 090
54407 |  | D | Remove multi-comp prosthesis | 0.00 | NA | 0.00 | 0.00 | NA | 0.00 | 090
54408 |  | A | Repair multi-comp penis pros | 12.75 | NA | 6.46 | 0.80 | NA | 20.01 | 090
54409 |  | D | Revise penis prosthesis | 0.00 | NA | 0.00 | 0.00 | NA | 0.00 | 090
54410 |  | A | Remove/replace penis prosth | 15.50 | NA | 7.36 | 0.80 | NA | 23.66 | 090
54411 |  | A | Remv/replc penis pros, comp | 16.00 | NA | 8.98 | 0.80 | NA | 25.78 | 090
54415 |  | A | Remove self-contd penis pros | 8.20 | NA | 5.35 | 0.55 | NA | 14.10 | 090
54416 |  | A | Remv/repl penis contain pros | 10.87 | NA | 6.94 | 0.55 | NA | 18.36 | 090
54417 |  | A | Remv/replc penis pros, compl | 14.19 | NA | 7.89 | 0.55 | NA | 22.63 | 090
54420 |  | A | Revision of penis | 11.42 | NA | 8.70 | 0.72 | NA | 20.84 | 090
54430 |  | A | Revision of penis | 10.15 | NA | 8.17 | 0.60 | NA | 18.92 | 090
54435 |  | A | Revision of penis | 6.12 | NA | 6.30 | 0.36 | NA | 12.78 | 090
54440 |  | C | Repair of penis | 0.00 | 0.00 | 0.00 | 0.00 | 0.00 | 0.00 | 090
54450 |  | A | Preputial stretching | 1.12 | 1.10 | 0.49 | 0.07 | 2.29 | 1.68 | 000
54500 |  | A | Biopsy of testis | 1.31 | 6.26 | 0.45 | 0.08 | 7.65 | 1.84 | 000
54505 |  | A | Biopsy of testis | 3.46 | NA | 2.75 | 0.21 | NA | 6.42 | 010
54510 |  | D | Removal of testis lesion | 0.00 | NA | 0.00 | 0.00 | NA | 0.00 | 090
54512 |  | A | Excise lesion testis | 8.58 | NA | 5.19 | 0.56 | NA | 14.33 | 090
54520 |  | A | Removal of testis | 5.23 | NA | 3.75 | 0.33 | NA | 9.31 | 090
54522 |  | A | Orchiectomy, partial | 9.50 | NA | 6.15 | 0.62 | NA | 16.27 | 090
54530 |  | A | Removal of testis | 8.58 | NA | 5.46 | 0.53 | NA | 14.57 | 090
54535 |  | A | Extensive testis surgery | 12.16 | NA | 7.62 | 0.83 | NA | 20.61 | 090
54550 |  | A | Exploration for testis | 7.78 | NA | 4.97 | 0.49 | NA | 13.24 | 090
54560 |  | A | Exploration for testis | 11.13 | NA | 7.10 | 0.79 | NA | 19.02 | 090
54600 |  | A | Reduce testis torsion | 7.01 | NA | 4.38 | 0.45 | NA | 11.84 | 090
54620 |  | A | Suspension of testis | 4.90 | NA | 3.26 | 0.31 | NA | 8.47 | 010
54640 |  | A | Suspension of testis | 6.90 | NA | 4.40 | 0.49 | NA | 11.79 | 090
54650 |  | A | Orchiopexy (Fowler-Stephens) | 11.45 | NA | 7.29 | 0.81 | NA | 19.55 | 090
54660 |  | A | Revision of testis | 5.11 | NA | 3.65 | 0.35 | NA | 9.11 | 090
54670 |  | A | Repair testis injury | 6.41 | NA | 4.30 | 0.41 | NA | 11.12 | 090
54680 |  | A | Relocation of testis(es) | 12.65 | NA | 7.65 | 0.94 | NA | 21.24 | 090
54690 |  | A | Laparoscopy, orchiectomy | 10.96 | NA | 7.08 | 0.99 | NA | 19.03 | 090
54692 |  | A | Laparoscopy, orchiopexy | 12.88 | NA | 5.84 | 0.87 | NA | 19.59 | 090
54699 |  | C | Laparoscope proc, testis | 0.00 | 0.00 | 0.00 | 0.00 | 0.00 | 0.00 | YYY
54700 |  | A | Drainage of scrotum | 3.43 | 8.80 | 3.53 | 0.23 | 12.46 | 7.19 | 010
54800 |  | A | Biopsy of epididymis | 2.33 | 6.45 | 0.79 | 0.14 | 8.92 | 3.26 | 000
54820 |  | A | Exploration of epididymis | 5.14 | NA | 3.61 | 0.33 | NA | 9.08 | 090
54830 |  | A | Remove epididymis lesion | 5.38 | NA | 3.85 | 0.34 | NA | 9.57 | 090
54840 |  | A | Remove epididymis lesion | 5.20 | NA | 3.79 | 0.31 | NA | 9.30 | 090
54860 |  | A | Removal of epididymis | 6.32 | NA | 4.40 | 0.38 | NA | 11.10 | 090
54861 |  | A | Removal of epididymis | 8.90 | NA | 5.28 | 0.52 | NA | 14.70 | 090
54900 |  | A | Fusion of spermatic ducts | 13.20 | NA | 6.99 | 1.34 | NA | 21.53 | 090
54901 |  | A | Fusion of spermatic ducts | 17.94 | NA | 9.27 | 1.83 | NA | 29.04 | 090
55000 |  | A | Drainage of hydrocele | 1.43 | 2.24 | 0.49 | 0.10 | 3.77 | 2.02 | 000
55040 |  | A | Removal of hydrocele | 5.36 | NA | 3.56 | 0.35 | NA | 9.27 | 090
55041 |  | A | Removal of hydroceles | 7.74 | NA | 4.63 | 0.50 | NA | 12.87 | 090
55060 |  | A | Repair of hydrocele | 5.52 | NA | 3.64 | 0.37 | NA | 9.53 | 090
55100 |  | A | Drainage of scrotum abscess | 2.13 | 10.06 | 3.63 | 0.15 | 12.34 | 5.91 | 010
55110 |  | A | Explore scrotum | 5.70 | NA | 3.71 | 0.36 | NA | 9.77 | 090
55120 |  | A | Removal of scrotum lesion | 5.09 | NA | 3.52 | 0.33 | NA | 8.94 | 090
55150 |  | A | Removal of scrotum | 7.22 | NA | 4.76 | 0.47 | NA | 12.45 | 090
55175 |  | A | Revision of scrotum | 5.24 | NA | 3.88 | 0.33 | NA | 9.45 | 090
55180 |  | A | Revision of scrotum | 10.72 | NA | 6.38 | 0.72 | NA | 17.82 | 090
55200 |  | A | Incision of sperm duct | 4.24 | NA | 3.10 | 0.25 | NA | 7.59 | 090
55250 |  | A | Removal of sperm duct(s) | 3.29 | 9.72 | 3.28 | 0.21 | 13.22 | 6.78 | 090
55300 |  | A | Prepare, sperm duct x-ray | 3.51 | NA | 1.56 | 0.20 | NA | 5.27 | 000
55400 |  | A | Repair of sperm duct | 8.49 | NA | 5.32 | 0.50 | NA | 14.31 | 090
55450 |  | A | Ligation of sperm duct | 4.12 | 8.08 | 2.62 | 0.24 | 12.44 | 6.98 | 010
55500 |  | A | Removal of hydrocele | 5.59 | NA | 3.76 | 0.43 | NA | 9.78 | 090
55520 |  | A | Removal of sperm cord lesion | 6.03 | NA | 3.82 | 0.56 | NA | 10.41 | 090
55530 |  | A | Revise spermatic cord veins | 5.66 | NA | 3.92 | 0.36 | NA | 9.94 | 090
55535 |  | A | Revise spermatic cord veins | 6.56 | NA | 4.23 | 0.42 | NA | 11.21 | 090
55540 |  | A | Revise hernia & sperm veins | 7.67 | NA | 4.37 | 0.74 | NA | 12.78 | 090
55550 |  | A | Laparo ligate spermatic vein | 6.57 | NA | 3.67 | 0.47 | NA | 10.71 | 090
55559 |  | C | Laparo proc, spermatic cord | 0.00 | 0.00 | 0.00 | 0.00 | 0.00 | 0.00 | YYY
55600 |  | A | Incise sperm duct pouch | 6.38 | NA | 4.41 | 0.38 | NA | 11.17 | 090
55605 |  | A | Incise sperm duct pouch | 7.96 | NA | 5.39 | 0.54 | NA | 13.89 | 090
55650 |  | A | Remove sperm duct pouch | 11.80 | NA | 6.44 | 0.72 | NA | 18.96 | 090
55680 |  | A | Remove sperm pouch lesion | 5.19 | NA | 3.77 | 0.31 | NA | 9.27 | 090
55700 |  | A | Biopsy of prostate | 1.57 | 4.68 | 0.73 | 0.10 | 6.35 | 2.40 | 000
55705 |  | A | Biopsy of prostate | 4.57 | NA | 3.92 | 0.26 | NA | 8.75 | 010
55720 |  | A | Drainage of prostate abscess | 7.64 | NA | 5.88 | 0.44 | NA | 13.96 | 090
55725 |  | A | Drainage of prostate abscess | 8.68 | NA | 6.58 | 0.51 | NA | 15.77 | 090
55801 |  | A | Removal of prostate | 17.80 | NA | 9.78 | 1.08 | NA | 28.66 | 090
55810 |  | A | Extensive prostate surgery | 22.58 | NA | 11.85 | 1.35 | NA | 35.78 | 090
55812 |  | A | Extensive prostate surgery | 27.51 | NA | 13.91 | 1.69 | NA | 43.11 | 090
55815 |  | A | Extensive prostate surgery | 30.46 | NA | 15.01 | 1.84 | NA | 47.31 | 090
55821 |  | A | Removal of prostate | 14.25 | NA | 8.20 | 0.85 | NA | 23.30 | 090
55831 |  | A | Removal of prostate | 15.62 | NA | 8.67 | 0.94 | NA | 25.23 | 090
55840 |  | A | Extensive prostate surgery | 22.69 | NA | 12.32 | 1.37 | NA | 36.38 | 090
55842 |  | A | Extensive prostate surgery | 24.38 | NA | 12.86 | 1.48 | NA | 38.72 | 090
55845 |  | A | Extensive prostate surgery | 28.55 | NA | 14.26 | 1.71 | NA | 44.52 | 090
55859 |  | A | Percut/needle insert, pros | 12.52 | NA | 7.71 | 0.74 | NA | 20.97 | 090
55860 |  | A | Surgical exposure, prostate | 14.45 | NA | 7.93 | 0.82 | NA | 23.20 | 090
55862 |  | A | Extensive prostate surgery | 18.39 | NA | 9.69 | 1.14 | NA | 29.22 | 090
55865 |  | A | Extensive prostate surgery | 22.87 | NA | 11.49 | 1.37 | NA | 35.73 | 090
55870 |  | A | Electroejaculation | 2.58 | 1.96 | 0.98 | 0.14 | 4.68 | 3.70 | 000
55873 |  | A | Cryoablate prostate | 19.47 | NA | 10.65 | 1.02 | NA | 31.14 | 090
55899 |  | C | Genital surgery procedure | 0.00 | 0.00 | 0.00 | 0.00 | 0.00 | 0.00 | YYY
55970 |  | N | Sex transformation, M to F | 0.00 | 0.00 | 0.00 | 0.00 | 0.00 | 0.00 | XXX
55980 |  | N | Sex transformation, F to M | 0.00 | 0.00 | 0.00 | 0.00 | 0.00 | 0.00 | XXX
56405 |  | A | I & D of vulva/perineum | 1.44 | 2.50 | 1.33 | 0.14 | 4.08 | 2.91 | 010
56420 |  | A | Drainage of gland abscess | 1.39 | 2.48 | 1.33 | 0.13 | 4.00 | 2.85 | 010
56440 |  | A | Surgery for vulva lesion | 2.84 | 3.83 | 2.40 | 0.28 | 6.95 | 5.52 | 010
56441 |  | A | Lysis of labial lesion(s) | 1.97 | 2.74 | 2.11 | 0.17 | 4.88 | 4.25 | 010
56501 |  | A | Destroy, vulva lesions, simp | 1.53 | 2.42 | 1.42 | 0.15 | 4.10 | 3.10 | 010
56515 |  | A | Destroy vulva lesion/s compl | 2.76 | 3.20 | 2.46 | 0.18 | 6.14 | 5.40 | 010
56605 |  | A | Biopsy of vulva/perineum | 1.10 | 1.90 | 0.50 | 0.11 | 3.11 | 1.71 | 000
56606 |  | A | Biopsy of vulva/perineum | 0.55 | 1.69 | 0.23 | 0.06 | 2.30 | 0.84 | ZZZ
56620 |  | A | Partial removal of vulva | 7.47 | NA | 5.13 | 0.76 | NA | 13.36 | 090
56625 |  | A | Complete removal of vulva | 8.40 | NA | 6.20 | 0.84 | NA | 15.44 | 090
56630 |  | A | Extensive vulva surgery | 12.36 | NA | 7.93 | 1.23 | NA | 21.52 | 090
56631 |  | A | Extensive vulva surgery | 16.20 | NA | 10.80 | 1.63 | NA | 28.63 | 090
56632 |  | A | Extensive vulva surgery | 20.29 | NA | 12.42 | 2.03 | NA | 34.74 | 090
56633 |  | A | Extensive vulva surgery | 16.47 | NA | 9.70 | 1.66 | NA | 27.83 | 090
56634 |  | A | Extensive vulva surgery | 17.88 | NA | 11.25 | 1.78 | NA | 30.91 | 090
56637 |  | A | Extensive vulva surgery | 21.97 | NA | 13.16 | 2.18 | NA | 37.31 | 090
56640 |  | A | Extensive vulva surgery | 22.17 | NA | 12.58 | 2.26 | NA | 37.01 | 090
56700 |  | A | Partial removal of hymen | 2.52 | 3.18 | 2.16 | 0.24 | 5.94 | 4.92 | 010
56720 |  | A | Incision of hymen | 0.68 | 1.79 | 0.57 | 0.07 | 2.54 | 1.32 | 000
56740 |  | A | Remove vagina gland lesion | 4.57 | 4.08 | 3.08 | 0.37 | 9.02 | 8.02 | 010
56800 |  | A | Repair of vagina | 3.89 | NA | 2.86 | 0.37 | NA | 7.12 | 010
56805 |  | A | Repair clitoris | 18.86 | NA | 9.69 | 1.82 | NA | 30.37 | 090
56810 |  | A | Repair of perineum | 4.13 | NA | 2.91 | 0.41 | NA | 7.45 | 010
57000 |  | A | Exploration of vagina | 2.97 | NA | 2.49 | 0.28 | NA | 5.74 | 010
57010 |  | A | Drainage of pelvic abscess | 6.03 | NA | 4.08 | 0.57 | NA | 10.68 | 090
57020 |  | A | Drainage of pelvic fluid | 1.50 | 1.63 | 0.66 | 0.15 | 3.28 | 2.31 | 000
57022 |  | A | I & d vaginal hematoma, pp | 2.56 | NA | 2.14 | 0.24 | NA | 4.94 | 010
57023 |  | A | I & d vag hematoma, non-ob | 4.75 | NA | 3.01 | 0.24 | NA | 8.00 | 010
57061 |  | A | Destroy vag lesions, simple | 1.25 | 2.37 | 1.33 | 0.13 | 3.75 | 2.71 | 010
57065 |  | A | Destroy vag lesions, complex | 2.61 | 3.09 | 2.41 | 0.26 | 5.96 | 5.28 | 010
57100 |  | A | Biopsy of vagina | 1.20 | 1.64 | 0.53 | 0.10 | 2.94 | 1.83 | 000
57105 |  | A | Biopsy of vagina | 1.69 | 2.35 | 2.34 | 0.17 | 4.21 | 4.20 | 010
57106 |  | A | Remove vagina wall, partial | 6.36 | 2.67 | 2.67 | 0.58 | 9.61 | 9.61 | 090
57107 |  | A | Remove vagina tissue, part | 23.00 | NA | 10.65 | 2.17 | NA | 35.82 | 090
57109 |  | A | Vaginectomy partial w/nodes | 27.00 | NA | 13.89 | 1.97 | NA | 42.86 | 090
57110 |  | A | Remove vagina wall, complete | 14.29 | NA | 7.56 | 1.43 | NA | 23.28 | 090
57111 |  | A | Remove vagina tissue, compl | 27.00 | NA | 12.85 | 2.71 | NA | 42.56 | 090
57112 |  | A | Vaginectomy w/nodes, compl | 29.00 | NA | 14.38 | 2.19 | NA | 45.57 | 090
57120 |  | A | Closure of vagina | 7.41 | NA | 4.85 | 0.75 | NA | 13.01 | 090
57130 |  | A | Remove vagina lesion | 2.43 | NA | 2.25 | 0.23 | NA | 4.91 | 010
57135 |  | A | Remove vagina lesion | 2.67 | 3.09 | 2.35 | 0.26 | 6.02 | 5.28 | 010
57150 |  | A | Treat vagina infection | 0.55 | 1.04 | 0.22 | 0.06 | 1.65 | 0.83 | 000
57155 |  | A | Insert uteri tandems/ovoids | 6.27 | NA | 3.67 | 0.63 | NA | 10.57 | 090
57160 |  | A | Insert pessary/other device | 0.89 | 1.12 | 0.41 | 0.09 | 2.10 | 1.39 | 000
57170 |  | A | Fitting of diaphragm/cap | 0.91 | 1.46 | 0.36 | 0.09 | 2.46 | 1.36 | 000
57180 |  | A | Treat vaginal bleeding | 1.58 | 2.37 | 1.55 | 0.16 | 4.11 | 3.29 | 010
57200 |  | A | Repair of vagina | 3.94 | NA | 3.14 | 0.38 | NA | 7.46 | 090
57210 |  | A | Repair vagina/perineum | 5.17 | NA | 3.69 | 0.50 | NA | 9.36 | 090
57220 |  | A | Revision of urethra | 4.31 | NA | 3.52 | 0.42 | NA | 8.25 | 090
57230 |  | A | Repair of urethral lesion | 5.64 | NA | 4.49 | 0.50 | NA | 10.63 | 090
57240 |  | A | Repair bladder & vagina | 6.07 | NA | 4.62 | 0.53 | NA | 11.22 | 090
57250 |  | A | Repair rectum & vagina | 5.53 | NA | 4.01 | 0.54 | NA | 10.08 | 090
57260 |  | A | Repair of vagina | 8.27 | NA | 5.17 | 0.83 | NA | 14.27 | 090
57265 |  | A | Extensive repair of vagina | 11.34 | NA | 7.22 | 1.14 | NA | 19.70 | 090
57268 |  | A | Repair of bowel bulge | 6.76 | NA | 4.54 | 0.66 | NA | 11.96 | 090
57270 |  | A | Repair of bowel pouch | 12.11 | NA | 6.58 | 1.17 | NA | 19.86 | 090
57280 |  | A | Suspension of vagina | 15.04 | NA | 7.74 | 1.44 | NA | 24.22 | 090
57282 |  | A | Repair of vaginal prolapse | 8.86 | NA | 5.44 | 0.86 | NA | 15.16 | 090
57284 |  | A | Repair paravaginal defect | 12.70 | NA | 7.45 | 1.17 | NA | 21.32 | 090
57287 |  | A | Revise/remove sling repair | 10.71 | NA | 7.47 | 0.74 | NA | 18.92 | 090
57288 |  | A | Repair bladder defect | 13.02 | NA | 7.24 | 0.86 | NA | 21.12 | 090
57289 |  | A | Repair bladder & vagina | 11.58 | NA | 7.12 | 0.95 | NA | 19.65 | 090
57291 |  | A | Construction of vagina | 7.95 | NA | 5.93 | 0.78 | NA | 14.66 | 090
57292 |  | A | Construct vagina with graft | 13.09 | NA | 7.20 | 1.29 | NA | 21.58 | 090
57300 |  | A | Repair rectum-vagina fistula | 7.61 | NA | 4.82 | 0.70 | NA | 13.13 | 090
57305 |  | A | Repair rectum-vagina fistula | 13.77 | NA | 7.00 | 1.33 | NA | 22.10 | 090
57307 |  | A | Fistula repair & colostomy | 15.93 | NA | 7.72 | 1.59 | NA | 25.24 | 090
57308 |  | A | Fistula repair, transperine | 9.94 | NA | 5.96 | 0.91 | NA | 16.81 | 090
57310 |  | A | Repair urethrovaginal lesion | 6.78 | NA | 4.95 | 0.45 | NA | 12.18 | 090
57311 |  | A | Repair urethrovaginal lesion | 7.98 | NA | 5.45 | 0.51 | NA | 13.94 | 090
57320 |  | A | Repair bladder-vagina lesion | 8.01 | NA | 5.68 | 0.60 | NA | 14.29 | 090
57330 |  | A | Repair bladder-vagina lesion | 12.35 | NA | 6.96 | 0.86 | NA | 20.17 | 090
57335 |  | A | Repair vagina | 18.73 | NA | 9.84 | 1.66 | NA | 30.23 | 090
57400 |  | A | Dilation of vagina | 2.27 | NA | 1.18 | 0.22 | NA | 3.67 | 000
57410 |  | A | Pelvic examination | 1.75 | 2.75 | 1.12 | 0.14 | 4.64 | 3.01 | 000
57415 |  | A | Remove vaginal foreign body | 2.17 | 3.71 | 2.18 | 0.19 | 6.07 | 4.54 | 010
57452 |  | A | Examination of vagina | 0.99 | 1.69 | 0.46 | 0.10 | 2.78 | 1.55 | 000
57454 |  | A | Vagina examination & biopsy | 1.27 | 1.88 | 0.62 | 0.13 | 3.28 | 2.02 | 000
57460 |  | A | Cervix excision | 2.83 | 2.17 | 1.19 | 0.28 | 5.28 | 4.30 | 000
57500 |  | A | Biopsy of cervix | 0.97 | 2.29 | 0.50 | 0.10 | 3.36 | 1.57 | 000
57505 |  | A | Endocervical curettage | 1.14 | 2.05 | 1.36 | 0.12 | 3.31 | 2.62 | 010
57510 |  | A | Cauterization of cervix | 1.90 | 3.39 | 1.66 | 0.18 | 5.47 | 3.74 | 010
57511 |  | A | Cryocautery of cervix | 1.90 | 2.54 | 0.77 | 0.18 | 4.62 | 2.85 | 010
57513 |  | A | Laser surgery of cervix | 1.90 | 2.72 | 1.66 | 0.19 | 4.81 | 3.75 | 010
57520 |  | A | Conization of cervix | 4.04 | 4.43 | 2.93 | 0.41 | 8.88 | 7.38 | 090
57522 |  | A | Conization of cervix | 3.36 | 4.02 | 2.68 | 0.34 | 7.72 | 6.38 | 090
57530 |  | A | Removal of cervix | 4.79 | NA | 3.78 | 0.48 | NA | 9.05 | 090
57531 |  | A | Removal of cervix, radical | 28.00 | NA | 14.44 | 2.46 | NA | 44.90 | 090
57540 |  | A | Removal of residual cervix | 12.22 | NA | 6.49 | 1.21 | NA | 19.92 | 090
57545 |  | A | Remove cervix/repair pelvis | 13.03 | NA | 6.95 | 1.30 | NA | 21.28 | 090
57550 |  | A | Removal of residual cervix | 5.53 | NA | 3.98 | 0.55 | NA | 10.06 | 090
57555 |  | A | Remove cervix/repair vagina | 8.95 | NA | 5.90 | 0.89 | NA | 15.74 | 090
57556 |  | A | Remove cervix, repair bowel | 8.37 | NA | 5.14 | 0.80 | NA | 14.31 | 090
57700 |  | A | Revision of cervix | 3.55 | NA | 2.71 | 0.33 | NA | 6.59 | 090
57720 |  | A | Revision of cervix | 4.13 | NA | 3.41 | 0.41 | NA | 7.95 | 090
57800 |  | A | Dilation of cervical canal | 0.77 | 1.22 | 0.36 | 0.08 | 2.07 | 1.21 | 000
57820 |  | A | D & C of residual cervix | 1.67 | 2.70 | 2.40 | 0.17 | 4.54 | 4.24 | 010
58100 |  | A | Biopsy of uterus lining | 1.53 | 1.56 | 0.76 | 0.07 | 3.16 | 2.36 | 000
58120 |  | A | Dilation and curettage | 3.27 | 4.01 | 2.55 | 0.33 | 7.61 | 6.15 | 010
58140 |  | A | Removal of uterus lesion | 14.60 | NA | 7.38 | 1.46 | NA | 23.44 | 090
58145 |  | A | Removal of uterus lesion | 8.04 | NA | 5.11 | 0.80 | NA | 13.95 | 090
58150 |  | A | Total hysterectomy | 15.24 | NA | 7.90 | 1.53 | NA | 24.67 | 090
58152 |  | A | Total hysterectomy | 20.60 | NA | 10.17 | 1.52 | NA | 32.29 | 090
58180 |  | A | Partial hysterectomy | 15.29 | NA | 7.90 | 1.54 | NA | 24.73 | 090
58200 |  | A | Extensive hysterectomy | 21.59 | NA | 11.62 | 2.15 | NA | 35.36 | 090
58210 |  | A | Extensive hysterectomy | 28.85 | NA | 14.67 | 2.91 | NA | 46.43 | 090
58240 |  | A | Removal of pelvis contents | 38.39 | NA | 19.71 | 3.76 | NA | 61.86 | 090
58260 |  | A | Vaginal hysterectomy | 12.98 | NA | 6.90 | 1.23 | NA | 21.11 | 090
58262 |  | A | Vaginal hysterectomy | 14.77 | NA | 7.66 | 1.42 | NA | 23.85 | 090
58263 |  | A | Vaginal hysterectomy | 16.06 | NA | 8.22 | 1.55 | NA | 25.83 | 090
58267 |  | A | Hysterectomy & vagina repair | 17.04 | NA | 8.81 | 1.51 | NA | 27.36 | 090
58270 |  | A | Hysterectomy & vagina repair | 14.26 | NA | 7.43 | 1.37 | NA | 23.06 | 090
58275 |  | A | Hysterectomy/revise vagina | 15.76 | NA | 7.94 | 1.51 | NA | 25.21 | 090
58280 |  | A | Hysterectomy/revise vagina | 17.01 | NA | 8.46 | 1.54 | NA | 27.01 | 090
58285 |  | A | Extensive hysterectomy | 22.26 | NA | 11.15 | 1.88 | NA | 35.29 | 090
58300 |  | N | Insert intrauterine device | +1.01 | 1.42 | 0.40 | 0.10 | 2.53 | 1.51 | XXX
58301 |  | A | Remove intrauterine device | 1.27 | 1.62 | 0.51 | 0.13 | 3.02 | 1.91 | 000
58321 |  | A | Artificial insemination | 0.92 | 1.03 | 0.37 | 0.10 | 2.05 | 1.39 | 000
58322 |  | A | Artificial insemination | 1.10 | 1.05 | 0.42 | 0.11 | 2.26 | 1.63 | 000
58323 |  | A | Sperm washing | 0.23 | 0.53 | 0.10 | 0.02 | 0.78 | 0.35 | 000
58340 |  | A | Catheter for hysterography | 0.88 | 12.42 | 0.33 | 0.08 | 13.38 | 1.29 | 000
58345 |  | A | Reopen fallopian tube | 4.66 | NA | 1.73 | 0.36 | NA | 6.75 | 010
58346 |  | A | Insert heyman uteri capsule | 6.75 | NA | 3.84 | 0.68 | NA | 11.27 | 090
58350 |  | A | Reopen fallopian tube | 1.01 | 2.15 | 1.17 | 0.10 | 3.26 | 2.28 | 010
58353 |  | A | Endometr ablate, thermal | 3.56 | NA | 2.28 | 0.37 | NA | 6.21 | 010
58400 |  | A | Suspension of uterus | 6.36 | NA | 4.17 | 0.62 | NA | 11.15 | 090
58410 |  | A | Suspension of uterus | 12.73 | NA | 6.84 | 1.09 | NA | 20.66 | 090
58520 |  | A | Repair of ruptured uterus | 11.92 | NA | 6.24 | 1.17 | NA | 19.33 | 090
58540 |  | A | Revision of uterus | 14.64 | NA | 6.96 | 1.28 | NA | 22.88 | 090
58550 |  | A | Laparo-asst vag hysterectomy | 14.19 | NA | 7.11 | 1.44 | NA | 22.74 | 010
58551 |  | A | Laparoscopy, remove myoma | 14.21 | NA | 7.09 | 1.45 | NA | 22.75 | 010
58555 |  | A | Hysteroscopy, dx, sep proc | 3.33 | 2.95 | 1.49 | 0.34 | 6.62 | 5.16 | 000
58558 |  | A | Hysteroscopy, biopsy | 4.75 | 3.55 | 2.13 | 0.49 | 8.79 | 7.37 | 000
58559 |  | A | Hysteroscopy, lysis | 6.17 | 2.59 | 2.59 | 0.62 | 9.38 | 9.38 | 000
58560 |  | A | Hysteroscopy, resect septum | 7.00 | 3.01 | 3.01 | 0.71 | 10.72 | 10.72 | 000
58561 |  | A | Hysteroscopy, remove myoma | 10.00 | 3.78 | 3.78 | 1.02 | 14.80 | 14.80 | 000
58562 |  | A | Hysteroscopy, remove fb | 5.21 | NA | 2.34 | 0.52 | NA | 8.07 | 000
58563 |  | A | Hysteroscopy, ablation | 6.17 | 2.62 | 2.62 | 0.62 | 9.41 | 9.41 | 000
58578 |  | C | Laparo proc, uterus | 0.00 | 0.00 | 0.00 | 0.00 | 0.00 | 0.00 | YYY
58579 |  | C | Hysteroscope procedure | 0.00 | 0.00 | 0.00 | 0.00 | 0.00 | 0.00 | YYY
58600 |  | A | Division of fallopian tube | 5.60 | NA | 3.51 | 0.39 | NA | 9.50 | 090
58605 |  | A | Division of fallopian tube | 5.00 | NA | 3.32 | 0.33 | NA | 8.65 | 090
58611 |  | A | Ligate oviduct(s) add-on | 1.45 | NA | 0.61 | 0.07 | NA | 2.13 | ZZZ
58615 |  | A | Occlude fallopian tube(s) | 3.90 | NA | 3.35 | 0.40 | NA | 7.65 | 010
58660 |  | A | Laparoscopy, lysis | 11.29 | NA | 5.78 | 1.14 | NA | 18.21 | 090
58661 |  | A | Laparoscopy, remove adnexa | 11.05 | NA | 5.47 | 1.12 | NA | 17.64 | 010
58662 |  | A | Laparoscopy, excise lesions | 11.79 | NA | 5.75 | 1.18 | NA | 18.72 | 090
58670 |  | A | Laparoscopy, tubal cautery | 5.60 | NA | 3.73 | 0.55 | NA | 9.88 | 090
58671 |  | A | Laparoscopy, tubal block | 5.60 | NA | 3.74 | 0.56 | NA | 9.90 | 090
58672 |  | A | Laparoscopy, fimbrioplasty | 12.88 | NA | 6.81 | 1.22 | NA | 20.91 | 090
58673 |  | A | Laparoscopy, salpingostomy | 13.74 | NA | 7.16 | 1.40 | NA | 22.30 | 090
58679 |  | C | Laparo proc, oviduct-ovary | 0.00 | 0.00 | 0.00 | 0.00 | 0.00 | 0.00 | YYY
58700 |  | A | Removal of fallopian tube | 12.05 | NA | 6.05 | 0.64 | NA | 18.74 | 090
58720 |  | A | Removal of ovary/tube(s) | 11.36 | NA | 6.05 | 1.14 | NA | 18.55 | 090
58740 |  | A | Revise fallopian tube(s) | 14.00 | NA | 7.34 | 0.59 | NA | 21.93 | 090
58750 |  | A | Repair oviduct | 14.84 | NA | 7.60 | 1.52 | NA | 23.96 | 090
58752 |  | A | Revise ovarian tube(s) | 14.84 | NA | 7.92 | 1.51 | NA | 24.27 | 090
58760 |  | A | Remove tubal obstruction | 13.13 | NA | 7.00 | 1.34 | NA | 21.47 | 090
58770 |  | A | Create new tubal opening | 13.97 | NA | 7.24 | 1.42 | NA | 22.63 | 090
58800 |  | A | Drainage of ovarian cyst(s) | 4.14 | 4.43 | 4.36 | 0.36 | 8.93 | 8.86 | 090
58805 |  | A | Drainage of ovarian cyst(s) | 5.88 | NA | 3.66 | 0.56 | NA | 10.10 | 090
58820 |  | A | Drain ovary abscess, open | 4.22 | NA | 3.38 | 0.29 | NA | 7.89 | 090
58822 |  | A | Drain ovary abscess, percut | 10.13 | NA | 5.20 | 0.92 | NA | 16.25 | 090
58823 |  | A | Drain pelvic abscess, percut | 3.38 | NA | 2.38 | 0.18 | NA | 5.94 | 000
58825 |  | A | Transposition, ovary(s) | 10.98 | NA | 5.95 | 0.62 | NA | 17.55 | 090
58900 |  | A | Biopsy of ovary(s) | 5.99 | NA | 3.64 | 0.56 | NA | 10.19 | 090
58920 |  | A | Partial removal of ovary(s) | 11.36 | NA | 5.85 | 0.68 | NA | 17.89 | 090
58925 |  | A | Removal of ovarian cyst(s) | 11.36 | NA | 5.79 | 1.14 | NA | 18.29 | 090
58940 |  | A | Removal of ovary(s) | 7.29 | NA | 4.18 | 0.73 | NA | 12.20 | 090
58943 |  | A | Removal of ovary(s) | 18.43 | NA | 9.92 | 1.86 | NA | 30.21 | 090
58950 |  | A | Resect ovarian malignancy | 16.93 | NA | 9.41 | 1.55 | NA | 27.89 | 090
58951 |  | A | Resect ovarian malignancy | 22.38 | NA | 11.81 | 2.20 | NA | 36.39 | 090
58952 |  | A | Resect ovarian malignancy | 25.01 | NA | 12.99 | 2.50 | NA | 40.50 | 090
58953 |  | A | Tah, rad dissect for debulk | 32.00 | NA | 15.59 | 3.20 | NA | 50.79 | 090
58954 |  | A | Tah rad debulk/lymph remove | 35.00 | NA | 16.71 | 3.50 | NA | 55.21 | 090
58960 |  | A | Exploration of abdomen | 14.65 | NA | 8.52 | 1.47 | NA | 24.64 | 090
58970 |  | A | Retrieval of oocyte | 3.53 | 8.56 | 1.92 | 0.36 | 12.45 | 5.81 | 000
58974 |  | C | Transfer of embryo | 0.00 | 0.00 | 0.00 | 0.00 | 0.00 | 0.00 | 000
58976 |  | A | Transfer of embryo | 3.83 | 2.30 | 1.53 | 0.39 | 6.52 | 5.75 | 000
58999 |  | C | Genital surgery procedure | 0.00 | 0.00 | 0.00 | 0.00 | 0.00 | 0.00 | YYY
59000 |  | A | Amniocentesis, diagnostic | 1.30 | 2.05 | 0.72 | 0.23 | 3.58 | 2.25 | 000
59001 |  | A | Amniocentesis, therapeutic | 3.00 | NA | 1.37 | 0.23 | NA | 4.60 | 000
59012 |  | A | Fetal cord puncture, prenatal | 3.45 | NA | 1.71 | 0.62 | NA | 5.78 | 000
59015 |  | A | Chorion biopsy | 2.20 | 1.64 | 1.11 | 0.40 | 4.24 | 3.71 | 000
59020 |  | A | Fetal contract stress test | 0.66 | 0.78 | NA | 0.20 | 1.64 | NA | 000
59020 | 26 | A | Fetal contract stress test | 0.66 | 0.28 | 0.28 | 0.12 | 1.06 | 1.06 | 000
59020 | TC | A | Fetal contract stress test | 0.00 | 0.50 | NA | 0.08 | 0.58 | NA | 000
59025 |  | A | Fetal non-stress test | 0.53 | 0.44 | NA | 0.12 | 1.09 | NA | 000
59025 | 26 | A | Fetal non-stress test | 0.53 | 0.22 | 0.22 | 0.10 | 0.85 | 0.85 | 000
59025 | TC | A | Fetal non-stress test | 0.00 | 0.22 | NA | 0.02 | 0.24 | NA | 000
59030 |  | A | Fetal scalp blood sample | 1.99 | NA | 1.14 | 0.36 | NA | 3.49 | 000
59050 |  | A | Fetal monitor w/report | 0.89 | NA | 0.38 | 0.16 | NA | 1.43 | XXX
59051 |  | A | Fetal monitor/interpret only | 0.74 | NA | 0.31 | 0.14 | NA | 1.19 | XXX
59100 |  | A | Remove uterus lesion | 12.35 | NA | 6.61 | 2.21 | NA | 21.17 | 090
59120 |  | A | Treat ectopic pregnancy | 11.49 | NA | 6.35 | 2.06 | NA | 19.90 | 090
59121 |  | A | Treat ectopic pregnancy | 11.67 | NA | 6.39 | 2.09 | NA | 20.15 | 090
59130 |  | A | Treat ectopic pregnancy | 14.22 | NA | 7.16 | 2.54 | NA | 23.92 | 090
59135 |  | A | Treat ectopic pregnancy | 13.88 | NA | 7.27 | 2.49 | NA | 23.64 | 090
59136 |  | A | Treat ectopic pregnancy | 13.18 | NA | 6.36 | 2.36 | NA | 21.90 | 090
59140 |  | A | Treat ectopic pregnancy | 5.46 | NA | 3.70 | 0.98 | NA | 10.14 | 090
59150 |  | A | Treat ectopic pregnancy | 11.67 | NA | 6.69 | 1.23 | NA | 19.59 | 090
59151 |  | A | Treat ectopic pregnancy | 11.49 | NA | 6.12 | 1.41 | NA | 19.02 | 090
59160 |  | A | D & C after delivery | 2.71 | 3.73 | 2.29 | 0.49 | 6.93 | 5.49 | 010
59200 |  | A | Insert cervical dilator | 0.79 | 1.41 | 0.32 | 0.15 | 2.35 | 1.26 | 000
59300 |  | A | Episiotomy or vaginal repair | 2.41 | 2.01 | 1.01 | 0.43 | 4.85 | 3.85 | 000
59320 |  | A | Revision of cervix | 2.48 | NA | 1.31 | 0.45 | NA | 4.24 | 000
59325 |  | A | Revision of cervix | 4.07 | NA | 1.97 | 0.73 | NA | 6.77 | 000
59350 |  | A | Repair of uterus | 4.95 | NA | 2.19 | 0.88 | NA | 8.02 | 000
59400 |  | A | Obstetrical care | 23.06 | NA | 15.41 | 4.14 | NA | 42.61 | MMM
59409 |  | A | Obstetrical care | 13.50 | NA | 5.57 | 2.42 | NA | 21.49 | MMM
59410 |  | A | Obstetrical care | 14.78 | NA | 6.98 | 2.65 | NA | 24.41 | MMM
59412 |  | A | Antepartum manipulation | 1.71 | 1.38 | 0.72 | 0.31 | 3.40 | 2.74 | MMM
59414 |  | A | Deliver placenta | 1.61 | NA | 1.34 | 0.29 | NA | 3.24 | MMM
59425 |  | A | Antepartum care only | 4.81 | 5.36 | 5.32 | 0.86 | 11.03 | 10.99 | MMM
59426 |  | A | Antepartum care only | 8.28 | 9.14 | 9.14 | 1.49 | 18.91 | 18.91 | MMM
59430 |  | A | Care after delivery | 2.13 | 1.29 | 1.29 | 0.38 | 3.80 | 3.80 | MMM
59510 |  | A | Cesarean delivery | 26.22 | NA | 17.61 | 4.70 | NA | 48.53 | MMM
59514 |  | A | Cesarean delivery only | 15.97 | NA | 6.57 | 2.86 | NA | 25.40 | MMM
59515 |  | A | Cesarean delivery | 17.37 | NA | 8.52 | 3.12 | NA | 29.01 | MMM
59525 |  | A | Remove uterus after cesarean | 8.54 | NA | 3.52 | 1.53 | NA | 13.59 | ZZZ
59610 |  | A | Vbac delivery | 24.62 | NA | 16.29 | 4.41 | NA | 45.32 | MMM
59612 |  | A | Vbac delivery only | 15.06 | NA | 6.43 | 2.70 | NA | 24.19 | MMM
59614 |  | A | Vbac care after delivery | 16.34 | NA | 7.70 | 2.93 | NA | 26.97 | MMM
59618 |  | A | Attempted vbac delivery | 27.78 | NA | 18.38 | 4.98 | NA | 51.14 | MMM
59620 |  | A | Attempted vbac delivery only | 17.53 | NA | 6.87 | 3.15 | NA | 27.55 | MMM
59622 |  | A | Attempted vbac after care | 18.93 | NA | 8.91 | 3.39 | NA | 31.23 | MMM
59812 |  | A | Treatment of miscarriage | 4.01 | 3.75 | 2.51 | 0.58 | 8.34 | 7.10 | 090
59820 |  | A | Care of miscarriage | 4.01 | 3.79 | 2.85 | 0.72 | 8.52 | 7.58 | 090
59821 |  | A | Treatment of miscarriage | 4.47 | 3.79 | 3.01 | 0.80 | 9.06 | 8.28 | 090
59830 |  | A | Treat uterus infection | 6.11 | NA | 3.85 | 1.10 | NA | 11.06 | 090
59840 |  | R | Abortion | 3.01 | 4.01 | 2.47 | 0.54 | 7.56 | 6.02 | 010
59841 |  | R | Abortion | 5.24 | 5.78 | 3.72 | 0.94 | 11.96 | 9.90 | 010
59850 |  | R | Abortion | 5.91 | NA | 2.75 | 1.06 | NA | 9.72 | 090
59851 |  | R | Abortion | 5.93 | NA | 3.22 | 1.06 | NA | 10.21 | 090
59852 |  | R | Abortion | 8.24 | NA | 4.58 | 1.48 | NA | 14.30 | 090
59855 |  | R | Abortion | 6.12 | NA | 3.38 | 1.10 | NA | 10.60 | 090
59856 |  | R | Abortion | 7.48 | NA | 3.74 | 1.34 | NA | 12.56 | 090
59857 |  | R | Abortion | 9.29 | NA | 4.46 | 1.66 | NA | 15.41 | 090
59866 |  | R | Abortion (mpr) | 4.00 | NA | 1.60 | 0.72 | NA | 6.32 | 000
59870 |  | A | Evacuate mole of uterus | 6.01 | NA | 3.83 | 0.77 | NA | 10.61 | 090
59871 |  | A | Remove cerclage suture | 2.13 | 2.19 | 0.93 | 0.38 | 4.70 | 3.44 | 000
59898 |  | C | Laparo proc, ob care/deliver | 0.00 | 0.00 | 0.00 | 0.00 | 0.00 | 0.00 | YYY
59899 |  | C | Maternity care procedure | 0.00 | 0.00 | 0.00 | 0.00 | 0.00 | 0.00 | YYY
60000 |  | A | Drain thyroid/tongue cyst | 1.76 | 2.40 | 2.22 | 0.14 | 4.30 | 4.12 | 010
60001 |  | A | Aspirate/inject thyriod cyst | 0.97 | 1.77 | 0.35 | 0.06 | 2.80 | 1.38 | 000
60100 |  | A | Biopsy of thyroid | 1.56 | 2.70 | 0.56 | 0.05 | 4.31 | 2.17 | 000
60200 |  | A | Remove thyroid lesion | 9.55 | NA | 6.88 | 0.84 | NA | 17.27 | 090
60210 |  | A | Partial thyroid excision | 10.88 | NA | 6.63 | 1.01 | NA | 18.52 | 090
60212 |  | A | Parital thyroid excision | 16.03 | NA | 8.62 | 1.51 | NA | 26.16 | 090
60220 |  | A | Partial removal of thyroid | 11.90 | NA | 7.27 | 0.97 | NA | 20.14 | 090
60225 |  | A | Partial removal of thyroid | 14.19 | NA | 8.05 | 1.31 | NA | 23.55 | 090
60240 |  | A | Removal of thyroid | 16.06 | NA | 9.32 | 1.50 | NA | 26.88 | 090
60252 |  | A | Removal of thyroid | 20.57 | NA | 11.64 | 1.63 | NA | 33.84 | 090
60254 |  | A | Extensive thyroid surgery | 26.99 | NA | 16.39 | 1.96 | NA | 45.34 | 090
60260 |  | A | Repeat thyroid surgery | 17.47 | NA | 10.66 | 1.39 | NA | 29.52 | 090
60270 |  | A | Removal of thyroid | 20.27 | NA | 11.54 | 1.78 | NA | 33.59 | 090
60271 |  | A | Removal of thyroid | 16.83 | NA | 10.20 | 1.35 | NA | 28.38 | 090
60280 |  | A | Remove thyroid duct lesion | 5.87 | NA | 5.29 | 0.45 | NA | 11.61 | 090
60281 |  | A | Remove thyroid duct lesion | 8.53 | NA | 6.27 | 0.67 | NA | 15.47 | 090
60500 |  | A | Explore parathyroid glands | 16.23 | NA | 7.99 | 1.61 | NA | 25.83 | 090
60502 |  | A | Re-explore parathyroids | 20.35 | NA | 9.97 | 2.00 | NA | 32.32 | 090
60505 |  | A | Explore parathyroid glands | 21.49 | NA | 11.53 | 2.14 | NA | 35.16 | 090
60512 |  | A | Autotransplant parathyroid | 4.45 | NA | 1.72 | 0.44 | NA | 6.61 | ZZZ
60520 |  | A | Removal of thymus gland | 16.81 | NA | 9.55 | 1.84 | NA | 28.20 | 090
60521 |  | A | Removal of thymus gland | 18.87 | NA | 11.57 | 2.34 | NA | 32.78 | 090
60522 |  | A | Removal of thymus gland | 23.09 | NA | 12.88 | 2.83 | NA | 38.80 | 090
60540 |  | A | Explore adrenal gland | 17.03 | NA | 8.09 | 1.42 | NA | 26.54 | 090
60545 |  | A | Explore adrenal gland | 19.88 | NA | 9.73 | 1.75 | NA | 31.36 | 090
60600 |  | A | Remove carotid body lesion | 17.93 | NA | 13.43 | 1.87 | NA | 33.23 | 090
60605 |  | A | Remove carotid body lesion | 20.24 | NA | 18.12 | 2.28 | NA | 40.64 | 090
60650 |  | A | Laparoscopy adrenalectomy | 20.00 | NA | 8.34 | 1.98 | NA | 30.32 | 090
60659 |  | C | Laparo proc, endocrine | 0.00 | 0.00 | 0.00 | 0.00 | 0.00 | 0.00 | YYY
60699 |  | C | Endocrine surgery procedure | 0.00 | 0.00 | 0.00 | 0.00 | 0.00 | 0.00 | YYY
61000 |  | A | Remove cranial cavity fluid | 1.58 | 1.79 | 1.53 | 0.13 | 3.50 | 3.24 | 000
61001 |  | A | Remove cranial cavity fluid | 1.49 | 2.08 | 1.47 | 0.15 | 3.72 | 3.11 | 000
61020 |  | A | Remove brain cavity fluid | 1.51 | 2.52 | 1.51 | 0.26 | 4.29 | 3.28 | 000
61026 |  | A | Injection into brain canal | 1.69 | 2.28 | 1.73 | 0.21 | 4.18 | 3.63 | 000
61050 |  | A | Remove brain canal fluid | 1.51 | NA | 1.56 | 0.13 | NA | 3.20 | 000
61055 |  | A | Injection into brain canal | 2.10 | NA | 1.80 | 0.13 | NA | 4.03 | 000
61070 |  | A | Brain canal shunt procedure | 0.89 | 7.33 | 1.22 | 0.09 | 8.31 | 2.20 | 000
61105 |  | A | Twist drill hole | 5.14 | NA | 3.67 | 1.05 | NA | 9.86 | 090
61107 |  | A | Drill skull for implantation | 5.00 | NA | 3.12 | 1.02 | NA | 9.14 | 000
61108 |  | A | Drill skull for drainage | 10.19 | NA | 7.09 | 2.04 | NA | 19.32 | 090
61120 |  | A | Burr hole for puncture | 8.76 | NA | 5.88 | 1.81 | NA | 16.45 | 090
61140 |  | A | Pierce skull for biopsy | 15.90 | NA | 10.00 | 3.15 | NA | 29.05 | 090
61150 |  | A | Pierce skull for drainage | 17.57 | NA | 10.74 | 3.52 | NA | 31.83 | 090
61151 |  | A | Pierce skull for drainage | 12.42 | NA | 8.16 | 2.45 | NA | 23.03 | 090
61154 |  | A | Pierce skull & remove clot | 14.99 | NA | 9.43 | 3.05 | NA | 27.47 | 090
61156 |  | A | Pierce skull for drainage | 16.32 | NA | 10.30 | 3.42 | NA | 30.04 | 090
61210 |  | A | Pierce skull, implant device | 5.84 | NA | 3.53 | 1.16 | NA | 10.53 | 000
61215 |  | A | Insert brain-fluid device | 4.89 | NA | 4.24 | 0.99 | NA | 10.12 | 090
61250 |  | A | Pierce skull & explore | 10.42 | NA | 6.73 | 2.02 | NA | 19.17 | 090
61253 |  | A | Pierce skull & explore | 12.36 | NA | 7.65 | 2.26 | NA | 22.27 | 090
61304 |  | A | Open skull for exploration | 21.96 | NA | 12.85 | 4.33 | NA | 39.14 | 090
61305 |  | A | Open skull for exploration | 26.61 | NA | 15.31 | 5.25 | NA | 47.17 | 090
61312 |  | A | Open skull for drainage | 24.57 | NA | 14.57 | 4.99 | NA | 44.13 | 090
61313 |  | A | Open skull for drainage | 24.93 | NA | 14.76 | 5.07 | NA | 44.76 | 090
61314 |  | A | Open skull for drainage | 24.23 | NA | 11.55 | 4.00 | NA | 39.78 | 090
61315 |  | A | Open skull for drainage | 27.68 | NA | 16.22 | 5.62 | NA | 49.52 | 090
61320 |  | A | Open skull for drainage | 25.62 | NA | 15.20 | 5.20 | NA | 46.02 | 090
61321 |  | A | Open skull for drainage | 28.50 | NA | 16.09 | 5.35 | NA | 49.94 | 090
61330 |  | A | Decompress eye socket | 23.32 | NA | 19.43 | 2.58 | NA | 45.33 | 090
61332 |  | A | Explore/biopsy eye socket | 27.28 | NA | 20.43 | 4.15 | NA | 51.86 | 090
61333 |  | A | Explore orbit/remove lesion | 27.95 | NA | 16.45 | 2.24 | NA | 46.64 | 090
61334 |  | A | Explore orbit/remove object | 18.27 | NA | 10.08 | 3.02 | NA | 31.37 | 090
61340 |  | A | Relieve cranial pressure | 18.66 | NA | 11.75 | 3.66 | NA | 34.07 | 090
61343 |  | A | Incise skull (press relief) | 29.77 | NA | 17.96 | 6.04 | NA | 53.77 | 090
61345 |  | A | Relieve cranial pressure | 27.20 | NA | 16.17 | 5.23 | NA | 48.60 | 090
61440 |  | A | Incise skull for surgery | 26.63 | NA | 12.14 | 5.57 | NA | 44.34 | 090
61450 |  | A | Incise skull for surgery | 25.95 | NA | 14.46 | 5.11 | NA | 45.52 | 090
61458 |  | A | Incise skull for brain wound | 27.29 | NA | 15.89 | 5.28 | NA | 48.46 | 090
61460 |  | A | Incise skull for surgery | 28.39 | NA | 16.77 | 5.13 | NA | 50.29 | 090
61470 |  | A | Incise skull for surgery | 26.06 | NA | 13.74 | 4.65 | NA | 44.45 | 090
61480 |  | A | Incise skull for surgery | 26.49 | NA | 12.34 | 5.54 | NA | 44.37 | 090
61490 |  | A | Incise skull for surgery | 25.66 | NA | 15.18 | 5.37 | NA | 46.21 | 090
61500 |  | A | Removal of skull lesion | 17.92 | NA | 11.03 | 3.26 | NA | 32.21 | 090
61501 |  | A | Remove infected skull bone | 14.84 | NA | 9.62 | 2.63 | NA | 27.09 | 090
61510 |  | A | Removal of brain lesion | 28.45 | NA | 16.60 | 5.77 | NA | 50.82 | 090
61512 |  | A | Remove brain lining lesion | 35.09 | NA | 20.18 | 7.14 | NA | 62.41 | 090
61514 |  | A | Removal of brain abscess | 25.26 | NA | 14.91 | 5.12 | NA | 45.29 | 090
61516 |  | A | Removal of brain lesion | 24.61 | NA | 15.01 | 4.94 | NA | 44.56 | 090
61518 |  | A | Removal of brain lesion | 37.32 | NA | 22.34 | 7.53 | NA | 67.19 | 090
61519 |  | A | Remove brain lining lesion | 41.39 | NA | 24.42 | 8.15 | NA | 73.96 | 090
61520 |  | A | Removal of brain lesion | 54.84 | NA | 31.93 | 10.10 | NA | 96.87 | 090
61521 |  | A | Removal of brain lesion | 44.48 | NA | 26.22 | 8.85 | NA | 79.55 | 090
61522 |  | A | Removal of brain abscess | 29.45 | NA | 17.20 | 5.30 | NA | 51.95 | 090
61524 |  | A | Removal of brain lesion | 27.86 | NA | 16.83 | 5.01 | NA | 49.70 | 090
61526 |  | A | Removal of brain lesion | 52.17 | NA | 31.55 | 6.72 | NA | 90.44 | 090
61530 |  | A | Removal of brain lesion | 43.86 | NA | 27.43 | 6.17 | NA | 77.46 | 090
61531 |  | A | Implant brain electrodes | 14.63 | NA | 9.56 | 2.84 | NA | 27.03 | 090
61533 |  | A | Implant brain electrodes | 19.71 | NA | 12.21 | 3.80 | NA | 35.72 | 090
61534 |  | A | Removal of brain lesion | 20.97 | NA | 13.30 | 4.15 | NA | 38.42 | 090
61535 |  | A | Remove brain electrodes | 11.63 | NA | 8.16 | 2.29 | NA | 22.08 | 090
61536 |  | A | Removal of brain lesion | 35.52 | NA | 21.18 | 6.68 | NA | 63.38 | 090
61538 |  | A | Removal of brain tissue | 26.81 | NA | 16.30 | 5.38 | NA | 48.49 | 090
61539 |  | A | Removal of brain tissue | 32.08 | NA | 18.91 | 6.62 | NA | 57.61 | 090
61541 |  | A | Incision of brain tissue | 28.85 | NA | 16.89 | 5.50 | NA | 51.24 | 090
61542 |  | A | Removal of brain tissue | 31.02 | NA | 18.00 | 6.49 | NA | 55.51 | 090
61543 |  | A | Removal of brain tissue | 29.22 | NA | 17.42 | 6.11 | NA | 52.75 | 090
61544 |  | A | Remove & treat brain lesion | 25.50 | NA | 15.21 | 4.91 | NA | 45.62 | 090
61545 |  | A | Excision of brain tumor | 43.80 | NA | 25.09 | 8.88 | NA | 77.77 | 090
61546 |  | A | Removal of pituitary gland | 31.30 | NA | 18.74 | 6.06 | NA | 56.10 | 090
61548 |  | A | Removal of pituitary gland | 21.53 | NA | 13.74 | 3.63 | NA | 38.90 | 090
61550 |  | A | Release of skull seams | 14.65 | NA | 4.89 | 1.14 | NA | 20.68 | 090
61552 |  | A | Release of skull seams | 19.56 | NA | 9.87 | 0.88 | NA | 30.31 | 090
61556 |  | A | Incise skull/sutures | 22.26 | NA | 11.74 | 3.57 | NA | 37.57 | 090
61557 |  | A | Incise skull/sutures | 22.38 | NA | 13.41 | 4.68 | NA | 40.47 | 090
61558 |  | A | Excision of skull/sutures | 25.58 | NA | 12.67 | 2.61 | NA | 40.86 | 090
61559 |  | A | Excision of skull/sutures | 32.79 | NA | 18.89 | 6.86 | NA | 58.54 | 090
61563 |  | A | Excision of skull tumor | 26.83 | NA | 16.25 | 4.46 | NA | 47.54 | 090
61564 |  | A | Excision of skull tumor | 33.83 | NA | 18.73 | 7.08 | NA | 59.64 | 090
61570 |  | A | Remove foreign body, brain | 24.60 | NA | 13.80 | 4.60 | NA | 43.00 | 090
61571 |  | A | Incise skull for brain wound | 26.39 | NA | 15.43 | 5.23 | NA | 47.05 | 090
61575 |  | A | Skull base/brainstem surgery | 34.36 | NA | 21.38 | 5.02 | NA | 60.76 | 090
61576 |  | A | Skull base/brainstem surgery | 52.43 | NA | 28.89 | 4.68 | NA | 86.00 | 090
61580 |  | A | Craniofacial approach, skull | 30.35 | NA | 19.96 | 2.75 | NA | 53.06 | 090
61581 |  | A | Craniofacial approach, skull | 34.60 | NA | 22.57 | 3.37 | NA | 60.54 | 090
61582 |  | A | Craniofacial approach, skull | 31.66 | NA | 19.56 | 6.30 | NA | 57.52 | 090
61583 |  | A | Craniofacial approach, skull | 36.21 | NA | 22.71 | 6.94 | NA | 65.86 | 090
61584 |  | A | Orbitocranial approach/skull | 34.65 | NA | 20.99 | 6.53 | NA | 62.17 | 090
61585 |  | A | Orbitocranial approach/skull | 38.61 | NA | 22.21 | 6.19 | NA | 67.01 | 090
61586 |  | A | Resect nasopharynx, skull | 25.10 | NA | 16.39 | 3.52 | NA | 45.01 | 090
61590 |  | A | Infratemporal approach/skull | 41.78 | NA | 26.12 | 4.28 | NA | 72.18 | 090
61591 |  | A | Infratemporal approach/skull | 43.68 | NA | 26.89 | 5.26 | NA | 75.83 | 090
61592 |  | A | Orbitocranial approach/skull | 39.64 | NA | 23.59 | 7.55 | NA | 70.78 | 090
61595 |  | A | Transtemporal approach/skull | 29.57 | NA | 19.74 | 3.05 | NA | 52.36 | 090
61596 |  | A | Transcochlear approach/skull | 35.63 | NA | 21.88 | 4.25 | NA | 61.76 | 090
61597 |  | A | Transcondylar approach/skull | 37.96 | NA | 22.41 | 6.65 | NA | 67.02 | 090
61598 |  | A | Transpetrosal approach/skull | 33.41 | NA | 20.92 | 4.60 | NA | 58.93 | 090
61600 |  | A | Resect/excise cranial lesion | 25.85 | NA | 15.01 | 3.12 | NA | 43.98 | 090
61601 |  | A | Resect/excise cranial lesion | 27.89 | NA | 17.34 | 5.29 | NA | 50.52 | 090
61605 |  | A | Resect/excise cranial lesion | 29.33 | NA | 18.97 | 2.51 | NA | 50.81 | 090
61606 |  | A | Resect/excise cranial lesion | 38.83 | NA | 23.17 | 6.81 | NA | 68.81 | 090
61607 |  | A | Resect/excise cranial lesion | 36.27 | NA | 22.17 | 5.69 | NA | 64.13 | 090
61608 |  | A | Resect/excise cranial lesion | 42.10 | NA | 24.89 | 8.31 | NA | 75.30 | 090
61609 |  | A | Transect artery, sinus | 9.89 | NA | 5.11 | 2.07 | NA | 17.07 | ZZZ
61610 |  | A | Transect artery, sinus | 29.67 | NA | 14.38 | 3.52 | NA | 47.57 | ZZZ
61611 |  | A | Transect artery, sinus | 7.42 | NA | 2.96 | 1.55 | NA | 11.93 | ZZZ
61612 |  | A | Transect artery, sinus | 27.88 | NA | 14.30 | 3.55 | NA | 45.73 | ZZZ
61613 |  | A | Remove aneurysm, sinus | 40.86 | NA | 23.34 | 8.32 | NA | 72.52 | 090
61615 |  | A | Resect/excise lesion, skull | 32.07 | NA | 20.81 | 4.64 | NA | 57.52 | 090
61616 |  | A | Resect/excise lesion, skull | 43.33 | NA | 26.97 | 7.02 | NA | 77.32 | 090
61618 |  | A | Repair dura | 16.99 | NA | 11.43 | 2.92 | NA | 31.34 | 090
61619 |  | A | Repair dura | 20.71 | NA | 13.67 | 3.42 | NA | 37.80 | 090
61624 |  | A | Occlusion/embolization cath | 20.15 | NA | 7.46 | 1.15 | NA | 28.76 | 000
61626 |  | A | Occlusion/embolization cath | 16.62 | NA | 5.88 | 0.84 | NA | 23.34 | 000
61680 |  | A | Intracranial vessel surgery | 30.71 | NA | 18.38 | 6.04 | NA | 55.13 | 090
61682 |  | A | Intracranial vessel surgery | 61.57 | NA | 34.65 | 12.69 | NA | 108.91 | 090
61684 |  | A | Intracranial vessel surgery | 39.81 | NA | 22.60 | 7.87 | NA | 70.28 | 090
61686 |  | A | Intracranial vessel surgery | 64.49 | NA | 36.70 | 13.20 | NA | 114.39 | 090
61690 |  | A | Intracranial vessel surgery | 29.31 | NA | 17.64 | 5.51 | NA | 52.46 | 090
61692 |  | A | Intracranial vessel surgery | 51.87 | NA | 29.51 | 10.17 | NA | 91.55 | 090
61697 |  | A | Brain aneurysm repr, complx | 50.52 | NA | 28.42 | 10.31 | NA | 89.25 | 090
61698 |  | A | Brain aneurysm repr, complx | 48.41 | NA | 27.31 | 9.99 | NA | 85.71 | 090
61700 |  | A | Brain aneurysm repr , simple | 50.52 | NA | 28.42 | 10.18 | NA | 89.12 | 090
61702 |  | A | Inner skull vessel surgery | 48.41 | NA | 27.31 | 9.75 | NA | 85.47 | 090
61703 |  | A | Clamp neck artery | 17.47 | NA | 11.13 | 3.62 | NA | 32.22 | 090
61705 |  | A | Revise circulation to head | 36.20 | NA | 19.89 | 6.67 | NA | 62.76 | 090
61708 |  | A | Revise circulation to head | 35.30 | NA | 16.52 | 2.18 | NA | 54.00 | 090
61710 |  | A | Revise circulation to head | 29.67 | NA | 14.68 | 2.42 | NA | 46.77 | 090
61711 |  | A | Fusion of skull arteries | 36.33 | NA | 20.68 | 7.39 | NA | 64.40 | 090
61720 |  | A | Incise skull/brain surgery | 16.77 | NA | 10.90 | 3.51 | NA | 31.18 | 090
61735 |  | A | Incise skull/brain surgery | 20.43 | NA | 12.77 | 4.16 | NA | 37.36 | 090
61750 |  | A | Incise skull/brain biopsy | 18.20 | NA | 11.08 | 3.71 | NA | 32.99 | 090
61751 |  | A | Brain biopsy w/ ct/mr guide | 17.62 | NA | 10.92 | 3.57 | NA | 32.11 | 090
61760 |  | A | Implant brain electrodes | 22.27 | NA | 12.85 | 4.59 | NA | 39.71 | 090
61770 |  | A | Incise skull for treatment | 21.44 | NA | 13.26 | 4.09 | NA | 38.79 | 090
61790 |  | A | Treat trigeminal nerve | 10.86 | NA | 6.92 | 1.82 | NA | 19.60 | 090
61791 |  | A | Treat trigeminal tract | 14.61 | NA | 9.39 | 3.03 | NA | 27.03 | 090
61793 |  | A | Focus radiation beam | 17.24 | NA | 11.07 | 3.51 | NA | 31.82 | 090
61795 |  | A | Brain surgery using computer | 4.04 | NA | 2.14 | 0.81 | NA | 6.99 | ZZZ
61850 |  | A | Implant neuroelectrodes | 12.39 | NA | 8.13 | 2.23 | NA | 22.75 | 090
61860 |  | A | Implant neuroelectrodes | 20.87 | NA | 12.59 | 4.04 | NA | 37.50 | 090
61862 |  | A | Implant neurostimul, subcort | 19.34 | NA | 12.16 | 3.97 | NA | 35.47 | 090
61870 |  | A | Implant neuroelectrodes | 14.94 | NA | 9.97 | 1.70 | NA | 26.61 | 090
61875 |  | A | Implant neuroelectrodes | 15.06 | NA | 7.39 | 2.42 | NA | 24.87 | 090
61880 |  | A | Revise/remove neuroelectrode | 6.29 | NA | 5.26 | 1.31 | NA | 12.86 | 090
61885 |  | A | Implant neurostim one array | 5.85 | NA | 4.36 | 1.22 | NA | 11.43 | 090
61886 |  | A | Implant neurostim arrays | 8.00 | NA | 6.13 | 1.64 | NA | 15.77 | 090
61888 |  | A | Revise/remove neuroreceiver | 5.07 | NA | 3.90 | 1.04 | NA | 10.01 | 010
62000 |  | A | Treat skull fracture | 12.53 | NA | 6.19 | 0.87 | NA | 19.59 | 090
62005 |  | A | Treat skull fracture | 16.17 | NA | 9.35 | 2.33 | NA | 27.85 | 090
62010 |  | A | Treatment of head injury | 19.81 | NA | 11.83 | 4.05 | NA | 35.69 | 090
62100 |  | A | Repair brain fluid leakage | 22.03 | NA | 13.97 | 4.07 | NA | 40.07 | 090
62115 |  | A | Reduction of skull defect | 21.66 | NA | 11.03 | 4.53 | NA | 37.22 | 090
62116 |  | A | Reduction of skull defect | 23.59 | NA | 14.04 | 4.85 | NA | 42.48 | 090
62117 |  | A | Reduction of skull defect | 26.60 | NA | 12.68 | 5.56 | NA | 44.84 | 090
62120 |  | A | Repair skull cavity lesion | 23.35 | NA | 15.14 | 3.07 | NA | 41.56 | 090
62121 |  | A | Incise skull repair | 21.58 | NA | 13.52 | 2.47 | NA | 37.57 | 090
62140 |  | A | Repair of skull defect | 13.51 | NA | 8.72 | 2.60 | NA | 24.83 | 090
62141 |  | A | Repair of skull defect | 14.91 | NA | 9.89 | 2.85 | NA | 27.65 | 090
62142 |  | A | Remove skull plate/flap | 10.79 | NA | 7.31 | 2.10 | NA | 20.20 | 090
62143 |  | A | Replace skull plate/flap | 13.05 | NA | 8.81 | 2.55 | NA | 24.41 | 090
62145 |  | A | Repair of skull & brain | 18.82 | NA | 11.77 | 3.81 | NA | 34.40 | 090
62146 |  | A | Repair of skull with graft | 16.12 | NA | 10.63 | 2.94 | NA | 29.69 | 090
62147 |  | A | Repair of skull with graft | 19.34 | NA | 12.38 | 3.64 | NA | 35.36 | 090
62180 |  | A | Establish brain cavity shunt | 21.06 | NA | 13.08 | 4.32 | NA | 38.46 | 090
62190 |  | A | Establish brain cavity shunt | 11.07 | NA | 7.77 | 2.18 | NA | 21.02 | 090
62192 |  | A | Establish brain cavity shunt | 12.25 | NA | 8.25 | 2.46 | NA | 22.96 | 090
62194 |  | A | Replace/irrigate catheter | 5.03 | NA | 2.25 | 0.50 | NA | 7.78 | 010
62200 |  | A | Establish brain cavity shunt | 18.32 | NA | 11.72 | 3.70 | NA | 33.74 | 090
62201 |  | A | Establish brain cavity shunt | 14.86 | NA | 9.76 | 2.52 | NA | 27.14 | 090
62220 |  | A | Establish brain cavity shunt | 13.00 | NA | 8.60 | 2.53 | NA | 24.13 | 090
62223 |  | A | Establish brain cavity shunt | 12.87 | NA | 8.54 | 2.58 | NA | 23.99 | 090
62225 |  | A | Replace/irrigate catheter | 5.41 | NA | 4.11 | 1.09 | NA | 10.61 | 090
62230 |  | A | Replace/revise brain shunt | 10.54 | NA | 6.42 | 2.10 | NA | 19.06 | 090
62252 |  | A | Csf shunt reprogram | 0.74 | 1.35 | NA | 0.18 | 2.27 | NA | XXX
62252 | 26 | A | Csf shunt reprogram | 0.74 | 0.30 | 0.30 | 0.16 | 1.20 | 1.20 | XXX
62252 | TC | A | Csf shunt reprogram | 0.00 | 1.05 | NA | 0.02 | 1.07 | NA | XXX
62256 |  | A | Remove brain cavity shunt | 6.60 | NA | 5.40 | 1.34 | NA | 13.34 | 090
62258 |  | A | Replace brain cavity shunt | 14.54 | NA | 8.82 | 2.91 | NA | 26.27 | 090
62263 |  | A | Lysis epidural adhesions | 6.14 | 5.15 | 2.07 | 0.42 | 11.71 | 8.63 | 010
62268 |  | A | Drain spinal cord cyst | 4.74 | NA | 2.74 | 0.29 | NA | 7.77 | 000
62269 |  | A | Needle biopsy, spinal cord | 5.02 | NA | 2.40 | 0.29 | NA | 7.71 | 000
62270 |  | A | Spinal fluid tap, diagnostic | 1.13 | 4.08 | 0.48 | 0.06 | 5.27 | 1.67 | 000
62272 |  | A | Drain cerebro spinal fluid | 1.35 | 3.38 | 0.62 | 0.13 | 4.86 | 2.10 | 000
62273 |  | A | Treat epidural spine lesion | 2.15 | 1.57 | 1.27 | 0.14 | 3.86 | 3.56 | 000
62280 |  | A | Treat spinal cord lesion | 2.63 | 3.79 | 0.70 | 0.17 | 6.59 | 3.50 | 010
62281 |  | A | Treat spinal cord lesion | 2.66 | 4.50 | 0.62 | 0.16 | 7.32 | 3.44 | 010
62282 |  | A | Treat spinal canal lesion | 2.33 | 5.57 | 0.62 | 0.14 | 8.04 | 3.09 | 010
62284 |  | A | Injection for myelogram | 1.54 | 5.53 | 0.55 | 0.10 | 7.17 | 2.19 | 000
62287 |  | A | Percutaneous diskectomy | 8.08 | NA | 5.05 | 0.66 | NA | 13.79 | 090
62290 |  | A | Inject for spine disk x-ray | 3.00 | 5.68 | 1.30 | 0.20 | 8.88 | 4.50 | 000
62291 |  | A | Inject for spine disk x-ray | 2.91 | 6.24 | 1.20 | 0.17 | 9.32 | 4.28 | 000
62292 |  | A | Injection into disk lesion | 7.86 | NA | 5.34 | 0.65 | NA | 13.85 | 090
62294 |  | A | Injection into spinal artery | 11.83 | NA | 7.37 | 0.85 | NA | 20.05 | 090
62310 |  | A | Inject spine c/t | 1.91 | 3.71 | 0.43 | 0.11 | 5.73 | 2.45 | 000
62311 |  | A | Inject spine l/s (cd) | 1.54 | 4.22 | 0.37 | 0.09 | 5.85 | 2.00 | 000
62318 |  | A | Inject spine w/cath, c/t | 2.04 | 3.83 | 0.44 | 0.12 | 5.99 | 2.60 | 000
62319 |  | A | Inject spine w/cath l/s (cd) | 1.87 | 3.67 | 0.40 | 0.11 | 5.65 | 2.38 | 000
62350 |  | A | Implant spinal canal cath | 6.87 | NA | 3.79 | 0.64 | NA | 11.30 | 090
62351 |  | A | Implant spinal canal cath | 10.00 | NA | 6.90 | 1.79 | NA | 18.69 | 090
62355 |  | A | Remove spinal canal catheter | 5.45 | NA | 3.02 | 0.47 | NA | 8.94 | 090
62360 |  | A | Insert spine infusion device | 2.62 | NA | 2.46 | 0.21 | NA | 5.29 | 090
62361 |  | A | Implant spine infusion pump | 5.42 | NA | 3.67 | 0.50 | NA | 9.59 | 090
62362 |  | A | Implant spine infusion pump | 7.04 | NA | 4.06 | 0.86 | NA | 11.96 | 090
62365 |  | A | Remove spine infusion device | 5.42 | NA | 3.99 | 0.58 | NA | 9.99 | 090
62367 |  | C | Analyze spine infusion pump | 0.00 | 0.00 | 0.00 | 0.00 | 0.00 | 0.00 | XXX
62367 | 26 | A | Analyze spine infusion pump | 0.48 | 0.14 | 0.14 | 0.03 | 0.65 | 0.65 | XXX
62367 | TC | C | Analyze spine infusion pump | 0.00 | 0.00 | 0.00 | 0.00 | 0.00 | 0.00 | XXX
62368 |  | C | Analyze spine infusion pump | 0.00 | 0.00 | 0.00 | 0.00 | 0.00 | 0.00 | XXX
62368 | 26 | A | Analyze spine infusion pump | 0.75 | 0.20 | 0.20 | 0.05 | 1.00 | 1.00 | XXX
62368 | TC | C | Analyze spine infusion pump | 0.00 | 0.00 | 0.00 | 0.00 | 0.00 | 0.00 | XXX
63001 |  | A | Removal of spinal lamina | 15.82 | NA | 11.68 | 3.03 | NA | 30.53 | 090
63003 |  | A | Removal of spinal lamina | 15.95 | NA | 11.95 | 2.98 | NA | 30.88 | 090
63005 |  | A | Removal of spinal lamina | 14.92 | NA | 11.49 | 2.62 | NA | 29.03 | 090
63011 |  | A | Removal of spinal lamina | 14.52 | NA | 11.29 | 1.43 | NA | 27.24 | 090
63012 |  | A | Removal of spinal lamina | 15.40 | NA | 10.34 | 2.71 | NA | 28.45 | 090
63015 |  | A | Removal of spinal lamina | 19.35 | NA | 13.68 | 3.84 | NA | 36.87 | 090
63016 |  | A | Removal of spinal lamina | 19.20 | NA | 13.66 | 3.62 | NA | 36.48 | 090
63017 |  | A | Removal of spinal lamina | 15.94 | NA | 12.00 | 2.91 | NA | 30.85 | 090
63020 |  | A | Neck spine disk surgery | 14.81 | NA | 11.33 | 2.89 | NA | 29.03 | 090
63030 |  | A | Low back disk surgery | 12.00 | NA | 9.92 | 2.21 | NA | 24.13 | 090
63035 |  | A | Spinal disk surgery add-on | 3.15 | NA | 1.67 | 0.57 | NA | 5.39 | ZZZ
63040 |  | A | Laminotomy, single cervical | 18.81 | NA | 13.39 | 3.36 | NA | 35.56 | 090
63042 |  | A | Laminotomy, single lumbar | 17.47 | NA | 12.95 | 3.11 | NA | 33.53 | 090
63043 |  | C | Laminotomy, addl cervical | 0.00 | 0.00 | 0.00 | 0.00 | 0.00 | 0.00 | ZZZ
63044 |  | C | Laminotomy, addl lumbar | 0.00 | 0.00 | 0.00 | 0.00 | 0.00 | 0.00 | ZZZ
63045 |  | A | Removal of spinal lamina | 16.50 | NA | 12.22 | 3.19 | NA | 31.91 | 090
63046 |  | A | Removal of spinal lamina | 15.80 | NA | 12.02 | 2.89 | NA | 30.71 | 090
63047 |  | A | Removal of spinal lamina | 14.61 | NA | 11.42 | 2.61 | NA | 28.64 | 090
63048 |  | A | Remove spinal lamina add-on | 3.26 | NA | 1.75 | 0.58 | NA | 5.59 | ZZZ
63055 |  | A | Decompress spinal cord | 21.99 | NA | 15.11 | 4.09 | NA | 41.19 | 090
63056 |  | A | Decompress spinal cord | 20.36 | NA | 14.44 | 3.34 | NA | 38.14 | 090
63057 |  | A | Decompress spine cord add-on | 5.26 | NA | 2.82 | 0.81 | NA | 8.89 | ZZZ
63064 |  | A | Decompress spinal cord | 24.61 | NA | 17.12 | 4.72 | NA | 46.45 | 090
63066 |  | A | Decompress spine cord add-on | 3.26 | NA | 1.76 | 0.63 | NA | 5.65 | ZZZ
63075 |  | A | Neck spine disk surgery | 19.41 | NA | 13.83 | 3.73 | NA | 36.97 | 090
63076 |  | A | Neck spine disk surgery | 4.05 | NA | 2.16 | 0.78 | NA | 6.99 | ZZZ
63077 |  | A | Spine disk surgery, thorax | 21.44 | NA | 15.47 | 3.44 | NA | 40.35 | 090
63078 |  | A | Spine disk surgery, thorax | 3.28 | NA | 1.72 | 0.50 | NA | 5.50 | ZZZ
63081 |  | A | Removal of vertebral body | 23.73 | NA | 16.68 | 4.46 | NA | 44.87 | 090
63082 |  | A | Remove vertebral body add-on | 4.37 | NA | 2.34 | 0.82 | NA | 7.53 | ZZZ
63085 |  | A | Removal of vertebral body | 26.92 | NA | 17.89 | 4.70 | NA | 49.51 | 090
63086 |  | A | Remove vertebral body add-on | 3.19 | NA | 1.66 | 0.55 | NA | 5.40 | ZZZ
63087 |  | A | Removal of vertebral body | 35.57 | NA | 22.45 | 5.87 | NA | 63.89 | 090
63088 |  | A | Remove vertebral body add-on | 4.33 | NA | 2.30 | 0.77 | NA | 7.40 | ZZZ
63090 |  | A | Removal of vertebral body | 28.16 | NA | 18.12 | 4.27 | NA | 50.55 | 090
63091 |  | A | Remove vertebral body add-on | 3.03 | NA | 1.48 | 0.45 | NA | 4.96 | ZZZ
63170 |  | A | Incise spinal cord tract(s) | 19.83 | NA | 13.54 | 3.89 | NA | 37.26 | 090
63172 |  | A | Drainage of spinal cyst | 17.66 | NA | 13.37 | 3.46 | NA | 34.49 | 090
63173 |  | A | Drainage of spinal cyst | 21.99 | NA | 15.54 | 4.14 | NA | 41.67 | 090
63180 |  | A | Revise spinal cord ligaments | 18.27 | NA | 13.04 | 3.83 | NA | 35.14 | 090
63182 |  | A | Revise spinal cord ligaments | 20.50 | NA | 13.61 | 3.48 | NA | 37.59 | 090
63185 |  | A | Incise spinal column/nerves | 15.04 | NA | 9.70 | 2.08 | NA | 26.82 | 090
63190 |  | A | Incise spinal column/nerves | 17.45 | NA | 11.68 | 2.88 | NA | 32.01 | 090
63191 |  | A | Incise spinal column/nerves | 17.54 | NA | 10.65 | 3.50 | NA | 31.69 | 090
63194 |  | A | Incise spinal column & cord | 19.19 | NA | 13.48 | 4.01 | NA | 36.68 | 090
63195 |  | A | Incise spinal column & cord | 18.84 | NA | 13.02 | 3.44 | NA | 35.30 | 090
63196 |  | A | Incise spinal column & cord | 22.30 | NA | 14.03 | 4.66 | NA | 40.99 | 090
63197 |  | A | Incise spinal column & cord | 21.11 | NA | 13.49 | 4.42 | NA | 39.02 | 090
63198 |  | A | Incise spinal column & cord | 25.38 | NA | 12.70 | 5.31 | NA | 43.39 | 090
63199 |  | A | Incise spinal column & cord | 26.89 | NA | 14.38 | 5.62 | NA | 46.89 | 090
63200 |  | A | Release of spinal cord | 19.18 | NA | 13.42 | 3.61 | NA | 36.21 | 090
63250 |  | A | Revise spinal cord vessels | 40.76 | NA | 23.15 | 7.65 | NA | 71.56 | 090
63251 |  | A | Revise spinal cord vessels | 41.20 | NA | 23.51 | 7.98 | NA | 72.69 | 090
63252 |  | A | Revise spinal cord vessels | 41.19 | NA | 23.36 | 7.75 | NA | 72.30 | 090
63265 |  | A | Excise intraspinal lesion | 21.56 | NA | 13.21 | 4.29 | NA | 39.06 | 090
63266 |  | A | Excise intraspinal lesion | 22.30 | NA | 13.70 | 4.47 | NA | 40.47 | 090
63267 |  | A | Excise intraspinal lesion | 17.95 | NA | 11.48 | 3.50 | NA | 32.93 | 090
63268 |  | A | Excise intraspinal lesion | 18.52 | NA | 10.97 | 3.18 | NA | 32.67 | 090
63270 |  | A | Excise intraspinal lesion | 26.80 | NA | 16.10 | 5.41 | NA | 48.31 | 090
63271 |  | A | Excise intraspinal lesion | 26.92 | NA | 16.17 | 5.56 | NA | 48.65 | 090
63272 |  | A | Excise intraspinal lesion | 25.32 | NA | 15.31 | 5.07 | NA | 45.70 | 090
63273 |  | A | Excise intraspinal lesion | 24.29 | NA | 14.84 | 5.08 | NA | 44.21 | 090
63275 |  | A | Biopsy/excise spinal tumor | 23.68 | NA | 14.47 | 4.68 | NA | 42.83 | 090
63276 |  | A | Biopsy/excise spinal tumor | 23.45 | NA | 14.27 | 4.63 | NA | 42.35 | 090
63277 |  | A | Biopsy/excise spinal tumor | 20.83 | NA | 12.99 | 4.03 | NA | 37.85 | 090
63278 |  | A | Biopsy/excise spinal tumor | 20.56 | NA | 13.08 | 4.02 | NA | 37.66 | 090
63280 |  | A | Biopsy/excise spinal tumor | 28.35 | NA | 16.76 | 5.80 | NA | 50.91 | 090
63281 |  | A | Biopsy/excise spinal tumor | 28.05 | NA | 16.73 | 5.67 | NA | 50.45 | 090
63282 |  | A | Biopsy/excise spinal tumor | 26.39 | NA | 15.79 | 5.33 | NA | 47.51 | 090
63283 |  | A | Biopsy/excise spinal tumor | 25.00 | NA | 15.07 | 5.12 | NA | 45.19 | 090
63285 |  | A | Biopsy/excise spinal tumor | 36.00 | NA | 20.82 | 7.31 | NA | 64.13 | 090
63286 |  | A | Biopsy/excise spinal tumor | 35.63 | NA | 20.51 | 7.07 | NA | 63.21 | 090
63287 |  | A | Biopsy/excise spinal tumor | 36.70 | NA | 21.03 | 7.48 | NA | 65.21 | 090
63290 |  | A | Biopsy/excise spinal tumor | 37.38 | NA | 21.58 | 7.65 | NA | 66.61 | 090
63300 |  | A | Removal of vertebral body | 24.43 | NA | 14.63 | 4.78 | NA | 43.84 | 090
63301 |  | A | Removal of vertebral body | 27.60 | NA | 15.65 | 5.03 | NA | 48.28 | 090
63302 |  | A | Removal of vertebral body | 27.81 | NA | 16.45 | 5.25 | NA | 49.51 | 090
63303 |  | A | Removal of vertebral body | 30.50 | NA | 17.71 | 5.21 | NA | 53.42 | 090
63304 |  | A | Removal of vertebral body | 30.33 | NA | 17.80 | 4.72 | NA | 52.85 | 090
63305 |  | A | Removal of vertebral body | 32.03 | NA | 19.24 | 5.39 | NA | 56.66 | 090
63306 |  | A | Removal of vertebral body | 32.22 | NA | 18.19 | 2.39 | NA | 52.80 | 090
63307 |  | A | Removal of vertebral body | 31.63 | NA | 17.29 | 4.23 | NA | 53.15 | 090
63308 |  | A | Remove vertebral body add-on | 5.25 | NA | 2.74 | 1.01 | NA | 9.00 | ZZZ
63600 |  | A | Remove spinal cord lesion | 14.02 | NA | 6.38 | 1.22 | NA | 21.62 | 090
63610 |  | A | Stimulation of spinal cord | 8.73 | NA | 3.90 | 0.43 | NA | 13.06 | 000
63615 |  | A | Remove lesion of spinal cord | 16.28 | NA | 9.50 | 2.85 | NA | 28.63 | 090
63650 |  | A | Implant neuroelectrodes | 6.74 | NA | 2.97 | 0.48 | NA | 10.19 | 090
63655 |  | A | Implant neuroelectrodes | 10.29 | NA | 7.26 | 1.85 | NA | 19.40 | 090
63660 |  | A | Revise/remove neuroelectrode | 6.16 | NA | 3.67 | 0.65 | NA | 10.48 | 090
63685 |  | A | Implant neuroreceiver | 7.04 | NA | 4.15 | 0.96 | NA | 12.15 | 090
63688 |  | A | Revise/remove neuroreceiver | 5.39 | NA | 3.69 | 0.70 | NA | 9.78 | 090
63700 |  | A | Repair of spinal herniation | 16.53 | NA | 10.47 | 2.69 | NA | 29.69 | 090
63702 |  | A | Repair of spinal herniation | 18.48 | NA | 9.90 | 1.36 | NA | 29.74 | 090
63704 |  | A | Repair of spinal herniation | 21.18 | NA | 12.37 | 3.84 | NA | 37.39 | 090
63706 |  | A | Repair of spinal herniation | 24.11 | NA | 13.60 | 4.73 | NA | 42.44 | 090
63707 |  | A | Repair spinal fluid leakage | 11.26 | NA | 8.06 | 1.96 | NA | 21.28 | 090
63709 |  | A | Repair spinal fluid leakage | 14.32 | NA | 9.79 | 2.49 | NA | 26.60 | 090
63710 |  | A | Graft repair of spine defect | 14.07 | NA | 9.54 | 2.61 | NA | 26.22 | 090
63740 |  | A | Install spinal shunt | 11.36 | NA | 7.79 | 2.15 | NA | 21.30 | 090
63741 |  | A | Install spinal shunt | 8.25 | NA | 4.72 | 1.05 | NA | 14.02 | 090
63744 |  | A | Revision of spinal shunt | 8.10 | NA | 5.72 | 1.51 | NA | 15.33 | 090
63746 |  | A | Removal of spinal shunt | 6.43 | NA | 4.96 | 1.15 | NA | 12.54 | 090
64400 |  | A | Injection for nerve block | 1.11 | 2.70 | 0.29 | 0.06 | 3.87 | 1.46 | 000
64402 |  | A | Injection for nerve block | 1.25 | 4.38 | 0.45 | 0.07 | 5.70 | 1.77 | 000
64405 |  | A | Injection for nerve block | 1.32 | 1.34 | 0.37 | 0.08 | 2.74 | 1.77 | 000
64408 |  | A | Injection for nerve block | 1.41 | 2.95 | 0.62 | 0.09 | 4.45 | 2.12 | 000
64410 |  | A | Injection for nerve block | 1.43 | 3.27 | 0.35 | 0.08 | 4.78 | 1.86 | 000
64412 |  | A | Injection for nerve block | 1.18 | 2.49 | 0.37 | 0.08 | 3.75 | 1.63 | 000
64413 |  | A | Injection for nerve block | 1.40 | 2.81 | 0.34 | 0.09 | 4.30 | 1.83 | 000
64415 |  | A | Injection for nerve block | 1.48 | 2.65 | 0.32 | 0.08 | 4.21 | 1.88 | 000
64417 |  | A | Injection for nerve block | 1.44 | 3.21 | 0.38 | 0.09 | 4.74 | 1.91 | 000
64418 |  | A | Injection for nerve block | 1.32 | 2.49 | 0.29 | 0.07 | 3.88 | 1.68 | 000
64420 |  | A | Injection for nerve block | 1.18 | 2.37 | 0.27 | 0.07 | 3.62 | 1.52 | 000
64421 |  | A | Injection for nerve block | 1.68 | 2.91 | 0.38 | 0.10 | 4.69 | 2.16 | 000
64425 |  | A | Injection for nerve block | 1.75 | 2.33 | 0.41 | 0.11 | 4.19 | 2.27 | 000
64430 |  | A | Injection for nerve block | 1.46 | 2.89 | 0.47 | 0.11 | 4.46 | 2.04 | 000
64435 |  | A | Injection for nerve block | 1.45 | 2.96 | 0.60 | 0.15 | 4.56 | 2.20 | 000
64445 |  | A | Injection for nerve block | 1.48 | 1.60 | 0.42 | 0.08 | 3.16 | 1.98 | 000
64450 |  | A | Injection for nerve block | 1.27 | 1.79 | 0.33 | 0.08 | 3.14 | 1.68 | 000
64470 |  | A | Inj paravertebral c/t | 1.85 | 4.02 | 0.48 | 0.12 | 5.99 | 2.45 | 000
64472 |  | A | Inj paravertebral c/t add-on | 1.29 | 3.90 | 0.33 | 0.09 | 5.28 | 1.71 | ZZZ
64475 |  | A | Inj paravertebral l/s | 1.41 | 3.82 | 0.39 | 0.09 | 5.32 | 1.89 | 000
64476 |  | A | Inj paravertebral l/s add-on | 0.98 | 3.86 | 0.26 | 0.06 | 4.90 | 1.30 | ZZZ
64479 |  | A | Inj foramen epidural c/t | 2.20 | 4.40 | 0.64 | 0.14 | 6.74 | 2.98 | 000
64480 |  | A | Inj foramen epidural add-on | 1.54 | 4.07 | 0.50 | 0.09 | 5.70 | 2.13 | ZZZ
64483 |  | A | Inj foramen epidural l/s | 1.90 | 4.44 | 0.56 | 0.12 | 6.46 | 2.58 | 000
64484 |  | A | Inj foramen epidural add-on | 1.33 | 4.05 | 0.40 | 0.08 | 5.46 | 1.81 | ZZZ
64505 |  | A | Injection for nerve block | 1.36 | 2.41 | 0.35 | 0.08 | 3.85 | 1.79 | 000
64508 |  | A | Injection for nerve block | 1.12 | 2.32 | 0.48 | 0.06 | 3.50 | 1.66 | 000
64510 |  | A | Injection for nerve block | 1.22 | 2.53 | 0.26 | 0.07 | 3.82 | 1.55 | 000
64520 |  | A | Injection for nerve block | 1.35 | 3.49 | 0.31 | 0.08 | 4.92 | 1.74 | 000
64530 |  | A | Injection for nerve block | 1.58 | 3.07 | 0.37 | 0.09 | 4.74 | 2.04 | 000
64550 |  | A | Apply neurostimulator | 0.18 | 0.56 | 0.07 | 0.01 | 0.75 | 0.26 | 000
64553 |  | A | Implant neuroelectrodes | 2.31 | 4.25 | 1.33 | 0.17 | 6.73 | 3.81 | 010
64555 |  | A | Implant neuroelectrodes | 2.27 | 2.38 | 0.77 | 0.11 | 4.76 | 3.15 | 010
64560 |  | A | Implant neuroelectrodes | 2.36 | 2.30 | 0.94 | 0.17 | 4.83 | 3.47 | 010
64561 |  | A | Implant neuroelectrodes | 6.74 | 15.28 | 3.83 | 0.11 | 22.13 | 10.68 | 010
64565 |  | A | Implant neuroelectrodes | 1.76 | 3.41 | 0.69 | 0.08 | 5.25 | 2.53 | 010
64573 |  | A | Implant neuroelectrodes | 7.50 | NA | 5.40 | 1.48 | NA | 14.38 | 090
64575 |  | A | Implant neuroelectrodes | 4.35 | NA | 3.03 | 0.37 | NA | 7.75 | 090
64577 |  | A | Implant neuroelectrodes | 4.62 | NA | 3.44 | 0.50 | NA | 8.56 | 090
64580 |  | A | Implant neuroelectrodes | 4.12 | NA | 3.94 | 0.21 | NA | 8.27 | 090
64581 |  | A | Implant neuroelectrodes | 13.50 | NA | 6.72 | 0.37 | NA | 20.59 | 090
64585 |  | A | Revise/remove neuroelectrode | 2.06 | 2.82 | 2.20 | 0.29 | 5.17 | 4.55 | 010
64590 |  | A | Implant neuroreceiver | 2.40 | NA | 2.17 | 0.40 | NA | 4.97 | 010
64595 |  | A | Revise/remove neuroreceiver | 1.73 | NA | 2.08 | 0.22 | NA | 4.03 | 010
64600 |  | A | Injection treatment of nerve | 3.45 | 2.98 | 2.06 | 0.28 | 6.71 | 5.79 | 010
64605 |  | A | Injection treatment of nerve | 5.61 | 3.62 | 2.90 | 0.53 | 9.76 | 9.04 | 010
64610 |  | A | Injection treatment of nerve | 7.16 | NA | 4.18 | 1.12 | NA | 12.46 | 010
64612 |  | A | Destroy nerve, face muscle | 1.96 | 3.00 | 1.65 | 0.09 | 5.05 | 3.70 | 010
64613 |  | A | Destroy nerve, spine muscle | 1.96 | 1.82 | 1.48 | 0.10 | 3.88 | 3.54 | 010
64614 |  | A | Destroy nerve, extrem musc | 2.20 | 3.23 | 0.82 | 0.09 | 5.52 | 3.11 | 010
64620 |  | A | Injection treatment of nerve | 2.84 | 2.98 | 0.67 | 0.17 | 5.99 | 3.68 | 010
64622 |  | A | Destr paravertebrl nerve l/s | 3.00 | 4.77 | 0.74 | 0.17 | 7.94 | 3.91 | 010
64623 |  | A | Destr paravertebral n add-on | 0.99 | 3.85 | 0.24 | 0.06 | 4.90 | 1.29 | ZZZ
64626 |  | A | Destr paravertebrl nerve c/t | 3.28 | 4.34 | 0.80 | 0.22 | 7.84 | 4.30 | 010
64627 |  | A | Destr paravertebral n add-on | 1.16 | 3.74 | 0.29 | 0.08 | 4.98 | 1.53 | ZZZ
64630 |  | A | Injection treatment of nerve | 3.00 | 3.66 | 0.88 | 0.16 | 6.82 | 4.04 | 010
64640 |  | A | Injection treatment of nerve | 2.76 | 3.67 | 1.72 | 0.11 | 6.54 | 4.59 | 010
64680 |  | A | Injection treatment of nerve | 2.62 | 2.89 | 0.76 | 0.15 | 5.66 | 3.53 | 010
64702 |  | A | Revise finger/toe nerve | 4.23 | NA | 4.05 | 0.51 | NA | 8.79 | 090
64704 |  | A | Revise hand/foot nerve | 4.57 | NA | 3.23 | 0.59 | NA | 8.39 | 090
64708 |  | A | Revise arm/leg nerve | 6.12 | NA | 5.19 | 0.82 | NA | 12.13 | 090
64712 |  | A | Revision of sciatic nerve | 7.75 | NA | 5.61 | 0.54 | NA | 13.90 | 090
64713 |  | A | Revision of arm nerve(s) | 11.00 | NA | 6.66 | 1.01 | NA | 18.67 | 090
64714 |  | A | Revise low back nerve(s) | 10.33 | NA | 4.25 | 0.64 | NA | 15.22 | 090
64716 |  | A | Revision of cranial nerve | 6.31 | NA | 5.18 | 0.59 | NA | 12.08 | 090
64718 |  | A | Revise ulnar nerve at elbow | 5.99 | NA | 5.29 | 0.87 | NA | 12.15 | 090
64719 |  | A | Revise ulnar nerve at wrist | 4.85 | NA | 4.78 | 0.63 | NA | 10.26 | 090
64721 |  | A | Carpal tunnel surgery | 4.29 | 6.59 | 6.14 | 0.59 | 11.47 | 11.02 | 090
64722 |  | A | Relieve pressure on nerve(s) | 4.70 | NA | 3.49 | 0.32 | NA | 8.51 | 090
64726 |  | A | Release foot/toe nerve | 4.18 | NA | 3.14 | 0.57 | NA | 7.89 | 090
64727 |  | A | Internal nerve revision | 3.10 | NA | 1.68 | 0.40 | NA | 5.18 | ZZZ
64732 |  | A | Incision of brow nerve | 4.41 | NA | 3.69 | 0.77 | NA | 8.87 | 090
64734 |  | A | Incision of cheek nerve | 4.92 | NA | 3.80 | 0.83 | NA | 9.55 | 090
64736 |  | A | Incision of chin nerve | 4.60 | NA | 2.98 | 0.71 | NA | 8.29 | 090
64738 |  | A | Incision of jaw nerve | 5.73 | NA | 3.92 | 0.84 | NA | 10.49 | 090
64740 |  | A | Incision of tongue nerve | 5.59 | NA | 4.11 | 0.43 | NA | 10.13 | 090
64742 |  | A | Incision of facial nerve | 6.22 | NA | 4.96 | 0.69 | NA | 11.87 | 090
64744 |  | A | Incise nerve, back of head | 5.24 | NA | 3.94 | 0.98 | NA | 10.16 | 090
64746 |  | A | Incise diaphragm nerve | 5.93 | NA | 4.58 | 0.75 | NA | 11.26 | 090
64752 |  | A | Incision of vagus nerve | 7.06 | NA | 4.96 | 0.83 | NA | 12.85 | 090
64755 |  | A | Incision of stomach nerves | 13.52 | NA | 6.40 | 1.16 | NA | 21.08 | 090
64760 |  | A | Incision of vagus nerve | 6.96 | NA | 4.05 | 0.51 | NA | 11.52 | 090
64761 |  | A | Incision of pelvis nerve | 6.41 | NA | 3.48 | 0.26 | NA | 10.15 | 090
64763 |  | A | Incise hip/thigh nerve | 6.93 | NA | 6.21 | 0.77 | NA | 13.91 | 090
64766 |  | A | Incise hip/thigh nerve | 8.67 | NA | 4.73 | 0.99 | NA | 14.39 | 090
64771 |  | A | Sever cranial nerve | 7.35 | NA | 5.44 | 1.32 | NA | 14.11 | 090
64772 |  | A | Incision of spinal nerve | 7.21 | NA | 4.88 | 1.20 | NA | 13.29 | 090
64774 |  | A | Remove skin nerve lesion | 5.17 | NA | 3.92 | 0.60 | NA | 9.69 | 090
64776 |  | A | Remove digit nerve lesion | 5.12 | NA | 3.89 | 0.63 | NA | 9.64 | 090
64778 |  | A | Digit nerve surgery add-on | 3.11 | NA | 1.64 | 0.38 | NA | 5.13 | ZZZ
64782 |  | A | Remove limb nerve lesion | 6.23 | NA | 3.93 | 0.79 | NA | 10.95 | 090
64783 |  | A | Limb nerve surgery add-on | 3.72 | NA | 1.95 | 0.48 | NA | 6.15 | ZZZ
64784 |  | A | Remove nerve lesion | 9.82 | NA | 6.99 | 1.17 | NA | 17.98 | 090
64786 |  | A | Remove sciatic nerve lesion | 15.46 | NA | 10.41 | 2.22 | NA | 28.09 | 090
64787 |  | A | Implant nerve end | 4.30 | NA | 2.28 | 0.56 | NA | 7.14 | ZZZ
64788 |  | A | Remove skin nerve lesion | 4.61 | NA | 3.50 | 0.54 | NA | 8.65 | 090
64790 |  | A | Removal of nerve lesion | 11.31 | NA | 7.53 | 1.68 | NA | 20.52 | 090
64792 |  | A | Removal of nerve lesion | 14.92 | NA | 9.13 | 1.88 | NA | 25.93 | 090
64795 |  | A | Biopsy of nerve | 3.01 | NA | 1.81 | 0.40 | NA | 5.22 | 000
64802 |  | A | Remove sympathetic nerves | 9.15 | NA | 5.17 | 0.87 | NA | 15.19 | 090
64804 |  | A | Remove sympathetic nerves | 14.64 | NA | 6.83 | 1.79 | NA | 23.26 | 090
64809 |  | A | Remove sympathetic nerves | 13.67 | NA | 6.04 | 0.96 | NA | 20.67 | 090
64818 |  | A | Remove sympathetic nerves | 10.30 | NA | 5.76 | 1.08 | NA | 17.14 | 090
64820 |  | A | Remove sympathetic nerves | 10.37 | NA | 6.48 | 1.17 | NA | 18.02 | 090
64821 |  | A | Remove sympathetic nerves | 8.75 | NA | 7.09 | 0.99 | NA | 16.83 | 090
64822 |  | A | Remove sympathetic nerves | 8.75 | NA | 7.09 | 0.99 | NA | 16.83 | 090
64823 |  | A | Remove sympathetic nerves | 10.37 | NA | 7.89 | 1.17 | NA | 19.43 | 090
64831 |  | A | Repair of digit nerve | 9.44 | NA | 7.44 | 1.14 | NA | 18.02 | 090
64832 |  | A | Repair nerve add-on | 5.66 | NA | 3.11 | 0.68 | NA | 9.45 | ZZZ
64834 |  | A | Repair of hand or foot nerve | 10.19 | NA | 7.40 | 1.23 | NA | 18.82 | 090
64835 |  | A | Repair of hand or foot nerve | 10.94 | NA | 8.06 | 1.36 | NA | 20.36 | 090
64836 |  | A | Repair of hand or foot nerve | 10.94 | NA | 7.94 | 1.32 | NA | 20.20 | 090
64837 |  | A | Repair nerve add-on | 6.26 | NA | 3.47 | 0.80 | NA | 10.53 | ZZZ
64840 |  | A | Repair of leg nerve | 13.02 | NA | 7.79 | 0.86 | NA | 21.67 | 090
64856 |  | A | Repair/transpose nerve | 13.80 | NA | 9.66 | 1.71 | NA | 25.17 | 090
64857 |  | A | Repair arm/leg nerve | 14.49 | NA | 10.21 | 1.76 | NA | 26.46 | 090
64858 |  | A | Repair sciatic nerve | 16.49 | NA | 11.04 | 2.78 | NA | 30.31 | 090
64859 |  | A | Nerve surgery | 4.26 | NA | 2.24 | 0.50 | NA | 7.00 | ZZZ
64861 |  | A | Repair of arm nerves | 19.24 | NA | 13.02 | 2.45 | NA | 34.71 | 090
64862 |  | A | Repair of low back nerves | 19.44 | NA | 12.29 | 2.47 | NA | 34.20 | 090
64864 |  | A | Repair of facial nerve | 12.55 | NA | 8.63 | 1.13 | NA | 22.31 | 090
64865 |  | A | Repair of facial nerve | 15.24 | NA | 10.46 | 1.37 | NA | 27.07 | 090
64866 |  | A | Fusion of facial/other nerve | 15.74 | NA | 9.84 | 1.06 | NA | 26.64 | 090
64868 |  | A | Fusion of facial/other nerve | 14.04 | NA | 9.57 | 1.40 | NA | 25.01 | 090
64870 |  | A | Fusion of facial/other nerve | 15.99 | NA | 9.65 | 1.08 | NA | 26.72 | 090
64872 |  | A | Subsequent repair of nerve | 1.99 | NA | 1.08 | 0.24 | NA | 3.31 | ZZZ
64874 |  | A | Repair & revise nerve add-on | 2.98 | NA | 1.64 | 0.34 | NA | 4.96 | ZZZ
64876 |  | A | Repair nerve/shorten bone | 3.38 | NA | 1.35 | 0.39 | NA | 5.12 | ZZZ
64885 |  | A | Nerve graft, head or neck | 17.53 | NA | 11.66 | 1.51 | NA | 30.70 | 090
64886 |  | A | Nerve graft, head or neck | 20.75 | NA | 13.60 | 1.73 | NA | 36.08 | 090
64890 |  | A | Nerve graft, hand or foot | 15.15 | NA | 10.27 | 1.74 | NA | 27.16 | 090
64891 |  | A | Nerve graft, hand or foot | 16.14 | NA | 5.75 | 1.38 | NA | 23.27 | 090
64892 |  | A | Nerve graft, arm or leg | 14.65 | NA | 8.96 | 1.65 | NA | 25.26 | 090
64893 |  | A | Nerve graft, arm or leg | 15.60 | NA | 10.75 | 1.77 | NA | 28.12 | 090
64895 |  | A | Nerve graft, hand or foot | 19.25 | NA | 8.62 | 2.04 | NA | 29.91 | 090
64896 |  | A | Nerve graft, hand or foot | 20.49 | NA | 11.75 | 1.85 | NA | 34.09 | 090
64897 |  | A | Nerve graft, arm or leg | 18.24 | NA | 10.92 | 2.64 | NA | 31.80 | 090
64898 |  | A | Nerve graft, arm or leg | 19.50 | NA | 10.75 | 2.71 | NA | 32.96 | 090
64901 |  | A | Nerve graft add-on | 10.22 | NA | 5.75 | 0.99 | NA | 16.96 | ZZZ
64902 |  | A | Nerve graft add-on | 11.83 | NA | 6.32 | 1.10 | NA | 19.25 | ZZZ
64905 |  | A | Nerve pedicle transfer | 14.02 | NA | 8.93 | 1.52 | NA | 24.47 | 090
64907 |  | A | Nerve pedicle transfer | 18.83 | NA | 12.07 | 1.79 | NA | 32.69 | 090
64999 |  | C | Nervous system surgery | 0.00 | 0.00 | 0.00 | 0.00 | 0.00 | 0.00 | YYY
65091 |  | A | Revise eye | 6.46 | NA | 11.59 | 0.26 | NA | 18.31 | 090
65093 |  | A | Revise eye with implant | 6.87 | NA | 11.83 | 0.28 | NA | 18.98 | 090
65101 |  | A | Removal of eye | 7.03 | NA | 12.04 | 0.28 | NA | 19.35 | 090
65103 |  | A | Remove eye/insert implant | 7.57 | NA | 12.17 | 0.30 | NA | 20.04 | 090
65105 |  | A | Remove eye/attach implant | 8.49 | NA | 12.67 | 0.34 | NA | 21.50 | 090
65110 |  | A | Removal of eye | 13.95 | NA | 15.90 | 0.68 | NA | 30.53 | 090
65112 |  | A | Remove eye/revise socket | 16.38 | NA | 17.26 | 0.96 | NA | 34.60 | 090
65114 |  | A | Remove eye/revise socket | 17.53 | NA | 18.54 | 0.94 | NA | 37.01 | 090
65125 |  | A | Revise ocular implant | 3.12 | 6.23 | 1.48 | 0.15 | 9.50 | 4.75 | 090
65130 |  | A | Insert ocular implant | 7.15 | NA | 11.46 | 0.28 | NA | 18.89 | 090
65135 |  | A | Insert ocular implant | 7.33 | NA | 12.37 | 0.29 | NA | 19.99 | 090
65140 |  | A | Attach ocular implant | 8.02 | NA | 12.36 | 0.31 | NA | 20.69 | 090
65150 |  | A | Revise ocular implant | 6.26 | NA | 10.94 | 0.25 | NA | 17.45 | 090
65155 |  | A | Reinsert ocular implant | 8.66 | NA | 12.59 | 0.40 | NA | 21.65 | 090
65175 |  | A | Removal of ocular implant | 6.28 | NA | 11.35 | 0.26 | NA | 17.89 | 090
65205 |  | A | Remove foreign body from eye | 0.71 | 0.63 | 0.20 | 0.03 | 1.37 | 0.94 | 000
65210 |  | A | Remove foreign body from eye | 0.84 | 0.78 | 0.32 | 0.03 | 1.65 | 1.19 | 000
65220 |  | A | Remove foreign body from eye | 0.71 | 8.23 | 0.19 | 0.05 | 8.99 | 0.95 | 000
65222 |  | A | Remove foreign body from eye | 0.93 | 0.80 | 0.29 | 0.04 | 1.77 | 1.26 | 000
65235 |  | A | Remove foreign body from eye | 7.57 | NA | 7.04 | 0.30 | NA | 14.91 | 090
65260 |  | A | Remove foreign body from eye | 10.96 | NA | 12.66 | 0.43 | NA | 24.05 | 090
65265 |  | A | Remove foreign body from eye | 12.59 | NA | 14.38 | 0.50 | NA | 27.47 | 090
65270 |  | A | Repair of eye wound | 1.90 | 4.07 | 2.44 | 0.08 | 6.05 | 4.42 | 010
65272 |  | A | Repair of eye wound | 3.82 | 5.76 | 4.75 | 0.16 | 9.74 | 8.73 | 090
65273 |  | A | Repair of eye wound | 4.36 | NA | 5.15 | 0.17 | NA | 9.68 | 090
65275 |  | A | Repair of eye wound | 5.34 | 5.50 | 5.32 | 0.27 | 11.11 | 10.93 | 090
65280 |  | A | Repair of eye wound | 7.66 | NA | 7.88 | 0.30 | NA | 15.84 | 090
65285 |  | A | Repair of eye wound | 12.90 | NA | 13.86 | 0.51 | NA | 27.27 | 090
65286 |  | A | Repair of eye wound | 5.51 | 9.12 | 7.85 | 0.21 | 14.84 | 13.57 | 090
65290 |  | A | Repair of eye socket wound | 5.41 | NA | 6.60 | 0.26 | NA | 12.27 | 090
65400 |  | A | Removal of eye lesion | 6.06 | 8.61 | 7.13 | 0.24 | 14.91 | 13.43 | 090
65410 |  | A | Biopsy of cornea | 1.47 | 1.76 | 0.71 | 0.06 | 3.29 | 2.24 | 000
65420 |  | A | Removal of eye lesion | 4.17 | 8.36 | 7.22 | 0.17 | 12.70 | 11.56 | 090
65426 |  | A | Removal of eye lesion | 5.25 | 8.01 | 6.75 | 0.20 | 13.46 | 12.20 | 090
65430 |  | A | Corneal smear | 1.47 | 8.68 | 0.71 | 0.06 | 10.21 | 2.24 | 000
65435 |  | A | Curette/treat cornea | 0.92 | 1.37 | 0.41 | 0.04 | 2.33 | 1.37 | 000
65436 |  | A | Curette/treat cornea | 4.19 | 6.02 | 5.03 | 0.17 | 10.38 | 9.39 | 090
65450 |  | A | Treatment of corneal lesion | 3.27 | 7.97 | 6.80 | 0.13 | 11.37 | 10.20 | 090
65600 |  | A | Revision of cornea | 3.40 | 5.54 | 1.54 | 0.14 | 9.08 | 5.08 | 090
65710 |  | A | Corneal transplant | 12.35 | NA | 13.25 | 0.49 | NA | 26.09 | 090
65730 |  | A | Corneal transplant | 14.25 | NA | 12.16 | 0.56 | NA | 26.97 | 090
65750 |  | A | Corneal transplant | 15.00 | NA | 14.54 | 0.59 | NA | 30.13 | 090
65755 |  | A | Corneal transplant | 14.89 | NA | 14.48 | 0.58 | NA | 29.95 | 090
65760 |  | N | Revision of cornea | 0.00 | 0.00 | 0.00 | 0.00 | 0.00 | 0.00 | XXX
65765 |  | N | Revision of cornea | 0.00 | 0.00 | 0.00 | 0.00 | 0.00 | 0.00 | XXX
65767 |  | N | Corneal tissue transplant | 0.00 | 0.00 | 0.00 | 0.00 | 0.00 | 0.00 | XXX
65770 |  | A | Revise cornea with implant | 17.56 | NA | 15.48 | 0.69 | NA | 33.73 | 090
65771 |  | N | Radial keratotomy | 0.00 | 0.00 | 0.00 | 0.00 | 0.00 | 0.00 | XXX
65772 |  | A | Correction of astigmatism | 4.29 | 7.51 | 6.47 | 0.17 | 11.97 | 10.93 | 090
65775 |  | A | Correction of astigmatism | 5.79 | NA | 8.63 | 0.22 | NA | 14.64 | 090
65800 |  | A | Drainage of eye | 1.91 | 2.33 | 1.45 | 0.08 | 4.32 | 3.44 | 000
65805 |  | A | Drainage of eye | 1.91 | 2.34 | 1.46 | 0.08 | 4.33 | 3.45 | 000
65810 |  | A | Drainage of eye | 4.87 | NA | 8.95 | 0.19 | NA | 14.01 | 090
65815 |  | A | Drainage of eye | 5.05 | 9.40 | 8.16 | 0.20 | 14.65 | 13.41 | 090
65820 |  | A | Relieve inner eye pressure | 8.13 | NA | 10.99 | 0.32 | NA | 19.44 | 090
65850 |  | A | Incision of eye | 10.52 | NA | 10.35 | 0.41 | NA | 21.28 | 090
65855 |  | A | Laser surgery of eye | 3.85 | 5.17 | 3.70 | 0.17 | 9.19 | 7.72 | 010
65860 |  | A | Incise inner eye adhesions | 3.55 | 4.15 | 3.18 | 0.14 | 7.84 | 6.87 | 090
65865 |  | A | Incise inner eye adhesions | 5.60 | NA | 6.92 | 0.22 | NA | 12.74 | 090
65870 |  | A | Incise inner eye adhesions | 6.27 | NA | 7.25 | 0.24 | NA | 13.76 | 090
65875 |  | A | Incise inner eye adhesions | 6.54 | NA | 7.37 | 0.25 | NA | 14.16 | 090
65880 |  | A | Incise inner eye adhesions | 7.09 | NA | 7.64 | 0.28 | NA | 15.01 | 090
65900 |  | A | Remove eye lesion | 10.93 | NA | 12.75 | 0.46 | NA | 24.14 | 090
65920 |  | A | Remove implant of eye | 8.40 | NA | 8.26 | 0.33 | NA | 16.99 | 090
65930 |  | A | Remove blood clot from eye | 7.44 | NA | 8.83 | 0.29 | NA | 16.56 | 090
66020 |  | A | Injection treatment of eye | 1.59 | 2.43 | 1.57 | 0.07 | 4.09 | 3.23 | 010
66030 |  | A | Injection treatment of eye | 1.25 | 2.25 | 1.40 | 0.05 | 3.55 | 2.70 | 010
66130 |  | A | Remove eye lesion | 7.69 | 7.63 | 6.71 | 0.31 | 15.63 | 14.71 | 090
66150 |  | A | Glaucoma surgery | 8.30 | NA | 10.98 | 0.33 | NA | 19.61 | 090
66155 |  | A | Glaucoma surgery | 8.29 | NA | 10.94 | 0.32 | NA | 19.55 | 090
66160 |  | A | Glaucoma surgery | 10.17 | NA | 11.84 | 0.41 | NA | 22.42 | 090
66165 |  | A | Glaucoma surgery | 8.01 | NA | 10.72 | 0.31 | NA | 19.04 | 090
66170 |  | A | Glaucoma surgery | 12.16 | NA | 17.11 | 0.48 | NA | 29.75 | 090
66172 |  | A | Incision of eye | 15.04 | NA | 15.67 | 0.59 | NA | 31.30 | 090
66180 |  | A | Implant eye shunt | 14.55 | NA | 12.44 | 0.57 | NA | 27.56 | 090
66185 |  | A | Revise eye shunt | 8.14 | NA | 8.47 | 0.32 | NA | 16.93 | 090
66220 |  | A | Repair eye lesion | 7.77 | NA | 9.99 | 0.32 | NA | 18.08 | 090
66225 |  | A | Repair/graft eye lesion | 11.05 | NA | 9.65 | 0.44 | NA | 21.14 | 090
66250 |  | A | Follow-up surgery of eye | 5.98 | 8.08 | 6.48 | 0.23 | 14.29 | 12.69 | 090
66500 |  | A | Incision of iris | 3.71 | NA | 4.82 | 0.15 | NA | 8.68 | 090
66505 |  | A | Incision of iris | 4.08 | NA | 5.01 | 0.17 | NA | 9.26 | 090
66600 |  | A | Remove iris and lesion | 8.68 | NA | 8.90 | 0.34 | NA | 17.92 | 090
66605 |  | A | Removal of iris | 12.79 | NA | 12.54 | 0.61 | NA | 25.94 | 090
66625 |  | A | Removal of iris | 5.13 | 7.90 | 6.81 | 0.20 | 13.23 | 12.14 | 090
66630 |  | A | Removal of iris | 6.16 | NA | 7.76 | 0.24 | NA | 14.16 | 090
66635 |  | A | Removal of iris | 6.25 | NA | 6.65 | 0.24 | NA | 13.14 | 090
66680 |  | A | Repair iris & ciliary body | 5.44 | NA | 6.30 | 0.21 | NA | 11.95 | 090
66682 |  | A | Repair iris & ciliary body | 6.21 | NA | 7.75 | 0.24 | NA | 14.20 | 090
66700 |  | A | Destruction, ciliary body | 4.78 | 7.17 | 7.17 | 0.19 | 12.14 | 12.14 | 090
66710 |  | A | Destruction, ciliary body | 4.78 | 8.92 | 7.53 | 0.18 | 13.88 | 12.49 | 090
66720 |  | A | Destruction, ciliary body | 4.78 | 8.40 | 7.53 | 0.19 | 13.37 | 12.50 | 090
66740 |  | A | Destruction, ciliary body | 4.78 | NA | 6.53 | 0.18 | NA | 11.49 | 090
66761 |  | A | Revision of iris | 4.07 | 5.66 | 4.38 | 0.16 | 9.89 | 8.61 | 090
66762 |  | A | Revision of iris | 4.58 | 5.65 | 4.45 | 0.18 | 10.41 | 9.21 | 090
66770 |  | A | Removal of inner eye lesion | 5.18 | 5.94 | 4.68 | 0.20 | 11.32 | 10.06 | 090
66820 |  | A | Incision, secondary cataract | 3.89 | NA | 8.50 | 0.16 | NA | 12.55 | 090
66821 |  | A | After cataract laser surgery | 2.35 | 3.89 | 3.46 | 0.10 | 6.34 | 5.91 | 090
66825 |  | A | Reposition intraocular lens | 8.23 | NA | 10.56 | 0.32 | NA | 19.11 | 090
66830 |  | A | Removal of lens lesion | 8.20 | NA | 7.06 | 0.32 | NA | 15.58 | 090
66840 |  | A | Removal of lens material | 7.91 | NA | 6.92 | 0.31 | NA | 15.14 | 090
66850 |  | A | Removal of lens material | 9.11 | NA | 7.52 | 0.36 | NA | 16.99 | 090
66852 |  | A | Removal of lens material | 9.97 | NA | 7.99 | 0.39 | NA | 18.35 | 090
66920 |  | A | Extraction of lens | 8.86 | NA | 7.42 | 0.35 | NA | 16.63 | 090
66930 |  | A | Extraction of lens | 10.18 | NA | 8.94 | 0.41 | NA | 19.53 | 090
66940 |  | A | Extraction of lens | 8.93 | NA | 8.39 | 0.35 | NA | 17.67 | 090
66982 |  | A | Cataract surgery, complex | 13.50 | NA | 9.31 | 0.56 | NA | 23.37 | 090
66983 |  | A | Cataract surg w/iol, 1 stage | 8.99 | NA | 6.34 | 0.37 | NA | 15.70 | 090
66984 |  | A | Cataract surg w/iol, 1 stage | 10.23 | NA | 7.85 | 0.41 | NA | 18.49 | 090
66985 |  | A | Insert lens prosthesis | 8.39 | NA | 7.05 | 0.33 | NA | 15.77 | 090
66986 |  | A | Exchange lens prosthesis | 12.28 | NA | 8.86 | 0.49 | NA | 21.63 | 090
66999 |  | C | Eye surgery procedure | 0.00 | 0.00 | 0.00 | 0.00 | 0.00 | 0.00 | YYY
67005 |  | A | Partial removal of eye fluid | 5.70 | NA | 2.75 | 0.22 | NA | 8.67 | 090
67010 |  | A | Partial removal of eye fluid | 6.87 | NA | 3.32 | 0.27 | NA | 10.46 | 090
67015 |  | A | Release of eye fluid | 6.92 | NA | 8.38 | 0.27 | NA | 15.57 | 090
67025 |  | A | Replace eye fluid | 6.84 | 18.23 | 7.77 | 0.27 | 25.34 | 14.88 | 090
67027 |  | A | Implant eye drug system | 10.85 | 15.12 | 9.26 | 0.46 | 26.43 | 20.57 | 090
67028 |  | A | Injection eye drug | 2.52 | 11.92 | 1.21 | 0.11 | 14.55 | 3.84 | 000
67030 |  | A | Incise inner eye strands | 4.84 | NA | 6.96 | 0.19 | NA | 11.99 | 090
67031 |  | A | Laser surgery, eye strands | 3.67 | 4.22 | 3.24 | 0.15 | 8.04 | 7.06 | 090
67036 |  | A | Removal of inner eye fluid | 11.89 | NA | 9.30 | 0.47 | NA | 21.66 | 090
67038 |  | A | Strip retinal membrane | 21.24 | NA | 16.01 | 0.84 | NA | 38.09 | 090
67039 |  | A | Laser treatment of retina | 14.52 | NA | 12.74 | 0.57 | NA | 27.83 | 090
67040 |  | A | Laser treatment of retina | 17.23 | NA | 14.08 | 0.68 | NA | 31.99 | 090
67101 |  | A | Repair detached retina | 7.53 | 11.29 | 9.12 | 0.29 | 19.11 | 16.94 | 090
67105 |  | A | Repair detached retina | 7.41 | 7.80 | 5.70 | 0.29 | 15.50 | 13.40 | 090
67107 |  | A | Repair detached retina | 14.84 | NA | 13.63 | 0.58 | NA | 29.05 | 090
67108 |  | A | Repair detached retina | 20.82 | NA | 18.30 | 0.82 | NA | 39.94 | 090
67110 |  | A | Repair detached retina | 8.81 | 21.74 | 10.56 | 0.35 | 30.90 | 19.72 | 090
67112 |  | A | Rerepair detached retina | 16.86 | NA | 15.66 | 0.66 | NA | 33.18 | 090
67115 |  | A | Release encircling material | 4.99 | NA | 7.02 | 0.19 | NA | 12.20 | 090
67120 |  | A | Remove eye implant material | 5.98 | 17.57 | 7.36 | 0.23 | 23.78 | 13.57 | 090
67121 |  | A | Remove eye implant material | 10.67 | NA | 12.47 | 0.42 | NA | 23.56 | 090
67141 |  | A | Treatment of retina | 5.20 | 8.29 | 7.16 | 0.20 | 13.69 | 12.56 | 090
67145 |  | A | Treatment of retina | 5.37 | 5.43 | 4.28 | 0.21 | 11.01 | 9.86 | 090
67208 |  | A | Treatment of retinal lesion | 6.70 | 8.62 | 7.26 | 0.26 | 15.58 | 14.22 | 090
67210 |  | A | Treatment of retinal lesion | 8.82 | 7.49 | 5.93 | 0.35 | 16.66 | 15.10 | 090
67218 |  | A | Treatment of retinal lesion | 18.53 | NA | 16.36 | 0.53 | NA | 35.42 | 090
67220 |  | A | Treatment of choroid lesion | 13.13 | 11.18 | 9.94 | 0.51 | 24.82 | 23.58 | 090
67221 |  | A | Ocular photodynamic ther | 4.01 | 4.80 | 1.95 | 0.16 | 8.97 | 6.12 | 000
67225 |  | A | Eye photodynamic ther add-on | 0.47 | 0.24 | 0.19 | 0.50 | 1.21 | 1.16 | ZZZ
67227 |  | A | Treatment of retinal lesion | 6.58 | 9.29 | 7.40 | 0.26 | 16.13 | 14.24 | 090
67228 |  | A | Treatment of retinal lesion | 12.74 | 10.17 | 7.47 | 0.50 | 23.41 | 20.71 | 090
67250 |  | A | Reinforce eye wall | 8.66 | NA | 12.10 | 0.36 | NA | 21.12 | 090
67255 |  | A | Reinforce/graft eye wall | 8.90 | NA | 12.11 | 0.35 | NA | 21.36 | 090
67299 |  | C | Eye surgery procedure | 0.00 | 0.00 | 0.00 | 0.00 | 0.00 | 0.00 | YYY
67311 |  | A | Revise eye muscle | 6.65 | NA | 6.36 | 0.27 | NA | 13.28 | 090
67312 |  | A | Revise two eye muscles | 8.54 | NA | 7.46 | 0.35 | NA | 16.35 | 090
67314 |  | A | Revise eye muscle | 7.52 | NA | 6.94 | 0.30 | NA | 14.76 | 090
67316 |  | A | Revise two eye muscles | 9.66 | NA | 7.99 | 0.40 | NA | 18.05 | 090
67318 |  | A | Revise eye muscle(s) | 7.85 | NA | 7.37 | 0.31 | NA | 15.53 | 090
67320 |  | A | Revise eye muscle(s) add-on | 4.33 | NA | 2.09 | 0.17 | NA | 6.59 | ZZZ
67331 |  | A | Eye surgery follow-up add-on | 4.06 | NA | 2.02 | 0.17 | NA | 6.25 | ZZZ
67332 |  | A | Rerevise eye muscles add-on | 4.49 | NA | 2.16 | 0.18 | NA | 6.83 | ZZZ
67334 |  | A | Revise eye muscle w/suture | 3.98 | NA | 1.90 | 0.16 | NA | 6.04 | ZZZ
67335 |  | A | Eye suture during surgery | 2.49 | NA | 1.20 | 0.10 | NA | 3.79 | ZZZ
67340 |  | A | Revise eye muscle add-on | 4.93 | NA | 2.41 | 0.19 | NA | 7.53 | ZZZ
67343 |  | A | Release eye tissue | 7.35 | NA | 7.26 | 0.30 | NA | 14.91 | 090
67345 |  | A | Destroy nerve of eye muscle | 2.96 | 4.46 | 1.36 | 0.13 | 7.55 | 4.45 | 010
67350 |  | A | Biopsy eye muscle | 2.87 | NA | 1.99 | 0.13 | NA | 4.99 | 000
67399 |  | C | Eye muscle surgery procedure | 0.00 | 0.00 | 0.00 | 0.00 | 0.00 | 0.00 | YYY
67400 |  | A | Explore/biopsy eye socket | 9.76 | NA | 13.85 | 0.43 | NA | 24.04 | 090
67405 |  | A | Explore/drain eye socket | 7.93 | NA | 12.56 | 0.36 | NA | 20.85 | 090
67412 |  | A | Explore/treat eye socket | 9.50 | NA | 16.02 | 0.41 | NA | 25.93 | 090
67413 |  | A | Explore/treat eye socket | 10.00 | NA | 13.80 | 0.43 | NA | 24.23 | 090
67414 |  | A | Explr/decompress eye socket | 11.13 | NA | 16.90 | 0.48 | NA | 28.51 | 090
67415 |  | A | Aspiration, orbital contents | 1.76 | NA | 0.80 | 0.09 | NA | 2.65 | 000
67420 |  | A | Explore/treat eye socket | 20.06 | NA | 20.79 | 0.84 | NA | 41.69 | 090
67430 |  | A | Explore/treat eye socket | 13.39 | NA | 18.38 | 0.97 | NA | 32.74 | 090
67440 |  | A | Explore/drain eye socket | 13.09 | NA | 18.43 | 0.58 | NA | 32.10 | 090
67445 |  | A | Explr/decompress eye socket | 14.42 | NA | 18.19 | 0.63 | NA | 33.24 | 090
67450 |  | A | Explore/biopsy eye socket | 13.51 | NA | 17.51 | 0.56 | NA | 31.58 | 090
67500 |  | A | Inject/treat eye socket | 0.79 | 0.95 | 0.20 | 0.04 | 1.78 | 1.03 | 000
67505 |  | A | Inject/treat eye socket | 0.82 | 0.95 | 0.21 | 0.04 | 1.81 | 1.07 | 000
67515 |  | A | Inject/treat eye socket | 0.61 | 0.86 | 0.29 | 0.02 | 1.49 | 0.92 | 000
67550 |  | A | Insert eye socket implant | 10.19 | NA | 13.57 | 0.50 | NA | 24.26 | 090
67560 |  | A | Revise eye socket implant | 10.60 | NA | 13.50 | 0.47 | NA | 24.57 | 090
67570 |  | A | Decompress optic nerve | 13.58 | NA | 17.66 | 0.69 | NA | 31.93 | 090
67599 |  | C | Orbit surgery procedure | 0.00 | 0.00 | 0.00 | 0.00 | 0.00 | 0.00 | YYY
67700 |  | A | Drainage of eyelid abscess | 1.35 | 7.80 | 0.60 | 0.06 | 9.21 | 2.01 | 010
67710 |  | A | Incision of eyelid | 1.02 | 7.92 | 0.49 | 0.04 | 8.98 | 1.55 | 010
67715 |  | A | Incision of eyelid fold | 1.22 | NA | 0.59 | 0.05 | NA | 1.86 | 010
67800 |  | A | Remove eyelid lesion | 1.38 | 2.67 | 0.66 | 0.06 | 4.11 | 2.10 | 010
67801 |  | A | Remove eyelid lesions | 1.88 | 8.23 | 0.91 | 0.08 | 10.19 | 2.87 | 010
67805 |  | A | Remove eyelid lesions | 2.22 | 8.41 | 1.06 | 0.09 | 10.72 | 3.37 | 010
67808 |  | A | Remove eyelid lesion(s) | 3.80 | NA | 4.34 | 0.17 | NA | 8.31 | 090
67810 |  | A | Biopsy of eyelid | 1.48 | 5.26 | 0.72 | 0.06 | 6.80 | 2.26 | 000
67820 |  | A | Revise eyelashes | 0.89 | 2.02 | 0.39 | 0.04 | 2.95 | 1.32 | 000
67825 |  | A | Revise eyelashes | 1.38 | 5.70 | 1.07 | 0.06 | 7.14 | 2.51 | 010
67830 |  | A | Revise eyelashes | 1.70 | 11.55 | 2.20 | 0.07 | 13.32 | 3.97 | 010
67835 |  | A | Revise eyelashes | 5.56 | NA | 4.90 | 0.22 | NA | 10.68 | 090
67840 |  | A | Remove eyelid lesion | 2.04 | 8.19 | 0.99 | 0.08 | 10.31 | 3.11 | 010
67850 |  | A | Treat eyelid lesion | 1.69 | 8.79 | 2.07 | 0.07 | 10.55 | 3.83 | 010
67875 |  | A | Closure of eyelid by suture | 1.35 | 11.62 | 2.16 | 0.06 | 13.03 | 3.57 | 000
67880 |  | A | Revision of eyelid | 3.80 | 12.77 | 3.24 | 0.16 | 16.73 | 7.20 | 090
67882 |  | A | Revision of eyelid | 5.07 | 15.42 | 4.84 | 0.21 | 20.70 | 10.12 | 090
67900 |  | A | Repair brow defect | 6.14 | 11.29 | 6.69 | 0.30 | 17.73 | 13.13 | 090
67901 |  | A | Repair eyelid defect | 6.97 | NA | 7.22 | 0.32 | NA | 14.51 | 090
67902 |  | A | Repair eyelid defect | 7.03 | NA | 7.17 | 0.34 | NA | 14.54 | 090
67903 |  | A | Repair eyelid defect | 6.37 | 10.72 | 6.80 | 0.39 | 17.48 | 13.56 | 090
67904 |  | A | Repair eyelid defect | 6.26 | 14.97 | 8.57 | 0.26 | 21.49 | 15.09 | 090
67906 |  | A | Repair eyelid defect | 6.79 | 9.91 | 6.30 | 0.42 | 17.12 | 13.51 | 090
67908 |  | A | Repair eyelid defect | 5.13 | 9.65 | 6.36 | 0.20 | 14.98 | 11.69 | 090
67909 |  | A | Revise eyelid defect | 5.40 | 10.20 | 6.87 | 0.25 | 15.85 | 12.52 | 090
67911 |  | A | Revise eyelid defect | 5.27 | NA | 6.92 | 0.23 | NA | 12.42 | 090
67914 |  | A | Repair eyelid defect | 3.68 | 13.22 | 3.70 | 0.16 | 17.06 | 7.54 | 090
67915 |  | A | Repair eyelid defect | 3.18 | 11.73 | 1.52 | 0.13 | 15.04 | 4.83 | 090
67916 |  | A | Repair eyelid defect | 5.31 | 17.26 | 5.52 | 0.22 | 22.79 | 11.05 | 090
67917 |  | A | Repair eyelid defect | 6.02 | 10.63 | 6.86 | 0.25 | 16.90 | 13.13 | 090
67921 |  | A | Repair eyelid defect | 3.40 | 12.94 | 3.47 | 0.14 | 16.48 | 7.01 | 090
67922 |  | A | Repair eyelid defect | 3.06 | 11.73 | 3.31 | 0.13 | 14.92 | 6.50 | 090
67923 |  | A | Repair eyelid defect | 5.88 | 16.33 | 5.62 | 0.24 | 22.45 | 11.74 | 090
67924 |  | A | Repair eyelid defect | 5.79 | 9.97 | 6.20 | 0.23 | 15.99 | 12.22 | 090
67930 |  | A | Repair eyelid wound | 3.61 | 12.50 | 3.15 | 0.17 | 16.28 | 6.93 | 010
67935 |  | A | Repair eyelid wound | 6.22 | 16.12 | 5.60 | 0.29 | 22.63 | 12.11 | 090
67938 |  | A | Remove eyelid foreign body | 1.33 | 9.65 | 0.53 | 0.06 | 11.04 | 1.92 | 010
67950 |  | A | Revision of eyelid | 5.82 | 9.01 | 7.67 | 0.30 | 15.13 | 13.79 | 090
67961 |  | A | Revision of eyelid | 5.69 | 9.39 | 6.03 | 0.26 | 15.34 | 11.98 | 090
67966 |  | A | Revision of eyelid | 6.57 | 9.01 | 6.25 | 0.33 | 15.91 | 13.15 | 090
67971 |  | A | Reconstruction of eyelid | 9.79 | NA | 7.85 | 0.42 | NA | 18.06 | 090
67973 |  | A | Reconstruction of eyelid | 12.87 | NA | 9.95 | 0.59 | NA | 23.41 | 090
67974 |  | A | Reconstruction of eyelid | 12.84 | NA | 9.87 | 0.54 | NA | 23.25 | 090
67975 |  | A | Reconstruction of eyelid | 9.13 | NA | 7.51 | 0.38 | NA | 17.02 | 090
67999 |  | C | Revision of eyelid | 0.00 | 0.00 | 0.00 | 0.00 | 0.00 | 0.00 | YYY
68020 |  | A | Incise/drain eyelid lining | 1.37 | 7.79 | 0.65 | 0.06 | 9.22 | 2.08 | 010
68040 |  | A | Treatment of eyelid lesions | 0.85 | 7.68 | 0.41 | 0.03 | 8.56 | 1.29 | 000
68100 |  | A | Biopsy of eyelid lining | 1.35 | 7.93 | 0.65 | 0.06 | 9.34 | 2.06 | 000
68110 |  | A | Remove eyelid lining lesion | 1.77 | 8.98 | 1.41 | 0.07 | 10.82 | 3.25 | 010
68115 |  | A | Remove eyelid lining lesion | 2.36 | 8.47 | 1.14 | 0.10 | 10.93 | 3.60 | 010
68130 |  | A | Remove eyelid lining lesion | 4.93 | NA | 2.38 | 0.19 | NA | 7.50 | 090
68135 |  | A | Remove eyelid lining lesion | 1.84 | 8.23 | 0.89 | 0.07 | 10.14 | 2.80 | 010
68200 |  | A | Treat eyelid by injection | 0.49 | 0.76 | 0.24 | 0.02 | 1.27 | 0.75 | 000
68320 |  | A | Revise/graft eyelid lining | 5.37 | 5.75 | 5.34 | 0.21 | 11.33 | 10.92 | 090
68325 |  | A | Revise/graft eyelid lining | 7.36 | NA | 6.33 | 0.30 | NA | 13.99 | 090
68326 |  | A | Revise/graft eyelid lining | 7.15 | NA | 6.26 | 0.30 | NA | 13.71 | 090
68328 |  | A | Revise/graft eyelid lining | 8.18 | NA | 7.07 | 0.40 | NA | 15.65 | 090
68330 |  | A | Revise eyelid lining | 4.83 | 7.34 | 5.82 | 0.19 | 12.36 | 10.84 | 090
68335 |  | A | Revise/graft eyelid lining | 7.19 | NA | 5.68 | 0.29 | NA | 13.16 | 090
68340 |  | A | Separate eyelid adhesions | 4.17 | 15.87 | 4.33 | 0.17 | 20.21 | 8.67 | 090
68360 |  | A | Revise eyelid lining | 4.37 | 6.77 | 5.42 | 0.17 | 11.31 | 9.96 | 090
68362 |  | A | Revise eyelid lining | 7.34 | NA | 8.02 | 0.29 | NA | 15.65 | 090
68399 |  | C | Eyelid lining surgery | 0.00 | 0.00 | 0.00 | 0.00 | 0.00 | 0.00 | YYY
68400 |  | A | Incise/drain tear gland | 1.69 | 11.48 | 2.18 | 0.07 | 13.24 | 3.94 | 010
68420 |  | A | Incise/drain tear sac | 2.30 | 11.89 | 2.52 | 0.10 | 14.29 | 4.92 | 010
68440 |  | A | Incise tear duct opening | 0.94 | 7.86 | 0.45 | 0.04 | 8.84 | 1.43 | 010
68500 |  | A | Removal of tear gland | 11.02 | NA | 9.13 | 0.60 | NA | 20.75 | 090
68505 |  | A | Partial removal, tear gland | 10.94 | NA | 10.31 | 0.57 | NA | 21.82 | 090
68510 |  | A | Biopsy of tear gland | 4.61 | 13.09 | 2.22 | 0.19 | 17.89 | 7.02 | 000
68520 |  | A | Removal of tear sac | 7.51 | NA | 7.47 | 0.33 | NA | 15.31 | 090
68525 |  | A | Biopsy of tear sac | 4.43 | NA | 2.15 | 0.18 | NA | 6.76 | 000
68530 |  | A | Clearance of tear duct | 3.66 | 15.33 | 3.18 | 0.16 | 19.15 | 7.00 | 010
68540 |  | A | Remove tear gland lesion | 10.60 | NA | 9.73 | 0.46 | NA | 20.79 | 090
68550 |  | A | Remove tear gland lesion | 13.26 | NA | 10.50 | 0.66 | NA | 24.42 | 090
68700 |  | A | Repair tear ducts | 6.60 | NA | 6.87 | 0.27 | NA | 13.74 | 090
68705 |  | A | Revise tear duct opening | 2.06 | 8.33 | 1.00 | 0.08 | 10.47 | 3.14 | 010
68720 |  | A | Create tear sac drain | 8.96 | NA | 8.04 | 0.38 | NA | 17.38 | 090
68745 |  | A | Create tear duct drain | 8.63 | NA | 7.82 | 0.38 | NA | 16.83 | 090
68750 |  | A | Create tear duct drain | 8.66 | NA | 8.46 | 0.37 | NA | 17.49 | 090
68760 |  | A | Close tear duct opening | 1.73 | 6.77 | 1.25 | 0.07 | 8.57 | 3.05 | 010
68761 |  | A | Close tear duct opening | 1.36 | 3.09 | 1.03 | 0.06 | 4.51 | 2.45 | 010
68770 |  | A | Close tear system fistula | 7.02 | 17.74 | 6.15 | 0.28 | 25.04 | 13.45 | 090
68801 |  | A | Dilate tear duct opening | 0.94 | 0.88 | 0.57 | 0.04 | 1.86 | 1.55 | 010
68810 |  | A | Probe nasolacrimal duct | 1.90 | 2.48 | 0.91 | 0.08 | 4.46 | 2.89 | 010
68811 |  | A | Probe nasolacrimal duct | 2.35 | NA | 2.46 | 0.10 | NA | 4.91 | 010
68815 |  | A | Probe nasolacrimal duct | 3.20 | 14.08 | 2.92 | 0.14 | 17.42 | 6.26 | 010
68840 |  | A | Explore/irrigate tear ducts | 1.25 | 1.62 | 1.00 | 0.05 | 2.92 | 2.30 | 010
68850 |  | A | Injection for tear sac x-ray | 0.80 | 15.29 | 0.32 | 0.03 | 16.12 | 1.15 | 000
68899 |  | C | Tear duct system surgery | 0.00 | 0.00 | 0.00 | 0.00 | 0.00 | 0.00 | YYY
69000 |  | A | Drain external ear lesion | 1.45 | 2.14 | 0.59 | 0.10 | 3.69 | 2.14 | 010
69005 |  | A | Drain external ear lesion | 2.11 | 2.55 | 2.11 | 0.16 | 4.82 | 4.38 | 010
69020 |  | A | Drain outer ear canal lesion | 1.48 | 2.25 | 0.71 | 0.11 | 3.84 | 2.30 | 010
69090 |  | N | Pierce earlobes | 0.00 | 0.00 | 0.00 | 0.00 | 0.00 | 0.00 | XXX
69100 |  | A | Biopsy of external ear | 0.81 | 1.44 | 0.41 | 0.04 | 2.29 | 1.26 | 000
69105 |  | A | Biopsy of external ear canal | 0.85 | 1.51 | 1.02 | 0.06 | 2.42 | 1.93 | 000
69110 |  | A | Remove external ear, partial | 3.44 | 3.48 | 2.85 | 0.24 | 7.16 | 6.53 | 090
69120 |  | A | Removal of external ear | 4.05 | NA | 4.68 | 0.31 | NA | 9.04 | 090
69140 |  | A | Remove ear canal lesion(s) | 7.97 | NA | 8.24 | 0.56 | NA | 16.77 | 090
69145 |  | A | Remove ear canal lesion(s) | 2.62 | 3.41 | 2.54 | 0.18 | 6.21 | 5.34 | 090
69150 |  | A | Extensive ear canal surgery | 13.43 | NA | 11.38 | 1.07 | NA | 25.88 | 090
69155 |  | A | Extensive ear/neck surgery | 20.80 | NA | 16.26 | 1.51 | NA | 38.57 | 090
69200 |  | A | Clear outer ear canal | 0.77 | 1.45 | 0.77 | 0.05 | 2.27 | 1.59 | 000
69205 |  | A | Clear outer ear canal | 1.20 | NA | 1.58 | 0.09 | NA | 2.87 | 010
69210 |  | A | Remove impacted ear wax | 0.61 | 0.59 | 0.25 | 0.04 | 1.24 | 0.90 | 000
69220 |  | A | Clean out mastoid cavity | 0.83 | 1.53 | 0.44 | 0.06 | 2.42 | 1.33 | 000
69222 |  | A | Clean out mastoid cavity | 1.40 | 2.24 | 1.71 | 0.10 | 3.74 | 3.21 | 010
69300 |  | R | Revise external ear | 6.36 | NA | 4.38 | 0.43 | NA | 11.17 | YYY
69310 |  | A | Rebuild outer ear canal | 10.79 | NA | 9.86 | 0.77 | NA | 21.42 | 090
69320 |  | A | Rebuild outer ear canal | 16.96 | NA | 13.77 | 1.17 | NA | 31.90 | 090
69399 |  | C | Outer ear surgery procedure | 0.00 | 0.00 | 0.00 | 0.00 | 0.00 | 0.00 | YYY
69400 |  | A | Inflate middle ear canal | 0.83 | 1.51 | 0.49 | 0.06 | 2.40 | 1.38 | 000
69401 |  | A | Inflate middle ear canal | 0.63 | 1.41 | 0.34 | 0.04 | 2.08 | 1.01 | 000
69405 |  | A | Catheterize middle ear canal | 2.63 | 3.09 | 1.50 | 0.18 | 5.90 | 4.31 | 010
69410 |  | A | Inset middle ear (baffle) | 0.33 | 1.39 | 0.17 | 0.02 | 1.74 | 0.52 | 000
69420 |  | A | Incision of eardrum | 1.33 | 2.35 | 0.75 | 0.10 | 3.78 | 2.18 | 010
69421 |  | A | Incision of eardrum | 1.73 | 2.58 | 1.92 | 0.13 | 4.44 | 3.78 | 010
69424 |  | A | Remove ventilating tube | 0.85 | 1.68 | 0.94 | 0.06 | 2.59 | 1.85 | 000
69433 |  | A | Create eardrum opening | 1.52 | 2.32 | 0.88 | 0.11 | 3.95 | 2.51 | 010
69436 |  | A | Create eardrum opening | 1.96 | NA | 2.05 | 0.14 | NA | 4.15 | 010
69440 |  | A | Exploration of middle ear | 7.57 | NA | 7.41 | 0.53 | NA | 15.51 | 090
69450 |  | A | Eardrum revision | 5.57 | NA | 6.18 | 0.39 | NA | 12.14 | 090
69501 |  | A | Mastoidectomy | 9.07 | NA | 8.22 | 0.65 | NA | 17.94 | 090
69502 |  | A | Mastoidectomy | 12.38 | NA | 10.80 | 0.86 | NA | 24.04 | 090
69505 |  | A | Remove mastoid structures | 12.99 | NA | 10.94 | 0.92 | NA | 24.85 | 090
69511 |  | A | Extensive mastoid surgery | 13.52 | NA | 11.45 | 0.96 | NA | 25.93 | 090
69530 |  | A | Extensive mastoid surgery | 19.19 | NA | 15.06 | 1.32 | NA | 35.57 | 090
69535 |  | A | Remove part of temporal bone | 36.14 | NA | 25.13 | 2.59 | NA | 63.86 | 090
69540 |  | A | Remove ear lesion | 1.20 | 2.27 | 1.61 | 0.09 | 3.56 | 2.90 | 010
69550 |  | A | Remove ear lesion | 10.99 | NA | 9.97 | 0.80 | NA | 21.76 | 090
69552 |  | A | Remove ear lesion | 19.46 | NA | 14.81 | 1.36 | NA | 35.63 | 090
69554 |  | A | Remove ear lesion | 33.16 | NA | 21.79 | 2.32 | NA | 57.27 | 090
69601 |  | A | Mastoid surgery revision | 13.24 | NA | 11.97 | 0.92 | NA | 26.13 | 090
69602 |  | A | Mastoid surgery revision | 13.58 | NA | 11.55 | 0.94 | NA | 26.07 | 090
69603 |  | A | Mastoid surgery revision | 14.02 | NA | 11.80 | 1.00 | NA | 26.82 | 090
69604 |  | A | Mastoid surgery revision | 14.02 | NA | 11.76 | 0.98 | NA | 26.76 | 090
69605 |  | A | Mastoid surgery revision | 18.49 | NA | 14.37 | 1.29 | NA | 34.15 | 090
69610 |  | A | Repair of eardrum | 4.43 | 4.27 | 3.47 | 0.31 | 9.01 | 8.21 | 010
69620 |  | A | Repair of eardrum | 5.89 | 6.90 | 3.40 | 0.40 | 13.19 | 9.69 | 090
69631 |  | A | Repair eardrum structures | 9.86 | NA | 9.38 | 0.69 | NA | 19.93 | 090
69632 |  | A | Rebuild eardrum structures | 12.75 | NA | 11.73 | 0.89 | NA | 25.37 | 090
69633 |  | A | Rebuild eardrum structures | 12.10 | NA | 11.36 | 0.84 | NA | 24.30 | 090
69635 |  | A | Repair eardrum structures | 13.33 | NA | 11.41 | 0.87 | NA | 25.61 | 090
69636 |  | A | Rebuild eardrum structures | 15.22 | NA | 13.23 | 1.07 | NA | 29.52 | 090
69637 |  | A | Rebuild eardrum structures | 15.11 | NA | 13.16 | 1.06 | NA | 29.33 | 090
69641 |  | A | Revise middle ear & mastoid | 12.71 | NA | 11.06 | 0.89 | NA | 24.66 | 090
69642 |  | A | Revise middle ear & mastoid | 16.84 | NA | 14.16 | 1.18 | NA | 32.18 | 090
69643 |  | A | Revise middle ear & mastoid | 15.32 | NA | 13.24 | 1.08 | NA | 29.64 | 090
69644 |  | A | Revise middle ear & mastoid | 16.97 | NA | 14.22 | 1.19 | NA | 32.38 | 090
69645 |  | A | Revise middle ear & mastoid | 16.38 | NA | 13.77 | 1.16 | NA | 31.31 | 090
69646 |  | A | Revise middle ear & mastoid | 17.99 | NA | 14.83 | 1.26 | NA | 34.08 | 090
69650 |  | A | Release middle ear bone | 9.66 | NA | 8.53 | 0.68 | NA | 18.87 | 090
69660 |  | A | Revise middle ear bone | 11.90 | NA | 9.86 | 0.84 | NA | 22.60 | 090
69661 |  | A | Revise middle ear bone | 15.74 | NA | 12.63 | 1.10 | NA | 29.47 | 090
69662 |  | A | Revise middle ear bone | 15.44 | NA | 12.56 | 1.08 | NA | 29.08 | 090
69666 |  | A | Repair middle ear structures | 9.75 | NA | 8.65 | 0.68 | NA | 19.08 | 090
69667 |  | A | Repair middle ear structures | 9.76 | NA | 8.58 | 0.72 | NA | 19.06 | 090
69670 |  | A | Remove mastoid air cells | 11.51 | NA | 10.36 | 0.78 | NA | 22.65 | 090
69676 |  | A | Remove middle ear nerve | 9.52 | NA | 9.14 | 0.69 | NA | 19.35 | 090
69700 |  | A | Close mastoid fistula | 8.23 | NA | 5.77 | 0.55 | NA | 14.55 | 090
69710 |  | N | Implant/replace hearing aid | 0.00 | 0.00 | 0.00 | 0.00 | 0.00 | 0.00 | XXX
69711 |  | A | Remove/repair hearing aid | 10.44 | NA | 9.62 | 0.62 | NA | 20.68 | 090
69714 |  | A | Implant temple bone w/stimul | 14.00 | NA | 11.53 | 1.01 | NA | 26.54 | 090
69715 |  | A | Temple bone implnt w/stimulat | 18.25 | NA | 14.05 | 1.32 | NA | 33.62 | 090
69717 |  | A | Temple bone implant revision | 14.98 | NA | 11.46 | 1.08 | NA | 27.52 | 090
69718 |  | A | Revise temple bone implant | 18.50 | NA | 14.20 | 1.34 | NA | 34.04 | 090
69720 |  | A | Release facial nerve | 14.38 | NA | 12.85 | 1.03 | NA | 28.26 | 090
69725 |  | A | Release facial nerve | 25.38 | NA | 17.97 | 1.78 | NA | 45.13 | 090
69740 |  | A | Repair facial nerve | 15.96 | NA | 10.90 | 1.13 | NA | 27.99 | 090
69745 |  | A | Repair facial nerve | 16.69 | NA | 12.80 | 1.00 | NA | 30.49 | 090
69799 |  | C | Middle ear surgery procedure | 0.00 | 0.00 | 0.00 | 0.00 | 0.00 | 0.00 | YYY
69801 |  | A | Incise inner ear | 8.56 | NA | 7.96 | 0.60 | NA | 17.12 | 090
69802 |  | A | Incise inner ear | 13.10 | NA | 11.37 | 0.91 | NA | 25.38 | 090
69805 |  | A | Explore inner ear | 13.82 | NA | 10.91 | 0.97 | NA | 25.70 | 090
69806 |  | A | Explore inner ear | 12.35 | NA | 10.82 | 0.86 | NA | 24.03 | 090
69820 |  | A | Establish inner ear window | 10.34 | NA | 8.78 | 0.66 | NA | 19.78 | 090
69840 |  | A | Revise inner ear window | 10.26 | NA | 9.00 | 0.64 | NA | 19.90 | 090
69905 |  | A | Remove inner ear | 11.10 | NA | 9.94 | 0.77 | NA | 21.81 | 090
69910 |  | A | Remove inner ear & mastoid | 13.63 | NA | 11.42 | 0.94 | NA | 25.99 | 090
69915 |  | A | Incise inner ear nerve | 21.23 | NA | 15.88 | 1.54 | NA | 38.65 | 090
69930 |  | A | Implant cochlear device | 16.81 | NA | 12.94 | 1.19 | NA | 30.94 | 090
69949 |  | C | Inner ear surgery procedure | 0.00 | 0.00 | 0.00 | 0.00 | 0.00 | 0.00 | YYY
69950 |  | A | Incise inner ear nerve | 25.64 | NA | 16.71 | 2.90 | NA | 45.25 | 090
69955 |  | A | Release facial nerve | 27.04 | NA | 18.39 | 1.89 | NA | 47.32 | 090
69960 |  | A | Release inner ear canal | 27.04 | NA | 18.40 | 2.43 | NA | 47.87 | 090
69970 |  | A | Remove inner ear lesion | 30.04 | NA | 19.12 | 2.34 | NA | 51.50 | 090
69979 |  | C | Temporal bone surgery | 0.00 | 0.00 | 0.00 | 0.00 | 0.00 | 0.00 | YYY
69990 |  | R | Microsurgery add-on | 3.47 | NA | 1.87 | 0.56 | NA | 5.90 | ZZZ
70010 |  | A | Contrast x-ray of brain | 1.19 | 4.53 | NA | 0.24 | 5.96 | NA | XXX
70010 | 26 | A | Contrast x-ray of brain | 1.19 | 0.42 | 0.42 | 0.06 | 1.67 | 1.67 | XXX
70010 | TC | A | Contrast x-ray of brain | 0.00 | 4.11 | NA | 0.18 | 4.29 | NA | XXX
70015 |  | A | Contrast x-ray of brain | 1.19 | 1.71 | NA | 0.12 | 3.02 | NA | XXX
70015 | 26 | A | Contrast x-ray of brain | 1.19 | 0.42 | 0.42 | 0.05 | 1.66 | 1.66 | XXX
70015 | TC | A | Contrast x-ray of brain | 0.00 | 1.29 | NA | 0.07 | 1.36 | NA | XXX
70030 |  | A | X-ray eye for foreign body | 0.17 | 0.45 | NA | 0.03 | 0.65 | NA | XXX
70030 | 26 | A | X-ray eye for foreign body | 0.17 | 0.06 | 0.06 | 0.01 | 0.24 | 0.24 | XXX
70030 | TC | A | X-ray eye for foreign body | 0.00 | 0.39 | NA | 0.02 | 0.41 | NA | XXX
70100 |  | A | X-ray exam of jaw | 0.18 | 0.56 | NA | 0.03 | 0.77 | NA | XXX
70100 | 26 | A | X-ray exam of jaw | 0.18 | 0.06 | 0.06 | 0.01 | 0.25 | 0.25 | XXX
70100 | TC | A | X-ray exam of jaw | 0.00 | 0.50 | NA | 0.02 | 0.52 | NA | XXX
70110 |  | A | X-ray exam of jaw | 0.25 | 0.68 | NA | 0.04 | 0.97 | NA | XXX
70110 | 26 | A | X-ray exam of jaw | 0.25 | 0.09 | 0.09 | 0.01 | 0.35 | 0.35 | XXX
70110 | TC | A | X-ray exam of jaw | 0.00 | 0.59 | NA | 0.03 | 0.62 | NA | XXX
70120 |  | A | X-ray exam of mastoids | 0.18 | 0.65 | NA | 0.04 | 0.87 | NA | XXX
70120 | 26 | A | X-ray exam of mastoids | 0.18 | 0.06 | 0.06 | 0.01 | 0.25 | 0.25 | XXX
70120 | TC | A | X-ray exam of mastoids | 0.00 | 0.59 | NA | 0.03 | 0.62 | NA | XXX
70130 |  | A | X-ray exam of mastoids | 0.34 | 0.86 | NA | 0.05 | 1.25 | NA | XXX
70130 | 26 | A | X-ray exam of mastoids | 0.34 | 0.12 | 0.12 | 0.01 | 0.47 | 0.47 | XXX
70130 | TC | A | X-ray exam of mastoids | 0.00 | 0.74 | NA | 0.04 | 0.78 | NA | XXX
70134 |  | A | X-ray exam of middle ear | 0.34 | 0.82 | NA | 0.05 | 1.21 | NA | XXX
70134 | 26 | A | X-ray exam of middle ear | 0.34 | 0.12 | 0.12 | 0.01 | 0.47 | 0.47 | XXX
70134 | TC | A | X-ray exam of middle ear | 0.00 | 0.70 | NA | 0.04 | 0.74 | NA | XXX
70140 |  | A | X-ray exam of facial bones | 0.19 | 0.66 | NA | 0.04 | 0.89 | NA | XXX
70140 | 26 | A | X-ray exam of facial bones | 0.19 | 0.07 | 0.07 | 0.01 | 0.27 | 0.27 | XXX
70140 | TC | A | X-ray exam of facial bones | 0.00 | 0.59 | NA | 0.03 | 0.62 | NA | XXX
70150 |  | A | X-ray exam of facial bones | 0.26 | 0.83 | NA | 0.05 | 1.14 | NA | XXX
70150 | 26 | A | X-ray exam of facial bones | 0.26 | 0.09 | 0.09 | 0.01 | 0.36 | 0.36 | XXX
70150 | TC | A | X-ray exam of facial bones | 0.00 | 0.74 | NA | 0.04 | 0.78 | NA | XXX
70160 |  | A | X-ray exam of nasal bones | 0.17 | 0.56 | NA | 0.03 | 0.76 | NA | XXX
70160 | 26 | A | X-ray exam of nasal bones | 0.17 | 0.06 | 0.06 | 0.01 | 0.24 | 0.24 | XXX
70160 | TC | A | X-ray exam of nasal bones | 0.00 | 0.50 | NA | 0.02 | 0.52 | NA | XXX
70170 |  | A | X-ray exam of tear duct | 0.30 | 1.01 | NA | 0.06 | 1.37 | NA | XXX
70170 | 26 | A | X-ray exam of tear duct | 0.30 | 0.11 | 0.11 | 0.01 | 0.42 | 0.42 | XXX
70170 | TC | A | X-ray exam of tear duct | 0.00 | 0.90 | NA | 0.05 | 0.95 | NA | XXX
70190 |  | A | X-ray exam of eye sockets | 0.21 | 0.66 | NA | 0.04 | 0.91 | NA | XXX
70190 | 26 | A | X-ray exam of eye sockets | 0.21 | 0.07 | 0.07 | 0.01 | 0.29 | 0.29 | XXX
70190 | TC | A | X-ray exam of eye sockets | 0.00 | 0.59 | NA | 0.03 | 0.62 | NA | XXX
70200 |  | A | X-ray exam of eye sockets | 0.28 | 0.84 | NA | 0.05 | 1.17 | NA | XXX
70200 | 26 | A | X-ray exam of eye sockets | 0.28 | 0.10 | 0.10 | 0.01 | 0.39 | 0.39 | XXX
70200 | TC | A | X-ray exam of eye sockets | 0.00 | 0.74 | NA | 0.04 | 0.78 | NA | XXX
70210 |  | A | X-ray exam of sinuses | 0.17 | 0.65 | NA | 0.04 | 0.86 | NA | XXX
70210 | 26 | A | X-ray exam of sinuses | 0.17 | 0.06 | 0.06 | 0.01 | 0.24 | 0.24 | XXX
70210 | TC | A | X-ray exam of sinuses | 0.00 | 0.59 | NA | 0.03 | 0.62 | NA | XXX
70220 |  | A | X-ray exam of sinuses | 0.25 | 0.83 | NA | 0.05 | 1.13 | NA | XXX
70220 | 26 | A | X-ray exam of sinuses | 0.25 | 0.09 | 0.09 | 0.01 | 0.35 | 0.35 | XXX
70220 | TC | A | X-ray exam of sinuses | 0.00 | 0.74 | NA | 0.04 | 0.78 | NA | XXX
70240 |  | A | X-ray exam, pituitary saddle | 0.19 | 0.46 | NA | 0.03 | 0.68 | NA | XXX
70240 | 26 | A | X-ray exam, pituitary saddle | 0.19 | 0.07 | 0.07 | 0.01 | 0.27 | 0.27 | XXX
70240 | TC | A | X-ray exam, pituitary saddle | 0.00 | 0.39 | NA | 0.02 | 0.41 | NA | XXX
70250 |  | A | X-ray exam of skull | 0.24 | 0.67 | NA | 0.04 | 0.95 | NA | XXX
70250 | 26 | A | X-ray exam of skull | 0.24 | 0.08 | 0.08 | 0.01 | 0.33 | 0.33 | XXX
70250 | TC | A | X-ray exam of skull | 0.00 | 0.59 | NA | 0.03 | 0.62 | NA | XXX
70260 |  | A | X-ray exam of skull | 0.34 | 0.96 | NA | 0.06 | 1.36 | NA | XXX
70260 | 26 | A | X-ray exam of skull | 0.34 | 0.12 | 0.12 | 0.01 | 0.47 | 0.47 | XXX
70260 | TC | A | X-ray exam of skull | 0.00 | 0.84 | NA | 0.05 | 0.89 | NA | XXX
70300 |  | A | X-ray exam of teeth | 0.10 | 0.29 | NA | 0.03 | 0.42 | NA | XXX
70300 | 26 | A | X-ray exam of teeth | 0.10 | 0.04 | 0.04 | 0.01 | 0.15 | 0.15 | XXX
70300 | TC | A | X-ray exam of teeth | 0.00 | 0.25 | NA | 0.02 | 0.27 | NA | XXX
70310 |  | A | X-ray exam of teeth | 0.16 | 0.46 | NA | 0.03 | 0.65 | NA | XXX
70310 | 26 | A | X-ray exam of teeth | 0.16 | 0.07 | 0.07 | 0.01 | 0.24 | 0.24 | XXX
70310 | TC | A | X-ray exam of teeth | 0.00 | 0.39 | NA | 0.02 | 0.41 | NA | XXX
70320 |  | A | Full mouth x-ray of teeth | 0.22 | 0.82 | NA | 0.05 | 1.09 | NA | XXX
70320 | 26 | A | Full mouth x-ray of teeth | 0.22 | 0.08 | 0.08 | 0.01 | 0.31 | 0.31 | XXX
70320 | TC | A | Full mouth x-ray of teeth | 0.00 | 0.74 | NA | 0.04 | 0.78 | NA | XXX
70328 |  | A | X-ray exam of jaw joint | 0.18 | 0.53 | NA | 0.03 | 0.74 | NA | XXX
70328 | 26 | A | X-ray exam of jaw joint | 0.18 | 0.06 | 0.06 | 0.01 | 0.25 | 0.25 | XXX
70328 | TC | A | X-ray exam of jaw joint | 0.00 | 0.47 | NA | 0.02 | 0.49 | NA | XXX
70330 |  | A | X-ray exam of jaw joints | 0.24 | 0.88 | NA | 0.05 | 1.17 | NA | XXX
70330 | 26 | A | X-ray exam of jaw joints | 0.24 | 0.08 | 0.08 | 0.01 | 0.33 | 0.33 | XXX
70330 | TC | A | X-ray exam of jaw joints | 0.00 | 0.80 | NA | 0.04 | 0.84 | NA | XXX
70332 |  | A | X-ray exam of jaw joint | 0.54 | 2.18 | NA | 0.12 | 2.84 | NA | XXX
70332 | 26 | A | X-ray exam of jaw joint | 0.54 | 0.19 | 0.19 | 0.02 | 0.75 | 0.75 | XXX
70332 | TC | A | X-ray exam of jaw joint | 0.00 | 1.99 | NA | 0.10 | 2.09 | NA | XXX
70336 |  | A | Magnetic image, jaw joint | 1.48 | 11.16 | NA | 0.56 | 13.20 | NA | XXX
70336 | 26 | A | Magnetic image, jaw joint | 1.48 | 0.52 | 0.52 | 0.07 | 2.07 | 2.07 | XXX
70336 | TC | A | Magnetic image, jaw joint | 0.00 | 10.64 | NA | 0.49 | 11.13 | NA | XXX
70350 |  | A | X-ray head for orthodontia | 0.17 | 0.42 | NA | 0.03 | 0.62 | NA | XXX
70350 | 26 | A | X-ray head for orthodontia | 0.17 | 0.06 | 0.06 | 0.01 | 0.24 | 0.24 | XXX
70350 | TC | A | X-ray head for orthodontia | 0.00 | 0.36 | NA | 0.02 | 0.38 | NA | XXX
70355 |  | A | Panoramic x-ray of jaws | 0.20 | 0.61 | NA | 0.04 | 0.85 | NA | XXX
70355 | 26 | A | Panoramic x-ray of jaws | 0.20 | 0.07 | 0.07 | 0.01 | 0.28 | 0.28 | XXX
70355 | TC | A | Panoramic x-ray of jaws | 0.00 | 0.54 | NA | 0.03 | 0.57 | NA | XXX
70360 |  | A | X-ray exam of neck | 0.17 | 0.45 | NA | 0.03 | 0.65 | NA | XXX
70360 | 26 | A | X-ray exam of neck | 0.17 | 0.06 | 0.06 | 0.01 | 0.24 | 0.24 | XXX
70360 | TC | A | X-ray exam of neck | 0.00 | 0.39 | NA | 0.02 | 0.41 | NA | XXX
70370 |  | A | Throat x-ray & fluoroscopy | 0.32 | 1.35 | NA | 0.07 | 1.74 | NA | XXX
70370 | 26 | A | Throat x-ray & fluoroscopy | 0.32 | 0.11 | 0.11 | 0.01 | 0.44 | 0.44 | XXX
70370 | TC | A | Throat x-ray & fluoroscopy | 0.00 | 1.24 | NA | 0.06 | 1.30 | NA | XXX
70371 |  | A | Speech evaluation, complex | 0.84 | 2.29 | NA | 0.14 | 3.27 | NA | XXX
70371 | 26 | A | Speech evaluation, complex | 0.84 | 0.30 | 0.30 | 0.04 | 1.18 | 1.18 | XXX
70371 | TC | A | Speech evaluation, complex | 0.00 | 1.99 | NA | 0.10 | 2.09 | NA | XXX
70373 |  | A | Contrast x-ray of larynx | 0.44 | 1.84 | NA | 0.11 | 2.39 | NA | XXX
70373 | 26 | A | Contrast x-ray of larynx | 0.44 | 0.15 | 0.15 | 0.02 | 0.61 | 0.61 | XXX
70373 | TC | A | Contrast x-ray of larynx | 0.00 | 1.69 | NA | 0.09 | 1.78 | NA | XXX
70380 |  | A | X-ray exam of salivary gland | 0.17 | 0.69 | NA | 0.04 | 0.90 | NA | XXX
70380 | 26 | A | X-ray exam of salivary gland | 0.17 | 0.06 | 0.06 | 0.01 | 0.24 | 0.24 | XXX
70380 | TC | A | X-ray exam of salivary gland | 0.00 | 0.63 | NA | 0.03 | 0.66 | NA | XXX
70390 |  | A | X-ray exam of salivary duct | 0.38 | 1.82 | NA | 0.11 | 2.31 | NA | XXX
70390 | 26 | A | X-ray exam of salivary duct | 0.38 | 0.13 | 0.13 | 0.02 | 0.53 | 0.53 | XXX
70390 | TC | A | X-ray exam of salivary duct | 0.00 | 1.69 | NA | 0.09 | 1.78 | NA | XXX
70450 |  | A | Ct head/brain w/o dye | 0.85 | 4.78 | NA | 0.25 | 5.88 | NA | XXX
70450 | 26 | A | Ct head/brain w/o dye | 0.85 | 0.30 | 0.30 | 0.04 | 1.19 | 1.19 | XXX
70450 | TC | A | Ct head/brain w/o dye | 0.00 | 4.48 | NA | 0.21 | 4.69 | NA | XXX
70460 |  | A | Ct head/brain w/dye | 1.13 | 5.77 | NA | 0.30 | 7.20 | NA | XXX
70460 | 26 | A | Ct head/brain w/dye | 1.13 | 0.40 | 0.40 | 0.05 | 1.58 | 1.58 | XXX
70460 | TC | A | Ct head/brain w/dye | 0.00 | 5.37 | NA | 0.25 | 5.62 | NA | XXX
70470 |  | A | Ct head/brain w/o&w dye | 1.27 | 7.16 | NA | 0.37 | 8.80 | NA | XXX
70470 | 26 | A | Ct head/brain w/o&w dye | 1.27 | 0.45 | 0.45 | 0.06 | 1.78 | 1.78 | XXX
70470 | TC | A | Ct head/brain w/o&w dye | 0.00 | 6.71 | NA | 0.31 | 7.02 | NA | XXX
70480 |  | A | Ct orbit/ear/fossa w/o dye | 1.28 | 4.93 | NA | 0.27 | 6.48 | NA | XXX
70480 | 26 | A | Ct orbit/ear/fossa w/o dye | 1.28 | 0.45 | 0.45 | 0.06 | 1.79 | 1.79 | XXX
70480 | TC | A | Ct orbit/ear/fossa w/o dye | 0.00 | 4.48 | NA | 0.21 | 4.69 | NA | XXX
70481 |  | A | Ct orbit/ear/fossa w/dye | 1.38 | 5.85 | NA | 0.31 | 7.54 | NA | XXX
70481 | 26 | A | Ct orbit/ear/fossa w/dye | 1.38 | 0.48 | 0.48 | 0.06 | 1.92 | 1.92 | XXX
70481 | TC | A | Ct orbit/ear/fossa w/dye | 0.00 | 5.37 | NA | 0.25 | 5.62 | NA | XXX
70482 |  | A | Ct orbit/ear/fossa w/o&w dye | 1.45 | 7.22 | NA | 0.37 | 9.04 | NA | XXX
70482 | 26 | A | Ct orbit/ear/fossa w/o&w dye | 1.45 | 0.51 | 0.51 | 0.06 | 2.02 | 2.02 | XXX
70482 | TC | A | Ct orbit/ear/fossa w/o&w dye | 0.00 | 6.71 | NA | 0.31 | 7.02 | NA | XXX
70486 |  | A | Ct maxillofacial w/o dye | 1.14 | 4.88 | NA | 0.26 | 6.28 | NA | XXX
70486 | 26 | A | Ct maxillofacial w/o dye | 1.14 | 0.40 | 0.40 | 0.05 | 1.59 | 1.59 | XXX
70486 | TC | A | Ct maxillofacial w/o dye | 0.00 | 4.48 | NA | 0.21 | 4.69 | NA | XXX
70487 |  | A | Ct maxillofacial w/dye | 1.30 | 5.83 | NA | 0.31 | 7.44 | NA | XXX
70487 | 26 | A | Ct maxillofacial w/dye | 1.30 | 0.46 | 0.46 | 0.06 | 1.82 | 1.82 | XXX
70487 | TC | A | Ct maxillofacial w/dye | 0.00 | 5.37 | NA | 0.25 | 5.62 | NA | XXX
70488 |  | A | Ct maxillofacial w/o&w dye | 1.42 | 7.21 | NA | 0.37 | 9.00 | NA | XXX
70488 | 26 | A | Ct maxillofacial w/o&w dye | 1.42 | 0.50 | 0.50 | 0.06 | 1.98 | 1.98 | XXX
70488 | TC | A | Ct maxillofacial w/o&w dye | 0.00 | 6.71 | NA | 0.31 | 7.02 | NA | XXX
70490 |  | A | Ct soft tissue neck w/o dye | 1.28 | 4.93 | NA | 0.27 | 6.48 | NA | XXX
70490 | 26 | A | Ct soft tissue neck w/o dye | 1.28 | 0.45 | 0.45 | 0.06 | 1.79 | 1.79 | XXX
70490 | TC | A | Ct soft tissue neck w/o dye | 0.00 | 4.48 | NA | 0.21 | 4.69 | NA | XXX
70491 |  | A | Ct soft tissue neck w/dye | 1.38 | 5.85 | NA | 0.31 | 7.54 | NA | XXX
70491 | 26 | A | Ct soft tissue neck w/dye | 1.38 | 0.48 | 0.48 | 0.06 | 1.92 | 1.92 | XXX
70491 | TC | A | Ct soft tissue neck w/dye | 0.00 | 5.37 | NA | 0.25 | 5.62 | NA | XXX
70492 |  | A | Ct sft tsue nck w/o & w/dye | 1.45 | 7.22 | NA | 0.37 | 9.04 | NA | XXX
70492 | 26 | A | Ct sft tsue nck w/o & w/dye | 1.45 | 0.51 | 0.51 | 0.06 | 2.02 | 2.02 | XXX
70492 | TC | A | Ct sft tsue nck w/o & w/dye | 0.00 | 6.71 | NA | 0.31 | 7.02 | NA | XXX
70496 |  | A | Ct angiography, head | 1.75 | 7.41 | NA | 0.56 | 9.72 | NA | XXX
70496 | 26 | A | Ct angiography, head | 1.75 | 0.70 | 0.70 | 0.08 | 2.53 | 2.53 | XXX
70496 | TC | A | Ct angiography, head | 0.00 | 6.71 | NA | 0.48 | 7.19 | NA | XXX
70498 |  | A | Ct angiography, neck | 1.75 | 7.41 | NA | 0.56 | 9.72 | NA | XXX
70498 | 26 | A | Ct angiography, neck | 1.75 | 0.70 | 0.70 | 0.08 | 2.53 | 2.53 | XXX
70498 | TC | A | Ct angiography, neck | 0.00 | 6.71 | NA | 0.48 | 7.19 | NA | XXX
70540 |  | A | Mri orbit/face/neck w/o dye | 1.35 | 11.11 | NA | 0.36 | 12.82 | NA | XXX
70540 | 26 | A | Mri orbit/face/neck w/o dye | 1.35 | 0.47 | 0.47 | 0.04 | 1.86 | 1.86 | XXX
70540 | TC | A | Mri orbit/face/neck w/o dye | 0.00 | 10.64 | NA | 0.32 | 10.96 | NA | XXX
70542 |  | A | Mri orbit/face/neck w/dye | 1.62 | 13.33 | NA | 0.44 | 15.39 | NA | XXX
70542 | 26 | A | Mri orbit/face/neck w/dye | 1.62 | 0.57 | 0.57 | 0.05 | 2.24 | 2.24 | XXX
70542 | TC | A | Mri orbit/face/neck w/dye | 0.00 | 12.76 | NA | 0.39 | 13.15 | NA | XXX
70543 |  | A | Mri orbt/fac/nck w/o&w dye | 2.15 | 24.39 | NA | 0.77 | 27.31 | NA | XXX
70543 | 26 | A | Mri orbt/fac/nck w/o&w dye | 2.15 | 0.75 | 0.75 | 0.07 | 2.97 | 2.97 | XXX
70543 | TC | A | Mri orbt/fac/nck w/o&w dye | 0.00 | 23.64 | NA | 0.70 | 24.34 | NA | XXX
70544 |  | A | Mr angiography head w/o dye | 1.20 | 11.06 | NA | 0.54 | 12.80 | NA | XXX
70544 | 26 | A | Mr angiography head w/o dye | 1.20 | 0.42 | 0.42 | 0.05 | 1.67 | 1.67 | XXX
70544 | TC | A | Mr angiography head w/o dye | 0.00 | 10.64 | NA | 0.49 | 11.13 | NA | XXX
70545 |  | A | Mr angiography head w/dye | 1.20 | 11.06 | NA | 0.54 | 12.80 | NA | XXX
70545 | 26 | A | Mr angiography head w/dye | 1.20 | 0.42 | 0.42 | 0.05 | 1.67 | 1.67 | XXX
70545 | TC | A | Mr angiography head w/dye | 0.00 | 10.64 | NA | 0.49 | 11.13 | NA | XXX
70546 |  | A | Mr angiograph head w/o&w dye | 1.80 | 21.92 | NA | 0.57 | 24.29 | NA | XXX
70546 | 26 | A | Mr angiograph head w/o&w dye | 1.80 | 0.63 | 0.63 | 0.08 | 2.51 | 2.51 | XXX
70546 | TC | A | Mr angiograph head w/o&w dye | 0.00 | 21.29 | NA | 0.49 | 21.78 | NA | XXX
70547 |  | A | Mr angiography neck w/o dye | 1.20 | 11.06 | NA | 0.54 | 12.80 | NA | XXX
70547 | 26 | A | Mr angiography neck w/o dye | 1.20 | 0.42 | 0.42 | 0.05 | 1.67 | 1.67 | XXX
70547 | TC | A | Mr angiography neck w/o dye | 0.00 | 10.64 | NA | 0.49 | 11.13 | NA | XXX
70548 |  | A | Mr angiography neck w/dye | 1.20 | 11.06 | NA | 0.54 | 12.80 | NA | XXX
70548 | 26 | A | Mr angiography neck w/dye | 1.20 | 0.42 | 0.42 | 0.05 | 1.67 | 1.67 | XXX
70548 | TC | A | Mr angiography neck w/dye | 0.00 | 10.64 | NA | 0.49 | 11.13 | NA | XXX
70549 |  | A | Mr angiograph neck w/o&w dye | 1.80 | 21.92 | NA | 0.57 | 24.29 | NA | XXX
70549 | 26 | A | Mr angiograph neck w/o&w dye | 1.80 | 0.63 | 0.63 | 0.08 | 2.51 | 2.51 | XXX
70549 | TC | A | Mr angiograph neck w/o&w dye | 0.00 | 21.29 | NA | 0.49 | 21.78 | NA | XXX
70551 |  | A | Mri brain w/o dye | 1.48 | 11.16 | NA | 0.56 | 13.20 | NA | XXX
70551 | 26 | A | Mri brain w/o dye | 1.48 | 0.52 | 0.52 | 0.07 | 2.07 | 2.07 | XXX
70551 | TC | A | Mri brain w/o dye | 0.00 | 10.64 | NA | 0.49 | 11.13 | NA | XXX
70552 |  | A | Mri brain w/dye | 1.78 | 13.40 | NA | 0.66 | 15.84 | NA | XXX
70552 | 26 | A | Mri brain w/dye | 1.78 | 0.64 | 0.64 | 0.08 | 2.50 | 2.50 | XXX
70552 | TC | A | Mri brain w/dye | 0.00 | 12.76 | NA | 0.58 | 13.34 | NA | XXX
70553 |  | A | Mri brain w/o&w dye | 2.36 | 24.47 | NA | 1.19 | 28.02 | NA | XXX
70553 | 26 | A | Mri brain w/o&w dye | 2.36 | 0.83 | 0.83 | 0.10 | 3.29 | 3.29 | XXX
70553 | TC | A | Mri brain w/o&w dye | 0.00 | 23.64 | NA | 1.09 | 24.73 | NA | XXX
71010 |  | A | Chest x-ray | 0.18 | 0.51 | NA | 0.03 | 0.72 | NA | XXX
71010 | 26 | A | Chest x-ray | 0.18 | 0.06 | 0.06 | 0.01 | 0.25 | 0.25 | XXX
71010 | TC | A | Chest x-ray | 0.00 | 0.45 | NA | 0.02 | 0.47 | NA | XXX
71015 |  | A | Chest x-ray | 0.21 | 0.57 | NA | 0.03 | 0.81 | NA | XXX
71015 | 26 | A | Chest x-ray | 0.21 | 0.07 | 0.07 | 0.01 | 0.29 | 0.29 | XXX
71015 | TC | A | Chest x-ray | 0.00 | 0.50 | NA | 0.02 | 0.52 | NA | XXX
71020 |  | A | Chest x-ray | 0.22 | 0.67 | NA | 0.04 | 0.93 | NA | XXX
71020 | 26 | A | Chest x-ray | 0.22 | 0.08 | 0.08 | 0.01 | 0.31 | 0.31 | XXX
71020 | TC | A | Chest x-ray | 0.00 | 0.59 | NA | 0.03 | 0.62 | NA | XXX
71021 |  | A | Chest x-ray | 0.27 | 0.79 | NA | 0.05 | 1.11 | NA | XXX
71021 | 26 | A | Chest x-ray | 0.27 | 0.09 | 0.09 | 0.01 | 0.37 | 0.37 | XXX
71021 | TC | A | Chest x-ray | 0.00 | 0.70 | NA | 0.04 | 0.74 | NA | XXX
71022 |  | A | Chest x-ray | 0.31 | 0.81 | NA | 0.06 | 1.18 | NA | XXX
71022 | 26 | A | Chest x-ray | 0.31 | 0.11 | 0.11 | 0.02 | 0.44 | 0.44 | XXX
71022 | TC | A | Chest x-ray | 0.00 | 0.70 | NA | 0.04 | 0.74 | NA | XXX
71023 |  | A | Chest x-ray and fluoroscopy | 0.38 | 0.88 | NA | 0.06 | 1.32 | NA | XXX
71023 | 26 | A | Chest x-ray and fluoroscopy | 0.38 | 0.14 | 0.14 | 0.02 | 0.54 | 0.54 | XXX
71023 | TC | A | Chest x-ray and fluoroscopy | 0.00 | 0.74 | NA | 0.04 | 0.78 | NA | XXX
71030 |  | A | Chest x-ray | 0.31 | 0.85 | NA | 0.05 | 1.21 | NA | XXX
71030 | 26 | A | Chest x-ray | 0.31 | 0.11 | 0.11 | 0.01 | 0.43 | 0.43 | XXX
71030 | TC | A | Chest x-ray | 0.00 | 0.74 | NA | 0.04 | 0.78 | NA | XXX
71034 |  | A | Chest x-ray and fluoroscopy | 0.46 | 1.54 | NA | 0.09 | 2.09 | NA | XXX
71034 | 26 | A | Chest x-ray and fluoroscopy | 0.46 | 0.17 | 0.17 | 0.02 | 0.65 | 0.65 | XXX
71034 | TC | A | Chest x-ray and fluoroscopy | 0.00 | 1.37 | NA | 0.07 | 1.44 | NA | XXX
71035 |  | A | Chest x-ray | 0.18 | 0.56 | NA | 0.03 | 0.77 | NA | XXX
71035 | 26 | A | Chest x-ray | 0.18 | 0.06 | 0.06 | 0.01 | 0.25 | 0.25 | XXX
71035 | TC | A | Chest x-ray | 0.00 | 0.50 | NA | 0.02 | 0.52 | NA | XXX
71040 |  | A | Contrast x-ray of bronchi | 0.58 | 1.59 | NA | 0.10 | 2.27 | NA | XXX
71040 | 26 | A | Contrast x-ray of bronchi | 0.58 | 0.20 | 0.20 | 0.03 | 0.81 | 0.81 | XXX
71040 | TC | A | Contrast x-ray of bronchi | 0.00 | 1.39 | NA | 0.07 | 1.46 | NA | XXX
71060 |  | A | Contrast x-ray of bronchi | 0.74 | 2.35 | NA | 0.14 | 3.23 | NA | XXX
71060 | 26 | A | Contrast x-ray of bronchi | 0.74 | 0.26 | 0.26 | 0.03 | 1.03 | 1.03 | XXX
71060 | TC | A | Contrast x-ray of bronchi | 0.00 | 2.09 | NA | 0.11 | 2.20 | NA | XXX
71090 |  | A | X-ray & pacemaker insertion | 0.54 | 1.82 | NA | 0.11 | 2.47 | NA | XXX
71090 | 26 | A | X-ray & pacemaker insertion | 0.54 | 0.22 | 0.22 | 0.02 | 0.78 | 0.78 | XXX
71090 | TC | A | X-ray & pacemaker insertion | 0.00 | 1.60 | NA | 0.09 | 1.69 | NA | XXX
71100 |  | A | X-ray exam of ribs | 0.22 | 0.62 | NA | 0.04 | 0.88 | NA | XXX
71100 | 26 | A | X-ray exam of ribs | 0.22 | 0.08 | 0.08 | 0.01 | 0.31 | 0.31 | XXX
71100 | TC | A | X-ray exam of ribs | 0.00 | 0.54 | NA | 0.03 | 0.57 | NA | XXX
71101 |  | A | X-ray exam of ribs/chest | 0.27 | 0.72 | NA | 0.04 | 1.03 | NA | XXX
71101 | 26 | A | X-ray exam of ribs/chest | 0.27 | 0.09 | 0.09 | 0.01 | 0.37 | 0.37 | XXX
71101 | TC | A | X-ray exam of ribs/chest | 0.00 | 0.63 | NA | 0.03 | 0.66 | NA | XXX
71110 |  | A | X-ray exam of ribs | 0.27 | 0.83 | NA | 0.05 | 1.15 | NA | XXX
71110 | 26 | A | X-ray exam of ribs | 0.27 | 0.09 | 0.09 | 0.01 | 0.37 | 0.37 | XXX
71110 | TC | A | X-ray exam of ribs | 0.00 | 0.74 | NA | 0.04 | 0.78 | NA | XXX
71111 |  | A | X-ray exam of ribs/chest | 0.32 | 0.95 | NA | 0.06 | 1.33 | NA | XXX
71111 | 26 | A | X-ray exam of ribs/chest | 0.32 | 0.11 | 0.11 | 0.01 | 0.44 | 0.44 | XXX
71111 | TC | A | X-ray exam of ribs/chest | 0.00 | 0.84 | NA | 0.05 | 0.89 | NA | XXX
71120 |  | A | X-ray exam of breastbone | 0.20 | 0.69 | NA | 0.04 | 0.93 | NA | XXX
71120 | 26 | A | X-ray exam of breastbone | 0.20 | 0.07 | 0.07 | 0.01 | 0.28 | 0.28 | XXX
71120 | TC | A | X-ray exam of breastbone | 0.00 | 0.62 | NA | 0.03 | 0.65 | NA | XXX
71130 |  | A | X-ray exam of breastbone | 0.22 | 0.75 | NA | 0.04 | 1.01 | NA | XXX
71130 | 26 | A | X-ray exam of breastbone | 0.22 | 0.08 | 0.08 | 0.01 | 0.31 | 0.31 | XXX
71130 | TC | A | X-ray exam of breastbone | 0.00 | 0.67 | NA | 0.03 | 0.70 | NA | XXX
71250 |  | A | Ct thorax w/o dye | 1.16 | 6.02 | NA | 0.31 | 7.49 | NA | XXX
71250 | 26 | A | Ct thorax w/o dye | 1.16 | 0.41 | 0.41 | 0.05 | 1.62 | 1.62 | XXX
71250 | TC | A | Ct thorax w/o dye | 0.00 | 5.61 | NA | 0.26 | 5.87 | NA | XXX
71260 |  | A | Ct thorax w/dye | 1.24 | 7.14 | NA | 0.36 | 8.74 | NA | XXX
71260 | 26 | A | Ct thorax w/dye | 1.24 | 0.43 | 0.43 | 0.05 | 1.72 | 1.72 | XXX
71260 | TC | A | Ct thorax w/dye | 0.00 | 6.71 | NA | 0.31 | 7.02 | NA | XXX
71270 |  | A | Ct thorax w/o&w dye | 1.38 | 8.88 | NA | 0.44 | 10.70 | NA | XXX
71270 | 26 | A | Ct thorax w/o&w dye | 1.38 | 0.48 | 0.48 | 0.06 | 1.92 | 1.92 | XXX
71270 | TC | A | Ct thorax w/o&w dye | 0.00 | 8.40 | NA | 0.38 | 8.78 | NA | XXX
71275 |  | A | Ct angiography, chest | 1.92 | 9.17 | NA | 0.38 | 11.47 | NA | XXX
71275 | 26 | A | Ct angiography, chest | 1.92 | 0.77 | 0.77 | 0.06 | 2.75 | 2.75 | XXX
71275 | TC | A | Ct angiography, chest | 0.00 | 8.40 | NA | 0.32 | 8.72 | NA | XXX
71550 |  | A | Mri chest w/o dye | 1.46 | 11.15 | NA | 0.41 | 13.02 | NA | XXX
71550 | 26 | A | Mri chest w/o dye | 1.46 | 0.51 | 0.51 | 0.04 | 2.01 | 2.01 | XXX
71550 | TC | A | Mri chest w/o dye | 0.00 | 10.64 | NA | 0.37 | 11.01 | NA | XXX
71551 |  | A | Mri chest w/dye | 1.73 | 13.36 | NA | 0.49 | 15.58 | NA | XXX
71551 | 26 | A | Mri chest w/dye | 1.73 | 0.60 | 0.60 | 0.06 | 2.39 | 2.39 | XXX
71551 | TC | A | Mri chest w/dye | 0.00 | 12.76 | NA | 0.43 | 13.19 | NA | XXX
71552 |  | A | Mri chest w/o&w dye | 2.26 | 24.43 | NA | 0.64 | 27.33 | NA | XXX
71552 | 26 | A | Mri chest w/o&w dye | 2.26 | 0.79 | 0.79 | 0.08 | 3.13 | 3.13 | XXX
71552 | TC | A | Mri chest w/o&w dye | 0.00 | 23.64 | NA | 0.56 | 24.20 | NA | XXX
71555 |  | R | Mri angio chest w or w/o dye | 1.81 | 11.28 | NA | 0.57 | 13.66 | NA | XXX
71555 | 26 | R | Mri angio chest w or w/o dye | 1.81 | 0.64 | 0.64 | 0.08 | 2.53 | 2.53 | XXX
71555 | TC | R | Mri angio chest w or w/o dye | 0.00 | 10.64 | NA | 0.49 | 11.13 | NA | XXX
72010 |  | A | X-ray exam of spine | 0.45 | 1.13 | NA | 0.08 | 1.66 | NA | XXX
72010 | 26 | A | X-ray exam of spine | 0.45 | 0.16 | 0.16 | 0.03 | 0.64 | 0.64 | XXX
72010 | TC | A | X-ray exam of spine | 0.00 | 0.97 | NA | 0.05 | 1.02 | NA | XXX
72020 |  | A | X-ray exam of spine | 0.15 | 0.44 | NA | 0.03 | 0.62 | NA | XXX
72020 | 26 | A | X-ray exam of spine | 0.15 | 0.05 | 0.05 | 0.01 | 0.21 | 0.21 | XXX
72020 | TC | A | X-ray exam of spine | 0.00 | 0.39 | NA | 0.02 | 0.41 | NA | XXX
72040 |  | A | X-ray exam of neck spine | 0.22 | 0.65 | NA | 0.04 | 0.91 | NA | XXX
72040 | 26 | A | X-ray exam of neck spine | 0.22 | 0.08 | 0.08 | 0.01 | 0.31 | 0.31 | XXX
72040 | TC | A | X-ray exam of neck spine | 0.00 | 0.57 | NA | 0.03 | 0.60 | NA | XXX
72050 |  | A | X-ray exam of neck spine | 0.31 | 0.95 | NA | 0.07 | 1.33 | NA | XXX
72050 | 26 | A | X-ray exam of neck spine | 0.31 | 0.11 | 0.11 | 0.02 | 0.44 | 0.44 | XXX
72050 | TC | A | X-ray exam of neck spine | 0.00 | 0.84 | NA | 0.05 | 0.89 | NA | XXX
72052 |  | A | X-ray exam of neck spine | 0.36 | 1.20 | NA | 0.07 | 1.63 | NA | XXX
72052 | 26 | A | X-ray exam of neck spine | 0.36 | 0.13 | 0.13 | 0.02 | 0.51 | 0.51 | XXX
72052 | TC | A | X-ray exam of neck spine | 0.00 | 1.07 | NA | 0.05 | 1.12 | NA | XXX
72069 |  | A | X-ray exam of trunk spine | 0.22 | 0.56 | NA | 0.04 | 0.82 | NA | XXX
72069 | 26 | A | X-ray exam of trunk spine | 0.22 | 0.09 | 0.09 | 0.02 | 0.33 | 0.33 | XXX
72069 | TC | A | X-ray exam of trunk spine | 0.00 | 0.47 | NA | 0.02 | 0.49 | NA | XXX
72070 |  | A | X-ray exam of thoracic spine | 0.22 | 0.70 | NA | 0.04 | 0.96 | NA | XXX
72070 | 26 | A | X-ray exam of thoracic spine | 0.22 | 0.08 | 0.08 | 0.01 | 0.31 | 0.31 | XXX
72070 | TC | A | X-ray exam of thoracic spine | 0.00 | 0.62 | NA | 0.03 | 0.65 | NA | XXX
72072 |  | A | X-ray exam of thoracic spine | 0.22 | 0.78 | NA | 0.05 | 1.05 | NA | XXX
72072 | 26 | A | X-ray exam of thoracic spine | 0.22 | 0.08 | 0.08 | 0.01 | 0.31 | 0.31 | XXX
72072 | TC | A | X-ray exam of thoracic spine | 0.00 | 0.70 | NA | 0.04 | 0.74 | NA | XXX
72074 |  | A | X-ray exam of thoracic spine | 0.22 | 0.94 | NA | 0.06 | 1.22 | NA | XXX
72074 | 26 | A | X-ray exam of thoracic spine | 0.22 | 0.08 | 0.08 | 0.01 | 0.31 | 0.31 | XXX
72074 | TC | A | X-ray exam of thoracic spine | 0.00 | 0.86 | NA | 0.05 | 0.91 | NA | XXX
72080 |  | A | X-ray exam of trunk spine | 0.22 | 0.71 | NA | 0.05 | 0.98 | NA | XXX
72080 | 26 | A | X-ray exam of trunk spine | 0.22 | 0.08 | 0.08 | 0.02 | 0.32 | 0.32 | XXX
72080 | TC | A | X-ray exam of trunk spine | 0.00 | 0.63 | NA | 0.03 | 0.66 | NA | XXX
72090 |  | A | X-ray exam of trunk spine | 0.28 | 0.73 | NA | 0.05 | 1.06 | NA | XXX
72090 | 26 | A | X-ray exam of trunk spine | 0.28 | 0.10 | 0.10 | 0.02 | 0.40 | 0.40 | XXX
72090 | TC | A | X-ray exam of trunk spine | 0.00 | 0.63 | NA | 0.03 | 0.66 | NA | XXX
72100 |  | A | X-ray exam of lower spine | 0.22 | 0.71 | NA | 0.05 | 0.98 | NA | XXX
72100 | 26 | A | X-ray exam of lower spine | 0.22 | 0.08 | 0.08 | 0.02 | 0.32 | 0.32 | XXX
72100 | TC | A | X-ray exam of lower spine | 0.00 | 0.63 | NA | 0.03 | 0.66 | NA | XXX
72110 |  | A | X-ray exam of lower spine | 0.31 | 0.97 | NA | 0.07 | 1.35 | NA | XXX
72110 | 26 | A | X-ray exam of lower spine | 0.31 | 0.11 | 0.11 | 0.02 | 0.44 | 0.44 | XXX
72110 | TC | A | X-ray exam of lower spine | 0.00 | 0.86 | NA | 0.05 | 0.91 | NA | XXX
72114 |  | A | X-ray exam of lower spine | 0.36 | 1.26 | NA | 0.08 | 1.70 | NA | XXX
72114 | 26 | A | X-ray exam of lower spine | 0.36 | 0.13 | 0.13 | 0.03 | 0.52 | 0.52 | XXX
72114 | TC | A | X-ray exam of lower spine | 0.00 | 1.13 | NA | 0.05 | 1.18 | NA | XXX
72120 |  | A | X-ray exam of lower spine | 0.22 | 0.92 | NA | 0.07 | 1.21 | NA | XXX
72120 | 26 | A | X-ray exam of lower spine | 0.22 | 0.08 | 0.08 | 0.02 | 0.32 | 0.32 | XXX
72120 | TC | A | X-ray exam of lower spine | 0.00 | 0.84 | NA | 0.05 | 0.89 | NA | XXX
72125 |  | A | Ct neck spine w/o dye | 1.16 | 6.02 | NA | 0.31 | 7.49 | NA | XXX
72125 | 26 | A | Ct neck spine w/o dye | 1.16 | 0.41 | 0.41 | 0.05 | 1.62 | 1.62 | XXX
72125 | TC | A | Ct neck spine w/o dye | 0.00 | 5.61 | NA | 0.26 | 5.87 | NA | XXX
72126 |  | A | Ct neck spine w/dye | 1.22 | 7.14 | NA | 0.36 | 8.72 | NA | XXX
72126 | 26 | A | Ct neck spine w/dye | 1.22 | 0.43 | 0.43 | 0.05 | 1.70 | 1.70 | XXX
72126 | TC | A | Ct neck spine w/dye | 0.00 | 6.71 | NA | 0.31 | 7.02 | NA | XXX
72127 |  | A | Ct neck spine w/o&w dye | 1.27 | 8.85 | NA | 0.44 | 10.56 | NA | XXX
72127 | 26 | A | Ct neck spine w/o&w dye | 1.27 | 0.45 | 0.45 | 0.06 | 1.78 | 1.78 | XXX
72127 | TC | A | Ct neck spine w/o&w dye | 0.00 | 8.40 | NA | 0.38 | 8.78 | NA | XXX
72128 |  | A | Ct chest spine w/o dye | 1.16 | 6.02 | NA | 0.31 | 7.49 | NA | XXX
72128 | 26 | A | Ct chest spine w/o dye | 1.16 | 0.41 | 0.41 | 0.05 | 1.62 | 1.62 | XXX
72128 | TC | A | Ct chest spine w/o dye | 0.00 | 5.61 | NA | 0.26 | 5.87 | NA | XXX
72129 |  | A | Ct chest spine w/dye | 1.22 | 7.14 | NA | 0.36 | 8.72 | NA | XXX
72129 | 26 | A | Ct chest spine w/dye | 1.22 | 0.43 | 0.43 | 0.05 | 1.70 | 1.70 | XXX
72129 | TC | A | Ct chest spine w/dye | 0.00 | 6.71 | NA | 0.31 | 7.02 | NA | XXX
72130 |  | A | Ct chest spine w/o&w dye | 1.27 | 8.85 | NA | 0.44 | 10.56 | NA | XXX
72130 | 26 | A | Ct chest spine w/o&w dye | 1.27 | 0.45 | 0.45 | 0.06 | 1.78 | 1.78 | XXX
72130 | TC | A | Ct chest spine w/o&w dye | 0.00 | 8.40 | NA | 0.38 | 8.78 | NA | XXX
72131 |  | A | Ct lumbar spine w/o dye | 1.16 | 6.02 | NA | 0.31 | 7.49 | NA | XXX
72131 | 26 | A | Ct lumbar spine w/o dye | 1.16 | 0.41 | 0.41 | 0.05 | 1.62 | 1.62 | XXX
72131 | TC | A | Ct lumbar spine w/o dye | 0.00 | 5.61 | NA | 0.26 | 5.87 | NA | XXX
72132 |  | A | Ct lumbar spine w/dye | 1.22 | 7.14 | NA | 0.37 | 8.73 | NA | XXX
72132 | 26 | A | Ct lumbar spine w/dye | 1.22 | 0.43 | 0.43 | 0.06 | 1.71 | 1.71 | XXX
72132 | TC | A | Ct lumbar spine w/dye | 0.00 | 6.71 | NA | 0.31 | 7.02 | NA | XXX
72133 |  | A | Ct lumbar spine w/o&w dye | 1.27 | 8.85 | NA | 0.44 | 10.56 | NA | XXX
72133 | 26 | A | Ct lumbar spine w/o&w dye | 1.27 | 0.45 | 0.45 | 0.06 | 1.78 | 1.78 | XXX
72133 | TC | A | Ct lumbar spine w/o&w dye | 0.00 | 8.40 | NA | 0.38 | 8.78 | NA | XXX
72141 |  | A | Mri neck spine w/o dye | 1.60 | 11.20 | NA | 0.56 | 13.36 | NA | XXX
72141 | 26 | A | Mri neck spine w/o dye | 1.60 | 0.56 | 0.56 | 0.07 | 2.23 | 2.23 | XXX
72141 | TC | A | Mri neck spine w/o dye | 0.00 | 10.64 | NA | 0.49 | 11.13 | NA | XXX
72142 |  | A | Mri neck spine w/dye | 1.92 | 13.45 | NA | 0.67 | 16.04 | NA | XXX
72142 | 26 | A | Mri neck spine w/dye | 1.92 | 0.69 | 0.69 | 0.09 | 2.70 | 2.70 | XXX
72142 | TC | A | Mri neck spine w/dye | 0.00 | 12.76 | NA | 0.58 | 13.34 | NA | XXX
72146 |  | A | Mri chest spine w/o dye | 1.60 | 12.38 | NA | 0.60 | 14.58 | NA | XXX
72146 | 26 | A | Mri chest spine w/o dye | 1.60 | 0.56 | 0.56 | 0.07 | 2.23 | 2.23 | XXX
72146 | TC | A | Mri chest spine w/o dye | 0.00 | 11.82 | NA | 0.53 | 12.35 | NA | XXX
72147 |  | A | Mri chest spine w/dye | 1.92 | 13.44 | NA | 0.67 | 16.03 | NA | XXX
72147 | 26 | A | Mri chest spine w/dye | 1.92 | 0.68 | 0.68 | 0.09 | 2.69 | 2.69 | XXX
72147 | TC | A | Mri chest spine w/dye | 0.00 | 12.76 | NA | 0.58 | 13.34 | NA | XXX
72148 |  | A | Mri lumbar spine w/o dye | 1.48 | 12.34 | NA | 0.60 | 14.42 | NA | XXX
72148 | 26 | A | Mri lumbar spine w/o dye | 1.48 | 0.52 | 0.52 | 0.07 | 2.07 | 2.07 | XXX
72148 | TC | A | Mri lumbar spine w/o dye | 0.00 | 11.82 | NA | 0.53 | 12.35 | NA | XXX
72149 |  | A | Mri lumbar spine w/dye | 1.78 | 13.40 | NA | 0.67 | 15.85 | NA | XXX
72149 | 26 | A | Mri lumbar spine w/dye | 1.78 | 0.64 | 0.64 | 0.09 | 2.51 | 2.51 | XXX
72149 | TC | A | Mri lumbar spine w/dye | 0.00 | 12.76 | NA | 0.58 | 13.34 | NA | XXX
72156 |  | A | Mri neck spine w/o&w dye | 2.57 | 24.55 | NA | 1.20 | 28.32 | NA | XXX
72156 | 26 | A | Mri neck spine w/o&w dye | 2.57 | 0.91 | 0.91 | 0.11 | 3.59 | 3.59 | XXX
72156 | TC | A | Mri neck spine w/o&w dye | 0.00 | 23.64 | NA | 1.09 | 24.73 | NA | XXX
72157 |  | A | Mri chest spine w/o&w dye | 2.57 | 24.54 | NA | 1.20 | 28.31 | NA | XXX
72157 | 26 | A | Mri chest spine w/o&w dye | 2.57 | 0.90 | 0.90 | 0.11 | 3.58 | 3.58 | XXX
72157 | TC | A | Mri chest spine w/o&w dye | 0.00 | 23.64 | NA | 1.09 | 24.73 | NA | XXX
72158 |  | A | Mri lumbar spine w/o&w dye | 2.36 | 24.47 | NA | 1.20 | 28.03 | NA | XXX
72158 | 26 | A | Mri lumbar spine w/o&w dye | 2.36 | 0.83 | 0.83 | 0.11 | 3.30 | 3.30 | XXX
72158 | TC | A | Mri lumbar spine w/o&w dye | 0.00 | 23.64 | NA | 1.09 | 24.73 | NA | XXX
72159 |  | N | Mr angio spine w/o&w dye | +1.80 | 12.54 | NA | 0.61 | 14.95 | NA | XXX
72159 | 26 | N | Mr angio spine w/o&w dye | +1.80 | 0.72 | 0.72 | 0.08 | 2.60 | 2.60 | XXX
72159 | TC | N | Mr angio spine w/o&w dye | +0.00 | 11.82 | NA | 0.53 | 12.35 | NA | XXX
72170 |  | A | X-ray exam of pelvis | 0.17 | 0.56 | NA | 0.03 | 0.76 | NA | XXX
72170 | 26 | A | X-ray exam of pelvis | 0.17 | 0.06 | 0.06 | 0.01 | 0.24 | 0.24 | XXX
72170 | TC | A | X-ray exam of pelvis | 0.00 | 0.50 | NA | 0.02 | 0.52 | NA | XXX
72190 |  | A | X-ray exam of pelvis | 0.21 | 0.70 | NA | 0.04 | 0.95 | NA | XXX
72190 | 26 | A | X-ray exam of pelvis | 0.21 | 0.07 | 0.07 | 0.01 | 0.29 | 0.29 | XXX
72190 | TC | A | X-ray exam of pelvis | 0.00 | 0.63 | NA | 0.03 | 0.66 | NA | XXX
72191 |  | A | Ct angiograph pelv w/o&w dye | 1.81 | 8.78 | NA | 0.38 | 10.97 | NA | XXX
72191 | 26 | A | Ct angiograph pelv w/o&w dye | 1.81 | 0.72 | 0.72 | 0.06 | 2.59 | 2.59 | XXX
72191 | TC | A | Ct angiograph pelv w/o&w dye | 0.00 | 8.06 | NA | 0.32 | 8.38 | NA | XXX
72192 |  | A | Ct pelvis w/o dye | 1.09 | 5.99 | NA | 0.31 | 7.39 | NA | XXX
72192 | 26 | A | Ct pelvis w/o dye | 1.09 | 0.38 | 0.38 | 0.05 | 1.52 | 1.52 | XXX
72192 | TC | A | Ct pelvis w/o dye | 0.00 | 5.61 | NA | 0.26 | 5.87 | NA | XXX
72193 |  | A | Ct pelvis w/dye | 1.16 | 6.91 | NA | 0.35 | 8.42 | NA | XXX
72193 | 26 | A | Ct pelvis w/dye | 1.16 | 0.41 | 0.41 | 0.05 | 1.62 | 1.62 | XXX
72193 | TC | A | Ct pelvis w/dye | 0.00 | 6.50 | NA | 0.30 | 6.80 | NA | XXX
72194 |  | A | Ct pelvis w/o&w dye | 1.22 | 8.49 | NA | 0.41 | 10.12 | NA | XXX
72194 | 26 | A | Ct pelvis w/o&w dye | 1.22 | 0.43 | 0.43 | 0.05 | 1.70 | 1.70 | XXX
72194 | TC | A | Ct pelvis w/o&w dye | 0.00 | 8.06 | NA | 0.36 | 8.42 | NA | XXX
72195 |  | A | Mri pelvis w/o dye | 1.46 | 11.15 | NA | 0.42 | 13.03 | NA | XXX
72195 | 26 | A | Mri pelvis w/o dye | 1.46 | 0.51 | 0.51 | 0.05 | 2.02 | 2.02 | XXX
72195 | TC | A | Mri pelvis w/o dye | 0.00 | 10.64 | NA | 0.37 | 11.01 | NA | XXX
72196 |  | A | Mri pelvis w/dye | 1.73 | 13.36 | NA | 0.48 | 15.57 | NA | XXX
72196 | 26 | A | Mri pelvis w/dye | 1.73 | 0.60 | 0.60 | 0.05 | 2.38 | 2.38 | XXX
72196 | TC | A | Mri pelvis w/dye | 0.00 | 12.76 | NA | 0.43 | 13.19 | NA | XXX
72197 |  | A | Mri pelvis w/o&w dye | 2.26 | 24.43 | NA | 0.84 | 27.53 | NA | XXX
72197 | 26 | A | Mri pelvis w/o&w dye | 2.26 | 0.79 | 0.79 | 0.08 | 3.13 | 3.13 | XXX
72197 | TC | A | Mri pelvis w/o&w dye | 0.00 | 23.64 | NA | 0.76 | 24.40 | NA | XXX
72198 |  | N | Mr angio pelvis w/o&w dye | +1.80 | 11.36 | NA | 0.57 | 13.73 | NA | XXX
72198 | 26 | N | Mr angio pelvis w/o&w dye | +1.80 | 0.72 | 0.72 | 0.08 | 2.60 | 2.60 | XXX
72198 | TC | N | Mr angio pelvis w/o&w dye | +0.00 | 10.64 | NA | 0.49 | 11.13 | NA | XXX
72200 |  | A | X-ray exam sacroiliac joints | 0.17 | 0.56 | NA | 0.03 | 0.76 | NA | XXX
72200 | 26 | A | X-ray exam sacroiliac joints | 0.17 | 0.06 | 0.06 | 0.01 | 0.24 | 0.24 | XXX
72200 | TC | A | X-ray exam sacroiliac joints | 0.00 | 0.50 | NA | 0.02 | 0.52 | NA | XXX
72202 |  | A | X-ray exam sacroiliac joints | 0.19 | 0.66 | NA | 0.04 | 0.89 | NA | XXX
72202 | 26 | A | X-ray exam sacroiliac joints | 0.19 | 0.07 | 0.07 | 0.01 | 0.27 | 0.27 | XXX
72202 | TC | A | X-ray exam sacroiliac joints | 0.00 | 0.59 | NA | 0.03 | 0.62 | NA | XXX
72220 |  | A | X-ray exam of tailbone | 0.17 | 0.60 | NA | 0.04 | 0.81 | NA | XXX
72220 | 26 | A | X-ray exam of tailbone | 0.17 | 0.06 | 0.06 | 0.01 | 0.24 | 0.24 | XXX
72220 | TC | A | X-ray exam of tailbone | 0.00 | 0.54 | NA | 0.03 | 0.57 | NA | XXX
72240 |  | A | Contrast x-ray of neck spine | 0.91 | 4.82 | NA | 0.25 | 5.98 | NA | XXX
72240 | 26 | A | Contrast x-ray of neck spine | 0.91 | 0.31 | 0.31 | 0.04 | 1.26 | 1.26 | XXX
72240 | TC | A | Contrast x-ray of neck spine | 0.00 | 4.51 | NA | 0.21 | 4.72 | NA | XXX
72255 |  | A | Contrast x-ray, thorax spine | 0.91 | 4.41 | NA | 0.22 | 5.54 | NA | XXX
72255 | 26 | A | Contrast x-ray, thorax spine | 0.91 | 0.30 | 0.30 | 0.04 | 1.25 | 1.25 | XXX
72255 | TC | A | Contrast x-ray, thorax spine | 0.00 | 4.11 | NA | 0.18 | 4.29 | NA | XXX
72265 |  | A | Contrast x-ray, lower spine | 0.83 | 4.15 | NA | 0.22 | 5.20 | NA | XXX
72265 | 26 | A | Contrast x-ray, lower spine | 0.83 | 0.28 | 0.28 | 0.04 | 1.15 | 1.15 | XXX
72265 | TC | A | Contrast x-ray, lower spine | 0.00 | 3.87 | NA | 0.18 | 4.05 | NA | XXX
72270 |  | A | Contrast x-ray of spine | 1.33 | 6.25 | NA | 0.34 | 7.92 | NA | XXX
72270 | 26 | A | Contrast x-ray of spine | 1.33 | 0.46 | 0.46 | 0.07 | 1.86 | 1.86 | XXX
72270 | TC | A | Contrast x-ray of spine | 0.00 | 5.79 | NA | 0.27 | 6.06 | NA | XXX
72275 |  | A | Epidurography | 0.76 | 2.20 | NA | 0.21 | 3.17 | NA | XXX
72275 | 26 | A | Epidurography | 0.76 | 0.21 | 0.21 | 0.03 | 1.00 | 1.00 | XXX
72275 | TC | A | Epidurography | 0.00 | 1.99 | NA | 0.18 | 2.17 | NA | XXX
72285 |  | A | X-ray c/t spine disk | 1.16 | 8.35 | NA | 0.42 | 9.93 | NA | XXX
72285 | 26 | A | X-ray c/t spine disk | 1.16 | 0.39 | 0.39 | 0.06 | 1.61 | 1.61 | XXX
72285 | TC | A | X-ray c/t spine disk | 0.00 | 7.96 | NA | 0.36 | 8.32 | NA | XXX
72295 |  | A | X-ray of lower spine disk | 0.83 | 7.76 | NA | 0.37 | 8.96 | NA | XXX
72295 | 26 | A | X-ray of lower spine disk | 0.83 | 0.29 | 0.29 | 0.04 | 1.16 | 1.16 | XXX
72295 | TC | A | X-ray of lower spine disk | 0.00 | 7.47 | NA | 0.33 | 7.80 | NA | XXX
73000 |  | A | X-ray exam of collar bone | 0.16 | 0.56 | NA | 0.03 | 0.75 | NA | XXX
73000 | 26 | A | X-ray exam of collar bone | 0.16 | 0.06 | 0.06 | 0.01 | 0.23 | 0.23 | XXX
73000 | TC | A | X-ray exam of collar bone | 0.00 | 0.50 | NA | 0.02 | 0.52 | NA | XXX
73010 |  | A | X-ray exam of shoulder blade | 0.17 | 0.56 | NA | 0.03 | 0.76 | NA | XXX
73010 | 26 | A | X-ray exam of shoulder blade | 0.17 | 0.06 | 0.06 | 0.01 | 0.24 | 0.24 | XXX
73010 | TC | A | X-ray exam of shoulder blade | 0.00 | 0.50 | NA | 0.02 | 0.52 | NA | XXX
73020 |  | A | X-ray exam of shoulder | 0.15 | 0.50 | NA | 0.03 | 0.68 | NA | XXX
73020 | 26 | A | X-ray exam of shoulder | 0.15 | 0.05 | 0.05 | 0.01 | 0.21 | 0.21 | XXX
73020 | TC | A | X-ray exam of shoulder | 0.00 | 0.45 | NA | 0.02 | 0.47 | NA | XXX
73030 |  | A | X-ray exam of shoulder | 0.18 | 0.60 | NA | 0.04 | 0.82 | NA | XXX
73030 | 26 | A | X-ray exam of shoulder | 0.18 | 0.06 | 0.06 | 0.01 | 0.25 | 0.25 | XXX
73030 | TC | A | X-ray exam of shoulder | 0.00 | 0.54 | NA | 0.03 | 0.57 | NA | XXX
73040 |  | A | Contrast x-ray of shoulder | 0.54 | 2.18 | NA | 0.13 | 2.85 | NA | XXX
73040 | 26 | A | Contrast x-ray of shoulder | 0.54 | 0.19 | 0.19 | 0.03 | 0.76 | 0.76 | XXX
73040 | TC | A | Contrast x-ray of shoulder | 0.00 | 1.99 | NA | 0.10 | 2.09 | NA | XXX
73050 |  | A | X-ray exam of shoulders | 0.20 | 0.70 | NA | 0.05 | 0.95 | NA | XXX
73050 | 26 | A | X-ray exam of shoulders | 0.20 | 0.07 | 0.07 | 0.02 | 0.29 | 0.29 | XXX
73050 | TC | A | X-ray exam of shoulders | 0.00 | 0.63 | NA | 0.03 | 0.66 | NA | XXX
73060 |  | A | X-ray exam of humerus | 0.17 | 0.60 | NA | 0.04 | 0.81 | NA | XXX
73060 | 26 | A | X-ray exam of humerus | 0.17 | 0.06 | 0.06 | 0.01 | 0.24 | 0.24 | XXX
73060 | TC | A | X-ray exam of humerus | 0.00 | 0.54 | NA | 0.03 | 0.57 | NA | XXX
73070 |  | A | X-ray exam of elbow | 0.15 | 0.55 | NA | 0.03 | 0.73 | NA | XXX
73070 | 26 | A | X-ray exam of elbow | 0.15 | 0.05 | 0.05 | 0.01 | 0.21 | 0.21 | XXX
73070 | TC | A | X-ray exam of elbow | 0.00 | 0.50 | NA | 0.02 | 0.52 | NA | XXX
73080 |  | A | X-ray exam of elbow | 0.17 | 0.60 | NA | 0.04 | 0.81 | NA | XXX
73080 | 26 | A | X-ray exam of elbow | 0.17 | 0.06 | 0.06 | 0.01 | 0.24 | 0.24 | XXX
73080 | TC | A | X-ray exam of elbow | 0.00 | 0.54 | NA | 0.03 | 0.57 | NA | XXX
73085 |  | A | Contrast x-ray of elbow | 0.54 | 2.19 | NA | 0.13 | 2.86 | NA | XXX
73085 | 26 | A | Contrast x-ray of elbow | 0.54 | 0.20 | 0.20 | 0.03 | 0.77 | 0.77 | XXX
73085 | TC | A | Contrast x-ray of elbow | 0.00 | 1.99 | NA | 0.10 | 2.09 | NA | XXX
73090 |  | A | X-ray exam of forearm | 0.16 | 0.56 | NA | 0.03 | 0.75 | NA | XXX
73090 | 26 | A | X-ray exam of forearm | 0.16 | 0.06 | 0.06 | 0.01 | 0.23 | 0.23 | XXX
73090 | TC | A | X-ray exam of forearm | 0.00 | 0.50 | NA | 0.02 | 0.52 | NA | XXX
73092 |  | A | X-ray exam of arm, infant | 0.16 | 0.53 | NA | 0.03 | 0.72 | NA | XXX
73092 | 26 | A | X-ray exam of arm, infant | 0.16 | 0.06 | 0.06 | 0.01 | 0.23 | 0.23 | XXX
73092 | TC | A | X-ray exam of arm, infant | 0.00 | 0.47 | NA | 0.02 | 0.49 | NA | XXX
73100 |  | A | X-ray exam of wrist | 0.16 | 0.53 | NA | 0.04 | 0.73 | NA | XXX
73100 | 26 | A | X-ray exam of wrist | 0.16 | 0.06 | 0.06 | 0.02 | 0.24 | 0.24 | XXX
73100 | TC | A | X-ray exam of wrist | 0.00 | 0.47 | NA | 0.02 | 0.49 | NA | XXX
73110 |  | A | X-ray exam of wrist | 0.17 | 0.57 | NA | 0.03 | 0.77 | NA | XXX
73110 | 26 | A | X-ray exam of wrist | 0.17 | 0.06 | 0.06 | 0.01 | 0.24 | 0.24 | XXX
73110 | TC | A | X-ray exam of wrist | 0.00 | 0.51 | NA | 0.02 | 0.53 | NA | XXX
73115 |  | A | Contrast x-ray of wrist | 0.54 | 1.70 | NA | 0.11 | 2.35 | NA | XXX
73115 | 26 | A | Contrast x-ray of wrist | 0.54 | 0.20 | 0.20 | 0.03 | 0.77 | 0.77 | XXX
73115 | TC | A | Contrast x-ray of wrist | 0.00 | 1.50 | NA | 0.08 | 1.58 | NA | XXX
73120 |  | A | X-ray exam of hand | 0.16 | 0.53 | NA | 0.03 | 0.72 | NA | XXX
73120 | 26 | A | X-ray exam of hand | 0.16 | 0.06 | 0.06 | 0.01 | 0.23 | 0.23 | XXX
73120 | TC | A | X-ray exam of hand | 0.00 | 0.47 | NA | 0.02 | 0.49 | NA | XXX
73130 |  | A | X-ray exam of hand | 0.17 | 0.57 | NA | 0.03 | 0.77 | NA | XXX
73130 | 26 | A | X-ray exam of hand | 0.17 | 0.06 | 0.06 | 0.01 | 0.24 | 0.24 | XXX
73130 | TC | A | X-ray exam of hand | 0.00 | 0.51 | NA | 0.02 | 0.53 | NA | XXX
73140 |  | A | X-ray exam of finger(s) | 0.13 | 0.44 | NA | 0.03 | 0.60 | NA | XXX
73140 | 26 | A | X-ray exam of finger(s) | 0.13 | 0.05 | 0.05 | 0.01 | 0.19 | 0.19 | XXX
73140 | TC | A | X-ray exam of finger(s) | 0.00 | 0.39 | NA | 0.02 | 0.41 | NA | XXX
73200 |  | A | Ct upper extremity w/o dye | 1.09 | 5.09 | NA | 0.26 | 6.44 | NA | XXX
73200 | 26 | A | Ct upper extremity w/o dye | 1.09 | 0.38 | 0.38 | 0.05 | 1.52 | 1.52 | XXX
73200 | TC | A | Ct upper extremity w/o dye | 0.00 | 4.71 | NA | 0.21 | 4.92 | NA | XXX
73201 |  | A | Ct upper extremity w/dye | 1.16 | 6.02 | NA | 0.31 | 7.49 | NA | XXX
73201 | 26 | A | Ct upper extremity w/dye | 1.16 | 0.41 | 0.41 | 0.05 | 1.62 | 1.62 | XXX
73201 | TC | A | Ct upper extremity w/dye | 0.00 | 5.61 | NA | 0.26 | 5.87 | NA | XXX
73202 |  | A | Ct uppr extremity w/o&w dye | 1.22 | 7.48 | NA | 0.38 | 9.08 | NA | XXX
73202 | 26 | A | Ct uppr extremity w/o&w dye | 1.22 | 0.43 | 0.43 | 0.06 | 1.71 | 1.71 | XXX
73202 | TC | A | Ct uppr extremity w/o&w dye | 0.00 | 7.05 | NA | 0.32 | 7.37 | NA | XXX
73206 |  | A | Ct angio upr extrm w/o&w dye | 1.81 | 7.77 | NA | 0.38 | 9.96 | NA | XXX
73206 | 26 | A | Ct angio upr extrm w/o&w dye | 1.81 | 0.72 | 0.72 | 0.06 | 2.59 | 2.59 | XXX
73206 | TC | A | Ct angio upr extrm w/o&w dye | 0.00 | 7.05 | NA | 0.32 | 7.37 | NA | XXX
73218 |  | A | Mri upper extremity w/o dye | 1.35 | 11.11 | NA | 0.36 | 12.82 | NA | XXX
73218 | 26 | A | Mri upper extremity w/o dye | 1.35 | 0.47 | 0.47 | 0.04 | 1.86 | 1.86 | XXX
73218 | TC | A | Mri upper extremity w/o dye | 0.00 | 10.64 | NA | 0.32 | 10.96 | NA | XXX
73219 |  | A | Mri upper extremity w/dye | 1.62 | 13.33 | NA | 0.44 | 15.39 | NA | XXX
73219 | 26 | A | Mri upper extremity w/dye | 1.62 | 0.57 | 0.57 | 0.05 | 2.24 | 2.24 | XXX
73219 | TC | A | Mri upper extremity w/dye | 0.00 | 12.76 | NA | 0.39 | 13.15 | NA | XXX
73220 |  | A | Mri uppr extremity w/o&w dye | 2.15 | 24.39 | NA | 0.78 | 27.32 | NA | XXX
73220 | 26 | A | Mri uppr extremity w/o&w dye | 2.15 | 0.75 | 0.75 | 0.08 | 2.98 | 2.98 | XXX
73220 | TC | A | Mri uppr extremity w/o&w dye | 0.00 | 23.64 | NA | 0.70 | 24.34 | NA | XXX
73221 |  | A | Mri joint upr extrem w/o dye | 1.35 | 11.11 | NA | 0.36 | 12.82 | NA | XXX
73221 | 26 | A | Mri joint upr extrem w/o dye | 1.35 | 0.47 | 0.47 | 0.04 | 1.86 | 1.86 | XXX
73221 | TC | A | Mri joint upr extrem w/o dye | 0.00 | 10.64 | NA | 0.32 | 10.96 | NA | XXX
73222 |  | A | Mri joint upr extrem w/dye | 1.62 | 13.33 | NA | 0.44 | 15.39 | NA | XXX
73222 | 26 | A | Mri joint upr extrem w/dye | 1.62 | 0.57 | 0.57 | 0.05 | 2.24 | 2.24 | XXX
73222 | TC | A | Mri joint upr extrem w/dye | 0.00 | 12.76 | NA | 0.39 | 13.15 | NA | XXX
73223 |  | A | Mri joint upr extr w/o&w dye | 2.15 | 24.39 | NA | 0.77 | 27.31 | NA | XXX
73223 | 26 | A | Mri joint upr extr w/o&w dye | 2.15 | 0.75 | 0.75 | 0.07 | 2.97 | 2.97 | XXX
73223 | TC | A | Mri joint upr extr w/o&w dye | 0.00 | 23.64 | NA | 0.70 | 24.34 | NA | XXX
73225 |  | N | Mr angio upr extr w/o&w dye | +1.73 | 11.33 | NA | 0.57 | 13.63 | NA | XXX
73225 | 26 | N | Mr angio upr extr w/o&w dye | +1.73 | 0.69 | 0.69 | 0.08 | 2.50 | 2.50 | XXX
73225 | TC | N | Mr angio upr extr w/o&w dye | +0.00 | 10.64 | NA | 0.49 | 11.13 | NA | XXX
73500 |  | A | X-ray exam of hip | 0.17 | 0.51 | NA | 0.03 | 0.71 | NA | XXX
73500 | 26 | A | X-ray exam of hip | 0.17 | 0.06 | 0.06 | 0.01 | 0.24 | 0.24 | XXX
73500 | TC | A | X-ray exam of hip | 0.00 | 0.45 | NA | 0.02 | 0.47 | NA | XXX
73510 |  | A | X-ray exam of hip | 0.21 | 0.61 | NA | 0.05 | 0.87 | NA | XXX
73510 | 26 | A | X-ray exam of hip | 0.21 | 0.07 | 0.07 | 0.02 | 0.30 | 0.30 | XXX
73510 | TC | A | X-ray exam of hip | 0.00 | 0.54 | NA | 0.03 | 0.57 | NA | XXX
73520 |  | A | X-ray exam of hips | 0.26 | 0.72 | NA | 0.05 | 1.03 | NA | XXX
73520 | 26 | A | X-ray exam of hips | 0.26 | 0.09 | 0.09 | 0.02 | 0.37 | 0.37 | XXX
73520 | TC | A | X-ray exam of hips | 0.00 | 0.63 | NA | 0.03 | 0.66 | NA | XXX
73525 |  | A | Contrast x-ray of hip | 0.54 | 2.19 | NA | 0.13 | 2.86 | NA | XXX
73525 | 26 | A | Contrast x-ray of hip | 0.54 | 0.20 | 0.20 | 0.03 | 0.77 | 0.77 | XXX
73525 | TC | A | Contrast x-ray of hip | 0.00 | 1.99 | NA | 0.10 | 2.09 | NA | XXX
73530 |  | A | X-ray exam of hip | 0.29 | 0.60 | NA | 0.03 | 0.92 | NA | XXX
73530 | 26 | A | X-ray exam of hip | 0.29 | 0.10 | 0.10 | 0.01 | 0.40 | 0.40 | XXX
73530 | TC | A | X-ray exam of hip | 0.00 | 0.50 | NA | 0.02 | 0.52 | NA | XXX
73540 |  | A | X-ray exam of pelvis & hips | 0.20 | 0.61 | NA | 0.05 | 0.86 | NA | XXX
73540 | 26 | A | X-ray exam of pelvis & hips | 0.20 | 0.07 | 0.07 | 0.02 | 0.29 | 0.29 | XXX
73540 | TC | A | X-ray exam of pelvis & hips | 0.00 | 0.54 | NA | 0.03 | 0.57 | NA | XXX
73542 |  | A | X-ray exam, sacroiliac joint | 0.59 | 2.16 | NA | 0.13 | 2.88 | NA | XXX
73542 | 26 | A | X-ray exam, sacroiliac joint | 0.59 | 0.17 | 0.17 | 0.03 | 0.79 | 0.79 | XXX
73542 | TC | A | X-ray exam, sacroiliac joint | 0.00 | 1.99 | NA | 0.10 | 2.09 | NA | XXX
73550 |  | A | X-ray exam of thigh | 0.17 | 0.60 | NA | 0.04 | 0.81 | NA | XXX
73550 | 26 | A | X-ray exam of thigh | 0.17 | 0.06 | 0.06 | 0.01 | 0.24 | 0.24 | XXX
73550 | TC | A | X-ray exam of thigh | 0.00 | 0.54 | NA | 0.03 | 0.57 | NA | XXX
73560 |  | A | X-ray exam of knee, 1 or 2 | 0.17 | 0.56 | NA | 0.04 | 0.77 | NA | XXX
73560 | 26 | A | X-ray exam of knee, 1 or 2 | 0.17 | 0.06 | 0.06 | 0.02 | 0.25 | 0.25 | XXX
73560 | TC | A | X-ray exam of knee, 1 or 2 | 0.00 | 0.50 | NA | 0.02 | 0.52 | NA | XXX
73562 |  | A | X-ray exam of knee, 3 | 0.18 | 0.60 | NA | 0.05 | 0.83 | NA | XXX
73562 | 26 | A | X-ray exam of knee, 3 | 0.18 | 0.06 | 0.06 | 0.02 | 0.26 | 0.26 | XXX
73562 | TC | A | X-ray exam of knee, 3 | 0.00 | 0.54 | NA | 0.03 | 0.57 | NA | XXX
73564 |  | A | X-ray exam, knee, 4 or more | 0.22 | 0.67 | NA | 0.05 | 0.94 | NA | XXX
73564 | 26 | A | X-ray exam, knee, 4 or more | 0.22 | 0.08 | 0.08 | 0.02 | 0.32 | 0.32 | XXX
73564 | TC | A | X-ray exam, knee, 4 or more | 0.00 | 0.59 | NA | 0.03 | 0.62 | NA | XXX
73565 |  | A | X-ray exam of knees | 0.17 | 0.54 | NA | 0.04 | 0.75 | NA | XXX
73565 | 26 | A | X-ray exam of knees | 0.17 | 0.07 | 0.07 | 0.02 | 0.26 | 0.26 | XXX
73565 | TC | A | X-ray exam of knees | 0.00 | 0.47 | NA | 0.02 | 0.49 | NA | XXX
73580 |  | A | Contrast x-ray of knee joint | 0.54 | 2.68 | NA | 0.15 | 3.37 | NA | XXX
73580 | 26 | A | Contrast x-ray of knee joint | 0.54 | 0.19 | 0.19 | 0.03 | 0.76 | 0.76 | XXX
73580 | TC | A | Contrast x-ray of knee joint | 0.00 | 2.49 | NA | 0.12 | 2.61 | NA | XXX
73590 |  | A | X-ray exam of lower leg | 0.17 | 0.56 | NA | 0.03 | 0.76 | NA | XXX
73590 | 26 | A | X-ray exam of lower leg | 0.17 | 0.06 | 0.06 | 0.01 | 0.24 | 0.24 | XXX
73590 | TC | A | X-ray exam of lower leg | 0.00 | 0.50 | NA | 0.02 | 0.52 | NA | XXX
73592 |  | A | X-ray exam of leg, infant | 0.16 | 0.53 | NA | 0.03 | 0.72 | NA | XXX
73592 | 26 | A | X-ray exam of leg, infant | 0.16 | 0.06 | 0.06 | 0.01 | 0.23 | 0.23 | XXX
73592 | TC | A | X-ray exam of leg, infant | 0.00 | 0.47 | NA | 0.02 | 0.49 | NA | XXX
73600 |  | A | X-ray exam of ankle | 0.16 | 0.53 | NA | 0.03 | 0.72 | NA | XXX
73600 | 26 | A | X-ray exam of ankle | 0.16 | 0.06 | 0.06 | 0.01 | 0.23 | 0.23 | XXX
73600 | TC | A | X-ray exam of ankle | 0.00 | 0.47 | NA | 0.02 | 0.49 | NA | XXX
73610 |  | A | X-ray exam of ankle | 0.17 | 0.57 | NA | 0.03 | 0.77 | NA | XXX
73610 | 26 | A | X-ray exam of ankle | 0.17 | 0.06 | 0.06 | 0.01 | 0.24 | 0.24 | XXX
73610 | TC | A | X-ray exam of ankle | 0.00 | 0.51 | NA | 0.02 | 0.53 | NA | XXX
73615 |  | A | Contrast x-ray of ankle | 0.54 | 2.18 | NA | 0.13 | 2.85 | NA | XXX
73615 | 26 | A | Contrast x-ray of ankle | 0.54 | 0.19 | 0.19 | 0.03 | 0.76 | 0.76 | XXX
73615 | TC | A | Contrast x-ray of ankle | 0.00 | 1.99 | NA | 0.10 | 2.09 | NA | XXX
73620 |  | A | X-ray exam of foot | 0.16 | 0.53 | NA | 0.03 | 0.72 | NA | XXX
73620 | 26 | A | X-ray exam of foot | 0.16 | 0.06 | 0.06 | 0.01 | 0.23 | 0.23 | XXX
73620 | TC | A | X-ray exam of foot | 0.00 | 0.47 | NA | 0.02 | 0.49 | NA | XXX
73630 |  | A | X-ray exam of foot | 0.17 | 0.57 | NA | 0.03 | 0.77 | NA | XXX
73630 | 26 | A | X-ray exam of foot | 0.17 | 0.06 | 0.06 | 0.01 | 0.24 | 0.24 | XXX
73630 | TC | A | X-ray exam of foot | 0.00 | 0.51 | NA | 0.02 | 0.53 | NA | XXX
73650 |  | A | X-ray exam of heel | 0.16 | 0.51 | NA | 0.03 | 0.70 | NA | XXX
73650 | 26 | A | X-ray exam of heel | 0.16 | 0.06 | 0.06 | 0.01 | 0.23 | 0.23 | XXX
73650 | TC | A | X-ray exam of heel | 0.00 | 0.45 | NA | 0.02 | 0.47 | NA | XXX
73660 |  | A | X-ray exam of toe(s) | 0.13 | 0.44 | NA | 0.03 | 0.60 | NA | XXX
73660 | 26 | A | X-ray exam of toe(s) | 0.13 | 0.05 | 0.05 | 0.01 | 0.19 | 0.19 | XXX
73660 | TC | A | X-ray exam of toe(s) | 0.00 | 0.39 | NA | 0.02 | 0.41 | NA | XXX
73700 |  | A | Ct lower extremity w/o dye | 1.09 | 5.09 | NA | 0.26 | 6.44 | NA | XXX
73700 | 26 | A | Ct lower extremity w/o dye | 1.09 | 0.38 | 0.38 | 0.05 | 1.52 | 1.52 | XXX
73700 | TC | A | Ct lower extremity w/o dye | 0.00 | 4.71 | NA | 0.21 | 4.92 | NA | XXX
73701 |  | A | Ct lower extremity w/dye | 1.16 | 6.02 | NA | 0.31 | 7.49 | NA | XXX
73701 | 26 | A | Ct lower extremity w/dye | 1.16 | 0.41 | 0.41 | 0.05 | 1.62 | 1.62 | XXX
73701 | TC | A | Ct lower extremity w/dye | 0.00 | 5.61 | NA | 0.26 | 5.87 | NA | XXX
73702 |  | A | Ct lwr extremity w/o&w dye | 1.22 | 7.48 | NA | 0.37 | 9.07 | NA | XXX
73702 | 26 | A | Ct lwr extremity w/o&w dye | 1.22 | 0.43 | 0.43 | 0.05 | 1.70 | 1.70 | XXX
73702 | TC | A | Ct lwr extremity w/o&w dye | 0.00 | 7.05 | NA | 0.32 | 7.37 | NA | XXX
73706 |  | A | Ct angio lwr extr w/o&w dye | 1.90 | 7.81 | NA | 0.38 | 10.09 | NA | XXX
73706 | 26 | A | Ct angio lwr extr w/o&w dye | 1.90 | 0.76 | 0.76 | 0.06 | 2.72 | 2.72 | XXX
73706 | TC | A | Ct angio lwr extr w/o&w dye | 0.00 | 7.05 | NA | 0.32 | 7.37 | NA | XXX
73718 |  | A | Mri lower extremity w/o dye | 1.35 | 11.11 | NA | 0.36 | 12.82 | NA | XXX
73718 | 26 | A | Mri lower extremity w/o dye | 1.35 | 0.47 | 0.47 | 0.04 | 1.86 | 1.86 | XXX
73718 | TC | A | Mri lower extremity w/o dye | 0.00 | 10.64 | NA | 0.32 | 10.96 | NA | XXX
73719 |  | A | Mri lower extremity w/dye | 1.62 | 13.32 | NA | 0.44 | 15.38 | NA | XXX
73719 | 26 | A | Mri lower extremity w/dye | 1.62 | 0.56 | 0.56 | 0.05 | 2.23 | 2.23 | XXX
73719 | TC | A | Mri lower extremity w/dye | 0.00 | 12.76 | NA | 0.39 | 13.15 | NA | XXX
73720 |  | A | Mri lwr extremity w/o&w dye | 2.15 | 24.39 | NA | 0.78 | 27.32 | NA | XXX
73720 | 26 | A | Mri lwr extremity w/o&w dye | 2.15 | 0.75 | 0.75 | 0.08 | 2.98 | 2.98 | XXX
73720 | TC | A | Mri lwr extremity w/o&w dye | 0.00 | 23.64 | NA | 0.70 | 24.34 | NA | XXX
73721 |  | A | Mri joint of lwr extre w/o d | 1.35 | 11.11 | NA | 0.36 | 12.82 | NA | XXX
73721 | 26 | A | Mri joint of lwr extre w/o d | 1.35 | 0.47 | 0.47 | 0.04 | 1.86 | 1.86 | XXX
73721 | TC | A | Mri joint of lwr extre w/o d | 0.00 | 10.64 | NA | 0.32 | 10.96 | NA | XXX
73722 |  | A | Mri joint of lwr extr w/dye | 1.62 | 13.33 | NA | 0.45 | 15.40 | NA | XXX
73722 | 26 | A | Mri joint of lwr extr w/dye | 1.62 | 0.57 | 0.57 | 0.06 | 2.25 | 2.25 | XXX
73722 | TC | A | Mri joint of lwr extr w/dye | 0.00 | 12.76 | NA | 0.39 | 13.15 | NA | XXX
73723 |  | A | Mri joint lwr extr w/o&w dye | 2.15 | 24.39 | NA | 0.77 | 27.31 | NA | XXX
73723 | 26 | A | Mri joint lwr extr w/o&w dye | 2.15 | 0.75 | 0.75 | 0.07 | 2.97 | 2.97 | XXX
73723 | TC | A | Mri joint lwr extr w/o&w dye | 0.00 | 23.64 | NA | 0.70 | 24.34 | NA | XXX
73725 |  | R | Mr ang lwr ext w or w/o dye | 1.82 | 11.28 | NA | 0.57 | 13.67 | NA | XXX
73725 | 26 | R | Mr ang lwr ext w or w/o dye | 1.82 | 0.64 | 0.64 | 0.08 | 2.54 | 2.54 | XXX
73725 | TC | R | Mr ang lwr ext w or w/o dye | 0.00 | 10.64 | NA | 0.49 | 11.13 | NA | XXX
74000 |  | A | X-ray exam of abdomen | 0.18 | 0.56 | NA | 0.03 | 0.77 | NA | XXX
74000 | 26 | A | X-ray exam of abdomen | 0.18 | 0.06 | 0.06 | 0.01 | 0.25 | 0.25 | XXX
74000 | TC | A | X-ray exam of abdomen | 0.00 | 0.50 | NA | 0.02 | 0.52 | NA | XXX
74010 |  | A | X-ray exam of abdomen | 0.23 | 0.62 | NA | 0.04 | 0.89 | NA | XXX
74010 | 26 | A | X-ray exam of abdomen | 0.23 | 0.08 | 0.08 | 0.01 | 0.32 | 0.32 | XXX
74010 | TC | A | X-ray exam of abdomen | 0.00 | 0.54 | NA | 0.03 | 0.57 | NA | XXX
74020 |  | A | X-ray exam of abdomen | 0.27 | 0.68 | NA | 0.04 | 0.99 | NA | XXX
74020 | 26 | A | X-ray exam of abdomen | 0.27 | 0.09 | 0.09 | 0.01 | 0.37 | 0.37 | XXX
74020 | TC | A | X-ray exam of abdomen | 0.00 | 0.59 | NA | 0.03 | 0.62 | NA | XXX
74022 |  | A | X-ray exam series, abdomen | 0.32 | 0.81 | NA | 0.05 | 1.18 | NA | XXX
74022 | 26 | A | X-ray exam series, abdomen | 0.32 | 0.11 | 0.11 | 0.01 | 0.44 | 0.44 | XXX
74022 | TC | A | X-ray exam series, abdomen | 0.00 | 0.70 | NA | 0.04 | 0.74 | NA | XXX
74150 |  | A | Ct abdomen w/o dye | 1.19 | 5.79 | NA | 0.30 | 7.28 | NA | XXX
74150 | 26 | A | Ct abdomen w/o dye | 1.19 | 0.42 | 0.42 | 0.05 | 1.66 | 1.66 | XXX
74150 | TC | A | Ct abdomen w/o dye | 0.00 | 5.37 | NA | 0.25 | 5.62 | NA | XXX
74160 |  | A | Ct abdomen w/dye | 1.27 | 6.94 | NA | 0.36 | 8.57 | NA | XXX
74160 | 26 | A | Ct abdomen w/dye | 1.27 | 0.44 | 0.44 | 0.06 | 1.77 | 1.77 | XXX
74160 | TC | A | Ct abdomen w/dye | 0.00 | 6.50 | NA | 0.30 | 6.80 | NA | XXX
74170 |  | A | Ct abdomen w/o&w dye | 1.40 | 8.55 | NA | 0.42 | 10.37 | NA | XXX
74170 | 26 | A | Ct abdomen w/o&w dye | 1.40 | 0.49 | 0.49 | 0.06 | 1.95 | 1.95 | XXX
74170 | TC | A | Ct abdomen w/o&w dye | 0.00 | 8.06 | NA | 0.36 | 8.42 | NA | XXX
74175 |  | A | Ct angio abdom w/o&w dye | 1.90 | 8.82 | NA | 0.38 | 11.10 | NA | XXX
74175 | 26 | A | Ct angio abdom w/o&w dye | 1.90 | 0.76 | 0.76 | 0.06 | 2.72 | 2.72 | XXX
74175 | TC | A | Ct angio abdom w/o&w dye | 0.00 | 8.06 | NA | 0.32 | 8.38 | NA | XXX
74181 |  | A | Mri abdomen w/o dye | 1.46 | 11.15 | NA | 0.41 | 13.02 | NA | XXX
74181 | 26 | A | Mri abdomen w/o dye | 1.46 | 0.51 | 0.51 | 0.04 | 2.01 | 2.01 | XXX
74181 | TC | A | Mri abdomen w/o dye | 0.00 | 10.64 | NA | 0.37 | 11.01 | NA | XXX
74182 |  | A | Mri abdomen w/dye | 1.73 | 13.36 | NA | 0.49 | 15.58 | NA | XXX
74182 | 26 | A | Mri abdomen w/dye | 1.73 | 0.60 | 0.60 | 0.06 | 2.39 | 2.39 | XXX
74182 | TC | A | Mri abdomen w/dye | 0.00 | 12.76 | NA | 0.43 | 13.19 | NA | XXX
74183 |  | A | Mri abdomen w/o&w dye | 2.26 | 24.43 | NA | 0.84 | 27.53 | NA | XXX
74183 | 26 | A | Mri abdomen w/o&w dye | 2.26 | 0.79 | 0.79 | 0.08 | 3.13 | 3.13 | XXX
74183 | TC | A | Mri abdomen w/o&w dye | 0.00 | 23.64 | NA | 0.76 | 24.40 | NA | XXX
74185 |  | R | Mri angio, abdom w or w/o dy | 1.80 | 11.27 | NA | 0.57 | 13.64 | NA | XXX
74185 | 26 | R | Mri angio, abdom w or w/o dy | 1.80 | 0.63 | 0.63 | 0.08 | 2.51 | 2.51 | XXX
74185 | TC | R | Mri angio, abdom w or w/o dy | 0.00 | 10.64 | NA | 0.49 | 11.13 | NA | XXX
74190 |  | A | X-ray exam of peritoneum | 0.48 | 1.41 | NA | 0.08 | 1.97 | NA | XXX
74190 | 26 | A | X-ray exam of peritoneum | 0.48 | 0.17 | 0.17 | 0.02 | 0.67 | 0.67 | XXX
74190 | TC | A | X-ray exam of peritoneum | 0.00 | 1.24 | NA | 0.06 | 1.30 | NA | XXX
74210 |  | A | Contrst x-ray exam of throat | 0.36 | 1.26 | NA | 0.07 | 1.69 | NA | XXX
74210 | 26 | A | Contrst x-ray exam of throat | 0.36 | 0.13 | 0.13 | 0.02 | 0.51 | 0.51 | XXX
74210 | TC | A | Contrst x-ray exam of throat | 0.00 | 1.13 | NA | 0.05 | 1.18 | NA | XXX
74220 |  | A | Contrast x-ray, esophagus | 0.46 | 1.29 | NA | 0.07 | 1.82 | NA | XXX
74220 | 26 | A | Contrast x-ray, esophagus | 0.46 | 0.16 | 0.16 | 0.02 | 0.64 | 0.64 | XXX
74220 | TC | A | Contrast x-ray, esophagus | 0.00 | 1.13 | NA | 0.05 | 1.18 | NA | XXX
74230 |  | A | Cine/video x-ray, throat/eso | 0.53 | 1.43 | NA | 0.08 | 2.04 | NA | XXX
74230 | 26 | A | Cine/video x-ray, throat/eso | 0.53 | 0.19 | 0.19 | 0.02 | 0.74 | 0.74 | XXX
74230 | TC | A | Cine/video x-ray, throat/eso | 0.00 | 1.24 | NA | 0.06 | 1.30 | NA | XXX
74235 |  | A | Remove esophagus obstruction | 1.19 | 2.90 | NA | 0.17 | 4.26 | NA | XXX
74235 | 26 | A | Remove esophagus obstruction | 1.19 | 0.41 | 0.41 | 0.05 | 1.65 | 1.65 | XXX
74235 | TC | A | Remove esophagus obstruction | 0.00 | 2.49 | NA | 0.12 | 2.61 | NA | XXX
74240 |  | A | X-ray exam, upper gi tract | 0.69 | 1.63 | NA | 0.10 | 2.42 | NA | XXX
74240 | 26 | A | X-ray exam, upper gi tract | 0.69 | 0.24 | 0.24 | 0.03 | 0.96 | 0.96 | XXX
74240 | TC | A | X-ray exam, upper gi tract | 0.00 | 1.39 | NA | 0.07 | 1.46 | NA | XXX
74241 |  | A | X-ray exam, upper gi tract | 0.69 | 1.65 | NA | 0.10 | 2.44 | NA | XXX
74241 | 26 | A | X-ray exam, upper gi tract | 0.69 | 0.24 | 0.24 | 0.03 | 0.96 | 0.96 | XXX
74241 | TC | A | X-ray exam, upper gi tract | 0.00 | 1.41 | NA | 0.07 | 1.48 | NA | XXX
74245 |  | A | X-ray exam, upper gi tract | 0.91 | 2.58 | NA | 0.15 | 3.64 | NA | XXX
74245 | 26 | A | X-ray exam, upper gi tract | 0.91 | 0.32 | 0.32 | 0.04 | 1.27 | 1.27 | XXX
74245 | TC | A | X-ray exam, upper gi tract | 0.00 | 2.26 | NA | 0.11 | 2.37 | NA | XXX
74246 |  | A | Contrst x-ray uppr gi tract | 0.69 | 1.80 | NA | 0.11 | 2.60 | NA | XXX
74246 | 26 | A | Contrst x-ray uppr gi tract | 0.69 | 0.24 | 0.24 | 0.03 | 0.96 | 0.96 | XXX
74246 | TC | A | Contrst x-ray uppr gi tract | 0.00 | 1.56 | NA | 0.08 | 1.64 | NA | XXX
74247 |  | A | Contrst x-ray uppr gi tract | 0.69 | 1.84 | NA | 0.12 | 2.65 | NA | XXX
74247 | 26 | A | Contrst x-ray uppr gi tract | 0.69 | 0.24 | 0.24 | 0.03 | 0.96 | 0.96 | XXX
74247 | TC | A | Contrst x-ray uppr gi tract | 0.00 | 1.60 | NA | 0.09 | 1.69 | NA | XXX
74249 |  | A | Contrst x-ray uppr gi tract | 0.91 | 2.76 | NA | 0.16 | 3.83 | NA | XXX
74249 | 26 | A | Contrst x-ray uppr gi tract | 0.91 | 0.32 | 0.32 | 0.04 | 1.27 | 1.27 | XXX
74249 | TC | A | Contrst x-ray uppr gi tract | 0.00 | 2.44 | NA | 0.12 | 2.56 | NA | XXX
74250 |  | A | X-ray exam of small bowel | 0.47 | 1.40 | NA | 0.08 | 1.95 | NA | XXX
74250 | 26 | A | X-ray exam of small bowel | 0.47 | 0.16 | 0.16 | 0.02 | 0.65 | 0.65 | XXX
74250 | TC | A | X-ray exam of small bowel | 0.00 | 1.24 | NA | 0.06 | 1.30 | NA | XXX
74251 |  | A | X-ray exam of small bowel | 0.69 | 1.48 | NA | 0.09 | 2.26 | NA | XXX
74251 | 26 | A | X-ray exam of small bowel | 0.69 | 0.24 | 0.24 | 0.03 | 0.96 | 0.96 | XXX
74251 | TC | A | X-ray exam of small bowel | 0.00 | 1.24 | NA | 0.06 | 1.30 | NA | XXX
74260 |  | A | X-ray exam of small bowel | 0.50 | 1.58 | NA | 0.09 | 2.17 | NA | XXX
74260 | 26 | A | X-ray exam of small bowel | 0.50 | 0.17 | 0.17 | 0.02 | 0.69 | 0.69 | XXX
74260 | TC | A | X-ray exam of small bowel | 0.00 | 1.41 | NA | 0.07 | 1.48 | NA | XXX
74270 |  | A | Contrast x-ray exam of colon | 0.69 | 1.86 | NA | 0.12 | 2.67 | NA | XXX
74270 | 26 | A | Contrast x-ray exam of colon | 0.69 | 0.24 | 0.24 | 0.03 | 0.96 | 0.96 | XXX
74270 | TC | A | Contrast x-ray exam of colon | 0.00 | 1.62 | NA | 0.09 | 1.71 | NA | XXX
74280 |  | A | Contrast x-ray exam of colon | 0.99 | 2.47 | NA | 0.15 | 3.61 | NA | XXX
74280 | 26 | A | Contrast x-ray exam of colon | 0.99 | 0.35 | 0.35 | 0.04 | 1.38 | 1.38 | XXX
74280 | TC | A | Contrast x-ray exam of colon | 0.00 | 2.12 | NA | 0.11 | 2.23 | NA | XXX
74283 |  | A | Contrast x-ray exam of colon | 2.02 | 3.14 | NA | 0.21 | 5.37 | NA | XXX
74283 | 26 | A | Contrast x-ray exam of colon | 2.02 | 0.71 | 0.71 | 0.09 | 2.82 | 2.82 | XXX
74283 | TC | A | Contrast x-ray exam of colon | 0.00 | 2.43 | NA | 0.12 | 2.55 | NA | XXX
74290 |  | A | Contrast x-ray, gallbladder | 0.32 | 0.81 | NA | 0.05 | 1.18 | NA | XXX
74290 | 26 | A | Contrast x-ray, gallbladder | 0.32 | 0.11 | 0.11 | 0.01 | 0.44 | 0.44 | XXX
74290 | TC | A | Contrast x-ray, gallbladder | 0.00 | 0.70 | NA | 0.04 | 0.74 | NA | XXX
74291 |  | A | Contrast x-rays, gallbladder | 0.20 | 0.46 | NA | 0.03 | 0.69 | NA | XXX
74291 | 26 | A | Contrast x-rays, gallbladder | 0.20 | 0.07 | 0.07 | 0.01 | 0.28 | 0.28 | XXX
74291 | TC | A | Contrast x-rays, gallbladder | 0.00 | 0.39 | NA | 0.02 | 0.41 | NA | XXX
74300 |  | C | X-ray bile ducts/pancreas | 0.00 | 0.00 | 0.00 | 0.00 | 0.00 | 0.00 | XXX
74300 | 26 | A | X-ray bile ducts/pancreas | 0.36 | 0.13 | 0.13 | 0.02 | 0.51 | 0.51 | XXX
74300 | TC | C | X-ray bile ducts/pancreas | 0.00 | 0.00 | 0.00 | 0.00 | 0.00 | 0.00 | XXX
74301 |  | C | X-rays at surgery add-on | 0.00 | 0.00 | 0.00 | 0.00 | 0.00 | 0.00 | ZZZ
74301 | 26 | A | X-rays at surgery add-on | 0.21 | 0.07 | 0.07 | 0.01 | 0.29 | 0.29 | ZZZ
74301 | TC | C | X-rays at surgery add-on | 0.00 | 0.00 | 0.00 | 0.00 | 0.00 | 0.00 | ZZZ
74305 |  | A | X-ray bile ducts/pancreas | 0.42 | 0.89 | NA | 0.06 | 1.37 | NA | XXX
74305 | 26 | A | X-ray bile ducts/pancreas | 0.42 | 0.15 | 0.15 | 0.02 | 0.59 | 0.59 | XXX
74305 | TC | A | X-ray bile ducts/pancreas | 0.00 | 0.74 | NA | 0.04 | 0.78 | NA | XXX
74320 |  | A | Contrast x-ray of bile ducts | 0.54 | 3.18 | NA | 0.16 | 3.88 | NA | XXX
74320 | 26 | A | Contrast x-ray of bile ducts | 0.54 | 0.19 | 0.19 | 0.02 | 0.75 | 0.75 | XXX
74320 | TC | A | Contrast x-ray of bile ducts | 0.00 | 2.99 | NA | 0.14 | 3.13 | NA | XXX
74327 |  | A | X-ray bile stone removal | 0.70 | 1.91 | NA | 0.12 | 2.73 | NA | XXX
74327 | 26 | A | X-ray bile stone removal | 0.70 | 0.24 | 0.24 | 0.03 | 0.97 | 0.97 | XXX
74327 | TC | A | X-ray bile stone removal | 0.00 | 1.67 | NA | 0.09 | 1.76 | NA | XXX
74328 |  | A | Xray bile duct endoscopy | 0.70 | 3.24 | NA | 0.17 | 4.11 | NA | XXX
74328 | 26 | A | Xray bile duct endoscopy | 0.70 | 0.25 | 0.25 | 0.03 | 0.98 | 0.98 | XXX
74328 | TC | A | Xray bile duct endoscopy | 0.00 | 2.99 | NA | 0.14 | 3.13 | NA | XXX
74329 |  | A | X-ray for pancreas endoscopy | 0.70 | 3.24 | NA | 0.17 | 4.11 | NA | XXX
74329 | 26 | A | X-ray for pancreas endoscopy | 0.70 | 0.25 | 0.25 | 0.03 | 0.98 | 0.98 | XXX
74329 | TC | A | X-ray for pancreas endoscopy | 0.00 | 2.99 | NA | 0.14 | 3.13 | NA | XXX
74330 |  | A | X-ray bile/panc endoscopy | 0.90 | 3.31 | NA | 0.18 | 4.39 | NA | XXX
74330 | 26 | A | X-ray bile/panc endoscopy | 0.90 | 0.32 | 0.32 | 0.04 | 1.26 | 1.26 | XXX
74330 | TC | A | X-ray bile/panc endoscopy | 0.00 | 2.99 | NA | 0.14 | 3.13 | NA | XXX
74340 |  | A | X-ray guide for GI tube | 0.54 | 2.68 | NA | 0.14 | 3.36 | NA | XXX
74340 | 26 | A | X-ray guide for GI tube | 0.54 | 0.19 | 0.19 | 0.02 | 0.75 | 0.75 | XXX
74340 | TC | A | X-ray guide for GI tube | 0.00 | 2.49 | NA | 0.12 | 2.61 | NA | XXX
74350 |  | A | X-ray guide, stomach tube | 0.76 | 3.26 | NA | 0.17 | 4.19 | NA | XXX
74350 | 26 | A | X-ray guide, stomach tube | 0.76 | 0.27 | 0.27 | 0.03 | 1.06 | 1.06 | XXX
74350 | TC | A | X-ray guide, stomach tube | 0.00 | 2.99 | NA | 0.14 | 3.13 | NA | XXX
74355 |  | A | X-ray guide, intestinal tube | 0.76 | 2.75 | NA | 0.15 | 3.66 | NA | XXX
74355 | 26 | A | X-ray guide, intestinal tube | 0.76 | 0.26 | 0.26 | 0.03 | 1.05 | 1.05 | XXX
74355 | TC | A | X-ray guide, intestinal tube | 0.00 | 2.49 | NA | 0.12 | 2.61 | NA | XXX
74360 |  | A | X-ray guide, GI dilation | 0.54 | 3.18 | NA | 0.16 | 3.88 | NA | XXX
74360 | 26 | A | X-ray guide, GI dilation | 0.54 | 0.19 | 0.19 | 0.02 | 0.75 | 0.75 | XXX
74360 | TC | A | X-ray guide, GI dilation | 0.00 | 2.99 | NA | 0.14 | 3.13 | NA | XXX
74363 |  | A | X-ray, bile duct dilation | 0.88 | 6.10 | NA | 0.31 | 7.29 | NA | XXX
74363 | 26 | A | X-ray, bile duct dilation | 0.88 | 0.31 | 0.31 | 0.04 | 1.23 | 1.23 | XXX
74363 | TC | A | X-ray, bile duct dilation | 0.00 | 5.79 | NA | 0.27 | 6.06 | NA | XXX
74400 |  | A | Contrst x-ray, urinary tract | 0.49 | 1.77 | NA | 0.11 | 2.37 | NA | XXX
74400 | 26 | A | Contrst x-ray, urinary tract | 0.49 | 0.17 | 0.17 | 0.02 | 0.68 | 0.68 | XXX
74400 | TC | A | Contrst x-ray, urinary tract | 0.00 | 1.60 | NA | 0.09 | 1.69 | NA | XXX
74410 |  | A | Contrst x-ray, urinary tract | 0.49 | 2.02 | NA | 0.11 | 2.62 | NA | XXX
74410 | 26 | A | Contrst x-ray, urinary tract | 0.49 | 0.17 | 0.17 | 0.02 | 0.68 | 0.68 | XXX
74410 | TC | A | Contrst x-ray, urinary tract | 0.00 | 1.85 | NA | 0.09 | 1.94 | NA | XXX
74415 |  | A | Contrst x-ray, urinary tract | 0.49 | 2.18 | NA | 0.12 | 2.79 | NA | XXX
74415 | 26 | A | Contrst x-ray, urinary tract | 0.49 | 0.17 | 0.17 | 0.02 | 0.68 | 0.68 | XXX
74415 | TC | A | Contrst x-ray, urinary tract | 0.00 | 2.01 | NA | 0.10 | 2.11 | NA | XXX
74420 |  | A | Contrst x-ray, urinary tract | 0.36 | 2.62 | NA | 0.14 | 3.12 | NA | XXX
74420 | 26 | A | Contrst x-ray, urinary tract | 0.36 | 0.13 | 0.13 | 0.02 | 0.51 | 0.51 | XXX
74420 | TC | A | Contrst x-ray, urinary tract | 0.00 | 2.49 | NA | 0.12 | 2.61 | NA | XXX
74425 |  | A | Contrst x-ray, urinary tract | 0.36 | 1.37 | NA | 0.08 | 1.81 | NA | XXX
74425 | 26 | A | Contrst x-ray, urinary tract | 0.36 | 0.13 | 0.13 | 0.02 | 0.51 | 0.51 | XXX
74425 | TC | A | Contrst x-ray, urinary tract | 0.00 | 1.24 | NA | 0.06 | 1.30 | NA | XXX
74430 |  | A | Contrast x-ray, bladder | 0.32 | 1.11 | NA | 0.07 | 1.50 | NA | XXX
74430 | 26 | A | Contrast x-ray, bladder | 0.32 | 0.11 | 0.11 | 0.02 | 0.45 | 0.45 | XXX
74430 | TC | A | Contrast x-ray, bladder | 0.00 | 1.00 | NA | 0.05 | 1.05 | NA | XXX
74440 |  | A | X-ray, male genital tract | 0.38 | 1.20 | NA | 0.07 | 1.65 | NA | XXX
74440 | 26 | A | X-ray, male genital tract | 0.38 | 0.13 | 0.13 | 0.02 | 0.53 | 0.53 | XXX
74440 | TC | A | X-ray, male genital tract | 0.00 | 1.07 | NA | 0.05 | 1.12 | NA | XXX
74445 |  | A | X-ray exam of penis | 1.14 | 1.46 | NA | 0.10 | 2.70 | NA | XXX
74445 | 26 | A | X-ray exam of penis | 1.14 | 0.39 | 0.39 | 0.05 | 1.58 | 1.58 | XXX
74445 | TC | A | X-ray exam of penis | 0.00 | 1.07 | NA | 0.05 | 1.12 | NA | XXX
74450 |  | A | X-ray, urethra/bladder | 0.33 | 1.51 | NA | 0.09 | 1.93 | NA | XXX
74450 | 26 | A | X-ray, urethra/bladder | 0.33 | 0.12 | 0.12 | 0.02 | 0.47 | 0.47 | XXX
74450 | TC | A | X-ray, urethra/bladder | 0.00 | 1.39 | NA | 0.07 | 1.46 | NA | XXX
74455 |  | A | X-ray, urethra/bladder | 0.33 | 1.61 | NA | 0.10 | 2.04 | NA | XXX
74455 | 26 | A | X-ray, urethra/bladder | 0.33 | 0.11 | 0.11 | 0.02 | 0.46 | 0.46 | XXX
74455 | TC | A | X-ray, urethra/bladder | 0.00 | 1.50 | NA | 0.08 | 1.58 | NA | XXX
74470 |  | A | X-ray exam of kidney lesion | 0.54 | 1.37 | NA | 0.08 | 1.99 | NA | XXX
74470 | 26 | A | X-ray exam of kidney lesion | 0.54 | 0.19 | 0.19 | 0.02 | 0.75 | 0.75 | XXX
74470 | TC | A | X-ray exam of kidney lesion | 0.00 | 1.18 | NA | 0.06 | 1.24 | NA | XXX
74475 |  | A | X-ray control, cath insert | 0.54 | 4.06 | NA | 0.20 | 4.80 | NA | XXX
74475 | 26 | A | X-ray control, cath insert | 0.54 | 0.19 | 0.19 | 0.02 | 0.75 | 0.75 | XXX
74475 | TC | A | X-ray control, cath insert | 0.00 | 3.87 | NA | 0.18 | 4.05 | NA | XXX
74480 |  | A | X-ray control, cath insert | 0.54 | 4.06 | NA | 0.20 | 4.80 | NA | XXX
74480 | 26 | A | X-ray control, cath insert | 0.54 | 0.19 | 0.19 | 0.02 | 0.75 | 0.75 | XXX
74480 | TC | A | X-ray control, cath insert | 0.00 | 3.87 | NA | 0.18 | 4.05 | NA | XXX
74485 |  | A | X-ray guide, GU dilation | 0.54 | 3.18 | NA | 0.17 | 3.89 | NA | XXX
74485 | 26 | A | X-ray guide, GU dilation | 0.54 | 0.19 | 0.19 | 0.03 | 0.76 | 0.76 | XXX
74485 | TC | A | X-ray guide, GU dilation | 0.00 | 2.99 | NA | 0.14 | 3.13 | NA | XXX
74710 |  | A | X-ray measurement of pelvis | 0.34 | 1.12 | NA | 0.07 | 1.53 | NA | XXX
74710 | 26 | A | X-ray measurement of pelvis | 0.34 | 0.12 | 0.12 | 0.02 | 0.48 | 0.48 | XXX
74710 | TC | A | X-ray measurement of pelvis | 0.00 | 1.00 | NA | 0.05 | 1.05 | NA | XXX
74740 |  | A | X-ray, female genital tract | 0.38 | 1.37 | NA | 0.08 | 1.83 | NA | XXX
74740 | 26 | A | X-ray, female genital tract | 0.38 | 0.13 | 0.13 | 0.02 | 0.53 | 0.53 | XXX
74740 | TC | A | X-ray, female genital tract | 0.00 | 1.24 | NA | 0.06 | 1.30 | NA | XXX
74742 |  | A | X-ray, fallopian tube | 0.61 | 3.23 | NA | 0.16 | 4.00 | NA | XXX
74742 | 26 | A | X-ray, fallopian tube | 0.61 | 0.24 | 0.24 | 0.02 | 0.87 | 0.87 | XXX
74742 | TC | A | X-ray, fallopian tube | 0.00 | 2.99 | NA | 0.14 | 3.13 | NA | XXX
74775 |  | A | X-ray exam of perineum | 0.62 | 1.62 | NA | 0.10 | 2.34 | NA | XXX
74775 | 26 | A | X-ray exam of perineum | 0.62 | 0.23 | 0.23 | 0.03 | 0.88 | 0.88 | XXX
74775 | TC | A | X-ray exam of perineum | 0.00 | 1.39 | NA | 0.07 | 1.46 | NA | XXX
75552 |  | A | Heart mri for morph w/o dye | 1.60 | 11.20 | NA | 0.56 | 13.36 | NA | XXX
75552 | 26 | A | Heart mri for morph w/o dye | 1.60 | 0.56 | 0.56 | 0.07 | 2.23 | 2.23 | XXX
75552 | TC | A | Heart mri for morph w/o dye | 0.00 | 10.64 | NA | 0.49 | 11.13 | NA | XXX
75553 |  | A | Heart mri for morph w/dye | 2.00 | 11.35 | NA | 0.58 | 13.93 | NA | XXX
75553 | 26 | A | Heart mri for morph w/dye | 2.00 | 0.71 | 0.71 | 0.09 | 2.80 | 2.80 | XXX
75553 | TC | A | Heart mri for morph w/dye | 0.00 | 10.64 | NA | 0.49 | 11.13 | NA | XXX
75554 |  | A | Cardiac MRI/function | 1.83 | 11.33 | NA | 0.56 | 13.72 | NA | XXX
75554 | 26 | A | Cardiac MRI/function | 1.83 | 0.69 | 0.69 | 0.07 | 2.59 | 2.59 | XXX
75554 | TC | A | Cardiac MRI/function | 0.00 | 10.64 | NA | 0.49 | 11.13 | NA | XXX
75555 |  | A | Cardiac MRI/limited study | 1.74 | 11.32 | NA | 0.56 | 13.62 | NA | XXX
75555 | 26 | A | Cardiac MRI/limited study | 1.74 | 0.68 | 0.68 | 0.07 | 2.49 | 2.49 | XXX
75555 | TC | A | Cardiac MRI/limited study | 0.00 | 10.64 | NA | 0.49 | 11.13 | NA | XXX
75556 |  | N | Cardiac MRI/flow mapping | 0.00 | 0.00 | 0.00 | 0.00 | 0.00 | 0.00 | XXX
75600 |  | A | Contrast x-ray exam of aorta | 0.49 | 12.16 | NA | 0.56 | 13.21 | NA | XXX
75600 | 26 | A | Contrast x-ray exam of aorta | 0.49 | 0.20 | 0.20 | 0.02 | 0.71 | 0.71 | XXX
75600 | TC | A | Contrast x-ray exam of aorta | 0.00 | 11.96 | NA | 0.54 | 12.50 | NA | XXX
75605 |  | A | Contrast x-ray exam of aorta | 1.14 | 12.39 | NA | 0.59 | 14.12 | NA | XXX
75605 | 26 | A | Contrast x-ray exam of aorta | 1.14 | 0.43 | 0.43 | 0.05 | 1.62 | 1.62 | XXX
75605 | TC | A | Contrast x-ray exam of aorta | 0.00 | 11.96 | NA | 0.54 | 12.50 | NA | XXX
75625 |  | A | Contrast x-ray exam of aorta | 1.14 | 12.37 | NA | 0.59 | 14.10 | NA | XXX
75625 | 26 | A | Contrast x-ray exam of aorta | 1.14 | 0.41 | 0.41 | 0.05 | 1.60 | 1.60 | XXX
75625 | TC | A | Contrast x-ray exam of aorta | 0.00 | 11.96 | NA | 0.54 | 12.50 | NA | XXX
75630 |  | A | X-ray aorta, leg arteries | 1.79 | 13.14 | NA | 0.65 | 15.58 | NA | XXX
75630 | 26 | A | X-ray aorta, leg arteries | 1.79 | 0.67 | 0.67 | 0.08 | 2.54 | 2.54 | XXX
75630 | TC | A | X-ray aorta, leg arteries | 0.00 | 12.47 | NA | 0.57 | 13.04 | NA | XXX
75635 |  | A | Ct angio abdominal arteries | 2.40 | 9.02 | NA | 0.41 | 11.83 | NA | XXX
75635 | 26 | A | Ct angio abdominal arteries | 2.40 | 0.96 | 0.96 | 0.09 | 3.45 | 3.45 | XXX
75635 | TC | A | Ct angio abdominal arteries | 0.00 | 8.06 | NA | 0.32 | 8.38 | NA | XXX
75650 |  | A | Artery x-rays, head & neck | 1.49 | 12.49 | NA | 0.61 | 14.59 | NA | XXX
75650 | 26 | A | Artery x-rays, head & neck | 1.49 | 0.53 | 0.53 | 0.07 | 2.09 | 2.09 | XXX
75650 | TC | A | Artery x-rays, head & neck | 0.00 | 11.96 | NA | 0.54 | 12.50 | NA | XXX
75658 |  | A | Artery x-rays, arm | 1.31 | 12.44 | NA | 0.60 | 14.35 | NA | XXX
75658 | 26 | A | Artery x-rays, arm | 1.31 | 0.48 | 0.48 | 0.06 | 1.85 | 1.85 | XXX
75658 | TC | A | Artery x-rays, arm | 0.00 | 11.96 | NA | 0.54 | 12.50 | NA | XXX
75660 |  | A | Artery x-rays, head & neck | 1.31 | 12.44 | NA | 0.60 | 14.35 | NA | XXX
75660 | 26 | A | Artery x-rays, head & neck | 1.31 | 0.48 | 0.48 | 0.06 | 1.85 | 1.85 | XXX
75660 | TC | A | Artery x-rays, head & neck | 0.00 | 11.96 | NA | 0.54 | 12.50 | NA | XXX
75662 |  | A | Artery x-rays, head & neck | 1.66 | 12.60 | NA | 0.62 | 14.88 | NA | XXX
75662 | 26 | A | Artery x-rays, head & neck | 1.66 | 0.64 | 0.64 | 0.08 | 2.38 | 2.38 | XXX
75662 | TC | A | Artery x-rays, head & neck | 0.00 | 11.96 | NA | 0.54 | 12.50 | NA | XXX
75665 |  | A | Artery x-rays, head & neck | 1.31 | 12.43 | NA | 0.61 | 14.35 | NA | XXX
75665 | 26 | A | Artery x-rays, head & neck | 1.31 | 0.47 | 0.47 | 0.07 | 1.85 | 1.85 | XXX
75665 | TC | A | Artery x-rays, head & neck | 0.00 | 11.96 | NA | 0.54 | 12.50 | NA | XXX
75671 |  | A | Artery x-rays, head & neck | 1.66 | 12.55 | NA | 0.62 | 14.83 | NA | XXX
75671 | 26 | A | Artery x-rays, head & neck | 1.66 | 0.59 | 0.59 | 0.08 | 2.33 | 2.33 | XXX
75671 | TC | A | Artery x-rays, head & neck | 0.00 | 11.96 | NA | 0.54 | 12.50 | NA | XXX
75676 |  | A | Artery x-rays, neck | 1.31 | 12.43 | NA | 0.61 | 14.35 | NA | XXX
75676 | 26 | A | Artery x-rays, neck | 1.31 | 0.47 | 0.47 | 0.07 | 1.85 | 1.85 | XXX
75676 | TC | A | Artery x-rays, neck | 0.00 | 11.96 | NA | 0.54 | 12.50 | NA | XXX
75680 |  | A | Artery x-rays, neck | 1.66 | 12.55 | NA | 0.62 | 14.83 | NA | XXX
75680 | 26 | A | Artery x-rays, neck | 1.66 | 0.59 | 0.59 | 0.08 | 2.33 | 2.33 | XXX
75680 | TC | A | Artery x-rays, neck | 0.00 | 11.96 | NA | 0.54 | 12.50 | NA | XXX
75685 |  | A | Artery x-rays, spine | 1.31 | 12.43 | NA | 0.60 | 14.34 | NA | XXX
75685 | 26 | A | Artery x-rays, spine | 1.31 | 0.47 | 0.47 | 0.06 | 1.84 | 1.84 | XXX
75685 | TC | A | Artery x-rays, spine | 0.00 | 11.96 | NA | 0.54 | 12.50 | NA | XXX
75705 |  | A | Artery x-rays, spine | 2.18 | 12.75 | NA | 0.65 | 15.58 | NA | XXX
75705 | 26 | A | Artery x-rays, spine | 2.18 | 0.79 | 0.79 | 0.11 | 3.08 | 3.08 | XXX
75705 | TC | A | Artery x-rays, spine | 0.00 | 11.96 | NA | 0.54 | 12.50 | NA | XXX
75710 |  | A | Artery x-rays, arm/leg | 1.14 | 12.38 | NA | 0.60 | 14.12 | NA | XXX
75710 | 26 | A | Artery x-rays, arm/leg | 1.14 | 0.42 | 0.42 | 0.06 | 1.62 | 1.62 | XXX
75710 | TC | A | Artery x-rays, arm/leg | 0.00 | 11.96 | NA | 0.54 | 12.50 | NA | XXX
75716 |  | A | Artery x-rays, arms/legs | 1.31 | 12.43 | NA | 0.60 | 14.34 | NA | XXX
75716 | 26 | A | Artery x-rays, arms/legs | 1.31 | 0.47 | 0.47 | 0.06 | 1.84 | 1.84 | XXX
75716 | TC | A | Artery x-rays, arms/legs | 0.00 | 11.96 | NA | 0.54 | 12.50 | NA | XXX
75722 |  | A | Artery x-rays, kidney | 1.14 | 12.39 | NA | 0.59 | 14.12 | NA | XXX
75722 | 26 | A | Artery x-rays, kidney | 1.14 | 0.43 | 0.43 | 0.05 | 1.62 | 1.62 | XXX
75722 | TC | A | Artery x-rays, kidney | 0.00 | 11.96 | NA | 0.54 | 12.50 | NA | XXX
75724 |  | A | Artery x-rays, kidneys | 1.49 | 12.56 | NA | 0.59 | 14.64 | NA | XXX
75724 | 26 | A | Artery x-rays, kidneys | 1.49 | 0.60 | 0.60 | 0.05 | 2.14 | 2.14 | XXX
75724 | TC | A | Artery x-rays, kidneys | 0.00 | 11.96 | NA | 0.54 | 12.50 | NA | XXX
75726 |  | A | Artery x-rays, abdomen | 1.14 | 12.36 | NA | 0.59 | 14.09 | NA | XXX
75726 | 26 | A | Artery x-rays, abdomen | 1.14 | 0.40 | 0.40 | 0.05 | 1.59 | 1.59 | XXX
75726 | TC | A | Artery x-rays, abdomen | 0.00 | 11.96 | NA | 0.54 | 12.50 | NA | XXX
75731 |  | A | Artery x-rays, adrenal gland | 1.14 | 12.36 | NA | 0.59 | 14.09 | NA | XXX
75731 | 26 | A | Artery x-rays, adrenal gland | 1.14 | 0.40 | 0.40 | 0.05 | 1.59 | 1.59 | XXX
75731 | TC | A | Artery x-rays, adrenal gland | 0.00 | 11.96 | NA | 0.54 | 12.50 | NA | XXX
75733 |  | A | Artery x-rays, adrenals | 1.31 | 12.43 | NA | 0.60 | 14.34 | NA | XXX
75733 | 26 | A | Artery x-rays, adrenals | 1.31 | 0.47 | 0.47 | 0.06 | 1.84 | 1.84 | XXX
75733 | TC | A | Artery x-rays, adrenals | 0.00 | 11.96 | NA | 0.54 | 12.50 | NA | XXX
75736 |  | A | Artery x-rays, pelvis | 1.14 | 12.37 | NA | 0.59 | 14.10 | NA | XXX
75736 | 26 | A | Artery x-rays, pelvis | 1.14 | 0.41 | 0.41 | 0.05 | 1.60 | 1.60 | XXX
75736 | TC | A | Artery x-rays, pelvis | 0.00 | 11.96 | NA | 0.54 | 12.50 | NA | XXX
75741 |  | A | Artery x-rays, lung | 1.31 | 12.42 | NA | 0.60 | 14.33 | NA | XXX
75741 | 26 | A | Artery x-rays, lung | 1.31 | 0.46 | 0.46 | 0.06 | 1.83 | 1.83 | XXX
75741 | TC | A | Artery x-rays, lung | 0.00 | 11.96 | NA | 0.54 | 12.50 | NA | XXX
75743 |  | A | Artery x-rays, lungs | 1.66 | 12.54 | NA | 0.61 | 14.81 | NA | XXX
75743 | 26 | A | Artery x-rays, lungs | 1.66 | 0.58 | 0.58 | 0.07 | 2.31 | 2.31 | XXX
75743 | TC | A | Artery x-rays, lungs | 0.00 | 11.96 | NA | 0.54 | 12.50 | NA | XXX
75746 |  | A | Artery x-rays, lung | 1.14 | 12.36 | NA | 0.59 | 14.09 | NA | XXX
75746 | 26 | A | Artery x-rays, lung | 1.14 | 0.40 | 0.40 | 0.05 | 1.59 | 1.59 | XXX
75746 | TC | A | Artery x-rays, lung | 0.00 | 11.96 | NA | 0.54 | 12.50 | NA | XXX
75756 |  | A | Artery x-rays, chest | 1.14 | 12.44 | NA | 0.58 | 14.16 | NA | XXX
75756 | 26 | A | Artery x-rays, chest | 1.14 | 0.48 | 0.48 | 0.04 | 1.66 | 1.66 | XXX
75756 | TC | A | Artery x-rays, chest | 0.00 | 11.96 | NA | 0.54 | 12.50 | NA | XXX
75774 |  | A | Artery x-ray, each vessel | 0.36 | 12.09 | NA | 0.56 | 13.01 | NA | ZZZ
75774 | 26 | A | Artery x-ray, each vessel | 0.36 | 0.13 | 0.13 | 0.02 | 0.51 | 0.51 | ZZZ
75774 | TC | A | Artery x-ray, each vessel | 0.00 | 11.96 | NA | 0.54 | 12.50 | NA | ZZZ
75790 |  | A | Visualize A-V shunt | 1.84 | 1.93 | NA | 0.16 | 3.93 | NA | XXX
75790 | 26 | A | Visualize A-V shunt | 1.84 | 0.64 | 0.64 | 0.09 | 2.57 | 2.57 | XXX
75790 | TC | A | Visualize A-V shunt | 0.00 | 1.29 | NA | 0.07 | 1.36 | NA | XXX
75801 |  | A | Lymph vessel x-ray, arm/leg | 0.81 | 5.42 | NA | 0.29 | 6.52 | NA | XXX
75801 | 26 | A | Lymph vessel x-ray, arm/leg | 0.81 | 0.28 | 0.28 | 0.05 | 1.14 | 1.14 | XXX
75801 | TC | A | Lymph vessel x-ray, arm/leg | 0.00 | 5.14 | NA | 0.24 | 5.38 | NA | XXX
75803 |  | A | Lymph vessel x-ray,arms/legs | 1.17 | 5.55 | NA | 0.29 | 7.01 | NA | XXX
75803 | 26 | A | Lymph vessel x-ray,arms/legs | 1.17 | 0.41 | 0.41 | 0.05 | 1.63 | 1.63 | XXX
75803 | TC | A | Lymph vessel x-ray,arms/legs | 0.00 | 5.14 | NA | 0.24 | 5.38 | NA | XXX
75805 |  | A | Lymph vessel x-ray, trunk | 0.81 | 6.08 | NA | 0.31 | 7.20 | NA | XXX
75805 | 26 | A | Lymph vessel x-ray, trunk | 0.81 | 0.29 | 0.29 | 0.04 | 1.14 | 1.14 | XXX
75805 | TC | A | Lymph vessel x-ray, trunk | 0.00 | 5.79 | NA | 0.27 | 6.06 | NA | XXX
75807 |  | A | Lymph vessel x-ray, trunk | 1.17 | 6.20 | NA | 0.32 | 7.69 | NA | XXX
75807 | 26 | A | Lymph vessel x-ray, trunk | 1.17 | 0.41 | 0.41 | 0.05 | 1.63 | 1.63 | XXX
75807 | TC | A | Lymph vessel x-ray, trunk | 0.00 | 5.79 | NA | 0.27 | 6.06 | NA | XXX
75809 |  | A | Nonvascular shunt, x-ray | 0.47 | 0.91 | NA | 0.06 | 1.44 | NA | XXX
75809 | 26 | A | Nonvascular shunt, x-ray | 0.47 | 0.17 | 0.17 | 0.02 | 0.66 | 0.66 | XXX
75809 | TC | A | Nonvascular shunt, x-ray | 0.00 | 0.74 | NA | 0.04 | 0.78 | NA | XXX
75810 |  | A | Vein x-ray, spleen/liver | 1.14 | 12.36 | NA | 0.60 | 14.10 | NA | XXX
75810 | 26 | A | Vein x-ray, spleen/liver | 1.14 | 0.40 | 0.40 | 0.06 | 1.60 | 1.60 | XXX
75810 | TC | A | Vein x-ray, spleen/liver | 0.00 | 11.96 | NA | 0.54 | 12.50 | NA | XXX
75820 |  | A | Vein x-ray, arm/leg | 0.70 | 1.15 | NA | 0.08 | 1.93 | NA | XXX
75820 | 26 | A | Vein x-ray, arm/leg | 0.70 | 0.25 | 0.25 | 0.03 | 0.98 | 0.98 | XXX
75820 | TC | A | Vein x-ray, arm/leg | 0.00 | 0.90 | NA | 0.05 | 0.95 | NA | XXX
75822 |  | A | Vein x-ray, arms/legs | 1.06 | 1.77 | NA | 0.12 | 2.95 | NA | XXX
75822 | 26 | A | Vein x-ray, arms/legs | 1.06 | 0.37 | 0.37 | 0.05 | 1.48 | 1.48 | XXX
75822 | TC | A | Vein x-ray, arms/legs | 0.00 | 1.40 | NA | 0.07 | 1.47 | NA | XXX
75825 |  | A | Vein x-ray, trunk | 1.14 | 12.36 | NA | 0.60 | 14.10 | NA | XXX
75825 | 26 | A | Vein x-ray, trunk | 1.14 | 0.40 | 0.40 | 0.06 | 1.60 | 1.60 | XXX
75825 | TC | A | Vein x-ray, trunk | 0.00 | 11.96 | NA | 0.54 | 12.50 | NA | XXX
75827 |  | A | Vein x-ray, chest | 1.14 | 12.36 | NA | 0.59 | 14.09 | NA | XXX
75827 | 26 | A | Vein x-ray, chest | 1.14 | 0.40 | 0.40 | 0.05 | 1.59 | 1.59 | XXX
75827 | TC | A | Vein x-ray, chest | 0.00 | 11.96 | NA | 0.54 | 12.50 | NA | XXX
75831 |  | A | Vein x-ray, kidney | 1.14 | 12.36 | NA | 0.59 | 14.09 | NA | XXX
75831 | 26 | A | Vein x-ray, kidney | 1.14 | 0.40 | 0.40 | 0.05 | 1.59 | 1.59 | XXX
75831 | TC | A | Vein x-ray, kidney | 0.00 | 11.96 | NA | 0.54 | 12.50 | NA | XXX
75833 |  | A | Vein x-ray, kidneys | 1.49 | 12.49 | NA | 0.61 | 14.59 | NA | XXX
75833 | 26 | A | Vein x-ray, kidneys | 1.49 | 0.53 | 0.53 | 0.07 | 2.09 | 2.09 | XXX
75833 | TC | A | Vein x-ray, kidneys | 0.00 | 11.96 | NA | 0.54 | 12.50 | NA | XXX
75840 |  | A | Vein x-ray, adrenal gland | 1.14 | 12.38 | NA | 0.61 | 14.13 | NA | XXX
75840 | 26 | A | Vein x-ray, adrenal gland | 1.14 | 0.42 | 0.42 | 0.07 | 1.63 | 1.63 | XXX
75840 | TC | A | Vein x-ray, adrenal gland | 0.00 | 11.96 | NA | 0.54 | 12.50 | NA | XXX
75842 |  | A | Vein x-ray, adrenal glands | 1.49 | 12.48 | NA | 0.61 | 14.58 | NA | XXX
75842 | 26 | A | Vein x-ray, adrenal glands | 1.49 | 0.52 | 0.52 | 0.07 | 2.08 | 2.08 | XXX
75842 | TC | A | Vein x-ray, adrenal glands | 0.00 | 11.96 | NA | 0.54 | 12.50 | NA | XXX
75860 |  | A | Vein x-ray, neck | 1.14 | 12.39 | NA | 0.60 | 14.13 | NA | XXX
75860 | 26 | A | Vein x-ray, neck | 1.14 | 0.43 | 0.43 | 0.06 | 1.63 | 1.63 | XXX
75860 | TC | A | Vein x-ray, neck | 0.00 | 11.96 | NA | 0.54 | 12.50 | NA | XXX
75870 |  | A | Vein x-ray, skull | 1.14 | 12.38 | NA | 0.60 | 14.12 | NA | XXX
75870 | 26 | A | Vein x-ray, skull | 1.14 | 0.42 | 0.42 | 0.06 | 1.62 | 1.62 | XXX
75870 | TC | A | Vein x-ray, skull | 0.00 | 11.96 | NA | 0.54 | 12.50 | NA | XXX
75872 |  | A | Vein x-ray, skull | 1.14 | 12.36 | NA | 0.59 | 14.09 | NA | XXX
75872 | 26 | A | Vein x-ray, skull | 1.14 | 0.40 | 0.40 | 0.05 | 1.59 | 1.59 | XXX
75872 | TC | A | Vein x-ray, skull | 0.00 | 11.96 | NA | 0.54 | 12.50 | NA | XXX
75880 |  | A | Vein x-ray, eye socket | 0.70 | 1.17 | NA | 0.08 | 1.95 | NA | XXX
75880 | 26 | A | Vein x-ray, eye socket | 0.70 | 0.27 | 0.27 | 0.03 | 1.00 | 1.00 | XXX
75880 | TC | A | Vein x-ray, eye socket | 0.00 | 0.90 | NA | 0.05 | 0.95 | NA | XXX
75885 |  | A | Vein x-ray, liver | 1.44 | 12.46 | NA | 0.60 | 14.50 | NA | XXX
75885 | 26 | A | Vein x-ray, liver | 1.44 | 0.50 | 0.50 | 0.06 | 2.00 | 2.00 | XXX
75885 | TC | A | Vein x-ray, liver | 0.00 | 11.96 | NA | 0.54 | 12.50 | NA | XXX
75887 |  | A | Vein x-ray, liver | 1.44 | 12.46 | NA | 0.60 | 14.50 | NA | XXX
75887 | 26 | A | Vein x-ray, liver | 1.44 | 0.50 | 0.50 | 0.06 | 2.00 | 2.00 | XXX
75887 | TC | A | Vein x-ray, liver | 0.00 | 11.96 | NA | 0.54 | 12.50 | NA | XXX
75889 |  | A | Vein x-ray, liver | 1.14 | 12.36 | NA | 0.59 | 14.09 | NA | XXX
75889 | 26 | A | Vein x-ray, liver | 1.14 | 0.40 | 0.40 | 0.05 | 1.59 | 1.59 | XXX
75889 | TC | A | Vein x-ray, liver | 0.00 | 11.96 | NA | 0.54 | 12.50 | NA | XXX
75891 |  | A | Vein x-ray, liver | 1.14 | 12.36 | NA | 0.59 | 14.09 | NA | XXX
75891 | 26 | A | Vein x-ray, liver | 1.14 | 0.40 | 0.40 | 0.05 | 1.59 | 1.59 | XXX
75891 | TC | A | Vein x-ray, liver | 0.00 | 11.96 | NA | 0.54 | 12.50 | NA | XXX
75893 |  | A | Venous sampling by catheter | 0.54 | 12.15 | NA | 0.56 | 13.25 | NA | XXX
75893 | 26 | A | Venous sampling by catheter | 0.54 | 0.19 | 0.19 | 0.02 | 0.75 | 0.75 | XXX
75893 | TC | A | Venous sampling by catheter | 0.00 | 11.96 | NA | 0.54 | 12.50 | NA | XXX
75894 |  | A | X-rays, transcath therapy | 1.31 | 23.38 | NA | 1.12 | 25.81 | NA | XXX
75894 | 26 | A | X-rays, transcath therapy | 1.31 | 0.46 | 0.46 | 0.07 | 1.84 | 1.84 | XXX
75894 | TC | A | X-rays, transcath therapy | 0.00 | 22.92 | NA | 1.05 | 23.97 | NA | XXX
75896 |  | A | X-rays, transcath therapy | 1.31 | 20.42 | NA | 0.97 | 22.70 | NA | XXX
75896 | 26 | A | X-rays, transcath therapy | 1.31 | 0.48 | 0.48 | 0.06 | 1.85 | 1.85 | XXX
75896 | TC | A | X-rays, transcath therapy | 0.00 | 19.94 | NA | 0.91 | 20.85 | NA | XXX
75898 |  | A | Follow-up angiography | 1.65 | 1.60 | NA | 0.12 | 3.37 | NA | XXX
75898 | 26 | A | Follow-up angiography | 1.65 | 0.60 | 0.60 | 0.07 | 2.32 | 2.32 | XXX
75898 | TC | A | Follow-up angiography | 0.00 | 1.00 | NA | 0.05 | 1.05 | NA | XXX
75900 |  | A | Arterial catheter exchange | 0.49 | 20.09 | NA | 0.94 | 21.52 | NA | XXX
75900 | 26 | A | Arterial catheter exchange | 0.49 | 0.17 | 0.17 | 0.02 | 0.68 | 0.68 | XXX
75900 | TC | A | Arterial catheter exchange | 0.00 | 19.92 | NA | 0.92 | 20.84 | NA | XXX
75940 |  | A | X-ray placement, vein filter | 0.54 | 12.15 | NA | 0.57 | 13.26 | NA | XXX
75940 | 26 | A | X-ray placement, vein filter | 0.54 | 0.19 | 0.19 | 0.03 | 0.76 | 0.76 | XXX
75940 | TC | A | X-ray placement, vein filter | 0.00 | 11.96 | NA | 0.54 | 12.50 | NA | XXX
75945 |  | A | Intravascular us | 0.40 | 4.48 | NA | 0.23 | 5.11 | NA | XXX
75945 | 26 | A | Intravascular us | 0.40 | 0.15 | 0.15 | 0.03 | 0.58 | 0.58 | XXX
75945 | TC | A | Intravascular us | 0.00 | 4.33 | NA | 0.20 | 4.53 | NA | XXX
75946 |  | A | Intravascular us add-on | 0.40 | 2.32 | NA | 0.14 | 2.86 | NA | ZZZ
75946 | 26 | A | Intravascular us add-on | 0.40 | 0.14 | 0.14 | 0.03 | 0.57 | 0.57 | ZZZ
75946 | TC | A | Intravascular us add-on | 0.00 | 2.18 | NA | 0.11 | 2.29 | NA | ZZZ
75952 |  | C | Endovasc repair abdom aorta | +0.00 | 0.00 | 0.00 | 0.00 | 0.00 | 0.00 | XXX
75952 | 26 | A | Endovasc repair abdom aorta | 4.50 | 1.80 | 1.80 | 0.68 | 6.98 | 6.98 | XXX
75952 | TC | C | Endovasc repair abdom aorta | 0.00 | 0.00 | 0.00 | 0.00 | 0.00 | 0.00 | XXX
75953 |  | C | Abdom aneurysm endovas rpr | +0.00 | 0.00 | 0.00 | 0.00 | 0.00 | 0.00 | XXX
75953 | 26 | A | Abdom aneurysm endovas rpr | 1.36 | 0.54 | 0.54 | 0.68 | 2.58 | 2.58 | XXX
75953 | TC | C | Abdom aneurysm endovas rpr | 0.00 | 0.00 | 0.00 | 0.00 | 0.00 | 0.00 | XXX
75960 |  | A | Transcatheter intro, stent | 0.82 | 14.45 | NA | 0.68 | 15.95 | NA | XXX
75960 | 26 | A | Transcatheter intro, stent | 0.82 | 0.30 | 0.30 | 0.04 | 1.16 | 1.16 | XXX
75960 | TC | A | Transcatheter intro, stent | 0.00 | 14.15 | NA | 0.64 | 14.79 | NA | XXX
75961 |  | A | Retrieval, broken catheter | 4.25 | 11.46 | NA | 0.64 | 16.35 | NA | XXX
75961 | 26 | A | Retrieval, broken catheter | 4.25 | 1.49 | 1.49 | 0.18 | 5.92 | 5.92 | XXX
75961 | TC | A | Retrieval, broken catheter | 0.00 | 9.97 | NA | 0.46 | 10.43 | NA | XXX
75962 |  | A | Repair arterial blockage | 0.54 | 15.15 | NA | 0.72 | 16.41 | NA | XXX
75962 | 26 | A | Repair arterial blockage | 0.54 | 0.20 | 0.20 | 0.03 | 0.77 | 0.77 | XXX
75962 | TC | A | Repair arterial blockage | 0.00 | 14.95 | NA | 0.69 | 15.64 | NA | XXX
75964 |  | A | Repair artery blockage, each | 0.36 | 8.10 | NA | 0.38 | 8.84 | NA | ZZZ
75964 | 26 | A | Repair artery blockage, each | 0.36 | 0.13 | 0.13 | 0.02 | 0.51 | 0.51 | ZZZ
75964 | TC | A | Repair artery blockage, each | 0.00 | 7.97 | NA | 0.36 | 8.33 | NA | ZZZ
75966 |  | A | Repair arterial blockage | 1.31 | 15.45 | NA | 0.75 | 17.51 | NA | XXX
75966 | 26 | A | Repair arterial blockage | 1.31 | 0.50 | 0.50 | 0.06 | 1.87 | 1.87 | XXX
75966 | TC | A | Repair arterial blockage | 0.00 | 14.95 | NA | 0.69 | 15.64 | NA | XXX
75968 |  | A | Repair artery blockage, each | 0.36 | 8.11 | NA | 0.37 | 8.84 | NA | ZZZ
75968 | 26 | A | Repair artery blockage, each | 0.36 | 0.14 | 0.14 | 0.01 | 0.51 | 0.51 | ZZZ
75968 | TC | A | Repair artery blockage, each | 0.00 | 7.97 | NA | 0.36 | 8.33 | NA | ZZZ
75970 |  | A | Vascular biopsy | 0.83 | 11.26 | NA | 0.54 | 12.63 | NA | XXX
75970 | 26 | A | Vascular biopsy | 0.83 | 0.30 | 0.30 | 0.04 | 1.17 | 1.17 | XXX
75970 | TC | A | Vascular biopsy | 0.00 | 10.96 | NA | 0.50 | 11.46 | NA | XXX
75978 |  | A | Repair venous blockage | 0.54 | 15.14 | NA | 0.71 | 16.39 | NA | XXX
75978 | 26 | A | Repair venous blockage | 0.54 | 0.19 | 0.19 | 0.02 | 0.75 | 0.75 | XXX
75978 | TC | A | Repair venous blockage | 0.00 | 14.95 | NA | 0.69 | 15.64 | NA | XXX
75980 |  | A | Contrast xray exam bile duct | 1.44 | 5.64 | NA | 0.30 | 7.38 | NA | XXX
75980 | 26 | A | Contrast xray exam bile duct | 1.44 | 0.50 | 0.50 | 0.06 | 2.00 | 2.00 | XXX
75980 | TC | A | Contrast xray exam bile duct | 0.00 | 5.14 | NA | 0.24 | 5.38 | NA | XXX
75982 |  | A | Contrast xray exam bile duct | 1.44 | 6.29 | NA | 0.33 | 8.06 | NA | XXX
75982 | 26 | A | Contrast xray exam bile duct | 1.44 | 0.50 | 0.50 | 0.06 | 2.00 | 2.00 | XXX
75982 | TC | A | Contrast xray exam bile duct | 0.00 | 5.79 | NA | 0.27 | 6.06 | NA | XXX
75984 |  | A | Xray control catheter change | 0.72 | 2.10 | NA | 0.12 | 2.94 | NA | XXX
75984 | 26 | A | Xray control catheter change | 0.72 | 0.25 | 0.25 | 0.03 | 1.00 | 1.00 | XXX
75984 | TC | A | Xray control catheter change | 0.00 | 1.85 | NA | 0.09 | 1.94 | NA | XXX
75989 |  | A | Abscess drainage under x-ray | 1.19 | 3.41 | NA | 0.19 | 4.79 | NA | XXX
75989 | 26 | A | Abscess drainage under x-ray | 1.19 | 0.42 | 0.42 | 0.05 | 1.66 | 1.66 | XXX
75989 | TC | A | Abscess drainage under x-ray | 0.00 | 2.99 | NA | 0.14 | 3.13 | NA | XXX
75992 |  | A | Atherectomy, x-ray exam | 0.54 | 15.15 | NA | 0.71 | 16.40 | NA | XXX
75992 | 26 | A | Atherectomy, x-ray exam | 0.54 | 0.20 | 0.20 | 0.02 | 0.76 | 0.76 | XXX
75992 | TC | A | Atherectomy, x-ray exam | 0.00 | 14.95 | NA | 0.69 | 15.64 | NA | XXX
75993 |  | A | Atherectomy, x-ray exam | 0.36 | 8.11 | NA | 0.37 | 8.84 | NA | ZZZ
75993 | 26 | A | Atherectomy, x-ray exam | 0.36 | 0.14 | 0.14 | 0.01 | 0.51 | 0.51 | ZZZ
75993 | TC | A | Atherectomy, x-ray exam | 0.00 | 7.97 | NA | 0.36 | 8.33 | NA | ZZZ
75994 |  | A | Atherectomy, x-ray exam | 1.31 | 15.45 | NA | 0.75 | 17.51 | NA | XXX
75994 | 26 | A | Atherectomy, x-ray exam | 1.31 | 0.50 | 0.50 | 0.06 | 1.87 | 1.87 | XXX
75994 | TC | A | Atherectomy, x-ray exam | 0.00 | 14.95 | NA | 0.69 | 15.64 | NA | XXX
75995 |  | A | Atherectomy, x-ray exam | 1.31 | 15.42 | NA | 0.75 | 17.48 | NA | XXX
75995 | 26 | A | Atherectomy, x-ray exam | 1.31 | 0.47 | 0.47 | 0.06 | 1.84 | 1.84 | XXX
75995 | TC | A | Atherectomy, x-ray exam | 0.00 | 14.95 | NA | 0.69 | 15.64 | NA | XXX
75996 |  | A | Atherectomy, x-ray exam | 0.36 | 8.09 | NA | 0.37 | 8.82 | NA | ZZZ
75996 | 26 | A | Atherectomy, x-ray exam | 0.36 | 0.12 | 0.12 | 0.01 | 0.49 | 0.49 | ZZZ
75996 | TC | A | Atherectomy, x-ray exam | 0.00 | 7.97 | NA | 0.36 | 8.33 | NA | ZZZ
76000 |  | A | Fluoroscope examination | 0.17 | 1.31 | NA | 0.07 | 1.55 | NA | XXX
76000 | 26 | A | Fluoroscope examination | 0.17 | 0.07 | 0.07 | 0.01 | 0.25 | 0.25 | XXX
76000 | TC | A | Fluoroscope examination | 0.00 | 1.24 | NA | 0.06 | 1.30 | NA | XXX
76001 |  | A | Fluoroscope exam, extensive | 0.67 | 2.73 | NA | 0.15 | 3.55 | NA | XXX
76001 | 26 | A | Fluoroscope exam, extensive | 0.67 | 0.24 | 0.24 | 0.03 | 0.94 | 0.94 | XXX
76001 | TC | A | Fluoroscope exam, extensive | 0.00 | 2.49 | NA | 0.12 | 2.61 | NA | XXX
76003 |  | A | Needle localization by x-ray | 0.54 | 1.43 | NA | 0.09 | 2.06 | NA | XXX
76003 | 26 | A | Needle localization by x-ray | 0.54 | 0.19 | 0.19 | 0.03 | 0.76 | 0.76 | XXX
76003 | TC | A | Needle localization by x-ray | 0.00 | 1.24 | NA | 0.06 | 1.30 | NA | XXX
76005 |  | A | Fluoroguide for spine inject | 0.60 | 1.41 | NA | 0.09 | 2.10 | NA | XXX
76005 | 26 | A | Fluoroguide for spine inject | 0.60 | 0.17 | 0.17 | 0.03 | 0.80 | 0.80 | XXX
76005 | TC | A | Fluoroguide for spine inject | 0.00 | 1.24 | NA | 0.06 | 1.30 | NA | XXX
76006 |  | A | X-ray stress view | 0.41 | 0.20 | 0.20 | 0.04 | 0.65 | 0.65 | XXX
76010 |  | A | X-ray, nose to rectum | 0.18 | 0.56 | NA | 0.03 | 0.77 | NA | XXX
76010 | 26 | A | X-ray, nose to rectum | 0.18 | 0.06 | 0.06 | 0.01 | 0.25 | 0.25 | XXX
76010 | TC | A | X-ray, nose to rectum | 0.00 | 0.50 | NA | 0.02 | 0.52 | NA | XXX
76012 |  | C | Percut vertebroplasty fluor | +0.00 | 0.00 | 0.00 | 0.00 | 0.00 | 0.00 | XXX
76012 | 26 | A | Percut vertebroplasty fluor | 1.31 | 0.52 | 0.52 | 0.23 | 2.06 | 2.06 | XXX
76012 | TC | C | Percut vertebroplasty fluor | 0.00 | 0.00 | 0.00 | 0.00 | 0.00 | 0.00 | XXX
76013 |  | C | Percut vertebroplasty, ct | +0.00 | 0.00 | 0.00 | 0.00 | 0.00 | 0.00 | XXX
76013 | 26 | A | Percut vertebroplasty, ct | 1.38 | 0.55 | 0.55 | 0.48 | 2.41 | 2.41 | XXX
76013 | TC | C | Percut vertebroplasty, ct | 0.00 | 0.00 | 0.00 | 0.00 | 0.00 | 0.00 | XXX
76020 |  | A | X-rays for bone age | 0.19 | 0.57 | NA | 0.03 | 0.79 | NA | XXX
76020 | 26 | A | X-rays for bone age | 0.19 | 0.07 | 0.07 | 0.01 | 0.27 | 0.27 | XXX
76020 | TC | A | X-rays for bone age | 0.00 | 0.50 | NA | 0.02 | 0.52 | NA | XXX
76040 |  | A | X-rays, bone evaluation | 0.27 | 0.84 | NA | 0.07 | 1.18 | NA | XXX
76040 | 26 | A | X-rays, bone evaluation | 0.27 | 0.10 | 0.10 | 0.03 | 0.40 | 0.40 | XXX
76040 | TC | A | X-rays, bone evaluation | 0.00 | 0.74 | NA | 0.04 | 0.78 | NA | XXX
76061 |  | A | X-rays, bone survey | 0.45 | 1.11 | NA | 0.07 | 1.63 | NA | XXX
76061 | 26 | A | X-rays, bone survey | 0.45 | 0.16 | 0.16 | 0.02 | 0.63 | 0.63 | XXX
76061 | TC | A | X-rays, bone survey | 0.00 | 0.95 | NA | 0.05 | 1.00 | NA | XXX
76062 |  | A | X-rays, bone survey | 0.54 | 1.56 | NA | 0.09 | 2.19 | NA | XXX
76062 | 26 | A | X-rays, bone survey | 0.54 | 0.19 | 0.19 | 0.02 | 0.75 | 0.75 | XXX
76062 | TC | A | X-rays, bone survey | 0.00 | 1.37 | NA | 0.07 | 1.44 | NA | XXX
76065 |  | A | X-rays, bone evaluation | 0.70 | 0.95 | NA | 0.05 | 1.70 | NA | XXX
76065 | 26 | A | X-rays, bone evaluation | 0.70 | 0.25 | 0.25 | 0.01 | 0.96 | 0.96 | XXX
76065 | TC | A | X-rays, bone evaluation | 0.00 | 0.70 | NA | 0.04 | 0.74 | NA | XXX
76066 |  | A | Joint survey, single view | 0.31 | 1.17 | NA | 0.07 | 1.55 | NA | XXX
76066 | 26 | A | Joint survey, single view | 0.31 | 0.11 | 0.11 | 0.02 | 0.44 | 0.44 | XXX
76066 | TC | A | Joint survey, single view | 0.00 | 1.06 | NA | 0.05 | 1.11 | NA | XXX
76070 |  | I | CT scan, bone density study | +0.25 | 2.90 | NA | 0.14 | 3.29 | NA | XXX
76070 | 26 | I | CT scan, bone density study | +0.25 | 0.10 | 0.10 | 0.01 | 0.36 | 0.36 | XXX
76070 | TC | I | CT scan, bone density study | +0.00 | 2.80 | NA | 0.13 | 2.93 | NA | XXX
76075 |  | A | Us exam, abdom, limited | 0.30 | 3.05 | NA | 0.15 | 3.50 | NA | XXX
76075 | 26 | A | Us exam, abdom, limited | 0.30 | 0.11 | 0.11 | 0.01 | 0.42 | 0.42 | XXX
76075 | TC | A | Us exam, abdom, limited | 0.00 | 2.94 | NA | 0.14 | 3.08 | NA | XXX
76076 |  | A | Dual energy x-ray study | 0.22 | 0.80 | NA | 0.05 | 1.07 | NA | XXX
76076 | 26 | A | Dual energy x-ray study | 0.22 | 0.08 | 0.08 | 0.01 | 0.31 | 0.31 | XXX
76076 | TC | A | Dual energy x-ray study | 0.00 | 0.72 | NA | 0.04 | 0.76 | NA | XXX
76078 |  | A | Radiographic absorptiometry | 0.20 | 0.80 | NA | 0.05 | 1.05 | NA | XXX
76078 | 26 | A | Radiographic absorptiometry | 0.20 | 0.08 | 0.08 | 0.01 | 0.29 | 0.29 | XXX
76078 | TC | A | Radiographic absorptiometry | 0.00 | 0.72 | NA | 0.04 | 0.76 | NA | XXX
76080 |  | A | X-ray exam of fistula | 0.54 | 1.19 | NA | 0.07 | 1.80 | NA | XXX
76080 | 26 | A | X-ray exam of fistula | 0.54 | 0.19 | 0.19 | 0.02 | 0.75 | 0.75 | XXX
76080 | TC | A | X-ray exam of fistula | 0.00 | 1.00 | NA | 0.05 | 1.05 | NA | XXX
76085 |  | A | Computer mammogram add-on | 0.06 | 0.31 | NA | 0.02 | 0.39 | NA | ZZZ
76085 | 26 | A | Computer mammogram add-on | 0.06 | 0.02 | 0.02 | 0.01 | 0.09 | 0.09 | ZZZ
76085 | TC | A | Computer mammogram add-on | 0.00 | 0.29 | NA | 0.01 | 0.30 | NA | XXX
76086 |  | A | X-ray of mammary duct | 0.36 | 2.62 | NA | 0.14 | 3.12 | NA | XXX
76086 | 26 | A | X-ray of mammary duct | 0.36 | 0.13 | 0.13 | 0.02 | 0.51 | 0.51 | XXX
76086 | TC | A | X-ray of mammary duct | 0.00 | 2.49 | NA | 0.12 | 2.61 | NA | XXX
76088 |  | A | X-ray of mammary ducts | 0.45 | 3.64 | NA | 0.18 | 4.27 | NA | XXX
76088 | 26 | A | X-ray of mammary ducts | 0.45 | 0.16 | 0.16 | 0.02 | 0.63 | 0.63 | XXX
76088 | TC | A | X-ray of mammary ducts | 0.00 | 3.48 | NA | 0.16 | 3.64 | NA | XXX
76090 |  | A | Mammogram, one breast | 0.70 | 1.25 | NA | 0.08 | 2.03 | NA | XXX
76090 | 26 | A | Mammogram, one breast | 0.70 | 0.25 | 0.25 | 0.03 | 0.98 | 0.98 | XXX
76090 | TC | A | Mammogram, one breast | 0.00 | 1.00 | NA | 0.05 | 1.05 | NA | XXX
76091 |  | A | Mammogram, both breasts | 0.87 | 1.54 | NA | 0.09 | 2.50 | NA | XXX
76091 | 26 | A | Mammogram, both breasts | 0.87 | 0.30 | 0.30 | 0.03 | 1.20 | 1.20 | XXX
76091 | TC | A | Mammogram, both breasts | 0.00 | 1.24 | NA | 0.06 | 1.30 | NA | XXX
76092 |  | A | Mammogram, screening | 0.70 | 1.44 | NA | 0.09 | 2.23 | NA | XXX
76092 | 26 | A | Mammogram, screening | 0.70 | 0.25 | 0.25 | 0.03 | 0.98 | 0.98 | XXX
76092 | TC | A | Mammogram, screening | 0.00 | 1.19 | NA | 0.06 | 1.25 | NA | XXX
76093 |  | A | Magnetic image, breast | 1.63 | 17.31 | NA | 0.83 | 19.77 | NA | XXX
76093 | 26 | A | Magnetic image, breast | 1.63 | 0.57 | 0.57 | 0.07 | 2.27 | 2.27 | XXX
76093 | TC | A | Magnetic image, breast | 0.00 | 16.74 | NA | 0.76 | 17.50 | NA | XXX
76094 |  | A | Magnetic image, both breasts | 1.63 | 23.28 | NA | 1.10 | 26.01 | NA | XXX
76094 | 26 | A | Magnetic image, both breasts | 1.63 | 0.57 | 0.57 | 0.07 | 2.27 | 2.27 | XXX
76094 | TC | A | Magnetic image, both breasts | 0.00 | 22.71 | NA | 1.03 | 23.74 | NA | XXX
76095 |  | A | Stereotactic breast biopsy | 1.59 | 7.36 | NA | 0.40 | 9.35 | NA | XXX
76095 | 26 | A | Stereotactic breast biopsy | 1.59 | 0.56 | 0.56 | 0.09 | 2.24 | 2.24 | XXX
76095 | TC | A | Stereotactic breast biopsy | 0.00 | 6.80 | NA | 0.31 | 7.11 | NA | XXX
76096 |  | A | X-ray of needle wire, breast | 0.56 | 1.44 | NA | 0.09 | 2.09 | NA | XXX
76096 | 26 | A | X-ray of needle wire, breast | 0.56 | 0.20 | 0.20 | 0.03 | 0.79 | 0.79 | XXX
76096 | TC | A | X-ray of needle wire, breast | 0.00 | 1.24 | NA | 0.06 | 1.30 | NA | XXX
76098 |  | A | X-ray exam, breast specimen | 0.16 | 0.45 | NA | 0.03 | 0.64 | NA | XXX
76098 | 26 | A | X-ray exam, breast specimen | 0.16 | 0.06 | 0.06 | 0.01 | 0.23 | 0.23 | XXX
76098 | TC | A | X-ray exam, breast specimen | 0.00 | 0.39 | NA | 0.02 | 0.41 | NA | XXX
76100 |  | A | X-ray exam of body section | 0.58 | 1.38 | NA | 0.09 | 2.05 | NA | XXX
76100 | 26 | A | X-ray exam of body section | 0.58 | 0.20 | 0.20 | 0.03 | 0.81 | 0.81 | XXX
76100 | TC | A | X-ray exam of body section | 0.00 | 1.18 | NA | 0.06 | 1.24 | NA | XXX
76101 |  | A | Complex body section x-ray | 0.58 | 1.55 | NA | 0.10 | 2.23 | NA | XXX
76101 | 26 | A | Complex body section x-ray | 0.58 | 0.20 | 0.20 | 0.03 | 0.81 | 0.81 | XXX
76101 | TC | A | Complex body section x-ray | 0.00 | 1.35 | NA | 0.07 | 1.42 | NA | XXX
76102 |  | A | Complex body section x-rays | 0.58 | 1.84 | NA | 0.12 | 2.54 | NA | XXX
76102 | 26 | A | Complex body section x-rays | 0.58 | 0.20 | 0.20 | 0.03 | 0.81 | 0.81 | XXX
76102 | TC | A | Complex body section x-rays | 0.00 | 1.64 | NA | 0.09 | 1.73 | NA | XXX
76120 |  | A | Cine/video x-rays | 0.38 | 1.14 | NA | 0.07 | 1.59 | NA | XXX
76120 | 26 | A | Cine/video x-rays | 0.38 | 0.14 | 0.14 | 0.02 | 0.54 | 0.54 | XXX
76120 | TC | A | Cine/video x-rays | 0.00 | 1.00 | NA | 0.05 | 1.05 | NA | XXX
76125 |  | A | Cine/ video x-rays add-on | 0.27 | 0.84 | NA | 0.05 | 1.16 | NA | ZZZ
76125 | 26 | A | Cine/ video x-rays add-on | 0.27 | 0.10 | 0.10 | 0.01 | 0.38 | 0.38 | ZZZ
76125 | TC | A | Cine/ video x-rays add-on | 0.00 | 0.74 | NA | 0.04 | 0.78 | NA | ZZZ
76140 |  | I | X-ray consultation | 0.00 | 0.00 | 0.00 | 0.00 | 0.00 | 0.00 | XXX
76150 |  | A | X-ray exam, dry process | 0.00 | 0.39 | NA | 0.02 | 0.41 | NA | XXX
76350 |  | C | Special x-ray contrast study | 0.00 | 0.00 | 0.00 | 0.00 | 0.00 | 0.00 | XXX
76355 |  | A | CAT scan for localization | 1.21 | 8.28 | NA | 0.41 | 9.90 | NA | XXX
76355 | 26 | A | CAT scan for localization | 1.21 | 0.44 | 0.44 | 0.06 | 1.71 | 1.71 | XXX
76355 | TC | A | CAT scan for localization | 0.00 | 7.84 | NA | 0.35 | 8.19 | NA | XXX
76360 |  | A | CAT scan for needle biopsy | 1.16 | 8.24 | NA | 0.40 | 9.80 | NA | XXX
76360 | 26 | A | CAT scan for needle biopsy | 1.16 | 0.40 | 0.40 | 0.05 | 1.61 | 1.61 | XXX
76360 | TC | A | CAT scan for needle biopsy | 0.00 | 7.84 | NA | 0.35 | 8.19 | NA | XXX
76362 |  | A | Cat scan for tissue ablation | 4.00 | 9.24 | NA | 1.38 | 14.62 | NA | XXX
76362 | 26 | A | Cat scan for tissue ablation | 4.00 | 1.40 | 1.40 | 0.17 | 5.57 | 5.57 | XXX
76362 | TC | A | Cat scan for tissue ablation | 0.00 | 7.84 | NA | 1.21 | 9.05 | NA | XXX
76370 |  | A | CAT scan for therapy guide | 0.85 | 3.10 | NA | 0.17 | 4.12 | NA | XXX
76370 | 26 | A | CAT scan for therapy guide | 0.85 | 0.30 | 0.30 | 0.04 | 1.19 | 1.19 | XXX
76370 | TC | A | CAT scan for therapy guide | 0.00 | 2.80 | NA | 0.13 | 2.93 | NA | XXX
76375 |  | A | 3d/holograph reconstr add-on | 0.16 | 3.42 | NA | 0.16 | 3.74 | NA | XXX
76375 | 26 | A | 3d/holograph reconstr add-on | 0.16 | 0.06 | 0.06 | 0.01 | 0.23 | 0.23 | XXX
76375 | TC | A | 3d/holograph reconstr add-on | 0.00 | 3.36 | NA | 0.15 | 3.51 | NA | XXX
76380 |  | A | CAT scan follow-up study | 0.98 | 3.66 | NA | 0.19 | 4.83 | NA | XXX
76380 | 26 | A | CAT scan follow-up study | 0.98 | 0.34 | 0.34 | 0.04 | 1.36 | 1.36 | XXX
76380 | TC | A | CAT scan follow-up study | 0.00 | 3.32 | NA | 0.15 | 3.47 | NA | XXX
76390 |  | A | Mr spectroscopy | 1.40 | 11.14 | NA | 0.55 | 13.09 | NA | XXX
76390 | 26 | A | Mr spectroscopy | 1.40 | 0.50 | 0.50 | 0.06 | 1.96 | 1.96 | XXX
76390 | TC | A | Mr spectroscopy | 0.00 | 10.64 | NA | 0.49 | 11.13 | NA | XXX
76393 |  | A | Mr guidance for needle place | 1.50 | 11.16 | NA | 0.53 | 13.19 | NA | XXX
76393 | 26 | A | Mr guidance for needle place | 1.50 | 0.52 | 0.52 | 0.07 | 2.09 | 2.09 | XXX
76393 | TC | A | Mr guidance for needle place | 0.00 | 10.64 | NA | 0.46 | 11.10 | NA | XXX
76394 |  | A | Mri for tissue ablation | 4.25 | 12.13 | NA | 1.43 | 17.81 | NA | XXX
76394 | 26 | A | Mri for tissue ablation | 4.25 | 1.49 | 1.49 | 0.14 | 5.88 | 5.88 | XXX
76394 | TC | A | Mri for tissue ablation | 0.00 | 10.64 | NA | 1.29 | 11.93 | NA | XXX
76400 |  | A | Magnetic image, bone marrow | 1.60 | 11.20 | NA | 0.56 | 13.36 | NA | XXX
76400 | 26 | A | Magnetic image, bone marrow | 1.60 | 0.56 | 0.56 | 0.07 | 2.23 | 2.23 | XXX
76400 | TC | A | Magnetic image, bone marrow | 0.00 | 10.64 | NA | 0.49 | 11.13 | NA | XXX
76490 |  | A | Us for tissue ablation | 2.00 | 2.13 | NA | 0.36 | 4.49 | NA | XXX
76490 | 26 | A | Us for tissue ablation | 2.00 | 0.69 | 0.69 | 0.12 | 2.81 | 2.81 | XXX
76490 | TC | A | Us for tissue ablation | 0.00 | 1.44 | NA | 0.24 | 1.68 | NA | XXX
76499 |  | C | Radiographic procedure | 0.00 | 0.00 | 0.00 | 0.00 | 0.00 | 0.00 | XXX
76499 | 26 | C | Radiographic procedure | 0.00 | 0.00 | 0.00 | 0.00 | 0.00 | 0.00 | XXX
76499 | TC | C | Radiographic procedure | 0.00 | 0.00 | 0.00 | 0.00 | 0.00 | 0.00 | XXX
76506 |  | A | Echo exam of head | 0.63 | 1.61 | NA | 0.10 | 2.34 | NA | XXX
76506 | 26 | A | Echo exam of head | 0.63 | 0.26 | 0.26 | 0.03 | 0.92 | 0.92 | XXX
76506 | TC | A | Echo exam of head | 0.00 | 1.35 | NA | 0.07 | 1.42 | NA | XXX
76511 |  | A | Echo exam of eye | 0.94 | 2.37 | NA | 0.08 | 3.39 | NA | XXX
76511 | 26 | A | Echo exam of eye | 0.94 | 0.45 | 0.45 | 0.02 | 1.41 | 1.41 | XXX
76511 | TC | A | Echo exam of eye | 0.00 | 1.92 | NA | 0.06 | 1.98 | NA | XXX
76512 |  | A | Echo exam of eye | 0.66 | 2.49 | NA | 0.09 | 3.24 | NA | XXX
76512 | 26 | A | Echo exam of eye | 0.66 | 0.31 | 0.31 | 0.01 | 0.98 | 0.98 | XXX
76512 | TC | A | Echo exam of eye | 0.00 | 2.18 | NA | 0.08 | 2.26 | NA | XXX
76513 |  | A | Echo exam of eye, water bath | 0.66 | 2.90 | NA | 0.09 | 3.65 | NA | XXX
76513 | 26 | A | Echo exam of eye, water bath | 0.66 | 0.32 | 0.32 | 0.01 | 0.99 | 0.99 | XXX
76513 | TC | A | Echo exam of eye, water bath | 0.00 | 2.58 | NA | 0.08 | 2.66 | NA | XXX
76516 |  | A | Echo exam of eye | 0.54 | 2.04 | NA | 0.07 | 2.65 | NA | XXX
76516 | 26 | A | Echo exam of eye | 0.54 | 0.26 | 0.26 | 0.01 | 0.81 | 0.81 | XXX
76516 | TC | A | Echo exam of eye | 0.00 | 1.78 | NA | 0.06 | 1.84 | NA | XXX
76519 |  | A | Echo exam of eye | 0.54 | 1.91 | NA | 0.07 | 2.52 | NA | XXX
76519 | 26 | A | Echo exam of eye | 0.54 | 0.26 | 0.26 | 0.01 | 0.81 | 0.81 | XXX
76519 | TC | A | Echo exam of eye | 0.00 | 1.65 | NA | 0.06 | 1.71 | NA | XXX
76529 |  | A | Echo exam of eye | 0.57 | 2.70 | NA | 0.08 | 3.35 | NA | XXX
76529 | 26 | A | Echo exam of eye | 0.57 | 0.27 | 0.27 | 0.01 | 0.85 | 0.85 | XXX
76529 | TC | A | Echo exam of eye | 0.00 | 2.43 | NA | 0.07 | 2.50 | NA | XXX
76536 |  | A | Us exam of head and neck | 0.56 | 1.55 | NA | 0.09 | 2.20 | NA | XXX
76536 | 26 | A | Us exam of head and neck | 0.56 | 0.20 | 0.20 | 0.02 | 0.78 | 0.78 | XXX
76536 | TC | A | Us exam of head and neck | 0.00 | 1.35 | NA | 0.07 | 1.42 | NA | XXX
76604 |  | A | Us exam, chest, b-scan | 0.55 | 1.43 | NA | 0.08 | 2.06 | NA | XXX
76604 | 26 | A | Us exam, chest, b-scan | 0.55 | 0.19 | 0.19 | 0.02 | 0.76 | 0.76 | XXX
76604 | TC | A | Us exam, chest, b-scan | 0.00 | 1.24 | NA | 0.06 | 1.30 | NA | XXX
76645 |  | A | Us exam, breast(s) | 0.54 | 1.19 | NA | 0.08 | 1.81 | NA | XXX
76645 | 26 | A | Us exam, breast(s) | 0.54 | 0.19 | 0.19 | 0.03 | 0.76 | 0.76 | XXX
76645 | TC | A | Us exam, breast(s) | 0.00 | 1.00 | NA | 0.05 | 1.05 | NA | XXX
76700 |  | A | Us exam, abdom, complete | 0.81 | 2.15 | NA | 0.13 | 3.09 | NA | XXX
76700 | 26 | A | Us exam, abdom, complete | 0.81 | 0.28 | 0.28 | 0.04 | 1.13 | 1.13 | XXX
76700 | TC | A | Us exam, abdom, complete | 0.00 | 1.87 | NA | 0.09 | 1.96 | NA | XXX
76705 |  | A | Us exam, abdom, limited | 0.59 | 1.56 | NA | 0.10 | 2.25 | NA | XXX
76705 | 26 | A | Us exam, abdom, limited | 0.59 | 0.21 | 0.21 | 0.03 | 0.83 | 0.83 | XXX
76705 | TC | A | Us exam, abdom, limited | 0.00 | 1.35 | NA | 0.07 | 1.42 | NA | XXX
76770 |  | A | Us exam abdo back wall, comp | 0.74 | 2.13 | NA | 0.12 | 2.99 | NA | XXX
76770 | 26 | A | Us exam abdo back wall, comp | 0.74 | 0.26 | 0.26 | 0.03 | 1.03 | 1.03 | XXX
76770 | TC | A | Us exam abdo back wall, comp | 0.00 | 1.87 | NA | 0.09 | 1.96 | NA | XXX
76775 |  | A | Us exam abdo back wall, lim | 0.58 | 1.55 | NA | 0.10 | 2.23 | NA | XXX
76775 | 26 | A | Us exam abdo back wall, lim | 0.58 | 0.20 | 0.20 | 0.03 | 0.81 | 0.81 | XXX
76775 | TC | A | Us exam abdo back wall, lim | 0.00 | 1.35 | NA | 0.07 | 1.42 | NA | XXX
76778 |  | A | Us exam kidney transplant | 0.74 | 2.13 | NA | 0.12 | 2.99 | NA | XXX
76778 | 26 | A | Us exam kidney transplant | 0.74 | 0.26 | 0.26 | 0.03 | 1.03 | 1.03 | XXX
76778 | TC | A | Us exam kidney transplant | 0.00 | 1.87 | NA | 0.09 | 1.96 | NA | XXX
76800 |  | A | Us exam, spinal canal | 1.13 | 1.73 | NA | 0.11 | 2.97 | NA | XXX
76800 | 26 | A | Us exam, spinal canal | 1.13 | 0.38 | 0.38 | 0.04 | 1.55 | 1.55 | XXX
76800 | TC | A | Us exam, spinal canal | 0.00 | 1.35 | NA | 0.07 | 1.42 | NA | XXX
76805 |  | A | Us exam, pg uterus, compl | 0.99 | 2.35 | NA | 0.14 | 3.48 | NA | XXX
76805 | 26 | A | Us exam, pg uterus, compl | 0.99 | 0.36 | 0.36 | 0.04 | 1.39 | 1.39 | XXX
76805 | TC | A | Us exam, pg uterus, compl | 0.00 | 1.99 | NA | 0.10 | 2.09 | NA | XXX
76810 |  | A | Us exam, pg uterus, mult | 1.97 | 4.74 | NA | 0.25 | 6.96 | NA | XXX
76810 | 26 | A | Us exam, pg uterus, mult | 1.97 | 0.75 | 0.75 | 0.07 | 2.79 | 2.79 | XXX
76810 | TC | A | Us exam, pg uterus, mult | 0.00 | 3.99 | NA | 0.18 | 4.17 | NA | XXX
76815 |  | A | Us exam, pg uterus limit | 0.65 | 1.60 | NA | 0.09 | 2.34 | NA | XXX
76815 | 26 | A | Us exam, pg uterus limit | 0.65 | 0.25 | 0.25 | 0.02 | 0.92 | 0.92 | XXX
76815 | TC | A | Us exam, pg uterus limit | 0.00 | 1.35 | NA | 0.07 | 1.42 | NA | XXX
76816 |  | A | Us exam pg uterus repeat | 0.57 | 1.28 | NA | 0.07 | 1.92 | NA | XXX
76816 | 26 | A | Us exam pg uterus repeat | 0.57 | 0.22 | 0.22 | 0.02 | 0.81 | 0.81 | XXX
76816 | TC | A | Us exam pg uterus repeat | 0.00 | 1.06 | NA | 0.05 | 1.11 | NA | XXX
76818 |  | A | Fetal biophy profile w/nst | 1.05 | 1.94 | NA | 0.12 | 3.11 | NA | XXX
76818 | 26 | A | Fetal biophy profile w/nst | 1.05 | 0.41 | 0.41 | 0.04 | 1.50 | 1.50 | XXX
76818 | TC | A | Fetal biophy profile w/nst | 0.00 | 1.53 | NA | 0.08 | 1.61 | NA | XXX
76819 |  | A | Fetal biophys profil w/o nst | 0.77 | 1.83 | NA | 0.10 | 2.70 | NA | XXX
76819 | 26 | A | Fetal biophys profil w/o nst | 0.77 | 0.30 | 0.30 | 0.02 | 1.09 | 1.09 | XXX
76819 | TC | A | Fetal biophys profil w/o nst | 0.00 | 1.53 | NA | 0.08 | 1.61 | NA | XXX
76825 |  | A | Echo exam of fetal heart | 1.67 | 2.50 | NA | 0.15 | 4.32 | NA | XXX
76825 | 26 | A | Echo exam of fetal heart | 1.67 | 0.63 | 0.63 | 0.06 | 2.36 | 2.36 | XXX
76825 | TC | A | Echo exam of fetal heart | 0.00 | 1.87 | NA | 0.09 | 1.96 | NA | XXX
76826 |  | A | Echo exam of fetal heart | 0.83 | 0.97 | NA | 0.07 | 1.87 | NA | XXX
76826 | 26 | A | Echo exam of fetal heart | 0.83 | 0.30 | 0.30 | 0.03 | 1.16 | 1.16 | XXX
76826 | TC | A | Echo exam of fetal heart | 0.00 | 0.67 | NA | 0.04 | 0.71 | NA | XXX
76827 |  | A | Echo exam of fetal heart | 0.58 | 1.85 | NA | 0.12 | 2.55 | NA | XXX
76827 | 26 | A | Echo exam of fetal heart | 0.58 | 0.22 | 0.22 | 0.02 | 0.82 | 0.82 | XXX
76827 | TC | A | Echo exam of fetal heart | 0.00 | 1.63 | NA | 0.10 | 1.73 | NA | XXX
76828 |  | A | Echo exam of fetal heart | 0.56 | 1.29 | NA | 0.09 | 1.94 | NA | XXX
76828 | 26 | A | Echo exam of fetal heart | 0.56 | 0.23 | 0.23 | 0.02 | 0.81 | 0.81 | XXX
76828 | TC | A | Echo exam of fetal heart | 0.00 | 1.06 | NA | 0.07 | 1.13 | NA | XXX
76830 |  | A | Us exam, transvaginal | 0.69 | 1.68 | NA | 0.11 | 2.48 | NA | XXX
76830 | 26 | A | Us exam, transvaginal | 0.69 | 0.24 | 0.24 | 0.03 | 0.96 | 0.96 | XXX
76830 | TC | A | Us exam, transvaginal | 0.00 | 1.44 | NA | 0.08 | 1.52 | NA | XXX
76831 |  | A | Echo exam, uterus | 0.72 | 1.71 | NA | 0.10 | 2.53 | NA | XXX
76831 | 26 | A | Echo exam, uterus | 0.72 | 0.27 | 0.27 | 0.02 | 1.01 | 1.01 | XXX
76831 | TC | A | Echo exam, uterus | 0.00 | 1.44 | NA | 0.08 | 1.52 | NA | XXX
76856 |  | A | Us exam, pelvic, complete | 0.69 | 1.68 | NA | 0.11 | 2.48 | NA | XXX
76856 | 26 | A | Us exam, pelvic, complete | 0.69 | 0.24 | 0.24 | 0.03 | 0.96 | 0.96 | XXX
76856 | TC | A | Us exam, pelvic, complete | 0.00 | 1.44 | NA | 0.08 | 1.52 | NA | XXX
76857 |  | A | Us exam, pelvic, limited | 0.38 | 1.13 | NA | 0.07 | 1.58 | NA | XXX
76857 | 26 | A | Us exam, pelvic, limited | 0.38 | 0.13 | 0.13 | 0.02 | 0.53 | 0.53 | XXX
76857 | TC | A | Us exam, pelvic, limited | 0.00 | 1.00 | NA | 0.05 | 1.05 | NA | XXX
76870 |  | A | Us exam, scrotum | 0.64 | 1.66 | NA | 0.11 | 2.41 | NA | XXX
76870 | 26 | A | Us exam, scrotum | 0.64 | 0.22 | 0.22 | 0.03 | 0.89 | 0.89 | XXX
76870 | TC | A | Us exam, scrotum | 0.00 | 1.44 | NA | 0.08 | 1.52 | NA | XXX
76872 |  | A | Echo exam, transrectal | 0.69 | 1.68 | NA | 0.12 | 2.49 | NA | XXX
76872 | 26 | A | Echo exam, transrectal | 0.69 | 0.24 | 0.24 | 0.04 | 0.97 | 0.97 | XXX
76872 | TC | A | Echo exam, transrectal | 0.00 | 1.44 | NA | 0.08 | 1.52 | NA | XXX
76873 |  | A | Echograp trans r, pros study | 1.55 | 2.53 | NA | 0.21 | 4.29 | NA | XXX
76873 | 26 | A | Echograp trans r, pros study | 1.55 | 0.54 | 0.54 | 0.08 | 2.17 | 2.17 | XXX
76873 | TC | A | Echograp trans r, pros study | 0.00 | 1.99 | NA | 0.13 | 2.12 | NA | XXX
76880 |  | A | Us exam, extremity | 0.59 | 1.56 | NA | 0.10 | 2.25 | NA | XXX
76880 | 26 | A | Us exam, extremity | 0.59 | 0.21 | 0.21 | 0.03 | 0.83 | 0.83 | XXX
76880 | TC | A | Us exam, extremity | 0.00 | 1.35 | NA | 0.07 | 1.42 | NA | XXX
76885 |  | A | Us exam infant hips, dynamic | 0.74 | 1.70 | NA | 0.11 | 2.55 | NA | XXX
6885 | 26 | A | Us exam infant hips, dynamic | 0.74 | 0.26 | 0.26 | 0.03 | 1.03 | 1.03 | XXX
76885 | TC | A | Us exam infant hips, dynamic | 0.00 | 1.44 | NA | 0.08 | 1.52 | NA | XXX
76886 |  | A | Us exam infant hips, static | 0.62 | 1.57 | NA | 0.10 | 2.29 | NA | XXX
76886 | 26 | A | Us exam infant hips, static | 0.62 | 0.22 | 0.22 | 0.03 | 0.87 | 0.87 | XXX
76886 | TC | A | Us exam infant hips, static | 0.00 | 1.35 | NA | 0.07 | 1.42 | NA | XXX
76930 |  | A | Echo guide, cardiocentesis | 0.67 | 1.71 | NA | 0.10 | 2.48 | NA | XXX
76930 | 26 | A | Echo guide, cardiocentesis | 0.67 | 0.27 | 0.27 | 0.02 | 0.96 | 0.96 | XXX
76930 | TC | A | Echo guide, cardiocentesis | 0.00 | 1.44 | NA | 0.08 | 1.52 | NA | XXX
76932 |  | A | Echo guide for heart biopsy | 0.67 | 1.71 | NA | 0.10 | 2.48 | NA | XXX
76932 | 26 | A | Echo guide for heart biopsy | 0.67 | 0.27 | 0.27 | 0.02 | 0.96 | 0.96 | XXX
76932 | TC | A | Echo guide for heart biopsy | 0.00 | 1.44 | NA | 0.08 | 1.52 | NA | XXX
76936 |  | A | Echo guide for artery repair | 1.99 | 6.68 | NA | 0.39 | 9.06 | NA | XXX
76936 | 26 | A | Echo guide for artery repair | 1.99 | 0.70 | 0.70 | 0.11 | 2.80 | 2.80 | XXX
76936 | TC | A | Echo guide for artery repair | 0.00 | 5.98 | NA | 0.28 | 6.26 | NA | XXX
76941 |  | A | Echo guide for transfusion | 1.34 | 1.98 | NA | 0.13 | 3.45 | NA | XXX
76941 | 26 | A | Echo guide for transfusion | 1.34 | 0.53 | 0.53 | 0.06 | 1.93 | 1.93 | XXX
76941 | TC | A | Echo guide for transfusion | 0.00 | 1.45 | NA | 0.07 | 1.52 | NA | XXX
76942 |  | A | Echo guide for biopsy | 0.67 | 1.67 | NA | 0.12 | 2.46 | NA | XXX
76942 | 26 | A | Echo guide for biopsy | 0.67 | 0.23 | 0.23 | 0.04 | 0.94 | 0.94 | XXX
76942 | TC | A | Echo guide for biopsy | 0.00 | 1.44 | NA | 0.08 | 1.52 | NA | XXX
76945 |  | A | Echo guide, villus sampling | 0.67 | 1.69 | NA | 0.10 | 2.46 | NA | XXX
76945 | 26 | A | Echo guide, villus sampling | 0.67 | 0.24 | 0.24 | 0.03 | 0.94 | 0.94 | XXX
76945 | TC | A | Echo guide, villus sampling | 0.00 | 1.45 | NA | 0.07 | 1.52 | NA | XXX
76946 |  | A | Echo guide for amniocentesis | 0.38 | 1.59 | NA | 0.09 | 2.06 | NA | XXX
76946 | 26 | A | Echo guide for amniocentesis | 0.38 | 0.15 | 0.15 | 0.01 | 0.54 | 0.54 | XXX
76946 | TC | A | Echo guide for amniocentesis | 0.00 | 1.44 | NA | 0.08 | 1.52 | NA | XXX
76948 |  | A | Echo guide, ova aspiration | 0.38 | 1.57 | NA | 0.10 | 2.05 | NA | XXX
76948 | 26 | A | Echo guide, ova aspiration | 0.38 | 0.13 | 0.13 | 0.02 | 0.53 | 0.53 | XXX
76948 | TC | A | Echo guide, ova aspiration | 0.00 | 1.44 | NA | 0.08 | 1.52 | NA | XXX
76950 |  | A | Echo guidance radiotherapy | 0.58 | 1.45 | NA | 0.09 | 2.12 | NA | XXX
76950 | 26 | A | Echo guidance radiotherapy | 0.58 | 0.21 | 0.21 | 0.03 | 0.82 | 0.82 | XXX
76950 | TC | A | Echo guidance radiotherapy | 0.00 | 1.24 | NA | 0.06 | 1.30 | NA | XXX
76965 |  | A | Echo guidance radiotherapy | 1.34 | 5.75 | NA | 0.31 | 7.40 | NA | XXX
76965 | 26 | A | Echo guidance radiotherapy | 1.34 | 0.46 | 0.46 | 0.07 | 1.87 | 1.87 | XXX
76965 | TC | A | Echo guidance radiotherapy | 0.00 | 5.29 | NA | 0.24 | 5.53 | NA | XXX
76970 |  | A | Ultrasound exam follow-up | 0.40 | 1.14 | NA | 0.07 | 1.61 | NA | XXX
76970 | 26 | A | Ultrasound exam follow-up | 0.40 | 0.14 | 0.14 | 0.02 | 0.56 | 0.56 | XXX
76970 | TC | A | Ultrasound exam follow-up | 0.00 | 1.00 | NA | 0.05 | 1.05 | NA | XXX
76975 |  | A | GI endoscopic ultrasound | 0.81 | 1.73 | NA | 0.11 | 2.65 | NA | XXX
76975 | 26 | A | GI endoscopic ultrasound | 0.81 | 0.29 | 0.29 | 0.03 | 1.13 | 1.13 | XXX
76975 | TC | A | GI endoscopic ultrasound | 0.00 | 1.44 | NA | 0.08 | 1.52 | NA | XXX
76977 |  | A | Us bone density measure | 0.05 | 0.80 | NA | 0.05 | 0.90 | NA | XXX
76977 | 26 | A | Us bone density measure | 0.05 | 0.02 | 0.02 | 0.01 | 0.08 | 0.08 | XXX
76977 | TC | A | Us bone density measure | 0.00 | 0.78 | NA | 0.04 | 0.82 | NA | XXX
76986 |  | A | Ultrasound guide intraoper | 1.20 | 2.91 | NA | 0.19 | 4.30 | NA | XXX
76986 | 26 | A | Ultrasound guide intraoper | 1.20 | 0.42 | 0.42 | 0.07 | 1.69 | 1.69 | XXX
76986 | TC | A | Ultrasound guide intraoper | 0.00 | 2.49 | NA | 0.12 | 2.61 | NA | XXX
76999 |  | C | Echo examination procedure | 0.00 | 0.00 | 0.00 | 0.00 | 0.00 | 0.00 | XXX
76999 | 26 | C | Echo examination procedure | 0.00 | 0.00 | 0.00 | 0.00 | 0.00 | 0.00 | XXX
76999 | TC | C | Echo examination procedure | 0.00 | 0.00 | 0.00 | 0.00 | 0.00 | 0.00 | XXX
77261 |  | A | Radiation therapy planning | 1.39 | 0.56 | 0.56 | 0.06 | 2.01 | 2.01 | XXX
77262 |  | A | Radiation therapy planning | 2.11 | 0.82 | 0.82 | 0.09 | 3.02 | 3.02 | XXX
77263 |  | A | Radiation therapy planning | 3.14 | 1.23 | 1.23 | 0.13 | 4.50 | 4.50 | XXX
77280 |  | A | Set radiation therapy field | 0.70 | 3.55 | NA | 0.18 | 4.43 | NA | XXX
77280 | 26 | A | Set radiation therapy field | 0.70 | 0.25 | 0.25 | 0.03 | 0.98 | 0.98 | XXX
77280 | TC | A | Set radiation therapy field | 0.00 | 3.30 | NA | 0.15 | 3.45 | NA | XXX
77285 |  | A | Set radiation therapy field | 1.05 | 5.67 | NA | 0.29 | 7.01 | NA | XXX
77285 | 26 | A | Set radiation therapy field | 1.05 | 0.38 | 0.38 | 0.04 | 1.47 | 1.47 | XXX
77285 | TC | A | Set radiation therapy field | 0.00 | 5.29 | NA | 0.25 | 5.54 | NA | XXX
77290 |  | A | Set radiation therapy field | 1.56 | 6.74 | NA | 0.35 | 8.65 | NA | XXX
77290 | 26 | A | Set radiation therapy field | 1.56 | 0.56 | 0.56 | 0.06 | 2.18 | 2.18 | XXX
77290 | TC | A | Set radiation therapy field | 0.00 | 6.18 | NA | 0.29 | 6.47 | NA | XXX
77295 |  | A | Set radiation therapy field | 4.57 | 28.18 | NA | 1.41 | 34.16 | NA | XXX
77295 | 26 | A | Set radiation therapy field | 4.57 | 1.65 | 1.65 | 0.18 | 6.40 | 6.40 | XXX
77295 | TC | A | Set radiation therapy field | 0.00 | 26.53 | NA | 1.23 | 27.76 | NA | XXX
77299 |  | C | Radiation therapy planning | 0.00 | 0.00 | 0.00 | 0.00 | 0.00 | 0.00 | XXX
77299 | 26 | C | Radiation therapy planning | 0.00 | 0.00 | 0.00 | 0.00 | 0.00 | 0.00 | XXX
77299 | TC | C | Radiation therapy planning | 0.00 | 0.00 | 0.00 | 0.00 | 0.00 | 0.00 | XXX
77300 |  | A | Radiation therapy dose plan | 0.62 | 1.50 | NA | 0.09 | 2.21 | NA | XXX
77300 | 26 | A | Radiation therapy dose plan | 0.62 | 0.22 | 0.22 | 0.03 | 0.87 | 0.87 | XXX
77300 | TC | A | Radiation therapy dose plan | 0.00 | 1.28 | NA | 0.06 | 1.34 | NA | XXX
77301 |  | A | Radioltherapy dos plan, imrt | 8.00 | 29.72 | NA | 1.41 | 39.13 | NA | XXX
77301 | 26 | A | Radioltherapy dos plan, imrt | 8.00 | 3.19 | 3.19 | 0.18 | 11.37 | 11.37 | XXX
77301 | TC | A | Radioltherapy dos plan, imrt | 0.00 | 26.53 | NA | 1.23 | 27.76 | NA | XXX
77305 |  | A | Radiation therapy dose plan | 0.70 | 2.01 | NA | 0.12 | 2.83 | NA | XXX
77305 | 26 | A | Radiation therapy dose plan | 0.70 | 0.25 | 0.25 | 0.03 | 0.98 | 0.98 | XXX
77305 | TC | A | Radiation therapy dose plan | 0.00 | 1.76 | NA | 0.09 | 1.85 | NA | XXX
77310 |  | A | Radiation therapy dose plan | 1.05 | 2.59 | NA | 0.15 | 3.79 | NA | XXX
77310 | 26 | A | Radiation therapy dose plan | 1.05 | 0.38 | 0.38 | 0.04 | 1.47 | 1.47 | XXX
77310 | TC | A | Radiation therapy dose plan | 0.00 | 2.21 | NA | 0.11 | 2.32 | NA | XXX
77315 |  | A | Radiation therapy dose plan | 1.56 | 3.09 | NA | 0.18 | 4.83 | NA | XXX
77315 | 26 | A | Radiation therapy dose plan | 1.56 | 0.56 | 0.56 | 0.06 | 2.18 | 2.18 | XXX
77315 | TC | A | Radiation therapy dose plan | 0.00 | 2.53 | NA | 0.12 | 2.65 | NA | XXX
77321 |  | A | Radiation therapy port plan | 0.95 | 4.18 | NA | 0.21 | 5.34 | NA | XXX
77321 | 26 | A | Radiation therapy port plan | 0.95 | 0.34 | 0.34 | 0.04 | 1.33 | 1.33 | XXX
77321 | TC | A | Radiation therapy port plan | 0.00 | 3.84 | NA | 0.17 | 4.01 | NA | XXX
77326 |  | A | Radiation therapy dose plan | 0.93 | 2.58 | NA | 0.15 | 3.66 | NA | XXX
77326 | 26 | A | Radiation therapy dose plan | 0.93 | 0.34 | 0.34 | 0.04 | 1.31 | 1.31 | XXX
77326 | TC | A | Radiation therapy dose plan | 0.00 | 2.24 | NA | 0.11 | 2.35 | NA | XXX
77327 |  | A | Radiation therapy dose plan | 1.39 | 3.80 | NA | 0.21 | 5.40 | NA | XXX
77327 | 26 | A | Radiation therapy dose plan | 1.39 | 0.50 | 0.50 | 0.06 | 1.95 | 1.95 | XXX
77327 | TC | A | Radiation therapy dose plan | 0.00 | 3.30 | NA | 0.15 | 3.45 | NA | XXX
77328 |  | A | Radiation therapy dose plan | 2.09 | 5.46 | NA | 0.30 | 7.85 | NA | XXX
77328 | 26 | A | Radiation therapy dose plan | 2.09 | 0.75 | 0.75 | 0.09 | 2.93 | 2.93 | XXX
77328 | TC | A | Radiation therapy dose plan | 0.00 | 4.71 | NA | 0.21 | 4.92 | NA | XXX
77331 |  | A | Special radiation dosimetry | 0.87 | 0.79 | NA | 0.06 | 1.72 | NA | XXX
77331 | 26 | A | Special radiation dosimetry | 0.87 | 0.31 | 0.31 | 0.04 | 1.22 | 1.22 | XXX
77331 | TC | A | Special radiation dosimetry | 0.00 | 0.48 | NA | 0.02 | 0.50 | NA | XXX
77332 |  | A | Radiation treatment aid(s) | 0.54 | 1.47 | NA | 0.08 | 2.09 | NA | XXX
77332 | 26 | A | Radiation treatment aid(s) | 0.54 | 0.19 | 0.19 | 0.02 | 0.75 | 0.75 | XXX
77332 | TC | A | Radiation treatment aid(s) | 0.00 | 1.28 | NA | 0.06 | 1.34 | NA | XXX
77333 |  | A | Radiation treatment aid(s) | 0.84 | 2.10 | NA | 0.13 | 3.07 | NA | XXX
77333 | 26 | A | Radiation treatment aid(s) | 0.84 | 0.30 | 0.30 | 0.04 | 1.18 | 1.18 | XXX
77333 | TC | A | Radiation treatment aid(s) | 0.00 | 1.80 | NA | 0.09 | 1.89 | NA | XXX
77334 |  | A | Radiation treatment aid(s) | 1.24 | 3.54 | NA | 0.19 | 4.97 | NA | XXX
77334 | 26 | A | Radiation treatment aid(s) | 1.24 | 0.45 | 0.45 | 0.05 | 1.74 | 1.74 | XXX
77334 | TC | A | Radiation treatment aid(s) | 0.00 | 3.09 | NA | 0.14 | 3.23 | NA | XXX
77336 |  | A | Radiation physics consult | 0.00 | 2.83 | NA | 0.13 | 2.96 | NA | XXX
77370 |  | A | Radiation physics consult | 0.00 | 3.31 | NA | 0.15 | 3.46 | NA | XXX
77399 |  | C | External radiation dosimetry | 0.00 | 0.00 | 0.00 | 0.00 | 0.00 | 0.00 | XXX
77399 | 26 | C | External radiation dosimetry | 0.00 | 0.00 | 0.00 | 0.00 | 0.00 | 0.00 | XXX
77399 | TC | C | External radiation dosimetry | 0.00 | 0.00 | 0.00 | 0.00 | 0.00 | 0.00 | XXX
77401 |  | A | Radiation treatment delivery | 0.00 | 1.68 | NA | 0.09 | 1.77 | NA | XXX
77402 |  | A | Radiation treatment delivery | 0.00 | 1.68 | NA | 0.09 | 1.77 | NA | XXX
77403 |  | A | Radiation treatment delivery | 0.00 | 1.68 | NA | 0.09 | 1.77 | NA | XXX
77404 |  | A | Radiation treatment delivery | 0.00 | 1.68 | NA | 0.09 | 1.77 | NA | XXX
77406 |  | A | Radiation treatment delivery | 0.00 | 1.68 | NA | 0.09 | 1.77 | NA | XXX
77407 |  | A | Radiation treatment delivery | 0.00 | 1.98 | NA | 0.10 | 2.08 | NA | XXX
77408 |  | A | Radiation treatment delivery | 0.00 | 1.98 | NA | 0.10 | 2.08 | NA | XXX
77409 |  | A | Radiation treatment delivery | 0.00 | 1.98 | NA | 0.10 | 2.08 | NA | XXX
77411 |  | A | Radiation treatment delivery | 0.00 | 1.98 | NA | 0.10 | 2.08 | NA | XXX
77412 |  | A | Radiation treatment delivery | 0.00 | 2.21 | NA | 0.11 | 2.32 | NA | XXX
77413 |  | A | Radiation treatment delivery | 0.00 | 2.21 | NA | 0.11 | 2.32 | NA | XXX
77414 |  | A | Radiation treatment delivery | 0.00 | 2.21 | NA | 0.11 | 2.32 | NA | XXX
77416 |  | A | Radiation treatment delivery | 0.00 | 2.21 | NA | 0.11 | 2.32 | NA | XXX
77417 |  | A | Radiology port film(s) | 0.00 | 0.56 | NA | 0.03 | 0.59 | NA | XXX
77418 |  | A | Radiation tx delivery, imrt | 0.00 | 16.07 | NA | 0.11 | 16.18 | NA | XXX
77427 |  | A | Radiation tx management, x5 | 3.31 | 1.19 | 1.19 | 0.14 | 4.64 | 4.64 | XXX
77431 |  | A | Radiation therapy management | 1.81 | 0.73 | 0.73 | 0.07 | 2.61 | 2.61 | XXX
77432 |  | A | Stereotactic radiation trmt | 7.93 | 3.25 | 3.25 | 0.33 | 11.51 | 11.51 | XXX
77470 |  | A | Special radiation treatment | 2.09 | 11.34 | NA | 0.58 | 14.01 | NA | XXX
77470 | 26 | A | Special radiation treatment | 2.09 | 0.75 | 0.75 | 0.09 | 2.93 | 2.93 | XXX
77470 | TC | A | Special radiation treatment | 0.00 | 10.59 | NA | 0.49 | 11.08 | NA | XXX
77499 |  | C | Radiation therapy management | 0.00 | 0.00 | 0.00 | 0.00 | 0.00 | 0.00 | XXX
77499 | 26 | C | Radiation therapy management | 0.00 | 0.00 | 0.00 | 0.00 | 0.00 | 0.00 | XXX
77499 | TC | C | Radiation therapy management | 0.00 | 0.00 | 0.00 | 0.00 | 0.00 | 0.00 | XXX
77520 |  | C | Proton trmt, simple w/o comp | 0.00 | 0.00 | 0.00 | 0.00 | 0.00 | 0.00 | XXX
77522 |  | C | Proton trmt, simple w/comp | 0.00 | 0.00 | 0.00 | 0.00 | 0.00 | 0.00 | XXX
77523 |  | C | Proton trmt, intermediate | 0.00 | 0.00 | 0.00 | 0.00 | 0.00 | 0.00 | XXX
77525 |  | C | Proton treatment, complex | 0.00 | 0.00 | 0.00 | 0.00 | 0.00 | 0.00 | XXX
77600 |  | R | Hyperthermia treatment | 1.56 | 3.44 | NA | 0.21 | 5.21 | NA | XXX
77600 | 26 | R | Hyperthermia treatment | 1.56 | 0.55 | 0.55 | 0.08 | 2.19 | 2.19 | XXX
77600 | TC | R | Hyperthermia treatment | 0.00 | 2.89 | NA | 0.13 | 3.02 | NA | XXX
77605 |  | R | Hyperthermia treatment | 2.09 | 4.62 | NA | 0.31 | 7.02 | NA | XXX
77605 | 26 | R | Hyperthermia treatment | 2.09 | 0.76 | 0.76 | 0.13 | 2.98 | 2.98 | XXX
77605 | TC | R | Hyperthermia treatment | 0.00 | 3.86 | NA | 0.18 | 4.04 | NA | XXX
77610 |  | R | Hyperthermia treatment | 1.56 | 3.44 | NA | 0.20 | 5.20 | NA | XXX
77610 | 26 | R | Hyperthermia treatment | 1.56 | 0.55 | 0.55 | 0.07 | 2.18 | 2.18 | XXX
77610 | TC | R | Hyperthermia treatment | 0.00 | 2.89 | NA | 0.13 | 3.02 | NA | XXX
77615 |  | R | Hyperthermia treatment | 2.09 | 4.60 | NA | 0.27 | 6.96 | NA | XXX
77615 | 26 | R | Hyperthermia treatment | 2.09 | 0.74 | 0.74 | 0.09 | 2.92 | 2.92 | XXX
77615 | TC | R | Hyperthermia treatment | 0.00 | 3.86 | NA | 0.18 | 4.04 | NA | XXX
77620 |  | R | Hyperthermia treatment | 1.56 | 3.47 | NA | 0.19 | 5.22 | NA | XXX
77620 | 26 | R | Hyperthermia treatment | 1.56 | 0.58 | 0.58 | 0.06 | 2.20 | 2.20 | XXX
77620 | TC | R | Hyperthermia treatment | 0.00 | 2.89 | NA | 0.13 | 3.02 | NA | XXX
77750 |  | A | Infuse radioactive materials | 4.91 | 3.04 | NA | 0.23 | 8.18 | NA | 090
77750 | 26 | A | Infuse radioactive materials | 4.91 | 1.77 | 1.77 | 0.17 | 6.85 | 6.85 | 090
77750 | TC | A | Infuse radioactive materials | 0.00 | 1.27 | NA | 0.06 | 1.33 | NA | 090
77761 |  | A | Apply intrcav radiat simple | 3.81 | 3.51 | NA | 0.28 | 7.60 | NA | 090
77761 | 26 | A | Apply intrcav radiat simple | 3.81 | 1.13 | 1.13 | 0.16 | 5.10 | 5.10 | 090
77761 | TC | A | Apply intrcav radiat simple | 0.00 | 2.38 | NA | 0.12 | 2.50 | NA | 090
77762 |  | A | Apply intrcav radiat interm | 5.72 | 5.42 | NA | 0.38 | 11.52 | NA | 090
77762 | 26 | A | Apply intrcav radiat interm | 5.72 | 1.99 | 1.99 | 0.22 | 7.93 | 7.93 | 090
77762 | TC | A | Apply intrcav radiat interm | 0.00 | 3.43 | NA | 0.16 | 3.59 | NA | 090
77763 |  | A | Apply intrcav radiat compl | 8.57 | 7.38 | NA | 0.53 | 16.48 | NA | 090
77763 | 26 | A | Apply intrcav radiat compl | 8.57 | 3.12 | 3.12 | 0.34 | 12.03 | 12.03 | 090
77763 | TC | A | Apply intrcav radiat compl | 0.00 | 4.26 | NA | 0.19 | 4.45 | NA | 090
77776 |  | A | Apply interstit radiat simpl | 4.66 | 3.72 | NA | 0.35 | 8.73 | NA | 090
77776 | 26 | A | Apply interstit radiat simpl | 4.66 | 1.65 | 1.65 | 0.24 | 6.55 | 6.55 | 090
77776 | TC | A | Apply interstit radiat simpl | 0.00 | 2.07 | NA | 0.11 | 2.18 | NA | 090
77777 |  | A | Apply interstit radiat inter | 7.48 | 6.37 | NA | 0.50 | 14.35 | NA | 090
77777 | 26 | A | Apply interstit radiat inter | 7.48 | 2.35 | 2.35 | 0.32 | 10.15 | 10.15 | 090
77777 | TC | A | Apply interstit radiat inter | 0.00 | 4.02 | NA | 0.18 | 4.20 | NA | 090
77778 |  | A | Apply iterstit radiat compl | 11.19 | 8.90 | NA | 0.69 | 20.78 | NA | 090
77778 | 26 | A | Apply iterstit radiat compl | 11.19 | 4.02 | 4.02 | 0.47 | 15.68 | 15.68 | 090
77778 | TC | A | Apply iterstit radiat compl | 0.00 | 4.88 | NA | 0.22 | 5.10 | NA | 090
77781 |  | A | High intensity brachytherapy | 1.66 | 19.88 | NA | 0.95 | 22.49 | NA | 090
77781 | 26 | A | High intensity brachytherapy | 1.66 | 0.60 | 0.60 | 0.07 | 2.33 | 2.33 | 090
77781 | TC | A | High intensity brachytherapy | 0.00 | 19.28 | NA | 0.88 | 20.16 | NA | 090
77782 |  | A | High intensity brachytherapy | 2.49 | 20.18 | NA | 0.98 | 23.65 | NA | 090
77782 | 26 | A | High intensity brachytherapy | 2.49 | 0.90 | 0.90 | 0.10 | 3.49 | 3.49 | 090
77782 | TC | A | High intensity brachytherapy | 0.00 | 19.28 | NA | 0.88 | 20.16 | NA | 090
77783 |  | A | High intensity brachytherapy | 3.73 | 20.62 | NA | 1.03 | 25.38 | NA | 090
77783 | 26 | A | High intensity brachytherapy | 3.73 | 1.34 | 1.34 | 0.15 | 5.22 | 5.22 | 090
77783 | TC | A | High intensity brachytherapy | 0.00 | 19.28 | NA | 0.88 | 20.16 | NA | 090
77784 |  | A | High intensity brachytherapy | 5.61 | 21.30 | NA | 1.10 | 28.01 | NA | 090
77784 | 26 | A | High intensity brachytherapy | 5.61 | 2.02 | 2.02 | 0.22 | 7.85 | 7.85 | 090
77784 | TC | A | High intensity brachytherapy | 0.00 | 19.28 | NA | 0.88 | 20.16 | NA | 090
77789 |  | A | Apply surface radiation | 1.12 | 0.84 | NA | 0.05 | 2.01 | NA | 090
77789 | 26 | A | Apply surface radiation | 1.12 | 0.41 | 0.41 | 0.03 | 1.56 | 1.56 | 090
77789 | TC | A | Apply surface radiation | 0.00 | 0.43 | NA | 0.02 | 0.45 | NA | 090
77790 |  | A | Radiation handling | 1.05 | 0.86 | NA | 0.06 | 1.97 | NA | XXX
77790 | 26 | A | Radiation handling | 1.05 | 0.38 | 0.38 | 0.04 | 1.47 | 1.47 | XXX
77790 | TC | A | Radiation handling | 0.00 | 0.48 | NA | 0.02 | 0.50 | NA | XXX
77799 |  | C | Radium/radioisotope therapy | 0.00 | 0.00 | 0.00 | 0.00 | 0.00 | 0.00 | XXX
77799 | 26 | C | Radium/radioisotope therapy | 0.00 | 0.00 | 0.00 | 0.00 | 0.00 | 0.00 | XXX
77799 | TC | C | Radium/radioisotope therapy | 0.00 | 0.00 | 0.00 | 0.00 | 0.00 | 0.00 | XXX
78000 |  | A | Thyroid, single uptake | 0.19 | 0.99 | NA | 0.06 | 1.24 | NA | XXX
78000 | 26 | A | Thyroid, single uptake | 0.19 | 0.07 | 0.07 | 0.01 | 0.27 | 0.27 | XXX
78000 | TC | A | Thyroid, single uptake | 0.00 | 0.92 | NA | 0.05 | 0.97 | NA | XXX
78001 |  | A | Thyroid, multiple uptakes | 0.26 | 1.33 | NA | 0.07 | 1.66 | NA | XXX
78001 | 26 | A | Thyroid, multiple uptakes | 0.26 | 0.09 | 0.09 | 0.01 | 0.36 | 0.36 | XXX
78001 | TC | A | Thyroid, multiple uptakes | 0.00 | 1.24 | NA | 0.06 | 1.30 | NA | XXX
78003 |  | A | Thyroid suppress/stimul | 0.33 | 1.04 | NA | 0.06 | 1.43 | NA | XXX
78003 | 26 | A | Thyroid suppress/stimul | 0.33 | 0.12 | 0.12 | 0.01 | 0.46 | 0.46 | XXX
78003 | TC | A | Thyroid suppress/stimul | 0.00 | 0.92 | NA | 0.05 | 0.97 | NA | XXX
78006 |  | A | Thyroid imaging with uptake | 0.49 | 2.44 | NA | 0.13 | 3.06 | NA | XXX
78006 | 26 | A | Thyroid imaging with uptake | 0.49 | 0.18 | 0.18 | 0.02 | 0.69 | 0.69 | XXX
78006 | TC | A | Thyroid imaging with uptake | 0.00 | 2.26 | NA | 0.11 | 2.37 | NA | XXX
78007 |  | A | Thyroid image, mult uptakes | 0.50 | 2.62 | NA | 0.14 | 3.26 | NA | XXX
78007 | 26 | A | Thyroid image, mult uptakes | 0.50 | 0.18 | 0.18 | 0.02 | 0.70 | 0.70 | XXX
78007 | TC | A | Thyroid image, mult uptakes | 0.00 | 2.44 | NA | 0.12 | 2.56 | NA | XXX
78010 |  | A | Thyroid imaging | 0.39 | 1.87 | NA | 0.11 | 2.37 | NA | XXX
78010 | 26 | A | Thyroid imaging | 0.39 | 0.14 | 0.14 | 0.02 | 0.55 | 0.55 | XXX
78010 | TC | A | Thyroid imaging | 0.00 | 1.73 | NA | 0.09 | 1.82 | NA | XXX
78011 |  | A | Thyroid imaging with flow | 0.45 | 2.45 | NA | 0.13 | 3.03 | NA | XXX
78011 | 26 | A | Thyroid imaging with flow | 0.45 | 0.16 | 0.16 | 0.02 | 0.63 | 0.63 | XXX
78011 | TC | A | Thyroid imaging with flow | 0.00 | 2.29 | NA | 0.11 | 2.40 | NA | XXX
78015 |  | A | Thyroid met imaging | 0.67 | 2.68 | NA | 0.15 | 3.50 | NA | XXX
78015 | 26 | A | Thyroid met imaging | 0.67 | 0.24 | 0.24 | 0.03 | 0.94 | 0.94 | XXX
78015 | TC | A | Thyroid met imaging | 0.00 | 2.44 | NA | 0.12 | 2.56 | NA | XXX
78016 |  | A | Thyroid met imaging/studies | 0.82 | 3.62 | NA | 0.18 | 4.62 | NA | XXX
78016 | 26 | A | Thyroid met imaging/studies | 0.82 | 0.31 | 0.31 | 0.03 | 1.16 | 1.16 | XXX
78016 | TC | A | Thyroid met imaging/studies | 0.00 | 3.31 | NA | 0.15 | 3.46 | NA | XXX
78018 |  | A | Thyroid met imaging, body | 0.86 | 5.47 | NA | 0.27 | 6.60 | NA | XXX
78018 | 26 | A | Thyroid met imaging, body | 0.86 | 0.32 | 0.32 | 0.03 | 1.21 | 1.21 | XXX
78018 | TC | A | Thyroid met imaging, body | 0.00 | 5.15 | NA | 0.24 | 5.39 | NA | XXX
78020 |  | A | Thyroid met uptake | 0.60 | 1.47 | NA | 0.14 | 2.21 | NA | ZZZ
78020 | 26 | A | Thyroid met uptake | 0.60 | 0.23 | 0.23 | 0.02 | 0.85 | 0.85 | ZZZ
78020 | TC | A | Thyroid met uptake | 0.00 | 1.24 | NA | 0.12 | 1.36 | NA | ZZZ
78070 |  | A | Parathyroid nuclear imaging | 0.82 | 2.03 | NA | 0.12 | 2.97 | NA | XXX
78070 | 26 | A | Parathyroid nuclear imaging | 0.82 | 0.30 | 0.30 | 0.03 | 1.15 | 1.15 | XXX
78070 | TC | A | Parathyroid nuclear imaging | 0.00 | 1.73 | NA | 0.09 | 1.82 | NA | XXX
78075 |  | A | Adrenal nuclear imaging | 0.74 | 5.44 | NA | 0.27 | 6.45 | NA | XXX
78075 | 26 | A | Adrenal nuclear imaging | 0.74 | 0.29 | 0.29 | 0.03 | 1.06 | 1.06 | XXX
78075 | TC | A | Adrenal nuclear imaging | 0.00 | 5.15 | NA | 0.24 | 5.39 | NA | XXX
78099 |  | C | Endocrine nuclear procedure | 0.00 | 0.00 | 0.00 | 0.00 | 0.00 | 0.00 | XXX
78099 | 26 | C | Endocrine nuclear procedure | 0.00 | 0.00 | 0.00 | 0.00 | 0.00 | 0.00 | XXX
78099 | TC | C | Endocrine nuclear procedure | 0.00 | 0.00 | 0.00 | 0.00 | 0.00 | 0.00 | XXX
78102 |  | A | Bone marrow imaging, ltd | 0.55 | 2.15 | NA | 0.12 | 2.82 | NA | XXX
78102 | 26 | A | Bone marrow imaging, ltd | 0.55 | 0.21 | 0.21 | 0.02 | 0.78 | 0.78 | XXX
78102 | TC | A | Bone marrow imaging, ltd | 0.00 | 1.94 | NA | 0.10 | 2.04 | NA | XXX
78103 |  | A | Bone marrow imaging, mult | 0.75 | 3.28 | NA | 0.17 | 4.20 | NA | XXX
78103 | 26 | A | Bone marrow imaging, mult | 0.75 | 0.27 | 0.27 | 0.03 | 1.05 | 1.05 | XXX
78103 | TC | A | Bone marrow imaging, mult | 0.00 | 3.01 | NA | 0.14 | 3.15 | NA | XXX
78104 |  | A | Bone marrow imaging, body | 0.80 | 4.16 | NA | 0.21 | 5.17 | NA | XXX
78104 | 26 | A | Bone marrow imaging, body | 0.80 | 0.29 | 0.29 | 0.03 | 1.12 | 1.12 | XXX
78104 | TC | A | Bone marrow imaging, body | 0.00 | 3.87 | NA | 0.18 | 4.05 | NA | XXX
78110 |  | A | Plasma volume, single | 0.19 | 0.97 | NA | 0.06 | 1.22 | NA | XXX
78110 | 26 | A | Plasma volume, single | 0.19 | 0.07 | 0.07 | 0.01 | 0.27 | 0.27 | XXX
78110 | TC | A | Plasma volume, single | 0.00 | 0.90 | NA | 0.05 | 0.95 | NA | XXX
78111 |  | A | Plasma volume, multiple | 0.22 | 2.52 | NA | 0.13 | 2.87 | NA | XXX
78111 | 26 | A | Plasma volume, multiple | 0.22 | 0.08 | 0.08 | 0.01 | 0.31 | 0.31 | XXX
78111 | TC | A | Plasma volume, multiple | 0.00 | 2.44 | NA | 0.12 | 2.56 | NA | XXX
78120 |  | A | Red cell mass, single | 0.23 | 1.73 | NA | 0.10 | 2.06 | NA | XXX
78120 | 26 | A | Red cell mass, single | 0.23 | 0.09 | 0.09 | 0.01 | 0.33 | 0.33 | XXX
78120 | TC | A | Red cell mass, single | 0.00 | 1.64 | NA | 0.09 | 1.73 | NA | XXX
78121 |  | A | Red cell mass, multiple | 0.32 | 2.88 | NA | 0.13 | 3.33 | NA | XXX
78121 | 26 | A | Red cell mass, multiple | 0.32 | 0.12 | 0.12 | 0.01 | 0.45 | 0.45 | XXX
78121 | TC | A | Red cell mass, multiple | 0.00 | 2.76 | NA | 0.12 | 2.88 | NA | XXX
78122 |  | A | Blood volume | 0.45 | 4.54 | NA | 0.22 | 5.21 | NA | XXX
78122 | 26 | A | Blood volume | 0.45 | 0.17 | 0.17 | 0.02 | 0.64 | 0.64 | XXX
78122 | TC | A | Blood volume | 0.00 | 4.37 | NA | 0.20 | 4.57 | NA | XXX
78130 |  | A | Red cell survival study | 0.61 | 2.93 | NA | 0.15 | 3.69 | NA | XXX
78130 | 26 | A | Red cell survival study | 0.61 | 0.22 | 0.22 | 0.03 | 0.86 | 0.86 | XXX
78130 | TC | A | Red cell survival study | 0.00 | 2.71 | NA | 0.12 | 2.83 | NA | XXX
78135 |  | A | Red cell survival kinetics | 0.64 | 4.86 | NA | 0.24 | 5.74 | NA | XXX
78135 | 26 | A | Red cell survival kinetics | 0.64 | 0.23 | 0.23 | 0.03 | 0.90 | 0.90 | XXX
78135 | TC | A | Red cell survival kinetics | 0.00 | 4.63 | NA | 0.21 | 4.84 | NA | XXX
78140 |  | A | Red cell sequestration | 0.61 | 3.95 | NA | 0.20 | 4.76 | NA | XXX
78140 | 26 | A | Red cell sequestration | 0.61 | 0.21 | 0.21 | 0.03 | 0.85 | 0.85 | XXX
78140 | TC | A | Red cell sequestration | 0.00 | 3.74 | NA | 0.17 | 3.91 | NA | XXX
78160 |  | A | Plasma iron turnover | 0.33 | 3.60 | NA | 0.19 | 4.12 | NA | XXX
78160 | 26 | A | Plasma iron turnover | 0.33 | 0.12 | 0.12 | 0.03 | 0.48 | 0.48 | XXX
78160 | TC | A | Plasma iron turnover | 0.00 | 3.48 | NA | 0.16 | 3.64 | NA | XXX
78162 |  | A | Iron absorption exam | 0.45 | 3.22 | NA | 0.15 | 3.82 | NA | XXX
78162 | 26 | A | Iron absorption exam | 0.45 | 0.18 | 0.18 | 0.01 | 0.64 | 0.64 | XXX
78162 | TC | A | Iron absorption exam | 0.00 | 3.04 | NA | 0.14 | 3.18 | NA | XXX
78170 |  | A | Red cell iron utilization | 0.41 | 5.19 | NA | 0.27 | 5.87 | NA | XXX
78170 | 26 | A | Red cell iron utilization | 0.41 | 0.15 | 0.15 | 0.04 | 0.60 | 0.60 | XXX
78170 | TC | A | Red cell iron utilization | 0.00 | 5.04 | NA | 0.23 | 5.27 | NA | XXX
78172 |  | C | Total body iron estimation | 0.00 | 0.00 | 0.00 | 0.00 | 0.00 | 0.00 | XXX
78172 | 26 | A | Total body iron estimation | 0.53 | 0.20 | 0.20 | 0.02 | 0.75 | 0.75 | XXX
78172 | TC | C | Total body iron estimation | 0.00 | 0.00 | 0.00 | 0.00 | 0.00 | 0.00 | XXX
78185 |  | A | Spleen imaging | 0.40 | 2.39 | NA | 0.13 | 2.92 | NA | XXX
78185 | 26 | A | Spleen imaging | 0.40 | 0.15 | 0.15 | 0.02 | 0.57 | 0.57 | XXX
78185 | TC | A | Spleen imaging | 0.00 | 2.24 | NA | 0.11 | 2.35 | NA | XXX
78190 |  | A | Platelet survival, kinetics | 1.09 | 5.83 | NA | 0.31 | 7.23 | NA | XXX
78190 | 26 | A | Platelet survival, kinetics | 1.09 | 0.40 | 0.40 | 0.06 | 1.55 | 1.55 | XXX
78190 | TC | A | Platelet survival, kinetics | 0.00 | 5.43 | NA | 0.25 | 5.68 | NA | XXX
78191 |  | A | Platelet survival | 0.61 | 7.19 | NA | 0.34 | 8.14 | NA | XXX
78191 | 26 | A | Platelet survival | 0.61 | 0.22 | 0.22 | 0.03 | 0.86 | 0.86 | XXX
78191 | TC | A | Platelet survival | 0.00 | 6.97 | NA | 0.31 | 7.28 | NA | XXX
78195 |  | A | Lymph system imaging | 1.20 | 4.31 | NA | 0.23 | 5.74 | NA | XXX
78195 | 26 | A | Lymph system imaging | 1.20 | 0.44 | 0.44 | 0.05 | 1.69 | 1.69 | XXX
78195 | TC | A | Lymph system imaging | 0.00 | 3.87 | NA | 0.18 | 4.05 | NA | XXX
78199 |  | C | Blood/lymph nuclear exam | 0.00 | 0.00 | 0.00 | 0.00 | 0.00 | 0.00 | XXX
78199 | 26 | C | Blood/lymph nuclear exam | 0.00 | 0.00 | 0.00 | 0.00 | 0.00 | 0.00 | XXX
78199 | TC | C | Blood/lymph nuclear exam | 0.00 | 0.00 | 0.00 | 0.00 | 0.00 | 0.00 | XXX
78201 |  | A | Liver imaging | 0.44 | 2.40 | NA | 0.13 | 2.97 | NA | XXX
78201 | 26 | A | Liver imaging | 0.44 | 0.16 | 0.16 | 0.02 | 0.62 | 0.62 | XXX
78201 | TC | A | Liver imaging | 0.00 | 2.24 | NA | 0.11 | 2.35 | NA | XXX
78202 |  | A | Liver imaging with flow | 0.51 | 2.93 | NA | 0.14 | 3.58 | NA | XXX
78202 | 26 | A | Liver imaging with flow | 0.51 | 0.19 | 0.19 | 0.02 | 0.72 | 0.72 | XXX
78202 | TC | A | Liver imaging with flow | 0.00 | 2.74 | NA | 0.12 | 2.86 | NA | XXX
78205 |  | A | Liver imaging (3D) | 0.71 | 5.87 | NA | 0.29 | 6.87 | NA | XXX
78205 | 26 | A | Liver imaging (3D) | 0.71 | 0.26 | 0.26 | 0.03 | 1.00 | 1.00 | XXX
78205 | TC | A | Liver imaging (3D) | 0.00 | 5.61 | NA | 0.26 | 5.87 | NA | XXX
78206 |  | A | Liver image (3d) w/flow | 0.96 | 5.96 | NA | 0.13 | 7.05 | NA | XXX
78206 | 26 | A | Liver image (3d) w/flow | 0.96 | 0.35 | 0.35 | 0.04 | 1.35 | 1.35 | XXX
78206 | TC | A | Liver image (3d) w/flow | 0.00 | 5.61 | NA | 0.09 | 5.70 | NA | XXX
78215 |  | A | Liver and spleen imaging | 0.49 | 2.97 | NA | 0.14 | 3.60 | NA | XXX
78215 | 26 | A | Liver and spleen imaging | 0.49 | 0.18 | 0.18 | 0.02 | 0.69 | 0.69 | XXX
78215 | TC | A | Liver and spleen imaging | 0.00 | 2.79 | NA | 0.12 | 2.91 | NA | XXX
78216 |  | A | Liver & spleen image/flow | 0.57 | 3.52 | NA | 0.17 | 4.26 | NA | XXX
78216 | 26 | A | Liver & spleen image/flow | 0.57 | 0.21 | 0.21 | 0.02 | 0.80 | 0.80 | XXX
78216 | TC | A | Liver & spleen image/flow | 0.00 | 3.31 | NA | 0.15 | 3.46 | NA | XXX
78220 |  | A | Liver function study | 0.49 | 3.72 | NA | 0.18 | 4.39 | NA | XXX
78220 | 26 | A | Liver function study | 0.49 | 0.18 | 0.18 | 0.02 | 0.69 | 0.69 | XXX
78220 | TC | A | Liver function study | 0.00 | 3.54 | NA | 0.16 | 3.70 | NA | XXX
78223 |  | A | Hepatobiliary imaging | 0.84 | 3.78 | NA | 0.20 | 4.82 | NA | XXX
78223 | 26 | A | Hepatobiliary imaging | 0.84 | 0.30 | 0.30 | 0.04 | 1.18 | 1.18 | XXX
78223 | TC | A | Hepatobiliary imaging | 0.00 | 3.48 | NA | 0.16 | 3.64 | NA | XXX
78230 |  | A | Salivary gland imaging | 0.45 | 2.23 | NA | 0.13 | 2.81 | NA | XXX
78230 | 26 | A | Salivary gland imaging | 0.45 | 0.16 | 0.16 | 0.02 | 0.63 | 0.63 | XXX
78230 | TC | A | Salivary gland imaging | 0.00 | 2.07 | NA | 0.11 | 2.18 | NA | XXX
78231 |  | A | Serial salivary imaging | 0.52 | 3.21 | NA | 0.16 | 3.89 | NA | XXX
78231 | 26 | A | Serial salivary imaging | 0.52 | 0.20 | 0.20 | 0.02 | 0.74 | 0.74 | XXX
78231 | TC | A | Serial salivary imaging | 0.00 | 3.01 | NA | 0.14 | 3.15 | NA | XXX
78232 |  | A | Salivary gland function exam | 0.47 | 3.54 | NA | 0.16 | 4.17 | NA | XXX
78232 | 26 | A | Salivary gland function exam | 0.47 | 0.18 | 0.18 | 0.01 | 0.66 | 0.66 | XXX
78232 | TC | A | Salivary gland function exam | 0.00 | 3.36 | NA | 0.15 | 3.51 | NA | XXX
78258 |  | A | Esophageal motility study | 0.74 | 3.01 | NA | 0.15 | 3.90 | NA | XXX
78258 | 26 | A | Esophageal motility study | 0.74 | 0.27 | 0.27 | 0.03 | 1.04 | 1.04 | XXX
78258 | TC | A | Esophageal motility study | 0.00 | 2.74 | NA | 0.12 | 2.86 | NA | XXX
78261 |  | A | Gastric mucosa imaging | 0.69 | 4.15 | NA | 0.21 | 5.05 | NA | XXX
78261 | 26 | A | Gastric mucosa imaging | 0.69 | 0.26 | 0.26 | 0.03 | 0.98 | 0.98 | XXX
78261 | TC | A | Gastric mucosa imaging | 0.00 | 3.89 | NA | 0.18 | 4.07 | NA | XXX
78262 |  | A | Gastroesophageal reflux exam | 0.68 | 4.29 | NA | 0.21 | 5.18 | NA | XXX
78262 | 26 | A | Gastroesophageal reflux exam | 0.68 | 0.25 | 0.25 | 0.03 | 0.96 | 0.96 | XXX
78262 | TC | A | Gastroesophageal reflux exam | 0.00 | 4.04 | NA | 0.18 | 4.22 | NA | XXX
78264 |  | A | Gastric emptying study | 0.78 | 4.20 | NA | 0.21 | 5.19 | NA | XXX
78264 | 26 | A | Gastric emptying study | 0.78 | 0.28 | 0.28 | 0.03 | 1.09 | 1.09 | XXX
78264 | TC | A | Gastric emptying study | 0.00 | 3.92 | NA | 0.18 | 4.10 | NA | XXX
78267 |  | X | Breath tst attain/anal c-14 | 0.00 | 0.00 | 0.00 | 0.00 | 0.00 | 0.00 | XXX
78268 |  | X | Breath test analysis, c-14 | 0.00 | 0.00 | 0.00 | 0.00 | 0.00 | 0.00 | XXX
78270 |  | A | Vit B-12 absorption exam | 0.20 | 1.54 | NA | 0.09 | 1.83 | NA | XXX
78270 | 26 | A | Vit B-12 absorption exam | 0.20 | 0.07 | 0.07 | 0.01 | 0.28 | 0.28 | XXX
78270 | TC | A | Vit B-12 absorption exam | 0.00 | 1.47 | NA | 0.08 | 1.55 | NA | XXX
78271 |  | A | Vit B-12 absorp exam, IF | 0.20 | 1.63 | NA | 0.09 | 1.92 | NA | XXX
78271 | 26 | A | Vit B-12 absorp exam, IF | 0.20 | 0.07 | 0.07 | 0.01 | 0.28 | 0.28 | XXX
78271 | TC | A | Vit B-12 absorp exam, IF | 0.00 | 1.56 | NA | 0.08 | 1.64 | NA | XXX
78272 |  | A | Vit B-12 absorp, combined | 0.27 | 2.30 | NA | 0.12 | 2.69 | NA | XXX
78272 | 26 | A | Vit B-12 absorp, combined | 0.27 | 0.10 | 0.10 | 0.01 | 0.38 | 0.38 | XXX
78272 | TC | A | Vit B-12 absorp, combined | 0.00 | 2.20 | NA | 0.11 | 2.31 | NA | XXX
78278 |  | A | Acute GI blood loss imaging | 0.99 | 4.98 | NA | 0.25 | 6.22 | NA | XXX
78278 | 26 | A | Acute GI blood loss imaging | 0.99 | 0.35 | 0.35 | 0.04 | 1.38 | 1.38 | XXX
78278 | TC | A | Acute GI blood loss imaging | 0.00 | 4.63 | NA | 0.21 | 4.84 | NA | XXX
78282 |  | C | GI protein loss exam | 0.00 | 0.00 | 0.00 | 0.00 | 0.00 | 0.00 | XXX
78282 | 26 | A | GI protein loss exam | 0.38 | 0.13 | 0.13 | 0.02 | 0.53 | 0.53 | XXX
78282 | TC | C | GI protein loss exam | 0.00 | 0.00 | 0.00 | 0.00 | 0.00 | 0.00 | XXX
78290 |  | A | Meckel's divert exam | 0.68 | 3.13 | NA | 0.16 | 3.97 | NA | XXX
78290 | 26 | A | Meckel's divert exam | 0.68 | 0.24 | 0.24 | 0.03 | 0.95 | 0.95 | XXX
78290 | TC | A | Meckel's divert exam | 0.00 | 2.89 | NA | 0.13 | 3.02 | NA | XXX
78291 |  | A | Leveen/shunt patency exam | 0.88 | 3.23 | NA | 0.17 | 4.28 | NA | XXX
78291 | 26 | A | Leveen/shunt patency exam | 0.88 | 0.32 | 0.32 | 0.04 | 1.24 | 1.24 | XXX
78291 | TC | A | Leveen/shunt patency exam | 0.00 | 2.91 | NA | 0.13 | 3.04 | NA | XXX
78299 |  | C | GI nuclear procedure | 0.00 | 0.00 | 0.00 | 0.00 | 0.00 | 0.00 | XXX
78299 | 26 | C | GI nuclear procedure | 0.00 | 0.00 | 0.00 | 0.00 | 0.00 | 0.00 | XXX
78299 | TC | C | GI nuclear procedure | 0.00 | 0.00 | 0.00 | 0.00 | 0.00 | 0.00 | XXX
78300 |  | A | Bone imaging, limited area | 0.62 | 2.58 | NA | 0.15 | 3.35 | NA | XXX
78300 | 26 | A | Bone imaging, limited area | 0.62 | 0.22 | 0.22 | 0.03 | 0.87 | 0.87 | XXX
78300 | TC | A | Bone imaging, limited area | 0.00 | 2.36 | NA | 0.12 | 2.48 | NA | XXX
78305 |  | A | Bone imaging, multiple areas | 0.83 | 3.78 | NA | 0.19 | 4.80 | NA | XXX
78305 | 26 | A | Bone imaging, multiple areas | 0.83 | 0.30 | 0.30 | 0.03 | 1.16 | 1.16 | XXX
78305 | TC | A | Bone imaging, multiple areas | 0.00 | 3.48 | NA | 0.16 | 3.64 | NA | XXX
78306 |  | A | Bone imaging, whole body | 0.86 | 4.37 | NA | 0.22 | 5.45 | NA | XXX
78306 | 26 | A | Bone imaging, whole body | 0.86 | 0.31 | 0.31 | 0.04 | 1.21 | 1.21 | XXX
78306 | TC | A | Bone imaging, whole body | 0.00 | 4.06 | NA | 0.18 | 4.24 | NA | XXX
78315 |  | A | Bone imaging, 3 phase | 1.02 | 4.91 | NA | 0.25 | 6.18 | NA | XXX
78315 | 26 | A | Bone imaging, 3 phase | 1.02 | 0.37 | 0.37 | 0.04 | 1.43 | 1.43 | XXX
78315 | TC | A | Bone imaging, 3 phase | 0.00 | 4.54 | NA | 0.21 | 4.75 | NA | XXX
78320 |  | A | Bone imaging (3D) | 1.04 | 6.00 | NA | 0.30 | 7.34 | NA | XXX
78320 | 26 | A | Bone imaging (3D) | 1.04 | 0.39 | 0.39 | 0.04 | 1.47 | 1.47 | XXX
78320 | TC | A | Bone imaging (3D) | 0.00 | 5.61 | NA | 0.26 | 5.87 | NA | XXX
78350 |  | A | Bone mineral, single photon | 0.22 | 0.80 | NA | 0.05 | 1.07 | NA | XXX
78350 | 26 | A | Bone mineral, single photon | 0.22 | 0.08 | 0.08 | 0.01 | 0.31 | 0.31 | XXX
78350 | TC | A | Bone mineral, single photon | 0.00 | 0.72 | NA | 0.04 | 0.76 | NA | XXX
78351 |  | N | Bone mineral, dual photon | +0.30 | 1.64 | 0.12 | 0.01 | 1.95 | 0.43 | XXX
78399 |  | C | Musculoskeletal nuclear exam | 0.00 | 0.00 | 0.00 | 0.00 | 0.00 | 0.00 | XXX
78399 | 26 | C | Musculoskeletal nuclear exam | 0.00 | 0.00 | 0.00 | 0.00 | 0.00 | 0.00 | XXX
78399 | TC | C | Musculoskeletal nuclear exam | 0.00 | 0.00 | 0.00 | 0.00 | 0.00 | 0.00 | XXX
78414 |  | C | Non-imaging heart function | 0.00 | 0.00 | 0.00 | 0.00 | 0.00 | 0.00 | XXX
78414 | 26 | A | Non-imaging heart function | 0.45 | 0.16 | 0.16 | 0.02 | 0.63 | 0.63 | XXX
78414 | TC | C | Non-imaging heart function | 0.00 | 0.00 | 0.00 | 0.00 | 0.00 | 0.00 | XXX
78428 |  | A | Cardiac shunt imaging | 0.78 | 2.46 | NA | 0.14 | 3.38 | NA | XXX
78428 | 26 | A | Cardiac shunt imaging | 0.78 | 0.32 | 0.32 | 0.03 | 1.13 | 1.13 | XXX
78428 | TC | A | Cardiac shunt imaging | 0.00 | 2.14 | NA | 0.11 | 2.25 | NA | XXX
78445 |  | A | Vascular flow imaging | 0.49 | 1.94 | NA | 0.11 | 2.54 | NA | XXX
78445 | 26 | A | Vascular flow imaging | 0.49 | 0.18 | 0.18 | 0.02 | 0.69 | 0.69 | XXX
78445 | TC | A | Vascular flow imaging | 0.00 | 1.76 | NA | 0.09 | 1.85 | NA | XXX
78455 |  | A | Venous thrombosis study | 0.73 | 4.04 | NA | 0.20 | 4.97 | NA | XXX
78455 | 26 | A | Venous thrombosis study | 0.73 | 0.26 | 0.26 | 0.03 | 1.02 | 1.02 | XXX
78455 | TC | A | Venous thrombosis study | 0.00 | 3.78 | NA | 0.17 | 3.95 | NA | XXX
78456 |  | A | Acute venous thrombus image | 1.00 | 4.15 | NA | 0.28 | 5.43 | NA | XXX
78456 | 26 | A | Acute venous thrombus image | 1.00 | 0.37 | 0.37 | 0.04 | 1.41 | 1.41 | XXX
78456 | TC | A | Acute venous thrombus image | 0.00 | 3.78 | NA | 0.24 | 4.02 | NA | XXX
78457 |  | A | Venous thrombosis imaging | 0.77 | 2.81 | NA | 0.15 | 3.73 | NA | XXX
78457 | 26 | A | Venous thrombosis imaging | 0.77 | 0.28 | 0.28 | 0.03 | 1.08 | 1.08 | XXX
78457 | TC | A | Venous thrombosis imaging | 0.00 | 2.53 | NA | 0.12 | 2.65 | NA | XXX
78458 |  | A | Ven thrombosis images, bilat | 0.90 | 4.17 | NA | 0.20 | 5.27 | NA | XXX
78458 | 26 | A | Ven thrombosis images, bilat | 0.90 | 0.35 | 0.35 | 0.03 | 1.28 | 1.28 | XXX
78458 | TC | A | Ven thrombosis images, bilat | 0.00 | 3.82 | NA | 0.17 | 3.99 | NA | XXX
78459 |  | I | Heart muscle imaging (PET) | 0.00 | 0.00 | 0.00 | 0.00 | 0.00 | 0.00 | XXX
78459 | 26 | I | Heart muscle imaging (PET) | +1.88 | 0.75 | 0.75 | 0.08 | 2.71 | 2.71 | XXX
78459 | TC | I | Heart muscle imaging (PET) | 0.00 | 0.00 | 0.00 | 0.00 | 0.00 | 0.00 | XXX
78460 |  | A | Heart muscle blood, single | 0.86 | 2.55 | NA | 0.14 | 3.55 | NA | XXX
78460 | 26 | A | Heart muscle blood, single | 0.86 | 0.31 | 0.31 | 0.03 | 1.20 | 1.20 | XXX
78460 | TC | A | Heart muscle blood, single | 0.00 | 2.24 | NA | 0.11 | 2.35 | NA | XXX
78461 |  | A | Heart muscle blood, multiple | 1.23 | 4.94 | NA | 0.26 | 6.43 | NA | XXX
78461 | 26 | A | Heart muscle blood, multiple | 1.23 | 0.46 | 0.46 | 0.05 | 1.74 | 1.74 | XXX
78461 | TC | A | Heart muscle blood, multiple | 0.00 | 4.48 | NA | 0.21 | 4.69 | NA | XXX
78464 |  | A | Heart image (3d), single | 1.09 | 7.12 | NA | 0.35 | 8.56 | NA | XXX
78464 | 26 | A | Heart image (3d), single | 1.09 | 0.41 | 0.41 | 0.04 | 1.54 | 1.54 | XXX
78464 | TC | A | Heart image (3d), single | 0.00 | 6.71 | NA | 0.31 | 7.02 | NA | XXX
78465 |  | A | Heart image (3d), multiple | 1.46 | 11.76 | NA | 0.56 | 13.78 | NA | XXX
78465 | 26 | A | Heart image (3d), multiple | 1.46 | 0.56 | 0.56 | 0.05 | 2.07 | 2.07 | XXX
78465 | TC | A | Heart image (3d), multiple | 0.00 | 11.20 | NA | 0.51 | 11.71 | NA | XXX
78466 |  | A | Heart infarct image | 0.69 | 2.75 | NA | 0.15 | 3.59 | NA | XXX
78466 | 26 | A | Heart infarct image | 0.69 | 0.26 | 0.26 | 0.03 | 0.98 | 0.98 | XXX
78466 | TC | A | Heart infarct image | 0.00 | 2.49 | NA | 0.12 | 2.61 | NA | XXX
78468 |  | A | Heart infarct image (ef) | 0.80 | 3.78 | NA | 0.19 | 4.77 | NA | XXX
78468 | 26 | A | Heart infarct image (ef) | 0.80 | 0.30 | 0.30 | 0.03 | 1.13 | 1.13 | XXX
78468 | TC | A | Heart infarct image (ef) | 0.00 | 3.48 | NA | 0.16 | 3.64 | NA | XXX
78469 |  | A | Heart infarct image (3D) | 0.92 | 5.31 | NA | 0.26 | 6.49 | NA | XXX
78469 | 26 | A | Heart infarct image (3D) | 0.92 | 0.35 | 0.35 | 0.03 | 1.30 | 1.30 | XXX
78469 | TC | A | Heart infarct image (3D) | 0.00 | 4.96 | NA | 0.23 | 5.19 | NA | XXX
78472 |  | A | Gated heart, planar, single | 0.98 | 5.60 | NA | 0.29 | 6.87 | NA | XXX
78472 | 26 | A | Gated heart, planar, single | 0.98 | 0.37 | 0.37 | 0.04 | 1.39 | 1.39 | XXX
78472 | TC | A | Gated heart, planar, single | 0.00 | 5.23 | NA | 0.25 | 5.48 | NA | XXX
78473 |  | A | Gated heart, multiple | 1.47 | 8.40 | NA | 0.40 | 10.27 | NA | XXX
78473 | 26 | A | Gated heart, multiple | 1.47 | 0.56 | 0.56 | 0.05 | 2.08 | 2.08 | XXX
78473 | TC | A | Gated heart, multiple | 0.00 | 7.84 | NA | 0.35 | 8.19 | NA | XXX
78478 |  | A | Heart wall motion add-on | 0.62 | 1.72 | NA | 0.10 | 2.44 | NA | ZZZ
78478 | 26 | A | Heart wall motion add-on | 0.62 | 0.24 | 0.24 | 0.02 | 0.88 | 0.88 | ZZZ
78478 | TC | A | Heart wall motion add-on | 0.00 | 1.48 | NA | 0.08 | 1.56 | NA | ZZZ
78480 |  | A | Heart function add-on | 0.62 | 1.72 | NA | 0.10 | 2.44 | NA | ZZZ
78480 | 26 | A | Heart function add-on | 0.62 | 0.24 | 0.24 | 0.02 | 0.88 | 0.88 | ZZZ
78480 | TC | A | Heart function add-on | 0.00 | 1.48 | NA | 0.08 | 1.56 | NA | ZZZ
78481 |  | A | Heart first pass, single | 0.98 | 5.35 | NA | 0.26 | 6.59 | NA | XXX
78481 | 26 | A | Heart first pass, single | 0.98 | 0.39 | 0.39 | 0.03 | 1.40 | 1.40 | XXX
78481 | TC | A | Heart first pass, single | 0.00 | 4.96 | NA | 0.23 | 5.19 | NA | XXX
78483 |  | A | Heart first pass, multiple | 1.47 | 8.05 | NA | 0.39 | 9.91 | NA | XXX
78483 | 26 | A | Heart first pass, multiple | 1.47 | 0.58 | 0.58 | 0.05 | 2.10 | 2.10 | XXX
78483 | TC | A | Heart first pass, multiple | 0.00 | 7.47 | NA | 0.34 | 7.81 | NA | XXX
78491 |  | I | Heart image (pet), single | 0.00 | 0.00 | 0.00 | 0.00 | 0.00 | 0.00 | XXX
78491 | 26 | I | Heart image (pet), single | +1.50 | 0.60 | 0.60 | 0.05 | 2.15 | 2.15 | XXX
78491 | TC | I | Heart image (pet), single | 0.00 | 0.00 | 0.00 | 0.00 | 0.00 | 0.00 | XXX
78492 |  | I | Heart image (pet), multiple | 0.00 | 0.00 | 0.00 | 0.00 | 0.00 | 0.00 | XXX
78492 | 26 | I | Heart image (pet), multiple | +1.87 | 0.75 | 0.75 | 0.06 | 2.68 | 2.68 | XXX
78492 | TC | I | Heart image (pet), multiple | 0.00 | 0.00 | 0.00 | 0.00 | 0.00 | 0.00 | XXX
78494 |  | A | Heart image, spect | 1.19 | 7.15 | NA | 0.29 | 8.63 | NA | XXX
78494 | 26 | A | Heart image, spect | 1.19 | 0.44 | 0.44 | 0.04 | 1.67 | 1.67 | XXX
78494 | TC | A | Heart image, spect | 0.00 | 6.71 | NA | 0.25 | 6.96 | NA | XXX
78496 |  | A | Heart first pass add-on | 0.50 | 6.91 | NA | 0.27 | 7.68 | NA | ZZZ
78496 | 26 | A | Heart first pass add-on | 0.50 | 0.20 | 0.20 | 0.02 | 0.72 | 0.72 | ZZZ
78496 | TC | A | Heart first pass add-on | 0.00 | 6.71 | NA | 0.25 | 6.96 | NA | ZZZ
78499 |  | C | Cardiovascular nuclear exam | 0.00 | 0.00 | 0.00 | 0.00 | 0.00 | 0.00 | XXX
78499 | 26 | C | Cardiovascular nuclear exam | 0.00 | 0.00 | 0.00 | 0.00 | 0.00 | 0.00 | XXX
78499 | TC | C | Cardiovascular nuclear exam | 0.00 | 0.00 | 0.00 | 0.00 | 0.00 | 0.00 | XXX
78580 |  | A | Lung perfusion imaging | 0.74 | 3.53 | NA | 0.18 | 4.45 | NA | XXX
78580 | 26 | A | Lung perfusion imaging | 0.74 | 0.27 | 0.27 | 0.03 | 1.04 | 1.04 | XXX
78580 | TC | A | Lung perfusion imaging | 0.00 | 3.26 | NA | 0.15 | 3.41 | NA | XXX
78584 |  | A | Lung V/Q image single breath | 0.99 | 3.39 | NA | 0.18 | 4.56 | NA | XXX
78584 | 26 | A | Lung V/Q image single breath | 0.99 | 0.35 | 0.35 | 0.04 | 1.38 | 1.38 | XXX
78584 | TC | A | Lung V/Q image single breath | 0.00 | 3.04 | NA | 0.14 | 3.18 | NA | XXX
78585 |  | A | Lung V/Q imaging | 1.09 | 5.74 | NA | 0.30 | 7.13 | NA | XXX
78585 | 26 | A | Lung V/Q imaging | 1.09 | 0.39 | 0.39 | 0.05 | 1.53 | 1.53 | XXX
78585 | TC | A | Lung V/Q imaging | 0.00 | 5.35 | NA | 0.25 | 5.60 | NA | XXX
78586 |  | A | Aerosol lung image, single | 0.40 | 2.60 | NA | 0.14 | 3.14 | NA | XXX
78586 | 26 | A | Aerosol lung image, single | 0.40 | 0.14 | 0.14 | 0.02 | 0.56 | 0.56 | XXX
78586 | TC | A | Aerosol lung image, single | 0.00 | 2.46 | NA | 0.12 | 2.58 | NA | XXX
78587 |  | A | Aerosol lung image, multiple | 0.49 | 2.84 | NA | 0.14 | 3.47 | NA | XXX
78587 | 26 | A | Aerosol lung image, multiple | 0.49 | 0.18 | 0.18 | 0.02 | 0.69 | 0.69 | XXX
78587 | TC | A | Aerosol lung image, multiple | 0.00 | 2.66 | NA | 0.12 | 2.78 | NA | XXX
78588 |  | A | Perfusion lung image | 1.09 | 3.43 | NA | 0.20 | 4.72 | NA | XXX
78588 | 26 | A | Perfusion lung image | 1.09 | 0.39 | 0.39 | 0.05 | 1.53 | 1.53 | XXX
78588 | TC | A | Perfusion lung image | 0.00 | 3.04 | NA | 0.15 | 3.19 | NA | XXX
78591 |  | A | Vent image, 1 breath, 1 proj | 0.40 | 2.86 | NA | 0.14 | 3.40 | NA | XXX
78591 | 26 | A | Vent image, 1 breath, 1 proj | 0.40 | 0.15 | 0.15 | 0.02 | 0.57 | 0.57 | XXX
78591 | TC | A | Vent image, 1 breath, 1 proj | 0.00 | 2.71 | NA | 0.12 | 2.83 | NA | XXX
78593 |  | A | Vent image, 1 proj, gas | 0.49 | 3.46 | NA | 0.17 | 4.12 | NA | XXX
78593 | 26 | A | Vent image, 1 proj, gas | 0.49 | 0.18 | 0.18 | 0.02 | 0.69 | 0.69 | XXX
78593 | TC | A | Vent image, 1 proj, gas | 0.00 | 3.28 | NA | 0.15 | 3.43 | NA | XXX
78594 |  | A | Vent image, mult proj, gas | 0.53 | 4.92 | NA | 0.23 | 5.68 | NA | XXX
78594 | 26 | A | Vent image, mult proj, gas | 0.53 | 0.19 | 0.19 | 0.02 | 0.74 | 0.74 | XXX
78594 | TC | A | Vent image, mult proj, gas | 0.00 | 4.73 | NA | 0.21 | 4.94 | NA | XXX
78596 |  | A | Lung differential function | 1.27 | 7.17 | NA | 0.36 | 8.80 | NA | XXX
78596 | 26 | A | Lung differential function | 1.27 | 0.46 | 0.46 | 0.05 | 1.78 | 1.78 | XXX
78596 | TC | A | Lung differential function | 0.00 | 6.71 | NA | 0.31 | 7.02 | NA | XXX
78599 |  | C | Respiratory nuclear exam | 0.00 | 0.00 | 0.00 | 0.00 | 0.00 | 0.00 | XXX
78599 | 26 | C | Respiratory nuclear exam | 0.00 | 0.00 | 0.00 | 0.00 | 0.00 | 0.00 | XXX
78599 | TC | C | Respiratory nuclear exam | 0.00 | 0.00 | 0.00 | 0.00 | 0.00 | 0.00 | XXX
78600 |  | A | Brain imaging, ltd static | 0.44 | 2.90 | NA | 0.14 | 3.48 | NA | XXX
78600 | 26 | A | Brain imaging, ltd static | 0.44 | 0.16 | 0.16 | 0.02 | 0.62 | 0.62 | XXX
78600 | TC | A | Brain imaging, ltd static | 0.00 | 2.74 | NA | 0.12 | 2.86 | NA | XXX
78601 |  | A | Brain imaging, ltd w/flow | 0.51 | 3.41 | NA | 0.17 | 4.09 | NA | XXX
78601 | 26 | A | Brain imaging, ltd w/flow | 0.51 | 0.18 | 0.18 | 0.02 | 0.71 | 0.71 | XXX
78601 | TC | A | Brain imaging, ltd w/flow | 0.00 | 3.23 | NA | 0.15 | 3.38 | NA | XXX
78605 |  | A | Brain imaging, complete | 0.53 | 3.42 | NA | 0.17 | 4.12 | NA | XXX
78605 | 26 | A | Brain imaging, complete | 0.53 | 0.19 | 0.19 | 0.02 | 0.74 | 0.74 | XXX
78605 | TC | A | Brain imaging, complete | 0.00 | 3.23 | NA | 0.15 | 3.38 | NA | XXX
78606 |  | A | Brain imaging, compl w/flow | 0.64 | 3.90 | NA | 0.20 | 4.74 | NA | XXX
78606 | 26 | A | Brain imaging, compl w/flow | 0.64 | 0.23 | 0.23 | 0.03 | 0.90 | 0.90 | XXX
78606 | TC | A | Brain imaging, compl w/flow | 0.00 | 3.67 | NA | 0.17 | 3.84 | NA | XXX
78607 |  | A | Brain imaging (3D) | 1.23 | 6.70 | NA | 0.34 | 8.27 | NA | XXX
78607 | 26 | A | Brain imaging (3D) | 1.23 | 0.47 | 0.47 | 0.05 | 1.75 | 1.75 | XXX
78607 | TC | A | Brain imaging (3D) | 0.00 | 6.23 | NA | 0.29 | 6.52 | NA | XXX
78608 |  | N | Brain imaging (PET) | 0.00 | 0.00 | 0.00 | 0.00 | 0.00 | 0.00 | XXX
78609 |  | N | Brain imaging (PET) | 0.00 | 0.00 | 0.00 | 0.00 | 0.00 | 0.00 | XXX
78610 |  | A | Brain flow imaging only | 0.30 | 1.61 | NA | 0.09 | 2.00 | NA | XXX
78610 | 26 | A | Brain flow imaging only | 0.30 | 0.11 | 0.11 | 0.01 | 0.42 | 0.42 | XXX
78610 | TC | A | Brain flow imaging only | 0.00 | 1.50 | NA | 0.08 | 1.58 | NA | XXX
78615 |  | A | Cerebral vascular flow image | 0.42 | 3.81 | NA | 0.19 | 4.42 | NA | XXX
78615 | 26 | A | Cerebral vascular flow image | 0.42 | 0.16 | 0.16 | 0.02 | 0.60 | 0.60 | XXX
78615 | TC | A | Cerebral vascular flow image | 0.00 | 3.65 | NA | 0.17 | 3.82 | NA | XXX
78630 |  | A | Cerebrospinal fluid scan | 0.68 | 5.02 | NA | 0.25 | 5.95 | NA | XXX
78630 | 26 | A | Cerebrospinal fluid scan | 0.68 | 0.24 | 0.24 | 0.03 | 0.95 | 0.95 | XXX
78630 | TC | A | Cerebrospinal fluid scan | 0.00 | 4.78 | NA | 0.22 | 5.00 | NA | XXX
78635 |  | A | CSF ventriculography | 0.61 | 2.67 | NA | 0.14 | 3.42 | NA | XXX
78635 | 26 | A | CSF ventriculography | 0.61 | 0.25 | 0.25 | 0.02 | 0.88 | 0.88 | XXX
78635 | TC | A | CSF ventriculography | 0.00 | 2.42 | NA | 0.12 | 2.54 | NA | XXX
78645 |  | A | CSF shunt evaluation | 0.57 | 3.47 | NA | 0.17 | 4.21 | NA | XXX
78645 | 26 | A | CSF shunt evaluation | 0.57 | 0.21 | 0.21 | 0.02 | 0.80 | 0.80 | XXX
78645 | TC | A | CSF shunt evaluation | 0.00 | 3.26 | NA | 0.15 | 3.41 | NA | XXX
78647 |  | A | Cerebrospinal fluid scan | 0.90 | 5.94 | NA | 0.29 | 7.13 | NA | XXX
78647 | 26 | A | Cerebrospinal fluid scan | 0.90 | 0.33 | 0.33 | 0.03 | 1.26 | 1.26 | XXX
78647 | TC | A | Cerebrospinal fluid scan | 0.00 | 5.61 | NA | 0.26 | 5.87 | NA | XXX
78650 |  | A | CSF leakage imaging | 0.61 | 4.63 | NA | 0.22 | 5.46 | NA | XXX
78650 | 26 | A | CSF leakage imaging | 0.61 | 0.22 | 0.22 | 0.02 | 0.85 | 0.85 | XXX
78650 | TC | A | CSF leakage imaging | 0.00 | 4.41 | NA | 0.20 | 4.61 | NA | XXX
78660 |  | A | Nuclear exam of tear flow | 0.53 | 2.20 | NA | 0.12 | 2.85 | NA | XXX
78660 | 26 | A | Nuclear exam of tear flow | 0.53 | 0.19 | 0.19 | 0.02 | 0.74 | 0.74 | XXX
78660 | TC | A | Nuclear exam of tear flow | 0.00 | 2.01 | NA | 0.10 | 2.11 | NA | XXX
78699 |  | C | Nervous system nuclear exam | 0.00 | 0.00 | 0.00 | 0.00 | 0.00 | 0.00 | XXX
78699 | 26 | C | Nervous system nuclear exam | 0.00 | 0.00 | 0.00 | 0.00 | 0.00 | 0.00 | XXX
78699 | TC | C | Nervous system nuclear exam | 0.00 | 0.00 | 0.00 | 0.00 | 0.00 | 0.00 | XXX
78700 |  | A | Kidney imaging, static | 0.45 | 3.05 | NA | 0.15 | 3.65 | NA | XXX
78700 | 26 | A | Kidney imaging, static | 0.45 | 0.16 | 0.16 | 0.02 | 0.63 | 0.63 | XXX
78700 | TC | A | Kidney imaging, static | 0.00 | 2.89 | NA | 0.13 | 3.02 | NA | XXX
78701 |  | A | Kidney imaging with flow | 0.49 | 3.55 | NA | 0.17 | 4.21 | NA | XXX
78701 | 26 | A | Kidney imaging with flow | 0.49 | 0.17 | 0.17 | 0.02 | 0.68 | 0.68 | XXX
78701 | TC | A | Kidney imaging with flow | 0.00 | 3.38 | NA | 0.15 | 3.53 | NA | XXX
78704 |  | A | Imaging renogram | 0.74 | 4.03 | NA | 0.20 | 4.97 | NA | XXX
78704 | 26 | A | Imaging renogram | 0.74 | 0.27 | 0.27 | 0.03 | 1.04 | 1.04 | XXX
78704 | TC | A | Imaging renogram | 0.00 | 3.76 | NA | 0.17 | 3.93 | NA | XXX
78707 |  | A | Kidney flow/function image | 0.96 | 4.59 | NA | 0.23 | 5.78 | NA | XXX
78707 | 26 | A | Kidney flow/function image | 0.96 | 0.35 | 0.35 | 0.04 | 1.35 | 1.35 | XXX
78707 | TC | A | Kidney flow/function image | 0.00 | 4.24 | NA | 0.19 | 4.43 | NA | XXX
78708 |  | A | Kidney flow/function image | 1.21 | 4.68 | NA | 0.24 | 6.13 | NA | XXX
78708 | 26 | A | Kidney flow/function image | 1.21 | 0.44 | 0.44 | 0.05 | 1.70 | 1.70 | XXX
78708 | TC | A | Kidney flow/function image | 0.00 | 4.24 | NA | 0.19 | 4.43 | NA | XXX
78709 |  | A | Kidney flow/function image | 1.41 | 4.75 | NA | 0.25 | 6.41 | NA | XXX
78709 | 26 | A | Kidney flow/function image | 1.41 | 0.51 | 0.51 | 0.06 | 1.98 | 1.98 | XXX
78709 | TC | A | Kidney flow/function image | 0.00 | 4.24 | NA | 0.19 | 4.43 | NA | XXX
78710 |  | A | Kidney imaging (3D) | 0.66 | 5.84 | NA | 0.29 | 6.79 | NA | XXX
78710 | 26 | A | Kidney imaging (3D) | 0.66 | 0.23 | 0.23 | 0.03 | 0.92 | 0.92 | XXX
78710 | TC | A | Kidney imaging (3D) | 0.00 | 5.61 | NA | 0.26 | 5.87 | NA | XXX
78715 |  | A | Renal vascular flow exam | 0.30 | 1.61 | NA | 0.09 | 2.00 | NA | XXX
78715 | 26 | A | Renal vascular flow exam | 0.30 | 0.11 | 0.11 | 0.01 | 0.42 | 0.42 | XXX
78715 | TC | A | Renal vascular flow exam | 0.00 | 1.50 | NA | 0.08 | 1.58 | NA | XXX
78725 |  | A | Kidney function study | 0.38 | 1.83 | NA | 0.10 | 2.31 | NA | XXX
78725 | 26 | A | Kidney function study | 0.38 | 0.14 | 0.14 | 0.01 | 0.53 | 0.53 | XXX
78725 | TC | A | Kidney function study | 0.00 | 1.69 | NA | 0.09 | 1.78 | NA | XXX
78730 |  | A | Urinary bladder retention | 0.36 | 1.52 | NA | 0.09 | 1.97 | NA | XXX
78730 | 26 | A | Urinary bladder retention | 0.36 | 0.13 | 0.13 | 0.02 | 0.51 | 0.51 | XXX
78730 | TC | A | Urinary bladder retention | 0.00 | 1.39 | NA | 0.07 | 1.46 | NA | XXX
78740 |  | A | Ureteral reflux study | 0.57 | 2.22 | NA | 0.12 | 2.91 | NA | XXX
78740 | 26 | A | Ureteral reflux study | 0.57 | 0.21 | 0.21 | 0.02 | 0.80 | 0.80 | XXX
78740 | TC | A | Ureteral reflux study | 0.00 | 2.01 | NA | 0.10 | 2.11 | NA | XXX
78760 |  | A | Testicular imaging | 0.66 | 2.77 | NA | 0.15 | 3.58 | NA | XXX
78760 | 26 | A | Testicular imaging | 0.66 | 0.23 | 0.23 | 0.03 | 0.92 | 0.92 | XXX
78760 | TC | A | Testicular imaging | 0.00 | 2.54 | NA | 0.12 | 2.66 | NA | XXX
78761 |  | A | Testicular imaging/flow | 0.71 | 3.30 | NA | 0.17 | 4.18 | NA | XXX
78761 | 26 | A | Testicular imaging/flow | 0.71 | 0.26 | 0.26 | 0.03 | 1.00 | 1.00 | XXX
78761 | TC | A | Testicular imaging/flow | 0.00 | 3.04 | NA | 0.14 | 3.18 | NA | XXX
78799 |  | C | Genitourinary nuclear exam | 0.00 | 0.00 | 0.00 | 0.00 | 0.00 | 0.00 | XXX
78799 | 26 | C | Genitourinary nuclear exam | 0.00 | 0.00 | 0.00 | 0.00 | 0.00 | 0.00 | XXX
78799 | TC | C | Genitourinary nuclear exam | 0.00 | 0.00 | 0.00 | 0.00 | 0.00 | 0.00 | XXX
78800 |  | A | Tumor imaging, limited area | 0.66 | 3.46 | NA | 0.18 | 4.30 | NA | XXX
78800 | 26 | A | Tumor imaging, limited area | 0.66 | 0.23 | 0.23 | 0.03 | 0.92 | 0.92 | XXX
78800 | TC | A | Tumor imaging, limited area | 0.00 | 3.23 | NA | 0.15 | 3.38 | NA | XXX
78801 |  | A | Tumor imaging, mult areas | 0.79 | 4.30 | NA | 0.21 | 5.30 | NA | XXX
78801 | 26 | A | Tumor imaging, mult areas | 0.79 | 0.29 | 0.29 | 0.03 | 1.11 | 1.11 | XXX
78801 | TC | A | Tumor imaging, mult areas | 0.00 | 4.01 | NA | 0.18 | 4.19 | NA | XXX
78802 |  | A | Tumor imaging, whole body | 0.86 | 5.57 | NA | 0.28 | 6.71 | NA | XXX
78802 | 26 | A | Tumor imaging, whole body | 0.86 | 0.32 | 0.32 | 0.03 | 1.21 | 1.21 | XXX
78802 | TC | A | Tumor imaging, whole body | 0.00 | 5.25 | NA | 0.25 | 5.50 | NA | XXX
78803 |  | A | Tumor imaging (3D) | 1.09 | 6.64 | NA | 0.33 | 8.06 | NA | XXX
78803 | 26 | A | Tumor imaging (3D) | 1.09 | 0.41 | 0.41 | 0.04 | 1.54 | 1.54 | XXX
78803 | TC | A | Tumor imaging (3D) | 0.00 | 6.23 | NA | 0.29 | 6.52 | NA | XXX
78805 |  | A | Abscess imaging, ltd area | 0.73 | 3.50 | NA | 0.18 | 4.41 | NA | XXX
78805 | 26 | A | Abscess imaging, ltd area | 0.73 | 0.27 | 0.27 | 0.03 | 1.03 | 1.03 | XXX
78805 | TC | A | Abscess imaging, ltd area | 0.00 | 3.23 | NA | 0.15 | 3.38 | NA | XXX
78806 |  | A | Abscess imaging, whole body | 0.86 | 6.43 | NA | 0.32 | 7.61 | NA | XXX
78806 | 26 | A | Abscess imaging, whole body | 0.86 | 0.32 | 0.32 | 0.03 | 1.21 | 1.21 | XXX
78806 | TC | A | Abscess imaging, whole body | 0.00 | 6.11 | NA | 0.29 | 6.40 | NA | XXX
78807 |  | A | Nuclear localization/abscess | 1.09 | 6.66 | NA | 0.33 | 8.08 | NA | XXX
78807 | 26 | A | Nuclear localization/abscess | 1.09 | 0.43 | 0.43 | 0.04 | 1.56 | 1.56 | XXX
78807 | TC | A | Nuclear localization/abscess | 0.00 | 6.23 | NA | 0.29 | 6.52 | NA | XXX
78810 |  | N | Tumor imaging (PET) | 0.00 | 0.00 | 0.00 | 0.00 | 0.00 | 0.00 | XXX
78810 | 26 | N | Tumor imaging (PET) | +1.93 | 0.77 | 0.77 | 0.09 | 2.79 | 2.79 | XXX
78810 | TC | N | Tumor imaging (PET) | 0.00 | 0.00 | 0.00 | 0.00 | 0.00 | 0.00 | XXX
78890 |  | B | Nuclear medicine data proc | +0.05 | 1.26 | NA | 0.06 | 1.37 | NA | XXX
78890 | 26 | B | Nuclear medicine data proc | +0.05 | 0.02 | 0.02 | 0.01 | 0.08 | 0.08 | XXX
78890 | TC | B | Nuclear medicine data proc | +0.00 | 1.24 | NA | 0.05 | 1.29 | NA | XXX
78891 |  | B | Nuclear med data proc | +0.10 | 2.53 | NA | 0.12 | 2.75 | NA | XXX
78891 | 26 | B | Nuclear med data proc | +0.10 | 0.04 | 0.04 | 0.01 | 0.15 | 0.15 | XXX
78891 | TC | B | Nuclear med data proc | +0.00 | 2.49 | NA | 0.11 | 2.60 | NA | XXX
78990 |  | I | Provide diag radionuclide(s) | 0.00 | 0.00 | 0.00 | 0.00 | 0.00 | 0.00 | XXX
78999 |  | C | Nuclear diagnostic exam | 0.00 | 0.00 | 0.00 | 0.00 | 0.00 | 0.00 | XXX
78999 | 26 | C | Nuclear diagnostic exam | 0.00 | 0.00 | 0.00 | 0.00 | 0.00 | 0.00 | XXX
78999 | TC | C | Nuclear diagnostic exam | 0.00 | 0.00 | 0.00 | 0.00 | 0.00 | 0.00 | XXX
79000 |  | A | Init hyperthyroid therapy | 1.80 | 3.14 | NA | 0.19 | 5.13 | NA | XXX
79000 | 26 | A | Init hyperthyroid therapy | 1.80 | 0.65 | 0.65 | 0.07 | 2.52 | 2.52 | XXX
79000 | TC | A | Init hyperthyroid therapy | 0.00 | 2.49 | NA | 0.12 | 2.61 | NA | XXX
79001 |  | A | Repeat hyperthyroid therapy | 1.05 | 1.63 | NA | 0.10 | 2.78 | NA | XXX
79001 | 26 | A | Repeat hyperthyroid therapy | 1.05 | 0.39 | 0.39 | 0.04 | 1.48 | 1.48 | XXX
79001 | TC | A | Repeat hyperthyroid therapy | 0.00 | 1.24 | NA | 0.06 | 1.30 | NA | XXX
79020 |  | A | Thyroid ablation | 1.81 | 3.13 | NA | 0.19 | 5.13 | NA | XXX
79020 | 26 | A | Thyroid ablation | 1.81 | 0.64 | 0.64 | 0.07 | 2.52 | 2.52 | XXX
79020 | TC | A | Thyroid ablation | 0.00 | 2.49 | NA | 0.12 | 2.61 | NA | XXX
79030 |  | A | Thyroid ablation, carcinoma | 2.10 | 3.26 | NA | 0.20 | 5.56 | NA | XXX
79030 | 26 | A | Thyroid ablation, carcinoma | 2.10 | 0.77 | 0.77 | 0.08 | 2.95 | 2.95 | XXX
79030 | TC | A | Thyroid ablation, carcinoma | 0.00 | 2.49 | NA | 0.12 | 2.61 | NA | XXX
79035 |  | A | Thyroid metastatic therapy | 2.52 | 3.43 | NA | 0.21 | 6.16 | NA | XXX
79035 | 26 | A | Thyroid metastatic therapy | 2.52 | 0.94 | 0.94 | 0.09 | 3.55 | 3.55 | XXX
79035 | TC | A | Thyroid metastatic therapy | 0.00 | 2.49 | NA | 0.12 | 2.61 | NA | XXX
79100 |  | A | Hematopoetic nuclear therapy | 1.32 | 3.00 | NA | 0.17 | 4.49 | NA | XXX
79100 | 26 | A | Hematopoetic nuclear therapy | 1.32 | 0.51 | 0.51 | 0.05 | 1.88 | 1.88 | XXX
79100 | TC | A | Hematopoetic nuclear therapy | 0.00 | 2.49 | NA | 0.12 | 2.61 | NA | XXX
79200 |  | A | Intracavitary nuclear trmt | 1.99 | 3.23 | NA | 0.19 | 5.41 | NA | XXX
79200 | 26 | A | Intracavitary nuclear trmt | 1.99 | 0.74 | 0.74 | 0.07 | 2.80 | 2.80 | XXX
79200 | TC | A | Intracavitary nuclear trmt | 0.00 | 2.49 | NA | 0.12 | 2.61 | NA | XXX
79300 |  | C | Interstitial nuclear therapy | 0.00 | 0.00 | 0.00 | 0.00 | 0.00 | 0.00 | XXX
79300 | 26 | A | Interstitial nuclear therapy | 1.60 | 0.68 | 0.68 | 0.07 | 2.35 | 2.35 | XXX
79300 | TC | C | Interstitial nuclear therapy | 0.00 | 0.00 | 0.00 | 0.00 | 0.00 | 0.00 | XXX
79400 |  | A | Nonhemato nuclear therapy | 1.96 | 3.22 | NA | 0.20 | 5.38 | NA | XXX
79400 | 26 | A | Nonhemato nuclear therapy | 1.96 | 0.73 | 0.73 | 0.08 | 2.77 | 2.77 | XXX
79400 | TC | A | Nonhemato nuclear therapy | 0.00 | 2.49 | NA | 0.12 | 2.61 | NA | XXX
79420 |  | C | Intravascular nuclear ther | 0.00 | 0.00 | 0.00 | 0.00 | 0.00 | 0.00 | XXX
79420 | 26 | A | Intravascular nuclear ther | 1.51 | 0.54 | 0.54 | 0.06 | 2.11 | 2.11 | XXX
79420 | TC | C | Intravascular nuclear ther | 0.00 | 0.00 | 0.00 | 0.00 | 0.00 | 0.00 | XXX
79440 |  | A | Nuclear joint therapy | 1.99 | 3.29 | NA | 0.20 | 5.48 | NA | XXX
79440 | 26 | A | Nuclear joint therapy | 1.99 | 0.80 | 0.80 | 0.08 | 2.87 | 2.87 | XXX
79440 | TC | A | Nuclear joint therapy | 0.00 | 2.49 | NA | 0.12 | 2.61 | NA | XXX
79900 |  | C | Provide ther radiopharm(s) | 0.00 | 0.00 | 0.00 | 0.00 | 0.00 | 0.00 | XXX
79999 |  | C | Nuclear medicine therapy | 0.00 | 0.00 | 0.00 | 0.00 | 0.00 | 0.00 | XXX
79999 | 26 | C | Nuclear medicine therapy | 0.00 | 0.00 | 0.00 | 0.00 | 0.00 | 0.00 | XXX
79999 | TC | C | Nuclear medicine therapy | 0.00 | 0.00 | 0.00 | 0.00 | 0.00 | 0.00 | XXX
80048 |  | X | Basic metabolic panel | 0.00 | 0.00 | 0.00 | 0.00 | 0.00 | 0.00 | XXX
80050 |  | N | General health panel | 0.00 | 0.00 | 0.00 | 0.00 | 0.00 | 0.00 | XXX
80051 |  | X | Electrolyte panel | 0.00 | 0.00 | 0.00 | 0.00 | 0.00 | 0.00 | XXX
80053 |  | X | Comprehen metabolic panel | 0.00 | 0.00 | 0.00 | 0.00 | 0.00 | 0.00 | XXX
80055 |  | I | Obstetric panel | 0.00 | 0.00 | 0.00 | 0.00 | 0.00 | 0.00 | XXX
80061 |  | X | Lipid panel | 0.00 | 0.00 | 0.00 | 0.00 | 0.00 | 0.00 | XXX
80069 |  | X | Renal function panel | 0.00 | 0.00 | 0.00 | 0.00 | 0.00 | 0.00 | XXX
80072 |  | D | Arthritis panel | 0.00 | 0.00 | 0.00 | 0.00 | 0.00 | 0.00 | XXX
80074 |  | X | Acute hepatitis panel | 0.00 | 0.00 | 0.00 | 0.00 | 0.00 | 0.00 | XXX
80076 |  | X | Hepatic function panel | 0.00 | 0.00 | 0.00 | 0.00 | 0.00 | 0.00 | XXX
80090 |  | X | Torch antibody panel | 0.00 | 0.00 | 0.00 | 0.00 | 0.00 | 0.00 | XXX
80100 |  | X | Drug screen, qualitate/multi | 0.00 | 0.00 | 0.00 | 0.00 | 0.00 | 0.00 | XXX
80101 |  | X | Drug screen, single | 0.00 | 0.00 | 0.00 | 0.00 | 0.00 | 0.00 | XXX
80102 |  | X | Drug confirmation | 0.00 | 0.00 | 0.00 | 0.00 | 0.00 | 0.00 | XXX
80103 |  | X | Drug analysis, tissue prep | 0.00 | 0.00 | 0.00 | 0.00 | 0.00 | 0.00 | XXX
80150 |  | X | Assay of amikacin | 0.00 | 0.00 | 0.00 | 0.00 | 0.00 | 0.00 | XXX
80152 |  | X | Assay of amitriptyline | 0.00 | 0.00 | 0.00 | 0.00 | 0.00 | 0.00 | XXX
80154 |  | X | Assay of benzodiazepines | 0.00 | 0.00 | 0.00 | 0.00 | 0.00 | 0.00 | XXX
80156 |  | X | Assay, carbamazepine, total | 0.00 | 0.00 | 0.00 | 0.00 | 0.00 | 0.00 | XXX
80157 |  | X | Assay, carbamazepine, free | 0.00 | 0.00 | 0.00 | 0.00 | 0.00 | 0.00 | XXX
80158 |  | X | Assay of cyclosporine | 0.00 | 0.00 | 0.00 | 0.00 | 0.00 | 0.00 | XXX
80160 |  | X | Assay of desipramine | 0.00 | 0.00 | 0.00 | 0.00 | 0.00 | 0.00 | XXX
80162 |  | X | Assay of digoxin | 0.00 | 0.00 | 0.00 | 0.00 | 0.00 | 0.00 | XXX
80164 |  | X | Assay, dipropylacetic acid | 0.00 | 0.00 | 0.00 | 0.00 | 0.00 | 0.00 | XXX
80166 |  | X | Assay of doxepin | 0.00 | 0.00 | 0.00 | 0.00 | 0.00 | 0.00 | XXX
80168 |  | X | Assay of ethosuximide | 0.00 | 0.00 | 0.00 | 0.00 | 0.00 | 0.00 | XXX
80170 |  | X | Assay of gentamicin | 0.00 | 0.00 | 0.00 | 0.00 | 0.00 | 0.00 | XXX
80172 |  | X | Assay of gold | 0.00 | 0.00 | 0.00 | 0.00 | 0.00 | 0.00 | XXX
80173 |  | X | Assay of haloperidol | 0.00 | 0.00 | 0.00 | 0.00 | 0.00 | 0.00 | XXX
80174 |  | X | Assay of imipramine | 0.00 | 0.00 | 0.00 | 0.00 | 0.00 | 0.00 | XXX
80176 |  | X | Assay of lidocaine | 0.00 | 0.00 | 0.00 | 0.00 | 0.00 | 0.00 | XXX
80178 |  | X | Assay of lithium | 0.00 | 0.00 | 0.00 | 0.00 | 0.00 | 0.00 | XXX
80182 |  | X | Assay of nortriptyline | 0.00 | 0.00 | 0.00 | 0.00 | 0.00 | 0.00 | XXX
80184 |  | X | Assay of phenobarbital | 0.00 | 0.00 | 0.00 | 0.00 | 0.00 | 0.00 | XXX
80185 |  | X | Assay of phenytoin, total | 0.00 | 0.00 | 0.00 | 0.00 | 0.00 | 0.00 | XXX
80186 |  | X | Assay of phenytoin, free | 0.00 | 0.00 | 0.00 | 0.00 | 0.00 | 0.00 | XXX
80188 |  | X | Assay of primidone | 0.00 | 0.00 | 0.00 | 0.00 | 0.00 | 0.00 | XXX
80190 |  | X | Assay of procainamide | 0.00 | 0.00 | 0.00 | 0.00 | 0.00 | 0.00 | XXX
80192 |  | X | Assay of procainamide | 0.00 | 0.00 | 0.00 | 0.00 | 0.00 | 0.00 | XXX
80194 |  | X | Assay of quinidine | 0.00 | 0.00 | 0.00 | 0.00 | 0.00 | 0.00 | XXX
80196 |  | X | Assay of salicylate | 0.00 | 0.00 | 0.00 | 0.00 | 0.00 | 0.00 | XXX
80197 |  | X | Assay of tacrolimus | 0.00 | 0.00 | 0.00 | 0.00 | 0.00 | 0.00 | XXX
80198 |  | X | Assay of theophylline | 0.00 | 0.00 | 0.00 | 0.00 | 0.00 | 0.00 | XXX
80200 |  | X | Assay of tobramycin | 0.00 | 0.00 | 0.00 | 0.00 | 0.00 | 0.00 | XXX
80201 |  | X | Assay of topiramate | 0.00 | 0.00 | 0.00 | 0.00 | 0.00 | 0.00 | XXX
80202 |  | X | Assay of vancomycin | 0.00 | 0.00 | 0.00 | 0.00 | 0.00 | 0.00 | XXX
80299 |  | X | Quantitative assay, drug | 0.00 | 0.00 | 0.00 | 0.00 | 0.00 | 0.00 | XXX
80400 |  | X | Acth stimulation panel | 0.00 | 0.00 | 0.00 | 0.00 | 0.00 | 0.00 | XXX
80402 |  | X | Acth stimulation panel | 0.00 | 0.00 | 0.00 | 0.00 | 0.00 | 0.00 | XXX
80406 |  | X | Acth stimulation panel | 0.00 | 0.00 | 0.00 | 0.00 | 0.00 | 0.00 | XXX
80408 |  | X | Aldosterone suppression eval | 0.00 | 0.00 | 0.00 | 0.00 | 0.00 | 0.00 | XXX
80410 |  | X | Calcitonin stimul panel | 0.00 | 0.00 | 0.00 | 0.00 | 0.00 | 0.00 | XXX
80412 |  | X | CRH stimulation panel | 0.00 | 0.00 | 0.00 | 0.00 | 0.00 | 0.00 | XXX
80414 |  | X | Testosterone response | 0.00 | 0.00 | 0.00 | 0.00 | 0.00 | 0.00 | XXX
80415 |  | X | Estradiol response panel | 0.00 | 0.00 | 0.00 | 0.00 | 0.00 | 0.00 | XXX
80416 |  | X | Renin stimulation panel | 0.00 | 0.00 | 0.00 | 0.00 | 0.00 | 0.00 | XXX
80417 |  | X | Renin stimulation panel | 0.00 | 0.00 | 0.00 | 0.00 | 0.00 | 0.00 | XXX
80418 |  | X | Pituitary evaluation panel | 0.00 | 0.00 | 0.00 | 0.00 | 0.00 | 0.00 | XXX
80420 |  | X | Dexamethasone panel | 0.00 | 0.00 | 0.00 | 0.00 | 0.00 | 0.00 | XXX
80422 |  | X | Glucagon tolerance panel | 0.00 | 0.00 | 0.00 | 0.00 | 0.00 | 0.00 | XXX
80424 |  | X | Glucagon tolerance panel | 0.00 | 0.00 | 0.00 | 0.00 | 0.00 | 0.00 | XXX
80426 |  | X | Gonadotropin hormone panel | 0.00 | 0.00 | 0.00 | 0.00 | 0.00 | 0.00 | XXX
80428 |  | X | Growth hormone panel | 0.00 | 0.00 | 0.00 | 0.00 | 0.00 | 0.00 | XXX
80430 |  | X | Growth hormone panel | 0.00 | 0.00 | 0.00 | 0.00 | 0.00 | 0.00 | XXX
80432 |  | X | Insulin suppression panel | 0.00 | 0.00 | 0.00 | 0.00 | 0.00 | 0.00 | XXX
80434 |  | X | Insulin tolerance panel | 0.00 | 0.00 | 0.00 | 0.00 | 0.00 | 0.00 | XXX
80435 |  | X | Insulin tolerance panel | 0.00 | 0.00 | 0.00 | 0.00 | 0.00 | 0.00 | XXX
80436 |  | X | Metyrapone panel | 0.00 | 0.00 | 0.00 | 0.00 | 0.00 | 0.00 | XXX
80438 |  | X | TRH stimulation panel | 0.00 | 0.00 | 0.00 | 0.00 | 0.00 | 0.00 | XXX
80439 |  | X | TRH stimulation panel | 0.00 | 0.00 | 0.00 | 0.00 | 0.00 | 0.00 | XXX
80440 |  | X | TRH stimulation panel | 0.00 | 0.00 | 0.00 | 0.00 | 0.00 | 0.00 | XXX
80500 |  | A | Lab pathology consultation | 0.37 | 0.21 | 0.17 | 0.01 | 0.59 | 0.55 | XXX
80502 |  | A | Lab pathology consultation | 1.33 | 0.63 | 0.61 | 0.05 | 2.01 | 1.99 | XXX
81000 |  | X | Urinalysis, nonauto w/scope | 0.00 | 0.00 | 0.00 | 0.00 | 0.00 | 0.00 | XXX
81001 |  | X | Urinalysis, auto w/scope | 0.00 | 0.00 | 0.00 | 0.00 | 0.00 | 0.00 | XXX
81002 |  | X | Urinalysis nonauto w/o scope | 0.00 | 0.00 | 0.00 | 0.00 | 0.00 | 0.00 | XXX
81003 |  | X | Urinalysis, auto, w/o scope | 0.00 | 0.00 | 0.00 | 0.00 | 0.00 | 0.00 | XXX
81005 |  | X | Urinalysis | 0.00 | 0.00 | 0.00 | 0.00 | 0.00 | 0.00 | XXX
81007 |  | X | Urine screen for bacteria | 0.00 | 0.00 | 0.00 | 0.00 | 0.00 | 0.00 | XXX
81015 |  | X | Microscopic exam of urine | 0.00 | 0.00 | 0.00 | 0.00 | 0.00 | 0.00 | XXX
81020 |  | X | Urinalysis, glass test | 0.00 | 0.00 | 0.00 | 0.00 | 0.00 | 0.00 | XXX
81025 |  | X | Urine pregnancy test | 0.00 | 0.00 | 0.00 | 0.00 | 0.00 | 0.00 | XXX
81050 |  | X | Urinalysis, volume measure | 0.00 | 0.00 | 0.00 | 0.00 | 0.00 | 0.00 | XXX
81099 |  | X | Urinalysis test procedure | 0.00 | 0.00 | 0.00 | 0.00 | 0.00 | 0.00 | XXX
82000 |  | X | Assay of blood acetaldehyde | 0.00 | 0.00 | 0.00 | 0.00 | 0.00 | 0.00 | XXX
82003 |  | X | Assay of acetaminophen | 0.00 | 0.00 | 0.00 | 0.00 | 0.00 | 0.00 | XXX
82009 |  | X | Test for acetone/ketones | 0.00 | 0.00 | 0.00 | 0.00 | 0.00 | 0.00 | XXX
82010 |  | X | Acetone assay | 0.00 | 0.00 | 0.00 | 0.00 | 0.00 | 0.00 | XXX
82013 |  | X | Acetylcholinesterase assay | 0.00 | 0.00 | 0.00 | 0.00 | 0.00 | 0.00 | XXX
82016 |  | X | Acylcarnitines, qual | 0.00 | 0.00 | 0.00 | 0.00 | 0.00 | 0.00 | XXX
82017 |  | X | Acylcarnitines, quant | 0.00 | 0.00 | 0.00 | 0.00 | 0.00 | 0.00 | XXX
82024 |  | X | Assay of acth | 0.00 | 0.00 | 0.00 | 0.00 | 0.00 | 0.00 | XXX
82030 |  | X | Assay of adp & amp | 0.00 | 0.00 | 0.00 | 0.00 | 0.00 | 0.00 | XXX
82040 |  | X | Assay of serum albumin | 0.00 | 0.00 | 0.00 | 0.00 | 0.00 | 0.00 | XXX
82042 |  | X | Assay of urine albumin | 0.00 | 0.00 | 0.00 | 0.00 | 0.00 | 0.00 | XXX
82043 |  | X | Microalbumin, quantitative | 0.00 | 0.00 | 0.00 | 0.00 | 0.00 | 0.00 | XXX
82044 |  | X | Microalbumin, semiquant | 0.00 | 0.00 | 0.00 | 0.00 | 0.00 | 0.00 | XXX
82055 |  | X | Assay of ethanol | 0.00 | 0.00 | 0.00 | 0.00 | 0.00 | 0.00 | XXX
82075 |  | X | Assay of breath ethanol | 0.00 | 0.00 | 0.00 | 0.00 | 0.00 | 0.00 | XXX
82085 |  | X | Assay of aldolase | 0.00 | 0.00 | 0.00 | 0.00 | 0.00 | 0.00 | XXX
82088 |  | X | Assay of aldosterone | 0.00 | 0.00 | 0.00 | 0.00 | 0.00 | 0.00 | XXX
82101 |  | X | Assay of urine alkaloids | 0.00 | 0.00 | 0.00 | 0.00 | 0.00 | 0.00 | XXX
82103 |  | X | Alpha-1-antitrypsin, total | 0.00 | 0.00 | 0.00 | 0.00 | 0.00 | 0.00 | XXX
82104 |  | X | Alpha-1-antitrypsin, pheno | 0.00 | 0.00 | 0.00 | 0.00 | 0.00 | 0.00 | XXX
82105 |  | X | Alpha-fetoprotein, serum | 0.00 | 0.00 | 0.00 | 0.00 | 0.00 | 0.00 | XXX
82106 |  | X | Alpha-fetoprotein, amniotic | 0.00 | 0.00 | 0.00 | 0.00 | 0.00 | 0.00 | XXX
82108 |  | X | Assay of aluminum | 0.00 | 0.00 | 0.00 | 0.00 | 0.00 | 0.00 | XXX
82120 |  | X | Amines, vaginal fluid qual | 0.00 | 0.00 | 0.00 | 0.00 | 0.00 | 0.00 | XXX
82127 |  | X | Amino acid, single qual | 0.00 | 0.00 | 0.00 | 0.00 | 0.00 | 0.00 | XXX
82128 |  | X | Amino acids, mult qual | 0.00 | 0.00 | 0.00 | 0.00 | 0.00 | 0.00 | XXX
82131 |  | X | Amino acids, single quant | 0.00 | 0.00 | 0.00 | 0.00 | 0.00 | 0.00 | XXX
82135 |  | X | Assay, aminolevulinic acid | 0.00 | 0.00 | 0.00 | 0.00 | 0.00 | 0.00 | XXX
82136 |  | X | Amino acids, quant, 2-5 | 0.00 | 0.00 | 0.00 | 0.00 | 0.00 | 0.00 | XXX
82139 |  | X | Amino acids, quan, 6 or more | 0.00 | 0.00 | 0.00 | 0.00 | 0.00 | 0.00 | XXX
82140 |  | X | Assay of ammonia | 0.00 | 0.00 | 0.00 | 0.00 | 0.00 | 0.00 | XXX
82143 |  | X | Amniotic fluid scan | 0.00 | 0.00 | 0.00 | 0.00 | 0.00 | 0.00 | XXX
82145 |  | X | Assay of amphetamines | 0.00 | 0.00 | 0.00 | 0.00 | 0.00 | 0.00 | XXX
82150 |  | X | Assay of amylase | 0.00 | 0.00 | 0.00 | 0.00 | 0.00 | 0.00 | XXX
82154 |  | X | Androstanediol glucuronide | 0.00 | 0.00 | 0.00 | 0.00 | 0.00 | 0.00 | XXX
82157 |  | X | Assay of androstenedione | 0.00 | 0.00 | 0.00 | 0.00 | 0.00 | 0.00 | XXX
82160 |  | X | Assay of androsterone | 0.00 | 0.00 | 0.00 | 0.00 | 0.00 | 0.00 | XXX
82163 |  | X | Assay of angiotensin II | 0.00 | 0.00 | 0.00 | 0.00 | 0.00 | 0.00 | XXX
82164 |  | X | Angiotensin I enzyme test | 0.00 | 0.00 | 0.00 | 0.00 | 0.00 | 0.00 | XXX
82172 |  | X | Assay of apolipoprotein | 0.00 | 0.00 | 0.00 | 0.00 | 0.00 | 0.00 | XXX
82175 |  | X | Assay of arsenic | 0.00 | 0.00 | 0.00 | 0.00 | 0.00 | 0.00 | XXX
82180 |  | X | Assay of ascorbic acid | 0.00 | 0.00 | 0.00 | 0.00 | 0.00 | 0.00 | XXX
82190 |  | X | Atomic absorption | 0.00 | 0.00 | 0.00 | 0.00 | 0.00 | 0.00 | XXX
82205 |  | X | Assay of barbiturates | 0.00 | 0.00 | 0.00 | 0.00 | 0.00 | 0.00 | XXX
82232 |  | X | Assay of beta-2 protein | 0.00 | 0.00 | 0.00 | 0.00 | 0.00 | 0.00 | XXX
82239 |  | X | Bile acids, total | 0.00 | 0.00 | 0.00 | 0.00 | 0.00 | 0.00 | XXX
82240 |  | X | Bile acids, cholylglycine | 0.00 | 0.00 | 0.00 | 0.00 | 0.00 | 0.00 | XXX
82247 |  | X | Bilirubin, total | 0.00 | 0.00 | 0.00 | 0.00 | 0.00 | 0.00 | XXX
82248 |  | X | Bilirubin, direct | 0.00 | 0.00 | 0.00 | 0.00 | 0.00 | 0.00 | XXX
82252 |  | X | Fecal bilirubin test | 0.00 | 0.00 | 0.00 | 0.00 | 0.00 | 0.00 | XXX
82261 |  | X | Assay of biotinidase | 0.00 | 0.00 | 0.00 | 0.00 | 0.00 | 0.00 | XXX
82270 |  | X | Test for blood, feces | 0.00 | 0.00 | 0.00 | 0.00 | 0.00 | 0.00 | XXX
82273 |  | X | Test for blood, other source | 0.00 | 0.00 | 0.00 | 0.00 | 0.00 | 0.00 | XXX
82274 |  | X | Assay test for blood, fecal | 0.00 | 0.00 | 0.00 | 0.00 | 0.00 | 0.00 | XXX
82286 |  | X | Assay of bradykinin | 0.00 | 0.00 | 0.00 | 0.00 | 0.00 | 0.00 | XXX
82300 |  | X | Assay of cadmium | 0.00 | 0.00 | 0.00 | 0.00 | 0.00 | 0.00 | XXX
82306 |  | X | Assay of vitamin D | 0.00 | 0.00 | 0.00 | 0.00 | 0.00 | 0.00 | XXX
82307 |  | X | Assay of vitamin D | 0.00 | 0.00 | 0.00 | 0.00 | 0.00 | 0.00 | XXX
82308 |  | X | Assay of calcitonin | 0.00 | 0.00 | 0.00 | 0.00 | 0.00 | 0.00 | XXX
82310 |  | X | Assay of calcium | 0.00 | 0.00 | 0.00 | 0.00 | 0.00 | 0.00 | XXX
82330 |  | X | Assay of calcium | 0.00 | 0.00 | 0.00 | 0.00 | 0.00 | 0.00 | XXX
82331 |  | X | Calcium infusion test | 0.00 | 0.00 | 0.00 | 0.00 | 0.00 | 0.00 | XXX
82340 |  | X | Assay of calcium in urine | 0.00 | 0.00 | 0.00 | 0.00 | 0.00 | 0.00 | XXX
82355 |  | X | Calculus analysis, qual | 0.00 | 0.00 | 0.00 | 0.00 | 0.00 | 0.00 | XXX
82360 |  | X | Calculus assay, quant | 0.00 | 0.00 | 0.00 | 0.00 | 0.00 | 0.00 | XXX
82365 |  | X | Calculus spectroscopy | 0.00 | 0.00 | 0.00 | 0.00 | 0.00 | 0.00 | XXX
82370 |  | X | X-ray assay, calculus | 0.00 | 0.00 | 0.00 | 0.00 | 0.00 | 0.00 | XXX
82373 |  | X | Assay, c-d transfer measure | 0.00 | 0.00 | 0.00 | 0.00 | 0.00 | 0.00 | XXX
82374 |  | X | Assay, blood carbon dioxide | 0.00 | 0.00 | 0.00 | 0.00 | 0.00 | 0.00 | XXX
82375 |  | X | Assay, blood carbon monoxide | 0.00 | 0.00 | 0.00 | 0.00 | 0.00 | 0.00 | XXX
82376 |  | X | Test for carbon monoxide | 0.00 | 0.00 | 0.00 | 0.00 | 0.00 | 0.00 | XXX
82378 |  | X | Carcinoembryonic antigen | 0.00 | 0.00 | 0.00 | 0.00 | 0.00 | 0.00 | XXX
82379 |  | X | Assay of carnitine | 0.00 | 0.00 | 0.00 | 0.00 | 0.00 | 0.00 | XXX
82380 |  | X | Assay of carotene | 0.00 | 0.00 | 0.00 | 0.00 | 0.00 | 0.00 | XXX
82382 |  | X | Assay, urine catecholamines | 0.00 | 0.00 | 0.00 | 0.00 | 0.00 | 0.00 | XXX
82383 |  | X | Assay, blood catecholamines | 0.00 | 0.00 | 0.00 | 0.00 | 0.00 | 0.00 | XXX
82384 |  | X | Assay, three catecholamines | 0.00 | 0.00 | 0.00 | 0.00 | 0.00 | 0.00 | XXX
82387 |  | X | Assay of cathepsin-d | 0.00 | 0.00 | 0.00 | 0.00 | 0.00 | 0.00 | XXX
82390 |  | X | Assay of ceruloplasmin | 0.00 | 0.00 | 0.00 | 0.00 | 0.00 | 0.00 | XXX
82397 |  | X | Chemiluminescent assay | 0.00 | 0.00 | 0.00 | 0.00 | 0.00 | 0.00 | XXX
82415 |  | X | Assay of chloramphenicol | 0.00 | 0.00 | 0.00 | 0.00 | 0.00 | 0.00 | XXX
82435 |  | X | Assay of blood chloride | 0.00 | 0.00 | 0.00 | 0.00 | 0.00 | 0.00 | XXX
82436 |  | X | Assay of urine chloride | 0.00 | 0.00 | 0.00 | 0.00 | 0.00 | 0.00 | XXX
82438 |  | X | Assay, other fluid chlorides | 0.00 | 0.00 | 0.00 | 0.00 | 0.00 | 0.00 | XXX
82441 |  | X | Test for chlorohydrocarbons | 0.00 | 0.00 | 0.00 | 0.00 | 0.00 | 0.00 | XXX
82465 |  | X | Assay, bld/serum cholesterol | 0.00 | 0.00 | 0.00 | 0.00 | 0.00 | 0.00 | XXX
82480 |  | X | Assay, serum cholinesterase | 0.00 | 0.00 | 0.00 | 0.00 | 0.00 | 0.00 | XXX
82482 |  | X | Assay, rbc cholinesterase | 0.00 | 0.00 | 0.00 | 0.00 | 0.00 | 0.00 | XXX
82485 |  | X | Assay, chondroitin sulfate | 0.00 | 0.00 | 0.00 | 0.00 | 0.00 | 0.00 | XXX
82486 |  | X | Gas/liquid chromatography | 0.00 | 0.00 | 0.00 | 0.00 | 0.00 | 0.00 | XXX
82487 |  | X | Paper chromatography | 0.00 | 0.00 | 0.00 | 0.00 | 0.00 | 0.00 | XXX
82488 |  | X | Paper chromatography | 0.00 | 0.00 | 0.00 | 0.00 | 0.00 | 0.00 | XXX
82489 |  | X | Thin layer chromatography | 0.00 | 0.00 | 0.00 | 0.00 | 0.00 | 0.00 | XXX
82491 |  | X | Chromotography, quant, sing | 0.00 | 0.00 | 0.00 | 0.00 | 0.00 | 0.00 | XXX
82492 |  | X | Chromotography, quant, mult | 0.00 | 0.00 | 0.00 | 0.00 | 0.00 | 0.00 | XXX
82495 |  | X | Assay of chromium | 0.00 | 0.00 | 0.00 | 0.00 | 0.00 | 0.00 | XXX
82507 |  | X | Assay of citrate | 0.00 | 0.00 | 0.00 | 0.00 | 0.00 | 0.00 | XXX
82520 |  | X | Assay of cocaine | 0.00 | 0.00 | 0.00 | 0.00 | 0.00 | 0.00 | XXX
82523 |  | X | Collagen crosslinks | 0.00 | 0.00 | 0.00 | 0.00 | 0.00 | 0.00 | XXX
82525 |  | X | Assay of copper | 0.00 | 0.00 | 0.00 | 0.00 | 0.00 | 0.00 | XXX
82528 |  | X | Assay of corticosterone | 0.00 | 0.00 | 0.00 | 0.00 | 0.00 | 0.00 | XXX
82530 |  | X | Cortisol, free | 0.00 | 0.00 | 0.00 | 0.00 | 0.00 | 0.00 | XXX
82533 |  | X | Total cortisol | 0.00 | 0.00 | 0.00 | 0.00 | 0.00 | 0.00 | XXX
82540 |  | X | Assay of creatine | 0.00 | 0.00 | 0.00 | 0.00 | 0.00 | 0.00 | XXX
82541 |  | X | Column chromotography, qual | 0.00 | 0.00 | 0.00 | 0.00 | 0.00 | 0.00 | XXX
82542 |  | X | Column chromotography, quant | 0.00 | 0.00 | 0.00 | 0.00 | 0.00 | 0.00 | XXX
82543 |  | X | Column chromotograph/isotope | 0.00 | 0.00 | 0.00 | 0.00 | 0.00 | 0.00 | XXX
82544 |  | X | Column chromotograph/isotope | 0.00 | 0.00 | 0.00 | 0.00 | 0.00 | 0.00 | XXX
82550 |  | X | Assay of ck (cpk) | 0.00 | 0.00 | 0.00 | 0.00 | 0.00 | 0.00 | XXX
82552 |  | X | Assay of cpk in blood | 0.00 | 0.00 | 0.00 | 0.00 | 0.00 | 0.00 | XXX
82553 |  | X | Creatine, MB fraction | 0.00 | 0.00 | 0.00 | 0.00 | 0.00 | 0.00 | XXX
82554 |  | X | Creatine, isoforms | 0.00 | 0.00 | 0.00 | 0.00 | 0.00 | 0.00 | XXX
82565 |  | X | Assay of creatinine | 0.00 | 0.00 | 0.00 | 0.00 | 0.00 | 0.00 | XXX
82570 |  | X | Assay of urine creatinine | 0.00 | 0.00 | 0.00 | 0.00 | 0.00 | 0.00 | XXX
82575 |  | X | Creatinine clearance test | 0.00 | 0.00 | 0.00 | 0.00 | 0.00 | 0.00 | XXX
82585 |  | X | Assay of cryofibrinogen | 0.00 | 0.00 | 0.00 | 0.00 | 0.00 | 0.00 | XXX
82595 |  | X | Assay of cryoglobulin | 0.00 | 0.00 | 0.00 | 0.00 | 0.00 | 0.00 | XXX
82600 |  | X | Assay of cyanide | 0.00 | 0.00 | 0.00 | 0.00 | 0.00 | 0.00 | XXX
82607 |  | X | Vitamin B-12 | 0.00 | 0.00 | 0.00 | 0.00 | 0.00 | 0.00 | XXX
82608 |  | X | B-12 binding capacity | 0.00 | 0.00 | 0.00 | 0.00 | 0.00 | 0.00 | XXX
82615 |  | X | Test for urine cystines | 0.00 | 0.00 | 0.00 | 0.00 | 0.00 | 0.00 | XXX
82626 |  | X | Dehydroepiandrosterone | 0.00 | 0.00 | 0.00 | 0.00 | 0.00 | 0.00 | XXX
82627 |  | X | Dehydroepiandrosterone | 0.00 | 0.00 | 0.00 | 0.00 | 0.00 | 0.00 | XXX
82633 |  | X | Desoxycorticosterone | 0.00 | 0.00 | 0.00 | 0.00 | 0.00 | 0.00 | XXX
82634 |  | X | Deoxycortisol | 0.00 | 0.00 | 0.00 | 0.00 | 0.00 | 0.00 | XXX
82638 |  | X | Assay of dibucaine number | 0.00 | 0.00 | 0.00 | 0.00 | 0.00 | 0.00 | XXX
82646 |  | X | Assay of dihydrocodeinone | 0.00 | 0.00 | 0.00 | 0.00 | 0.00 | 0.00 | XXX
82649 |  | X | Assay of dihydromorphinone | 0.00 | 0.00 | 0.00 | 0.00 | 0.00 | 0.00 | XXX
82651 |  | X | Assay of dihydrotestosterone | 0.00 | 0.00 | 0.00 | 0.00 | 0.00 | 0.00 | XXX
82652 |  | X | Assay of dihydroxyvitamin d | 0.00 | 0.00 | 0.00 | 0.00 | 0.00 | 0.00 | XXX
82654 |  | X | Assay of dimethadione | 0.00 | 0.00 | 0.00 | 0.00 | 0.00 | 0.00 | XXX
82657 |  | X | Enzyme cell activity | 0.00 | 0.00 | 0.00 | 0.00 | 0.00 | 0.00 | XXX
82658 |  | X | Enzyme cell activity, ra | 0.00 | 0.00 | 0.00 | 0.00 | 0.00 | 0.00 | XXX
82664 |  | X | Electrophoretic test | 0.00 | 0.00 | 0.00 | 0.00 | 0.00 | 0.00 | XXX
82666 |  | X | Assay of epiandrosterone | 0.00 | 0.00 | 0.00 | 0.00 | 0.00 | 0.00 | XXX
82668 |  | X | Assay of erythropoietin | 0.00 | 0.00 | 0.00 | 0.00 | 0.00 | 0.00 | XXX
82670 |  | X | Assay of estradiol | 0.00 | 0.00 | 0.00 | 0.00 | 0.00 | 0.00 | XXX
82671 |  | X | Assay of estrogens | 0.00 | 0.00 | 0.00 | 0.00 | 0.00 | 0.00 | XXX
82672 |  | X | Assay of estrogen | 0.00 | 0.00 | 0.00 | 0.00 | 0.00 | 0.00 | XXX
82677 |  | X | Assay of estriol | 0.00 | 0.00 | 0.00 | 0.00 | 0.00 | 0.00 | XXX
82679 |  | X | Assay of estrone | 0.00 | 0.00 | 0.00 | 0.00 | 0.00 | 0.00 | XXX
82690 |  | X | Assay of ethchlorvynol | 0.00 | 0.00 | 0.00 | 0.00 | 0.00 | 0.00 | XXX
82693 |  | X | Assay of ethylene glycol | 0.00 | 0.00 | 0.00 | 0.00 | 0.00 | 0.00 | XXX
82696 |  | X | Assay of etiocholanolone | 0.00 | 0.00 | 0.00 | 0.00 | 0.00 | 0.00 | XXX
82705 |  | X | Fats/lipids, feces, qual | 0.00 | 0.00 | 0.00 | 0.00 | 0.00 | 0.00 | XXX
82710 |  | X | Fats/lipids, feces, quant | 0.00 | 0.00 | 0.00 | 0.00 | 0.00 | 0.00 | XXX
82715 |  | X | Assay of fecal fat | 0.00 | 0.00 | 0.00 | 0.00 | 0.00 | 0.00 | XXX
82725 |  | X | Assay of blood fatty acids | 0.00 | 0.00 | 0.00 | 0.00 | 0.00 | 0.00 | XXX
82726 |  | X | Long chain fatty acids | 0.00 | 0.00 | 0.00 | 0.00 | 0.00 | 0.00 | XXX
82728 |  | X | Assay of ferritin | 0.00 | 0.00 | 0.00 | 0.00 | 0.00 | 0.00 | XXX
82731 |  | X | Assay of fetal fibronectin | 0.00 | 0.00 | 0.00 | 0.00 | 0.00 | 0.00 | XXX
82735 |  | X | Assay of fluoride | 0.00 | 0.00 | 0.00 | 0.00 | 0.00 | 0.00 | XXX
82742 |  | X | Assay of flurazepam | 0.00 | 0.00 | 0.00 | 0.00 | 0.00 | 0.00 | XXX
82746 |  | X | Blood folic acid serum | 0.00 | 0.00 | 0.00 | 0.00 | 0.00 | 0.00 | XXX
82747 |  | X | Assay of folic acid, rbc | 0.00 | 0.00 | 0.00 | 0.00 | 0.00 | 0.00 | XXX
82757 |  | X | Assay of semen fructose | 0.00 | 0.00 | 0.00 | 0.00 | 0.00 | 0.00 | XXX
82759 |  | X | Assay of rbc galactokinase | 0.00 | 0.00 | 0.00 | 0.00 | 0.00 | 0.00 | XXX
82760 |  | X | Assay of galactose | 0.00 | 0.00 | 0.00 | 0.00 | 0.00 | 0.00 | XXX
82775 |  | X | Assay galactose transferase | 0.00 | 0.00 | 0.00 | 0.00 | 0.00 | 0.00 | XXX
82776 |  | X | Galactose transferase test | 0.00 | 0.00 | 0.00 | 0.00 | 0.00 | 0.00 | XXX
82784 |  | X | Assay of gammaglobulin igm | 0.00 | 0.00 | 0.00 | 0.00 | 0.00 | 0.00 | XXX
82785 |  | X | Assay of gammaglobulin ige | 0.00 | 0.00 | 0.00 | 0.00 | 0.00 | 0.00 | XXX
82787 |  | X | Igg 1, 2, 3 or 4, each | 0.00 | 0.00 | 0.00 | 0.00 | 0.00 | 0.00 | XXX
82800 |  | X | Blood pH | 0.00 | 0.00 | 0.00 | 0.00 | 0.00 | 0.00 | XXX
82803 |  | X | Blood gases: pH, pO2 & pCO2 | 0.00 | 0.00 | 0.00 | 0.00 | 0.00 | 0.00 | XXX
82805 |  | X | Blood gases W/02 saturation | 0.00 | 0.00 | 0.00 | 0.00 | 0.00 | 0.00 | XXX
82810 |  | X | Blood gases, O2 sat only | 0.00 | 0.00 | 0.00 | 0.00 | 0.00 | 0.00 | XXX
82820 |  | X | Hemoglobin-oxygen affinity | 0.00 | 0.00 | 0.00 | 0.00 | 0.00 | 0.00 | XXX
82926 |  | X | Assay of gastric acid | 0.00 | 0.00 | 0.00 | 0.00 | 0.00 | 0.00 | XXX
82928 |  | X | Assay of gastric acid | 0.00 | 0.00 | 0.00 | 0.00 | 0.00 | 0.00 | XXX
82938 |  | X | Gastrin test | 0.00 | 0.00 | 0.00 | 0.00 | 0.00 | 0.00 | XXX
82941 |  | X | Assay of gastrin | 0.00 | 0.00 | 0.00 | 0.00 | 0.00 | 0.00 | XXX
82943 |  | X | Assay of glucagon | 0.00 | 0.00 | 0.00 | 0.00 | 0.00 | 0.00 | XXX
82945 |  | X | Glucose other fluid | 0.00 | 0.00 | 0.00 | 0.00 | 0.00 | 0.00 | XXX
82946 |  | X | Glucagon tolerance test | 0.00 | 0.00 | 0.00 | 0.00 | 0.00 | 0.00 | XXX
82947 |  | X | Assay, glucose, blood quant | 0.00 | 0.00 | 0.00 | 0.00 | 0.00 | 0.00 | XXX
82948 |  | X | Reagent strip/blood glucose | 0.00 | 0.00 | 0.00 | 0.00 | 0.00 | 0.00 | XXX
82950 |  | X | Glucose test | 0.00 | 0.00 | 0.00 | 0.00 | 0.00 | 0.00 | XXX
82951 |  | X | Glucose tolerance test (GTT) | 0.00 | 0.00 | 0.00 | 0.00 | 0.00 | 0.00 | XXX
82952 |  | X | GTT-added samples | 0.00 | 0.00 | 0.00 | 0.00 | 0.00 | 0.00 | XXX
82953 |  | X | Glucose-tolbutamide test | 0.00 | 0.00 | 0.00 | 0.00 | 0.00 | 0.00 | XXX
82955 |  | X | Assay of g6pd enzyme | 0.00 | 0.00 | 0.00 | 0.00 | 0.00 | 0.00 | XXX
82960 |  | X | Test for G6PD enzyme | 0.00 | 0.00 | 0.00 | 0.00 | 0.00 | 0.00 | XXX
82962 |  | X | Glucose blood test | 0.00 | 0.00 | 0.00 | 0.00 | 0.00 | 0.00 | XXX
82963 |  | X | Assay of glucosidase | 0.00 | 0.00 | 0.00 | 0.00 | 0.00 | 0.00 | XXX
82965 |  | X | Assay of gdh enzyme | 0.00 | 0.00 | 0.00 | 0.00 | 0.00 | 0.00 | XXX
82975 |  | X | Assay of glutamine | 0.00 | 0.00 | 0.00 | 0.00 | 0.00 | 0.00 | XXX
82977 |  | X | Assay of GGT | 0.00 | 0.00 | 0.00 | 0.00 | 0.00 | 0.00 | XXX
82978 |  | X | Assay of glutathione | 0.00 | 0.00 | 0.00 | 0.00 | 0.00 | 0.00 | XXX
82979 |  | X | Assay, rbc glutathione | 0.00 | 0.00 | 0.00 | 0.00 | 0.00 | 0.00 | XXX
82980 |  | X | Assay of glutethimide | 0.00 | 0.00 | 0.00 | 0.00 | 0.00 | 0.00 | XXX
82985 |  | X | Glycated protein | 0.00 | 0.00 | 0.00 | 0.00 | 0.00 | 0.00 | XXX
83001 |  | X | Gonadotropin (FSH) | 0.00 | 0.00 | 0.00 | 0.00 | 0.00 | 0.00 | XXX
83002 |  | X | Gonadotropin (LH) | 0.00 | 0.00 | 0.00 | 0.00 | 0.00 | 0.00 | XXX
83003 |  | X | Assay, growth hormone (hgh) | 0.00 | 0.00 | 0.00 | 0.00 | 0.00 | 0.00 | XXX
83008 |  | X | Assay of guanosine | 0.00 | 0.00 | 0.00 | 0.00 | 0.00 | 0.00 | XXX
83010 |  | X | Assay of haptoglobin, quant | 0.00 | 0.00 | 0.00 | 0.00 | 0.00 | 0.00 | XXX
83012 |  | X | Assay of haptoglobins | 0.00 | 0.00 | 0.00 | 0.00 | 0.00 | 0.00 | XXX
83013 |  | X | H pylori analysis | 0.00 | 0.00 | 0.00 | 0.00 | 0.00 | 0.00 | XXX
83014 |  | X | H pylori drug admin/collect | 0.00 | 0.00 | 0.00 | 0.00 | 0.00 | 0.00 | XXX
83015 |  | X | Heavy metal screen | 0.00 | 0.00 | 0.00 | 0.00 | 0.00 | 0.00 | XXX
83018 |  | X | Quantitative screen, metals | 0.00 | 0.00 | 0.00 | 0.00 | 0.00 | 0.00 | XXX
83020 |  | X | Hemoglobin electrophoresis | 0.00 | 0.00 | 0.00 | 0.00 | 0.00 | 0.00 | XXX
83020 | 26 | A | Hemoglobin electrophoresis | 0.37 | 0.17 | 0.17 | 0.01 | 0.55 | 0.55 | XXX
83021 |  | X | Hemoglobin chromotography | 0.00 | 0.00 | 0.00 | 0.00 | 0.00 | 0.00 | XXX
83026 |  | X | Hemoglobin, copper sulfate | 0.00 | 0.00 | 0.00 | 0.00 | 0.00 | 0.00 | XXX
83030 |  | X | Fetal hemoglobin, chemical | 0.00 | 0.00 | 0.00 | 0.00 | 0.00 | 0.00 | XXX
83033 |  | X | Fetal hemoglobin assay, qual | 0.00 | 0.00 | 0.00 | 0.00 | 0.00 | 0.00 | XXX
83036 |  | X | Glycated hemoglobin test | 0.00 | 0.00 | 0.00 | 0.00 | 0.00 | 0.00 | XXX
83045 |  | X | Blood methemoglobin test | 0.00 | 0.00 | 0.00 | 0.00 | 0.00 | 0.00 | XXX
83050 |  | X | Blood methemoglobin assay | 0.00 | 0.00 | 0.00 | 0.00 | 0.00 | 0.00 | XXX
83051 |  | X | Assay of plasma hemoglobin | 0.00 | 0.00 | 0.00 | 0.00 | 0.00 | 0.00 | XXX
83055 |  | X | Blood sulfhemoglobin test | 0.00 | 0.00 | 0.00 | 0.00 | 0.00 | 0.00 | XXX
83060 |  | X | Blood sulfhemoglobin assay | 0.00 | 0.00 | 0.00 | 0.00 | 0.00 | 0.00 | XXX
83065 |  | X | Assay of hemoglobin heat | 0.00 | 0.00 | 0.00 | 0.00 | 0.00 | 0.00 | XXX
83068 |  | X | Hemoglobin stability screen | 0.00 | 0.00 | 0.00 | 0.00 | 0.00 | 0.00 | XXX
83069 |  | X | Assay of urine hemoglobin | 0.00 | 0.00 | 0.00 | 0.00 | 0.00 | 0.00 | XXX
83070 |  | X | Assay of hemosiderin, qual | 0.00 | 0.00 | 0.00 | 0.00 | 0.00 | 0.00 | XXX
83071 |  | X | Assay of hemosiderin, quant | 0.00 | 0.00 | 0.00 | 0.00 | 0.00 | 0.00 | XXX
83080 |  | X | Assay of b hexosaminidase | 0.00 | 0.00 | 0.00 | 0.00 | 0.00 | 0.00 | XXX
83088 |  | X | Assay of histamine | 0.00 | 0.00 | 0.00 | 0.00 | 0.00 | 0.00 | XXX
83090 |  | X | Assay of homocystine | 0.00 | 0.00 | 0.00 | 0.00 | 0.00 | 0.00 | XXX
83150 |  | X | Assay of for hva | 0.00 | 0.00 | 0.00 | 0.00 | 0.00 | 0.00 | XXX
83491 |  | X | Assay of corticosteroids | 0.00 | 0.00 | 0.00 | 0.00 | 0.00 | 0.00 | XXX
83497 |  | X | Assay of 5-hiaa | 0.00 | 0.00 | 0.00 | 0.00 | 0.00 | 0.00 | XXX
83498 |  | X | Assay of progesterone | 0.00 | 0.00 | 0.00 | 0.00 | 0.00 | 0.00 | XXX
83499 |  | X | Assay of progesterone | 0.00 | 0.00 | 0.00 | 0.00 | 0.00 | 0.00 | XXX
83500 |  | X | Assay, free hydroxyproline | 0.00 | 0.00 | 0.00 | 0.00 | 0.00 | 0.00 | XXX
83505 |  | X | Assay, total hydroxyproline | 0.00 | 0.00 | 0.00 | 0.00 | 0.00 | 0.00 | XXX
83516 |  | X | Immunoassay, nonantibody | 0.00 | 0.00 | 0.00 | 0.00 | 0.00 | 0.00 | XXX
83518 |  | X | Immunoassay, dipstick | 0.00 | 0.00 | 0.00 | 0.00 | 0.00 | 0.00 | XXX
83519 |  | X | Immunoassay, nonantibody | 0.00 | 0.00 | 0.00 | 0.00 | 0.00 | 0.00 | XXX
83520 |  | X | Immunoassay, RIA | 0.00 | 0.00 | 0.00 | 0.00 | 0.00 | 0.00 | XXX
83525 |  | X | Assay of insulin | 0.00 | 0.00 | 0.00 | 0.00 | 0.00 | 0.00 | XXX
83527 |  | X | Assay of insulin | 0.00 | 0.00 | 0.00 | 0.00 | 0.00 | 0.00 | XXX
83528 |  | X | Assay of intrinsic factor | 0.00 | 0.00 | 0.00 | 0.00 | 0.00 | 0.00 | XXX
83540 |  | X | Assay of iron | 0.00 | 0.00 | 0.00 | 0.00 | 0.00 | 0.00 | XXX
83550 |  | X | Iron binding test | 0.00 | 0.00 | 0.00 | 0.00 | 0.00 | 0.00 | XXX
83570 |  | X | Assay of idh enzyme | 0.00 | 0.00 | 0.00 | 0.00 | 0.00 | 0.00 | XXX
83582 |  | X | Assay of ketogenic steroids | 0.00 | 0.00 | 0.00 | 0.00 | 0.00 | 0.00 | XXX
83586 |  | X | Assay 17- ketosteroids | 0.00 | 0.00 | 0.00 | 0.00 | 0.00 | 0.00 | XXX
83593 |  | X | Fractionation, ketosteroids | 0.00 | 0.00 | 0.00 | 0.00 | 0.00 | 0.00 | XXX
83605 |  | X | Assay of lactic acid | 0.00 | 0.00 | 0.00 | 0.00 | 0.00 | 0.00 | XXX
83615 |  | X | Lactate (LD) (LDH) enzyme | 0.00 | 0.00 | 0.00 | 0.00 | 0.00 | 0.00 | XXX
83625 |  | X | Assay of ldh enzymes | 0.00 | 0.00 | 0.00 | 0.00 | 0.00 | 0.00 | XXX
83632 |  | X | Placental lactogen | 0.00 | 0.00 | 0.00 | 0.00 | 0.00 | 0.00 | XXX
83633 |  | X | Test urine for lactose | 0.00 | 0.00 | 0.00 | 0.00 | 0.00 | 0.00 | XXX
83634 |  | X | Assay of urine for lactose | 0.00 | 0.00 | 0.00 | 0.00 | 0.00 | 0.00 | XXX
83655 |  | X | Assay of lead | 0.00 | 0.00 | 0.00 | 0.00 | 0.00 | 0.00 | XXX
83661 |  | X | L/s ratio, fetal lung | 0.00 | 0.00 | 0.00 | 0.00 | 0.00 | 0.00 | XXX
83662 |  | X | Foam stability, fetal lung | 0.00 | 0.00 | 0.00 | 0.00 | 0.00 | 0.00 | XXX
83663 |  | X | Fluoro polarize, fetal lung | 0.00 | 0.00 | 0.00 | 0.00 | 0.00 | 0.00 | XXX
83664 |  | X | Lamellar bdy, fetal lung | 0.00 | 0.00 | 0.00 | 0.00 | 0.00 | 0.00 | XXX
83670 |  | X | Assay of lap enzyme | 0.00 | 0.00 | 0.00 | 0.00 | 0.00 | 0.00 | XXX
83690 |  | X | Assay of lipase | 0.00 | 0.00 | 0.00 | 0.00 | 0.00 | 0.00 | XXX
83715 |  | X | Assay of blood lipoproteins | 0.00 | 0.00 | 0.00 | 0.00 | 0.00 | 0.00 | XXX
83716 |  | X | Assay of blood lipoproteins | 0.00 | 0.00 | 0.00 | 0.00 | 0.00 | 0.00 | XXX
83718 |  | X | Assay of lipoprotein | 0.00 | 0.00 | 0.00 | 0.00 | 0.00 | 0.00 | XXX
83719 |  | X | Assay of blood lipoprotein | 0.00 | 0.00 | 0.00 | 0.00 | 0.00 | 0.00 | XXX
83721 |  | X | Assay of blood lipoprotein | 0.00 | 0.00 | 0.00 | 0.00 | 0.00 | 0.00 | XXX
83727 |  | X | Assay of lrh hormone | 0.00 | 0.00 | 0.00 | 0.00 | 0.00 | 0.00 | XXX
83735 |  | X | Assay of magnesium | 0.00 | 0.00 | 0.00 | 0.00 | 0.00 | 0.00 | XXX
83775 |  | X | Assay of md enzyme | 0.00 | 0.00 | 0.00 | 0.00 | 0.00 | 0.00 | XXX
83785 |  | X | Assay of manganese | 0.00 | 0.00 | 0.00 | 0.00 | 0.00 | 0.00 | XXX
83788 |  | X | Mass spectrometry qual | 0.00 | 0.00 | 0.00 | 0.00 | 0.00 | 0.00 | XXX
83789 |  | X | Mass spectrometry quant | 0.00 | 0.00 | 0.00 | 0.00 | 0.00 | 0.00 | XXX
83805 |  | X | Assay of meprobamate | 0.00 | 0.00 | 0.00 | 0.00 | 0.00 | 0.00 | XXX
83825 |  | X | Assay of mercury | 0.00 | 0.00 | 0.00 | 0.00 | 0.00 | 0.00 | XXX
83835 |  | X | Assay of metanephrines | 0.00 | 0.00 | 0.00 | 0.00 | 0.00 | 0.00 | XXX
83840 |  | X | Assay of methadone | 0.00 | 0.00 | 0.00 | 0.00 | 0.00 | 0.00 | XXX
83857 |  | X | Assay of methemalbumin | 0.00 | 0.00 | 0.00 | 0.00 | 0.00 | 0.00 | XXX
83858 |  | X | Assay of methsuximide | 0.00 | 0.00 | 0.00 | 0.00 | 0.00 | 0.00 | XXX
83864 |  | X | Mucopolysaccharides | 0.00 | 0.00 | 0.00 | 0.00 | 0.00 | 0.00 | XXX
83866 |  | X | Mucopolysaccharides screen | 0.00 | 0.00 | 0.00 | 0.00 | 0.00 | 0.00 | XXX
83872 |  | X | Assay synovial fluid mucin | 0.00 | 0.00 | 0.00 | 0.00 | 0.00 | 0.00 | XXX
83873 |  | X | Assay of csf protein | 0.00 | 0.00 | 0.00 | 0.00 | 0.00 | 0.00 | XXX
83874 |  | X | Assay of myoglobin | 0.00 | 0.00 | 0.00 | 0.00 | 0.00 | 0.00 | XXX
83883 |  | X | Assay, nephelometry not spec | 0.00 | 0.00 | 0.00 | 0.00 | 0.00 | 0.00 | XXX
83885 |  | X | Assay of nickel | 0.00 | 0.00 | 0.00 | 0.00 | 0.00 | 0.00 | XXX
83887 |  | X | Assay of nicotine | 0.00 | 0.00 | 0.00 | 0.00 | 0.00 | 0.00 | XXX
83890 |  | X | Molecule isolate | 0.00 | 0.00 | 0.00 | 0.00 | 0.00 | 0.00 | XXX
83891 |  | X | Molecule isolate nucleic | 0.00 | 0.00 | 0.00 | 0.00 | 0.00 | 0.00 | XXX
83892 |  | X | Molecular diagnostics | 0.00 | 0.00 | 0.00 | 0.00 | 0.00 | 0.00 | XXX
83893 |  | X | Molecule dot/slot/blot | 0.00 | 0.00 | 0.00 | 0.00 | 0.00 | 0.00 | XXX
83894 |  | X | Molecule gel electrophor | 0.00 | 0.00 | 0.00 | 0.00 | 0.00 | 0.00 | XXX
83896 |  | X | Molecular diagnostics | 0.00 | 0.00 | 0.00 | 0.00 | 0.00 | 0.00 | XXX
83897 |  | X | Molecule nucleic transfer | 0.00 | 0.00 | 0.00 | 0.00 | 0.00 | 0.00 | XXX
83898 |  | X | Molecule nucleic ampli | 0.00 | 0.00 | 0.00 | 0.00 | 0.00 | 0.00 | XXX
83901 |  | X | Molecule nucleic ampli | 0.00 | 0.00 | 0.00 | 0.00 | 0.00 | 0.00 | XXX
83902 |  | X | Molecular diagnostics | 0.00 | 0.00 | 0.00 | 0.00 | 0.00 | 0.00 | XXX
83903 |  | X | Molecule mutation scan | 0.00 | 0.00 | 0.00 | 0.00 | 0.00 | 0.00 | XXX
83904 |  | X | Molecule mutation identify | 0.00 | 0.00 | 0.00 | 0.00 | 0.00 | 0.00 | XXX
83905 |  | X | Molecule mutation identify | 0.00 | 0.00 | 0.00 | 0.00 | 0.00 | 0.00 | XXX
83906 |  | X | Molecule mutation identify | 0.00 | 0.00 | 0.00 | 0.00 | 0.00 | 0.00 | XXX
83912 |  | X | Genetic examination | 0.00 | 0.00 | 0.00 | 0.00 | 0.00 | 0.00 | XXX
83912 | 26 | A | Genetic examination | 0.37 | 0.17 | 0.17 | 0.01 | 0.55 | 0.55 | XXX
83915 |  | X | Assay of nucleotidase | 0.00 | 0.00 | 0.00 | 0.00 | 0.00 | 0.00 | XXX
83916 |  | X | Oligoclonal bands | 0.00 | 0.00 | 0.00 | 0.00 | 0.00 | 0.00 | XXX
83918 |  | X | Organic acids, total, quant | 0.00 | 0.00 | 0.00 | 0.00 | 0.00 | 0.00 | XXX
83919 |  | X | Organic acids, qual, each | 0.00 | 0.00 | 0.00 | 0.00 | 0.00 | 0.00 | XXX
83921 |  | X | Organic acid, single, quant | 0.00 | 0.00 | 0.00 | 0.00 | 0.00 | 0.00 | XXX
83925 |  | X | Assay of opiates | 0.00 | 0.00 | 0.00 | 0.00 | 0.00 | 0.00 | XXX
83930 |  | X | Assay of blood osmolality | 0.00 | 0.00 | 0.00 | 0.00 | 0.00 | 0.00 | XXX
83935 |  | X | Assay of urine osmolality | 0.00 | 0.00 | 0.00 | 0.00 | 0.00 | 0.00 | XXX
83937 |  | X | Assay of osteocalcin | 0.00 | 0.00 | 0.00 | 0.00 | 0.00 | 0.00 | XXX
83945 |  | X | Assay of oxalate | 0.00 | 0.00 | 0.00 | 0.00 | 0.00 | 0.00 | XXX
83950 |  | X | Oncorprotein, her-2/neu | 0.00 | 0.00 | 0.00 | 0.00 | 0.00 | 0.00 | XXX
83970 |  | X | Assay of parathormone | 0.00 | 0.00 | 0.00 | 0.00 | 0.00 | 0.00 | XXX
83986 |  | X | Assay of body fluid acidity | 0.00 | 0.00 | 0.00 | 0.00 | 0.00 | 0.00 | XXX
83992 |  | X | Assay for phencyclidine | 0.00 | 0.00 | 0.00 | 0.00 | 0.00 | 0.00 | XXX
84022 |  | X | Assay of phenothiazine | 0.00 | 0.00 | 0.00 | 0.00 | 0.00 | 0.00 | XXX
84030 |  | X | Assay of blood pku | 0.00 | 0.00 | 0.00 | 0.00 | 0.00 | 0.00 | XXX
84035 |  | X | Assay of phenylketones | 0.00 | 0.00 | 0.00 | 0.00 | 0.00 | 0.00 | XXX
84060 |  | X | Assay acid phosphatase | 0.00 | 0.00 | 0.00 | 0.00 | 0.00 | 0.00 | XXX
84061 |  | X | Phosphatase, forensic exam | 0.00 | 0.00 | 0.00 | 0.00 | 0.00 | 0.00 | XXX
84066 |  | X | Assay prostate phosphatase | 0.00 | 0.00 | 0.00 | 0.00 | 0.00 | 0.00 | XXX
84075 |  | X | Assay alkaline phosphatase | 0.00 | 0.00 | 0.00 | 0.00 | 0.00 | 0.00 | XXX
84078 |  | X | Assay alkaline phosphatase | 0.00 | 0.00 | 0.00 | 0.00 | 0.00 | 0.00 | XXX
84080 |  | X | Assay alkaline phosphatases | 0.00 | 0.00 | 0.00 | 0.00 | 0.00 | 0.00 | XXX
84081 |  | X | Amniotic fluid enzyme test | 0.00 | 0.00 | 0.00 | 0.00 | 0.00 | 0.00 | XXX
84085 |  | X | Assay of rbc pg6d enzyme | 0.00 | 0.00 | 0.00 | 0.00 | 0.00 | 0.00 | XXX
84087 |  | X | Assay phosphohexose enzymes | 0.00 | 0.00 | 0.00 | 0.00 | 0.00 | 0.00 | XXX
84100 |  | X | Assay of phosphorus | 0.00 | 0.00 | 0.00 | 0.00 | 0.00 | 0.00 | XXX
84105 |  | X | Assay of urine phosphorus | 0.00 | 0.00 | 0.00 | 0.00 | 0.00 | 0.00 | XXX
84106 |  | X | Test for porphobilinogen | 0.00 | 0.00 | 0.00 | 0.00 | 0.00 | 0.00 | XXX
84110 |  | X | Assay of porphobilinogen | 0.00 | 0.00 | 0.00 | 0.00 | 0.00 | 0.00 | XXX
84119 |  | X | Test urine for porphyrins | 0.00 | 0.00 | 0.00 | 0.00 | 0.00 | 0.00 | XXX
84120 |  | X | Assay of urine porphyrins | 0.00 | 0.00 | 0.00 | 0.00 | 0.00 | 0.00 | XXX
84126 |  | X | Assay of feces porphyrins | 0.00 | 0.00 | 0.00 | 0.00 | 0.00 | 0.00 | XXX
84127 |  | X | Assay of feces porphyrins | 0.00 | 0.00 | 0.00 | 0.00 | 0.00 | 0.00 | XXX
84132 |  | X | Assay of serum potassium | 0.00 | 0.00 | 0.00 | 0.00 | 0.00 | 0.00 | XXX
84133 |  | X | Assay of urine potassium | 0.00 | 0.00 | 0.00 | 0.00 | 0.00 | 0.00 | XXX
84134 |  | X | Assay of prealbumin | 0.00 | 0.00 | 0.00 | 0.00 | 0.00 | 0.00 | XXX
84135 |  | X | Assay of pregnanediol | 0.00 | 0.00 | 0.00 | 0.00 | 0.00 | 0.00 | XXX
84138 |  | X | Assay of pregnanetriol | 0.00 | 0.00 | 0.00 | 0.00 | 0.00 | 0.00 | XXX
84140 |  | X | Assay of pregnenolone | 0.00 | 0.00 | 0.00 | 0.00 | 0.00 | 0.00 | XXX
84143 |  | X | Assay of 17-hydroxypregneno | 0.00 | 0.00 | 0.00 | 0.00 | 0.00 | 0.00 | XXX
84144 |  | X | Assay of progesterone | 0.00 | 0.00 | 0.00 | 0.00 | 0.00 | 0.00 | XXX
84146 |  | X | Assay of prolactin | 0.00 | 0.00 | 0.00 | 0.00 | 0.00 | 0.00 | XXX
84150 |  | X | Assay of prostaglandin | 0.00 | 0.00 | 0.00 | 0.00 | 0.00 | 0.00 | XXX
84152 |  | X | Assay of psa, complexed | 0.00 | 0.00 | 0.00 | 0.00 | 0.00 | 0.00 | XXX
84153 |  | X | Assay of psa, total | 0.00 | 0.00 | 0.00 | 0.00 | 0.00 | 0.00 | XXX
84154 |  | X | Assay of psa, free | 0.00 | 0.00 | 0.00 | 0.00 | 0.00 | 0.00 | XXX
84155 |  | X | Assay of protein | 0.00 | 0.00 | 0.00 | 0.00 | 0.00 | 0.00 | XXX
84160 |  | X | Assay of serum protein | 0.00 | 0.00 | 0.00 | 0.00 | 0.00 | 0.00 | XXX
84165 |  | X | Assay of serum proteins | 0.00 | 0.00 | 0.00 | 0.00 | 0.00 | 0.00 | XXX
84165 | 26 | A | Assay of serum proteins | 0.37 | 0.17 | 0.17 | 0.01 | 0.55 | 0.55 | XXX
84181 |  | X | Western blot test | 0.00 | 0.00 | 0.00 | 0.00 | 0.00 | 0.00 | XXX
84181 | 26 | A | Western blot test | 0.37 | 0.15 | 0.15 | 0.01 | 0.53 | 0.53 | XXX
84182 |  | X | Protein, western blot test | 0.00 | 0.00 | 0.00 | 0.00 | 0.00 | 0.00 | XXX
84182 | 26 | A | Protein, western blot test | 0.37 | 0.15 | 0.15 | 0.01 | 0.53 | 0.53 | XXX
84202 |  | X | Assay RBC protoporphyrin | 0.00 | 0.00 | 0.00 | 0.00 | 0.00 | 0.00 | XXX
84203 |  | X | Test RBC protoporphyrin | 0.00 | 0.00 | 0.00 | 0.00 | 0.00 | 0.00 | XXX
84206 |  | X | Assay of proinsulin | 0.00 | 0.00 | 0.00 | 0.00 | 0.00 | 0.00 | XXX
84207 |  | X | Assay of vitamin b-6 | 0.00 | 0.00 | 0.00 | 0.00 | 0.00 | 0.00 | XXX
84210 |  | X | Assay of pyruvate | 0.00 | 0.00 | 0.00 | 0.00 | 0.00 | 0.00 | XXX
84220 |  | X | Assay of pyruvate kinase | 0.00 | 0.00 | 0.00 | 0.00 | 0.00 | 0.00 | XXX
84228 |  | X | Assay of quinine | 0.00 | 0.00 | 0.00 | 0.00 | 0.00 | 0.00 | XXX
84233 |  | X | Assay of estrogen | 0.00 | 0.00 | 0.00 | 0.00 | 0.00 | 0.00 | XXX
84234 |  | X | Assay of progesterone | 0.00 | 0.00 | 0.00 | 0.00 | 0.00 | 0.00 | XXX
84235 |  | X | Assay of endocrine hormone | 0.00 | 0.00 | 0.00 | 0.00 | 0.00 | 0.00 | XXX
84238 |  | X | Assay, nonendocrine receptor | 0.00 | 0.00 | 0.00 | 0.00 | 0.00 | 0.00 | XXX
84244 |  | X | Assay of renin | 0.00 | 0.00 | 0.00 | 0.00 | 0.00 | 0.00 | XXX
84252 |  | X | Assay of vitamin b-2 | 0.00 | 0.00 | 0.00 | 0.00 | 0.00 | 0.00 | XXX
84255 |  | X | Assay of selenium | 0.00 | 0.00 | 0.00 | 0.00 | 0.00 | 0.00 | XXX
84260 |  | X | Assay of serotonin | 0.00 | 0.00 | 0.00 | 0.00 | 0.00 | 0.00 | XXX
84270 |  | X | Assay of sex hormone globul | 0.00 | 0.00 | 0.00 | 0.00 | 0.00 | 0.00 | XXX
84275 |  | X | Assay of sialic acid | 0.00 | 0.00 | 0.00 | 0.00 | 0.00 | 0.00 | XXX
84285 |  | X | Assay of silica | 0.00 | 0.00 | 0.00 | 0.00 | 0.00 | 0.00 | XXX
84295 |  | X | Assay of serum sodium | 0.00 | 0.00 | 0.00 | 0.00 | 0.00 | 0.00 | XXX
84300 |  | X | Assay of urine sodium | 0.00 | 0.00 | 0.00 | 0.00 | 0.00 | 0.00 | XXX
84305 |  | X | Assay of somatomedin | 0.00 | 0.00 | 0.00 | 0.00 | 0.00 | 0.00 | XXX
84307 |  | X | Assay of somatostatin | 0.00 | 0.00 | 0.00 | 0.00 | 0.00 | 0.00 | XXX
84311 |  | X | Spectrophotometry | 0.00 | 0.00 | 0.00 | 0.00 | 0.00 | 0.00 | XXX
84315 |  | X | Body fluid specific gravity | 0.00 | 0.00 | 0.00 | 0.00 | 0.00 | 0.00 | XXX
84375 |  | X | Chromatogram assay, sugars | 0.00 | 0.00 | 0.00 | 0.00 | 0.00 | 0.00 | XXX
84376 |  | X | Sugars, single, qual | 0.00 | 0.00 | 0.00 | 0.00 | 0.00 | 0.00 | XXX
84377 |  | X | Sugars, multiple, qual | 0.00 | 0.00 | 0.00 | 0.00 | 0.00 | 0.00 | XXX
84378 |  | X | Sugars single quant | 0.00 | 0.00 | 0.00 | 0.00 | 0.00 | 0.00 | XXX
84379 |  | X | Sugars multiple quant | 0.00 | 0.00 | 0.00 | 0.00 | 0.00 | 0.00 | XXX
84392 |  | X | Assay of urine sulfate | 0.00 | 0.00 | 0.00 | 0.00 | 0.00 | 0.00 | XXX
84402 |  | X | Assay of testosterone | 0.00 | 0.00 | 0.00 | 0.00 | 0.00 | 0.00 | XXX
84403 |  | X | Assay of total testosterone | 0.00 | 0.00 | 0.00 | 0.00 | 0.00 | 0.00 | XXX
84425 |  | X | Assay of vitamin b-1 | 0.00 | 0.00 | 0.00 | 0.00 | 0.00 | 0.00 | XXX
84430 |  | X | Assay of thiocyanate | 0.00 | 0.00 | 0.00 | 0.00 | 0.00 | 0.00 | XXX
84432 |  | X | Assay of thyroglobulin | 0.00 | 0.00 | 0.00 | 0.00 | 0.00 | 0.00 | XXX
84436 |  | X | Assay of total thyroxine | 0.00 | 0.00 | 0.00 | 0.00 | 0.00 | 0.00 | XXX
84437 |  | X | Assay of neonatal thyroxine | 0.00 | 0.00 | 0.00 | 0.00 | 0.00 | 0.00 | XXX
84439 |  | X | Assay of free thyroxine | 0.00 | 0.00 | 0.00 | 0.00 | 0.00 | 0.00 | XXX
84442 |  | X | Assay of thyroid activity | 0.00 | 0.00 | 0.00 | 0.00 | 0.00 | 0.00 | XXX
84443 |  | X | Assay thyroid stim hormone | 0.00 | 0.00 | 0.00 | 0.00 | 0.00 | 0.00 | XXX
84445 |  | X | Assay of tsi | 0.00 | 0.00 | 0.00 | 0.00 | 0.00 | 0.00 | XXX
84446 |  | X | Assay of vitamin e | 0.00 | 0.00 | 0.00 | 0.00 | 0.00 | 0.00 | XXX
84449 |  | X | Assay of transcortin | 0.00 | 0.00 | 0.00 | 0.00 | 0.00 | 0.00 | XXX
84450 |  | X | Transferase (AST) (SGOT) | 0.00 | 0.00 | 0.00 | 0.00 | 0.00 | 0.00 | XXX
84460 |  | X | Alanine amino (ALT) (SGPT) | 0.00 | 0.00 | 0.00 | 0.00 | 0.00 | 0.00 | XXX
84466 |  | X | Assay of transferrin | 0.00 | 0.00 | 0.00 | 0.00 | 0.00 | 0.00 | XXX
84478 |  | X | Assay of triglycerides | 0.00 | 0.00 | 0.00 | 0.00 | 0.00 | 0.00 | XXX
84479 |  | X | Assay of thyroid (t3 or t4) | 0.00 | 0.00 | 0.00 | 0.00 | 0.00 | 0.00 | XXX
84480 |  | X | Assay, triiodothyronine (t3) | 0.00 | 0.00 | 0.00 | 0.00 | 0.00 | 0.00 | XXX
84481 |  | X | Free assay (FT-3) | 0.00 | 0.00 | 0.00 | 0.00 | 0.00 | 0.00 | XXX
84482 |  | X | Reverse assay (t3) | 0.00 | 0.00 | 0.00 | 0.00 | 0.00 | 0.00 | XXX
84484 |  | X | Assay of troponin, quant | 0.00 | 0.00 | 0.00 | 0.00 | 0.00 | 0.00 | XXX
84485 |  | X | Assay duodenal fluid trypsin | 0.00 | 0.00 | 0.00 | 0.00 | 0.00 | 0.00 | XXX
84488 |  | X | Test feces for trypsin | 0.00 | 0.00 | 0.00 | 0.00 | 0.00 | 0.00 | XXX
84490 |  | X | Assay of feces for trypsin | 0.00 | 0.00 | 0.00 | 0.00 | 0.00 | 0.00 | XXX
84510 |  | X | Assay of tyrosine | 0.00 | 0.00 | 0.00 | 0.00 | 0.00 | 0.00 | XXX
84512 |  | X | Assay of troponin, qual | 0.00 | 0.00 | 0.00 | 0.00 | 0.00 | 0.00 | XXX
84520 |  | X | Assay of urea nitrogen | 0.00 | 0.00 | 0.00 | 0.00 | 0.00 | 0.00 | XXX
84525 |  | X | Urea nitrogen semi-quant | 0.00 | 0.00 | 0.00 | 0.00 | 0.00 | 0.00 | XXX
84540 |  | X | Assay of urine/urea-n | 0.00 | 0.00 | 0.00 | 0.00 | 0.00 | 0.00 | XXX
84545 |  | X | Urea-N clearance test | 0.00 | 0.00 | 0.00 | 0.00 | 0.00 | 0.00 | XXX
84550 |  | X | Assay of blood/uric acid | 0.00 | 0.00 | 0.00 | 0.00 | 0.00 | 0.00 | XXX
84560 |  | X | Assay of urine/uric acid | 0.00 | 0.00 | 0.00 | 0.00 | 0.00 | 0.00 | XXX
84577 |  | X | Assay of feces/urobilinogen | 0.00 | 0.00 | 0.00 | 0.00 | 0.00 | 0.00 | XXX
84578 |  | X | Test urine urobilinogen | 0.00 | 0.00 | 0.00 | 0.00 | 0.00 | 0.00 | XXX
84580 |  | X | Assay of urine urobilinogen | 0.00 | 0.00 | 0.00 | 0.00 | 0.00 | 0.00 | XXX
84583 |  | X | Assay of urine urobilinogen | 0.00 | 0.00 | 0.00 | 0.00 | 0.00 | 0.00 | XXX
84585 |  | X | Assay of urine vma | 0.00 | 0.00 | 0.00 | 0.00 | 0.00 | 0.00 | XXX
84586 |  | X | Assay of vip | 0.00 | 0.00 | 0.00 | 0.00 | 0.00 | 0.00 | XXX
84588 |  | X | Assay of vasopressin | 0.00 | 0.00 | 0.00 | 0.00 | 0.00 | 0.00 | XXX
84590 |  | X | Assay of vitamin a | 0.00 | 0.00 | 0.00 | 0.00 | 0.00 | 0.00 | XXX
84591 |  | X | Assay of nos vitamin | 0.00 | 0.00 | 0.00 | 0.00 | 0.00 | 0.00 | XXX
84597 |  | X | Assay of vitamin k | 0.00 | 0.00 | 0.00 | 0.00 | 0.00 | 0.00 | XXX
84600 |  | X | Assay of volatiles | 0.00 | 0.00 | 0.00 | 0.00 | 0.00 | 0.00 | XXX
84620 |  | X | Xylose tolerance test | 0.00 | 0.00 | 0.00 | 0.00 | 0.00 | 0.00 | XXX
84630 |  | X | Assay of zinc | 0.00 | 0.00 | 0.00 | 0.00 | 0.00 | 0.00 | XXX
84681 |  | X | Assay of c-peptide | 0.00 | 0.00 | 0.00 | 0.00 | 0.00 | 0.00 | XXX
84702 |  | X | Chorionic gonadotropin test | 0.00 | 0.00 | 0.00 | 0.00 | 0.00 | 0.00 | XXX
84703 |  | X | Chorionic gonadotropin assay | 0.00 | 0.00 | 0.00 | 0.00 | 0.00 | 0.00 | XXX
84830 |  | X | Ovulation tests | 0.00 | 0.00 | 0.00 | 0.00 | 0.00 | 0.00 | XXX
84999 |  | X | Clinical chemistry test | 0.00 | 0.00 | 0.00 | 0.00 | 0.00 | 0.00 | XXX
85002 |  | X | Bleeding time test | 0.00 | 0.00 | 0.00 | 0.00 | 0.00 | 0.00 | XXX
85007 |  | X | Differential WBC count | 0.00 | 0.00 | 0.00 | 0.00 | 0.00 | 0.00 | XXX
85008 |  | X | Nondifferential WBC count | 0.00 | 0.00 | 0.00 | 0.00 | 0.00 | 0.00 | XXX
85009 |  | X | Differential WBC count | 0.00 | 0.00 | 0.00 | 0.00 | 0.00 | 0.00 | XXX
85013 |  | X | Hematocrit | 0.00 | 0.00 | 0.00 | 0.00 | 0.00 | 0.00 | XXX
85014 |  | X | Hematocrit | 0.00 | 0.00 | 0.00 | 0.00 | 0.00 | 0.00 | XXX
85018 |  | X | Hemoglobin | 0.00 | 0.00 | 0.00 | 0.00 | 0.00 | 0.00 | XXX
85021 |  | X | Automated hemogram | 0.00 | 0.00 | 0.00 | 0.00 | 0.00 | 0.00 | XXX
85022 |  | X | Automated hemogram | 0.00 | 0.00 | 0.00 | 0.00 | 0.00 | 0.00 | XXX
85023 |  | X | Automated hemogram | 0.00 | 0.00 | 0.00 | 0.00 | 0.00 | 0.00 | XXX
85024 |  | X | Automated hemogram | 0.00 | 0.00 | 0.00 | 0.00 | 0.00 | 0.00 | XXX
85025 |  | X | Automated hemogram | 0.00 | 0.00 | 0.00 | 0.00 | 0.00 | 0.00 | XXX
85027 |  | X | Automated hemogram | 0.00 | 0.00 | 0.00 | 0.00 | 0.00 | 0.00 | XXX
85031 |  | X | Manual hemogram, cbc | 0.00 | 0.00 | 0.00 | 0.00 | 0.00 | 0.00 | XXX
85041 |  | X | Red blood cell (RBC) count | 0.00 | 0.00 | 0.00 | 0.00 | 0.00 | 0.00 | XXX
85044 |  | X | Reticulocyte count | 0.00 | 0.00 | 0.00 | 0.00 | 0.00 | 0.00 | XXX
85045 |  | X | Reticulocyte count | 0.00 | 0.00 | 0.00 | 0.00 | 0.00 | 0.00 | XXX
85046 |  | X | Reticyte/hgb concentrate | 0.00 | 0.00 | 0.00 | 0.00 | 0.00 | 0.00 | XXX
85048 |  | X | White blood cell (WBC) count | 0.00 | 0.00 | 0.00 | 0.00 | 0.00 | 0.00 | XXX
85060 |  | A | Blood smear interpretation | 0.45 | 0.19 | 0.19 | 0.02 | 0.66 | 0.66 | XXX
85095 |  | D | Bone marrow aspiration | 0.00 | 0.00 | 0.00 | 0.00 | 0.00 | 0.00 | XXX
85097 |  | A | Bone marrow interpretation | 0.94 | 1.75 | 0.43 | 0.03 | 2.72 | 1.40 | XXX
85102 |  | D | Bone marrow biopsy | 0.00 | 0.00 | 0.00 | 0.00 | 0.00 | 0.00 | XXX
85130 |  | X | Chromogenic substrate assay | 0.00 | 0.00 | 0.00 | 0.00 | 0.00 | 0.00 | XXX
85170 |  | X | Blood clot retraction | 0.00 | 0.00 | 0.00 | 0.00 | 0.00 | 0.00 | XXX
85175 |  | X | Blood clot lysis time | 0.00 | 0.00 | 0.00 | 0.00 | 0.00 | 0.00 | XXX
85210 |  | X | Blood clot factor II test | 0.00 | 0.00 | 0.00 | 0.00 | 0.00 | 0.00 | XXX
85220 |  | X | Blood clot factor V test | 0.00 | 0.00 | 0.00 | 0.00 | 0.00 | 0.00 | XXX
85230 |  | X | Blood clot factor VII test | 0.00 | 0.00 | 0.00 | 0.00 | 0.00 | 0.00 | XXX
85240 |  | X | Blood clot factor VIII test | 0.00 | 0.00 | 0.00 | 0.00 | 0.00 | 0.00 | XXX
85244 |  | X | Blood clot factor VIII test | 0.00 | 0.00 | 0.00 | 0.00 | 0.00 | 0.00 | XXX
85245 |  | X | Blood clot factor VIII test | 0.00 | 0.00 | 0.00 | 0.00 | 0.00 | 0.00 | XXX
85246 |  | X | Blood clot factor VIII test | 0.00 | 0.00 | 0.00 | 0.00 | 0.00 | 0.00 | XXX
85247 |  | X | Blood clot factor VIII test | 0.00 | 0.00 | 0.00 | 0.00 | 0.00 | 0.00 | XXX
85250 |  | X | Blood clot factor IX test | 0.00 | 0.00 | 0.00 | 0.00 | 0.00 | 0.00 | XXX
85260 |  | X | Blood clot factor X test | 0.00 | 0.00 | 0.00 | 0.00 | 0.00 | 0.00 | XXX
85270 |  | X | Blood clot factor XI test | 0.00 | 0.00 | 0.00 | 0.00 | 0.00 | 0.00 | XXX
85280 |  | X | Blood clot factor XII test | 0.00 | 0.00 | 0.00 | 0.00 | 0.00 | 0.00 | XXX
85290 |  | X | Blood clot factor XIII test | 0.00 | 0.00 | 0.00 | 0.00 | 0.00 | 0.00 | XXX
85291 |  | X | Blood clot factor XIII test | 0.00 | 0.00 | 0.00 | 0.00 | 0.00 | 0.00 | XXX
85292 |  | X | Blood clot factor assay | 0.00 | 0.00 | 0.00 | 0.00 | 0.00 | 0.00 | XXX
85293 |  | X | Blood clot factor assay | 0.00 | 0.00 | 0.00 | 0.00 | 0.00 | 0.00 | XXX
85300 |  | X | Antithrombin III test | 0.00 | 0.00 | 0.00 | 0.00 | 0.00 | 0.00 | XXX
85301 |  | X | Antithrombin III test | 0.00 | 0.00 | 0.00 | 0.00 | 0.00 | 0.00 | XXX
85302 |  | X | Blood clot inhibitor antigen | 0.00 | 0.00 | 0.00 | 0.00 | 0.00 | 0.00 | XXX
85303 |  | X | Blood clot inhibitor test | 0.00 | 0.00 | 0.00 | 0.00 | 0.00 | 0.00 | XXX
85305 |  | X | Blood clot inhibitor assay | 0.00 | 0.00 | 0.00 | 0.00 | 0.00 | 0.00 | XXX
85306 |  | X | Blood clot inhibitor test | 0.00 | 0.00 | 0.00 | 0.00 | 0.00 | 0.00 | XXX
85307 |  | X | Assay activated protein c | 0.00 | 0.00 | 0.00 | 0.00 | 0.00 | 0.00 | XXX
85335 |  | X | Factor inhibitor test | 0.00 | 0.00 | 0.00 | 0.00 | 0.00 | 0.00 | XXX
85337 |  | X | Thrombomodulin | 0.00 | 0.00 | 0.00 | 0.00 | 0.00 | 0.00 | XXX
85345 |  | X | Coagulation time | 0.00 | 0.00 | 0.00 | 0.00 | 0.00 | 0.00 | XXX
85347 |  | X | Coagulation time | 0.00 | 0.00 | 0.00 | 0.00 | 0.00 | 0.00 | XXX
85348 |  | X | Coagulation time | 0.00 | 0.00 | 0.00 | 0.00 | 0.00 | 0.00 | XXX
85360 |  | X | Euglobulin lysis | 0.00 | 0.00 | 0.00 | 0.00 | 0.00 | 0.00 | XXX
85362 |  | X | Fibrin degradation products | 0.00 | 0.00 | 0.00 | 0.00 | 0.00 | 0.00 | XXX
85366 |  | X | Fibrinogen test | 0.00 | 0.00 | 0.00 | 0.00 | 0.00 | 0.00 | XXX
85370 |  | X | Fibrinogen test | 0.00 | 0.00 | 0.00 | 0.00 | 0.00 | 0.00 | XXX
85378 |  | X | Fibrin degradation | 0.00 | 0.00 | 0.00 | 0.00 | 0.00 | 0.00 | XXX
85379 |  | X | Fibrin degradation | 0.00 | 0.00 | 0.00 | 0.00 | 0.00 | 0.00 | XXX
85384 |  | X | Fibrinogen | 0.00 | 0.00 | 0.00 | 0.00 | 0.00 | 0.00 | XXX
85385 |  | X | Fibrinogen | 0.00 | 0.00 | 0.00 | 0.00 | 0.00 | 0.00 | XXX
85390 |  | X | Fibrinolysins screen | 0.00 | 0.00 | 0.00 | 0.00 | 0.00 | 0.00 | XXX
85390 | 26 | A | Fibrinolysins screen | 0.37 | 0.12 | 0.12 | 0.01 | 0.50 | 0.50 | XXX
85400 |  | X | Fibrinolytic plasmin | 0.00 | 0.00 | 0.00 | 0.00 | 0.00 | 0.00 | XXX
85410 |  | X | Fibrinolytic antiplasmin | 0.00 | 0.00 | 0.00 | 0.00 | 0.00 | 0.00 | XXX
85415 |  | X | Fibrinolytic plasminogen | 0.00 | 0.00 | 0.00 | 0.00 | 0.00 | 0.00 | XXX
85420 |  | X | Fibrinolytic plasminogen | 0.00 | 0.00 | 0.00 | 0.00 | 0.00 | 0.00 | XXX
85421 |  | X | Fibrinolytic plasminogen | 0.00 | 0.00 | 0.00 | 0.00 | 0.00 | 0.00 | XXX
85441 |  | X | Heinz bodies, direct | 0.00 | 0.00 | 0.00 | 0.00 | 0.00 | 0.00 | XXX
85445 |  | X | Heinz bodies, induced | 0.00 | 0.00 | 0.00 | 0.00 | 0.00 | 0.00 | XXX
85460 |  | X | Hemoglobin, fetal | 0.00 | 0.00 | 0.00 | 0.00 | 0.00 | 0.00 | XXX
85461 |  | X | Hemoglobin, fetal | 0.00 | 0.00 | 0.00 | 0.00 | 0.00 | 0.00 | XXX
85475 |  | X | Hemolysin | 0.00 | 0.00 | 0.00 | 0.00 | 0.00 | 0.00 | XXX
85520 |  | X | Heparin assay | 0.00 | 0.00 | 0.00 | 0.00 | 0.00 | 0.00 | XXX
85525 |  | X | Heparin | 0.00 | 0.00 | 0.00 | 0.00 | 0.00 | 0.00 | XXX
85530 |  | X | Heparin-protamine tolerance | 0.00 | 0.00 | 0.00 | 0.00 | 0.00 | 0.00 | XXX
85535 |  | D | Iron stain, blood cells | 0.00 | 0.00 | 0.00 | 0.00 | 0.00 | 0.00 | XXX
85536 |  | X | Iron stain peripheral blood | 0.00 | 0.00 | 0.00 | 0.00 | 0.00 | 0.00 | XXX
85540 |  | X | Wbc alkaline phosphatase | 0.00 | 0.00 | 0.00 | 0.00 | 0.00 | 0.00 | XXX
85547 |  | X | RBC mechanical fragility | 0.00 | 0.00 | 0.00 | 0.00 | 0.00 | 0.00 | XXX
85549 |  | X | Muramidase | 0.00 | 0.00 | 0.00 | 0.00 | 0.00 | 0.00 | XXX
85555 |  | X | RBC osmotic fragility | 0.00 | 0.00 | 0.00 | 0.00 | 0.00 | 0.00 | XXX
85557 |  | X | RBC osmotic fragility | 0.00 | 0.00 | 0.00 | 0.00 | 0.00 | 0.00 | XXX
85576 |  | X | Blood platelet aggregation | 0.00 | 0.00 | 0.00 | 0.00 | 0.00 | 0.00 | XXX
85576 | 26 | A | Blood platelet aggregation | 0.37 | 0.16 | 0.16 | 0.01 | 0.54 | 0.54 | XXX
85585 |  | X | Blood platelet estimation | 0.00 | 0.00 | 0.00 | 0.00 | 0.00 | 0.00 | XXX
85590 |  | X | Platelet count, manual | 0.00 | 0.00 | 0.00 | 0.00 | 0.00 | 0.00 | XXX
85595 |  | X | Platelet count, automated | 0.00 | 0.00 | 0.00 | 0.00 | 0.00 | 0.00 | XXX
85597 |  | X | Platelet neutralization | 0.00 | 0.00 | 0.00 | 0.00 | 0.00 | 0.00 | XXX
85610 |  | X | Prothrombin time | 0.00 | 0.00 | 0.00 | 0.00 | 0.00 | 0.00 | XXX
85611 |  | X | Prothrombin test | 0.00 | 0.00 | 0.00 | 0.00 | 0.00 | 0.00 | XXX
85612 |  | X | Viper venom prothrombin time | 0.00 | 0.00 | 0.00 | 0.00 | 0.00 | 0.00 | XXX
85613 |  | X | Russell viper venom, diluted | 0.00 | 0.00 | 0.00 | 0.00 | 0.00 | 0.00 | XXX
85635 |  | X | Reptilase test | 0.00 | 0.00 | 0.00 | 0.00 | 0.00 | 0.00 | XXX
85651 |  | X | Rbc sed rate, nonautomated | 0.00 | 0.00 | 0.00 | 0.00 | 0.00 | 0.00 | XXX
85652 |  | X | Rbc sed rate, automated | 0.00 | 0.00 | 0.00 | 0.00 | 0.00 | 0.00 | XXX
85660 |  | X | RBC sickle cell test | 0.00 | 0.00 | 0.00 | 0.00 | 0.00 | 0.00 | XXX
85670 |  | X | Thrombin time, plasma | 0.00 | 0.00 | 0.00 | 0.00 | 0.00 | 0.00 | XXX
85675 |  | X | Thrombin time, titer | 0.00 | 0.00 | 0.00 | 0.00 | 0.00 | 0.00 | XXX
85705 |  | X | Thromboplastin inhibition | 0.00 | 0.00 | 0.00 | 0.00 | 0.00 | 0.00 | XXX
85730 |  | X | Thromboplastin time, partial | 0.00 | 0.00 | 0.00 | 0.00 | 0.00 | 0.00 | XXX
85732 |  | X | Thromboplastin time, partial | 0.00 | 0.00 | 0.00 | 0.00 | 0.00 | 0.00 | XXX
85810 |  | X | Blood viscosity examination | 0.00 | 0.00 | 0.00 | 0.00 | 0.00 | 0.00 | XXX
85999 |  | X | Hematology procedure | 0.00 | 0.00 | 0.00 | 0.00 | 0.00 | 0.00 | XXX
86000 |  | X | Agglutinins, febrile | 0.00 | 0.00 | 0.00 | 0.00 | 0.00 | 0.00 | XXX
86001 |  | X | Allergen specific igg | 0.00 | 0.00 | 0.00 | 0.00 | 0.00 | 0.00 | XXX
86003 |  | X | Allergen specific IgE | 0.00 | 0.00 | 0.00 | 0.00 | 0.00 | 0.00 | XXX
86005 |  | X | Allergen specific IgE | 0.00 | 0.00 | 0.00 | 0.00 | 0.00 | 0.00 | XXX
86021 |  | X | WBC antibody identification | 0.00 | 0.00 | 0.00 | 0.00 | 0.00 | 0.00 | XXX
86022 |  | X | Platelet antibodies | 0.00 | 0.00 | 0.00 | 0.00 | 0.00 | 0.00 | XXX
86023 |  | X | Immunoglobulin assay | 0.00 | 0.00 | 0.00 | 0.00 | 0.00 | 0.00 | XXX
86038 |  | X | Antinuclear antibodies | 0.00 | 0.00 | 0.00 | 0.00 | 0.00 | 0.00 | XXX
86039 |  | X | Antinuclear antibodies (ANA) | 0.00 | 0.00 | 0.00 | 0.00 | 0.00 | 0.00 | XXX
86060 |  | X | Antistreptolysin o, titer | 0.00 | 0.00 | 0.00 | 0.00 | 0.00 | 0.00 | XXX
86063 |  | X | Antistreptolysin o, screen | 0.00 | 0.00 | 0.00 | 0.00 | 0.00 | 0.00 | XXX
86077 |  | A | Physician blood bank service | 0.94 | 0.48 | 0.43 | 0.03 | 1.45 | 1.40 | XXX
86078 |  | A | Physician blood bank service | 0.94 | 0.51 | 0.43 | 0.03 | 1.48 | 1.40 | XXX
86079 |  | A | Physician blood bank service | 0.94 | 0.50 | 0.44 | 0.03 | 1.47 | 1.41 | XXX
86140 |  | X | C-reactive protein | 0.00 | 0.00 | 0.00 | 0.00 | 0.00 | 0.00 | XXX
86141 |  | X | C-reactive protein, hs | 0.00 | 0.00 | 0.00 | 0.00 | 0.00 | 0.00 | XXX
86146 |  | X | Glycoprotein antibody | 0.00 | 0.00 | 0.00 | 0.00 | 0.00 | 0.00 | XXX
86147 |  | X | Cardiolipin antibody | 0.00 | 0.00 | 0.00 | 0.00 | 0.00 | 0.00 | XXX
86148 |  | X | Phospholipid antibody | 0.00 | 0.00 | 0.00 | 0.00 | 0.00 | 0.00 | XXX
86155 |  | X | Chemotaxis assay | 0.00 | 0.00 | 0.00 | 0.00 | 0.00 | 0.00 | XXX
86156 |  | X | Cold agglutinin, screen | 0.00 | 0.00 | 0.00 | 0.00 | 0.00 | 0.00 | XXX
86157 |  | X | Cold agglutinin, titer | 0.00 | 0.00 | 0.00 | 0.00 | 0.00 | 0.00 | XXX
86160 |  | X | Complement, antigen | 0.00 | 0.00 | 0.00 | 0.00 | 0.00 | 0.00 | XXX
86161 |  | X | Complement/function activity | 0.00 | 0.00 | 0.00 | 0.00 | 0.00 | 0.00 | XXX
86162 |  | X | Complement, total (CH50) | 0.00 | 0.00 | 0.00 | 0.00 | 0.00 | 0.00 | XXX
86171 |  | X | Complement fixation, each | 0.00 | 0.00 | 0.00 | 0.00 | 0.00 | 0.00 | XXX
86185 |  | X | Counterimmunoelectrophoresis | 0.00 | 0.00 | 0.00 | 0.00 | 0.00 | 0.00 | XXX
86215 |  | X | Deoxyribonuclease, antibody | 0.00 | 0.00 | 0.00 | 0.00 | 0.00 | 0.00 | XXX
86225 |  | X | DNA antibody | 0.00 | 0.00 | 0.00 | 0.00 | 0.00 | 0.00 | XXX
86226 |  | X | DNA antibody, single strand | 0.00 | 0.00 | 0.00 | 0.00 | 0.00 | 0.00 | XXX
86235 |  | X | Nuclear antigen antibody | 0.00 | 0.00 | 0.00 | 0.00 | 0.00 | 0.00 | XXX
86243 |  | X | Fc receptor | 0.00 | 0.00 | 0.00 | 0.00 | 0.00 | 0.00 | XXX
86255 |  | X | Fluorescent antibody, screen | 0.00 | 0.00 | 0.00 | 0.00 | 0.00 | 0.00 | XXX
86255 | 26 | A | Fluorescent antibody, screen | 0.37 | 0.17 | 0.17 | 0.01 | 0.55 | 0.55 | XXX
86256 |  | X | Fluorescent antibody, titer | 0.00 | 0.00 | 0.00 | 0.00 | 0.00 | 0.00 | XXX
86256 | 26 | A | Fluorescent antibody, titer | 0.37 | 0.17 | 0.17 | 0.01 | 0.55 | 0.55 | XXX
86277 |  | X | Growth hormone antibody | 0.00 | 0.00 | 0.00 | 0.00 | 0.00 | 0.00 | XXX
86280 |  | X | Hemagglutination inhibition | 0.00 | 0.00 | 0.00 | 0.00 | 0.00 | 0.00 | XXX
86294 |  | X | Immunoassay, tumor qual | 0.00 | 0.00 | 0.00 | 0.00 | 0.00 | 0.00 | XXX
86300 |  | X | Immunoassay, tumor ca 15-3 | 0.00 | 0.00 | 0.00 | 0.00 | 0.00 | 0.00 | XXX
86301 |  | X | Immunoassay, tumor ca 19-9 | 0.00 | 0.00 | 0.00 | 0.00 | 0.00 | 0.00 | XXX
86304 |  | X | Immunoassay, tumor, ca 125 | 0.00 | 0.00 | 0.00 | 0.00 | 0.00 | 0.00 | XXX
86308 |  | X | Heterophile antibodies | 0.00 | 0.00 | 0.00 | 0.00 | 0.00 | 0.00 | XXX
86309 |  | X | Heterophile antibodies | 0.00 | 0.00 | 0.00 | 0.00 | 0.00 | 0.00 | XXX
86310 |  | X | Heterophile antibodies | 0.00 | 0.00 | 0.00 | 0.00 | 0.00 | 0.00 | XXX
86316 |  | X | Immunoassay, tumor other | 0.00 | 0.00 | 0.00 | 0.00 | 0.00 | 0.00 | XXX
86317 |  | X | Immunoassay, infectious agent | 0.00 | 0.00 | 0.00 | 0.00 | 0.00 | 0.00 | XXX
86318 |  | X | Immunoassay, infectious agent | 0.00 | 0.00 | 0.00 | 0.00 | 0.00 | 0.00 | XXX
86320 |  | X | Serum immunoelectrophoresis | 0.00 | 0.00 | 0.00 | 0.00 | 0.00 | 0.00 | XXX
86320 | 26 | A | Serum immunoelectrophoresis | 0.37 | 0.17 | 0.17 | 0.01 | 0.55 | 0.55 | XXX
86325 |  | X | Other immunoelectrophoresis | 0.00 | 0.00 | 0.00 | 0.00 | 0.00 | 0.00 | XXX
86325 | 26 | A | Other immunoelectrophoresis | 0.37 | 0.17 | 0.17 | 0.01 | 0.55 | 0.55 | XXX
86327 |  | X | Immunoelectrophoresis assay | 0.00 | 0.00 | 0.00 | 0.00 | 0.00 | 0.00 | XXX
86327 | 26 | A | Immunoelectrophoresis assay | 0.42 | 0.20 | 0.20 | 0.01 | 0.63 | 0.63 | XXX
86329 |  | X | Immunodiffusion | 0.00 | 0.00 | 0.00 | 0.00 | 0.00 | 0.00 | XXX
86331 |  | X | Immunodiffusion ouchterlony | 0.00 | 0.00 | 0.00 | 0.00 | 0.00 | 0.00 | XXX
86332 |  | X | Immune complex assay | 0.00 | 0.00 | 0.00 | 0.00 | 0.00 | 0.00 | XXX
86334 |  | X | Immunofixation procedure | 0.00 | 0.00 | 0.00 | 0.00 | 0.00 | 0.00 | XXX
86334 | 26 | A | Immunofixation procedure | 0.37 | 0.17 | 0.17 | 0.01 | 0.55 | 0.55 | XXX
86336 |  | X | Inhibin A | 0.00 | 0.00 | 0.00 | 0.00 | 0.00 | 0.00 | XXX
86337 |  | X | Insulin antibodies | 0.00 | 0.00 | 0.00 | 0.00 | 0.00 | 0.00 | XXX
86340 |  | X | Intrinsic factor antibody | 0.00 | 0.00 | 0.00 | 0.00 | 0.00 | 0.00 | XXX
86341 |  | X | Islet cell antibody | 0.00 | 0.00 | 0.00 | 0.00 | 0.00 | 0.00 | XXX
86343 |  | X | Leukocyte histamine release | 0.00 | 0.00 | 0.00 | 0.00 | 0.00 | 0.00 | XXX
86344 |  | X | Leukocyte phagocytosis | 0.00 | 0.00 | 0.00 | 0.00 | 0.00 | 0.00 | XXX
86353 |  | X | Lymphocyte transformation | 0.00 | 0.00 | 0.00 | 0.00 | 0.00 | 0.00 | XXX
86359 |  | X | T cells, total count | 0.00 | 0.00 | 0.00 | 0.00 | 0.00 | 0.00 | XXX
86360 |  | X | T cell, absolute count/ratio | 0.00 | 0.00 | 0.00 | 0.00 | 0.00 | 0.00 | XXX
86361 |  | X | T cell, absolute count | 0.00 | 0.00 | 0.00 | 0.00 | 0.00 | 0.00 | XXX
86376 |  | X | Microsomal antibody | 0.00 | 0.00 | 0.00 | 0.00 | 0.00 | 0.00 | XXX
86378 |  | X | Migration inhibitory factor | 0.00 | 0.00 | 0.00 | 0.00 | 0.00 | 0.00 | XXX
86382 |  | X | Neutralization test, viral | 0.00 | 0.00 | 0.00 | 0.00 | 0.00 | 0.00 | XXX
86384 |  | X | Nitroblue tetrazolium dye | 0.00 | 0.00 | 0.00 | 0.00 | 0.00 | 0.00 | XXX
86403 |  | X | Particle agglutination test | 0.00 | 0.00 | 0.00 | 0.00 | 0.00 | 0.00 | XXX
86406 |  | X | Particle agglutination test | 0.00 | 0.00 | 0.00 | 0.00 | 0.00 | 0.00 | XXX
86430 |  | X | Rheumatoid factor test | 0.00 | 0.00 | 0.00 | 0.00 | 0.00 | 0.00 | XXX
86431 |  | X | Rheumatoid factor, quant | 0.00 | 0.00 | 0.00 | 0.00 | 0.00 | 0.00 | XXX
86485 |  | C | Skin test, candida | 0.00 | 0.00 | 0.00 | 0.00 | 0.00 | 0.00 | XXX
86490 |  | A | Coccidioidomycosis skin test | 0.00 | 0.28 | NA | 0.02 | 0.30 | NA | XXX
86510 |  | A | Histoplasmosis skin test | 0.00 | 0.30 | NA | 0.02 | 0.32 | NA | XXX
86580 |  | A | TB intradermal test | 0.00 | 0.24 | NA | 0.02 | 0.26 | NA | XXX
86585 |  | A | TB tine test | 0.00 | 0.19 | NA | 0.01 | 0.20 | NA | XXX
86586 |  | C | Skin test, unlisted | 0.00 | 0.00 | 0.00 | 0.00 | 0.00 | 0.00 | XXX
86590 |  | X | Streptokinase, antibody | 0.00 | 0.00 | 0.00 | 0.00 | 0.00 | 0.00 | XXX
86592 |  | X | Blood serology, qualitative | 0.00 | 0.00 | 0.00 | 0.00 | 0.00 | 0.00 | XXX
86593 |  | X | Blood serology, quantitative | 0.00 | 0.00 | 0.00 | 0.00 | 0.00 | 0.00 | XXX
86602 |  | X | Antinomyces antibody | 0.00 | 0.00 | 0.00 | 0.00 | 0.00 | 0.00 | XXX
86603 |  | X | Adenovirus antibody | 0.00 | 0.00 | 0.00 | 0.00 | 0.00 | 0.00 | XXX
86606 |  | X | Aspergillus antibody | 0.00 | 0.00 | 0.00 | 0.00 | 0.00 | 0.00 | XXX
86609 |  | X | Bacterium antibody | 0.00 | 0.00 | 0.00 | 0.00 | 0.00 | 0.00 | XXX
86611 |  | X | Bartonella antibody | 0.00 | 0.00 | 0.00 | 0.00 | 0.00 | 0.00 | XXX
86612 |  | X | Blastomyces antibody | 0.00 | 0.00 | 0.00 | 0.00 | 0.00 | 0.00 | XXX
86615 |  | X | Bordetella antibody | 0.00 | 0.00 | 0.00 | 0.00 | 0.00 | 0.00 | XXX
86617 |  | X | Lyme disease antibody | 0.00 | 0.00 | 0.00 | 0.00 | 0.00 | 0.00 | XXX
86618 |  | X | Lyme disease antibody | 0.00 | 0.00 | 0.00 | 0.00 | 0.00 | 0.00 | XXX
86619 |  | X | Borrelia antibody | 0.00 | 0.00 | 0.00 | 0.00 | 0.00 | 0.00 | XXX
86622 |  | X | Brucella antibody | 0.00 | 0.00 | 0.00 | 0.00 | 0.00 | 0.00 | XXX
86625 |  | X | Campylobacter antibody | 0.00 | 0.00 | 0.00 | 0.00 | 0.00 | 0.00 | XXX
86628 |  | X | Candida antibody | 0.00 | 0.00 | 0.00 | 0.00 | 0.00 | 0.00 | XXX
86631 |  | X | Chlamydia antibody | 0.00 | 0.00 | 0.00 | 0.00 | 0.00 | 0.00 | XXX
86632 |  | X | Chlamydia igm antibody | 0.00 | 0.00 | 0.00 | 0.00 | 0.00 | 0.00 | XXX
86635 |  | X | Coccidioides antibody | 0.00 | 0.00 | 0.00 | 0.00 | 0.00 | 0.00 | XXX
86638 |  | X | Q fever antibody | 0.00 | 0.00 | 0.00 | 0.00 | 0.00 | 0.00 | XXX
86641 |  | X | Cryptococcus antibody | 0.00 | 0.00 | 0.00 | 0.00 | 0.00 | 0.00 | XXX
86644 |  | X | CMV antibody | 0.00 | 0.00 | 0.00 | 0.00 | 0.00 | 0.00 | XXX
86645 |  | X | CMV antibody, IgM | 0.00 | 0.00 | 0.00 | 0.00 | 0.00 | 0.00 | XXX
86648 |  | X | Diphtheria antibody | 0.00 | 0.00 | 0.00 | 0.00 | 0.00 | 0.00 | XXX
86651 |  | X | Encephalitis antibody | 0.00 | 0.00 | 0.00 | 0.00 | 0.00 | 0.00 | XXX
86652 |  | X | Encephalitis antibody | 0.00 | 0.00 | 0.00 | 0.00 | 0.00 | 0.00 | XXX
86653 |  | X | Encephalitis antibody | 0.00 | 0.00 | 0.00 | 0.00 | 0.00 | 0.00 | XXX
86654 |  | X | Encephalitis antibody | 0.00 | 0.00 | 0.00 | 0.00 | 0.00 | 0.00 | XXX
86658 |  | X | Enterovirus antibody | 0.00 | 0.00 | 0.00 | 0.00 | 0.00 | 0.00 | XXX
86663 |  | X | Epstein-barr antibody | 0.00 | 0.00 | 0.00 | 0.00 | 0.00 | 0.00 | XXX
86664 |  | X | Epstein-barr antibody | 0.00 | 0.00 | 0.00 | 0.00 | 0.00 | 0.00 | XXX
86665 |  | X | Epstein-barr antibody | 0.00 | 0.00 | 0.00 | 0.00 | 0.00 | 0.00 | XXX
86666 |  | X | Ehrlichia antibody | 0.00 | 0.00 | 0.00 | 0.00 | 0.00 | 0.00 | XXX
86668 |  | X | Francisella tularensis | 0.00 | 0.00 | 0.00 | 0.00 | 0.00 | 0.00 | XXX
86671 |  | X | Fungus antibody | 0.00 | 0.00 | 0.00 | 0.00 | 0.00 | 0.00 | XXX
86674 |  | X | Giardia lamblia antibody | 0.00 | 0.00 | 0.00 | 0.00 | 0.00 | 0.00 | XXX
86677 |  | X | Helicobacter pylori | 0.00 | 0.00 | 0.00 | 0.00 | 0.00 | 0.00 | XXX
86682 |  | X | Helminth antibody | 0.00 | 0.00 | 0.00 | 0.00 | 0.00 | 0.00 | XXX
86683 |  | D | Hemoglobin, fecal antibody | 0.00 | 0.00 | 0.00 | 0.00 | 0.00 | 0.00 | XXX
86684 |  | X | Hemophilus influenza | 0.00 | 0.00 | 0.00 | 0.00 | 0.00 | 0.00 | XXX
86687 |  | X | Htlv-i antibody | 0.00 | 0.00 | 0.00 | 0.00 | 0.00 | 0.00 | XXX
86688 |  | X | Htlv-ii antibody | 0.00 | 0.00 | 0.00 | 0.00 | 0.00 | 0.00 | XXX
86689 |  | X | HTLV/HIV confirmatory test | 0.00 | 0.00 | 0.00 | 0.00 | 0.00 | 0.00 | XXX
86692 |  | X | Hepatitis, delta agent | 0.00 | 0.00 | 0.00 | 0.00 | 0.00 | 0.00 | XXX
86694 |  | X | Herpes simplex test | 0.00 | 0.00 | 0.00 | 0.00 | 0.00 | 0.00 | XXX
86695 |  | X | Herpes simplex test | 0.00 | 0.00 | 0.00 | 0.00 | 0.00 | 0.00 | XXX
86696 |  | X | Herpes simplex type 2 | 0.00 | 0.00 | 0.00 | 0.00 | 0.00 | 0.00 | XXX
86698 |  | X | Histoplasma | 0.00 | 0.00 | 0.00 | 0.00 | 0.00 | 0.00 | XXX
86701 |  | X | HIV-1 | 0.00 | 0.00 | 0.00 | 0.00 | 0.00 | 0.00 | XXX
86702 |  | X | HIV-2 | 0.00 | 0.00 | 0.00 | 0.00 | 0.00 | 0.00 | XXX
86703 |  | X | HIV-1/HIV-2, single assay | 0.00 | 0.00 | 0.00 | 0.00 | 0.00 | 0.00 | XXX
86704 |  | X | Hep b core antibody, total | 0.00 | 0.00 | 0.00 | 0.00 | 0.00 | 0.00 | XXX
86705 |  | X | Hep b core antibody, igm | 0.00 | 0.00 | 0.00 | 0.00 | 0.00 | 0.00 | XXX
86706 |  | X | Hep b surface antibody | 0.00 | 0.00 | 0.00 | 0.00 | 0.00 | 0.00 | XXX
86707 |  | X | Hep be antibody | 0.00 | 0.00 | 0.00 | 0.00 | 0.00 | 0.00 | XXX
86708 |  | X | Hep a antibody, total | 0.00 | 0.00 | 0.00 | 0.00 | 0.00 | 0.00 | XXX
86709 |  | X | Hep a antibody, igm | 0.00 | 0.00 | 0.00 | 0.00 | 0.00 | 0.00 | XXX
86710 |  | X | Influenza virus antibody | 0.00 | 0.00 | 0.00 | 0.00 | 0.00 | 0.00 | XXX
86713 |  | X | Legionella antibody | 0.00 | 0.00 | 0.00 | 0.00 | 0.00 | 0.00 | XXX
86717 |  | X | Leishmania antibody | 0.00 | 0.00 | 0.00 | 0.00 | 0.00 | 0.00 | XXX
86720 |  | X | Leptospira antibody | 0.00 | 0.00 | 0.00 | 0.00 | 0.00 | 0.00 | XXX
86723 |  | X | Listeria monocytogenes ab | 0.00 | 0.00 | 0.00 | 0.00 | 0.00 | 0.00 | XXX
86727 |  | X | Lymph choriomeningitis ab | 0.00 | 0.00 | 0.00 | 0.00 | 0.00 | 0.00 | XXX
86729 |  | X | Lympho venereum antibody | 0.00 | 0.00 | 0.00 | 0.00 | 0.00 | 0.00 | XXX
86732 |  | X | Mucormycosis antibody | 0.00 | 0.00 | 0.00 | 0.00 | 0.00 | 0.00 | XXX
86735 |  | X | Mumps antibody | 0.00 | 0.00 | 0.00 | 0.00 | 0.00 | 0.00 | XXX
86738 |  | X | Mycoplasma antibody | 0.00 | 0.00 | 0.00 | 0.00 | 0.00 | 0.00 | XXX
86741 |  | X | Neisseria meningitidis | 0.00 | 0.00 | 0.00 | 0.00 | 0.00 | 0.00 | XXX
86744 |  | X | Nocardia antibody | 0.00 | 0.00 | 0.00 | 0.00 | 0.00 | 0.00 | XXX
86747 |  | X | Parvovirus antibody | 0.00 | 0.00 | 0.00 | 0.00 | 0.00 | 0.00 | XXX
86750 |  | X | Malaria antibody | 0.00 | 0.00 | 0.00 | 0.00 | 0.00 | 0.00 | XXX
86753 |  | X | Protozoa antibody nos | 0.00 | 0.00 | 0.00 | 0.00 | 0.00 | 0.00 | XXX
86756 |  | X | Respiratory virus antibody | 0.00 | 0.00 | 0.00 | 0.00 | 0.00 | 0.00 | XXX
86757 |  | X | Rickettsia antibody | 0.00 | 0.00 | 0.00 | 0.00 | 0.00 | 0.00 | XXX
86759 |  | X | Rotavirus antibody | 0.00 | 0.00 | 0.00 | 0.00 | 0.00 | 0.00 | XXX
86762 |  | X | Rubella antibody | 0.00 | 0.00 | 0.00 | 0.00 | 0.00 | 0.00 | XXX
86765 |  | X | Rubeola antibody | 0.00 | 0.00 | 0.00 | 0.00 | 0.00 | 0.00 | XXX
86768 |  | X | Salmonella antibody | 0.00 | 0.00 | 0.00 | 0.00 | 0.00 | 0.00 | XXX
86771 |  | X | Shigella antibody | 0.00 | 0.00 | 0.00 | 0.00 | 0.00 | 0.00 | XXX
86774 |  | X | Tetanus antibody | 0.00 | 0.00 | 0.00 | 0.00 | 0.00 | 0.00 | XXX
86777 |  | X | Toxoplasma antibody | 0.00 | 0.00 | 0.00 | 0.00 | 0.00 | 0.00 | XXX
86778 |  | X | Toxoplasma antibody, igm | 0.00 | 0.00 | 0.00 | 0.00 | 0.00 | 0.00 | XXX
86781 |  | X | Treponema pallidum, confirm | 0.00 | 0.00 | 0.00 | 0.00 | 0.00 | 0.00 | XXX
86784 |  | X | Trichinella antibody | 0.00 | 0.00 | 0.00 | 0.00 | 0.00 | 0.00 | XXX
86787 |  | X | Varicella-zoster antibody | 0.00 | 0.00 | 0.00 | 0.00 | 0.00 | 0.00 | XXX
86790 |  | X | Virus antibody nos | 0.00 | 0.00 | 0.00 | 0.00 | 0.00 | 0.00 | XXX
86793 |  | X | Yersinia antibody | 0.00 | 0.00 | 0.00 | 0.00 | 0.00 | 0.00 | XXX
86800 |  | X | Thyroglobulin antibody | 0.00 | 0.00 | 0.00 | 0.00 | 0.00 | 0.00 | XXX
86803 |  | X | Hepatitis c ab test | 0.00 | 0.00 | 0.00 | 0.00 | 0.00 | 0.00 | XXX
86804 |  | X | Hep c ab test, confirm | 0.00 | 0.00 | 0.00 | 0.00 | 0.00 | 0.00 | XXX
86805 |  | X | Lymphocytotoxicity assay | 0.00 | 0.00 | 0.00 | 0.00 | 0.00 | 0.00 | XXX
86806 |  | X | Lymphocytotoxicity assay | 0.00 | 0.00 | 0.00 | 0.00 | 0.00 | 0.00 | XXX
86807 |  | X | Cytotoxic antibody screening | 0.00 | 0.00 | 0.00 | 0.00 | 0.00 | 0.00 | XXX
86808 |  | X | Cytotoxic antibody screening | 0.00 | 0.00 | 0.00 | 0.00 | 0.00 | 0.00 | XXX
86812 |  | X | HLA typing, A, B, or C | 0.00 | 0.00 | 0.00 | 0.00 | 0.00 | 0.00 | XXX
86813 |  | X | HLA typing, A, B, or C | 0.00 | 0.00 | 0.00 | 0.00 | 0.00 | 0.00 | XXX
86816 |  | X | HLA typing, DR/DQ | 0.00 | 0.00 | 0.00 | 0.00 | 0.00 | 0.00 | XXX
86817 |  | X | HLA typing, DR/DQ | 0.00 | 0.00 | 0.00 | 0.00 | 0.00 | 0.00 | XXX
86821 |  | X | Lymphocyte culture, mixed | 0.00 | 0.00 | 0.00 | 0.00 | 0.00 | 0.00 | XXX
86822 |  | X | Lymphocyte culture, primed | 0.00 | 0.00 | 0.00 | 0.00 | 0.00 | 0.00 | XXX
86849 |  | X | Immunology procedure | 0.00 | 0.00 | 0.00 | 0.00 | 0.00 | 0.00 | XXX
86850 |  | X | RBC antibody screen | 0.00 | 0.00 | 0.00 | 0.00 | 0.00 | 0.00 | XXX
86860 |  | X | RBC antibody elution | 0.00 | 0.00 | 0.00 | 0.00 | 0.00 | 0.00 | XXX
86870 |  | X | RBC antibody identification | 0.00 | 0.00 | 0.00 | 0.00 | 0.00 | 0.00 | XXX
86880 |  | X | Coombs test | 0.00 | 0.00 | 0.00 | 0.00 | 0.00 | 0.00 | XXX
86885 |  | X | Coombs test | 0.00 | 0.00 | 0.00 | 0.00 | 0.00 | 0.00 | XXX
86886 |  | X | Coombs test | 0.00 | 0.00 | 0.00 | 0.00 | 0.00 | 0.00 | XXX
86890 |  | X | Autologous blood process | 0.00 | 0.00 | 0.00 | 0.00 | 0.00 | 0.00 | XXX
86891 |  | X | Autologous blood, op salvage | 0.00 | 0.00 | 0.00 | 0.00 | 0.00 | 0.00 | XXX
86900 |  | X | Blood typing, ABO | 0.00 | 0.00 | 0.00 | 0.00 | 0.00 | 0.00 | XXX
86901 |  | X | Blood typing, Rh (D) | 0.00 | 0.00 | 0.00 | 0.00 | 0.00 | 0.00 | XXX
86903 |  | X | Blood typing, antigen screen | 0.00 | 0.00 | 0.00 | 0.00 | 0.00 | 0.00 | XXX
86904 |  | X | Blood typing, patient serum | 0.00 | 0.00 | 0.00 | 0.00 | 0.00 | 0.00 | XXX
86905 |  | X | Blood typing, RBC antigens | 0.00 | 0.00 | 0.00 | 0.00 | 0.00 | 0.00 | XXX
86906 |  | X | Blood typing, Rh phenotype | 0.00 | 0.00 | 0.00 | 0.00 | 0.00 | 0.00 | XXX
86910 |  | N | Blood typing, paternity test | 0.00 | 0.00 | 0.00 | 0.00 | 0.00 | 0.00 | XXX
86911 |  | N | Blood typing, antigen system | 0.00 | 0.00 | 0.00 | 0.00 | 0.00 | 0.00 | XXX
86915 |  | X | Bone marrow/stem cell prep | 0.00 | 0.00 | 0.00 | 0.00 | 0.00 | 0.00 | XXX
86920 |  | X | Compatibility test | 0.00 | 0.00 | 0.00 | 0.00 | 0.00 | 0.00 | XXX
86921 |  | X | Compatibility test | 0.00 | 0.00 | 0.00 | 0.00 | 0.00 | 0.00 | XXX
86922 |  | X | Compatibility test | 0.00 | 0.00 | 0.00 | 0.00 | 0.00 | 0.00 | XXX
86927 |  | X | Plasma, fresh frozen | 0.00 | 0.00 | 0.00 | 0.00 | 0.00 | 0.00 | XXX
86930 |  | X | Frozen blood prep | 0.00 | 0.00 | 0.00 | 0.00 | 0.00 | 0.00 | XXX
86931 |  | X | Frozen blood thaw | 0.00 | 0.00 | 0.00 | 0.00 | 0.00 | 0.00 | XXX
86932 |  | X | Frozen blood freeze/thaw | 0.00 | 0.00 | 0.00 | 0.00 | 0.00 | 0.00 | XXX
86940 |  | X | Hemolysins/agglutinins, auto | 0.00 | 0.00 | 0.00 | 0.00 | 0.00 | 0.00 | XXX
86941 |  | X | Hemolysins/agglutinins | 0.00 | 0.00 | 0.00 | 0.00 | 0.00 | 0.00 | XXX
86945 |  | X | Blood product/irradiation | 0.00 | 0.00 | 0.00 | 0.00 | 0.00 | 0.00 | XXX
86950 |  | X | Leukacyte transfusion | 0.00 | 0.00 | 0.00 | 0.00 | 0.00 | 0.00 | XXX
86965 |  | X | Pooling blood platelets | 0.00 | 0.00 | 0.00 | 0.00 | 0.00 | 0.00 | XXX
86970 |  | X | RBC pretreatment | 0.00 | 0.00 | 0.00 | 0.00 | 0.00 | 0.00 | XXX
86971 |  | X | RBC pretreatment | 0.00 | 0.00 | 0.00 | 0.00 | 0.00 | 0.00 | XXX
86972 |  | X | RBC pretreatment | 0.00 | 0.00 | 0.00 | 0.00 | 0.00 | 0.00 | XXX
86975 |  | X | RBC pretreatment, serum | 0.00 | 0.00 | 0.00 | 0.00 | 0.00 | 0.00 | XXX
86976 |  | X | RBC pretreatment, serum | 0.00 | 0.00 | 0.00 | 0.00 | 0.00 | 0.00 | XXX
86977 |  | X | RBC pretreatment, serum | 0.00 | 0.00 | 0.00 | 0.00 | 0.00 | 0.00 | XXX
86978 |  | X | RBC pretreatment, serum | 0.00 | 0.00 | 0.00 | 0.00 | 0.00 | 0.00 | XXX
86985 |  | X | Split blood or products | 0.00 | 0.00 | 0.00 | 0.00 | 0.00 | 0.00 | XXX
86999 |  | X | Transfusion procedure | 0.00 | 0.00 | 0.00 | 0.00 | 0.00 | 0.00 | XXX
87001 |  | X | Small animal inoculation | 0.00 | 0.00 | 0.00 | 0.00 | 0.00 | 0.00 | XXX
87003 |  | X | Small animal inoculation | 0.00 | 0.00 | 0.00 | 0.00 | 0.00 | 0.00 | XXX
87015 |  | X | Specimen concentration | 0.00 | 0.00 | 0.00 | 0.00 | 0.00 | 0.00 | XXX
87040 |  | X | Blood culture for bacteria | 0.00 | 0.00 | 0.00 | 0.00 | 0.00 | 0.00 | XXX
87045 |  | X | Feces culture, bacteria | 0.00 | 0.00 | 0.00 | 0.00 | 0.00 | 0.00 | XXX
87046 |  | X | Stool cultr, bacteria, each | 0.00 | 0.00 | 0.00 | 0.00 | 0.00 | 0.00 | XXX
87070 |  | X | Culture, bacteria, other | 0.00 | 0.00 | 0.00 | 0.00 | 0.00 | 0.00 | XXX
87071 |  | X | Culture bacteri aerobic othr | 0.00 | 0.00 | 0.00 | 0.00 | 0.00 | 0.00 | XXX
87073 |  | X | Culture bacteria anaerobic | 0.00 | 0.00 | 0.00 | 0.00 | 0.00 | 0.00 | XXX
87075 |  | X | Culture bacteria anaerobic | 0.00 | 0.00 | 0.00 | 0.00 | 0.00 | 0.00 | XXX
87076 |  | X | Culture anaerobe ident, each | 0.00 | 0.00 | 0.00 | 0.00 | 0.00 | 0.00 | XXX
87077 |  | X | Culture aerobic identify | 0.00 | 0.00 | 0.00 | 0.00 | 0.00 | 0.00 | XXX
87081 |  | X | Culture screen only | 0.00 | 0.00 | 0.00 | 0.00 | 0.00 | 0.00 | XXX
87084 |  | X | Culture of specimen by kit | 0.00 | 0.00 | 0.00 | 0.00 | 0.00 | 0.00 | XXX
87086 |  | X | Urine culture/colony count | 0.00 | 0.00 | 0.00 | 0.00 | 0.00 | 0.00 | XXX
87088 |  | X | Urine bacteria culture | 0.00 | 0.00 | 0.00 | 0.00 | 0.00 | 0.00 | XXX
87101 |  | X | Skin fungi culture | 0.00 | 0.00 | 0.00 | 0.00 | 0.00 | 0.00 | XXX
87102 |  | X | Fungus isolation culture | 0.00 | 0.00 | 0.00 | 0.00 | 0.00 | 0.00 | XXX
87103 |  | X | Blood fungus culture | 0.00 | 0.00 | 0.00 | 0.00 | 0.00 | 0.00 | XXX
87106 |  | X | Fungi identification, yeast | 0.00 | 0.00 | 0.00 | 0.00 | 0.00 | 0.00 | XXX
87107 |  | X | Fungi identification, mold | 0.00 | 0.00 | 0.00 | 0.00 | 0.00 | 0.00 | XXX
87109 |  | X | Mycoplasma | 0.00 | 0.00 | 0.00 | 0.00 | 0.00 | 0.00 | XXX
87110 |  | X | Chlamydia culture | 0.00 | 0.00 | 0.00 | 0.00 | 0.00 | 0.00 | XXX
87116 |  | X | Mycobacteria culture | 0.00 | 0.00 | 0.00 | 0.00 | 0.00 | 0.00 | XXX
87118 |  | X | Mycobacteric identification | 0.00 | 0.00 | 0.00 | 0.00 | 0.00 | 0.00 | XXX
87140 |  | X | Culture type immunofluoresc | 0.00 | 0.00 | 0.00 | 0.00 | 0.00 | 0.00 | XXX
87143 |  | X | Culture typing, glc/hplc | 0.00 | 0.00 | 0.00 | 0.00 | 0.00 | 0.00 | XXX
87147 |  | X | Culture type, immunologic | 0.00 | 0.00 | 0.00 | 0.00 | 0.00 | 0.00 | XXX
87149 |  | X | Culture type, nucleic acid | 0.00 | 0.00 | 0.00 | 0.00 | 0.00 | 0.00 | XXX
87152 |  | X | Culture type pulse field gel | 0.00 | 0.00 | 0.00 | 0.00 | 0.00 | 0.00 | XXX
87158 |  | X | Culture typing, added method | 0.00 | 0.00 | 0.00 | 0.00 | 0.00 | 0.00 | XXX
87164 |  | X | Dark field examination | 0.00 | 0.00 | 0.00 | 0.00 | 0.00 | 0.00 | XXX
87164 | 26 | A | Dark field examination | 0.37 | 0.12 | 0.11 | 0.01 | 0.50 | 0.49 | XXX
87166 |  | X | Dark field examination | 0.00 | 0.00 | 0.00 | 0.00 | 0.00 | 0.00 | XXX
87168 |  | X | Macroscopic exam arthropod | 0.00 | 0.00 | 0.00 | 0.00 | 0.00 | 0.00 | XXX
87169 |  | X | Macacroscopic exam parasite | 0.00 | 0.00 | 0.00 | 0.00 | 0.00 | 0.00 | XXX
87172 |  | X | Pinworm exam | 0.00 | 0.00 | 0.00 | 0.00 | 0.00 | 0.00 | XXX
87176 |  | X | Tissue homogenization, cultr | 0.00 | 0.00 | 0.00 | 0.00 | 0.00 | 0.00 | XXX
87177 |  | X | Ova and parasites smears | 0.00 | 0.00 | 0.00 | 0.00 | 0.00 | 0.00 | XXX
87181 |  | X | Microbe susceptible, diffuse | 0.00 | 0.00 | 0.00 | 0.00 | 0.00 | 0.00 | XXX
87184 |  | X | Microbe susceptible, disk | 0.00 | 0.00 | 0.00 | 0.00 | 0.00 | 0.00 | XXX
87185 |  | X | Microbe susceptible, enzyme | 0.00 | 0.00 | 0.00 | 0.00 | 0.00 | 0.00 | XXX
87186 |  | X | Microbe susceptible, mic | 0.00 | 0.00 | 0.00 | 0.00 | 0.00 | 0.00 | XXX
87187 |  | X | Microbe susceptible, mlc | 0.00 | 0.00 | 0.00 | 0.00 | 0.00 | 0.00 | XXX
87188 |  | X | Microbe suscept, macrobroth | 0.00 | 0.00 | 0.00 | 0.00 | 0.00 | 0.00 | XXX
87190 |  | X | Microbe suscept, mycobacteri | 0.00 | 0.00 | 0.00 | 0.00 | 0.00 | 0.00 | XXX
87197 |  | X | Bactericidal level, serum | 0.00 | 0.00 | 0.00 | 0.00 | 0.00 | 0.00 | XXX
87198 |  | X | Cytomegalovirus antibody dfa | 0.00 | 0.00 | 0.00 | 0.00 | 0.00 | 0.00 | XXX
87199 |  | X | Enterovirus antibody, dfa | 0.00 | 0.00 | 0.00 | 0.00 | 0.00 | 0.00 | XXX
87205 |  | X | Smear, gram stain | 0.00 | 0.00 | 0.00 | 0.00 | 0.00 | 0.00 | XXX
87206 |  | X | Smear, fluorescent/acid stai | 0.00 | 0.00 | 0.00 | 0.00 | 0.00 | 0.00 | XXX
87207 |  | X | Smear, special stain | 0.00 | 0.00 | 0.00 | 0.00 | 0.00 | 0.00 | XXX
87207 | 26 | A | Smear, special stain | 0.37 | 0.18 | 0.17 | 0.01 | 0.56 | 0.55 | XXX
87210 |  | X | Smear, wet mount, saline/ink | 0.00 | 0.00 | 0.00 | 0.00 | 0.00 | 0.00 | XXX
87220 |  | X | Tissue exam for fungi | 0.00 | 0.00 | 0.00 | 0.00 | 0.00 | 0.00 | XXX
87230 |  | X | Assay, toxin or antitoxin | 0.00 | 0.00 | 0.00 | 0.00 | 0.00 | 0.00 | XXX
87250 |  | X | Virus inoculate, eggs/animal | 0.00 | 0.00 | 0.00 | 0.00 | 0.00 | 0.00 | XXX
87252 |  | X | Virus inoculation, tissue | 0.00 | 0.00 | 0.00 | 0.00 | 0.00 | 0.00 | XXX
87253 |  | X | Virus inoculate tissue, addl | 0.00 | 0.00 | 0.00 | 0.00 | 0.00 | 0.00 | XXX
87254 |  | X | Virus inoculation, shell via | 0.00 | 0.00 | 0.00 | 0.00 | 0.00 | 0.00 | XXX
87260 |  | X | Adenovirus ag, if | 0.00 | 0.00 | 0.00 | 0.00 | 0.00 | 0.00 | XXX
87265 |  | X | Pertussis ag, if | 0.00 | 0.00 | 0.00 | 0.00 | 0.00 | 0.00 | XXX
87270 |  | X | Chlamydia trachomatis ag, if | 0.00 | 0.00 | 0.00 | 0.00 | 0.00 | 0.00 | XXX
87272 |  | X | Cryptosporidum/gardia ag, if | 0.00 | 0.00 | 0.00 | 0.00 | 0.00 | 0.00 | XXX
87273 |  | X | Herpes simplex 2, ag, if | 0.00 | 0.00 | 0.00 | 0.00 | 0.00 | 0.00 | XXX
87274 |  | X | Herpes simplex 1, ag, if | 0.00 | 0.00 | 0.00 | 0.00 | 0.00 | 0.00 | XXX
87275 |  | X | Influenza b, ag, if | 0.00 | 0.00 | 0.00 | 0.00 | 0.00 | 0.00 | XXX
87276 |  | X | Influenza a, ag, if | 0.00 | 0.00 | 0.00 | 0.00 | 0.00 | 0.00 | XXX
87277 |  | X | Legionella micdadei, ag, if | 0.00 | 0.00 | 0.00 | 0.00 | 0.00 | 0.00 | XXX
87278 |  | X | Legion pneumophilia ag, if | 0.00 | 0.00 | 0.00 | 0.00 | 0.00 | 0.00 | XXX
87279 |  | X | Parainfluenza, ag, if | 0.00 | 0.00 | 0.00 | 0.00 | 0.00 | 0.00 | XXX
87280 |  | X | Respiratory syncytial ag, if | 0.00 | 0.00 | 0.00 | 0.00 | 0.00 | 0.00 | XXX
87281 |  | X | Pneumocystis carinii, ag, if | 0.00 | 0.00 | 0.00 | 0.00 | 0.00 | 0.00 | XXX
87283 |  | X | Rubeola, ag, if | 0.00 | 0.00 | 0.00 | 0.00 | 0.00 | 0.00 | XXX
87285 |  | X | Treponema pallidum, ag, if | 0.00 | 0.00 | 0.00 | 0.00 | 0.00 | 0.00 | XXX
87290 |  | X | Varicella zoster, ag, if | 0.00 | 0.00 | 0.00 | 0.00 | 0.00 | 0.00 | XXX
87299 |  | X | Antibody detection, nos, if | 0.00 | 0.00 | 0.00 | 0.00 | 0.00 | 0.00 | XXX
87300 |  | X | Ag detection, polyval, if | 0.00 | 0.00 | 0.00 | 0.00 | 0.00 | 0.00 | XXX
87301 |  | X | Adenovirus ag, eia | 0.00 | 0.00 | 0.00 | 0.00 | 0.00 | 0.00 | XXX
87320 |  | X | Chylmd trach ag, eia | 0.00 | 0.00 | 0.00 | 0.00 | 0.00 | 0.00 | XXX
87324 |  | X | Clostridium ag, eia | 0.00 | 0.00 | 0.00 | 0.00 | 0.00 | 0.00 | XXX
87327 |  | X | Cryptococcus neoform ag, eia | 0.00 | 0.00 | 0.00 | 0.00 | 0.00 | 0.00 | XXX
87328 |  | X | Cryptospor ag, eia | 0.00 | 0.00 | 0.00 | 0.00 | 0.00 | 0.00 | XXX
87332 |  | X | Cytomegalovirus ag, eia | 0.00 | 0.00 | 0.00 | 0.00 | 0.00 | 0.00 | XXX
87335 |  | X | E coli 0157 ag, eia | 0.00 | 0.00 | 0.00 | 0.00 | 0.00 | 0.00 | XXX
87336 |  | X | Entamoeb hist dispr, ag, eia | 0.00 | 0.00 | 0.00 | 0.00 | 0.00 | 0.00 | XXX
87337 |  | X | Entamoeb hist group, ag, eia | 0.00 | 0.00 | 0.00 | 0.00 | 0.00 | 0.00 | XXX
87338 |  | X | Hpylori, stool, eia | 0.00 | 0.00 | 0.00 | 0.00 | 0.00 | 0.00 | XXX
87339 |  | X | H pylori ag, eia | 0.00 | 0.00 | 0.00 | 0.00 | 0.00 | 0.00 | XXX
87340 |  | X | Hepatitis b surface ag, eia | 0.00 | 0.00 | 0.00 | 0.00 | 0.00 | 0.00 | XXX
87341 |  | X | Hepatitis b surface, ag, eia | 0.00 | 0.00 | 0.00 | 0.00 | 0.00 | 0.00 | XXX
87350 |  | X | Hepatitis be ag, eia | 0.00 | 0.00 | 0.00 | 0.00 | 0.00 | 0.00 | XXX
87380 |  | X | Hepatitis delta ag, eia | 0.00 | 0.00 | 0.00 | 0.00 | 0.00 | 0.00 | XXX
87385 |  | X | Histoplasma capsul ag, eia | 0.00 | 0.00 | 0.00 | 0.00 | 0.00 | 0.00 | XXX
87390 |  | X | Hiv-1 ag, eia | 0.00 | 0.00 | 0.00 | 0.00 | 0.00 | 0.00 | XXX
87391 |  | X | Hiv-2 ag, eia | 0.00 | 0.00 | 0.00 | 0.00 | 0.00 | 0.00 | XXX
87400 |  | X | Influenza a/b, ag, eia | 0.00 | 0.00 | 0.00 | 0.00 | 0.00 | 0.00 | XXX
87420 |  | X | Resp syncytial ag, eia | 0.00 | 0.00 | 0.00 | 0.00 | 0.00 | 0.00 | XXX
87425 |  | X | Rotavirus ag, eia | 0.00 | 0.00 | 0.00 | 0.00 | 0.00 | 0.00 | XXX
87427 |  | X | Shiga-like toxin ag, eia | 0.00 | 0.00 | 0.00 | 0.00 | 0.00 | 0.00 | XXX
87430 |  | X | Strep a ag, eia | 0.00 | 0.00 | 0.00 | 0.00 | 0.00 | 0.00 | XXX
87449 |  | X | Ag detect nos, eia, mult | 0.00 | 0.00 | 0.00 | 0.00 | 0.00 | 0.00 | XXX
87450 |  | X | Ag detect nos, eia, single | 0.00 | 0.00 | 0.00 | 0.00 | 0.00 | 0.00 | XXX
87451 |  | X | Ag detect polyval, eia, mult | 0.00 | 0.00 | 0.00 | 0.00 | 0.00 | 0.00 | XXX
87470 |  | X | Bartonella, dna, dir probe | 0.00 | 0.00 | 0.00 | 0.00 | 0.00 | 0.00 | XXX
87471 |  | X | Bartonella, dna, amp probe | 0.00 | 0.00 | 0.00 | 0.00 | 0.00 | 0.00 | XXX
87472 |  | X | Bartonella, dna, quant | 0.00 | 0.00 | 0.00 | 0.00 | 0.00 | 0.00 | XXX
87475 |  | X | Lyme dis, dna, dir probe | 0.00 | 0.00 | 0.00 | 0.00 | 0.00 | 0.00 | XXX
87476 |  | X | Lyme dis, dna, amp probe | 0.00 | 0.00 | 0.00 | 0.00 | 0.00 | 0.00 | XXX
87477 |  | X | Lyme dis, dna, quant | 0.00 | 0.00 | 0.00 | 0.00 | 0.00 | 0.00 | XXX
87480 |  | X | Candida, dna, dir probe | 0.00 | 0.00 | 0.00 | 0.00 | 0.00 | 0.00 | XXX
87481 |  | X | Candida, dna, amp probe | 0.00 | 0.00 | 0.00 | 0.00 | 0.00 | 0.00 | XXX
87482 |  | X | Candida, dna, quant | 0.00 | 0.00 | 0.00 | 0.00 | 0.00 | 0.00 | XXX
87485 |  | X | Chylmd pneum, dna, dir probe | 0.00 | 0.00 | 0.00 | 0.00 | 0.00 | 0.00 | XXX
87486 |  | X | Chylmd pneum, dna, amp probe | 0.00 | 0.00 | 0.00 | 0.00 | 0.00 | 0.00 | XXX
87487 |  | X | Chylmd pneum, dna, quant | 0.00 | 0.00 | 0.00 | 0.00 | 0.00 | 0.00 | XXX
87490 |  | X | Chylmd trach, dna, dir probe | 0.00 | 0.00 | 0.00 | 0.00 | 0.00 | 0.00 | XXX
87491 |  | X | Chylmd trach, dna, amp probe | 0.00 | 0.00 | 0.00 | 0.00 | 0.00 | 0.00 | XXX
87492 |  | X | Chylmd trach, dna, quant | 0.00 | 0.00 | 0.00 | 0.00 | 0.00 | 0.00 | XXX
87495 |  | X | Cytomeg, dna, dir probe | 0.00 | 0.00 | 0.00 | 0.00 | 0.00 | 0.00 | XXX
87496 |  | X | Cytomeg, dna, amp probe | 0.00 | 0.00 | 0.00 | 0.00 | 0.00 | 0.00 | XXX
87497 |  | X | Cytomeg, dna, quant | 0.00 | 0.00 | 0.00 | 0.00 | 0.00 | 0.00 | XXX
87510 |  | X | Gardner vag, dna, dir probe | 0.00 | 0.00 | 0.00 | 0.00 | 0.00 | 0.00 | XXX
87511 |  | X | Gardner vag, dna, amp probe | 0.00 | 0.00 | 0.00 | 0.00 | 0.00 | 0.00 | XXX
87512 |  | X | Gardner vag, dna, quant | 0.00 | 0.00 | 0.00 | 0.00 | 0.00 | 0.00 | XXX
87515 |  | X | Hepatitis b, dna, dir probe | 0.00 | 0.00 | 0.00 | 0.00 | 0.00 | 0.00 | XXX
87516 |  | X | Hepatitis b, dna, amp probe | 0.00 | 0.00 | 0.00 | 0.00 | 0.00 | 0.00 | XXX
87517 |  | X | Hepatitis b, dna, quant | 0.00 | 0.00 | 0.00 | 0.00 | 0.00 | 0.00 | XXX
87520 |  | X | Hepatitis c, rna, dir probe | 0.00 | 0.00 | 0.00 | 0.00 | 0.00 | 0.00 | XXX
87521 |  | X | Hepatitis c, rna, amp probe | 0.00 | 0.00 | 0.00 | 0.00 | 0.00 | 0.00 | XXX
87522 |  | X | Hepatitis c, rna, quant | 0.00 | 0.00 | 0.00 | 0.00 | 0.00 | 0.00 | XXX
87525 |  | X | Hepatitis g, dna, dir probe | 0.00 | 0.00 | 0.00 | 0.00 | 0.00 | 0.00 | XXX
87526 |  | X | Hepatitis g, dna, amp probe | 0.00 | 0.00 | 0.00 | 0.00 | 0.00 | 0.00 | XXX
87527 |  | X | Hepatitis g, dna, quant | 0.00 | 0.00 | 0.00 | 0.00 | 0.00 | 0.00 | XXX
87528 |  | X | Hsv, dna, dir probe | 0.00 | 0.00 | 0.00 | 0.00 | 0.00 | 0.00 | XXX
87529 |  | X | Hsv, dna, amp probe | 0.00 | 0.00 | 0.00 | 0.00 | 0.00 | 0.00 | XXX
87530 |  | X | Hsv, dna, quant | 0.00 | 0.00 | 0.00 | 0.00 | 0.00 | 0.00 | XXX
87531 |  | X | Hhv-6, dna, dir probe | 0.00 | 0.00 | 0.00 | 0.00 | 0.00 | 0.00 | XXX
87532 |  | X | Hhv-6, dna, amp probe | 0.00 | 0.00 | 0.00 | 0.00 | 0.00 | 0.00 | XXX
87533 |  | X | Hhv-6, dna, quant | 0.00 | 0.00 | 0.00 | 0.00 | 0.00 | 0.00 | XXX
87534 |  | X | Hiv-1, dna, dir probe | 0.00 | 0.00 | 0.00 | 0.00 | 0.00 | 0.00 | XXX
87535 |  | X | Hiv-1, dna, amp probe | 0.00 | 0.00 | 0.00 | 0.00 | 0.00 | 0.00 | XXX
87536 |  | X | Hiv-1, dna, quant | 0.00 | 0.00 | 0.00 | 0.00 | 0.00 | 0.00 | XXX
87537 |  | X | Hiv-2, dna, dir probe | 0.00 | 0.00 | 0.00 | 0.00 | 0.00 | 0.00 | XXX
87538 |  | X | Hiv-2, dna, amp probe | 0.00 | 0.00 | 0.00 | 0.00 | 0.00 | 0.00 | XXX
87539 |  | X | Hiv-2, dna, quant | 0.00 | 0.00 | 0.00 | 0.00 | 0.00 | 0.00 | XXX
87540 |  | X | Legion pneumo, dna, dir prob | 0.00 | 0.00 | 0.00 | 0.00 | 0.00 | 0.00 | XXX
87541 |  | X | Legion pneumo, dna, amp prob | 0.00 | 0.00 | 0.00 | 0.00 | 0.00 | 0.00 | XXX
87542 |  | X | Legion pneumo, dna, quant | 0.00 | 0.00 | 0.00 | 0.00 | 0.00 | 0.00 | XXX
87550 |  | X | Mycobacteria, dna, dir probe | 0.00 | 0.00 | 0.00 | 0.00 | 0.00 | 0.00 | XXX
87551 |  | X | Mycobacteria, dna, amp probe | 0.00 | 0.00 | 0.00 | 0.00 | 0.00 | 0.00 | XXX
87552 |  | X | Mycobacteria, dna, quant | 0.00 | 0.00 | 0.00 | 0.00 | 0.00 | 0.00 | XXX
87555 |  | X | M.tuberculo, dna, dir probe | 0.00 | 0.00 | 0.00 | 0.00 | 0.00 | 0.00 | XXX
87556 |  | X | M.tuberculo, dna, amp probe | 0.00 | 0.00 | 0.00 | 0.00 | 0.00 | 0.00 | XXX
87557 |  | X | M.tuberculo, dna, quant | 0.00 | 0.00 | 0.00 | 0.00 | 0.00 | 0.00 | XXX
87560 |  | X | M.avium-intra, dna, dir prob | 0.00 | 0.00 | 0.00 | 0.00 | 0.00 | 0.00 | XXX
87561 |  | X | M.avium-intra, dna, amp prob | 0.00 | 0.00 | 0.00 | 0.00 | 0.00 | 0.00 | XXX
87562 |  | X | M.avium-intra, dna, quant | 0.00 | 0.00 | 0.00 | 0.00 | 0.00 | 0.00 | XXX
87580 |  | X | M.pneumon, dna, dir probe | 0.00 | 0.00 | 0.00 | 0.00 | 0.00 | 0.00 | XXX
87581 |  | X | M.pneumon, dna, amp probe | 0.00 | 0.00 | 0.00 | 0.00 | 0.00 | 0.00 | XXX
87582 |  | X | M.pneumon, dna, quant | 0.00 | 0.00 | 0.00 | 0.00 | 0.00 | 0.00 | XXX
87590 |  | X | N.gonorrhoeae, dna, dir prob | 0.00 | 0.00 | 0.00 | 0.00 | 0.00 | 0.00 | XXX
87591 |  | X | N.gonorrhoeae, dna, amp prob | 0.00 | 0.00 | 0.00 | 0.00 | 0.00 | 0.00 | XXX
87592 |  | X | N.gonorrhoeae, dna, quant | 0.00 | 0.00 | 0.00 | 0.00 | 0.00 | 0.00 | XXX
87620 |  | X | Hpv, dna, dir probe | 0.00 | 0.00 | 0.00 | 0.00 | 0.00 | 0.00 | XXX
87621 |  | X | Hpv, dna, amp probe | 0.00 | 0.00 | 0.00 | 0.00 | 0.00 | 0.00 | XXX
87622 |  | X | Hpv, dna, quant | 0.00 | 0.00 | 0.00 | 0.00 | 0.00 | 0.00 | XXX
87650 |  | X | Strep a, dna, dir probe | 0.00 | 0.00 | 0.00 | 0.00 | 0.00 | 0.00 | XXX
87651 |  | X | Strep a, dna, amp probe | 0.00 | 0.00 | 0.00 | 0.00 | 0.00 | 0.00 | XXX
87652 |  | X | Strep a, dna, quant | 0.00 | 0.00 | 0.00 | 0.00 | 0.00 | 0.00 | XXX
87797 |  | X | Detect agent nos, dna, dir | 0.00 | 0.00 | 0.00 | 0.00 | 0.00 | 0.00 | XXX
87798 |  | X | Detect agent nos, dna, amp | 0.00 | 0.00 | 0.00 | 0.00 | 0.00 | 0.00 | XXX
87799 |  | X | Detect agent nos, dna, quant | 0.00 | 0.00 | 0.00 | 0.00 | 0.00 | 0.00 | XXX
87800 |  | X | Detect agnt mult, dna, direc | 0.00 | 0.00 | 0.00 | 0.00 | 0.00 | 0.00 | XXX
87801 |  | X | Detect agnt mult, dna, ampli | 0.00 | 0.00 | 0.00 | 0.00 | 0.00 | 0.00 | XXX
87802 |  | X | Strep b assay w/optic | 0.00 | 0.00 | 0.00 | 0.00 | 0.00 | 0.00 | XXX
87803 |  | X | Clostridium toxin a w/optic | 0.00 | 0.00 | 0.00 | 0.00 | 0.00 | 0.00 | XXX
87804 |  | X | Influenza assay w/optic | 0.00 | 0.00 | 0.00 | 0.00 | 0.00 | 0.00 | XXX
87810 |  | X | Chylmd trach assay w/optic | 0.00 | 0.00 | 0.00 | 0.00 | 0.00 | 0.00 | XXX
87850 |  | X | N. gonorrhoeae assay w/optic | 0.00 | 0.00 | 0.00 | 0.00 | 0.00 | 0.00 | XXX
87880 |  | X | Strep a assay w/optic | 0.00 | 0.00 | 0.00 | 0.00 | 0.00 | 0.00 | XXX
87899 |  | X | Agent nos assay w/optic | 0.00 | 0.00 | 0.00 | 0.00 | 0.00 | 0.00 | XXX
87901 |  | X | Genotype, dna, hiv reverse t | 0.00 | 0.00 | 0.00 | 0.00 | 0.00 | 0.00 | XXX
87902 |  | X | Genotype, dna, hepatitis C | 0.00 | 0.00 | 0.00 | 0.00 | 0.00 | 0.00 | XXX
87903 |  | X | Phenotype, dna hiv w/culture | 0.00 | 0.00 | 0.00 | 0.00 | 0.00 | 0.00 | XXX
87904 |  | X | Phenotype, dna hiv w/clt add | 0.00 | 0.00 | 0.00 | 0.00 | 0.00 | 0.00 | XXX
87999 |  | X | Microbiology procedure | 0.00 | 0.00 | 0.00 | 0.00 | 0.00 | 0.00 | XXX
88000 |  | N | Autopsy (necropsy), gross | 0.00 | 0.00 | 0.00 | 0.00 | 0.00 | 0.00 | XXX
88005 |  | N | Autopsy (necropsy), gross | 0.00 | 0.00 | 0.00 | 0.00 | 0.00 | 0.00 | XXX
88007 |  | N | Autopsy (necropsy), gross | 0.00 | 0.00 | 0.00 | 0.00 | 0.00 | 0.00 | XXX
88012 |  | N | Autopsy (necropsy), gross | 0.00 | 0.00 | 0.00 | 0.00 | 0.00 | 0.00 | XXX
88014 |  | N | Autopsy (necropsy), gross | 0.00 | 0.00 | 0.00 | 0.00 | 0.00 | 0.00 | XXX
88016 |  | N | Autopsy (necropsy), gross | 0.00 | 0.00 | 0.00 | 0.00 | 0.00 | 0.00 | XXX
88020 |  | N | Autopsy (necropsy), complete | 0.00 | 0.00 | 0.00 | 0.00 | 0.00 | 0.00 | XXX
88025 |  | N | Autopsy (necropsy), complete | 0.00 | 0.00 | 0.00 | 0.00 | 0.00 | 0.00 | XXX
88027 |  | N | Autopsy (necropsy), complete | 0.00 | 0.00 | 0.00 | 0.00 | 0.00 | 0.00 | XXX
88028 |  | N | Autopsy (necropsy), complete | 0.00 | 0.00 | 0.00 | 0.00 | 0.00 | 0.00 | XXX
88029 |  | N | Autopsy (necropsy), complete | 0.00 | 0.00 | 0.00 | 0.00 | 0.00 | 0.00 | XXX
88036 |  | N | Limited autopsy | 0.00 | 0.00 | 0.00 | 0.00 | 0.00 | 0.00 | XXX
88037 |  | N | Limited autopsy | 0.00 | 0.00 | 0.00 | 0.00 | 0.00 | 0.00 | XXX
88040 |  | N | Forensic autopsy (necropsy) | 0.00 | 0.00 | 0.00 | 0.00 | 0.00 | 0.00 | XXX
88045 |  | N | Coroner's autopsy (necropsy) | 0.00 | 0.00 | 0.00 | 0.00 | 0.00 | 0.00 | XXX
88099 |  | N | Necropsy (autopsy) procedure | 0.00 | 0.00 | 0.00 | 0.00 | 0.00 | 0.00 | XXX
88104 |  | A | Cytopathology, fluids | 0.56 | 0.72 | NA | 0.04 | 1.32 | NA | XXX
88104 | 26 | A | Cytopathology, fluids | 0.56 | 0.26 | 0.26 | 0.02 | 0.84 | 0.84 | XXX
88104 | TC | A | Cytopathology, fluids | 0.00 | 0.46 | NA | 0.02 | 0.48 | NA | XXX
88106 |  | A | Cytopathology, fluids | 0.56 | 0.72 | NA | 0.04 | 1.32 | NA | XXX
88106 | 26 | A | Cytopathology, fluids | 0.56 | 0.26 | 0.26 | 0.02 | 0.84 | 0.84 | XXX
88106 | TC | A | Cytopathology, fluids | 0.00 | 0.46 | NA | 0.02 | 0.48 | NA | XXX
88107 |  | A | Cytopathology, fluids | 0.76 | 1.01 | NA | 0.05 | 1.82 | NA | XXX
88107 | 26 | A | Cytopathology, fluids | 0.76 | 0.35 | 0.35 | 0.03 | 1.14 | 1.14 | XXX
88107 | TC | A | Cytopathology, fluids | 0.00 | 0.66 | NA | 0.02 | 0.68 | NA | XXX
88108 |  | A | Cytopath, concentrate tech | 0.56 | 0.94 | NA | 0.04 | 1.54 | NA | XXX
88108 | 26 | A | Cytopath, concentrate tech | 0.56 | 0.26 | 0.26 | 0.02 | 0.84 | 0.84 | XXX
88108 | TC | A | Cytopath, concentrate tech | 0.00 | 0.68 | NA | 0.02 | 0.70 | NA | XXX
88125 |  | A | Forensic cytopathology | 0.26 | 0.30 | NA | 0.02 | 0.58 | NA | XXX
88125 | 26 | A | Forensic cytopathology | 0.26 | 0.12 | 0.12 | 0.01 | 0.39 | 0.39 | XXX
88125 | TC | A | Forensic cytopathology | 0.00 | 0.18 | NA | 0.01 | 0.19 | NA | XXX
88130 |  | X | Sex chromatin identification | 0.00 | 0.00 | 0.00 | 0.00 | 0.00 | 0.00 | XXX
88140 |  | X | Sex chromatin identification | 0.00 | 0.00 | 0.00 | 0.00 | 0.00 | 0.00 | XXX
88141 |  | A | Cytopath, c/v, interpret | 0.42 | 0.19 | 0.19 | 0.01 | 0.62 | 0.62 | XXX
88142 |  | X | Cytopath, c/v, thin layer | 0.00 | 0.00 | 0.00 | 0.00 | 0.00 | 0.00 | XXX
88143 |  | X | Cytopath, c/v, thin lyr redo | 0.00 | 0.00 | 0.00 | 0.00 | 0.00 | 0.00 | XXX
88144 |  | X | Cytopath, c/v, thin lyr redo | 0.00 | 0.00 | 0.00 | 0.00 | 0.00 | 0.00 | XXX
88145 |  | X | Cytopath, c/v, thin lyr sel | 0.00 | 0.00 | 0.00 | 0.00 | 0.00 | 0.00 | XXX
88147 |  | X | Cytopath, c/v, automated | 0.00 | 0.00 | 0.00 | 0.00 | 0.00 | 0.00 | XXX
88148 |  | X | Cytopath, c/v, auto rescreen | 0.00 | 0.00 | 0.00 | 0.00 | 0.00 | 0.00 | XXX
88150 |  | X | Cytopath, c/v, manual | 0.00 | 0.00 | 0.00 | 0.00 | 0.00 | 0.00 | XXX
88152 |  | X | Cytopath, c/v, auto redo | 0.00 | 0.00 | 0.00 | 0.00 | 0.00 | 0.00 | XXX
88153 |  | X | Cytopath, c/v, redo | 0.00 | 0.00 | 0.00 | 0.00 | 0.00 | 0.00 | XXX
88154 |  | X | Cytopath, c/v, select | 0.00 | 0.00 | 0.00 | 0.00 | 0.00 | 0.00 | XXX
88155 |  | X | Cytopath, c/v, index add-on | 0.00 | 0.00 | 0.00 | 0.00 | 0.00 | 0.00 | XXX
88160 |  | A | Cytopath smear, other source | 0.50 | 1.01 | NA | 0.04 | 1.55 | NA | XXX
88160 | 26 | A | Cytopath smear, other source | 0.50 | 0.23 | 0.23 | 0.02 | 0.75 | 0.75 | XXX
88160 | TC | A | Cytopath smear, other source | 0.00 | 0.78 | NA | 0.02 | 0.80 | NA | XXX
88161 |  | A | Cytopath smear, other source | 0.50 | 1.22 | NA | 0.04 | 1.76 | NA | XXX
88161 | 26 | A | Cytopath smear, other source | 0.50 | 0.23 | 0.23 | 0.02 | 0.75 | 0.75 | XXX
88161 | TC | A | Cytopath smear, other source | 0.00 | 0.99 | NA | 0.02 | 1.01 | NA | XXX
88162 |  | A | Cytopath smear, other source | 0.76 | 0.73 | NA | 0.05 | 1.54 | NA | XXX
88162 | 26 | A | Cytopath smear, other source | 0.76 | 0.35 | 0.35 | 0.03 | 1.14 | 1.14 | XXX
88162 | TC | A | Cytopath smear, other source | 0.00 | 0.38 | NA | 0.02 | 0.40 | NA | XXX
88164 |  | X | Cytopath tbs, c/v, manual | 0.00 | 0.00 | 0.00 | 0.00 | 0.00 | 0.00 | XXX
88165 |  | X | Cytopath tbs, c/v, redo | 0.00 | 0.00 | 0.00 | 0.00 | 0.00 | 0.00 | XXX
88166 |  | X | Cytopath tbs, c/v, auto redo | 0.00 | 0.00 | 0.00 | 0.00 | 0.00 | 0.00 | XXX
88167 |  | X | Cytopath tbs, c/v, select | 0.00 | 0.00 | 0.00 | 0.00 | 0.00 | 0.00 | XXX
88170 |  | D | Fine needle aspiration | 0.00 | 0.00 | NA | 0.00 | 0.00 | NA | XXX
88170 | 26 | D | Fine needle aspiration | 0.00 | 0.00 | 0.00 | 0.00 | 0.00 | 0.00 | XXX
88170 | TC | D | Fine needle aspiration | 0.00 | 0.00 | NA | 0.00 | 0.00 | NA | XXX
88171 |  | D | Fine needle aspiration | 0.00 | 0.00 | NA | 0.00 | 0.00 | NA | XXX
88171 | 26 | D | Fine needle aspiration | 0.00 | 0.00 | 0.00 | 0.00 | 0.00 | 0.00 | XXX
88171 | TC | D | Fine needle aspiration | 0.00 | 0.00 | NA | 0.00 | 0.00 | NA | XXX
88172 |  | A | Cytopathology eval of fna | 0.60 | 0.68 | NA | 0.04 | 1.32 | NA | XXX
88172 | 26 | A | Cytopathology eval of fna | 0.60 | 0.28 | 0.28 | 0.02 | 0.90 | 0.90 | XXX
88172 | TC | A | Cytopathology eval of fna | 0.00 | 0.40 | NA | 0.02 | 0.42 | NA | XXX
88173 |  | A | Cytopath eval, fna, report | 1.39 | 1.80 | NA | 0.07 | 3.26 | NA | XXX
88173 | 26 | A | Cytopath eval, fna, report | 1.39 | 0.64 | 0.64 | 0.05 | 2.08 | 2.08 | XXX
88173 | TC | A | Cytopath eval, fna, report | 0.00 | 1.16 | NA | 0.02 | 1.18 | NA | XXX
88180 |  | A | Cell marker study | 0.36 | 0.60 | NA | 0.03 | 0.99 | NA | XXX
88180 | 26 | A | Cell marker study | 0.36 | 0.17 | 0.17 | 0.01 | 0.54 | 0.54 | XXX
88180 | TC | A | Cell marker study | 0.00 | 0.43 | NA | 0.02 | 0.45 | NA | XXX
88182 |  | A | Cell marker study | 0.77 | 1.81 | NA | 0.06 | 2.64 | NA | XXX
88182 | 26 | A | Cell marker study | 0.77 | 0.36 | 0.36 | 0.03 | 1.16 | 1.16 | XXX
88182 | TC | A | Cell marker study | 0.00 | 1.45 | NA | 0.03 | 1.48 | NA | XXX
88199 |  | C | Cytopathology procedure | 0.00 | 0.00 | 0.00 | 0.00 | 0.00 | 0.00 | XXX
88199 | 26 | C | Cytopathology procedure | 0.00 | 0.00 | 0.00 | 0.00 | 0.00 | 0.00 | XXX
88199 | TC | C | Cytopathology procedure | 0.00 | 0.00 | 0.00 | 0.00 | 0.00 | 0.00 | XXX
88230 |  | X | Tissue culture, lymphocyte | 0.00 | 0.00 | 0.00 | 0.00 | 0.00 | 0.00 | XXX
88233 |  | X | Tissue culture, skin/biopsy | 0.00 | 0.00 | 0.00 | 0.00 | 0.00 | 0.00 | XXX
88235 |  | X | Tissue culture, placenta | 0.00 | 0.00 | 0.00 | 0.00 | 0.00 | 0.00 | XXX
88237 |  | X | Tissue culture, bone marrow | 0.00 | 0.00 | 0.00 | 0.00 | 0.00 | 0.00 | XXX
88239 |  | X | Tissue culture, tumor | 0.00 | 0.00 | 0.00 | 0.00 | 0.00 | 0.00 | XXX
88240 |  | X | Cell cryopreserve/storage | 0.00 | 0.00 | 0.00 | 0.00 | 0.00 | 0.00 | XXX
88241 |  | X | Frozen cell preparation | 0.00 | 0.00 | 0.00 | 0.00 | 0.00 | 0.00 | XXX
88245 |  | X | Chromosome analysis, 20-25 | 0.00 | 0.00 | 0.00 | 0.00 | 0.00 | 0.00 | XXX
88248 |  | X | Chromosome analysis, 50-100 | 0.00 | 0.00 | 0.00 | 0.00 | 0.00 | 0.00 | XXX
88249 |  | X | Chromosome analysis, 100 | 0.00 | 0.00 | 0.00 | 0.00 | 0.00 | 0.00 | XXX
88261 |  | X | Chromosome analysis, 5 | 0.00 | 0.00 | 0.00 | 0.00 | 0.00 | 0.00 | XXX
88262 |  | X | Chromosome analysis, 15-20 | 0.00 | 0.00 | 0.00 | 0.00 | 0.00 | 0.00 | XXX
88263 |  | X | Chromosome analysis, 45 | 0.00 | 0.00 | 0.00 | 0.00 | 0.00 | 0.00 | XXX
88264 |  | X | Chromosome analysis, 20-25 | 0.00 | 0.00 | 0.00 | 0.00 | 0.00 | 0.00 | XXX
88267 |  | X | Chromosome analys, placenta | 0.00 | 0.00 | 0.00 | 0.00 | 0.00 | 0.00 | XXX
88269 |  | X | Chromosome analys, amniotic | 0.00 | 0.00 | 0.00 | 0.00 | 0.00 | 0.00 | XXX
88271 |  | X | Cytogenetics, dna probe | 0.00 | 0.00 | 0.00 | 0.00 | 0.00 | 0.00 | XXX
88272 |  | X | Cytogenetics, 3-5 | 0.00 | 0.00 | 0.00 | 0.00 | 0.00 | 0.00 | XXX
88273 |  | X | Cytogenetics, 10-30 | 0.00 | 0.00 | 0.00 | 0.00 | 0.00 | 0.00 | XXX
88274 |  | X | Cytogenetics, 25-99 | 0.00 | 0.00 | 0.00 | 0.00 | 0.00 | 0.00 | XXX
88275 |  | X | Cytogenetics, 100-300 | 0.00 | 0.00 | 0.00 | 0.00 | 0.00 | 0.00 | XXX
88280 |  | X | Chromosome karyotype study | 0.00 | 0.00 | 0.00 | 0.00 | 0.00 | 0.00 | XXX
88283 |  | X | Chromosome banding study | 0.00 | 0.00 | 0.00 | 0.00 | 0.00 | 0.00 | XXX
88285 |  | X | Chromosome count, additional | 0.00 | 0.00 | 0.00 | 0.00 | 0.00 | 0.00 | XXX
88289 |  | X | Chromosome study, additional | 0.00 | 0.00 | 0.00 | 0.00 | 0.00 | 0.00 | XXX
88291 |  | A | Cyto/molecular report | 0.52 | 0.23 | 0.23 | 0.02 | 0.77 | 0.77 | XXX
88299 |  | C | Cytogenetic study | 0.00 | 0.00 | 0.00 | 0.00 | 0.00 | 0.00 | XXX
88300 |  | A | Surgical path, gross | 0.08 | 0.34 | NA | 0.02 | 0.44 | NA | XXX
88300 | 26 | A | Surgical path, gross | 0.08 | 0.04 | 0.04 | 0.01 | 0.13 | 0.13 | XXX
88300 | TC | A | Surgical path, gross | 0.00 | 0.30 | NA | 0.01 | 0.31 | NA | XXX
88302 |  | A | Tissue exam by pathologist | 0.13 | 0.73 | NA | 0.03 | 0.89 | NA | XXX
88302 | 26 | A | Tissue exam by pathologist | 0.13 | 0.06 | 0.06 | 0.01 | 0.20 | 0.20 | XXX
88302 | TC | A | Tissue exam by pathologist | 0.00 | 0.67 | NA | 0.02 | 0.69 | NA | XXX
88304 |  | A | Tissue exam by pathologist | 0.22 | 0.95 | NA | 0.03 | 1.20 | NA | XXX
88304 | 26 | A | Tissue exam by pathologist | 0.22 | 0.10 | 0.10 | 0.01 | 0.33 | 0.33 | XXX
88304 | TC | A | Tissue exam by pathologist | 0.00 | 0.85 | NA | 0.02 | 0.87 | NA | XXX
88305 |  | A | Tissue exam by pathologist | 0.75 | 1.78 | NA | 0.05 | 2.58 | NA | XXX
88305 | 26 | A | Tissue exam by pathologist | 0.75 | 0.35 | 0.35 | 0.02 | 1.12 | 1.12 | XXX
88305 | TC | A | Tissue exam by pathologist | 0.00 | 1.43 | NA | 0.03 | 1.46 | NA | XXX
88307 |  | A | Tissue exam by pathologist | 1.59 | 2.71 | NA | 0.11 | 4.41 | NA | XXX
88307 | 26 | A | Tissue exam by pathologist | 1.59 | 0.74 | 0.74 | 0.06 | 2.39 | 2.39 | XXX
88307 | TC | A | Tissue exam by pathologist | 0.00 | 1.97 | NA | 0.05 | 2.02 | NA | XXX
88309 |  | A | Tissue exam by pathologist | 2.28 | 3.40 | NA | 0.13 | 5.81 | NA | XXX
88309 | 26 | A | Tissue exam by pathologist | 2.28 | 1.05 | 1.05 | 0.08 | 3.41 | 3.41 | XXX
88309 | TC | A | Tissue exam by pathologist | 0.00 | 2.35 | NA | 0.05 | 2.40 | NA | XXX
88311 |  | A | Decalcify tissue | 0.24 | 0.21 | NA | 0.02 | 0.47 | NA | XXX
88311 | 26 | A | Decalcify tissue | 0.24 | 0.11 | 0.11 | 0.01 | 0.36 | 0.36 | XXX
88311 | TC | A | Decalcify tissue | 0.00 | 0.10 | NA | 0.01 | 0.11 | NA | XXX
88312 |  | A | Special stains | 0.54 | 1.69 | NA | 0.03 | 2.26 | NA | XXX
88312 | 26 | A | Special stains | 0.54 | 0.25 | 0.25 | 0.02 | 0.81 | 0.81 | XXX
88312 | TC | A | Special stains | 0.00 | 1.44 | NA | 0.01 | 1.45 | NA | XXX
88313 |  | A | Special stains | 0.24 | 1.47 | NA | 0.02 | 1.73 | NA | XXX
88313 | 26 | A | Special stains | 0.24 | 0.11 | 0.11 | 0.01 | 0.36 | 0.36 | XXX
88313 | TC | A | Special stains | 0.00 | 1.36 | NA | 0.01 | 1.37 | NA | XXX
88314 |  | A | Histochemical stain | 0.45 | 0.86 | NA | 0.04 | 1.35 | NA | XXX
88314 | 26 | A | Histochemical stain | 0.45 | 0.20 | 0.20 | 0.02 | 0.67 | 0.67 | XXX
88314 | TC | A | Histochemical stain | 0.00 | 0.66 | NA | 0.02 | 0.68 | NA | XXX
88318 |  | A | Chemical histochemistry | 0.42 | 0.59 | NA | 0.02 | 1.03 | NA | XXX
88318 | 26 | A | Chemical histochemistry | 0.42 | 0.20 | 0.20 | 0.01 | 0.63 | 0.63 | XXX
88318 | TC | A | Chemical histochemistry | 0.00 | 0.39 | NA | 0.01 | 0.40 | NA | XXX
88319 |  | A | Enzyme histochemistry | 0.53 | 2.45 | NA | 0.04 | 3.02 | NA | XXX
88319 | 26 | A | Enzyme histochemistry | 0.53 | 0.24 | 0.24 | 0.02 | 0.79 | 0.79 | XXX
88319 | TC | A | Enzyme histochemistry | 0.00 | 2.21 | NA | 0.02 | 2.23 | NA | XXX
88321 |  | A | Microslide consultation | 1.30 | 0.62 | 0.60 | 0.04 | 1.96 | 1.94 | XXX
88323 |  | A | Microslide consultation | 1.35 | 1.37 | NA | 0.07 | 2.79 | NA | XXX
88323 | 26 | A | Microslide consultation | 1.35 | 0.63 | 0.63 | 0.05 | 2.03 | 2.03 | XXX
88323 | TC | A | Microslide consultation | 0.00 | 0.74 | NA | 0.02 | 0.76 | NA | XXX
88325 |  | A | Comprehensive review of data | 2.22 | 0.98 | 0.98 | 0.08 | 3.28 | 3.28 | XXX
88329 |  | A | Path consult introp | 0.67 | 0.39 | 0.31 | 0.02 | 1.08 | 1.00 | XXX
88331 |  | A | Path consult intraop, 1 bloc | 1.19 | 0.87 | NA | 0.07 | 2.13 | NA | XXX
88331 | 26 | A | Path consult intraop, 1 bloc | 1.19 | 0.55 | 0.55 | 0.04 | 1.78 | 1.78 | XXX
88331 | TC | A | Path consult intraop, 1 bloc | 0.00 | 0.32 | NA | 0.03 | 0.35 | NA | XXX
88332 |  | A | Path consult intraop, addl | 0.59 | 0.47 | NA | 0.04 | 1.10 | NA | XXX
88332 | 26 | A | Path consult intraop, addl | 0.59 | 0.27 | 0.27 | 0.02 | 0.88 | 0.88 | XXX
88332 | TC | A | Path consult intraop, addl | 0.00 | 0.20 | NA | 0.02 | 0.22 | NA | XXX
88342 |  | A | Immunocytochemistry | 0.85 | 1.43 | NA | 0.05 | 2.33 | NA | XXX
88342 | 26 | A | Immunocytochemistry | 0.85 | 0.39 | 0.39 | 0.03 | 1.27 | 1.27 | XXX
88342 | TC | A | Immunocytochemistry | 0.00 | 1.04 | NA | 0.02 | 1.06 | NA | XXX
88346 |  | A | Immunofluorescent study | 0.86 | 1.20 | NA | 0.05 | 2.11 | NA | XXX
88346 | 26 | A | Immunofluorescent study | 0.86 | 0.39 | 0.39 | 0.03 | 1.28 | 1.28 | XXX
88346 | TC | A | Immunofluorescent study | 0.00 | 0.81 | NA | 0.02 | 0.83 | NA | XXX
88347 |  | A | Immunofluorescent study | 0.86 | 1.90 | NA | 0.05 | 2.81 | NA | XXX
88347 | 26 | A | Immunofluorescent study | 0.86 | 0.38 | 0.38 | 0.03 | 1.27 | 1.27 | XXX
88347 | TC | A | Immunofluorescent study | 0.00 | 1.52 | NA | 0.02 | 1.54 | NA | XXX
88348 |  | A | Electron microscopy | 1.51 | 6.96 | NA | 0.11 | 8.58 | NA | XXX
88348 | 26 | A | Electron microscopy | 1.51 | 0.69 | 0.69 | 0.05 | 2.25 | 2.25 | XXX
88348 | TC | A | Electron microscopy | 0.00 | 6.27 | NA | 0.06 | 6.33 | NA | XXX
88349 |  | A | Scanning electron microscopy | 0.76 | 8.51 | NA | 0.08 | 9.35 | NA | XXX
88349 | 26 | A | Scanning electron microscopy | 0.76 | 0.35 | 0.35 | 0.03 | 1.14 | 1.14 | XXX
88349 | TC | A | Scanning electron microscopy | 0.00 | 8.16 | NA | 0.05 | 8.21 | NA | XXX
88355 |  | A | Analysis, skeletal muscle | 1.85 | 2.41 | NA | 0.12 | 4.38 | NA | XXX
88355 | 26 | A | Analysis, skeletal muscle | 1.85 | 0.86 | 0.86 | 0.07 | 2.78 | 2.78 | XXX
88355 | TC | A | Analysis, skeletal muscle | 0.00 | 1.55 | NA | 0.05 | 1.60 | NA | XXX
88356 |  | A | Analysis, nerve | 3.02 | 4.96 | NA | 0.16 | 8.14 | NA | XXX
88356 | 26 | A | Analysis, nerve | 3.02 | 1.37 | 1.37 | 0.10 | 4.49 | 4.49 | XXX
88356 | TC | A | Analysis, nerve | 0.00 | 3.59 | NA | 0.06 | 3.65 | NA | XXX
88358 |  | A | Analysis, tumor | 2.82 | 1.76 | NA | 0.16 | 4.74 | NA | XXX
88358 | 26 | A | Analysis, tumor | 2.82 | 1.30 | 1.30 | 0.10 | 4.22 | 4.22 | XXX
88358 | TC | A | Analysis, tumor | 0.00 | 0.46 | NA | 0.06 | 0.52 | NA | XXX
88362 |  | A | Nerve teasing preparations | 2.17 | 3.36 | NA | 0.12 | 5.65 | NA | XXX
88362 | 26 | A | Nerve teasing preparations | 2.17 | 0.99 | 0.99 | 0.07 | 3.23 | 3.23 | XXX
88362 | TC | A | Nerve teasing preparations | 0.00 | 2.37 | NA | 0.05 | 2.42 | NA | XXX
88365 |  | A | Tissue hybridization | 0.93 | 2.03 | NA | 0.05 | 3.01 | NA | XXX
88365 | 26 | A | Tissue hybridization | 0.93 | 0.43 | 0.43 | 0.03 | 1.39 | 1.39 | XXX
88365 | TC | A | Tissue hybridization | 0.00 | 1.60 | NA | 0.02 | 1.62 | NA | XXX
88371 |  | X | Protein, western blot tissue | 0.00 | 0.00 | 0.00 | 0.00 | 0.00 | 0.00 | XXX
88371 | 26 | A | Protein, western blot tissue | 0.37 | 0.15 | 0.14 | 0.01 | 0.53 | 0.52 | XXX
88372 |  | X | Protein analysis w/probe | 0.00 | 0.00 | 0.00 | 0.00 | 0.00 | 0.00 | XXX
88372 | 26 | A | Protein analysis w/probe | 0.37 | 0.17 | 0.17 | 0.01 | 0.55 | 0.55 | XXX
88380 |  | C | Microdissection | 0.00 | 0.00 | 0.00 | 0.00 | 0.00 | 0.00 | XXX
88380 | 26 | C | Microdissection | 0.00 | 0.00 | 0.00 | 0.00 | 0.00 | 0.00 | XXX
88380 | TC | C | Microdissection | 0.00 | 0.00 | 0.00 | 0.00 | 0.00 | 0.00 | XXX
88399 |  | C | Surgical pathology procedure | 0.00 | 0.00 | 0.00 | 0.00 | 0.00 | 0.00 | XXX
88399 | 26 | C | Surgical pathology procedure | 0.00 | 0.00 | 0.00 | 0.00 | 0.00 | 0.00 | XXX
88399 | TC | C | Surgical pathology procedure | 0.00 | 0.00 | 0.00 | 0.00 | 0.00 | 0.00 | XXX
88400 |  | X | Bilirubin total transcut | 0.00 | 0.00 | 0.00 | 0.00 | 0.00 | 0.00 | XXX
89050 |  | X | Body fluid cell count | 0.00 | 0.00 | 0.00 | 0.00 | 0.00 | 0.00 | XXX
89051 |  | X | Body fluid cell count | 0.00 | 0.00 | 0.00 | 0.00 | 0.00 | 0.00 | XXX
89060 |  | X | Exam synovial fluid crystals | 0.00 | 0.00 | 0.00 | 0.00 | 0.00 | 0.00 | XXX
89060 | 26 | A | Exam synovial fluid crystals | 0.37 | 0.18 | 0.17 | 0.01 | 0.56 | 0.55 | XXX
89100 |  | A | Sample intestinal contents | 0.60 | 2.29 | 0.23 | 0.02 | 2.91 | 0.85 | XXX
89105 |  | A | Sample intestinal contents | 0.50 | 2.25 | 0.18 | 0.02 | 2.77 | 0.70 | XXX
89125 |  | X | Specimen fat stain | 0.00 | 0.00 | 0.00 | 0.00 | 0.00 | 0.00 | XXX
89130 |  | A | Sample stomach contents | 0.45 | 2.21 | 0.13 | 0.02 | 2.68 | 0.60 | XXX
89132 |  | A | Sample stomach contents | 0.19 | 1.15 | 0.05 | 0.01 | 1.35 | 0.25 | XXX
89135 |  | A | Sample stomach contents | 0.79 | 2.53 | 0.25 | 0.03 | 3.35 | 1.07 | XXX
89136 |  | A | Sample stomach contents | 0.21 | 2.05 | 0.08 | 0.01 | 2.27 | 0.30 | XXX
89140 |  | A | Sample stomach contents | 0.94 | 2.36 | 0.19 | 0.03 | 3.33 | 1.16 | XXX
89141 |  | A | Sample stomach contents | 0.85 | 3.14 | 0.40 | 0.03 | 4.02 | 1.28 | XXX
89160 |  | X | Exam feces for meat fibers | 0.00 | 0.00 | 0.00 | 0.00 | 0.00 | 0.00 | XXX
89190 |  | X | Nasal smear for eosinophils | 0.00 | 0.00 | 0.00 | 0.00 | 0.00 | 0.00 | XXX
89250 |  | X | Fertilization of oocyte | 0.00 | 0.00 | 0.00 | 0.00 | 0.00 | 0.00 | XXX
89251 |  | X | Culture oocyte w/embryos | 0.00 | 0.00 | 0.00 | 0.00 | 0.00 | 0.00 | XXX
89252 |  | X | Assist oocyte fertilization | 0.00 | 0.00 | 0.00 | 0.00 | 0.00 | 0.00 | XXX
89253 |  | X | Embryo hatching | 0.00 | 0.00 | 0.00 | 0.00 | 0.00 | 0.00 | XXX
89254 |  | X | Oocyte identification | 0.00 | 0.00 | 0.00 | 0.00 | 0.00 | 0.00 | XXX
89255 |  | X | Prepare embryo for transfer | 0.00 | 0.00 | 0.00 | 0.00 | 0.00 | 0.00 | XXX
89256 |  | X | Prepare cryopreserved embryo | 0.00 | 0.00 | 0.00 | 0.00 | 0.00 | 0.00 | XXX
89257 |  | X | Sperm identification | 0.00 | 0.00 | 0.00 | 0.00 | 0.00 | 0.00 | XXX
89258 |  | X | Cryopreservation, embryo | 0.00 | 0.00 | 0.00 | 0.00 | 0.00 | 0.00 | XXX
89259 |  | X | Cryopreservation, sperm | 0.00 | 0.00 | 0.00 | 0.00 | 0.00 | 0.00 | XXX
89260 |  | X | Sperm isolation, simple | 0.00 | 0.00 | 0.00 | 0.00 | 0.00 | 0.00 | XXX
89261 |  | X | Sperm isolation, complex | 0.00 | 0.00 | 0.00 | 0.00 | 0.00 | 0.00 | XXX
89264 |  | X | Identify sperm tissue | 0.00 | 0.00 | 0.00 | 0.00 | 0.00 | 0.00 | XXX
89300 |  | X | Semen analysis | 0.00 | 0.00 | 0.00 | 0.00 | 0.00 | 0.00 | XXX
89310 |  | X | Semen analysis | 0.00 | 0.00 | 0.00 | 0.00 | 0.00 | 0.00 | XXX
89320 |  | X | Semen analysis | 0.00 | 0.00 | 0.00 | 0.00 | 0.00 | 0.00 | XXX
89321 |  | X | Semen analysis | 0.00 | 0.00 | 0.00 | 0.00 | 0.00 | 0.00 | XXX
89325 |  | X | Sperm antibody test | 0.00 | 0.00 | 0.00 | 0.00 | 0.00 | 0.00 | XXX
89329 |  | X | Sperm evaluation test | 0.00 | 0.00 | 0.00 | 0.00 | 0.00 | 0.00 | XXX
89330 |  | X | Evaluation, cervical mucus | 0.00 | 0.00 | 0.00 | 0.00 | 0.00 | 0.00 | XXX
89350 |  | A | Sputum specimen collection | 0.00 | 0.39 | NA | 0.02 | 0.41 | NA | XXX
89355 |  | X | Exam feces for starch | 0.00 | 0.00 | 0.00 | 0.00 | 0.00 | 0.00 | XXX
89360 |  | A | Collect sweat for test | 0.00 | 0.43 | NA | 0.02 | 0.45 | NA | XXX
89365 |  | X | Water load test | 0.00 | 0.00 | 0.00 | 0.00 | 0.00 | 0.00 | XXX
89399 |  | C | Pathology lab procedure | 0.00 | 0.00 | 0.00 | 0.00 | 0.00 | 0.00 | XXX
89399 | 26 | C | Pathology lab procedure | 0.00 | 0.00 | 0.00 | 0.00 | 0.00 | 0.00 | XXX
89399 | TC | C | Pathology lab procedure | 0.00 | 0.00 | 0.00 | 0.00 | 0.00 | 0.00 | XXX
90281 |  | I | Human ig, im | 0.00 | 0.00 | 0.00 | 0.00 | 0.00 | 0.00 | XXX
90283 |  | I | Human ig, iv | 0.00 | 0.00 | 0.00 | 0.00 | 0.00 | 0.00 | XXX
90287 |  | I | Botulinum antitoxin | 0.00 | 0.00 | 0.00 | 0.00 | 0.00 | 0.00 | XXX
90288 |  | I | Botulism ig, iv | 0.00 | 0.00 | 0.00 | 0.00 | 0.00 | 0.00 | XXX
90291 |  | I | Cmv ig, iv | 0.00 | 0.00 | 0.00 | 0.00 | 0.00 | 0.00 | XXX
90296 |  | E | Diphtheria antitoxin | 0.00 | 0.00 | 0.00 | 0.00 | 0.00 | 0.00 | XXX
90371 |  | E | Hep b ig, im | 0.00 | 0.00 | 0.00 | 0.00 | 0.00 | 0.00 | XXX
90375 |  | E | Rabies ig, im/sc | 0.00 | 0.00 | 0.00 | 0.00 | 0.00 | 0.00 | XXX
90376 |  | E | Rabies ig, heat treated | 0.00 | 0.00 | 0.00 | 0.00 | 0.00 | 0.00 | XXX
90378 |  | X | Rsv ig, im, 50mg | 0.00 | 0.00 | 0.00 | 0.00 | 0.00 | 0.00 | XXX
90379 |  | I | Rsv ig, iv | 0.00 | 0.00 | 0.00 | 0.00 | 0.00 | 0.00 | XXX
90384 |  | I | Rh ig, full-dose, im | 0.00 | 0.00 | 0.00 | 0.00 | 0.00 | 0.00 | XXX
90385 |  | E | Rh ig, minidose, im | 0.00 | 0.00 | 0.00 | 0.00 | 0.00 | 0.00 | XXX
90386 |  | I | Rh ig, iv | 0.00 | 0.00 | 0.00 | 0.00 | 0.00 | 0.00 | XXX
90389 |  | I | Tetanus ig, im | 0.00 | 0.00 | 0.00 | 0.00 | 0.00 | 0.00 | XXX
90393 |  | E | Vaccina ig, im | 0.00 | 0.00 | 0.00 | 0.00 | 0.00 | 0.00 | XXX
90396 |  | E | Varicella-zoster ig, im | 0.00 | 0.00 | 0.00 | 0.00 | 0.00 | 0.00 | XXX
90399 |  | I | Immune globulin | 0.00 | 0.00 | 0.00 | 0.00 | 0.00 | 0.00 | XXX
90471 |  | A | Immunization admin | 0.00 | 0.10 | NA | 0.01 | 0.11 | NA | XXX
90472 |  | A | Immunization admin, each add | 0.00 | 0.10 | NA | 0.01 | 0.11 | NA | ZZZ
90473 |  | N | Immune admin oral/nasal | 0.00 | 0.00 | 0.00 | 0.00 | 0.00 | 0.00 | XXX
90474 |  | N | Immune admin oral/nasal addl | 0.00 | 0.00 | 0.00 | 0.00 | 0.00 | 0.00 | ZZZ
90476 |  | E | Adenovirus vaccine, type 4 | 0.00 | 0.00 | 0.00 | 0.00 | 0.00 | 0.00 | XXX
90477 |  | E | Adenovirus vaccine, type 7 | 0.00 | 0.00 | 0.00 | 0.00 | 0.00 | 0.00 | XXX
90581 |  | E | Anthrax vaccine, sc | 0.00 | 0.00 | 0.00 | 0.00 | 0.00 | 0.00 | XXX
90585 |  | E | Bcg vaccine, percut | 0.00 | 0.00 | 0.00 | 0.00 | 0.00 | 0.00 | XXX
90586 |  | E | Bcg vaccine, intravesical | 0.00 | 0.00 | 0.00 | 0.00 | 0.00 | 0.00 | XXX
90632 |  | E | Hep a vaccine, adult im | 0.00 | 0.00 | 0.00 | 0.00 | 0.00 | 0.00 | XXX
90633 |  | E | Hep a vacc, ped/adol, 2 dose | 0.00 | 0.00 | 0.00 | 0.00 | 0.00 | 0.00 | XXX
90634 |  | E | Hep a vacc, ped/adol, 3 dose | 0.00 | 0.00 | 0.00 | 0.00 | 0.00 | 0.00 | XXX
90636 |  | E | Hep a/hep b vacc, adult im | 0.00 | 0.00 | 0.00 | 0.00 | 0.00 | 0.00 | XXX
90645 |  | E | Hib vaccine, hboc, im | 0.00 | 0.00 | 0.00 | 0.00 | 0.00 | 0.00 | XXX
90646 |  | E | Hib vaccine, prp-d, im | 0.00 | 0.00 | 0.00 | 0.00 | 0.00 | 0.00 | XXX
90647 |  | E | Hib vaccine, prp-omp, im | 0.00 | 0.00 | 0.00 | 0.00 | 0.00 | 0.00 | XXX
90648 |  | E | Hib vaccine, prp-t, im | 0.00 | 0.00 | 0.00 | 0.00 | 0.00 | 0.00 | XXX
90657 |  | X | Flu vaccine, 6-35 mo, im | 0.00 | 0.00 | 0.00 | 0.00 | 0.00 | 0.00 | XXX
90658 |  | X | Flu vaccine, 3 yrs, im | 0.00 | 0.00 | 0.00 | 0.00 | 0.00 | 0.00 | XXX
90659 |  | X | Flu vaccine, whole, im | 0.00 | 0.00 | 0.00 | 0.00 | 0.00 | 0.00 | XXX
90660 |  | X | Flu vaccine, nasal | 0.00 | 0.00 | 0.00 | 0.00 | 0.00 | 0.00 | XXX
90665 |  | E | Lyme disease vaccine, im | 0.00 | 0.00 | 0.00 | 0.00 | 0.00 | 0.00 | XXX
90669 |  | N | Pneumococcal vacc, ped<5 | 0.00 | 0.00 | 0.00 | 0.00 | 0.00 | 0.00 | XXX
90675 |  | E | Rabies vaccine, im | 0.00 | 0.00 | 0.00 | 0.00 | 0.00 | 0.00 | XXX
90676 |  | E | Rabies vaccine, id | 0.00 | 0.00 | 0.00 | 0.00 | 0.00 | 0.00 | XXX
90680 |  | E | Rotovirus vaccine, oral | 0.00 | 0.00 | 0.00 | 0.00 | 0.00 | 0.00 | XXX
90690 |  | E | Typhoid vaccine, oral | 0.00 | 0.00 | 0.00 | 0.00 | 0.00 | 0.00 | XXX
90691 |  | E | Typhoid vaccine, im | 0.00 | 0.00 | 0.00 | 0.00 | 0.00 | 0.00 | XXX
90692 |  | E | Typhoid vaccine, h-p, sc/id | 0.00 | 0.00 | 0.00 | 0.00 | 0.00 | 0.00 | XXX
90693 |  | E | Typhoid vaccine, akd, sc | 0.00 | 0.00 | 0.00 | 0.00 | 0.00 | 0.00 | XXX
90700 |  | E | Dtap vaccine, im | 0.00 | 0.00 | 0.00 | 0.00 | 0.00 | 0.00 | XXX
90701 |  | E | Dtp vaccine, im | 0.00 | 0.00 | 0.00 | 0.00 | 0.00 | 0.00 | XXX
90702 |  | E | Dt vaccine < 7, im | 0.00 | 0.00 | 0.00 | 0.00 | 0.00 | 0.00 | XXX
90703 |  | E | Tetanus vaccine, im | 0.00 | 0.00 | 0.00 | 0.00 | 0.00 | 0.00 | XXX
90704 |  | E | Mumps vaccine, sc | 0.00 | 0.00 | 0.00 | 0.00 | 0.00 | 0.00 | XXX
90705 |  | E | Measles vaccine, sc | 0.00 | 0.00 | 0.00 | 0.00 | 0.00 | 0.00 | XXX
90706 |  | E | Rubella vaccine, sc | 0.00 | 0.00 | 0.00 | 0.00 | 0.00 | 0.00 | XXX
90707 |  | E | Mmr vaccine, sc | 0.00 | 0.00 | 0.00 | 0.00 | 0.00 | 0.00 | XXX
90708 |  | E | Measles-rubella vaccine, sc | 0.00 | 0.00 | 0.00 | 0.00 | 0.00 | 0.00 | XXX
90709 |  | E | Rubella & mumps vaccine, sc | 0.00 | 0.00 | 0.00 | 0.00 | 0.00 | 0.00 | XXX
90710 |  | E | Mmrv vaccine, sc | 0.00 | 0.00 | 0.00 | 0.00 | 0.00 | 0.00 | XXX
90712 |  | E | Oral poliovirus vaccine | 0.00 | 0.00 | 0.00 | 0.00 | 0.00 | 0.00 | XXX
90713 |  | E | Poliovirus, ipv, sc | 0.00 | 0.00 | 0.00 | 0.00 | 0.00 | 0.00 | XXX
90716 |  | E | Chicken pox vaccine, sc | 0.00 | 0.00 | 0.00 | 0.00 | 0.00 | 0.00 | XXX
90717 |  | E | Yellow fever vaccine, sc | 0.00 | 0.00 | 0.00 | 0.00 | 0.00 | 0.00 | XXX
90718 |  | E | Td vaccine > 7, im | 0.00 | 0.00 | 0.00 | 0.00 | 0.00 | 0.00 | XXX
90719 |  | E | Diphtheria vaccine, im | 0.00 | 0.00 | 0.00 | 0.00 | 0.00 | 0.00 | XXX
90720 |  | E | Dtp/hib vaccine, im | 0.00 | 0.00 | 0.00 | 0.00 | 0.00 | 0.00 | XXX
90721 |  | E | Dtap/hib vaccine, im | 0.00 | 0.00 | 0.00 | 0.00 | 0.00 | 0.00 | XXX
90723 |  | X | Dtap-hep b-ipv vaccine, im | 0.00 | 0.00 | 0.00 | 0.00 | 0.00 | 0.00 | XXX
90725 |  | E | Cholera vaccine, injectable | 0.00 | 0.00 | 0.00 | 0.00 | 0.00 | 0.00 | XXX
90727 |  | E | Plague vaccine, im | 0.00 | 0.00 | 0.00 | 0.00 | 0.00 | 0.00 | XXX
90732 |  | X | Pneumococcal vaccine | 0.00 | 0.00 | 0.00 | 0.00 | 0.00 | 0.00 | XXX
90733 |  | E | Meningococcal vaccine, sc | 0.00 | 0.00 | 0.00 | 0.00 | 0.00 | 0.00 | XXX
90735 |  | E | Encephalitis vaccine, sc | 0.00 | 0.00 | 0.00 | 0.00 | 0.00 | 0.00 | XXX
90740 |  | X | Hepb vacc, ill pat 3 dose im | 0.00 | 0.00 | 0.00 | 0.00 | 0.00 | 0.00 | XXX
90743 |  | X | Hep b vacc, adol, 2 dose, im | 0.00 | 0.00 | 0.00 | 0.00 | 0.00 | 0.00 | XXX
90744 |  | X | Hepb vacc ped/adol 3 dose im | 0.00 | 0.00 | 0.00 | 0.00 | 0.00 | 0.00 | XXX
90746 |  | X | Hep b vaccine, adult, im | 0.00 | 0.00 | 0.00 | 0.00 | 0.00 | 0.00 | XXX
90747 |  | X | Hepb vacc, ill pat 4 dose im | 0.00 | 0.00 | 0.00 | 0.00 | 0.00 | 0.00 | XXX
90748 |  | E | Hep b/hib vaccine, im | 0.00 | 0.00 | 0.00 | 0.00 | 0.00 | 0.00 | XXX
90749 |  | E | Vaccine toxoid | 0.00 | 0.00 | 0.00 | 0.00 | 0.00 | 0.00 | XXX
90780 |  | A | IV infusion therapy, 1 hour | 0.00 | 1.06 | NA | 0.06 | 1.12 | NA | XXX
90781 |  | A | IV infusion, additional hour | 0.00 | 0.53 | NA | 0.03 | 0.56 | NA | ZZZ
90782 |  | T | Injection, sc/im | 0.00 | 0.10 | NA | 0.01 | 0.11 | NA | XXX
90783 |  | T | Injection, ia | 0.00 | 0.39 | NA | 0.02 | 0.41 | NA | XXX
90784 |  | T | Injection, iv | 0.00 | 0.45 | NA | 0.03 | 0.48 | NA | XXX
90788 |  | T | Injection of antibiotic | 0.00 | 0.11 | NA | 0.01 | 0.12 | NA | XXX
90799 |  | C | Ther/prophylactic/dx inject | 0.00 | 0.00 | 0.00 | 0.00 | 0.00 | 0.00 | XXX
90801 |  | A | Psy dx interview | 2.80 | 1.14 | 0.93 | 0.06 | 4.00 | 3.79 | XXX
90802 |  | A | Intac psy dx interview | 3.01 | 1.17 | 0.99 | 0.07 | 4.25 | 4.07 | XXX
90804 |  | A | Psytx, office, 20-30 min | 1.21 | 0.53 | 0.40 | 0.03 | 1.77 | 1.64 | XXX
90805 |  | A | Psytx, off, 20-30 min w/e&m | 1.37 | 0.59 | 0.44 | 0.03 | 1.99 | 1.84 | XXX
90806 |  | A | Psytx, off, 45-50 min | 1.86 | 0.75 | 0.62 | 0.04 | 2.65 | 2.52 | XXX
90807 |  | A | Psytx, off, 45-50 min w/e&m | 2.02 | 0.79 | 0.66 | 0.05 | 2.86 | 2.73 | XXX
90808 |  | A | Psytx, office, 75-80 min | 2.79 | 1.06 | 0.93 | 0.07 | 3.92 | 3.79 | XXX
90809 |  | A | Psytx, off, 75-80, w/e&m | 2.95 | 1.11 | 0.97 | 0.07 | 4.13 | 3.99 | XXX
90810 |  | A | Intac psytx, off, 20-30 min | 1.32 | 0.56 | 0.44 | 0.03 | 1.91 | 1.79 | XXX
90811 |  | A | Intac psytx, 20-30, w/e&m | 1.48 | 0.63 | 0.48 | 0.03 | 2.14 | 1.99 | XXX
90812 |  | A | Intac psytx, off, 45-50 min | 1.97 | 0.80 | 0.69 | 0.05 | 2.82 | 2.71 | XXX
90813 |  | A | Intac psytx, 45-50 min w/e&m | 2.13 | 0.87 | 0.71 | 0.05 | 3.05 | 2.89 | XXX
90814 |  | A | Intac psytx, off, 75-80 min | 2.90 | 1.15 | 1.01 | 0.07 | 4.12 | 3.98 | XXX
90815 |  | A | Intac psytx, 75-80 w/e&m | 3.06 | 1.15 | 1.02 | 0.07 | 4.28 | 4.15 | XXX
90816 |  | A | Psytx, hosp, 20-30 min | 1.25 | 0.57 | 0.43 | 0.03 | 1.85 | 1.71 | XXX
90817 |  | A | Psytx, hosp, 20-30 min w/e&m | 1.41 | 0.62 | 0.45 | 0.03 | 2.06 | 1.89 | XXX
90818 |  | A | Psytx, hosp, 45-50 min | 1.89 | 0.80 | 0.65 | 0.04 | 2.73 | 2.58 | XXX
90819 |  | A | Psytx, hosp, 45-50 min w/e&m | 2.05 | 0.83 | 0.66 | 0.05 | 2.93 | 2.76 | XXX
90821 |  | A | Psytx, hosp, 75-80 min | 2.83 | 1.11 | 0.97 | 0.06 | 4.00 | 3.86 | XXX
90822 |  | A | Psytx, hosp, 75-80 min w/e&m | 2.99 | 1.30 | 0.97 | 0.07 | 4.36 | 4.03 | XXX
90823 |  | A | Intac psytx, hosp, 20-30 min | 1.36 | 0.65 | 0.45 | 0.03 | 2.04 | 1.84 | XXX
90824 |  | A | Intac psytx, hsp 20-30 w/e&m | 1.52 | 0.70 | 0.50 | 0.03 | 2.25 | 2.05 | XXX
90826 |  | A | Intac psytx, hosp, 45-50 min | 2.01 | 0.89 | 0.68 | 0.04 | 2.94 | 2.73 | XXX
90827 |  | A | Intac psytx, hsp 45-50 w/e&m | 2.16 | 0.91 | 0.70 | 0.05 | 3.12 | 2.91 | XXX
90828 |  | A | Intac psytx, hosp, 75-80 min | 2.94 | 1.90 | 1.02 | 0.07 | 4.91 | 4.03 | XXX
90829 |  | A | Intac psytx, hsp 75-80 w/e&m | 3.10 | 1.23 | 1.02 | 0.07 | 4.40 | 4.19 | XXX
90845 |  | A | Psychoanalysis | 1.79 | 0.71 | 0.57 | 0.04 | 2.54 | 2.40 | XXX
90846 |  | R | Family psytx w/o patient | 1.83 | 0.73 | 0.62 | 0.04 | 2.60 | 2.49 | XXX
90847 |  | R | Family psytx w/patient | 2.21 | 0.86 | 0.75 | 0.05 | 3.12 | 3.01 | XXX
90849 |  | R | Multiple family group psytx | 0.59 | 0.31 | 0.20 | 0.01 | 0.91 | 0.80 | XXX
90853 |  | A | Group psychotherapy | 0.59 | 0.35 | 0.20 | 0.01 | 0.95 | 0.80 | XXX
90857 |  | A | Intac group psytx | 0.63 | 0.37 | 0.21 | 0.02 | 1.02 | 0.86 | XXX
90862 |  | A | Medication management | 0.95 | 0.44 | 0.31 | 0.02 | 1.41 | 1.28 | XXX
90865 |  | A | Narcosynthesis | 2.84 | 1.70 | 0.94 | 0.07 | 4.61 | 3.85 | XXX
90870 |  | A | Electroconvulsive therapy | 1.88 | 0.74 | 0.74 | 0.04 | 2.66 | 2.66 | 000
90871 |  | A | Electroconvulsive therapy | 2.72 | NA | 1.04 | 0.06 | NA | 3.82 | 000
90875 |  | N | Psychophysiological therapy | +1.20 | 0.90 | 0.48 | 0.03 | 2.13 | 1.71 | XXX
90876 |  | N | Psychophysiological therapy | +1.90 | 1.18 | 0.76 | 0.04 | 3.12 | 2.70 | XXX
90880 |  | A | Hypnotherapy | 2.19 | 0.91 | 0.71 | 0.05 | 3.15 | 2.95 | XXX
90882 |  | N | Environmental manipulation | 0.00 | 0.00 | 0.00 | 0.00 | 0.00 | 0.00 | XXX
90885 |  | B | Psy evaluation of records | +0.97 | 0.39 | 0.39 | 0.02 | 1.38 | 1.38 | XXX
90887 |  | B | Consultation with family | +1.48 | 0.83 | 0.59 | 0.03 | 2.34 | 2.10 | XXX
90889 |  | B | Preparation of report | 0.00 | 0.00 | 0.00 | 0.00 | 0.00 | 0.00 | XXX
90899 |  | C | Psychiatric service/therapy | 0.00 | 0.00 | 0.00 | 0.00 | 0.00 | 0.00 | XXX
90901 |  | A | Biofeedback train, any meth | 0.41 | 0.82 | 0.17 | 0.02 | 1.25 | 0.60 | 000
90911 |  | A | Biofeedback peri/uro/rectal | 0.89 | 0.87 | 0.39 | 0.04 | 1.80 | 1.32 | 000
90918 |  | A | ESRD related services, month | 11.18 | 5.53 | 5.53 | 0.30 | 17.01 | 17.01 | XXX
90919 |  | A | ESRD related services, month | 8.54 | 4.53 | 4.53 | 0.24 | 13.31 | 13.31 | XXX
90920 |  | A | ESRD related services, month | 7.27 | 4.02 | 4.02 | 0.19 | 11.48 | 11.48 | XXX
90921 |  | A | ESRD related services, month | 4.47 | 2.96 | 2.96 | 0.12 | 7.55 | 7.55 | XXX
90922 |  | A | ESRD related services, day | 0.37 | 0.17 | 0.17 | 0.01 | 0.55 | 0.55 | XXX
90923 |  | A | ESRD related services, day | 0.28 | 0.15 | 0.15 | 0.01 | 0.44 | 0.44 | XXX
90924 |  | A | ESRD related services, day | 0.24 | 0.13 | 0.13 | 0.01 | 0.38 | 0.38 | XXX
90925 |  | A | ESRD related services, day | 0.15 | 0.10 | 0.10 | 0.01 | 0.26 | 0.26 | XXX
90935 |  | A | Hemodialysis, one evaluation | 1.22 | NA | 0.86 | 0.03 | NA | 2.11 | 000
90937 |  | A | Hemodialysis, repeated eval | 2.11 | NA | 1.20 | 0.06 | NA | 3.37 | 000
90939 |  | X | Hemodialysis study, transcut | 0.00 | 0.00 | 0.00 | 0.00 | 0.00 | 0.00 | XXX
90940 |  | X | Hemodialysis access study | 0.00 | 0.00 | 0.00 | 0.00 | 0.00 | 0.00 | XXX
90945 |  | A | Dialysis, one evaluation | 1.28 | NA | 0.89 | 0.04 | NA | 2.21 | 000
90947 |  | A | Dialysis, repeated eval | 2.16 | NA | 1.24 | 0.06 | NA | 3.46 | 000
90989 |  | X | Dialysis training, complete | 0.00 | 0.00 | 0.00 | 0.00 | 0.00 | 0.00 | XXX
90993 |  | X | Dialysis training, incompl | 0.00 | 0.00 | 0.00 | 0.00 | 0.00 | 0.00 | XXX
90997 |  | A | Hemoperfusion | 1.84 | NA | 1.10 | 0.05 | NA | 2.99 | 000
90999 |  | C | Dialysis procedure | 0.00 | 0.00 | 0.00 | 0.00 | 0.00 | 0.00 | XXX
91000 |  | A | Esophageal intubation | 0.73 | 0.32 | NA | 0.04 | 1.09 | NA | 000
91000 | 26 | A | Esophageal intubation | 0.73 | 0.25 | 0.25 | 0.03 | 1.01 | 1.01 | 000
91000 | TC | A | Esophageal intubation | 0.00 | 0.07 | NA | 0.01 | 0.08 | NA | 000
91010 |  | A | Esophagus motility study | 1.25 | 2.60 | NA | 0.10 | 3.95 | NA | 000
91010 | 26 | A | Esophagus motility study | 1.25 | 0.46 | 0.46 | 0.05 | 1.76 | 1.76 | 000
91010 | TC | A | Esophagus motility study | 0.00 | 2.14 | NA | 0.05 | 2.19 | NA | 000
91011 |  | A | Esophagus motility study | 1.50 | 2.71 | NA | 0.10 | 4.31 | NA | 000
91011 | 26 | A | Esophagus motility study | 1.50 | 0.55 | 0.55 | 0.05 | 2.10 | 2.10 | 000
91011 | TC | A | Esophagus motility study | 0.00 | 2.16 | NA | 0.05 | 2.21 | NA | 000
91012 |  | A | Esophagus motility study | 1.46 | 2.35 | NA | 0.12 | 3.93 | NA | 000
91012 | 26 | A | Esophagus motility study | 1.46 | 0.54 | 0.54 | 0.06 | 2.06 | 2.06 | 000
91012 | TC | A | Esophagus motility study | 0.00 | 1.81 | NA | 0.06 | 1.87 | NA | 000
91020 |  | A | Gastric motility | 1.44 | 2.96 | NA | 0.11 | 4.51 | NA | 000
91020 | 26 | A | Gastric motility | 1.44 | 0.51 | 0.51 | 0.06 | 2.01 | 2.01 | 000
91020 | TC | A | Gastric motility | 0.00 | 2.45 | NA | 0.05 | 2.50 | NA | 000
91030 |  | A | Acid perfusion of esophagus | 0.91 | 2.27 | NA | 0.05 | 3.23 | NA | 000
91030 | 26 | A | Acid perfusion of esophagus | 0.91 | 0.34 | 0.34 | 0.03 | 1.28 | 1.28 | 000
91030 | TC | A | Acid perfusion of esophagus | 0.00 | 1.93 | NA | 0.02 | 1.95 | NA | 000
91032 |  | A | Esophagus, acid reflux test | 1.21 | 2.26 | NA | 0.10 | 3.57 | NA | 000
91032 | 26 | A | Esophagus, acid reflux test | 1.21 | 0.44 | 0.44 | 0.05 | 1.70 | 1.70 | 000
91032 | TC | A | Esophagus, acid reflux test | 0.00 | 1.82 | NA | 0.05 | 1.87 | NA | 000
91033 |  | A | Prolonged acid reflux test | 1.30 | 2.64 | NA | 0.14 | 4.08 | NA | 000
91033 | 26 | A | Prolonged acid reflux test | 1.30 | 0.48 | 0.48 | 0.05 | 1.83 | 1.83 | 000
91033 | TC | A | Prolonged acid reflux test | 0.00 | 2.16 | NA | 0.09 | 2.25 | NA | 000
91052 |  | A | Gastric analysis test | 0.79 | 2.19 | NA | 0.05 | 3.03 | NA | 000
91052 | 26 | A | Gastric analysis test | 0.79 | 0.29 | 0.29 | 0.03 | 1.11 | 1.11 | 000
91052 | TC | A | Gastric analysis test | 0.00 | 1.90 | NA | 0.02 | 1.92 | NA | 000
91055 |  | A | Gastric intubation for smear | 0.94 | 2.22 | NA | 0.06 | 3.22 | NA | 000
91055 | 26 | A | Gastric intubation for smear | 0.94 | 0.28 | 0.28 | 0.04 | 1.26 | 1.26 | 000
91055 | TC | A | Gastric intubation for smear | 0.00 | 1.94 | NA | 0.02 | 1.96 | NA | 000
91060 |  | A | Gastric saline load test | 0.45 | 0.28 | NA | 0.04 | 0.77 | NA | 000
91060 | 26 | A | Gastric saline load test | 0.45 | 0.15 | 0.15 | 0.02 | 0.62 | 0.62 | 000
91060 | TC | A | Gastric saline load test | 0.00 | 0.13 | NA | 0.02 | 0.15 | NA | 000
91065 |  | A | Breath hydrogen test | 0.20 | 4.55 | NA | 0.03 | 4.78 | NA | 000
91065 | 26 | A | Breath hydrogen test | 0.20 | 0.07 | 0.07 | 0.01 | 0.28 | 0.28 | 000
91065 | TC | A | Breath hydrogen test | 0.00 | 4.48 | NA | 0.02 | 4.50 | NA | 000
91100 |  | A | Pass intestine bleeding tube | 1.08 | NA | 0.48 | 0.06 | NA | 1.62 | 000
91105 |  | A | Gastric intubation treatment | 0.37 | NA | 0.21 | 0.02 | NA | 0.60 | 000
91122 |  | A | Anal pressure record | 1.77 | 2.77 | NA | 0.17 | 4.71 | NA | 000
91122 | 26 | A | Anal pressure record | 1.77 | 0.63 | 0.63 | 0.10 | 2.50 | 2.50 | 000
91122 | TC | A | Anal pressure record | 0.00 | 2.14 | NA | 0.07 | 2.21 | NA | 000
91123 |  | B | Irrigate fecal impaction | 0.00 | 0.00 | 0.00 | 0.00 | 0.00 | 0.00 | XXX
91132 |  | C | Electrogastrography | 0.00 | 0.00 | 0.00 | 0.00 | 0.00 | 0.00 | XXX
91132 | 26 | A | Electrogastrography | 0.52 | 0.21 | NA | 0.03 | 0.76 | NA | XXX
91132 | TC | C | Electrogastrography | 0.00 | 0.00 | 0.00 | 0.00 | 0.00 | 0.00 | XXX
91133 |  | C | Electrogastrography w/test | 0.00 | 0.00 | 0.00 | 0.00 | 0.00 | 0.00 | XXX
91133 | 26 | A | Electrogastrography w/test | 0.66 | 0.26 | NA | 0.03 | 0.95 | NA | XXX
91133 | TC | C | Electrogastrography w/test | 0.00 | 0.00 | 0.00 | 0.00 | 0.00 | 0.00 | XXX
91299 |  | C | Gastroenterology procedure | 0.00 | 0.00 | 0.00 | 0.00 | 0.00 | 0.00 | XXX
91299 | 26 | C | Gastroenterology procedure | 0.00 | 0.00 | 0.00 | 0.00 | 0.00 | 0.00 | XXX
91299 | TC | C | Gastroenterology procedure | 0.00 | 0.00 | 0.00 | 0.00 | 0.00 | 0.00 | XXX
92002 |  | A | Eye exam, new patient | 0.88 | 0.96 | 0.38 | 0.02 | 1.86 | 1.28 | XXX
92004 |  | A | Eye exam, new patient | 1.67 | 1.71 | 0.73 | 0.03 | 3.41 | 2.43 | XXX
92012 |  | A | Eye exam established pat | 0.67 | 1.01 | 0.31 | 0.01 | 1.69 | 0.99 | XXX
92014 |  | A | Eye exam & treatment | 1.10 | 1.40 | 0.50 | 0.02 | 2.52 | 1.62 | XXX
92015 |  | N | Refraction | +0.38 | 1.51 | 0.15 | 0.01 | 1.90 | 0.54 | XXX
92018 |  | A | New eye exam & treatment | 2.50 | NA | 1.14 | 0.03 | NA | 3.67 | XXX
92019 |  | A | Eye exam & treatment | 1.31 | NA | 0.61 | 0.03 | NA | 1.95 | XXX
92020 |  | A | Special eye evaluation | 0.37 | 0.95 | 0.17 | 0.01 | 1.33 | 0.55 | XXX
92060 |  | A | Special eye evaluation | 0.69 | 0.74 | NA | 0.02 | 1.45 | NA | XXX
92060 | 26 | A | Special eye evaluation | 0.69 | 0.31 | 0.31 | 0.01 | 1.01 | 1.01 | XXX
92060 | TC | A | Special eye evaluation | 0.00 | 0.43 | NA | 0.01 | 0.44 | NA | XXX
92065 |  | A | Orthoptic/pleoptic training | 0.37 | 1.19 | NA | 0.02 | 1.58 | NA | XXX
92065 | 26 | A | Orthoptic/pleoptic training | 0.37 | 0.15 | 0.15 | 0.01 | 0.53 | 0.53 | XXX
92065 | TC | A | Orthoptic/pleoptic training | 0.00 | 1.04 | NA | 0.01 | 1.05 | NA | XXX
92070 |  | A | Fitting of contact lens | 0.70 | 1.12 | 0.34 | 0.01 | 1.83 | 1.05 | XXX
92081 |  | A | Visual field examination(s) | 0.36 | 1.84 | NA | 0.02 | 2.22 | NA | XXX
92081 | 26 | A | Visual field examination(s) | 0.36 | 0.16 | 0.16 | 0.01 | 0.53 | 0.53 | XXX
92081 | TC | A | Visual field examination(s) | 0.00 | 1.68 | NA | 0.01 | 1.69 | NA | XXX
92082 |  | A | Visual field examination(s) | 0.44 | 0.85 | NA | 0.02 | 1.31 | NA | XXX
92082 | 26 | A | Visual field examination(s) | 0.44 | 0.20 | 0.20 | 0.01 | 0.65 | 0.65 | XXX
92082 | TC | A | Visual field examination(s) | 0.00 | 0.65 | NA | 0.01 | 0.66 | NA | XXX
92083 |  | A | Visual field examination(s) | 0.50 | 1.51 | NA | 0.02 | 2.03 | NA | XXX
92083 | 26 | A | Visual field examination(s) | 0.50 | 0.23 | 0.23 | 0.01 | 0.74 | 0.74 | XXX
92083 | TC | A | Visual field examination(s) | 0.00 | 1.28 | NA | 0.01 | 1.29 | NA | XXX
92100 |  | A | Serial tonometry exam(s) | 0.92 | 0.75 | 0.40 | 0.02 | 1.69 | 1.34 | XXX
92120 |  | A | Tonography & eye evaluation | 0.81 | 0.81 | 0.31 | 0.02 | 1.64 | 1.14 | XXX
92130 |  | A | Water provocation tonography | 0.81 | 0.92 | 0.32 | 0.02 | 1.75 | 1.15 | XXX
92135 |  | A | Ophthalmic dx imaging | 0.35 | 1.48 | NA | 0.02 | 1.85 | NA | XXX
92135 | 26 | A | Ophthalmic dx imaging | 0.35 | 0.17 | 0.17 | 0.01 | 0.53 | 0.53 | XXX
92135 | TC | A | Ophthalmic dx imaging | 0.00 | 1.31 | NA | 0.01 | 1.32 | NA | XXX
92136 |  | A | Ophthalmic biometry | 0.54 | 1.52 | NA | 0.07 | 2.13 | NA | XXX
92136 | 26 | A | Ophthalmic biometry | 0.54 | 0.22 | 0.22 | 0.01 | 0.77 | 0.77 | XXX
92136 | TC | A | Ophthalmic biometry | 0.00 | 1.30 | NA | 0.06 | 1.36 | NA | XXX
92140 |  | A | Glaucoma provocative tests | 0.50 | 1.01 | 0.22 | 0.01 | 1.52 | 0.73 | XXX
92225 |  | A | Special eye exam, initial | 0.38 | 0.23 | 0.17 | 0.01 | 0.62 | 0.56 | XXX
92226 |  | A | Special eye exam, subsequent | 0.33 | 0.22 | 0.15 | 0.01 | 0.56 | 0.49 | XXX
92230 |  | A | Eye exam with photos | 0.60 | 1.73 | 0.21 | 0.02 | 2.35 | 0.83 | XXX
92235 |  | A | Eye exam with photos | 0.81 | 2.62 | NA | 0.07 | 3.50 | NA | XXX
92235 | 26 | A | Eye exam with photos | 0.81 | 0.39 | 0.39 | 0.02 | 1.22 | 1.22 | XXX
92235 | TC | A | Eye exam with photos | 0.00 | 2.23 | NA | 0.05 | 2.28 | NA | XXX
92240 |  | A | Icg angiography | 1.10 | 5.24 | NA | 0.07 | 6.41 | NA | XXX
92240 | 26 | A | Icg angiography | 1.10 | 0.53 | 0.53 | 0.02 | 1.65 | 1.65 | XXX
92240 | TC | A | Icg angiography | 0.00 | 4.71 | NA | 0.05 | 4.76 | NA | XXX
92250 |  | A | Eye exam with photos | 0.44 | 1.37 | NA | 0.02 | 1.83 | NA | XXX
92250 | 26 | A | Eye exam with photos | 0.44 | 0.20 | 0.20 | 0.01 | 0.65 | 0.65 | XXX
92250 | TC | A | Eye exam with photos | 0.00 | 1.17 | NA | 0.01 | 1.18 | NA | XXX
92260 |  | A | Ophthalmoscopy/dynamometry | 0.20 | 0.24 | 0.10 | 0.01 | 0.45 | 0.31 | XXX
92265 |  | A | Eye muscle evaluation | 0.81 | 1.23 | NA | 0.04 | 2.08 | NA | XXX
92265 | 26 | A | Eye muscle evaluation | 0.81 | 0.38 | 0.38 | 0.02 | 1.21 | 1.21 | XXX
92265 | TC | A | Eye muscle evaluation | 0.00 | 0.85 | NA | 0.02 | 0.87 | NA | XXX
92270 |  | A | Electro-oculography | 0.81 | 1.15 | NA | 0.05 | 2.01 | NA | XXX
92270 | 26 | A | Electro-oculography | 0.81 | 0.37 | 0.37 | 0.03 | 1.21 | 1.21 | XXX
92270 | TC | A | Electro-oculography | 0.00 | 0.78 | NA | 0.02 | 0.80 | NA | XXX
92275 |  | A | Electroretinography | 1.01 | 1.25 | NA | 0.04 | 2.30 | NA | XXX
92275 | 26 | A | Electroretinography | 1.01 | 0.46 | 0.46 | 0.02 | 1.49 | 1.49 | XXX
92275 | TC | A | Electroretinography | 0.00 | 0.79 | NA | 0.02 | 0.81 | NA | XXX
92283 |  | A | Color vision examination | 0.17 | 0.74 | NA | 0.02 | 0.93 | NA | XXX
92283 | 26 | A | Color vision examination | 0.17 | 0.07 | 0.07 | 0.01 | 0.25 | 0.25 | XXX
92283 | TC | A | Color vision examination | 0.00 | 0.67 | NA | 0.01 | 0.68 | NA | XXX
92284 |  | A | Dark adaptation eye exam | 0.24 | 1.75 | NA | 0.02 | 2.01 | NA | XXX
92284 | 26 | A | Dark adaptation eye exam | 0.24 | 0.09 | 0.09 | 0.01 | 0.34 | 0.34 | XXX
92284 | TC | A | Dark adaptation eye exam | 0.00 | 1.66 | NA | 0.01 | 1.67 | NA | XXX
92285 |  | A | Eye photography | 0.20 | 0.80 | NA | 0.02 | 1.02 | NA | XXX
92285 | 26 | A | Eye photography | 0.20 | 0.09 | 0.09 | 0.01 | 0.30 | 0.30 | XXX
92285 | TC | A | Eye photography | 0.00 | 0.71 | NA | 0.01 | 0.72 | NA | XXX
92286 |  | A | Internal eye photography | 0.66 | 3.00 | NA | 0.03 | 3.69 | NA | XXX
92286 | 26 | A | Internal eye photography | 0.66 | 0.32 | 0.32 | 0.01 | 0.99 | 0.99 | XXX
92286 | TC | A | Internal eye photography | 0.00 | 2.68 | NA | 0.02 | 2.70 | NA | XXX
92287 |  | A | Internal eye photography | 0.81 | 3.16 | 0.31 | 0.02 | 3.99 | 1.14 | XXX
92310 |  | N | Contact lens fitting | +1.17 | 1.10 | 0.47 | 0.03 | 2.30 | 1.67 | XXX
92311 |  | A | Contact lens fitting | 1.08 | 1.17 | 0.31 | 0.03 | 2.28 | 1.42 | XXX
92312 |  | A | Contact lens fitting | 1.26 | 1.17 | 0.45 | 0.03 | 2.46 | 1.74 | XXX
92313 |  | A | Contact lens fitting | 0.92 | 1.21 | 0.33 | 0.02 | 2.15 | 1.27 | XXX
92314 |  | N | Prescription of contact lens | +0.69 | 0.91 | 0.28 | 0.01 | 1.61 | 0.98 | XXX
92315 |  | A | Prescription of contact lens | 0.45 | 0.95 | 0.17 | 0.01 | 1.41 | 0.63 | XXX
92316 |  | A | Prescription of contact lens | 0.68 | 1.03 | 0.30 | 0.01 | 1.72 | 0.99 | XXX
92317 |  | A | Prescription of contact lens | 0.45 | 0.97 | 0.18 | 0.01 | 1.43 | 0.64 | XXX
92325 |  | A | Modification of contact lens | 0.00 | 0.38 | NA | 0.01 | 0.39 | NA | XXX
92326 |  | A | Replacement of contact lens | 0.00 | 1.55 | NA | 0.05 | 1.60 | NA | XXX
92330 |  | A | Fitting of artificial eye | 1.08 | 1.01 | 0.38 | 0.04 | 2.13 | 1.50 | XXX
92335 |  | A | Fitting of artificial eye | 0.45 | 0.99 | 0.17 | 0.01 | 1.45 | 0.63 | XXX
92340 |  | N | Fitting of spectacles | +0.37 | 0.68 | 0.15 | 0.01 | 1.06 | 0.53 | XXX
92341 |  | N | Fitting of spectacles | +0.47 | 0.72 | 0.19 | 0.01 | 1.20 | 0.67 | XXX
92342 |  | N | Fitting of spectacles | +0.53 | 0.74 | 0.21 | 0.01 | 1.28 | 0.75 | XXX
92352 |  | B | Special spectacles fitting | +0.37 | 0.68 | 0.15 | 0.01 | 1.06 | 0.53 | XXX
92353 |  | B | Special spectacles fitting | +0.50 | 0.73 | 0.20 | 0.02 | 1.25 | 0.72 | XXX
92354 |  | B | Special spectacles fitting | +0.00 | 8.41 | NA | 0.08 | 8.49 | NA | XXX
92355 |  | B | Special spectacles fitting | +0.00 | 4.11 | NA | 0.01 | 4.12 | NA | XXX
92358 |  | B | Eye prosthesis service | +0.00 | 0.92 | NA | 0.04 | 0.96 | NA | XXX
92370 |  | N | Repair & adjust spectacles | +0.32 | 0.54 | 0.13 | 0.02 | 0.88 | 0.47 | XXX
92371 |  | B | Repair & adjust spectacles | +0.00 | 0.59 | NA | 0.02 | 0.61 | NA | XXX
92390 |  | N | Supply of spectacles | 0.00 | 0.00 | 0.00 | 0.00 | 0.00 | 0.00 | XXX
92391 |  | N | Supply of contact lenses | 0.00 | 0.00 | 0.00 | 0.00 | 0.00 | 0.00 | XXX
92392 |  | I | Supply of low vision aids | +0.00 | 3.84 | NA | 0.02 | 3.86 | NA | XXX
92393 |  | I | Supply of artificial eye | +0.00 | 11.92 | NA | 0.47 | 12.39 | NA | XXX
92395 |  | I | Supply of spectacles | +0.00 | 1.30 | NA | 0.08 | 1.38 | NA | XXX
92396 |  | I | Supply of contact lenses | +0.00 | 2.19 | NA | 0.06 | 2.25 | NA | XXX
92499 |  | C | Eye service or procedure | 0.00 | 0.00 | 0.00 | 0.00 | 0.00 | 0.00 | XXX
92499 | 26 | C | Eye service or procedure | 0.00 | 0.00 | 0.00 | 0.00 | 0.00 | 0.00 | XXX
92499 | TC | C | Eye service or procedure | 0.00 | 0.00 | 0.00 | 0.00 | 0.00 | 0.00 | XXX
92502 |  | A | Ear and throat examination | 1.51 | NA | 1.28 | 0.06 | NA | 2.85 | 000
92504 |  | A | Ear microscopy examination | 0.18 | 1.10 | 0.09 | 0.01 | 1.29 | 0.28 | XXX
92506 |  | A | Speech/hearing evaluation | 0.86 | 1.72 | 0.43 | 0.04 | 2.62 | 1.33 | XXX
92507 |  | A | Speech/hearing therapy | 0.52 | 1.54 | 0.28 | 0.02 | 2.08 | 0.82 | XXX
92508 |  | A | Speech/hearing therapy | 0.26 | 1.77 | 0.15 | 0.01 | 2.04 | 0.42 | XXX
92510 |  | A | Rehab for ear implant | 1.50 | 2.11 | 0.83 | 0.06 | 3.67 | 2.39 | XXX
92511 |  | A | Nasopharyngoscopy | 0.84 | 1.36 | 0.42 | 0.03 | 2.23 | 1.29 | 000
92512 |  | A | Nasal function studies | 0.55 | 1.13 | 0.17 | 0.02 | 1.70 | 0.74 | XXX
92516 |  | A | Facial nerve function test | 0.43 | 0.94 | 0.24 | 0.02 | 1.39 | 0.69 | XXX
92520 |  | A | Laryngeal function studies | 0.76 | 0.52 | 0.43 | 0.03 | 1.31 | 1.22 | XXX
92525 |  | I | Oral function evaluation | +1.50 | 1.69 | 0.60 | 0.07 | 3.26 | 2.17 | XXX
92526 |  | A | Oral function therapy | 0.55 | 1.55 | 0.27 | 0.02 | 2.12 | 0.84 | XXX
92531 |  | B | Spontaneous nystagmus study | 0.00 | 0.00 | 0.00 | 0.00 | 0.00 | 0.00 | XXX
92532 |  | B | Positional nystagmus test | 0.00 | 0.00 | 0.00 | 0.00 | 0.00 | 0.00 | XXX
92533 |  | B | Caloric vestibular test | 0.00 | 0.00 | 0.00 | 0.00 | 0.00 | 0.00 | XXX
92534 |  | B | Optokinetic nystagmus test | 0.00 | 0.00 | 0.00 | 0.00 | 0.00 | 0.00 | XXX
92541 |  | A | Spontaneous nystagmus test | 0.40 | 1.45 | NA | 0.04 | 1.89 | NA | XXX
92541 | 26 | A | Spontaneous nystagmus test | 0.40 | 0.20 | 0.20 | 0.02 | 0.62 | 0.62 | XXX
92541 | TC | A | Spontaneous nystagmus test | 0.00 | 1.25 | NA | 0.02 | 1.27 | NA | XXX
92542 |  | A | Positional nystagmus test | 0.33 | 1.39 | NA | 0.03 | 1.75 | NA | XXX
92542 | 26 | A | Positional nystagmus test | 0.33 | 0.17 | 0.17 | 0.01 | 0.51 | 0.51 | XXX
92542 | TC | A | Positional nystagmus test | 0.00 | 1.22 | NA | 0.02 | 1.24 | NA | XXX
92543 |  | A | Caloric vestibular test | 0.10 | 0.39 | NA | 0.02 | 0.51 | NA | XXX
92543 | 26 | A | Caloric vestibular test | 0.10 | 0.05 | 0.05 | 0.01 | 0.16 | 0.16 | XXX
92543 | TC | A | Caloric vestibular test | 0.00 | 0.34 | NA | 0.01 | 0.35 | NA | XXX
92544 |  | A | Optokinetic nystagmus test | 0.26 | 1.35 | NA | 0.03 | 1.64 | NA | XXX
92544 | 26 | A | Optokinetic nystagmus test | 0.26 | 0.13 | 0.13 | 0.01 | 0.40 | 0.40 | XXX
92544 | TC | A | Optokinetic nystagmus test | 0.00 | 1.22 | NA | 0.02 | 1.24 | NA | XXX
92545 |  | A | Oscillating tracking test | 0.23 | 1.32 | NA | 0.03 | 1.58 | NA | XXX
92545 | 26 | A | Oscillating tracking test | 0.23 | 0.12 | 0.12 | 0.01 | 0.36 | 0.36 | XXX
92545 | TC | A | Oscillating tracking test | 0.00 | 1.20 | NA | 0.02 | 1.22 | NA | XXX
92546 |  | A | Sinusoidal rotational test | 0.29 | 2.22 | NA | 0.03 | 2.54 | NA | XXX
92546 | 26 | A | Sinusoidal rotational test | 0.29 | 0.14 | 0.14 | 0.01 | 0.44 | 0.44 | XXX
92546 | TC | A | Sinusoidal rotational test | 0.00 | 2.08 | NA | 0.02 | 2.10 | NA | XXX
92547 |  | A | Supplemental electrical test | 0.00 | 1.21 | NA | 0.05 | 1.26 | NA | ZZZ
92548 |  | A | Posturography | 0.50 | 2.09 | NA | 0.13 | 2.72 | NA | XXX
92548 | 26 | A | Posturography | 0.50 | 0.28 | 0.28 | 0.02 | 0.80 | 0.80 | XXX
92548 | TC | A | Posturography | 0.00 | 1.81 | NA | 0.11 | 1.92 | NA | XXX
92551 |  | N | Pure tone hearing test, air | 0.00 | 0.00 | 0.00 | 0.00 | 0.00 | 0.00 | XXX
92552 |  | A | Pure tone audiometry, air | 0.00 | 0.42 | NA | 0.03 | 0.45 | NA | XXX
92553 |  | A | Audiometry, air & bone | 0.00 | 0.62 | NA | 0.05 | 0.67 | NA | XXX
92555 |  | A | Speech threshold audiometry | 0.00 | 0.36 | NA | 0.03 | 0.39 | NA | XXX
92556 |  | A | Speech audiometry, complete | 0.00 | 0.54 | NA | 0.05 | 0.59 | NA | XXX
92557 |  | A | Comprehensive hearing test | 0.00 | 1.13 | NA | 0.10 | 1.23 | NA | XXX
92559 |  | N | Group audiometric testing | 0.00 | 0.00 | 0.00 | 0.00 | 0.00 | 0.00 | XXX
92560 |  | N | Bekesy audiometry, screen | 0.00 | 0.00 | 0.00 | 0.00 | 0.00 | 0.00 | XXX
92561 |  | A | Bekesy audiometry, diagnosis | 0.00 | 0.68 | NA | 0.05 | 0.73 | NA | XXX
92562 |  | A | Loudness balance test | 0.00 | 0.39 | NA | 0.03 | 0.42 | NA | XXX
92563 |  | A | Tone decay hearing test | 0.00 | 0.36 | NA | 0.03 | 0.39 | NA | XXX
92564 |  | A | Sisi hearing test | 0.00 | 0.45 | NA | 0.04 | 0.49 | NA | XXX
92565 |  | A | Stenger test, pure tone | 0.00 | 0.38 | NA | 0.03 | 0.41 | NA | XXX
92567 |  | A | Tympanometry | 0.00 | 0.50 | NA | 0.05 | 0.55 | NA | XXX
92568 |  | A | Acoustic reflex testing | 0.00 | 0.36 | NA | 0.03 | 0.39 | NA | XXX
92569 |  | A | Acoustic reflex decay test | 0.00 | 0.39 | NA | 0.03 | 0.42 | NA | XXX
92571 |  | A | Filtered speech hearing test | 0.00 | 0.37 | NA | 0.03 | 0.40 | NA | XXX
92572 |  | A | Staggered spondaic word test | 0.00 | 0.08 | NA | 0.01 | 0.09 | NA | XXX
92573 |  | A | Lombard test | 0.00 | 0.33 | NA | 0.03 | 0.36 | NA | XXX
92575 |  | A | Sensorineural acuity test | 0.00 | 0.28 | NA | 0.02 | 0.30 | NA | XXX
92576 |  | A | Synthetic sentence test | 0.00 | 0.42 | NA | 0.04 | 0.46 | NA | XXX
92577 |  | A | Stenger test, speech | 0.00 | 0.68 | NA | 0.06 | 0.74 | NA | XXX
92579 |  | A | Visual audiometry (vra) | 0.00 | 0.69 | NA | 0.05 | 0.74 | NA | XXX
92582 |  | A | Conditioning play audiometry | 0.00 | 0.69 | NA | 0.05 | 0.74 | NA | XXX
92583 |  | A | Select picture audiometry | 0.00 | 0.84 | NA | 0.07 | 0.91 | NA | XXX
92584 |  | A | Electrocochleography | 0.00 | 2.35 | NA | 0.17 | 2.52 | NA | XXX
92585 |  | A | Auditor evoke potent, compre | 0.50 | 1.98 | NA | 0.14 | 2.62 | NA | XXX
92585 | 26 | A | Auditor evoke potent, compre | 0.50 | 0.23 | 0.23 | 0.02 | 0.75 | 0.75 | XXX
92585 | TC | A | Auditor evoke potent, compre | 0.00 | 1.75 | NA | 0.12 | 1.87 | NA | XXX
92586 |  | A | Auditor evoke potent, limit | 0.00 | 1.75 | NA | 0.12 | 1.87 | NA | XXX
92587 |  | A | Evoked auditory test | 0.13 | 1.31 | NA | 0.10 | 1.54 | NA | XXX
92587 | 26 | A | Evoked auditory test | 0.13 | 0.07 | 0.07 | 0.01 | 0.21 | 0.21 | XXX
92587 | TC | A | Evoked auditory test | 0.00 | 1.24 | NA | 0.09 | 1.33 | NA | XXX
92588 |  | A | Evoked auditory test | 0.36 | 1.58 | NA | 0.12 | 2.06 | NA | XXX
92588 | 26 | A | Evoked auditory test | 0.36 | 0.18 | 0.18 | 0.01 | 0.55 | 0.55 | XXX
92588 | TC | A | Evoked auditory test | 0.00 | 1.40 | NA | 0.11 | 1.51 | NA | XXX
92589 |  | A | Auditory function test(s) | 0.00 | 0.51 | NA | 0.05 | 0.56 | NA | XXX
92590 |  | N | Hearing aid exam, one ear | 0.00 | 0.00 | 0.00 | 0.00 | 0.00 | 0.00 | XXX
92591 |  | N | Hearing aid exam, both ears | 0.00 | 0.00 | 0.00 | 0.00 | 0.00 | 0.00 | XXX
92592 |  | N | Hearing aid check, one ear | 0.00 | 0.00 | 0.00 | 0.00 | 0.00 | 0.00 | XXX
92593 |  | N | Hearing aid check, both ears | 0.00 | 0.00 | 0.00 | 0.00 | 0.00 | 0.00 | XXX
92594 |  | N | Electro hearng aid test, one | 0.00 | 0.00 | 0.00 | 0.00 | 0.00 | 0.00 | XXX
92595 |  | N | Electro hearng aid tst, both | 0.00 | 0.00 | 0.00 | 0.00 | 0.00 | 0.00 | XXX
92596 |  | A | Ear protector evaluation | 0.00 | 0.56 | NA | 0.05 | 0.61 | NA | XXX
92599 |  | C | ENT procedure/service | 0.00 | 0.00 | 0.00 | 0.00 | 0.00 | 0.00 | XXX
92599 | 26 | C | ENT procedure/service | 0.00 | 0.00 | 0.00 | 0.00 | 0.00 | 0.00 | XXX
92599 | TC | C | ENT procedure/service | 0.00 | 0.00 | 0.00 | 0.00 | 0.00 | 0.00 | XXX
92950 |  | A | Heart/lung resuscitation cpr | 3.80 | 1.59 | 1.18 | 0.21 | 5.60 | 5.19 | 000
92953 |  | A | Temporary external pacing | 0.23 | NA | 0.23 | 0.01 | NA | 0.47 | 000
92960 |  | A | Cardioversion electric, ext | 2.25 | 2.23 | 0.91 | 0.08 | 4.56 | 3.24 | 000
92961 |  | A | Cardioversion, electric, int | 4.60 | NA | 1.85 | 0.17 | NA | 6.62 | 000
92970 |  | A | Cardioassist, internal | 3.52 | NA | 1.27 | 0.17 | NA | 4.96 | 000
92971 |  | A | Cardioassist, external | 1.77 | NA | 0.86 | 0.06 | NA | 2.69 | 000
92973 |  | A | Percut coronary thrombectomy | 3.28 | NA | 1.37 | 0.17 | NA | 4.82 | ZZZ
92974 |  | A | Cath place, cardio brachytx | 3.00 | NA | 1.26 | 1.18 | NA | 5.44 | ZZZ
92975 |  | A | Dissolve clot, heart vessel | 7.25 | NA | 3.01 | 0.22 | NA | 10.48 | 000
92977 |  | A | Dissolve clot, heart vessel | 0.00 | 7.65 | NA | 0.38 | 8.03 | NA | XXX
92978 |  | A | Intravasc us, heart add-on | 1.80 | 5.09 | NA | 0.26 | 7.15 | NA | ZZZ
92978 | 26 | A | Intravasc us, heart add-on | 1.80 | 0.76 | 0.76 | 0.06 | 2.62 | 2.62 | ZZZ
92978 | TC | A | Intravasc us, heart add-on | 0.00 | 4.33 | NA | 0.20 | 4.53 | NA | ZZZ
92979 |  | A | Intravasc us, heart add-on | 1.44 | 2.76 | NA | 0.15 | 4.35 | NA | ZZZ
92979 | 26 | A | Intravasc us, heart add-on | 1.44 | 0.58 | 0.58 | 0.04 | 2.06 | 2.06 | ZZZ
92979 | TC | A | Intravasc us, heart add-on | 0.00 | 2.18 | NA | 0.11 | 2.29 | NA | ZZZ
92980 |  | A | Insert intracoronary stent | 14.84 | NA | 6.22 | 0.78 | NA | 21.84 | 000
92981 |  | A | Insert intracoronary stent | 4.17 | NA | 1.75 | 0.21 | NA | 6.13 | ZZZ
92982 |  | A | Coronary artery dilation | 10.98 | NA | 4.59 | 0.57 | NA | 16.14 | 000
92984 |  | A | Coronary artery dilation | 2.97 | NA | 1.24 | 0.16 | NA | 4.37 | ZZZ
92986 |  | A | Revision of aortic valve | 21.80 | NA | 10.43 | 1.14 | NA | 33.37 | 090
92987 |  | A | Revision of mitral valve | 22.70 | NA | 10.85 | 1.18 | NA | 34.73 | 090
92990 |  | A | Revision of pulmonary valve | 17.34 | NA | 8.41 | 0.90 | NA | 26.65 | 090
92992 |  | C | Revision of heart chamber | 0.00 | 0.00 | 0.00 | 0.00 | 0.00 | 0.00 | 090
92993 |  | C | Revision of heart chamber | 0.00 | 0.00 | 0.00 | 0.00 | 0.00 | 0.00 | 090
92995 |  | A | Coronary atherectomy | 12.09 | NA | 5.06 | 0.63 | NA | 17.78 | 000
92996 |  | A | Coronary atherectomy add-on | 3.26 | NA | 1.37 | 0.17 | NA | 4.80 | ZZZ
92997 |  | A | Pul art balloon repr, percut | 12.00 | NA | 4.55 | 0.63 | NA | 17.18 | 000
92998 |  | A | Pul art balloon repr, percut | 6.00 | NA | 2.06 | 0.31 | NA | 8.37 | ZZZ
93000 |  | A | Electrocardiogram, complete | 0.17 | 0.50 | NA | 0.03 | 0.70 | NA | XXX
93005 |  | A | Electrocardiogram, tracing | 0.00 | 0.43 | NA | 0.02 | 0.45 | NA | XXX
93010 |  | A | Electrocardiogram report | 0.17 | 0.07 | 0.07 | 0.01 | 0.25 | 0.25 | XXX
93012 |  | A | Transmission of ecg | 0.00 | 2.24 | NA | 0.15 | 2.39 | NA | XXX
93014 |  | A | Report on transmitted ecg | 0.52 | 0.19 | 0.19 | 0.02 | 0.73 | 0.73 | XXX
93015 |  | A | Cardiovascular stress test | 0.75 | 1.90 | NA | 0.11 | 2.76 | NA | XXX
93016 |  | A | Cardiovascular stress test | 0.45 | 0.18 | 0.18 | 0.01 | 0.64 | 0.64 | XXX
93017 |  | A | Cardiovascular stress test | 0.00 | 1.60 | NA | 0.09 | 1.69 | NA | XXX
93018 |  | A | Cardiovascular stress test | 0.30 | 0.12 | 0.12 | 0.01 | 0.43 | 0.43 | XXX
93024 |  | A | Cardiac drug stress test | 1.17 | 1.55 | NA | 0.11 | 2.83 | NA | XXX
93024 | 26 | A | Cardiac drug stress test | 1.17 | 0.48 | 0.48 | 0.04 | 1.69 | 1.69 | XXX
93024 | TC | A | Cardiac drug stress test | 0.00 | 1.07 | NA | 0.07 | 1.14 | NA | XXX
93025 |  | A | Microvolt t-wave assess | 0.75 | 6.42 | NA | 0.11 | 7.28 | NA | XXX
93040 |  | A | Rhythm ECG with report | 0.16 | 0.19 | NA | 0.02 | 0.37 | NA | XXX
93041 |  | A | Rhythm ECG, tracing | 0.00 | 0.14 | NA | 0.01 | 0.15 | NA | XXX
93042 |  | A | Rhythm ECG, report | 0.16 | 0.05 | 0.05 | 0.01 | 0.22 | 0.22 | XXX
93224 |  | A | ECG monitor/report, 24 hrs | 0.52 | 3.47 | NA | 0.21 | 4.20 | NA | XXX
93225 |  | A | ECG monitor/record, 24 hrs | 0.00 | 1.18 | NA | 0.07 | 1.25 | NA | XXX
93226 |  | A | ECG monitor/report, 24 hrs | 0.00 | 2.08 | NA | 0.12 | 2.20 | NA | XXX
93227 |  | A | ECG monitor/review, 24 hrs | 0.52 | 0.21 | 0.21 | 0.02 | 0.75 | 0.75 | XXX
93230 |  | A | ECG monitor/report, 24 hrs | 0.52 | 3.72 | NA | 0.22 | 4.46 | NA | XXX
93231 |  | A | Ecg monitor/record, 24 hrs | 0.00 | 1.44 | NA | 0.09 | 1.53 | NA | XXX
93232 |  | A | ECG monitor/report, 24 hrs | 0.00 | 2.07 | NA | 0.11 | 2.18 | NA | XXX
93233 |  | A | ECG monitor/review, 24 hrs | 0.52 | 0.21 | 0.21 | 0.02 | 0.75 | 0.75 | XXX
93235 |  | A | ECG monitor/report, 24 hrs | 0.45 | 2.66 | NA | 0.13 | 3.24 | NA | XXX
93236 |  | A | ECG monitor/report, 24 hrs | 0.00 | 2.49 | NA | 0.12 | 2.61 | NA | XXX
93237 |  | A | ECG monitor/review, 24 hrs | 0.45 | 0.17 | 0.17 | 0.01 | 0.63 | 0.63 | XXX
93268 |  | A | ECG record/review | 0.52 | 3.62 | NA | 0.24 | 4.38 | NA | XXX
93270 |  | A | ECG recording | 0.00 | 1.18 | NA | 0.07 | 1.25 | NA | XXX
93271 |  | A | Ecg/monitoring and analysis | 0.00 | 2.24 | NA | 0.15 | 2.39 | NA | XXX
93272 |  | A | Ecg/review, interpret only | 0.52 | 0.20 | 0.20 | 0.02 | 0.74 | 0.74 | XXX
93278 |  | A | ECG/signal-averaged | 0.25 | 1.19 | NA | 0.10 | 1.54 | NA | XXX
93278 | 26 | A | ECG/signal-averaged | 0.25 | 0.10 | 0.10 | 0.01 | 0.36 | 0.36 | XXX
93278 | TC | A | ECG/signal-averaged | 0.00 | 1.09 | NA | 0.09 | 1.18 | NA | XXX
93303 |  | A | Echo transthoracic | 1.30 | 4.16 | NA | 0.23 | 5.69 | NA | XXX
93303 | 26 | A | Echo transthoracic | 1.30 | 0.50 | 0.50 | 0.04 | 1.84 | 1.84 | XXX
93303 | TC | A | Echo transthoracic | 0.00 | 3.66 | NA | 0.19 | 3.85 | NA | XXX
93304 |  | A | Echo transthoracic | 0.75 | 2.15 | NA | 0.13 | 3.03 | NA | XXX
93304 | 26 | A | Echo transthoracic | 0.75 | 0.30 | 0.30 | 0.02 | 1.07 | 1.07 | XXX
93304 | TC | A | Echo transthoracic | 0.00 | 1.85 | NA | 0.11 | 1.96 | NA | XXX
93307 |  | A | Echo exam of heart | 0.92 | 4.04 | NA | 0.22 | 5.18 | NA | XXX
93307 | 26 | A | Echo exam of heart | 0.92 | 0.38 | 0.38 | 0.03 | 1.33 | 1.33 | XXX
93307 | TC | A | Echo exam of heart | 0.00 | 3.66 | NA | 0.19 | 3.85 | NA | XXX
93308 |  | A | Echo exam of heart | 0.53 | 2.07 | NA | 0.13 | 2.73 | NA | XXX
93308 | 26 | A | Echo exam of heart | 0.53 | 0.22 | 0.22 | 0.02 | 0.77 | 0.77 | XXX
93308 | TC | A | Echo exam of heart | 0.00 | 1.85 | NA | 0.11 | 1.96 | NA | XXX
93312 |  | A | Echo transesophageal | 2.20 | 4.45 | NA | 0.32 | 6.97 | NA | XXX
93312 | 26 | A | Echo transesophageal | 2.20 | 0.86 | 0.86 | 0.08 | 3.14 | 3.14 | XXX
93312 | TC | A | Echo transesophageal | 0.00 | 3.59 | NA | 0.24 | 3.83 | NA | XXX
93313 |  | A | Echo transesophageal | 0.95 | 5.29 | 0.22 | 0.05 | 6.29 | 1.22 | XXX
93314 |  | A | Echo transesophageal | 1.25 | 4.10 | NA | 0.28 | 5.63 | NA | XXX
93314 | 26 | A | Echo transesophageal | 1.25 | 0.51 | 0.51 | 0.04 | 1.80 | 1.80 | XXX
93314 | TC | A | Echo transesophageal | 0.00 | 3.59 | NA | 0.24 | 3.83 | NA | XXX
93315 |  | A | Echo transesophageal | 2.78 | 4.70 | NA | 0.34 | 7.82 | NA | XXX
93315 | 26 | A | Echo transesophageal | 2.78 | 1.11 | 1.11 | 0.10 | 3.99 | 3.99 | XXX
93315 | TC | A | Echo transesophageal | 0.00 | 3.59 | NA | 0.24 | 3.83 | NA | XXX
93316 |  | A | Echo transesophageal | 0.95 | 6.39 | 0.25 | 0.05 | 7.39 | 1.25 | XXX
93317 |  | A | Echo transesophageal | 1.83 | 4.31 | NA | 0.30 | 6.44 | NA | XXX
93317 | 26 | A | Echo transesophageal | 1.83 | 0.72 | 0.72 | 0.06 | 2.61 | 2.61 | XXX
93317 | TC | A | Echo transesophageal | 0.00 | 3.59 | NA | 0.24 | 3.83 | NA | XXX
93318 |  | C | Echo transesophageal intraop | 0.00 | 0.00 | 0.00 | 0.00 | 0.00 | 0.00 | XXX
93318 | 26 | A | Echo transesophageal intraop | 2.20 | 0.88 | NA | 0.06 | 3.14 | NA | XXX
93318 | TC | C | Echo transesophageal intraop | 0.00 | 0.00 | 0.00 | 0.00 | 0.00 | 0.00 | XXX
93320 |  | A | Doppler echo exam, heart | 0.38 | 1.79 | NA | 0.11 | 2.28 | NA | ZZZ
93320 | 26 | A | Doppler echo exam, heart | 0.38 | 0.16 | 0.16 | 0.01 | 0.55 | 0.55 | ZZZ
93320 | TC | A | Doppler echo exam, heart | 0.00 | 1.63 | NA | 0.10 | 1.73 | NA | ZZZ
93321 |  | A | Doppler echo exam, heart | 0.15 | 1.12 | NA | 0.08 | 1.35 | NA | ZZZ
93321 | 26 | A | Doppler echo exam, heart | 0.15 | 0.06 | 0.06 | 0.01 | 0.22 | 0.22 | ZZZ
93321 | TC | A | Doppler echo exam, heart | 0.00 | 1.06 | NA | 0.07 | 1.13 | NA | ZZZ
93325 |  | A | Doppler color flow add-on | 0.07 | 2.78 | NA | 0.18 | 3.03 | NA | ZZZ
93325 | 26 | A | Doppler color flow add-on | 0.07 | 0.03 | 0.03 | 0.01 | 0.11 | 0.11 | ZZZ
93325 | TC | A | Doppler color flow add-on | 0.00 | 2.75 | NA | 0.17 | 2.92 | NA | ZZZ
93350 |  | A | Echo transthoracic | 1.48 | 2.28 | NA | 0.13 | 3.89 | NA | XXX
93350 | 26 | A | Echo transthoracic | 1.48 | 0.61 | 0.61 | 0.02 | 2.11 | 2.11 | XXX
93350 | TC | A | Echo transthoracic | 0.00 | 1.67 | NA | 0.11 | 1.78 | NA | XXX
93501 |  | A | Right heart catheterization | 3.02 | 17.23 | NA | 1.03 | 21.28 | NA | 000
93501 | 26 | A | Right heart catheterization | 3.02 | 1.24 | 1.24 | 0.16 | 4.42 | 4.42 | 000
93501 | TC | A | Right heart catheterization | 0.00 | 15.99 | NA | 0.87 | 16.86 | NA | 000
93503 |  | A | Insert/place heart catheter | 2.91 | NA | 0.71 | 0.16 | NA | 3.78 | 000
93505 |  | A | Biopsy of heart lining | 4.38 | 3.67 | NA | 0.36 | 8.41 | NA | 000
93505 | 26 | A | Biopsy of heart lining | 4.38 | 1.80 | 1.80 | 0.23 | 6.41 | 6.41 | 000
93505 | TC | A | Biopsy of heart lining | 0.00 | 1.87 | NA | 0.13 | 2.00 | NA | 000
93508 |  | A | Cath placement, angiography | 4.10 | 13.64 | NA | 0.75 | 18.49 | NA | 000
93508 | 26 | A | Cath placement, angiography | 4.10 | 1.71 | 1.71 | 0.21 | 6.02 | 6.02 | 000
93508 | TC | A | Cath placement, angiography | 0.00 | 11.93 | NA | 0.54 | 12.47 | NA | 000
93510 |  | A | Left heart catheterization | 4.33 | 36.77 | NA | 2.13 | 43.23 | NA | 000
93510 | 26 | A | Left heart catheterization | 4.33 | 1.82 | 1.82 | 0.22 | 6.37 | 6.37 | 000
93510 | TC | A | Left heart catheterization | 0.00 | 34.95 | NA | 1.91 | 36.86 | NA | 000
93511 |  | A | Left heart catheterization | 5.03 | 36.12 | NA | 2.11 | 43.26 | NA | 000
93511 | 26 | A | Left heart catheterization | 5.03 | 2.10 | 2.10 | 0.26 | 7.39 | 7.39 | 000
93511 | TC | A | Left heart catheterization | 0.00 | 34.02 | NA | 1.85 | 35.87 | NA | 000
93514 |  | A | Left heart catheterization | 7.05 | 36.79 | NA | 2.22 | 46.06 | NA | 000
93514 | 26 | A | Left heart catheterization | 7.05 | 2.77 | 2.77 | 0.37 | 10.19 | 10.19 | 000
93514 | TC | A | Left heart catheterization | 0.00 | 34.02 | NA | 1.85 | 35.87 | NA | 000
93524 |  | A | Left heart catheterization | 6.95 | 47.32 | NA | 2.79 | 57.06 | NA | 000
93524 | 26 | A | Left heart catheterization | 6.95 | 2.86 | 2.86 | 0.36 | 10.17 | 10.17 | 000
93524 | TC | A | Left heart catheterization | 0.00 | 44.46 | NA | 2.43 | 46.89 | NA | 000
93526 |  | A | Rt & Lt heart catheters | 5.99 | 48.18 | NA | 2.81 | 56.98 | NA | 000
93526 | 26 | A | Rt & Lt heart catheters | 5.99 | 2.50 | 2.50 | 0.31 | 8.80 | 8.80 | 000
93526 | TC | A | Rt & Lt heart catheters | 0.00 | 45.68 | NA | 2.50 | 48.18 | NA | 000
93527 |  | A | Rt & Lt heart catheters | 7.28 | 47.49 | NA | 2.81 | 57.58 | NA | 000
93527 | 26 | A | Rt & Lt heart catheters | 7.28 | 3.03 | 3.03 | 0.38 | 10.69 | 10.69 | 000
93527 | TC | A | Rt & Lt heart catheters | 0.00 | 44.46 | NA | 2.43 | 46.89 | NA | 000
93528 |  | A | Rt & Lt heart catheters | 9.00 | 48.27 | NA | 2.90 | 60.17 | NA | 000
93528 | 26 | A | Rt & Lt heart catheters | 9.00 | 3.81 | 3.81 | 0.47 | 13.28 | 13.28 | 000
93528 | TC | A | Rt & Lt heart catheters | 0.00 | 44.46 | NA | 2.43 | 46.89 | NA | 000
93529 |  | A | Rt&lt heart catheterization | 4.80 | 46.46 | NA | 2.68 | 53.94 | NA | 000
93529 | 26 | A | Rt&lt heart catheterization | 4.80 | 2.00 | 2.00 | 0.25 | 7.05 | 7.05 | 000
93529 | TC | A | Rt&lt heart catheterization | 0.00 | 44.46 | NA | 2.43 | 46.89 | NA | 000
93530 |  | A | Rt heart cath, congenital | 4.23 | 17.59 | NA | 1.11 | 22.93 | NA | 000
93530 | 26 | A | Rt heart cath, congenital | 4.23 | 1.60 | 1.60 | 0.24 | 6.07 | 6.07 | 000
93530 | TC | A | Rt heart cath, congenital | 0.00 | 15.99 | NA | 0.87 | 16.86 | NA | 000
93531 |  | A | R & l heart cath, congenital | 8.35 | 48.92 | NA | 2.96 | 60.23 | NA | 000
93531 | 26 | A | R & l heart cath, congenital | 8.35 | 3.24 | 3.24 | 0.46 | 12.05 | 12.05 | 000
93531 | TC | A | R & l heart cath, congenital | 0.00 | 45.68 | NA | 2.50 | 48.18 | NA | 000
93532 |  | A | R & l heart cath, congenital | 10.00 | 48.58 | NA | 2.95 | 61.53 | NA | 000
93532 | 26 | A | R & l heart cath, congenital | 10.00 | 4.12 | 4.12 | 0.52 | 14.64 | 14.64 | 000
93532 | TC | A | R & l heart cath, congenital | 0.00 | 44.46 | NA | 2.43 | 46.89 | NA | 000
93533 |  | A | R & l heart cath, congenital | 6.70 | 47.01 | NA | 2.86 | 56.57 | NA | 000
93533 | 26 | A | R & l heart cath, congenital | 6.70 | 2.55 | 2.55 | 0.43 | 9.68 | 9.68 | 000
93533 | TC | A | R & l heart cath, congenital | 0.00 | 44.46 | NA | 2.43 | 46.89 | NA | 000
93536 |  | D | Insert circulation assi | 0.00 | NA | 0.00 | 0.00 | NA | 0.00 | 000
93539 |  | A | Injection, cardiac cath | 0.40 | 0.84 | 0.17 | 0.01 | 1.25 | 0.58 | 000
93540 |  | A | Injection, cardiac cath | 0.43 | 0.86 | 0.18 | 0.01 | 1.30 | 0.62 | 000
93541 |  | A | Injection for lung angiogram | 0.29 | NA | 0.12 | 0.01 | NA | 0.42 | 000
93542 |  | A | Injection for heart x-rays | 0.29 | NA | 0.12 | 0.01 | NA | 0.42 | 000
93543 |  | A | Injection for heart x-rays | 0.29 | 0.55 | 0.12 | 0.01 | 0.85 | 0.42 | 000
93544 |  | A | Injection for aortography | 0.25 | 0.53 | 0.10 | 0.01 | 0.79 | 0.36 | 000
93545 |  | A | Inject for coronary x-rays | 0.40 | 0.85 | 0.17 | 0.01 | 1.26 | 0.58 | 000
93555 |  | A | Imaging, cardiac cath | 0.81 | 6.27 | NA | 0.31 | 7.39 | NA | XXX
93555 | 26 | A | Imaging, cardiac cath | 0.81 | 0.34 | 0.34 | 0.03 | 1.18 | 1.18 | XXX
93555 | TC | A | Imaging, cardiac cath | 0.00 | 5.93 | NA | 0.28 | 6.21 | NA | XXX
93556 |  | A | Imaging, cardiac cath | 0.83 | 9.71 | NA | 0.45 | 10.99 | NA | XXX
93556 | 26 | A | Imaging, cardiac cath | 0.83 | 0.35 | 0.35 | 0.03 | 1.21 | 1.21 | XXX
93556 | TC | A | Imaging, cardiac cath | 0.00 | 9.36 | NA | 0.42 | 9.78 | NA | XXX
93561 |  | A | Cardiac output measurement | 0.50 | 0.67 | NA | 0.07 | 1.24 | NA | 000
93561 | 26 | A | Cardiac output measurement | 0.50 | 0.16 | 0.16 | 0.02 | 0.68 | 0.68 | 000
93561 | TC | A | Cardiac output measurement | 0.00 | 0.51 | NA | 0.05 | 0.56 | NA | 000
93562 |  | A | Cardiac output measurement | 0.16 | 0.34 | NA | 0.04 | 0.54 | NA | 000
93562 | 26 | A | Cardiac output measurement | 0.16 | 0.05 | 0.05 | 0.01 | 0.22 | 0.22 | 000
93562 | TC | A | Cardiac output measurement | 0.00 | 0.29 | NA | 0.03 | 0.32 | NA | 000
93571 |  | A | Heart flow reserve measure | 1.80 | 5.06 | NA | 0.31 | 7.17 | NA | ZZZ
93571 | 26 | A | Heart flow reserve measure | 1.80 | 0.73 | 0.73 | 0.11 | 2.64 | 2.64 | ZZZ
93571 | TC | A | Heart flow reserve measure | 0.00 | 4.33 | NA | 0.20 | 4.53 | NA | ZZZ
93572 |  | A | Heart flow reserve measure | 1.44 | 2.70 | NA | 0.28 | 4.42 | NA | ZZZ
93572 | 26 | A | Heart flow reserve measure | 1.44 | 0.52 | 0.52 | 0.17 | 2.13 | 2.13 | ZZZ
93572 | TC | A | Heart flow reserve measure | 0.00 | 2.18 | NA | 0.11 | 2.29 | NA | ZZZ
93600 |  | A | Bundle of His recording | 2.12 | 2.74 | NA | 0.22 | 5.08 | NA | 000
93600 | 26 | A | Bundle of His recording | 2.12 | 0.89 | 0.89 | 0.11 | 3.12 | 3.12 | 000
93600 | TC | A | Bundle of His recording | 0.00 | 1.85 | NA | 0.11 | 1.96 | NA | 000
93602 |  | A | Intra-atrial recording | 2.12 | 1.94 | NA | 0.18 | 4.24 | NA | 000
93602 | 26 | A | Intra-atrial recording | 2.12 | 0.88 | 0.88 | 0.12 | 3.12 | 3.12 | 000
93602 | TC | A | Intra-atrial recording | 0.00 | 1.06 | NA | 0.06 | 1.12 | NA | 000
93603 |  | A | Right ventricular recording | 2.12 | 2.46 | NA | 0.20 | 4.78 | NA | 000
93603 | 26 | A | Right ventricular recording | 2.12 | 0.86 | 0.86 | 0.11 | 3.09 | 3.09 | 000
93603 | TC | A | Right ventricular recording | 0.00 | 1.60 | NA | 0.09 | 1.69 | NA | 000
93607 |  | D | Left ventricular recording | 0.00 | 0.00 | 0.00 | 0.00 | 0.00 | 0.00 | 000
93607 | 26 | D | Left ventricular recording | 0.00 | 0.00 | 0.00 | 0.00 | 0.00 | 0.00 | 000
93607 | TC | D | Left ventricular recording | 0.00 | 0.00 | 0.00 | 0.00 | 0.00 | 0.00 | 000
93609 |  | A | Map tachycardia, add-on | 4.81 | 4.59 | NA | 0.66 | 10.06 | NA | ZZZ
93609 | 26 | A | Map tachycardia, add-on | 4.81 | 2.01 | 2.01 | 0.52 | 7.34 | 7.34 | ZZZ
93609 | TC | A | Map tachycardia, add-on | 0.00 | 2.58 | NA | 0.14 | 2.72 | NA | ZZZ
93610 |  | A | Intra-atrial pacing | 3.02 | 2.52 | NA | 0.25 | 5.79 | NA | 000
93610 | 26 | A | Intra-atrial pacing | 3.02 | 1.23 | 1.23 | 0.17 | 4.42 | 4.42 | 000
93610 | TC | A | Intra-atrial pacing | 0.00 | 1.29 | NA | 0.08 | 1.37 | NA | 000
93612 |  | A | Intraventricular pacing | 3.02 | 2.76 | NA | 0.26 | 6.04 | NA | 000
93612 | 26 | A | Intraventricular pacing | 3.02 | 1.23 | 1.23 | 0.17 | 4.42 | 4.42 | 000
93612 | TC | A | Intraventricular pacing | 0.00 | 1.53 | NA | 0.09 | 1.62 | NA | 000
93613 |  | C | Electrophys map, 3d, add-on | 0.00 | 0.00 | 0.00 | 0.00 | 0.00 | 0.00 | XXX
93613 | 26 | A | Electrophys map, 3d, add-on | 7.00 | 2.79 | 2.79 | 0.52 | 10.31 | 10.31 | XXX
93613 | TC | C | Electrophys map, 3d, add-on | 0.00 | 0.00 | 0.00 | 0.00 | 0.00 | 0.00 | XXX
93615 |  | A | Esophageal recording | 0.99 | 0.66 | NA | 0.05 | 1.70 | NA | 000
93615 | 26 | A | Esophageal recording | 0.99 | 0.36 | 0.36 | 0.03 | 1.38 | 1.38 | 000
93615 | TC | A | Esophageal recording | 0.00 | 0.30 | NA | 0.02 | 0.32 | NA | 000
93616 |  | A | Esophageal recording | 1.49 | 0.80 | NA | 0.08 | 2.37 | NA | 000
93616 | 26 | A | Esophageal recording | 1.49 | 0.50 | 0.50 | 0.06 | 2.05 | 2.05 | 000
93616 | TC | A | Esophageal recording | 0.00 | 0.30 | NA | 0.02 | 0.32 | NA | 000
93618 |  | A | Heart rhythm pacing | 4.26 | 5.54 | NA | 0.42 | 10.22 | NA | 000
93618 | 26 | A | Heart rhythm pacing | 4.26 | 1.78 | 1.78 | 0.22 | 6.26 | 6.26 | 000
93618 | TC | A | Heart rhythm pacing | 0.00 | 3.76 | NA | 0.20 | 3.96 | NA | 000
93619 |  | A | Electrophysiology evaluation | 7.32 | 10.32 | NA | 0.77 | 18.41 | NA | 000
93619 | 26 | A | Electrophysiology evaluation | 7.32 | 3.00 | 3.00 | 0.38 | 10.70 | 10.70 | 000
93619 | TC | A | Electrophysiology evaluation | 0.00 | 7.32 | NA | 0.39 | 7.71 | NA | 000
93620 |  | A | Electrophysiology evaluation | 11.59 | 13.33 | NA | 1.04 | 25.96 | NA | 000
93620 | 26 | A | Electrophysiology evaluation | 11.59 | 4.82 | 4.82 | 0.60 | 17.01 | 17.01 | 000
93620 | TC | A | Electrophysiology evaluation | 0.00 | 8.51 | NA | 0.44 | 8.95 | NA | 000
93621 |  | C | Electrophysiology evaluation | 0.00 | 0.00 | 0.00 | 0.00 | 0.00 | 0.00 | ZZZ
93621 | 26 | A | Electrophysiology evaluation | 2.10 | 0.88 | 0.88 | 0.15 | 3.13 | 3.13 | ZZZ
93621 | TC | C | Electrophysiology evaluation | 0.00 | 0.00 | 0.00 | 0.00 | 0.00 | 0.00 | ZZZ
93622 |  | C | Electrophysiology evaluation | 0.00 | 0.00 | 0.00 | 0.00 | 0.00 | 0.00 | ZZZ
93622 | 26 | A | Electrophysiology evaluation | 3.10 | 1.30 | 1.30 | 0.67 | 5.07 | 5.07 | ZZZ
93622 | TC | C | Electrophysiology evaluation | 0.00 | 0.00 | 0.00 | 0.00 | 0.00 | 0.00 | ZZZ
93623 |  | C | Stimulation, pacing heart | 0.00 | 0.00 | 0.00 | 0.00 | 0.00 | 0.00 | ZZZ
93623 | 26 | A | Stimulation, pacing heart | 2.85 | 1.19 | 1.19 | 0.15 | 4.19 | 4.19 | ZZZ
93623 | TC | C | Stimulation, pacing heart | 0.00 | 0.00 | 0.00 | 0.00 | 0.00 | 0.00 | ZZZ
93624 |  | A | Electrophysiologic study | 4.81 | 3.87 | NA | 0.36 | 9.04 | NA | 000
93624 | 26 | A | Electrophysiologic study | 4.81 | 1.99 | 1.99 | 0.25 | 7.05 | 7.05 | 000
93624 | TC | A | Electrophysiologic study | 0.00 | 1.88 | NA | 0.11 | 1.99 | NA | 000
93631 |  | A | Heart pacing, mapping | 7.60 | 8.65 | NA | 1.17 | 17.42 | NA | 000
93631 | 26 | A | Heart pacing, mapping | 7.60 | 2.81 | 2.81 | 0.66 | 11.07 | 11.07 | 000
93631 | TC | A | Heart pacing, mapping | 0.00 | 5.84 | NA | 0.51 | 6.35 | NA | 000
93640 |  | A | Evaluation heart device | 3.52 | 8.27 | NA | 0.53 | 12.32 | NA | 000
93640 | 26 | A | Evaluation heart device | 3.52 | 1.46 | 1.46 | 0.18 | 5.16 | 5.16 | 000
93640 | TC | A | Evaluation heart device | 0.00 | 6.81 | NA | 0.35 | 7.16 | NA | 000
93641 |  | A | Electrophysiology evaluation | 5.93 | 9.28 | NA | 0.66 | 15.87 | NA | 000
93641 | 26 | A | Electrophysiology evaluation | 5.93 | 2.47 | 2.47 | 0.31 | 8.71 | 8.71 | 000
93641 | TC | A | Electrophysiology evaluation | 0.00 | 6.81 | NA | 0.35 | 7.16 | NA | 000
93642 |  | A | Electrophysiology evaluation | 4.89 | 8.85 | NA | 0.51 | 14.25 | NA | 000
93642 | 26 | A | Electrophysiology evaluation | 4.89 | 2.04 | 2.04 | 0.16 | 7.09 | 7.09 | 000
93642 | TC | A | Electrophysiology evaluation | 0.00 | 6.81 | NA | 0.35 | 7.16 | NA | 000
93650 |  | A | Ablate heart dysrhythm focus | 10.51 | NA | 4.32 | 0.55 | NA | 15.38 | 000
93651 |  | A | Ablate heart dysrhythm focus | 16.25 | NA | 6.78 | 0.85 | NA | 23.88 | 000
93652 |  | A | Ablate heart dysrhythm focus | 17.68 | NA | 7.36 | 0.92 | NA | 25.96 | 000
93660 |  | A | Tilt table evaluation | 1.89 | 2.39 | NA | 0.08 | 4.36 | NA | 000
93660 | 26 | A | Tilt table evaluation | 1.89 | 0.79 | 0.79 | 0.06 | 2.74 | 2.74 | 000
93660 | TC | A | Tilt table evaluation | 0.00 | 1.60 | NA | 0.02 | 1.62 | NA | 000
93662 |  | C | Intracardiac ecg (ice) | +0.00 | 0.00 | 0.00 | 0.00 | 0.00 | 0.00 | ZZZ
93662 | 26 | A | Intracardiac ecg (ice) | 2.80 | 1.12 | 1.12 | 0.41 | 4.33 | 4.33 | ZZZ
93662 | TC | C | Intracardiac ecg (ice) | +0.00 | 0.00 | NA | 0.00 | 0.00 | NA | XXX
93668 |  | N | Peripheral vascular rehab | 0.00 | 0.00 | 0.00 | 0.00 | 0.00 | 0.00 | XXX
93701 |  | A | Bioimpedance, thoracic | 0.17 | 0.78 | NA | 0.02 | 0.97 | NA | XXX
93701 | 26 | A | Bioimpedance, thoracic | 0.17 | 0.07 | 0.07 | 0.01 | 0.25 | 0.25 | XXX
93701 | TC | A | Bioimpedance, thoracic | 0.00 | 0.71 | NA | 0.01 | 0.72 | NA | XXX
93720 |  | A | Total body plethysmography | 0.17 | 0.73 | NA | 0.06 | 0.96 | NA | XXX
93721 |  | A | Plethysmography tracing | 0.00 | 0.67 | NA | 0.05 | 0.72 | NA | XXX
93722 |  | A | Plethysmography report | 0.17 | 0.06 | 0.06 | 0.01 | 0.24 | 0.24 | XXX
93724 |  | A | Analyze pacemaker system | 4.89 | 5.80 | NA | 0.38 | 11.07 | NA | 000
93724 | 26 | A | Analyze pacemaker system | 4.89 | 2.04 | 2.04 | 0.18 | 7.11 | 7.11 | 000
93724 | TC | A | Analyze pacemaker system | 0.00 | 3.76 | NA | 0.20 | 3.96 | NA | 000
93727 |  | A | Analyze ilr system | 0.52 | 0.21 | 0.21 | 0.05 | 0.78 | 0.78 | XXX
93731 |  | A | Analyze pacemaker system | 0.45 | 0.66 | NA | 0.05 | 1.16 | NA | XXX
93731 | 26 | A | Analyze pacemaker system | 0.45 | 0.19 | 0.19 | 0.02 | 0.66 | 0.66 | XXX
93731 | TC | A | Analyze pacemaker system | 0.00 | 0.47 | NA | 0.03 | 0.50 | NA | XXX
93732 |  | A | Analyze pacemaker system | 0.92 | 0.87 | NA | 0.06 | 1.85 | NA | XXX
93732 | 26 | A | Analyze pacemaker system | 0.92 | 0.38 | 0.38 | 0.03 | 1.33 | 1.33 | XXX
93732 | TC | A | Analyze pacemaker system | 0.00 | 0.49 | NA | 0.03 | 0.52 | NA | XXX
93733 |  | A | Telephone analy, pacemaker | 0.17 | 0.76 | NA | 0.06 | 0.99 | NA | XXX
93733 | 26 | A | Telephone analy, pacemaker | 0.17 | 0.07 | 0.07 | 0.01 | 0.25 | 0.25 | XXX
93733 | TC | A | Telephone analy, pacemaker | 0.00 | 0.69 | NA | 0.05 | 0.74 | NA | XXX
93734 |  | A | Analyze pacemaker system | 0.38 | 0.49 | NA | 0.03 | 0.90 | NA | XXX
93734 | 26 | A | Analyze pacemaker system | 0.38 | 0.16 | 0.16 | 0.01 | 0.55 | 0.55 | XXX
93734 | TC | A | Analyze pacemaker system | 0.00 | 0.33 | NA | 0.02 | 0.35 | NA | XXX
93735 |  | A | Analyze pacemaker system | 0.74 | 0.72 | NA | 0.06 | 1.52 | NA | XXX
93735 | 26 | A | Analyze pacemaker system | 0.74 | 0.30 | 0.30 | 0.03 | 1.07 | 1.07 | XXX
93735 | TC | A | Analyze pacemaker system | 0.00 | 0.42 | NA | 0.03 | 0.45 | NA | XXX
93736 |  | A | Telephone analy, pacemaker | 0.15 | 0.66 | NA | 0.06 | 0.87 | NA | XXX
93736 | 26 | A | Telephone analy, pacemaker | 0.15 | 0.06 | 0.06 | 0.01 | 0.22 | 0.22 | XXX
93736 | TC | A | Telephone analy, pacemaker | 0.00 | 0.60 | NA | 0.05 | 0.65 | NA | XXX
93737 |  | D | Analyze cardio/defibrillator | 0.00 | 0.00 | NA | 0.00 | 0.00 | NA | XXX
93737 | 26 | D | Analyze cardio/defibrillator | 0.00 | 0.00 | 0.00 | 0.00 | 0.00 | 0.00 | XXX
93737 | TC | D | Analyze cardio/defibrillator | 0.00 | 0.00 | NA | 0.00 | 0.00 | NA | XXX
93738 |  | D | Analyze cardio/defibrillator | 0.00 | 0.00 | NA | 0.00 | 0.00 | NA | XXX
93738 | 26 | D | Analyze cardio/defibrillator | 0.00 | 0.00 | 0.00 | 0.00 | 0.00 | 0.00 | XXX
93738 | TC | D | Analyze cardio/defibrillator | 0.00 | 0.00 | NA | 0.00 | 0.00 | NA | XXX
93740 |  | B | Temperature gradient studies | +0.16 | 0.21 | NA | 0.02 | 0.39 | NA | XXX
93740 | 26 | B | Temperature gradient studies | +0.16 | 0.06 | 0.06 | 0.01 | 0.23 | 0.23 | XXX
93740 | TC | B | Temperature gradient studies | +0.00 | 0.15 | NA | 0.01 | 0.16 | NA | XXX
93741 |  | A | Analyze ht pace device sngl | 0.80 | 0.96 | NA | 0.05 | 1.81 | NA | XXX
93741 | 26 | A | Analyze ht pace device sngl | 0.80 | 0.33 | 0.33 | 0.02 | 1.15 | 1.15 | XXX
93741 | TC | A | Analyze ht pace device sngl | 0.00 | 0.63 | NA | 0.03 | 0.66 | NA | XXX
93742 |  | A | Analyze ht pace device sngl | 0.91 | 1.01 | NA | 0.05 | 1.97 | NA | XXX
93742 | 26 | A | Analyze ht pace device sngl | 0.91 | 0.38 | 0.38 | 0.02 | 1.31 | 1.31 | XXX
93742 | TC | A | Analyze ht pace device sngl | 0.00 | 0.63 | NA | 0.03 | 0.66 | NA | XXX
93743 |  | A | Analyze ht pace device dual | 1.03 | 1.13 | NA | 0.06 | 2.22 | NA | XXX
93743 | 26 | A | Analyze ht pace device dual | 1.03 | 0.43 | 0.43 | 0.03 | 1.49 | 1.49 | XXX
93743 | TC | A | Analyze ht pace device dual | 0.00 | 0.70 | NA | 0.03 | 0.73 | NA | XXX
93744 |  | A | Analyze ht pace device dual | 1.18 | 1.12 | NA | 0.06 | 2.36 | NA | XXX
93744 | 26 | A | Analyze ht pace device dual | 1.18 | 0.49 | 0.49 | 0.03 | 1.70 | 1.70 | XXX
93744 | TC | A | Analyze ht pace device dual | 0.00 | 0.63 | NA | 0.03 | 0.66 | NA | XXX
93760 |  | N | Cephalic thermogram | 0.00 | 0.00 | 0.00 | 0.00 | 0.00 | 0.00 | XXX
93762 |  | N | Peripheral thermogram | 0.00 | 0.00 | 0.00 | 0.00 | 0.00 | 0.00 | XXX
93770 |  | B | Measure venous pressure | +0.16 | 0.09 | NA | 0.02 | 0.27 | NA | XXX
93770 | 26 | B | Measure venous pressure | +0.16 | 0.06 | 0.06 | 0.01 | 0.23 | 0.23 | XXX
93770 | TC | B | Measure venous pressure | +0.00 | 0.03 | NA | 0.01 | 0.04 | NA | XXX
93784 |  | N | Ambulatory BP monitoring | 0.00 | 0.00 | 0.00 | 0.00 | 0.00 | 0.00 | XXX
93786 |  | N | Ambulatory BP recording | 0.00 | 0.00 | 0.00 | 0.00 | 0.00 | 0.00 | XXX
93788 |  | N | Ambulatory BP analysis | 0.00 | 0.00 | 0.00 | 0.00 | 0.00 | 0.00 | XXX
93790 |  | N | Review/report BP recording | 0.00 | 0.00 | 0.00 | 0.00 | 0.00 | 0.00 | XXX
93797 |  | A | Cardiac rehab | 0.18 | 0.33 | 0.07 | 0.01 | 0.52 | 0.26 | 000
93798 |  | A | Cardiac rehab/monitor | 0.28 | 0.44 | 0.11 | 0.01 | 0.73 | 0.40 | 000
93799 |  | C | Cardiovascular procedure | 0.00 | 0.00 | 0.00 | 0.00 | 0.00 | 0.00 | XXX
93799 | 26 | C | Cardiovascular procedure | 0.00 | 0.00 | 0.00 | 0.00 | 0.00 | 0.00 | XXX
93799 | TC | C | Cardiovascular procedure | 0.00 | 0.00 | 0.00 | 0.00 | 0.00 | 0.00 | XXX
93875 |  | A | Extracranial study | 0.22 | 1.13 | NA | 0.10 | 1.45 | NA | XXX
93875 | 26 | A | Extracranial study | 0.22 | 0.08 | 0.08 | 0.01 | 0.31 | 0.31 | XXX
93875 | TC | A | Extracranial study | 0.00 | 1.05 | NA | 0.09 | 1.14 | NA | XXX
93880 |  | A | Extracranial study | 0.60 | 3.76 | NA | 0.33 | 4.69 | NA | XXX
93880 | 26 | A | Extracranial study | 0.60 | 0.22 | 0.22 | 0.04 | 0.86 | 0.86 | XXX
93880 | TC | A | Extracranial study | 0.00 | 3.54 | NA | 0.29 | 3.83 | NA | XXX
93882 |  | A | Extracranial study | 0.40 | 2.50 | NA | 0.22 | 3.12 | NA | XXX
93882 | 26 | A | Extracranial study | 0.40 | 0.15 | 0.15 | 0.04 | 0.59 | 0.59 | XXX
93882 | TC | A | Extracranial study | 0.00 | 2.35 | NA | 0.18 | 2.53 | NA | XXX
93886 |  | A | Intracranial study | 0.94 | 4.40 | NA | 0.37 | 5.71 | NA | XXX
93886 | 26 | A | Intracranial study | 0.94 | 0.40 | 0.40 | 0.05 | 1.39 | 1.39 | XXX
93886 | TC | A | Intracranial study | 0.00 | 4.00 | NA | 0.32 | 4.32 | NA | XXX
93888 |  | A | Intracranial study | 0.62 | 2.91 | NA | 0.26 | 3.79 | NA | XXX
93888 | 26 | A | Intracranial study | 0.62 | 0.24 | 0.24 | 0.04 | 0.90 | 0.90 | XXX
93888 | TC | A | Intracranial study | 0.00 | 2.67 | NA | 0.22 | 2.89 | NA | XXX
93922 |  | A | Extremity study | 0.25 | 1.18 | NA | 0.13 | 1.56 | NA | XXX
93922 | 26 | A | Extremity study | 0.25 | 0.09 | 0.09 | 0.02 | 0.36 | 0.36 | XXX
93922 | TC | A | Extremity study | 0.00 | 1.09 | NA | 0.11 | 1.20 | NA | XXX
93923 |  | A | Extremity study | 0.45 | 2.24 | NA | 0.22 | 2.91 | NA | XXX
93923 | 26 | A | Extremity study | 0.45 | 0.16 | 0.16 | 0.04 | 0.65 | 0.65 | XXX
93923 | TC | A | Extremity study | 0.00 | 2.08 | NA | 0.18 | 2.26 | NA | XXX
93924 |  | A | Extremity study | 0.50 | 2.43 | NA | 0.26 | 3.19 | NA | XXX
93924 | 26 | A | Extremity study | 0.50 | 0.18 | 0.18 | 0.05 | 0.73 | 0.73 | XXX
93924 | TC | A | Extremity study | 0.00 | 2.25 | NA | 0.21 | 2.46 | NA | XXX
93925 |  | A | Lower extremity study | 0.58 | 3.76 | NA | 0.33 | 4.67 | NA | XXX
93925 | 26 | A | Lower extremity study | 0.58 | 0.21 | 0.21 | 0.04 | 0.83 | 0.83 | XXX
93925 | TC | A | Lower extremity study | 0.00 | 3.55 | NA | 0.29 | 3.84 | NA | XXX
93926 |  | A | Lower extremity study | 0.39 | 2.51 | NA | 0.22 | 3.12 | NA | XXX
93926 | 26 | A | Lower extremity study | 0.39 | 0.14 | 0.14 | 0.03 | 0.56 | 0.56 | XXX
93926 | TC | A | Lower extremity study | 0.00 | 2.37 | NA | 0.19 | 2.56 | NA | XXX
93930 |  | A | Upper extremity study | 0.46 | 3.93 | NA | 0.34 | 4.73 | NA | XXX
93930 | 26 | A | Upper extremity study | 0.46 | 0.16 | 0.16 | 0.03 | 0.65 | 0.65 | XXX
93930 | TC | A | Upper extremity study | 0.00 | 3.77 | NA | 0.31 | 4.08 | NA | XXX
93931 |  | A | Upper extremity study | 0.31 | 2.62 | NA | 0.22 | 3.15 | NA | XXX
93931 | 26 | A | Upper extremity study | 0.31 | 0.11 | 0.11 | 0.02 | 0.44 | 0.44 | XXX
93931 | TC | A | Upper extremity study | 0.00 | 2.51 | NA | 0.20 | 2.71 | NA | XXX
93965 |  | A | Extremity study | 0.35 | 1.17 | NA | 0.12 | 1.64 | NA | XXX
93965 | 26 | A | Extremity study | 0.35 | 0.13 | 0.13 | 0.02 | 0.50 | 0.50 | XXX
93965 | TC | A | Extremity study | 0.00 | 1.04 | NA | 0.10 | 1.14 | NA | XXX
93970 |  | A | Extremity study | 0.68 | 4.16 | NA | 0.38 | 5.22 | NA | XXX
93970 | 26 | A | Extremity study | 0.68 | 0.24 | 0.24 | 0.05 | 0.97 | 0.97 | XXX
93970 | TC | A | Extremity study | 0.00 | 3.92 | NA | 0.33 | 4.25 | NA | XXX
93971 |  | A | Extremity study | 0.45 | 2.77 | NA | 0.25 | 3.47 | NA | XXX
93971 | 26 | A | Extremity study | 0.45 | 0.16 | 0.16 | 0.03 | 0.64 | 0.64 | XXX
93971 | TC | A | Extremity study | 0.00 | 2.61 | NA | 0.22 | 2.83 | NA | XXX
93975 |  | A | Vascular study | 1.80 | 5.10 | NA | 0.47 | 7.37 | NA | XXX
93975 | 26 | A | Vascular study | 1.80 | 0.64 | 0.64 | 0.11 | 2.55 | 2.55 | XXX
93975 | TC | A | Vascular study | 0.00 | 4.46 | NA | 0.36 | 4.82 | NA | XXX
93976 |  | A | Vascular study | 1.21 | 3.41 | NA | 0.31 | 4.93 | NA | XXX
93976 | 26 | A | Vascular study | 1.21 | 0.43 | 0.43 | 0.06 | 1.70 | 1.70 | XXX
93976 | TC | A | Vascular study | 0.00 | 2.98 | NA | 0.25 | 3.23 | NA | XXX
93978 |  | A | Vascular study | 0.65 | 3.88 | NA | 0.36 | 4.89 | NA | XXX
93978 | 26 | A | Vascular study | 0.65 | 0.23 | 0.23 | 0.05 | 0.93 | 0.93 | XXX
93978 | TC | A | Vascular study | 0.00 | 3.65 | NA | 0.31 | 3.96 | NA | XXX
93979 |  | A | Vascular study | 0.44 | 2.59 | NA | 0.24 | 3.27 | NA | XXX
93979 | 26 | A | Vascular study | 0.44 | 0.16 | 0.16 | 0.04 | 0.64 | 0.64 | XXX
93979 | TC | A | Vascular study | 0.00 | 2.43 | NA | 0.20 | 2.63 | NA | XXX
93980 |  | A | Penile vascular study | 1.25 | 3.75 | NA | 0.35 | 5.35 | NA | XXX
93980 | 26 | A | Penile vascular study | 1.25 | 0.44 | 0.44 | 0.07 | 1.76 | 1.76 | XXX
93980 | TC | A | Penile vascular study | 0.00 | 3.31 | NA | 0.28 | 3.59 | NA | XXX
93981 |  | A | Penile vascular study | 0.44 | 3.21 | NA | 0.28 | 3.93 | NA | XXX
93981 | 26 | A | Penile vascular study | 0.44 | 0.15 | 0.15 | 0.02 | 0.61 | 0.61 | XXX
93981 | TC | A | Penile vascular study | 0.00 | 3.06 | NA | 0.26 | 3.32 | NA | XXX
93990 |  | A | Doppler flow testing | 0.25 | 2.46 | NA | 0.21 | 2.92 | NA | XXX
93990 | 26 | A | Doppler flow testing | 0.25 | 0.09 | 0.09 | 0.02 | 0.36 | 0.36 | XXX
93990 | TC | A | Doppler flow testing | 0.00 | 2.37 | NA | 0.19 | 2.56 | NA | XXX
94010 |  | A | Breathing capacity test | 0.17 | 0.82 | NA | 0.03 | 1.02 | NA | XXX
94010 | 26 | A | Breathing capacity test | 0.17 | 0.06 | 0.06 | 0.01 | 0.24 | 0.24 | XXX
94010 | TC | A | Breathing capacity test | 0.00 | 0.76 | NA | 0.02 | 0.78 | NA | XXX
94014 |  | A | Patient recorded spirometry | 0.52 | 0.46 | NA | 0.03 | 1.01 | NA | XXX
94015 |  | A | Patient recorded spirometry | 0.00 | 0.29 | NA | 0.01 | 0.30 | NA | XXX
94016 |  | A | Review patient spirometry | 0.52 | 0.17 | 0.17 | 0.02 | 0.71 | 0.71 | XXX
94060 |  | A | Evaluation of wheezing | 0.31 | 1.36 | NA | 0.06 | 1.73 | NA | XXX
94060 | 26 | A | Evaluation of wheezing | 0.31 | 0.10 | 0.10 | 0.01 | 0.42 | 0.42 | XXX
94060 | TC | A | Evaluation of wheezing | 0.00 | 1.26 | NA | 0.05 | 1.31 | NA | XXX
94070 |  | A | Evaluation of wheezing | 0.60 | 3.38 | NA | 0.10 | 4.08 | NA | XXX
94070 | 26 | A | Evaluation of wheezing | 0.60 | 0.19 | 0.19 | 0.02 | 0.81 | 0.81 | XXX
94070 | TC | A | Evaluation of wheezing | 0.00 | 3.19 | NA | 0.08 | 3.27 | NA | XXX
94150 |  | B | Vital capacity test | +0.07 | 0.63 | NA | 0.02 | 0.72 | NA | XXX
94150 | 26 | B | Vital capacity test | +0.07 | 0.03 | 0.03 | 0.01 | 0.11 | 0.11 | XXX
94150 | TC | B | Vital capacity test | +0.00 | 0.60 | NA | 0.01 | 0.61 | NA | XXX
94200 |  | A | Lung function test (MBC/MVV) | 0.11 | 0.33 | NA | 0.03 | 0.47 | NA | XXX
94200 | 26 | A | Lung function test (MBC/MVV) | 0.11 | 0.04 | 0.04 | 0.01 | 0.16 | 0.16 | XXX
94200 | TC | A | Lung function test (MBC/MVV) | 0.00 | 0.29 | NA | 0.02 | 0.31 | NA | XXX
94240 |  | A | Residual lung capacity | 0.26 | 1.26 | NA | 0.05 | 1.57 | NA | XXX
94240 | 26 | A | Residual lung capacity | 0.26 | 0.08 | 0.08 | 0.01 | 0.35 | 0.35 | XXX
94240 | TC | A | Residual lung capacity | 0.00 | 1.18 | NA | 0.04 | 1.22 | NA | XXX
94250 |  | A | Expired gas collection | 0.11 | 0.61 | NA | 0.02 | 0.74 | NA | XXX
94250 | 26 | A | Expired gas collection | 0.11 | 0.04 | 0.04 | 0.01 | 0.16 | 0.16 | XXX
94250 | TC | A | Expired gas collection | 0.00 | 0.57 | NA | 0.01 | 0.58 | NA | XXX
94260 |  | A | Thoracic gas volume | 0.13 | 0.38 | NA | 0.04 | 0.55 | NA | XXX
94260 | 26 | A | Thoracic gas volume | 0.13 | 0.04 | 0.04 | 0.01 | 0.18 | 0.18 | XXX
94260 | TC | A | Thoracic gas volume | 0.00 | 0.34 | NA | 0.03 | 0.37 | NA | XXX
94350 |  | A | Lung nitrogen washout curve | 0.26 | 1.01 | NA | 0.04 | 1.31 | NA | XXX
94350 | 26 | A | Lung nitrogen washout curve | 0.26 | 0.08 | 0.08 | 0.01 | 0.35 | 0.35 | XXX
94350 | TC | A | Lung nitrogen washout curve | 0.00 | 0.93 | NA | 0.03 | 0.96 | NA | XXX
94360 |  | A | Measure airflow resistance | 0.26 | 0.50 | NA | 0.06 | 0.82 | NA | XXX
94360 | 26 | A | Measure airflow resistance | 0.26 | 0.08 | 0.08 | 0.01 | 0.35 | 0.35 | XXX
94360 | TC | A | Measure airflow resistance | 0.00 | 0.42 | NA | 0.05 | 0.47 | NA | XXX
94370 |  | A | Breath airway closing volume | 0.26 | 2.03 | NA | 0.03 | 2.32 | NA | XXX
94370 | 26 | A | Breath airway closing volume | 0.26 | 0.08 | 0.08 | 0.01 | 0.35 | 0.35 | XXX
94370 | TC | A | Breath airway closing volume | 0.00 | 1.95 | NA | 0.02 | 1.97 | NA | XXX
94375 |  | A | Respiratory flow volume loop | 0.31 | 0.46 | NA | 0.03 | 0.80 | NA | XXX
94375 | 26 | A | Respiratory flow volume loop | 0.31 | 0.10 | 0.10 | 0.01 | 0.42 | 0.42 | XXX
94375 | TC | A | Respiratory flow volume loop | 0.00 | 0.36 | NA | 0.02 | 0.38 | NA | XXX
94400 |  | A | CO2 breathing response curve | 0.40 | 0.70 | NA | 0.06 | 1.16 | NA | XXX
94400 | 26 | A | CO2 breathing response curve | 0.40 | 0.13 | 0.13 | 0.01 | 0.54 | 0.54 | XXX
94400 | TC | A | CO2 breathing response curve | 0.00 | 0.57 | NA | 0.05 | 0.62 | NA | XXX
94450 |  | A | Hypoxia response curve | 0.40 | 0.85 | NA | 0.04 | 1.29 | NA | XXX
94450 | 26 | A | Hypoxia response curve | 0.40 | 0.12 | 0.12 | 0.02 | 0.54 | 0.54 | XXX
94450 | TC | A | Hypoxia response curve | 0.00 | 0.73 | NA | 0.02 | 0.75 | NA | XXX
94620 |  | A | Pulmonary stress test/simple | 0.64 | 1.66 | NA | 0.10 | 2.40 | NA | XXX
94620 | 26 | A | Pulmonary stress test/simple | 0.64 | 0.21 | 0.21 | 0.02 | 0.87 | 0.87 | XXX
94620 | TC | A | Pulmonary stress test/simple | 0.00 | 1.45 | NA | 0.08 | 1.53 | NA | XXX
94621 |  | A | Pulm stress test/complex | 1.42 | 1.25 | NA | 0.13 | 2.80 | NA | XXX
94621 | 26 | A | Pulm stress test/complex | 1.42 | 0.47 | 0.47 | 0.05 | 1.94 | 1.94 | XXX
94621 | TC | A | Pulm stress test/complex | 0.00 | 0.78 | NA | 0.08 | 0.86 | NA | XXX
94640 |  | A | Airway inhalation treatment | 0.00 | 0.74 | NA | 0.02 | 0.76 | NA | XXX
94642 |  | C | Aerosol inhalation treatment | 0.00 | 0.00 | 0.00 | 0.00 | 0.00 | 0.00 | XXX
94650 |  | A | Pressure breathing (IPPB) | 0.00 | 0.67 | NA | 0.02 | 0.69 | NA | XXX
94651 |  | A | Pressure breathing (IPPB) | 0.00 | 0.62 | NA | 0.02 | 0.64 | NA | XXX
94652 |  | A | Pressure breathing (IPPB) | 0.00 | 0.77 | NA | 0.06 | 0.83 | NA | XXX
94656 |  | A | Initial ventilator mgmt | 1.22 | NA | 0.33 | 0.06 | NA | 1.61 | XXX
94657 |  | A | Continued ventilator mgmt | 0.83 | NA | 0.26 | 0.03 | NA | 1.12 | XXX
94660 |  | A | Pos airway pressure, CPAP | 0.76 | 0.67 | 0.24 | 0.03 | 1.46 | 1.03 | XXX
94662 |  | A | Neg press ventilation, cnp | 0.76 | NA | 0.24 | 0.02 | NA | 1.02 | XXX
94664 |  | A | Aerosol or vapor inhalations | 0.00 | 0.53 | NA | 0.03 | 0.56 | NA | XXX
94665 |  | A | Aerosol or vapor inhalations | 0.00 | 0.53 | NA | 0.04 | 0.57 | NA | XXX
94667 |  | A | Chest wall manipulation | 0.00 | 1.01 | NA | 0.04 | 1.05 | NA | XXX
94668 |  | A | Chest wall manipulation | 0.00 | 0.75 | NA | 0.02 | 0.77 | NA | XXX
94680 |  | A | Exhaled air analysis, o2 | 0.26 | 1.17 | NA | 0.06 | 1.49 | NA | XXX
94680 | 26 | A | Exhaled air analysis, o2 | 0.26 | 0.09 | 0.09 | 0.01 | 0.36 | 0.36 | XXX
94680 | TC | A | Exhaled air analysis, o2 | 0.00 | 1.08 | NA | 0.05 | 1.13 | NA | XXX
94681 |  | A | Exhaled air analysis, o2/co2 | 0.20 | 1.32 | NA | 0.11 | 1.63 | NA | XXX
94681 | 26 | A | Exhaled air analysis, o2/co2 | 0.20 | 0.07 | 0.07 | 0.01 | 0.28 | 0.28 | XXX
94681 | TC | A | Exhaled air analysis, o2/co2 | 0.00 | 1.25 | NA | 0.10 | 1.35 | NA | XXX
94690 |  | A | Exhaled air analysis | 0.07 | 1.59 | NA | 0.04 | 1.70 | NA | XXX
94690 | 26 | A | Exhaled air analysis | 0.07 | 0.02 | 0.02 | 0.01 | 0.10 | 0.10 | XXX
94690 | TC | A | Exhaled air analysis | 0.00 | 1.57 | NA | 0.03 | 1.60 | NA | XXX
94720 |  | A | Monoxide diffusing capacity | 0.26 | 1.32 | NA | 0.06 | 1.64 | NA | XXX
94720 | 26 | A | Monoxide diffusing capacity | 0.26 | 0.08 | 0.08 | 0.01 | 0.35 | 0.35 | XXX
94720 | TC | A | Monoxide diffusing capacity | 0.00 | 1.24 | NA | 0.05 | 1.29 | NA | XXX
94725 |  | A | Membrane diffusion capacity | 0.26 | 0.71 | NA | 0.11 | 1.08 | NA | XXX
94725 | 26 | A | Membrane diffusion capacity | 0.26 | 0.08 | 0.08 | 0.01 | 0.35 | 0.35 | XXX
94725 | TC | A | Membrane diffusion capacity | 0.00 | 0.63 | NA | 0.10 | 0.73 | NA | XXX
94750 |  | A | Pulmonary compliance study | 0.23 | 1.06 | NA | 0.04 | 1.33 | NA | XXX
94750 | 26 | A | Pulmonary compliance study | 0.23 | 0.07 | 0.07 | 0.01 | 0.31 | 0.31 | XXX
94750 | TC | A | Pulmonary compliance study | 0.00 | 0.99 | NA | 0.03 | 1.02 | NA | XXX
94760 |  | T | Measure blood oxygen level | 0.00 | 0.10 | NA | 0.02 | 0.12 | NA | XXX
94761 |  | T | Measure blood oxygen level | 0.00 | 0.14 | NA | 0.05 | 0.19 | NA | XXX
94762 |  | A | Measure blood oxygen level | 0.00 | 0.74 | NA | 0.08 | 0.82 | NA | XXX
94770 |  | A | Exhaled carbon dioxide test | 0.15 | 0.91 | NA | 0.07 | 1.13 | NA | XXX
94770 | 26 | A | Exhaled carbon dioxide test | 0.15 | 0.04 | 0.04 | 0.01 | 0.20 | 0.20 | XXX
94770 | TC | A | Exhaled carbon dioxide test | 0.00 | 0.87 | NA | 0.06 | 0.93 | NA | XXX
94772 |  | C | Breath recording, infant | 0.00 | 0.00 | 0.00 | 0.00 | 0.00 | 0.00 | XXX
94772 | 26 | C | Breath recording, infant | 0.00 | 0.00 | 0.00 | 0.00 | 0.00 | 0.00 | XXX
94772 | TC | C | Breath recording, infant | 0.00 | 0.00 | 0.00 | 0.00 | 0.00 | 0.00 | XXX
94799 |  | C | Pulmonary service/procedure | 0.00 | 0.00 | 0.00 | 0.00 | 0.00 | 0.00 | XXX
94799 | 26 | C | Pulmonary service/procedure | 0.00 | 0.00 | 0.00 | 0.00 | 0.00 | 0.00 | XXX
94799 | TC | C | Pulmonary service/procedure | 0.00 | 0.00 | 0.00 | 0.00 | 0.00 | 0.00 | XXX
95004 |  | A | Allergy skin tests | 0.00 | 0.09 | NA | 0.01 | 0.10 | NA | XXX
95010 |  | A | Sensitivity skin tests | 0.15 | 0.45 | 0.07 | 0.01 | 0.61 | 0.23 | XXX
95015 |  | A | Sensitivity skin tests | 0.15 | 0.39 | 0.06 | 0.01 | 0.55 | 0.22 | XXX
95024 |  | A | Allergy skin tests | 0.00 | 0.14 | NA | 0.01 | 0.15 | NA | XXX
95027 |  | A | Skin end point titration | 0.00 | 0.14 | NA | 0.01 | 0.15 | NA | XXX
95028 |  | A | Allergy skin tests | 0.00 | 0.22 | NA | 0.01 | 0.23 | NA | XXX
95044 |  | A | Allergy patch tests | 0.00 | 0.19 | NA | 0.01 | 0.20 | NA | XXX
95052 |  | A | Photo patch test | 0.00 | 0.24 | NA | 0.01 | 0.25 | NA | XXX
95056 |  | A | Photosensitivity tests | 0.00 | 0.17 | NA | 0.01 | 0.18 | NA | XXX
95060 |  | A | Eye allergy tests | 0.00 | 0.33 | NA | 0.02 | 0.35 | NA | XXX
95065 |  | A | Nose allergy test | 0.00 | 0.19 | NA | 0.01 | 0.20 | NA | XXX
95070 |  | A | Bronchial allergy tests | 0.00 | 2.17 | NA | 0.02 | 2.19 | NA | XXX
95071 |  | A | Bronchial allergy tests | 0.00 | 2.77 | NA | 0.02 | 2.79 | NA | XXX
95075 |  | A | Ingestion challenge test | 0.95 | 0.80 | 0.43 | 0.03 | 1.78 | 1.41 | XXX
95078 |  | A | Provocative testing | 0.00 | 0.24 | NA | 0.02 | 0.26 | NA | XXX
95115 |  | A | Immunotherapy, one injection | 0.00 | 0.37 | NA | 0.02 | 0.39 | NA | 000
95117 |  | A | Immunotherapy injections | 0.00 | 0.48 | NA | 0.02 | 0.50 | NA | 000
95120 |  | I | Immunotherapy, one injection | 0.00 | 0.00 | 0.00 | 0.00 | 0.00 | 0.00 | XXX
95125 |  | I | Immunotherapy, many antigens | 0.00 | 0.00 | 0.00 | 0.00 | 0.00 | 0.00 | XXX
95130 |  | I | Immunotherapy, insect venom | 0.00 | 0.00 | 0.00 | 0.00 | 0.00 | 0.00 | XXX
95131 |  | I | Immunotherapy, insect venoms | 0.00 | 0.00 | 0.00 | 0.00 | 0.00 | 0.00 | XXX
95132 |  | I | Immunotherapy, insect venoms | 0.00 | 0.00 | 0.00 | 0.00 | 0.00 | 0.00 | XXX
95133 |  | I | Immunotherapy, insect venoms | 0.00 | 0.00 | 0.00 | 0.00 | 0.00 | 0.00 | XXX
95134 |  | I | Immunotherapy, insect venoms | 0.00 | 0.00 | 0.00 | 0.00 | 0.00 | 0.00 | XXX
95144 |  | A | Antigen therapy services | 0.06 | 0.25 | 0.03 | 0.01 | 0.32 | 0.10 | 000
95145 |  | A | Antigen therapy services | 0.06 | 0.47 | 0.03 | 0.01 | 0.54 | 0.10 | 000
95146 |  | A | Antigen therapy services | 0.06 | 0.62 | 0.03 | 0.01 | 0.69 | 0.10 | 000
95147 |  | A | Antigen therapy services | 0.06 | 0.91 | 0.03 | 0.01 | 0.98 | 0.10 | 000
95148 |  | A | Antigen therapy services | 0.06 | 0.81 | 0.03 | 0.01 | 0.88 | 0.10 | 000
95149 |  | A | Antigen therapy services | 0.06 | 1.04 | 0.03 | 0.01 | 1.11 | 0.10 | 000
95165 |  | A | Antigen therapy services | 0.06 | 0.21 | 0.02 | 0.01 | 0.28 | 0.09 | 000
95170 |  | A | Antigen therapy services | 0.06 | 0.26 | 0.02 | 0.01 | 0.33 | 0.09 | 000
95180 |  | A | Rapid desensitization | 2.01 | 1.66 | 0.85 | 0.04 | 3.71 | 2.90 | 000
95199 |  | C | Allergy immunology services | 0.00 | 0.00 | 0.00 | 0.00 | 0.00 | 0.00 | 000
95250 |  | A | Glucose monitoring, cont | 0.00 | 1.44 | NA | 0.01 | 1.45 | NA | XXX
95805 |  | A | Multiple sleep latency test | 1.88 | 5.89 | NA | 0.34 | 8.11 | NA | XXX
95805 | 26 | A | Multiple sleep latency test | 1.88 | 0.70 | 0.70 | 0.06 | 2.64 | 2.64 | XXX
95805 | TC | A | Multiple sleep latency test | 0.00 | 5.19 | NA | 0.28 | 5.47 | NA | XXX
95806 |  | A | Sleep study, unattended | 1.66 | 4.31 | NA | 0.32 | 6.29 | NA | XXX
95806 | 26 | A | Sleep study, unattended | 1.66 | 0.57 | 0.57 | 0.06 | 2.29 | 2.29 | XXX
95806 | TC | A | Sleep study, unattended | 0.00 | 3.74 | NA | 0.26 | 4.00 | NA | XXX
95807 |  | A | Sleep study, attended | 1.66 | 10.70 | NA | 0.40 | 12.76 | NA | XXX
95807 | 26 | A | Sleep study, attended | 1.66 | 0.56 | 0.56 | 0.05 | 2.27 | 2.27 | XXX
95807 | TC | A | Sleep study, attended | 0.00 | 10.14 | NA | 0.35 | 10.49 | NA | XXX
95808 |  | A | Polysomnography, 1-3 | 2.65 | 3.86 | NA | 0.44 | 6.95 | NA | XXX
95808 | 26 | A | Polysomnography, 1-3 | 2.65 | 0.99 | 0.99 | 0.09 | 3.73 | 3.73 | XXX
95808 | TC | A | Polysomnography, 1-3 | 0.00 | 2.87 | NA | 0.35 | 3.22 | NA | XXX
95810 |  | A | Polysomnography, 4 or more | 3.53 | 15.66 | NA | 0.47 | 19.66 | NA | XXX
95810 | 26 | A | Polysomnography, 4 or more | 3.53 | 1.26 | 1.26 | 0.12 | 4.91 | 4.91 | XXX
95810 | TC | A | Polysomnography, 4 or more | 0.00 | 14.40 | NA | 0.35 | 14.75 | NA | XXX
95811 |  | A | Polysomnography w/cpap | 3.80 | 13.63 | NA | 0.49 | 17.92 | NA | XXX
95811 | 26 | A | Polysomnography w/cpap | 3.80 | 1.34 | 1.34 | 0.13 | 5.27 | 5.27 | XXX
95811 | TC | A | Polysomnography w/cpap | 0.00 | 12.29 | NA | 0.36 | 12.65 | NA | XXX
95812 |  | A | Electroencephalogram (EEG) | 1.08 | 3.96 | NA | 0.13 | 5.17 | NA | XXX
95812 | 26 | A | Electroencephalogram (EEG) | 1.08 | 0.48 | 0.48 | 0.04 | 1.60 | 1.60 | XXX
95812 | TC | A | Electroencephalogram (EEG) | 0.00 | 3.48 | NA | 0.09 | 3.57 | NA | XXX
95813 |  | A | Electroencephalogram (EEG) | 1.73 | 5.53 | NA | 0.15 | 7.41 | NA | XXX
95813 | 26 | A | Electroencephalogram (EEG) | 1.73 | 0.73 | 0.73 | 0.06 | 2.52 | 2.52 | XXX
95813 | TC | A | Electroencephalogram (EEG) | 0.00 | 4.80 | NA | 0.09 | 4.89 | NA | XXX
95816 |  | A | Electroencephalogram (EEG) | 1.08 | 3.42 | NA | 0.12 | 4.62 | NA | XXX
95816 | 26 | A | Electroencephalogram (EEG) | 1.08 | 0.49 | 0.49 | 0.04 | 1.61 | 1.61 | XXX
95816 | TC | A | Electroencephalogram (EEG) | 0.00 | 2.93 | NA | 0.08 | 3.01 | NA | XXX
95819 |  | A | Electroencephalogram (EEG) | 1.08 | 4.34 | NA | 0.12 | 5.54 | NA | XXX
95819 | 26 | A | Electroencephalogram (EEG) | 1.08 | 0.49 | 0.49 | 0.04 | 1.61 | 1.61 | XXX
95819 | TC | A | Electroencephalogram (EEG) | 0.00 | 3.85 | NA | 0.08 | 3.93 | NA | XXX
95822 |  | A | Sleep electroencephalogram | 1.08 | 1.78 | NA | 0.15 | 3.01 | NA | XXX
95822 | 26 | A | Sleep electroencephalogram | 1.08 | 0.49 | 0.49 | 0.04 | 1.61 | 1.61 | XXX
95822 | TC | A | Sleep electroencephalogram | 0.00 | 1.29 | NA | 0.11 | 1.40 | NA | XXX
95824 |  | C | Electroencephalography | +0.00 | 0.00 | 0.00 | 0.00 | 0.00 | 0.00 | XXX
95824 | 26 | A | Electroencephalography | 0.74 | 0.30 | 0.30 | 0.05 | 1.09 | 1.09 | ZZZ
95824 | TC | C | Electroencephalography | +0.00 | 0.00 | NA | 0.00 | 0.00 | NA | XXX
95827 |  | A | Night electroencephalogram | 1.08 | 2.64 | NA | 0.15 | 3.87 | NA | XXX
95827 | 26 | A | Night electroencephalogram | 1.08 | 0.46 | 0.46 | 0.03 | 1.57 | 1.57 | XXX
95827 | TC | A | Night electroencephalogram | 0.00 | 2.18 | NA | 0.12 | 2.30 | NA | XXX
95829 |  | A | Surgery electrocorticogram | 6.21 | 31.39 | NA | 0.33 | 37.93 | NA | XXX
95829 | 26 | A | Surgery electrocorticogram | 6.21 | 2.90 | 2.90 | 0.31 | 9.42 | 9.42 | XXX
95829 | TC | A | Surgery electrocorticogram | 0.00 | 28.49 | NA | 0.02 | 28.51 | NA | XXX
95830 |  | A | Insert electrodes for EEG | 1.70 | 3.76 | 0.78 | 0.07 | 5.53 | 2.55 | XXX
95831 |  | A | Limb muscle testing, manual | 0.28 | 0.52 | 0.12 | 0.01 | 0.81 | 0.41 | XXX
95832 |  | A | Hand muscle testing, manual | 0.29 | 0.48 | 0.11 | 0.01 | 0.78 | 0.41 | XXX
95833 |  | A | Body muscle testing, manual | 0.47 | 0.54 | 0.24 | 0.01 | 1.02 | 0.72 | XXX
95834 |  | A | Body muscle testing, manual | 0.60 | 0.59 | 0.28 | 0.02 | 1.21 | 0.90 | XXX
95851 |  | A | Range of motion measurements | 0.16 | 0.55 | 0.08 | 0.01 | 0.72 | 0.25 | XXX
95852 |  | A | Range of motion measurements | 0.11 | 0.49 | 0.05 | 0.01 | 0.61 | 0.17 | XXX
95857 |  | A | Tensilon test | 0.53 | 0.66 | 0.24 | 0.02 | 1.21 | 0.79 | XXX
95858 |  | A | Tensilon test & myogram | 1.56 | 1.10 | NA | 0.07 | 2.73 | NA | XXX
95858 | 26 | A | Tensilon test & myogram | 1.56 | 0.72 | 0.72 | 0.04 | 2.32 | 2.32 | XXX
95858 | TC | A | Tensilon test & myogram | 0.00 | 0.38 | NA | 0.03 | 0.41 | NA | XXX
95860 |  | A | Muscle test, one limb | 0.96 | 1.18 | NA | 0.05 | 2.19 | NA | XXX
95860 | 26 | A | Muscle test, one limb | 0.96 | 0.45 | 0.45 | 0.03 | 1.44 | 1.44 | XXX
95860 | TC | A | Muscle test, one limb | 0.00 | 0.73 | NA | 0.02 | 0.75 | NA | XXX
95861 |  | A | Muscle test, two limbs | 1.54 | 1.42 | NA | 0.10 | 3.06 | NA | XXX
95861 | 26 | A | Muscle test, two limbs | 1.54 | 0.72 | 0.72 | 0.05 | 2.31 | 2.31 | XXX
95861 | TC | A | Muscle test, two limbs | 0.00 | 0.70 | NA | 0.05 | 0.75 | NA | XXX
95863 |  | A | Muscle test, 3 limbs | 1.87 | 1.76 | NA | 0.11 | 3.74 | NA | XXX
95863 | 26 | A | Muscle test, 3 limbs | 1.87 | 0.87 | 0.87 | 0.06 | 2.80 | 2.80 | XXX
95863 | TC | A | Muscle test, 3 limbs | 0.00 | 0.89 | NA | 0.05 | 0.94 | NA | XXX
95864 |  | A | Muscle test, 4 limbs | 1.99 | 2.62 | NA | 0.16 | 4.77 | NA | XXX
95864 | 26 | A | Muscle test, 4 limbs | 1.99 | 0.93 | 0.93 | 0.06 | 2.98 | 2.98 | XXX
95864 | TC | A | Muscle test, 4 limbs | 0.00 | 1.69 | NA | 0.10 | 1.79 | NA | XXX
95867 |  | A | Muscle test, head or neck | 0.79 | 0.92 | NA | 0.06 | 1.77 | NA | XXX
95867 | 26 | A | Muscle test, head or neck | 0.79 | 0.37 | 0.37 | 0.03 | 1.19 | 1.19 | XXX
95867 | TC | A | Muscle test, head or neck | 0.00 | 0.55 | NA | 0.03 | 0.58 | NA | XXX
95868 |  | A | Muscle test, head or neck | 1.18 | 1.23 | NA | 0.08 | 2.49 | NA | XXX
95868 | 26 | A | Muscle test, head or neck | 1.18 | 0.57 | 0.57 | 0.04 | 1.79 | 1.79 | XXX
95868 | TC | A | Muscle test, head or neck | 0.00 | 0.66 | NA | 0.04 | 0.70 | NA | XXX
95869 |  | A | Muscle test, thor paraspinal | 0.37 | 0.37 | NA | 0.03 | 0.77 | NA | XXX
95869 | 26 | A | Muscle test, thor paraspinal | 0.37 | 0.17 | 0.17 | 0.01 | 0.55 | 0.55 | XXX
95869 | TC | A | Muscle test, thor paraspinal | 0.00 | 0.20 | NA | 0.02 | 0.22 | NA | XXX
95870 |  | A | Muscle test, nonparaspinal | 0.37 | 0.37 | NA | 0.03 | 0.77 | NA | XXX
95870 | 26 | A | Muscle test, nonparaspinal | 0.37 | 0.17 | 0.17 | 0.01 | 0.55 | 0.55 | XXX
95870 | TC | A | Muscle test, nonparaspinal | 0.00 | 0.20 | NA | 0.02 | 0.22 | NA | XXX
95872 |  | A | Muscle test, one fiber | 1.50 | 1.25 | NA | 0.08 | 2.83 | NA | XXX
95872 | 26 | A | Muscle test, one fiber | 1.50 | 0.68 | 0.68 | 0.04 | 2.22 | 2.22 | XXX
95872 | TC | A | Muscle test, one fiber | 0.00 | 0.57 | NA | 0.04 | 0.61 | NA | XXX
95875 |  | A | Limb exercise test | 1.10 | 1.38 | NA | 0.09 | 2.57 | NA | XXX
95875 | 26 | A | Limb exercise test | 1.10 | 0.49 | 0.49 | 0.04 | 1.63 | 1.63 | XXX
95875 | TC | A | Limb exercise test | 0.00 | 0.89 | NA | 0.05 | 0.94 | NA | XXX
95900 |  | A | Motor nerve conduction test | 0.42 | 0.73 | NA | 0.03 | 1.18 | NA | XXX
95900 | 26 | A | Motor nerve conduction test | 0.42 | 0.20 | 0.20 | 0.01 | 0.63 | 0.63 | XXX
95900 | TC | A | Motor nerve conduction test | 0.00 | 0.53 | NA | 0.02 | 0.55 | NA | XXX
95903 |  | A | Motor nerve conduction test | 0.60 | 0.51 | NA | 0.04 | 1.15 | NA | XXX
95903 | 26 | A | Motor nerve conduction test | 0.60 | 0.27 | 0.27 | 0.02 | 0.89 | 0.89 | XXX
95903 | TC | A | Motor nerve conduction test | 0.00 | 0.24 | NA | 0.02 | 0.26 | NA | XXX
95904 |  | A | Sense nerve conduction test | 0.34 | 0.64 | NA | 0.03 | 1.01 | NA | XXX
95904 | 26 | A | Sense nerve conduction test | 0.34 | 0.16 | 0.16 | 0.01 | 0.51 | 0.51 | XXX
95904 | TC | A | Sense nerve conduction test | 0.00 | 0.48 | NA | 0.02 | 0.50 | NA | XXX
95920 |  | A | Intraop nerve test add-on | 2.11 | 2.23 | NA | 0.20 | 4.54 | NA | ZZZ
95920 | 26 | A | Intraop nerve test add-on | 2.11 | 0.99 | 0.99 | 0.14 | 3.24 | 3.24 | ZZZ
95920 | TC | A | Intraop nerve test add-on | 0.00 | 1.24 | NA | 0.06 | 1.30 | NA | ZZZ
95921 |  | A | Autonomic nerv function test | 0.90 | 0.70 | NA | 0.05 | 1.65 | NA | XXX
95921 | 26 | A | Autonomic nerv function test | 0.90 | 0.34 | 0.34 | 0.03 | 1.27 | 1.27 | XXX
95921 | TC | A | Autonomic nerv function test | 0.00 | 0.36 | NA | 0.02 | 0.38 | NA | XXX
95922 |  | A | Autonomic nerv function test | 0.96 | 0.79 | NA | 0.05 | 1.80 | NA | XXX
95922 | 26 | A | Autonomic nerv function test | 0.96 | 0.43 | 0.43 | 0.03 | 1.42 | 1.42 | XXX
95922 | TC | A | Autonomic nerv function test | 0.00 | 0.36 | NA | 0.02 | 0.38 | NA | XXX
95923 |  | A | Autonomic nerv function test | 0.90 | 2.57 | NA | 0.05 | 3.52 | NA | XXX
95923 | 26 | A | Autonomic nerv function test | 0.90 | 0.40 | 0.40 | 0.03 | 1.33 | 1.33 | XXX
95923 | TC | A | Autonomic nerv function test | 0.00 | 2.17 | NA | 0.02 | 2.19 | NA | XXX
95925 |  | A | Somatosensory testing | 0.54 | 1.10 | NA | 0.07 | 1.71 | NA | XXX
95925 | 26 | A | Somatosensory testing | 0.54 | 0.24 | 0.24 | 0.02 | 0.80 | 0.80 | XXX
95925 | TC | A | Somatosensory testing | 0.00 | 0.86 | NA | 0.05 | 0.91 | NA | XXX
95926 |  | A | Somatosensory testing | 0.54 | 1.11 | NA | 0.07 | 1.72 | NA | XXX
95926 | 26 | A | Somatosensory testing | 0.54 | 0.25 | 0.25 | 0.02 | 0.81 | 0.81 | XXX
95926 | TC | A | Somatosensory testing | 0.00 | 0.86 | NA | 0.05 | 0.91 | NA | XXX
95927 |  | A | Somatosensory testing | 0.54 | 1.13 | NA | 0.08 | 1.75 | NA | XXX
95927 | 26 | A | Somatosensory testing | 0.54 | 0.27 | 0.27 | 0.03 | 0.84 | 0.84 | XXX
95927 | TC | A | Somatosensory testing | 0.00 | 0.86 | NA | 0.05 | 0.91 | NA | XXX
95930 |  | A | Visual evoked potential test | 0.35 | 0.84 | NA | 0.02 | 1.21 | NA | XXX
95930 | 26 | A | Visual evoked potential test | 0.35 | 0.16 | 0.16 | 0.01 | 0.52 | 0.52 | XXX
95930 | TC | A | Visual evoked potential test | 0.00 | 0.68 | NA | 0.01 | 0.69 | NA | XXX
95933 |  | A | Blink reflex test | 0.59 | 1.01 | NA | 0.07 | 1.67 | NA | XXX
95933 | 26 | A | Blink reflex test | 0.59 | 0.27 | 0.27 | 0.02 | 0.88 | 0.88 | XXX
95933 | TC | A | Blink reflex test | 0.00 | 0.74 | NA | 0.05 | 0.79 | NA | XXX
95934 |  | A | H-reflex test | 0.51 | 0.44 | NA | 0.04 | 0.99 | NA | XXX
95934 | 26 | A | H-reflex test | 0.51 | 0.24 | 0.24 | 0.02 | 0.77 | 0.77 | XXX
95934 | TC | A | H-reflex test | 0.00 | 0.20 | NA | 0.02 | 0.22 | NA | XXX
95936 |  | A | H-reflex test | 0.55 | 0.45 | NA | 0.04 | 1.04 | NA | XXX
95936 | 26 | A | H-reflex test | 0.55 | 0.25 | 0.25 | 0.02 | 0.82 | 0.82 | XXX
95936 | TC | A | H-reflex test | 0.00 | 0.20 | NA | 0.02 | 0.22 | NA | XXX
95937 |  | A | Neuromuscular junction test | 0.65 | 0.60 | NA | 0.04 | 1.29 | NA | XXX
95937 | 26 | A | Neuromuscular junction test | 0.65 | 0.28 | 0.28 | 0.02 | 0.95 | 0.95 | XXX
95937 | TC | A | Neuromuscular junction test | 0.00 | 0.32 | NA | 0.02 | 0.34 | NA | XXX
95950 |  | A | Ambulatory eeg monitoring | 1.51 | 4.93 | NA | 0.44 | 6.88 | NA | XXX
95950 | 26 | A | Ambulatory eeg monitoring | 1.51 | 0.70 | 0.70 | 0.08 | 2.29 | 2.29 | XXX
95950 | TC | A | Ambulatory eeg monitoring | 0.00 | 4.23 | NA | 0.36 | 4.59 | NA | XXX
95951 |  | A | EEG monitoring/videorecord | 6.00 | 16.38 | NA | 0.58 | 22.96 | NA | XXX
95951 | 26 | A | EEG monitoring/videorecord | 6.00 | 2.72 | 2.72 | 0.20 | 8.92 | 8.92 | XXX
95951 | TC | A | EEG monitoring/videorecord | 0.00 | 13.66 | NA | 0.38 | 14.04 | NA | XXX
95953 |  | A | EEG monitoring/computer | 3.08 | 7.39 | NA | 0.46 | 10.93 | NA | XXX
95953 | 26 | A | EEG monitoring/computer | 3.08 | 1.38 | 1.38 | 0.10 | 4.56 | 4.56 | XXX
95953 | TC | A | EEG monitoring/computer | 0.00 | 6.01 | NA | 0.36 | 6.37 | NA | XXX
95954 |  | A | EEG monitoring/giving drugs | 2.45 | 4.43 | NA | 0.15 | 7.03 | NA | XXX
95954 | 26 | A | EEG monitoring/giving drugs | 2.45 | 1.07 | 1.07 | 0.10 | 3.62 | 3.62 | XXX
95954 | TC | A | EEG monitoring/giving drugs | 0.00 | 3.36 | NA | 0.05 | 3.41 | NA | XXX
95955 |  | A | EEG during surgery | 1.01 | 2.26 | NA | 0.19 | 3.46 | NA | XXX
95955 | 26 | A | EEG during surgery | 1.01 | 0.40 | 0.40 | 0.05 | 1.46 | 1.46 | XXX
95955 | TC | A | EEG during surgery | 0.00 | 1.86 | NA | 0.14 | 2.00 | NA | XXX
95956 |  | A | Eeg monitoring, cable/radio | 3.08 | 7.43 | NA | 0.47 | 10.98 | NA | XXX
95956 | 26 | A | Eeg monitoring, cable/radio | 3.08 | 1.35 | 1.35 | 0.11 | 4.54 | 4.54 | XXX
95956 | TC | A | Eeg monitoring, cable/radio | 0.00 | 6.08 | NA | 0.36 | 6.44 | NA | XXX
95957 |  | A | EEG digital analysis | 1.98 | 2.52 | NA | 0.17 | 4.67 | NA | XXX
95957 | 26 | A | EEG digital analysis | 1.98 | 0.90 | 0.90 | 0.07 | 2.95 | 2.95 | XXX
95957 | TC | A | EEG digital analysis | 0.00 | 1.62 | NA | 0.10 | 1.72 | NA | XXX
95958 |  | A | EEG monitoring/function test | 4.25 | 3.51 | NA | 0.29 | 8.05 | NA | XXX
95958 | 26 | A | EEG monitoring/function test | 4.25 | 1.86 | 1.86 | 0.18 | 6.29 | 6.29 | XXX
95958 | TC | A | EEG monitoring/function test | 0.00 | 1.65 | NA | 0.11 | 1.76 | NA | XXX
95961 |  | A | Electrode stimulation, brain | 2.97 | 2.67 | NA | 0.24 | 5.88 | NA | XXX
95961 | 26 | A | Electrode stimulation, brain | 2.97 | 1.43 | 1.43 | 0.18 | 4.58 | 4.58 | XXX
95961 | TC | A | Electrode stimulation, brain | 0.00 | 1.24 | NA | 0.06 | 1.30 | NA | XXX
95962 |  | A | Electrode stim, brain add-on | 3.21 | 2.72 | NA | 0.23 | 6.16 | NA | ZZZ
95962 | 26 | A | Electrode stim, brain add-on | 3.21 | 1.48 | 1.48 | 0.17 | 4.86 | 4.86 | ZZZ
95962 | TC | A | Electrode stim, brain add-on | 0.00 | 1.24 | NA | 0.06 | 1.30 | NA | ZZZ
95965 |  | C | Meg, spontaneous | 0.00 | 0.00 | 0.00 | 0.00 | 0.00 | 0.00 | XXX
95965 | 26 | A | Meg, spontaneous | 8.00 | 3.19 | 3.19 | 0.20 | 11.39 | 11.39 | XXX
95965 | TC | C | Meg, spontaneous | 0.00 | 0.00 | 0.00 | 0.00 | 0.00 | 0.00 | XXX
95966 |  | C | Meg, evoked, single | 0.00 | 0.00 | 0.00 | 0.00 | 0.00 | 0.00 | XXX
95966 | 26 | A | Meg, evoked, single | 4.00 | 1.60 | 1.60 | 0.18 | 5.78 | 5.78 | XXX
95966 | TC | C | Meg, evoked, single | 0.00 | 0.00 | 0.00 | 0.00 | 0.00 | 0.00 | XXX
95967 |  | C | Meg, evoked, each addl | 0.00 | 0.00 | 0.00 | 0.00 | 0.00 | 0.00 | ZZZ
95967 | 26 | A | Meg, evoked, each addl | 3.50 | 1.40 | 1.40 | 0.17 | 5.07 | 5.07 | ZZZ
95967 | TC | C | Meg, evoked, each addl | 0.00 | 0.00 | 0.00 | 0.00 | 0.00 | 0.00 | ZZZ
95970 |  | A | Analyze neurostim, no prog | 0.45 | 0.18 | 0.16 | 0.03 | 0.66 | 0.64 | XXX
95971 |  | A | Analyze neurostim, simple | 0.78 | 0.28 | 0.24 | 0.06 | 1.12 | 1.08 | XXX
95972 |  | A | Analyze neurostim, complex | 1.50 | 0.62 | 0.51 | 0.17 | 2.29 | 2.18 | XXX
95973 |  | A | Analyze neurostim, complex | 0.92 | 0.42 | 0.36 | 0.07 | 1.41 | 1.35 | ZZZ
95974 |  | A | Cranial neurostim, complex | 3.00 | 1.37 | 1.37 | 0.15 | 4.52 | 4.52 | XXX
95975 |  | A | Cranial neurostim, complex | 1.70 | 0.78 | 0.78 | 0.07 | 2.55 | 2.55 | ZZZ
95999 |  | C | Neurological procedure | 0.00 | 0.00 | 0.00 | 0.00 | 0.00 | 0.00 | XXX
96000 |  | A | Motion analysis, video/3d | 1.80 | NA | 0.72 | 0.02 | NA | 2.54 | XXX
96001 |  | A | Motion test w/ft press meas | 2.15 | NA | 0.86 | 0.02 | NA | 3.03 | XXX
96002 |  | A | Dynamic surface emg | 0.41 | NA | 0.16 | 0.02 | NA | 0.59 | XXX
96003 |  | A | Dynamic fine wire emg | 0.37 | NA | 0.15 | 0.03 | NA | 0.55 | XXX
96004 |  | A | Phys review of motion tests | 1.80 | 0.72 | 0.72 | 0.08 | 2.60 | 2.60 | XXX
96100 |  | A | Psychological testing | 0.00 | 1.67 | NA | 0.15 | 1.82 | NA | XXX
96105 |  | A | Assessment of aphasia | 0.00 | 1.67 | NA | 0.15 | 1.82 | NA | XXX
96110 |  | C | Developmental test, lim | 0.00 | 0.00 | 0.00 | 0.00 | 0.00 | 0.00 | XXX
96111 |  | A | Developmental test, extend | 0.00 | 1.67 | NA | 0.15 | 1.82 | NA | XXX
96115 |  | A | Neurobehavior status exam | 0.00 | 1.67 | NA | 0.15 | 1.82 | NA | XXX
96117 |  | A | Neuropsych test battery | 0.00 | 1.67 | NA | 0.15 | 1.82 | NA | XXX
96150 |  | A | Assess hlth/behave, init | 0.50 | 0.21 | 0.20 | 0.02 | 0.73 | 0.72 | XXX
96151 |  | A | Assess hlth/behave, subseq | 0.48 | 0.21 | 0.19 | 0.02 | 0.71 | 0.69 | XXX
96152 |  | A | Intervene hlth/behave, indiv | 0.46 | 0.20 | 0.18 | 0.02 | 0.68 | 0.66 | XXX
96153 |  | A | Intervene hlth/behave, group | 0.10 | 0.04 | 0.04 | 0.01 | 0.15 | 0.15 | XXX
96154 |  | A | Interv hlth/behav, fam w/pt | 0.45 | 0.19 | 0.18 | 0.02 | 0.66 | 0.65 | XXX
96155 |  | A | Interv hlth/behav fam no pt | 0.44 | 0.18 | 0.18 | 0.02 | 0.64 | 0.64 | XXX
96400 |  | A | Chemotherapy, sc/im | 0.00 | 0.13 | NA | 0.01 | 0.14 | NA | XXX
96405 |  | A | Intralesional chemo admin | 0.52 | 1.88 | 0.24 | 0.02 | 2.42 | 0.78 | 000
96406 |  | A | Intralesional chemo admin | 0.80 | 2.94 | 0.41 | 0.02 | 3.76 | 1.23 | 000
96408 |  | A | Chemotherapy, push technique | 0.00 | 0.92 | NA | 0.05 | 0.97 | NA | XXX
96410 |  | A | Chemotherapy infusion method | 0.00 | 1.47 | NA | 0.07 | 1.54 | NA | XXX
96412 |  | A | Chemo, infuse method add-on | 0.00 | 1.09 | NA | 0.06 | 1.15 | NA | ZZZ
96414 |  | A | Chemo, infuse method add-on | 0.00 | 1.27 | NA | 0.07 | 1.34 | NA | XXX
96420 |  | A | Chemotherapy, push technique | 0.00 | 1.18 | NA | 0.07 | 1.25 | NA | XXX
96422 |  | A | Chemotherapy infusion method | 0.00 | 1.17 | NA | 0.07 | 1.24 | NA | XXX
96423 |  | A | Chemo, infuse method add-on | 0.00 | 0.46 | NA | 0.02 | 0.48 | NA | ZZZ
96425 |  | A | Chemotherapy infusion method | 0.00 | 1.36 | NA | 0.07 | 1.43 | NA | XXX
96440 |  | A | Chemotherapy, intracavitary | 2.37 | 7.99 | 1.06 | 0.12 | 10.48 | 3.55 | 000
96445 |  | A | Chemotherapy, intracavitary | 2.20 | 8.74 | 1.08 | 0.07 | 11.01 | 3.35 | 000
96450 |  | A | Chemotherapy, into CNS | 1.89 | 6.79 | 0.95 | 0.06 | 8.74 | 2.90 | 000
96520 |  | A | Pump refilling, maintenance | 0.00 | 0.84 | NA | 0.05 | 0.89 | NA | XXX
96530 |  | A | Pump refilling, maintenance | 0.00 | 1.01 | NA | 0.05 | 1.06 | NA | XXX
96542 |  | A | Chemotherapy injection | 1.42 | 4.70 | 0.55 | 0.05 | 6.17 | 2.02 | XXX
96545 |  | B | Provide chemotherapy agent | 0.00 | 0.00 | 0.00 | 0.00 | 0.00 | 0.00 | XXX
96549 |  | C | Chemotherapy, unspecified | 0.00 | 0.00 | 0.00 | 0.00 | 0.00 | 0.00 | XXX
96567 |  | A | Photodynamic tx, skin | 0.00 | 1.63 | NA | 0.03 | 1.66 | NA | XXX
96570 |  | A | Photodynamic tx, 30 min | 1.10 | 0.46 | 0.38 | 0.04 | 1.60 | 1.52 | ZZZ
96571 |  | A | Photodynamic tx, addl 15 min | 0.55 | 0.22 | 0.20 | 0.02 | 0.79 | 0.77 | ZZZ
96900 |  | A | Ultraviolet light therapy | 0.00 | 0.45 | NA | 0.02 | 0.47 | NA | XXX
96902 |  | B | Trichogram | +0.41 | 0.25 | 0.16 | 0.01 | 0.67 | 0.58 | XXX
96910 |  | A | Photochemotherapy with UV-B | 0.00 | 1.37 | NA | 0.03 | 1.40 | NA | XXX
96912 |  | A | Photochemotherapy with UV-A | 0.00 | 1.54 | NA | 0.04 | 1.58 | NA | XXX
96913 |  | A | Photochemotherapy, UV-A or B | 0.00 | 2.26 | NA | 0.08 | 2.34 | NA | XXX
96999 |  | C | Dermatological procedure | 0.00 | 0.00 | 0.00 | 0.00 | 0.00 | 0.00 | XXX
97001 |  | A | Pt evaluation | 1.20 | 0.56 | 0.37 | 0.10 | 1.86 | 1.67 | XXX
97002 |  | A | Pt re-evaluation | 0.60 | 0.35 | 0.27 | 0.04 | 0.99 | 0.91 | XXX
97003 |  | A | Ot evaluation | 1.20 | 0.69 | 0.32 | 0.05 | 1.94 | 1.57 | XXX
97004 |  | A | Ot re-evaluation | 0.60 | 0.69 | 0.12 | 0.02 | 1.31 | 0.74 | XXX
97005 |  | I | Athletic train eval | 0.00 | 0.00 | 0.00 | 0.00 | 0.00 | 0.00 | XXX
97006 |  | I | Athletic train reeval | 0.00 | 0.00 | 0.00 | 0.00 | 0.00 | 0.00 | XXX
97010 |  | B | Hot or cold packs therapy | +0.06 | 0.04 | 0.04 | 0.01 | 0.11 | 0.11 | XXX
97012 |  | A | Mechanical traction therapy | 0.25 | 0.11 | 0.11 | 0.01 | 0.37 | 0.37 | XXX
97014 |  | A | Electric stimulation therapy | 0.18 | 0.19 | 0.19 | 0.01 | 0.38 | 0.38 | XXX
97016 |  | A | Vasopneumatic device therapy | 0.18 | 0.14 | 0.14 | 0.01 | 0.33 | 0.33 | XXX
97018 |  | A | Paraffin bath therapy | 0.06 | 0.12 | 0.12 | 0.01 | 0.19 | 0.19 | XXX
97020 |  | A | Microwave therapy | 0.06 | 0.05 | 0.05 | 0.01 | 0.12 | 0.12 | XXX
97022 |  | A | Whirlpool therapy | 0.17 | 0.26 | 0.26 | 0.01 | 0.44 | 0.44 | XXX
97024 |  | A | Diathermy treatment | 0.06 | 0.05 | 0.05 | 0.01 | 0.12 | 0.12 | XXX
97026 |  | A | Infrared therapy | 0.06 | 0.05 | 0.05 | 0.01 | 0.12 | 0.12 | XXX
97028 |  | A | Ultraviolet therapy | 0.08 | 0.06 | 0.06 | 0.01 | 0.15 | 0.15 | XXX
97032 |  | A | Electrical stimulation | 0.25 | 0.21 | 0.21 | 0.01 | 0.47 | 0.47 | XXX
97033 |  | A | Electric current therapy | 0.26 | 0.12 | 0.12 | 0.02 | 0.40 | 0.40 | XXX
97034 |  | A | Contrast bath therapy | 0.21 | 0.14 | 0.14 | 0.01 | 0.36 | 0.36 | XXX
97035 |  | A | Ultrasound therapy | 0.21 | 0.08 | 0.08 | 0.01 | 0.30 | 0.30 | XXX
97036 |  | A | Hydrotherapy | 0.28 | 0.34 | 0.34 | 0.01 | 0.63 | 0.63 | XXX
97039 |  | A | Physical therapy treatment | 0.20 | 0.07 | 0.07 | 0.01 | 0.28 | 0.28 | XXX
97110 |  | A | Therapeutic exercises | 0.45 | 0.25 | 0.25 | 0.03 | 0.73 | 0.73 | XXX
97112 |  | A | Neuromuscular reeducation | 0.45 | 0.29 | 0.29 | 0.02 | 0.76 | 0.76 | XXX
97113 |  | A | Aquatic therapy/exercises | 0.44 | 0.33 | 0.33 | 0.03 | 0.80 | 0.80 | XXX
97116 |  | A | Gait training therapy | 0.40 | 0.21 | 0.21 | 0.02 | 0.63 | 0.63 | XXX
97124 |  | A | Massage therapy | 0.35 | 0.21 | 0.21 | 0.01 | 0.57 | 0.57 | XXX
97139 |  | A | Physical medicine procedure | 0.21 | 0.21 | 0.21 | 0.01 | 0.43 | 0.43 | XXX
97140 |  | A | Manual therapy | 0.43 | 0.23 | 0.23 | 0.02 | 0.68 | 0.68 | XXX
97150 |  | A | Group therapeutic procedures | 0.27 | 0.20 | 0.20 | 0.02 | 0.49 | 0.49 | XXX
97504 |  | A | Orthotic training | 0.45 | 0.25 | 0.25 | 0.03 | 0.73 | 0.73 | XXX
97520 |  | A | Prosthetic training | 0.45 | 0.21 | 0.21 | 0.02 | 0.68 | 0.68 | XXX
97530 |  | A | Therapeutic activities | 0.44 | 0.45 | 0.45 | 0.02 | 0.91 | 0.91 | XXX
97532 |  | A | Cognitive skills development | 0.44 | 0.17 | 0.17 | 0.01 | 0.62 | 0.62 | XXX
97533 |  | A | Sensory integration | 0.44 | 0.21 | 0.21 | 0.01 | 0.66 | 0.66 | XXX
97535 |  | A | Self care mngment training | 0.45 | 0.35 | 0.35 | 0.02 | 0.82 | 0.82 | XXX
97537 |  | A | Community/work reintegration | 0.45 | 0.20 | 0.20 | 0.01 | 0.66 | 0.66 | XXX
97542 |  | A | Wheelchair mngment training | 0.45 | 0.22 | 0.22 | 0.01 | 0.68 | 0.68 | XXX
97545 |  | R | Work hardening | 0.00 | 0.00 | 0.00 | 0.00 | 0.00 | 0.00 | XXX
97546 |  | R | Work hardening add-on | 0.00 | 0.00 | 0.00 | 0.00 | 0.00 | 0.00 | ZZZ
97601 |  | A | Wound(s) care, selective | 0.50 | 1.90 | 1.90 | 0.04 | 2.44 | 2.44 | XXX
97602 |  | B | Wound(s) care non-selective | 0.00 | 0.00 | 0.00 | 0.00 | 0.00 | 0.00 | XXX
97703 |  | A | Prosthetic checkout | 0.25 | 0.44 | 0.44 | 0.02 | 0.71 | 0.71 | XXX
97750 |  | A | Physical performance test | 0.45 | 0.24 | 0.24 | 0.02 | 0.71 | 0.71 | XXX
97780 |  | N | Acupuncture w/o stimul | 0.00 | 0.00 | 0.00 | 0.00 | 0.00 | 0.00 | XXX
97781 |  | N | Acupuncture w/stimul | 0.00 | 0.00 | 0.00 | 0.00 | 0.00 | 0.00 | XXX
97799 |  | C | Physical medicine procedure | 0.00 | 0.00 | 0.00 | 0.00 | 0.00 | 0.00 | XXX
97802 |  | A | Medical nutrition, indiv, in | 0.00 | 0.45 | 0.45 | 0.01 | 0.46 | 0.46 | XXX
97803 |  | A | Med nutrition, indiv, subseq | 0.00 | 0.45 | 0.45 | 0.01 | 0.46 | 0.46 | XXX
97804 |  | A | Medical nutrition, group | 0.00 | 0.17 | 0.17 | 0.01 | 0.18 | 0.18 | XXX
98925 |  | A | Osteopathic manipulation | 0.45 | 0.38 | 0.14 | 0.01 | 0.84 | 0.60 | 000
98926 |  | A | Osteopathic manipulation | 0.65 | 0.44 | 0.25 | 0.02 | 1.11 | 0.92 | 000
98927 |  | A | Osteopathic manipulation | 0.87 | 0.52 | 0.31 | 0.03 | 1.42 | 1.21 | 000
98928 |  | A | Osteopathic manipulation | 1.03 | 0.59 | 0.38 | 0.03 | 1.65 | 1.44 | 000
98929 |  | A | Osteopathic manipulation | 1.19 | 0.65 | 0.39 | 0.04 | 1.88 | 1.62 | 000
98940 |  | A | Chiropractic manipulation | 0.45 | 0.25 | 0.13 | 0.01 | 0.71 | 0.59 | 000
98941 |  | A | Chiropractic manipulation | 0.65 | 0.31 | 0.19 | 0.02 | 0.98 | 0.86 | 000
98942 |  | A | Chiropractic manipulation | 0.87 | 0.37 | 0.25 | 0.03 | 1.27 | 1.15 | 000
98943 |  | N | Chiropractic manipulation | +0.40 | 0.34 | 0.16 | 0.01 | 0.75 | 0.57 | XXX
99000 |  | B | Specimen handling | 0.00 | 0.00 | 0.00 | 0.00 | 0.00 | 0.00 | XXX
99001 |  | B | Specimen handling | 0.00 | 0.00 | 0.00 | 0.00 | 0.00 | 0.00 | XXX
99002 |  | B | Device handling | 0.00 | 0.00 | 0.00 | 0.00 | 0.00 | 0.00 | XXX
99024 |  | B | Postop follow-up visit | 0.00 | 0.00 | 0.00 | 0.00 | 0.00 | 0.00 | XXX
99025 |  | B | Initial surgical evaluation | 0.00 | 0.00 | 0.00 | 0.00 | 0.00 | 0.00 | XXX
99050 |  | B | Medical services after hrs | 0.00 | 0.00 | 0.00 | 0.00 | 0.00 | 0.00 | XXX
99052 |  | B | Medical services at night | 0.00 | 0.00 | 0.00 | 0.00 | 0.00 | 0.00 | XXX
99054 |  | B | Medical servcs, unusual hrs | 0.00 | 0.00 | 0.00 | 0.00 | 0.00 | 0.00 | XXX
99056 |  | B | Non-office medical services | 0.00 | 0.00 | 0.00 | 0.00 | 0.00 | 0.00 | XXX
99058 |  | B | Office emergency care | 0.00 | 0.00 | 0.00 | 0.00 | 0.00 | 0.00 | XXX
99070 |  | B | Special supplies | 0.00 | 0.00 | 0.00 | 0.00 | 0.00 | 0.00 | XXX
99071 |  | B | Patient education materials | 0.00 | 0.00 | 0.00 | 0.00 | 0.00 | 0.00 | XXX
99075 |  | N | Medical testimony | 0.00 | 0.00 | 0.00 | 0.00 | 0.00 | 0.00 | XXX
99078 |  | B | Group health education | 0.00 | 0.00 | 0.00 | 0.00 | 0.00 | 0.00 | XXX
99080 |  | B | Special reports or forms | 0.00 | 0.00 | 0.00 | 0.00 | 0.00 | 0.00 | XXX
99082 |  | C | Unusual physician travel | 0.00 | 0.00 | 0.00 | 0.00 | 0.00 | 0.00 | XXX
99090 |  | B | Computer data analysis | 0.00 | 0.00 | 0.00 | 0.00 | 0.00 | 0.00 | XXX
99091 |  | B | Collect/review data from pt | 0.00 | 0.00 | 0.00 | 0.00 | 0.00 | 0.00 | XXX
99100 |  | B | Special anesthesia service | 0.00 | 0.00 | 0.00 | 0.00 | 0.00 | 0.00 | ZZZ
99116 |  | B | Anesthesia with hypothermia | 0.00 | 0.00 | 0.00 | 0.00 | 0.00 | 0.00 | ZZZ
99135 |  | B | Special anesthesia procedure | 0.00 | 0.00 | 0.00 | 0.00 | 0.00 | 0.00 | ZZZ
99140 |  | B | Emergency anesthesia | 0.00 | 0.00 | 0.00 | 0.00 | 0.00 | 0.00 | ZZZ
99141 |  | B | Sedation, iv/im or inhalant | +0.80 | 2.12 | 0.39 | 0.04 | 2.96 | 1.23 | XXX
99142 |  | B | Sedation, oral/rectal/nasal | +0.60 | 1.24 | 0.31 | 0.03 | 1.87 | 0.94 | XXX
99170 |  | A | Anogenital exam, child | 1.75 | 2.02 | 0.55 | 0.07 | 3.84 | 2.37 | 000
99172 |  | N | Ocular function screen | 0.00 | 0.00 | 0.00 | 0.00 | 0.00 | 0.00 | XXX
99173 |  | N | Visual acuity screen | 0.00 | 0.00 | 0.00 | 0.00 | 0.00 | 0.00 | XXX
99175 |  | A | Induction of vomiting | 0.00 | 1.32 | NA | 0.08 | 1.40 | NA | XXX
99183 |  | A | Hyperbaric oxygen therapy | 2.34 | NA | 0.77 | 0.12 | NA | 3.23 | XXX
99185 |  | A | Regional hypothermia | 0.00 | 0.61 | NA | 0.03 | 0.64 | NA | XXX
99186 |  | A | Total body hypothermia | 0.00 | 1.69 | NA | 0.37 | 2.06 | NA | XXX
99190 |  | X | Special pump services | 0.00 | 0.00 | 0.00 | 0.00 | 0.00 | 0.00 | XXX
99191 |  | X | Special pump services | 0.00 | 0.00 | 0.00 | 0.00 | 0.00 | 0.00 | XXX
99192 |  | X | Special pump services | 0.00 | 0.00 | 0.00 | 0.00 | 0.00 | 0.00 | XXX
99195 |  | A | Phlebotomy | 0.00 | 0.42 | NA | 0.02 | 0.44 | NA | XXX
99199 |  | C | Special service/proc/report | 0.00 | 0.00 | 0.00 | 0.00 | 0.00 | 0.00 | XXX
99201 |  | A | Office/outpatient visit, new | 0.45 | 0.47 | 0.16 | 0.02 | 0.94 | 0.63 | XXX
99202 |  | A | Office/outpatient visit, new | 0.88 | 0.77 | 0.33 | 0.05 | 1.70 | 1.26 | XXX
99203 |  | A | Office/outpatient visit, new | 1.34 | 1.12 | 0.50 | 0.08 | 2.54 | 1.92 | XXX
99204 |  | A | Office/outpatient visit, new | 2.00 | 1.51 | 0.74 | 0.10 | 3.61 | 2.84 | XXX
99205 |  | A | Office/outpatient visit, new | 2.67 | 1.80 | 0.98 | 0.12 | 4.59 | 3.77 | XXX
99211 |  | A | Office/outpatient visit, est | 0.17 | 0.38 | 0.06 | 0.01 | 0.56 | 0.24 | XXX
99212 |  | A | Office/outpatient visit, est | 0.45 | 0.53 | 0.17 | 0.02 | 1.00 | 0.64 | XXX
99213 |  | A | Office/outpatient visit, est | 0.67 | 0.69 | 0.24 | 0.03 | 1.39 | 0.94 | XXX
99214 |  | A | Office/outpatient visit, est | 1.10 | 1.04 | 0.41 | 0.04 | 2.18 | 1.55 | XXX
99215 |  | A | Office/outpatient visit, est | 1.77 | 1.36 | 0.66 | 0.07 | 3.20 | 2.50 | XXX
99217 |  | A | Observation care discharge | 1.28 | NA | 0.45 | 0.05 | NA | 1.78 | XXX
99218 |  | A | Observation care | 1.28 | NA | 0.45 | 0.05 | NA | 1.78 | XXX
99219 |  | A | Observation care | 2.14 | NA | 0.75 | 0.08 | NA | 2.97 | XXX
99220 |  | A | Observation care | 2.99 | NA | 1.06 | 0.11 | NA | 4.16 | XXX
99221 |  | A | Initial hospital care | 1.28 | NA | 0.47 | 0.05 | NA | 1.80 | XXX
99222 |  | A | Initial hospital care | 2.14 | NA | 0.77 | 0.08 | NA | 2.99 | XXX
99223 |  | A | Initial hospital care | 2.99 | NA | 1.08 | 0.10 | NA | 4.17 | XXX
99231 |  | A | Subsequent hospital care | 0.64 | NA | 0.24 | 0.02 | NA | 0.90 | XXX
99232 |  | A | Subsequent hospital care | 1.06 | NA | 0.39 | 0.03 | NA | 1.48 | XXX
99233 |  | A | Subsequent hospital care | 1.51 | NA | 0.55 | 0.05 | NA | 2.11 | XXX
99234 |  | A | Observ/hosp same date | 2.56 | NA | 0.93 | 0.11 | NA | 3.60 | XXX
99235 |  | A | Observ/hosp same date | 3.42 | NA | 1.21 | 0.13 | NA | 4.76 | XXX
99236 |  | A | Observ/hosp same date | 4.27 | NA | 1.49 | 0.17 | NA | 5.93 | XXX
99238 |  | A | Hospital discharge day | 1.28 | NA | 0.51 | 0.04 | NA | 1.83 | XXX
99239 |  | A | Hospital discharge day | 1.75 | NA | 0.71 | 0.05 | NA | 2.51 | XXX
99241 |  | A | Office consultation | 0.64 | 0.62 | 0.24 | 0.04 | 1.30 | 0.92 | XXX
99242 |  | A | Office consultation | 1.29 | 1.03 | 0.50 | 0.09 | 2.41 | 1.88 | XXX
99243 |  | A | Office consultation | 1.72 | 1.38 | 0.67 | 0.10 | 3.20 | 2.49 | XXX
99244 |  | A | Office consultation | 2.58 | 1.83 | 0.98 | 0.13 | 4.54 | 3.69 | XXX
99245 |  | A | Office consultation | 3.43 | 2.29 | 1.30 | 0.16 | 5.88 | 4.89 | XXX
99251 |  | A | Initial inpatient consult | 0.66 | NA | 0.26 | 0.04 | NA | 0.96 | XXX
99252 |  | A | Initial inpatient consult | 1.32 | NA | 0.53 | 0.08 | NA | 1.93 | XXX
99253 |  | A | Initial inpatient consult | 1.82 | NA | 0.72 | 0.09 | NA | 2.63 | XXX
99254 |  | A | Initial inpatient consult | 2.64 | NA | 1.03 | 0.11 | NA | 3.78 | XXX
99255 |  | A | Initial inpatient consult | 3.65 | NA | 1.41 | 0.15 | NA | 5.21 | XXX
99261 |  | A | Follow-up inpatient consult | 0.42 | NA | 0.16 | 0.02 | NA | 0.60 | XXX
99262 |  | A | Follow-up inpatient consult | 0.85 | NA | 0.32 | 0.03 | NA | 1.20 | XXX
99263 |  | A | Follow-up inpatient consult | 1.27 | NA | 0.48 | 0.04 | NA | 1.79 | XXX
99271 |  | A | Confirmatory consultation | 0.45 | 0.67 | 0.17 | 0.03 | 1.15 | 0.65 | XXX
99272 |  | A | Confirmatory consultation | 0.84 | 0.89 | 0.32 | 0.06 | 1.79 | 1.22 | XXX
99273 |  | A | Confirmatory consultation | 1.19 | 1.13 | 0.47 | 0.07 | 2.39 | 1.73 | XXX
99274 |  | A | Confirmatory consultation | 1.73 | 1.41 | 0.68 | 0.09 | 3.23 | 2.50 | XXX
99275 |  | A | Confirmatory consultation | 2.31 | 1.68 | 0.88 | 0.10 | 4.09 | 3.29 | XXX
99281 |  | A | Emergency dept visit | 0.33 | NA | 0.09 | 0.02 | NA | 0.44 | XXX
99282 |  | A | Emergency dept visit | 0.55 | NA | 0.15 | 0.03 | NA | 0.73 | XXX
99283 |  | A | Emergency dept visit | 1.24 | NA | 0.32 | 0.08 | NA | 1.64 | XXX
99284 |  | A | Emergency dept visit | 1.95 | NA | 0.49 | 0.12 | NA | 2.56 | XXX
99285 |  | A | Emergency dept visit | 3.06 | NA | 0.75 | 0.19 | NA | 4.00 | XXX
99288 |  | B | Direct advanced life support | 0.00 | 0.00 | 0.00 | 0.00 | 0.00 | 0.00 | XXX
99289 |  | I | Pt transport, 30-74 min | 0.00 | 0.00 | 0.00 | 0.00 | 0.00 | 0.00 | XXX
99290 |  | I | Pt transport, addl 30 min | 0.00 | 0.00 | 0.00 | 0.00 | 0.00 | 0.00 | ZZZ
99291 |  | A | Critical care, first hour | 4.00 | 1.63 | 1.34 | 0.14 | 5.77 | 5.48 | XXX
99292 |  | A | Critical care, addl 30 min | 2.00 | 0.92 | 0.66 | 0.07 | 2.99 | 2.73 | ZZZ
99295 |  | A | Neonatal critical care | 16.00 | NA | 4.53 | 0.70 | NA | 21.23 | XXX
99296 |  | A | Neonatal critical care | 8.00 | NA | 2.58 | 0.23 | NA | 10.81 | XXX
99297 |  | A | Neonatal critical care | 4.00 | NA | 1.32 | 0.12 | NA | 5.44 | XXX
99298 |  | A | Neonatal critical care | 2.75 | NA | 0.97 | 0.10 | NA | 3.82 | XXX
99301 |  | A | Nursing facility care | 1.20 | 0.70 | 0.42 | 0.04 | 1.94 | 1.66 | XXX
99302 |  | A | Nursing facility care | 1.61 | 0.98 | 0.57 | 0.05 | 2.64 | 2.23 | XXX
99303 |  | A | Nursing facility care | 2.01 | 1.21 | 0.70 | 0.06 | 3.28 | 2.77 | XXX
99311 |  | A | Nursing fac care, subseq | 0.60 | 0.49 | 0.21 | 0.02 | 1.11 | 0.83 | XXX
99312 |  | A | Nursing fac care, subseq | 1.00 | 0.68 | 0.35 | 0.03 | 1.71 | 1.38 | XXX
99313 |  | A | Nursing fac care, subseq | 1.42 | 0.87 | 0.50 | 0.04 | 2.33 | 1.96 | XXX
99315 |  | A | Nursing fac discharge day | 1.13 | 0.74 | 0.40 | 0.04 | 1.91 | 1.57 | XXX
99316 |  | A | Nursing fac discharge day | 1.50 | 0.95 | 0.53 | 0.05 | 2.50 | 2.08 | XXX
99321 |  | A | Rest home visit, new patient | 0.71 | 0.49 | NA | 0.02 | 1.22 | NA | XXX
99322 |  | A | Rest home visit, new patient | 1.01 | 0.70 | NA | 0.03 | 1.74 | NA | XXX
99323 |  | A | Rest home visit, new patient | 1.28 | 0.93 | NA | 0.04 | 2.25 | NA | XXX
99331 |  | A | Rest home visit, est pat | 0.60 | 0.47 | NA | 0.02 | 1.09 | NA | XXX
99332 |  | A | Rest home visit, est pat | 0.80 | 0.59 | NA | 0.03 | 1.42 | NA | XXX
99333 |  | A | Rest home visit, est pat | 1.00 | 0.73 | NA | 0.03 | 1.76 | NA | XXX
99341 |  | A | Home visit, new patient | 1.01 | 0.56 | NA | 0.05 | 1.62 | NA | XXX
99342 |  | A | Home visit, new patient | 1.52 | 0.87 | NA | 0.05 | 2.44 | NA | XXX
99343 |  | A | Home visit, new patient | 2.27 | 1.29 | NA | 0.07 | 3.63 | NA | XXX
99344 |  | A | Home visit, new patient | 3.03 | 1.57 | NA | 0.10 | 4.70 | NA | XXX
99345 |  | A | Home visit, new patient | 3.79 | 1.86 | NA | 0.12 | 5.77 | NA | XXX
99347 |  | A | Home visit, est patient | 0.76 | 0.49 | NA | 0.03 | 1.28 | NA | XXX
99348 |  | A | Home visit, est patient | 1.26 | 0.74 | NA | 0.04 | 2.04 | NA | XXX
99349 |  | A | Home visit, est patient | 2.02 | 1.08 | NA | 0.06 | 3.16 | NA | XXX
99350 |  | A | Home visit, est patient | 3.03 | 1.47 | NA | 0.10 | 4.60 | NA | XXX
99354 |  | A | Prolonged service, office | 1.77 | 1.46 | 0.66 | 0.06 | 3.29 | 2.49 | ZZZ
99355 |  | A | Prolonged service, office | 1.77 | 1.24 | 0.65 | 0.06 | 3.07 | 2.48 | ZZZ
99356 |  | A | Prolonged service, inpatient | 1.71 | NA | 0.61 | 0.06 | NA | 2.38 | ZZZ
99357 |  | A | Prolonged service, inpatient | 1.71 | NA | 0.63 | 0.06 | NA | 2.40 | ZZZ
99358 |  | B | Prolonged serv, w/o contact | 0.00 | 0.00 | 0.00 | 0.00 | 0.00 | 0.00 | ZZZ
99359 |  | B | Prolonged serv, w/o contact | 0.00 | 0.00 | 0.00 | 0.00 | 0.00 | 0.00 | ZZZ
99360 |  | X | Physician standby services | 0.00 | 0.00 | 0.00 | 0.00 | 0.00 | 0.00 | XXX
99361 |  | B | Physician/team conference | 0.00 | 0.00 | 0.00 | 0.00 | 0.00 | 0.00 | XXX
99362 |  | B | Physician/team conference | 0.00 | 0.00 | 0.00 | 0.00 | 0.00 | 0.00 | XXX
99371 |  | B | Physician phone consultation | 0.00 | 0.00 | 0.00 | 0.00 | 0.00 | 0.00 | XXX
99372 |  | B | Physician phone consultation | 0.00 | 0.00 | 0.00 | 0.00 | 0.00 | 0.00 | XXX
99373 |  | B | Physician phone consultation | 0.00 | 0.00 | 0.00 | 0.00 | 0.00 | 0.00 | XXX
99374 |  | B | Home health care supervision | +1.10 | 1.47 | 0.44 | 0.04 | 2.61 | 1.58 | XXX
99377 |  | B | Hospice care supervision | +1.10 | 1.47 | 0.44 | 0.04 | 2.61 | 1.58 | XXX
99379 |  | B | Nursing fac care supervision | +1.10 | 1.47 | 0.44 | 0.03 | 2.60 | 1.57 | XXX
99380 |  | B | Nursing fac care supervision | +1.73 | 1.72 | 0.69 | 0.05 | 3.50 | 2.47 | XXX
99381 |  | N | Prev visit, new, infant | +1.19 | 1.50 | 0.48 | 0.04 | 2.73 | 1.71 | XXX
99382 |  | N | Prev visit, new, age 1-4 | +1.36 | 1.54 | 0.54 | 0.04 | 2.94 | 1.94 | XXX
99383 |  | N | Prev visit, new, age 5-11 | +1.36 | 1.48 | 0.54 | 0.04 | 2.88 | 1.94 | XXX
99384 |  | N | Prev visit, new, age 12-17 | +1.53 | 1.55 | 0.61 | 0.05 | 3.13 | 2.19 | XXX
99385 |  | N | Prev visit, new, age 18-39 | +1.53 | 1.55 | 0.61 | 0.05 | 3.13 | 2.19 | XXX
99386 |  | N | Prev visit, new, age 40-64 | +1.88 | 1.74 | 0.75 | 0.06 | 3.68 | 2.69 | XXX
99387 |  | N | Prev visit, new, 65 & over | +2.06 | 1.87 | 0.82 | 0.06 | 3.99 | 2.94 | XXX
99391 |  | N | Prev visit, est, infant | +1.02 | 1.02 | 0.41 | 0.03 | 2.07 | 1.46 | XXX
99392 |  | N | Prev visit, est, age 1-4 | +1.19 | 1.09 | 0.48 | 0.04 | 2.32 | 1.71 | XXX
99393 |  | N | Prev visit, est, age 5-11 | +1.19 | 1.06 | 0.48 | 0.04 | 2.29 | 1.71 | XXX
99394 |  | N | Prev visit, est, age 12-17 | +1.36 | 1.15 | 0.54 | 0.04 | 2.55 | 1.94 | XXX
99395 |  | N | Prev visit, est, age 18-39 | +1.36 | 1.18 | 0.54 | 0.04 | 2.58 | 1.94 | XXX
99396 |  | N | Prev visit, est, age 40-64 | +1.53 | 1.27 | 0.61 | 0.05 | 2.85 | 2.19 | XXX
99397 |  | N | Prev visit, est, 65 & over | +1.71 | 1.37 | 0.68 | 0.05 | 3.13 | 2.44 | XXX
99401 |  | N | Preventive counseling, indiv | +0.48 | 0.62 | 0.19 | 0.01 | 1.11 | 0.68 | XXX
99402 |  | N | Preventive counseling, indiv | +0.98 | 0.86 | 0.39 | 0.02 | 1.86 | 1.39 | XXX
99403 |  | N | Preventive counseling, indiv | +1.46 | 1.10 | 0.58 | 0.03 | 2.59 | 2.07 | XXX
99404 |  | N | Preventive counseling, indiv | +1.95 | 1.35 | 0.78 | 0.04 | 3.34 | 2.77 | XXX
99411 |  | N | Preventive counseling, group | +0.15 | 0.18 | 0.06 | 0.01 | 0.34 | 0.22 | XXX
99412 |  | N | Preventive counseling, group | +0.25 | 0.24 | 0.10 | 0.01 | 0.50 | 0.36 | XXX
99420 |  | N | Health risk assessment test | 0.00 | 0.00 | 0.00 | 0.00 | 0.00 | 0.00 | XXX
99429 |  | N | Unlisted preventive service | 0.00 | 0.00 | 0.00 | 0.00 | 0.00 | 0.00 | XXX
99431 |  | A | Initial care, normal newborn | 1.17 | NA | 0.39 | 0.04 | NA | 1.60 | XXX
99432 |  | A | Newborn care, not in hosp | 1.26 | 1.12 | 0.50 | 0.06 | 2.44 | 1.82 | XXX
99433 |  | A | Normal newborn care/hospital | 0.62 | NA | 0.21 | 0.02 | NA | 0.85 | XXX
99435 |  | A | Newborn discharge day hosp | 1.50 | NA | 0.54 | 0.05 | NA | 2.09 | XXX
99436 |  | A | Attendance, birth | 1.50 | 0.50 | 0.50 | 0.05 | 2.05 | 2.05 | XXX
99440 |  | A | Newborn resuscitation | 2.93 | NA | 1.17 | 0.11 | NA | 4.21 | XXX
99450 |  | N | Life/disability evaluation | 0.00 | 0.00 | 0.00 | 0.00 | 0.00 | 0.00 | XXX
99455 |  | R | Disability examination | 0.00 | 0.00 | 0.00 | 0.00 | 0.00 | 0.00 | XXX
99456 |  | R | Disability examination | 0.00 | 0.00 | 0.00 | 0.00 | 0.00 | 0.00 | XXX
99499 |  | C | Unlisted e&m service | 0.00 | 0.00 | 0.00 | 0.00 | 0.00 | 0.00 | XXX
99500 |  | I | Home visit, prenatal | 0.00 | 0.00 | 0.00 | 0.00 | 0.00 | 0.00 | XXX
99501 |  | I | Home visit, postnatal | 0.00 | 0.00 | 0.00 | 0.00 | 0.00 | 0.00 | XXX
99502 |  | I | Home visit, nb care | 0.00 | 0.00 | 0.00 | 0.00 | 0.00 | 0.00 | XXX
99503 |  | I | Home visit, resp therapy | 0.00 | 0.00 | 0.00 | 0.00 | 0.00 | 0.00 | XXX
99504 |  | I | Home visit, mech ventilator | 0.00 | 0.00 | 0.00 | 0.00 | 0.00 | 0.00 | XXX
99505 |  | I | Home visit, stoma care | 0.00 | 0.00 | 0.00 | 0.00 | 0.00 | 0.00 | XXX
99506 |  | I | Home visit, im injection | 0.00 | 0.00 | 0.00 | 0.00 | 0.00 | 0.00 | XXX
99507 |  | I | Home visit, cath maintain | 0.00 | 0.00 | 0.00 | 0.00 | 0.00 | 0.00 | XXX
99508 |  | I | Home visit, sleep studies | 0.00 | 0.00 | 0.00 | 0.00 | 0.00 | 0.00 | XXX
99509 |  | I | Home visit, day life activity | 0.00 | 0.00 | 0.00 | 0.00 | 0.00 | 0.00 | XXX
99510 |  | I | Home visit, sing/m/fam couns | 0.00 | 0.00 | 0.00 | 0.00 | 0.00 | 0.00 | XXX
99511 |  | I | Home visit, fecal/enema mgmt | 0.00 | 0.00 | 0.00 | 0.00 | 0.00 | 0.00 | XXX
99512 |  | I | Home visit, hemodialysis | 0.00 | 0.00 | 0.00 | 0.00 | 0.00 | 0.00 | XXX
99539 |  | I | Home visit, nos | 0.00 | 0.00 | 0.00 | 0.00 | 0.00 | 0.00 | XXX
99551 |  | I | Home infuse, pain mgmt, iv/sc | 0.00 | 0.00 | 0.00 | 0.00 | 0.00 | 0.00 | XXX
99552 |  | I | Home infuse pain mgmt, epid/ith | 0.00 | 0.00 | 0.00 | 0.00 | 0.00 | 0.00 | XXX
99553 |  | I | Home infuse, tocolytic tx | 0.00 | 0.00 | 0.00 | 0.00 | 0.00 | 0.00 | XXX
99554 |  | I | Home infuse, hormone/platelet | 0.00 | 0.00 | 0.00 | 0.00 | 0.00 | 0.00 | XXX
99555 |  | I | Home infuse, chemotheraphy | 0.00 | 0.00 | 0.00 | 0.00 | 0.00 | 0.00 | XXX
99556 |  | I | Home infuse, antibio/fung/vir | 0.00 | 0.00 | 0.00 | 0.00 | 0.00 | 0.00 | XXX
99557 |  | I | Home infuse, anticoagulant | 0.00 | 0.00 | 0.00 | 0.00 | 0.00 | 0.00 | XXX
99558 |  | I | Home infuse, immunotherapy | 0.00 | 0.00 | 0.00 | 0.00 | 0.00 | 0.00 | XXX
99559 |  | I | Home infuse, periton dialysis | 0.00 | 0.00 | 0.00 | 0.00 | 0.00 | 0.00 | XXX
99560 |  | I | Home infuse, entero nutrition | 0.00 | 0.00 | 0.00 | 0.00 | 0.00 | 0.00 | XXX
99561 |  | I | Home infuse, hydration tx | 0.00 | 0.00 | 0.00 | 0.00 | 0.00 | 0.00 | XXX
99562 |  | I | Home infuse, parent nutrition | 0.00 | 0.00 | 0.00 | 0.00 | 0.00 | 0.00 | XXX
99563 |  | I | Home admin, pentamidine | 0.00 | 0.00 | 0.00 | 0.00 | 0.00 | 0.00 | XXX
99564 |  | I | Home infuse, antihemophil agnt | 0.00 | 0.00 | 0.00 | 0.00 | 0.00 | 0.00 | XXX
99565 |  | I | Home infuse, proteinase inhib | 0.00 | 0.00 | 0.00 | 0.00 | 0.00 | 0.00 | XXX
99566 |  | I | Home infuse, iv therapy | 0.00 | 0.00 | 0.00 | 0.00 | 0.00 | 0.00 | XXX
99567 |  | I | Home infuse, sympath agent | 0.00 | 0.00 | 0.00 | 0.00 | 0.00 | 0.00 | XXX
99568 |  | I | Home infuse, misc drug, daily | 0.00 | 0.00 | 0.00 | 0.00 | 0.00 | 0.00 | XXX
99569 |  | I | Home infuse, each addl tx | 0.00 | 0.00 | 0.00 | 0.00 | 0.00 | 0.00 | XXX
A0021 |  | I | Outside state ambulance serv | 0.00 | 0.00 | 0.00 | 0.00 | 0.00 | 0.00 | XXX
A0080 |  | I | Noninterest escort in non er | 0.00 | 0.00 | 0.00 | 0.00 | 0.00 | 0.00 | XXX
A0090 |  | I | Interest escort in non er | 0.00 | 0.00 | 0.00 | 0.00 | 0.00 | 0.00 | XXX
A0100 |  | I | Nonemergency transport taxi | 0.00 | 0.00 | 0.00 | 0.00 | 0.00 | 0.00 | XXX
A0110 |  | I | Nonemergency transport bus | 0.00 | 0.00 | 0.00 | 0.00 | 0.00 | 0.00 | XXX
A0120 |  | I | Noner transport mini-bus | 0.00 | 0.00 | 0.00 | 0.00 | 0.00 | 0.00 | XXX
A0130 |  | I | Noner transport wheelch van | 0.00 | 0.00 | 0.00 | 0.00 | 0.00 | 0.00 | XXX
A0140 |  | I | Nonemergency transport air | 0.00 | 0.00 | 0.00 | 0.00 | 0.00 | 0.00 | XXX
A0160 |  | I | Noner transport case worker | 0.00 | 0.00 | 0.00 | 0.00 | 0.00 | 0.00 | XXX
A0170 |  | I | Noner transport parking fees | 0.00 | 0.00 | 0.00 | 0.00 | 0.00 | 0.00 | XXX
A0180 |  | I | Noner transport lodgng recip | 0.00 | 0.00 | 0.00 | 0.00 | 0.00 | 0.00 | XXX
A0190 |  | I | Noner transport meals recip | 0.00 | 0.00 | 0.00 | 0.00 | 0.00 | 0.00 | XXX
A0200 |  | I | Noner transport lodgng escrt | 0.00 | 0.00 | 0.00 | 0.00 | 0.00 | 0.00 | XXX
A0210 |  | I | Noner transport meals escort | 0.00 | 0.00 | 0.00 | 0.00 | 0.00 | 0.00 | XXX
A0380 |  | X | Basic life support mileage | 0.00 | 0.00 | 0.00 | 0.00 | 0.00 | 0.00 | XXX
A0382 |  | X | Basic support routine suppls | 0.00 | 0.00 | 0.00 | 0.00 | 0.00 | 0.00 | XXX
A0384 |  | X | Bls defibrillation supplies | 0.00 | 0.00 | 0.00 | 0.00 | 0.00 | 0.00 | XXX
A0390 |  | X | Advanced life support mileag | 0.00 | 0.00 | 0.00 | 0.00 | 0.00 | 0.00 | XXX
A0392 |  | X | Als defibrillation supplies | 0.00 | 0.00 | 0.00 | 0.00 | 0.00 | 0.00 | XXX
A0394 |  | X | Als IV drug therapy supplies | 0.00 | 0.00 | 0.00 | 0.00 | 0.00 | 0.00 | XXX
A0396 |  | X | Als esophageal intub suppls | 0.00 | 0.00 | 0.00 | 0.00 | 0.00 | 0.00 | XXX
A0398 |  | X | Als routine disposble suppls | 0.00 | 0.00 | 0.00 | 0.00 | 0.00 | 0.00 | XXX
A0420 |  | X | Ambulance waiting ½ hr | 0.00 | 0.00 | 0.00 | 0.00 | 0.00 | 0.00 | XXX
A0422 |  | X | Ambulance 02 life sustaining | 0.00 | 0.00 | 0.00 | 0.00 | 0.00 | 0.00 | XXX
A0424 |  | X | Extra ambulance attendant | 0.00 | 0.00 | 0.00 | 0.00 | 0.00 | 0.00 | XXX
A0425 |  | X | Ground mileage | 0.00 | 0.00 | 0.00 | 0.00 | 0.00 | 0.00 | XXX
A0426 |  | X | Als 1 | 0.00 | 0.00 | 0.00 | 0.00 | 0.00 | 0.00 | XXX
A0427 |  | X | ALS1-emergency | 0.00 | 0.00 | 0.00 | 0.00 | 0.00 | 0.00 | XXX
A0428 |  | X | bls | 0.00 | 0.00 | 0.00 | 0.00 | 0.00 | 0.00 | XXX
A0429 |  | X | BLS-emergency | 0.00 | 0.00 | 0.00 | 0.00 | 0.00 | 0.00 | XXX
A0430 |  | X | Fixed wing air transport | 0.00 | 0.00 | 0.00 | 0.00 | 0.00 | 0.00 | XXX
A0431 |  | X | Rotary wing air transport | 0.00 | 0.00 | 0.00 | 0.00 | 0.00 | 0.00 | XXX
A0432 |  | X | PI volunteer ambulance co | 0.00 | 0.00 | 0.00 | 0.00 | 0.00 | 0.00 | XXX
A0433 |  | X | als 2 | 0.00 | 0.00 | 0.00 | 0.00 | 0.00 | 0.00 | XXX
A0434 |  | X | Specialty care transport | 0.00 | 0.00 | 0.00 | 0.00 | 0.00 | 0.00 | XXX
A0435 |  | X | Fixed wing air mileage | 0.00 | 0.00 | 0.00 | 0.00 | 0.00 | 0.00 | XXX
A0436 |  | X | Rotary wing air mileage | 0.00 | 0.00 | 0.00 | 0.00 | 0.00 | 0.00 | XXX
A0888 |  | N | Noncovered ambulance mileage | 0.00 | 0.00 | 0.00 | 0.00 | 0.00 | 0.00 | XXX
A0999 |  | X | Unlisted ambulance service | 0.00 | 0.00 | 0.00 | 0.00 | 0.00 | 0.00 | XXX
A4206 |  | I | 1 CC sterile syringe&needle | 0.00 | 0.00 | 0.00 | 0.00 | 0.00 | 0.00 | XXX
A4207 |  | I | 2 CC sterile syringe&needle | 0.00 | 0.00 | 0.00 | 0.00 | 0.00 | 0.00 | XXX
A4208 |  | I | 3 CC sterile syringe&needle | 0.00 | 0.00 | 0.00 | 0.00 | 0.00 | 0.00 | XXX
A4209 |  | I | 5+ CC sterile syringe&needle | 0.00 | 0.00 | 0.00 | 0.00 | 0.00 | 0.00 | XXX
A4210 |  | N | Nonneedle injection device | 0.00 | 0.00 | 0.00 | 0.00 | 0.00 | 0.00 | XXX
A4211 |  | P | Supp for self-adm injections | 0.00 | 0.00 | 0.00 | 0.00 | 0.00 | 0.00 | XXX
A4212 |  | P | Non coring needle or stylet | 0.00 | 0.00 | 0.00 | 0.00 | 0.00 | 0.00 | XXX
A4213 |  | I | 20+ CC syringe only | 0.00 | 0.00 | 0.00 | 0.00 | 0.00 | 0.00 | XXX
A4214 |  | P | 30 CC sterile water/saline | 0.00 | 0.00 | 0.00 | 0.00 | 0.00 | 0.00 | XXX
A4215 |  | I | Sterile needle | 0.00 | 0.00 | 0.00 | 0.00 | 0.00 | 0.00 | XXX
A4220 |  | P | Infusion pump refill kit | 0.00 | 0.00 | 0.00 | 0.00 | 0.00 | 0.00 | XXX
A4221 |  | X | Maint drug infus cath per wk | 0.00 | 0.00 | 0.00 | 0.00 | 0.00 | 0.00 | XXX
A4222 |  | X | Drug infusion pump supplies | 0.00 | 0.00 | 0.00 | 0.00 | 0.00 | 0.00 | XXX
A4230 |  | X | Infus insulin pump non needl | 0.00 | 0.00 | 0.00 | 0.00 | 0.00 | 0.00 | XXX
A4231 |  | X | Infusion insulin pump needle | 0.00 | 0.00 | 0.00 | 0.00 | 0.00 | 0.00 | XXX
A4232 |  | X | Syringe w/needle insulin 3cc | 0.00 | 0.00 | 0.00 | 0.00 | 0.00 | 0.00 | XXX
A4244 |  | I | Alcohol or peroxide per pint | 0.00 | 0.00 | 0.00 | 0.00 | 0.00 | 0.00 | XXX
A4245 |  | I | Alcohol wipes per box | 0.00 | 0.00 | 0.00 | 0.00 | 0.00 | 0.00 | XXX
A4246 |  | I | Betadine/phisohex solution | 0.00 | 0.00 | 0.00 | 0.00 | 0.00 | 0.00 | XXX
A4247 |  | I | Betadine/iodine swabs/wipes | 0.00 | 0.00 | 0.00 | 0.00 | 0.00 | 0.00 | XXX
A4250 |  | N | Urine reagent strips/tablets | 0.00 | 0.00 | 0.00 | 0.00 | 0.00 | 0.00 | XXX
A4253 |  | P | Blood glucose/reagent strips | 0.00 | 0.00 | 0.00 | 0.00 | 0.00 | 0.00 | XXX
A4254 |  | X | Battery for glucose monitor | 0.00 | 0.00 | 0.00 | 0.00 | 0.00 | 0.00 | XXX
A4255 |  | X | Glucose monitor platforms | 0.00 | 0.00 | 0.00 | 0.00 | 0.00 | 0.00 | XXX
A4256 |  | P | Calibrator solution/chips | 0.00 | 0.00 | 0.00 | 0.00 | 0.00 | 0.00 | XXX
A4257 |  | X | Replace Lensshield Cartridge | 0.00 | 0.00 | 0.00 | 0.00 | 0.00 | 0.00 | XXX
A4258 |  | P | Lancet device each | 0.00 | 0.00 | 0.00 | 0.00 | 0.00 | 0.00 | XXX
A4259 |  | P | Lancets per box | 0.00 | 0.00 | 0.00 | 0.00 | 0.00 | 0.00 | XXX
A4260 |  | N | Levonorgestrel implant | 0.00 | 0.00 | 0.00 | 0.00 | 0.00 | 0.00 | XXX
A4261 |  | N | Cervical cap contraceptive | 0.00 | 0.00 | 0.00 | 0.00 | 0.00 | 0.00 | XXX
A4262 |  | B | Temporary tear duct plug | 0.00 | 0.00 | 0.00 | 0.00 | 0.00 | 0.00 | XXX
A4263 |  | I | Permanent tear duct plug | 0.00 | 0.00 | 0.00 | 0.00 | 0.00 | 0.00 | XXX
A4265 |  | P | Paraffin | 0.00 | 0.00 | 0.00 | 0.00 | 0.00 | 0.00 | XXX
A4270 |  | B | Disposable endoscope sheath | 0.00 | 0.00 | 0.00 | 0.00 | 0.00 | 0.00 | XXX
A4280 |  | X | Brst prsths adhsv attchmnt | 0.00 | 0.00 | 0.00 | 0.00 | 0.00 | 0.00 | XXX
A4290 |  | X | Sacral nerve stim test lead | 0.00 | 0.00 | 0.00 | 0.00 | 0.00 | 0.00 | XXX
A4300 |  | B | Cath impl vasc access portal | 0.00 | 0.00 | 0.00 | 0.00 | 0.00 | 0.00 | XXX
A4301 |  | P | Implantable access syst perc | 0.00 | 0.00 | 0.00 | 0.00 | 0.00 | 0.00 | XXX
A4305 |  | P | Drug delivery system >=50 ML | 0.00 | 0.00 | 0.00 | 0.00 | 0.00 | 0.00 | XXX
A4306 |  | P | Drug delivery system <=5 ML | 0.00 | 0.00 | 0.00 | 0.00 | 0.00 | 0.00 | XXX
A4310 |  | P | Insert tray w/o bag/cath | 0.00 | 0.00 | 0.00 | 0.00 | 0.00 | 0.00 | XXX
A4311 |  | P | Catheter w/o bag 2-way latex | 0.00 | 0.00 | 0.00 | 0.00 | 0.00 | 0.00 | XXX
A4312 |  | P | Cath w/o bag 2-way silicone | 0.00 | 0.00 | 0.00 | 0.00 | 0.00 | 0.00 | XXX
A4313 |  | P | Catheter w/bag 3-way | 0.00 | 0.00 | 0.00 | 0.00 | 0.00 | 0.00 | XXX
A4314 |  | P | Cath w/drainage 2-way latex | 0.00 | 0.00 | 0.00 | 0.00 | 0.00 | 0.00 | XXX
A4315 |  | P | Cath w/drainage 2-way silcne | 0.00 | 0.00 | 0.00 | 0.00 | 0.00 | 0.00 | XXX
A4316 |  | P | Cath w/drainage 3-way | 0.00 | 0.00 | 0.00 | 0.00 | 0.00 | 0.00 | XXX
A4319 |  | X | Sterile H2O irrigation solut | 0.00 | 0.00 | 0.00 | 0.00 | 0.00 | 0.00 | XXX
A4320 |  | P | Irrigation tray | 0.00 | 0.00 | 0.00 | 0.00 | 0.00 | 0.00 | XXX
A4321 |  | X | Cath therapeutic irrig agent | 0.00 | 0.00 | 0.00 | 0.00 | 0.00 | 0.00 | XXX
A4322 |  | P | Irrigation syringe | 0.00 | 0.00 | 0.00 | 0.00 | 0.00 | 0.00 | XXX
A4323 |  | P | Saline irrigation solution | 0.00 | 0.00 | 0.00 | 0.00 | 0.00 | 0.00 | XXX
A4324 |  | X | Male ext cath w/adh coating | 0.00 | 0.00 | 0.00 | 0.00 | 0.00 | 0.00 | XXX
A4325 |  | X | Male ext cath w/adh strip | 0.00 | 0.00 | 0.00 | 0.00 | 0.00 | 0.00 | XXX
A4326 |  | P | Male external catheter | 0.00 | 0.00 | 0.00 | 0.00 | 0.00 | 0.00 | XXX
A4327 |  | P | Fem urinary collect dev cup | 0.00 | 0.00 | 0.00 | 0.00 | 0.00 | 0.00 | XXX
A4328 |  | P | Fem urinary collect pouch | 0.00 | 0.00 | 0.00 | 0.00 | 0.00 | 0.00 | XXX
A4329 |  | D | External catheter start set | 0.00 | 0.00 | 0.00 | 0.00 | 0.00 | 0.00 | XXX
A4330 |  | P | Stool collection pouch | 0.00 | 0.00 | 0.00 | 0.00 | 0.00 | 0.00 | XXX
A4331 |  | X | Extension drainage tubing | 0.00 | 0.00 | 0.00 | 0.00 | 0.00 | 0.00 | XXX
A4332 |  | X | Lubricant for cath insertion | 0.00 | 0.00 | 0.00 | 0.00 | 0.00 | 0.00 | XXX
A4333 |  | X | Urinary cath anchor device | 0.00 | 0.00 | 0.00 | 0.00 | 0.00 | 0.00 | XXX
A4334 |  | X | Urinary cath leg strap | 0.00 | 0.00 | 0.00 | 0.00 | 0.00 | 0.00 | XXX
A4335 |  | P | Incontinence supply | 0.00 | 0.00 | 0.00 | 0.00 | 0.00 | 0.00 | XXX
A4338 |  | P | Indwelling catheter latex | 0.00 | 0.00 | 0.00 | 0.00 | 0.00 | 0.00 | XXX
A4340 |  | P | Indwelling catheter special | 0.00 | 0.00 | 0.00 | 0.00 | 0.00 | 0.00 | XXX
A4344 |  | P | Cath indw foley 2 way silicn | 0.00 | 0.00 | 0.00 | 0.00 | 0.00 | 0.00 | XXX
A4346 |  | P | Cath indw foley 3 way | 0.00 | 0.00 | 0.00 | 0.00 | 0.00 | 0.00 | XXX
A4347 |  | P | Male external catheter | 0.00 | 0.00 | 0.00 | 0.00 | 0.00 | 0.00 | XXX
A4348 |  | X | Male ext cath extended wear | 0.00 | 0.00 | 0.00 | 0.00 | 0.00 | 0.00 | XXX
A4351 |  | P | Straight tip urine catheter | 0.00 | 0.00 | 0.00 | 0.00 | 0.00 | 0.00 | XXX
A4352 |  | P | Coude tip urinary catheter | 0.00 | 0.00 | 0.00 | 0.00 | 0.00 | 0.00 | XXX
A4353 |  | X | Intermittent urinary cath | 0.00 | 0.00 | 0.00 | 0.00 | 0.00 | 0.00 | XXX
A4354 |  | P | Cath insertion tray w/bag | 0.00 | 0.00 | 0.00 | 0.00 | 0.00 | 0.00 | XXX
A4355 |  | P | Bladder irrigation tubing | 0.00 | 0.00 | 0.00 | 0.00 | 0.00 | 0.00 | XXX
A4356 |  | P | Ext ureth clmp or compr dvc | 0.00 | 0.00 | 0.00 | 0.00 | 0.00 | 0.00 | XXX
A4357 |  | P | Bedside drainage bag | 0.00 | 0.00 | 0.00 | 0.00 | 0.00 | 0.00 | XXX
A4358 |  | P | Urinary leg or abdomen bag | 0.00 | 0.00 | 0.00 | 0.00 | 0.00 | 0.00 | XXX
A4359 |  | P | Urinary suspensory w/o leg b | 0.00 | 0.00 | 0.00 | 0.00 | 0.00 | 0.00 | XXX
A4360 |  | N | Adult incontinence garment | 0.00 | 0.00 | 0.00 | 0.00 | 0.00 | 0.00 | XXX
A4361 |  | P | Ostomy face plate | 0.00 | 0.00 | 0.00 | 0.00 | 0.00 | 0.00 | XXX
A4362 |  | P | Solid skin barrier | 0.00 | 0.00 | 0.00 | 0.00 | 0.00 | 0.00 | XXX
A4364 |  | P | Adhesive, liquid or equal | 0.00 | 0.00 | 0.00 | 0.00 | 0.00 | 0.00 | XXX
A4365 |  | X | Adhesive remover wipes | 0.00 | 0.00 | 0.00 | 0.00 | 0.00 | 0.00 | XXX
A4367 |  | P | Ostomy belt | 0.00 | 0.00 | 0.00 | 0.00 | 0.00 | 0.00 | XXX
A4368 |  | X | Ostomy filter | 0.00 | 0.00 | 0.00 | 0.00 | 0.00 | 0.00 | XXX
A4369 |  | X | Skin barrier liquid per oz | 0.00 | 0.00 | 0.00 | 0.00 | 0.00 | 0.00 | XXX
A4370 |  | X | Skin barrier paste per oz | 0.00 | 0.00 | 0.00 | 0.00 | 0.00 | 0.00 | XXX
A4371 |  | X | Skin barrier powder per oz | 0.00 | 0.00 | 0.00 | 0.00 | 0.00 | 0.00 | XXX
A4372 |  | X | Skin barrier solid 4x4 equiv | 0.00 | 0.00 | 0.00 | 0.00 | 0.00 | 0.00 | XXX
A4373 |  | X | Skin barrier with flange | 0.00 | 0.00 | 0.00 | 0.00 | 0.00 | 0.00 | XXX
A4374 |  | X | Skin barrier extended wear | 0.00 | 0.00 | 0.00 | 0.00 | 0.00 | 0.00 | XXX
A4375 |  | X | Drainable plastic pch w fcpl | 0.00 | 0.00 | 0.00 | 0.00 | 0.00 | 0.00 | XXX
A4376 |  | X | Drainable rubber pch w fcplt | 0.00 | 0.00 | 0.00 | 0.00 | 0.00 | 0.00 | XXX
A4377 |  | X | Drainable plstic pch w/o fp | 0.00 | 0.00 | 0.00 | 0.00 | 0.00 | 0.00 | XXX
A4378 |  | X | Drainable rubber pch w/o fp | 0.00 | 0.00 | 0.00 | 0.00 | 0.00 | 0.00 | XXX
A4379 |  | X | Urinary plastic pouch w fcpl | 0.00 | 0.00 | 0.00 | 0.00 | 0.00 | 0.00 | XXX
A4380 |  | X | Urinary rubber pouch w fcplt | 0.00 | 0.00 | 0.00 | 0.00 | 0.00 | 0.00 | XXX
A4381 |  | X | Urinary plastic pouch w/o fp | 0.00 | 0.00 | 0.00 | 0.00 | 0.00 | 0.00 | XXX
A4382 |  | X | Urinary hvy plstc pch w/o fp | 0.00 | 0.00 | 0.00 | 0.00 | 0.00 | 0.00 | XXX
A4383 |  | X | Urinary rubber pouch w/o fp | 0.00 | 0.00 | 0.00 | 0.00 | 0.00 | 0.00 | XXX
A4384 |  | X | Ostomy faceplt/silicone ring | 0.00 | 0.00 | 0.00 | 0.00 | 0.00 | 0.00 | XXX
A4385 |  | X | Ost skn barrier sld ext wear | 0.00 | 0.00 | 0.00 | 0.00 | 0.00 | 0.00 | XXX
A4386 |  | X | Ost skn barrier w flng ex wr | 0.00 | 0.00 | 0.00 | 0.00 | 0.00 | 0.00 | XXX
A4387 |  | X | Ost clsd pouch w att st barr | 0.00 | 0.00 | 0.00 | 0.00 | 0.00 | 0.00 | XXX
A4388 |  | X | Drainable pch w ex wear barr | 0.00 | 0.00 | 0.00 | 0.00 | 0.00 | 0.00 | XXX
A4389 |  | X | Drainable pch w st wear barr | 0.00 | 0.00 | 0.00 | 0.00 | 0.00 | 0.00 | XXX
A4390 |  | X | Drainable pch ex wear convex | 0.00 | 0.00 | 0.00 | 0.00 | 0.00 | 0.00 | XXX
A4391 |  | X | Urinary pouch w ex wear barr | 0.00 | 0.00 | 0.00 | 0.00 | 0.00 | 0.00 | XXX
A4392 |  | X | Urinary pouch w st wear barr | 0.00 | 0.00 | 0.00 | 0.00 | 0.00 | 0.00 | XXX
A4393 |  | X | Urine pch w ex wear bar conv | 0.00 | 0.00 | 0.00 | 0.00 | 0.00 | 0.00 | XXX
A4394 |  | X | Ostomy pouch liq deodorant | 0.00 | 0.00 | 0.00 | 0.00 | 0.00 | 0.00 | XXX
A4395 |  | X | Ostomy pouch solid deodorant | 0.00 | 0.00 | 0.00 | 0.00 | 0.00 | 0.00 | XXX
A4396 |  | X | Peristomal hernia supprt blt | 0.00 | 0.00 | 0.00 | 0.00 | 0.00 | 0.00 | XXX
A4397 |  | P | Irrigation supply sleeve | 0.00 | 0.00 | 0.00 | 0.00 | 0.00 | 0.00 | XXX
A4398 |  | P | Ostomy irrigation bag | 0.00 | 0.00 | 0.00 | 0.00 | 0.00 | 0.00 | XXX
A4399 |  | P | Ostomy irrig cone/cath w brs | 0.00 | 0.00 | 0.00 | 0.00 | 0.00 | 0.00 | XXX
A4400 |  | P | Ostomy irrigation set | 0.00 | 0.00 | 0.00 | 0.00 | 0.00 | 0.00 | XXX
A4402 |  | P | Lubricant per ounce | 0.00 | 0.00 | 0.00 | 0.00 | 0.00 | 0.00 | XXX
A4404 |  | P | Ostomy ring each | 0.00 | 0.00 | 0.00 | 0.00 | 0.00 | 0.00 | XXX
A4421 |  | P | Ostomy supply misc | 0.00 | 0.00 | 0.00 | 0.00 | 0.00 | 0.00 | XXX
A4454 |  | P | Tape all types all sizes | 0.00 | 0.00 | 0.00 | 0.00 | 0.00 | 0.00 | XXX
A4455 |  | P | Adhesive remover per ounce | 0.00 | 0.00 | 0.00 | 0.00 | 0.00 | 0.00 | XXX
A4460 |  | P | Elastic compression bandage | 0.00 | 0.00 | 0.00 | 0.00 | 0.00 | 0.00 | XXX
A4462 |  | X | Abdmnl drssng holder/binder | 0.00 | 0.00 | 0.00 | 0.00 | 0.00 | 0.00 | XXX
A4464 |  | N | Joint support device/garment | 0.00 | 0.00 | 0.00 | 0.00 | 0.00 | 0.00 | XXX
A4465 |  | P | Non-elastic extremity binder | 0.00 | 0.00 | 0.00 | 0.00 | 0.00 | 0.00 | XXX
A4470 |  | P | Gravlee jet washer | 0.00 | 0.00 | 0.00 | 0.00 | 0.00 | 0.00 | XXX
A4480 |  | P | Vabra aspirator | 0.00 | 0.00 | 0.00 | 0.00 | 0.00 | 0.00 | XXX
A4481 |  | X | Tracheostoma filter | 0.00 | 0.00 | 0.00 | 0.00 | 0.00 | 0.00 | XXX
A4483 |  | X | Moisture exchanger | 0.00 | 0.00 | 0.00 | 0.00 | 0.00 | 0.00 | XXX
A4490 |  | N | Above knee surgical stocking | 0.00 | 0.00 | 0.00 | 0.00 | 0.00 | 0.00 | XXX
A4495 |  | N | Thigh length surg stocking | 0.00 | 0.00 | 0.00 | 0.00 | 0.00 | 0.00 | XXX
A4500 |  | N | Below knee surgical stocking | 0.00 | 0.00 | 0.00 | 0.00 | 0.00 | 0.00 | XXX
A4510 |  | N | Full length surg stocking | 0.00 | 0.00 | 0.00 | 0.00 | 0.00 | 0.00 | XXX
A4550 |  | I | Surgical trays | 0.00 | 0.00 | 0.00 | 0.00 | 0.00 | 0.00 | XXX
A4554 |  | N | Disposable underpads | 0.00 | 0.00 | 0.00 | 0.00 | 0.00 | 0.00 | XXX
A4556 |  | P | Electrodes, pair | 0.00 | 0.00 | 0.00 | 0.00 | 0.00 | 0.00 | XXX
A4557 |  | P | Lead wires, pair | 0.00 | 0.00 | 0.00 | 0.00 | 0.00 | 0.00 | XXX
A4558 |  | P | Conductive paste or gel | 0.00 | 0.00 | 0.00 | 0.00 | 0.00 | 0.00 | XXX
A4561 |  | X | Pessary rubber, any type | 0.00 | 0.00 | 0.00 | 0.00 | 0.00 | 0.00 | XXX
A4562 |  | X | Pessary, non rubber, any type | 0.00 | 0.00 | 0.00 | 0.00 | 0.00 | 0.00 | XXX
A4565 |  | X | Slings | 0.00 | 0.00 | 0.00 | 0.00 | 0.00 | 0.00 | XXX
A4570 |  | I | Splint | 0.00 | 0.00 | 0.00 | 0.00 | 0.00 | 0.00 | XXX
A4572 |  | X | Rib belt | 0.00 | 0.00 | 0.00 | 0.00 | 0.00 | 0.00 | XXX
A4575 |  | N | Hyperbaric o2 chamber disps | 0.00 | 0.00 | 0.00 | 0.00 | 0.00 | 0.00 | XXX
A4580 |  | I | Cast supplies (plaster) | 0.00 | 0.00 | 0.00 | 0.00 | 0.00 | 0.00 | XXX
A4590 |  | I | Special casting material | 0.00 | 0.00 | 0.00 | 0.00 | 0.00 | 0.00 | XXX
A4595 |  | X | TENS suppl 2 lead per month | 0.00 | 0.00 | 0.00 | 0.00 | 0.00 | 0.00 | XXX
A4608 |  | X | Transtracheal oxygen cath | 0.00 | 0.00 | 0.00 | 0.00 | 0.00 | 0.00 | XXX
A4611 |  | X | Heavy duty battery | 0.00 | 0.00 | 0.00 | 0.00 | 0.00 | 0.00 | XXX
A4612 |  | X | Battery cables | 0.00 | 0.00 | 0.00 | 0.00 | 0.00 | 0.00 | XXX
A4613 |  | X | Battery charger | 0.00 | 0.00 | 0.00 | 0.00 | 0.00 | 0.00 | XXX
A4614 |  | X | Hand-held PEFR meter | 0.00 | 0.00 | 0.00 | 0.00 | 0.00 | 0.00 | XXX
A4615 |  | X | Cannula nasal | 0.00 | 0.00 | 0.00 | 0.00 | 0.00 | 0.00 | XXX
A4616 |  | X | Tubing (oxygen) per foot | 0.00 | 0.00 | 0.00 | 0.00 | 0.00 | 0.00 | XXX
A4617 |  | X | Mouth piece | 0.00 | 0.00 | 0.00 | 0.00 | 0.00 | 0.00 | XXX
A4618 |  | X | Breathing circuits | 0.00 | 0.00 | 0.00 | 0.00 | 0.00 | 0.00 | XXX
A4619 |  | X | Face tent | 0.00 | 0.00 | 0.00 | 0.00 | 0.00 | 0.00 | XXX
A4620 |  | X | Variable concentration mask | 0.00 | 0.00 | 0.00 | 0.00 | 0.00 | 0.00 | XXX
A4621 |  | X | Tracheotomy mask or collar | 0.00 | 0.00 | 0.00 | 0.00 | 0.00 | 0.00 | XXX
A4622 |  | X | Tracheostomy or larngectomy | 0.00 | 0.00 | 0.00 | 0.00 | 0.00 | 0.00 | XXX
A4623 |  | X | Tracheostomy inner cannula | 0.00 | 0.00 | 0.00 | 0.00 | 0.00 | 0.00 | XXX
A4624 |  | X | Tracheal suction tube | 0.00 | 0.00 | 0.00 | 0.00 | 0.00 | 0.00 | XXX
A4625 |  | X | Trach care kit for new trach | 0.00 | 0.00 | 0.00 | 0.00 | 0.00 | 0.00 | XXX
A4626 |  | X | Tracheostomy cleaning brush | 0.00 | 0.00 | 0.00 | 0.00 | 0.00 | 0.00 | XXX
A4627 |  | N | Spacer bag/reservoir | 0.00 | 0.00 | 0.00 | 0.00 | 0.00 | 0.00 | XXX
A4628 |  | X | Oropharyngeal suction cath | 0.00 | 0.00 | 0.00 | 0.00 | 0.00 | 0.00 | XXX
A4629 |  | X | Tracheostomy care kit | 0.00 | 0.00 | 0.00 | 0.00 | 0.00 | 0.00 | XXX
A4630 |  | X | Repl bat t.e.n.s. own by pt | 0.00 | 0.00 | 0.00 | 0.00 | 0.00 | 0.00 | XXX
A4631 |  | X | Wheelchair battery | 0.00 | 0.00 | 0.00 | 0.00 | 0.00 | 0.00 | XXX
A4635 |  | X | Underarm crutch pad | 0.00 | 0.00 | 0.00 | 0.00 | 0.00 | 0.00 | XXX
A4636 |  | X | Handgrip for cane etc | 0.00 | 0.00 | 0.00 | 0.00 | 0.00 | 0.00 | XXX
A4637 |  | X | Repl tip cane/crutch/walker | 0.00 | 0.00 | 0.00 | 0.00 | 0.00 | 0.00 | XXX
A4640 |  | X | Alternating pressure pad | 0.00 | 0.00 | 0.00 | 0.00 | 0.00 | 0.00 | XXX
A4641 |  | E | Diagnostic imaging agent | 0.00 | 0.00 | 0.00 | 0.00 | 0.00 | 0.00 | XXX
A4642 |  | E | Satumomab pendetide per dose | 0.00 | 0.00 | 0.00 | 0.00 | 0.00 | 0.00 | XXX
A4643 |  | E | High dose contrast MRI | 0.00 | 0.00 | 0.00 | 0.00 | 0.00 | 0.00 | XXX
A4644 |  | E | Contrast 100-199 MGs iodine | 0.00 | 0.00 | 0.00 | 0.00 | 0.00 | 0.00 | XXX
A4645 |  | E | Contrast 200-299 MGs iodine | 0.00 | 0.00 | 0.00 | 0.00 | 0.00 | 0.00 | XXX
A4646 |  | E | Contrast 300-399 MGs iodine | 0.00 | 0.00 | 0.00 | 0.00 | 0.00 | 0.00 | XXX
A4647 |  | B | Supp- paramagnetic contr mat | 0.00 | 0.00 | 0.00 | 0.00 | 0.00 | 0.00 | XXX
A4649 |  | P | Surgical supplies | 0.00 | 0.00 | 0.00 | 0.00 | 0.00 | 0.00 | XXX
A4650 |  | D | Supp esrd centrifuge | 0.00 | 0.00 | 0.00 | 0.00 | 0.00 | 0.00 | XXX
A4651 |  | X | Calibrated microcap tube | 0.00 | 0.00 | 0.00 | 0.00 | 0.00 | 0.00 | XXX
A4652 |  | X | Microcapillary tube sealant | 0.00 | 0.00 | 0.00 | 0.00 | 0.00 | 0.00 | XXX
A4655 |  | D | Esrd syringe/needle | 0.00 | 0.00 | 0.00 | 0.00 | 0.00 | 0.00 | XXX
A4656 |  | X | Dialysis needle | 0.00 | 0.00 | 0.00 | 0.00 | 0.00 | 0.00 | XXX
A4657 |  | X | Dialysis syringe w/wo needle | 0.00 | 0.00 | 0.00 | 0.00 | 0.00 | 0.00 | XXX
A4660 |  | X | Sphyg/bp app w cuff and stet | 0.00 | 0.00 | 0.00 | 0.00 | 0.00 | 0.00 | XXX
A4663 |  | X | Dialysis blood pressure cuff | 0.00 | 0.00 | 0.00 | 0.00 | 0.00 | 0.00 | XXX
A4670 |  | N | Automatic bp monitor, dial | 0.00 | 0.00 | 0.00 | 0.00 | 0.00 | 0.00 | XXX
A4680 |  | X | Actificial carbon filter, ea | 0.00 | 0.00 | 0.00 | 0.00 | 0.00 | 0.00 | XXX
A4690 |  | X | Dialyzer, each | 0.00 | 0.00 | 0.00 | 0.00 | 0.00 | 0.00 | XXX
A4700 |  | D | Standard dialysate solution | 0.00 | 0.00 | 0.00 | 0.00 | 0.00 | 0.00 | XXX
A4705 |  | D | Bicarb dialysate solution | 0.00 | 0.00 | 0.00 | 0.00 | 0.00 | 0.00 | XXX
A4706 |  | X | Bicarbonate conc sol per gal | 0.00 | 0.00 | 0.00 | 0.00 | 0.00 | 0.00 | XXX
A4707 |  | X | Bicarbonate conc pow per pac | 0.00 | 0.00 | 0.00 | 0.00 | 0.00 | 0.00 | XXX
A4708 |  | X | Acetate conc sol per gallon | 0.00 | 0.00 | 0.00 | 0.00 | 0.00 | 0.00 | XXX
A4709 |  | X | Acid conc sol per gallon | 0.00 | 0.00 | 0.00 | 0.00 | 0.00 | 0.00 | XXX
A4712 |  | X | Sterile water inj per 10 ml | 0.00 | 0.00 | 0.00 | 0.00 | 0.00 | 0.00 | XXX
A4714 |  | X | Treated water per gallon | 0.00 | 0.00 | 0.00 | 0.00 | 0.00 | 0.00 | XXX
A4719 |  | X | “Y set” tubing | 0.00 | 0.00 | 0.00 | 0.00 | 0.00 | 0.00 | XXX
A4720 |  | X | Dialysat sol fld vol > 249cc | 0.00 | 0.00 | 0.00 | 0.00 | 0.00 | 0.00 | XXX
A4721 |  | X | Dialysat sol fld vol > 999cc | 0.00 | 0.00 | 0.00 | 0.00 | 0.00 | 0.00 | XXX
A4722 |  | X | Dialys sol fld vol > 1999cc | 0.00 | 0.00 | 0.00 | 0.00 | 0.00 | 0.00 | XXX
A4723 |  | X | Dialys sol fld vol > 2999cc | 0.00 | 0.00 | 0.00 | 0.00 | 0.00 | 0.00 | XXX
A4724 |  | X | Dialys sol fld vol > 3999cc | 0.00 | 0.00 | 0.00 | 0.00 | 0.00 | 0.00 | XXX
A4725 |  | X | Dialys sol fld vol > 4999cc | 0.00 | 0.00 | 0.00 | 0.00 | 0.00 | 0.00 | XXX
A4726 |  | X | Dialys sol fld vol > 5999cc | 0.00 | 0.00 | 0.00 | 0.00 | 0.00 | 0.00 | XXX
A4730 |  | X | Fistula cannulation set, ea | 0.00 | 0.00 | 0.00 | 0.00 | 0.00 | 0.00 | XXX
A4735 |  | D | Local/topical anesthetics | 0.00 | 0.00 | 0.00 | 0.00 | 0.00 | 0.00 | XXX
A4736 |  | X | Topical anesthetic, per gram | 0.00 | 0.00 | 0.00 | 0.00 | 0.00 | 0.00 | XXX
A4737 |  | X | Inj anesthetic per 10 ml | 0.00 | 0.00 | 0.00 | 0.00 | 0.00 | 0.00 | XXX
A4740 |  | X | Shunt accessory | 0.00 | 0.00 | 0.00 | 0.00 | 0.00 | 0.00 | XXX
A4750 |  | X | Art or venous blood tubing | 0.00 | 0.00 | 0.00 | 0.00 | 0.00 | 0.00 | XXX
A4755 |  | X | Comb art/venous blood tubing | 0.00 | 0.00 | 0.00 | 0.00 | 0.00 | 0.00 | XXX
A4760 |  | X | Dialysate sol test kit, each | 0.00 | 0.00 | 0.00 | 0.00 | 0.00 | 0.00 | XXX
A4765 |  | X | Dialysate conc pow per pack | 0.00 | 0.00 | 0.00 | 0.00 | 0.00 | 0.00 | XXX
A4766 |  | X | Dialysate conc sol add 10 ml | 0.00 | 0.00 | 0.00 | 0.00 | 0.00 | 0.00 | XXX
A4770 |  | X | Blood collection tube/vacuum | 0.00 | 0.00 | 0.00 | 0.00 | 0.00 | 0.00 | XXX
A4771 |  | X | Serum clotting time tube | 0.00 | 0.00 | 0.00 | 0.00 | 0.00 | 0.00 | XXX
A4772 |  | X | Blood glucose test strips | 0.00 | 0.00 | 0.00 | 0.00 | 0.00 | 0.00 | XXX
A4773 |  | X | Occult blood test strips | 0.00 | 0.00 | 0.00 | 0.00 | 0.00 | 0.00 | XXX
A4774 |  | X | Ammonia test strips | 0.00 | 0.00 | 0.00 | 0.00 | 0.00 | 0.00 | XXX
A4780 |  | D | Esrd sterilizing agent | 0.00 | 0.00 | 0.00 | 0.00 | 0.00 | 0.00 | XXX
A4790 |  | D | Esrd cleansing agents | 0.00 | 0.00 | 0.00 | 0.00 | 0.00 | 0.00 | XXX
A4800 |  | D | Heparin/antidote dialysis | 0.00 | 0.00 | 0.00 | 0.00 | 0.00 | 0.00 | XXX
A4801 |  | X | Heparin per 1000 units | 0.00 | 0.00 | 0.00 | 0.00 | 0.00 | 0.00 | XXX
A4802 |  | X | Protamine sulfate per 50 mg | 0.00 | 0.00 | 0.00 | 0.00 | 0.00 | 0.00 | XXX
A4820 |  | D | Supplies hemodialysis kit | 0.00 | 0.00 | 0.00 | 0.00 | 0.00 | 0.00 | XXX
A4850 |  | D | Rubber tipped hemostats | 0.00 | 0.00 | 0.00 | 0.00 | 0.00 | 0.00 | XXX
A4860 |  | X | Disposable catheter tips | 0.00 | 0.00 | 0.00 | 0.00 | 0.00 | 0.00 | XXX
A4870 |  | X | Plumb/elec wk hm hemo equip | 0.00 | 0.00 | 0.00 | 0.00 | 0.00 | 0.00 | XXX
A4880 |  | D | Water storage tanks | 0.00 | 0.00 | 0.00 | 0.00 | 0.00 | 0.00 | XXX
A4890 |  | R | Repair/maint cont hemo equip | 0.00 | 0.00 | 0.00 | 0.00 | 0.00 | 0.00 | XXX
A4900 |  | D | Capd supply kit | 0.00 | 0.00 | 0.00 | 0.00 | 0.00 | 0.00 | XXX
A4901 |  | D | Ccpd supply kit | 0.00 | 0.00 | 0.00 | 0.00 | 0.00 | 0.00 | XXX
A4905 |  | D | Ipd supply kit | 0.00 | 0.00 | 0.00 | 0.00 | 0.00 | 0.00 | XXX
A4910 |  | D | Esrd nonmedical supplies | 0.00 | 0.00 | 0.00 | 0.00 | 0.00 | 0.00 | XXX
A4911 |  | X | Drain bag/bottle | 0.00 | 0.00 | 0.00 | 0.00 | 0.00 | 0.00 | XXX
A4912 |  | D | Gomco drain bottle | 0.00 | 0.00 | 0.00 | 0.00 | 0.00 | 0.00 | XXX
A4913 |  | X | Misc dialysis supplies noc | 0.00 | 0.00 | 0.00 | 0.00 | 0.00 | 0.00 | XXX
A4914 |  | D | Preparation kit | 0.00 | 0.00 | 0.00 | 0.00 | 0.00 | 0.00 | XXX
A4918 |  | X | Venous pressure clamp | 0.00 | 0.00 | 0.00 | 0.00 | 0.00 | 0.00 | XXX
A4919 |  | D | Supp dialysis dialyzer holde | 0.00 | 0.00 | 0.00 | 0.00 | 0.00 | 0.00 | XXX
A4920 |  | D | Harvard pressure clamp | 0.00 | 0.00 | 0.00 | 0.00 | 0.00 | 0.00 | XXX
A4921 |  | D | Measuring cylinder | 0.00 | 0.00 | 0.00 | 0.00 | 0.00 | 0.00 | XXX
A4927 |  | X | Non-sterile gloves | 0.00 | 0.00 | 0.00 | 0.00 | 0.00 | 0.00 | XXX
A4928 |  | X | Surgical mask | 0.00 | 0.00 | 0.00 | 0.00 | 0.00 | 0.00 | XXX
A4929 |  | X | Tourniquet for dialysis, ea | 0.00 | 0.00 | 0.00 | 0.00 | 0.00 | 0.00 | XXX
A5051 |  | P | Pouch clsd w barr attached | 0.00 | 0.00 | 0.00 | 0.00 | 0.00 | 0.00 | XXX
A5052 |  | P | Clsd ostomy pouch w/o barr | 0.00 | 0.00 | 0.00 | 0.00 | 0.00 | 0.00 | XXX
A5053 |  | P | Clsd ostomy pouch faceplate | 0.00 | 0.00 | 0.00 | 0.00 | 0.00 | 0.00 | XXX
A5054 |  | P | Clsd ostomy pouch w/flange | 0.00 | 0.00 | 0.00 | 0.00 | 0.00 | 0.00 | XXX
A5055 |  | P | Stoma cap | 0.00 | 0.00 | 0.00 | 0.00 | 0.00 | 0.00 | XXX
A5061 |  | P | Pouch drainable w barrier at | 0.00 | 0.00 | 0.00 | 0.00 | 0.00 | 0.00 | XXX
A5062 |  | P | Drnble ostomy pouch w/o barr | 0.00 | 0.00 | 0.00 | 0.00 | 0.00 | 0.00 | XXX
A5063 |  | P | Drain ostomy pouch w/flange | 0.00 | 0.00 | 0.00 | 0.00 | 0.00 | 0.00 | XXX
A5064 |  | D | Drain ostomy pouch w/fceplte | 0.00 | 0.00 | 0.00 | 0.00 | 0.00 | 0.00 | XXX
A5071 |  | P | Urinary pouch w/barrier | 0.00 | 0.00 | 0.00 | 0.00 | 0.00 | 0.00 | XXX
A5072 |  | P | Urinary pouch w/o barrier | 0.00 | 0.00 | 0.00 | 0.00 | 0.00 | 0.00 | XXX
A5073 |  | P | Urinary pouch on barr w/flng | 0.00 | 0.00 | 0.00 | 0.00 | 0.00 | 0.00 | XXX
A5074 |  | D | Urinary pouch w/faceplate | 0.00 | 0.00 | 0.00 | 0.00 | 0.00 | 0.00 | XXX
A5075 |  | D | Urinary pouch on faceplate | 0.00 | 0.00 | 0.00 | 0.00 | 0.00 | 0.00 | XXX
A5081 |  | P | Continent stoma plug | 0.00 | 0.00 | 0.00 | 0.00 | 0.00 | 0.00 | XXX
A5082 |  | P | Continent stoma catheter | 0.00 | 0.00 | 0.00 | 0.00 | 0.00 | 0.00 | XXX
A5093 |  | P | Ostomy accessory convex inse | 0.00 | 0.00 | 0.00 | 0.00 | 0.00 | 0.00 | XXX
A5102 |  | P | Bedside drain btl w/wo tube | 0.00 | 0.00 | 0.00 | 0.00 | 0.00 | 0.00 | XXX
A5105 |  | P | Urinary suspensory | 0.00 | 0.00 | 0.00 | 0.00 | 0.00 | 0.00 | XXX
A5112 |  | P | Urinary leg bag | 0.00 | 0.00 | 0.00 | 0.00 | 0.00 | 0.00 | XXX
A5113 |  | P | Latex leg strap | 0.00 | 0.00 | 0.00 | 0.00 | 0.00 | 0.00 | XXX
A5114 |  | P | Foam/fabric leg strap | 0.00 | 0.00 | 0.00 | 0.00 | 0.00 | 0.00 | XXX
A5119 |  | P | Skin barrier wipes box pr 50 | 0.00 | 0.00 | 0.00 | 0.00 | 0.00 | 0.00 | XXX
A5121 |  | P | Solid skin barrier 6x6 | 0.00 | 0.00 | 0.00 | 0.00 | 0.00 | 0.00 | XXX
A5122 |  | P | Solid skin barrier 8x8 | 0.00 | 0.00 | 0.00 | 0.00 | 0.00 | 0.00 | XXX
A5123 |  | P | Skin barrier with flange | 0.00 | 0.00 | 0.00 | 0.00 | 0.00 | 0.00 | XXX
A5126 |  | P | Disk/foam pad + or − adhesive | 0.00 | 0.00 | 0.00 | 0.00 | 0.00 | 0.00 | XXX
A5131 |  | P | Appliance cleaner | 0.00 | 0.00 | 0.00 | 0.00 | 0.00 | 0.00 | XXX
A5200 |  | X | Percutaneous catheter anchor | 0.00 | 0.00 | 0.00 | 0.00 | 0.00 | 0.00 | XXX
A5500 |  | X | Diab shoe for density insert | 0.00 | 0.00 | 0.00 | 0.00 | 0.00 | 0.00 | XXX
A5501 |  | X | Diabetic custom molded shoe | 0.00 | 0.00 | 0.00 | 0.00 | 0.00 | 0.00 | XXX
A5502 |  | D | Diabetic shoe density insert | 0.00 | 0.00 | 0.00 | 0.00 | 0.00 | 0.00 | XXX
A5503 |  | X | Diabetic shoe w/roller/rockr | 0.00 | 0.00 | 0.00 | 0.00 | 0.00 | 0.00 | XXX
A5504 |  | X | Diabetic shoe with wedge | 0.00 | 0.00 | 0.00 | 0.00 | 0.00 | 0.00 | XXX
A5505 |  | X | Diab shoe w/metatarsal bar | 0.00 | 0.00 | 0.00 | 0.00 | 0.00 | 0.00 | XXX
A5506 |  | X | Diabetic shoe w/off set heel | 0.00 | 0.00 | 0.00 | 0.00 | 0.00 | 0.00 | XXX
A5507 |  | X | Modification diabetic shoe | 0.00 | 0.00 | 0.00 | 0.00 | 0.00 | 0.00 | XXX
A5508 |  | X | Diabetic deluxe shoe | 0.00 | 0.00 | 0.00 | 0.00 | 0.00 | 0.00 | XXX
A5509 |  | X | Direct heat form shoe insert | 0.00 | 0.00 | 0.00 | 0.00 | 0.00 | 0.00 | XXX
A5510 |  | X | Compression form shoe insert | 0.00 | 0.00 | 0.00 | 0.00 | 0.00 | 0.00 | XXX
A5511 |  | X | Custom fab molded shoe inser | 0.00 | 0.00 | 0.00 | 0.00 | 0.00 | 0.00 | XXX
A6000 |  | X | Wound warming wound cover | 0.00 | 0.00 | 0.00 | 0.00 | 0.00 | 0.00 | XXX
A6010 |  | X | Collagen based wound filler | 0.00 | 0.00 | 0.00 | 0.00 | 0.00 | 0.00 | XXX
A6020 |  | D | Collagen wound dressing | 0.00 | 0.00 | 0.00 | 0.00 | 0.00 | 0.00 | XXX
A6021 |  | X | Collagen dressing <=16 sq in | 0.00 | 0.00 | 0.00 | 0.00 | 0.00 | 0.00 | XXX
A6022 |  | X | Collagen drsg>6<=48 sq in | 0.00 | 0.00 | 0.00 | 0.00 | 0.00 | 0.00 | XXX
A6023 |  | X | Collagen dressing >48 sq in | 0.00 | 0.00 | 0.00 | 0.00 | 0.00 | 0.00 | XXX
A6024 |  | X | Collagen dsg wound filler | 0.00 | 0.00 | 0.00 | 0.00 | 0.00 | 0.00 | XXX
A6025 |  | I | Silicone gel sheet, each | 0.00 | 0.00 | 0.00 | 0.00 | 0.00 | 0.00 | XXX
A6154 |  | P | Wound pouch each | 0.00 | 0.00 | 0.00 | 0.00 | 0.00 | 0.00 | XXX
A6196 |  | P | Alginate dressing <=16 sq in | 0.00 | 0.00 | 0.00 | 0.00 | 0.00 | 0.00 | XXX
A6197 |  | P | Alginate drsg >16 <=48 sq in | 0.00 | 0.00 | 0.00 | 0.00 | 0.00 | 0.00 | XXX
A6198 |  | P | alginate dressing >48 sq in | 0.00 | 0.00 | 0.00 | 0.00 | 0.00 | 0.00 | XXX
A6199 |  | P | Alginate drsg wound filler | 0.00 | 0.00 | 0.00 | 0.00 | 0.00 | 0.00 | XXX
A6200 |  | X | Compos drsg <=16 no border | 0.00 | 0.00 | 0.00 | 0.00 | 0.00 | 0.00 | XXX
A6201 |  | X | Compos drsg >16<=48 no bdr | 0.00 | 0.00 | 0.00 | 0.00 | 0.00 | 0.00 | XXX
A6202 |  | X | Compos drsg >48 no border | 0.00 | 0.00 | 0.00 | 0.00 | 0.00 | 0.00 | XXX
A6203 |  | P | Composite drsg <=16 sq in | 0.00 | 0.00 | 0.00 | 0.00 | 0.00 | 0.00 | XXX
A6204 |  | P | Composite drsg >16<=48 sq in | 0.00 | 0.00 | 0.00 | 0.00 | 0.00 | 0.00 | XXX
A6205 |  | P | Composite drsg >48 sq in | 0.00 | 0.00 | 0.00 | 0.00 | 0.00 | 0.00 | XXX
A6206 |  | P | Contact layer <=16 sq in | 0.00 | 0.00 | 0.00 | 0.00 | 0.00 | 0.00 | XXX
A6207 |  | P | Contact layer >16<=48 sq in | 0.00 | 0.00 | 0.00 | 0.00 | 0.00 | 0.00 | XXX
A6208 |  | P | Contact layer >48 sq in | 0.00 | 0.00 | 0.00 | 0.00 | 0.00 | 0.00 | XXX
A6209 |  | P | Foam drsg <=16 sq in w/o bdr | 0.00 | 0.00 | 0.00 | 0.00 | 0.00 | 0.00 | XXX
A6210 |  | P | Foam drg >16<=48 sq in w/o b | 0.00 | 0.00 | 0.00 | 0.00 | 0.00 | 0.00 | XXX
A6211 |  | P | Foam drg >48 sq in w/o brdr | 0.00 | 0.00 | 0.00 | 0.00 | 0.00 | 0.00 | XXX
A6212 |  | P | Foam drg <=16 sq in w/border | 0.00 | 0.00 | 0.00 | 0.00 | 0.00 | 0.00 | XXX
A6213 |  | P | Foam drg >16<=48 sq in w/bdr | 0.00 | 0.00 | 0.00 | 0.00 | 0.00 | 0.00 | XXX
A6214 |  | P | Foam drg >48 sq in w/border | 0.00 | 0.00 | 0.00 | 0.00 | 0.00 | 0.00 | XXX
A6215 |  | P | Foam dressing wound filler | 0.00 | 0.00 | 0.00 | 0.00 | 0.00 | 0.00 | XXX
A6216 |  | P | Non-sterile gauze <=16 sq in | 0.00 | 0.00 | 0.00 | 0.00 | 0.00 | 0.00 | XXX
A6217 |  | P | Non-sterile gauze >16<=48 sq | 0.00 | 0.00 | 0.00 | 0.00 | 0.00 | 0.00 | XXX
A6218 |  | P | Non-sterile gauze >48 sq in | 0.00 | 0.00 | 0.00 | 0.00 | 0.00 | 0.00 | XXX
A6219 |  | P | Gauze <=16 sq in w/border | 0.00 | 0.00 | 0.00 | 0.00 | 0.00 | 0.00 | XXX
A6220 |  | P | Gauze >16 <=48 sq in w/bordr | 0.00 | 0.00 | 0.00 | 0.00 | 0.00 | 0.00 | XXX
A6221 |  | P | Gauze >48 sq in w/border | 0.00 | 0.00 | 0.00 | 0.00 | 0.00 | 0.00 | XXX
A6222 |  | P | Gauze <=16 in no w/sal w/o b | 0.00 | 0.00 | 0.00 | 0.00 | 0.00 | 0.00 | XXX
A6223 |  | P | Gauze >16<=48 no w/sal w/o b | 0.00 | 0.00 | 0.00 | 0.00 | 0.00 | 0.00 | XXX
A6224 |  | P | Gauze >48 in no w/sal w/o b | 0.00 | 0.00 | 0.00 | 0.00 | 0.00 | 0.00 | XXX
A6228 |  | P | Gauze <=16 sq in water/sal | 0.00 | 0.00 | 0.00 | 0.00 | 0.00 | 0.00 | XXX
A6229 |  | P | Gauze >16<=48 sq in watr/sal | 0.00 | 0.00 | 0.00 | 0.00 | 0.00 | 0.00 | XXX
A6230 |  | P | Gauze >48 sq in water/salne | 0.00 | 0.00 | 0.00 | 0.00 | 0.00 | 0.00 | XXX
A6231 |  | X | Hydrogel dsg <=16 sq in | 0.00 | 0.00 | 0.00 | 0.00 | 0.00 | 0.00 | XXX
A6232 |  | X | Hydrogel dsg >16<=48 sq in | 0.00 | 0.00 | 0.00 | 0.00 | 0.00 | 0.00 | XXX
A6233 |  | X | Hydrogel dressing >48 sq in | 0.00 | 0.00 | 0.00 | 0.00 | 0.00 | 0.00 | XXX
A6234 |  | P | Hydrocolld drg <=16 w/o bdr | 0.00 | 0.00 | 0.00 | 0.00 | 0.00 | 0.00 | XXX
A6235 |  | P | Hydrocolld drg >16<=48 w/o b | 0.00 | 0.00 | 0.00 | 0.00 | 0.00 | 0.00 | XXX
A6236 |  | P | Hydrocolld drg >48 in w/o b | 0.00 | 0.00 | 0.00 | 0.00 | 0.00 | 0.00 | XXX
A6237 |  | P | Hydrocolld drg <=16 in w/bdr | 0.00 | 0.00 | 0.00 | 0.00 | 0.00 | 0.00 | XXX
A6238 |  | P | Hydrocolld drg >16<=48 w/bdr | 0.00 | 0.00 | 0.00 | 0.00 | 0.00 | 0.00 | XXX
A6239 |  | P | Hydrocolld drg >48 in w/bdr | 0.00 | 0.00 | 0.00 | 0.00 | 0.00 | 0.00 | XXX
A6240 |  | P | Hydrocolld drg filler paste | 0.00 | 0.00 | 0.00 | 0.00 | 0.00 | 0.00 | XXX
A6241 |  | P | Hydrocolloid drg filler dry | 0.00 | 0.00 | 0.00 | 0.00 | 0.00 | 0.00 | XXX
A6242 |  | P | Hydrogel drg <=16 in w/o bdr | 0.00 | 0.00 | 0.00 | 0.00 | 0.00 | 0.00 | XXX
A6243 |  | P | Hydrogel drg >16<=48 w/o bdr | 0.00 | 0.00 | 0.00 | 0.00 | 0.00 | 0.00 | XXX
A6244 |  | P | Hydrogel drg >48 in w/o bdr | 0.00 | 0.00 | 0.00 | 0.00 | 0.00 | 0.00 | XXX
A6245 |  | P | Hydrogel drg <=16 in w/bdr | 0.00 | 0.00 | 0.00 | 0.00 | 0.00 | 0.00 | XXX
A6246 |  | P | Hydrogel drg >16<=48 in w/b | 0.00 | 0.00 | 0.00 | 0.00 | 0.00 | 0.00 | XXX
A6247 |  | P | Hydrogel drg >48 sq in w/b | 0.00 | 0.00 | 0.00 | 0.00 | 0.00 | 0.00 | XXX
A6248 |  | P | Hydrogel drsg gel filler | 0.00 | 0.00 | 0.00 | 0.00 | 0.00 | 0.00 | XXX
A6250 |  | P | Skin seal protect moisturizr | 0.00 | 0.00 | 0.00 | 0.00 | 0.00 | 0.00 | XXX
A6251 |  | P | Absorpt drg <=16 sq in w/o b | 0.00 | 0.00 | 0.00 | 0.00 | 0.00 | 0.00 | XXX
A6252 |  | P | Absorpt drg >16<=48 w/o bdr | 0.00 | 0.00 | 0.00 | 0.00 | 0.00 | 0.00 | XXX
A6253 |  | P | Absorpt drg >48 sq in w/o b | 0.00 | 0.00 | 0.00 | 0.00 | 0.00 | 0.00 | XXX
A6254 |  | P | Absorpt drg <=16 sq in w/bdr | 0.00 | 0.00 | 0.00 | 0.00 | 0.00 | 0.00 | XXX
A6255 |  | P | Absorpt drg >16<=48 in w/bdr | 0.00 | 0.00 | 0.00 | 0.00 | 0.00 | 0.00 | XXX
A6256 |  | P | Absorpt drg >48 sq in w/bdr | 0.00 | 0.00 | 0.00 | 0.00 | 0.00 | 0.00 | XXX
A6257 |  | P | Transparent film <=16 sq in | 0.00 | 0.00 | 0.00 | 0.00 | 0.00 | 0.00 | XXX
A6258 |  | P | Transparent film >16<=48 in | 0.00 | 0.00 | 0.00 | 0.00 | 0.00 | 0.00 | XXX
A6259 |  | P | Transparent film >48 sq in | 0.00 | 0.00 | 0.00 | 0.00 | 0.00 | 0.00 | XXX
A6260 |  | P | Wound cleanser any type/size | 0.00 | 0.00 | 0.00 | 0.00 | 0.00 | 0.00 | XXX
A6261 |  | P | Wound filler gel/paste/oz | 0.00 | 0.00 | 0.00 | 0.00 | 0.00 | 0.00 | XXX
A6262 |  | P | Wound filler dry form/gram | 0.00 | 0.00 | 0.00 | 0.00 | 0.00 | 0.00 | XXX
A6263 |  | P | Non-sterile elastic gauze/yd | 0.00 | 0.00 | 0.00 | 0.00 | 0.00 | 0.00 | XXX
A6264 |  | P | Non-sterile no elastic gauze | 0.00 | 0.00 | 0.00 | 0.00 | 0.00 | 0.00 | XXX
A6265 |  | P | Tape per 18 sq inches | 0.00 | 0.00 | 0.00 | 0.00 | 0.00 | 0.00 | XXX
A6266 |  | P | Impreg gauze no h20/sal/yard | 0.00 | 0.00 | 0.00 | 0.00 | 0.00 | 0.00 | XXX
A6402 |  | P | Sterile gauze <=16 sq in | 0.00 | 0.00 | 0.00 | 0.00 | 0.00 | 0.00 | XXX
A6403 |  | P | Sterile gauze >16<=48 sq in | 0.00 | 0.00 | 0.00 | 0.00 | 0.00 | 0.00 | XXX
A6404 |  | P | Sterile gauze >48 sq in | 0.00 | 0.00 | 0.00 | 0.00 | 0.00 | 0.00 | XXX
A6405 |  | P | Sterile elastic gauze/yd | 0.00 | 0.00 | 0.00 | 0.00 | 0.00 | 0.00 | XXX
A6406 |  | P | Sterile non-elastic gauze/yd | 0.00 | 0.00 | 0.00 | 0.00 | 0.00 | 0.00 | XXX
A7000 |  | X | Disposable canister for pump | 0.00 | 0.00 | 0.00 | 0.00 | 0.00 | 0.00 | XXX
A7001 |  | X | Nondisposable pump canister | 0.00 | 0.00 | 0.00 | 0.00 | 0.00 | 0.00 | XXX
A7002 |  | X | Tubing used w suction pump | 0.00 | 0.00 | 0.00 | 0.00 | 0.00 | 0.00 | XXX
A7003 |  | X | Nebulizer administration set | 0.00 | 0.00 | 0.00 | 0.00 | 0.00 | 0.00 | XXX
A7004 |  | X | Disposable nebulizer sml vol | 0.00 | 0.00 | 0.00 | 0.00 | 0.00 | 0.00 | XXX
A7005 |  | X | Nondisposable nebulizer set | 0.00 | 0.00 | 0.00 | 0.00 | 0.00 | 0.00 | XXX
A7006 |  | X | Filtered nebulizer admin set | 0.00 | 0.00 | 0.00 | 0.00 | 0.00 | 0.00 | XXX
A7007 |  | X | Lg vol nebulizer disposable | 0.00 | 0.00 | 0.00 | 0.00 | 0.00 | 0.00 | XXX
A7008 |  | X | Disposable nebulizer prefill | 0.00 | 0.00 | 0.00 | 0.00 | 0.00 | 0.00 | XXX
A7009 |  | X | Nebulizer reservoir bottle | 0.00 | 0.00 | 0.00 | 0.00 | 0.00 | 0.00 | XXX
A7010 |  | X | Disposable corrugated tubing | 0.00 | 0.00 | 0.00 | 0.00 | 0.00 | 0.00 | XXX
A7011 |  | X | Nondispos corrugated tubing | 0.00 | 0.00 | 0.00 | 0.00 | 0.00 | 0.00 | XXX
A7012 |  | X | Nebulizer water collec devic | 0.00 | 0.00 | 0.00 | 0.00 | 0.00 | 0.00 | XXX
A7013 |  | X | Disposable compressor filter | 0.00 | 0.00 | 0.00 | 0.00 | 0.00 | 0.00 | XXX
A7014 |  | X | Compressor nondispos filter | 0.00 | 0.00 | 0.00 | 0.00 | 0.00 | 0.00 | XXX
A7015 |  | X | Aerosol mask used w nebulize | 0.00 | 0.00 | 0.00 | 0.00 | 0.00 | 0.00 | XXX
A7016 |  | X | Nebulizer dome & mouthpiece | 0.00 | 0.00 | 0.00 | 0.00 | 0.00 | 0.00 | XXX
A7017 |  | X | Nebulizer not used w oxygen | 0.00 | 0.00 | 0.00 | 0.00 | 0.00 | 0.00 | XXX
A7018 |  | X | Water distilled w/nebulizer | 0.00 | 0.00 | 0.00 | 0.00 | 0.00 | 0.00 | XXX
A7019 |  | X | Saline solution dispenser | 0.00 | 0.00 | 0.00 | 0.00 | 0.00 | 0.00 | XXX
A7020 |  | X | Sterile H2O or NSS w lgv neb | 0.00 | 0.00 | 0.00 | 0.00 | 0.00 | 0.00 | XXX
A7501 |  | X | Tracheostoma valve w diaphra | 0.00 | 0.00 | 0.00 | 0.00 | 0.00 | 0.00 | XXX
A7502 |  | X | Replacement diaphragm/fplate | 0.00 | 0.00 | 0.00 | 0.00 | 0.00 | 0.00 | XXX
A7503 |  | X | HMES filter holder or cap | 0.00 | 0.00 | 0.00 | 0.00 | 0.00 | 0.00 | XXX
A7504 |  | X | Tracheostoma HMES filter | 0.00 | 0.00 | 0.00 | 0.00 | 0.00 | 0.00 | XXX
A7505 |  | X | HMES or trach valve housing | 0.00 | 0.00 | 0.00 | 0.00 | 0.00 | 0.00 | XXX
A7506 |  | X | HMES/trachvalve adhesive disk | 0.00 | 0.00 | 0.00 | 0.00 | 0.00 | 0.00 | XXX
A7507 |  | X | Integrated filter & holder | 0.00 | 0.00 | 0.00 | 0.00 | 0.00 | 0.00 | XXX
A7508 |  | X | Housing & Integrated Adhesiv | 0.00 | 0.00 | 0.00 | 0.00 | 0.00 | 0.00 | XXX
A7509 |  | X | Heat & moisture exchange sys | 0.00 | 0.00 | 0.00 | 0.00 | 0.00 | 0.00 | XXX
A9150 |  | E | Misc/exper non-prescript dru | 0.00 | 0.00 | 0.00 | 0.00 | 0.00 | 0.00 | XXX
A9160 |  | D | Podiatrist non-covered servi | 0.00 | 0.00 | 0.00 | 0.00 | 0.00 | 0.00 | XXX
A9170 |  | D | Chiropractor non-covered ser | 0.00 | 0.00 | 0.00 | 0.00 | 0.00 | 0.00 | XXX
A9190 |  | D | Misc/expe personal comfort i | 0.00 | 0.00 | 0.00 | 0.00 | 0.00 | 0.00 | XXX
A9270 |  | N | Non-covered item or service | 0.00 | 0.00 | 0.00 | 0.00 | 0.00 | 0.00 | XXX
A9300 |  | N | Exercise equipment | 0.00 | 0.00 | 0.00 | 0.00 | 0.00 | 0.00 | XXX
A9500 |  | E | Technetium TC 99m sestamibi | 0.00 | 0.00 | 0.00 | 0.00 | 0.00 | 0.00 | XXX
A9502 |  | X | Technetium TC 99M tetrofosmin | 0.00 | 0.00 | 0.00 | 0.00 | 0.00 | 0.00 | XXX
A9503 |  | E | Technetium TC 99m medronate | 0.00 | 0.00 | 0.00 | 0.00 | 0.00 | 0.00 | XXX
A9504 |  | X | Technetium tc 99m apcitide | 0.00 | 0.00 | 0.00 | 0.00 | 0.00 | 0.00 | XXX
A9505 |  | E | Thallous chloride TL 201/mci | 0.00 | 0.00 | 0.00 | 0.00 | 0.00 | 0.00 | XXX
A9507 |  | X | Indium/111 capromab pendetid | 0.00 | 0.00 | 0.00 | 0.00 | 0.00 | 0.00 | XXX
A9508 |  | X | Iobenguane sulfate I-131 | 0.00 | 0.00 | 0.00 | 0.00 | 0.00 | 0.00 | XXX
A9510 |  | X | Technetium TC99m Disofenin | 0.00 | 0.00 | 0.00 | 0.00 | 0.00 | 0.00 | XXX
A9511 |  | X | Technetium TC 99m depreotide | 0.00 | 0.00 | 0.00 | 0.00 | 0.00 | 0.00 | XXX
A9600 |  | X | Strontium-89 chloride | 0.00 | 0.00 | 0.00 | 0.00 | 0.00 | 0.00 | XXX
A9605 |  | X | Samarium sm153 lexidronamm | 0.00 | 0.00 | 0.00 | 0.00 | 0.00 | 0.00 | XXX
A9700 |  | X | Echocardiography Contrast | 0.00 | 0.00 | 0.00 | 0.00 | 0.00 | 0.00 | XXX
A9900 |  | X | Supply/accessory/service | 0.00 | 0.00 | 0.00 | 0.00 | 0.00 | 0.00 | XXX
A9901 |  | X | Delivery/set up/dispensing | 0.00 | 0.00 | 0.00 | 0.00 | 0.00 | 0.00 | XXX
D0120 |  | N | Periodic oral evaluation | 0.00 | 0.00 | 0.00 | 0.00 | 0.00 | 0.00 | XXX
D0140 |  | N | Limit oral eval problm focus | 0.00 | 0.00 | 0.00 | 0.00 | 0.00 | 0.00 | XXX
D0150 |  | R | Comprehensve oral evaluation | 0.00 | 0.00 | 0.00 | 0.00 | 0.00 | 0.00 | YYY
D0160 |  | N | Extensv oral eval prob focus | 0.00 | 0.00 | 0.00 | 0.00 | 0.00 | 0.00 | XXX
D0170 |  | N | Re-eval,est pt,problem focus | 0.00 | 0.00 | 0.00 | 0.00 | 0.00 | 0.00 | XXX
D0210 |  | I | Intraor complete film series | 0.00 | 0.00 | 0.00 | 0.00 | 0.00 | 0.00 | XXX
D0220 |  | I | Intraoral periapical first f | 0.00 | 0.00 | 0.00 | 0.00 | 0.00 | 0.00 | XXX
D0230 |  | I | Intraoral periapical ea add | 0.00 | 0.00 | 0.00 | 0.00 | 0.00 | 0.00 | XXX
D0240 |  | R | Intraoral occlusal film | 0.00 | 0.00 | 0.00 | 0.00 | 0.00 | 0.00 | YYY
D0250 |  | R | Extraoral first film | 0.00 | 0.00 | 0.00 | 0.00 | 0.00 | 0.00 | YYY
D0260 |  | R | Extraoral ea additional film | 0.00 | 0.00 | 0.00 | 0.00 | 0.00 | 0.00 | YYY
D0270 |  | R | Dental bitewing single film | 0.00 | 0.00 | 0.00 | 0.00 | 0.00 | 0.00 | YYY
D0272 |  | R | Dental bitewings two films | 0.00 | 0.00 | 0.00 | 0.00 | 0.00 | 0.00 | YYY
D0274 |  | R | Dental bitewings four films | 0.00 | 0.00 | 0.00 | 0.00 | 0.00 | 0.00 | YYY
D0277 |  | R | Vert bitewings-sev to eight | 0.00 | 0.00 | 0.00 | 0.00 | 0.00 | 0.00 | XXX
D0290 |  | I | Dental film skull/facial bon | 0.00 | 0.00 | 0.00 | 0.00 | 0.00 | 0.00 | XXX
D0310 |  | I | Dental saliography | 0.00 | 0.00 | 0.00 | 0.00 | 0.00 | 0.00 | XXX
D0320 |  | I | Dental tmj arthrogram incl i | 0.00 | 0.00 | 0.00 | 0.00 | 0.00 | 0.00 | XXX
D0321 |  | I | Dental other tmj films | 0.00 | 0.00 | 0.00 | 0.00 | 0.00 | 0.00 | XXX
D0322 |  | I | Dental tomographic survey | 0.00 | 0.00 | 0.00 | 0.00 | 0.00 | 0.00 | XXX
D0330 |  | I | Dental panoramic film | 0.00 | 0.00 | 0.00 | 0.00 | 0.00 | 0.00 | XXX
D0340 |  | I | Dental cephalometric film | 0.00 | 0.00 | 0.00 | 0.00 | 0.00 | 0.00 | XXX
D0350 |  | I | Oral/facial images | 0.00 | 0.00 | 0.00 | 0.00 | 0.00 | 0.00 | XXX
D0415 |  | N | Bacteriologic study | 0.00 | 0.00 | 0.00 | 0.00 | 0.00 | 0.00 | XXX
D0425 |  | N | Caries susceptibility test | 0.00 | 0.00 | 0.00 | 0.00 | 0.00 | 0.00 | XXX
D0460 |  | R | Pulp vitality test | 0.00 | 0.00 | 0.00 | 0.00 | 0.00 | 0.00 | YYY
D0470 |  | N | Diagnostic casts | 0.00 | 0.00 | 0.00 | 0.00 | 0.00 | 0.00 | XXX
D0472 |  | R | Gross exam, prep & report | 0.00 | 0.00 | 0.00 | 0.00 | 0.00 | 0.00 | XXX
D0473 |  | R | Micro exam, prep & report | 0.00 | 0.00 | 0.00 | 0.00 | 0.00 | 0.00 | XXX
D0474 |  | R | Micro w/exam of surg margins | 0.00 | 0.00 | 0.00 | 0.00 | 0.00 | 0.00 | XXX
D0480 |  | R | Cytopath smear prep & report | 0.00 | 0.00 | 0.00 | 0.00 | 0.00 | 0.00 | XXX
D0501 |  | R | Histopathologic examinations | 0.00 | 0.00 | 0.00 | 0.00 | 0.00 | 0.00 | YYY
D0502 |  | R | Other oral pathology procedu | 0.00 | 0.00 | 0.00 | 0.00 | 0.00 | 0.00 | YYY
D0999 |  | R | Unspecified diagnostic proce | 0.00 | 0.00 | 0.00 | 0.00 | 0.00 | 0.00 | YYY
D1110 |  | N | Dental prophylaxis adult | 0.00 | 0.00 | 0.00 | 0.00 | 0.00 | 0.00 | XXX
D1120 |  | N | Dental prophylaxis child | 0.00 | 0.00 | 0.00 | 0.00 | 0.00 | 0.00 | XXX
D1201 |  | N | Topical fluor w/prophy child | 0.00 | 0.00 | 0.00 | 0.00 | 0.00 | 0.00 | XXX
D1203 |  | N | Topical fluor w/o prophy chi | 0.00 | 0.00 | 0.00 | 0.00 | 0.00 | 0.00 | XXX
D1204 |  | N | Topical fluor w/o prophy adu | 0.00 | 0.00 | 0.00 | 0.00 | 0.00 | 0.00 | XXX
D1205 |  | N | Topical fluoride w/ prophy a | 0.00 | 0.00 | 0.00 | 0.00 | 0.00 | 0.00 | XXX
D1310 |  | N | Nutri counsel-control caries | 0.00 | 0.00 | 0.00 | 0.00 | 0.00 | 0.00 | XXX
D1320 |  | N | Tobacco counseling | 0.00 | 0.00 | 0.00 | 0.00 | 0.00 | 0.00 | XXX
D1330 |  | N | Oral hygiene instruction | 0.00 | 0.00 | 0.00 | 0.00 | 0.00 | 0.00 | XXX
D1351 |  | N | Dental sealant per tooth | 0.00 | 0.00 | 0.00 | 0.00 | 0.00 | 0.00 | XXX
D1510 |  | R | Space maintainer fxd unilat | 0.00 | 0.00 | 0.00 | 0.00 | 0.00 | 0.00 | YYY
D1515 |  | R | Fixed bilat space maintainer | 0.00 | 0.00 | 0.00 | 0.00 | 0.00 | 0.00 | YYY
D1520 |  | R | Remove unilat space maintain | 0.00 | 0.00 | 0.00 | 0.00 | 0.00 | 0.00 | YYY
D1525 |  | R | Remove bilat space maintain | 0.00 | 0.00 | 0.00 | 0.00 | 0.00 | 0.00 | YYY
D1550 |  | R | Recement space maintainer | 0.00 | 0.00 | 0.00 | 0.00 | 0.00 | 0.00 | YYY
D2110 |  | N | Amalgam one surface primary | 0.00 | 0.00 | 0.00 | 0.00 | 0.00 | 0.00 | XXX
D2120 |  | N | Amalgam two surfaces primary | 0.00 | 0.00 | 0.00 | 0.00 | 0.00 | 0.00 | XXX
D2130 |  | N | Amalgam three surfaces prima | 0.00 | 0.00 | 0.00 | 0.00 | 0.00 | 0.00 | XXX
D2131 |  | N | Amalgam four/more surf prima | 0.00 | 0.00 | 0.00 | 0.00 | 0.00 | 0.00 | XXX
D2140 |  | N | Amalgam one surface permanen | 0.00 | 0.00 | 0.00 | 0.00 | 0.00 | 0.00 | XXX
D2150 |  | N | Amalgam two surfaces permane | 0.00 | 0.00 | 0.00 | 0.00 | 0.00 | 0.00 | XXX
D2160 |  | N | Amalgam three surfaces perma | 0.00 | 0.00 | 0.00 | 0.00 | 0.00 | 0.00 | XXX
D2161 |  | N | Amalgam 4 or > surfaces perm | 0.00 | 0.00 | 0.00 | 0.00 | 0.00 | 0.00 | XXX
D2330 |  | N | Resin one surface-anterior | 0.00 | 0.00 | 0.00 | 0.00 | 0.00 | 0.00 | XXX
D2331 |  | N | Resin two surfaces-anterior | 0.00 | 0.00 | 0.00 | 0.00 | 0.00 | 0.00 | XXX
D2332 |  | N | Resin three surfaces-anterio | 0.00 | 0.00 | 0.00 | 0.00 | 0.00 | 0.00 | XXX
D2335 |  | N | Resin 4/> surf or w/incis an | 0.00 | 0.00 | 0.00 | 0.00 | 0.00 | 0.00 | XXX
D2336 |  | N | Composite resin crown | 0.00 | 0.00 | 0.00 | 0.00 | 0.00 | 0.00 | XXX
D2337 |  | N | Compo resin crown ant-perm | 0.00 | 0.00 | 0.00 | 0.00 | 0.00 | 0.00 | XXX
D2380 |  | N | Resin one surf poster primar | 0.00 | 0.00 | 0.00 | 0.00 | 0.00 | 0.00 | XXX
D2381 |  | N | Resin two surf poster primar | 0.00 | 0.00 | 0.00 | 0.00 | 0.00 | 0.00 | XXX
D2382 |  | N | Resin three/more surf post p | 0.00 | 0.00 | 0.00 | 0.00 | 0.00 | 0.00 | XXX
D2385 |  | N | Resin one surf poster perman | 0.00 | 0.00 | 0.00 | 0.00 | 0.00 | 0.00 | XXX
D2386 |  | N | Resin two surf poster perman | 0.00 | 0.00 | 0.00 | 0.00 | 0.00 | 0.00 | XXX
D2387 |  | N | Resin three/more surf post p | 0.00 | 0.00 | 0.00 | 0.00 | 0.00 | 0.00 | XXX
D2388 |  | N | Resin four/more, post perm | 0.00 | 0.00 | 0.00 | 0.00 | 0.00 | 0.00 | XXX
D2410 |  | N | Dental gold foil one surface | 0.00 | 0.00 | 0.00 | 0.00 | 0.00 | 0.00 | XXX
D2420 |  | N | Dental gold foil two surface | 0.00 | 0.00 | 0.00 | 0.00 | 0.00 | 0.00 | XXX
D2430 |  | N | Dental gold foil three surfa | 0.00 | 0.00 | 0.00 | 0.00 | 0.00 | 0.00 | XXX
D2510 |  | N | Dental inlay metalic 1 surf | 0.00 | 0.00 | 0.00 | 0.00 | 0.00 | 0.00 | XXX
D2520 |  | N | Dental inlay metallic 2 surf | 0.00 | 0.00 | 0.00 | 0.00 | 0.00 | 0.00 | XXX
D2530 |  | N | Dental inlay metl 3/more sur | 0.00 | 0.00 | 0.00 | 0.00 | 0.00 | 0.00 | XXX
D2542 |  | N | Dental onlay metallic 2 surf | 0.00 | 0.00 | 0.00 | 0.00 | 0.00 | 0.00 | XXX
D2543 |  | N | Dental onlay metallic 3 surf | 0.00 | 0.00 | 0.00 | 0.00 | 0.00 | 0.00 | XXX
D2544 |  | N | Dental onlay metl 4/more sur | 0.00 | 0.00 | 0.00 | 0.00 | 0.00 | 0.00 | XXX
D2610 |  | N | Inlay porcelain/ceramic 1 su | 0.00 | 0.00 | 0.00 | 0.00 | 0.00 | 0.00 | XXX
D2620 |  | N | Inlay porcelain/ceramic 2 su | 0.00 | 0.00 | 0.00 | 0.00 | 0.00 | 0.00 | XXX
D2630 |  | N | Dental onlay porc 3/more sur | 0.00 | 0.00 | 0.00 | 0.00 | 0.00 | 0.00 | XXX
D2642 |  | N | Dental onlay porcelin 2 surf | 0.00 | 0.00 | 0.00 | 0.00 | 0.00 | 0.00 | XXX
D2643 |  | N | Dental onlay porcelin 3 surf | 0.00 | 0.00 | 0.00 | 0.00 | 0.00 | 0.00 | XXX
D2644 |  | N | Dental onlay porc 4/more sur | 0.00 | 0.00 | 0.00 | 0.00 | 0.00 | 0.00 | XXX
D2650 |  | N | Inlay composite/resin one su | 0.00 | 0.00 | 0.00 | 0.00 | 0.00 | 0.00 | XXX
D2651 |  | N | Inlay composite/resin two su | 0.00 | 0.00 | 0.00 | 0.00 | 0.00 | 0.00 | XXX
D2652 |  | N | Dental inlay resin 3/mre sur | 0.00 | 0.00 | 0.00 | 0.00 | 0.00 | 0.00 | XXX
D2662 |  | N | Dental onlay resin 2 surface | 0.00 | 0.00 | 0.00 | 0.00 | 0.00 | 0.00 | XXX
D2663 |  | N | Dental onlay resin 3 surface | 0.00 | 0.00 | 0.00 | 0.00 | 0.00 | 0.00 | XXX
D2664 |  | N | Dental onlay resin 4/more sur | 0.00 | 0.00 | 0.00 | 0.00 | 0.00 | 0.00 | XXX
D2710 |  | N | Crown resin laboratory | 0.00 | 0.00 | 0.00 | 0.00 | 0.00 | 0.00 | XXX
D2720 |  | N | Crown resin w/high noble me | 0.00 | 0.00 | 0.00 | 0.00 | 0.00 | 0.00 | XXX
D2721 |  | N | Crown resin w/base metal | 0.00 | 0.00 | 0.00 | 0.00 | 0.00 | 0.00 | XXX
D2722 |  | N | Crown resin w/noble metal | 0.00 | 0.00 | 0.00 | 0.00 | 0.00 | 0.00 | XXX
D2740 |  | N | Crown porcelain/ceramic subs | 0.00 | 0.00 | 0.00 | 0.00 | 0.00 | 0.00 | XXX
D2750 |  | N | Crown porcelain w/h noble m | 0.00 | 0.00 | 0.00 | 0.00 | 0.00 | 0.00 | XXX
D2751 |  | N | Crown porcelain fused base m | 0.00 | 0.00 | 0.00 | 0.00 | 0.00 | 0.00 | XXX
D2752 |  | N | Crown porcelain w/noble met | 0.00 | 0.00 | 0.00 | 0.00 | 0.00 | 0.00 | XXX
D2780 |  | N | Crown 3/4 cast hi noble met | 0.00 | 0.00 | 0.00 | 0.00 | 0.00 | 0.00 | XXX
D2781 |  | N | Crown 3/4 cast base metal | 0.00 | 0.00 | 0.00 | 0.00 | 0.00 | 0.00 | XXX
D2782 |  | N | Crown ¾ cast noble metal | 0.00 | 0.00 | 0.00 | 0.00 | 0.00 | 0.00 | XXX
D2783 |  | N | Crown ¾ porcelain/ceramic | 0.00 | 0.00 | 0.00 | 0.00 | 0.00 | 0.00 | XXX
D2790 |  | N | Crown full cast high noble m | 0.00 | 0.00 | 0.00 | 0.00 | 0.00 | 0.00 | XXX
D2791 |  | N | Crown full cast base metal | 0.00 | 0.00 | 0.00 | 0.00 | 0.00 | 0.00 | XXX
D2792 |  | N | Crown full cast noble metal | 0.00 | 0.00 | 0.00 | 0.00 | 0.00 | 0.00 | XXX
D2799 |  | N | Provisional crown | 0.00 | 0.00 | 0.00 | 0.00 | 0.00 | 0.00 | XXX
D2910 |  | N | Dental recement inlay | 0.00 | 0.00 | 0.00 | 0.00 | 0.00 | 0.00 | XXX
D2920 |  | N | Dental recement crown | 0.00 | 0.00 | 0.00 | 0.00 | 0.00 | 0.00 | XXX
D2930 |  | N | Prefab stnlss steel crwn pri | 0.00 | 0.00 | 0.00 | 0.00 | 0.00 | 0.00 | XXX
D2931 |  | N | Prefab stnlss steel crown pe | 0.00 | 0.00 | 0.00 | 0.00 | 0.00 | 0.00 | XXX
D2932 |  | N | Prefabricated resin crown | 0.00 | 0.00 | 0.00 | 0.00 | 0.00 | 0.00 | XXX
D2933 |  | N | Prefab stainless steel crown | 0.00 | 0.00 | 0.00 | 0.00 | 0.00 | 0.00 | XXX
D2940 |  | N | Dental sedative filling | 0.00 | 0.00 | 0.00 | 0.00 | 0.00 | 0.00 | XXX
D2950 |  | N | Core build-up incl any pins | 0.00 | 0.00 | 0.00 | 0.00 | 0.00 | 0.00 | XXX
D2951 |  | N | Tooth pin retention | 0.00 | 0.00 | 0.00 | 0.00 | 0.00 | 0.00 | XXX
D2952 |  | N | Post and core cast + crown | 0.00 | 0.00 | 0.00 | 0.00 | 0.00 | 0.00 | XXX
D2953 |  | N | Each addtnl cast post | 0.00 | 0.00 | 0.00 | 0.00 | 0.00 | 0.00 | XXX
D2954 |  | N | Prefab post/core + crown | 0.00 | 0.00 | 0.00 | 0.00 | 0.00 | 0.00 | XXX
D2955 |  | N | Post removal | 0.00 | 0.00 | 0.00 | 0.00 | 0.00 | 0.00 | XXX
D2957 |  | N | Each addtnl prefab post | 0.00 | 0.00 | 0.00 | 0.00 | 0.00 | 0.00 | XXX
D2960 |  | N | Laminate labial veneer | 0.00 | 0.00 | 0.00 | 0.00 | 0.00 | 0.00 | XXX
D2961 |  | N | Lab labial veneer resin | 0.00 | 0.00 | 0.00 | 0.00 | 0.00 | 0.00 | XXX
D2962 |  | N | Lab labial veneer porcelain | 0.00 | 0.00 | 0.00 | 0.00 | 0.00 | 0.00 | XXX
D2970 |  | R | Temporary-fractured tooth | 0.00 | 0.00 | 0.00 | 0.00 | 0.00 | 0.00 | YYY
D2980 |  | N | Crown repair | 0.00 | 0.00 | 0.00 | 0.00 | 0.00 | 0.00 | XXX
D2999 |  | R | Dental unspec restorative pr | 0.00 | 0.00 | 0.00 | 0.00 | 0.00 | 0.00 | YYY
D3110 |  | N | Pulp cap direct | 0.00 | 0.00 | 0.00 | 0.00 | 0.00 | 0.00 | XXX
D3120 |  | N | Pulp cap indirect | 0.00 | 0.00 | 0.00 | 0.00 | 0.00 | 0.00 | XXX
D3220 |  | N | Therapeutic pulpotomy | 0.00 | 0.00 | 0.00 | 0.00 | 0.00 | 0.00 | XXX
D3221 |  | N | Gross pulpal debridement | 0.00 | 0.00 | 0.00 | 0.00 | 0.00 | 0.00 | XXX
D3230 |  | N | Pulpal therapy anterior prim | 0.00 | 0.00 | 0.00 | 0.00 | 0.00 | 0.00 | XXX
D3240 |  | N | Pulpal therapy posterior pri | 0.00 | 0.00 | 0.00 | 0.00 | 0.00 | 0.00 | XXX
D3310 |  | N | Anterior | 0.00 | 0.00 | 0.00 | 0.00 | 0.00 | 0.00 | XXX
D3320 |  | N | Root canal therapy 2 canals | 0.00 | 0.00 | 0.00 | 0.00 | 0.00 | 0.00 | XXX
D3330 |  | N | Root canal therapy 3 canals | 0.00 | 0.00 | 0.00 | 0.00 | 0.00 | 0.00 | XXX
D3331 |  | N | Non-surg tx root canal obs | 0.00 | 0.00 | 0.00 | 0.00 | 0.00 | 0.00 | XXX
D3332 |  | N | Incomplete endodontic tx | 0.00 | 0.00 | 0.00 | 0.00 | 0.00 | 0.00 | XXX
D3333 |  | N | Internal root repair | 0.00 | 0.00 | 0.00 | 0.00 | 0.00 | 0.00 | XXX
D3346 |  | N | Retreat root canal anterior | 0.00 | 0.00 | 0.00 | 0.00 | 0.00 | 0.00 | XXX
D3347 |  | N | Retreat root canal bicuspid | 0.00 | 0.00 | 0.00 | 0.00 | 0.00 | 0.00 | XXX
D3348 |  | N | Retreat root canal molar | 0.00 | 0.00 | 0.00 | 0.00 | 0.00 | 0.00 | XXX
D3351 |  | N | Apexification/recalc initial | 0.00 | 0.00 | 0.00 | 0.00 | 0.00 | 0.00 | XXX
D3352 |  | N | Apexification/recalc interim | 0.00 | 0.00 | 0.00 | 0.00 | 0.00 | 0.00 | XXX
D3353 |  | N | Apexification/recalc final | 0.00 | 0.00 | 0.00 | 0.00 | 0.00 | 0.00 | XXX
D3410 |  | N | Apicoect/perirad surg anter | 0.00 | 0.00 | 0.00 | 0.00 | 0.00 | 0.00 | XXX
D3421 |  | N | Root surgery bicuspid | 0.00 | 0.00 | 0.00 | 0.00 | 0.00 | 0.00 | XXX
D3425 |  | N | Root surgery molar | 0.00 | 0.00 | 0.00 | 0.00 | 0.00 | 0.00 | XXX
D3426 |  | N | Root surgery ea add root | 0.00 | 0.00 | 0.00 | 0.00 | 0.00 | 0.00 | XXX
D3430 |  | N | Retrograde filling | 0.00 | 0.00 | 0.00 | 0.00 | 0.00 | 0.00 | XXX
D3450 |  | N | Root amputation | 0.00 | 0.00 | 0.00 | 0.00 | 0.00 | 0.00 | XXX
D3460 |  | R | Endodontic endosseous implan | 0.00 | 0.00 | 0.00 | 0.00 | 0.00 | 0.00 | YYY
D3470 |  | N | Intentional replantation | 0.00 | 0.00 | 0.00 | 0.00 | 0.00 | 0.00 | XXX
D3910 |  | N | Isolation-tooth w/rubb dam | 0.00 | 0.00 | 0.00 | 0.00 | 0.00 | 0.00 | XXX
D3920 |  | N | Tooth splitting | 0.00 | 0.00 | 0.00 | 0.00 | 0.00 | 0.00 | XXX
D3950 |  | N | Canal prep/fitting of dowel | 0.00 | 0.00 | 0.00 | 0.00 | 0.00 | 0.00 | XXX
D3999 |  | R | Endodontic procedure | 0.00 | 0.00 | 0.00 | 0.00 | 0.00 | 0.00 | YYY
D4210 |  | I | Gingivectomy/plasty per quad | 0.00 | 0.00 | 0.00 | 0.00 | 0.00 | 0.00 | XXX
D4211 |  | I | Gingivectomy/plasty per toot | 0.00 | 0.00 | 0.00 | 0.00 | 0.00 | 0.00 | XXX
D4220 |  | N | Gingival curettage per quadr | 0.00 | 0.00 | 0.00 | 0.00 | 0.00 | 0.00 | XXX
D4240 |  | N | Gingival flap proc w/planin | 0.00 | 0.00 | 0.00 | 0.00 | 0.00 | 0.00 | XXX
D4245 |  | N | Apically positioned flap | 0.00 | 0.00 | 0.00 | 0.00 | 0.00 | 0.00 | XXX
D4249 |  | N | Crown lengthen hard tissue | 0.00 | 0.00 | 0.00 | 0.00 | 0.00 | 0.00 | XXX
D4260 |  | R | Osseous surgery per quadrant | 0.00 | 0.00 | 0.00 | 0.00 | 0.00 | 0.00 | YYY
D4263 |  | R | Bone replce graft first site | 0.00 | 0.00 | 0.00 | 0.00 | 0.00 | 0.00 | YYY
D4264 |  | R | Bone replce graft each add | 0.00 | 0.00 | 0.00 | 0.00 | 0.00 | 0.00 | YYY
D4266 |  | N | Guided tiss regen resorble | 0.00 | 0.00 | 0.00 | 0.00 | 0.00 | 0.00 | XXX
D4267 |  | N | Guided tiss regen nonresorb | 0.00 | 0.00 | 0.00 | 0.00 | 0.00 | 0.00 | XXX
D4268 |  | R | Surgical revision procedure | 0.00 | 0.00 | 0.00 | 0.00 | 0.00 | 0.00 | XXX
D4270 |  | R | Pedicle soft tissue graft pr | 0.00 | 0.00 | 0.00 | 0.00 | 0.00 | 0.00 | YYY
D4271 |  | R | Free soft tissue graft proc | 0.00 | 0.00 | 0.00 | 0.00 | 0.00 | 0.00 | YYY
D4273 |  | R | Subepithelial tissue graft | 0.00 | 0.00 | 0.00 | 0.00 | 0.00 | 0.00 | YYY
D4274 |  | N | Distal/proximal wedge proc | 0.00 | 0.00 | 0.00 | 0.00 | 0.00 | 0.00 | XXX
D4320 |  | N | Provision splnt intracoronal | 0.00 | 0.00 | 0.00 | 0.00 | 0.00 | 0.00 | XXX
D4321 |  | N | Provisional splint extracoro | 0.00 | 0.00 | 0.00 | 0.00 | 0.00 | 0.00 | XXX
D4341 |  | N | Periodontal scaling & root | 0.00 | 0.00 | 0.00 | 0.00 | 0.00 | 0.00 | XXX
D4355 |  | R | Full mouth debridement | 0.00 | 0.00 | 0.00 | 0.00 | 0.00 | 0.00 | YYY
D4381 |  | R | Localized chemo delivery | 0.00 | 0.00 | 0.00 | 0.00 | 0.00 | 0.00 | YYY
D4910 |  | N | Periodontal maint procedures | 0.00 | 0.00 | 0.00 | 0.00 | 0.00 | 0.00 | XXX
D4920 |  | N | Unscheduled dressing change | 0.00 | 0.00 | 0.00 | 0.00 | 0.00 | 0.00 | XXX
D4999 |  | N | Unspecified periodontal proc | 0.00 | 0.00 | 0.00 | 0.00 | 0.00 | 0.00 | XXX
D5110 |  | N | Dentures complete maxillary | 0.00 | 0.00 | 0.00 | 0.00 | 0.00 | 0.00 | XXX
D5120 |  | N | Dentures complete mandible | 0.00 | 0.00 | 0.00 | 0.00 | 0.00 | 0.00 | XXX
D5130 |  | N | Dentures immediat maxillary | 0.00 | 0.00 | 0.00 | 0.00 | 0.00 | 0.00 | XXX
D5140 |  | N | Dentures immediat mandible | 0.00 | 0.00 | 0.00 | 0.00 | 0.00 | 0.00 | XXX
D5211 |  | N | Dentures maxill part resin | 0.00 | 0.00 | 0.00 | 0.00 | 0.00 | 0.00 | XXX
D5212 |  | N | Dentures mand part resin | 0.00 | 0.00 | 0.00 | 0.00 | 0.00 | 0.00 | XXX
D5213 |  | N | Dentures maxill part metal | 0.00 | 0.00 | 0.00 | 0.00 | 0.00 | 0.00 | XXX
D5214 |  | N | Dentures mandibl part metal | 0.00 | 0.00 | 0.00 | 0.00 | 0.00 | 0.00 | XXX
D5281 |  | N | Removable partial denture | 0.00 | 0.00 | 0.00 | 0.00 | 0.00 | 0.00 | XXX
D5410 |  | N | Dentures adjust cmplt maxil | 0.00 | 0.00 | 0.00 | 0.00 | 0.00 | 0.00 | XXX
D5411 |  | N | Dentures adjust cmplt mand | 0.00 | 0.00 | 0.00 | 0.00 | 0.00 | 0.00 | XXX
D5421 |  | N | Dentures adjust part maxill | 0.00 | 0.00 | 0.00 | 0.00 | 0.00 | 0.00 | XXX
D5422 |  | N | Dentures adjust part mandbl | 0.00 | 0.00 | 0.00 | 0.00 | 0.00 | 0.00 | XXX
D5510 |  | N | Dentur repr broken compl bas | 0.00 | 0.00 | 0.00 | 0.00 | 0.00 | 0.00 | XXX
D5520 |  | N | Replace denture teeth complt | 0.00 | 0.00 | 0.00 | 0.00 | 0.00 | 0.00 | XXX
D5610 |  | N | Dentures repair resin base | 0.00 | 0.00 | 0.00 | 0.00 | 0.00 | 0.00 | XXX
D5620 |  | N | Rep part denture cast frame | 0.00 | 0.00 | 0.00 | 0.00 | 0.00 | 0.00 | XXX
D5630 |  | N | Rep partial denture clasp | 0.00 | 0.00 | 0.00 | 0.00 | 0.00 | 0.00 | XXX
D5640 |  | N | Replace part denture teeth | 0.00 | 0.00 | 0.00 | 0.00 | 0.00 | 0.00 | XXX
D5650 |  | N | Add tooth to partial denture | 0.00 | 0.00 | 0.00 | 0.00 | 0.00 | 0.00 | XXX
D5660 |  | N | Add clasp to partial denture | 0.00 | 0.00 | 0.00 | 0.00 | 0.00 | 0.00 | XXX
D5710 |  | N | Dentures rebase cmplt maxil | 0.00 | 0.00 | 0.00 | 0.00 | 0.00 | 0.00 | XXX
D5711 |  | N | Dentures rebase cmplt mand | 0.00 | 0.00 | 0.00 | 0.00 | 0.00 | 0.00 | XXX
D5720 |  | N | Dentures rebase part maxill | 0.00 | 0.00 | 0.00 | 0.00 | 0.00 | 0.00 | XXX
D5721 |  | N | Dentures rebase part mandbl | 0.00 | 0.00 | 0.00 | 0.00 | 0.00 | 0.00 | XXX
D5730 |  | N | Denture reln cmplt maxil ch | 0.00 | 0.00 | 0.00 | 0.00 | 0.00 | 0.00 | XXX
D5731 |  | N | Denture reln cmplt mand chr | 0.00 | 0.00 | 0.00 | 0.00 | 0.00 | 0.00 | XXX
D5740 |  | N | Denture reln part maxil chr | 0.00 | 0.00 | 0.00 | 0.00 | 0.00 | 0.00 | XXX
D5741 |  | N | Denture reln part mand chr | 0.00 | 0.00 | 0.00 | 0.00 | 0.00 | 0.00 | XXX
D5750 |  | N | Denture reln cmplt max lab | 0.00 | 0.00 | 0.00 | 0.00 | 0.00 | 0.00 | XXX
D5751 |  | N | Denture reln cmplt mand lab | 0.00 | 0.00 | 0.00 | 0.00 | 0.00 | 0.00 | XXX
D5760 |  | N | Denture reln part maxil lab | 0.00 | 0.00 | 0.00 | 0.00 | 0.00 | 0.00 | XXX
D5761 |  | N | Denture reln part mand lab | 0.00 | 0.00 | 0.00 | 0.00 | 0.00 | 0.00 | XXX
D5810 |  | N | Denture interm cmplt maxill | 0.00 | 0.00 | 0.00 | 0.00 | 0.00 | 0.00 | XXX
D5811 |  | N | Denture interm cmplt mandbl | 0.00 | 0.00 | 0.00 | 0.00 | 0.00 | 0.00 | XXX
D5820 |  | N | Denture interm part maxill | 0.00 | 0.00 | 0.00 | 0.00 | 0.00 | 0.00 | XXX
D5821 |  | N | Denture interm part mandbl | 0.00 | 0.00 | 0.00 | 0.00 | 0.00 | 0.00 | XXX
D5850 |  | N | Denture tiss conditn maxill | 0.00 | 0.00 | 0.00 | 0.00 | 0.00 | 0.00 | XXX
D5851 |  | N | Denture tiss condtin mandbl | 0.00 | 0.00 | 0.00 | 0.00 | 0.00 | 0.00 | XXX
D5860 |  | N | Overdenture complete | 0.00 | 0.00 | 0.00 | 0.00 | 0.00 | 0.00 | XXX
D5861 |  | N | Overdenture partial | 0.00 | 0.00 | 0.00 | 0.00 | 0.00 | 0.00 | XXX
D5862 |  | N | Precision attachment | 0.00 | 0.00 | 0.00 | 0.00 | 0.00 | 0.00 | XXX
D5867 |  | N | Replacement of precision att | 0.00 | 0.00 | 0.00 | 0.00 | 0.00 | 0.00 | XXX
D5875 |  | N | Prosthesis modification | 0.00 | 0.00 | 0.00 | 0.00 | 0.00 | 0.00 | XXX
D5899 |  | N | Removable prosthodontic proc | 0.00 | 0.00 | 0.00 | 0.00 | 0.00 | 0.00 | XXX
D5911 |  | R | Facial moulage sectional | 0.00 | 0.00 | 0.00 | 0.00 | 0.00 | 0.00 | YYY
D5912 |  | R | Facial moulage complete | 0.00 | 0.00 | 0.00 | 0.00 | 0.00 | 0.00 | YYY
D5913 |  | I | Nasal prosthesis | 0.00 | 0.00 | 0.00 | 0.00 | 0.00 | 0.00 | XXX
D5914 |  | I | Auricular prosthesis | 0.00 | 0.00 | 0.00 | 0.00 | 0.00 | 0.00 | XXX
D5915 |  | I | Orbital prosthesis | 0.00 | 0.00 | 0.00 | 0.00 | 0.00 | 0.00 | XXX
D5916 |  | I | Ocular prosthesis | 0.00 | 0.00 | 0.00 | 0.00 | 0.00 | 0.00 | XXX
D5919 |  | I | Facial prosthesis | 0.00 | 0.00 | 0.00 | 0.00 | 0.00 | 0.00 | XXX
D5922 |  | I | Nasal septal prosthesis | 0.00 | 0.00 | 0.00 | 0.00 | 0.00 | 0.00 | XXX
D5923 |  | I | Ocular prosthesis interim | 0.00 | 0.00 | 0.00 | 0.00 | 0.00 | 0.00 | XXX
D5924 |  | I | Cranial prosthesis | 0.00 | 0.00 | 0.00 | 0.00 | 0.00 | 0.00 | XXX
D5925 |  | I | Facial augmentation implant | 0.00 | 0.00 | 0.00 | 0.00 | 0.00 | 0.00 | XXX
D5926 |  | I | Replacement nasal prosthesis | 0.00 | 0.00 | 0.00 | 0.00 | 0.00 | 0.00 | XXX
D5927 |  | I | Auricular replacement | 0.00 | 0.00 | 0.00 | 0.00 | 0.00 | 0.00 | XXX
D5928 |  | I | Orbital replacement | 0.00 | 0.00 | 0.00 | 0.00 | 0.00 | 0.00 | XXX
D5929 |  | I | Facial replacement | 0.00 | 0.00 | 0.00 | 0.00 | 0.00 | 0.00 | XXX
D5931 |  | I | Surgical obturator | 0.00 | 0.00 | 0.00 | 0.00 | 0.00 | 0.00 | XXX
D5932 |  | I | Postsurgical obturator | 0.00 | 0.00 | 0.00 | 0.00 | 0.00 | 0.00 | XXX
D5933 |  | I | Refitting of obturator | 0.00 | 0.00 | 0.00 | 0.00 | 0.00 | 0.00 | XXX
D5934 |  | I | Mandibular flange prosthesis | 0.00 | 0.00 | 0.00 | 0.00 | 0.00 | 0.00 | XXX
D5935 |  | I | Mandibular denture prosth | 0.00 | 0.00 | 0.00 | 0.00 | 0.00 | 0.00 | XXX
D5936 |  | I | Temp obturator prosthesis | 0.00 | 0.00 | 0.00 | 0.00 | 0.00 | 0.00 | XXX
D5937 |  | I | Trismus appliance | 0.00 | 0.00 | 0.00 | 0.00 | 0.00 | 0.00 | XXX
D5951 |  | R | Feeding aid | 0.00 | 0.00 | 0.00 | 0.00 | 0.00 | 0.00 | YYY
D5952 |  | I | Pediatric speech aid | 0.00 | 0.00 | 0.00 | 0.00 | 0.00 | 0.00 | XXX
D5953 |  | I | Adult speech aid | 0.00 | 0.00 | 0.00 | 0.00 | 0.00 | 0.00 | XXX
D5954 |  | I | Superimposed prosthesis | 0.00 | 0.00 | 0.00 | 0.00 | 0.00 | 0.00 | XXX
D5955 |  | I | Palatal lift prosthesis | 0.00 | 0.00 | 0.00 | 0.00 | 0.00 | 0.00 | XXX
D5958 |  | I | Intraoral con def inter plt | 0.00 | 0.00 | 0.00 | 0.00 | 0.00 | 0.00 | XXX
D5959 |  | I | Intraoral con def mod palat | 0.00 | 0.00 | 0.00 | 0.00 | 0.00 | 0.00 | XXX
D5960 |  | I | Modify speech aid prosthesis | 0.00 | 0.00 | 0.00 | 0.00 | 0.00 | 0.00 | XXX
D5982 |  | I | Surgical stent | 0.00 | 0.00 | 0.00 | 0.00 | 0.00 | 0.00 | XXX
D5983 |  | R | Radiation applicator | 0.00 | 0.00 | 0.00 | 0.00 | 0.00 | 0.00 | YYY
D5984 |  | R | Radiation shield | 0.00 | 0.00 | 0.00 | 0.00 | 0.00 | 0.00 | YYY
D5985 |  | R | Radiation cone locator | 0.00 | 0.00 | 0.00 | 0.00 | 0.00 | 0.00 | YYY
D5986 |  | N | Fluoride applicator | 0.00 | 0.00 | 0.00 | 0.00 | 0.00 | 0.00 | XXX
D5987 |  | R | Commissure splint | 0.00 | 0.00 | 0.00 | 0.00 | 0.00 | 0.00 | YYY
D5988 |  | I | Surgical splint | 0.00 | 0.00 | 0.00 | 0.00 | 0.00 | 0.00 | XXX
D5999 |  | I | Maxillofacial prosthesis | 0.00 | 0.00 | 0.00 | 0.00 | 0.00 | 0.00 | XXX
D6010 |  | I | Odontics endosteal implant | 0.00 | 0.00 | 0.00 | 0.00 | 0.00 | 0.00 | XXX
D6020 |  | I | Odontics abutment placement | 0.00 | 0.00 | 0.00 | 0.00 | 0.00 | 0.00 | XXX
D6040 |  | I | Odontics eposteal implant | 0.00 | 0.00 | 0.00 | 0.00 | 0.00 | 0.00 | XXX
D6050 |  | I | Odontics transosteal implnt | 0.00 | 0.00 | 0.00 | 0.00 | 0.00 | 0.00 | XXX
D6055 |  | I | Implant connecting bar | 0.00 | 0.00 | 0.00 | 0.00 | 0.00 | 0.00 | XXX
D6056 |  | N | Prefabricated abutment | 0.00 | 0.00 | 0.00 | 0.00 | 0.00 | 0.00 | XXX
D6057 |  | N | Custom abutment | 0.00 | 0.00 | 0.00 | 0.00 | 0.00 | 0.00 | XXX
D6058 |  | N | Abutment supported crown | 0.00 | 0.00 | 0.00 | 0.00 | 0.00 | 0.00 | XXX
D6059 |  | N | Abutment supported mtl crown | 0.00 | 0.00 | 0.00 | 0.00 | 0.00 | 0.00 | XXX
D6060 |  | N | Abutment supported mtl crown | 0.00 | 0.00 | 0.00 | 0.00 | 0.00 | 0.00 | XXX
D6061 |  | N | Abutment supported mtl crown | 0.00 | 0.00 | 0.00 | 0.00 | 0.00 | 0.00 | XXX
D6062 |  | N | Abutment supported mtl crown | 0.00 | 0.00 | 0.00 | 0.00 | 0.00 | 0.00 | XXX
D6063 |  | N | Abutment supported mtl crown | 0.00 | 0.00 | 0.00 | 0.00 | 0.00 | 0.00 | XXX
D6064 |  | N | Abutment supported mtl crown | 0.00 | 0.00 | 0.00 | 0.00 | 0.00 | 0.00 | XXX
D6065 |  | N | Implant supported crown | 0.00 | 0.00 | 0.00 | 0.00 | 0.00 | 0.00 | XXX
D6066 |  | N | Implant supported mtl crown | 0.00 | 0.00 | 0.00 | 0.00 | 0.00 | 0.00 | XXX
D6067 |  | N | Implant supported mtl crown | 0.00 | 0.00 | 0.00 | 0.00 | 0.00 | 0.00 | XXX
D6068 |  | N | Abutment supported retainer | 0.00 | 0.00 | 0.00 | 0.00 | 0.00 | 0.00 | XXX
D6069 |  | N | Abutment supported retainer | 0.00 | 0.00 | 0.00 | 0.00 | 0.00 | 0.00 | XXX
D6070 |  | N | Abutment supported retainer | 0.00 | 0.00 | 0.00 | 0.00 | 0.00 | 0.00 | XXX
D6071 |  | N | Abutment supported retainer | 0.00 | 0.00 | 0.00 | 0.00 | 0.00 | 0.00 | XXX
D6072 |  | N | Abutment supported retainer | 0.00 | 0.00 | 0.00 | 0.00 | 0.00 | 0.00 | XXX
D6073 |  | N | Abutment supported retainer | 0.00 | 0.00 | 0.00 | 0.00 | 0.00 | 0.00 | XXX
D6074 |  | N | Abutment supported retainer | 0.00 | 0.00 | 0.00 | 0.00 | 0.00 | 0.00 | XXX
D6075 |  | N | Implant supported retainer | 0.00 | 0.00 | 0.00 | 0.00 | 0.00 | 0.00 | XXX
D6076 |  | N | Implant supported retainer | 0.00 | 0.00 | 0.00 | 0.00 | 0.00 | 0.00 | XXX
D6077 |  | N | Implant supported retainer | 0.00 | 0.00 | 0.00 | 0.00 | 0.00 | 0.00 | XXX
D6078 |  | N | Implnt/abut suprtd fixd dent | 0.00 | 0.00 | 0.00 | 0.00 | 0.00 | 0.00 | XXX
D6079 |  | N | Implnt/abut suprtd fixd dent | 0.00 | 0.00 | 0.00 | 0.00 | 0.00 | 0.00 | XXX
D6080 |  | I | Implant maintenance | 0.00 | 0.00 | 0.00 | 0.00 | 0.00 | 0.00 | XXX
D6090 |  | I | Repair implant | 0.00 | 0.00 | 0.00 | 0.00 | 0.00 | 0.00 | XXX
D6095 |  | I | Odontics repr abutment | 0.00 | 0.00 | 0.00 | 0.00 | 0.00 | 0.00 | XXX
D6100 |  | I | Removal of implant | 0.00 | 0.00 | 0.00 | 0.00 | 0.00 | 0.00 | XXX
D6199 |  | I | Implant procedure | 0.00 | 0.00 | 0.00 | 0.00 | 0.00 | 0.00 | XXX
D6210 |  | N | Prosthodont high noble metal | 0.00 | 0.00 | 0.00 | 0.00 | 0.00 | 0.00 | XXX
D6211 |  | N | Bridge base metal cast | 0.00 | 0.00 | 0.00 | 0.00 | 0.00 | 0.00 | XXX
D6212 |  | N | Bridge noble metal cast | 0.00 | 0.00 | 0.00 | 0.00 | 0.00 | 0.00 | XXX
D6240 |  | N | Bridge porcelain high noble | 0.00 | 0.00 | 0.00 | 0.00 | 0.00 | 0.00 | XXX
D6241 |  | N | Bridge porcelain base metal | 0.00 | 0.00 | 0.00 | 0.00 | 0.00 | 0.00 | XXX
D6242 |  | N | Bridge porcelain nobel metal | 0.00 | 0.00 | 0.00 | 0.00 | 0.00 | 0.00 | XXX
D6245 |  | N | Bridge porcelain/ceramic | 0.00 | 0.00 | 0.00 | 0.00 | 0.00 | 0.00 | XXX
D6250 |  | N | Bridge resin w/high noble | 0.00 | 0.00 | 0.00 | 0.00 | 0.00 | 0.00 | XXX
D6251 |  | N | Bridge resin base metal | 0.00 | 0.00 | 0.00 | 0.00 | 0.00 | 0.00 | XXX
D6252 |  | N | Bridge resin w/noble metal | 0.00 | 0.00 | 0.00 | 0.00 | 0.00 | 0.00 | XXX
D6519 |  | N | Inlay/onlay porce/ceramic | 0.00 | 0.00 | 0.00 | 0.00 | 0.00 | 0.00 | XXX
D6520 |  | N | Dental retainer two surfaces | 0.00 | 0.00 | 0.00 | 0.00 | 0.00 | 0.00 | XXX
D6530 |  | N | Retainer metallic 3+ surface | 0.00 | 0.00 | 0.00 | 0.00 | 0.00 | 0.00 | XXX
D6543 |  | N | Dental retainr onlay 3 surf | 0.00 | 0.00 | 0.00 | 0.00 | 0.00 | 0.00 | XXX
D6544 |  | N | Dental retainr onlay 4/more | 0.00 | 0.00 | 0.00 | 0.00 | 0.00 | 0.00 | XXX
D6545 |  | N | Dental retainr cast metl | 0.00 | 0.00 | 0.00 | 0.00 | 0.00 | 0.00 | XXX
D6548 |  | N | Porcelain/ceramic retainer | 0.00 | 0.00 | 0.00 | 0.00 | 0.00 | 0.00 | XXX
D6720 |  | N | Retain crown resin w/hi nble | 0.00 | 0.00 | 0.00 | 0.00 | 0.00 | 0.00 | XXX
D6721 |  | N | Crown resin w/base metal | 0.00 | 0.00 | 0.00 | 0.00 | 0.00 | 0.00 | XXX
D6722 |  | N | Crown resin w/noble metal | 0.00 | 0.00 | 0.00 | 0.00 | 0.00 | 0.00 | XXX
D6740 |  | N | Crown porcelain/ceramic | 0.00 | 0.00 | 0.00 | 0.00 | 0.00 | 0.00 | XXX
D6750 |  | N | Crown porcelain high noble | 0.00 | 0.00 | 0.00 | 0.00 | 0.00 | 0.00 | XXX
D6751 |  | N | Crown porcelain base metal | 0.00 | 0.00 | 0.00 | 0.00 | 0.00 | 0.00 | XXX
D6752 |  | N | Crown porcelain noble metal | 0.00 | 0.00 | 0.00 | 0.00 | 0.00 | 0.00 | XXX
D6780 |  | N | Crown ¾ high noble metal | 0.00 | 0.00 | 0.00 | 0.00 | 0.00 | 0.00 | XXX
D6781 |  | N | Crown ¾ cast based metal | 0.00 | 0.00 | 0.00 | 0.00 | 0.00 | 0.00 | XXX
D6782 |  | N | Crown ¾ cast noble metal | 0.00 | 0.00 | 0.00 | 0.00 | 0.00 | 0.00 | XXX
D6783 |  | N | Crown ¾ porcelain/ceramic | 0.00 | 0.00 | 0.00 | 0.00 | 0.00 | 0.00 | XXX
D6790 |  | N | Crown full high noble metal | 0.00 | 0.00 | 0.00 | 0.00 | 0.00 | 0.00 | XXX
D6791 |  | N | Crown full base metal cast | 0.00 | 0.00 | 0.00 | 0.00 | 0.00 | 0.00 | XXX
D6792 |  | N | Crown full noble metal cast | 0.00 | 0.00 | 0.00 | 0.00 | 0.00 | 0.00 | XXX
D6920 |  | R | Dental connector bar | 0.00 | 0.00 | 0.00 | 0.00 | 0.00 | 0.00 | YYY
D6930 |  | N | Dental recement bridge | 0.00 | 0.00 | 0.00 | 0.00 | 0.00 | 0.00 | XXX
D6940 |  | N | Stress breaker | 0.00 | 0.00 | 0.00 | 0.00 | 0.00 | 0.00 | XXX
D6950 |  | N | Precision attachment | 0.00 | 0.00 | 0.00 | 0.00 | 0.00 | 0.00 | XXX
D6970 |  | N | Post & core plus retainer | 0.00 | 0.00 | 0.00 | 0.00 | 0.00 | 0.00 | XXX
D6971 |  | N | Cast post bridge retainer | 0.00 | 0.00 | 0.00 | 0.00 | 0.00 | 0.00 | XXX
D6972 |  | N | Prefab post & core plus reta | 0.00 | 0.00 | 0.00 | 0.00 | 0.00 | 0.00 | XXX
D6973 |  | N | Core build up for retainer | 0.00 | 0.00 | 0.00 | 0.00 | 0.00 | 0.00 | XXX
D6975 |  | N | Coping metal | 0.00 | 0.00 | 0.00 | 0.00 | 0.00 | 0.00 | XXX
D6976 |  | N | Each addtnl cast post | 0.00 | 0.00 | 0.00 | 0.00 | 0.00 | 0.00 | XXX
D6977 |  | N | Each addtl prefab post | 0.00 | 0.00 | 0.00 | 0.00 | 0.00 | 0.00 | XXX
D6980 |  | N | Bridge repair | 0.00 | 0.00 | 0.00 | 0.00 | 0.00 | 0.00 | XXX
D6999 |  | N | Fixed prosthodontic proc | 0.00 | 0.00 | 0.00 | 0.00 | 0.00 | 0.00 | XXX
D7110 |  | R | Oral surgery single tooth | 0.00 | 0.00 | 0.00 | 0.00 | 0.00 | 0.00 | YYY
D7120 |  | R | Each add tooth extraction | 0.00 | 0.00 | 0.00 | 0.00 | 0.00 | 0.00 | YYY
D7130 |  | R | Tooth root removal | 0.00 | 0.00 | 0.00 | 0.00 | 0.00 | 0.00 | YYY
D7210 |  | R | Rem imp tooth w/mucoper flp | 0.00 | 0.00 | 0.00 | 0.00 | 0.00 | 0.00 | YYY
D7220 |  | R | Impact tooth remov soft tiss | 0.00 | 0.00 | 0.00 | 0.00 | 0.00 | 0.00 | YYY
D7230 |  | R | Impact tooth remov part bony | 0.00 | 0.00 | 0.00 | 0.00 | 0.00 | 0.00 | YYY
D7240 |  | R | Impact tooth remov comp bony | 0.00 | 0.00 | 0.00 | 0.00 | 0.00 | 0.00 | YYY
D7241 |  | R | Impact tooth rem bony w/comp | 0.00 | 0.00 | 0.00 | 0.00 | 0.00 | 0.00 | YYY
D7250 |  | R | Tooth root removal | 0.00 | 0.00 | 0.00 | 0.00 | 0.00 | 0.00 | YYY
D7260 |  | R | Oral antral fistula closure | 0.00 | 0.00 | 0.00 | 0.00 | 0.00 | 0.00 | YYY
D7270 |  | N | Tooth reimplantation | 0.00 | 0.00 | 0.00 | 0.00 | 0.00 | 0.00 | XXX
D7272 |  | N | Tooth transplantation | 0.00 | 0.00 | 0.00 | 0.00 | 0.00 | 0.00 | XXX
D7280 |  | N | Exposure impact tooth orthod | 0.00 | 0.00 | 0.00 | 0.00 | 0.00 | 0.00 | XXX
D7281 |  | N | Exposure tooth aid eruption | 0.00 | 0.00 | 0.00 | 0.00 | 0.00 | 0.00 | XXX
D7285 |  | I | Biopsy of oral tissue hard | 0.00 | 0.00 | 0.00 | 0.00 | 0.00 | 0.00 | XXX
D7286 |  | I | Biopsy of oral tissue soft | 0.00 | 0.00 | 0.00 | 0.00 | 0.00 | 0.00 | XXX
D7290 |  | N | Repositioning of teeth | 0.00 | 0.00 | 0.00 | 0.00 | 0.00 | 0.00 | XXX
D7291 |  | R | Transseptal fiberotomy | 0.00 | 0.00 | 0.00 | 0.00 | 0.00 | 0.00 | YYY
D7310 |  | I | Alveoplasty w/ extraction | 0.00 | 0.00 | 0.00 | 0.00 | 0.00 | 0.00 | XXX
D7320 |  | I | Alveoplasty w/o extraction | 0.00 | 0.00 | 0.00 | 0.00 | 0.00 | 0.00 | XXX
D7340 |  | I | Vestibuloplasty ridge extens | 0.00 | 0.00 | 0.00 | 0.00 | 0.00 | 0.00 | XXX
D7350 |  | I | Vestibuloplasty exten graft | 0.00 | 0.00 | 0.00 | 0.00 | 0.00 | 0.00 | XXX
D7410 |  | I | Rad exc lesion up to 1.25 cm | 0.00 | 0.00 | 0.00 | 0.00 | 0.00 | 0.00 | XXX
D7420 |  | I | Lesion > 1.25 cm | 0.00 | 0.00 | 0.00 | 0.00 | 0.00 | 0.00 | XXX
D7430 |  | I | Exc benign tumor to 1.25 cm | 0.00 | 0.00 | 0.00 | 0.00 | 0.00 | 0.00 | XXX
D7431 |  | I | Benign tumor exc > 1.25 cm | 0.00 | 0.00 | 0.00 | 0.00 | 0.00 | 0.00 | XXX
D7440 |  | I | Malig tumor exc to 1.25 cm | 0.00 | 0.00 | 0.00 | 0.00 | 0.00 | 0.00 | XXX
D7441 |  | I | Malig tumor > 1.25 cm | 0.00 | 0.00 | 0.00 | 0.00 | 0.00 | 0.00 | XXX
D7450 |  | I | Rem odontogen cyst to 1.25 cm | 0.00 | 0.00 | 0.00 | 0.00 | 0.00 | 0.00 | XXX
D7451 |  | I | Rem odontogen cyst > 1.25 cm | 0.00 | 0.00 | 0.00 | 0.00 | 0.00 | 0.00 | XXX
D7460 |  | I | Rem nonodonto cyst to 1.25 cm | 0.00 | 0.00 | 0.00 | 0.00 | 0.00 | 0.00 | XXX
D7461 |  | I | Rem nonodonto cyst > 1.25 cm | 0.00 | 0.00 | 0.00 | 0.00 | 0.00 | 0.00 | XXX
D7465 |  | I | Lesion destruction | 0.00 | 0.00 | 0.00 | 0.00 | 0.00 | 0.00 | XXX
D7471 |  | I | Rem exostosis any site | 0.00 | 0.00 | 0.00 | 0.00 | 0.00 | 0.00 | XXX
D7480 |  | I | Partial ostectomy | 0.00 | 0.00 | 0.00 | 0.00 | 0.00 | 0.00 | XXX
D7490 |  | I | Mandible resection | 0.00 | 0.00 | 0.00 | 0.00 | 0.00 | 0.00 | XXX
D7510 |  | I | I&d absc intraoral soft tiss | 0.00 | 0.00 | 0.00 | 0.00 | 0.00 | 0.00 | XXX
D7520 |  | I | I&d abscess extraoral | 0.00 | 0.00 | 0.00 | 0.00 | 0.00 | 0.00 | XXX
D7530 |  | I | Removal fb skin/areolar tiss | 0.00 | 0.00 | 0.00 | 0.00 | 0.00 | 0.00 | XXX
D7540 |  | I | Removal of fb reaction | 0.00 | 0.00 | 0.00 | 0.00 | 0.00 | 0.00 | XXX
D7550 |  | I | Removal of sloughed off bone | 0.00 | 0.00 | 0.00 | 0.00 | 0.00 | 0.00 | XXX
D7560 |  | I | Maxillary sinusotomy | 0.00 | 0.00 | 0.00 | 0.00 | 0.00 | 0.00 | XXX
D7610 |  | I | Maxilla open reduct simple | 0.00 | 0.00 | 0.00 | 0.00 | 0.00 | 0.00 | XXX
D7620 |  | I | Clsd reduct simpl maxilla fx | 0.00 | 0.00 | 0.00 | 0.00 | 0.00 | 0.00 | XXX
D7630 |  | I | Open red simpl mandible fx | 0.00 | 0.00 | 0.00 | 0.00 | 0.00 | 0.00 | XXX
D7640 |  | I | Clsd red simpl mandible fx | 0.00 | 0.00 | 0.00 | 0.00 | 0.00 | 0.00 | XXX
D7650 |  | I | Open red simp malar/zygom fx | 0.00 | 0.00 | 0.00 | 0.00 | 0.00 | 0.00 | XXX
D7660 |  | I | Clsd red simp malar/zygom fx | 0.00 | 0.00 | 0.00 | 0.00 | 0.00 | 0.00 | XXX
D7670 |  | I | Closd rductn splint alveolus | 0.00 | 0.00 | 0.00 | 0.00 | 0.00 | 0.00 | XXX
D7680 |  | I | Reduct simple facial bone fx | 0.00 | 0.00 | 0.00 | 0.00 | 0.00 | 0.00 | XXX
D7710 |  | I | Maxilla open reduct compound | 0.00 | 0.00 | 0.00 | 0.00 | 0.00 | 0.00 | XXX
D7720 |  | I | Clsd reduct compd maxilla fx | 0.00 | 0.00 | 0.00 | 0.00 | 0.00 | 0.00 | XXX
D7730 |  | I | Open reduct compd mandble fx | 0.00 | 0.00 | 0.00 | 0.00 | 0.00 | 0.00 | XXX
D7740 |  | I | Clsd reduct compd mandble fx | 0.00 | 0.00 | 0.00 | 0.00 | 0.00 | 0.00 | XXX
D7750 |  | I | Open red comp malar/zygma fx | 0.00 | 0.00 | 0.00 | 0.00 | 0.00 | 0.00 | XXX
D7760 |  | I | Clsd red comp malar/zygma fx | 0.00 | 0.00 | 0.00 | 0.00 | 0.00 | 0.00 | XXX
D7770 |  | I | Open reduc compd alveolus fx | 0.00 | 0.00 | 0.00 | 0.00 | 0.00 | 0.00 | XXX
D7780 |  | I | Reduct compnd facial bone fx | 0.00 | 0.00 | 0.00 | 0.00 | 0.00 | 0.00 | XXX
D7810 |  | I | Tmj open reduct-dislocation | 0.00 | 0.00 | 0.00 | 0.00 | 0.00 | 0.00 | XXX
D7820 |  | I | Closed tmp manipulation | 0.00 | 0.00 | 0.00 | 0.00 | 0.00 | 0.00 | XXX
D7830 |  | I | Tmj manipulation under anest | 0.00 | 0.00 | 0.00 | 0.00 | 0.00 | 0.00 | XXX
D7840 |  | I | Removal of tmj condyle | 0.00 | 0.00 | 0.00 | 0.00 | 0.00 | 0.00 | XXX
D7850 |  | I | Tmj meniscectomy | 0.00 | 0.00 | 0.00 | 0.00 | 0.00 | 0.00 | XXX
D7852 |  | I | Tmj repair of joint disc | 0.00 | 0.00 | 0.00 | 0.00 | 0.00 | 0.00 | XXX
D7854 |  | I | Tmj excisn of joint membrane | 0.00 | 0.00 | 0.00 | 0.00 | 0.00 | 0.00 | XXX
D7856 |  | I | Tmj cutting of a muscle | 0.00 | 0.00 | 0.00 | 0.00 | 0.00 | 0.00 | XXX
D7858 |  | I | Tmj reconstruction | 0.00 | 0.00 | 0.00 | 0.00 | 0.00 | 0.00 | XXX
D7860 |  | I | Tmj cutting into joint | 0.00 | 0.00 | 0.00 | 0.00 | 0.00 | 0.00 | XXX
D7865 |  | I | Tmj reshaping components | 0.00 | 0.00 | 0.00 | 0.00 | 0.00 | 0.00 | XXX
D7870 |  | I | Tmj aspiration joint fluid | 0.00 | 0.00 | 0.00 | 0.00 | 0.00 | 0.00 | XXX
D7871 |  | N | Lysis + lavage w catheters | 0.00 | 0.00 | 0.00 | 0.00 | 0.00 | 0.00 | XXX
D7872 |  | I | Tmj diagnostic arthroscopy | 0.00 | 0.00 | 0.00 | 0.00 | 0.00 | 0.00 | XXX
D7873 |  | I | Tmj arthroscopy lysis adhesn | 0.00 | 0.00 | 0.00 | 0.00 | 0.00 | 0.00 | XXX
D7874 |  | I | Tmj arthroscopy disc reposit | 0.00 | 0.00 | 0.00 | 0.00 | 0.00 | 0.00 | XXX
D7875 |  | I | Tmj arthroscopy synovectomy | 0.00 | 0.00 | 0.00 | 0.00 | 0.00 | 0.00 | XXX
D7876 |  | I | Tmj arthroscopy discectomy | 0.00 | 0.00 | 0.00 | 0.00 | 0.00 | 0.00 | XXX
D7877 |  | I | Tmj arthroscopy debridement | 0.00 | 0.00 | 0.00 | 0.00 | 0.00 | 0.00 | XXX
D7880 |  | I | Occlusal orthotic appliance | 0.00 | 0.00 | 0.00 | 0.00 | 0.00 | 0.00 | XXX
D7899 |  | I | Tmj unspecified therapy | 0.00 | 0.00 | 0.00 | 0.00 | 0.00 | 0.00 | XXX
D7910 |  | I | Dent sutur recent wnd to 5 cm | 0.00 | 0.00 | 0.00 | 0.00 | 0.00 | 0.00 | XXX
D7911 |  | I | Dental suture wound to 5 cm | 0.00 | 0.00 | 0.00 | 0.00 | 0.00 | 0.00 | XXX
D7912 |  | I | Suture complicate wnd > 5 cm | 0.00 | 0.00 | 0.00 | 0.00 | 0.00 | 0.00 | XXX
D7920 |  | I | Dental skin graft | 0.00 | 0.00 | 0.00 | 0.00 | 0.00 | 0.00 | XXX
D7940 |  | R | Reshaping bone orthognathic | 0.00 | 0.00 | 0.00 | 0.00 | 0.00 | 0.00 | YYY
D7941 |  | I | Bone cutting ramus closed | 0.00 | 0.00 | 0.00 | 0.00 | 0.00 | 0.00 | XXX
D7943 |  | I | Cutting ramus open w/graft | 0.00 | 0.00 | 0.00 | 0.00 | 0.00 | 0.00 | XXX
D7944 |  | I | Bone cutting segmented | 0.00 | 0.00 | 0.00 | 0.00 | 0.00 | 0.00 | XXX
D7945 |  | I | Bone cutting body mandible | 0.00 | 0.00 | 0.00 | 0.00 | 0.00 | 0.00 | XXX
D7946 |  | I | Reconstruction maxilla total | 0.00 | 0.00 | 0.00 | 0.00 | 0.00 | 0.00 | XXX
D7947 |  | I | Reconstruct maxilla segment | 0.00 | 0.00 | 0.00 | 0.00 | 0.00 | 0.00 | XXX
D7948 |  | I | Reconstruct midface no graft | 0.00 | 0.00 | 0.00 | 0.00 | 0.00 | 0.00 | XXX
D7949 |  | I | Reconstruct midface w/graft | 0.00 | 0.00 | 0.00 | 0.00 | 0.00 | 0.00 | XXX
D7950 |  | I | Mandible graft | 0.00 | 0.00 | 0.00 | 0.00 | 0.00 | 0.00 | XXX
D7955 |  | I | Repair maxillofacial defects | 0.00 | 0.00 | 0.00 | 0.00 | 0.00 | 0.00 | XXX
D7960 |  | I | Frenulectomy/frenulotomy | 0.00 | 0.00 | 0.00 | 0.00 | 0.00 | 0.00 | XXX
D7970 |  | I | Excision hyperplastic tissue | 0.00 | 0.00 | 0.00 | 0.00 | 0.00 | 0.00 | XXX
D7971 |  | I | Excision pericoronal gingiva | 0.00 | 0.00 | 0.00 | 0.00 | 0.00 | 0.00 | XXX
D7980 |  | I | Sialolithotomy | 0.00 | 0.00 | 0.00 | 0.00 | 0.00 | 0.00 | XXX
D7981 |  | I | Excision of salivary gland | 0.00 | 0.00 | 0.00 | 0.00 | 0.00 | 0.00 | XXX
D7982 |  | I | Sialodochoplasty | 0.00 | 0.00 | 0.00 | 0.00 | 0.00 | 0.00 | XXX
D7983 |  | I | Closure of salivary fistula | 0.00 | 0.00 | 0.00 | 0.00 | 0.00 | 0.00 | XXX
D7990 |  | I | Emergency tracheotomy | 0.00 | 0.00 | 0.00 | 0.00 | 0.00 | 0.00 | XXX
D7991 |  | I | Dental coronoidectomy | 0.00 | 0.00 | 0.00 | 0.00 | 0.00 | 0.00 | XXX
D7995 |  | I | Synthetic graft facial bones | 0.00 | 0.00 | 0.00 | 0.00 | 0.00 | 0.00 | XXX
D7996 |  | I | Implant mandible for augment | 0.00 | 0.00 | 0.00 | 0.00 | 0.00 | 0.00 | XXX
D7997 |  | N | Appliance removal | 0.00 | 0.00 | 0.00 | 0.00 | 0.00 | 0.00 | XXX
D7999 |  | I | Oral surgery procedure | 0.00 | 0.00 | 0.00 | 0.00 | 0.00 | 0.00 | XXX
D8010 |  | N | Limited dental tx primary | 0.00 | 0.00 | 0.00 | 0.00 | 0.00 | 0.00 | XXX
D8020 |  | N | Limited dental tx transition | 0.00 | 0.00 | 0.00 | 0.00 | 0.00 | 0.00 | XXX
D8030 |  | N | Limited dental tx adolescent | 0.00 | 0.00 | 0.00 | 0.00 | 0.00 | 0.00 | XXX
D8040 |  | N | Limited dental tx adult | 0.00 | 0.00 | 0.00 | 0.00 | 0.00 | 0.00 | XXX
D8050 |  | N | Intercep dental tx primary | 0.00 | 0.00 | 0.00 | 0.00 | 0.00 | 0.00 | XXX
D8060 |  | N | Intercep dental tx transitn | 0.00 | 0.00 | 0.00 | 0.00 | 0.00 | 0.00 | XXX
D8070 |  | N | Compre dental tx transition | 0.00 | 0.00 | 0.00 | 0.00 | 0.00 | 0.00 | XXX
D8080 |  | N | Compre dental tx adolescent | 0.00 | 0.00 | 0.00 | 0.00 | 0.00 | 0.00 | XXX
D8090 |  | N | Compre dental tx adult | 0.00 | 0.00 | 0.00 | 0.00 | 0.00 | 0.00 | XXX
D8210 |  | N | Orthodontic rem appliance tx | 0.00 | 0.00 | 0.00 | 0.00 | 0.00 | 0.00 | XXX
D8220 |  | N | Fixed appliance therapy habt | 0.00 | 0.00 | 0.00 | 0.00 | 0.00 | 0.00 | XXX
D8660 |  | N | Preorthodontic tx visit | 0.00 | 0.00 | 0.00 | 0.00 | 0.00 | 0.00 | XXX
D8670 |  | N | Periodic orthodontc tx visit | 0.00 | 0.00 | 0.00 | 0.00 | 0.00 | 0.00 | XXX
D8680 |  | N | Orthodontic retention | 0.00 | 0.00 | 0.00 | 0.00 | 0.00 | 0.00 | XXX
D8690 |  | N | Orthodontic treatment | 0.00 | 0.00 | 0.00 | 0.00 | 0.00 | 0.00 | XXX
D8691 |  | N | Repair ortho appliance | 0.00 | 0.00 | 0.00 | 0.00 | 0.00 | 0.00 | XXX
D8692 |  | N | Replacement retainer | 0.00 | 0.00 | 0.00 | 0.00 | 0.00 | 0.00 | XXX
D8999 |  | N | Orthodontic procedure | 0.00 | 0.00 | 0.00 | 0.00 | 0.00 | 0.00 | XXX
D9110 |  | R | Tx dental pain minor proc | 0.00 | 0.00 | 0.00 | 0.00 | 0.00 | 0.00 | YYY
D9210 |  | I | Dent anesthesia w/o surgery | 0.00 | 0.00 | 0.00 | 0.00 | 0.00 | 0.00 | XXX
D9211 |  | I | Regional block anesthesia | 0.00 | 0.00 | 0.00 | 0.00 | 0.00 | 0.00 | XXX
D9212 |  | I | Trigeminal block anesthesia | 0.00 | 0.00 | 0.00 | 0.00 | 0.00 | 0.00 | XXX
D9215 |  | I | Local anesthesia | 0.00 | 0.00 | 0.00 | 0.00 | 0.00 | 0.00 | XXX
D9220 |  | I | General anesthesia | 0.00 | 0.00 | 0.00 | 0.00 | 0.00 | 0.00 | XXX
D9221 |  | I | General anesthesia ea ad 15m | 0.00 | 0.00 | 0.00 | 0.00 | 0.00 | 0.00 | XXX
D9230 |  | R | Analgesia | 0.00 | 0.00 | 0.00 | 0.00 | 0.00 | 0.00 | YYY
D9241 |  | I | Intravenous sedation | 0.00 | 0.00 | 0.00 | 0.00 | 0.00 | 0.00 | XXX
D9242 |  | I | IV sedation ea ad 30 m | 0.00 | 0.00 | 0.00 | 0.00 | 0.00 | 0.00 | XXX
D9248 |  | R | Sedation (non-iv) | 0.00 | 0.00 | 0.00 | 0.00 | 0.00 | 0.00 | XXX
D9310 |  | I | Dental consultation | 0.00 | 0.00 | 0.00 | 0.00 | 0.00 | 0.00 | XXX
D9410 |  | I | Dental house call | 0.00 | 0.00 | 0.00 | 0.00 | 0.00 | 0.00 | XXX
D9420 |  | I | Hospital call | 0.00 | 0.00 | 0.00 | 0.00 | 0.00 | 0.00 | XXX
D9430 |  | I | Office visit during hours | 0.00 | 0.00 | 0.00 | 0.00 | 0.00 | 0.00 | XXX
D9440 |  | I | Office visit after hours | 0.00 | 0.00 | 0.00 | 0.00 | 0.00 | 0.00 | XXX
D9610 |  | I | Dent therapeutic drug inject | 0.00 | 0.00 | 0.00 | 0.00 | 0.00 | 0.00 | XXX
D9630 |  | R | Other drugs/medicaments | 0.00 | 0.00 | 0.00 | 0.00 | 0.00 | 0.00 | YYY
D9910 |  | N | Dent appl desensitizing med | 0.00 | 0.00 | 0.00 | 0.00 | 0.00 | 0.00 | XXX
D9911 |  | N | Appl desensitizing resin | 0.00 | 0.00 | 0.00 | 0.00 | 0.00 | 0.00 | XXX
D9920 |  | N | Behavior management | 0.00 | 0.00 | 0.00 | 0.00 | 0.00 | 0.00 | XXX
D9930 |  | R | Treatment of complications | 0.00 | 0.00 | 0.00 | 0.00 | 0.00 | 0.00 | YYY
D9940 |  | R | Dental occlusal guard | 0.00 | 0.00 | 0.00 | 0.00 | 0.00 | 0.00 | YYY
D9941 |  | N | Fabrication athletic guard | 0.00 | 0.00 | 0.00 | 0.00 | 0.00 | 0.00 | XXX
D9950 |  | R | Occlusion analysis | 0.00 | 0.00 | 0.00 | 0.00 | 0.00 | 0.00 | YYY
D9951 |  | R | Limited occlusal adjustment | 0.00 | 0.00 | 0.00 | 0.00 | 0.00 | 0.00 | YYY
D9952 |  | R | Complete occlusal adjustment | 0.00 | 0.00 | 0.00 | 0.00 | 0.00 | 0.00 | YYY
D9970 |  | N | Enamel microabrasion | 0.00 | 0.00 | 0.00 | 0.00 | 0.00 | 0.00 | XXX
D9971 |  | N | Odontoplasty 1-2 teeth | 0.00 | 0.00 | 0.00 | 0.00 | 0.00 | 0.00 | XXX
D9972 |  | N | Extrnl bleaching per arch | 0.00 | 0.00 | 0.00 | 0.00 | 0.00 | 0.00 | XXX
D9973 |  | N | Extrnl bleaching per tooth | 0.00 | 0.00 | 0.00 | 0.00 | 0.00 | 0.00 | XXX
D9974 |  | N | Intrnl bleaching per tooth | 0.00 | 0.00 | 0.00 | 0.00 | 0.00 | 0.00 | XXX
D9999 |  | I | Adjunctive procedure | 0.00 | 0.00 | 0.00 | 0.00 | 0.00 | 0.00 | XXX
G0001 |  | X | Drawing blood for specimen | 0.00 | 0.00 | 0.00 | 0.00 | 0.00 | 0.00 | XXX
G0002 |  | A | Temporary urinary catheter | 0.50 | 3.32 | 0.17 | 0.03 | 3.85 | 0.70 | 000
G0004 |  | A | ECG transm phys review & int | 0.52 | 7.10 | NA | 0.45 | 8.07 | NA | XXX
G0005 |  | A | ECG 24 hour recording | 0.00 | 1.18 | NA | 0.07 | 1.25 | NA | XXX
G0006 |  | A | ECG transmission & analysis | 0.00 | 5.71 | NA | 0.36 | 6.07 | NA | XXX
G0007 |  | A | ECG phy review & interpret | 0.52 | 0.21 | 0.21 | 0.02 | 0.75 | 0.75 | XXX
G0008 |  | X | Admin influenza virus vac | 0.00 | 0.00 | 0.00 | 0.00 | 0.00 | 0.00 | XXX
G0009 |  | X | Admin pneumococcal vaccine | 0.00 | 0.00 | 0.00 | 0.00 | 0.00 | 0.00 | XXX
G0010 |  | X | Admin hepatitis b vaccine | 0.00 | 0.00 | 0.00 | 0.00 | 0.00 | 0.00 | XXX
G0015 |  | A | Post symptom ECG tracing | 0.00 | 5.71 | NA | 0.36 | 6.07 | NA | XXX
G0016 |  | D | Post symptom ECG md review | 0.00 | 0.00 | 0.00 | 0.00 | 0.00 | 0.00 | XXX
G0025 |  | I | Collagen skin test kit | 0.00 | 0.00 | 0.00 | 0.00 | 0.00 | 0.00 | XXX
G0026 |  | X | Fecal leukocyte examination | 0.00 | 0.00 | 0.00 | 0.00 | 0.00 | 0.00 | XXX
G0027 |  | X | Semen analysis | 0.00 | 0.00 | 0.00 | 0.00 | 0.00 | 0.00 | XXX
G0030 |  | C | PET imaging prev PET single | 0.00 | 0.00 | 0.00 | 0.00 | 0.00 | 0.00 | XXX
G0030 | 26 | A | PET imaging prev PET single | 1.50 | 0.52 | 0.52 | 0.04 | 2.06 | 2.06 | XXX
G0030 | TC | C | PET imaging prev PET single | 0.00 | 0.00 | 0.00 | 0.00 | 0.00 | 0.00 | XXX
G0031 |  | C | PET imaging prev PET multple | 0.00 | 0.00 | 0.00 | 0.00 | 0.00 | 0.00 | XXX
G0031 | 26 | A | PET imaging prev PET multple | 1.87 | 0.70 | 0.70 | 0.06 | 2.63 | 2.63 | XXX
G0031 | TC | C | PET imaging prev PET multple | 0.00 | 0.00 | 0.00 | 0.00 | 0.00 | 0.00 | XXX
G0032 |  | C | PET follow SPECT 78464 singl | 0.00 | 0.00 | 0.00 | 0.00 | 0.00 | 0.00 | XXX
G0032 | 26 | A | PET follow SPECT 78464 singl | 1.50 | 0.52 | 0.52 | 0.05 | 2.07 | 2.07 | XXX
G0032 | TC | C | PET follow SPECT 78464 singl | 0.00 | 0.00 | 0.00 | 0.00 | 0.00 | 0.00 | XXX
G0033 |  | C | PET follow SPECT 78464 mult | 0.00 | 0.00 | 0.00 | 0.00 | 0.00 | 0.00 | XXX
G0033 | 26 | A | PET follow SPECT 78464 mult | 1.87 | 0.70 | 0.70 | 0.06 | 2.63 | 2.63 | XXX
G0033 | TC | C | PET follow SPECT 78464 mult | 0.00 | 0.00 | 0.00 | 0.00 | 0.00 | 0.00 | XXX
G0034 |  | C | PET follow SPECT 76865 singl | 0.00 | 0.00 | 0.00 | 0.00 | 0.00 | 0.00 | XXX
G0034 | 26 | A | PET follow SPECT 76865 singl | 1.50 | 0.52 | 0.52 | 0.05 | 2.07 | 2.07 | XXX
G0034 | TC | C | PET follow SPECT 76865 singl | 0.00 | 0.00 | 0.00 | 0.00 | 0.00 | 0.00 | XXX
G0035 |  | C | PET follow SPECT 78465 mult | 0.00 | 0.00 | 0.00 | 0.00 | 0.00 | 0.00 | XXX
G0035 | 26 | A | PET follow SPECT 78465 mult | 1.87 | 0.70 | 0.70 | 0.06 | 2.63 | 2.63 | XXX
G0035 | TC | C | PET follow SPECT 78465 mult | 0.00 | 0.00 | 0.00 | 0.00 | 0.00 | 0.00 | XXX
G0036 |  | C | PET follow cornry angio sing | 0.00 | 0.00 | 0.00 | 0.00 | 0.00 | 0.00 | XXX
G0036 | 26 | A | PET follow cornry angio sing | 1.50 | 0.52 | 0.52 | 0.04 | 2.06 | 2.06 | XXX
G0036 | TC | C | PET follow cornry angio sing | 0.00 | 0.00 | 0.00 | 0.00 | 0.00 | 0.00 | XXX
G0037 |  | C | PET follow cornry angio mult | 0.00 | 0.00 | 0.00 | 0.00 | 0.00 | 0.00 | XXX
G0037 | 26 | A | PET follow cornry angio mult | 1.87 | 0.70 | 0.70 | 0.06 | 2.63 | 2.63 | XXX
G0037 | TC | C | PET follow cornry angio mult | 0.00 | 0.00 | 0.00 | 0.00 | 0.00 | 0.00 | XXX
G0038 |  | C | PET follow myocard perf sing | 0.00 | 0.00 | 0.00 | 0.00 | 0.00 | 0.00 | XXX
G0038 | 26 | A | PET follow myocard perf sing | 1.50 | 0.52 | 0.52 | 0.04 | 2.06 | 2.06 | XXX
G0038 | TC | C | PET follow myocard perf sing | 0.00 | 0.00 | 0.00 | 0.00 | 0.00 | 0.00 | XXX
G0039 |  | C | PET follow myocard perf mult | 0.00 | 0.00 | 0.00 | 0.00 | 0.00 | 0.00 | XXX
G0039 | 26 | A | PET follow myocard perf mult | 1.87 | 0.70 | 0.70 | 0.07 | 2.64 | 2.64 | XXX
G0039 | TC | C | PET follow myocard perf mult | 0.00 | 0.00 | 0.00 | 0.00 | 0.00 | 0.00 | XXX
G0040 |  | C | PET follow stress echo singl | 0.00 | 0.00 | 0.00 | 0.00 | 0.00 | 0.00 | XXX
G0040 | 26 | A | PET follow stress echo singl | 1.50 | 0.52 | 0.52 | 0.04 | 2.06 | 2.06 | XXX
G0040 | TC | C | PET follow stress echo singl | 0.00 | 0.00 | 0.00 | 0.00 | 0.00 | 0.00 | XXX
G0041 |  | C | PET follow stress echo mult | 0.00 | 0.00 | 0.00 | 0.00 | 0.00 | 0.00 | XXX
G0041 | 26 | A | PET follow stress echo mult | 1.87 | 0.70 | 0.70 | 0.05 | 2.62 | 2.62 | XXX
G0041 | TC | C | PET follow stress echo mult | 0.00 | 0.00 | 0.00 | 0.00 | 0.00 | 0.00 | XXX
G0042 |  | C | PET follow ventriculogm sing | 0.00 | 0.00 | 0.00 | 0.00 | 0.00 | 0.00 | XXX
G0042 | 26 | A | PET follow ventriculogm sing | 1.50 | 0.52 | 0.52 | 0.04 | 2.06 | 2.06 | XXX
G0042 | TC | C | PET follow ventriculogm sing | 0.00 | 0.00 | 0.00 | 0.00 | 0.00 | 0.00 | XXX
G0043 |  | C | PET follow ventriculogm mult | 0.00 | 0.00 | 0.00 | 0.00 | 0.00 | 0.00 | XXX
G0043 | 26 | A | PET follow ventriculogm mult | 1.87 | 0.70 | 0.70 | 0.06 | 2.63 | 2.63 | XXX
G0043 | TC | C | PET follow ventriculogm mult | 0.00 | 0.00 | 0.00 | 0.00 | 0.00 | 0.00 | XXX
G0044 |  | C | PET following rest ECG singl | 0.00 | 0.00 | 0.00 | 0.00 | 0.00 | 0.00 | XXX
G0044 | 26 | A | PET following rest ECG singl | 1.50 | 0.52 | 0.52 | 0.04 | 2.06 | 2.06 | XXX
G0044 | TC | C | PET following rest ECG singl | 0.00 | 0.00 | 0.00 | 0.00 | 0.00 | 0.00 | XXX
G0045 |  | C | PET following rest ECG mult | 0.00 | 0.00 | 0.00 | 0.00 | 0.00 | 0.00 | XXX
G0045 | 26 | A | PET following rest ECG mult | 1.87 | 0.70 | 0.70 | 0.06 | 2.63 | 2.63 | XXX
G0045 | TC | C | PET following rest ECG mult | 0.00 | 0.00 | 0.00 | 0.00 | 0.00 | 0.00 | XXX
G0046 |  | C | PET follow stress ECG singl | 0.00 | 0.00 | 0.00 | 0.00 | 0.00 | 0.00 | XXX
G0046 | 26 | A | PET follow stress ECG singl | 1.50 | 0.52 | 0.52 | 0.04 | 2.06 | 2.06 | XXX
G0046 | TC | C | PET follow stress ECG singl | 0.00 | 0.00 | 0.00 | 0.00 | 0.00 | 0.00 | XXX
G0047 |  | C | PET follow stress ECG mult | 0.00 | 0.00 | 0.00 | 0.00 | 0.00 | 0.00 | XXX
G0047 | 26 | A | PET follow stress ECG mult | 1.87 | 0.70 | 0.70 | 0.06 | 2.63 | 2.63 | XXX
G0047 | TC | C | PET follow stress ECG mult | 0.00 | 0.00 | 0.00 | 0.00 | 0.00 | 0.00 | XXX
G0050 |  | A | Residual urine by ultrasound | 0.00 | 0.81 | NA | 0.04 | 0.85 | NA | XXX
G0101 |  | A | CA screen; pelvic/breast exam | 0.45 | 0.52 | 0.18 | 0.01 | 0.98 | 0.64 | XXX
G0102 |  | A | Prostate ca screening; dre | 0.17 | 0.38 | 0.06 | 0.01 | 0.56 | 0.24 | XXX
G0103 |  | X | Psa, total screening | 0.00 | 0.00 | 0.00 | 0.00 | 0.00 | 0.00 | XXX
G0104 |  | A | CA screen; flexi sigmoidscope | 0.96 | 1.92 | 0.53 | 0.05 | 2.93 | 1.54 | 000
G0105 |  | A | Colorectal scrn; hi risk ind | 3.70 | 8.79 | 1.77 | 0.20 | 12.69 | 5.67 | 000
G0106 |  | A | Colon CA screen; barium enema | 0.99 | 2.47 | NA | 0.15 | 3.61 | NA | XXX
G0106 | 26 | A | Colon CA screen; barium enema | 0.99 | 0.35 | 0.35 | 0.04 | 1.38 | 1.38 | XXX
G0106 | TC | A | Colon CA screen; barium enema | 0.00 | 2.12 | NA | 0.11 | 2.23 | NA | XXX
G0107 |  | X | CA screen; fecal blood test | 0.00 | 0.00 | 0.00 | 0.00 | 0.00 | 0.00 | XXX
G0108 |  | A | Diab manage trn per indiv | 0.00 | 1.64 | NA | 0.01 | 1.65 | NA | XXX
G0109 |  | A | Diab manage trn ind/group | 0.00 | 0.96 | NA | 0.01 | 0.97 | NA | XXX
G0110 |  | R | Nett pulm-rehab educ; ind | 0.90 | 0.67 | 0.36 | 0.03 | 1.60 | 1.29 | XXX
G0111 |  | R | Nett pulm-rehab educ; group | 0.27 | 0.29 | 0.11 | 0.01 | 0.57 | 0.39 | XXX
G0112 |  | R | Nett; nutrition guid, initial | 1.72 | 1.24 | 0.69 | 0.05 | 3.01 | 2.46 | XXX
G0113 |  | R | Nett; nutrition guid, subseqnt | 1.29 | 0.97 | 0.51 | 0.04 | 2.30 | 1.84 | XXX
G0114 |  | R | Nett; psychosocial consult | 1.20 | 0.49 | 0.48 | 0.03 | 1.72 | 1.71 | XXX
G0115 |  | R | Nett; psychological testing | 1.20 | 0.57 | 0.48 | 0.04 | 1.81 | 1.72 | XXX
G0116 |  | R | Nett; psychosocial counsel | 1.11 | 0.69 | 0.44 | 0.04 | 1.84 | 1.59 | XXX
G0117 |  | T | Glaucoma scrn hgh risk direc | 0.45 | 0.97 | 0.22 | 0.02 | 1.44 | 0.69 | XXX
G0118 |  | T | Glaucoma scrn hgh risk direc | 0.17 | 0.84 | 0.08 | 0.01 | 1.02 | 0.26 | XXX
G0120 |  | A | Colon ca scrn; barium enema | 0.99 | 2.47 | NA | 0.15 | 3.61 | NA | XXX
G0120 | 26 | A | Colon ca scrn; barium enema | 0.99 | 0.35 | 0.35 | 0.04 | 1.38 | 1.38 | XXX
G0120 | TC | A | Colon ca scrn; barium enema | 0.00 | 2.12 | NA | 0.11 | 2.23 | NA | XXX
G0121 |  | A | Colon ca scrn not hi rsk ind | 3.70 | 8.79 | 1.77 | 0.20 | 12.69 | 5.67 | 000
G0122 |  | N | Colon ca scrn; barium enema | +0.99 | 2.52 | NA | 0.15 | 3.66 | NA | XXX
G0122 | 26 | N | Colon ca scrn; barium enema | +0.99 | 0.40 | 0.40 | 0.04 | 1.43 | 1.43 | XXX
G0122 | TC | N | Colon ca scrn; barium enema | +0.00 | 2.12 | NA | 0.11 | 2.23 | NA | XXX
G0123 |  | X | Screen cerv/vag thin layer | 0.00 | 0.00 | 0.00 | 0.00 | 0.00 | 0.00 | XXX
G0124 |  | A | Screen c/v thin layer by MD | 0.42 | 0.19 | 0.19 | 0.01 | 0.62 | 0.62 | XXX
G0125 |  | A | PET img WhBD sgl pulm ring | 1.50 | 56.10 | NA | 2.00 | 59.60 | NA | XXX
G0125 | 26 | A | PET img WhBD sgl pulm ring | 1.50 | 0.52 | 0.52 | 0.05 | 2.07 | 2.07 | XXX
G0125 | TC | A | PET img WhBD sgl pulm ring | 0.00 | 55.58 | NA | 1.95 | 57.53 | NA | XXX
G0126 |  | D | Lung image (PET) staging | 0.00 | 0.00 | NA | 0.00 | 0.00 | NA | XXX
G0126 | 26 | D | Lung image (PET) staging | 0.00 | 0.00 | 0.00 | 0.00 | 0.00 | 0.00 | XXX
G0126 | TC | D | Lung image (PET) staging | 0.00 | 0.00 | NA | 0.00 | 0.00 | NA | XXX
G0127 |  | R | Trim nail(s) | 0.17 | 0.26 | 0.07 | 0.01 | 0.44 | 0.25 | 000
G0128 |  | R | CORF skilled nursing service | 0.08 | 0.03 | 0.03 | 0.01 | 0.12 | 0.12 | XXX
G0130 |  | A | Single energy x-ray study | 0.22 | 0.90 | NA | 0.05 | 1.17 | NA | XXX
G0130 | 26 | A | Single energy x-ray study | 0.22 | 0.11 | 0.11 | 0.01 | 0.34 | 0.34 | XXX
G0130 | TC | A | Single energy x-ray study | 0.00 | 0.79 | NA | 0.04 | 0.83 | NA | XXX
G0131 |  | A | CT scan, bone density study | 0.25 | 3.18 | NA | 0.14 | 3.57 | NA | XXX
G0131 | 26 | A | CT scan, bone density study | 0.25 | 0.13 | 0.13 | 0.01 | 0.39 | 0.39 | XXX
G0131 | TC | A | CT scan, bone density study | 0.00 | 3.05 | NA | 0.13 | 3.18 | NA | XXX
G0132 |  | A | CT scan, bone density study | 0.22 | 0.90 | NA | 0.05 | 1.17 | NA | XXX
G0132 | 26 | A | CT scan, bone density study | 0.22 | 0.11 | 0.11 | 0.01 | 0.34 | 0.34 | XXX
G0132 | TC | A | CT scan, bone density study | 0.00 | 0.79 | NA | 0.04 | 0.83 | NA | XXX
G0141 |  | A | Scr c/v cyto, autosys and md | 0.42 | 0.19 | 0.19 | 0.01 | 0.62 | 0.62 | XXX
G0143 |  | X | Scr c/v cyto, thinlayer,rescr | 0.00 | 0.00 | 0.00 | 0.00 | 0.00 | 0.00 | XXX
G0144 |  | X | Scr c/v cyto, thinlayer,rescr | 0.00 | 0.00 | 0.00 | 0.00 | 0.00 | 0.00 | XXX
G0145 |  | X | Scr c/v cyto, thinlayer,rescr | 0.00 | 0.00 | 0.00 | 0.00 | 0.00 | 0.00 | XXX
G0147 |  | X | Scr c/v cyto, automated sys | 0.00 | 0.00 | 0.00 | 0.00 | 0.00 | 0.00 | XXX
G0148 |  | X | Scr c/v cyto, autosys, rescr | 0.00 | 0.00 | 0.00 | 0.00 | 0.00 | 0.00 | XXX
G0163 |  | D | Pet for rec of colorectal ca | 0.00 | 0.00 | NA | 0.00 | 0.00 | NA | XXX
G0163 | 26 | D | Pet for rec of colorectal ca | 0.00 | 0.00 | 0.00 | 0.00 | 0.00 | 0.00 | XXX
G0163 | TC | D | Pet for rec of colorectal ca | 0.00 | 0.00 | NA | 0.00 | 0.00 | NA | XXX
G0164 |  | D | Pet for lymphoma staging | 0.00 | 0.00 | NA | 0.00 | 0.00 | NA | XXX
G0164 | 26 | D | Pet for lymphoma staging | 0.00 | 0.00 | 0.00 | 0.00 | 0.00 | 0.00 | XXX
G0164 | TC | D | Pet for lymphoma staging | 0.00 | 0.00 | NA | 0.00 | 0.00 | NA | XXX
G0165 |  | D | Pet, rec of melanoma/met ca | 0.00 | 0.00 | NA | 0.00 | 0.00 | NA | XXX
G0165 | 26 | D | Pet, rec of melanoma/met ca | 0.00 | 0.00 | 0.00 | 0.00 | 0.00 | 0.00 | XXX
G0165 | TC | D | Pet, rec of melanoma/met ca | 0.00 | 0.00 | NA | 0.00 | 0.00 | NA | XXX
G0166 |  | A | Extrnl counterpulse, per tx | 0.07 | 4.17 | 0.03 | 0.01 | 4.25 | 0.11 | XXX
G0167 |  | C | Hyperbaric oz tx; no md reqrd | 0.00 | 0.00 | 0.00 | 0.00 | 0.00 | 0.00 | XXX
G0168 |  | A | Wound closure by adhesive | 0.45 | 2.33 | 0.19 | 0.01 | 2.79 | 0.65 | 000
G0173 |  | X | Stereo radoisurgery, complete | 0.00 | 0.00 | 0.00 | 0.00 | 0.00 | 0.00 | XXX
G0174 |  | D | Intensitymodulatedradiation | 0.00 | 0.00 | 0.00 | 0.00 | 0.00 | 0.00 | XXX
G0175 |  | X | OPPS Service, sched team conf | 0.00 | 0.00 | 0.00 | 0.00 | 0.00 | 0.00 | XXX
G0176 |  | X | OPPS/PHP; activity therapy | 0.00 | 0.00 | 0.00 | 0.00 | 0.00 | 0.00 | XXX
G0177 |  | X | OPPS/PHP; train & educ serv | 0.00 | 0.00 | 0.00 | 0.00 | 0.00 | 0.00 | XXX
G0178 |  | D | Intensitymodulatedradiation | 0.00 | 0.00 | 0.00 | 0.00 | 0.00 | 0.00 | XXX
G0179 |  | A | MD recertification HHA PT | 0.45 | 1.21 | NA | 0.01 | 1.67 | NA | XXX
G0180 |  | A | MD certification HHA patient | 0.67 | 1.29 | NA | 0.02 | 1.98 | NA | XXX
G0181 |  | A | Home health care supervision | 1.73 | 1.57 | NA | 0.06 | 3.36 | NA | XXX
G0182 |  | A | Hospice care supervision | 1.73 | 1.97 | NA | 0.06 | 3.76 | NA | XXX
G0184 |  | D | Ocular photdynamicTx 2nd eye | 0.00 | 0.00 | 0.00 | 0.00 | 0.00 | 0.00 | ZZZ
G0185 |  | C | Transpuppillary thermotx | 0.00 | 0.00 | 0.00 | 0.00 | 0.00 | 0.00 | YYY
G0186 |  | C | Dstry eye lesn, fdr vssl tech | 0.00 | 0.00 | 0.00 | 0.00 | 0.00 | 0.00 | YYY
G0187 |  | C | Dstry mclr drusen, photocoag | 0.00 | 0.00 | 0.00 | 0.00 | 0.00 | 0.00 | YYY
G0188 |  | D | Xray lwr extrmty-full lngth | 0.00 | 0.00 | 0.00 | 0.00 | 0.00 | 0.00 | XXX
G0188 | 26 | D | Xray lwr extrmty-full lngth | 0.00 | 0.00 | 0.00 | 0.00 | 0.00 | 0.00 | XXX
G0188 | TC | D | Xray lwr extrmty-full lngth | 0.00 | 0.00 | 0.00 | 0.00 | 0.00 | 0.00 | XXX
G0190 |  | D | Immunization administration | 0.00 | 0.00 | 0.00 | 0.00 | 0.00 | 0.00 | XXX
G0191 |  | D | Immunization admin, each add | 0.00 | 0.00 | 0.00 | 0.00 | 0.00 | 0.00 | XXX
G0192 |  | N | Immunization oral/intranasal | 0.00 | 0.00 | 0.00 | 0.00 | 0.00 | 0.00 | XXX
G0193 |  | C | Endoscopicstudyswallowfunctn | 0.00 | 0.00 | 0.00 | 0.00 | 0.00 | 0.00 | XXX
G0194 |  | C | Sensorytestingendoscopicstud | 0.00 | 0.00 | 0.00 | 0.00 | 0.00 | 0.00 | XXX
G0195 |  | A | Clinicalevalswallowingfunct | 1.50 | 1.95 | 0.76 | 0.07 | 3.52 | 2.33 | XXX
G0196 |  | A | Eval of swallowing with radio opa | 1.50 | 1.95 | 0.76 | 0.07 | 3.52 | 2.33 | XXX
G0197 |  | A | Eval of pt for prescip speech devi | 1.35 | 2.11 | 0.75 | 0.04 | 3.50 | 2.14 | XXX
G0198 |  | A | Patient adapation & train for spe | 0.99 | 1.14 | 0.58 | 0.03 | 2.16 | 1.60 | XXX
G0199 |  | A | Reevaluation of patient uses pec | 1.01 | 1.92 | 0.56 | 0.03 | 2.96 | 1.60 | XXX
G0200 |  | A | Eval of patient prescip of voice p | 1.35 | 2.11 | 0.75 | 0.04 | 3.50 | 2.14 | XXX
G0201 |  | A | Modi for training in use voice pro | 0.99 | 1.14 | 0.58 | 0.03 | 2.16 | 1.60 | XXX
G0202 |  | A | Screening mammographydigital | 0.70 | 2.70 | NA | 0.09 | 3.49 | NA | XXX
G0202 | 26 | A | Screening mammographydigital | 0.70 | 0.28 | 0.28 | 0.03 | 1.01 | 1.01 | XXX
G0202 | TC | A | Screening mammographydigital | 0.00 | 2.42 | NA | 0.06 | 2.48 | NA | XXX
G0203 |  | D | Screen mammographyfilmdigital | 0.00 | 0.00 | 0.00 | 0.00 | 0.00 | 0.00 | XXX
G0204 |  | A | Diagnostic mammographydigital | 0.87 | 2.73 | NA | 0.09 | 3.69 | NA | XXX
G0204 | 26 | A | Diagnostic mammographydigital | 0.87 | 0.35 | 0.35 | 0.03 | 1.25 | 1.25 | XXX
G0204 | TC | A | Diagnostic mammographydigital | 0.00 | 2.38 | NA | 0.06 | 2.44 | NA | XXX
G0205 |  | D | Diagnostic mammographyfilmpro | 0.00 | 0.00 | 0.00 | 0.00 | 0.00 | 0.00 | XXX
G0205 | 26 | D | Diagnostic mammographyfilmpro | 0.00 | 0.00 | 0.00 | 0.00 | 0.00 | 0.00 | XXX
G0205 | TC | D | Diagnostic mammographyfilmpro | 0.00 | 0.00 | 0.00 | 0.00 | 0.00 | 0.00 | XXX
G0206 |  | A | Diagnostic mammographydigital | 0.70 | 2.20 | NA | 0.08 | 2.98 | NA | XXX
G0206 | 26 | A | Diagnostic mammographydigital | 0.70 | 0.28 | 0.28 | 0.03 | 1.01 | 1.01 | XXX
G0206 | TC | A | Diagnostic mammographydigital | 0.00 | 1.92 | NA | 0.05 | 1.97 | NA | XXX
G0207 |  | D | Diagnostic mammography film | 0.00 | 0.00 | 0.00 | 0.00 | 0.00 | 0.00 | XXX
G0207 | 26 | D | Diagnostic mammography film | 0.00 | 0.00 | 0.00 | 0.00 | 0.00 | 0.00 | XXX
G0207 | TC | D | Diagnostic mammography film | 0.00 | 0.00 | 0.00 | 0.00 | 0.00 | 0.00 | XXX
G0210 |  | C | PET img WhBD ring dxlung ca | 0.00 | 0.00 | 0.00 | 0.00 | 0.00 | 0.00 | XXX
G0210 | 26 | A | PET img WhBD ring dxlung ca | 1.50 | 0.60 | 0.60 | 0.04 | 2.14 | 2.14 | XXX
G0210 | TC | C | PET img WhBD ring dxlung ca | 0.00 | 0.00 | 0.00 | 0.00 | 0.00 | 0.00 | XXX
G0211 |  | C | PET img WhBD ring init lung | 0.00 | 0.00 | 0.00 | 0.00 | 0.00 | 0.00 | XXX
G0211 | 26 | A | PET img WhBD ring init lung | 1.50 | 0.60 | 0.60 | 0.04 | 2.14 | 2.14 | XXX
G0211 | TC | C | PET img WhBD ring init lung | 0.00 | 0.00 | 0.00 | 0.00 | 0.00 | 0.00 | XXX
G0212 |  | C | PET img WhBD ring restag lun | 0.00 | 0.00 | 0.00 | 0.00 | 0.00 | 0.00 | XXX
G0212 | 26 | A | PET img WhBD ring restag lun | 1.50 | 0.60 | 0.60 | 0.04 | 2.14 | 2.14 | XXX
G0212 | TC | C | PET img WhBD ring restag lun | 0.00 | 0.00 | 0.00 | 0.00 | 0.00 | 0.00 | XXX
G0213 |  | C | PET img WhBD ring dx colorec | 0.00 | 0.00 | 0.00 | 0.00 | 0.00 | 0.00 | XXX
G0213 | 26 | A | PET img WhBD ring dx colorec | 1.50 | 0.60 | 0.60 | 0.04 | 2.14 | 2.14 | XXX
G0213 | TC | C | PET img WhBD ring dx colorec | 0.00 | 0.00 | 0.00 | 0.00 | 0.00 | 0.00 | XXX
G0214 |  | C | PET img WhBD ring init colre | 0.00 | 0.00 | 0.00 | 0.00 | 0.00 | 0.00 | XXX
G0214 | 26 | A | PET img WhBD ring init colre | 1.50 | 0.60 | 0.60 | 0.04 | 2.14 | 2.14 | XXX
G0214 | TC | C | PET img WhBD ring init colre | 0.00 | 0.00 | 0.00 | 0.00 | 0.00 | 0.00 | XXX
G0215 |  | C | PET img WhBD restag col | 0.00 | 0.00 | 0.00 | 0.00 | 0.00 | 0.00 | XXX
G0215 | 26 | A | PET img WhBD restag col | 1.50 | 0.60 | 0.60 | 0.04 | 2.14 | 2.14 | XXX
G0215 | TC | C | PET img WhBD restag col | 0.00 | 0.00 | 0.00 | 0.00 | 0.00 | 0.00 | XXX
G0216 |  | C | PET img WhBD ring dx melanom | 0.00 | 0.00 | 0.00 | 0.00 | 0.00 | 0.00 | XXX
G0216 | 26 | A | PET img WhBD ring dx melanom | 1.50 | 0.60 | 0.60 | 0.04 | 2.14 | 2.14 | XXX
G0216 | TC | C | PET img WhBD ring dx melanom | 0.00 | 0.00 | 0.00 | 0.00 | 0.00 | 0.00 | XXX
G0217 |  | C | PET img WhBD ring init melan | 0.00 | 0.00 | 0.00 | 0.00 | 0.00 | 0.00 | XXX
G0217 | 26 | A | PET img WhBD ring init melan | 1.50 | 0.60 | 0.60 | 0.04 | 2.14 | 2.14 | XXX
G0217 | TC | C | PET img WhBD ring init melan | 0.00 | 0.00 | 0.00 | 0.00 | 0.00 | 0.00 | XXX
G0218 |  | C | PET img WhBD ring restag mel | 0.00 | 0.00 | 0.00 | 0.00 | 0.00 | 0.00 | XXX
G0218 | 26 | A | PET img WhBD ring restag mel | 1.50 | 0.60 | 0.60 | 0.04 | 2.14 | 2.14 | XXX
G0218 | TC | C | PET img WhBD ring restag mel | 0.00 | 0.00 | 0.00 | 0.00 | 0.00 | 0.00 | XXX
G0219 |  | N | PET img WhBD ring noncov ind | +1.50 | 0.60 | 0.60 | 0.04 | 2.14 | 2.14 | XXX
G0219 | 26 | N | PET img WhBD ring noncov ind | +1.50 | 0.60 | 0.60 | 0.04 | 2.14 | 2.14 | XXX
G0219 | TC | N | PET img WhBD ring noncov ind | 0.00 | 0.00 | 0.00 | 0.00 | 0.00 | 0.00 | XXX
G0220 |  | C | PET img WhBD ring dx lymphom | 0.00 | 0.00 | 0.00 | 0.00 | 0.00 | 0.00 | XXX
G0220 | 26 | A | PET img WhBD ring dx lymphom | 1.50 | 0.60 | 0.60 | 0.04 | 2.14 | 2.14 | XXX
G0220 | TC | C | PET img WhBD ring dx lymphom | 0.00 | 0.00 | 0.00 | 0.00 | 0.00 | 0.00 | XXX
G0221 |  | C | PET img WhBD ring init lymph | 0.00 | 0.00 | 0.00 | 0.00 | 0.00 | 0.00 | XXX
G0221 | 26 | A | PET img WhBD ring init lymph | 1.50 | 0.60 | 0.60 | 0.04 | 2.14 | 2.14 | XXX
G0221 | TC | C | PET img WhBD ring init lymph | 0.00 | 0.00 | 0.00 | 0.00 | 0.00 | 0.00 | XXX
G0222 |  | C | PET img WhBD ring resta lymp | 0.00 | 0.00 | 0.00 | 0.00 | 0.00 | 0.00 | XXX
G0222 | 26 | A | PET img WhBD ring resta lymp | 1.50 | 0.60 | 0.60 | 0.04 | 2.14 | 2.14 | XXX
G0222 | TC | C | PET img WhBD ring resta lymp | 0.00 | 0.00 | 0.00 | 0.00 | 0.00 | 0.00 | XXX
G0223 |  | C | PET img WhBD reg ring dx hea | 0.00 | 0.00 | 0.00 | 0.00 | 0.00 | 0.00 | XXX
G0223 | 26 | A | PET img WhBD reg ring dx hea | 1.50 | 0.60 | 0.60 | 0.04 | 2.14 | 2.14 | XXX
G0223 | TC | C | PET img WhBD reg ring dx hea | 0.00 | 0.00 | 0.00 | 0.00 | 0.00 | 0.00 | XXX
G0224 |  | C | PET img WhBD reg ring ini hea | 0.00 | 0.00 | 0.00 | 0.00 | 0.00 | 0.00 | XXX
G0224 | 26 | A | PET img WhBD reg ring ini hea | 1.50 | 0.60 | 0.60 | 0.04 | 2.14 | 2.14 | XXX
G0224 | TC | C | PET img WhBD reg ring ini hea | 0.00 | 0.00 | 0.00 | 0.00 | 0.00 | 0.00 | XXX
G0225 |  | C | PET img WhBD ring restag hea | 0.00 | 0.00 | 0.00 | 0.00 | 0.00 | 0.00 | XXX
G0225 | 26 | A | PET img WhBD ring restag hea | 1.50 | 0.60 | 0.60 | 0.04 | 2.14 | 2.14 | XXX
G0225 | TC | C | PET img WhBD ring restag hea | 0.00 | 0.00 | 0.00 | 0.00 | 0.00 | 0.00 | XXX
G0226 |  | C | PET img WhBD dx esophag | 0.00 | 0.00 | 0.00 | 0.00 | 0.00 | 0.00 | XXX
G0226 | 26 | A | PET img WhBD dx esophag | 1.50 | 0.60 | 0.60 | 0.04 | 2.14 | 2.14 | XXX
G0226 | TC | C | PET img WhBD dx esophag | 0.00 | 0.00 | 0.00 | 0.00 | 0.00 | 0.00 | XXX
G0227 |  | C | PET img WhBD ini esopha | 0.00 | 0.00 | 0.00 | 0.00 | 0.00 | 0.00 | XXX
G0227 | 26 | A | PET img WhBD ini esopha | 1.50 | 0.60 | 0.60 | 0.04 | 2.14 | 2.14 | XXX
G0227 | TC | C | PET img WhBD ini esopha | 0.00 | 0.00 | 0.00 | 0.00 | 0.00 | 0.00 | XXX
G0228 |  | C | PET img WhBD ring restg esop | 0.00 | 0.00 | 0.00 | 0.00 | 0.00 | 0.00 | XXX
G0228 | 26 | A | PET img WhBD ring restg esop | 1.50 | 0.60 | 0.60 | 0.04 | 2.14 | 2.14 | XXX
G0228 | TC | C | PET img WhBD ring restg esop | 0.00 | 0.00 | 0.00 | 0.00 | 0.00 | 0.00 | XXX
G0229 |  | C | PET img metabolic brain ring | 0.00 | 0.00 | 0.00 | 0.00 | 0.00 | 0.00 | XXX
G0229 | 26 | A | PET img metabolic brain ring | 1.50 | 0.60 | 0.60 | 0.04 | 2.14 | 2.14 | XXX
G0229 | TC | C | PET img metabolic brain ring | 0.00 | 0.00 | 0.00 | 0.00 | 0.00 | 0.00 | XXX
G0230 |  | C | PET myocard viability ring | 0.00 | 0.00 | 0.00 | 0.00 | 0.00 | 0.00 | XXX
G0230 | 26 | A | PET myocard viability ring | 1.50 | 0.60 | 0.60 | 0.04 | 2.14 | 2.14 | XXX
G0230 | TC | C | PET myocard viability ring | 0.00 | 0.00 | 0.00 | 0.00 | 0.00 | 0.00 | XXX
G0231 |  | C | PET WhBD colorec; gamma cam | 0.00 | 0.00 | 0.00 | 0.00 | 0.00 | 0.00 | XXX
G0231 | 26 | A | PET WhBD colorec; gamma cam | 1.50 | 0.60 | 0.60 | 0.04 | 2.14 | 2.14 | XXX
G0231 | TC | C | PET WhBD colorec; gamma cam | 0.00 | 0.00 | 0.00 | 0.00 | 0.00 | 0.00 | XXX
G0232 |  | C | PET WhBD lymphoma; gamma cam | 0.00 | 0.00 | 0.00 | 0.00 | 0.00 | 0.00 | XXX
G0232 | 26 | A | PET WhBD lymphoma; gamma cam | 1.50 | 0.60 | 0.60 | 0.04 | 2.14 | 2.14 | XXX
G0232 | TC | C | PET WhBD lymphoma; gamma cam | 0.00 | 0.00 | 0.00 | 0.00 | 0.00 | 0.00 | XXX
G0233 |  | C | PET WhBD melanoma; gamma cam | 0.00 | 0.00 | 0.00 | 0.00 | 0.00 | 0.00 | XXX
G0233 | 26 | A | PET WhBD melanoma; gamma cam | 1.50 | 0.60 | 0.60 | 0.04 | 2.14 | 2.14 | XXX
G0233 | TC | C | PET WhBD melanoma; gamma cam | 0.00 | 0.00 | 0.00 | 0.00 | 0.00 | 0.00 | XXX
G0234 |  | C | PET WhBD pulm nod; gamma cam | 0.00 | 0.00 | 0.00 | 0.00 | 0.00 | 0.00 | XXX
G0234 | 26 | A | PET WhBD pulm nod; gamma cam | 1.50 | 0.60 | 0.60 | 0.04 | 2.14 | 2.14 | XXX
G0234 | TC | C | PET WhBD pulm nod; gamma cam | 0.00 | 0.00 | 0.00 | 0.00 | 0.00 | 0.00 | XXX
G0236 |  | A | digital film convert diag ma | 0.06 | 0.31 | NA | 0.02 | 0.39 | NA | ZZZ
G0236 | 26 | A | digital film convert diag ma | 0.06 | 0.02 | 0.02 | 0.01 | 0.09 | 0.09 | ZZZ
G0236 | TC | A | digital film convert diag ma | 0.00 | 0.29 | NA | 0.01 | 0.30 | NA | ZZZ
G0237 |  | A | Therapeutic procd strg endur | 0.00 | 0.45 | NA | 0.02 | 0.47 | NA | XXX
G0238 |  | C | Oth resp proc, indiv | 0.00 | 0.00 | 0.00 | 0.00 | 0.00 | 0.00 | XXX
G0239 |  | C | Oth resp proc, group | 0.00 | 0.00 | 0.00 | 0.00 | 0.00 | 0.00 | XXX
G0240 |  | A | Critic care by MD transport | 4.00 | 1.60 | 1.60 | 0.14 | 5.74 | 5.74 | XXX
G0241 |  | A | Each additional 30 minutes | 2.00 | 0.80 | 0.80 | 0.07 | 2.87 | 2.87 | ZZZ
G0242 |  | X | Multisource photon ster plan | 0.00 | 0.00 | 0.00 | 0.00 | 0.00 | 0.00 | XXX
G0243 |  | X | Multisour photon stero treat | 0.00 | 0.00 | 0.00 | 0.00 | 0.00 | 0.00 | XXX
G0244 |  | X | Observ care by facility topt | 0.00 | 0.00 | 0.00 | 0.00 | 0.00 | 0.00 | XXX
G9001 |  | X | MCCD, initial rate | 0.00 | 0.00 | 0.00 | 0.00 | 0.00 | 0.00 | XXX
G9002 |  | X | MCCD, maintenance rate | 0.00 | 0.00 | 0.00 | 0.00 | 0.00 | 0.00 | XXX
G9003 |  | X | MCCD, risk adj hi, initial | 0.00 | 0.00 | 0.00 | 0.00 | 0.00 | 0.00 | XXX
G9004 |  | X | MCCD, risk adj lo, initial | 0.00 | 0.00 | 0.00 | 0.00 | 0.00 | 0.00 | XXX
G9005 |  | X | MCCD, risk adj, maintenance | 0.00 | 0.00 | 0.00 | 0.00 | 0.00 | 0.00 | XXX
G9006 |  | X | MCCD, Home monitoring | 0.00 | 0.00 | 0.00 | 0.00 | 0.00 | 0.00 | XXX
G9007 |  | X | MCCD, sch team conf | 0.00 | 0.00 | 0.00 | 0.00 | 0.00 | 0.00 | XXX
G9008 |  | X | MCCD, phys coor-care ovrsght | 0.00 | 0.00 | 0.00 | 0.00 | 0.00 | 0.00 | XXX
G9009 |  | X | MCCD, risk adj, level 3 | 0.00 | 0.00 | 0.00 | 0.00 | 0.00 | 0.00 | XXX
G9010 |  | X | MCCD, risk adj, level 4 | 0.00 | 0.00 | 0.00 | 0.00 | 0.00 | 0.00 | XXX
G9011 |  | X | MCCD, risk adj, level 5 | 0.00 | 0.00 | 0.00 | 0.00 | 0.00 | 0.00 | XXX
G9012 |  | X | Other Specified Case Mgmt | 0.00 | 0.00 | 0.00 | 0.00 | 0.00 | 0.00 | XXX
G9016 |  | N | Demo-smoking cessation coun | 0.00 | 0.00 | 0.00 | 0.00 | 0.00 | 0.00 | XXX
H0001 |  | I | Alcohol and/or drug assess | 0.00 | 0.00 | 0.00 | 0.00 | 0.00 | 0.00 | XXX
H0002 |  | I | Alcohol and/or drug screenin | 0.00 | 0.00 | 0.00 | 0.00 | 0.00 | 0.00 | XXX
H0003 |  | I | Alcohol and/or drug screenin | 0.00 | 0.00 | 0.00 | 0.00 | 0.00 | 0.00 | XXX
H0004 |  | I | Alcohol and/or drug services | 0.00 | 0.00 | 0.00 | 0.00 | 0.00 | 0.00 | XXX
H0005 |  | I | Alcohol and/or drug services | 0.00 | 0.00 | 0.00 | 0.00 | 0.00 | 0.00 | XXX
H0006 |  | I | Alcohol and/or drug services | 0.00 | 0.00 | 0.00 | 0.00 | 0.00 | 0.00 | XXX
H0007 |  | I | Alcohol and/or drug services | 0.00 | 0.00 | 0.00 | 0.00 | 0.00 | 0.00 | XXX
H0008 |  | I | Alcohol and/or drug services | 0.00 | 0.00 | 0.00 | 0.00 | 0.00 | 0.00 | XXX
H0009 |  | I | Alcohol and/or drug services | 0.00 | 0.00 | 0.00 | 0.00 | 0.00 | 0.00 | XXX
H0010 |  | I | Alcohol and/or drug services | 0.00 | 0.00 | 0.00 | 0.00 | 0.00 | 0.00 | XXX
H0011 |  | I | Alcohol and/or drug services | 0.00 | 0.00 | 0.00 | 0.00 | 0.00 | 0.00 | XXX
H0012 |  | I | Alcohol and/or drug services | 0.00 | 0.00 | 0.00 | 0.00 | 0.00 | 0.00 | XXX
H0013 |  | I | Alcohol and/or drug services | 0.00 | 0.00 | 0.00 | 0.00 | 0.00 | 0.00 | XXX
H0014 |  | I | Alcohol and/or drug services | 0.00 | 0.00 | 0.00 | 0.00 | 0.00 | 0.00 | XXX
H0015 |  | I | Alcohol and/or drug services | 0.00 | 0.00 | 0.00 | 0.00 | 0.00 | 0.00 | XXX
H0016 |  | I | Alcohol and/or drug services | 0.00 | 0.00 | 0.00 | 0.00 | 0.00 | 0.00 | XXX
H0017 |  | I | Alcohol and/or drug services | 0.00 | 0.00 | 0.00 | 0.00 | 0.00 | 0.00 | XXX
H0018 |  | I | Alcohol and/or drug services | 0.00 | 0.00 | 0.00 | 0.00 | 0.00 | 0.00 | XXX
H0019 |  | I | Alcohol and/or drug services | 0.00 | 0.00 | 0.00 | 0.00 | 0.00 | 0.00 | XXX
H0020 |  | I | Alcohol and/or drug services | 0.00 | 0.00 | 0.00 | 0.00 | 0.00 | 0.00 | XXX
H0021 |  | I | Alcohol and/or drug training | 0.00 | 0.00 | 0.00 | 0.00 | 0.00 | 0.00 | XXX
H0022 |  | I | Alcohol and/or drug interven | 0.00 | 0.00 | 0.00 | 0.00 | 0.00 | 0.00 | XXX
H0023 |  | I | Alcohol and/or drug outreach | 0.00 | 0.00 | 0.00 | 0.00 | 0.00 | 0.00 | XXX
H0024 |  | I | Alcohol and/or drug preventi | 0.00 | 0.00 | 0.00 | 0.00 | 0.00 | 0.00 | XXX
H0025 |  | I | Alcohol and/or drug preventi | 0.00 | 0.00 | 0.00 | 0.00 | 0.00 | 0.00 | XXX
H0026 |  | I | Alcohol and/or drug preventi | 0.00 | 0.00 | 0.00 | 0.00 | 0.00 | 0.00 | XXX
H0027 |  | I | Alcohol and/or drug preventi | 0.00 | 0.00 | 0.00 | 0.00 | 0.00 | 0.00 | XXX
H0028 |  | I | Alcohol and/or drug preventi | 0.00 | 0.00 | 0.00 | 0.00 | 0.00 | 0.00 | XXX
H0029 |  | I | Alcohol and/or drug preventi | 0.00 | 0.00 | 0.00 | 0.00 | 0.00 | 0.00 | XXX
H0030 |  | I | Alcohol and/or drug hotline | 0.00 | 0.00 | 0.00 | 0.00 | 0.00 | 0.00 | XXX
H1000 |  | I | Prenatal care atrisk assessm | 0.00 | 0.00 | 0.00 | 0.00 | 0.00 | 0.00 | XXX
H1001 |  | I | Antepartum management | 0.00 | 0.00 | 0.00 | 0.00 | 0.00 | 0.00 | XXX
H1002 |  | I | Care coordination prenatal | 0.00 | 0.00 | 0.00 | 0.00 | 0.00 | 0.00 | XXX
H1003 |  | I | Prenatal at risk education | 0.00 | 0.00 | 0.00 | 0.00 | 0.00 | 0.00 | XXX
H1004 |  | I | Follow up home visit/prental | 0.00 | 0.00 | 0.00 | 0.00 | 0.00 | 0.00 | XXX
H1005 |  | I | Prenatal care enhanced srv pk | 0.00 | 0.00 | 0.00 | 0.00 | 0.00 | 0.00 | XXX
J0120 |  | E | Tetracyclin injection | 0.00 | 0.00 | 0.00 | 0.00 | 0.00 | 0.00 | XXX
J0130 |  | E | Abciximab injection | 0.00 | 0.00 | 0.00 | 0.00 | 0.00 | 0.00 | XXX
J0150 |  | E | Injection adenosine 6 MG | 0.00 | 0.00 | 0.00 | 0.00 | 0.00 | 0.00 | XXX
J0151 |  | E | Adenosine injection | 0.00 | 0.00 | 0.00 | 0.00 | 0.00 | 0.00 | XXX
J0170 |  | E | Adrenalin epinephrin inject | 0.00 | 0.00 | 0.00 | 0.00 | 0.00 | 0.00 | XXX
J0190 |  | E | Inj biperiden lactate/5 mg | 0.00 | 0.00 | 0.00 | 0.00 | 0.00 | 0.00 | XXX
J0200 |  | E | Alatrofloxacin mesylate | 0.00 | 0.00 | 0.00 | 0.00 | 0.00 | 0.00 | XXX
J0205 |  | E | Alglucerase injection | 0.00 | 0.00 | 0.00 | 0.00 | 0.00 | 0.00 | XXX
J0207 |  | E | Amifostine | 0.00 | 0.00 | 0.00 | 0.00 | 0.00 | 0.00 | XXX
J0210 |  | E | Methyldopate hcl injection | 0.00 | 0.00 | 0.00 | 0.00 | 0.00 | 0.00 | XXX
J0256 |  | E | Alpha 1 proteinase inhibitor | 0.00 | 0.00 | 0.00 | 0.00 | 0.00 | 0.00 | XXX
J0270 |  | E | Alprostadil for injection | 0.00 | 0.00 | 0.00 | 0.00 | 0.00 | 0.00 | XXX
J0275 |  | E | Alprostadil urethral suppos | 0.00 | 0.00 | 0.00 | 0.00 | 0.00 | 0.00 | XXX
J0280 |  | E | Aminophyllin 250 MG inj | 0.00 | 0.00 | 0.00 | 0.00 | 0.00 | 0.00 | XXX
J0282 |  | E | Amiodarone HCl | 0.00 | 0.00 | 0.00 | 0.00 | 0.00 | 0.00 | XXX
J0285 |  | E | Amphotericin B | 0.00 | 0.00 | 0.00 | 0.00 | 0.00 | 0.00 | XXX
J0286 |  | E | Amphotericin B lipid complex | 0.00 | 0.00 | 0.00 | 0.00 | 0.00 | 0.00 | XXX
J0290 |  | E | Ampicillin 500 MG inj | 0.00 | 0.00 | 0.00 | 0.00 | 0.00 | 0.00 | XXX
J0295 |  | E | Ampicillin sodium per 1.5 gm | 0.00 | 0.00 | 0.00 | 0.00 | 0.00 | 0.00 | XXX
J0300 |  | E | Amobarbital 125 MG inj | 0.00 | 0.00 | 0.00 | 0.00 | 0.00 | 0.00 | XXX
J0330 |  | E | Succinycholine chloride inj | 0.00 | 0.00 | 0.00 | 0.00 | 0.00 | 0.00 | XXX
J0340 |  | D | Nandrolon phenpropionate inj | 0.00 | 0.00 | 0.00 | 0.00 | 0.00 | 0.00 | XXX
J0350 |  | E | Injection anistreplase 30 u | 0.00 | 0.00 | 0.00 | 0.00 | 0.00 | 0.00 | XXX
J0360 |  | E | Hydralazine hcl injection | 0.00 | 0.00 | 0.00 | 0.00 | 0.00 | 0.00 | XXX
J0380 |  | E | Inj metaraminol bitartrate | 0.00 | 0.00 | 0.00 | 0.00 | 0.00 | 0.00 | XXX
J0390 |  | E | Chloroquine injection | 0.00 | 0.00 | 0.00 | 0.00 | 0.00 | 0.00 | XXX
J0395 |  | E | Arbutamine HCl injection | 0.00 | 0.00 | 0.00 | 0.00 | 0.00 | 0.00 | XXX
J0400 |  | D | Inj trimethaphan camsylate | 0.00 | 0.00 | 0.00 | 0.00 | 0.00 | 0.00 | XXX
J0456 |  | E | Azithromycin | 0.00 | 0.00 | 0.00 | 0.00 | 0.00 | 0.00 | XXX
J0460 |  | E | Atropine sulfate injection | 0.00 | 0.00 | 0.00 | 0.00 | 0.00 | 0.00 | XXX
J0470 |  | E | Dimecaprol injection | 0.00 | 0.00 | 0.00 | 0.00 | 0.00 | 0.00 | XXX
J0475 |  | E | Baclofen 10 MG injection | 0.00 | 0.00 | 0.00 | 0.00 | 0.00 | 0.00 | XXX
J0476 |  | E | Baclofen intrathecal trial | 0.00 | 0.00 | 0.00 | 0.00 | 0.00 | 0.00 | XXX
J0500 |  | E | Dicyclomine injection | 0.00 | 0.00 | 0.00 | 0.00 | 0.00 | 0.00 | XXX
J0510 |  | D | Benzquinamide injection | 0.00 | 0.00 | 0.00 | 0.00 | 0.00 | 0.00 | XXX
J0515 |  | E | Inj benztropine mesylate | 0.00 | 0.00 | 0.00 | 0.00 | 0.00 | 0.00 | XXX
J0520 |  | E | Bethanechol chloride inject | 0.00 | 0.00 | 0.00 | 0.00 | 0.00 | 0.00 | XXX
J0530 |  | E | Penicillin g benzathine inj | 0.00 | 0.00 | 0.00 | 0.00 | 0.00 | 0.00 | XXX
J0540 |  | E | Penicillin g benzathine inj | 0.00 | 0.00 | 0.00 | 0.00 | 0.00 | 0.00 | XXX
J0550 |  | E | Penicillin g benzathine inj | 0.00 | 0.00 | 0.00 | 0.00 | 0.00 | 0.00 | XXX
J0560 |  | E | Penicillin g benzathine inj | 0.00 | 0.00 | 0.00 | 0.00 | 0.00 | 0.00 | XXX
J0570 |  | E | Penicillin g benzathine inj | 0.00 | 0.00 | 0.00 | 0.00 | 0.00 | 0.00 | XXX
J0580 |  | E | Penicillin g benzathine inj | 0.00 | 0.00 | 0.00 | 0.00 | 0.00 | 0.00 | XXX
J0585 |  | E | Botulinum toxin a per unit | 0.00 | 0.00 | 0.00 | 0.00 | 0.00 | 0.00 | XXX
J0587 |  | E | Botulinum toxin type B | 0.00 | 0.00 | 0.00 | 0.00 | 0.00 | 0.00 | XXX
J0590 |  | D | Ethylnorepinephrine hcl inj | 0.00 | 0.00 | 0.00 | 0.00 | 0.00 | 0.00 | XXX
J0600 |  | E | Edetate calcium disodium inj | 0.00 | 0.00 | 0.00 | 0.00 | 0.00 | 0.00 | XXX
J0610 |  | E | Calcium gluconate injection | 0.00 | 0.00 | 0.00 | 0.00 | 0.00 | 0.00 | XXX
J0620 |  | E | Calcium glycer & lact/10 ML | 0.00 | 0.00 | 0.00 | 0.00 | 0.00 | 0.00 | XXX
J0630 |  | E | Calcitonin salmon injection | 0.00 | 0.00 | 0.00 | 0.00 | 0.00 | 0.00 | XXX
J0635 |  | E | Calcitriol injection | 0.00 | 0.00 | 0.00 | 0.00 | 0.00 | 0.00 | XXX
J0640 |  | E | Leucovorin calcium injection | 0.00 | 0.00 | 0.00 | 0.00 | 0.00 | 0.00 | XXX
J0670 |  | E | Inj mepivacaine HCL/10 ml | 0.00 | 0.00 | 0.00 | 0.00 | 0.00 | 0.00 | XXX
J0690 |  | E | Cefazolin sodium injection | 0.00 | 0.00 | 0.00 | 0.00 | 0.00 | 0.00 | XXX
J0692 |  | E | Cefepime HCl for injection | 0.00 | 0.00 | 0.00 | 0.00 | 0.00 | 0.00 | XXX
J0694 |  | E | Cefoxitin sodium injection | 0.00 | 0.00 | 0.00 | 0.00 | 0.00 | 0.00 | XXX
J0695 |  | D | Cefonocid sodium injection | 0.00 | 0.00 | 0.00 | 0.00 | 0.00 | 0.00 | XXX
J0696 |  | E | Ceftriaxone sodium injection | 0.00 | 0.00 | 0.00 | 0.00 | 0.00 | 0.00 | XXX
J0697 |  | E | Sterile cefuroxime injection | 0.00 | 0.00 | 0.00 | 0.00 | 0.00 | 0.00 | XXX
J0698 |  | E | Cefotaxime sodium injection | 0.00 | 0.00 | 0.00 | 0.00 | 0.00 | 0.00 | XXX
J0702 |  | E | Betamethasone acet&sod phosp | 0.00 | 0.00 | 0.00 | 0.00 | 0.00 | 0.00 | XXX
J0704 |  | E | Betamethasone sod phosp/4 MG | 0.00 | 0.00 | 0.00 | 0.00 | 0.00 | 0.00 | XXX
J0706 |  | E | Caffeine citrate injection | 0.00 | 0.00 | 0.00 | 0.00 | 0.00 | 0.00 | XXX
J0710 |  | E | Cephapirin sodium injection | 0.00 | 0.00 | 0.00 | 0.00 | 0.00 | 0.00 | XXX
J0713 |  | E | Inj ceftazidime per 500 mg | 0.00 | 0.00 | 0.00 | 0.00 | 0.00 | 0.00 | XXX
J0715 |  | E | Ceftizoxime sodium/500 MG | 0.00 | 0.00 | 0.00 | 0.00 | 0.00 | 0.00 | XXX
J0720 |  | E | Chloramphenicol sodium injec | 0.00 | 0.00 | 0.00 | 0.00 | 0.00 | 0.00 | XXX
J0725 |  | E | Chorionic gonadotropin/1000u | 0.00 | 0.00 | 0.00 | 0.00 | 0.00 | 0.00 | XXX
J0730 |  | D | Chlorpheniramin maleate inj | 0.00 | 0.00 | 0.00 | 0.00 | 0.00 | 0.00 | XXX
J0735 |  | E | Clonidine hydrochloride | 0.00 | 0.00 | 0.00 | 0.00 | 0.00 | 0.00 | XXX
J0740 |  | E | Cidofovir injection | 0.00 | 0.00 | 0.00 | 0.00 | 0.00 | 0.00 | XXX
J0743 |  | E | Cilastatin sodium injection | 0.00 | 0.00 | 0.00 | 0.00 | 0.00 | 0.00 | XXX
J0744 |  | E | Ciprofloxacin iv | 0.00 | 0.00 | 0.00 | 0.00 | 0.00 | 0.00 | XXX
J0745 |  | E | Inj codeine phosphate/30 MG | 0.00 | 0.00 | 0.00 | 0.00 | 0.00 | 0.00 | XXX
J0760 |  | E | Colchicine injection | 0.00 | 0.00 | 0.00 | 0.00 | 0.00 | 0.00 | XXX
J0770 |  | E | Colistimethate sodium inj | 0.00 | 0.00 | 0.00 | 0.00 | 0.00 | 0.00 | XXX
J0780 |  | E | Prochlorperazine injection | 0.00 | 0.00 | 0.00 | 0.00 | 0.00 | 0.00 | XXX
J0800 |  | E | Corticotropin injection | 0.00 | 0.00 | 0.00 | 0.00 | 0.00 | 0.00 | XXX
J0810 |  | D | Cortisone injection | 0.00 | 0.00 | 0.00 | 0.00 | 0.00 | 0.00 | XXX
J0835 |  | E | Inj cosyntropin per 0.25 MG | 0.00 | 0.00 | 0.00 | 0.00 | 0.00 | 0.00 | XXX
J0850 |  | E | Cytomegalovirus imm IV /vial | 0.00 | 0.00 | 0.00 | 0.00 | 0.00 | 0.00 | XXX
J0895 |  | E | Deferoxamine mesylate inj | 0.00 | 0.00 | 0.00 | 0.00 | 0.00 | 0.00 | XXX
J0900 |  | E | Testosterone enanthate inj | 0.00 | 0.00 | 0.00 | 0.00 | 0.00 | 0.00 | XXX
J0945 |  | E | Brompheniramine maleate inj | 0.00 | 0.00 | 0.00 | 0.00 | 0.00 | 0.00 | XXX
J0970 |  | E | Estradiol valerate injection | 0.00 | 0.00 | 0.00 | 0.00 | 0.00 | 0.00 | XXX
J1000 |  | E | Depo-estradiol cypionate inj | 0.00 | 0.00 | 0.00 | 0.00 | 0.00 | 0.00 | XXX
J1020 |  | E | Methylprednisolone 20 MG inj | 0.00 | 0.00 | 0.00 | 0.00 | 0.00 | 0.00 | XXX
J1030 |  | E | Methylprednisolone 40 MG inj | 0.00 | 0.00 | 0.00 | 0.00 | 0.00 | 0.00 | XXX
J1040 |  | E | Methylprednisolone 80 MG inj | 0.00 | 0.00 | 0.00 | 0.00 | 0.00 | 0.00 | XXX
J1050 |  | E | Medroxyprogesterone inj | 0.00 | 0.00 | 0.00 | 0.00 | 0.00 | 0.00 | XXX
J1055 |  | N | Medroxyprogester acetate inj | 0.00 | 0.00 | 0.00 | 0.00 | 0.00 | 0.00 | XXX
J1056 |  | E | MA/EC contraceptive injection | 0.00 | 0.00 | 0.00 | 0.00 | 0.00 | 0.00 | XXX
J1060 |  | E | Testosterone cypionate 1 ML | 0.00 | 0.00 | 0.00 | 0.00 | 0.00 | 0.00 | XXX
J1070 |  | E | Testosterone cypionate 100 MG | 0.00 | 0.00 | 0.00 | 0.00 | 0.00 | 0.00 | XXX
J1080 |  | E | Testosterone cypionate 200 MG | 0.00 | 0.00 | 0.00 | 0.00 | 0.00 | 0.00 | XXX
J1090 |  | D | Testosterone cypionate 50 MG | 0.00 | 0.00 | 0.00 | 0.00 | 0.00 | 0.00 | XXX
J1095 |  | E | Inj dexamethasone acetate | 0.00 | 0.00 | 0.00 | 0.00 | 0.00 | 0.00 | XXX
J1100 |  | E | Dexamethasone sodium phos | 0.00 | 0.00 | 0.00 | 0.00 | 0.00 | 0.00 | XXX
J1110 |  | E | Inj dihydroergotamine mesylt | 0.00 | 0.00 | 0.00 | 0.00 | 0.00 | 0.00 | XXX
J1120 |  | E | Acetazolamid sodium injection | 0.00 | 0.00 | 0.00 | 0.00 | 0.00 | 0.00 | XXX
J1160 |  | E | Digoxin injection | 0.00 | 0.00 | 0.00 | 0.00 | 0.00 | 0.00 | XXX
J1165 |  | E | Phenytoin sodium injection | 0.00 | 0.00 | 0.00 | 0.00 | 0.00 | 0.00 | XXX
J1170 |  | E | Hydromorphone injection | 0.00 | 0.00 | 0.00 | 0.00 | 0.00 | 0.00 | XXX
J1180 |  | E | Dyphylline injection | 0.00 | 0.00 | 0.00 | 0.00 | 0.00 | 0.00 | XXX
J1190 |  | E | Dexrazoxane HCl injection | 0.00 | 0.00 | 0.00 | 0.00 | 0.00 | 0.00 | XXX
J1200 |  | E | Diphenhydramine hcl injection | 0.00 | 0.00 | 0.00 | 0.00 | 0.00 | 0.00 | XXX
J1205 |  | E | Chlorothiazide sodium inj | 0.00 | 0.00 | 0.00 | 0.00 | 0.00 | 0.00 | XXX
J1212 |  | E | Dimethyl sulfoxide 50% 50 ML | 0.00 | 0.00 | 0.00 | 0.00 | 0.00 | 0.00 | XXX
J1230 |  | E | Methadone injection | 0.00 | 0.00 | 0.00 | 0.00 | 0.00 | 0.00 | XXX
J1240 |  | E | Dimenhydrinate injection | 0.00 | 0.00 | 0.00 | 0.00 | 0.00 | 0.00 | XXX
J1245 |  | E | Dipyridamole injection | 0.00 | 0.00 | 0.00 | 0.00 | 0.00 | 0.00 | XXX
J1250 |  | E | Inj dobutamine HCL/250 mg | 0.00 | 0.00 | 0.00 | 0.00 | 0.00 | 0.00 | XXX
J1260 |  | E | Dolasetron mesylate | 0.00 | 0.00 | 0.00 | 0.00 | 0.00 | 0.00 | XXX
J1270 |  | E | Injection, doxercalciferol | 0.00 | 0.00 | 0.00 | 0.00 | 0.00 | 0.00 | XXX
J1320 |  | E | Amitriptyline injection | 0.00 | 0.00 | 0.00 | 0.00 | 0.00 | 0.00 | XXX
J1325 |  | E | Epoprostenol injection | 0.00 | 0.00 | 0.00 | 0.00 | 0.00 | 0.00 | XXX
J1327 |  | E | Eptifibatide injection | 0.00 | 0.00 | 0.00 | 0.00 | 0.00 | 0.00 | XXX
J1330 |  | E | Ergonovine maleate injection | 0.00 | 0.00 | 0.00 | 0.00 | 0.00 | 0.00 | XXX
J1362 |  | D | Erythromycin glucep/250 MG | 0.00 | 0.00 | 0.00 | 0.00 | 0.00 | 0.00 | XXX
J1364 |  | E | Erythro lactobionate/500 MG | 0.00 | 0.00 | 0.00 | 0.00 | 0.00 | 0.00 | XXX
J1380 |  | E | Estradiol valerate 10 MG inj | 0.00 | 0.00 | 0.00 | 0.00 | 0.00 | 0.00 | XXX
J1390 |  | E | Estradiol valerate 20 MG inj | 0.00 | 0.00 | 0.00 | 0.00 | 0.00 | 0.00 | XXX
J1410 |  | E | Inj estrogen conjugate 25 MG | 0.00 | 0.00 | 0.00 | 0.00 | 0.00 | 0.00 | XXX
J1435 |  | E | Injection estrone per 1 MG | 0.00 | 0.00 | 0.00 | 0.00 | 0.00 | 0.00 | XXX
J1436 |  | E | Etidronate disodium inj | 0.00 | 0.00 | 0.00 | 0.00 | 0.00 | 0.00 | XXX
J1438 |  | E | Etanercept injection | 0.00 | 0.00 | 0.00 | 0.00 | 0.00 | 0.00 | XXX
J1440 |  | E | Filgrastim 300 mcg injection | 0.00 | 0.00 | 0.00 | 0.00 | 0.00 | 0.00 | XXX
J1441 |  | E | Filgrastim 480 mcg injection | 0.00 | 0.00 | 0.00 | 0.00 | 0.00 | 0.00 | XXX
J1450 |  | E | Fluconazole | 0.00 | 0.00 | 0.00 | 0.00 | 0.00 | 0.00 | XXX
J1452 |  | E | Intraocular Fomivirsen na | 0.00 | 0.00 | 0.00 | 0.00 | 0.00 | 0.00 | XXX
J1455 |  | E | Foscarnet sodium injection | 0.00 | 0.00 | 0.00 | 0.00 | 0.00 | 0.00 | XXX
J1460 |  | E | Gamma globulin 1 CC inj | 0.00 | 0.00 | 0.00 | 0.00 | 0.00 | 0.00 | XXX
J1470 |  | E | Gamma globulin 2 CC inj | 0.00 | 0.00 | 0.00 | 0.00 | 0.00 | 0.00 | XXX
J1480 |  | E | Gamma globulin 3 CC inj | 0.00 | 0.00 | 0.00 | 0.00 | 0.00 | 0.00 | XXX
J1490 |  | E | Gamma globulin 4 CC inj | 0.00 | 0.00 | 0.00 | 0.00 | 0.00 | 0.00 | XXX
J1500 |  | E | Gamma globulin 5 CC inj | 0.00 | 0.00 | 0.00 | 0.00 | 0.00 | 0.00 | XXX
J1510 |  | E | Gamma globulin 6 CC inj | 0.00 | 0.00 | 0.00 | 0.00 | 0.00 | 0.00 | XXX
J1520 |  | E | Gamma globulin 7 CC inj | 0.00 | 0.00 | 0.00 | 0.00 | 0.00 | 0.00 | XXX
J1530 |  | E | Gamma globulin 8 CC inj | 0.00 | 0.00 | 0.00 | 0.00 | 0.00 | 0.00 | XXX
J1540 |  | E | Gamma globulin 9 CC inj | 0.00 | 0.00 | 0.00 | 0.00 | 0.00 | 0.00 | XXX
J1550 |  | E | Gamma globulin 10 CC inj | 0.00 | 0.00 | 0.00 | 0.00 | 0.00 | 0.00 | XXX
J1560 |  | E | Gamma globulin > 10 CC inj | 0.00 | 0.00 | 0.00 | 0.00 | 0.00 | 0.00 | XXX
J1561 |  | E | Immune globulin 500 mg | 0.00 | 0.00 | 0.00 | 0.00 | 0.00 | 0.00 | XXX
J1563 |  | E | IV immune globulin | 0.00 | 0.00 | 0.00 | 0.00 | 0.00 | 0.00 | XXX
J1565 |  | E | RSV-ivig | 0.00 | 0.00 | 0.00 | 0.00 | 0.00 | 0.00 | XXX
J1570 |  | E | Ganciclovir sodium injection | 0.00 | 0.00 | 0.00 | 0.00 | 0.00 | 0.00 | XXX
J1580 |  | E | Garamycin gentamicin inj | 0.00 | 0.00 | 0.00 | 0.00 | 0.00 | 0.00 | XXX
J1590 |  | E | Gatifloxacin injection | 0.00 | 0.00 | 0.00 | 0.00 | 0.00 | 0.00 | XXX
J1600 |  | E | Gold sodium thiomaleate inj | 0.00 | 0.00 | 0.00 | 0.00 | 0.00 | 0.00 | XXX
J1610 |  | E | Glucagon hydrochloride/1 MG | 0.00 | 0.00 | 0.00 | 0.00 | 0.00 | 0.00 | XXX
J1620 |  | E | Gonadorelin hydroch/ 100 mcg | 0.00 | 0.00 | 0.00 | 0.00 | 0.00 | 0.00 | XXX
J1626 |  | E | Granisetron HCl injection | 0.00 | 0.00 | 0.00 | 0.00 | 0.00 | 0.00 | XXX
J1630 |  | E | Haloperidol injection | 0.00 | 0.00 | 0.00 | 0.00 | 0.00 | 0.00 | XXX
J1631 |  | E | Haloperidol decanoate inj | 0.00 | 0.00 | 0.00 | 0.00 | 0.00 | 0.00 | XXX
J1642 |  | E | Inj heparin sodium per 10 u | 0.00 | 0.00 | 0.00 | 0.00 | 0.00 | 0.00 | XXX
J1644 |  | E | Inj heparin sodium per 1000u | 0.00 | 0.00 | 0.00 | 0.00 | 0.00 | 0.00 | XXX
J1645 |  | E | Dalteparin sodium | 0.00 | 0.00 | 0.00 | 0.00 | 0.00 | 0.00 | XXX
J1650 |  | E | Inj enoxaparin sodium | 0.00 | 0.00 | 0.00 | 0.00 | 0.00 | 0.00 | XXX
J1655 |  | E | Tinzaparin sodium injection | 0.00 | 0.00 | 0.00 | 0.00 | 0.00 | 0.00 | XXX
J1670 |  | E | Tetanus immune globulin inj | 0.00 | 0.00 | 0.00 | 0.00 | 0.00 | 0.00 | XXX
J1690 |  | D | Prednisolone tebutate inj | 0.00 | 0.00 | 0.00 | 0.00 | 0.00 | 0.00 | XXX
J1700 |  | E | Hydrocortisone acetate inj | 0.00 | 0.00 | 0.00 | 0.00 | 0.00 | 0.00 | XXX
J1710 |  | E | Hydrocortisone sodium ph inj | 0.00 | 0.00 | 0.00 | 0.00 | 0.00 | 0.00 | XXX
J1720 |  | E | Hydrocortisone sodium succ i | 0.00 | 0.00 | 0.00 | 0.00 | 0.00 | 0.00 | XXX
J1730 |  | E | Diazoxide injection | 0.00 | 0.00 | 0.00 | 0.00 | 0.00 | 0.00 | XXX
J1739 |  | D | Hydroxyprogesterone cap 125 | 0.00 | 0.00 | 0.00 | 0.00 | 0.00 | 0.00 | XXX
J1741 |  | D | Hydroxyprogesterone cap 250 | 0.00 | 0.00 | 0.00 | 0.00 | 0.00 | 0.00 | XXX
J1742 |  | E | Ibutilide fumarate injection | 0.00 | 0.00 | 0.00 | 0.00 | 0.00 | 0.00 | XXX
J1745 |  | E | Infliximab injection | 0.00 | 0.00 | 0.00 | 0.00 | 0.00 | 0.00 | XXX
J1750 |  | E | Iron dextran | 0.00 | 0.00 | 0.00 | 0.00 | 0.00 | 0.00 | XXX
J1755 |  | E | Iron sucrose injection | 0.00 | 0.00 | 0.00 | 0.00 | 0.00 | 0.00 | XXX
J1785 |  | E | Injection imiglucerase /unit | 0.00 | 0.00 | 0.00 | 0.00 | 0.00 | 0.00 | XXX
J1790 |  | E | Droperidol injection | 0.00 | 0.00 | 0.00 | 0.00 | 0.00 | 0.00 | XXX
J1800 |  | E | Propranolol injection | 0.00 | 0.00 | 0.00 | 0.00 | 0.00 | 0.00 | XXX
J1810 |  | E | Droperidol/fentanyl inj | 0.00 | 0.00 | 0.00 | 0.00 | 0.00 | 0.00 | XXX
J1820 |  | E | Insulin injection | 0.00 | 0.00 | 0.00 | 0.00 | 0.00 | 0.00 | XXX
J1825 |  | E | Interferon beta-1a | 0.00 | 0.00 | 0.00 | 0.00 | 0.00 | 0.00 | XXX
J1830 |  | E | Interferon beta-1b/.25 MG | 0.00 | 0.00 | 0.00 | 0.00 | 0.00 | 0.00 | XXX
J1835 |  | E | Intraconazole injection | 0.00 | 0.00 | 0.00 | 0.00 | 0.00 | 0.00 | XXX
J1840 |  | E | Kanamycin sulfate 500 MG inj | 0.00 | 0.00 | 0.00 | 0.00 | 0.00 | 0.00 | XXX
J1850 |  | E | Kanamycin sulfate 75 MG inj | 0.00 | 0.00 | 0.00 | 0.00 | 0.00 | 0.00 | XXX
J1885 |  | E | Ketorolac tromethamine inj | 0.00 | 0.00 | 0.00 | 0.00 | 0.00 | 0.00 | XXX
J1890 |  | E | Cephalothin sodium injection | 0.00 | 0.00 | 0.00 | 0.00 | 0.00 | 0.00 | XXX
J1910 |  | E | Kutapressin injection | 0.00 | 0.00 | 0.00 | 0.00 | 0.00 | 0.00 | XXX
J1930 |  | D | Propiomazine injection | 0.00 | 0.00 | 0.00 | 0.00 | 0.00 | 0.00 | XXX
J1940 |  | E | Furosemide injection | 0.00 | 0.00 | 0.00 | 0.00 | 0.00 | 0.00 | XXX
J1950 |  | E | Leuprolide acetate/3.75 MG | 0.00 | 0.00 | 0.00 | 0.00 | 0.00 | 0.00 | XXX
J1955 |  | E | Inj levocarnitine per 1 gm | 0.00 | 0.00 | 0.00 | 0.00 | 0.00 | 0.00 | XXX
J1956 |  | E | Levofloxacin injection | 0.00 | 0.00 | 0.00 | 0.00 | 0.00 | 0.00 | XXX
J1960 |  | E | Levorphanol tartrate inj | 0.00 | 0.00 | 0.00 | 0.00 | 0.00 | 0.00 | XXX
J1970 |  | D | Methotrimeprazine injection | 0.00 | 0.00 | 0.00 | 0.00 | 0.00 | 0.00 | XXX
J1980 |  | E | Hyoscyamine sulfate inj | 0.00 | 0.00 | 0.00 | 0.00 | 0.00 | 0.00 | XXX
J1990 |  | E | Chlordiazepoxide injection | 0.00 | 0.00 | 0.00 | 0.00 | 0.00 | 0.00 | XXX
J2000 |  | E | Lidocaine injection | 0.00 | 0.00 | 0.00 | 0.00 | 0.00 | 0.00 | XXX
J2010 |  | E | Lincomycin injection | 0.00 | 0.00 | 0.00 | 0.00 | 0.00 | 0.00 | XXX
J2020 |  | E | Linezolid injection | 0.00 | 0.00 | 0.00 | 0.00 | 0.00 | 0.00 | XXX
J2060 |  | E | Lorazepam injection | 0.00 | 0.00 | 0.00 | 0.00 | 0.00 | 0.00 | XXX
J2150 |  | E | Mannitol injection | 0.00 | 0.00 | 0.00 | 0.00 | 0.00 | 0.00 | XXX
J2175 |  | E | Meperidine hydrochl/100 MG | 0.00 | 0.00 | 0.00 | 0.00 | 0.00 | 0.00 | XXX
J2180 |  | E | Meperidine/promethazine inj | 0.00 | 0.00 | 0.00 | 0.00 | 0.00 | 0.00 | XXX
J2210 |  | E | Methylergonovin maleate inj | 0.00 | 0.00 | 0.00 | 0.00 | 0.00 | 0.00 | XXX
J2240 |  | D | Metocurine iodide injection | 0.00 | 0.00 | 0.00 | 0.00 | 0.00 | 0.00 | XXX
J2250 |  | E | Inj midazolam hydrochloride | 0.00 | 0.00 | 0.00 | 0.00 | 0.00 | 0.00 | XXX
J2260 |  | E | Inj milrinone lactate/5 ML | 0.00 | 0.00 | 0.00 | 0.00 | 0.00 | 0.00 | XXX
J2270 |  | E | Morphine sulfate injection | 0.00 | 0.00 | 0.00 | 0.00 | 0.00 | 0.00 | XXX
J2271 |  | E | Morphine so4 injection 100mg | 0.00 | 0.00 | 0.00 | 0.00 | 0.00 | 0.00 | XXX
J2275 |  | E | Morphine sulfate injection | 0.00 | 0.00 | 0.00 | 0.00 | 0.00 | 0.00 | XXX
J2300 |  | E | Inj nalbuphine hydrochloride | 0.00 | 0.00 | 0.00 | 0.00 | 0.00 | 0.00 | XXX
J2310 |  | E | Inj naloxone hydrochloride | 0.00 | 0.00 | 0.00 | 0.00 | 0.00 | 0.00 | XXX
J2320 |  | E | Nandrolone decanoate 50 MG | 0.00 | 0.00 | 0.00 | 0.00 | 0.00 | 0.00 | XXX
J2321 |  | E | Nandrolone decanoate 100 MG | 0.00 | 0.00 | 0.00 | 0.00 | 0.00 | 0.00 | XXX
J2322 |  | E | Nandrolone decanoate 200 MG | 0.00 | 0.00 | 0.00 | 0.00 | 0.00 | 0.00 | XXX
J2330 |  | D | Thiothixene injection | 0.00 | 0.00 | 0.00 | 0.00 | 0.00 | 0.00 | XXX
J2350 |  | D | Niacinamide/niacin injection | 0.00 | 0.00 | 0.00 | 0.00 | 0.00 | 0.00 | XXX
J2352 |  | E | Octreotide acetate injection | 0.00 | 0.00 | 0.00 | 0.00 | 0.00 | 0.00 | XXX
J2355 |  | E | Oprelvekin injection | 0.00 | 0.00 | 0.00 | 0.00 | 0.00 | 0.00 | XXX
J2360 |  | E | Orphenadrine injection | 0.00 | 0.00 | 0.00 | 0.00 | 0.00 | 0.00 | XXX
J2370 |  | E | Phenylephrine hcl injection | 0.00 | 0.00 | 0.00 | 0.00 | 0.00 | 0.00 | XXX
J2400 |  | E | Chloroprocaine hcl injection | 0.00 | 0.00 | 0.00 | 0.00 | 0.00 | 0.00 | XXX
J2405 |  | E | Ondansetron hcl injection | 0.00 | 0.00 | 0.00 | 0.00 | 0.00 | 0.00 | XXX
J2410 |  | E | Oxymorphone hcl injection | 0.00 | 0.00 | 0.00 | 0.00 | 0.00 | 0.00 | XXX
J2430 |  | E | Pamidronate disodium/30 MG | 0.00 | 0.00 | 0.00 | 0.00 | 0.00 | 0.00 | XXX
J2440 |  | E | Papaverin hcl injection | 0.00 | 0.00 | 0.00 | 0.00 | 0.00 | 0.00 | XXX
J2460 |  | E | Oxytetracycline injection | 0.00 | 0.00 | 0.00 | 0.00 | 0.00 | 0.00 | XXX
J2480 |  | D | Hydrochlorides of opium inj | 0.00 | 0.00 | 0.00 | 0.00 | 0.00 | 0.00 | XXX
J2500 |  | E | Paricalcitol | 0.00 | 0.00 | 0.00 | 0.00 | 0.00 | 0.00 | XXX
J2510 |  | E | Penicillin g procaine inj | 0.00 | 0.00 | 0.00 | 0.00 | 0.00 | 0.00 | XXX
J2512 |  | D | Inj pentagastrin per 2 ML | 0.00 | 0.00 | 0.00 | 0.00 | 0.00 | 0.00 | XXX
J2515 |  | E | Pentobarbital sodium inj | 0.00 | 0.00 | 0.00 | 0.00 | 0.00 | 0.00 | XXX
J2540 |  | E | Penicillin g potassium inj | 0.00 | 0.00 | 0.00 | 0.00 | 0.00 | 0.00 | XXX
J2543 |  | E | Piperacillin/tazobactam | 0.00 | 0.00 | 0.00 | 0.00 | 0.00 | 0.00 | XXX
J2545 |  | E | Pentamidine isethionte/300mg | 0.00 | 0.00 | 0.00 | 0.00 | 0.00 | 0.00 | XXX
J2550 |  | E | Promethazine hcl injection | 0.00 | 0.00 | 0.00 | 0.00 | 0.00 | 0.00 | XXX
J2560 |  | E | Phenobarbital sodium inj | 0.00 | 0.00 | 0.00 | 0.00 | 0.00 | 0.00 | XXX
J2590 |  | E | Oxytocin injection | 0.00 | 0.00 | 0.00 | 0.00 | 0.00 | 0.00 | XXX
J2597 |  | E | Inj desmopressin acetate | 0.00 | 0.00 | 0.00 | 0.00 | 0.00 | 0.00 | XXX
J2640 |  | D | Prednisolone sodium ph inj | 0.00 | 0.00 | 0.00 | 0.00 | 0.00 | 0.00 | XXX
J2650 |  | E | Prednisolone acetate inj | 0.00 | 0.00 | 0.00 | 0.00 | 0.00 | 0.00 | XXX
J2670 |  | E | Totazoline hcl injection | 0.00 | 0.00 | 0.00 | 0.00 | 0.00 | 0.00 | XXX
J2675 |  | D | Inj progesterone per 50 MG | 0.00 | 0.00 | 0.00 | 0.00 | 0.00 | 0.00 | XXX
J2680 |  | E | Fluphenazine decanoate 25 MG | 0.00 | 0.00 | 0.00 | 0.00 | 0.00 | 0.00 | XXX
J2690 |  | E | Procainamide hcl injection | 0.00 | 0.00 | 0.00 | 0.00 | 0.00 | 0.00 | XXX
J2700 |  | E | Oxacillin sodium injection | 0.00 | 0.00 | 0.00 | 0.00 | 0.00 | 0.00 | XXX
J2710 |  | E | Neostigmine methylslfte inj | 0.00 | 0.00 | 0.00 | 0.00 | 0.00 | 0.00 | XXX
J2720 |  | E | Inj protamine sulfate/10 MG | 0.00 | 0.00 | 0.00 | 0.00 | 0.00 | 0.00 | XXX
J2725 |  | E | Inj protirelin per 250 mcg | 0.00 | 0.00 | 0.00 | 0.00 | 0.00 | 0.00 | XXX
J2730 |  | E | Pralidoxime chloride inj | 0.00 | 0.00 | 0.00 | 0.00 | 0.00 | 0.00 | XXX
J2760 |  | E | Phentolaine mesylate inj | 0.00 | 0.00 | 0.00 | 0.00 | 0.00 | 0.00 | XXX
J2765 |  | E | Metoclopramide hcl injection | 0.00 | 0.00 | 0.00 | 0.00 | 0.00 | 0.00 | XXX
J2770 |  | E | Quinupristin/dalfopristin | 0.00 | 0.00 | 0.00 | 0.00 | 0.00 | 0.00 | XXX
J2780 |  | E | Ranitidine hydrochloride inj | 0.00 | 0.00 | 0.00 | 0.00 | 0.00 | 0.00 | XXX
J2790 |  | E | Rho (D) immune globulin inj | 0.00 | 0.00 | 0.00 | 0.00 | 0.00 | 0.00 | XXX
J2792 |  | E | Rho(D) immune globulin h, sd | 0.00 | 0.00 | 0.00 | 0.00 | 0.00 | 0.00 | XXX
J2795 |  | E | Ropivacaine HCl injection | 0.00 | 0.00 | 0.00 | 0.00 | 0.00 | 0.00 | XXX
J2800 |  | E | Methocarbamol injection | 0.00 | 0.00 | 0.00 | 0.00 | 0.00 | 0.00 | XXX
J2810 |  | E | Inj theophylline per 40 MG | 0.00 | 0.00 | 0.00 | 0.00 | 0.00 | 0.00 | XXX
J2820 |  | E | Sargramostim injection | 0.00 | 0.00 | 0.00 | 0.00 | 0.00 | 0.00 | XXX
J2860 |  | D | Secobarbital sodium inj | 0.00 | 0.00 | 0.00 | 0.00 | 0.00 | 0.00 | XXX
J2910 |  | E | Aurothioglucose injection | 0.00 | 0.00 | 0.00 | 0.00 | 0.00 | 0.00 | XXX
J2912 |  | E | Sodium chloride injection | 0.00 | 0.00 | 0.00 | 0.00 | 0.00 | 0.00 | XXX
J2915 |  | E | NA Ferric Gluconate Complex | 0.00 | 0.00 | 0.00 | 0.00 | 0.00 | 0.00 | XXX
J2920 |  | E | Methylprednisolone injection | 0.00 | 0.00 | 0.00 | 0.00 | 0.00 | 0.00 | XXX
J2930 |  | E | Methylprednisolone injection | 0.00 | 0.00 | 0.00 | 0.00 | 0.00 | 0.00 | XXX
J2940 |  | E | Somatrem injection | 0.00 | 0.00 | 0.00 | 0.00 | 0.00 | 0.00 | XXX
J2941 |  | E | Somatropin injection | 0.00 | 0.00 | 0.00 | 0.00 | 0.00 | 0.00 | XXX
J2950 |  | E | Promazine hcl injection | 0.00 | 0.00 | 0.00 | 0.00 | 0.00 | 0.00 | XXX
J2970 |  | D | Methicillin sodium injection | 0.00 | 0.00 | 0.00 | 0.00 | 0.00 | 0.00 | XXX
J2993 |  | E | Reteplase injection | 0.00 | 0.00 | 0.00 | 0.00 | 0.00 | 0.00 | XXX
J2995 |  | E | Inj streptokinase/250,000 IU | 0.00 | 0.00 | 0.00 | 0.00 | 0.00 | 0.00 | XXX
J2997 |  | E | Alteplase recombinant | 0.00 | 0.00 | 0.00 | 0.00 | 0.00 | 0.00 | XXX
J3000 |  | E | Streptomycin injection | 0.00 | 0.00 | 0.00 | 0.00 | 0.00 | 0.00 | XXX
J3010 |  | E | Fentanyl citrate injection | 0.00 | 0.00 | 0.00 | 0.00 | 0.00 | 0.00 | XXX
J3030 |  | E | Sumatriptan succinate/6 MG | 0.00 | 0.00 | 0.00 | 0.00 | 0.00 | 0.00 | XXX
J3070 |  | E | Pentazocine hcl injection | 0.00 | 0.00 | 0.00 | 0.00 | 0.00 | 0.00 | XXX
J3080 |  | D | Chlorprothixene injection | 0.00 | 0.00 | 0.00 | 0.00 | 0.00 | 0.00 | XXX
J3100 |  | E | Tenecteplase injection | 0.00 | 0.00 | 0.00 | 0.00 | 0.00 | 0.00 | XXX
J3105 |  | E | Terbutaline sulfate inj | 0.00 | 0.00 | 0.00 | 0.00 | 0.00 | 0.00 | XXX
J3120 |  | E | Testosterone enanthate inj | 0.00 | 0.00 | 0.00 | 0.00 | 0.00 | 0.00 | XXX
J3130 |  | E | Testosterone enanthate inj | 0.00 | 0.00 | 0.00 | 0.00 | 0.00 | 0.00 | XXX
J3140 |  | E | Testosterone suspension inj | 0.00 | 0.00 | 0.00 | 0.00 | 0.00 | 0.00 | XXX
J3150 |  | E | Testosteron propionate inj | 0.00 | 0.00 | 0.00 | 0.00 | 0.00 | 0.00 | XXX
J3230 |  | E | Chlorpromazine hcl injection | 0.00 | 0.00 | 0.00 | 0.00 | 0.00 | 0.00 | XXX
J3240 |  | E | Thyrotropin injection | 0.00 | 0.00 | 0.00 | 0.00 | 0.00 | 0.00 | XXX
J3245 |  | E | Tirofiban hydrochloride | 0.00 | 0.00 | 0.00 | 0.00 | 0.00 | 0.00 | XXX
J3250 |  | E | Trimethobenzamide hcl inj | 0.00 | 0.00 | 0.00 | 0.00 | 0.00 | 0.00 | XXX
J3260 |  | E | Tobramycin sulfate injection | 0.00 | 0.00 | 0.00 | 0.00 | 0.00 | 0.00 | XXX
J3265 |  | E | Injection torsemide 10 mg/ml | 0.00 | 0.00 | 0.00 | 0.00 | 0.00 | 0.00 | XXX
J3270 |  | D | Imipramine hcl injection | 0.00 | 0.00 | 0.00 | 0.00 | 0.00 | 0.00 | XXX
J3280 |  | E | Thiethylperazine maleate inj | 0.00 | 0.00 | 0.00 | 0.00 | 0.00 | 0.00 | XXX
J3301 |  | E | Triamcinolone acetonide inj | 0.00 | 0.00 | 0.00 | 0.00 | 0.00 | 0.00 | XXX
J3302 |  | E | Triamcinolone diacetate inj | 0.00 | 0.00 | 0.00 | 0.00 | 0.00 | 0.00 | XXX
J3303 |  | E | Triamcinolone hexacetonl inj | 0.00 | 0.00 | 0.00 | 0.00 | 0.00 | 0.00 | XXX
J3305 |  | E | Inj trimetrexate glucoronate | 0.00 | 0.00 | 0.00 | 0.00 | 0.00 | 0.00 | XXX
J3310 |  | E | Perphenazine injection | 0.00 | 0.00 | 0.00 | 0.00 | 0.00 | 0.00 | XXX
J3320 |  | E | Spectinomycn di-hcl inj | 0.00 | 0.00 | 0.00 | 0.00 | 0.00 | 0.00 | XXX
J3350 |  | E | Urea injection | 0.00 | 0.00 | 0.00 | 0.00 | 0.00 | 0.00 | XXX
J3360 |  | E | Diazepam injection | 0.00 | 0.00 | 0.00 | 0.00 | 0.00 | 0.00 | XXX
J3364 |  | E | Urokinase 5,000 IU injection | 0.00 | 0.00 | 0.00 | 0.00 | 0.00 | 0.00 | XXX
J3365 |  | E | Urokinase 250,000 IU inj | 0.00 | 0.00 | 0.00 | 0.00 | 0.00 | 0.00 | XXX
J3370 |  | R | Vancomycin hcl injection | 0.00 | 0.00 | 0.00 | 0.00 | 0.00 | 0.00 | XXX
J3390 |  | D | Methoxamine injection | 0.00 | 0.00 | 0.00 | 0.00 | 0.00 | 0.00 | XXX
J3395 |  | E | Verteporfin injection | 0.00 | 0.00 | 0.00 | 0.00 | 0.00 | 0.00 | XXX
J3400 |  | E | Triflupromazine hcl inj | 0.00 | 0.00 | 0.00 | 0.00 | 0.00 | 0.00 | XXX
J3410 |  | E | Hydroxyzine hcl injection | 0.00 | 0.00 | 0.00 | 0.00 | 0.00 | 0.00 | XXX
J3420 |  | E | Vitamin b12 injection | 0.00 | 0.00 | 0.00 | 0.00 | 0.00 | 0.00 | XXX
J3430 |  | E | Vitamin k phytonadione inj | 0.00 | 0.00 | 0.00 | 0.00 | 0.00 | 0.00 | XXX
J3450 |  | D | Mephentermine sulfate inj | 0.00 | 0.00 | 0.00 | 0.00 | 0.00 | 0.00 | XXX
J3470 |  | E | Hyaluronidase injection | 0.00 | 0.00 | 0.00 | 0.00 | 0.00 | 0.00 | XXX
J3475 |  | E | Inj magnesium sulfate | 0.00 | 0.00 | 0.00 | 0.00 | 0.00 | 0.00 | XXX
J3480 |  | E | Inj potassium chloride | 0.00 | 0.00 | 0.00 | 0.00 | 0.00 | 0.00 | XXX
J3485 |  | E | Zidovudine | 0.00 | 0.00 | 0.00 | 0.00 | 0.00 | 0.00 | XXX
J3490 |  | E | Drugs unclassified injection | 0.00 | 0.00 | 0.00 | 0.00 | 0.00 | 0.00 | XXX
J3520 |  | N | Edetate disodium per 150 mg | 0.00 | 0.00 | 0.00 | 0.00 | 0.00 | 0.00 | XXX
J3530 |  | E | Nasal vaccine inhalation | 0.00 | 0.00 | 0.00 | 0.00 | 0.00 | 0.00 | XXX
J3535 |  | N | Metered dose inhaler drug | 0.00 | 0.00 | 0.00 | 0.00 | 0.00 | 0.00 | XXX
J3570 |  | N | Laetrile amygdalin vit B17 | 0.00 | 0.00 | 0.00 | 0.00 | 0.00 | 0.00 | XXX
J7030 |  | E | Normal saline solution infus | 0.00 | 0.00 | 0.00 | 0.00 | 0.00 | 0.00 | XXX
J7040 |  | E | Normal saline solution infus | 0.00 | 0.00 | 0.00 | 0.00 | 0.00 | 0.00 | XXX
J7042 |  | E | 5% dextrose/normal saline | 0.00 | 0.00 | 0.00 | 0.00 | 0.00 | 0.00 | XXX
J7050 |  | E | Normal saline solution infus | 0.00 | 0.00 | 0.00 | 0.00 | 0.00 | 0.00 | XXX
J7051 |  | E | Sterile saline/water | 0.00 | 0.00 | 0.00 | 0.00 | 0.00 | 0.00 | XXX
J7060 |  | E | 5% dextrose/water | 0.00 | 0.00 | 0.00 | 0.00 | 0.00 | 0.00 | XXX
J7070 |  | E | D5w infusion | 0.00 | 0.00 | 0.00 | 0.00 | 0.00 | 0.00 | XXX
J7100 |  | E | Dextran 40 infusion | 0.00 | 0.00 | 0.00 | 0.00 | 0.00 | 0.00 | XXX
J7110 |  | E | Dextran 75 infusion | 0.00 | 0.00 | 0.00 | 0.00 | 0.00 | 0.00 | XXX
J7120 |  | E | Ringers lactate infusion | 0.00 | 0.00 | 0.00 | 0.00 | 0.00 | 0.00 | XXX
J7130 |  | E | Hypertonic saline solution | 0.00 | 0.00 | 0.00 | 0.00 | 0.00 | 0.00 | XXX
J7190 |  | X | Factor viii | 0.00 | 0.00 | 0.00 | 0.00 | 0.00 | 0.00 | XXX
J7191 |  | X | Factor VIII (porcine) | 0.00 | 0.00 | 0.00 | 0.00 | 0.00 | 0.00 | XXX
J7192 |  | X | Factor viii recombinant | 0.00 | 0.00 | 0.00 | 0.00 | 0.00 | 0.00 | XXX
J7193 |  | E | Factor IX non-recombinant | 0.00 | 0.00 | 0.00 | 0.00 | 0.00 | 0.00 | XXX
J7194 |  | X | Factor ix complex | 0.00 | 0.00 | 0.00 | 0.00 | 0.00 | 0.00 | XXX
J7195 |  | E | Factor IX recombinant | 0.00 | 0.00 | 0.00 | 0.00 | 0.00 | 0.00 | XXX
J7197 |  | X | Antithrombin iii injection | 0.00 | 0.00 | 0.00 | 0.00 | 0.00 | 0.00 | XXX
J7198 |  | E | Anti-inhibitor | 0.00 | 0.00 | 0.00 | 0.00 | 0.00 | 0.00 | XXX
J7199 |  | E | Hemophilia clot factor noc | 0.00 | 0.00 | 0.00 | 0.00 | 0.00 | 0.00 | XXX
J7300 |  | N | Intraut copper contraceptive | 0.00 | 0.00 | 0.00 | 0.00 | 0.00 | 0.00 | XXX
J7302 |  | N | Levonorgestrel iu contracept | 0.00 | 0.00 | 0.00 | 0.00 | 0.00 | 0.00 | XXX
J7308 |  | E | Aminolevulinic acid hcl top | 0.00 | 0.00 | 0.00 | 0.00 | 0.00 | 0.00 | XXX
J7310 |  | E | Ganciclovir long act implant | 0.00 | 0.00 | 0.00 | 0.00 | 0.00 | 0.00 | XXX
J7315 |  | D | Sodium hyaluronate injection | 0.00 | 0.00 | 0.00 | 0.00 | 0.00 | 0.00 | XXX
J7316 |  | E | Sodium hyaluronate injection | 0.00 | 0.00 | 0.00 | 0.00 | 0.00 | 0.00 | XXX
J7320 |  | E | Hylan G-F 20 injection | 0.00 | 0.00 | 0.00 | 0.00 | 0.00 | 0.00 | XXX
J7330 |  | E | Cultured chondrocytes implnt | 0.00 | 0.00 | 0.00 | 0.00 | 0.00 | 0.00 | XXX
J7340 |  | E | Metabolic active D/E tissue | 0.00 | 0.00 | 0.00 | 0.00 | 0.00 | 0.00 | XXX
J7500 |  | X | Azathioprine oral 50 mg | 0.00 | 0.00 | 0.00 | 0.00 | 0.00 | 0.00 | XXX
J7501 |  | X | Azathioprine parenteral | 0.00 | 0.00 | 0.00 | 0.00 | 0.00 | 0.00 | XXX
J7502 |  | E | Cyclosporine oral 100 mg | 0.00 | 0.00 | 0.00 | 0.00 | 0.00 | 0.00 | XXX
J7504 |  | X | Lymphocyte immune globulin | 0.00 | 0.00 | 0.00 | 0.00 | 0.00 | 0.00 | XXX
J7505 |  | X | Monoclonal antibodies | 0.00 | 0.00 | 0.00 | 0.00 | 0.00 | 0.00 | XXX
J7506 |  | X | Prednisone oral | 0.00 | 0.00 | 0.00 | 0.00 | 0.00 | 0.00 | XXX
J7507 |  | E | Tacrolimus oral per 1 MG | 0.00 | 0.00 | 0.00 | 0.00 | 0.00 | 0.00 | XXX
J7508 |  | E | Tacrolimus oral per 5 MG | 0.00 | 0.00 | 0.00 | 0.00 | 0.00 | 0.00 | XXX
J7509 |  | X | Methylprednisolone oral | 0.00 | 0.00 | 0.00 | 0.00 | 0.00 | 0.00 | XXX
J7510 |  | X | Prednisolone oral per 5 mg | 0.00 | 0.00 | 0.00 | 0.00 | 0.00 | 0.00 | XXX
J7511 |  | E | Antithymocyte globuln rabbit | 0.00 | 0.00 | 0.00 | 0.00 | 0.00 | 0.00 | XXX
J7513 |  | E | Daclizumab, parenteral | 0.00 | 0.00 | 0.00 | 0.00 | 0.00 | 0.00 | XXX
J7515 |  | E | Cyclosporine oral 25 mg | 0.00 | 0.00 | 0.00 | 0.00 | 0.00 | 0.00 | XXX
J7516 |  | E | Cyclosporin parenteral 250 mg | 0.00 | 0.00 | 0.00 | 0.00 | 0.00 | 0.00 | XXX
J7517 |  | E | Mycophenolate mofetil oral | 0.00 | 0.00 | 0.00 | 0.00 | 0.00 | 0.00 | XXX
J7520 |  | E | Sirolimus, oral | 0.00 | 0.00 | 0.00 | 0.00 | 0.00 | 0.00 | XXX
J7525 |  | E | Tacrolimus injection | 0.00 | 0.00 | 0.00 | 0.00 | 0.00 | 0.00 | XXX
J7599 |  | X | Immunosuppressive drug noc | 0.00 | 0.00 | 0.00 | 0.00 | 0.00 | 0.00 | XXX
J7608 |  | E | Acetylcysteine inh sol u d | 0.00 | 0.00 | 0.00 | 0.00 | 0.00 | 0.00 | XXX
J7618 |  | E | Albuterol inh sol con | 0.00 | 0.00 | 0.00 | 0.00 | 0.00 | 0.00 | XXX
J7619 |  | E | Albuterol inh sol u d | 0.00 | 0.00 | 0.00 | 0.00 | 0.00 | 0.00 | XXX
J7622 |  | E | Beclomethasome inhalatn sol | 0.00 | 0.00 | 0.00 | 0.00 | 0.00 | 0.00 | XXX
J7624 |  | E | Betamethasome inhalation sol | 0.00 | 0.00 | 0.00 | 0.00 | 0.00 | 0.00 | XXX
J7626 |  | E | Budesonide inhalation sol | 0.00 | 0.00 | 0.00 | 0.00 | 0.00 | 0.00 | XXX
J7628 |  | E | Bitolterol mes inhal sol con | 0.00 | 0.00 | 0.00 | 0.00 | 0.00 | 0.00 | XXX
J7629 |  | E | Bitolterol mes inh sol u d | 0.00 | 0.00 | 0.00 | 0.00 | 0.00 | 0.00 | XXX
J7631 |  | E | Cromolyn sodium inh sol u d | 0.00 | 0.00 | 0.00 | 0.00 | 0.00 | 0.00 | XXX
J7635 |  | E | Atropine inhal sol con | 0.00 | 0.00 | 0.00 | 0.00 | 0.00 | 0.00 | XXX
J7636 |  | E | Atropine inhal sol unit dose | 0.00 | 0.00 | 0.00 | 0.00 | 0.00 | 0.00 | XXX
J7637 |  | E | Dexamethasone inhal sol con | 0.00 | 0.00 | 0.00 | 0.00 | 0.00 | 0.00 | XXX
J7638 |  | E | Dexamethasone inhal sol u d | 0.00 | 0.00 | 0.00 | 0.00 | 0.00 | 0.00 | XXX
J7639 |  | E | Dornase alpha inhal sol u d | 0.00 | 0.00 | 0.00 | 0.00 | 0.00 | 0.00 | XXX
J7641 |  | E | Flunisolide, inhalation sol | 0.00 | 0.00 | 0.00 | 0.00 | 0.00 | 0.00 | XXX
J7642 |  | E | Glycopyrrolate inhal sol con | 0.00 | 0.00 | 0.00 | 0.00 | 0.00 | 0.00 | XXX
J7643 |  | E | Glycopyrrolate inhal sol u d | 0.00 | 0.00 | 0.00 | 0.00 | 0.00 | 0.00 | XXX
J7644 |  | E | Ipratropium brom inh sol u d | 0.00 | 0.00 | 0.00 | 0.00 | 0.00 | 0.00 | XXX
J7648 |  | E | Isoetharine hcl inh sol con | 0.00 | 0.00 | 0.00 | 0.00 | 0.00 | 0.00 | XXX
J7649 |  | E | Isoetharine hcl inh sol u d | 0.00 | 0.00 | 0.00 | 0.00 | 0.00 | 0.00 | XXX
J7658 |  | E | Isoproterenolhcl inh sol con | 0.00 | 0.00 | 0.00 | 0.00 | 0.00 | 0.00 | XXX
J7659 |  | E | Isoproterenol hcl inh sol ud | 0.00 | 0.00 | 0.00 | 0.00 | 0.00 | 0.00 | XXX
J7668 |  | E | Metaproterenol inh sol con | 0.00 | 0.00 | 0.00 | 0.00 | 0.00 | 0.00 | XXX
J7669 |  | E | Metaproterenol inh sol u d | 0.00 | 0.00 | 0.00 | 0.00 | 0.00 | 0.00 | XXX
J7680 |  | E | Terbutaline so4 inh sol con | 0.00 | 0.00 | 0.00 | 0.00 | 0.00 | 0.00 | XXX
J7681 |  | E | Terbutaline so4 inh sol u d | 0.00 | 0.00 | 0.00 | 0.00 | 0.00 | 0.00 | XXX
J7682 |  | E | Tobramycin inhalation sol | 0.00 | 0.00 | 0.00 | 0.00 | 0.00 | 0.00 | XXX
J7683 |  | E | Triamcinolone inh sol con | 0.00 | 0.00 | 0.00 | 0.00 | 0.00 | 0.00 | XXX
J7684 |  | E | Triamcinolone inh sol u d | 0.00 | 0.00 | 0.00 | 0.00 | 0.00 | 0.00 | XXX
J7699 |  | E | Inhalation solution for DME | 0.00 | 0.00 | 0.00 | 0.00 | 0.00 | 0.00 | XXX
J7799 |  | E | Non-inhalation drug for DME | 0.00 | 0.00 | 0.00 | 0.00 | 0.00 | 0.00 | XXX
J8499 |  | N | Oral prescrip drug non chemo | 0.00 | 0.00 | 0.00 | 0.00 | 0.00 | 0.00 | XXX
J8510 |  | E | Oral busulfan | 0.00 | 0.00 | 0.00 | 0.00 | 0.00 | 0.00 | XXX
J8520 |  | E | Capecitabine, oral, 150 mg | 0.00 | 0.00 | 0.00 | 0.00 | 0.00 | 0.00 | XXX
J8521 |  | E | Capecitabine, oral, 500 mg | 0.00 | 0.00 | 0.00 | 0.00 | 0.00 | 0.00 | XXX
J8530 |  | E | Cyclophosphamide oral 25 MG | 0.00 | 0.00 | 0.00 | 0.00 | 0.00 | 0.00 | XXX
J8560 |  | E | Etoposide oral 50 MG | 0.00 | 0.00 | 0.00 | 0.00 | 0.00 | 0.00 | XXX
J8600 |  | E | Melphalan oral 2 MG | 0.00 | 0.00 | 0.00 | 0.00 | 0.00 | 0.00 | XXX
J8610 |  | E | Methotrexate oral 2.5 MG | 0.00 | 0.00 | 0.00 | 0.00 | 0.00 | 0.00 | XXX
J8700 |  | E | Temozolmide | 0.00 | 0.00 | 0.00 | 0.00 | 0.00 | 0.00 | XXX
J8999 |  | E | Oral prescription drug chemo | 0.00 | 0.00 | 0.00 | 0.00 | 0.00 | 0.00 | XXX
J9000 |  | E | Doxorubic hcl 10 MG vl chemo | 0.00 | 0.00 | 0.00 | 0.00 | 0.00 | 0.00 | XXX
J9001 |  | E | Doxorubicin hcl liposome inj | 0.00 | 0.00 | 0.00 | 0.00 | 0.00 | 0.00 | XXX
J9015 |  | E | Aldesleukin/single use vial | 0.00 | 0.00 | 0.00 | 0.00 | 0.00 | 0.00 | XXX
J9017 |  | E | Arsenic trioxide | 0.00 | 0.00 | 0.00 | 0.00 | 0.00 | 0.00 | XXX
J9020 |  | E | Asparaginase injection | 0.00 | 0.00 | 0.00 | 0.00 | 0.00 | 0.00 | XXX
J9031 |  | E | Bcg live intravesical vac | 0.00 | 0.00 | 0.00 | 0.00 | 0.00 | 0.00 | XXX
J9040 |  | E | Bleomycin sulfate injection | 0.00 | 0.00 | 0.00 | 0.00 | 0.00 | 0.00 | XXX
J9045 |  | E | Carboplatin injection | 0.00 | 0.00 | 0.00 | 0.00 | 0.00 | 0.00 | XXX
J9050 |  | E | Carmus bischl nitro inj | 0.00 | 0.00 | 0.00 | 0.00 | 0.00 | 0.00 | XXX
J9060 |  | E | Cisplatin 10 MG injection | 0.00 | 0.00 | 0.00 | 0.00 | 0.00 | 0.00 | XXX
J9062 |  | E | Cisplatin 50 MG injection | 0.00 | 0.00 | 0.00 | 0.00 | 0.00 | 0.00 | XXX
J9065 |  | E | Inj cladribine per 1 MG | 0.00 | 0.00 | 0.00 | 0.00 | 0.00 | 0.00 | XXX
J9070 |  | E | Cyclophosphamide 100 MG inj | 0.00 | 0.00 | 0.00 | 0.00 | 0.00 | 0.00 | XXX
J9080 |  | E | Cyclophosphamide 200 MG inj | 0.00 | 0.00 | 0.00 | 0.00 | 0.00 | 0.00 | XXX
J9090 |  | E | Cyclophosphamide 500 MG inj | 0.00 | 0.00 | 0.00 | 0.00 | 0.00 | 0.00 | XXX
J9091 |  | E | Cyclophosphamide 1.0 grm inj | 0.00 | 0.00 | 0.00 | 0.00 | 0.00 | 0.00 | XXX
J9092 |  | E | Cyclophosphamide 2.0 grm inj | 0.00 | 0.00 | 0.00 | 0.00 | 0.00 | 0.00 | XXX
J9093 |  | E | Cyclophosphamide lyophilized | 0.00 | 0.00 | 0.00 | 0.00 | 0.00 | 0.00 | XXX
J9094 |  | E | Cyclophosphamide lyophilized | 0.00 | 0.00 | 0.00 | 0.00 | 0.00 | 0.00 | XXX
J9095 |  | E | Cyclophosphamide lyophilized | 0.00 | 0.00 | 0.00 | 0.00 | 0.00 | 0.00 | XXX
J9096 |  | E | Cyclophosphamide lyophilized | 0.00 | 0.00 | 0.00 | 0.00 | 0.00 | 0.00 | XXX
J9097 |  | E | Cyclophosphamide lyophilized | 0.00 | 0.00 | 0.00 | 0.00 | 0.00 | 0.00 | XXX
J9100 |  | E | Cytarabine hcl 100 MG inj | 0.00 | 0.00 | 0.00 | 0.00 | 0.00 | 0.00 | XXX
J9110 |  | E | Cytarabine hcl 500 MG inj | 0.00 | 0.00 | 0.00 | 0.00 | 0.00 | 0.00 | XXX
J9120 |  | E | Dactinomycin actinomycin d | 0.00 | 0.00 | 0.00 | 0.00 | 0.00 | 0.00 | XXX
J9130 |  | E | Dacarbazine 10 MG inj | 0.00 | 0.00 | 0.00 | 0.00 | 0.00 | 0.00 | XXX
J9140 |  | E | Dacarbazine 200 MG inj | 0.00 | 0.00 | 0.00 | 0.00 | 0.00 | 0.00 | XXX
J9150 |  | E | Daunorubicin | 0.00 | 0.00 | 0.00 | 0.00 | 0.00 | 0.00 | XXX
J9151 |  | E | Daunorubicin citrate liposom | 0.00 | 0.00 | 0.00 | 0.00 | 0.00 | 0.00 | XXX
J9160 |  | E | Denileukin diftitox, 300 mcg | 0.00 | 0.00 | 0.00 | 0.00 | 0.00 | 0.00 | XXX
J9165 |  | E | Diethylstilbestrol injection | 0.00 | 0.00 | 0.00 | 0.00 | 0.00 | 0.00 | XXX
J9170 |  | E | Docetaxel | 0.00 | 0.00 | 0.00 | 0.00 | 0.00 | 0.00 | XXX
J9180 |  | E | Epirubicin HCl injection | 0.00 | 0.00 | 0.00 | 0.00 | 0.00 | 0.00 | XXX
J9181 |  | E | Etoposide 10 MG inj | 0.00 | 0.00 | 0.00 | 0.00 | 0.00 | 0.00 | XXX
J9182 |  | E | Etoposide 100 MG inj | 0.00 | 0.00 | 0.00 | 0.00 | 0.00 | 0.00 | XXX
J9185 |  | E | Fludarabine phosphate inj | 0.00 | 0.00 | 0.00 | 0.00 | 0.00 | 0.00 | XXX
J9190 |  | E | Fluorouracil injection | 0.00 | 0.00 | 0.00 | 0.00 | 0.00 | 0.00 | XXX
J9200 |  | E | Floxuridine injection | 0.00 | 0.00 | 0.00 | 0.00 | 0.00 | 0.00 | XXX
J9201 |  | E | Gemcitabine HCl | 0.00 | 0.00 | 0.00 | 0.00 | 0.00 | 0.00 | XXX
J9202 |  | E | Goserelin acetate implant | 0.00 | 0.00 | 0.00 | 0.00 | 0.00 | 0.00 | XXX
J9206 |  | E | Irinotecan injection | 0.00 | 0.00 | 0.00 | 0.00 | 0.00 | 0.00 | XXX
J9208 |  | E | Ifosfomide injection | 0.00 | 0.00 | 0.00 | 0.00 | 0.00 | 0.00 | XXX
J9209 |  | E | Mesna injection | 0.00 | 0.00 | 0.00 | 0.00 | 0.00 | 0.00 | XXX
J9211 |  | E | Idarubicin hcl injection | 0.00 | 0.00 | 0.00 | 0.00 | 0.00 | 0.00 | XXX
J9212 |  | E | Interferon alfacon-1 | 0.00 | 0.00 | 0.00 | 0.00 | 0.00 | 0.00 | XXX
J9213 |  | E | Interferon alfa-2a inj | 0.00 | 0.00 | 0.00 | 0.00 | 0.00 | 0.00 | XXX
J9214 |  | E | Interferon alfa-2b inj | 0.00 | 0.00 | 0.00 | 0.00 | 0.00 | 0.00 | XXX
J9215 |  | E | Interferon alfa-n3 inj | 0.00 | 0.00 | 0.00 | 0.00 | 0.00 | 0.00 | XXX
J9216 |  | E | Interferon gamma 1-b inj | 0.00 | 0.00 | 0.00 | 0.00 | 0.00 | 0.00 | XXX
J9217 |  | E | Leuprolide acetate suspnsion | 0.00 | 0.00 | 0.00 | 0.00 | 0.00 | 0.00 | XXX
J9218 |  | E | Leuprolide acetate injection | 0.00 | 0.00 | 0.00 | 0.00 | 0.00 | 0.00 | XXX
J9219 |  | E | Leuprolide acetate implant | 0.00 | 0.00 | 0.00 | 0.00 | 0.00 | 0.00 | XXX
J9230 |  | E | Mechlorethamine hcl inj | 0.00 | 0.00 | 0.00 | 0.00 | 0.00 | 0.00 | XXX
J9245 |  | E | Inj melphalan hydrochl 50 MG | 0.00 | 0.00 | 0.00 | 0.00 | 0.00 | 0.00 | XXX
J9250 |  | E | Methotrexate sodium inj | 0.00 | 0.00 | 0.00 | 0.00 | 0.00 | 0.00 | XXX
J9260 |  | E | Methotrexate sodium inj | 0.00 | 0.00 | 0.00 | 0.00 | 0.00 | 0.00 | XXX
J9265 |  | E | Paclitaxel injection | 0.00 | 0.00 | 0.00 | 0.00 | 0.00 | 0.00 | XXX
J9266 |  | E | Pegaspargase/singl dose vial | 0.00 | 0.00 | 0.00 | 0.00 | 0.00 | 0.00 | XXX
J9268 |  | E | Pentostatin injection | 0.00 | 0.00 | 0.00 | 0.00 | 0.00 | 0.00 | XXX
J9270 |  | E | Plicamycin (mithramycin) inj | 0.00 | 0.00 | 0.00 | 0.00 | 0.00 | 0.00 | XXX
J9280 |  | E | Mitomycin 5 MG inj | 0.00 | 0.00 | 0.00 | 0.00 | 0.00 | 0.00 | XXX
J9290 |  | E | Mitomycin 20 MG inj | 0.00 | 0.00 | 0.00 | 0.00 | 0.00 | 0.00 | XXX
J9291 |  | E | Mitomycin 40 MG inj | 0.00 | 0.00 | 0.00 | 0.00 | 0.00 | 0.00 | XXX
J9293 |  | E | Mitoxantrone hydrochl/5 MG | 0.00 | 0.00 | 0.00 | 0.00 | 0.00 | 0.00 | XXX
J9300 |  | E | Gemtuzumab ozogamicin | 0.00 | 0.00 | 0.00 | 0.00 | 0.00 | 0.00 | XXX
J9310 |  | E | Rituximab cancer treatment | 0.00 | 0.00 | 0.00 | 0.00 | 0.00 | 0.00 | XXX
J9320 |  | E | Streptozocin injection | 0.00 | 0.00 | 0.00 | 0.00 | 0.00 | 0.00 | XXX
J9340 |  | E | Thiotepa injection | 0.00 | 0.00 | 0.00 | 0.00 | 0.00 | 0.00 | XXX
J9350 |  | E | Topotecan | 0.00 | 0.00 | 0.00 | 0.00 | 0.00 | 0.00 | XXX
J9355 |  | E | Trastuzumab | 0.00 | 0.00 | 0.00 | 0.00 | 0.00 | 0.00 | XXX
J9357 |  | E | Valrubicin, 200 mg | 0.00 | 0.00 | 0.00 | 0.00 | 0.00 | 0.00 | XXX
J9360 |  | E | Vinblastine sulfate inj | 0.00 | 0.00 | 0.00 | 0.00 | 0.00 | 0.00 | XXX
J9370 |  | E | Vincristine sulfate 1 MG inj | 0.00 | 0.00 | 0.00 | 0.00 | 0.00 | 0.00 | XXX
J9375 |  | E | Vincristine sulfate 2 MG inj | 0.00 | 0.00 | 0.00 | 0.00 | 0.00 | 0.00 | XXX
J9380 |  | E | Vincristine sulfate 5 MG inj | 0.00 | 0.00 | 0.00 | 0.00 | 0.00 | 0.00 | XXX
J9390 |  | E | Vinorelbine tartrate/10 mg | 0.00 | 0.00 | 0.00 | 0.00 | 0.00 | 0.00 | XXX
J9600 |  | E | Porfimer sodium | 0.00 | 0.00 | 0.00 | 0.00 | 0.00 | 0.00 | XXX
J9999 |  | E | Chemotherapy drug | 0.00 | 0.00 | 0.00 | 0.00 | 0.00 | 0.00 | XXX
M0064 |  | A | Visit for drug monitoring | 0.37 | 0.25 | 0.12 | 0.01 | 0.63 | 0.50 | XXX
M0075 |  | N | Cellular therapy | 0.00 | 0.00 | 0.00 | 0.00 | 0.00 | 0.00 | XXX
M0076 |  | N | Prolotherapy | 0.00 | 0.00 | 0.00 | 0.00 | 0.00 | 0.00 | XXX
M0100 |  | N | Intragastric hypothermia | 0.00 | 0.00 | 0.00 | 0.00 | 0.00 | 0.00 | XXX
M0300 |  | N | IV chelationtherapy | 0.00 | 0.00 | 0.00 | 0.00 | 0.00 | 0.00 | XXX
M0301 |  | N | Fabric wrapping of aneurysm | 0.00 | 0.00 | 0.00 | 0.00 | 0.00 | 0.00 | XXX
M0302 |  | D | Assessment of cardiac output | 0.00 | 0.00 | NA | 0.00 | 0.00 | NA | XXX
M0302 | 26 | D | Assessment of cardiac output | 0.00 | 0.00 | 0.00 | 0.00 | 0.00 | 0.00 | XXX
M0302 | TC | D | Assessment of cardiac output | 0.00 | 0.00 | NA | 0.00 | 0.00 | NA | XXX
P2028 |  | X | Cephalin floculation test | 0.00 | 0.00 | 0.00 | 0.00 | 0.00 | 0.00 | XXX
P2029 |  | X | Congo red blood test | 0.00 | 0.00 | 0.00 | 0.00 | 0.00 | 0.00 | XXX
P2031 |  | N | Hair analysis | 0.00 | 0.00 | 0.00 | 0.00 | 0.00 | 0.00 | XXX
P2033 |  | X | Blood thymol turbidity | 0.00 | 0.00 | 0.00 | 0.00 | 0.00 | 0.00 | XXX
P2038 |  | X | Blood mucoprotein | 0.00 | 0.00 | 0.00 | 0.00 | 0.00 | 0.00 | XXX
P3000 |  | X | Screen pap by tech w md supv | 0.00 | 0.00 | 0.00 | 0.00 | 0.00 | 0.00 | XXX
P3001 |  | A | Screening pap smear by phys | 0.42 | 0.19 | 0.19 | 0.01 | 0.62 | 0.62 | XXX
P7001 |  | I | Culture bacterial urine | 0.00 | 0.00 | 0.00 | 0.00 | 0.00 | 0.00 | XXX
P9010 |  | E | Whole blood for transfusion | 0.00 | 0.00 | 0.00 | 0.00 | 0.00 | 0.00 | XXX
P9011 |  | E | Blood split unit | 0.00 | 0.00 | 0.00 | 0.00 | 0.00 | 0.00 | XXX
P9012 |  | E | Cryoprecipitate each unit | 0.00 | 0.00 | 0.00 | 0.00 | 0.00 | 0.00 | XXX
P9016 |  | E | RBC leukocytes reduced | 0.00 | 0.00 | 0.00 | 0.00 | 0.00 | 0.00 | XXX
P9017 |  | E | One donor fresh frozn plasma | 0.00 | 0.00 | 0.00 | 0.00 | 0.00 | 0.00 | XXX
P9019 |  | E | Platelets, each unit | 0.00 | 0.00 | 0.00 | 0.00 | 0.00 | 0.00 | XXX
P9020 |  | E | Plaelet rich plasma unit | 0.00 | 0.00 | 0.00 | 0.00 | 0.00 | 0.00 | XXX
P9021 |  | E | Red blood cells unit | 0.00 | 0.00 | 0.00 | 0.00 | 0.00 | 0.00 | XXX
P9022 |  | E | Washed red blood cells unit | 0.00 | 0.00 | 0.00 | 0.00 | 0.00 | 0.00 | XXX
P9023 |  | X | Frozen plasma, pooled, sd | 0.00 | 0.00 | 0.00 | 0.00 | 0.00 | 0.00 | XXX
P9031 |  | X | Platelets leukocytes reduced | 0.00 | 0.00 | 0.00 | 0.00 | 0.00 | 0.00 | XXX
P9032 |  | X | Platelets, irradiated | 0.00 | 0.00 | 0.00 | 0.00 | 0.00 | 0.00 | XXX
P9033 |  | X | Platelets leukoreduced irrad | 0.00 | 0.00 | 0.00 | 0.00 | 0.00 | 0.00 | XXX
P9034 |  | X | Platelets, pheresis | 0.00 | 0.00 | 0.00 | 0.00 | 0.00 | 0.00 | XXX
P9035 |  | X | Platelet pheres leukoreduced | 0.00 | 0.00 | 0.00 | 0.00 | 0.00 | 0.00 | XXX
P9036 |  | X | Platelet pheresis irradiated | 0.00 | 0.00 | 0.00 | 0.00 | 0.00 | 0.00 | XXX
P9037 |  | X | Plate pheres leukoredu irrad | 0.00 | 0.00 | 0.00 | 0.00 | 0.00 | 0.00 | XXX
P9038 |  | X | RBC irradiated | 0.00 | 0.00 | 0.00 | 0.00 | 0.00 | 0.00 | XXX
P9039 |  | X | RBC deglycerolized | 0.00 | 0.00 | 0.00 | 0.00 | 0.00 | 0.00 | XXX
P9040 |  | X | RBC leukoreduced irradiated | 0.00 | 0.00 | 0.00 | 0.00 | 0.00 | 0.00 | XXX
P9041 |  | X | Albumin (human), 5%, 50 ml | 0.00 | 0.00 | 0.00 | 0.00 | 0.00 | 0.00 | XXX
P9042 |  | D | Albumin (human), 25% | 0.00 | 0.00 | 0.00 | 0.00 | 0.00 | 0.00 | XXX
P9043 |  | X | Plasma protein fract,t5%,50 ml | 0.00 | 0.00 | 0.00 | 0.00 | 0.00 | 0.00 | XXX
P9044 |  | X | Cryoprecipitatereducedplasma | 0.00 | 0.00 | 0.00 | 0.00 | 0.00 | 0.00 | XXX
P9045 |  | X | Albumin (human), 5%, 250 ml | 0.00 | 0.00 | 0.00 | 0.00 | 0.00 | 0.00 | XXX
P9046 |  | X | Albumin (human), 25%, 20 ml | 0.00 | 0.00 | 0.00 | 0.00 | 0.00 | 0.00 | XXX
P9047 |  | X | Albumin (human), 25%, 50 ml | 0.00 | 0.00 | 0.00 | 0.00 | 0.00 | 0.00 | XXX
P9048 |  | X | Plasmaprotein fract, 5%, 250 ml | 0.00 | 0.00 | 0.00 | 0.00 | 0.00 | 0.00 | XXX
P9050 |  | X | Granulocytes, pheresis unit | 0.00 | 0.00 | 0.00 | 0.00 | 0.00 | 0.00 | XXX
P9603 |  | X | One-way allow prorated miles | 0.00 | 0.00 | 0.00 | 0.00 | 0.00 | 0.00 | XXX
P9604 |  | X | One-way allow prorated trip | 0.00 | 0.00 | 0.00 | 0.00 | 0.00 | 0.00 | XXX
P9612 |  | X | Catheterize for urine spec | 0.00 | 0.00 | 0.00 | 0.00 | 0.00 | 0.00 | XXX
P9615 |  | X | Urine specimen collect mult | 0.00 | 0.00 | 0.00 | 0.00 | 0.00 | 0.00 | XXX
Q0035 |  | A | Cardiokymography | 0.17 | 0.44 | NA | 0.03 | 0.64 | NA | XXX
Q0035 | 26 | A | Cardiokymography | 0.17 | 0.07 | 0.07 | 0.01 | 0.25 | 0.25 | XXX
Q0035 | TC | A | Cardiokymography | 0.00 | 0.37 | NA | 0.02 | 0.39 | NA | XXX
Q0091 |  | A | Obtaining screen pap smear | 0.37 | 0.68 | 0.15 | 0.01 | 1.06 | 0.53 | XXX
Q0092 |  | A | Set up port x-ray equipment | 0.00 | 0.30 | NA | 0.01 | 0.31 | NA | XXX
Q0111 |  | X | Wet mounts/w preparations | 0.00 | 0.00 | 0.00 | 0.00 | 0.00 | 0.00 | XXX
Q0112 |  | X | Potassium hydroxide preps | 0.00 | 0.00 | 0.00 | 0.00 | 0.00 | 0.00 | XXX
Q0113 |  | X | Pinworm examinations | 0.00 | 0.00 | 0.00 | 0.00 | 0.00 | 0.00 | XXX
Q0114 |  | X | Fern test | 0.00 | 0.00 | 0.00 | 0.00 | 0.00 | 0.00 | XXX
Q0115 |  | X | Post-coital mucous exam | 0.00 | 0.00 | 0.00 | 0.00 | 0.00 | 0.00 | XXX
Q0136 |  | E | Non esrd epoetin alpha inj | 0.00 | 0.00 | 0.00 | 0.00 | 0.00 | 0.00 | XXX
Q0144 |  | D | Azithromycin dihydrate, oral | 0.00 | 0.00 | 0.00 | 0.00 | 0.00 | 0.00 | XXX
Q0160 |  | D | Factor IX non-recombinant | 0.00 | 0.00 | 0.00 | 0.00 | 0.00 | 0.00 | XXX
Q0161 |  | D | Factor IX recombinant | 0.00 | 0.00 | 0.00 | 0.00 | 0.00 | 0.00 | XXX
Q0163 |  | X | Diphenhydramine HCl 50 mg | 0.00 | 0.00 | 0.00 | 0.00 | 0.00 | 0.00 | XXX
Q0164 |  | X | Prochlorperazine maleate 5 mg | 0.00 | 0.00 | 0.00 | 0.00 | 0.00 | 0.00 | XXX
Q0165 |  | X | Prochlorperazine maleate 10 mg | 0.00 | 0.00 | 0.00 | 0.00 | 0.00 | 0.00 | XXX
Q0166 |  | X | Granisetron HCl 1 mg oral | 0.00 | 0.00 | 0.00 | 0.00 | 0.00 | 0.00 | XXX
Q0167 |  | X | Dronabinol 2.5 mg oral | 0.00 | 0.00 | 0.00 | 0.00 | 0.00 | 0.00 | XXX
Q0168 |  | X | Dronabinol 5 mg oral | 0.00 | 0.00 | 0.00 | 0.00 | 0.00 | 0.00 | XXX
Q0169 |  | X | Promethazine HCl 12.5 mg oral | 0.00 | 0.00 | 0.00 | 0.00 | 0.00 | 0.00 | XXX
Q0170 |  | X | Promethazine HCl 25 mg oral | 0.00 | 0.00 | 0.00 | 0.00 | 0.00 | 0.00 | XXX
Q0171 |  | X | Chlorpromazine HCl 10 mg oral | 0.00 | 0.00 | 0.00 | 0.00 | 0.00 | 0.00 | XXX
Q0172 |  | X | Chlorpromazine HCl 25 mg oral | 0.00 | 0.00 | 0.00 | 0.00 | 0.00 | 0.00 | XXX
Q0173 |  | X | Trimethobenzamide HCl 250 mg | 0.00 | 0.00 | 0.00 | 0.00 | 0.00 | 0.00 | XXX
Q0174 |  | X | Thiethylperazine maleate 10 mg | 0.00 | 0.00 | 0.00 | 0.00 | 0.00 | 0.00 | XXX
Q0175 |  | X | Perphenazine 4 mg oral | 0.00 | 0.00 | 0.00 | 0.00 | 0.00 | 0.00 | XXX
Q0176 |  | X | Perphenazine 8 mg oral | 0.00 | 0.00 | 0.00 | 0.00 | 0.00 | 0.00 | XXX
Q0177 |  | X | Hydroxyzine pamoate 25 mg | 0.00 | 0.00 | 0.00 | 0.00 | 0.00 | 0.00 | XXX
Q0178 |  | X | Hydroxyzine pamoate 50 mg | 0.00 | 0.00 | 0.00 | 0.00 | 0.00 | 0.00 | XXX
Q0179 |  | X | Ondansetron HCl 8 mg oral | 0.00 | 0.00 | 0.00 | 0.00 | 0.00 | 0.00 | XXX
Q0180 |  | X | Dolasetron mesylate oral | 0.00 | 0.00 | 0.00 | 0.00 | 0.00 | 0.00 | XXX
Q0181 |  | X | Unspecified oral anti-emetic | 0.00 | 0.00 | 0.00 | 0.00 | 0.00 | 0.00 | XXX
Q0183 |  | X | Nonmetabolic active tissue | 0.00 | 0.00 | 0.00 | 0.00 | 0.00 | 0.00 | XXX
Q0184 |  | X | Metabolically active tissue | 0.00 | 0.00 | 0.00 | 0.00 | 0.00 | 0.00 | XXX
Q0185 |  | D | Metabolic active D/E tissue | 0.00 | 0.00 | 0.00 | 0.00 | 0.00 | 0.00 | XXX
Q0187 |  | E | Factor viia recombinant | 0.00 | 0.00 | 0.00 | 0.00 | 0.00 | 0.00 | XXX
Q1001 |  | X | Ntiol category 1 | 0.00 | 0.00 | 0.00 | 0.00 | 0.00 | 0.00 | XXX
Q1002 |  | X | Ntiol category 2 | 0.00 | 0.00 | 0.00 | 0.00 | 0.00 | 0.00 | XXX
Q1003 |  | X | Ntiol category 3 | 0.00 | 0.00 | 0.00 | 0.00 | 0.00 | 0.00 | XXX
Q1004 |  | X | Ntiol category 4 | 0.00 | 0.00 | 0.00 | 0.00 | 0.00 | 0.00 | XXX
Q1005 |  | X | Ntiol category 5 | 0.00 | 0.00 | 0.00 | 0.00 | 0.00 | 0.00 | XXX
Q2001 |  | N | Oral cabergoline 0.5 mg | 0.00 | 0.00 | 0.00 | 0.00 | 0.00 | 0.00 | XXX
Q2002 |  | E | Elliotts b solution per ml | 0.00 | 0.00 | 0.00 | 0.00 | 0.00 | 0.00 | XXX
Q2003 |  | E | Aprotinin, 10,000 kiu | 0.00 | 0.00 | 0.00 | 0.00 | 0.00 | 0.00 | XXX
Q2004 |  | E | Bladder calculi irrig sol | 0.00 | 0.00 | 0.00 | 0.00 | 0.00 | 0.00 | XXX
Q2005 |  | E | Corticorelin ovine triflutat | 0.00 | 0.00 | 0.00 | 0.00 | 0.00 | 0.00 | XXX
Q2006 |  | E | Digoxin immune fab (ovine) | 0.00 | 0.00 | 0.00 | 0.00 | 0.00 | 0.00 | XXX
Q2007 |  | E | Ethanolamine oleate 100 mg | 0.00 | 0.00 | 0.00 | 0.00 | 0.00 | 0.00 | XXX
Q2008 |  | E | Fomepizole, 15 mg | 0.00 | 0.00 | 0.00 | 0.00 | 0.00 | 0.00 | XXX
Q2009 |  | E | Fosphenytoin, 50 mg | 0.00 | 0.00 | 0.00 | 0.00 | 0.00 | 0.00 | XXX
Q2010 |  | E | Glatiramer acetate, per dose | 0.00 | 0.00 | 0.00 | 0.00 | 0.00 | 0.00 | XXX
Q2011 |  | E | Hemin, per 1 mg | 0.00 | 0.00 | 0.00 | 0.00 | 0.00 | 0.00 | XXX
Q2012 |  | E | Pegademase bovine, 25 iu | 0.00 | 0.00 | 0.00 | 0.00 | 0.00 | 0.00 | XXX
Q2013 |  | E | Pentastarch 10% solution | 0.00 | 0.00 | 0.00 | 0.00 | 0.00 | 0.00 | XXX
Q2014 |  | E | Sermorelin acetate, 0.5 mg | 0.00 | 0.00 | 0.00 | 0.00 | 0.00 | 0.00 | XXX
Q2015 |  | D | Somatrem, 5 mg | 0.00 | 0.00 | 0.00 | 0.00 | 0.00 | 0.00 | XXX
Q2016 |  | D | Somatropin, 1 mg | 0.00 | 0.00 | 0.00 | 0.00 | 0.00 | 0.00 | XXX
Q2017 |  | E | Teniposide, 50 mg | 0.00 | 0.00 | 0.00 | 0.00 | 0.00 | 0.00 | XXX
Q2018 |  | E | Urofollitropin, 75 iu | 0.00 | 0.00 | 0.00 | 0.00 | 0.00 | 0.00 | XXX
Q2019 |  | E | Basiliximab | 0.00 | 0.00 | 0.00 | 0.00 | 0.00 | 0.00 | XXX
Q2020 |  | E | Histrelin acetate | 0.00 | 0.00 | 0.00 | 0.00 | 0.00 | 0.00 | XXX
Q2021 |  | E | Lepirudin | 0.00 | 0.00 | 0.00 | 0.00 | 0.00 | 0.00 | XXX
Q2022 |  | E | VonWillebrandFactrCmplxperIU | 0.00 | 0.00 | 0.00 | 0.00 | 0.00 | 0.00 | XXX
Q3001 |  | E | Brachytherapy Radioelements | 0.00 | 0.00 | 0.00 | 0.00 | 0.00 | 0.00 | XXX
Q3002 |  | E | Gallium ga 67 | 0.00 | 0.00 | 0.00 | 0.00 | 0.00 | 0.00 | XXX
Q3003 |  | E | Technetium tc99m bicisate | 0.00 | 0.00 | 0.00 | 0.00 | 0.00 | 0.00 | XXX
Q3004 |  | E | Xenon xe 133 | 0.00 | 0.00 | 0.00 | 0.00 | 0.00 | 0.00 | XXX
Q3005 |  | E | Technetium tc99m mertiatide | 0.00 | 0.00 | 0.00 | 0.00 | 0.00 | 0.00 | XXX
Q3006 |  | E | Technetium tc99m glucepatate | 0.00 | 0.00 | 0.00 | 0.00 | 0.00 | 0.00 | XXX
Q3007 |  | E | Sodium phosphate p32 | 0.00 | 0.00 | 0.00 | 0.00 | 0.00 | 0.00 | XXX
Q3008 |  | E | Indium 111-in pentetreotide | 0.00 | 0.00 | 0.00 | 0.00 | 0.00 | 0.00 | XXX
Q3009 |  | E | Technetium tc99m oxidronate | 0.00 | 0.00 | 0.00 | 0.00 | 0.00 | 0.00 | XXX
Q3010 |  | E | Technetium tc99mlabeledrbcs | 0.00 | 0.00 | 0.00 | 0.00 | 0.00 | 0.00 | XXX
Q3011 |  | E | Chromic phosphate p32 | 0.00 | 0.00 | 0.00 | 0.00 | 0.00 | 0.00 | XXX
Q3012 |  | E | Cyanocobalamin cobalt co57 | 0.00 | 0.00 | 0.00 | 0.00 | 0.00 | 0.00 | XXX
Q3013 |  | D | Verteporfin injection | 0.00 | 0.00 | 0.00 | 0.00 | 0.00 | 0.00 | XXX
Q3014 |  | E | Telehealth facility fee | 0.00 | 0.00 | 0.00 | 0.00 | 0.00 | 0.00 | XXX
Q3017 |  | E | ALS assessment | 0.00 | 0.00 | 0.00 | 0.00 | 0.00 | 0.00 | XXX
Q4001 |  | X | Cast sup body cast plaster | 0.00 | 0.00 | 0.00 | 0.00 | 0.00 | 0.00 | XXX
Q4002 |  | X | Cast sup body cast fiberglas | 0.00 | 0.00 | 0.00 | 0.00 | 0.00 | 0.00 | XXX
Q4003 |  | X | Cast sup shoulder cast plstr | 0.00 | 0.00 | 0.00 | 0.00 | 0.00 | 0.00 | XXX
Q4004 |  | X | Cast sup shoulder cast fbrgl | 0.00 | 0.00 | 0.00 | 0.00 | 0.00 | 0.00 | XXX
Q4005 |  | X | Cast sup long arm adult plst | 0.00 | 0.00 | 0.00 | 0.00 | 0.00 | 0.00 | XXX
Q4006 |  | X | Cast sup long arm adult fbrg | 0.00 | 0.00 | 0.00 | 0.00 | 0.00 | 0.00 | XXX
Q4007 |  | X | Cast sup long arm ped plster | 0.00 | 0.00 | 0.00 | 0.00 | 0.00 | 0.00 | XXX
Q4008 |  | X | Cast sup long arm ped fbrgls | 0.00 | 0.00 | 0.00 | 0.00 | 0.00 | 0.00 | XXX
Q4009 |  | X | Cast sup sht arm adult plstr | 0.00 | 0.00 | 0.00 | 0.00 | 0.00 | 0.00 | XXX
Q4010 |  | X | Cast sup sht arm adult fbrgl | 0.00 | 0.00 | 0.00 | 0.00 | 0.00 | 0.00 | XXX
Q4011 |  | X | Cast sup sht arm ped plaster | 0.00 | 0.00 | 0.00 | 0.00 | 0.00 | 0.00 | XXX
Q4012 |  | X | Cast sup sht arm ped fbrglas | 0.00 | 0.00 | 0.00 | 0.00 | 0.00 | 0.00 | XXX
Q4013 |  | X | Cast sup gauntlet plaster | 0.00 | 0.00 | 0.00 | 0.00 | 0.00 | 0.00 | XXX
Q4014 |  | X | Cast sup gauntlet fiberglass | 0.00 | 0.00 | 0.00 | 0.00 | 0.00 | 0.00 | XXX
Q4015 |  | X | Cast sup gauntlet ped plster | 0.00 | 0.00 | 0.00 | 0.00 | 0.00 | 0.00 | XXX
Q4016 |  | X | Cast sup gauntlet ped fbrgls | 0.00 | 0.00 | 0.00 | 0.00 | 0.00 | 0.00 | XXX
Q4017 |  | X | Cast sup lng arm splint plst | 0.00 | 0.00 | 0.00 | 0.00 | 0.00 | 0.00 | XXX
Q4018 |  | X | Cast sup lng arm splint fbrg | 0.00 | 0.00 | 0.00 | 0.00 | 0.00 | 0.00 | XXX
Q4019 |  | X | Cast sup lng arm splnt ped p | 0.00 | 0.00 | 0.00 | 0.00 | 0.00 | 0.00 | XXX
Q4020 |  | X | Cast sup lng arm splnt ped f | 0.00 | 0.00 | 0.00 | 0.00 | 0.00 | 0.00 | XXX
Q4021 |  | X | Cast sup sht arm splint plst | 0.00 | 0.00 | 0.00 | 0.00 | 0.00 | 0.00 | XXX
Q4022 |  | X | Cast sup sht arm splint fbrg | 0.00 | 0.00 | 0.00 | 0.00 | 0.00 | 0.00 | XXX
Q4023 |  | X | Cast sup sht arm splnt ped p | 0.00 | 0.00 | 0.00 | 0.00 | 0.00 | 0.00 | XXX
Q4024 |  | X | Cast sup sht arm splnt ped f | 0.00 | 0.00 | 0.00 | 0.00 | 0.00 | 0.00 | XXX
Q4025 |  | X | Cast sup hip spica plaster | 0.00 | 0.00 | 0.00 | 0.00 | 0.00 | 0.00 | XXX
Q4026 |  | X | Cast sup hip spica fiberglas | 0.00 | 0.00 | 0.00 | 0.00 | 0.00 | 0.00 | XXX
Q4027 |  | X | Cast sup hip spica ped plstr | 0.00 | 0.00 | 0.00 | 0.00 | 0.00 | 0.00 | XXX
Q4028 |  | X | Cast sup hip spica ped fbrgl | 0.00 | 0.00 | 0.00 | 0.00 | 0.00 | 0.00 | XXX
Q4029 |  | X | Cast sup long leg plaster | 0.00 | 0.00 | 0.00 | 0.00 | 0.00 | 0.00 | XXX
Q4030 |  | X | Cast sup long leg fiberglass | 0.00 | 0.00 | 0.00 | 0.00 | 0.00 | 0.00 | XXX
Q4031 |  | X | Cast sup lng leg ped plaster | 0.00 | 0.00 | 0.00 | 0.00 | 0.00 | 0.00 | XXX
Q4032 |  | X | Cast sup lng leg ped fbrgls | 0.00 | 0.00 | 0.00 | 0.00 | 0.00 | 0.00 | XXX
Q4033 |  | X | Cast sup lng leg cylinder pl | 0.00 | 0.00 | 0.00 | 0.00 | 0.00 | 0.00 | XXX
Q4034 |  | X | Cast sup lng leg cylinder fb | 0.00 | 0.00 | 0.00 | 0.00 | 0.00 | 0.00 | XXX
Q4035 |  | X | Cast sup lng leg cylndr ped p | 0.00 | 0.00 | 0.00 | 0.00 | 0.00 | 0.00 | XXX
Q4036 |  | X | Cast sup lng leg cylndr ped f | 0.00 | 0.00 | 0.00 | 0.00 | 0.00 | 0.00 | XXX
Q4037 |  | X | Cast sup shrt leg plaster | 0.00 | 0.00 | 0.00 | 0.00 | 0.00 | 0.00 | XXX
Q4038 |  | X | Cast sup shrt leg fiberglass | 0.00 | 0.00 | 0.00 | 0.00 | 0.00 | 0.00 | XXX
Q4039 |  | X | Cast sup shrt leg ped plster | 0.00 | 0.00 | 0.00 | 0.00 | 0.00 | 0.00 | XXX
Q4040 |  | X | Cast sup shrt leg ped fbrgls | 0.00 | 0.00 | 0.00 | 0.00 | 0.00 | 0.00 | XXX
Q4041 |  | X | Cast sup lng leg splnt plstr | 0.00 | 0.00 | 0.00 | 0.00 | 0.00 | 0.00 | XXX
Q4042 |  | X | Cast sup lng leg splnt fbrgl | 0.00 | 0.00 | 0.00 | 0.00 | 0.00 | 0.00 | XXX
Q4043 |  | X | Cast sup lng leg splnt ped p | 0.00 | 0.00 | 0.00 | 0.00 | 0.00 | 0.00 | XXX
Q4044 |  | X | Cast sup lng leg splnt ped f | 0.00 | 0.00 | 0.00 | 0.00 | 0.00 | 0.00 | XXX
Q4045 |  | X | Cast sup sht leg splnt plstr | 0.00 | 0.00 | 0.00 | 0.00 | 0.00 | 0.00 | XXX
Q4046 |  | X | Cast sup sht leg splnt fbrgl | 0.00 | 0.00 | 0.00 | 0.00 | 0.00 | 0.00 | XXX
Q4047 |  | X | Cast sup sht leg splnt ped p | 0.00 | 0.00 | 0.00 | 0.00 | 0.00 | 0.00 | XXX
Q4048 |  | X | Cast sup sht leg splnt ped f | 0.00 | 0.00 | 0.00 | 0.00 | 0.00 | 0.00 | XXX
Q4049 |  | X | Finger splint, static | 0.00 | 0.00 | 0.00 | 0.00 | 0.00 | 0.00 | XXX
Q4050 |  | X | Cast supplies unlisted | 0.00 | 0.00 | 0.00 | 0.00 | 0.00 | 0.00 | XXX
Q4051 |  | X | Splint supplies misc | 0.00 | 0.00 | 0.00 | 0.00 | 0.00 | 0.00 | XXX
Q9920 |  | E | Epoetin with hct <= 20 | 0.00 | 0.00 | 0.00 | 0.00 | 0.00 | 0.00 | XXX
Q9921 |  | E | Epoetin with hct = 21 | 0.00 | 0.00 | 0.00 | 0.00 | 0.00 | 0.00 | XXX
Q9922 |  | E | Epoetin with hct = 22 | 0.00 | 0.00 | 0.00 | 0.00 | 0.00 | 0.00 | XXX
Q9923 |  | E | Epoetin with hct = 23 | 0.00 | 0.00 | 0.00 | 0.00 | 0.00 | 0.00 | XXX
Q9924 |  | E | Epoetin with hct = 24 | 0.00 | 0.00 | 0.00 | 0.00 | 0.00 | 0.00 | XXX
Q9925 |  | E | Epoetin with hct = 25 | 0.00 | 0.00 | 0.00 | 0.00 | 0.00 | 0.00 | XXX
Q9926 |  | E | Epoetin with hct = 26 | 0.00 | 0.00 | 0.00 | 0.00 | 0.00 | 0.00 | XXX
Q9927 |  | E | Epoetin with hct = 27 | 0.00 | 0.00 | 0.00 | 0.00 | 0.00 | 0.00 | XXX
Q9928 |  | E | Epoetin with hct = 28 | 0.00 | 0.00 | 0.00 | 0.00 | 0.00 | 0.00 | XXX
Q9929 |  | E | Epoetin with hct = 29 | 0.00 | 0.00 | 0.00 | 0.00 | 0.00 | 0.00 | XXX
Q9930 |  | E | Epoetin with hct = 30 | 0.00 | 0.00 | 0.00 | 0.00 | 0.00 | 0.00 | XXX
Q9931 |  | E | Epoetin with hct = 31 | 0.00 | 0.00 | 0.00 | 0.00 | 0.00 | 0.00 | XXX
Q9932 |  | E | Epoetin with hct = 32 | 0.00 | 0.00 | 0.00 | 0.00 | 0.00 | 0.00 | XXX
Q9933 |  | E | Epoetin with hct = 33 | 0.00 | 0.00 | 0.00 | 0.00 | 0.00 | 0.00 | XXX
Q9934 |  | E | Epoetin with hct = 34 | 0.00 | 0.00 | 0.00 | 0.00 | 0.00 | 0.00 | XXX
Q9935 |  | E | Epoetin with hct = 35 | 0.00 | 0.00 | 0.00 | 0.00 | 0.00 | 0.00 | XXX
Q9936 |  | E | Epoetin with hct = 36 | 0.00 | 0.00 | 0.00 | 0.00 | 0.00 | 0.00 | XXX
Q9937 |  | E | Epoetin with hct = 37 | 0.00 | 0.00 | 0.00 | 0.00 | 0.00 | 0.00 | XXX
Q9938 |  | E | Epoetin with hct = 38 | 0.00 | 0.00 | 0.00 | 0.00 | 0.00 | 0.00 | XXX
Q9939 |  | E | Epoetin with hct = 39 | 0.00 | 0.00 | 0.00 | 0.00 | 0.00 | 0.00 | XXX
Q9940 |  | E | Epoetin with hct >= 40 | 0.00 | 0.00 | 0.00 | 0.00 | 0.00 | 0.00 | XXX
R0070 |  | C | Transport portable x-ray | 0.00 | 0.00 | 0.00 | 0.00 | 0.00 | 0.00 | XXX
R0075 |  | C | Transport port x-ray multipl | 0.00 | 0.00 | 0.00 | 0.00 | 0.00 | 0.00 | XXX
R0076 |  | B | Transport portable EKG | 0.00 | 0.00 | 0.00 | 0.00 | 0.00 | 0.00 | XXX
T1000 |  | I | Private duty/independent nsg | 0.00 | 0.00 | 0.00 | 0.00 | 0.00 | 0.00 | XXX
T1001 |  | I | Nursing assessment/evaluatn | 0.00 | 0.00 | 0.00 | 0.00 | 0.00 | 0.00 | XXX
T1002 |  | I | RN services up to 15 minutes | 0.00 | 0.00 | 0.00 | 0.00 | 0.00 | 0.00 | XXX
T1003 |  | I | LPN/LVN services up to 15 min | 0.00 | 0.00 | 0.00 | 0.00 | 0.00 | 0.00 | XXX
T1004 |  | I | Nsg aide service up to 15 min | 0.00 | 0.00 | 0.00 | 0.00 | 0.00 | 0.00 | XXX
T1005 |  | I | Respite care service 15 min | 0.00 | 0.00 | 0.00 | 0.00 | 0.00 | 0.00 | XXX
T1006 |  | I | Family/Couple Counseling | 0.00 | 0.00 | 0.00 | 0.00 | 0.00 | 0.00 | XXX
T1007 |  | I | Treatment Plan Development | 0.00 | 0.00 | 0.00 | 0.00 | 0.00 | 0.00 | XXX
T1008 |  | I | Day Treatment for Individual | 0.00 | 0.00 | 0.00 | 0.00 | 0.00 | 0.00 | XXX
T1009 |  | I | Child Sitting Services | 0.00 | 0.00 | 0.00 | 0.00 | 0.00 | 0.00 | XXX
T1010 |  | I | Meals when Receive Services | 0.00 | 0.00 | 0.00 | 0.00 | 0.00 | 0.00 | XXX
T1011 |  | I | Alcohol/Substance Abuse NOC | 0.00 | 0.00 | 0.00 | 0.00 | 0.00 | 0.00 | XXX
T1012 |  | I | Alcohol/Substance Abuse Skil | 0.00 | 0.00 | 0.00 | 0.00 | 0.00 | 0.00 | XXX
T1013 |  | I | Sign Lang/Oral Interpreter | 0.00 | 0.00 | 0.00 | 0.00 | 0.00 | 0.00 | XXX
T1014 |  | I | Telehealth transmit, per min | 0.00 | 0.00 | 0.00 | 0.00 | 0.00 | 0.00 | XXX
T1015 |  | I | Clinic service | 0.00 | 0.00 | 0.00 | 0.00 | 0.00 | 0.00 | XXX
V2020 |  | X | Vision svcs frames purchases | 0.00 | 0.00 | 0.00 | 0.00 | 0.00 | 0.00 | XXX
V2025 |  | N | Eyeglasses delux frames | 0.00 | 0.00 | 0.00 | 0.00 | 0.00 | 0.00 | XXX
V2100 |  | X | Lens spher single plano 4.00 | 0.00 | 0.00 | 0.00 | 0.00 | 0.00 | 0.00 | XXX
V2101 |  | X | Single visn sphere 4.12-7.00 | 0.00 | 0.00 | 0.00 | 0.00 | 0.00 | 0.00 | XXX
V2102 |  | X | Singl visn sphere 7.12-20.00 | 0.00 | 0.00 | 0.00 | 0.00 | 0.00 | 0.00 | XXX
V2103 |  | X | Spherocylindr 4.00d/12-2.00d | 0.00 | 0.00 | 0.00 | 0.00 | 0.00 | 0.00 | XXX
V2104 |  | X | Spherocylindr 4.00d/2.12-4d | 0.00 | 0.00 | 0.00 | 0.00 | 0.00 | 0.00 | XXX
V2105 |  | X | Spherocylinder 4.00d/4.25-6d | 0.00 | 0.00 | 0.00 | 0.00 | 0.00 | 0.00 | XXX
V2106 |  | X | Spherocylinder 4.00d/>6.00d | 0.00 | 0.00 | 0.00 | 0.00 | 0.00 | 0.00 | XXX
V2107 |  | X | Spherocylinder 4.25d/12-2d | 0.00 | 0.00 | 0.00 | 0.00 | 0.00 | 0.00 | XXX
V2108 |  | X | Spherocylinder 4.25d/2.12-4d | 0.00 | 0.00 | 0.00 | 0.00 | 0.00 | 0.00 | XXX
V2109 |  | X | Spherocylinder 4.25d/4.25-6d | 0.00 | 0.00 | 0.00 | 0.00 | 0.00 | 0.00 | XXX
V2110 |  | X | Spherocylinder 4.25d/over 6d | 0.00 | 0.00 | 0.00 | 0.00 | 0.00 | 0.00 | XXX
V2111 |  | X | Spherocylindr 7.25d/.25-2.25 | 0.00 | 0.00 | 0.00 | 0.00 | 0.00 | 0.00 | XXX
V2112 |  | X | Spherocylindr 7.25d/2.25-4d | 0.00 | 0.00 | 0.00 | 0.00 | 0.00 | 0.00 | XXX
V2113 |  | X | Spherocylindr 7.25d/4.25-6d | 0.00 | 0.00 | 0.00 | 0.00 | 0.00 | 0.00 | XXX
V2114 |  | X | Spherocylinder over 12.00d | 0.00 | 0.00 | 0.00 | 0.00 | 0.00 | 0.00 | XXX
V2115 |  | X | Lens lenticular bifocal | 0.00 | 0.00 | 0.00 | 0.00 | 0.00 | 0.00 | XXX
V2116 |  | X | Nonaspheric lens bifocal | 0.00 | 0.00 | 0.00 | 0.00 | 0.00 | 0.00 | XXX
V2117 |  | X | Aspheric lens bifocal | 0.00 | 0.00 | 0.00 | 0.00 | 0.00 | 0.00 | XXX
V2118 |  | X | Lens aniseikonic single | 0.00 | 0.00 | 0.00 | 0.00 | 0.00 | 0.00 | XXX
V2199 |  | X | Lens single vision not oth c | 0.00 | 0.00 | 0.00 | 0.00 | 0.00 | 0.00 | XXX
V2200 |  | X | Lens spher bifoc plano 4.00d | 0.00 | 0.00 | 0.00 | 0.00 | 0.00 | 0.00 | XXX
V2201 |  | X | Lens sphere bifocal 4.12-7.0 | 0.00 | 0.00 | 0.00 | 0.00 | 0.00 | 0.00 | XXX
V2202 |  | X | Lens sphere bifocal 7.12-20 | 0.00 | 0.00 | 0.00 | 0.00 | 0.00 | 0.00 | XXX
V2203 |  | X | Lens sphcyl bifocal 4.00d/.1 | 0.00 | 0.00 | 0.00 | 0.00 | 0.00 | 0.00 | XXX
V2204 |  | X | Lens sphcy bifocal 4.00d/2.1 | 0.00 | 0.00 | 0.00 | 0.00 | 0.00 | 0.00 | XXX
V2205 |  | X | Lens sphcy bifocal 4.00d/4.2 | 0.00 | 0.00 | 0.00 | 0.00 | 0.00 | 0.00 | XXX
V2206 |  | X | Lens sphcy bifocal 4.00d/ove | 0.00 | 0.00 | 0.00 | 0.00 | 0.00 | 0.00 | XXX
V2207 |  | X | Lens sphcy bifocal 4.25-7d/ | 0.00 | 0.00 | 0.00 | 0.00 | 0.00 | 0.00 | XXX
V2208 |  | X | Lens sphcy bifocal 4.25-7/2 | 0.00 | 0.00 | 0.00 | 0.00 | 0.00 | 0.00 | XXX
V2209 |  | X | Lens sphcy bifocal 4.25-7/4 | 0.00 | 0.00 | 0.00 | 0.00 | 0.00 | 0.00 | XXX
V2210 |  | X | Lens sphcy bifocal 4.25-7/ov | 0.00 | 0.00 | 0.00 | 0.00 | 0.00 | 0.00 | XXX
V2211 |  | X | Lens sphcy bifo 7.25-12/.25- | 0.00 | 0.00 | 0.00 | 0.00 | 0.00 | 0.00 | XXX
V2212 |  | X | Lens sphcyl bifo 7.25-12/2.2 | 0.00 | 0.00 | 0.00 | 0.00 | 0.00 | 0.00 | XXX
V2213 |  | X | Lens sphcyl bifo 7.25-12/4.2 | 0.00 | 0.00 | 0.00 | 0.00 | 0.00 | 0.00 | XXX
V2214 |  | X | Lens sphcyl bifocal over 12 | 0.00 | 0.00 | 0.00 | 0.00 | 0.00 | 0.00 | XXX
V2215 |  | X | Lens lenticular bifocal | 0.00 | 0.00 | 0.00 | 0.00 | 0.00 | 0.00 | XXX
V2216 |  | X | Lens lenticular nonaspheric | 0.00 | 0.00 | 0.00 | 0.00 | 0.00 | 0.00 | XXX
V2217 |  | X | Lens lenticular aspheric bif | 0.00 | 0.00 | 0.00 | 0.00 | 0.00 | 0.00 | XXX
V2218 |  | X | Lens aniseikonic bifocal | 0.00 | 0.00 | 0.00 | 0.00 | 0.00 | 0.00 | XXX
V2219 |  | X | Lens bifocal seg width over | 0.00 | 0.00 | 0.00 | 0.00 | 0.00 | 0.00 | XXX
V2220 |  | X | Lens bifocal add over 3.25d | 0.00 | 0.00 | 0.00 | 0.00 | 0.00 | 0.00 | XXX
V2299 |  | X | Lens bifocal speciality | 0.00 | 0.00 | 0.00 | 0.00 | 0.00 | 0.00 | XXX
V2300 |  | X | Lens sphere trifocal 4.00d | 0.00 | 0.00 | 0.00 | 0.00 | 0.00 | 0.00 | XXX
V2301 |  | X | Lens sphere trifocal 4.12-7 | 0.00 | 0.00 | 0.00 | 0.00 | 0.00 | 0.00 | XXX
V2302 |  | X | Lens sphere trifocal 7.12-20 | 0.00 | 0.00 | 0.00 | 0.00 | 0.00 | 0.00 | XXX
V2303 |  | X | Lens sphcy trifocal 4.0/.12- | 0.00 | 0.00 | 0.00 | 0.00 | 0.00 | 0.00 | XXX
V2304 |  | X | Lens sphcy trifocal 4.0/2.25 | 0.00 | 0.00 | 0.00 | 0.00 | 0.00 | 0.00 | XXX
V2305 |  | X | Lens sphcy trifocal 4.0/4.25 | 0.00 | 0.00 | 0.00 | 0.00 | 0.00 | 0.00 | XXX
V2306 |  | X | Lens sphcyl trifocal 4.00/>6 | 0.00 | 0.00 | 0.00 | 0.00 | 0.00 | 0.00 | XXX
V2307 |  | X | Lens sphcy trifocal 4.25-7/ | 0.00 | 0.00 | 0.00 | 0.00 | 0.00 | 0.00 | XXX
V2308 |  | X | Lens sphc trifocal 4.25-7/2 | 0.00 | 0.00 | 0.00 | 0.00 | 0.00 | 0.00 | XXX
V2309 |  | X | Lens sphc trifocal 4.25-7/4 | 0.00 | 0.00 | 0.00 | 0.00 | 0.00 | 0.00 | XXX
V2310 |  | X | Lens sphc trifocal 4.25-7/>6 | 0.00 | 0.00 | 0.00 | 0.00 | 0.00 | 0.00 | XXX
V2311 |  | X | Lens sphc trifo 7.25-12/.25- | 0.00 | 0.00 | 0.00 | 0.00 | 0.00 | 0.00 | XXX
V2312 |  | X | Lens sphc trifo 7.25-12/2.25 | 0.00 | 0.00 | 0.00 | 0.00 | 0.00 | 0.00 | XXX
V2313 |  | X | Lens sphc trifo 7.25-12/4.25 | 0.00 | 0.00 | 0.00 | 0.00 | 0.00 | 0.00 | XXX
V2314 |  | X | Lens sphcyl trifocal over 12 | 0.00 | 0.00 | 0.00 | 0.00 | 0.00 | 0.00 | XXX
V2315 |  | X | Lens lenticular trifocal | 0.00 | 0.00 | 0.00 | 0.00 | 0.00 | 0.00 | XXX
V2316 |  | X | Lens lenticular nonaspheric | 0.00 | 0.00 | 0.00 | 0.00 | 0.00 | 0.00 | XXX
V2317 |  | X | Lens lenticular aspheric tri | 0.00 | 0.00 | 0.00 | 0.00 | 0.00 | 0.00 | XXX
V2318 |  | X | Lens aniseikonic trifocal | 0.00 | 0.00 | 0.00 | 0.00 | 0.00 | 0.00 | XXX
V2319 |  | X | Lens trifocal seg width > 28 | 0.00 | 0.00 | 0.00 | 0.00 | 0.00 | 0.00 | XXX
V2320 |  | X | Lens trifocal add over 3.25d | 0.00 | 0.00 | 0.00 | 0.00 | 0.00 | 0.00 | XXX
V2399 |  | X | Lens trifocal speciality | 0.00 | 0.00 | 0.00 | 0.00 | 0.00 | 0.00 | XXX
V2410 |  | X | Lens variab asphericity sing | 0.00 | 0.00 | 0.00 | 0.00 | 0.00 | 0.00 | XXX
V2430 |  | X | Lens variable asphericity bi | 0.00 | 0.00 | 0.00 | 0.00 | 0.00 | 0.00 | XXX
V2499 |  | X | Variable asphericity lens | 0.00 | 0.00 | 0.00 | 0.00 | 0.00 | 0.00 | XXX
V2500 |  | X | Contact lens pmma spherical | 0.00 | 0.00 | 0.00 | 0.00 | 0.00 | 0.00 | XXX
V2501 |  | X | Cntct lens pmma-toric/prism | 0.00 | 0.00 | 0.00 | 0.00 | 0.00 | 0.00 | XXX
V2502 |  | X | Contact lens pmma bifocal | 0.00 | 0.00 | 0.00 | 0.00 | 0.00 | 0.00 | XXX
V2503 |  | X | Cntct lens pmma color vision | 0.00 | 0.00 | 0.00 | 0.00 | 0.00 | 0.00 | XXX
V2510 |  | X | Cntct gas permeable sphericl | 0.00 | 0.00 | 0.00 | 0.00 | 0.00 | 0.00 | XXX
V2511 |  | X | Cntct toric prism ballast | 0.00 | 0.00 | 0.00 | 0.00 | 0.00 | 0.00 | XXX
V2512 |  | X | Cntct lens gas permbl bifocl | 0.00 | 0.00 | 0.00 | 0.00 | 0.00 | 0.00 | XXX
V2513 |  | X | Contact lens extended wear | 0.00 | 0.00 | 0.00 | 0.00 | 0.00 | 0.00 | XXX
V2520 |  | P | Contact lens hydrophilic | 0.00 | 0.00 | 0.00 | 0.00 | 0.00 | 0.00 | XXX
V2521 |  | X | Cntct lens hydrophilic toric | 0.00 | 0.00 | 0.00 | 0.00 | 0.00 | 0.00 | XXX
V2522 |  | X | Cntct lens hydrophil bifocl | 0.00 | 0.00 | 0.00 | 0.00 | 0.00 | 0.00 | XXX
V2523 |  | X | Cntct lens hydrophil extend | 0.00 | 0.00 | 0.00 | 0.00 | 0.00 | 0.00 | XXX
V2530 |  | X | Contact lens gas impermeable | 0.00 | 0.00 | 0.00 | 0.00 | 0.00 | 0.00 | XXX
V2531 |  | X | Contact lens gas permeable | 0.00 | 0.00 | 0.00 | 0.00 | 0.00 | 0.00 | XXX
V2599 |  | X | Contact lens/es other type | 0.00 | 0.00 | 0.00 | 0.00 | 0.00 | 0.00 | XXX
V2600 |  | X | Hand held low vision aids | 0.00 | 0.00 | 0.00 | 0.00 | 0.00 | 0.00 | XXX
V2610 |  | X | Single lens spectacle mount | 0.00 | 0.00 | 0.00 | 0.00 | 0.00 | 0.00 | XXX
V2615 |  | X | Telescop/othr compound lens | 0.00 | 0.00 | 0.00 | 0.00 | 0.00 | 0.00 | XXX
V2623 |  | X | Plastic eye prosth custom | 0.00 | 0.00 | 0.00 | 0.00 | 0.00 | 0.00 | XXX
V2624 |  | X | Polishing artifical eye | 0.00 | 0.00 | 0.00 | 0.00 | 0.00 | 0.00 | XXX
V2625 |  | X | Enlargemnt of eye prosthesis | 0.00 | 0.00 | 0.00 | 0.00 | 0.00 | 0.00 | XXX
V2626 |  | X | Reduction of eye prosthesis | 0.00 | 0.00 | 0.00 | 0.00 | 0.00 | 0.00 | XXX
V2627 |  | X | Scleral cover shell | 0.00 | 0.00 | 0.00 | 0.00 | 0.00 | 0.00 | XXX
V2628 |  | X | Fabrication & fitting | 0.00 | 0.00 | 0.00 | 0.00 | 0.00 | 0.00 | XXX
V2629 |  | X | Prosthetic eye other type | 0.00 | 0.00 | 0.00 | 0.00 | 0.00 | 0.00 | XXX
V2630 |  | X | Anter chamber intraocul lens | 0.00 | 0.00 | 0.00 | 0.00 | 0.00 | 0.00 | XXX
V2631 |  | X | Iris support intraoclr lens | 0.00 | 0.00 | 0.00 | 0.00 | 0.00 | 0.00 | XXX
V2632 |  | X | Post chmbr intraocular lens | 0.00 | 0.00 | 0.00 | 0.00 | 0.00 | 0.00 | XXX
V2700 |  | X | Balance lens | 0.00 | 0.00 | 0.00 | 0.00 | 0.00 | 0.00 | XXX
V2710 |  | X | Glass/plastic slab off prism | 0.00 | 0.00 | 0.00 | 0.00 | 0.00 | 0.00 | XXX
V2715 |  | X | Prism lens/es | 0.00 | 0.00 | 0.00 | 0.00 | 0.00 | 0.00 | XXX
V2718 |  | X | Fresnell prism press-on lens | 0.00 | 0.00 | 0.00 | 0.00 | 0.00 | 0.00 | XXX
V2730 |  | X | Special base curve | 0.00 | 0.00 | 0.00 | 0.00 | 0.00 | 0.00 | XXX
V2740 |  | X | Rose tint plastic | 0.00 | 0.00 | 0.00 | 0.00 | 0.00 | 0.00 | XXX
V2741 |  | X | Non-rose tint plastic | 0.00 | 0.00 | 0.00 | 0.00 | 0.00 | 0.00 | XXX
V2742 |  | X | Rose tint glass | 0.00 | 0.00 | 0.00 | 0.00 | 0.00 | 0.00 | XXX
V2743 |  | X | Non-rose tint glass | 0.00 | 0.00 | 0.00 | 0.00 | 0.00 | 0.00 | XXX
V2744 |  | X | Tint photochromatic lens/es | 0.00 | 0.00 | 0.00 | 0.00 | 0.00 | 0.00 | XXX
V2750 |  | X | Anti-reflective coating | 0.00 | 0.00 | 0.00 | 0.00 | 0.00 | 0.00 | XXX
V2755 |  | X | UV lens/es | 0.00 | 0.00 | 0.00 | 0.00 | 0.00 | 0.00 | XXX
V2760 |  | X | Scratch resistant coating | 0.00 | 0.00 | 0.00 | 0.00 | 0.00 | 0.00 | XXX
V2770 |  | X | Occluder lens/es | 0.00 | 0.00 | 0.00 | 0.00 | 0.00 | 0.00 | XXX
V2780 |  | X | Oversize lens/es | 0.00 | 0.00 | 0.00 | 0.00 | 0.00 | 0.00 | XXX
V2781 |  | X | Progressive lens per lens | 0.00 | 0.00 | 0.00 | 0.00 | 0.00 | 0.00 | XXX
V2785 |  | X | Corneal tissue processing | 0.00 | 0.00 | 0.00 | 0.00 | 0.00 | 0.00 | XXX
V2790 |  | X | Amniotic membrane | 0.00 | 0.00 | 0.00 | 0.00 | 0.00 | 0.00 | XXX
V2799 |  | X | Miscellaneous vision service | 0.00 | 0.00 | 0.00 | 0.00 | 0.00 | 0.00 | XXX
V5008 |  | N | Hearing screening | 0.00 | 0.00 | 0.00 | 0.00 | 0.00 | 0.00 | XXX
V5010 |  | N | Assessment for hearing aid | 0.00 | 0.00 | 0.00 | 0.00 | 0.00 | 0.00 | XXX
V5011 |  | N | Hearing aid fitting/checking | 0.00 | 0.00 | 0.00 | 0.00 | 0.00 | 0.00 | XXX
V5014 |  | N | Hearing aid repair/modifying | 0.00 | 0.00 | 0.00 | 0.00 | 0.00 | 0.00 | XXX
V5020 |  | N | Conformity evaluation | 0.00 | 0.00 | 0.00 | 0.00 | 0.00 | 0.00 | XXX
V5030 |  | N | Body-worn hearing aid air | 0.00 | 0.00 | 0.00 | 0.00 | 0.00 | 0.00 | XXX
V5040 |  | N | Body-worn hearing aid bone | 0.00 | 0.00 | 0.00 | 0.00 | 0.00 | 0.00 | XXX
V5050 |  | N | Hearing aid monaural in ear | 0.00 | 0.00 | 0.00 | 0.00 | 0.00 | 0.00 | XXX
V5060 |  | N | Behind ear hearing aid | 0.00 | 0.00 | 0.00 | 0.00 | 0.00 | 0.00 | XXX
V5070 |  | N | Glasses air conduction | 0.00 | 0.00 | 0.00 | 0.00 | 0.00 | 0.00 | XXX
V5080 |  | N | Glasses bone conduction | 0.00 | 0.00 | 0.00 | 0.00 | 0.00 | 0.00 | XXX
V5090 |  | N | Hearing aid dispensing fee | 0.00 | 0.00 | 0.00 | 0.00 | 0.00 | 0.00 | XXX
V5100 |  | N | Body-worn bilat hearing aid | 0.00 | 0.00 | 0.00 | 0.00 | 0.00 | 0.00 | XXX
V5110 |  | N | Hearing aid dispensing fee | 0.00 | 0.00 | 0.00 | 0.00 | 0.00 | 0.00 | XXX
V5120 |  | N | Body-worn binaur hearing aid | 0.00 | 0.00 | 0.00 | 0.00 | 0.00 | 0.00 | XXX
V5130 |  | N | In ear binaural hearing aid | 0.00 | 0.00 | 0.00 | 0.00 | 0.00 | 0.00 | XXX
V5140 |  | N | Behind ear binaur hearing ai | 0.00 | 0.00 | 0.00 | 0.00 | 0.00 | 0.00 | XXX
V5150 |  | N | Glasses binaural hearing aid | 0.00 | 0.00 | 0.00 | 0.00 | 0.00 | 0.00 | XXX
V5160 |  | N | Dispensing fee binaural | 0.00 | 0.00 | 0.00 | 0.00 | 0.00 | 0.00 | XXX
V5170 |  | N | Within ear cros hearing aid | 0.00 | 0.00 | 0.00 | 0.00 | 0.00 | 0.00 | XXX
V5180 |  | N | Behind ear cros hearing aid | 0.00 | 0.00 | 0.00 | 0.00 | 0.00 | 0.00 | XXX
V5190 |  | N | Glasses cros hearing aid | 0.00 | 0.00 | 0.00 | 0.00 | 0.00 | 0.00 | XXX
V5200 |  | N | Cros hearing aid dispens fee | 0.00 | 0.00 | 0.00 | 0.00 | 0.00 | 0.00 | XXX
V5210 |  | N | In ear bicros hearing aid | 0.00 | 0.00 | 0.00 | 0.00 | 0.00 | 0.00 | XXX
V5220 |  | N | Behind ear bicros hearing ai | 0.00 | 0.00 | 0.00 | 0.00 | 0.00 | 0.00 | XXX
V5230 |  | N | Glasses bicros hearing aid | 0.00 | 0.00 | 0.00 | 0.00 | 0.00 | 0.00 | XXX
V5240 |  | N | Dispensing fee bicros | 0.00 | 0.00 | 0.00 | 0.00 | 0.00 | 0.00 | XXX
V5241 |  | N | Dispensing fee, monaural | 0.00 | 0.00 | 0.00 | 0.00 | 0.00 | 0.00 | XXX
V5242 |  | N | Hearing aid, monaural, cic | 0.00 | 0.00 | 0.00 | 0.00 | 0.00 | 0.00 | XXX
V5243 |  | N | Hearing aid, monaural, itc | 0.00 | 0.00 | 0.00 | 0.00 | 0.00 | 0.00 | XXX
V5244 |  | N | Hearing aid, prog, mon, cic | 0.00 | 0.00 | 0.00 | 0.00 | 0.00 | 0.00 | XXX
V5245 |  | N | Hearing aid, prog, mon, itc | 0.00 | 0.00 | 0.00 | 0.00 | 0.00 | 0.00 | XXX
V5246 |  | N | Hearing aid, prog, mon, ite | 0.00 | 0.00 | 0.00 | 0.00 | 0.00 | 0.00 | XXX
V5247 |  | N | Hearing aid, prog, mon, bte | 0.00 | 0.00 | 0.00 | 0.00 | 0.00 | 0.00 | XXX
V5248 |  | N | Hearing aid, binaural, cic | 0.00 | 0.00 | 0.00 | 0.00 | 0.00 | 0.00 | XXX
V5249 |  | N | Hearing aid, binaural, itc | 0.00 | 0.00 | 0.00 | 0.00 | 0.00 | 0.00 | XXX
V5250 |  | N | Hearing aid, prog, bin, cic | 0.00 | 0.00 | 0.00 | 0.00 | 0.00 | 0.00 | XXX
V5251 |  | N | Hearing aid, prog, bin, itc | 0.00 | 0.00 | 0.00 | 0.00 | 0.00 | 0.00 | XXX
V5252 |  | N | Hearing aid, prog, bin, ite | 0.00 | 0.00 | 0.00 | 0.00 | 0.00 | 0.00 | XXX
V5253 |  | N | Hearing aid, prog, bin, bte | 0.00 | 0.00 | 0.00 | 0.00 | 0.00 | 0.00 | XXX
V5254 |  | N | Hearing aid, digit, mon, cic | 0.00 | 0.00 | 0.00 | 0.00 | 0.00 | 0.00 | XXX
V5255 |  | N | Hearing aid, digit, mon, itc | 0.00 | 0.00 | 0.00 | 0.00 | 0.00 | 0.00 | XXX
V5256 |  | N | Hearing aid, digit, mon, ite | 0.00 | 0.00 | 0.00 | 0.00 | 0.00 | 0.00 | XXX
V5257 |  | N | Hearing aid, digit, mon, bte | 0.00 | 0.00 | 0.00 | 0.00 | 0.00 | 0.00 | XXX
V5258 |  | N | Hearing aid, digit, bin, cic | 0.00 | 0.00 | 0.00 | 0.00 | 0.00 | 0.00 | XXX
V5259 |  | N | Hearing aid, digit, bin, itc | 0.00 | 0.00 | 0.00 | 0.00 | 0.00 | 0.00 | XXX
V5260 |  | N | Hearing aid, digit, bin, ite | 0.00 | 0.00 | 0.00 | 0.00 | 0.00 | 0.00 | XXX
V5261 |  | N | Hearing aid, digit, bin, bte | 0.00 | 0.00 | 0.00 | 0.00 | 0.00 | 0.00 | XXX
V5262 |  | N | Hearing aid, disp, monaural | 0.00 | 0.00 | 0.00 | 0.00 | 0.00 | 0.00 | XXX
V5263 |  | N | Hearing aid, disp, binaural | 0.00 | 0.00 | 0.00 | 0.00 | 0.00 | 0.00 | XXX
V5264 |  | N | Ear mold/insert | 0.00 | 0.00 | 0.00 | 0.00 | 0.00 | 0.00 | XXX
V5265 |  | N | Ear mold/insert, disp | 0.00 | 0.00 | 0.00 | 0.00 | 0.00 | 0.00 | XXX
V5266 |  | N | Battery for hearing device | 0.00 | 0.00 | 0.00 | 0.00 | 0.00 | 0.00 | XXX
V5267 |  | N | Hearing aid supply/accessory | 0.00 | 0.00 | 0.00 | 0.00 | 0.00 | 0.00 | XXX
V5268 |  | N | ALD Telephone Amplifier | 0.00 | 0.00 | 0.00 | 0.00 | 0.00 | 0.00 | XXX
V5269 |  | N | Alerting device, any type | 0.00 | 0.00 | 0.00 | 0.00 | 0.00 | 0.00 | XXX
V5270 |  | N | ALD, TV amplifier, any type | 0.00 | 0.00 | 0.00 | 0.00 | 0.00 | 0.00 | XXX
V5271 |  | N | ALD, TV caption decoder | 0.00 | 0.00 | 0.00 | 0.00 | 0.00 | 0.00 | XXX
V5272 |  | N | Tdd | 0.00 | 0.00 | 0.00 | 0.00 | 0.00 | 0.00 | XXX
V5273 |  | N | ALD for cochlear implant | 0.00 | 0.00 | 0.00 | 0.00 | 0.00 | 0.00 | XXX
V5274 |  | N | ALD unspecified | 0.00 | 0.00 | 0.00 | 0.00 | 0.00 | 0.00 | XXX
V5275 |  | N | Ear impression | 0.00 | 0.00 | 0.00 | 0.00 | 0.00 | 0.00 | XXX
V5299 |  | R | Hearing service | 0.00 | 0.00 | 0.00 | 0.00 | 0.00 | 0.00 | XXX
V5336 |  | N | Repair communication device | 0.00 | 0.00 | 0.00 | 0.00 | 0.00 | 0.00 | XXX
V5362 |  | R | Speech screening | 0.00 | 0.00 | 0.00 | 0.00 | 0.00 | 0.00 | XXX
V5363 |  | R | Language screening | 0.00 | 0.00 | 0.00 | 0.00 | 0.00 | 0.00 | XXX
V5364 |  | R | Dysphagia screening | 0.00 | 0.00 | 0.00 | 0.00 | 0.00 | 0.00 | XXX
¹ CPT codes and descriptions only are copyright 2001 American Medical Association. All Rights Reserved. Applicable FARS/DFARS Apply.
² Copyright 1994 American Dental Association. All rights reserved.
³ +Indicates RVUs are not used for Medicare payment.

Addendum C.—Codes With Interim RVUs
CPT ¹/HCPCS ² | MOD | Status | Description | Physician Work RVUs ³ | Fully implemented non-facility PE RVUs | Fully implemented facility PE RVUs | Mal- practice RVUs | Fully implemented non-facility total | Fully implemented facility total | Global
11981 |  | A | Insert drug implant device | 1.48 | 1.58 | 0.59 | 0.14 | 3.20 | 2.21 | XXX
11982 |  | A | Remove drug implant device | 1.78 | 1.70 | 0.71 | 0.17 | 3.65 | 2.66 | XXX
11983 |  | A | Remove/insert drug implant | 3.30 | 2.31 | 1.32 | 0.31 | 5.92 | 4.93 | XXX
20526 |  | A | Ther injection carpal tunnel | 0.86 | 0.78 | 0.39 | 0.06 | 1.70 | 1.31 | 000
20551 |  | A | Inject tendon origin/insert | 0.86 | 0.78 | 0.39 | 0.06 | 1.70 | 1.31 | 000
20552 |  | A | Inject trigger point, 1 or 2 | 0.86 | 0.78 | 0.39 | 0.06 | 1.70 | 1.31 | 000
20553 |  | A | Inject trigger points, > 3 | 0.86 | 0.78 | 0.39 | 0.06 | 1.70 | 1.31 | 000
24300 |  | A | Manipulate elbow w/anesth | 3.75 | NA | 5.46 | 0.52 | NA | 9.73 | 090
24332 |  | A | Tenolysis, triceps | 7.45 | NA | 5.23 | 0.77 | NA | 13.45 | 090
24343 |  | A | Repr elbow lat ligmnt w/tiss | 8.65 | NA | 7.91 | 1.21 | NA | 17.77 | 090
24344 |  | A | Reconstruct elbow lat ligmnt | 14.00 | NA | 10.87 | 1.95 | NA | 26.82 | 090
24345 |  | A | Repr elbw med ligmnt w/tiss | 8.65 | NA | 7.91 | 1.21 | NA | 17.77 | 090
24346 |  | A | Reconstruct elbow med ligmnt | 14.00 | NA | 10.87 | 1.95 | NA | 26.82 | 090
25001 |  | A | Incise flexor carpi radialis | 3.38 | NA | 4.30 | 0.45 | NA | 8.13 | 090
25024 |  | A | Decompress forearm 2 spaces | 9.50 | NA | 8.17 | 1.20 | NA | 18.87 | 090
25025 |  | A | Decompress forearm 2 spaces | 16.54 | NA | 12.05 | 1.91 | NA | 30.50 | 090
25259 |  | A | Manipulate wrist w/anesthes | 3.75 | NA | 5.35 | 0.52 | NA | 9.62 | 090
25275 |  | A | Repair forearm tendon sheath | 8.50 | NA | 7.53 | 1.11 | NA | 17.14 | 090
25394 |  | A | Repair carpal bone, shorten | 10.40 | NA | 8.43 | 1.15 | NA | 19.98 | 090
25430 |  | A | Vasc graft into carpal bone | 9.25 | NA | 7.82 | 0.56 | NA | 17.63 | 090
25431 |  | A | Repair nonunion carpal bone | 10.44 | NA | 6.42 | 0.56 | NA | 17.42 | 090
25651 |  | A | Pin ulnar styloid fracture | 5.36 | NA | 4.39 | 0.73 | NA | 10.48 | 090
25652 |  | A | Treat fracture ulnar styloid | 7.60 | NA | 6.90 | 0.97 | NA | 15.47 | 090
25671 |  | A | Pin radioulnar dislocation | 6.00 | NA | 6.02 | 0.75 | NA | 12.77 | 090
26340 |  | A | Manipulate finger w/anesth | 2.50 | NA | 4.53 | 0.32 | NA | 7.35 | 090
26587 |  | A | Reconstruct extra finger | 14.05 | 4.67 | NA | 1.08 | 19.80 | NA | 090
28299 |  | A | Correction of bunion | 10.58 | 11.55 | 9.21 | 1.24 | 23.37 | 21.03 | 090
29086 |  | A | Apply finger cast | 0.62 | 0.81 | 0.50 | 0.07 | 1.50 | 1.19 | 000
29805 |  | A | Shoulder arthroscopy, dx | 5.89 | 3.23 | 3.23 | 0.83 | 9.95 | 9.95 | 090
29806 |  | A | Shoulder arthroscopy/surgery | 14.37 | NA | 11.33 | 2.01 | NA | 27.71 | 090
29807 |  | A | Shoulder arthroscopy/surgery | 13.90 | NA | 11.06 | 2.01 | NA | 26.97 | 090
29824 |  | A | Shoulder arthroscopy/surgery | 8.25 | NA | 7.48 | 1.16 | NA | 16.89 | 090
29900 |  | A | Mcp joint arthroscopy, dx | 5.42 | NA | 5.88 | 0.69 | NA | 11.99 | 090
29901 |  | A | Mcp joint arthroscopy, surg | 6.13 | NA | 6.28 | 0.81 | NA | 13.22 | 090
29902 |  | A | Mcp joint arthroscopy, surg | 6.70 | NA | 6.60 | 0.89 | NA | 14.19 | 090
33967 |  | A | Insert ia percut device | 4.85 | 2.01 | 1.96 | 0.27 | 7.13 | 7.08 | 000
33979 |  | C | Insert intracorporeal device | 0.00 | 0.00 | 0.00 | 0.00 | 0.00 | 0.00 | XXX
33980 |  | C | Remove intracorporeal device | 0.00 | 0.00 | 0.00 | 0.00 | 0.00 | 0.00 | 090
35646 |  | A | Artery bypass graft | 31.00 | NA | 13.26 | 2.98 | NA | 47.24 | 090
35647 |  | A | Artery bypass graft | 28.00 | NA | 11.97 | 2.98 | NA | 42.95 | 090
35685 |  | A | Bypass graft patency/patch | 4.05 | NA | 1.50 | 0.41 | NA | 5.96 | ZZZ
35686 |  | A | Bypass graft/av fist patency | 3.35 | NA | 1.24 | 0.34 | NA | 4.93 | ZZZ
36002 |  | A | Pseudoaneurysm injection trt | 1.96 | 2.95 | 1.03 | 0.08 | 4.99 | 3.07 | 000
36400 |  | A | Drawing blood | 0.38 | 0.72 | 0.10 | 0.01 | 1.11 | 0.49 | XXX
36820 |  | A | Av fusion/forearm vein | 14.00 | NA | 6.56 | 1.53 | NA | 22.09 | 090
43239 |  | A | Upper GI endoscopy, biopsy | 2.87 | 6.79 | 1.27 | 0.14 | 9.80 | 4.28 | 000
43313 |  | A | Esophagoplasty congential | 45.28 | NA | 22.01 | 5.43 | NA | 72.72 | 090
43314 |  | A | Tracheo-esophagoplasty cong | 50.27 | NA | 24.07 | 5.53 | NA | 79.87 | 090
44120 |  | A | Removal of small intestine | 17.00 | NA | 7.67 | 1.46 | NA | 26.13 | 090
44126 |  | A | Enterectomy w/taper, cong | 35.50 | NA | 18.03 | 0.36 | NA | 53.89 | 090
44127 |  | A | Enterectomy w/o taper, cong | 41.00 | NA | 20.56 | 0.41 | NA | 61.97 | 090
44128 |  | A | Enterectomy cong, add-on | 4.45 | NA | 1.78 | 0.45 | NA | 6.68 | ZZZ
44160 |  | A | Removal of colon | 18.62 | NA | 8.65 | 1.55 | NA | 28.82 | 090
44203 |  | A | Lap resect s/intestine, addl | 4.45 | NA | 1.60 | 0.45 | NA | 6.50 | ZZZ
44204 |  | A | Laparo partial colectomy | 25.08 | NA | 10.46 | 1.83 | NA | 37.37 | 090
44205 |  | A | Lap colectomy part w/ileum | 22.23 | NA | 9.31 | 1.55 | NA | 33.09 | 090
45136 |  | A | Excise ileoanal reservoir | 27.30 | NA | 12.66 | 2.19 | NA | 42.15 | 090
45380 |  | A | Colonoscopy and biopsy | 4.44 | 9.28 | 2.05 | 0.21 | 13.93 | 6.70 | 000
46020 |  | A | Placement of seton | 2.90 | 3.09 | 2.36 | 0.22 | 6.21 | 5.48 | 010
47370 |  | A | Laparo ablate liver tumor rf | 18.00 | 7.19 | 7.19 | 0.85 | 26.04 | 26.04 | 090
47371 |  | A | Laparo ablate liver cryosug | 16.94 | 6.76 | 6.76 | 0.85 | 24.55 | 24.55 | 090
47380 |  | A | Open ablate liver tumor rf | 21.25 | 8.48 | 8.48 | 0.85 | 30.58 | 30.58 | 090
47381 |  | A | Open ablate liver tumor cryo | 21.00 | 8.38 | 8.38 | 0.85 | 30.23 | 30.23 | 090
47382 |  | A | Percut ablate liver rf | 12.00 | NA | 5.37 | 0.85 | NA | 18.22 | 010
49491 |  | A | Repairing hern premie reduc | 11.13 | NA | 5.65 | 1.00 | NA | 17.78 | 090
49492 |  | A | Rpr ing hern premie, blocked | 14.03 | NA | 6.40 | 1.42 | NA | 21.85 | 090
52001 |  | A | Cystoscopy, removal of clots | 2.37 | NA | 0.98 | 0.32 | NA | 3.67 | 000
52347 |  | A | Cystoscopy, resect ducts | 5.28 | NA | 2.14 | 0.33 | NA | 7.75 | 000
53431 |  | A | Reconstruct urethra/bladder | 19.89 | 7.94 | 7.94 | 1.25 | 29.08 | 29.08 | 090
53444 |  | A | Insert tandem cuff | 13.40 | NA | 6.66 | 0.79 | NA | 20.85 | 090
53446 |  | A | Remove uro sphincter | 10.23 | NA | 8.46 | 0.61 | NA | 19.30 | 090
53447 |  | A | Remove/replace ur sphincter | 13.49 | NA | 7.90 | 0.79 | NA | 22.18 | 090
53448 |  | A | Remov/replc ur sphinctr comp | 21.15 | NA | 12.35 | 1.27 | NA | 34.77 | 090
53853 |  | A | Prostatic water thermother | 4.14 | 52.75 | 2.55 | 0.38 | 57.27 | 7.07 | 090
54162 |  | A | Lysis penil circumcis lesion | 3.00 | NA | 2.91 | 0.18 | NA | 6.09 | 010
54163 |  | A | Repair of circumcision | 3.00 | NA | 2.54 | 0.18 | NA | 5.72 | 010
54164 |  | A | Frenulotomy of penis | 2.50 | NA | 2.37 | 0.15 | NA | 5.02 | 010
54406 |  | A | Remove multi-comp penis pros | 12.10 | NA | 6.09 | 0.80 | NA | 18.99 | 090
54408 |  | A | Repair multi-comp penis pros | 12.75 | NA | 6.46 | 0.80 | NA | 20.01 | 090
54410 |  | A | Remove/replace penis prosth | 15.50 | NA | 7.36 | 0.80 | NA | 23.66 | 090
54411 |  | A | Remv/replc penis pros, comp | 16.00 | NA | 8.98 | 0.80 | NA | 25.78 | 090
54415 |  | A | Remove self-contd penis pros | 8.20 | NA | 5.35 | 0.55 | NA | 14.10 | 090
54416 |  | A | Remv/repl penis contain pros | 10.87 | NA | 6.94 | 0.55 | NA | 18.36 | 090
54417 |  | A | Remv/replc penis pros, compl | 14.19 | NA | 7.89 | 0.55 | NA | 22.63 | 090
56605 |  | A | Biopsy of vulva/perineum | 1.10 | 1.90 | 0.50 | 0.11 | 3.11 | 1.71 | 000
56810 |  | A | Repair of perineum | 4.13 | NA | 2.91 | 0.41 | NA | 7.45 | 010
57155 |  | A | Insert uteri tandems/ovoids | 6.27 | NA | 3.67 | 0.63 | NA | 10.57 | 090
58100 |  | A | Biopsy of uterus lining | 1.53 | 1.56 | 0.76 | 0.07 | 3.16 | 2.36 | 000
58346 |  | A | Insert heyman uteri capsule | 6.75 | NA | 3.84 | 0.68 | NA | 11.27 | 090
58953 |  | A | Tah, rad dissect for debulk | 32.00 | NA | 15.59 | 3.20 | NA | 50.79 | 090
58954 |  | A | Tah, rad debulk/lymph remove | 35.00 | NA | 16.71 | 3.50 | NA | 55.21 | 090
59001 |  | A | Amniocentesis, therapeutic | 3.00 | NA | 1.37 | 0.23 | NA | 4.60 | 000
64561 |  | A | Implant neuroelectrodes | 6.74 | 15.28 | 3.83 | 0.11 | 22.13 | 10.68 | 010
64581 |  | A | Implant neuroelectrodes | 13.50 | NA | 6.72 | 0.37 | NA | 20.59 | 090
64821 |  | A | Remove sympathetic nerves | 8.75 | NA | 7.09 | 0.99 | NA | 16.83 | 090
64822 |  | A | Remove sympathetic nerves | 8.75 | NA | 7.09 | 0.99 | NA | 16.83 | 090
64823 |  | A | Remove sympathetic nerves | 10.37 | NA | 7.89 | 1.17 | NA | 19.43 | 090
67225 |  | A | Eye photodynamic ther add-on | 0.47 | 0.24 | 0.19 | 0.50 | 1.21 | 1.16 | ZZZ
76085 |  | A | Computer mammogram add-on | 0.06 | 0.31 | NA | 0.02 | 0.39 | NA | ZZZ
76092 |  | A | Mammogram, screening | 0.70 | 1.44 | NA | 0.09 | 2.23 | NA | XXX
76362 |  | A | Cat scan for tissue ablation | 4.00 | 9.24 | NA | 1.38 | 14.62 | NA | XXX
76394 |  | A | Mri for tissue ablation | 4.25 | 12.13 | NA | 1.43 | 17.81 | NA | XXX
76490 |  | A | Us for tissue ablation | 2.00 | 2.13 | NA | 0.36 | 4.49 | NA | XXX
76819 |  | A | Fetal biophys profil w/o nst | 0.77 | 1.83 | NA | 0.10 | 2.70 | NA | XXX
77301 |  | A | Radioltherapy dos plan, imrt | 8.00 | 29.72 | NA | 1.41 | 39.13 | NA | XXX
77418 |  | A | Radiation tx delivery, imrt | 0.00 | 16.07 | NA | 0.11 | 16.18 | NA | XXX
88380 |  | C | Microdissection | 0.00 | 0.00 | 0.00 | 0.00 | 0.00 | 0.00 | XXX
90471 |  | A | Immunization admin | 0.00 | 0.10 | NA | 0.01 | 0.11 | NA | XXX
90472 |  | A | Immunization admin, each add | 0.00 | 0.10 | NA | 0.01 | 0.11 | NA | ZZZ
90473 |  | N | Immune admin oral/nasal | 0.00 | 0.00 | 0.00 | 0.00 | 0.00 | 0.00 | XXX
90474 |  | N | Immune admin oral/nasal addl | 0.00 | 0.00 | 0.00 | 0.00 | 0.00 | 0.00 | ZZZ
90939 |  | X | Hemodialysis study, transcut | 0.00 | 0.00 | 0.00 | 0.00 | 0.00 | 0.00 | XXX
91123 |  | B | Irrigate fecal impaction | 0.00 | 0.00 | 0.00 | 0.00 | 0.00 | 0.00 | XXX
92136 |  | A | Ophthalmic biometry | 0.54 | 1.52 | NA | 0.07 | 2.13 | NA | XXX
92973 |  | A | Percut coronary thrombectomy | 3.28 | NA | 1.37 | 0.17 | NA | 4.82 | ZZZ
92974 |  | A | Cath place, cardio brachytx | 3.00 | NA | 1.26 | 1.18 | NA | 5.44 | ZZZ
93025 |  | A | Microvolt t-wave assess | 0.75 | 6.42 | NA | 0.11 | 7.28 | NA | XXX
93609 |  | A | Map tachycardia, add-on | 4.81 | 4.59 | NA | 0.66 | 10.06 | NA | ZZZ
93613 |  | C | Electrophys map, 3d, add-on | 0.00 | 0.00 | 0.00 | 0.00 | 0.00 | 0.00 | XXX
93621 |  | C | Electrophysiology evaluation | 0.00 | 0.00 | 0.00 | 0.00 | 0.00 | 0.00 | ZZZ
93622 |  | C | Electrophysiology evaluation | 0.00 | 0.00 | 0.00 | 0.00 | 0.00 | 0.00 | ZZZ
93701 |  | A | Bioimpedance, thoracic | 0.17 | 0.78 | NA | 0.02 | 0.97 | NA | XXX
95250 |  | A | Glucose monitoring, cont | 0.00 | 1.44 | NA | 0.01 | 1.45 | NA | XXX
95875 |  | A | Limb exercise test | 1.10 | 1.38 | NA | 0.09 | 2.57 | NA | XXX
95965 |  | C | Meg, spontaneous | 0.00 | 0.00 | 0.00 | 0.00 | 0.00 | 0.00 | XXX
95966 |  | C | Meg, evoked, single | 0.00 | 0.00 | 0.00 | 0.00 | 0.00 | 0.00 | XXX
95967 |  | C | Meg, evoked, each addl | 0.00 | 0.00 | 0.00 | 0.00 | 0.00 | 0.00 | ZZZ
96000 |  | A | Motion analysis, video/3d | 1.80 | NA | 0.72 | 0.02 | NA | 2.54 | XXX
96001 |  | A | Motion test w/ft press meas | 2.15 | NA | 0.86 | 0.02 | NA | 3.03 | XXX
96002 |  | A | Dynamic surface emg | 0.41 | NA | 0.16 | 0.02 | NA | 0.59 | XXX
96003 |  | A | Dynamic fine wire emg | 0.37 | NA | 0.15 | 0.03 | NA | 0.55 | XXX
96004 |  | A | Phys review of motion tests | 1.80 | 0.72 | 0.72 | 0.08 | 2.60 | 2.60 | XXX
96150 |  | A | Assess hlth/behave, init | 0.50 | 0.21 | 0.20 | 0.02 | 0.73 | 0.72 | XXX
96151 |  | A | Assess hlth/behave, subseq | 0.48 | 0.21 | 0.19 | 0.02 | 0.71 | 0.69 | XXX
96152 |  | A | Intervene hlth/behave, indiv | 0.46 | 0.20 | 0.18 | 0.02 | 0.68 | 0.66 | XXX
96153 |  | A | Intervene hlth/behave, group | 0.10 | 0.04 | 0.04 | 0.01 | 0.15 | 0.15 | XXX
96154 |  | A | Interv hlth/behav, fam w/pt | 0.45 | 0.19 | 0.18 | 0.02 | 0.66 | 0.65 | XXX
96155 |  | A | Interv hlth/behav fam no pt | 0.44 | 0.18 | 0.18 | 0.02 | 0.64 | 0.64 | XXX
96567 |  | A | Photodynamic tx, skin | 0.00 | 1.63 | NA | 0.03 | 1.66 | NA | XXX
97602 |  | B | Wound(s) care non-selective | 0.00 | 0.00 | 0.00 | 0.00 | 0.00 | 0.00 | XXX
97802 |  | A | Medical nutrition, indiv, in | 0.00 | 0.45 | 0.45 | 0.01 | 0.46 | 0.46 | XXX
97803 |  | A | Med nutrition, indiv, subseq | 0.00 | 0.45 | 0.45 | 0.01 | 0.46 | 0.46 | XXX
97804 |  | A | Medical nutrition, group | 0.00 | 0.17 | 0.17 | 0.01 | 0.18 | 0.18 | XXX
99091 |  | B | Collect/review data from pt | 0.00 | 0.00 | 0.00 | 0.00 | 0.00 | 0.00 | XXX
99289 |  | I | Pt transport, 30-74 min | 0.00 | 0.00 | 0.00 | 0.00 | 0.00 | 0.00 | XXX
99290 |  | I | Pt transport, addl 30 min | 0.00 | 0.00 | 0.00 | 0.00 | 0.00 | 0.00 | ZZZ
G0117 |  | T | Glaucoma scrn hgh risk direc | 0.45 | 0.97 | 0.22 | 0.02 | 1.44 | 0.69 | XXX
G0118 |  | T | Glaucoma scrn hgh risk direc | 0.17 | 0.84 | 0.08 | 0.01 | 1.02 | 0.26 | XXX
G0202 | 26 | A | Screeningmammographydigital | 0.70 | 0.28 | 0.28 | 0.03 | 1.01 | 1.01 | XXX
G0204 | 26 | A | Diagnosticmammographydigital | 0.87 | 0.35 | 0.35 | 0.03 | 1.25 | 1.25 | XXX
G0206 | 26 | A | Diagnosticmammographydigital | 0.70 | 0.28 | 0.28 | 0.03 | 1.01 | 1.01 | XXX
G0236 | 26 | A | digital film convert diag ma | 0.06 | 0.02 | 0.02 | 0.01 | 0.09 | 0.09 | ZZZ
¹ CPT codes and descriptions only are copyright 2001 American Medical Association. All Rights Reserved. Applicable FARS/DFARS Apply.
² Copyright 1994 American Dental Association. All rights reserved.
³+ Indicates RVUs are not used for Medicare payment.

Addendum D.—2002 Geographic Practice Cost Indices by Medicare Carrier and Locality
Carrier No. | Locality No. | Locality name | Work | Practice expense | Malpractice
00510 | 00 | ALABAMA | 0.978 | 0.870 | 0.807
00831 | 01 | ALASKA | 1.064 | 1.172 | 1.223
00832 | 00 | ARIZONA | 0.994 | 0.978 | 1.111
00520 | 13 | ARKANSAS | 0.953 | 0.847 | 0.340
31146 | 26 | ANAHEIM/SANTA ANA, CA | 1.037 | 1.184 | 0.955
31146 | 18 | LOS ANGELES, CA | 1.056 | 1.139 | 0.955
31140 | 03 | MARIN/NAPA/SOLANO, CA | 1.015 | 1.248 | 0.687
31140 | 07 | OAKLAND/BERKELEY, CA | 1.041 | 1.235 | 0.687
31140 | 05 | SAN FRANCISCO, CA | 1.068 | 1.458 | 0.687
31140 | 06 | SAN MATEO, CA | 1.048 | 1.432 | 0.687
31140 | 09 | SANTA CLARA, CA | 1.063 | 1.380 | 0.639
31146 | 17 | VENTURA, CA | 1.028 | 1.125 | 0.783
31146 | 99 | REST OF CALIFORNIA* | 1.007 | 1.034 | 0.748
31140 | 99 | REST OF CALIFORNIA* | 1.007 | 1.034 | 0.748
00824 | 01 | COLORADO | 0.985 | 0.992 | 0.840
00591 | 00 | CONNECTICUT | 1.050 | 1.156 | 0.966
00902 | 01 | DELAWARE | 1.019 | 1.035 | 0.712
00903 | 01 | DC + MD/VA SUBURBS | 1.050 | 1.166 | 0.909
00590 | 03 | FORT LAUDERDALE, FL | 0.996 | 1.018 | 1.877
00590 | 04 | MIAMI, FL | 1.015 | 1.052 | 2.528
00590 | 99 | REST OF FLORIDA | 0.975 | 0.946 | 1.265
00511 | 01 | ATLANTA, GA | 1.006 | 1.059 | 0.935
00511 | 99 | REST OF GEORGIA | 0.970 | 0.892 | 0.935
00833 | 01 | HAWAII/GUAM | 0.997 | 1.124 | 0.834
05130 | 00 | IDAHO | 0.960 | 0.881 | 0.497
00952 | 16 | CHICAGO, IL | 1.028 | 1.092 | 1.797
00952 | 12 | EAST ST. LOUIS, IL | 0.988 | 0.924 | 1.691
00952 | 15 | SUBURBAN CHICAGO, IL | 1.006 | 1.071 | 1.645
00952 | 99 | REST OF ILLINOIS | 0.964 | 0.889 | 1.157
00630 | 00 | INDIANA | 0.981 | 0.922 | 0.481
00826 | 00 | IOWA | 0.959 | 0.876 | 0.596
00650 | 00 | KANSAS* | 0.963 | 0.895 | 0.756
00740 | 04 | KANSAS* | 0.963 | 0.895 | 0.756
00660 | 00 | KENTUCKY | 0.970 | 0.866 | 0.877
00528 | 01 | NEW ORLEANS, LA | 0.998 | 0.945 | 1.283
00528 | 99 | REST OF LOUISIANA | 0.968 | 0.870 | 1.073
31142 | 03 | SOUTHERN MAINE | 0.979 | 0.999 | 0.666
31142 | 99 | REST OF MAINE | 0.961 | 0.910 | 0.666
00901 | 01 | BALTIMORE/SURR. CNTYS, MD | 1.021 | 1.038 | 0.916
00901 | 99 | REST OF MARYLAND | 0.984 | 0.972 | 0.774
31143 | 01 | METROPOLITAN BOSTON | 1.041 | 1.239 | 0.784
31143 | 99 | REST OF MASSACHUSETTS | 1.010 | 1.129 | 0.784
00953 | 01 | DETROIT, MI | 1.043 | 1.038 | 2.738
00953 | 99 | REST OF MICHIGAN | 0.997 | 0.938 | 1.571
00954 | 00 | MINNESOTA | 0.990 | 0.974 | 0.452
00512 | 00 | MISSISSIPPI | 0.957 | 0.837 | 0.779
00740 | 02 | METROPOLITAN KANSAS CITY, MO | 0.988 | 0.967 | 0.846
00523 | 01 | METROPOLITAN ST. LOUIS, MO | 0.994 | 0.938 | 0.846
00740 | 99 | REST OF MISSOURI* | 0.946 | 0.825 | 0.793
00523 | 99 | REST OF MISSOURI* | 0.946 | 0.825 | 0.793
00751 | 01 | MONTANA | 0.950 | 0.876 | 0.727
00655 | 00 | NEBRASKA | 0.948 | 0.877 | 0.430
00834 | 00 | NEVADA | 1.005 | 1.039 | 1.209
31144 | 40 | NEW HAMPSHIRE | 0.986 | 1.030 | 0.825
00805 | 01 | NORTHERN NJ | 1.058 | 1.193 | 0.860
00805 | 99 | REST OF NEW JERSEY | 1.029 | 1.110 | 0.860
00521 | 05 | NEW MEXICO | 0.973 | 0.900 | 0.902
00803 | 01 | MANHATTAN, NY | 1.094 | 1.351 | 1.668
00803 | 02 | NYC SUBURBS/LONG I., NY | 1.068 | 1.251 | 1.952
00803 | 03 | POUGHKPSIE/N NYC SUBURBS, NY | 1.011 | 1.075 | 1.275
14330 | 04 | QUEENS, NY | 1.058 | 1.228 | 1.871
00801 | 99 | REST OF NEW YORK | 0.998 | 0.944 | 0.764
05535 | 00 | NORTH CAROLINA | 0.970 | 0.931 | 0.595
00820 | 01 | NORTH DAKOTA | 0.950 | 0.880 | 0.657
16360 | 00 | OHIO | 0.988 | 0.944 | 0.957
00522 | 00 | OKLAHOMA | 0.968 | 0.876 | 0.444
00835 | 01 | PORTLAND, OR | 0.996 | 1.049 | 0.436
00835 | 99 | REST OF OREGON | 0.961 | 0.933 | 0.436
00865 | 01 | METROPOLITAN PHILADELPHIA, PA | 1.023 | 1.092 | 1.413
00865 | 99 | REST OF PENNSYLVANIA | 0.989 | 0.929 | 0.774
00973 | 20 | PUERTO RICO | 0.881 | 0.712 | 0.275
00870 | 01 | RHODE ISLAND | 1.017 | 1.065 | 0.883
00880 | 01 | SOUTH CAROLINA | 0.974 | 0.904 | 0.279
00820 | 02 | SOUTH DAKOTA | 0.935 | 0.878 | 0.406
05440 | 35 | TENNESSEE | 0.975 | 0.900 | 0.592
00900 | 31 | AUSTIN, TX | 0.986 | 0.996 | 0.859
00900 | 20 | BEAUMONT, TX | 0.992 | 0.890 | 1.338
00900 | 09 | BRAZORIA, TX | 0.992 | 0.978 | 1.338
00900 | 11 | DALLAS, TX | 1.010 | 1.065 | 0.931
00900 | 28 | FORT WORTH, TX | 0.987 | 0.981 | 0.931
00900 | 15 | GALVESTON, TX | 0.988 | 0.969 | 1.338
00900 | 18 | HOUSTON, TX | 1.020 | 1.007 | 1.336
00900 | 99 | REST OF TEXAS | 0.966 | 0.880 | 0.956
00910 | 09 | UTAH | 0.976 | 0.941 | 0.644
31145 | 50 | VERMONT | 0.973 | 0.986 | 0.539
00973 | 50 | VIRGIN ISLANDS | 0.965 | 1.023 | 1.002
00904 | 00 | VIRGINIA | 0.984 | 0.938 | 0.500
00836 | 02 | SEATTLE (KING CNTY), WA | 1.005 | 1.100 | 0.788
00836 | 99 | REST OF WASHINGTON | 0.981 | 0.972 | 0.788
16510 | 16 | WEST VIRGINIA | 0.963 | 0.850 | 1.378
00951 | 00 | WISCONSIN | 0.981 | 0.929 | 0.939
00825 | 21 | WYOMING | 0.967 | 0.895 | 1.005
* Payment locality is serviced by two carriers.
Note: Work GPCI reflects only ¼ work GPCI in accordance with section 1848(e)(1)(A)(iii) of the Social Security Act. GPCIs rescaled by the following factors for budget neutrality: Work = 0.99699; Practice Expense = 0.99235; Malpractice Expense = 1.00215.

Addendum E.—Updated List of CPT ¹/HCPCS Codes Used To Describe Certain Designated Health Services Under the Physician Referral Provisions
[Section 1877 of the Social Security Act]
CLINICAL LABORATORY SERVICES
INCLUDE CPT codes for all clinical laboratory services in the 80000 series, except EXCLUDE CPT codes for the following blood component collection services:
86890 | Autologous blood process
86891 | Autologous blood, op salvage
86915 | Bone marrow/stem cell prep
86927 | Plasma, fresh frozen
86930 | Frozen blood prep
86931 | Frozen blood thaw
86932 | Frozen blood freeze/thaw
86945 | Blood product/irradiation
86950 | Leukacyte transfusion
86965 | Pooling blood platelets
86985 | Split blood or products
INCLUDE the following HCPCS level 2 codes for other clinical laboratory services:
G0001 | Drawing blood for specimen
G0026 | Fecal leukocyte examination
G0027 | Semen analysis
G0103 | Psa, total screening
G0107 | CA screen; fecal blood test
G0123 | Screen cerv/vag thin layer
G0124 | Screen c/v thin layer by MD
G0141 | Scr c/v cyto,autosys and md
G0143-G0145 | Scr c/v cyto,thinlayer, rescr
G0147 | Scr c/v cyto, automated sys
G0148 | Scr c/v cyto, autosys, rescr
P2028 | Cephalin floculation test
P2029 | Congo red blood test
P2031 | Hair analysis
P2033 | Blood thymol turbidity
P2038 | Blood mucoprotein
P3000 | Screen pap by tech w md supv
P3001 | Screening pap smear by phys
P7001 | Culture bacterial urine
P9612 | Catheterize for urine spec
P9615 | Urine specimen collect mult
Q0111 | Wet mounts/w preparations
Q0112 | Potassium hydroxide preps
Q0113 | Pinworm examinations
Q0114 | Fern test
Q0115 | Post-coital mucous exam
PHYSICAL THERAPY/OCCUPATIONAL THERAPY/SPEECH-LANGUAGE PATHOLOGY
INCLUDE the following CPT codes for the physical therapy/occupational therapy/speech-language pathology services in the 97000 series:
97001 | Pt evaluation
97002 | Pt re-evaluation
97003 | Ot evaluation
97004 | Ot re-evaluation
97010 | Hot or cold packs therapy
97012 | Mechanical traction therapy
97014 | Electric stimulation therapy
97016 | Vasopneumatic device therapy
97018 | Paraffin bath therapy
97020 | Microwave therapy
97022 | Whirlpool therapy
97024 | Diathermy treatment
97026 | Infrared therapy
97028 | Ultraviolet therapy
97032 | Electrical stimulation
97033 | Electric current therapy
97034 | Contrast bath therapy
97035 | Ultrasound therapy
97036 | Hydrotherapy
97039 | Physical therapy treatment
97110 | Therapeutic exercises
97112 | Neuromuscular reeducation
97113 | Aquatic therapy/exercises
97116 | Gait training therapy
97124 | Massage therapy
97139 | Physical medicine procedure
97140 | Manual therapy
97150 | Group therapeutic procedures
97504 | Orthotic training
97520 | Prosthetic training
97530 | Therapeutic activities
97532 | Cognitive skills development
97533 | Sensory integration
97535 | Self care mngment training
97537 | Community/work reintegration
97542 | Wheelchair mngment training
97545 | Work hardening
97546 | Work hardening add-on
97703 | Prosthetic checkout
97750 | Physical performance test
97799 | Physical medicine procedure
INCLUDE CPT codes for physical therapy/occupational therapy/speech-language pathology services not in the 97000 series:
64550 | Apply neurostimulator
90901 | Biofeedback train, any meth
90911 | Biofeedback peri/uro/rectal
92506 | Speech/hearing evaluation
92507-92508 | Speech/hearing therapy
92510 | Rehab for ear implant
92526 | Oral function therapy
93797 | Cardiac rehab
93798 | Cardiac rehab/monitor
94667-94668 | Chest wall manipulation
94762 | Measure blood oxygen level
95831 | Limb muscle testing, manual
95832 | Hand muscle testing, manual
95833-95834 | Body muscle testing, manual
95851-95852 | Range of motion measurements
96000 | Motion analysis, video/3d
96001 | Motion test w/ft press meas
96002 | Dynamic surface emg
96003 | Dynamic fine wire emg
96105 | Assessment of aphasia
96110 | Developmental test, lim
96111 | Developmental test, extend
96115 | Neurobehavior status exam
INCLUDE HCPCS level 2 codes for the following physical therapy/occupational therapy/speech-language pathology services:
G0193 | Endoscopic study swallow functn
G0194 | Sensory testing endoscopic stud
G0195 | Clinical eval swallowing funct
G0196 | Eval of swallowing with radioopa
G0197 | Eval of pt for prescip speech devi
G0198 | Patient adapation & train for spe
G0199 | Reevaluation of patient use spec
G0200 | Eval of patient prescip of voice p
G0201 | Modi for training in use voice pro
Q0086 | Physical therapy evaluation/
RADIOLOGY
INCLUDE the following radiology and certain other imaging services in the CPT 70000 series:
70100-70110 | X-ray exam of jaw
70120-70130 | X-ray exam of mastoids
70134 | X-ray exam of middle ear
70140-70150 | X-ray exam of facial bones
70160 | X-ray exam of nasal bones
70190-70200 | X-ray exam of eye sockets
70210-70220 | X-ray exam of sinuses
70240 | X-ray exam, pituitary saddle
70250-70260 | X-ray exam of skull
70300-70310 | X-ray exam of teeth
70320 | Full mouth x-ray of teeth
70328 | X-ray exam of jaw joint
70330 | X-ray exam of jaw joints
70336 | Magnetic image, jaw joint
70350 | X-ray head for orthodontia
70355 | Panoramic x-ray of jaws
70360 | X-ray exam of neck
70370 | Throat x-ray & fluoroscopy
70371 | Speech evaluation, complex
70380 | X-ray exam of salivary gland
70450 | Ct head/brain w/o dye
70460 | Ct head/brain w/dye
70470 | Ct head/brain w/o&w dye
70480 | Ct orbit/ear/fossa w/o dye
70481 | Ct orbit/ear/fossa w/dye
70482 | Ct orbit/ear/fossa w/o&w dye
70486 | Ct maxillofacial w/o dye
70487 | Ct maxillofacial w/dye
70488 | Ct maxillofacial w/o&w dye
70490 | Ct soft tissue neck w/o dye
70491 | Ct soft tissue neck w/dye
70492 | Ct sft tsue nck w/o & w/dye
70496 | Ct angiography, head
70498 | Ct angiography, neck
70540 | Mri orbit/face/neck w/o dye
70542 | Mri orbit/face/neck w/dye
70543 | Mri orbt/fac/nck w/o&w dye
70544 | Mr angiography head w/o dye
70545 | Mr angiography head w/dye
70546 | Mr angiograph head w/o&w dye
70547 | Mr angiography neck w/o dye
70548 | Mr angiography neck w/dye
70549 | Mr angiograph neck w/o&w dye
70551 | Mri brain w/o dye
70552 | Mri brain w/dye
70553 | Mri brain w/o&w dye
71010-71022 | Chest x-ray
71023 | Chest x-ray and fluoroscopy
71030 | Chest x-ray
71034 | Chest x-ray and fluoroscopy
71035 | Chest x-ray
71100 | X-ray exam of ribs
71101 | X-ray exam of ribs/chest
71110 | X-ray exam of ribs
71111 | X-ray exam of ribs/ chest
71120-71130 | X-ray exam of breastbone
71250 | Ct thorax w/o dye
71260 | Ct thorax w/dye
71270 | Ct thorax w/o&w dye
71275 | Ct angiography, chest
71550 | Mri chest w/o dye
71551 | Mri chest w/dye
71552 | Mri chest w/o&w dye
71555 | Mri angio chest w or w/o dye
72010-72020 | X-ray exam of spine
72040-72052 | X-ray exam of neck spine
72069 | X-ray exam of trunk spine
72070-72074 | X-ray exam of thoracic spine
72080-72090 | X-ray exam of trunk spine
72100-72120 | X-ray exam of lower spine
72125 | Ct neck spine w/o dye
72126 | Ct neck spine w/dye
72127 | Ct neck spine w/o&w dye
72128 | Ct chest spine w/o dye
72129 | Ct chest spine w/dye
72130 | Ct chest spine w/o&w dye
72131 | Ct lumbar spine w/o dye
72132 | Ct lumbar spine w/dye
72133 | Ct lumbar spine w/o&w dye
72141 | Mri neck spine w/o dye
72142 | Mri neck spine w/dye
72146 | Mri chest spine w/o dye
72147 | Mri chest spine w/dye
72148 | Mri lumbar spine w/o dye
72149 | Mri lumbar spine w/dye
72156 | Mri neck spine w/o&w dye
72157 | Mri chest spine w/o&w dye
72158 | Mri lumbar spine w/o&w dye
72170-72190 | X-ray exam of pelvis
72191 | Ct angiograph pelv w/o&w dye
72192 | Ct pelvis w/o dye
72193 | Ct pelvis w/dye
72194 | Ct pelvis w/o&w dye
72195 | Mri pelvis w/o dye
72196 | Mri pelvis w/dye
72197 | Mri pelvis w/o & w dye
72200-72202 | X-ray exam sacroiliac joints
72220 | X-ray exam of tailbone
73000 | X-ray exam of collar bone
73010 | X-ray exam of shoulder blade
73020-73030 | X-ray exam of shoulder
73050 | X-ray exam of shoulders
73060 | X-ray exam of humerus
73070-73080 | X-ray exam of elbow
73090 | X-ray exam of forearm
73092 | X-ray exam of arm, infant
73100-73110 | X-ray exam of wrist
73120-73130 | X-ray exam of hand
73140 | X-ray exam of finger(s)
73200 | Ct upper extremity w/o dye
73201 | Ct upper extremity w/dye
73202 | Ct uppr extremity w/o&w dye
73206 | Ct angio upr extrm w/o&w dye
73218 | Mri upper extremity w/o dye
73219 | Mri upper extremity w/dye
73220 | Mri uppr extremity w/o&w dye
73221 | Mri joint upr extrem w/o dye
73222 | Mri joint upr extrem w/ dye
73223 | Mri joint upr extr w/o&w dye
73500-73510 | X-ray exam of hip
73520 | X-ray exam of hips
73540 | X-ray exam of pelvis & hips
73550 | X-ray exam of thigh
73560 | X-ray exam of knee, 1 or 2
73562 | X-ray exam of knee, 3
73564 | X-ray exam, knee, 4 or more
73565 | X-ray exam of knees
73590 | X-ray exam of lower leg
73592 | X-ray exam of leg, infant
73600-73610 | X-ray exam of ankle
73620-73630 | X-ray exam of foot
73650 | X-ray exam of heel
73660 | X-ray exam of toe(s)
73700 | Ct lower extremity w/o dye
73701 | Ct lower extremity w/dye
73702 | Ct lwr extremity w/o&w dye
73706 | Ct angio lwr extr w/o&w dye
73718 | Mri lower extremity w/o dye
73719 | Mri lower extremity w/dye
73720 | Mri lwr extremity w/o&w dye
73721 | Mri joint of lwr extre w/o d
73722 | Mri joint of lwr extr w/dye
73723 | Mri joint lwr extr w/o&w dye
73725 | Mr ang lwr ext w or w/o dye
74000-74020 | X-ray exam of abdomen
74022 | X-ray exam series, abdomen
74150 | Ct abdomen w/o dye
74160 | Ct abdomen w/dye
74170 | Ct abdomen w/o&w dye
74175 | Ct angio abdom w/o&w dye
74181 | Mri abdomen w/o dye
74182 | Mri abdomen w/dye
74183 | Mri abdomen w/o&w dye
74185 | Mri angio, abdom w or w/o dy
74210 | Contrst x-ray exam of throat
74220 | Contrast x-ray, esophagus
74230 | Cine/video x-ray, throat/eso
74240-74245 | X-ray exam, upper gi tract
74246-74249 | Contrst x-ray uppr gi tract
74250 | X-ray exam of small bowel
74290 | Contrast x-ray, gallbladder
74291 | Contrast x-rays, gallbladder
74710 | X-ray measurement of pelvis
75552 | Heart mri for morph w/o dye
75553 | Heart mri for morph w/dye
75554 | Cardiac MRI/function
75555 | Cardiac MRI/limited study
75635 | Ct angio abdominal arteries
76000 | Fluoroscope examination
76006 | X-ray stress view
76010 | X-ray, nose to rectum
76020 | X-rays for bone age
76040 | X-rays, bone evaluation
76061-76062 | X-rays, bone survey
76065 | X-rays, bone evaluation
76066 | Joint survey, single view
76085 | Computer mammogram add-on
76090 | Mammogram, one breast
76091 | Mammogram, both breasts
76092 | Mammogram, screening
76093 | Magnetic image, breast
76094 | Magnetic image, both breasts
76100 | X-ray exam of body section
76101 | Complex body section x-ray
76102 | Complex body section x-rays
76120 | Cine/video x-rays
76125 | Cine/ video x-rays add-on
76150 | X-ray exam, dry process
76370 | CAT scan for therapy guide
76375 | 3d/holograph reconstr add-on
76380 | CAT scan follow-up study
76390 | Mr spectroscopy
76400 | Magnetic image, bone marrow
76499 | Radiographic procedure
76506 | Echo exam of head
76511-76512 | Echo exam of eye
76513 | Echo exam of eye, water bath
76516-76519 | Echo exam of eye
76536 | Us exam of head and neck
76604 | Us exam, chest, b-scan
76645 | Us exam, breast(s)
76700 | Us exam, abdom, complete
76705 | Us exam, abdom, limited
76770 | Us exam abdo back wall, comp
76775 | Us exam abdo back wall, lim
76778 | Us exam kidney transplant
76800 | Us exam, spinal canal
76805 | Us exam, pg uterus, compl
76810 | Us exam, pg uterus, mult
76815 | Us exam, pg uterus limit
76816 | Us exam pg uterus repeat
76818 | Fetal biophy profile w/nst
76819 | Fetal biophys profil w/o nst
76825-76828 | Echo exam of fetal heart
76830 | Us exam, transvaginal
76831 | Echo exam, uterus
76856 | Us exam, pelvic, complete
76857 | Us exam, pelvic, limited
76870 | Us exam, scrotum
76872 | Echo exam, transrectal
76873 | Echograp trans r, pros study
76880 | Us exam, extremity
76885 | Us exam infant hips, dynamic
76886 | Us exam infant hips, static
76970 | Ultrasound exam follow-up
76977 | Us bone density measure
76999 | Echo examination procedure
INCLUDE the following CPT codes for echocardiography and vascular ultrasound:
93303-93304 | Echo transthoracic
93307-93308 | Echo exam of heart
93320-93321 | Doppler echo exam, heart, if used in conjunction with 93303-93308
93325 | Doppler color flow add-on, if used in conjunction with 93303-93308
93875-93882 | Extracranial study
93886-93888 | Intracranial study
93922-93924 | Extremity study
93925-93926 | Lower extremity study
93930-93931 | Upper extremity study
93965-93971 | Extremity study
93975-93979 | Vascular study
93980-93981 | Penile vascular study
93990 | Doppler flow testing
INCLUDE miscellaneous other HCPCS level 2 codes for radiology and certain other imaging services:
G0050 | Residual urine by ultrasound
G0131-132 | CT scan, bone density study
G0188 | Xray lwr extrmty-full lngth
G0202 | Screening mammography digital
G0204 | Diagnostic mammography digital
G0206 | Diagnostic mammography digital
G0236 | digital film convert diag ma
R0070 | Transport portable x-ray
R0075 | Transport port x-ray multipl
RADIATION THERAPY SERVICES AND SUPPLIES
INCLUDE CPT codes for all radiation therapy services and supplies in the CPT 70000 series:
77261-77263 | Radiation therapy planning
77280-77295 | Set radiation therapy field
77299 | Radiation therapy planning
77300 | Radiation therapy dose plan
77301 | Radioltherapy dos plan, imrt
77305-77315 | Radiation therapy dose plan
77321 | Radiation therapy port plan
77326-77328 | Radiation therapy dose plan
77331 | Special radiation dosimetry
77332-77334 | Radiation treatment aid(s)
77336-77370 | Radiation physics consult
77399 | External radiation dosimetry
77401-77416 | Radiation treatment delivery
77417 | Radiology port film(s)
77418 | Radiation tx delivery, imrt
77427 | Radiation tx management, x5
77431 | Radiation therapy management
77432 | Stereotactic radiation trmt
77470 | Special radiation treatment
77499 | Radiation therapy management
77520 | Proton trmt, simple w/o comp
77522 | Proton trmt, simple w/comp
77523 | Proton trmt, intermediate
77525 | Proton treatment, complex
77600-77620 | Hyperthermia treatment
77750 | Infuse radioactive materials
77761 | Apply intrcav radiat simple
77762 | Apply intrcav radiat interm
77763 | Apply intrcav radiat compl
77776 | Apply interstit radiat simpl
77777 | Apply interstit radiat inter
77778 | Apply iterstit radiat compl
77781-77784 | High intensity brachytherapy
77789 | Apply surface radiation
77790 | Radiation handling
77799 | Radium/radioisotope therapy
INCLUDE CPT codes for radiation therapy classified elsewhere:
31643 | Diag bronchoscope/catheter
50559 | Renal endoscopy/radiotracer
55859 | Percut/needle insert, pros
61770 | Incise skull for treatment
61793 | Focus radiation beam
92974 | Cath place, cardio brachytx
PREVENTIVE SCREENING TESTS, IMMUNIZATIONS AND VACCINES
The following CPT and HCPCS codes are excluded under § 411.355(h) as screening tests:
76085 | Computer mammogram add-on
76092 | Mammogram, screening
76977 | Us bone density measure
G0103 | Psa, total screening
G0107 | CA screen; fecal blood test
G0123 | Screen cerv/vag thin layer
G0124 | Screen c/v thin layer by MD
G0141 | Scr c/v cyto, autosys and md
G0143-G0145 | Scr c/v cyto, thinlayer, rescr
G0147 | Scr c/v cyto, automated sys
G0148 | Scr c/v cyto, autosys, rescr
G0202 | Screening mammography digital
P3000 | Screen pap by tech w md supv
P3001 | Screening pap smear by phys
The following CPT and HCPCS codes are excluded under § 411.355(h) as vaccines:
90657 | Flu vaccine, 6-35 mo, im
90658 | Flu vaccine, 3 yrs, im
90659 | Flu vacine, whole, im
90732 | Pneumococcal vaccine
90748 | Hep b/hib vaccine, im
Q3018 | Hepatitis B vaccine
DRUGS USED BY PATIENTS UNDERGOING DIALYSIS
The following HCPCS codes are excluded under § 411.355(g) as EPO and other dialysis related outpatient prescription drugs furnished in or by an ESRD facility:
J0635 | Calcitriol injection
J0895 | Deferoxamine mesylate inj
J1270 | Injection, doxercalciferol
J1750 | Iron dextran
J1755 | Iron sucrose injection
J2915 | NA Ferric Gluconate Complex
J2997 | Alteplase recombinant
Q9920 | Epoetin with hct <=20
Q9921 | Epoetin with hct = 21
Q9922 | Epoetin with hct = 22
Q9923 | Epoetin with hct = 23
Q9924 | Epoetin with hct = 24
Q9925 | Epoetin with hct = 25
Q9926 | Epoetin with hct = 26
Q9927 | Epoetin with hct = 27
Q9928 | Epoetin with hct = 28
Q9929 | Epoetin with hct = 29
Q9930 | Epoetin with hct = 30
Q9931 | Epoetin with hct = 31
Q9932 | Epoetin with hct = 32
Q9933 | Epoetin with hct = 33
Q9934 | Epoetin with hct = 34
Q9935 | Epoetin with hct = 35
Q9936 | Epoetin with hct = 36
Q9937 | Epoetin with hct = 37
Q9938 | Epoetin with hct = 38
Q9939 | Epoetin with hct = 39
Q9940 | Epoetin with hct >= 40
¹ CPT codes and descriptions only are copyright 2001 American Medical Association. All rights are reserved and applicable FARS/DFARS clauses apply.

[FR Doc. 01-27275 Filed 10-31-01; 8:45 am]

BILLING CODE 4120-01-P